DEPARTMENT OF HEALTH AND HUMAN SERVICES

Centers for Medicare & Medicaid Services

42 CFR Parts 411, 412, 413, 422, and 489

[CMS-1390-P]

RIN 0938-AP15

Medicare Program; Proposed Changes to the Hospital Inpatient Prospective Payment Systems and Fiscal Year 2009 Rates; Proposed Changes to Disclosure of Physician Ownership in Hospitals and Physician Self-Referral Rules; Proposed Collection of Information Regarding Financial Relationships Between Hospitals and Physicians

AGENCY: Centers for Medicare and Medicaid Services (CMS), HHS.

ACTION: Proposed rule.

SUMMARY: We are proposing to revise the Medicare hospital inpatient prospective payment systems (IPPS) for operating and capital-related costs to implement changes arising from our continuing experience with these systems, and to implement certain provisions made by the Deficit Reduction Act of 2005, the Medicare Improvements and Extension Act, Division B, Title I of the Tax Relief and Health Care Act of 2006, and the TMA, Abstinence Education, and QI Programs Extension Act of 2007. In addition, in the Addendum to this proposed rule, we describe the proposed changes to the amounts and factors used to determine the rates for Medicare hospital inpatient services for operating costs and capital-related costs. These proposed changes would be applicable to discharges occurring on or after October 1, 2008. We also are setting forth the proposed update to the rate-of-increase limits for certain hospitals and hospital units excluded from the IPPS that are paid on a reasonable cost basis subject to these limits. The proposed updated rate-of-increase limits would be effective for cost reporting periods beginning on or after October 1, 2008.

Among the other policy decisions and changes that we are proposing to make are changes related to: Limited proposed revisions of the classification of cases to Medicare severity diagnosis-related groups (MS-DRGs), proposals to address charge compression issues in the calculation of MS-DRG relative weights, the proposed revisions to the classifications and relative weights for the Medicare severity long-term care diagnosis-related groups (MS-LTC-DRGs); applications for new medical services and technologies add-on payments; wage index reform changes and the wage data, including the occupational mix data, used to compute the proposed FY 2009 wage indices; submission of hospital quality data; proposed changes to the postacute care transfer policy relating to transfers to home for the furnishing of home health services; and proposed policy changes relating to the requirements for furnishing hospital emergency services under the Emergency Medical Treatment and Labor Act of 1986 (EMTALA).

In addition, we are proposing policy changes relating to disclosure to patients of physician ownership or investment interests in hospitals and soliciting public comments on a proposed collection of information regarding financial relationships between hospitals and physicians. We are also proposing changes or soliciting comments on issues relating to policies on physician self-referrals.

DATES: To be assured consideration, comments must be received at one of the addresses provide below, no later than 5 p.m. E.S.T. on June 13, 2008.

ADDRESSES: When commenting on issues presented in this proposed rule, please refer to filecode CMS-1390-P. Because of staff and resource limitations, we cannot accept comments by facsimile (FAX) transmission.

You may submit comments in one of four ways (please choose only one of the ways listed):

1. Electronically. You may submit electronic comments on this regulation to http://www.regulations.gov. Follow the instructions for “Comment or Submission” and enter the file code CMS-1390-P to submit comments on this proposed rule.

2. By regular mail. You may mail written comments (one original and two copies) to the following address ONLY: Centers for Medicare & Medicaid Services, Department of Health and Human Services, Attention: CMS-1390-P, P.O. Box 8011, Baltimore, MD 21244-1850.

Please allow sufficient time for mailed comments to be received before the close of the comment period.

3. By express or overnight mail. You may send written comments (one original and two copies) to the following address ONLY: Centers for Medicare & Medicaid Services, Department of Health and Human Services, Attention: CMS-1390-P, Mail Stop C4-26-05, 7500 Security Boulevard, Baltimore, MD 21244-1850.

4. By hand or courier. If you prefer, you may deliver (by hand or courier) your written comments (one original and two copies) before the close of the comment period to either of the following addresses:

a. Room 445-G, Hubert H. Humphrey Building, 200 Independence Avenue, SW., Washington, DC 20201.

(Because access to the interior of the HHH Building is not readily available to persons without Federal Government identification, commenters are encouraged to leave their comments in the CMS drop slots located in the main lobby of the building. A stamp-in clock is available for persons wishing to retain a proof of filing by stamping in and retaining an extra copy of the comments being filed.)

b. 7500 Security Boulevard, Baltimore, MD 21244-1850.

If you intend to deliver your comments to the Baltimore address, please call telephone number (410) 786-7195 in advance to schedule your arrival with one of our staff members.

Comments mailed to the addresses indicated as appropriate for hand or courier delivery may be delayed and received after the comment period.

Submission of comments on paperwork requirements. You may submit comments on this document's paperwork requirements by following the instructions at the end of the “Collection of Information Requirements” section in this document.

For information on viewing public comments, see the beginning of the SUPPLEMENTARY INFORMATION section.

FOR FURTHER INFORMATION, CONTACT:

Michele Hudson, (410) 786-4487, Operating Prospective Payment, MS-DRGs, Wage Index, New Medical Service and Technology Add-On Payments, Hospital Geographic Reclassifications, and Postacute Care Transfer Issues.

Tzvi Hefter, (410) 786-4487, Capital Prospective Payment, Excluded Hospitals, Direct and Indirect Graduate Medical Education, MS-LTC-DRGs, EMTALA, Hospital Emergency Services, and Hospital-within-Hospital Issues.

Siddhartha Mazumdar, (410) 786-6673, Rural Community Hospital Demonstration Program Issues.

Sheila Blackstock, (410) 786-3502, Quality Data for Annual Payment Update Issues.

Thomas Valuck, (410) 786-7479, Hospital Value-Based Purchasing and Readmissions to Hospital Issues.

Anne Hornsby, (410) 786-1181, Collection of Managed Care Encounter Data Issues.

Jacqueline Proctor, (410) 786-8852, Disclosure of Physician Ownership in Hospitals and Financial Relationships between Hospitals and Physicians Issues.

Lisa Ohrin, (410) 786-4565, and Don Romano, (410) 786-1404, Physician Self-Referral Issues.

SUPPLEMENTARY INFORMATION: Inspection of Public Comments: All comments received before the close of the comment period are available for viewing by the public, including any personally identifiable or confidential business information that is included in a comment. We post all comments received before the close of the comment period on the following Web site as soon as possible after they have been received: http://www.regulations.gov. Follow the search instructions on that Web site to view public comments.

Comments received timely will also be available for public inspection, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

Electronic Access

This Federal Register document is also available from the Federal Register online database through GPO Access, a service of the U.S. Government Printing Office. Free public access is available on a Wide Area Information Server (WAIS) through the Internet and via asynchronous dial-in. Internet users can access the database by using the World Wide Web (the Superintendent of Documents' home page address is http://www.gpoaccess.gov/), by using local WAIS client software, or by telnet to swais.access.gpo.gov, then login as guest (no password required). Dial-in users should use communications software and modem to call (202) 512-1661; type swais, then login as guest (no password required).

Acronyms

AARP American Association of Retired Persons

AAHKS American Association of Hip and Knee Surgeons

AAMC Association of American Medical Colleges

ACGME Accreditation Council for Graduate Medical Education

AF Artrial fibrillation

AHA American Hospital Association

AICD Automatic implantable cardioverter defibrillator

AHIMA American Health Information Management Association

AHIC American Health Information Community

AHRQ Agency for Healthcare Research and Quality

AMA American Medical Association

AMGA American Medical Group Association

AMI Acute myocardial infarction

AOA American Osteopathic Association

APR DRG All Patient Refined Diagnosis Related Group System

ASC Ambulatory surgical center

ASITN American Society of Interventional and Therapeutic Neuroradiology

BBA Balanced Budget Act of 1997, Pub. L. 105-33

BBRA Medicare, Medicaid, and SCHIP [State Children's Health Insurance Program] Balanced Budget Refinement Act of 1999, Pub. L. 106-113

BIPA Medicare, Medicaid, and SCHIP [State Children's Health Insurance Program] Benefits Improvement and Protection Act of 2000, Pub. L. 106-554

BLS Bureau of Labor Statistics

CAH Critical access hospital

CARE [Medicare] Continuity Assessment Record & Evaluation [Instrument]

CART CMS Abstraction & Reporting Tool

CBSAs Core-based statistical areas

CC Complication or comorbidity

CCR Cost-to-charge ratio

CDAC [Medicare] Clinical Data Abstraction Center

CDAD Clostridium difficile-associated disease

CIPI Capital input price index

CMI Case-mix index

CMS Centers for Medicare & Medicaid Services

CMSA Consolidated Metropolitan Statistical Area

COBRA Consolidated Omnibus Reconciliation Act of 1985, Pub. L. 99-272

CoP [Hospital] condition of participation

CPI Consumer price index

CY Calendar year

DFRR Disclosure of financial relationship report

DRA Deficit Reduction Act of 2005, Pub. L. 109-171

DRG Diagnosis-related group

DSH Disproportionate share hospital

DVT Deep vein thrombosis

ECI Employment cost index

EMR Electronic medical record

EMTALA Emergency Medical Treatment and Labor Act of 1986, Pub. L. 99-272

FAH Federation of Hospitals

FDA Food and Drug Administration

FHA Federal Health Architecture

FIPS Federal information processing standards

FQHC Federally qualified health center

FTE Full-time equivalent

FY Fiscal year

GAAP Generally Accepted Accounting Principles

GAF Geographic Adjustment Factor

GME Graduate medical education

HACs Hospital-acquired conditions

HCAHPS Hospital Consumer Assessment of Healthcare Providers and Systems

HCFA Health Care Financing Administration

HCRIS Hospital Cost Report Information System

HHA Home health agency

HHS Department of Health and Human Services

HIC Health insurance card

HIPAA Health Insurance Portability and Accountability Act of 1996, Pub. L. 104-191

HIPC Health Information Policy Council

HIS Health information system

HIT Health information technology

HMO Health maintenance organization

HPMP Hospital Payment Monitoring Program

HSA Health savings account

HSCRC [Maryland] Health Services Cost Review Commission

HSRV Hospital-specific relative value

HSRVcc Hospital-specific relative value cost center

HQA Hospital Quality Alliance

HQI Hospital Quality Initiative

HWH Hospital-within-a hospital

ICD-9-CM International Classification of Diseases, Ninth Revision, Clinical Modification

ICD-10-PCS International Classification of Diseases, Tenth Edition, Procedure Coding System

ICR Information collection requirement

IHS Indian Health Service

IME Indirect medical education

IOM Institute of Medicine

IPF Inpatient psychiatric facility

IPPS [Acute care hospital] inpatient prospective payment system

IRF Inpatient rehabilitation facility

LAMCs Large area metropolitan counties

LTC-DRG Long-term care diagnosis-related group

LTCH Long-term care hospital

MA Medicare Advantage

MAC Medicare Administrative Contractor

MCC Major complication or comorbidity

MCE Medicare Code Editor

MCO Managed care organization

MCV Major cardiovascular condition

MDC Major diagnostic category

MDH Medicare-dependent, small rural hospital

MedPAC Medicare Payment Advisory Commission

MedPAR Medicare Provider Analysis and Review File

MEI Medicare Economic Index

MGCRB Medicare Geographic Classification Review Board

MIEA-TRHCA Medicare Improvements and Extension Act, Division B of the Tax Relief and Health Care Act of 2006, Pub. L. 109-432

MMA Medicare Prescription Drug, Improvement, and Modernization Act of 2003, Pub. L. 108-173

MPN Medicare provider number

MRHFP Medicare Rural Hospital Flexibility Program

MRSA Methicillin-resistant Staphylococcus aureus

MSA Metropolitan Statistical Area

MS-DRG Medicare severity diagnosis-related group

MS-LTC-DRG Medicare severity long-term care diagnosis-related group

NAICS North American Industrial Classification System

NCD National coverage determination

NCHS National Center for Health Statistics

NCQA National Committee for Quality Assurance

NCVHS National Committee on Vital and Health Statistics

NECMA New England County Metropolitan Areas

NQF National Quality Forum

NTIS National Technical Information Service

NVHRI National Voluntary Hospital Reporting Initiative

OES Occupational employment statistics

OIG Office of the Inspector General

OMB Executive Office of Management and Budget

O.R. Operating room

OSCAR Online Survey Certification and Reporting [System]

PE Pulmonary embolism

PMSAs Primary metropolitan statistical areas

POA Present on admission

PPI Producer price index

PPS Prospective payment system

PRM Provider Reimbursement Manual

ProPAC Prospective Payment Assessment Commission

PRRB Provider Reimbursement Review Board

PSF Provider-Specific File

PS&R Provider Statistical and Reimbursement (System)

QIG Quality Improvement Group, CMS

QIO Quality Improvement Organization

RCE Reasonable compensation equivalent

RHC Rural health clinic

RHQDAPU Reporting hospital quality data for annual payment update

RNHCI Religious nonmedical health care institution

RRC Rural referral center

RUCAs Rural-urban commuting area codes

RY Rate year

SAF Standard Analytic File

SCH Sole community hospital

SFY State fiscal year

SIC Standard Industrial Classification

SNF Skilled nursing facility

SOCs Standard occupational classifications

SOM State Operations Manual

TEFRA Tax Equity and Fiscal Responsibility Act of 1982, Pub. L. 97-248

TMA TMA [Transitional Medical Assistance], Abstinence Education, and QI [Qualifying Individuals] Programs Extension Act of 2007, Pub. L. 110-09

TJA Total joint arthroplasty

UHDDS Uniform hospital discharge data set

VAP Ventilator-associated pneumonia

VBP Value-based purchasing

Table of Contents

I. Background

A. Summary

1. Acute Care Hospital Inpatient Prospective Payment System (IPPS)

2. Hospitals and Hospital Units Excluded From the IPPS

a. Inpatient Rehabilitation Facilities (IRFs)

b. Long-Term Care Hospitals (LTCHs)

c. Inpatient Psychiatric Facilities (IPFs)

3. Critical Access Hospitals (CAHs)

4. Payments for Graduate Medical Education (GME)

B. Provisions of the Deficit Reduction Act of 2005 (DRA)

C. Provisions of the Medicare Improvements and Extension Act under Division B, Title I of the Tax Relief and Health Care Act of 2006 (MIEA-TRHCA)

D. Provision of the TMA, Abstinence Education, and QI Programs Extension Act of 2007

E. Major Contents of this Proposed Rule

1. Proposed Changes to MS-DRG Classifications and Recalibrations of Relative Weights

2. Proposed Changes to the Hospital Wage Index

3. Other Decisions and Proposed Changes to the IPPS for Operating Costs and GME Costs

4. Proposed Changes to the IPPS for Capital-Related Costs

5. Proposed Changes to the Payment Rates for Excluded Hospitals and Hospital Units: Rate-of-Increase Percentages

6. Proposed Changes Relating to Disclosure of Physician Ownership in Hospitals

7. Proposed Changes and Solicitation of Comments on Physician Self-Referral Provisions

8. Proposed Collection of Information Regarding Financial Relationships between Hospitals and Physicians

9. Determining Proposed Prospective Payment Operating and Capital Rates and Rate-of-Increase Limits

10. Impact Analysis

11. Recommendation of Update Factors for Operating Cost Rates of Payment for Inpatient Hospital Services

12. Disclosure of Financial Relationships Report (DFRR) Form

13. Discussion of Medicare Payment Advisory Commission Recommendations

F. Public Comments Received on Issues in Related Rules

1. Comments on Phase-Out of the Capital Teaching Adjustment under the IPPS Included in the FY 2008 IPPS Final Rule with Comment Period

2. Policy Revisions Related to Medicare GME Group Affiliations for Hospitals in Certain Declared Emergency Areas

II. Proposed Changes to Medicare Severity DRG (MS-DRG) Classifications and Relative Weights

A. Background

B. MS-DRG Reclassifications

1. General

2. Yearly Review for Making MS-DRG Changes

C. Adoption of the MS-DRGs in FY 2008

D. MS-DRG Documentation and Coding Adjustment, Including the Applicability to the Hospital-Specific Rates and the Puerto Rico-Specific Standardized Amount

1. MS-DRG Documentation and Coding Adjustment

2. Application of the Documentation and Coding Adjustment to the Hospital-Specific Rates

3. Application of the Documentation and Coding Adjustment to Puerto Rico-Specific Standardized Amount

4. Potential Additional Payment Adjustments in FYs 2010 through 2012

E. Refinement of the MS-DRG Relative Weight Calculation

1. Background

2. Refining the Medicare Cost Report

3. Timeline for Revising the Medicare Cost Report

4. Revenue Codes used in the MedPAR File

F. Preventable Hospital-Acquired Conditions (HACs), Including Infections

1. General

2. Statutory Authority

3. Public Input

4. Collaborative Process

5. Selection Criteria for HACs

6. HACs Selected in FY 2008 and Proposed Changes to Certain Codes

a. Foreign Object Retained After Surgery: Proposed Inclusion of ICD-9-CM Code 998.7 (CC)

b. Pressure Ulcers: Proposed Changes in Code Assignments

7. HACs Under Consideration as Additional Candidates

a. Surgical Site Infections Following Elective Surgeries

b. Legionnaires' Disease

c. Glycemic Control

d. Iatrogenic Pneumothorax

e. Delirium

f. Ventilator-Associated Pneumonia (VAP)

g. Deep Vein Thrombosis (DVT)/Pulmonary Embolism (PE)

h. Staphylococcus aureus Septicemia

i. Clostridium Difficile-Associated Disease (CDAD)

j. Methicillin-Resistant Staphylococcus aureus (MRSA)

8. Present on Admission (POA) Indicator Reporting

9. Enhancement and Future Issues

a. Risk Adjustment

b. Rates of HACs

c. Use of POA Information

d. Transition to ICD-10-PCS

e. Application of Nonpayment for HACs to Other Settings

f. Relationship to NQF's Serious Reportable Adverse Events

G. Proposed Changes to Specific MS-DRG Classifications

1. Pre-MDCs: Artificial Heart Devices

2. MDC 1 (Diseases and Disorders of the Nervous System)

a. Transferred Stroke Patients Receiving Tissue Plasminogen Activator (tPA)

b. Intractable Epilepsy with Video Electroencephalogram (EEG)

3. MDC 5 (Diseases and Disorders of the Circulatory System)

a. Automatic Implantable Cardioverter-Defibrillators (AICD) Lead and Generator Procedures

b. Left Atrial Appendage Device

4. MDC 8 (Diseases and Disorders of the Musculoskeletal System and Connective Tissue): Hip and Knee Replacements and Revisions

a. Brief History of Development of Hip and Knee Replacement Codes

b. Prior Recommendations of the AAHKS

c. Adoption of MS-DRGs for Hip and Knee Replacements for FY 2008 and AAHKS' Recommendations

d. AAHKS' Recommendations for FY 2009

e. CMS' Response to AAHKS' Recommendations

f. Conclusion

5. MDC 18 (Infections and Parasitic Diseases Systemic or Unspecified Sites): Severe Sepsis

6. MDC 21 (Injuries, Poisonings and Toxic Effects of Drugs): Traumatic Compartment Syndrome

7. Medicare Code Editor (MCE) Changes

a. List of Unacceptable Principal Diagnoses in MCE

b. Diagnoses Allowed for Male Only Edit c. Limited Coverage Edit

8. Surgical Hierarchies

9. CC Exclusions List

a. Background

b. CC Exclusions List for FY 2009

10. Review of Procedure Codes in MS-DRGs 981, 982, and 983; 984, 985, and 986; and 987, 988, and 989

a. Moving Procedure Codes from MS-DRG 981 through 983 or MS-DRG 987 through 989 to MDCs

b. Reassignment of Procedures among MS-DRGs 981 through 983, 984 through 986, and 987 through 989

c. Adding Diagnosis or Procedure Codes to MDCs

11. Changes to the ICD-9-CM Coding System

H. Recalibration of MS-DRG Weights

I. Proposed Medicare Severity Long-Term Care Diagnosis-Related Group (MS-LTC-DRG) Reclassifications and Relative Weights for LTCHs for FY 2009

1. Background

2. Proposed Changes in the MS-LTC-DRG Classifications

a. Background

b. Patient Classifications into MS-LTC-DRGs

3. Development of the Proposed FY 2009 MS-LTC-DRG Relative Weights

a. General Overview of Development of the MS-LTC-DRG Relative Weights

b. Data

c. Hospital-Specific Relative Value (HSRV) Methodology

d. Treatment of Severity Levels in Developing Proposed Relative Weights

e. Proposed Low-Volume MS-LTC-DRGs

4. Steps for Determining the Proposed FY 2009 MS-LTC-DRG Relative Weights

J. Proposed Add-On Payments for New Services and Technologies

1. Background

2. Public Input Before Publication of a Notice of Proposed Rulemaking on Add-On Payments

3. FY 2009 Status of Technologies Approved for FY 2008 Add-On Payments

4. FY 2009 Applications for New Technology Add-On Payments

a. CardioWest™ Temporary Total Artificial Heart System (CardioWest™ TAH-t)

b. Emphasys Medical Zephyr® Endobronchial Valve (Zephyr® EBV)

c. Oxiplex®

d. TherOx Downstream® System

5. Proposed Regulatory Change

III. Proposed Changes to the Hospital Wage Index

A. Background

B. Requirements of Section 106 of the MIEA-TRHCA

1. Wage Index Study Required Under the MIEA-TRHCA

2. CMS Proposals in Response to Requirements Under Section 106(b) of the MIEA-TRHCA

a. Proposed Revision of the Reclassification Average Hourly Wage Comparison Criteria

b. Within-State Budget Neutrality Adjustment for the Rural and Imputed Floors

c. Within-State Budget Neutrality Adjustment for Geographic Reclassification

C. Core-Based Statistical Areas for the Hospital Wage Index

D. Proposed Occupational Mix Adjustment to the Proposed FY 2009 Wage Index

1. Development of Data for the Proposed FY 2009 Occupational Mix Adjustment

2. Calculation of the Proposed Occupational Mix Adjustment for FY 2009

3. 2007-2008 Occupational Mix Survey for the FY 2010 Wage Index

E. Worksheet S-3 Wage Data for the Proposed FY 2009 Wage Index

1. Included Categories of Costs

2. Excluded Categories of Costs

3. Use of Wage Index Data by Providers Other Than Acute Care Hospitals Under the IPPS

F. Verification of Worksheet S-3 Wage Data

1. Wage Data for Multicampus Hospitals

2. New Orleans' Post-Katrina Wage Index

G. Method for Computing the Proposed FY 2009 Unadjusted Wage Index

H. Analysis and Implementation of the Proposed Occupational Mix Adjustment and the Proposed FY 2009 Occupational Mix Adjustment Wage Index

I. Proposed Revisions to the Wage Index Based on Hospital Redesignations

1. General

2. Effects of Reclassification/Redesignation

3. FY 2009 MGCRB Reclassifications

4. FY 2008 Policy Clarifications and Revisions

5. Redesignations of Hospitals under Section 1886(d)(8)(B) of the Act

6. Reclassifications under Section 1886(d)(8)(B) of the Act

J. Proposed FY 2009 Wage Index Adjustment Based on Commuting Patterns of Hospital Employees

K. Process for Requests for Wage Index Data Corrections

L. Labor-Related Share for the Proposed Wage Index for FY 2009

IV. Other Decisions and Proposed Changes to the IPPS for Operating Costs and GME Costs

A. Proposed Changes to the Postacute Care Transfer Policy

1. Background

2. Proposed Policy Change Relating to Transfers to Home with a Written Plan for the Provision of Home Health Services

3. Evaluation of MS-DRGs under Postacute Care Transfer Policy for FY 2009

B. Reporting of Hospital Quality Data for Annual Hospital Payment Update

1. Background

a. Overview

b. Voluntary Hospital Quality Data Reporting

c. Hospital Quality Data Reporting under Section 501(b) of Pub. L. 108-173

d. Hospital Quality Data Reporting under Section 5001(a) of Pub. L. 109-171

2. Proposed Quality Measures for FY 2010 and Subsequent Years

a. Proposed Quality Measures for FY 2010

b. Possible New Quality Measures, Measure Sets, and Program Requirements for FY 2011 and Subsequent Years

c. Considerations in Expanding and Updating Quality Measures Under the RHQDAPU Program

3. Form and Manner and Timing of Quality Data Submission

4. Current and Proposed RHQDAPU Program Procedures

a. RHQDAPU Program Procedures for FY 2009

b. Proposed RHQDAPU Program Procedures for FY 2010

5. Current and Proposed HCAHPS Requirements

a. FY 2009 HCAHPS Requirements

b. Proposed FY 2010 HCAHPS Requirements

6. Current and Proposed Chart Validation Requirements

a. Chart Validation Requirements for FY 2009

b. Proposed Chart Validation Requirements for FY 2010

c. Chart Validation Methods and Requirements Under Consideration for FY 2011 and Subsequent Years

7. Data Attestation Requirements

a. Proposed Change to Requirements for FY 2009

b. Proposed Requirements for FY 2010

8. Public Display Requirements

9. Proposed Reconsideration and Appeal Procedures

10. Proposed RHQDAPU Program Withdrawal Deadline for FYs 2009 and 2010

11. Requirements for New Hospitals

12. Electronic Medical Records

C. Medicare Hospital Value-Based Purchasing (VBP)

1. Medicare Hospital VBP Plan Report to Congress

2. Testing and Further Development of the Medicare Hospital VBP Plan

D. Sole Community Hospitals (SCHs) and Medicare-Dependent, Small Rural Hospitals (MDHs): Volume Decrease Adjustment

1. Background

2. Volume Decrease Adjustment for SCHs and MDHs: Data Sources for Determining Core Staff Values

a. Occupational Mix Survey

b. AHA Annual Survey

E. Rural Referral Centers (RRCs)

1. Case-Mix Index

2. Discharges

F. Indirect Medical Education (IME) Adjustment

1. Background

2. IME Adjustment Factor for FY 2009

G. Medicare GME Affiliation Provisions for Teaching Hospitals in Certain Emergency Situations; Technical Correction

1. Background

2. Technical Correction

H. Payments to Medicare Advantage Organizations: Collection of Risk Adjustment Data

I. Hospital Emergency Services under EMTALA

1. Background

2. EMTALA Technical Advisory Group (TAG): Recommendations

3. Proposed Changes Relating to Applicability of EMTALA Requirements to Hospital Inpatients

4. Proposed Changes to the EMTALA Physician On-Call Requirements

a. Relocation of Regulatory Provisions

b. Shared/Community Call

5. Proposed Technical Change to Regulations

J. Application of Incentives To Reduce Avoidable Readmissions to Hospitals

1. Introduction

2. Measurement

3. Accountability

4. Interventions

5. Financial Incentive: Direct Payment Adjustment

6. Financial Incentive: Performance-Based Payment Adjustment

7. Nonfinancial Incentive: Public Reporting

8. Conclusion

K. Rural Community Hospital Demonstration Program

V. Proposed Changes to the IPPS for Capital-Related Costs

A. Background

1. Exception Payments

2. New Hospitals

3. Hospitals Located in Puerto Rico

B. Revisions to the Capital IPPS Based on Data on Hospitals Medicare Capital Margins

1. Elimination of the Large Add-On Payment Adjustment

2. Changes to the Capital IME Adjustment

a. Background and Changes Made for FY 2008

b. Public Comments Received on Phase Out of Capital IPPS Teaching Adjustment Provisions Included in the FY 2008 Final Rule With Comment Period and Further Solicitation of Public Comments

VI. Proposed Changes for Hospitals and Hospital Units Excluded From the IPPS

A. Proposed Payments to Excluded Hospitals and Hospital Units

B. IRF PPS

C. LTCH PPS

D. IPF PPS

E. Determining Proposed LTCH Cost-to-Charge Ratios (CCRs) under the LTCH PPS

F. Proposed Change to the Regulations Governing Hospitals-Within-Hospitals

VII. Disclosure Required of Certain Hospitals and Critical Access Hospitals Regarding Physician Ownership

VIII. Physician Self-Referrals Provisions

A. Stand in the Shoes Provisions

1. Physician “Stand in the Shoes” Provisions

a. Background

b. Proposals

2. DHS Entity “Stand in the Shoes” Provisions

3. Application of the Physician “Stand in the Shoes” and the Entity “Stand in the Shoes” Provisions

4. Definitions: “Physician” and “Physician Organization”

B. Period of Disallowance

C. Gainsharing Arrangements

1. Background

2. Statutory Impediments to Gainsharing Arrangements

3. Office of Inspector General (OIG) Approach Towards Gainsharing Arrangements

4. MedPAC Recommendation

5. Demonstration Programs

6. Solicitation of Comments

D. Physician-Owned Implant and Other Medical Device Companies

1. Background

2. Solicitation of Comments

IX. Financial Relationships between Hospitals and Physicians

A. Background

B. Section 5006 of the Deficit Reduction Act (DRA) of 2005

C. Disclosure of Financial Relationships Report (DFRR)

D. Civil Monetary Penalties

E. Uses of Information Captured by the DFRR

F. Solicitation of Comments

X. MedPAC Recommendations

XI. Other Required Information

A. Requests for Data from the Public

B. Collection of Information Requirements

1. Legislative Requirement for Solicitation of Comments

2. Solicitation of Comments on Proposed Requirements in Regulatory Text

a. ICRs Regarding Physician Reporting Requirements

b. ICRs Regarding Risk Adjustment Data

c. ICRs Regarding Basic Commitments of Providers

3. Associated Information Collections Not Specified in Regulatory Text

a. Present on Admission (POA) Indicator Reporting

b. Proposed Add-On Payments for New Services and Technologies

c. Reporting of Hospital Quality Data for Annual Hospital Payment Update

d. Occupational Mix Adjustment to the FY 2009 Index (Hospital Wage Index Occupational Mix Survey)

4. Addresses for Submittal of Comments on Information Collection Requirements

C. Response to Public Comments

Regulation Text

Addendum—Proposed Schedule of Standardized Amounts, Update Factors, and Rate-of-Increase Percentages Effective With Cost Reporting Periods Beginning On or After October 1, 2008

I. Summary and Background

II. Proposed Changes to the Prospective Payment Rates for Hospital Inpatient Operating Costs for FY 2009

A. Calculation of the Adjusted Standardized Amount

B. Proposed Adjustments for Area Wage Levels and Cost-of-Living

C. Proposed MS-DRG Relative Weights

D. Calculation of the Proposed Prospective Payment Rates

III. Proposed Changes of Payment Rates for Acute Care Hospital Inpatient Capital-Related Costs for FY 2009

A. Determination of Proposed Federal Hospital Inpatient Capital-Related Prospective Payment Rate Update

B. Calculation of the Proposed Inpatient Capital-Related Prospective Payments for FY 2009

C. Capital Input Price Index

IV. Proposed Changes to Payment Rates for Excluded Hospitals and Hospital Units: Rate-of-Increase Percentages

V. Tables

Table 1A.—National Adjusted Operating Standardized Amounts, Labor/Nonlabor (69.7 Percent Labor Share/30.3 Percent Nonlabor Share If Wage Index Is Greater Than 1)

Table 1B.—National Adjusted Operating Standardized Amounts, Labor/Nonlabor (62 Percent Labor Share/38 Percent Nonlabor Share If Wage Index Is Less Than or Equal to 1)

Table 1C.—Adjusted Operating Standardized Amounts for Puerto Rico, Labor/Nonlabor

Table 1D.—Capital Standard Federal Payment Rate

Table 2.—Hospital Case-Mix Indexes for Discharges Occurring in Federal Fiscal Year 2007; Hospital Wage Indexes for Federal Fiscal Year 2009; Hospital Average Hourly Wages for Federal Fiscal Years 2007 (2003 Wage Data), 2008 (2004 Wage Data), and 2009 (2005 Wage Data); and 3-Year Average of Hospital Average Hourly Wages

Table 3A.—FY 2009 and 3-Year Average Hourly Wage for Urban Areas by CBSA

Table 3B.—FY 2009 and 3-Year Average Hourly Wage for Rural Areas by CBSA

Table 4A.—Wage Index and Capital Geographic Adjustment Factor (GAF) for Urban Areas by CBSA and by State—FY 2009

Table 4B.—Wage Index and Capital Geographic Adjustment Factor (GAF) for Rural Areas by CBSA and by State—FY 2009

Table 4C.—Wage Index and Capital Geographic Adjustment Factor (GAF) for Hospitals That Are Reclassified by CBSA and by State—FY 2009

Table 4D-1.—Rural Floor Budget Neutrality Factors—FY 2009

Table 4D-2.—Urban Areas with Hospitals Receiving the Statewide Rural Floor or Imputed Floor Wage Index—FY 2009

Table 4E.—Urban CBSAs and Constituent Counties—FY 2009

Table 4F.—Puerto Rico Wage Index and Capital Geographic Adjustment Factor (GAF) by CBSA—FY 2009

Table 4J.—Out-Migration Wage Adjustment—FY 2009

Table 5.—List of Medicare Severity Diagnosis-Related Groups (MS-DRGs), Relative Weighting Factors, and Geometric and Arithmetic Mean Length of Stay

Table 6A.—New Diagnosis Codes

Table 6B.—New Procedure Codes

Table 6C.—Invalid Diagnosis Codes

Table 6D.—Invalid Procedure Codes

Table 6E.—Revised Diagnosis Code Titles

Table 6F.—Revised Procedure Code Titles

Table 6G.—Additions to the CC Exclusions List (Available through the Internet on the CMS Web site at: http://www.cms.hhs.gov/AcuteInpatientPPS/)

Table 6H.—Deletions From the CC Exclusions List (Available Through the Internet on the CMS Web site at: http://www.cms.hhs.gov/AcuteInpatientPPS/)

Table 6I.—Complete List of Complication and Comorbidity (CC) Exclusions (Available Only Through the Internet on the CMS Web site at: http:/www.cms.hhs.gov/AcuteInpatientPPS/)

Table 6J.—Major Complication and Comorbidity (MCC) List (Available Through the Internet on the CMS Web Site at: http://www.cms.hhs.gov/AcuteInpatientPPS/)

Table 6K.—Complication and Comorbidity (CC) List (Available Through the Internet on the CMS Web site at: http://www.cms.hhs.gov/AcuteInpatientPPS/)

Table 7A.—Medicare Prospective Payment System Selected Percentile Lengths of Stay: FY 2007 MedPAR Update—December 2007 GROUPER V25.0 MS-DRGs

Table 7B.—Medicare Prospective Payment System Selected Percentile Lengths of Stay: FY 2007 MedPAR Update—December 2007 GROUPER V26.0 MS-DRGs

Table 8A.—Proposed Statewide Average Operating Cost-to-Charge Ratios—March 2008

Table 8B.—Proposed Statewide Average Capital Cost-to-Charge Ratios—March 2008

Table 8C.—Proposed Statewide Average Total Cost-to-Charge Ratios for LTCHs—March 2008

Table 9A.—Hospital Reclassifications and Redesignations—FY 2009

Table 9B.—Hospitals Redesignated as Rural under Section 1886(d)(8)(E) of the Act—FY 2009

Table 10.—Geometric Mean Plus the Lesser of .75 of the National Adjusted Operating Standardized Payment Amount (Increased to Reflect the Difference Between Costs and Charges) or .75 of One Standard Deviation of Mean Charges by Medicare Severity Diagnosis-Related Groups (MS-DRGs)—March 2008

Table 11.—Proposed FY 2009 MS-LTC-DRGs, Proposed Relative Weights, Proposed Geometric Average Length of Stay, and Proposed Short-Stay Outlier Threshold

Appendix A—Regulatory Impact Analysis

I. Overall Impact

II. Objectives

III. Limitations on Our Analysis

IV. Hospitals Included in and Excluded From the IPPS

V. Effects on Excluded Hospitals and Hospital Units

VI. Quantitative Effects of the Proposed Policy Changes Under the IPPS for Operating Costs

A. Basis and Methodology of Estimates

B. Analysis of Table I

C. Effects of the Proposed Changes to the MS-DRG Reclassifications and Relative Cost-Based Weights (Column 2)

D. Effects of Proposed Wage Index Changes (Column 3)

E. Combined Effects of Proposed MS-DRG and Wage Index Changes (Column 4)

F. Effects of MGCRB Reclassifications (Column 5)

G. Effects of the Proposed Rural Floor and Imputed Rural Floor, Including the Proposed Application of Budget Neutrality at the State Level (Column 6)

H. Effects of the Proposed Wage Index Adjustment for Out-Migration (Column 7)

I. Effects of All Proposed Changes with CMI Adjustment Prior to Estimated Growth (Column 8)

J. Effects of All Proposed Changes with CMI Adjustment and Estimated Growth (Column 9)

K. Effects of Policy on Payment Adjustment for Low-Volume Hospitals

L. Impact Analysis of Table II

VII. Effects of Other Proposed Policy Changes

A. Effects of Proposed Policy on HACs, Including Infections

B. Effects of Proposed MS-LTC-DRG Reclassifications and Relative Weights for LTCHs

C. Effects of Proposed Policy Change Relating to New Medical Service and Technology Add-On Payments

D. Effects of Proposed Policy Change Regarding Postacute Care Transfers to Home Health Services

E. Effects of Proposed Requirements for Hospital Reporting of Quality Data for Annual Hospital Payment Update

F. Effects of Proposed Policy Change to Methodology for Computing Core Staffing Factors for Volume Decrease Adjustment for SCHs and MDHs

G. Effects of Proposed Clarification of Policy for Collection of Risk Adjustment Data From MA Organizations

H. Effects of Proposed Policy Changes Relating to Hospital Emergency Services under EMTALA

I. Effects of Implementation of Rural Community Hospital Demonstration Program

J. Effects of Proposed Policy Changes Relating to Payments to Hospitals-Within-Hospitals

K. Effects of Proposed Policy Changes Relating to Requirements for Disclosure of Physician Ownership in Hospitals

L. Effects of Proposed Changes Relating to Physician Self-Referral Provisions

M. Effects of Proposed Changes Relating to Reporting of Financial Relationships Between Hospitals and Physicians

VIII. Effects of Proposed Changes in the Capital IPPS

A. General Considerations

B. Results

IX. Alternatives Considered

X. Overall Conclusion

XI. Accounting Statement

XII. Executive Order 12866

Appendix B—Recommendation of Update Factors for Operating Cost Rates of Payment for Inpatient Hospital Services

I. Background

II. Inpatient Hospital Update for FY 2009

III. Secretary's Recommendation

IV. MedPAC Recommendation for Assessing Payment Adequacy and Updating Payments in Traditional Medicare

Appendix C—Disclosure of Financial Relationships Report (DFRR) Form

I. Background

A. Summary

1. Acute Care Hospital Inpatient Prospective Payment System (IPPS)

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system (PPS). Under these PPSs, Medicare payment for hospital inpatient operating and capital-related costs is made at predetermined, specific rates for each hospital discharge. Discharges are classified according to a list of diagnosis-related groups (DRGs).

The base payment rate is comprised of a standardized amount that is divided into a labor-related share and a nonlabor-related share. The labor-related share is adjusted by the wage index applicable to the area where the hospital is located. If the hospital is located in Alaska or Hawaii, the nonlabor-related share is adjusted by a cost-of-living adjustment factor. This base payment rate is multiplied by the DRG relative weight.

If the hospital treats a high percentage of low-income patients, it receives a percentage add-on payment applied to the DRG-adjusted base payment rate. This add-on payment, known as the disproportionate share hospital (DSH) adjustment, provides for a percentage increase in Medicare payments to hospitals that qualify under either of two statutory formulas designed to identify hospitals that serve a disproportionate share of low-income patients. For qualifying hospitals, the amount of this adjustment may vary based on the outcome of the statutory calculations.

If the hospital is an approved teaching hospital, it receives a percentage add-on payment for each case paid under the IPPS, known as the indirect medical education (IME) adjustment. This percentage varies, depending on the ratio of residents to beds.

Additional payments may be made for cases that involve new technologies or medical services that have been approved for special add-on payments. To qualify, a new technology or medical service must demonstrate that it is a substantial clinical improvement over technologies or services otherwise available, and that, absent an add-on payment, it would be inadequately paid under the regular DRG payment.

The costs incurred by the hospital for a case are evaluated to determine whether the hospital is eligible for an additional payment as an outlier case. This additional payment is designed to protect the hospital from large financial losses due to unusually expensive cases. Any outlier payment due is added to the DRG-adjusted base payment rate, plus any DSH, IME, and new technology or medical service add-on adjustments.

Although payments to most hospitals under the IPPS are made on the basis of the standardized amounts, some categories of hospitals are paid in whole or in part based on their hospital-specific rate based on their costs in a base year. For example, sole community hospitals (SCHs) receive the higher of a hospital-specific rate based on their costs in a base year (the higher of FY 1982, FY 1987, or FY 1996) or the IPPS rate based on the standardized amount. Until FY 2007, a Medicare-dependent, small rural hospital (MDH) has received the IPPS rate plus 50 percent of the difference between the IPPS rate and its hospital-specific rate if the hospital-specific rate based on their costs in a base year (the higher of FY 1982, FY 1987, or FY 2002) is higher than the IPPS rate. As discussed below, for discharges occurring on or after October 1, 2007, but before October 1, 2011, an MDH will receive the IPPS rate plus 75 percent of the difference between the IPPS rate and its hospital-specific rate, if the hospital-specific rate is higher than the IPPS rate. SCHs are the sole source of care in their areas, and MDHs are a major source of care for Medicare beneficiaries in their areas. Both of these categories of hospitals are afforded this special payment protection in order to maintain access to services for beneficiaries.

Section 1886(g) of the Act requires the Secretary to pay for the capital-related costs of inpatient hospital services “in accordance with a prospective payment system established by the Secretary.” The basic methodology for determining capital prospective payments is set forth in our regulations at 42 CFR 412.308 and 412.312. Under the capital IPPS, payments are adjusted by the same DRG for the case as they are under the operating IPPS. Capital IPPS payments are also adjusted for IME and DSH, similar to the adjustments made under the operating IPPS. However, as discussed in section V.B.2. of this preamble, we are phasing out the IME adjustment beginning with FY 2008. In addition, hospitals may receive outlier payments for those cases that have unusually high costs.

The existing regulations governing payments to hospitals under the IPPS are located in 42 CFR Part 412, Subparts A through M.

2. Hospitals and Hospital Units Excluded From the IPPS

Under section 1886(d)(1)(B) of the Act, as amended, certain specialty hospitals and hospital units are excluded from the IPPS. These hospitals and units are: Rehabilitation hospitals and units; long-term care hospitals (LTCHs); psychiatric hospitals and units; children's hospitals; and cancer hospitals. Religious nonmedical health care institutions (RNHCIs) are also excluded from the IPPS. Various sections of the Balanced Budget Act of 1997 (Pub. L. 105-33), the Medicare, Medicaid and SCHIP [State Children's Health Insurance Program] Balanced Budget Refinement Act of 1999 (Pub. L. 106-113), and the Medicare, Medicaid, and SCHIP Benefits Improvement and Protection Act of 2000 (Pub. L. 106-554) provide for the implementation of PPSs for rehabilitation hospitals and units (referred to as inpatient rehabilitation facilities (IRFs)), LTCHs, and psychiatric hospitals and units (referred to as inpatient psychiatric facilities (IPFs)), as discussed below. Children's hospitals, cancer hospitals, and RNHCIs continue to be paid solely under a reasonable cost-based system.

The existing regulations governing payments to excluded hospitals and hospital units are located in 42 CFR Parts 412 and 413.

a. Inpatient Rehabilitation Facilities (IRFs)

Under section 1886(j) of the Act, as amended, rehabilitation hospitals and units (IRFs) have been transitioned from payment based on a blend of reasonable cost reimbursement subject to a hospital-specific annual limit under section 1886(b) of the Act and the adjusted facility Federal prospective payment rate for cost reporting periods beginning on or after January 1, 2002 through September 30, 2002, to payment at 100 percent of the Federal rate effective for cost reporting periods beginning on or after October 1, 2002. IRFs subject to the blend were also permitted to elect payment based on 100 percent of the Federal rate. The existing regulations governing payments under the IRF PPS are located in 42 CFR Part 412, Subpart P.

b. Long-Term Care Hospitals (LTCHs)

Under the authority of sections 123(a) and (c) of Pub. L. 106-113 and section 307(b)(1) of Pub. L. 106-554, the LTCH PPS was effective for a LTCH's first cost reporting period beginning on or after October 1, 2002. LTCHs that do not meet the definition of “new” under § 412.23(e)(4) are paid, during a 5-year transition period, a LTCH prospective payment that is comprised of an increasing proportion of the LTCH Federal rate and a decreasing proportion based on reasonable cost principles. Those LTCHs that did not meet the definition of “new” under § 412.23(e)(4) could elect to be paid based on 100 percent of the Federal prospective payment rate instead of a blended payment in any year during the 5-year transition. For cost reporting periods beginning on or after October 1, 2006, all LTCHs are paid 100 percent of the Federal rate. The existing regulations governing payment under the LTCH PPS are located in 42 CFR Part 412, Subpart O.

c. Inpatient Psychiatric Facilities (IPFs)

Under the authority of sections 124(a) and (c) of Pub. L. 106-113, inpatient psychiatric facilities (IPFs) (formerly psychiatric hospitals and psychiatric units of acute care hospitals) are paid under the IPF PPS. For cost reporting periods beginning on or after January 1, 2008, all IPFs are paid 100 percent of the Federal per diem payment amount established under the IPF PPS. (For cost reporting periods beginning on or after January 1, 2005, and ending on or before December 31, 2007, some IPFs received transitioned payments for inpatient hospital services based on a blend of reasonable cost-based payment and a Federal per diem payment rate.) The existing regulations governing payment under the IPF PPS are located in 42 CFR part 412, Subpart N.

3. Critical Access Hospitals (CAHs)

Under sections 1814, 1820, and 1834(g) of the Act, payments are made to critical access hospitals (CAHs) (that is, rural hospitals or facilities that meet certain statutory requirements) for inpatient and outpatient services are based on 101 percent of reasonable cost. Reasonable cost is determined under the provisions of section 1861(v)(1)(A) of the Act and existing regulations under 42 CFR Parts 413 and 415.

4. Payments for Graduate Medical Education (GME)

Under section 1886(a)(4) of the Act, costs of approved educational activities are excluded from the operating costs of inpatient hospital services. Hospitals with approved graduate medical education (GME) programs are paid for the direct costs of GME in accordance with section 1886(h) of the Act. The amount of payment for direct GME costs for a cost reporting period is based on the hospital's number of residents in that period and the hospital's costs per resident in a base year. The existing regulations governing payments to the various types of hospitals are located in 42 CFR Part 413.

B. Provisions of the Deficit Reduction Act of 2005 (DRA)

Section 5001(b) of the Deficit Reduction Act of 2005 (DRA), Pub. L. 109-171, requires the Secretary to develop a plan to implement, beginning with FY 2009, a value-based purchasing plan for section 1886(d) hospitals defined in the Act. In section IV.C. of the preamble of this proposed rule, we discuss the report to Congress on the Medicare value-based purchasing plan and the current testing of the plan.

C. Provisions of the Medicare Improvements and Extension Act Under Division B, Title I of the Tax Relief and Health Care Act of 2006 (MIEA-TRHCA)

Section 106(b)(2) of the MIEA-TRHCA instructs the Secretary of Health and Human Services to include in the FY 2009 IPPS proposed rule one or more proposals to revise the wage index adjustment applied under section 1886(d)(3)(E) of the Act for purposes of the IPPS. The Secretary was also instructed to consider MedPAC's recommendations on the Medicare wage index classification system in developing these proposals. In section III. of the preamble of this proposed rule, we discuss MedPAC's recommendations in a report to Congress and present our proposed changes to the FY 2009 wage index in response to those recommendations.

D. Provision of the TMA, Abstinence Education, and QI Programs Extension Act of 2007

Section 7 of the TMA [Transitional Medical Assistance], Abstinence Education, and QI [Qualifying Individuals] Programs Extension Act of 2007 (Pub. L. 110-90) provides for a 0.9 percent prospective documentation and coding adjustment in the determination of standardized amounts under the IPPS (except for MDHs and SCHs) for discharges occurring during FY 2009. The prospective documentation and coding adjustment was established in FY 2008 in response to the implementation of an MS-DRG system under the IPPS that resulted in changes in coding and classification that did not reflect real changes in case-mix under section 1886(d) of the Act. We discuss our proposed implementation of this provision in section II.D. of the preamble of this proposed rule and in the Addendum and in Appendix A to this proposed rule.

E. Major Contents of This Proposed Rule

In this proposed rule, we are setting forth proposed changes to the Medicare IPPS for operating costs and for capital-related costs in FY 2009. We also are setting forth proposed changes relating to payments for IME costs and payments to certain hospitals and units that continue to be excluded from the IPPS and paid on a reasonable cost basis. In addition, we are presenting proposed changes relating to disclosure to patients of physician ownership and investment interests in hospitals, proposed changes to our physician self-referral regulations, and a solicitation of public comments on a proposed collection of information regarding financial relationships between hospitals and physicians.

The following is a summary of the major changes that we are proposing to make:

1. Proposed Changes to MS-DRG Classifications and Recalibrations of Relative Weights

In section II. of the preamble to this proposed rule, we are including—

• Proposed changes to MS-DRG reclassifications based on our yearly review.

• Proposed application of the documentation and coding adjustment to hospital-specific rates resulting from implementation of the MS-DRG system.

• Proposed changes to address the RTI reporting recommendations on charge compression.

• Proposed recalibrations of the MS-DRG relative weights.

We also are proposing to refine the hospital cost reports so that charges for relatively inexpensive medical supplies are reported separately from the costs and charges for more expensive medical devices. This proposal would be applied to the determination of both the IPPS and the OPPS relative weights as well as the calculation of the ambulatory surgical center payment rates.

We are presenting a listing and discussion of additional hospital-acquired conditions (HACs), including infections, that are being proposed to be subject to the statutorily required quality adjustment in MS-DRG payments for FY 2009.

We are presenting our evaluation and analysis of the FY 2009 applicants for add-on payments for high-cost new medical services and technologies (including public input, as directed by Pub. L. 108-173, obtained in a town hall meeting).

We are proposing the annual update of the MS-LTC-DRG classifications and relative weights for use under the LTCH PPS for FY 2009.

2. Proposed Changes to the Hospital Wage Index

In section III. of the preamble to this proposed rule, we are proposing revisions to the wage index and the annual update of the wage data. Specific issues addressed include the following:

• Proposed wage index reform changes in response to recommendations made to Congress as a result of the wage index study required under Pub. L. 109-432. We discuss changes related to reclassifications criteria, application of budget neutrality in reclassifications, and the rural floor and imputed floor budget neutrality at the State level.

• Changes to the CBSA designations.

• The methodology for computing the proposed FY 2009 wage index.

• The proposed FY 2009 wage index update, using wage data from cost reporting periods that began during FY 2006.

• Analysis and implementation of the proposed FY 2009 occupational mix adjustment to the wage index.

• Proposed revisions to the wage index based on hospital redesignations and reclassifications.

• The proposed adjustment to the wage index for FY 2009 based on commuting patterns of hospital employees who reside in a county and work in a different area with a higher wage index.

• The timetable for reviewing and verifying the wage data used to compute the proposed FY 2009 wage index.

• The proposed labor-related share for the FY 2009 wage index, including the labor-related share for Puerto Rico.

3. Other Decisions and Proposed Changes to the IPPS for Operating Costs and GME Costs

In section IV. of the preamble to this proposed rule, we discuss a number of the provisions of the regulations in 42 CFR Parts 412, 413, and 489, including the following:

• Proposed changes to the postacute care transfer policy as it relates to transfers to home with the provision of home health services.

• The reporting of hospital quality data as a condition for receiving the full annual payment update increase.

• Proposed changes in the collection of Medicare Advantage (MA) encounter data that are used for computing the risk payment adjustment made to MA organizations.

• Discussion of the report to Congress on the Medicare value-based purchasing plan and current testing and further development of the plan.

• Proposed changes to the methodology for determining core staff values for the volume decrease payment adjustment for SCHs and MDHs.

• The proposed updated national and regional case-mix values and discharges for purposes of determining RRC status.

• The statutorily-required IME adjustment factor for FY 2009 and technical changes to the GME payment policies.

• Proposed changes to policies on hospital emergency services under EMTALA to address EMTALA Technical Advisory Group (TAG) recommendations.

• Solicitation of public comments on Medicare policies relating to incentives for avoidable readmissions to hospitals.

• Discussion of the fifth year of implementation of the Rural Community Hospital Demonstration Program.

4. Proposed Changes to the IPPS for Capital-Related Costs

In section V. of the preamble to this proposed rule, we discuss the payment policy requirements for capital-related costs and capital payments to hospitals. We acknowledge the public comments that we received on the phase-out of the capital teaching adjustment included in the FY 2008 IPPS final rule with comment period, and again are soliciting public comments on this phase-out in this proposed rule.

5. Proposed Changes to the Payment Rates for Excluded Hospitals and Hospital Units: Rate-of-Increase Percentages

In section VI. of the preamble to this proposed rule, we discuss proposed changes to payments to excluded hospitals and hospital units, proposed changes for determining LTCH CCRs under the LTCH PPS, including a discussion regarding changing the annual payment rate update schedule for the LTCH PPS, and proposed changes to the regulations on hospitals-within-hospitals.

6. Proposed Changes Relating to Disclosure of Physician Ownership in Hospitals

In section VII. of the preamble of this proposed rule, we present proposed changes to the regulations relating to the disclosure to patients of physician ownership or investment interests in hospitals.

7. Proposed Changes and Solicitation of Comments on Physician Self-Referrals Provisions

In section VIII. of the preamble of this proposed rule, we present proposed changes to the policies on physician self-referrals relating to the “Stand in Shoes” provision, In addition, we solicit public comments regarding physician-owned implant companies and gainsharing arrangements.

8. Proposed Collection of Information Regarding Financial Relationships Between Hospitals and Physicians

In section IX. of the preamble of this proposed rule, we solicit public comments on our proposed collection of information regarding financial relationships between hospitals and physicians.

9. Determining Proposed Prospective Payment Operating and Capital Rates and Rate-of-Increase Limits

In the Addendum to this proposed rule, we set forth proposed changes to the amounts and factors for determining the FY 2009 prospective payment rates for operating costs and capital-related costs. We also establish the proposed threshold amounts for outlier cases. In addition, we address the proposed update factors for determining the rate-of-increase limits for cost reporting periods beginning in FY 2009 for hospitals and hospital units excluded from the PPS.

10. Impact Analysis

In Appendix A of this proposed rule, we set forth an analysis of the impact that the proposed changes would have on affected hospitals.

11. Recommendation of Update Factors for Operating Cost Rates of Payment for Inpatient Hospital Services

In Appendix B of this proposed rule, as required by sections 1886(e)(4) and (e)(5) of the Act, we provided our recommendations of the appropriate percentage changes for FY 2009 for the following:

• A single average standardized amount for all areas for hospital inpatient services paid under the IPPS for operating costs (and hospital-specific rates applicable to SCHs and MDHs).

• Target rate-of-increase limits to the allowable operating costs of hospital inpatient services furnished by hospitals and hospital units excluded from the IPPS.

12. Disclosure of Financial Relationships Report (DFRR) Form

In Appendix C of this proposed rule, we present the reporting form that we are proposing to use for the proposed collection of information on financial relationships between hospitals and physicians discussed in section IX, of the preamble of this proposed rule.

13. Discussion of Medicare Payment Advisory Commission Recommendations

Under section 1805(b) of the Act, MedPAC is required to submit a report to Congress, no later than March 1 of each year, in which MedPAC reviews and makes recommendations on Medicare payment policies. MedPAC's March 2008 recommendations concerning hospital inpatient payment policies address the update factor for inpatient hospital operating costs and capital-related costs under the IPPS and for hospitals and distinct part hospital units excluded from the IPPS. We address these recommendations in Appendix B of this proposed rule. For further information relating specifically to the MedPAC March 2008 reports or to obtain a copy of the reports, contact MedPAC at (202) 220-3700 or visit MedPAC's Web site at: www.medpac.gov.

F. Public Comments Received on Issues in Related Rules

1. Comments on Phase-Out of the Capital Teaching Adjustment Under the IPPS Included in the FY 2008 IPPS Final Rule With Comment Period

In the FY 2008 IPPS final rule with comment period, we solicited public comments on our policy changes related to phase-out of the capital teaching adjustment to the capital payment update under the IPPS (72 FR 47401). We received approximately 90 timely pieces of correspondence in response to our solicitation. (These public comments may be viewed on the following Web site: http://www.cms.hhs.gov/eRulemaking/ECCMSR/list.asp under file code CMS-1533-FC.) In section V. of the preamble of this proposed rule, we acknowledge receipt of these public comments and again solicit public comments on the phase-out in this proposed rule. We will respond to the public comments received in response to both the FY 2008 IPPS final rule with comment period and this proposed rule in the FY 2009 IPPS final rule, which is scheduled to be published in August 2008.

2. Policy Revisions Related to Medicare GME Group Affiliations for Hospitals in Certain Declared Emergency Areas

We have issued two interim final rules with comment periods in the Federal Register that modified the GME regulations as they apply to Medicare GME affiliated groups to provide for greater flexibility in training residents in approved residency programs during times of disasters: on April 12, 2006 (71 FR 18654) and on November 27, 2007 (72 FR 66892). We received a number of timely pieces of correspondence in response to these interim final rules with comment period. (The public comments that we received may be viewed on the Web site at: http://www.cms.hhs.gov/eRulemaking/ECCMSR/list.asp under the file codes CMS-1531-IFC1 and CMS-1531-IFC2, respectively.) We will summarize and address these public comments in the FY 2009 IPPS final rule, which is scheduled to be published in August 2008.

II. Proposed Changes to Medicare Severity DRG (MS-DRG) Classifications and Relative Weights

A. Background

Section 1886(d) of the Act specifies that the Secretary shall establish a classification system (referred to as DRGs) for inpatient discharges and adjust payments under the IPPS based on appropriate weighting factors assigned to each DRG. Therefore, under the IPPS, we pay for inpatient hospital services on a rate per discharge basis that varies according to the DRG to which a beneficiary's stay is assigned. The formula used to calculate payment for a specific case multiplies an individual hospital's payment rate per case by the weight of the DRG to which the case is assigned. Each DRG weight represents the average resources required to care for cases in that particular DRG, relative to the average resources used to treat cases in all DRGs.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources.

B. MS-DRG Reclassifications

1. General

As discussed in the preamble to the FY 2008 IPPS final rule with comment period (72 FR 47138), we focused our efforts in FY 2008 on making significant reforms to the IPPS consistent with the recommendations made by MedPAC in its “Report to the Congress, Physician-Owned Specialty Hospitals” in March 2005. MedPAC recommended that the Secretary refine the entire DRG system by taking into account severity of illness and applying hospital-specific relative value (HSRV) weights to DRGs.¹ We began this reform process by adopting cost-based weights over a 3-year transition period beginning in FY 2007 and making interim changes to the DRG system for FY 2007 by creating 20 new CMS DRGs and modifying 32 others across 13 different clinical areas involving nearly 1.7 million cases. As described below in more detail, these refinements were intermediate steps towards comprehensive reform of both the relative weights and the DRG system that is occurring as we undertook further study. For FY 2008, we adopted 745 new Medicare Severity DRGs (MS-DRGs) to replace the CMS DRGs. We refer readers to section II.D. of the FY 2008 IPPS final rule with comment period for a full detailed discussion of how the MS-DRG system was established based on severity levels of illness (72 FR 47141).

¹ Medicare Payment Advisory Commission: Report to the Congress, Physician-Owned Specialty Hospitals, March 25, page viii.

Currently, cases are classified into MS-DRGs for payment under the IPPS based on the principal diagnosis, up to eight additional diagnoses, and up to six procedures performed during the stay. In a small number of MS-DRGs, classification is also based on the age, sex, and discharge status of the patient. The diagnosis and procedure information is reported by the hospital using codes from the International Classification of Diseases, Ninth Revision, Clinical Modification (ICD-9-CM).

The process of forming the MS-DRGs was begun by dividing all possible principal diagnoses into mutually exclusive principal diagnosis areas, referred to as Major Diagnostic Categories (MDCs). The MDCs were formed by physician panels to ensure that the DRGs would be clinically coherent. The diagnoses in each MDC correspond to a single organ system or etiology and, in general, are associated with a particular medical specialty. Thus, in order to maintain the requirement of clinical coherence, no final MS-DRG could contain patients in different MDCs. Most MDCs are based on a particular organ system of the body. For example, MDC 6 is Diseases and Disorders of the Digestive System. This approach is used because clinical care is generally organized in accordance with the organ system affected. However, some MDCs are not constructed on this basis because they involve multiple organ systems (for example, MDC 22 (Burns)). For FY 2008, cases are assigned to one of 745 MS-DRGs in 25 MDCs. The table below lists the 25 MDCs.

Major Diagnostic Categories (MDCs)
1 | Diseases and Disorders of the Nervous System.
2 | Diseases and Disorders of the Eye.
3 | Diseases and Disorders of the Ear, Nose, Mouth, and Throat.
4 | Diseases and Disorders of the Respiratory System.
5 | Diseases and Disorders of the Circulatory System.
6 | Diseases and Disorders of the Digestive System.
7 | Diseases and Disorders of the Hepatobiliary System and Pancreas.
8 | Diseases and Disorders of the Musculoskeletal System and Connective Tissue.
9 | Diseases and Disorders of the Skin, Subcutaneous Tissue and Breast.
10 | Endocrine, Nutritional and Metabolic Diseases and Disorders.
11 | Diseases and Disorders of the Kidney and Urinary Tract.
12 | Diseases and Disorders of the Male Reproductive System.
13 | Diseases and Disorders of the Female Reproductive System.
14 | Pregnancy, Childbirth, and the Puerperium.
15 | Newborns and Other Neonates with Conditions Originating in the Perinatal Period.
16 | Diseases and Disorders of the Blood and Blood Forming Organs and Immunological Disorders.
17 | Myeloproliferative Diseases and Disorders and Poorly Differentiated Neoplasms.
18 | Infectious and Parasitic Diseases (Systemic or Unspecified Sites).
19 | Mental Diseases and Disorders.
20 | Alcohol/Drug Use and Alcohol/Drug Induced Organic Mental Disorders.
21 | Injuries, Poisonings, and Toxic Effects of Drugs.
22 | Burns.
23 | Factors Influencing Health Status and Other Contacts with Health Services.
24 | Multiple Significant Trauma.
25 | Human Immunodeficiency Virus Infections.

In general, cases are assigned to an MDC based on the patient's principal diagnosis before assignment to an MS-DRG. However, under the most recent version of the Medicare GROUPER (Version 26.0), there are 9 MS-DRGs to which cases are directly assigned on the basis of ICD-9-CM procedure codes. These MS-DRGs are for heart transplant or implant of heart assist systems, liver and/or intestinal transplants, bone marrow transplants, lung transplants, simultaneous pancreas/kidney transplants, pancreas transplants, and for tracheostomies. Cases are assigned to these MS-DRGs before they are classified to an MDC. The table below lists the nine current pre-MDCs.

Pre-Major Diagnostic Categories (Pre-MDCs)
MS-DRG 103 | Heart Transplant or Implant of Heart Assist System.
MS-DRG 480 | Liver Transplant and/or Intestinal Transplant.
MS-DRG 481 | Bone Marrow Transplant.
MS-DRG 482 | Tracheostomy for Face, Mouth, and Neck Diagnoses.
MS-DRG 495 | Lung Transplant.
MS-DRG 512 | Simultaneous Pancreas/Kidney Transplant.
MS-DRG 513 | Pancreas Transplant.
MS-DRG 541 | ECMO or Tracheostomy with Mechanical Ventilation 96+ Hours or Principal Diagnosis Except for Face, Mouth, and Neck Diagnosis with Major O.R.
MS-DRG 542 | Tracheostomy with Mechanical Ventilation 96+ Hours or Principal Diagnosis Except for Face, Mouth, and Neck Diagnosis without Major O.R.

Once the MDCs were defined, each MDC was evaluated to identify those additional patient characteristics that would have a consistent effect on the consumption of hospital resources. Because the presence of a surgical procedure that required the use of the operating room would have a significant effect on the type of hospital resources used by a patient, most MDCs were initially divided into surgical DRGs and medical DRGs. Surgical DRGs are based on a hierarchy that orders operating room (O.R.) procedures or groups of O.R. procedures by resource intensity. Medical DRGs generally are differentiated on the basis of diagnosis and age (0 to 17 years of age or greater than 17 years of age). Some surgical and medical DRGs are further differentiated based on the presence or absence of a complication or comorbidity (CC) or a major complication or comorbidity (MCC).

Generally, nonsurgical procedures and minor surgical procedures that are not usually performed in an operating room are not treated as O.R. procedures. However, there are a few non-O.R. procedures that do affect MS-DRG assignment for certain principal diagnoses. An example is extracorporeal shock wave lithotripsy for patients with a principal diagnosis of urinary stones. Lithotripsy procedures are not routinely performed in an operating room. Therefore, lithotripsy codes are not classified as O.R. procedures. However, our clinical advisors believe that patients with urinary stones who undergo extracorporeal shock wave lithotripsy should be considered similar to other patients who undergo O.R. procedures. Therefore, we treat this group of patients similar to patients undergoing O.R. procedures.

Once the medical and surgical classes for an MDC were formed, each diagnosis class was evaluated to determine if complications or comorbidities would consistently affect the consumption of hospital resources. Each diagnosis was categorized into one of three severity levels. These three levels include a major complication or comorbidity (MCC), a complication or comorbidity (CC), or a non-CC. Physician panels classified each diagnosis code based on a highly iterative process involving a combination of statistical results from test data as well as clinical judgment. As stated earlier, we refer readers to section II.D. of the FY 2008 IPPS final rule with comment period for a full detailed discussion of how the MS-DRG system was established based on severity levels of illness (72 FR 47141).

A patient's diagnosis, procedure, discharge status, and demographic information is entered into the Medicare claims processing systems and subjected to a series of automated screens called the Medicare Code Editor (MCE). The MCE screens are designed to identify cases that require further review before classification into an MS-DRG.

After patient information is screened through the MCE and any further development of the claim is conducted, the cases are classified into the appropriate MS-DRG by the Medicare GROUPER software program. The GROUPER program was developed as a means of classifying each case into an MS-DRG on the basis of the diagnosis and procedure codes and, for a limited number of MS-DRGs, demographic information (that is, sex, age, and discharge status).

After cases are screened through the MCE and assigned to an MS-DRG by the GROUPER, the PRICER software calculates a base MS-DRG payment. The PRICER calculates the payment for each case covered by the IPPS based on the MS-DRG relative weight and additional factors associated with each hospital, such as IME and DSH payment adjustments. These additional factors increase the payment amount to hospitals above the base MS-DRG payment.

The records for all Medicare hospital inpatient discharges are maintained in the Medicare Provider Analysis and Review (MedPAR) file. The data in this file are used to evaluate possible MS-DRG classification changes and to recalibrate the MS-DRG weights. However, in the FY 2000 IPPS final rule (64 FR 41500), we discussed a process for considering non-MedPAR data in the recalibration process. In order for us to consider using particular non-MedPAR data, we must have sufficient time to evaluate and test the data. The time necessary to do so depends upon the nature and quality of the non-MedPAR data submitted. Generally, however, a significant sample of the non-MedPAR data should be submitted by mid-October for consideration in conjunction with the next year's proposed rule. This date allows us time to test the data and make a preliminary assessment as to the feasibility of using the data. Subsequently, a complete database should be submitted by early December for consideration in conjunction with the next year's proposed rule.

As we indicated above, for FY 2008, we made significant improvement in the DRG system to recognize severity of illness and resource usage by adopting MS-DRGs. The changes we adopted were reflected in the FY 2008 GROUPER, Version 25.0, and were effective for discharges occurring on or after October 1, 2007. Our DRG analysis for the FY 2008 final rule with comment period was based on data from the March 2007 update of the FY 2006 MedPAR file, which contained hospital bills received through March 31, 2007, for discharges occurring through September 30, 2006. For this proposed rule, for FY 2009, our DRG analysis is based on data from the September 2007 update of the FY 2007 MedPAR file, which contains hospital bills received through September 30, 2007, for discharges through September 30, 2007.

2. Yearly Review for Making MS-DRG Changes

Many of the changes to the MS-DRG classifications we make annually are the result of specific issues brought to our attention by interested parties. We encourage individuals with concerns about MS-DRG classifications to bring those concerns to our attention in a timely manner so they can be carefully considered for possible inclusion in the annual proposed rule and, if included, may be subjected to public review and comment. Therefore, similar to the timetable for interested parties to submit non-MedPAR data for consideration in the MS-DRG recalibration process, concerns about MS-DRG classification issues should be brought to our attention no later than early December in order to be considered and possibly included in the next annual proposed rule updating the IPPS.

The actual process of forming the MS-DRGs was, and will likely continue to be, highly iterative, involving a combination of statistical results from test data combined with clinical judgment. In the FY 2008 IPPS final rule (72 FR 47140 through 47189), we described in detail the process we used to develop the MS-DRGs that we adopted for FY 2008. In addition, in deciding whether to make further modification to the MS-DRGs for particular circumstances brought to our attention, we considered whether the resource consumption and clinical characteristics of the patients with a given set of conditions are significantly different than the remaining patients in the MS-DRG. We evaluated patient care costs using average charges and lengths of stay as proxies for costs and relied on the judgment of our medical advisors to decide whether patients are clinically distinct or similar to other patients in the MS-DRG. In evaluating resource costs, we considered both the absolute and percentage differences in average charges between the cases we selected for review and the remainder of cases in the MS-DRG. We also considered variation in charges within these groups; that is, whether observed average differences were consistent across patients or attributable to cases that were extreme in terms of charges or length of stay, or both. Further, we considered the number of patients who will have a given set of characteristics and generally preferred not to create a new MS-DRG unless it would include a substantial number of cases.

C. Adoption of the MS-DRGs in FY 2008

In the FY 2006, FY 2007, and FY 2008 IPPS final rules, we discussed a number of recommendations made by MedPAC regarding revisions to the DRG system used under the IPPS (70 FR 47473 through 47482; 71 FR 47881 through 47939; and 72 FR 47140 through 47189). As we noted in the FY 2006 IPPS final rule, we had insufficient time to complete a thorough evaluation of these recommendations for full implementation in FY 2006. However, we did adopt severity-weighted cardiac DRGs in FY 2006 to address public comments on this issue and the specific concerns of MedPAC regarding cardiac surgery DRGs. We also indicated that we planned to further consider all of MedPAC's recommendations and thoroughly analyze options and their impacts on the various types of hospitals in the FY 2007 IPPS proposed rule.

For FY 2007, we began this process. In the FY 2007 IPPS proposed rule, we proposed to adopt Consolidated Severity DRGs (CS DRGs) for FY 2008 (if not earlier). However, based on public comments received on the FY 2007 IPPS proposed rule, we decided not to adopt the CS DRGs. Rather, we decided to make interim changes to the existing DRGs for FY 2007 by creating 20 new DRGs involving 13 different clinical areas that would significantly improve the CMS DRG system's recognition of severity of illness. We also modified 32 DRGs to better capture differences in severity. The new and revised DRGs were selected from 40 existing CMS DRGs that contained 1,666,476 cases and represent a number of body systems. In creating these 20 new DRGs, we deleted 8 and modified 32 existing DRGs. We indicated that these interim steps for FY 2007 were being taken as a prelude to more comprehensive changes to better account for severity in the DRG system by FY 2008.

In the FY 2007 IPPS final rule, we indicated our intent to pursue further DRG reform through two initiatives. First, we announced that we were in the process of engaging a contractor to assist us with evaluating alternative DRG systems that were raised as potential alternatives to the CMS DRGs in the public comments. Second, we indicated our intent to review over 13,000 ICD-9-CM diagnosis codes as part of making further refinements to the current CMS DRGs to better recognize severity of illness based on the work that CMS (then HCFA) did in the mid-1990's in connection with adopting severity DRGs. We describe below the progress we have made on these two initiatives, our actions for FY 2008, and our proposals for FY 2009 based on our continued analysis of reform of the DRG system. We note that the adoption of the MS-DRGs to better recognize severity of illness has implications for the outlier threshold, the application of the postacute care transfer policy, the measurement of real case-mix versus apparent case-mix, and the IME and DSH payment adjustments. We discuss these implications for FY 2009 in other sections of this preamble and in the Addendum to this proposed rule.

In the FY 2007 IPPS proposed rule, we discussed MedPAC's recommendations to move to a cost-based HSRV weighting methodology using HSRVs beginning with the FY 2007 IPPS proposed rule for determining the DRG relative weights. Although we proposed to adopt the HSRV weighting methodology for FY 2007, we decided not to adopt the proposed methodology in the final rule after considering the public comments we received on the proposal. Instead, in the FY 2007 IPPS final rule, we adopted a cost-based weighting methodology without the HSRV portion of the proposed methodology. The cost-based weights are being adopted over a 3-year transition period in ⅓ increments between FY 2007 and FY 2009. In addition, in the FY 2007 IPPS final rule, we indicated our intent to further study the HSRV-based methodology as well as other issues brought to our attention related to the cost-based weighting methodology adopted in the FY 2007 final rule. There was significant concern in the public comments that our cost-based weighting methodology does not adequately account for charge compression—the practice of applying a higher percentage charge markup over costs to lower cost items and services and a lower percentage charge markup over costs to higher cost items and services. Further, public commenters expressed concern about potential inconsistencies between how costs and charges are reported on the Medicare cost reports and charges on the Medicare claims. In the FY 2007 IPPS final rule, we used costs and charges from the cost report to determine departmental level cost-to-charge ratios (CCRs) which we then applied to charges on the Medicare claims to determine the cost-based weights. The commenters were concerned about potential distortions to the cost-based weights that would result from inconsistent reporting between the cost reports and the Medicare claims. After publication of the FY 2007 IPPS final rule, we entered into a contract with RTI International (RTI) to study both charge compression and to what extent our methodology for calculating DRG relative weights is affected by inconsistencies between how hospitals report costs and charges on the cost reports and how hospitals report charges on individual claims. Further, as part of its study of alternative DRG systems, the RAND Corporation analyzed the HSRV cost-weighting methodology. We refer readers to section II.E. of the preamble of this proposed rule for our proposals for addressing the issue of charge compression and the HSRV cost-weighting methodology for FY 2009.

We believe that revisions to the DRG system to better recognize severity of illness and changes to the relative weights based on costs rather than charges are improving the accuracy of the payment rates in the IPPS. We agree with MedPAC that these refinements should be pursued. Although we continue to caution that any prospective payment system based on grouping cases will always present some opportunities for providers to specialize in cases they believe have higher margins, we believe that the changes we have adopted and the continuing reforms we are proposing in this proposed rule for FY 2009 will improve payment accuracy and reduce financial incentives to create specialty hospitals.

We refer readers to section II.D. of the FY 2008 IPPS final rule with comment period for a full discussion of how the MS-DRG system was established based on severity levels of illness (72 FR 47141).

D. MS-DRG Documentation and Coding Adjustment, Including the Applicability to the Hospital-Specific Rates and the Puerto Rico-Specific Standardized Amount

1. MS-DRG Documentation and Coding Adjustment

As stated above, we adopted the new MS-DRG patient classification system for the IPPS, effective October 1, 2007, to better recognize severity of illness in Medicare payment rates. Adoption of the MS-DRGs resulted in the expansion of the number of DRGs from 538 in FY 2007 to 745 in FY 2008. By increasing the number of DRGs and more fully taking into account severity of illness in Medicare payment rates, the MS-DRGs encourage hospitals to improve their documentation and coding of patient diagnoses. In the FY 2008 IPPS final rule with comment period (72 FR 47175 through 47186), which appeared in the Federal Register on August 22, 2007, we indicated that we believe the adoption of the MS-DRGs had the potential to lead to increases in aggregate payments without a corresponding increase in actual patient severity of illness due to the incentives for improved documentation and coding. In that final rule with comment period, using the Secretary's authority under section 1886(d)(3)(A)(vi) of the Act to maintain budget neutrality by adjusting the standardized amount to eliminate the effect of changes in coding or classification that do not reflect real change in case-mix, we established prospective documentation and coding adjustments of −1.2 percent for FY 2008, −1.8 percent for FY 2009, and −1.8 percent for FY 2010.

On September 29, 2007, the TMA, Abstinence Education, and QI Programs Extension Act of 2007, Pub. L. 110-90, was enacted. Section 7 of Pub. L. 110-90 included a provision that reduces the documentation and coding adjustment for the MS-DRG system that we adopted in the FY 2008 IPPS final rule with comment period to −0.6 percent for FY 2008 and −0.9 percent for FY 2009. To comply with the provision of section 7 of Pub. L. 110-90, in a final rule that appeared in the Federal Register on November 27, 2007 (72 FR 66886), we changed the IPPS documentation and coding adjustment for FY 2008 to −0.6 percent, and revised the FY 2008 payment rates, factors, and thresholds accordingly, with these revisions effective October 1, 2007.

For FY 2009, Pub. L. 110-90 requires a documentation and coding adjustment of −0.9 percent instead of the −1.8 percent adjustment specified in the FY 2008 IPPS final rule with comment period. As required by statute, we are applying a documentation and coding adjustment of −0.9 percent to the FY 2009 IPPS national standardized amounts. The documentation and coding adjustments established in the FY 2008 IPPS final rule with comment period are cumulative. As a result, the −0.9 percent documentation and coding adjustment in FY 2009 is in addition to the −0.6 percent adjustment in FY 2008, yielding a combined effect of −1.5 percent.

2. Application of the Documentation and Coding Adjustment to the Hospital-Specific Rates

Under section 1886(d)(5)(D)(i) of the Act, SCHs are paid based on whichever of the following rates yields the greatest aggregate payment: The Federal national rate; the updated hospital-specific rate based on FY 1982 costs per discharge; the updated hospital-specific rate based on FY 1987 costs per discharge; or the updated hospital-specific rate based on FY 1996 costs per discharge. Under section 1886(d)(5)(G) of the Act, MDHs are paid based on the Federal national rate or, if higher, the Federal national rate plus 75 percent of the difference between the Federal national rate and the updated hospital-specific rate based on the greater of either the FY 1982, 1987, or 2002 costs per discharge. In the FY 2008 IPPS final rule with comment period, we established a policy of applying the documentation and coding adjustment to the hospital-specific rates. In that rule, we indicated that because SCHs and MDHs use the same DRG system as all other hospitals, we believe they should be equally subject to the budget neutrality adjustment that we are applying for adoption of the MS-DRGs to all other hospitals. In establishing this policy, we cited our authority under section 1886(d)(3)(A)(vi) of the Act, which provides the authority to adjust “the standardized amount” to eliminate the effect of changes in coding or classification that do not reflect real change in case-mix. However, in a final rule that appeared in the Federal Register on November 27, 2007 (72 FR 66886), we rescinded the application of the documentation and coding adjustment to the hospital-specific rates retroactive to October 1, 2007. In that final rule, we indicated that, while we still believe it would be appropriate to apply the documentation and coding adjustment to the hospital-specific rates, upon further review we decided that application of the documentation and coding adjustment to the hospital-specific rates is not consistent with the plain meaning of section 1886(d)(3)(A)(vi) of the Act, which only mentions adjusting “the standardized amount” and does not mention adjusting the hospital-specific rates.

We continue to have concerns about this issue. Because hospitals paid based on the hospital-specific rate use the same MS-DRG system as other hospitals, we believe they have the potential to realize increased payments from coding improvements that do not reflect real increases in patients' severity of illness. In section 1886(d)(3)(A)(vi) of the Act, Congress stipulated that hospitals paid based on the standardized amount should not receive additional payments based on the effect of documentation and coding changes that do not reflect real changes in case-mix. Similarly, we believe that hospitals paid based on the hospital-specific rate should not have the potential to realize increased payments due to documentation and coding improvements that do not reflect real increases in patients' severity of illness. While we continue to believe that section 1886(d)(3)(A)(vi) of the Act does not provide explicit authority for application of the documentation and coding adjustment to the hospital-specific rates, we believe that we have the authority to apply the documentation and coding adjustment to the hospital-specific rates using our special exceptions and adjustment authority under section 1886(d)(5)(I)(i) of the Act. The special exceptions and adjustment authority authorizes us to provide “for such other exceptions and adjustments to [IPPS] payment amounts * * * as the Secretary deems appropriate.” In light of this authority, for the FY 2010 rulemaking, we plan to examine our FY 2008 claims data for hospitals paid based on the hospital-specific rate. If we find evidence of significant increases in case-mix for patients treated in these hospitals, we would consider proposing application of the documentation and coding adjustments to the FY 2010 hospital-specific rates under our authority in section 1886(d)(5)(I)(i) of the Act. As noted previously, the documentation and coding adjustments established in the FY 2008 IPPS final rule with comment period are cumulative. For example, the −0.9 percent documentation and coding adjustment to the national standardized amount in FY 2009 is in addition to the −0.6 percent adjustment made in FY 2008, yielding a combined effect of −1.5 percent in FY 2009. Given the cumulative nature of the documentation and coding adjustments, if we were to propose to apply the documentation and coding adjustment to the FY 2010 hospital-specific rates, it may involve applying the FY 2008 and FY 2009 documentation and coding adjustments (−1.5 percent combined) plus the FY 2010 documentation and coding adjustment, discussed in the FY 2008 IPPS final rule with comment period, to the FY 2010 hospital-specific rates.

3. Application of the Documentation and Coding Adjustment to the Puerto Rico-Specific Standardized Amount

Puerto Rico hospitals are paid based on 75 percent of the national standardized amount and 25 percent of the Puerto Rico-specific standardized amount. As noted previously, the documentation and coding adjustment we adopted in the FY 2008 IPPS final rule with comment period relied upon our authority under section 1886(d)(3)(A)(vi) of the Act, which provides the authority to adjust “the standardized amounts computed under this paragraph” to eliminate the effect of changes in coding or classification that do not reflect real change in case-mix. Section 1886(d)(3)(A)(vi) of the Act applies to the national standardized amounts computed under section 1886(d)(3) of the Act, but does not apply to the Puerto Rico-specific standardized amount computed under section 1886(d)(9)(C) of the Act. In calculating the FY 2008 payment rates, we made an inadvertent error and applied the FY 2008 −0.6 percent documentation and coding adjustment to the Puerto Rico-specific standardized amount, relying on our authority under section 1886(d)(3)(A)(vi) of the Act. We are currently in the process of developing a Federal Register notice to correct that error in the Puerto Rico-specific standardized amount for FY 2008 retroactive to October 1, 2007.

While section 1886(d)(3)(A)(vi) of the Act is not applicable to the Puerto Rico-specific standardized amount, we believe that we have the authority to apply the documentation and coding adjustment to the Puerto Rico-specific standardized amount using our special exceptions and adjustment authority under section 1886(d)(5)(I)(i) of the Act. Similar to SCHs and MDHs that are paid based on the hospital-specific rate, discussed in section II.D.2. of this preamble, we believe that Puerto Rico hospitals that are paid based on the Puerto Rico-specific standardized amount should not have the potential to realize increased payments due to documentation and coding improvements that do not reflect real increases in patients' severity of illness. Consistent with the approach described for SCHs and MDHs in section II.D.2. of the preamble of this proposed rule, for the FY 2010 rulemaking, we plan to examine our FY 2008 claims data for hospitals in Puerto Rico. If we find evidence of significant increases in case-mix for patients treated in these hospitals, we would consider proposing application of the documentation and coding adjustments to the FY 2010 Puerto Rico-specific standardized amount under our authority in section 1886(d)(5)(I)(i) of the Act. As noted previously, the documentation and coding adjustments established in the FY 2008 IPPS final rule with comment period are cumulative. Given the cumulative nature of the documentation and coding adjustments, if we were to propose to apply the documentation and coding adjustment to the FY 2010 Puerto Rico-specific standardized amount, it may involve applying the FY 2008 and FY 2009 documentation and coding adjustments (−1.5 percent combined) plus the FY 2010 documentation and coding adjustment, discussed in the FY 2008 IPPS final rule with comment period, to the FY 2010 Puerto Rico-specific standardized amount.

4. Potential Additional Payment Adjustments in FYs 2010 Through 2012

Section 7 of Pub. L.110-90 also provides for payment adjustments in FYs 2010 through 2012 based upon a retrospective evaluation of claims data from the implementation of the MS-DRG system. If, based on this retrospective evaluation, the Secretary finds that in FY 2008 and FY 2009, the actual amount of change in case-mix that does not reflect real change in underlying patient severity differs from the statutorily mandated documentation and coding adjustments implemented in those years, the law requires the Secretary to adjust payments for discharges occurring in FYs 2010 through 2012 to offset the estimated amount of increase or decrease in aggregate payments that occurred in FY 2008 and FY 2009 as a result of that difference, in addition to making an appropriate adjustment to the standardized amount under section 1886(d)(3)(A)(vi) of the Act.

In order to implement these requirements of section 7 of Pub. L. 110-90, we are planning a thorough retrospective evaluation of our claims data. Results of this evaluation would be used by our actuaries to determine any necessary payment adjustments in FYs 2010 through 2012 to ensure the budget neutrality of the MS-DRG implementation for FY 2008 and FY 2009, as required by law. We are currently developing our analysis plans for this effort.

We intend to measure and corroborate the extent of the overall national average changes in case-mix for FY 2008 and FY 2009. We expect part of this overall national average change would be attributable to underlying changes in actual patient severity and part would be attributable to documentation and coding improvements under the MS-DRG system. In order to separate the two effects, we plan to isolate the effect of shifts in cases among base DRGs from the effect of shifts in the types of cases within base DRGs. The shifts among base DRGs are the result of changes in principal diagnoses while the shifts within base DRGs are the result of changes in secondary diagnoses. Because we expect most of the documentation and coding improvements under the MS-DRG system will occur in the secondary diagnoses, the shifts among base DRGs are less likely to be the result of the MS-DRG system and the shifts within base DRGs are more likely to be the result of the MS-DRG system. We also anticipate evaluating data to identify the specific MS-DRGs and diagnoses that contributed significantly to the improved documentation and coding payment effect and to quantify their impact. This step would entail analysis of the secondary diagnoses driving the shifts in severity within specific base DRGs.

While we believe that the data analysis plan described previously will produce an appropriate estimate of the extent of case-mix changes resulting from documentation and coding improvements, we may also decide, if feasible, to use historical data from our Hospital Payment Monitoring Program (HPMP) to corroborate the within base DRG shift analysis. The HPMP is supported by the Medicare Clinical Data Abstraction Center (CDAC). From 1999 to 2007, the CDAC obtained medical records for a sample of discharges as part of our hospital monitoring activities. These data were collected on a random sample of between 30,000 to 50,000 hospital discharges per year. The historical CDAC data could be used to develop an upper bound estimate of the trend in real case-mix growth (that is, real change in underlying patient severity) prior to implementation of the MS-DRGs.

We welcome public comments on our analysis plans, as well as suggestions on other possible approaches for conducting a retrospective analysis to identify the amount of case-mix changes that occurred in FY 2008 and FY 2009 that did not reflect real increases in patients' severity of illness. Our analysis, findings, and any resulting proposals to adjust payments for discharges occurring in FYs 2010 through 2012 to offset the estimated amount of increase or decrease in aggregate payments that occurred in FY 2008 and FY 2009 will be discussed in future years' rulemakings.

E. Refinement of the MS-DRG Relative Weight Calculation

1. Background

In the FY 2008 IPPS final rule with comment period (72 FR 47188), we continued to implement significant revisions to Medicare's inpatient hospital rates by basing relative weights on hospitals' estimated costs rather than on charges. We continued our 3-year transition from charge-based relative weights to cost-based relative weights. Beginning in FY 2007, we implemented relative weights based on cost report data instead of based on charge information. We had initially proposed to develop cost-based relative weights using the hospital-specific relative value cost center (HSRVcc) methodology as recommended by MedPAC. However, after considering concerns raised in the public comments, we modified MedPAC's methodology to exclude the hospital-specific relative weight feature. Instead, we developed national CCRs based on distinct hospital departments and engaged a contractor to evaluate the HSRVcc methodology for future consideration. To mitigate payment instability due to the adoption of cost-based relative weights, we decided to transition cost-based weights over 3 years by blending them with charge-based weights beginning in FY 2007. In FY 2008, we continued our transition by blending the relative weights with one-third charge-based weights and two-thirds cost-based weights.

Also, in FY 2008, we adopted severity-based MS-DRGs, which increased the number of DRGs from 538 to 745. Many commenters raised concerns as to how the transition from charge-based weights to cost-based weights would continue with the introduction of new MS-DRGs. We decided to implement a 2-year transition for the MS-DRGs to coincide with the remainder of the transition to cost-based relative weights. In FY 2008, 50 percent of the relative weight for each DRG was based on the CMS DRG relative weight and 50 percent was based on the MS-DRG relative weight. We refer readers to the FY 2007 IPPS final rule (71 FR 47882) for more detail on our final policy for calculating the cost-based DRG relative weights and to the FY 2008 IPPS final rule with comment period (72 FR 47199) for information on how we blended relative weights based on the CMS DRGs and MS-DRGs.

As we transitioned to cost-based relative weights, some commenters raised concerns about potential bias in the weights due to “charge compression,” which is the practice of applying a higher percentage charge markup over costs to lower cost items and services, and a lower percentage charge markup over costs to higher cost items and services. As a result, the cost-based weights would undervalue high cost items and overvalue low cost items if a single CCR is applied to items of widely varying costs in the same cost center. To address this concern, in August 2006, we awarded a contract to RTI to study the effects of charge compression in calculating the relative weights and to consider methods to reduce the variation in the CCRs across services within cost centers. RTI issued an interim draft report in March 2007 which was posted on the CMS Web site with its findings on charge compression. In that report, RTI found that a number of factors contribute to charge compression and affect the accuracy of the relative weights. RTI found inconsistent matching of charges in the Medicare cost report and their corresponding charges in the MedPAR claims for certain cost centers. In addition, there was inconsistent reporting of costs and charges among hospitals. For example, some hospitals would report costs and charges for devices and medical supplies in the Medical Supplies Charged to Patients cost center, while other hospitals would report those costs and charges in their related ancillary departments such as Operating Room or Radiology. RTI also found evidence that certain revenue codes within the same cost center had significantly different markup rates. For example, within the Medicare Supplies Charged to Patients cost center, revenue codes for devices, implantables, and prosthetics had different markup rates than the other medical supplies in that cost center. RTI's findings demonstrated that charge compression exists in several CCRs, most notably in the Medical Supplies and Equipment CCR.

RTI offered short-term, medium-term, and long-term recommendations to mitigate the effects of charge compression. RTI's short-term recommendations included expanding the distinct hospital CCRs to 19 by disaggregating the “Emergency Room” and “Blood and Blood Products” from the Other Services cost center and by estimating regression-based CCRs to disaggregate Medical Supplies, Drugs, and Radiology cost centers. RTI recommended, for the medium-term, to expand the MedPAR file to include separate fields that disaggregate several existing charge departments. In addition, RTI recommended improving hospital cost reporting instructions so that hospitals can properly report costs in the appropriate cost centers. RTI's long-term recommendations included adding new cost centers to the Medicare cost report, such as adding a “Devices, Implants and Prosthetics” line under “Medical Supplies Charged to Patients” and a “CT Scanning and MRI” subscripted line under “Radiology-Diagnostics”.

Among RTI's short-term recommendations, for FY 2008, we expanded the number of distinct hospital department CCRs from 13 to 15 by disaggregating “Emergency Room” and “Blood and Blood Products” from the Other Services cost center as these lines already exist on the hospital cost report. Furthermore, in an effort to improve consistency between costs and their corresponding charges in the MedPAR file, we moved the costs for cases involving electroencephalography (EEG) from the Cardiology cost center to the Laboratory cost center group which corresponds with the EEG MedPAR claims categorized under the Laboratory charges. We also agreed with RTI's recommendations to revise the Medicare cost report and the MedPAR file as a long-term solution for charge compression. We stated that, in the upcoming year, we would consider additional lines to the cost report and additional revenue codes for the MedPAR file.

We did not adopt RTI's short-term recommendation to create four additional regression-based CCRs for several reasons, even though we had received comments in support of the regression-based CCRs as a means to immediately resolve the problem of charge compression, particularly within the Medical Supplies and Equipment CCR. We were concerned that RTI's analysis was limited to charges on hospital inpatient claims while typically hospital cost report CCRs combine both inpatient and outpatient services. Further, because both the IPPS and OPPS rely on cost-based weights, we preferred to introduce any methodological adjustments to both payment systems at the same time. We have since expanded RTI's analysis of charge compression to incorporate outpatient services. RTI has been evaluating the cost estimation process for the OPPS cost-based weights, including a reassessment of the regression-based CCR models using both outpatient and inpatient charge data. The RTI report was finalized at the conclusion of our proposed rule development process and is expected to be posted on the CMS Web site in the near future. We welcome comments on this report.

A second reason that we did not implement regression-based CCRs at the time of the FY 2008 IPPS final rule with comment period was our inability to investigate how regression-based CCRs would interact with the implementation of MS-DRGs. We stated that we would consider the results of the second phase of the RAND study as we prepared for the FY 2009 IPPS rulemaking process. The purpose of the RAND study was to analyze how the relative weights would change if we were to adopt regression-based CCRs to address charge compression while simultaneously adopting an HSRV methodology using fully phased-in MS-DRGs. We had intended to include a detailed discussion of RAND's study in this FY 2009 IPPS proposed rule. However, due to some delays in releasing identifiable data to the contractor under revised data security rules, the report on this second stage of RAND's analysis was not completed in time for the development of this proposed rule. Therefore, we continue to have the same concerns with respect to uncertainty about how regression-based CCRs would interact with the MS-DRGs or an HSRV methodology. Therefore, we are not proposing to adopt the regression-based CCRs or an HSRV methodology in this FY 2009 IPPS proposed rule. Nevertheless, we welcome public comments on our proposals not to adopt regression-based CCRs or an HSRV methodology at this time or in the future. The RAND report on regression-based CCRs and the HSRV methodology was finalized at the conclusion of our proposed rule development process and is expected to be posted on the CMS Web site in the near future. Although we are unable to include a discussion of the results of the RAND study in this proposed rule, we welcome public comment on the report.

Finally, we received public comments on the FY 2008 IPPS proposed rule raising concerns on the accuracy of using regression-based CCR estimates to determine the relative weights rather than the Medicare cost report. Commenters noted that regression-based CCRs would not fix the underlying mismatch of hospital reporting of costs and charges. Instead, the commenters suggested that the impact of charge compression might be mitigated through an educational initiative that would encourage hospitals to improve their cost reporting. Commenters recommended that hospitals be educated to report costs and charges in a way that is consistent with how charges are grouped in the MedPAR file. In an effort to achieve this goal, hospital associations have launched an educational campaign to encourage consistent reporting, which would result in consistent groupings of the cost centers used to establish the cost-based relative weights. The commenters requested that CMS communicate to the fiscal intermediaries/MACs that such action is appropriate. In the FY 2008 IPPS final rule with comment period, we stated that we were supportive of the educational initiative of the industry, and we encouraged hospitals to report costs and charges consistently with how the data are used to determine relative weights (72 FR 47196). We would also like to affirm that the longstanding Medicare principles of cost apportionment at 42 CFR 413.53 convey that, under the departmental method of apportionment, the cost of each ancillary department is to be apportioned separately rather than being combined with another ancillary department (for example, combining the cost of Medical Supplies Charged to Patients with the costs of Operating Room or any other ancillary cost center. (We note that, effective for cost reporting periods starting on or after January 1, 1979, the departmental method of apportionment replaced the combination method of apportionment where all the ancillary departments were apportioned in the aggregate (Section 2200.3 of the Provider Reimbursement Manual (PRM), Part I).)

Furthermore, longstanding Medicare cost reporting policy has been that hospitals must include the cost and charges of separately “chargeable medical supplies” in the Medical Supplies Charged to Patients cost center (line 55 of Worksheet A), rather than in the Operating Room, Emergency Room, or other ancillary cost centers. Routine services, which can include “minor medical and surgical supplies” (Section 2202.6 of the PRM, Part 1), and items for which a separate charge is not customarily made, may be directly assigned through the hospital's accounting system to the department in which they were used, or they may be included in the Central Services and Supply cost center (line 15 of Worksheet A). Conversely, the separately chargeable medical supplies should be assigned to the Medical Supplies Charged to Patients cost center on line 55.

We note that not only is accurate cost reporting important for IPPS hospitals to ensure that accurate relative weights are computed, but hospitals that are still paid on the basis of cost, such as CAHs and cancer hospitals, and SCHs and MDHs must adhere to Medicare cost reporting principles as well.

The CY 2008 OPPS/ASC final rule with comment period (72 FR 66601) also discussed the issue of charge compression and regression-based CCRs, and noted that RTI is currently evaluating the cost estimation process underpinning the OPPS cost-based weights, including a reassessment of the regression models using both outpatient and inpatient charges, rather than inpatient charges only. In responding to comments in the CY 2008 OPPS/ASC final rule with comment period, we emphasized that we “fully support” the educational initiatives of the industry and that we would “examine whether the educational activities being undertaken by the hospital community to improve cost reporting accuracy under the IPPS would help to mitigate charge compression under the OPPS, either as an adjunct to the application of regression-based CCRs or in lieu of such an adjustment” (72 FR 66601). However, as we stated in the FY 2008 IPPS final rule with comment period that we would consider the results of the RAND study before considering whether to adopt regression-based CCRs, in the CY 2008 OPPS/ASC final rule with comment period, we stated that we would determine whether refinements should be proposed, after reviewing the results of the RTI study.

On February 29, 2008, we issued Transmittal 321, Change Request 5928, to inform the fiscal intermediaries/MACs of the hospital associations’ initiative to encourage hospitals to modify their cost reporting practices with respect to costs and charges in a manner that is consistent with how charges are grouped in the MedPAR file. We noted that the hospital cost reports submitted for FY 2008 may have costs and charges grouped differently than in prior years, which is allowable as long as the costs and charges are properly matched and the Medicare cost reporting instructions are followed. Furthermore, we recommended that fiscal intermediaries/MACs remain vigilant to ensure that the costs of items and services are not moved from one cost center to another without moving their corresponding charges. Due to a time lag in submittal of cost reporting data, the impact of changes in providers' cost reporting practices occurring during FY 2008 would be reflected in the FY 2011 IPPS relative weights.

2. Refining the Medicare Cost Report

In developing this FY 2009 proposed rule, we considered whether there were concrete steps we could take to mitigate the bias introduced by charge compression in both the IPPS and OPPS relative weights in a way that balance hospitals’ desire to focus on improving the cost reporting process through educational initiatives with device industry interest in adopting regression-adjusted CCRs. Although RTI recommended adopting regression-based CCRs, particularly for medical supplies and devices, as a short-term solution to address charge compression, RTI also recommended refinements to the cost report as a long-term solution. RTI's draft interim March 2007 report discussed a number of options that could improve the accuracy and precision of the CCRs currently being derived from the Medicare cost report and also reduce the need for statistically-based adjustments. As mentioned in the FY 2008 IPPS final rule with comment period (72 FR 47193), we believe that RTI and many of the public commenters on the FY 2008 IPPS proposed rule concluded that, ultimately, improved and more precise cost reporting is the best way to minimize charge compression and improve the accuracy of cost weights. Therefore, in this proposed rule, we are proposing to begin making cost report changes geared to improving the accuracy of the IPPS and OPPS relative weights. However, we also received comments last year asking that we proceed cautiously with changing the Medicare cost report to avoid unintended consequences for hospitals that are paid on a cost basis (such as CAHs and, to some extent, SCHs and MDHs), and to consider the administrative burden associated with adapting to new cost reporting forms and instructions. Accordingly, we are proposing to focus at this time on the CCR for Medical Supplies and Equipment because RTI found that the largest impact on the relative weights could result from correcting charge compression for devices and implants. When examining markup differences within the Medical Supplies Charged to Patients cost center, RTI found that its “regression results provide solid evidence that if there were distinct cost centers for items, cost ratios for devices and implants would average about 17 points higher than the ratios for other medical supplies” (January 2007 RTI report, page 59). This suggests that much of the charge compression within the Medical Supplies CCR results from inclusion of medical devices that have significantly different markups than the other supplies in that CCR. Furthermore, in the FY 2007 final rule and FY 2008 IPPS final rule with comment period, the Medical Supplies and Equipment CCR received significant attention by the public commenters.

Although we are proposing to make improvements to lessen the effects of charge compression only on the Medical Supplies and Equipment CCR as a first step, we are inviting public comments as to whether to make other changes to the Medicare cost report to refine other CCRs. In addition, we are open to making further refinements to other CCRs in the future. Therefore, we are proposing at this time to add only one cost center to the cost report, such that, in general, the costs and charges for relatively inexpensive medical supplies would be reported separately from the costs and charges of more expensive devices (such as pacemakers and other implantable devices). We will consider public comments submitted on this proposed rule for purposes of both the IPPS and the OPPS relative weights and, by extension, the calculation of the ambulatory surgical center (ASC) payment rates.

Under the IPPS for FY 2007 and FY 2008, the aggregate CCR for supplies and equipment was computed based on line 55 for Medical Supplies Charged to Patients and lines 66 and 67 for DME Rented and DME Sold, respectively. To compute the 15 national CCRs used in developing the cost-based weights under the IPPS (explained in more detail under section II.H. of the preamble of this proposed rule), we take the costs and charges for the 15 cost groups from Worksheet C, Part I of the Medicare cost report for all hospital patients and multiply each of these 15 CCRs by the Medicare charges on Worksheet D-4 for those same cost centers to impute the Medicare cost for each of the 15 cost groups. Under this proposal, the goal would be to split the current CCR for Medical Supplies and Equipment into one CCR for medical supplies, and another CCR for devices and DME Rented and DME Sold.

In considering how to instruct hospitals on what to report in the cost center for supplies and the cost center for devices, we looked at the existing criteria for what type of device qualifies for payment as a transitional pass-through device category in the OPPS. (There are no such existing criteria for devices under the IPPS.) The provisions of the regulations under § 419.66(b) state that for a medical device to be eligible for pass-through payment under the OPPS, the medical device must meet the following criteria:

a. If required by the FDA, the device must have received FDA approval or clearance (except for a device that has received an FDA investigational device exemption (IDE) and has been classified as a Category B device by the FDA in accordance with §§ 405.203 through 405.207 and 405.211 through 405.215 of the regulations) or another appropriate FDA exemption.

b. The device is determined to be reasonable and necessary for the diagnosis or treatment of an illness or injury or to improve the functioning of a malformed body part (as required by section 1862(a)(1)(A) of the Act).

c. The device is an integral and subordinate part of the service furnished, is used for one patient only, comes in contact with human tissues, and is surgically implanted or inserted whether or not it remains with the patient when the patient is released from the hospital.

d. The device is not any of the following:

• Equipment, an instrument, apparatus, implement, or item of this type for which depreciation and financing expenses are recovered as depreciable assets as defined in Chapter 1 of the Medicare Provider Reimbursement Manual (CMS Pub. 15-1).

• A material or supply furnished incident to a service (for example, a suture, customized surgical kit, or clip, other than a radiological site marker).

• Material that may be used to replace human skin (for example, a biological or synthetic material).

These requirements are the OPPS criteria used to define a device for pass-through payment purposes and do not include additional criteria that are used under the OPPS to determine if a candidate device is new and represents a substantial clinical improvement, two other requirements for qualifying for pass-through payment.

For purposes of applying the eligibility criteria, we interpret “surgical insertion or implantation” to include devices that are surgically inserted or implanted via a natural or surgically created orifice as well as those devices that are inserted or implanted via a surgically created incision (70 FR 68630).

In proposing to modify the cost report to have one cost center for medical supplies and one cost center for devices, we are proposing that hospitals would determine what should be reported in the Medical Supplies cost center and what should be reported in the Medical Devices cost center using criteria consistent with those listed above that are included under § 419.66(b), with some modification. Specifically, for purposes of the cost reporting instructions, we are proposing that an item would be reported in the device cost center if it meets the following criteria:

a. If required by the FDA, the device must have received FDA approval or clearance (except for a device that has received an FDA investigational device exemption (IDE) and has been classified as a Category B device by the FDA in accordance with §§ 405.203 through 405.207 and 405.211 through 405.215 of the regulations) or another appropriate FDA exemption.

b. The device is reasonable and necessary for the diagnosis or treatment of an illness or injury or to improve the functioning of a malformed body part (as required by section 1862(a)(1)(A) of the Act).

c. The device is an integral and subordinate part of the service furnished, is used for one patient only, comes in contact with human tissue, is surgically implanted or inserted through a natural or surgically created orifice or surgical incision in the body, and remains in the patient when the patient is discharged from the hospital.

d. The device is not any of the following:

• Equipment, an instrument, apparatus, implement, or item of this type for which depreciation and financing expenses are recovered as depreciable assets as defined in Chapter 1 of the Medicare Provider Reimbursement Manual (CMS Pub. 15-1).

• A material or supply furnished incident to a service (for example, a surgical staple, a suture, customized surgical kit, or clip, other than a radiological site marker).

• Material that may be used to replace human skin (for example, a biological or synthetic material).

• A medical device that is used during a procedure or service and does not remain in the patient when the patient is released from the hospital.

We are proposing to select the existing criteria for what type of device qualifies for payment as a transitional pass-through device under the OPPS as a basis for instructing hospitals on what to report in the cost center for Medical Supplies Charged to Patients or the cost center for Medical Devices Charged to Patients because these criteria are concrete and already familiar to the hospital community. However, the key difference between the existing criteria for devices that are eligible for pass-through payment under the OPPS at § 419.66(b) and our proposed criteria stated above to be used for cost reporting purposes is that the device that is implanted remains in the patient when the patient is discharged from the hospital. Essentially, we are proposing to instruct hospitals to report only implantable devices that remain in the patient at discharge in the cost center for devices. All other devices and non-routine supplies which are separately chargeable would be reported in the medical supplies cost center. We believe that defining a device for cost reporting purposes based on criteria that specify implantation and adding that the device must remain in the patient upon discharge would have the benefit of capturing virtually all costly implantable devices (for example, implantable cardioverter defibrillators (ICDs), pacemakers, and cochlear implants) for which charge compression is a significant concern.

However, we acknowledge that a definition of device based on whether an item is implantable and remains in the patient could, in some cases, include items that are relatively inexpensive (for example, urinary catheters, fiducial markers, vascular catheters, and drainage tubes), and which many would consider to be supplies. Thus, some modest amount of charge compression could still be present in the cost center for devices if the hospital does not have a uniform markup policy. In addition, requiring as a cost reporting criterion that the device is to remain in the patient at discharge could exclude certain technologies that are moderately expensive (for example, cryoablation probes, angioplasty catheters, and cardiac echocardiography catheters, which do not remain in the patient upon discharge). Therefore, some charge compression could continue for these technologies. We believe this limited presence of charge compression is acceptable, given that the proposed definition of device for cost reporting purposes would isolate virtually all of the expensive items, allowing them to be separately reported from most inexpensive supplies.

The criteria we are proposing above for instructing hospitals as to what to report in the device cost center specify that a device is not a material or supply furnished incident to a service (for example, a surgical staple, a suture, customized surgical kit, or clip, other than a radiological site marker) (emphasis added). We understand that hospitals may sometimes receive surgical kits from device manufacturers that consist of a high-cost primary implantable device, external supplies required for operation of the device, and other disposable surgical supplies required for successful device implantation. Often the device and the attending supplies are included on a single invoice from the manufacturer, making it difficult for the hospital to determine the cost of each item in the kit. In addition, manufacturers sometimes include with the primary device other free or “bonus” items or supplies that are not an integral and necessary part of the device (that is, not actually required for the safe surgical implantation and subsequent operation of that device). (We note that arrangements involving free or bonus items or supplies may implicate the Federal anti-kickback statue, depending on the circumstances.) One option is for the hospital to split the total combined charge on the invoice in a manner that the hospital believes best identifies the cost of the device alone. However, because it may be difficult for hospitals to determine the respective costs of the actual device and the attending supplies (whether they are required for the safe surgical implantation and subsequent operation of that device or not), we are soliciting comments with respect to how supplies, disposable or otherwise, that are part of surgical kits should be reported. We are distinguishing between such supplies that are an integral and necessary part of the primary device (that is, required for the safe surgical implantation and subsequent operation of that device) from other supplies that are not directly related to the implantation of that device, but may be included by the device manufacturer with or without charge as “perks” along with the kit. If it is difficult to break out the costs and charges of these lower cost items that are an integral and necessary part of the primary device, we would consider allowing hospitals to report the costs and charges of these lower cost supplies along with the costs and charges of the more expensive primary device in the cost report cost center for implantable devices. However, to the extent that device manufacturers could be encouraged to refine their invoicing practices to break out the charges and costs for the lower cost supplies and the higher cost primary device separately, so that hospitals need not “guesstimate” the cost of the device, this would facilitate more accurate cost reporting and, therefore, the calculation of more accurate cost-based weights. Under either scenario, even for an aggregated invoice that contains an expensive device, we believe that RTI's findings of significant differences in supply CCRs for hospitals with a greater percentage of charges in device revenue codes demonstrate that breaking the Medical Supplies Charged to Patients cost center into two cost centers and using appropriate revenue codes for devices, and walking those costs to the new Implantable Devices Charged to Patients cost center, will result in an increase in estimated device costs.

In summary, we are proposing to modify the cost report to have one cost center for Medical Supplies Charged to Patients and one cost center for Implantable Devices Charged to Patients. We are proposing to instruct hospitals to report only devices that meet the four criteria listed above (specifically including that the device is implantable and remains in the patient at discharge) in the cost center for Implantable Devices Charged to Patients. All other devices and nonchargeable supplies would be reported in the Medical Supplies cost center. This would allow for two distinct CCRs, one for medical supplies and one for implantable devices and DME rented and DME sold.

However, we are also soliciting comments on alternative approaches that could be used in conjunction with or in lieu of the four proposed criteria for distinguishing between what should be reported in the cost center for Implantable Devices and Medical Supplies, respectively. Another option we are considering would distinguish between high-cost and low-cost items based on a cost threshold. Under this methodology, we would also have one cost center for Medical Supplies and one cost center for Devices, but we would instruct hospitals to report items that are not movable equipment or a capital expense but are above a certain cost threshold in the cost center for Devices. Items costing below that threshold would be reported in the cost center for Medical Supplies.

Establishing a cost threshold for cost reporting purposes would directly address the problem of charge compression and would enable hospitals to easily determine whether an item should be reported in the supply or the device cost center. A cost threshold would also potentially allow a broader variety of expensive, single use devices that do not remain in the patient at discharge to be reported in the device cost center (such as specialized catheters or ablation probes). While we have a number of concerns with the cost threshold approach, we are nevertheless soliciting public comments on whether such an approach would be worthwhile to pursue. Specifically, we are concerned that establishing a single cost threshold for pricing devices could possibly be inaccurate across hospitals. Establishing a threshold would require identifying a cost at which hospitals would begin applying reduced markup policies. Currently, we do not have data from which to derive a threshold. We have anecdotal reports that hospitals change their markup thresholds between $15,000 and $20,000 in acquisition costs. Recent research on this issue indicated that hospitals with average inpatient discharges in DRGs with supply charges greater than $15,000, $20,000, and $30,000 have higher supply CCRs (Advamed March 2006).

Furthermore, although a cost threshold directly addresses charge compression, it may not eliminate all charge compression from the device cost center because a fixed cost threshold may not accurately capture differential markup policies for an individual hospital. At the same time, we are also concerned that establishing a cost threshold may interfere with the pricing practices of device manufacturers in that the prices for certain devices or surgical kits could be inflated to ensure that the devices met the cost threshold. We believe our proposed approach of identifying a group of items that are relatively expensive based on the existing criteria for OPPS device pass-through payment status, rather than adopting a cost threshold, would not influence pricing by the device industry. In addition, if a cost threshold were adopted for distinguishing between high-cost devices and low-cost supplies on the cost report, we would need to periodically reassess the threshold for changes in markup policies and price inflation over time.

Another option for distinguishing between high-cost and low-cost items for purposes of the cost report would be to divide the Medical Supplies cost center based on markup policies by placing items with lower than average markups in a separate cost center. This approach would center on documentation requirements for differential charging practices that would lead hospitals to distinguish between the reporting of supplies and devices on different cost report lines. That is, because charge compression results from the different markup policies that hospitals apply to the supplies and devices they use based on the estimated costs of those supplies and devices, isolating supplies and devices with different markup policies mitigates aggregation in markup policies that cause charge compression and is specific to a hospital's internal accounting and pricing practices. If requested by the fiscal intermediaries/MACs at audit, hospitals could be required to submit documentation of their markup policies to justify the way they have reported relatively inexpensive supplies on one line and more expensive devices on the other line. We believe that it should not be too difficult for hospitals to document their markup practices because, as was pointed out by many commenters since the implementation of cost-based weights, the source of charge compression is varying markup practices. Greater knowledge of the specifics of hospital markup practices may allow ultimately for development of standard cost reporting instructions that instruct hospitals to report an item as a device or a supply based on the type of markup applied to that item. This option related to markup practices, the proposal to define devices based on four specific criteria, and the third alternative that would establish a cost threshold for purposes of distinguishing between high-cost and low-cost items, could be utilized separately or in some combination for purposes of cost report modification. Again, we are soliciting comments on these alternative approaches. We are also interested in other recommendations for appropriate cost reporting improvements that address charge compression.

3. Timeline for Revising the Medicare Cost Report

As mentioned in the FY 2008 IPPS final rule with comment period (72 FR 47198), we have begun a comprehensive review of the Medicare hospital cost report, and the proposed splitting of the current cost center for Medical Supplies Charged to Patients into one line for Medical Supplies Charged to Patients and another line for Implantable Devices Charged to Patients, is part of our initiative to update and revise the hospital cost report. Under an effort initiated by CMS to update the Medicare hospital cost report to eliminate outdated requirements in conjunction with the Paperwork Reduction Act, we plan to propose the actual changes to the cost reporting form, the attending cost reporting software, and the cost report instructions in Chapter 36 of the Medicare Provider Reimbursement Manual (PRM), Part II. We expect the proposed revision to the Medicare hospital cost report to be issued after publication of this IPPS proposed rule. If we were to adopt as final our proposal to create one cost center for Medical Supplies Charged to Patients and one cost center for Implantable Devices Charged to Patients in the FY 2009 IPPS final rule, the cost report forms and instructions would reflect those changes. We expect the revised cost report would be available for hospitals to use when submitting cost reports during FY 2009 (that is, for cost reporting periods beginning on or after October 1, 2008). Because there is approximately a 3-year lag between the availability of cost report data for IPPS and OPPS ratesetting purposes and a given fiscal year, we may be able to derive two distinct CCRs, one for medical supplies and one for devices, for use in calculating the FY 2012 IPPS relative weights and the CY 2012 OPPS relative weights.

4. Revenue Codes Used in the MedPAR File

An important first step in RTI's study (as explained in its draft interim March 2007 report) was determining how well the cost report charges used to compute CCRs matched to the charges in the MedPAR file. This match (or lack thereof) directly affects the accuracy of the DRG cost estimates because MedPAR charges are multiplied by CCRs to estimate cost. RTI found inconsistent reporting between the cost reports and the claims data for charges in several ancillary departments (Medical Supplies, Operating Room, Cardiology, and Radiology). For example, the data suggested that some hospitals often include costs and charges for devices and other medical supplies within the Medicare cost report cost centers for Operating Room, Radiology, or Cardiology, while other hospitals include them in the Medical Supplies Charged to Patients cost center. While the educational initiative undertaken by the national hospital associations is encouraging hospitals to consistently report costs and charges for devices and other medical supplies only in the Medical Supplies Charged to Patients cost center, equal attention must be paid to the way in which charges are grouped by hospitals in the MedPAR file. Several commenters on the FY 2008 IPPS proposed rule supported RTI's recommendation of including additional fields in the MedPAR file to disaggregate certain cost centers. One commenter stated that the assignment of revenue codes and charges to revenue centers in the MedPAR file should be reviewed and changed to better reflect hospital accounting practices as reflected on the cost report (72 FR 47198).

In an effort to improve the match between the costs and charges included on the cost report and the charges in the MedPAR file, we are recommending that certain revenue codes be used for items reported in the proposed Medical Supplies Charged to Patients cost center and the proposed Implantable Devices Charged to Patients cost center, respectively. Specifically, under the proposal to create a cost center for implantable devices that remain in the patient upon discharge, revenue codes 0275 (Pacemaker), 0276 (Intraocular Lens), and 0278 (Other Implants) would correspond to implantable devices reported in the proposed Implantable Devices Charged to Patients cost center. Items for which a hospital may have previously used revenue code 0270 (General Classification), but actually meet the proposed definition of an implantable device that remains in the patient upon discharge should instead be billed with the 0278 revenue code. Conversely, relatively inexpensive items and supplies that are not implantable and do not remain in the patient at discharge would be reported in the proposed Medical Supplies Charged to Patients cost center on the cost report, and should be billed with revenue codes 0271 (nonsterile supply), 0272 (sterile supply), and 0273 (take-home supplies), as appropriate. Revenue code 0274 (Prosthetic/Orthotic devices) and revenue code 0277 (Oxygen—Take Home) should be associated with the costs reported on lines 66 and 67 for DME—Rented and DME—Sold on the cost report. Charges associated with supplies used incident to radiology or to other diagnostic services (revenue codes 0621 and 0622 respectively) should match those items used incident to those services on the Medical Supplies Charged to Patients cost center of the cost report, because, under this proposal, supplies furnished incident to a service would be reported in the Medical Supplies Charged to Patients cost center (see item b. listed above, in the proposed definition of a device). A revenue code of 0623 for surgical dressings would similarly be associated with the costs and charges of items reported in the proposed Medical Supplies Charged to Patients cost center, while a revenue code of 0624 for FDA investigational device, if that device does not remain in the patient upon discharge, could be associated with items reported on the Medical Supplies Charged to Patients cost center as well.

In general, if an item is reported as an implantable device on the cost report, the associated charges should be recorded in the MedPAR file with either revenue codes 0275 (Pacemaker), 0276 (Intraocular Lens), or 0278 (Other Implants). Likewise, items reported as Medical Supplies should receive an appropriate revenue code indicative of supplies. We understand that many of these revenue codes have been in existence for many years and have been added for purposes unrelated to the goal of refining the calculation of cost-based weights. Accordingly, we acknowledge that additional instructions relating to the appropriate use of these revenue codes may need to be issued. In addition, CMS or the hospital associations may need to request new revenue codes from the National Uniform Billing Committee (NUBC). In either case, we do not believe either should delay use of the new Medical Supplies and Implantable Devices CCRs in setting payment rates. However, in light of our proposal to create two separate cost centers for Medical Supplies Charged to Patients and Implantable Devices Charged to Patients, respectively, we are soliciting comments on how the existing revenue codes or additional revenue codes could best be used in conjunction with the revised cost centers on the cost report.

F. Preventable Hospital-Acquired Conditions (HACs), Including Infections

1. General

In its landmark 1999 report “To Err is Human: Building a Safer Health System,” the Institute of Medicine found that medical errors, particularly hospital-acquired conditions (HACs) caused by medical errors, are a leading cause of morbidity and mortality in the United States. The report noted that the number of Americans who die each year as a result of medical errors that occur in hospitals may be as high as 98,000. The cost burden of HACs is also high. Total national costs of these errors due to lost productivity, disability, and health care costs were estimated at $17 billion to $29 billion.² In 2000, the CDC estimated that hospital-acquired infections added nearly $5 billion to U.S. health care costs every year.³ A 2007 study found that, in 2002, 1.7 million hospital-acquired infections were associated with 99,000 deaths⁴ Research has also shown that hospitals are not following recommended guidelines to avoid preventable hospital-acquired infections. A 2007 Leapfrog Group survey of 1,256 hospitals found that 87 percent of those hospitals do not follow recommendations to prevent many of the most common hospital-acquired infections.⁵

² Institute of Medicine: To Err Is Human: Building a Safer Health System, November 1999. Available at: http://www.iom.edu/Object.File/Master/4/117/ToErr-8pager.pdf.

³ Centers for Disease Control and Prevention: Press Release, March 2000. Available at: http://www.cdc.gov/od/oc/media/pressrel/r2k0306b.htm.

⁴ Klevens et al. Estimating Health Care-Associated Infections and Deaths in U.S. Hospitals, 2002. Public Health Reports. March-April 2007. Volume 122.

⁵ 2007 Leapfrog Group Hospital Survey. The Leapfrog Group 2007. Available at: http://www.leapfroggroup.org/media/file/Leapfrog_hospital_acquired_infections_release.pdf

As one approach to combating HACs, including infections, in 2005 Congress authorized CMS to adjust for Medicare IPPS hospital payments to encourage the prevention of these conditions. The preventable HAC provision at section 1886(d)(4)(D) of the Act is part of an array of Medicare value-based purchasing (VBP) tools that CMS is using to promote increased quality and efficiency of care. Those tools include measuring performance, using payment incentives, publicly reporting performance results, applying national and local coverage policy decisions, enforcing conditions of participation, and providing direct support for providers through Quality Improvement Organization (QIO) activities. CMS' application of VBP tools through various initiatives, such as this HAC provision, is transforming Medicare from a passive payer to an active purchaser of higher value health care services. We are applying these strategies for inpatient hospital care and across the continuum of care for Medicare beneficiaries.

The President's FY 2009 Budget outlines another approach for addressing serious preventable adverse events (“never events”), including HACs. The President's Budget proposal would: (1) Prohibit hospitals from billing the Medicare program for “never events” and prohibit Medicare payment for these events; and (2) require hospitals to report occurrence of these events or receive a reduced annual payment update.

Medicare's IPPS encourages hospitals to treat patients efficiently. Hospitals receive the same DRG payment for stays that vary in length and in the services provided, which gives hospitals an incentive to avoid unnecessary costs in the delivery of care. In many cases, complications acquired in the hospital do not generate higher payments than the hospital would otherwise receive for uncomplicated cases paid under the same DRG. To this extent, the IPPS encourages hospitals to avoid complications. However, complications, such as infections, acquired in the hospital can generate higher Medicare payments in two ways. First, the treatment of complications can increase the cost of a hospital stay enough to generate an outlier payment. However, the outlier payment methodology requires that a hospital experience a large loss on an outlier case, which serves as an incentive for hospitals to prevent outliers. Second, under the MS-DRGs that took effect in FY 2008, there are currently 258 sets of MS-DRGs that are split into 2 or 3 subgroups based on the presence or absence of a CC or an MCC. If a condition acquired during a hospital stay is one of the conditions on the CC or MCC list, the hospital currently receives a higher payment under the MS-DRGs (prior to the October 1, 2008 effective date of the HAC payment provision). (We refer readers to section II.D. of the FY 2008 IPPS final rule with comment period for a discussion of DRG reforms (72 FR 47141).) The following is an example of how an MS-DRG may be paid.

Service: MS-DRG Assignment* (Examples below with CC/MCC indicate a single secondary diagnosis only) | Present on admission (status of secondary diagnosis) | Average payment (based on 50th percentile)
Principal Diagnosis |  | $5,347.98
• Intracranial hemorrhage or cerebral infarction (stroke) without CC/MCC—MS-DRG 066
Principal Diagnosis | Y | 6,177.43
• Intracranial hemorrhage or cerebral infarction (stroke) with CC—MS-DRG 065
Example Secondary Diagnosis
• Dislocation of patella-open due to a fall (code 836.4 (CC))
Principal Diagnosis | N | 5,347.98
• Intracranial hemorrhage or cerebral infarction (stroke) with CC—MS-DRG 065
Example Secondary Diagnosis
• Dislocation of patella-open due to a fall (code 836.4 (CC))
Principal Diagnosis | Y | 8,030.28
• Intracranial hemorrhage or cerebral infarction (stroke) with MCC—MS-DRG 064
Example Secondary Diagnosis
• Stage III pressure ulcer (code 707.23 (MCC))
Principal Diagnosis | N | 5,347.98
• Intracranial hemorrhage or cerebral infarction (stroke) with MCC—MS-DRG 064
Example Secondary Diagnosis
• Stage III pressure ulcer (code 707.23 (MCC))
* Operating amounts for a hospital whose wage index is equal to the national average.

2. Statutory Authority

Section 1886(d)(4)(D) of the Act required the Secretary to select at least two conditions by October 1, 2007, that are: (a) High cost, high volume, or both; (b) assigned to a higher paying DRG when present as a secondary diagnosis; and (c) could reasonably have been prevented through the application of evidence-based guidelines. Beginning October 1, 2008, Medicare can no longer assign an inpatient hospital discharge to a higher paying MS-DRG if a selected HAC was not present on admission. That is, the case will be paid as though the secondary diagnosis was not present. (Medicare will continue to assign a discharge to a higher paying MS-DRG if the selected condition was present on admission.) Section 1886(d)(4)(D) of the Act provides that the list of conditions can be revised from time to time, as long as the list contains at least two conditions. Beginning October 1, 2007, we required hospitals to begin submitting information on Medicare claims specifying whether diagnoses were present on admission (POA).

The POA indicator reporting requirement and the HACs payment provision apply to IPPS hospitals only. At this time, non-IPPS hospitals such as CAHs, LTCHs, IRFs, and hospitals in Maryland operating under waivers, among others, are exempt from POA reporting and the HAC payment provision. Throughout this section, “hospital” refers to IPPS hospitals.

3. Public Input

In the FY 2007 IPPS proposed rule (71 FR 24100), we sought public input regarding conditions with evidence-based prevention guidelines that should be selected in implementing section 1886(d)(4)(D) of the Act. The public comments we received were summarized in the FY 2007 IPPS final rule (71 FR 48051 through 48053). In the FY 2008 IPPS proposed rule (72 FR 24716), we again sought formal public comment on conditions that we proposed to select. In the FY 2008 IPPS final rule with comment period (72 FR 47200 through 47218), we summarized the public comments we received on the FY 2008 IPPS proposed rule, presented our responses, selected eight conditions to which the HAC provision will initially apply, and noted that we would be seeking comments on additional HAC candidates in this proposed rule.

4. Collaborative Process

CMS experts worked with public health and infectious disease professionals from the CDC to identify the candidate preventable HACs. CMS and CDC staff also collaborated on the process for hospitals to submit a POA indicator for each diagnosis listed on IPPS hospital Medicare claims.

On December 17, 2007, CMS and CDC hosted a jointly sponsored HAC and POA Listening Session to receive input from interested organizations and individuals. The agenda, presentations, audio file, and written transcript of the listening session are available on the Web site at: http://www.cms.hhs.gov/HospitalAcqCond/07_EducationalResources.asp. CMS and CDC also received informal comments during the listening session and subsequently received numerous written comments.

5. Selection Criteria for HACs

CMS and CDC staff evaluated each candidate condition against the criteria established by section 1886(d)(4)(D)(iv) of the Act.

• Cost or Volume—Medicare data ⁶ must support that the selected conditions are high cost, high volume, or both. At this point, there are no Medicare claims data indicating which secondary diagnoses were POA because POA indicator reporting began only recently; therefore, the currently available data for candidate conditions includes all secondary diagnoses.

⁶ For this FY 2009 IPPS proposed rule, the DRG analysis is based on data from the September 2007 update of the FY 2007 MedPAR file, which contains hospital bills received through September 30, 2007, for discharges through September 30, 2007.

• Complicating Condition (CC) or Major Complicating Condition (MCC)—Selected conditions must be represented by ICD-9-CM diagnosis codes that clearly identify the condition, are designated as a CC or an MCC, and result in the assignment of the case to an MS-DRG that has a higher payment when the code is reported as a secondary diagnosis. That is, selected conditions must be a CC or an MCC that would, in the absence of this provision, result in assignment to a higher paying MS-DRG.

• Evidence-Based Guidelines—Selected conditions must be reasonably preventable through the application of evidence-based guidelines. By reviewing guidelines from professional organizations, academic institutions, and entities such as the Healthcare Infection Control Practices Advisory Committee (HICPAC), we evaluated whether guidelines are available that hospitals should follow to prevent the condition from occurring in the hospital.

• Reasonably Preventable—Selected conditions must be reasonably preventable through the application of evidence-based guidelines.

6. HACs Selected in FY 2008 and Proposed Changes to Certain Codes

The HACs that were selected for the HAC payment provision through the FY 2008 IPPS final rule with comment period are listed below. The payment provision for these selected HACs will take effect on October 1, 2008. We refer readers to section II.F.6. of the FY 2008 IPPS final rule with comment period (72 FR 47202 through 47218) for a detailed analysis supporting the selection of each of these HACs.

BILLING CODE 4120-01-P

BILLING CODE 4120-01-C

We are seeking public comments on the following refinements to two of the previously selected HACs:

a. Foreign Object Retained After Surgery: Proposed Inclusion of ICD-9-CM Code 998.7 (CC)

In the FY 2008 IPPS final rule with comment period (72 FR 47206), we indicated that a foreign body accidentally left in the patient during a procedure (ICD-9-CM code 998.4) was one of the conditions selected. It has come to our attention that ICD-9-CM diagnosis code 998.7 (Acute reaction to foreign substance accidentally left during a procedure) should also be included. ICD-9-CM code 998.7 describes instances in which a patient developed an acute reaction due to a retained foreign substance. Therefore, we are proposing to make this code subject to the HAC payment provision.

b. Pressure Ulcers: Proposed Changes in Code Assignments

As discussed in the FY 2008 IPPS final rule with comment period (72 FR 47205-47206), we referred the need for more detailed ICD-9-CM pressure ulcer codes to the CDC. The topic of expanding pressure ulcer codes to capture the stage of the ulcer was addressed at the September 27-28, 2007, meeting of the ICD-9-CM Coordination and Maintenance Committee. A summary report of this meeting is available on the Web site at: http://www.cdc.gov/nchs/about/otheract/icd9/maint/maint.htm.

Numerous wound care professionals supported modifying the pressure ulcer codes to capture staging information. The stage of the pressure ulcer is a powerful predictor of severity and resource utilization. At its September 27-28, 2007 meeting, the ICD-9-CM Coordination and Maintenance Committee discussed the creation of pressure ulcer codes to capture this information. The new codes, along with their proposed CC/MCC classifications, are shown in Table 6A of the Addendum to this proposed rule. The new codes are as follows:

• 707.20 (Pressure ulcer, unspecified stage).

• 707.21 (Pressure ulcer stage I).

• 707.22 (Pressure ulcer stage II).

• 707.23 (Pressure ulcer stage III).

• 707.24 (Pressure ulcer stage IV).

While the code titles are final, we are soliciting comment on the proposed MS-DRG classifications of these codes, as indicated in Table 6A of the Addendum to this proposed rule. We are proposing to remove the CC/MCC classifications from the current pressure ulcer codes that show the site of the ulcer (ICD-9-CM codes 707.00 through 707.09). Therefore, the following codes would no longer be a CC:

• 707.00 (Decubitus ulcer, unspecified site).

• 707.01 (Decubitus ulcer, elbow).

• 707.09 (Decubitus ulcer, other site). The following codes would no longer be an MCC:

• 707.02 (Decubitus ulcer, upper back).

• 707.03 (Decubitus ulcer, lower back).

• 707.04 (Decubitus ulcer, hip).

• 707.05 (Decubitus ulcer, buttock).

• 707.06 (Decubitus ulcer, ankle).

• 707.07 (Decubitus ulcer, heel).

We are proposing to instead assign the CC/MCC classifications to the stage of the pressure ulcer as shown in Table 6A of the Addendum to this proposed rule. We are proposing to classify ICD-9-CM codes 707.23 and 707.24 as MCCs. We are proposing to classify codes 707.20, 707.21, and 707.22 as non-CCs.

Therefore, we are proposing that, beginning October 1, 2008, the codes used to make MS-DRG adjustments for pressure ulcers under the HAC provision would include the proposed MCC codes 707.23 and 707.24.

7. HACs Under Consideration as Additional Candidates

CMS and CDC have diligently worked together and with other stakeholders to identify additional HACs that might appropriately be subject to the HAC payment provision. If the additional candidate HACs are selected in the FY 2009 IPPS final rule, the payment provision will take effect for these candidate HACS on October 1, 2008. The statutory criteria for each HAC candidate are presented in tabular format. Each table contains the following:

• HAC Candidate—We are seeking public comment on all HAC candidates.

• Medicare Data—We are seeking public comment on the statutory criterion of high cost, high volume, or both as it applies to the HAC candidate.

• CC/MCC—We are seeking public comment on the statutory criterion that an ICD-9-CM diagnosis code(s) clearly identifies the HAC candidate.

• Selected Evidence-Based Guidelines—We are seeking public comment on the degree to which the HAC candidate is reasonably preventable through the application of the identified evidence-based guidelines.

a. Surgical Site Infections Following Elective Surgeries

In the FY 2008 IPPS final rule with comment period (72 FR 47213), surgical site infections were identified as a broad category for consideration, and we selected mediastinitis after coronary artery bypass graft (CABG) as one of the initial eight HACs for implementation. We are now considering the addition of other surgical site infections, particularly those following elective procedures. In most cases, patients selected as candidates for elective surgeries should have a relatively low-risk profile for surgical site infections.

The following elective surgical procedures are under consideration:

• Total Knee Replacement (81.54): ICD-9-CM codes 996.66 (CC) and 998.59 (CC)

• Laparoscopic Gastric Bypass (44.38) and Laparoscopic Gastroenterostomy (44.39): ICD-9-CM code 998.59 (CC)

• Ligation and Stripping of Varicose Veins (38.50 through 38.53, 38.55, 38.57, and 38.59): ICD-9-CM code 998.59 (CC)

Evidence-based guidelines for preventing surgical site infections emphasize the importance of appropriately using prophylactic antibiotics, using clippers rather than razors for hair removal and tightly controlling postoperative glucose.

While we are seeking public comments on the applicability of each of the statutory criteria to surgical site infections following elective procedures, we are particularly interested in receiving comments on the degree of preventability of surgical site infections following elective procedures generally, as well as specifically for those listed above. We also are seeking public comments on additional elective surgical procedures that would qualify for the HAC provision by meeting all of the statutory criteria. Based on the public comments we receive, we may select some combination of the four procedures presented here along with additional conditions that qualify and are supported by the comments.

b. Legionnaires' Disease

We discussed Legionnaires’ Disease in the FY 2008 IPPS final rule with comment period (72 FR 47216). Legionnaires’ Disease is a type of pneumonia caused by the bacterium Legionella pneumophila. It is contracted by inhaling contaminated water vapor or droplets. It is not spread person to person. Individuals at risk include those who are elderly, immunocompromised, smokers, or persons with underlying lung disease. The bacterium thrives in warm aquatic environments and infections have been linked to large industrial water systems, including hospital water systems such as air conditioning cooling towers and potable water plumbing systems. Prevention depends primarily on regular monitoring and decontamination of these water systems. While we are seeking public comments regarding the applicability of each of the statutory criteria to Legionnaires' Disease, we are particularly interested in receiving comments on the degree of preventability of Legionnaires' Disease through the application of hospital water system maintenance guidelines.

Legionnaires' Disease is typically acquired outside of the hospital setting and may be difficult to diagnose as present on admission. We are seeking comments on the degree to which hospital-acquired Legionnaires' Disease can be distinguished from community-acquired cases.

We also are seeking public comments on additional water-borne pathogens that would qualify for the HAC provision by meeting the statutory criteria. Based on the public comments we receive, we may finalize some combination of Legionnaires' Disease and additional conditions that qualify and are supported by the public comments.

c. Glycemic Control

During the December 17, 2007 HAC and POA Listening Session, one of the commenters suggested that we explore hyperglycemia and hypoglycemia as HACs for selection. NQF's list of Serious Reportable Adverse Events includes death or serious disability associated with hypoglycemia that occurs during hospitalization.

Hyperglycemia and hypoglycemia are extremely common laboratory findings in hospitalized patients and can be complicating features of underlying diseases and some therapies. However, we believe that extreme forms of poor glycemic control should not occur while under medical care in the hospital setting. Thus, we are considering whether the following forms of extreme glucose derangement should be subject to the HAC payment provision:

• Diabetic Ketoacidosis: ICD-9-CM codes 250.10-250.13 (CC)

• Nonketotic Hyperosmolar Coma: ICD-9-CM code 251.0 (CC)

• Diabetic Coma: ICD-9-CM codes 250.30-250.33 (CC)

• Hypoglycemic Coma: ICD-9-CM codes 250.30-251.0 (CC)

While we are seeking public comments regarding the applicability of each of the statutory criteria to these extreme aberrations in glycemic control, we are particularly interested in receiving comments on the degree to which these extreme aberrations in glycemic control are reasonably preventable, in the hospital setting, through the application of evidence-based guidelines. Based on the public comments we receive, we may select some combination of these glycemic control-related conditions as HACs.

d. Iatrogenic Pneumothorax

Iatrogenic pneumothorax refers to the accidental introduction of air into the pleural space, which is the space between the lung and the chest wall. When air is introduced into this space it partially or completely collapses the lung. Iatrogenic pneumothorax can occur during any procedure where there is the possibility of air entering pleural space, including needle biopsy of the lung, thoracentesis, central venous catheter placement, pleural biopsy, tracheostomy, and liver biopsy. Iatrogenic pneumothorax can occur secondary to positive pressure mechanical ventilation when an air sac in the lung ruptures allowing air into the pleural space.

While we are seeking public comments on the applicability of each of the statutory criteria to iatrogenic pneumothorax, we are particularly interested in receiving comments on the degree to which iatrogenic pneumothorax is reasonably preventable through the application of evidence-based guidelines. Based on the public comments we receive, we may select iatrogenic pneumothorax as an HAC.

e. Delirium

Delirium is a relatively abrupt deterioration in a patient's ability to sustain attention, learn, or reason. Delirium is strongly associated with aging and treatment of illnesses that are associated with hospitalizations. Delirium affects nearly half of hospital patient days for individuals age 65 and older, and approximately three-quarters of elderly individuals in intensive care units have delirium. About 14 to 24 percent of hospitalized elderly individuals have delirium at the time of admission. Having delirium is a very serious risk factor, with 1-year mortality of 35 to 40 percent, a rate as high as those associated with heart attacks and sepsis. The adverse effects of delirium routinely last for months. Delirium is a clinical diagnosis, commonly assisted by screening tests such as the Confusion Assessment Method.

Well-established practices, such as reducing certain medications, reorienting the patient, assuring sensory input and sleep, and avoiding malnutrition and dehydration, prevent 30 to 40 percent of the possible cases. While we are seeking public comments on the applicability of each of the statutory criteria to delirium, we are particularly interested in receiving comments on the degree to which delirium is reasonably preventable through the application of evidence-based guidelines. Based upon the public comments we receive, we may select delirium as an HAC.

f. Ventilator-Associated Pneumonia (VAP)

We discussed ventilator-associated pneumonia (VAP) in the FY 2008 IPPS final rule with comment period (72 FR 47209-47210). VAP is a serious hospital-acquired infection associated with high mortality, significantly increased hospital length of stay, and high cost. It is typically caused by the aspiration of contaminated gastric and/or oropharyngeal secretions. The presence of an endotracheal tube facilitates both the contamination of secretions as well as aspiration.

During the past year, the ICD-9-CM Coordination and Maintenance Committee discussed the creation of a new ICD-9-CM code 997.31 to identify VAP. This new code is shown in Table 6A of the Addendum to this proposed rule. The lack of a specific code was one of the barriers to including VAP as an HAC that we discussed in the FY 2008 IPPS final rule with comment period. We also discussed the degree to which VAP may be reasonably preventable through the application of evidence-based guidelines. Specifically, the FY 2008 IPPS final rule with comment period referenced the American Association for Respiratory Care's Clinical Practice Guidelines at the Web site: http://www.rcjournal.com/cpgs/09.03.0869.html.

To further investigate the extent to which VAP is reasonably preventable, we reviewed published clinical research. The literature, including recommendations by CDC and the HICPAC, from 2003 shows numerous prevention guidelines that can significantly reduce the incidence of VAP in the hospital setting. These guidelines include interventions such as educating staff, hand washing, using gowns and gloves, properly positioning the patient, elevating the head of the bed, changing ventilator tubing, sterilizing reusable equipment, applying chlorhexadine solution for oral decontamination, monitoring sedation daily, administering stress ulcer prophylaxis, and administering pneumococcal vaccinations. Further review of the literature, specifically regarding the proportion of VAP cases that might be preventable, revealed two large-scale analyses that were completed recently. One study concluded that an estimated 40 percent of VAP cases are preventable. A second study concluded that at least 20 percent of nosocomial infections in general (not just VAP) are preventable.⁷

⁷ American Association for Respiratory Care Clinical Practice: Guideline: Care of the Ventilator Circuit and Its Relation to Ventilator Associated Pneumonia. Available at the Web site: http://www.rcjournal.com/cpgs/09.03.0869.html.

During the December 17, 2007 HAC and POA Listing Session, we also received comments on evidence-based guidelines for preventing VAP. Commenters referenced two articles ⁸ ⁹ that both state there is a high degree of risk associated with endotracheal tube insertions, suggesting that VAP may not always be preventable.

⁸ Ramirez et al.: Prevention Measures for Ventilator-Associated Pneumonia: A New Focus on the Endotracheal Tube. Current Opinion in Infectious Disease, April 2007, Vol.20 (2), pp. 190-197.

⁹ Safdar et al.: The Pathogenesis of Ventilator-Associated Pneumonia: Its Relevance to Developing Effective Strategies for Prevention. Respiratory Care, June 2005, Vol. 50, No. 6, pp.725-741.

While we are seeking public comments on the applicability of each of the statutory criteria to VAP, we are particularly interested in receiving comment on the degree to which VAP is reasonably preventable through the application of evidence-based guidelines. Based on the public comments we receive, we may select VAP as an HAC.

g. Deep Vein Thrombosis (DVT)/Pulmonary Embolism (PE)

We discussed deep vein thrombosis (DVT) and pulmonary embolism (PE) in the FY 2008 IPPS final rule with comment period (72 FR 47215). DVT and PE are common events. DVT occurs when a blood clot forms in the deep veins of the leg and causes local swelling and inflammation. PE occurs when a clot or a piece of a clot migrates from its original site into the lungs, causing the death of lung tissue, which can be fatal. Risk factors for DVTs and PEs include inactivity, smoking, use of oral contraceptives, prolonged bed rest, prolonged sitting with bent knees, certain types of cancer and other disease states, certain blood clotting disorders, and certain types of orthopedic and other surgical procedures. DVT is not always clinically apparent because the manifestations of pain, redness, and swelling may develop some time after the venous clot forms.

As we discussed in the FY 2008 IPPS final rule with comment period, DVTs and PEs may be preventable in certain circumstances, but it is possible that a patient may have a DVT that is difficult to detect on admission. We also received comments during the December 17, 2007 HAC and POA Listening Session reiterating that not all cases of DVTs and PEs are preventable. For example, common patient characteristics such as immobility, obesity, severe vessel trauma, and venous stasis put certain trauma and joint replacement surgery patients at high risk for these conditions.

In our review of the literature, we found that there are definite pharmacologic and nonpharmacologic interventions that may reduce the likelihood of developing DVTs and PEs, including exercise, compression stockings, intermittent pneumatic boots, aspirin, enoxaparin, dalteparin, heparin, coumadin, clopidogrel, and fondaparinux. However, the evidenceπbased guidelines indicate that some patients may still develop clots despite these therapies.

While we are seeking public comments on the applicability of each of the statutory criteria to DVTs and PEs, we are particularly interested in receiving comments on the degree of preventability of DVTs and PEs. We are also interested in comments on determining the presence of DVT and PE at admission. Based on the public comments we receive, we may select DVTs and PEs as HACs.

h. Staphylococcus aureus Septicemia

We discuss Staphylococcus aureus Septicemia in the FY 2008 IPPS final rule with comment period (72 FR 47208). Staphylococcus aureus is a bacterium that lives in the nose and on the skin of a large percentage of the population. It usually does not cause physical illness, but it can cause infections ranging from superficial boils to cellulitis to pneumonia to life threatening bloodstream infections (septicemia). It usually enters the body through traumatized tissue, such as cuts or abrasions, or at the time of invasive procedures. Staphylococcus aureus Septicemia can also be a late effect of an injury or a surgical procedure. Risk factors for developing Staphylococcus aureus Septicemia include advanced age, debilitated state, immunocompromised status, and a history of an invasive medical procedure.

CDC has developed evidence-based guidelines for the prevention of the Staphylococcus aureus Septicemia. Most preventable cases of septicemia are primarily related to the presence of a central venous or vascular catheter. During the December 17, 2007 HAC and POA Listening Session, commenters noted that intravascular catheter-associated infections are only one cause of septicemia. Therefore, catheter-oriented evidence-based guidelines would not cover all cases of Staphylococcus aureus Septicemia.¹⁰

¹⁰ Jensen, A.G. Importance of Focus Identification in the Treatment of Staphylococcus aureus Bacteremia. 2002. Vol. 52, pp. 29-36.

We identified evidence-based guidelines that suggest Staphylococcus aureus Septicemia is reasonably preventable. These guidelines emphasize the importance of effective and fastidious hand washing by both staff and visitors, using gloves and gowns where appropriate, applying proper decontamination techniques, and exercising contact isolation where clinically indicated.

While we are seeking public comments on the applicability of each of the statutory criteria to Staphylococcus aureus infections generally, we are particularly interested in receiving comments on the degree of preventability of Staphylococcus aureus infections generally, and specifically Staphylococcus aureus Septicemia. Based on the public comments we receive, we may select Staphylococcus aureus Septicemia as an HAC.

i. Clostridium Difficile-Associated Disease (CDAD)

We discussed Clostridium difficile-associated disease (CDAD) in the FY 2008 IPPS final rule with comment period. Clostridium difficile is a bacterium that colonizes the gastrointestinal (GI) tract of a certain number of healthy people. Under conditions where the normal flora of the gastrointestinal tract is altered, Clostridium difficile can flourish and release large enough amounts of a toxin to cause severe diarrhea or even life threatening colitis. Risk factors for CDAD include prolonged use of broad spectrum antibiotics, gastrointestinal surgery, prolonged nasogastric tube insertion, and repeated enemas. CDAD can be acquired in the hospital or in the community. Its spores can live outside of the body for months and thus can be spread to other patients in the absence of meticulous hand washing by care providers and others who contact the infected patient.

We continue to receive strong support in favor of selecting CDAD as an HAC. During the December 17, 2007 HAC and POA Listening Session, representatives of consumers and purchasers advocated to include CDAD as an HAC.

The evidence-based guidelines for CDAD prevention emphasize that hand washing by staff and visitors and effective decontamination of environmental surfaces prevent the spread of Clostridium difficile. While we are seeking public comments on the applicability of each of the statutory criteria to CDADs, we are particularly interested in receiving comments on the degree of preventability of CDAD. Based on the public comments we receive, we may select CDAD as an HAC.

j. Methicillin-Resistant Staphylococcus aureus (MRSA)

We discussed the special case of methicillin-resistant Staphylococcus aureus (MRSA) in the FY 2008 IPPS final rule with comment period (72 FR 47212). In October 2007, the CDC published in the Journal of the American Medical Association an article citing high mortality rates from MRSA, an antibiotic-resistant “superbug.” The article estimates 19,000 people died from MRSA infections in the United States in 2005. The majority of invasive MRSA cases are health care-related—contracted in hospitals or nursing homes—though community-acquired MRSA also poses a significant public health concern. Hospitals have been focused for years on controlling MRSA through the application of CDC's evidence-based guidelines outlining best practices for combating the bacterium in that setting.

MRSA is currently addressed by the HAC payment provision. For every infectious condition selected, MRSA could be the etiology of that infection. For example, if MRSA were the cause of a vascular catheter-associated infection (one of the eight conditions selected in the FY 2008 IPPS final rule with comment period), the HAC payment provision would apply to that MRSA infection.

As we noted in the FY 2008 IPPS final rule with comment period, colonization by MRSA is not a reasonably preventable HAC according to the current evidence-based guidelines; therefore, MRSA does not meet the reasonably preventable statutory criterion for an HAC. An estimated 32.4 percent of Americans are colonized with MRSA, which may reside in the nose or on the skin of asymptomatic carriers.¹¹ In addition, in last year's final rule with comment period, we noted that there is no CC/MCC code available for MRSA, and therefore it also does not meet the codeable CC/MCC statutory criterion for an HAC. Only when MRSA causes an infection does a codeable condition occur. However, we referenced the possibility that new codes for MRSA were being considered by the ICD-9-CM Coordination and Maintenance Committee. The creation of unique codes to capture MRSA was discussed during the March 19-20, 2008 Committee meeting. While these codes will enhance the data available and our understanding of MRSA, the availability and use of these codes will not change the fact that the mere presence of MRSA as a colonizing bacterium does not constitute an HAC.

¹¹ Kuehnert, M.J., et al.: Prevalence of Staphylococcusa aureus Nasal Colonization in the United States, 2001-2002. The Journal of Infectious Disease, January 15, 2006; Vol. 193.

Because MRSA as a bacterium does not meet two of our statutory criteria, codeable CC/MCC and reasonably preventable through evidence-based guidelines, we are not proposing MRSA as an HAC. However, we recognize the significant public health concerns that were raised by representatives of consumers and purchasers at the HAC and POA Listening Session, and we are committed to reducing the spread of multi-drug resistant organisms, such as MRSA.

In addition, we are pursuing collaborative efforts with other HHS agencies to combat MRSA. The Agency for Healthcare Research and Quality (AHRQ) has launched a new initiative in collaboration with CDC and CMS to identify and suppress the spread of MRSA and related infections. In support of this work, Congress has appropriated $5 million to fund research, implementation, management, and evaluation practices that mitigate such infections.

CDC has carried out extensive research on the epidemiology of MRSA and effective techniques that could be used to treat the infection and reduce its spread. The following Web sites contain information that reflect CDC's commitment: (1) http://www.cdc.gov/ncidod/dhqp/ar_mrsa.html (health care-associated MRSA); (2) http://www.cdc.gov/ncidod/dhqp/ar_mrsa_ca_public.html (community-acquired MRSA); (3) http://www.cdc.gov/mmwr/preview/mmwrhtml/mm4908a1.htm; and (4) http://www.cdc.gov/handhygiene/.

AHRQ has made previous investments in systems research to help monitor MRSA and related infections in hospital settings, as reflected in material on the Web site at: http://www.guideline.gov/browse/guideline_index.aspx and http://www.ahrq.gov/clinic/ptsafety/pdf/ptsafety.pdf.

8. Present on Admission (POA) Indicator Reporting

POA indicator information is necessary to identify which conditions were acquired during hospitalization for the HAC payment provision and for broader public health uses of Medicare data. Through Change Request No. 5679 (released June 20, 2007), CMS issued instructions requiring IPPS hospitals to submit the POA indicator data for all diagnosis codes on Medicare claims. Specific instructions on how to select the correct POA indicator for each diagnosis code are included in the ICD-9-CM Official Guidelines for Coding and Reporting, available at the Web site: http://www.cdc.gov/nchs/datawh/ftpserv/ftpicd9/icdguide07.pdf (POA reporting guidelines begin on page 92). Additional instructions, including information regarding CMS's phased implementation of POA indicator reporting and application of the POA reporting options, are available at the Web site: http://www.cms.hhs.gov/HospitalAcqCond.

There are five POA indicator reporting options: “Y,” “N,” “W,” “U,” and “1.” Under the HAC payment provision, we are proposing to pay the CC/MCC MS-DRGs only for those HACs coded as “Y” and “W” indicators. The “Y” option indicates that the condition was present on admission. The “W” indicator affirms that the provider has determined, based on data and clinical judgment, that it is not possible to document when the onset of the condition occurred. We expect that this approach will encourage better documentation and promote the public health goals of POA reporting by providing more accurate data about the occurrence of HACs in the Medicare population. We anticipate that true clinical uncertainty will occur in only a very small number of cases. We plan to analyze how frequently the “W” indicator is used, and we leave open the possibility of proposing in future IPPS rulemaking not paying the CC/MCC MS-DRGs for HACs coded with the “W” indicator. In addition, we plan to analyze whether both the “Y” and “W” indicators are being used appropriately. Medicare program integrity initiatives closely monitor for inaccurate coding and coding that is inconsistent with medical record documentation. We are seeking public comments regarding the proposed treatment of the “Y” and “W” POA reporting options under the HAC payment provision.

We are proposing to not pay the CC/MMC MS-DRGs for HACs coded with the “N” indicator. The “N” option indicates that the condition was not present on admission. We are also proposing to not pay the CC/MCC MS-DRGs for HACs coded with the “U” indicator. The “U” option indicates that the medical record documentation is insufficient to determine whether the condition was present at the time of admission. Not paying for the CC/MCC MS-DRGs for HACs that are coded with the “U” indicator is expected to foster better medical record documentation.

Although we are proposing not paying the CC/MCC MS-DRG for HACs coded with the “U” indicator, we do recognize there may be some exceptional circumstances under which payment might be made. Death, elopement (leaving against medical advice), and transfers out of a hospital may preclude making an informed determination of whether an HAC was present on admission. We are seeking public comments on the potential use of the following current patient discharge status codes to identify the exceptional circumstances:

Patient Discharge Status Codes
Form locator code | Code descriptor
Exception for Patient Death
20 | Expired.
Exception for Patient Elopement (Leaving Against Medical Device)
7 | Left against medical advice or discontinued care.
Exception for Transfer
02 | Discharged/transferred to a short-term general hospital for inpatient care.
03 | Discharged/transferred to a skilled nursing facility (SNF) with Medicare certification in anticipation of skilled care.
04 | Discharged/transferred to an intermediate care facility (ICF).
05 | Discharged/transferred to a designated cancer center or children's hospital.
06 | Discharged/transferred to home under care of organized home health service organization.
43 | Discharged/transferred to a Federal health care facility.
50 | Hospice-home.
51 | Hospice-medical facility (certified) providing hospice level of care.
61 | Discharged/transferred to a hospital-based Medicare approved swing bed.
62 | Discharged/transferred to an inpatient rehabilitation facility (IRF) including rehabilitation distinct part units of a hospital.
63 | Discharged/transferred to a Medicare certified long term care hospital (LTCH).
64 | Discharged/transferred to a nursing facility certified under Medicaid but not certified under Medicare.
65 | Discharged/transferred to a psychiatric hospital or psychiatric distinct part unit of a hospital.
66 | Discharged/transferred to a critical access hospital (CAH).
70 | Discharged/transferred to another type of health care institution not otherwise defined in this code list.

We plan to analyze whether both the “N” and “U” POA reporting options are being used appropriately. The American Health Information Management Association (AHIMA) has promulgated Standards of Ethical Coding that require accurate coding regardless of the payment implications of the diagnoses. That is, diagnoses must be reported accurately regardless of their effect on payment. Medicare program integrity initiatives closely monitor for inaccurate coding and coding inconsistent with medical record documentation. We are seeking public comments regarding the proposal to not pay the CC/MCC MS-DRGs for HACs coded with “N” and “U” indicators.

9. Enhancement and Future Issues

The preventable HAC payment provision is one of CMS' VBP initiatives, as noted earlier in this section. VBP ties payment to performance through the use of incentives based on quality measures and cost of care. The implementation of VBP is rapidly transforming CMS from being a passive payer of claims to an active purchaser of higher quality, more efficient health care for Medicare beneficiaries. Other VBP initiatives include hospital pay for reporting (the RHQDAPU program discussed in section IV.B. of the preamble of this proposed rule), physician pay for reporting (the Physician Quality Reporting Initiative), home health pay for reporting, the Hospital VBP Plan Report to Congress (discussed in section IV.C. of the preamble of this proposed rule), and various VBP demonstration programs across payment settings, including the Premier Hospital Quality Incentive Demonstration and the Physician Group Practice Demonstration.

The success of CMS' VBP initiatives depends in large part on the validity of the performance measures and on the effectiveness of incentives in driving desired changes in behavior that will result in greater quality and efficiency. We are committed to enhancing the Medicare VBP programs, in close collaboration with stakeholders, to fulfill VBP's potential to promise of promoting higher value health care for Medicare beneficiaries. It is in this spirit that we seek public comment on enhancements to the preventable HACs payment policy and to concomitant POA indicator reporting.

We welcome all public comments presenting ideas and models for combating preventable HACs through the application of VBP principles. To stimulate reflection and creativity, we present several options:

• Risk adjustment could be applied to make the HAC payment provision more precise.

• Rates of HACs could be collected to obtain a more robust longitudinal measure of a hospital's incidence of these conditions.

• POA information could be used in various ways to decrease the incidence of preventable HACs.

• The adoption of ICD-10-PCS could facilitate more precise identification of HACs.

• The principle behind the HAC payment provision (Medicare not paying more for preventable HACs) could be applied to Medicare payments in settings of care other than the IPPS.

• CMS is using authority other than the HAC payment provision to address other events on the NQF's list of Serious Reportable Adverse Events.

We note that we are not proposing new Medicare policy in this Enhancements and Future Issues discussion, as some of these approaches may require new statutory authority.

a. Risk Adjustment

To make the HAC payment provision more precise, the adjustments to payment made when one of the selected HACs occurs during the hospitalization could be further adjusted to account for patient-specific risk factors. The expected occurrence of an HAC may be greater or lesser depending on the health status of the patient, as reflected by severity of illness, presence of comorbidities, or other factors. Rather than not paying any additional amount for the complication, the additional payment for the complication could range from zero for the lowest risk patient to the full amount for the highest risk patient. An option may be individualized adjustment for every hospitalization based on the patient's unique characteristics, but state-of-the-art risk adjustment currently precludes such individualized adjustment.

b. Rates of HACs

Given our limited capability at present for precise patient-level risk adjustment, adding a consideration of risk to the criteria for selecting HACs could be an alternative. If primarily high-risk patients are acquiring a certain condition during hospitalization, that condition could be considered a less-fit candidate for selection. Other alternatives to precise individualized risk adjustment could be adjustment for overall facility case mix or facility case-mix by condition. At the highest level, national Medicare program data could be used to make adjustments to the payment implications for the selected HACs based on expected rates of complications. Another option could be to designate certain patient risk factors as exemptions that would prohibit or mitigate the application of the HAC payment policy to the claims of patients with those risk factors.

The Medicare Hospital VBP Plan was submitted in a Report to Congress on November 21, 2007. The plan includes a performance assessment model that scores a hospital's attainment or improvement on various measures. The scores for each measure would be summed within each domain, such as the clinical process of care domain or the patient experience domain, and then the domains would be weighted and summed to yield a total performance score. The total performance score would then be translated into an incentive payment, proposed to be a certain percentage of each MS-DRG payment, using an exchange function. The plan also calls for public reporting of hospitals' performance scores by domain and in total. (Section IV.C. of this preamble included a related discussion of the Hospital VBP Plan Report to Congress.)

In accordance with this hospital VBP model, a hospital's rates of HACs could be included as a domain within each hospital's total performance score. The measurement of rates over time could be a more meaningful, actionable, and fair way to adjust a hospital's MS-DRG payments for the incidence of HACs. The consequence of a higher incidence of measured conditions would be a lower VBP incentive payment. Public reporting of the measured rates of HACs would give hospitals an additional, nonfinancial incentive to prevent occurrence of the conditions to avoid lower public ratings.

c. Use of POA Information

Information obtained from hospitals' reporting of POA data could be used in various ways to better understand and prevent the occurrence of HACs. The POA information could be provided to health services researchers to analyze factors that lead to HACs and disseminate the best practices for prevention of HACs. At least two states, New York and California, already collect POA data from their hospitals. Comparison of the State POA data with the Medicare data could fill in gaps in the databases and yield valuable insights about POA data validity.

POA data could also be used to calculate the incidence of HACs by hospital. This application of the POA data would be particularly powerful if the Medicare POA data were combined with state or private sector payer POA data. The Medicare-only or combined quality of care information could be initially shared with hospitals and thereafter publicly reported to support better healthcare decision making by Medicare beneficiaries, other health care consumers, professionals, and caregivers.

d. Transition to ICD-10-PCS

Accurate identification of HACs requires unambiguous and precise diagnosis codes. The current ICD-9-CM diagnosis coding system is three decades old. It is outdated and contains numerous instances of broad and vague codes. Attempts to add necessary detail to the ICD-9-CM system are inhibited by lack of expansion capacity. These factors negatively affect CMS' attempts to identify HAC cases.

ICD-10-PCS codes are more precise and capture information using more current medical terminology. For example, ICD-9-CM codes for pressure ulcers do not provide information about the size, depth, or exact location of the ulcer, while ICD-10-PCS has 60 codes to capture this information. ICD-10-PCS would also provide codes, beyond the current ICD-9-CM codes, that would enable the selection of additional surgical complications and adverse drug events.

e. Application of Nonpayment for HACs to Other Settings

The broad principle of Medicare not paying for preventable health care-associated conditions could potentially be applied to Medicare payment settings other than IPPS hospitals. Other possible settings of care might include hospital outpatient departments, SNFs, HHAs, end-stage renal disease facilities, and physician practices. The implications would be different for each setting, as each payment system is different and the reasonable preventability through the application of evidence-based guidelines would vary for candidate conditions over the different settings. However, alignment of incentives across settings of care is an important goal for all of CMS' VBP initiatives, including the HAC provision.

A related application of the broad principle behind the HAC payment could be accomplished through modification to the Medicare secondary payer policy which would allow us to directly recoup from the provider that failed to prevent the occurrence of a preventable condition in one setting to pay for all or part of the necessary followup care in a second setting. This would help shield the Medicare program from inappropriately paying for the downstream effects of a preventable condition acquired in the first setting but treated in the second setting.

f. Relationship to NQF's Serious Reportable Adverse Events

CMS is applying its authority to address the events on the NQF's list of Serious Reportable Adverse Events (also known as “never events”). In May 2006 testimony before the Senate Finance Committee, the CMS Administrator noted that paying hospitals for serious preventable events is contrary to the promise that hospital payments should support higher quality and efficiency. There is growing consensus that health care purchasers should not be paying for these events when they occur during a hospitalization. In January 2005, HealthPartners, a Minnesota-based not-for-profit HMO, announced that it would no longer reimburse hospitals for services associated with events enumerated in the Minnesota Adverse Health Care Events Reporting Act (essentially the NQF's list of Serious Reportable Adverse Events). Further, HealthPartners' contracts preclude hospitals from seeking reimbursement from the patient for these costs. During 2007, several State hospital associations adopted policies stating that their members will not bill payers or patients when these events occur in their hospitals.

In the FY 2008 IPPS final rule with comment period, we adopted several items from the NQF's list of events as HACs, including retained foreign object after surgery, air embolism, blood incompatibility, stage III and IV pressure ulcers, falls, electric shock, and burns. In this proposed rule, we are seeking public comments regarding adding hypoglycemic coma, which is closely related to NQF's listing of death or serious disability associated with hypoglycemia. However, as we discussed in the FY 2008 IPPS final rule with comment period, the HAC payment provision is not ideally suited to address every condition on the NQF's list of Serious Reportable Adverse Events. To address the events on the NQF's list beyond the effect of the HAC policy, CMS is exploring the application of Medicare authority, including other payment provisions, coverage policy, conditions of participation, and Quality Improvement Organization (QIO) retrospective review.

We note that we are not proposing new Medicare policy in this discussion of the HAC payment provision for IPPS hospitals, as some of these approaches may require new statutory authority. We are seeking public comments on these and other options for enhancing the preventable HACs payment provision and maximizing the use of POA indicator reporting data. We look forward to working with stakeholders in the fight against HACs.

G. Proposed Changes to Specific MS-DRG Classifications

1. Pre-MDCs: Artificial Heart Devices

Heart failure affects more than 5 million patients in the United States with 550,000 new cases each year, and causes more than 55,000 deaths annually. It is a progressive disease that is medically managed at all stages, but over time leads to continued deterioration of the heart's ability to pump sufficient amounts of adequately oxygenated blood throughout the body. When medical management becomes inadequate to continue to support the patient, the patient's heart failure would be considered to be the end stage of the disease. At this point, the only remaining treatment options are a heart transplant or mechanical circulatory support. A device termed an artificial heart has been used only for severe failure of both the right and left ventricles, also known as biventricular failure. Relatively small numbers of patients suffer from biventricular failure, but the exact numbers are unknown. There are about 4,000 patients approved and waiting to receive heart transplants in the United States at any given time, but only about 2,000 hearts per year are transplanted due to a scarcity of donated organs. There are a number of mechanical devices that may be used to support the ventricles of a failing heart on either a temporary or permanent basis. When it is apparent that a patient will require long-term support, a ventricular support device is generally implanted and may be considered either as a bridge to recovery or a bridge to transplantation. Sometimes a patient's prognosis is uncertain, and with device support the native heart may recover its function. However when recovery is not likely, the patient may qualify as a transplant candidate and require mechanical circulatory support until a donor heart becomes available. This type of support is commonly supplied by ventricular assist devices, (VADs), which are surgically attached to the native ventricles but do not replace them.

Devices commonly called artificial hearts are biventricular heart replacement systems that differ from VADs in that a substantial part of the native heart, including both ventricles, is removed. When the heart remains intact, it remains possible for the native heart to recover its function after being assisted by a VAD. However, because the artificial heart device requires the resection of the ventricles, the native heart is no longer intact and such recovery is not possible. The designation “artificial heart” is somewhat of a misnomer because some portion of the native heart remains and there is no current mechanical device that fully replaces all four chambers of the heart. Over time, better descriptive language for these devices may be adopted.

In 1986, CMS made a determination that the use of artificial hearts was not covered under the Medicare program. To conform to that decision, we placed ICD-9-CM procedure code 37.52 (Implantation of total replacement heart system) on the GROUPER program's MCE in the noncovered procedure list.

On August 1, 2007, CMS began a national coverage determination process for artificial hearts. SynCardia Systems, Inc. submitted a request for reconsideration of the longstanding noncoverage policy when its device, the CardioWest Temporary Total Artificial Heart (TAH-t) System, is used for “bridge to transplantation” in accordance with the FDA-labeled indication for the device. “Bridge to transplantation” is a phrase meaning that a patient in end-stage heart failure may qualify as a heart transplant candidate, but will require mechanical circulatory support until a donor heart becomes available. The CardioWest TAH-t System is indicated for use as a bridge to transplantation in cardiac transplant-eligible candidates at risk of imminent death from biventricular failure. The system is intended for use inside the hospital as the patient awaits a donor heart. The ultimate desired outcome for insertion of the TAH-t is a successful heart transplant, along with the potential that offers for cure from heart failure.

CMS determined that a broader analysis of artificial heart coverage was deemed appropriate, as another manufacturer, Abiomed, Inc. has developed an artificial heart device, AbioCor® Implantable Replacement Heart Device, with different indications. SynCardia Systems, Inc has received approval of its device from the FDA for humanitarian use as destination therapy for patients in end-stage biventricular failure who cannot qualify as transplant candidates. The AbioCor® Implantable Replacement Heart Device is indicated for use in severe biventricular end-stage heart disease patients who are not cardiac transplant candidates and who are less than 75 years old, who require multiple inotropic support, who are not treatable by VAD destination therapy, and who cannot be weaned from biventricular support if they are on such support. The desired outcome for this device is prolongation of life and discharge to home.

On February 1, 2008, CMS published a proposed coverage decision memorandum for artificial hearts which stated, in part, that while the evidence is inadequate to conclude that the use of an artificial heart is reasonable and necessary for Medicare beneficiaries, the evidence is promising for the uses of artificial heart devices as described above. CMS supports additional research for these devices, and therefore proposed that the artificial heart will be covered by Medicare when performed under the auspices of a clinical study. The study must meet all of the criteria listed in the proposed decision memorandum. This proposed coverage decision memorandum may be found on the CMS Web site at: http://www.cms.hhs.gov/mcd/viewdraftdecisionmemo.asp?id=211. Following consideration of the public comments received, CMS expects to make a final decision on or about May 1, 2008.

The topic of coding of artificial heart devices was discussed at the September 27-28, 2007 ICD-9-CM Coordination and Maintenance Committee meeting held at CMS in Baltimore, MD. We note that this topic was placed on the Committee's agenda because any proposed changes to the ICD-9-CM coding system must be discussed at a Committee meeting, with opportunity for comment from the public. At the September 2007 Committee meeting, the Committee accepted oral comments from participants and encouraged attendees or anyone with an interest in the topic to comment on proposed changes to the code, inclusion terms, or exclusion terms. We accepted written comments until October 12, 2007. As a result of discussion and comment from the Committee meeting, the Committee revised the title of procedure code 37.52 for artificial hearts to read “Implantation of internal biventricular heart replacement system.” In addition, the Committee created new code 37.55 (Removal of internal biventricular heart replacement system) to identify explantation of the artificial heart prior to heart transplantation.

To make conforming changes to the IPPS system with regard to the proposed revision to the coverage decision for artificial hearts, in this proposed rule, we are proposing to remove procedure code 37.52 from MS-DRG 215 (Other Heart Assist System Implant) and assign it to MS-DRG 001 (Heart Transplant or Implant of Heart Assist System with Major Comorbidity or Complication (MCC)) and MS-DRG 002 (Heart Transplant or Implant of Heart Assist System without Major Comorbidity or Complication (MCC)). In addition, we are proposing to remove procedure code 37.52 from the MCE “Non-Covered Procedure” edit and assign it to the “Limited Coverage” edit. We are proposing to include in this proposed edit the requirement that ICD-9-CM diagnosis code V70.7 (Examination of participant in clinical trial) also be present on the claim. We are proposing that claims submitted without both procedure code 37.52 and diagnosis code V70.7 would be denied because they would not be in compliance with the proposed coverage policy.

During FY 2008, we are making mid-year changes to portions of the GROUPER program that do not affect MS-DRG assignment or ICD-9-CM coding. However, as the proposed coverage decision memorandum for artificial hearts was published after the CMS contractor's testing and release of the mid-year product, the above proposed changes to the MCE will not be included in that revision of the GROUPER Version 25.0. GROUPER Version 26.0, which will be in use for FY 2009, will contain the proposed changes if they are approved. If the proposed revisions to the MCE are accepted, the edits in the MCE Version 25.0 will be effective retroactive to May 1, 2008. (To reduce confusion, we note that the version number of the MCE is one digit lower than the current GROUPER version number; that is, Version 26.0 of the GROUPER uses Version 25.0 of the MCE.)

2. MDC 1 (Diseases and Disorders of the Nervous System)

a. Transferred Stroke Patients Receiving Tissue Plasminogen Activator (tPA)

In 1996, the FDA approved the use of tissue plasminogen activator (tPA), one type of thrombolytic agent that dissolves blood clots. In 1998, the ICD-9-CM Coordination and Maintenance Committee created code 99.10 (Injection or infusion of thrombolytic agent) in order to be able to uniquely identify the administration of these agents. Studies have shown that tPA can be effective in reducing the amount of damage the brain sustains during an ischemic stroke, which is caused by blood clots that block blood flow to the brain. tPA is approved for patients who have blood clots in the brain, but not for patients who have a bleeding or hemorrhagic stroke. Thrombolytic therapy has been shown to be most effective when used within the first 3 hours after the onset of an embolic stroke, but it is contraindicated in hemorrhagic strokes.

For FY 2006, we modified the structure of CMS DRGs 14 (Intracranial Hemorrhage or Cerebral Infarction) and 15 (Nonspecific CVA and Precerebral Occlusion without Infarction) by removing the diagnostic ischemic (embolic) stroke codes. We created a new CMS DRG 559 (Acute Ischemic Stroke with Use of Thrombolytic Agent) which increased reimbursement for patients who sustained an ischemic or embolic stroke and who also had administration of tPA. The intent of this DRG was not to award higher payment for a specific drug but to recognize the need for better overall care for this group of patients. Even though tPA is indicated only for a small proportion of stroke patients, that is, those patients experiencing ischemic strokes treated within 3 hours of the onset of symptoms, our data suggested that there was a sufficient quantity of patients to support the DRG change. While our goal is to make payment relate more closely to resource use, we also note that use of tPA in a carefully selected patient population may lead to better outcomes and overall care and may lessen the need for postacute care.

For FY 2008, with the adoption of MS-DRGs, CMS DRG 559 became MS-DRGs 061 (Acute Ischemic Stroke with Use of Thrombolytic Agent with MCC), 062 (Acute Ischemic Stroke with Use of Thrombolytic Agent with CC), and 063 (Acute Ischemic Stroke with Use of Thrombolytic Agent without CC/MCC). Stroke cases in which no thrombolytic agent was administered were grouped to MS-DRGs 064 (Intracranial Hemorrhage or Cerebral Infarction with MCC), 065 (Intracranial Hemorrhage or Cerebral Infarction with CC), or 066 (Intracranial Hemorrhage or Cerebral Infarction without CC/MCC). The MS-DRGs that reflect use of a thrombolytic agent, that is, MS-DRGs 061, 062, and 063, have higher relative weights than the hemorrhagic or cerebral infarction MS-DRGs 064, 065, and 066.

The American Society of Interventional and Therapeutic Neuroradiology (ASITN) has made us aware of a treatment issue that is of concern to the stroke provider's community. In some instances, patients suffering an embolytic or thrombolytic stroke are evaluated and given tPA in a community hospital's emergency department, and then are transferred to a larger facility's stroke center that is able to provide the level of services required by the increased severity of these cases. The facility providing the administration of tPA in its emergency department does not realize increased reimbursement, as the patient is often transferred as soon a possible to a stroke center. The facility to which the patient is transferred does not realize increased reimbursement, as the tPA was not administered there. The ASITN has requested that CMS give permission to code the administration of tPA as if it had been given in the receiving facility. This would result in the receiving facility being paid the higher weighted MS-DRGs 061, 062, or 063 instead of MS-DRGs 064, 065, or 066. The ASITN's rationale is that the patients who received tPA in another facility (even though administration of tPA may have alleviated some of the worst consequences of their strokes) are still extremely compromised and require increased health care services that are much more resource consumptive than patients with less severe types of stroke. We have advised the ASITN that hospitals may not report services that were not performed in their facility.

We recognize that the ASITN's concerns potentially have merit but the quantification of the increased resource consumption of these patients is not currently possible in the existing ICD-9-CM coding system. Without specific length of stay and average charges data, we are unable to determine an appropriate MS-DRG for these cases. Therefore, we have advised the ASITN to present a request at the diagnostic portion of the ICD-9-CM Coordination and Maintenance Committee meeting on March 20, 2008, for a code that would recognize the fact that the patient had received a thrombolytic agent for treatment of the current stroke. If this request is presented at the March 20, 2008 meeting, it will not be approved in time to be published as a final code in this proposed rule. However, if a diagnosis code is created by the National Centers for Health Statistics as a result of that meeting, it can be added to the list of codes published in the FY 2009 IPPS final rule that will go into effect on October 1, 2008. With such information appearing on subsequent claims, we will have a better idea of how to classify these cases within the MS-DRGs. Therefore, because we lack the data to identify these patients, we are not proposing an MS-DRG modification for the stroke patients receiving tPA in one facility prior to being transferred to another facility.

b. Intractable Epilepsy With Video Electroencephalogram (EEG)

As we did for FY 2008, we received a request from an individual representing the National Association of Epilepsy Centers to consider further refinements to the MS-DRGs describing seizures. Specifically, the representative recommended that a new MS-DRG be established for patients with intractable epilepsy who receive an electroencephalogram with video monitoring (vEEG) during their hospital stay. Similar to the initial recommendation, the representative stated that patients who suffer from uncontrolled seizures or intractable epilepsy are admitted to an epilepsy center for a comprehensive evaluation to identify the epilepsy seizure type, the cause of the seizure, and the location of the seizure. These patients are admitted to the hospital for 4 to 6 days with 24-hour monitoring that includes the use of EEG video monitoring along with cognitive testing and brain imaging procedures.

Effective October 1, 2007, MS-DRG 100 (Seizures with MCC) and MS-DRG 101 (Seizures without MCC) were implemented as a result of refinements to the DRG system to better recognize severity of illness and resource utilization. Once again, the representative applauded CMS for making changes in the DRG structure to better recognize differences in patient severity. However, the representative stated that a subset of patients in MS-DRG 101 who have a primary diagnosis of intractable epilepsy and are treated with vEEG are substantially more costly to treat than other patients in this MS-DRG and represent the majority of patients being evaluated by specialized epilepsy centers. Alternatively, the representative stated that he was not requesting any change in the structure of MS-DRG 100. According to the representative, the number of cases that would fall into this category is not significant. The representative further noted that this is a change from last year's request.

Epilepsy is currently identified by ICD-9-CM diagnosis codes 345.0x through 345.9x. There are two fifth digits that may be assigned to a subset of the epilepsy codes depending on the physician documentation:

• “0” for without mention of intractable epilepsy.

• “1” for with intractable epilepsy.

With the assistance of an outside reviewer, the representative analyzed cost data for MS-DRGs 100 and 101, which focused on three subsets of patients identified with a primary diagnosis of epilepsy or convulsions who also received vEEG (procedure code 89.19):

• Patients with a primary diagnosis of epilepsy with intractability specified (codes 345.01 through 345.91).

• Patients with a primary diagnosis of epilepsy without intractability specified (codes 345.00 through 345.90).

• Patients with a primary diagnosis of convulsions (codes 780.39).

The representative acknowledged that the association did not include any secondary diagnoses in its analyses. Based on its results, the representative recommended that CMS further refine MS-DRG 101 by subdividing cases with a primary diagnosis of intractable epilepsy (codes 345.01 through 345.91) when vEEG (code 89.19) is also performed into a separate MS-DRG that would be defined as “MS-DRG XXX” (Epilepsy Evaluation without MCC).

According to the representative, these cases are substantially more costly than the other cases within MS-DRG 101 and are consistent with the criteria for dividing MS-DRGs on the basis of CCs and MCCs. In addition, the representative stated that the request would have a minimal impact on most hospitals but would substantially improve the accuracy of payment to hospitals specializing in epilepsy care.

We performed an analysis using FY 2007 MedPAR data. As shown in the table below, we found a total of 54,060 cases in MS-DRG 101 with average charges of $14,508 and an average length of stay of 3.69 days. There were 879 cases with intractable epilepsy and vEEG with average charges of $19,227 and an average length of stay of 5 days.

MS-DRG | Number of cases | Average length of stay | Average charges
MS-DRG 100—All Cases | 16,142 | 6.34 | $27,623
MS-DRG 100—Cases with Intractable Epilepsy with vEEG (Codes 345.01, 345.11, 345.41, 345.51, 345.61, 345.71, 345.81, 345.91) | 69 | 6.6 | 26,990
MS-DRG 100—Cases with Intractable Epilepsy without vEEG | 328 | 7.81 | 32,539
MS-DRG 101—All cases | 54,060 | 3.69 | 14,508
MS-DRG 101—Cases with Intractable Epilepsy with vEEG (Codes 345.01, 345.11, 345.41, 345.51, 345.61, 345.71, 345.81, 345.91) | 879 | 5.0 | 19,227
MS-DRG 101—Cased with Intractable Epilepsy without vEEG | 1,351 | 4.25 | 14,913

In applying the criteria to establish subgroups, the data do not support the creation of a new subdivision for MS-DRG 101 for cases with intractable epilepsy and vEEG nor does the data support moving the 879 cases from MS-DRG 101 to MS-DRG 100. Moving the 879 cases to MS-DRG 100 would mean moving cases with average charges of approximately $19,000 into an MS-DRG with average charges of $28,000. Therefore, we are not proposing to refine MS-DRG 101 by subdividing cases with a primary diagnosis of intractable epilepsy (codes 345.01 through 345.91) when vEEG (code 89.19) is also performed into a separate MS-DRG.

3. MDC 5 (Diseases and Disorders of the Circulatory System)

a. Automatic Implantable Cardioverter-Defibrillators (AICD) Lead and Generator Procedures

In the FY 2008 IPPS final rule with comment period (72 FR 47257), we created a separate, stand alone DRG for automatic implantable cardioverter-defibrillator (AICD) generator replacements and defibrillator lead replacements. The new MS-DRG 245 (AICD lead and generator procedures) contains the following codes:

• 00.52, Implantation or replacement of transvenous lead [electrode] into left ventricular coronary venous system.

• 00.54, Implantation or replacement of cardiac resynchronization defibrillator pulse generator device only [CRT-D].

• 37.95, Implantation of automatic cardioverter/defibrillator leads(s) only.

• 37.96, Implantation of automatic cardioverter/defibrillator pulse generator only.

• 37.97, Replacement of automatic cardioverter/defibrillator leads(s) only.

• 37.98, Replacement of automatic cardioverter/defibrillator pulse generator only.

Commenters on the FY 2008 IPPS proposed rule supported this new MS-DRG, which recognizes the distinct differences in resource utilization between pacemaker and defibrillator generators and leads, but suggested that CMS should consider additional refinements for the defibrillator generator and leads. In reviewing the standardized charges for the AICD leads, the commenter believed that the leads may be more appropriately assigned to another DRG such as MS-DRG 243 (Permanent Cardiac Pacemaker Implant with CC) or MS-DRG 258 (Cardiac Pacemaker Device Replacement with MCC). The commenter recommended that CMS consider moving the defibrillator leads back into a pacemaker DRG, either MS-DRG 243 or MS-DRG 258.

In response to the commenters, we indicated that the data supported separate DRGs for these very different devices (72 FR 47257). We indicated that moving the defibrillator leads back into a pacemaker MS-DRG defeated the purpose of creating separate MS-DRGs for defibrillators and pacemakers. Therefore, we finalized MS-DRG 245 as proposed with the leads and generator codes listed above.

After publication of the FY 2008 IPPS final rule with comment period, we received a request from a manufacturer that recommended a subdivision for MS-DRG 245 (AICD Lead and Generator Procedures). The requestor suggested creating a new MS-DRG to separate the implantation or replacement of the AICD leads from the implantation or replacement of the AICD pulse generators to better recognize the differences in resource utilization for these distinct procedures.

The requestor applauded CMS' decision to create separate MS-DRGs for the pacemaker device procedures from the AICD procedures in the FY 2008 IPPS final rule (72 FR 47257). The requestor further acknowledged its support of the clinically distinct MS-DRGs for pacemaker devices. Currently, MS-DRGs 258 and 259 (Cardiac Pacemaker Device Replacement with MCC and without MCC, respectively) describe the implantation or replacement of pacemaker generators while MS-DRGs 260, 261, and 262 (Cardiac Pacemaker Revision Except Device Replacement with MCC, with CC, without CC/MCC, respectively) describe the insertion or replacement of pacemaker leads.

The requestor believed that the IPPS “needs to continue to evolve to accurately reflect clinical differences and costs of services.” As such, the requestor recommended that CMS follow the same structure as it did with the pacemaker MS-DRGs for MS-DRG 245 to separately identify the implantation or replacement of the defibrillator leads (codes 37.95, 37.97, and 00.52) from the implantation or replacement of the pulse generators (codes 37.96, 37.98, 00.54).

In our analysis of the FY 2007 MedPAR data, we found a total of 5,546 cases in MS-DRG 245 with average charges of $62,631 and an average length of stay of 3.3 days. We found 1,894 cases with implantation or replacement of the defibrillator leads (codes 37.95, 37.97, and 00.52) with average charges of $42, 896 and an average length of stay of 3.4 days. We also found a total of 3,652 cases with implantation or replacement of the pulse generator (codes 37.96, 37.98, 00.54) with average charges of $72, 866 and an average length of stay of 3.2 days.

We agree with the requestor that the IPPS should accurately recognize differences in resource utilization for clinically distinct procedures. As the data demonstrate, average charges for the implantation or replacement of the AICD pulse generators are significantly higher than for the implantation or replacement of the AICD leads. Therefore, we are proposing to create a new MS-DRG 265 to separately identify these distinct procedures. The proposed new MS-DRG 265 would be titled “AICD Lead Procedures” and would include procedure codes that identify the AICD leads (codes 37.95, 37.97 and 00.52). The title for MS-DRG 245 would be revised to “AICD Generator Procedures” and include procedure codes 37.96, 37.98, 00.54. We believe these changes would better reflect the clinical differences and resources utilized for these distinct procedures.

b. Left Atrial Appendage Device

Atrial fibrillation (AF) is the primary cardiac abnormality associated with ischemic or embolytic stroke. Most ischemic strokes associated with AF are possibly due to an embolism or thrombus that has formed in the left atrial appendage. Evidence from studies such as transesophageal echocardiography shows left atrial thrombi to be more frequent in AF patients with ischemic stroke as compared to AF patients without stroke. While anticoagulation medication can be efficient in ischemic stroke prevention, there can be problems of safety and tolerability in many patients, especially those older than 75 years. Chronic warfarin therapy has been proven to reduce the risk of embolism but there can be difficulties concerning its administration. Frequent blood tests to monitor warfarin INR are required at some cost and patient inconvenience. In addition, because warfarin INR is affected by a large number of drug and dietary interactions, it can be unpredictable in some patients and difficult to manage. The efficacy of aspirin for stroke prevention in AF patients is less clear and remains controversial. With the known disutility of warfarin and the questionable effectiveness of aspirin, a device-based solution may provide added protection against thromboembolism in certain patients with AF.

At the April 1, 2004 ICD-9-CM Coordination and Maintenance Committee meeting, a proposal was presented for the creation of a unique procedure code describing insertion of the left atrial appendage filter system. Subsequently, ICD-9-CM code 37.90 (Insertion of left atrial appendage device) was created for use beginning October 1, 2004. This code was designated as a non-operating room (non-O.R.) procedure, and had an effect only on cases in MDC 5, CMS DRG 518 (Percutaneous Cardiovascular Procedure without Coronary Artery Stent or Acute Myocardial Infarction). With the adoption of MS-DRGs in FY 2008, CMS DRG 518 was divided into MS-DRGs 250 and 251 (Percutaneous Cardiovascular Procedure without Coronary Artery Stent or AMI with MCC, and without MCC, respectively).

We have reviewed the data concerning this procedure code annually. Using FY 2005 MedPAR data for the FY 2007 IPPS final rule, 24 cases were reported, and the average charges ($27,620) closely mimicked the average charges of the other 22,479 cases in CMS DRG 518 ($28,444). As the charges were comparable, we made no recommendations to change the CMS DRG assignment for FY 2007.

Using FY 2006 MedPAR data for the FY 2008 final rule with comment period, we divided CMS DRG 518 into the cases that would be reflected in the MS-DRG configuration; that is, we divided the cases based on the presence or absence of an MCC. There were 35 cases without an MCC with average charges of $24,436, again mimicking the 38,002 cases with average charges of $32,546. There were 3 cases with MCC with average charges of $62,337, compared to the 5,458 cases also with an MCC with average charges of $53,864. Again it was deemed that cases with code 37.90 were comparable to the rest of the cases in CMS DRG 518, and the decision was made not to make any changes in the DRG assignment for this procedure code. As noted above, CMS DRG 518 became MS-DRGs 250 and 251 in FY 2008.

We have received a request regarding code 37.90, and its placement within the MS-DRG system for FY 2009. The requestor asked for either the reassignment of code 37.90 to an MS-DRG that would adequately cover the costs associated with the complete procedure or the creation of a new MS-DRG that would reimburse hospitals adequately for the cost of the device. The requestor, a manufacturer's representative, reported that the device's IDE clinical trial is nearing completion, with the conclusion of study enrollment in May 2008. The requestor will continue to enroll patients in a Continued Use Registry following completion of the trial. The requestor reported that it did not charge hospitals for the atrial appendage device, estimated to cost $6,000, during the trial period, but it will begin to charge hospitals upon the completion of the trial in May. The requestor provided us with its data showing what it believed to be a differential of $107 more per case than the payment average for MS-DRG 250, and a shortfall of $3,808 per case than the payment average for MS-DRG 251.

The requestor pointed out that code 37.90 is assigned to both MS-DRGs 250 and 251, but stated that the final MS-DRG assignment would be MS-DRG 251 when the patient has a principal diagnosis of atrial fibrillation (code 427.31) because AF is not presently listed as a CC or an MCC. We would take this opportunity to note that the principal diagnosis is used to determine assignment of a case to the correct MDC. Secondary or additional diagnosis codes are the only codes that can be used to determine the presence of a CC or an MCC.

With regard to the request to create a specific DRG for the insertion of this device entitled “Percutaneous Cardiovascular Procedures with Implantation of a Left Atrial Appendage Device without CC/MCC”, we would point out that the payments under a prospective payment system are predicated on averages. The device is already assigned to MS-DRGs containing other percutaneous cardiovascular devices; to create a new MS-DRG specific to this device would be to remove all other percutaneously inserted devices and base the MS-DRG assignment solely on the presence of code 37.90. This approach negates our longstanding method of grouping like procedures, and removes the concept of averaging. Further, to ignore the structure of the MS-DRG system solely for the purpose of increasing payment for one device would set an unwelcome precedent for defining all of the other MS-DRGs in the system. We would also point out that the final rule establishing the MS-DRGs set forth five criteria, all five of which are required to be met, in order to warrant creation of a CC or an MCC subgroup within a base MS-DRG. The criteria can be found in the FY 2008 IPPS final rule with comment period (72 FR 47169). One of the criteria specifies that there will be at least 500 cases in the CC or MCC subgroup. To date, there are not enough cases of code 37.90 reported within the MedPAR data.

Using FY 2007 MedPAR data, for this FY 2009 IPPS proposed rule, we reviewed MS-DRGs 250 and 251 for the presence of the left atrial appendage device. The following table displays our results:

MS-DRG | Number of cases | Average length of stay | Average charges
250—All Cases | 6,424 | 7.72 | $60,597.58
250—Cases with code 37.90 | 4 | 6.50 | 65,829.51
250—Cases without code 37.90 | 6,420 | 7.72 | 60,594.32
251—All Cases | 39,456 | 2.84 | 35,719.81
251—Cases with code 37.90 | 101 | 1.30 | 20,846.09
251—Cases without code 37.90 | 39,335 | 2.85 | 35,757.98

There were a total of 105 cases with code 37.90 reported for Medicare beneficiaries in the 2007 MedPAR data. There are 4 cases with an atrial appendage device in MS-DRG 250 that have higher average charges than the other 6,420 cases in the MS-DRG, and that have slightly shorter lengths of stay by 1.25 days. However, the more telling data are located in MS-DRG 251, which shows that the 101 cases in which an atrial appendage device was implanted have much lower average charges ($20,846.09) than the other 39,355 cases in the MS-DRG, with average charges of $35,758.98. The difference in the average charges is approximately $14,912, so even when the manufacturer begins charging the hospitals the estimated $6,000 for the device, there is still a difference of approximately $8,912 in average charges based on the comparison within the total MS-DRG 251. Interestingly, the 101 cases also have an average length of stay of less than half of the average length of stay compared to the other cases assigned to that MS-DRG.

Because the data do not support either the creation of a unique MS-DRG or the assignment of procedure code 37.90 to another higher-weighted MS-DRG, we are not proposing any change to MS-DRGs 250 and 251, or to code 37.90 for FY 2009. We believe, based on the past 3 year's comparisons, that this code is appropriately located within the MS-DRG structure.

4. MDC 8 (Diseases and Disorders of the Musculoskeletal System and Connective Tissue): Hip and Knee Replacements and Revisions

For FY 2009, we again received a request from the American Association of Hip and Knee Surgeons (AAHKS), a specialty group within the American Academy of Orthopedic Surgeons (AAOS), concerning modifications of the lower joint procedure MS-DRGs. The request is similar, in some respects, to the AAHKS's request in FY 2008, particularly as it relates to separating routine and complex procedures. For the benefit of the reader, we are republishing a history of the development of DRGs for hip and knee replacements and a summary of the AAHKS FY 2008 request that were included in the FY 2008 IPPS final rule with comment period (72 FR 47222 through 47224) before we discuss the AAHKS's more recent request.

a. Brief History of Development of Hip and Knee Replacement Codes

In the FY 2006 IPPS final rule (70 FR 47303), we deleted CMS DRG 209 (Major Joint and Limb Reattachment Procedures of Lower Extremity) and created two new CMS DRGs: 544 (Major Joint Replacement or Reattachment of Lower Extremity) and 545 (Revision of Hip or Knee Replacement). The two new CMS DRGs were created because revisions of joint replacement procedures are significantly more resource intensive than original hip and knee replacements procedures. CMS DRG 544 included the following procedure code assignments:

• 81.51, Total hip replacement.

• 81.52, Partial hip replacement.

• 81.54, Total knee replacement.

• 81.56, Total ankle replacement.

• 84.26, Foot reattachment.

• 84.27, Lower leg or ankle reattachment.

• 84.28, Thigh reattachment.

CMS DRG 545 included the following procedure code assignments:

• 00.70, Revision of hip replacement, both acetabular and femoral components.

• 00.71, Revision of hip replacement, acetabular component.

• 00.72, Revision of hip replacement, femoral component.

• 00.73, Revision of hip replacement, acetabular liner and/or femoral head only.

• 00.80, Revision of knee replacement, total (all components).

• 00.81, Revision of knee replacement, tibial component.

• 00.82, Revision of knee replacement, femoral component.

• 00.83, Revision of knee replacement, patellar component.

• 00.84, Revision of knee replacement, tibial insert (liner).

• 81.53, Revision of hip replacement, not otherwise specified

• 81.55, Revision of knee replacement, not otherwise specified

Further, we created a number of new ICD-9-CM procedure codes effective October 1, 2005, that better distinguish the many different types of joint replacement procedures that are being performed. In the FY 2006 IPPS final rule (70 FR 47305), we indicated a commenter had requested that, once we receive claims data using the new procedure codes, we closely examine data from the use of the codes under the two new CMS DRGs to determine if future additional DRG modifications are needed.

b. Prior Recommendations of the AAHKS

Prior to this year, the AAHKS had recommended that we make further refinements to the CMS DRGs for knee and hip arthroplasty procedures. The AAHKS previously presented data to CMS on the important differences in clinical characteristics and resource utilization between primary and revision total joint arthroplasty procedures. The AAHKS stated that CMS's decision to create a separate DRG for revision of total joint arthroplasty (TJA) in October 2005 resulted in more equitable reimbursement for hospitals that perform a disproportionate share of complex revision of TJA procedures, recognizing the higher resource utilization associated with these cases. The AAHKS stated that this important payment policy change led to increased access to care for patients with failed total joint arthroplasties, and ensured that high volume TJA centers could continue to provide a high standard of care for these challenging patients.

The AAHKS further stated that the addition of new, more descriptive ICD-9-CM diagnosis and procedure codes for TJA in October 2005 gave it the opportunity to further analyze differences in clinical characteristics and resource intensity among TJA patients and procedures. Inclusive of the preparatory work to submit its recommendations, the AAHKS compiled, analyzed, and reviewed detailed clinical and resource utilization data from over 6,000 primary and revision TJA procedure codes from 4 high volume joint arthroplasty centers located within different geographic regions of the United States: University of California, San Francisco, CA; Mayo Clinic, Rochester, MN; Massachusetts General Hospital, Boston, MA; and the Hospital for Special Surgery, New York, NY. Based on its analysis, the AAHKS recommended that CMS examine Medicare claims data and consider the creation of separate DRGs for total hip and total knee arthroplasty procedures. The AAHKS stated that based on the differences between patient characteristics, procedure characteristics, resource utilization, and procedure code payment rates between total hip and total knee replacements, separate DRGs were warranted. Furthermore, the AAHKS recommended that CMS create separate base DRGs for routine versus complex joint revision or replacement procedures as shown below.

Routine Hip Replacements

• 00.73, Revision of hip replacement, acetabular liner and/or femoral head only.

• 00.85, Resurfacing hip, total, acetabulum and femoral head.

• 00.86, Resurfacing hip, partial, femoral head.

• 00.87, Resurfacing hip, partial, acetabulum.

• 81.51, Total hip replacement.

• 81.52, Partial hip replacement.

• 81.53, Revision of hip replacement, not otherwise specified.

Complex Hip Replacements

• 00.70, Revision of hip replacement, both acetabular and femoral components.

• 00.71, Revision of hip replacement, acetabular component.

• 00.72, Revision of hip replacement, femoral component.

Routine Knee Replacements and Ankle Procedures

• 00.83, Revision of knee replacement, patellar component.

• 00.84, Revision of knee replacement, tibial insert (liner).

• 81.54, Revision of knee replacement, not otherwise specified.

• 81.55, Revision of knee replacement, not otherwise specified.

• 81.56, Total ankle replacement.

Complex Knee Replacements and Other Reattachments

• 00.80, Revision of knee replacement, total (all components).

• 00.81, Revision of knee replacement, tibial component.

• 00.82, Revision of knee replacement, femoral component.

• 84.26, Foot reattachment.

• 84.27, Lower leg or ankle reattachment.

• 84.28, Thigh reattachment.

The AAHKS also recommended the continuation of CMS DRG 471 (Bilateral or Multiple Major Joint Procedures of Lower Extremity) without modifications. CMS DRG 471 included any combination of two or more of the following procedure codes:

• 00.70, Revision of hip replacement, both acetabular and femoral components.

• 00.80, Revision of knee replacement, total (all components).

• 00.85, Resurfacing hip, total, acetabulum and femoral head.

• 00.86, Resurfacing hip, partial, femoral head.

• 00.87, Resurfacing hip, partial, acetabulum.

• 81.51, Total hip replacement.

• 81.52, Partial hip replacement.

• 81.54, Total knee replacement.

• 81.56, Total ankle replacement.

c. Adoption of MS-DRGs for Hip and Knee Replacements for FY 2008 and AAHKS's Recommendations

In the FY 2008 IPPS final rule with comment period (72 FR 47222 through 47226), we adopted MS-DRGs to better recognize severity of illness for FY 2008. The MS-DRGs include two new severity of illness levels under the then current base DRG 544. We also added three new severity of illness levels to the base DRG for Revision of Hip or Knee Replacement. The new MS-DRGs are as follows:

• MS-DRG 466 (Revision of Hip or Knee Replacement with MCC)

• MS-DRG 467 (Revision of Hip or Knee Replacement with CC)

• MS-DRG 468 (Revision of Hip or Knee Replacement without CC/MCC)

• MS-DRG 469 (Major Joint Replacement or Reattachment of Lower Extremity with MCC)

• MS-DRG 470 (Major Joint Replacement or Reattachment of Lower Extremity without MCC)

We found that the MS-DRGs greatly improved our ability to identify joint procedures with higher resource costs. In the final rule, we presented data indicating the average charges for each new MS-DRG for the joint procedures.

In the FY 2008 IPPS final rule with comment period, we acknowledged the valuable assistance the AAHKS had provided to CMS in creating the new joint replacement procedure codes and modifying the joint replacement DRGs beginning in FY 2006. These efforts greatly improved our ability to categorize significantly different groups of patients according to severity of illness. Commenters on the FY 2008 proposed rule had encouraged CMS to continue working with the orthopedic community, including the AAHKS, to monitor the need for additional new DRGs. The commenters stated that MS-DRGs 466 through 470 are a good first step. However, they stated that CMS should continue to evaluate the data for these procedures and consider additional refinements to the MS-DRGs, including the need for additional severity levels. AAHKS stated that its data suggest that all three base DRGs (primary replacement, revision of major joint replacement, and bilateral joint replacement) should be separated into three severity levels (that is, MCC, CC, and non-CC). (We had proposed three severity levels for revision of hip and knee replacement (MS-DRGs 466, 467, and 468), and AAHKS agreed with this 3-level subdivision.)

The AAHKS recommended that the base DRG for the proposed two severity subdivision MS-DRGs for major joint replacement or reattachment of lower extremity with and without CC/MCC (MS-DRGs 483 and 484) be subdivided into three severity levels, as was the case for the revision of hip and knee replacement MS-DRGs. AAHKS also recommended that the two severity subdivision MS-DRGs for bilateral or multiple major joint procedures of lower extremity with and without MCC (MS-DRGs 461 and 462) be subdivided three ways for this base DRG. AAHKS acknowledged that the three way split would not meet all five of the criteria for establishing a subgroup, and stated that these criteria were too restrictive, lack face validity, and create perverse admission selection incentives for hospitals by significantly overpaying for cases without a CC and underpaying for cases with a CC. It recommended that the existing five criteria be modified for low volume subgroups to assure materiality. For higher volume MS-DRG subgroups, the AAHKS recommended that two other criteria be considered, particularly for nonemergency, elective admissions:

• Is the per-case underpayment amount significant enough to affect admission vs. referral decisions on a case-by-case basis?

• Is the total level of underpayments sufficient to encourage systematic admission vs. referral policies, procedures, and marketing strategies?

The AAHKS also recommended refining the five existing criteria for MCC/CC/without subgroups as follows:

• Create subgroups if they meet the five existing criteria, with cost difference between subgroups ($1,350) substituted for charge difference between subgroups ($4,000);

• If a proposed subgroup meets criteria number 2 and 3 (at least 5 percent and at least 500 cases) but fails one of the others, then create the subgroup if either of the following criteria are met:

◻ At least $1,000 cost difference per case between subgroups; or

◻ At least $1 million overall cost should be shifted to cases with a CC (or MCC) within the base DRG for payment weight calculations.

In response, we indicated that we did not believe it was appropriate to modify our five criteria for creating severity subgroups. Our data did not support creating additional subdivisions based on the criteria. At that time, we believed the criteria we established to create subdivisions within a base DRG were reasonable and establish the appropriate balance between better recognition of severity of illness, sufficient differences between the groups, and a reasonable number of cases in each subgroup. However, we indicated that we may consider further modifications to the criteria at a later date once we have had some experience with MS-DRGs created using the proposed criteria.

The AAHKS indicated in its response to the FY 2008 proposed rule that it continued to support the separation of routine and complex joint procedures. It believed that certain joint replacement procedures have significantly lower average charges than do other joint replacements. The AAKHS's data suggest that more routine joint replacements are associated with substantially less resource utilization than other more complex revision procedures. The AAHKS stated that leaving these procedures in the revision MS-DRGs results in substantial overpayment for these relatively simple, less costly revision procedures, which in turn results in a relative underpayment for the more complex revision procedures.

In response, we examined data on this issue and identified two procedure codes for partial knee revisions that had significantly lower average charges than did other joint revisions. The two codes are as follows:

• 00.83 Revision of knee replacement, patellar component

• 00.84 Revision of total knee replacement, tibial insert (liner)

The data suggest that these less complex partial knee revisions are less resource intensive than other cases assigned to MS-DRGs 466, 467, or 468. We examined other orthopedic DRGs to which these two codes could be assigned. We found that these cases have very similar average charges to those in MS-DRG 485 (Knee Procedures with Principal Diagnosis of Infection with MCC), MS-DRG 486 (Knee Procedures with Principal Diagnosis of Infection with CC), MS-DRG 487 (Knee Procedures with Principal Diagnosis of Infection without CC), MS-DRG 488 (Knee Procedures without Principal Diagnosis of Infection with CC or MCC), and MS-DRG 489 (Knee Procedures without Principal Diagnosis of Infection without CC).

Given the very similar resource requirements of MS-DRG 485 and the fact that these DRGs also contain knee procedures, we moved codes 00.83 and 00.84 out of MS-DRGs 466, 467, and 468 and into MS-DRGs 485, 486, 487, 488, and 489. We also indicated that we would continue to monitor the revision DRGs to determine if additional modifications are needed.

d. AAHKS' Recommendations for FY 2009

The AAHKS’ current request involves the following recommendations:

• That CMS consolidate and reassign certain joint procedures that have a diagnosis of an infection or malignancy into MS-DRGs that are similar in terms of clinical characteristics and resource utilization. The AAKHS further identifies groups called Stage 1 and 2 procedures that it believes require significant differences in resource utilization.

• That CMS reclassify certain specific joint procedures, which AAHKS refers to as “routine,” out of their current MS-DRG assignments. The three joint procedures that AAHKS classifies as “routine” are codes 00.73 (Revision of hip replacement, acetabular liner and/or femoral head only), 00.83 (Revision of knee replacement, patellar component), and 00.84 (Revision of total knee replacement, tibial insert (liner)). The AAHKS advocated removing these three “routine” procedures from the following DRGs: MS-DRGs 466, 467, and 468, MS-DRGs 485, 486, and 487, and MS-DRGs 488 and 489. The AAHKS refers to MS-DRGs 466, 467, and 468 as “complex” revision DRGs, and recommended that the three “routine” procedures be moved out of MS-DRGs 466, 467, and 468 and MS-DRGs 485, 486, and 489 and into MS-DRGs 469 and 470 (Major Joint Replacement or Reattachment of Lower Extremity with and without MCC, respectively). The AAHKS contended that the three “routine” procedures have similar clinical characteristics and resource utilization to those in MS-DRGs 469.

The recommendations suggested by AAHKS are quite complex and involve a number of specific code lists and MS-DRG assignment changes. We discuss each of these requests in detail below.

(1) AAHKS Recommendation 1: Consolidate and reassign patients with hip and knee prosthesis related infections or malignancies.

The AAHKS pointed out that deep infection is one of the most devastating complications associated with hip and knee replacements. These infections have been reported to occur in approximately 0.5 percent to 3 percent of primary and 4 percent to 6 percent of revision total joint replacement procedures. These infections often result in the need for multiple reoperations, prolonged use of intravenous and oral antibiotics, extended inpatient and outpatient rehabilitation, and frequent followup visits. Furthermore, clinical outcomes following single- and two-stage revision total joint arthroplasty procedures have been less favorable than revision for other causes of failure not associated with infection.

In addition to the clinical impact, the AAHKS stated that infected total joint replacement procedures also have substantial economic implications for patients, payers, hospitals, physicians, and society in terms of direct medical costs, resource utilization, and the indirect costs associated with lost wages and productivity. The AAHKS stated that the considerable resources required to care for these patients has resulted in a strong financial disincentive for physicians and hospitals to provide care for patients with infected total joint replacements, an increased economic burden on the high volume tertiary care referral centers where patients with infected hip replacement procedures are frequently referred for definitive management. The AAHKS further stated that, in some cases, there are compromised patient outcomes due to treatment delays as patients with infected joint replacements seek providers who are willing to care for them.

Once a deep infection of a total joint prosthesis is identified, the first stage of treatment involves a hospital admission for removal of the infected prosthesis and debridement of the involved bone and surrounding tissue. During the same procedure, an antibiotic-impregnated cement spacer is typically inserted to maintain alignment of the limb during the course of antibiotic therapy. The patient is then discharged to a rehabilitation facility/nursing home (or to home if intravenous therapy can be safely arranged for the patient) for a 6-week course of IV antibiotic treatment until the infection has cleared.

After the completion of antibiotic therapy, the hip or knee may be reaspirated to look for evidence of persistent infection or eradication of infection. A second stage procedure is then undertaken, where the patient is readmitted, the hip or knee is reexplored, and the cement spacer removed. If there are no signs of persistent infection, a hip or knee prosthesis is reimplanted, often using bone graft and costly revision implants in order to address extensive bone loss and distorted anatomy. Thus, the entire course of treatment for patients with infected joint replacements is 4 to 6 months, with an additional 6 to 12 months of rehabilitation. Furthermore, clinical outcomes following revision for infection are poor relative to outcomes following revision for other, aseptic causes. The AAHKS noted that patients with bone malignancy have a similar treatment focus—surgery to remove diseased tissue, chemotherapy to treat the malignancy, and implantation of the new prosthesis. They also have similar resource use. For simplicity, the AAHKS' discussion focused on infected joint prostheses, but it suggested that the issues it raises would apply to patients with a malignancy as well.

The AAHKS stated that these patients are currently grouped in multiple MS-DRGs, and the cases are often “outliers” in each one. AAHKS proposed to consolidate these patients with similar clinical characteristics and treatment into MS-DRGs reflective of their resource utilization.

The AAHKS states that these more severe patients are currently classified into the following MS-DRGs:

• MS-DRGs 463, 463, and 465 (Wound Debridement and Skin Graft Excluding Hand, for Musculoskeletal-Connective Tissue Disease with MCC, with CC, without CC/MCC, respectively).

• MS-DRGs 480, 481, and 482 (Hip and Femur Procedures Except Major Joint with MCC, with CC, without CC/MCC, respectively).

• MS-DRGs 485, 486, and 487 (Knee Procedures with Principal Diagnosis of Infection and with MCC, with CC, and without CC/MCC, respectively).

• MS-DRGs 488 and 489 (Knee Procedures without Principal Diagnosis of Infection and with CC/MCC and without CC/MCC, respectively).

• MS-DRGs 495, 496, and 497 (Local Excision and Removal of Internal Fixation Devices Except Hip and Femur with MCC, with CC, and without CC/MCC, respectively).

• Other MS-DRGs (The AAHKS did not specify what these other MS-DRGs were.).

The AAHKS indicated that cases with the severe diagnoses of infections, neoplasms, and structural defects have similarities. These similarities are due to an overlap of a severe diagnosis (including a principal diagnosis of code 996.66 (Infected joint prosthesis) and the resulting need for more extensive surgical procedures. The AAHKS stated that currently these patients are grouped into MS-DRGs by major procedure alone. AAHKS recommended that these cases be grouped into what it refers to as Stages 1 and 2 as follows:

• Stage 1 would include the removal of an infected prosthesis and includes cases in MS-DRGs 463, 464, and 465, 480, 481, and 482, 485 through 489, and 495, 496, and 497. Stage 1 joint procedure codes would include codes 80.05 (Arthrotomy for removal of prosthesis, hip), 80.06 (Arthrotomy for removal of prosthesis, knee), 00.73 (Revision of hip replacement, acetabular liner and/or femoral head only), and 00.84 (Revision of knee replacement, tibial insert (liner)).

• Stage 2 would include the implant of a new prosthesis and includes cases in MS-DRGs 461 and 462, 463, 464, and 465, 466, 467, and 468, and 469 and 470. Stage 2 joint procedure codes would include codes 00.70 (Revision of hip replacement, both acetabular and femoral components), 00.71 (Revision of hip replacement, acetabular component), 00.72 (Revision of hip replacement, femoral component), 00.80 (Revision of knee replacement, total (all components)), 00.81 (Revision of knee replacement, tibial component), 00.82 (Revision of knee replacement, femoral component), 00.85 (Resurfacing hip, total, acetabulum and femoral head), 00.86 (Resurfacing hip, partial, femoral head), 00.87 (Resurfacing hip, partial, acetabulum), 81.51 (Total hip replacement), 81.52 (Partial hip replacement), 81.53 (Revise hip replacement), 81.54 (Total knee replacement), 81.55 (Revise knee replacement), and 81.56 (Total ankle replacement).

As stated earlier, the AAHKS recommended patients with certain more severe diagnoses be grouped into a higher severity level. While most of AAHKS' comments focused on joint replacement patients with infections, the AAHKS also believed that patients with certain neoplasms require greater resources. To this group of infections and neoplasms, the AAHKS recommended the addition of four codes that capture acquired deformities. The AAHKS believed that these codes would capture admissions for the second stage of the treatment for an infected joint. The AAHKS stated that the significance of these diagnoses when they are reported as the principal code position was significant in predicting resource utilization. However, the impact was not as significant when the diagnosis was reported as a secondary diagnosis. The AAHKS recommended that patients with one of the following infection/neoplasm/defect principal diagnosis codes be segregated into a higher severity level.

Stage 1 Infection/Neoplasm/Defect Principal Diagnosis Codes

• 170.7 (Malignant neoplasm of long bones of lower limb).

• 171.3 (Malignant neoplasm of soft tissue, lower limb, including hip).

• 711.05 (Pyogenic arthritis, pelvic region and thigh).

• 711.06 (Pyogenic arthritis, lower leg).

• 730.05 (Acute osteomyelitis, pelvic region and thigh).

• 730.06 (Acute osteomyelitis, lower leg).

• 730.15 (Chronic osteomyelitis, pelvic region and thigh).

• 730.16 (Chronic osteomyelitis, lower leg).

• 730.25 (Unspecified osteomyelitis, pelvic region and thigh).

• 730.26 (Unspecified osteomyelitis, lower leg).

• 996.66 (Infection and inflammatory reaction due to internal joint prosthesis).

• 996.67 (Infection and inflammatory reaction due to other internal orthopedic device, implant, and graft).

Stage 2 Infection/Neoplasm/Defect Principal Diagnosis Codes (an Asterisk * Shows the Diagnoses Included in Stage 2 That Were Not Listed in Stage 1)

• 170.7 (Malignant neoplasm of long bones of lower limb).

• 171.3 (Malignant neoplasm of soft tissue, lower limb, including hip).

• 198.5 (Secondary malignant neoplasm of bone and bone marrow) .*

• 711.05 (Pyogenic arthritis, pelvic region and thigh).

• 711.06 (Pyogenic arthritis, lower leg).

• 730.05 (Acute osteomyelitis, pelvic region and thigh).

• 730.06 (Acute osteomyelitis, lower leg).

• 730.15 (Chronic osteomyelitis, pelvic region and thigh).

• 730.16 (Chronic osteomyelitis, lower leg).

• 730.25 (Unspecified osteomyelitis, pelvic region and thigh).

• 730.26 (Unspecified osteomyelitis, lower leg).

• 736.30 (Acquired deformities of hip, unspecified deformity).

• 736.39 (Other acquired deformities of hip) .*

• 736.6 (Other acquired deformities of knee) .*

• 736.89 (Other acquired deformities of other parts of limbs). *

• 996.66 (Infection and inflammatory reaction due to internal joint prosthesis). *

• 996.67 (Infection and inflammatory reaction due to other internal orthopedic device, implant, and graft). *

For the Stage 2 procedures, AAHKS also suggested the use of the following secondary diagnosis codes to assign the cases to a higher severity level. These conditions would not be the reason the patient was admitted to the hospital. They would instead represent secondary conditions that were also present on admission or conditions that were diagnosed after admission.

Stage 2 Infection/Neoplasm/Defect Secondary Diagnosis Codes

• 170.7 (Malignant neoplasm of long bones of lower limb).

• 171.3 (Malignant neoplasm of soft tissue, lower limb, including hip).

• 711.05 (Pyogenic arthritis, pelvic region and thigh).

• 711.06 (Pyogenic arthritis, lower leg).

• 730.05 (Acute osteomyelitis, pelvic region and thigh).

• 730.06 (Acute osteomyelitis, lower leg).

• 730.15 (Chronic osteomyelitis, pelvic region and thigh).

• 730.16 (Chronic osteomyelitis, lower leg).

• 730.25 (Unspecified osteomyelitis, pelvic region and thigh).

• 730.26 (Unspecified osteomyelitis, lower leg).

• 996.66 (Infection and inflammatory reaction due to internal joint prosthesis).

• 996.67 (Infection and inflammatory reaction due to other internal orthopedic device, implant, and graft).

(2) AAHKS Recommendation 2: Reclassify certain specific joint procedures.

The AAHKS suggested that cases with the infection/neoplasm/defect diagnoses listed above be segregated according to the Stage 1 and 2 groups listed above. The AAHKS made one final recommendation concerning joint procedure cases with infections. It identified a subset of patients who had a principal diagnosis of 996.66 (Infection and inflammatory reaction due to internal joint prosthesis) and who also had a secondary diagnosis of sepsis or septicemia. The AAHKS believed that these patients are for the most part admitted with both the joint infection and sepsis/septicemia present at the time of admission. The codes for sepsis/septicemia are classified as MCCs under MS-DRGs. The AAHKS believed it is inappropriate to count the secondary diagnosis of sepsis/septicemia as a MCC when it is reported with code 996.66. The AAHKS believed that counting sepsis and septicemia as a MCC results in double counting the infections. It believed that the joint infection and septicemia are the same infection. The AAHKS recommended that the following sepsis and septicemia codes not count as a MCC when reported with code 996.66:

• 038.0 (Streptococcal septicemia).

• 038.10 (Staphylococcal septicemia, unspecified).

• 038.11 (Staphylococcal aureus septicemia).

• 038.19 (Other staphylococcal septicemia).

• 038.2 (Pneumococcal septicemia [streptococcus pneumonia septicemia]).

• 038.3 (Septicemia due anaerobes).

• 038.40 (Septicemia due to gram-negative organisms).

• 038.41 (Hemophilus influenzae [H. Influenzae]).

• 038.42 (Escherichia coli [E. Coli]).

• 038.43 (Pseudomonas).

• 038.44 (Serratia).

• 038.49 (Other septicemia due to gram-negative organisms).

• 038.8 (Other specified septicemias).

• 038.9 (Unspecified septicemia).

• 995.91 (Sepsis).

• 995.92 (Severe sepsis).

e. CMS' Response to AAHKS' Recommendations

The MS-DRG modifications proposed by the AAHKS are quite complex and have many separate parts. We made changes to the MS-DRGs in FY 2008 as a result of a request by the AAHKS as discussed above, to recognize two types of partial knee replacements as less complex procedures. We have no data on how effective the new MS-DRGs for joint procedures are in differentiating patients with varying degrees of severity. Therefore, we analyzed data reported prior to the adoption of MS-DRGs to analyze each of the recommendations made. We begin our analysis by focusing first on the more simple aspects of the recommendations made by the AAHKS.

(1) Changing the MS-DRG Assignment for Codes 00.73, 00.83, and 00.84

As discussed previously, in FY 2008, the AAHKS recommended that CMS classify certain joint procedures as either routine or complex. We examined the data for these cases and found that the following two codes had significantly lower charges than the other joint revisions: 00.83 (Revision of knee replacement, patellar component) and 00.84 (Revision of knee replacement, tibial insert (liner)). Therefore, we moved these two codes to MS-DRGs 485, 486, and 487, and MS-DRGs 488 and 489.

As a result of AAHKS' most recent recommendations, we once again examined claims data for these two knee procedures (codes 00.83 and 00.84) as well as its request that we move code 00.73 (Revision of hip replacement, acetabular liner and/or femoral head only). Code 00.73 is assigned to MS-DRGs 466, 467, and 468. The following tables show our findings.

MS-DRG | Number of cases | Average length of stay | Average charges
485—All Cases | 1,122 | 12.20 | $64,672.47
485—Cases with Code 00.83 or 00.84 | 179 | 11.83 | 64,446.68
485—Cases without Code 00.83 or 00.84 | 943 | 12.27 | 64,715.33
486—All Cases | 2,061 | 8.03 | 40,758.55
486—Cases with Code 00.83 or 00.84 | 464 | 7.34 | 39,864.39
486—Cases without Code 00.83 or 00.84 | 1,597 | 8.23 | 41,018.34
487—All Cases | 1,236 | 5.67 | 29,180.88
487—Cases with Code 00.83 or 00.84 | 284 | 5.61 | 31,231.79
487—Cases without Code 00.83 or 00.84 | 952 | 5.68 | 28,569.06
488—All Cases | 2,374 | 5.17 | 30,180.80
488—Cases with code 00.83 or 00.84 | 754 | 4.09 | 28,432.06
488—Cases without code 00.83 or 00.84 | 1,620 | 5.67 | 30,994.73
489—All Cases | 5,493 | 3.04 | 21,385.67
489—Cases with code 00.83 or 00,.84 | 2,154 | 3.07 | 23,122.18
489—Cases without code 00.83 or 00.84 | 3,339 | 3.03 | 20,265.44
469—All cases | 29,030 | 8.17 | 56,681.64
470—All Cases | 385,123 | 3.93 | 36,126.23
466—All Cases | 3,888 | 9.18 | 76,015.66
466—Cases with Code 00.73 | 273 | 10.02 | 71,293.33
466—Cases without Code 00.73 | 3,616 | 9.12 | 76,372.06
467—All Cases | 13,551 | 5.50 | 53,431.63
467—Cases with Code 00.73 | 1,078 | 5.94 | 43,635.63
467—Cases without Code 00.73 | 12,484 | 5.47 | 54,284.13
468—All Cases | 19,917 | 3.94 | 44,055.62
468—Cases with Code 00.73 | 1,688 | 3.93 | 33,449.22
468—Cases without Code 00.73 | 18,232 | 3.94 | 45,037.09
469—All Cases | 29,030 | 8.17 | 56,681.64
470—All Cases | 385,123 | 3.93 | 36,126.23

The tables show that codes 00.73, 00.83, and 00.84 are appropriately assigned to their current MS-DRGs. The data do not support moving these three codes to MS-DRGs 469 and 470. Therefore, we are not proposing a change of MS-DRG assignment for codes 00.73, 00.83, and 00.84.

(2) Excluding Sepsis and Septicemia From Being a MCC With Code 996.66

There are cases where a patient may be admitted with an infection of a joint prosthesis (code 996.66) and also have sepsis. In these cases, it may be possible to perform joint procedures as suggested by AAHKS. However, in other cases, a patient may be admitted with an infection of a joint prosthesis and then develop sepsis during the stay. Because our current data do not indicate whether a condition is present on admission, we could not determine whether or not the sepsis occurred after admission. Our data have consistently shown that cases of sepsis and septicemia require significant resources. Therefore, we classified the sepsis and septicemia codes as MCCs. Our clinical advisors do not believe it is appropriate to exclude all cases of sepsis and septicemia that are reported as a secondary diagnosis with code 996.66 from being classified as a MCC. We discuss septicemia as part of hospital acquired conditions provision under section II.F. of the preamble of this proposed rule. For the purposes of classifying sepsis and septicemia as non-CCs when reported with code 996.66, we do not support this recommendation. Therefore, we are not proposing that the sepsis and septicemia codes be added to the CC exclusion list for code 996.66.

(3) Differences Between Stage 1 and 2 Cases With Severe Diagnoses

We next examined data on AAHKS' suggestion that there are significantly differences in resource utilization for cases they refer to as Stage 1 and 2. AAHKS stated that this is particularly true for those with infections, neoplasms, or structural defects. We used the list of procedure codes listed above that AAHKS describes as Stage 1 and 2 procedures. We also used AAHKS' designated lists of Stage 1 and 2 principal diagnosis codes to examine this proposal. This proposal entails moving cases with a Stage 1 or 2 principal diagnosis and procedure out of their current MS-DRG assignment in the following 19 MS-DRGs and into a newly consolidated set of MS-DRGs: MS-DRGs 463, 464, and 465, 480, 481, and 482, 485 through 489, and 495, 496, and 497.

As can be seen from the information below, there was not a significant difference in average charges between these Stage 1 and Stage 2 cases that have an MCC.

Stage 1.—Cases With Infection, Neoplasm, or Structural Defect
Stage 1 | Total cases | Average length of stay | Average charges
With MCC | 1,306 | 14.1 | $79,232
Without MCC | 4,115 | 7.6 | 44,716

Stage 2.—Cases With Infection, Neoplasm, or Structural Defect
Stage 2 | Total cases | Average length of stay | Average charges
With MCC | 1,072 | 10.9 | $80,781
Without MCC | 5,413 | 6.0 | 57,355

Average charges for Stage 1 cases with an MCC was $79,232 compared to $80,781 for Stage 2. Stage 1 cases without an MCC had average charges of $44,716 compared to $57,355. These data do not support reconfiguring the current MS-DRGs based on this new subdivision.

(4) Moving Joint Procedure Cases to New MS-DRGs Based on Secondary Diagnoses of Infection

We examined AAHKS' recommendation that Stage 2 joint cases with specific secondary diagnoses of infection or neoplasm be moved out of their current MS-DRG assignments and into a newly constructed MS-DRG.

We are reluctant to make this type of significant DRG change to the joint MS-DRGs based on the presence of a secondary diagnosis. This results in the movement of cases out of MS-DRGs which were configured based on the reason for the admission (for example, principal diagnosis) and surgery. The cases would instead be assigned based on conditions that are reported as secondary diagnoses. In some cases, the infection may have developed or be diagnosed during the admission. This would be a significant logic change to the MS-DRGs for joint procedures. We have not had an opportunity to examine claims data based on hospital discharges under the MS-DRGs which began October 1, 2008. Our clinical advisors believe it would be more appropriate to wait for data under the new MS-DRG system to determine how well the new severity levels are addressing accurate payment for these cases before considering this approach to assigning cases to a MS-DRG.

(5) Moving Cases With Infection, Neoplasms, or Structural Defects Out of 19 MS-DRGs and Into Two Newly Developed MS-DRGs

The last recommended by AAHKS that we considered was moving cases with a principal diagnosis of infection, neoplasm, or structural defect from their list of Stage 1 and 2 diagnoses and consolidated them into newly constructed and modified MS-DRGs. AAHKS could not identify an existing set of MS-DRGs with similar resource utilizations into which the Stage 1 cases could be assigned. Therefore, the AAHKS recommended that CMS create three new MS-DRGs for Stage 1 cases with infections, neoplasms and structural defects which would be titled “Arthrotomy/Removal/Component exchange of Infected Hip or Knee Prosthesis with MCC, with CC, and without CC/MCC”, respectively.

The AAHKS recommended moving Stage 2 cases out of MS-DRGs 466, 467, and 468, and 469 and 470 and into MS-DRGs 461 and 462. AAHKS recommended that MS-DRGs 461 and 462 be renamed “Major Joint Procedures of Lower Extremity—Bilateral/Multiple/Infection/Malignancy”.

In reviewing these proposed changes, we had a number of concerns. The first concern was that these proposed changes would result in the removal of cases with varying average charges from 19 current MS-DRGs and consolidating them into two separate sets of MS-DRGs. As the data below indicate, the average charges vary from as low as $29,181 in MS-DRG 487 to $81,089 in MS-DRG 463. Furthermore, the average charges for these infection/neoplasm/structural defect cases are very similar to other cases in their respective MS-DRG assignments for many of these MS-DRGs. There are cases where the average charges are higher. In MS-DRG 469 and 470, the infection/neoplasm/structural defect cases are significantly higher. However, there are only 136 cases in MS-DRG 469 out of a total of 29,030 cases with these diagnoses. There are only 673 cases in MS-DRG 470 out of a total of 385,123 cases with one of these diagnoses. The table below clearly demonstrates the wide variety of charges for cases with these diagnoses.

MS-DRGs | Number of cases | Average length of stay | Average charges
463—All Cases | 4,747 | 16.25 | $73,405.46
463—Cases with PDX of Infection/Malignancy/React | 1,009 | 17.79 | 81,089.07
464—All Cases | 5,499 | 10.21 | 44,387.73
464—Cases with PDX of Infection/Malignancy/React | 1,420 | 10.59 | 46,800.60
465—All Cases | 2,271 | 5.95 | 26,631.57
465—Cases with PDX of Infection/Malignancy/React | 557 | 10.59 | 29,816.40
466—All Cases | 3,888 | 9.18 | 76,015.66
466—Cases with PDX of Infection/Malignancy/React | 890 | 10.67 | 79,334.69
467—All Cases | 13,551 | 5.50 | 53,431.63
467—Cases with PDX of Infection/Malignancy/React | 2,401 | 6.71 | 58,506.86
468—All Cases | 19,917 | 3.94 | 44,055.62
468—Cases with PDX of Infection/Malignancy/React | 1,994 | 4.76 | 54,322.03
469—All Cases | 29,030 | 8.17 | 56,681.64
469—Cases with PDX of Infection/Malignancy/React | 136 | 11.74 | 85,256.07
470—All Cases | 385,123 | 3.93 | 36,126.23
470—Cases with PDX of Infection/Malignancy/React | 673 | 6.44 | 59,676.31
480—All Cases | 25,391 | 9.32 | 52,281.65
480—Cases with PDX of Infection/Malignancy/React | 880 | 14.53 | 76,355.15
481—All Cases | 68,655 | 5.94 | 32,963.64
481—Cases with PDX of Infection/Malignancy/React | 878 | 8.78 | 48,655.30
482—All Cases | 45,832 | 4.86 | 27,266.20
482—Cases with PDX of Infection/Malignancy/React | 577 | 6.19 | 37,572.38
485—All Cases | 1,122 | 12.20 | 64,672.47
485—Cases with PDX of Infection/Malignancy/React | 1,122 | 12.20 | 64,672.47
486—All Cases | 2,061 | 8.03 | 40,758.55
486—Cases with PDX of Infection/Malignancy/React | 2,061 | 8.03 | 40,758.55
487—All Cases | 1,236 | 5.67 | 29,180.88
487—Cases with PDX of Infection/Malignancy/React | 1,236 | 5.67 | 29,180.88
488—All Cases | 2,374 | 5.17 | 30,180.80
488—Cases with PDX of Infection/Malignancy/React | 31 | 7.13 | 50,155.42
489—All Cases | 5,493 | 3.04 | 21,385.67
489—Cases with PDX of Infection/Malignancy/React | 36 | 3.72 | 35,313.84
495—All Cases | 1,860 | 10.94 | 55,103.91
495—Cases with PDX of Infection/Malignancy/React | 1,025 | 11.74 | 59,453.69
496—All Cases | 5,203 | 5.95 | 32,177.29
496—Cases with PDX of Infection/Malignancy/React | 2,759 | 6.98 | 36,940.99
497—All Cases | 6,259 | 3.01 | 21,445.60
497—Cases with PDX of Infection/Malignancy/React | 1,500 | 5.18 | 29,966.98

Given the wide variety of charges and the small number of cases where there are differences in charges, we do not believe the data support the AAHKS' recommendations. The data do not support removing these cases from the 19 MS-DRGs above and consolidating them into a new set of MS-DRGs, either newly created, or by adding them to MS-DRG 461 or 462, which have average charges of $80,718 and $57,355, respectively.

A second major concern involves redefining MS-DRGs 461 and 462 is that these MS-DRG currently captures bilateral and multiple joint procedures. These MS-DRGs were specifically created to capture a unique set of patients who undergo procedures on more than one lower joint. Redefining these MS-DRGs to include both single and multiple joints undermines the clinical coherence of this MS-DRG. It would create a widely diverse group of patients based on either a list of specific diagnoses or the fact that the patient had multiple lower joint procedures.

f. Conclusion

The AAHKS recommended a number of complicated, interrelated MS-DRG changes to the joint procedure MS-DRGs. We have not yet had the opportunity to review data for these cases under the new MS-DRGs. We did analyze the impact of these recommendations using cases prior to the implementation of MS-DRGs. The recommendations were difficult to analyze because there were so many separate logic changes that impacted a number of MS-DRGs. We did examine each major suggestion separately, and found that our data and clinical analysis did not support making these changes. Therefore, we are not proposing any revisions to the joint procedure MS-DRGs for FY 2009. We look forward to examining these issues once we receive data under the MS-DRG system. We also welcome additional recommendations from the AAHKS and others on a more incremental approach to resolving its concerns about the ability of the current MS-DRGs to adequately capture differences in severity levels for joint procedure patients.

5. MDC 18 (Infections and Parasitic Diseases (Systemic or Unspecified Sites)): Severe Sepsis

We received a request from a manufacturer to modify the titles for three MS-DRGs with the most significant concentration of severe sepsis patients. The manufacturer stated that modification of the titles will assist in quality improvement efforts and provide a better reflection on the types of patients included in these MS-DRGs. Specifically, the manufacturer urged CMS to incorporate the term “severe sepsis” into the titles of the following MS-DRGs that became effective October 1, 2007 (FY 2008)

• MS-DRG 870 (Septicemia with Mechanical Ventilation 96+ Hours).

• MS-DRG 871 (Septicemia without Mechanical Ventilation 96+ Hours with MCC).

• MS-DRG 872 (Septicemia without Mechanical Ventilation 96+ Hours without MCC).

These MS-DRGs were created to better recognize severity of illness among patients diagnosed with conditions including septicemia, severe sepsis, septic shock, and systemic inflammatory response syndrome (SIRS) who are also treated with mechanical ventilation for a specified duration of time.

According to the manufacturer, “severe sepsis is a common, deadly and costly disease, yet the number of patients impacted and the outcomes associated with their care remain largely hidden within the administrative data set.” The manufacturer further noted that, although improvements have been made in the ICD-9-CM coding of severe sepsis (diagnosis code 995.92) and septic shock (diagnosis code 785.52), results of an analysis demonstrated an unacceptably high mortality rate for patients reported to have those conditions. The manufacturer believed that revising the titles to incorporate “severe sepsis” will provide various clinicians and researchers the opportunity to improve outcomes for these patients. Therefore, the manufacturer recommended revising the current MS-DRG titles as follows:

• Proposed Revised MS-DRG 870 (Septicemia or Severe Sepsis with Mechanical Ventilation 96+ Hours).

• Proposed Revised MS-DRG 871 (Septicemia or Severe Sepsis without Mechanical Ventilation 96+ Hours with MCC).

• Proposed Revised MS-DRG 872 (Septicemia or Severe Sepsis without Mechanical Ventilation 96+ Hours without MCC).

We agree with the manufacturer that revising the current MS-DRG titles to include the term “severe sepsis” would better assist in the recognition and identification of this disease, which could lead to better clinical outcomes and quality improvement efforts. In addition, both severe sepsis (diagnosis code 995.92) and septic shock (diagnosis code 785.52) are currently already assigned to these three MS-DRGs. Therefore, we are proposing to revise the titles of MS-DRGs 870, 871, and 872 to reflect severe sepsis in the titles as suggested by the manufacturer and listed above for FY 2009.

6. MDC 21 (Injuries, Poisonings and Toxic Effects of Drugs): Traumatic Compartment Syndrome

Traumatic compartment syndrome is a condition in which increased pressure within a confined anatomical space that contains blood vessels, muscles, nerves, and bones causes a decrease in blood flow and may lead to tissue necrosis.

There are five ICD-9-CM diagnosis codes that were created effective October 1, 2006, to identify traumatic compartment syndrome of various sites.

• 958.90 (Compartment syndrome, unspecified).

• 958.91 (Traumatic compartment syndrome of upper extremity).

• 958.92 (Traumatic compartment syndrome of lower extremity).

• 958.93 (Traumatic compartment syndrome of abdomen).

• 958.99 (Traumatic compartment syndrome of other sites) .

Cases with one of the diagnosis codes listed above reported as the principal diagnosis and no operating room procedure are assigned to either MS-DRG 922 (Other Injury, Poisoning and Toxic Effect Diagnosis with MCC) or MS-DRG 923 (Other Injury, Poisoning and Toxic Effect Diagnosis without MCC) in MDC 21.

In the FY 2008 IPPS final rule with comment period when we adopted the MS-DRGs, we inadvertently omitted the addition of these traumatic compartment syndrome codes 958.90 through 958.99 to the multiple trauma MS-DRGs 963 (Other Multiple Significant Trauma with MCC), MS-DRG 964 (Other Multiple Significant Trauma with CC), and MS-DRG 965 (Other Multiple Significant Trauma without CC/MCC) in MDC 24 (Multiple Significant Trauma). Cases are assigned to MDC 24 based on the principal diagnosis of trauma and at least two significant trauma diagnosis codes (either as principal or secondary diagnoses) from different body site categories. There are eight different body site categories as follows:

• Significant head trauma.

• Significant chest trauma.

• Significant abdominal trauma.

• Significant kidney trauma.

• Significant trauma of the urinary system.

• Significant trauma of the pelvis or spine.

• Significant trauma of the upper limb.

• Significant trauma of the lower limb.

Therefore, we are proposing to add traumatic compartment syndrome codes 958.90 through 958.99 to MS-DRGs 963 and MS-DRG 965 in MDC 24. Under this proposal, codes 958.90 through 958.99 would be added to the list of principal diagnosis of significant trauma. In addition, code 958.91 would be added to the list of significant trauma of upper limb, code 958.92 would be added to the list of significant trauma of lower limb, and code 958.93 would be added to the list of significant abdominal trauma.

7. Medicare Code Editor (MCE) Changes

As explained under section II.B.1. of the preamble of this proposed rule, the Medicare Code Editor (MCE) is a software program that detects and reports errors in the coding of Medicare claims data. Patient diagnoses, procedure(s), and demographic information are entered into the Medicare claims processing systems and are subjected to a series of automated screens. The MCE screens are designed to identify cases that require further review before classification into a DRG. For FY 2009, we are proposing to make the following changes to the MCE edits:

a. List of Unacceptable Principal Diagnoses in MCE

Diagnosis code V62.84 (Suicidal ideation) was created for use beginning October 1, 2005. At the time the diagnosis code was created, it was not clear that the creation of this code was requested in order to describe the principal reason for admission to a facility or the principal reason for treatment. The NCHS Official ICD-9-CM Coding Guidelines therefore categorized the group of codes in V62.X for use only as additional or secondary diagnoses. It has been brought to the government's attention that the use of this code is hampered by its designation as an additional-only diagnosis. NCHS has therefore modified the Official Coding Guidelines for FY 2009 by making this code acceptable as a principal diagnosis as well as an additional diagnosis. In order to conform to this change by NCHS, we are proposing to remove code V62.84 from the MCE list of “Unacceptable Principal Diagnoses” for FY 2009.

b. Diagnoses Allowed for Males Only Edit

There are four diagnosis codes that were inadvertently left off of the MCE edit titled “Diagnoses Allowed for Males Only.” These codes are located in the chapter of the ICD-9-CM diagnosis codes entitled “Diseases of Male Genital Organs.” We are proposing to add the following four codes to this MCE edit: 603.0 (Encysted hydrocele), 603.1 (Infected hydrocele), 603.8 (Other specified types of hydrocele), and 603.9 (Hydrocele, unspecified). We have had no reported problems or confusion with the omission of these codes from this section of the MCE, but in order to have an accurate product, we are proposing that these codes be added for FY 2009.

c. Limited Coverage Edit

As explained in section II.G.1. of the preamble of this proposed rule, we are proposing to remove procedure code 37.52 (Implantation of internal biventricular heart replacement system) from the MCE “Non-Covered Procedure” edit and to assign it to the “Limited Coverage” edit. We are proposing to include in this proposed edit the requirement that ICD-9-CM diagnosis code V70.7 (Examination of participant in clinical trial) also be present on the claim. We are proposing that claims submitted without both procedure code 37.52 and diagnosis code V70.7 would be denied because they would not be in compliance with the proposed coverage policy explained in section II.G.1. of this preamble.

8. Surgical Hierarchies

Some inpatient stays entail multiple surgical procedures, each one of which, occurring by itself, could result in assignment of the case to a different MS-DRG within the MDC to which the principal diagnosis is assigned. Therefore, it is necessary to have a decision rule within the GROUPER by which these cases are assigned to a single MS-DRG. The surgical hierarchy, an ordering of surgical classes from most resource-intensive to least resource-intensive, performs that function. Application of this hierarchy ensures that cases involving multiple surgical procedures are assigned to the MS-DRG associated with the most resource-intensive surgical class.

Because the relative resource intensity of surgical classes can shift as a function of MS-DRG reclassification and recalibrations, we reviewed the surgical hierarchy of each MDC, as we have for previous reclassifications and recalibrations, to determine if the ordering of classes coincides with the intensity of resource utilization.

A surgical class can be composed of one or more MS-DRGs. For example, in MDC 11, the surgical class “kidney transplant” consists of a single MS-DRG (MS-DRG 652) and the class “kidney, ureter and major bladder procedures” consists of three MS-DRGs (MS-DRGs 653, 654, and 655). Consequently, in many cases, the surgical hierarchy has an impact on more than one MS-DRG. The methodology for determining the most resource-intensive surgical class involves weighting the average resources for each MS-DRG by frequency to determine the weighted average resources for each surgical class. For example, assume surgical class A includes MS-DRGs 1 and 2 and surgical class B includes MS-DRGs 3, 4, and 5. Assume also that the average charge of MS-DRG 1 is higher than that of MS-DRG 3, but the average charges of MS-DRGs 4 and 5 are higher than the average charge of MS-DRG 2. To determine whether surgical class A should be higher or lower than surgical class B in the surgical hierarchy, we would weight the average charge of each MS-DRG in the class by frequency (that is, by the number of cases in the MS-DRG) to determine average resource consumption for the surgical class. The surgical classes would then be ordered from the class with the highest average resource utilization to that with the lowest, with the exception of “other O.R. procedures” as discussed below.

This methodology may occasionally result in assignment of a case involving multiple procedures to the lower-weighted MS-DRG (in the highest, most resource-intensive surgical class) of the available alternatives. However, given that the logic underlying the surgical hierarchy provides that the GROUPER search for the procedure in the most resource-intensive surgical class, in cases involving multiple procedures, this result is sometimes unavoidable.

We note that, notwithstanding the foregoing discussion, there are a few instances when a surgical class with a lower average charge is ordered above a surgical class with a higher average charge. For example, the “other O.R. procedures” surgical class is uniformly ordered last in the surgical hierarchy of each MDC in which it occurs, regardless of the fact that the average charge for the MS-DRG or MS-DRGs in that surgical class may be higher than that for other surgical classes in the MDC. The “other O.R. procedures” class is a group of procedures that are only infrequently related to the diagnoses in the MDC, but are still occasionally performed on patients in the MDC with these diagnoses. Therefore, assignment to these surgical classes should only occur if no other surgical class more closely related to the diagnoses in the MDC is appropriate.

A second example occurs when the difference between the average charges for two surgical classes is very small. We have found that small differences generally do not warrant reordering of the hierarchy because, as a result of reassigning cases on the basis of the hierarchy change, the average charges are likely to shift such that the higher-ordered surgical class has a lower average charge than the class ordered below it.

For FY 2009, we are proposing a revision of the surgical hierarchy for MDC 5 (Diseases and Disorders of the Circulatory System) by placing MS-DRG 245 (AICD Generator Procedures) above proposed new MS-DRG 265 (AICD Lead Procedures).

9. CC Exclusions List

a. Background

As indicated earlier in the preamble of this proposed rule, under the IPPS DRG classification system, we have developed a standard list of diagnoses that are considered CCs. Historically, we developed this list using physician panels that classified each diagnosis code based on whether the diagnosis, when present as a secondary condition, would be considered a substantial complication or comorbidity. A substantial complication or comorbidity was defined as a condition that, because of its presence with a specific principal diagnosis, would cause an increase in the length of stay by at least 1 day in at least 75 percent of the patients. We refer readers to section II.D.2. and 3. of the preamble of the FY 2008 IPPS final rule with comment period for a discussion of the refinement of CCs in relation to the MS-DRGs we adopted for FY-2008 (72 FR 47152 through 47121).

b. CC Exclusions List for FY 2009

In the September 1, 1987 final notice (52-FR-33143) concerning changes to the DRG classification system, we modified the GROUPER logic so that certain diagnoses included on the standard list of CCs would not be considered valid CCs in combination with a particular principal diagnosis. We created the CC Exclusions List for the following reasons: (1) To preclude coding of CCs for closely related conditions; (2) to preclude duplicative or inconsistent coding from being treated as CCs; and (3) to ensure that cases are appropriately classified between the complicated and uncomplicated DRGs in a pair. As we indicated above, we developed a list of diagnoses, using physician panels, to include those diagnoses that, when present as a secondary condition, would be considered a substantial complication or comorbidity. In previous years, we have made changes to the list of CCs, either by adding new CCs or deleting CCs already on the list.

In the May 19, 1987 proposed notice (52 FR 18877) and the September 1, 1987 final notice (52 FR 33154), we explained that the excluded secondary diagnoses were established using the following five principles:

• Chronic and acute manifestations of the same condition should not be considered CCs for one another.

• Specific and nonspecific (that is, not otherwise specified (NOS)) diagnosis codes for the same condition should not be considered CCs for one another.

• Codes for the same condition that cannot coexist, such as partial/total, unilateral/bilateral, obstructed/unobstructed, and benign/malignant, should not be considered CCs for one another.

• Codes for the same condition in anatomically proximal sites should not be considered CCs for one another.

• Closely related conditions should not be considered CCs for one another.

The creation of the CC Exclusions List was a major project involving hundreds of codes. We have continued to review the remaining CCs to identify additional exclusions and to remove diagnoses from the master list that have been shown not to meet the definition of a CC.¹²

¹² See the FY 1989 final rule (53 FR 38485, September 30, 1988), for the revision made for the discharges occurring in FY 1989; the FY 1990 final rule (54 FR 36552, September 1, 1989), for the FY 1990 revision; the FY 1991 final rule (55 FR 36126, September 4, 1990), for the FY 1991 revision; the FY 1992 final rule (56 FR 43209, August 30, 1991) for the FY 1992 revision; the FY 1993 final rule (57 FR 39753, September 1, 1992), for the FY 1993 revision; the FY 1994 final rule (58 FR 46278, September 1, 1993), for the FY 1994 revisions; the FY 1995 final rule (59 FR 45334, September 1, 1994), for the FY 1995 revisions; the FY 1996 final rule (60 FR 45782, September 1, 1995), for the FY 1996 revisions; the FY 1997 final rule (61 FR 46171, August 30, 1996), for the FY 1997 revisions; the FY 1998 final rule (62 FR 45966, August 29, 1997) for the FY 1998 revisions; the FY 1999 final rule (63 FR 40954, July 31, 1998), for the FY 1999 revisions; the FY 2001 final rule (65 FR 47064, August 1, 2000), for the FY 2001 revisions; the FY 2002 final rule (66 FR 39851, August 1, 2001), for the FY 2002 revisions; the FY 2003 final rule (67 FR 49998, August 1, 2002), for the FY 2003 revisions; the FY 2004 final rule (68 FR 45364, August 1, 2003), for the FY 2004 revisions; the FY 2005 final rule (69 FR 49848, August 11, 2004), for the FY 2005 revisions; the FY 2006 final rule (70 FR 47640, August 12, 2005), for the FY 2006 revisions; the FY 2007 final rule (71 FR 47870) for the FY 2007 revisions; and the FY 2008 final rule (72 FR 47130) for the FY 2008 revisions. In the FY 2000 final rule (64 FR 41490, July 30, 1999, we did not modify the CC Exclusions List because we did not make any changes to the ICD-9-CM codes for FY 2000.

For FY 2009, we are proposing to make limited revisions to the CC Exclusions List to take into account the changes that will be made in the ICD-9-CM diagnosis coding system effective October 1, 2008. (See section II.G.11. of the preamble of this proposed rule with comment period for a discussion of ICD-9-CM changes.) We are proposing to make these changes in accordance with the principles established when we created the CC Exclusions List in 1987. In addition, as discussed in section II.D.3. of the preamble of this proposed rule, we are indicating on the CC exclusion list some updates to reflect the exclusion of a few codes from being an MCC under the MS-DRG system that we adopted for FY 2008.

Tables 6G and 6H, Additions to and Deletions from the CC Exclusion List, respectively, which will be effective for discharges occurring on or after October 1, 2008, are not being published in this proposed rule because of the length of the two tables. Instead, we are making them available through the Internet on the CMS Web site at: http://www.cms.hhs.gov/AcuteInpatientPPS. Each of these principal diagnoses for which there is a CC exclusion is shown in Tables 6G and 6H with an asterisk, and the conditions that will not count as a CC, are provided in an indented column immediately following the affected principal diagnosis.

A complete updated MCC, CC, and Non-CC Exclusions List is also available through the Internet on the CMS Web site at: http:/www.cms.hhs.gov/AcuteInpatientPPS. Beginning with discharges on or after October 1, 2008, the indented diagnoses will not be recognized by the GROUPER as valid CCs for the asterisked principal diagnosis.

To assist readers in the review of changes to the MCC and CC lists that occurred as a result of updates to the ICD-9-CM codes, as described in Tables 6A, 6C, and 6E, we are providing the following summaries of those MCC and CC changes.

Summary of Additions to the MS-DRG MCC List.—Table 6I.1
Code | Description
249.10 | Secondary diabetes mellitus with ketoacidosis, not stated as uncontrolled, or unspecified.
249.11 | Secondary diabetes mellitus with ketoacidosis, uncontrolled.
249.20 | Secondary diabetes mellitus with hyperosmolarity, not stated as uncontrolled, or unspecified.
249.21 | Secondary diabetes mellitus with hyperosmolarity, uncontrolled.
249.30 | Secondary diabetes mellitus with other coma, not stated as uncontrolled, or unspecified.
249.31 | Secondary diabetes mellitus with other coma, uncontrolled.
707.23 | Pressure ulcer, stage III.
707.24 | Pressure ulcer, stage IV.
777.50 | Necrotizing enterocolitis in newborn, unspecified.
777.51 | Stage I necrotizing enterocolitis in newborn.
777.52 | Stage II necrotizing enterocolitis in newborn.
777.53 | Stage III necrotizing enterocolitis in newborn.
780.72 | Functional quadriplegia.

Summary of Deletions From the MS-DRG MCC List.—Table 6I.2
Code | Description
136.2 | Specific infections by free-living amebae.
511.8 | Other specified forms of pleural effusion, except tuberculous.
707.02 | Pressure ulcer, upper back.
707.03 | Pressure ulcer, lower back.
707.04 | Pressure ulcer, hip.
707.05 | Pressure ulcer, buttock.
707.06 | Pressure ulcer, ankle.
707.07 | Pressure ulcer, heel.
777.5 | Necrotizing enterocolitis in fetus or newborn.

Summary of Additions to the MS-DRG CC List.—Table 6J.1
Code | Description
046.11 | Variant Creutzfeldt-Jakob disease.
046.19 | Other and unspecified Creutzfeldt-Jakob disease.
046.71 | Gerstmann-Sträussler-Scheinker syndrome.
046.72 | Fatal familial insomnia.
046.79 | Other and unspecified prion disease of central nervous system.
059.01 | Monkeypox.
059.21 | Tanapox.
136.29 | Other specific infections by free-living amebae.
199.2 | Malignant neoplasm associated with transplant organ.
203.02 | Multiple myeloma, in relapse.
203.12 | Plasma cell leukemia, in relapse.
203.82 | Other immunoproliferative neoplasms, in relapse.
204.02 | Acute lymphoid leukemia, in relapse.
204.12 | Chronic lymphoid leukemia, in relapse.
204.22 | Subacute lymphoid leukemia, in relapse.
204.82 | Other lymphoid leukemia, in relapse.
204.92 | Unspecified lymphoid leukemia, in relapse.
205.02 | Acute myeloid leukemia, in relapse.
205.12 | Chronic myeloid leukemia, in relapse.
205.22 | Subacute myeloid leukemia, in relapse.
205.32 | Myeloid sarcoma, in relapse.
205.82 | Other myeloid leukemia, in relapse.
205.92 | Unspecified myeloid leukemia, in relapse.
206.02 | Acute monocytic leukemia, in relapse.
206.12 | Chronic monocytic leukemia, in relapse.
206.22 | Subacute monocytic leukemia, in relapse.
206.82 | Other monocytic leukemia, in relapse.
206.92 | Unspecified monocytic leukemia, in relapse.
207.02 | Acute erythremia and erythroleukemia, in relapse.
207.12 | Chronic erythremia, in relapse.
207.22 | Megakaryocytic leukemia, in relapse.
207.82 | Other specified leukemia, in relapse.
208.02 | Acute leukemia of unspecified cell type, in relapse.
208.12 | Chronic leukemia of unspecified cell type, in relapse.
208.22 | Subacute leukemia of unspecified cell type, in relapse.
208.82 | Other leukemia of unspecified cell type, in relapse.
208.92 | Unspecified leukemia, in relapse.
209.00 | Malignant carcinoid tumor of the small intestine, unspecified portion.
209.01 | Malignant carcinoid tumor of the duodenum.
209.02 | Malignant carcinoid tumor of the jejunum.
209.03 | Malignant carcinoid tumor of the ileum.
209.10 | Malignant carcinoid tumor of the large intestine, unspecified portion.
209.11 | Malignant carcinoid tumor of the appendix.
209.12 | Malignant carcinoid tumor of the cecum.
209.13 | Malignant carcinoid tumor of the ascending colon.
209.14 | Malignant carcinoid tumor of the transverse colon.
209.15 | Malignant carcinoid tumor of the descending colon.
209.16 | Malignant carcinoid tumor of the sigmoid colon.
209.17 | Malignant carcinoid tumor of the rectum.
209.20 | Malignant carcinoid tumor of unknown primary site.
209.21 | Malignant carcinoid tumor of the bronchus and lung.
209.22 | Malignant carcinoid tumor of the thymus.
209.23 | Malignant carcinoid tumor of the stomach.
209.24 | Malignant carcinoid tumor of the kidney.
209.25 | Malignant carcinoid tumor of foregut, not otherwise specified.
209.26 | Malignant carcinoid tumor of midgut, not otherwise specified.
209.27 | Malignant carcinoid tumor of hindgut, not otherwise specified.
209.29 | Malignant carcinoid tumor of other sites.
209.30 | Malignant poorly differentiated neuroendocrine carcinoma, any site.
238.77 | Post-transplant lymphoproliferative disorder (PTLD).
279.50 | Graft-versus-host disease, unspecified.
279.51 | Acute graft-versus-host disease.
279.52 | Chronic graft-versus-host disease.
279.53 | Acute on chronic graft-versus-host disease.
346.60 | Persistent migraine aura with cerebral infarction, without mention of intractable migraine without mention of status migrainosus.
346.61 | Persistent migraine aura with cerebral infarction, with intractable migraine, so stated, without mention of status migrainosus.
346.62 | Persistent migraine aura with cerebral infarction, without mention of intractable migraine with status migrainosus.
346.63 | Persistent migraine aura with cerebral infarction, with intractable migraine, so stated, with status migrainosus.
511.81 | Malignant pleural effusion.
511.89 | Other specified forms of effusion, except tuberculous.
649.70 | Cervical shortening, unspecified as to episode of care or not applicable.
649.71 | Cervical shortening, delivered, with or without mention of antepartum condition.
649.73 | Cervical shortening, antepartum condition or complication.
695.12 | Erythema multiforme major.
695.13 | Stevens-Johnson syndrome.
695.14 | Stevens-Johnson syndrome-toxic epidermal necrolysis overlap syndrome.
695.15 | Toxic epidermal necrolysis.
695.53 | Exfoliation due to erythematous condition involving 30-39 percent of body surface.
695.54 | Exfoliation due to erythematous condition involving 40-49 percent of body surface.
695.55 | Exfoliation due to erythematous condition involving 50-59 percent of body surface.
695.56 | Exfoliation due to erythematous condition involving 60-69 percent of body surface.
695.57 | Exfoliation due to erythematous condition involving 70-79 percent of body surface.
695.58 | Exfoliation due to erythematous condition involving 80-89 percent of body surface.
695.59 | Exfoliation due to erythematous condition involving 90 percent or more of body surface.
997.31 | Ventilator associated pneumonia.
997.39 | Other respiratory complications.
998.30 | Disruption of wound, unspecified.
998.33 | Disruption of traumatic wound repair.
999.81 | Extravasation of vesicant chemotherapy.
999.82 | Extravasation of other vesicant agent.

Summary of Deletions to the MS-DRG CC List.—Table 6J.2
Code | Description
046.1 | Jakob-Creutzfeldt disease.
337.0 | Idiopathic peripheral autonomic neuropathy.
695.1 | Erythema multiforme.
707.00 | Pressure ulcer, unspecified site.
707.01 | Pressure ulcer, elbow.
707.09 | Pressure ulcer, other site.
997.3 | Respiratory complications.
999.8 | Other transfusion reaction.

Alternatively, the complete documentation of the GROUPER logic, including the current CC Exclusions List, is available from 3M/Health Information Systems (HIS), which, under contract with CMS, is responsible for updating and maintaining the GROUPER program. The current DRG Definitions Manual, Version 25.0, is available for $225.00, which includes $15.00 for shipping and handling. Version 26.0 of this manual, which will include the final FY 2009 DRG changes, will be available in hard copy for $250.00. Version 26.0 of the manual is also available on a CD for $200.00; a combination hard copy and CD is available for $400.00. These manuals may be obtained by writing 3M/HIS at the following address: 100 Barnes Road, Wallingford, CT 06492; or by calling (203) 949-0303. Please specify the revision or revisions requested.

10. Review of Procedure Codes in MS DRGs 981, 982, and 983; 984, 985, and 986; and 987, 988, and 989

Each year, we review cases assigned to former CMS DRG 468 (Extensive O.R. Procedure Unrelated to Principal Diagnosis), CMS DRG 476 (Prostatic O.R. Procedure Unrelated to Principal Diagnosis), and CMS DRG 477 (Nonextensive O.R. Procedure Unrelated to Principal Diagnosis) to determine whether it would be appropriate to change the procedures assigned among these CMS DRGs. Under the MS-DRGs that we adopted for FY 2008, CMS DRG 468 was split three ways and became MS-DRGs 981, 982, and 983 (Extensive O.R. Procedure Unrelated to Principal Diagnosis with MCC, with CC, and without CC/MCC). CMS DRG 476 became MS-DRGs 984, 985, and 986 (Prostatic O.R. Procedure Unrelated to Principal Diagnosis with MCC, with CC, and without CC/MCC). CMS DRG 477 became MS-DRGs 987, 988, and 989 (Nonextensive O.R. Procedure Unrelated to Principal Diagnosis with MCC, with CC, and without CC/MCC).

MS-DRGs 981 through 983, 984 through 986, and 987 through 989 (formerly CMS DRGs 468, 476, and 477, respectively) are reserved for those cases in which none of the O.R. procedures performed are related to the principal diagnosis. These DRGs are intended to capture atypical cases, that is, those cases not occurring with sufficient frequency to represent a distinct, recognizable clinical group. MS-DRGs 984 through 986 (previously CMS DRG 476) are assigned to those discharges in which one or more of the following prostatic procedures are performed and are unrelated to the principal diagnosis:

• 60.0, Incision of prostate.

• 60.12, Open biopsy of prostate.

• 60.15, Biopsy of periprostatic tissue.

• 60.18, Other diagnostic procedures on prostate and periprostatic tissue.

• 60.21, Transurethral prostatectomy.

• 60.29, Other transurethral prostatectomy.

• 60.61, Local excision of lesion of prostate.

• 60.69, Prostatectomy, not elsewhere classified.

• 60.81, Incision of periprostatic tissue.

• 60.82, Excision of periprostatic tissue.

• 60.93, Repair of prostate.

• 60.94, Control of (postoperative) hemorrhage of prostate.

• 60.95, Transurethral balloon dilation of the prostatic urethra.

• 60.96, Transurethral destruction of prostate tissue by microwave thermotherapy.

• 60.97, Other transurethral destruction of prostate tissue by other thermotherapy.

• 60.99, Other operations on prostate.

All remaining O.R. procedures are assigned to MS-DRGs 981 through 983 and 987 through 989, with MS-DRGs 987 through 989 assigned to those discharges in which the only procedures performed are nonextensive procedures that are unrelated to the principal diagnosis.¹³

¹³ The original list of the ICD-9-CM procedure codes for the procedures we consider nonextensive procedures, if performed with an unrelated principal diagnosis, was published in Table 6C in section IV. of the Addendum to the FY 1989 final rule (53 FR 38591). As part of the FY 1991 final rule (55 FR 36135), the FY 1992 final rule (56 FR 43212), the FY 1993 final rule (57 FR 23625), the FY 1994 final rule (58 FR 46279), the FY 1995 final rule (59 FR 45336), the FY 1996 final rule (60 FR 45783), the FY 1997 final rule (61 FR 46173), and the FY 1998 final rule (62 FR 45981), we moved several other procedures from DRG 468 to DRG 477, and some procedures from DRG 477 to DRG 468. No procedures were moved in FY 1999, as noted in the final rule (63 FR 40962); in FY 2000 (64 FR 41496); in FY 2001 (65 FR 47064); or in FY 2002 (66 FR 39852). In the FY 2003 final rule (67 FR 49999) we did not move any procedures from DRG 477. However, we did move procedure codes from DRG 468 and placed them in more clinically coherent DRGs. In the FY 2004 final rule (68 FR 45365), we moved several procedures from DRG 468 to DRGs 476 and 477 because the procedures are nonextensive. In the FY 2005 final rule (69 FR 48950), we moved one procedure from DRG 468 to 477. In addition, we added several existing procedures to DRGs 476 and 477. In the FY 2006 (70 FR 47317), we moved one procedure from DRG 468 and assigned it to DRG 477. In FY 2007, we moved one procedure from DRG 468 and assigned it to DRGs 479, 553, and 554. In FY 2008, no procedures were moved, as noted in the final rule with comment period (72 FR 46241).

For FY 2009, we are not proposing to change the procedures assigned among these DRGs.

a. Moving Procedure Codes From MS-DRGs 981 Through 983 or MS-DRGs 987 Through 989 to MDCs

We annually conduct a review of procedures producing assignment to MS-DRGs 981 through 983 (formerly CMS DRG 468) or MS-DRGs 987 through 989 (formerly CMS DRG 477) on the basis of volume, by procedure, to see if it would be appropriate to move procedure codes out of these DRGs into one of the surgical DRGs for the MDC into which the principal diagnosis falls. The data are arrayed in two ways for comparison purposes. We look at a frequency count of each major operative procedure code. We also compare procedures across MDCs by volume of procedure codes within each MDC.

We identify those procedures occurring in conjunction with certain principal diagnoses with sufficient frequency to justify adding them to one of the surgical DRGs for the MDC in which the diagnosis falls. For FY 2009, we are not proposing to remove any procedures from MS-DRGs 981 through 983 or MS-DRGs 987 through 989.

b. Reassignment of Procedures Among MS-DRGs 981 Through 983, 984 Through 986, and 987 Through 989)

We also annually review the list of ICD-9-CM procedures that, when in combination with their principal diagnosis code, result in assignment to MS-DRGs 981 through 983, 984 through 986, and 987 through 989 (formerly, CMS DRGs 468, 476, and 477, respectively), to ascertain whether any of those procedures should be reassigned from one of these three DRGs to another of the three DRGs based on average charges and the length of stay. We look at the data for trends such as shifts in treatment practice or reporting practice that would make the resulting DRG assignment illogical. If we find these shifts, we would propose to move cases to keep the DRGs clinically similar or to provide payment for the cases in a similar manner. Generally, we move only those procedures for which we have an adequate number of discharges to analyze the data.

For FY 2009, we are not proposing to move any procedure codes among these DRGs.

c. Adding Diagnosis or Procedure Codes to MDCs

Based on our review this year, we are not proposing to add any diagnosis codes to MDCs for FY 2009.

11. Changes to the ICD-9-CM Coding System

As described in section II.B.1. of the preamble of this proposed rule, the ICD-9-CM is a coding system used for the reporting of diagnoses and procedures performed on a patient. In September 1985, the ICD-9-CM Coordination and Maintenance Committee was formed. This is a Federal interdepartmental committee, co-chaired by the National Center for Health Statistics (NCHS), the Centers for Disease Control and Prevention, and CMS, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The Official Version of the ICD-9-CM contains the list of valid diagnosis and procedure codes. (The Official Version of the ICD-9-CM is available from the Government Printing Office on CD-ROM for $27.00 by calling (202) 512-1800.) Complete information on ordering the CD-ROM is also available at: http://www.cdc.gov/nchs/products/prods/subject/icd96ed.htm. The Official Version of the ICD-9-CM is no longer available in printed manual form from the Federal Government; it is only available on CD-ROM. Users who need a paper version are referred to one of the many products available from publishing houses.

The NCHS has lead responsibility for the ICD-9-CM diagnosis codes included in the Tabular List and Alphabetic Index for Diseases, while CMS has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA), the American Hospital Association (AHA), and various physician specialty groups, as well as individual physicians, health information management professionals, and other members of the public, to contribute ideas on coding matters. After considering the opinions expressed at the public meetings and in writing, the Committee formulates recommendations, which then must be approved by the agencies.

The Committee presented proposals for coding changes for implementation in FY 2009 at a public meeting held on September 27-28, 2007 and finalized the coding changes after consideration of comments received at the meetings and in writing by December 3, 2007. Those coding changes are announced in Tables 6A through 6F in the Addendum to this proposed rule. The Committee held its 2008 meeting on March 19-20, 2008. Proposed new codes for which there was a consensus of public support and for which complete tabular and indexing changes can be made by May 2008 will be included in the October 1, 2008 update to ICD-9-CM. Code revisions that were discussed at the March 19-20, 2008 Committee meeting but that could not be finalized in time to include them in the Addendum to this proposed rule are not included in Tables 6A through 6F. These additional codes will be included in Tables 6A through 6F of the final rule with comment period and are marked with an asterisk (*).

Copies of the minutes of the procedure codes discussions at the Committee's September 27-28, 2007 meeting can be obtained from the CMS Web site at: http://cms.hhs.gov/ICD9ProviderDiagnosticCodes/03_meetings.asp. The minutes of the diagnosis codes discussions at the September 27-28, 2007 meeting are found at: http://www.cdc.gov/nchs/icd9.htm. Paper copies of these minutes are no longer available and the mailing list has been discontinued. These Web sites also provide detailed information about the Committee, including information on requesting a new code, attending a Committee meeting, and timeline requirements and meeting dates.

We encourage commenters to address suggestions on coding issues involving diagnosis codes to: Donna Pickett, Co-Chairperson, ICD-9-CM Coordination and Maintenance Committee, NCHS, Room 2402, 3311 Toledo Road, Hyattsville, MD 20782. Comments may be sent by E-mail to: dfp4@cdc.gov.

Questions and comments concerning the procedure codes should be addressed to: Patricia E. Brooks, Co-Chairperson, ICD-9-CM Coordination and Maintenance Committee, CMS, Center for Medicare Management, Hospital and Ambulatory Policy Group, Division of Acute Care, C4-08-06, 7500 Security Boulevard, Baltimore, MD 21244-1850. Comments may be sent by E-mail to: patricia.brooks2@cms.hhs.gov.

The ICD-9-CM code changes that have been approved will become effective October 1, 2008. The new ICD-9-CM codes are listed, along with their DRG classifications, in Tables 6A and 6B (New Diagnosis Codes and New Procedure Codes, respectively) in the Addendum to this proposed rule. As we stated above, the code numbers and their titles were presented for public comment at the ICD-9-CM Coordination and Maintenance Committee meetings. Both oral and written comments were considered before the codes were approved. In this proposed rule, we are only soliciting comments on the proposed classification of these new codes.

For codes that have been replaced by new or expanded codes, and the corresponding new or expanded diagnosis codes are included in Table 6A. New procedure codes are shown in Table 6B. Diagnosis codes that have been replaced by expanded codes or other codes or have been deleted are in Table 6C (Invalid Diagnosis Codes). These invalid diagnosis codes will not be recognized by the GROUPER beginning with discharges occurring on or after October 1, 2008. Table 6D contains invalid procedure codes. These invalid procedure codes will not be recognized by the GROUPER beginning with discharges occurring on or after October 1, 2008. Revisions to diagnosis code titles are in Table 6E (Revised Diagnosis Code Titles), which also includes the MS-DRG assignments for these revised codes. Table 6F includes revised procedure code titles for FY 2009.

In the September 7, 2001 final rule implementing the IPPS new technology add-on payments (66 FR 46906), we indicated we would attempt to include proposals for procedure codes that would describe new technology discussed and approved at the Spring meeting as part of the code revisions effective the following October. As stated previously, ICD-9-CM codes discussed at the March 19-20, 2008 Committee meeting that received consensus and that are finalized by May 2008, will be included in Tables 6A through 6F of the Addendum to the final rule.

Section 503(a) of Pub. L. 108-173 included a requirement for updating ICD-9-CM codes twice a year instead of a single update on October 1 of each year. This requirement was included as part of the amendments to the Act relating to recognition of new technology under the IPPS. Section 503(a) amended section 1886(d)(5)(K) of the Act by adding a clause (vii) which states that the “Secretary shall provide for the addition of new diagnosis and procedure codes on April 1 of each year, but the addition of such codes shall not require the Secretary to adjust the payment (or diagnosis-related group classification) * * * until the fiscal year that begins after such date.” This requirement improves the recognition of new technologies under the IPPS system by providing information on these new technologies at an earlier date. Data will be available 6 months earlier than would be possible with updates occurring only once a year on October 1.

While section 1886(d)(5)(K)(vii) of the Act states that the addition of new diagnosis and procedure codes on April 1 of each year shall not require the Secretary to adjust the payment, or DRG classification, under section 1886(d) of the Act until the fiscal year that begins after such date, we have to update the DRG software and other systems in order to recognize and accept the new codes. We also publicize the code changes and the need for a mid-year systems update by providers to identify the new codes. Hospitals also have to obtain the new code books and encoder updates, and make other system changes in order to identify and report the new codes.

The ICD-9-CM Coordination and Maintenance Committee holds its meetings in the spring and fall in order to update the codes and the applicable payment and reporting systems by October 1 of each year. Items are placed on the agenda for the ICD-9-CM Coordination and Maintenance Committee meeting if the request is received at least 2 months prior to the meeting. This requirement allows time for staff to review and research the coding issues and prepare material for discussion at the meeting. It also allows time for the topic to be publicized in meeting announcements in the Federal Register as well as on the CMS Web site. The public decides whether or not to attend the meeting based on the topics listed on the agenda. Final decisions on code title revisions are currently made by March 1 so that these titles can be included in the IPPS proposed rule. A complete addendum describing details of all changes to ICD-9-CM, both tabular and index, is published on the CMS and NCHS Web sites in May of each year. Publishers of coding books and software use this information to modify their products that are used by health care providers. This 5-month time period has proved to be necessary for hospitals and other providers to update their systems.

A discussion of this timeline and the need for changes are included in the December 4-5, 2005 ICD-9-CM Coordination and Maintenance Committee minutes. The public agreed that there was a need to hold the fall meetings earlier, in September or October, in order to meet the new implementation dates. The public provided comment that additional time would be needed to update hospital systems and obtain new code books and coding software. There was considerable concern expressed about the impact this new April update would have on providers.

In the FY 2005 IPPS final rule, we implemented section 1886(d)(5)(K)(vii) of the Act, as added by section 503(a) of Pub. L. 108-173, by developing a mechanism for approving, in time for the April update, diagnosis and procedure code revisions needed to describe new technologies and medical services for purposes of the new technology add-on payment process. We also established the following process for making these determinations. Topics considered during the Fall ICD-9-CM Coordination and Maintenance Committee meeting are considered for an April 1 update if a strong and convincing case is made by the requester at the Committee's public meeting. The request must identify the reason why a new code is needed in April for purposes of the new technology process. The participants at the meeting and those reviewing the Committee meeting summary report are provided the opportunity to comment on this expedited request. All other topics are considered for the October 1 update. Participants at the Committee meeting are encouraged to comment on all such requests. There were no requests approved for an expedited April l, 2008 implementation of an ICD-9-CM code at the September 27-28, 2007 Committee meeting. Therefore, there were no new ICD-9-CM codes implemented on April 1, 2008.

We believe that this process captures the intent of section 1886(d)(5)(K)(vii) of the Act. This requirement was included in the provision revising the standards and process for recognizing new technology under the IPPS. In addition, the need for approval of new codes outside the existing cycle (October 1) arises most frequently and most acutely where the new codes will identify new technologies that are (or will be) under consideration for new technology add-on payments. Thus, we believe this provision was intended to expedite data collection through the assignment of new ICD-9-CM codes for new technologies seeking higher payments.

Current addendum and code title information is published on the CMS Web site at: www.cms.hhs.gov/icd9ProviderDiagnosticCodes/01_overview.asp#TopofPage. Information on ICD-9-CM diagnosis codes, along with the Official ICD-9-CM Coding Guidelines, can be found on the Web site at: www.cdc.gov/nchs/icd9.htm. Information on new, revised, and deleted ICD-9-CM codes is also provided to the AHA for publication in the Coding Clinic for ICD-9-CM. AHA also distributes information to publishers and software vendors.

CMS also sends copies of all ICD-9-CM coding changes to its contractors for use in updating their systems and providing education to providers.

These same means of disseminating information on new, revised, and deleted ICD-9-CM codes will be used to notify providers, publishers, software vendors, contractors, and others of any changes to the ICD-9-CM codes that are implemented in April. The code titles are adopted as part of the ICD-9-CM Coordination and Maintenance Committee process. Thus, although we publish the code titles in the IPPS proposed and final rules, they are not subject to comment in the proposed or final rules. We will continue to publish the October code updates in this manner within the IPPS proposed and final rules. For codes that are implemented in April, we will assign the new procedure code to the same DRG in which its predecessor code was assigned so there will be no DRG impact as far as DRG assignment. Any midyear coding updates will be available through the Web sites indicated above and through the Coding Clinic for ICD-9-CM. Publishers and software vendors currently obtain code changes through these sources in order to update their code books and software systems. We will strive to have the April 1 updates available through these Web sites 5 months prior to implementation (that is, early November of the previous year), as is the case for the October 1 updates.

H. Recalibration of MS-DRG Weights

In section II.E. of the preamble of this proposed rule, we state that we are proposing to fully implement the cost-based DRG relative weights for FY 2009, which is the third year in the 3-year transition period to calculate the relative weights at 100 percent based on costs. In the FY 2008 IPPS final rule with comment period (72 FR 47267), as recommended by RTI, for FY 2008, we added two new CCRs for a total of 15 CCRs: one for “Emergency Room” and one for “Blood and Blood Products,” both of which can be derived directly from the Medicare cost report.

In developing the FY 2009 proposed system of weights, we used two data sources: claims data and cost report data. As in previous years, the claims data source is the MedPAR file. This file is based on fully coded diagnostic and procedure data for all Medicare inpatient hospital bills. The FY 2007 MedPAR data used in this proposed rule include discharges occurring on October 1, 2006, through September 30, 2007, based on bills received by CMS through December 2007, from all hospitals subject to the IPPS and short-term, acute care hospitals in Maryland (which are under a waiver from the IPPS under section 1814(b)(3) of the Act). The FY 2007 MedPAR file used in calculating the relative weights includes data for approximately 11,433,806 Medicare discharges from IPPS providers. Discharges for Medicare beneficiaries enrolled in a Medicare Advantage managed care plan are excluded from this analysis. The data exclude CAHs, including hospitals that subsequently became CAHs after the period from which the data were taken. The second data source used in the cost-based relative weighting methodology is the FY 2006 Medicare cost report data files from HCRIS (that is, cost reports beginning on or after October 1, 2005, and before October 1, 2006), which represents the most recent full set of cost report data available. We used the December 31, 2007 update of the HCRIS cost report files for FY 2006 in setting the relative cost-based weights.

The methodology we used to calculate the DRG cost-based relative weights from the FY 2007 MedPAR claims data and FY 2006 Medicare cost report data is as follows:

• To the extent possible, all the claims were regrouped using the proposed FY 2009 MS-DRG classifications discussed in sections II.B. and G. of the preamble of this proposed rule.

• The transplant cases that were used to establish the relative weights for heart and heart-lung, liver and/or intestinal, and lung transplants (MS-DRGs 001, 002, 005, 006, and 007, respectively) were limited to those Medicare-approved transplant centers that have cases in the FY 2007 MedPAR file. (Medicare coverage for heart, heart-lung, liver and/or intestinal, and lung transplants is limited to those facilities that have received approval from CMS as transplant centers.)

• Organ acquisition costs for kidney, heart, heart-lung, liver, lung, pancreas, and intestinal (or multivisceral organs) transplants continue to be paid on a reasonable cost basis. Because these acquisition costs are paid separately from the prospective payment rate, it is necessary to subtract the acquisition charges from the total charges on each transplant bill that showed acquisition charges before computing the average cost for each DRG and before eliminating statistical outliers.

• Claims with total charges or total length of stay less than or equal to zero were deleted. Claims that had an amount in the total charge field that differed by more than $10.00 from the sum of the routine day charges, intensive care charges, pharmacy charges, special equipment charges, therapy services charges, operating room charges, cardiology charges, laboratory charges, radiology charges, other service charges, labor and delivery charges, inhalation therapy charges, emergency room charges, blood charges, and anesthesia charges were also deleted.

• At least 96.1 percent of the providers in the MedPAR file had charges for 10 of the 15 cost centers. Claims for providers that did not have charges greater than zero for at least 10 of the 15 cost centers were deleted.

• Statistical outliers were eliminated by removing all cases that were beyond 3.0 standard deviations from the mean of the log distribution of both the total charges per case and the total charges per day for each DRG.

Once the MedPAR data were trimmed and the statistical outliers were removed, the charges for each of the 15 cost groups for each claim were standardized to remove the effects of differences in area wage levels, IME and DSH payments, and for hospitals in Alaska and Hawaii, the applicable cost-of-living adjustment. Because hospital charges include charges for both operating and capital costs, we standardized total charges to remove the effects of differences in geographic adjustment factors, cost-of-living adjustments, DSH payments, and IME adjustments under the capital IPPS as well. Charges were then summed by DRG for each of the 15 cost groups so that each DRG had 15 standardized charge totals. These charges were then adjusted to cost by applying the national average CCRs developed from the FY 2006 cost report data.

The 15 cost centers that we used in the relative weight calculation are shown in the following table. The table shows the lines on the cost report and the corresponding revenue codes that we used to create the 15 national cost center CCRs.

BILLING CODE 4120-01-P

BILLING CODE 4120-01-C

We developed the national average CCRs as follows:

Taking the FY 2006 cost report data, we removed CAHs, Indian Health Service hospitals, all-inclusive rate hospitals, and cost reports that represented time periods of less than 1 year (365 days). We included hospitals located in Maryland as we are including their charges in our claims database. We then created CCRs for each provider for each cost center (see prior table for line items used in the calculations) and removed any CCRs that were greater than 10 or less than 0.01. We normalized the departmental CCRs by dividing the CCR for each department by the total CCR for the hospital for the purpose of trimming the data. We then took the logs of the normalized cost center CCRs and removed any cost center CCRs where the log of the cost center CCR was greater or less than the mean log plus/minus 3 times the standard deviation for the log of that cost center CCR. Once the cost report data were trimmed, we calculated a Medicare-specific CCR. The Medicare-specific CCR was determined by taking the Medicare charges for each line item from Worksheet D-4 and deriving the Medicare-specific costs by applying the hospital-specific departmental CCRs to the Medicare-specific charges for each line item from Worksheet D-4. Once each hospital's Medicare-specific costs were established, we summed the total Medicare-specific costs and divided by the sum of the total Medicare-specific charges to produce national average, charge-weighted CCRs.

After we multiplied the total charges for each DRG in each of the 15 cost centers by the corresponding national average CCR, we summed the 15 “costs” across each DRG to produce a total standardized cost for the DRG. The average standardized cost for each DRG was then computed as the total standardized cost for the DRG divided by the transfer-adjusted case count for the DRG. The average cost for each DRG was then divided by the national average standardized cost per case to determine the relative weight.

The new cost-based relative weights were then normalized by an adjustment factor of 1.50612 so that the average case weight after recalibration was equal to the average case weight before recalibration. The normalization adjustment is intended to ensure that recalibration by itself neither increases nor decreases total payments under the IPPS, as required by section 1886(d)(4)(C)(iii) of the Act.

The 15 proposed national average CCRs for FY 2009 are as follows:

Group | CCR
Routine Days | 0.527
Intensive Days | 0.476
Drugs | 0.205
Supplies & Equipment | 0.341
Therapy Services | 0.419
Laboratory | 0.166
Operating Room | 0.293
Cardiology | 0.186
Radiology | 0.171
Emergency Room | 0.291
Blood and Blood Products | 0.449
Other Services | 0.419
Labor & Delivery | 0.482
Inhalation Therapy | 0.198
Anesthesia | 0.150

As we explained in section II.E. of the preamble of this proposed rule, we are proposing to complete our 2-year transition to the MS-DRGs. For FY 2008, the first year of the transition, 50 percent of the relative weight for an MS-DRG was based on the two-thirds cost-based weight/one-third charge-based weight calculated using FY 2006 MedPAR data grouped to the Version 24.0 (FY 2007) DRGs. The remaining 50 percent of the FY 2008 relative weight for an MS-DRG was based on the two-thirds cost-based weight/one-third charge-based weight calculated using FY 2006 MedPAR grouped to the Version 25.0 (FY 2008) MS-DRGs. In FY 2009, we are proposing that the relative weights will be based on 100 percent cost weights computed using the Version 26.0 (FY 2009) MS-DRGs.

When we recalibrated the DRG weights for previous years, we set a threshold of 10 cases as the minimum number of cases required to compute a reasonable weight. We are proposing to use that same case threshold in recalibrating the MS-DRG weights for FY 2009. Using the FY 2007 MedPAR data set, there are 8 MS-DRGs that contain fewer than 10 cases. Under the MS-DRGs, we have fewer low-volume DRGs than under the CMS DRGs because we no longer have separate DRGs for patients age 0 to 17 years. With the exception of newborns, we previously separated some DRGs based on whether the patient was age 0 to 17 years or age 17 years and older. Other than the age split, cases grouping to these DRGs are identical. The DRGs for patients age 0 to 17 years generally have very low volumes because children are typically ineligible for Medicare. In the past, we have found that the low volume of cases for the pediatric DRGs could lead to significant year-to-year instability in their relative weights. Although we have always encouraged non-Medicare payers to develop weights applicable to their own patient populations, we have heard frequent complaints from providers about the use of the Medicare relative weights in the pediatric population. We believe that eliminating this age split in the MS-DRGs will provide more stable payment for pediatric cases by determining their payment using adult cases that are much higher in total volume. All of the low-volume MS-DRGs listed below are for newborns. Newborns are unique and require separate DRGs that are not mirrored in the adult population. Therefore, it remains necessary to retain separate DRGs for newborns. In FY 2009, because we do not have sufficient MedPAR data to set accurate and stable cost weights for these low-volume MS-DRGs, we are proposing to compute weights for the low-volume MS-DRGs by adjusting their FY 2008 weights by the percentage change in the average weight of the cases in other MS-DRGs. The crosswalk table is shown below:

Low-volume MS-DRG | MS-DRG title | Crosswalk to MS-DRG
768 | Vaginal Delivery with O.R. Procedure Except Sterilization and/or D&C | FY 2008 FR weight (adjusted by percent change in average weight of the cases in other MS-DRGs).
789 | Neonates, Died or Transferred to Another Acute Care Facility | FY 2008 FR weight (adjusted by percent change in average weight of the cases in other MS-DRGs).
790 | Extreme Immaturity or Respiratory Distress Syndrome, Neonate | FY 2008 FR weight (adjusted by percent change in average weight of the cases in other MS-DRGs).
791 | Prematurity with Major Problems | FY 2008 FR weight (adjusted by percent change in average weight of the cases in other MS-DRGs).
792 | Prematurity without Major Problems | FY 2008 FR weight (adjusted by percent change in average weight of the cases in other MS-DRGs).
793 | Full-Term Neonate with Major Problems | FY 2008 FR weight (adjusted by percent change in average weight of the cases in other MS-DRGs).
794 | Neonate with Other Significant Problems | FY 2008 FR weight (adjusted by percent change in average weight of the cases in other MS-DRGs).
795 | Normal Newborn | FY 2008 FR weight (adjusted by percent change in average weight of the cases in other MS-DRGs).

I. Proposed Medicare Severity Long-Term Care (MS-LTC-DRG) Reclassifications and Relative Weights for LTCHs for FY 2009

1. Background

Section 123 of the BBRA requires that the Secretary implement a PPS for LTCHs (that is, a per discharge system with a diagnosis-related group (DRG)-based patient classification system reflecting the differences in patient resources and costs). Section 307(b)(1) of the BIPA modified the requirements of section 123 of the BBRA by requiring that the Secretary examine “the feasibility and the impact of basing payment under such a system [the long-term care hospital (LTCH) PPS] on the use of existing (or refined) hospital DRGs that have been modified to account for different resource use of LTCH patients, as well as the use of the most recently available hospital discharge data.”

When the LTCH PPS was implemented for cost reporting periods beginning on or after October 1, 2002, we adopted the same DRG patient classification system (that is, the CMS DRGs) that was utilized at that time under the IPPS. As a component of the LTCH PPS, we refer to the patient classification system as the “long-term care diagnosis-related groups (LTC-DRGs).” As discussed in greater detail below, although the patient classification system used under both the LTCH PPS and the IPPS are the same, the relative weights are different. The established relative weight methodology and data used under the LTCH PPS result in LTC-DRG relative weights that reflect “the differences in patient resource use * * *” of LTCH patients (section 123(a)(1) of the BBRA (Pub. L. 106-113). As part of our efforts to better recognize severity of illness among patients, in the FY 2008 IPPS final rule with comment period (72 FR 47130), the MS-DRGs and the Medicare severity long-term care diagnosis related groups (MS-LTC-DRGs) were adopted for the IPPS and the LTCH PPS, respectively, effective October 1, 2007 (FY 2008). For a full description of the development and implementation of the MS-DRGs and MS-LTC-DRGs, we refer readers to the FY 2008 IPPS final rule with comment period (72 FR 47141 through 47175 and 47277 through 47299). (We note that, in that same final rule, we revised the regulations at § 412.503 to specify that for LTCH discharges occurring on or after October 1, 2007, when applying the provisions of 42 CFR Part 412, Subpart O applicable to LTCHs for policy descriptions and payment calculations, all references to LTC-DRGs would be considered a reference to MS-LTC-DRGs. For the remainder of this section, we present the discussion in terms of the current MS-LTC-DRG patient classification unless specifically referring to the previous LTC-DRG patient classification system (that was in effect before October 1, 2007).) We believe the MS-DRGs (and by extension, the MS-LTC-DRGs) represent a substantial improvement over the previous CMS DRGs in their ability to differentiate cases based on severity of illness and resource consumption.

The MS-DRGs represent an increase in the number of DRGs by 207 (that is, from 538 to 745) (72 FR 47171). In addition to improving the DRG system's recognition of severity of illness, we believe the MS-DRGs are responsive to the public comments that were made on the FY 2007 IPPS proposed rule with respect to how we should undertake further DRG reform. The MS-DRGs use the CMS DRGs as the starting point for revising the DRG system to better recognize resource complexity and severity of illness. We have generally retained all of the refinements and improvements that have been made to the base DRGs over the years that recognize the significant advancements in medical technology and changes to medical practice.

Consistent with section 123 of the BBRA as amended by section 307(b)(1) of the BIPA and § 412.515, we use information derived from LTCH PPS patient records to classify LTCH discharges into distinct MS-LTC-DRGs based on clinical characteristics and estimated resource needs. We then assign an appropriate weight to the MS-LTC-DRGs to account for the difference in resource use by patients exhibiting the case complexity and multiple medical problems characteristic of LTCHs.

Generally, under the LTCH PPS, a Medicare payment is made at a predetermined specific rate for each discharge; and that payment varies by the MS-LTC-DRG to which a beneficiary's stay is assigned. Cases are classified into MS-LTC-DRGs for payment based on the following six data elements:

• Principal diagnosis.

• Up to eight additional diagnoses.

• Up to six procedures performed.

• Age.

• Sex.

• Discharge status of the patient.

Upon the discharge of the patient from a LTCH, the LTCH must assign appropriate diagnosis and procedure codes from the most current version of the International Classification of Diseases, Ninth Revision, Clinical Modification (ICD-9-CM). HIPAA Transactions and Code Sets Standards regulations at 45 CFR Parts 160 and 162 require that no later than October 16, 2003, all covered entities must comply with the applicable requirements of Subparts A and I through R of Part 162. Among other requirements, those provisions direct covered entities to use the ASC X12N 837 Health Care Claim: Institutional, Volumes 1 and 2, Version 4010, and the applicable standard medical data code sets for the institutional health care claim or equivalent encounter information transaction (see 45 CFR 162.1002 and 45 CFR 162.1102). For additional information on the ICD-9-CM Coding System, we refer readers to the FY 2008 IPPS final rule with comment period (72 FR 47241 through 47243 and 47277 through 47281). We also refer readers to the detailed discussion on correct coding practices in the August 30, 2002 LTCH PPS final rule (67 FR 55981 through 55983). Additional coding instructions and examples are published in the Coding Clinic for ICD-9-CM, a product of the American Hospital Association.

Medicare contractors (that is, fiscal intermediaries or MACs) enter the clinical and demographic information into their claims processing systems and subject this information to a series of automated screening processes called the Medicare Code Editor (MCE). These screens are designed to identify cases that require further review before assignment into a MS-LTC-DRG can be made. During this process, the following types of cases are selected for further development:

• Cases that are improperly coded. (For example, diagnoses are shown that are inappropriate, given the sex of the patient. Code 68.69 (Other and unspecified radical abdominal hysterectomy) would be an inappropriate code for a male.)

• Cases including surgical procedures not covered under Medicare. (For example, organ transplant in a nonapproved transplant center.)

• Cases requiring more information. (For example, ICD-9-CM codes are required to be entered at their highest level of specificity. There are valid 3-digit, 4-digit, and 5-digit codes. That is, code 262 (Other severe protein-calorie malnutrition) contains all appropriate digits, but if it is reported with either fewer or more than 3 digits, the claim will be rejected by the MCE as invalid.)

After screening through the MCE, each claim is classified into the appropriate MS-LTC-DRG by the Medicare LTCH GROUPER software. The Medicare GROUPER software, which is used under the LTCH PPS, is specialized computer software, and is the same GROUPER software program used under the IPPS. The GROUPER software was developed as a means of classifying each case into a MS-LTC-DRG on the basis of diagnosis and procedure codes and other demographic information (age, sex, and discharge status). Following the MS-LTC-DRG assignment, the Medicare contractor determines the prospective payment amount by using the Medicare PRICER program, which accounts for hospital-specific adjustments. Under the LTCH PPS, we provide an opportunity for the LTCH to review the MS-LTC-DRG assignments made by the Medicare contractor and to submit additional information within a specified timeframe as specified in § 412.513(c).

The GROUPER software is used both to classify past cases to measure relative hospital resource consumption to establish the DRG weights and to classify current cases for purposes of determining payment. The records for all Medicare hospital inpatient discharges are maintained in the MedPAR file. The data in this file are used to evaluate possible MS-DRG classification changes and to recalibrate the MS-DRG and MS-LTC-DRG relative weights during our annual update under both the IPPS (§ 412.60(e)) and the LTCH PPS (§ 412.517), respectively.

In the June 6, 2003 LTCH PPS final rule (68 FR 34122), we changed the LTCH PPS annual payment rate update cycle to be effective July 1 through June 30 instead of October 1 through September 30. In addition, because the patient classification system utilized under the LTCH PPS uses the same DRGs as those used under the IPPS for acute care hospitals, in that same final rule, we explained that the annual update of the LTC-DRG classifications and relative weights will continue to remain linked to the annual reclassification and recalibration of the DRGs used under the IPPS. Therefore, we specified that we will continue to update the LTC-DRG classifications and relative weights to be effective for discharges occurring on or after October 1 through September 30 each year. We further stated that we will publish the annual proposed and final update of the LTC-DRGs in same notice as the proposed and final update for the IPPS (69 FR 34125).

In the RY 2009 LTCH PPS proposed rule (73 FR 5351-5352), due to administrative considerations as well as in response to numerous comments urging CMS to establish one rulemaking cycle that would encompass the update of the LTCH PPS payment rates (currently updated on a rate year basis, effective July 1) as well as the development of the LTC-DRG weights (currently updated on a fiscal year basis, effective October 1), we proposed to amend the regulations at § 412.535 in order to consolidate the rate year and fiscal year rulemaking cycles. Specifically, we proposed that the annual update of the LTCH PPS payment rates (and description of the methodology and data used to calculate these payment rates) and the annual update of the MS-LTC-DRG classifications and associated weighting factors for LTCHs would be effective on October 1 each Federal fiscal year. In order to revise the payment rate update (currently on a rate year cycle of July 1 through June 30) to an October 1 through September 30 cycle, we proposed to extend the 2009 rate period to September 30, 2009, so that RY 2009 would be 15 months. This proposed 15-month rate period would extend from July 1, 2008, through September 30, 2009. We believe that extending RY 2009 by 3 months (July, August, and September) would provide for a smooth transition to a consolidated annual update for both the LTCH PPS payment rates and the LTCH PPS MS-LTC-DRG classifications and weighting factors. (We believe that proposing to shorten the 2009 rate year period to an October 1 through September 30 period so that RY 2009 would only be 3 months (that is, July 1, 2008 through September 30, 2008) would exacerbate the current time-consuming, biannual update process by resulting in two payment rate changes within a very short period of time.) Consequently, under the proposal to extend RY 2009 to a 15-month rate period, after September 30, 2009, when the RY 2009 cycle ends, the LTCH PPS payment rates and other policy changes would subsequently be updated on an October 1 through September 30 cycle in conjunction with the annual update to the MS-LTC-DRG classifications and relative weights. Accordingly, the next update to the LTCH PPS payment rates, after the proposed 15-month RY 2009, would begin October 1, 2009, coinciding with the 2010 Federal fiscal year.

In the past, the annual update to the DRGs used under the IPPS has been based on the annual revisions to the ICD-9-CM codes and was effective each October 1. As discussed in the RY 2009 LTCH PPS proposed rule (73 FR 5348-5349), with the implementation of section 503(a) of Pub. L. 108-173, there is the possibility that one feature of the GROUPER software program may be updated twice during a Federal fiscal year (October 1 and April 1) as required by the statute for the IPPS. Section 503(a) of Pub. L. 108-173 amended section 1886(d)(5)(K) of the Act by adding a new clause (vii) which states that “the Secretary shall provide for the addition of new diagnosis and procedure codes in [sic] April 1 of each year, but the addition of such codes shall not require the Secretary to adjust the payment (or diagnosis-related group classification) * * * until the fiscal year that begins after such date.” This requirement improves the recognition of new technologies under the IPPS by accounting for those ICD-9-CM codes in the MedPAR claims data earlier than the agency had accounted for new technology in the past. In implementing the statutory change, the agency has provided that ICD-9-CM diagnosis and procedure codes for new medical technology may be created and assigned to existing DRGs in the middle of the Federal fiscal year, on April 1. However, this policy change will not impact the DRG relative weights in effect for that year, which will continue to be updated only once a year (October 1). The use of the ICD-9-CM code set is also compliant with the current requirements of the Transactions and Code Sets Standards regulations at 45 CFR Parts 160 and 162, promulgated in accordance with HIPAA.

As noted above, the patient classification system used under the LTCH PPS is the same patient classification system that is used under the IPPS. Therefore, the ICD-9-CM codes currently used under both the IPPS and the LTCH PPS have the potential of being updated twice a year. This requirement is included as part of the amendments to the Act relating to recognition of new medical technology under the IPPS.

Because we do not publish a midyear IPPS rule, any April 1 ICD-9-CM coding update will not be published in the Federal Register. Rather, we will assign any new diagnosis or procedure codes to the same DRG in which its predecessor code was assigned, so that there will be no impact on the DRG assignments (as also discussed in section II.G.11. of the preamble of this proposed rule). Any coding updates will be available through the Web sites provided in section II.G.11. of the preamble of this proposed rule and through the Coding Clinic for ICD-9-CM. Publishers and software vendors currently obtain code changes through these sources in order to update their code books and software system. If new codes are implemented on April 1, revised code books and software systems, including the GROUPER software program, will be necessary because the most current ICD-9-CM codes must be reported. Therefore, for purposes of the LTCH PPS, because each ICD-9-CM code must be included in the GROUPER algorithm to classify each case under the correct LTCH PPS, the GROUPER software program used under the LTCH PPS would need to be revised to accommodate any new codes.

In implementing section 503(a) of Pub. L. 108-173, there will only be an April 1 update if new technology diagnosis and procedure code revisions are requested and approved. We note that any new codes created for April 1 implementation will be limited to those primarily needed to describe new technologies and medical services. However, we reiterate that the process of discussing updates to the ICD-9-CM is an open process through the ICD-9-CM Coordination and Maintenance Committee. Requestors will be given the opportunity to present the merits for a new code and to make a clear and convincing case for the need to update ICD-9-CM codes for purposes of the IPPS new technology add-on payment process through an April 1 update (as also discussed in section II.G.11. of the preamble of this proposed rule).

At the September 27, 2007 ICD-9-CM Coordination and Maintenance Committee meeting, there were no requests for an April 1, 2008 implementation of ICD-9-CM codes. Therefore, the next update to the ICD-9-CM coding system will occur on October 1, 2008 (FY 2009). Because there were no coding changes suggested for an April 1, 2008 update, the ICD-9-CM coding set implemented on October 1, 2008, will continue through September 30, 2009 (FY 2009). The update to the ICD-9-CM coding system for FY 2009 is discussed in section II.G.11. of the preamble of this proposed rule. Accordingly, in this proposed rule, as discussed in greater detail below, we are proposing to modify and revise the MS-LTC-DRG classifications and relative weights to be effective October 1, 2008 through September 30, 2009 (FY 2009). As discussed in greater detail below, the MS-LTC-DRGs for FY 2009 in this proposed rule are the same as the MS-DRGs proposed for the IPPS for FY 2009 (GROUPER Version 26.0) discussed in section II.B. of the preamble to this proposed rule.

2. Proposed Changes in the MS-LTC-DRG Classifications

a. Background

As discussed earlier, section 123 of Pub. L. 106-113 specifically requires that the agency implement a PPS for LTCHs that is a per discharge system with a DRG-based patient classification system reflecting the differences in patient resources and costs in LTCHs. Section 307(b)(1) of Pub. L. 106-554 modified the requirements of section 123 of Pub. L. 106-113 by specifically requiring that the Secretary examine “the feasibility and the impact of basing payment under such a system [the LTCH PPS] on the use of existing (or refined) hospital diagnosis-related groups (DRGs) that have been modified to account for different resource use of long-term care hospital patients as well as the use of the most recently available hospital discharge data.”

Consistent with section 123 of Pub. L. 106-113 as amended by section 307(b)(1) of Pub. L. 106-554 and § 412.515 of our existing regulations, the LTCH PPS uses information from LTCH patient records to classify patient cases into distinct LTC-DRGs based on clinical characteristics and expected resource needs. As described in section II.D. of the preamble of this proposed rule, for FY 2008, we adopted MS-DRGs under the IPPS because we believe that this system results in a significant improvement in the DRG system's recognition of severity of illness and resource usage. We stated that we believe these improvements in the DRG system are equally applicable to the LTCH PPS. The changes we are proposing to make for the FY 2009 IPPS are reflected in the proposed FY 2009 GROUPER, Version 26.0, that would be effective for discharges occurring on or after October 1, 2008 through September 30, 2009.

Consistent with our historical practice of having LTC-DRGs correspond to the DRGs applicable under the IPPS, under the broad authority of section 123(a) of Pub. L. 106-113, as modified by section 307(b) of Pub. L. 106-554, under the LTCH PPS for FY 2008, we adopted the use of MS-LTC-DRGs, which correspond to the MS-DRGs we adopted under the IPPS. In addition, as stated above, we are proposing to use the FY 2009 GROUPER Version 26.0 to classify cases effective for LTCH discharges occurring on or after October 1, 2008, through September 30, 2009. The changes to the MS-DRG classification system that we are proposing to use under the IPPS for FY 2009 (GROUPER Version 26.0) are discussed in section II.B. of the preamble to this proposed rule.

Under the LTCH PPS, as described in greater detail below, we determine relative weights for each of the MS-LTC-DRGs to account for the difference in resource use by patients exhibiting the case complexity and multiple medical problems characteristic of LTCH patients. (Unless otherwise noted in this proposed rule, our MS-LTC-DRG analysis is based on LTCH data from the December 2007 update of the FY 2007 MedPAR file, which contains hospital bills received through December 31, 2007, for discharges occurring in FY 2007.)

LTCHs do not typically treat the full range of diagnoses as do acute care hospitals. Therefore, as we discussed in the August 30, 2002 LTCH PPS final rule (67 FR 55985), which implemented the LTCH PPS, and the FY 2008 IPPS final rule with comment period (72 FR 47283), we use low-volume quintiles in determining the DRG relative weights for DRGs with less than 25 LTCH cases (low-volume MS-LTC-DRGs). Specifically, we group those low-volume DRGs into 5 quintiles based on average charges per discharge. (A listing of the composition of low-volume quintiles for the FY 2008 MS-LTC-DRGs (based on FY 2006 MedPAR data) appears in section II.I.3. of the FY 2008 IPPS final rule with comment period (72 FR 47281 through 47288).) We also adjust for cases in which the stay at the LTCH is less than or equal to five-sixths of the geometric average length of stay; that is, short-stay outlier cases, as discussed below in section II.I.4. of the preamble of this proposed rule.

b. Patient Classifications Into MS-LTC-DRGs

Generally, under the LTCH PPS, Medicare payment is made at a predetermined specific rate for each discharge; that is, payment varies by the DRG to which a beneficiary's stay is assigned. Just as cases have been classified into the MS-DRGs for acute care hospitals under the IPPS (section II.B. of the preamble of this proposed rule), cases have been classified into MS-LTC-DRGs for payment under the LTCH PPS based on the principal diagnosis, up to eight additional diagnoses, and up to six procedures performed during the stay, as well as demographic information about the patient. The diagnosis and procedure information is reported by the hospital using the ICD-9-CM coding system. Under the MS-DRGs for the IPPS and the MS-LTC-DRGs for the LTCH PPS, these factors will not change.

Section II.B. of the preamble of this proposed rule discusses the organization of the existing MS-DRGs, which we are maintaining under the MS-LTC-DRG system. As noted above, the patient classification system for the LTCH PPS is derived from the IPPS DRGs and is similarly organized into 25 major diagnostic categories (MDCs). Most of these MDCs are based on a particular organ system of the body and the remainder involves multiple organ systems (such as MDC 22, Burns). Accordingly, the principal diagnosis determines MDC assignment. Within most MDCs, cases are then divided into surgical DRGs and medical DRGs. Under the MS-DRGs, some surgical and medical DRGs are further defined for severity purposes based on the presence or absence of MCCs or CCs. The existing MS-LTC-DRGs are similarly categorized. (We refer readers to section II.B. of the preamble of this proposed rule for further discussion of surgical DRGs and medical DRGs.)

Therefore, consistent with the MS-DRGs, a base MS-LTC-DRG may be subdivided according to three alternatives. The first alternative includes division of the DRG into one, two, or three severity levels. The most severe level has cases with at least one code that is a major CC, referred to as “with MCC”. The next lower severity level contains cases with at least one CC, referred to as “with CC”. Those DRGs without an MCC or a CC are referred to as “without CC/MCC”. When data do not support the creation of three severity levels, the base DRG is divided into either two levels or the base is not subdivided.

The two-level subdivisions consist of one of the following subdivisions: “with CC/MCC” or “without CC/MCC.” In this type of subdivision, cases with at least one code that is on the CC or MCC list are assigned to the “ CC/MCC” DRG. Cases without a CC or an MCC are assigned to the “without CC/MCC” DRG.

The other type of two-level subdivision is as follows: “with MCC” and “without MCC.” In this type of subdivision, cases with at least one code that is on the MCC list are assigned to the “with MCC” DRG. Cases that do not have an MCC are assigned to the “without MCC” DRG. This type of subdivision could include cases with a CC code, but no MCC.

3. Development of the Proposed FY 2009 MS-LTC-DRG Relative Weights

a. General Overview of Development of the MS-LTC-DRG Relative Weights

As we stated in the August 30, 2002 LTCH PPS final rule (67 FR 55981), one of the primary goals for the implementation of the LTCH PPS is to pay each LTCH an appropriate amount for the efficient delivery of medical care to Medicare patients. The system must be able to account adequately for each LTCH's case-mix in order to ensure both fair distribution of Medicare payments and access to adequate care for those Medicare patients whose care is more costly. To accomplish these goals, we have annually adjusted the LTCH PPS standard Federal prospective payment system rate by the applicable relative weight in determining payment to LTCHs for each case. (As we have noted above, in last year's final rule, we adopted the MS-LTC-DRGs for the LTCH PPS beginning in FY 2008. However, this change in the patient classification system does not affect the basic principles of the development of relative weights under a DRG-based prospective payment system.

Although the adoption of the MS-LTC-DRGs resulted in some modifications of existing procedures for assigning weights in cases of zero volume and/or nonmonotonicity, as discussed in the FY 2008 IPPS final rule with comment period (72 FR 47289 through 47295) and discussed in detail in the following sections, the basic methodology for developing the proposed FY 2009 MS-LTC-DRG relative weights in this proposed rule continue to be determined in accordance with the general methodology established in the August 30, 2002 LTCH PPS final rule (67 FR 55989 through 55991). Under the LTCH PPS, relative weights for each MS-LTC-DRG are a primary element used to account for the variations in cost per discharge and resource utilization among the payment groups (§ 412.515). To ensure that Medicare patients classified to each MS-LTC-DRG have access to an appropriate level of services and to encourage efficiency, we calculate a relative weight for each MS-LTC-DRG that represents the resources needed by an average inpatient LTCH case in that MS-LTC-DRG. For example, cases in an MS-LTC-DRG with a relative weight of 2 will, on average, cost twice as much to treat as cases in an MS-LTC-DRG with a weight of 1.

b. Data

To calculate the proposed MS-LTC-DRG relative weights for FY 2009, we obtained total Medicare allowable charges from FY 2007 Medicare LTCH bill data from the December 2007 update of the MedPAR file, which are the best available data at this time, and we used the proposed Version 26.0 of the CMS GROUPER that is also proposed for use under the IPPS to classify cases for FY 2009. We also are proposing that if more recent data are available, we will use those data and the finalized Version 26.0 of the CMS GROUPER in establishing the FY 2009 MS-LTC-DRG relative weights in the final rule.

Consistent with our historical methodology, we have excluded the data from LTCHs that are all-inclusive rate providers and LTCHs that are reimbursed in accordance with demonstration projects authorized under section 402(a) of Pub. L. 90-248 or section 222(a) of Pub. L. 92-603 (We refer readers to the FY 2008 IPPS final rule with comment period (72 FR 47282)). Therefore, in the development of the proposed FY 2009 MS-LTC-DRG relative weights in this proposed rule, we have excluded the data of the 17 all-inclusive rate providers and the 2 LTCHs that are paid in accordance with demonstration projects that had claims in the FY 2007 MedPAR file.

c. Hospital-Specific Relative Value (HSRV) Methodology

By nature, LTCHs often specialize in certain areas, such as ventilator-dependent patients and rehabilitation and wound care. Some case types (DRGs) may be treated, to a large extent, in hospitals that have, from a perspective of charges, relatively high (or low) charges. This nonarbitrary distribution of cases with relatively high (or low) charges in specific MS-LTC-DRGs has the potential to inappropriately distort the measure of average charges. To account for the fact that cases may not be randomly distributed across LTCHs, we are proposing to use a hospital-specific relative value (HSRV) methodology to calculate the MS-LTC-DRG relative weights instead of the methodology used to determine the MS-DRG relative weights under the IPPS described in section II.H. of the preamble of this proposed rule. We believe this method will remove this hospital-specific source of bias in measuring LTCH average charges. Specifically, we are proposing to reduce the impact of the variation in charges across providers on any particular MS-LTC-DRG relative weight by converting each LTCH's charge for a case to a relative value based on that LTCH's average charge.

Under the HSRV methodology, we standardize charges for each LTCH by converting its charges for each case to hospital-specific relative charge values and then adjusting those values for the LTCH's case-mix. The adjustment for case-mix is needed to rescale the hospital-specific relative charge values (which, by definition, average 1.0 for each LTCH). The average relative weight for a LTCH is its case-mix, so it is reasonable to scale each LTCH's average relative charge value by its case-mix. In this way, each LTCH's relative charge value is adjusted by its case-mix to an average that reflects the complexity of the cases it treats relative to the complexity of the cases treated by all other LTCHs (the average case-mix of all LTCHs).

In accordance with the methodology established in the August 30, 2002 LTCH PPS final rule (67 FR 55989 through 55991), we continue to standardize charges for each case by first dividing the adjusted charge for the case (adjusted for short-stay outliers under § 412.529 as described in section II.I.4. (step 3) of the preamble of this proposed rule) by the average adjusted charge for all cases at the LTCH in which the case was treated. Short-stay outliers are cases with a length of stay that is less than or equal to five-sixths the average length of stay of the MS-LTC-DRG (§ 412.529 and § 412.503). The average adjusted charge reflects the average intensity of the health care services delivered by a particular LTCH and the average cost level of that LTCH. The resulting ratio is multiplied by that LTCH's case-mix index to determine the standardized charge for the case.

Multiplying by the LTCH's case-mix index accounts for the fact that the same relative charges are given greater weight at a LTCH with higher average costs than they would at a LTCH with low average costs, which is needed to adjust each LTCH's relative charge value to reflect its case-mix relative to the average case-mix for all LTCHs. Because we standardize charges in this manner, we count charges for a Medicare patient at a LTCH with high average charges as less resource intensive than they would be at a LTCH with low average charges. For example, a $10,000 charge for a case at a LTCH with an average adjusted charge of $17,500 reflects a higher level of relative resource use than a $10,000 charge for a case at a LTCH with the same case-mix, but an average adjusted charge of $35,000. We believe that the adjusted charge of an individual case more accurately reflects actual resource use for an individual LTCH because the variation in charges due to systematic differences in the markup of charges among LTCHs is taken into account.

d. Treatment of Severity Levels in Developing Proposed Relative Weights

Under the proposed MS-LTC-DRGs, for purposes of the proposed setting of the relative weights, there would be three different categories of DRGs based on volume of cases within specific MS-LTC-DRGs. MS-LTC-DRGs with at least 25 cases are each assigned a unique relative weight; low-volume MS-LTC-DRGs (that is, MS-LTC-DRGs that contain between one and 24 cases annually) are grouped into quintiles (described below) and assigned the weight of the quintile. No-volume MS-LTC-DRGs (that is, no cases in the database were assigned to those MS-LTC-DRGs) are crosswalked to other MS-LTC-DRGs based on the clinical similarities and assigned the relative weight of the crosswalked MS-LTC-DRG. (We provide in-depth discussions of our proposed policy regarding weight setting for low-volume MS-LTC-DRGs in section II.I.3.e. of the preamble of this proposed rule and for no-volume MS-LTC-DRGs, under Step 5 in section II.I.4. of the preamble of this proposed rule.)

As described above, in response to the need to account for severity and pay appropriately for cases, we developed a severity-adjusted patient classification system which we adopted for both the IPPS and the LTCH PPS in FY 2008. As described in greater detail above, the MS-LTC-DRG system can accommodate three severity levels: “with MCC” (most severe); “with CC,” and “without CC/MCC” (the least severe) with each level assigned an individual MS-LTC-DRG number. In cases with two subdivisions, the levels are either “with CC/MCC” and “without CC/MCC” or “with MCC” and “without MCC”. For example, under the MS-LTC-DRG system, multiple sclerosis and cerebellar ataxia with MCC is MS-LTC-DRG 58; multiple sclerosis and cerebellar ataxia with CC is MS-LTC-DRG 59; and multiple sclerosis and cerebellar ataxia without CC/MCC is MS-LTC-DRG 60. For purposes of discussion in this section, the term “base DRG” is used to refer to the DRG category that encompasses all levels of severity for that DRG. For example, when referring to the entire DRG category for multiple sclerosis and cerebellar ataxia, which includes the above three severity levels, we would use the term “base-DRG.”

As noted above, while the LTCH PPS and the IPPS use the same patient classification system, the methodology that is used to set the DRG weights for use in each payment system differs because the overall volume of cases in the LTCH PPS is much less than in the IPPS. As a general rule, consistent with the methodology we used when we adopted the MS-LTC-DRGs in the FY 2008 IPPS final rule with comment period (72 FR 47278 through 47281), we are proposing to determine the FY 2009 relative weights for the MS-LTC-DRGs using the following steps: (1) if an MS-LTC-DRG has at least 25 cases, it is assigned its own relative weight; (2) if an MS-LTC-DRG has between 1 and 24 cases, it is assigned to a quintile for which we will compute a relative weight; and (3) if an MS-LTC-DRG has no cases, it is crosswalked to another MS-LTC-DRG based upon clinical similarities to assign an appropriate relative weight (as described below in detail in Step 5 of the Steps for Determining the proposed FY 2009 MS-LTC-DRG Relative Weights). Furthermore, in determining the proposed FY 2009 MS-LTC-DRG relative weights, when necessary, we are proposing to make adjustments to account for nonmonotonicity, as explained below.

Theoretically, cases under the MS-LTC-DRG system that are more severe require greater expenditure of medical care resources and will result in higher average charges. Therefore, in the three severity levels, weights should increase with severity, from lowest to highest. If the weights do not increase (that is, if based on the relative weight methodology outlined above, the MS-LTC-DRG with MCC would have a lower relative weight than one with CC, or the MS-LTC-DRG without CC/MCC would have a higher relative weight than either of the others), there is a problem with monotonicity. Since the start of the LTCH PPS for FY 2003 (67 FR 55990), we have adjusted the setting of the LTC-DRG relative weights in order to maintain monotonicity by grouping both sets of cases together and establishing a new relative weight for both LTC-DRGs. We continue to believe that utilizing nonmonotonic relative weights to adjust Medicare payments would result in inappropriate payments because, in a nonmonotonic system, cases that are more severe and require greater expenditure of medical care resources would be paid based on a lower relative weight than cases that are less severe and require lower resource use. The procedure for dealing with nonmonotonicity under the MS-LTC-DRG classification system is discussed in greater detail below in section II.I.4. (Step 6) of the preamble of this proposed rule.

e. Proposed Low-Volume MS-LTC-DRGs

In order to account for MS-LTC-DRGs with low volume (that is, with fewer than 25 LTCH cases), consistent with the methodology we established when we implemented the LTCH PPS (August 30, 2002; 67 FR 55984 through 55995), we group those “low-volume MS-LTC-DRGs” (that is, MS-LTC-DRGs that contained between 1 and 24 cases annually) into one of five categories (quintiles) based on average charges, for the purposes of determining relative weights (72 FR 47283 through 47288). In determining the proposed FY 2009 MS-LTC-DRG relative weights in this proposed rule, we are proposing to continue to employ this quintile methodology for proposed low-volume MS-LTC-DRGs. In addition, in cases where the initial assignment of a low-volume MS-LTC-DRG to quintiles results in nonmonotonicity within a base DRG, in order to ensure appropriate Medicare payments, consistent with our historical methodology, we are proposing to make adjustments to the treatment of low-volume MS-LTC-DRGs to preserve monotonicity, as discussed in detail below in section II.I.4 (Step 6 of the methodology for determining the proposed FY 2009 MS-LTC-DRG relative weights). In this proposed rule, using LTCH cases from the December 2007 update of the FY 2007 MedPAR file, we identified 290 MS-LTC-DRGs that contained between 1 and 24 cases. This list of proposed MS-LTC-DRGs was then divided into one of the proposed 5 low-volume quintiles, each containing 58 MS-LTC-DRGs (290/5 = 58). We are proposing to make the assignment of a low-volume MS-LTC-DRG to a specific low-volume quintile by sorting the proposed low-volume MS-LTC-DRGs in ascending order by average charge in accordance with our established methodology. Specifically, for this proposed rule, the 290 proposed low-volume MS-LTC-DRGs are sorted by ascending order by average charge and assigned to a specific proposed low-volume quintile (as described below). After sorting the 290 proposed low-volume MS-LTC-DRGs by average charge in ascending order, we are proposing to group the first fifth (1st through 58th) of proposed low-volume MS-LTC-DRGs (with the lowest average charge) into Quintile 1. This process is repeated through the remaining proposed low-volume MS-LTC-DRGs so that each of the 5 proposed low-volume quintiles contains 58 proposed MS-LTC-DRGs. The highest average charge cases would be grouped into Quintile 5. (We note that, consistent with our historical methodology, if the number of proposed low-volume MS-LTC-DRGs had not been evenly divisible by 5, we would have used the average charge of the proposed low-volume MS-LTC-DRG to determine which proposed low-volume quintile would have received the additional proposed low-volume MS-LTC-DRG.)

Accordingly, in order to determine the proposed relative weights for the proposed MS-LTC-DRGs with low-volume for FY 2009, we are proposing to use the five low-volume quintiles described above. The composition of each of the proposed five low-volume quintiles shown in the chart below was used in determining the proposed MS-LTC-DRG relative weights for FY 2009 (Table 11 of the Addendum of this proposed rule). We would determine a proposed relative weight and (geometric) average length of stay for each of the proposed five low-volume quintiles using the methodology that we are proposing to apply to the regular MS-LTC-DRGs (25 or more cases), as described in section II.I.4. of the preamble of this proposed rule. We are proposing to assign the same relative weight and average length of stay to each of the proposed low-volume MS-LTC-DRGs that make up an individual low-volume quintile. We note that, as this system is dynamic, it is possible that the number and specific type of MS-LTC-DRGs with a low volume of LTCH cases will vary in the future. We use the best available claims data in the MedPAR file to identify low-volume MS-LTC-DRGs and to calculate the relative weights based on our methodology.

Proposed Composition of Low-Volume Quintiles for FY 2009
Proposed MS-LTC-DRG (version 26.0) | Proposed MS-LTC-DRG description (version 26.0)
PROPOSED QUINTILE 1
66 | Intracranial hemorrhage or cerebral infarction w/o CC/MCC.
67 | Nonspecific cva & precerebral occlusion w/o infarct w MCC.
68 | Nonspecific cva & precerebral occlusion w/o infarct w/o MCC.
69 | Transient ischemia.
72 | Nonspecific cerebrovascular disorders w/o CC/MCC.
79 | Hypertensive encephalopathy w/o CC/MCC.
87 | Traumatic stupor & coma, coma <1 hr w/o CC/MCC.
89 | Concussion w CC.
125 | Other disorders of the eye w/o MCC.
135 | Sinus & mastoid procedures w CC/MCC.
136 | Sinus & mastoid procedures w/o CC/MCC.**
148 | Ear, nose, mouth & throat malignancy w/o CC/MCC.
149 | Dysequilibrium.
159 | Dental & Oral Diseases w/o CC/MCC.
183 | Major chest trauma w MCC.
184 | Major chest trauma w CC.
185 | Major chest trauma w/o CC/MCC.
201 | Pneumothorax w/o CC/MCC.
257 | Upper limb & toe amputation for circ system disorders w/o CC/MCC.
261 | Cardiac pacemaker revision except device replacement w CC.***
263 | Vein ligation & stripping.
304 | Hypertension w MCC.
305 | Hypertension w/o MCC.
311 | Angina pectoris.
313 | Chest pain.
382 | Complicated peptic ulcer w/o CC/MCC.
387 | Inflammatory bowel disease w/o CC/MCC.
437 | Malignancy of hepatobiliary system or pancreas w/o CC/MCC.
443 | Disorders of liver except malig, cirr, alc hepa w/o CC/MCC.
468 | Revision of hip or knee replacement w/o CC/MCC.
510 | Shoulder, elbow or forearm proc, exc major joint proc w MCC.***
537 | Sprains, strains, & dislocations of hip, pelvis & thigh w CC/MCC.
544 | Pathological fractures & musculoskelet & conn tiss malig w/o CC/MCC.
547 | Connective tissue disorders w/o CC/MCC.
556 | Signs & symptoms of musculoskeletal system & conn tissue w/o MCC.
563 | Fx, sprn, strn & disl except femur, hip, pelvis & thigh w/o MCC.
601 | Non-malignant breast disorders w/o CC/MCC.
618 | Amputat of lower limb for endocrine, nutrit, & metabol dis w/o CC/MCC.
642 | Inborn errors of metabolism
645 | Endocrine disorders w/o CC/MCC.
694 | Urinary stones w/o esw lithotripsy w/o MCC.
723 | Malignancy, male reproductive system w CC.
726 | Benign prostatic hypertrophy w/o MCC.
730 | Other male reproductive system diagnoses w/o CC/MCC.
756 | Malignancy, female reproductive system w/o CC/MCC.
781 | Other antepartum diagnoses w medical complications.
810 | Major hematol/immun diag exc sickle cell crisis & coagul w/o CC/MCC.
816 | Reticuloendothelial & immunity disorders w/o CC/MCC.
864 | Fever of unknown origin.
869 | Other infectious & parasitic diseases diagnoses w/o CC/MCC.
880 | Acute adjustment reaction & psychosocial dysfunction.
882 | Neuroses except depressive.
886 | Behavioral & developmental disorders.
895 | Alcohol/drug abuse or dependence w rehabilitation therapy.
897 | Alcohol/drug abuse or dependence w/o rehabilitation therapy w/o MCC.
917 | Poisoning & toxic effects of drugs w MCC.
918 | Poisoning & toxic effects of drugs w/o MCC.
958 | Other O.R. procedures for multiple significant trauma w CC.
965 | Other multiple significant trauma w/o CC/MCC.
PROPOSED QUINTILE 2
59 | Multiple sclerosis & cerebellar ataxia w CC.
60 | Multiple sclerosis & cerebellar ataxia w/o CC/MCC.
75 | Viral meningitis w CC/MCC.
78 | Hypertensive encephalopathy w CC.
83 | Traumatic stupor & coma, coma >1 hr w CC.
84 | Traumatic stupor & coma, coma >1 hr w/o CC/MCC.
99 | Non-bacterial infect of nervous sys exc viral meningitis w/o CC/MCC.
102 | Headaches w MCC.
103 | Headaches w/o MCC.
121 | Acute major eye infections w CC/MCC.
122 | Acute major eye infections w/o CC/MCC.
124 | Other disorders of the eye w MCC.
153 | Otitis media & URI w/o MCC.
156 | Nasal trauma & deformity w/o CC/MCC.
157 | Dental & Oral Diseases w MCC.
158 | Dental & Oral Diseases w CC.
182 | Respiratory neoplasms w/o CC/MCC.*
188 | Pleural effusion w/o CC/MCC.*
203 | Bronchitis & asthma w/o CC/MCC.
254 | Other vascular procedures w/o CC/MCC.
294 | Deep vein thrombophlebitis w CC/MCC.
354 | Hernia procedures except inguinal & femoral w CC.
376 | Digestive malignancy w/o CC/MCC.
379 | G.I. hemorrhage w/o CC/MCC.
381 | Complicated peptic ulcer w CC.
390 | G.I. obstruction w/o CC/MCC.
409 | Biliary tract proc except only cholecyst w or w/o c.d.e. w CC.
433 | Cirrhosis & alcoholic hepatitis w CC.
440 | Disorders of pancreas except malignancy w/o CC/MCC.
446 | Disorders of the biliary tract w/o CC/MCC.*
489 | Knee procedures w/o pdx of infection w/o CC/MCC.
533 | Fractures of femur w MCC.
534 | Fractures of femur w/o MCC.
553 | Bone diseases & arthropathies w MCC.
578 | Skin graft &/or debrid exc for skin ulcer or cellulitis w/o CC/MCC.
584 | Breast biopsy, local excision & other breast procedures w CC/MCC.
624 | Skin grafts & wound debrid for endoc, nutrit & metab dis w/o CC/MCC.
661 | Kidney & ureter procedures for non-neoplasm w/o CC/MCC.
663 | Minor bladder procedures w CC.
665 | Prostatectomy w MCC.***
669 | Transurethral procedures w CC.
671 | Urethral procedures w CC/MCC.
688 | Kidney & urinary tract neoplasms w/o CC/MCC.
696 | Kidney & urinary tract signs & symptoms w/o MCC.
722 | Malignancy, male reproductive system w MCC.
759 | Infections, female reproductive system w/o CC/MCC.*
815 | Reticuloendothelial & immunity disorders w CC.
835 | Acute leukemia w/o major O.R. procedure w CC.***
842 | Lymphoma & non-acute leukemia w/o CC/MCC.
844 | Other myeloprolif dis or poorly diff neopl diag w CC.
845 | Other myeloprolif dis or poorly diff neopl diag w/o CC/MCC.
866 | Viral illness w/o MCC.
876 | O.R. procedure w principal diagnoses of mental illness.
881 | Depressive neuroses
923 | Other injury, poisoning & toxic effect diag w/o MCC.
929 | Full thickness burn w skin graft or inhal inj w/o CC/MCC.
964 | Other multiple significant trauma w CC.
976 | HIV w major related condition w/o CC/MCC.
PROPOSED QUINTILE 3
23 | Craniotomy w major device implant or acute complex CNS PDX w MCC.***
27 | Craniotomy & endovascular intracranial procedures w/o CC/MCC.
53 | Spinal disorders & injuries w/o CC/MCC.
58 | Multiple sclerosis & cerebellar ataxia w MCC.
82 | Traumatic stupor & coma, coma >1 hr w MCC.
98 | Non-bacterial infect of nervous sys exc viral meningitis w CC.
113 | Orbital procedures w CC/MCC.
116 | Intraocular procedures w CC/MCC.
136 | Sinus & mastoid procedures w/o CC/MCC.***
152 | Otitis media & URI w MCC.
165 | Major chest procedures w/o CC/MCC.
168 | Other resp system O.R. procedures w/o CC/MCC.
238 | Major cardiovascular procedures w/o MCC.
241 | Amputation for circ sys disorders exc upper limb & toe w/o CC/MCC.
261 | Cardiac pacemaker revision except device replacement w CC.**
262 | Cardiac pacemaker revision except device replacement w/o CC/MCC.**
284 | Circulatory disorders w AMI, expired w CC.*
287 | Circulatory disorders except AMI, w card cath w/o MCC.
369 | Major esophageal disorders w CC.
370 | Major esophageal disorders w/o CC/MCC.
380 | Complicated peptic ulcer w MCC.
384 | Uncomplicated peptic ulcer w/o MCC.
424 | Other hepatobiliary or pancreas O.R. procedures w CC.
471 | Cervical spinal fusion w MCC.
472 | Cervical spinal fusion w CC.
476 | Amputation for musculoskeletal sys & conn tissue dis w/o CC/MCC.
482 | Hip & femur procedures except major joint w/o CC/MCC.
494 | Lower extrem & humer proc except hip, foot, femur w/o CC/MCC.
497 | Local excision & removal int fix devices exc hip & femur w/o CC/MCC.*
502 | Soft tissue procedures w/o CC/MCC.
504 | Foot procedures w CC.
505 | Foot procedures w/o CC/MCC.
510 | Shoulder, elbow or forearm proc, exc major joint proc w MCC.**
511 | Shoulder, elbow or forearm proc, exc major joint proc w CC.**
535 | Fractures of hip & pelvis w MCC.
542 | Pathological fractures & musculoskelet & conn tiss malig w MCC.
555 | Signs & symptoms of musculoskeletal system & conn tissue w MCC.
562 | Fx, sprn, strn & disl except femur, hip, pelvis & thigh w MCC.
598 | Malignant breast disorders w CC.
599 | Malignant breast disorders w/o CC/MCC.**
600 | Non-malignant breast disorders w CC/MCC.
626 | Thyroid, parathyroid & thyroglossal procedures w CC.
630 | Other endocrine, nutrit & metab O.R. proc w/o CC/MCC.
665 | Prostatectomy w MCC.**
666 | Prostatectomy w CC.**
668 | Transurethral procedures w MCC.
686 | Kidney & urinary tract neoplasms w MCC.
687 | Kidney & urinary tract neoplasms w CC.
693 | Urinary stones w/o esw lithotripsy w MCC.
725 | Benign prostatic hypertrophy w MCC.
744 | D&C, conization, laparoscopy & tubal interruption w CC/MCC.
755 | Malignancy, female reproductive system w CC.
800 | Splenectomy w CC.
809 | Major hematol/immun diag exc sickle cell crisis & coagul w CC.
814 | Reticuloendothelial & immunity disorders w MCC.
824 | Lymphoma & non-acute leukemia w other O.R. proc w CC.
834 | Acute leukemia w/o major O.R. procedure w MCC.
835 | Acute leukemia w/o major O.R. procedure w CC.**
836 | Acute leukemia w/o major O.R. procedure w/o CC/MCC.**
843 | Other myeloprolif dis or poorly diff neopl diag w MCC.
883 | Disorders of personality & impulse control.
903 | Wound debridements for injuries w/o CC/MCC.
905 | Skin grafts for injuries w/o CC/MCC.
922 | Other injury, poisoning & toxic effect diag w MCC.
941 | O.R. proc w diagnoses of other contact w health services w/o CC/MCC.
963 | Other multiple significant trauma w MCC.
989 | Non-extensive O.R. proc unrelated to principal diagnosis w/o CC/MCC.
PROPOSED QUINTILE 4
23 | Craniotomy w major device implant or acute complex CNS PDX w MCC.**
24 | Craniotomy w major device implant or acute complex CNS PDX w/o MCC.**
28 | Spinal procedures w MCC.
29 | Spinal procedures w CC.
30 | Spinal procedures w/o CC/MCC.
37 | Extracranial procedures w MCC.
38 | Extracranial procedures w CC.**
42 | Periph & cranial nerve & other nerv syst proc w/o CC/MCC.*
77 | Hypertensive encephalopathy w MCC.
133 | Other ear, nose, mouth & throat O.R. procedures w CC/MCC.
164 | Major chest procedures w CC.
237 | Major cardiovascular procedures w MCC.
242 | Permanent cardiac pacemaker implant w MCC.***
246 | Percutaneous cardiovascular proc w drug-eluting stent w MCC.
247 | Percutaneous cardiovascular proc w drug-eluting stent w/o MCC.
248 | Percutaneous cardiovasc proc w non-drug-eluting stent w MCC.
249 | Percutaneous cardiovasc proc w non-drug-eluting stent w/o MCC.**
259 | Cardiac pacemaker device replacement w/o MCC.
260 | Cardiac pacemaker revision except device replacement w MCC.
262 | Cardiac pacemaker revision except device replacement w/o CC/MCC.***
286 | Circulatory disorders except AMI, w card cath w MCC.
327 | Stomach, esophageal & duodenal proc w CC.
328 | Stomach, esophageal & duodenal proc w/o CC/MCC.**
348 | Anal & stomal procedures w CC.
358 | Other digestive system O.R. procedures w/o CC/MCC.*
405 | Pancreas, liver & shunt procedures w MCC.
406 | Pancreas, liver & shunt procedures w CC.**
417 | Laparoscopic cholecystectomy w/o c.d.e. w MCC.***
466 | Revision of hip or knee replacement w MCC.
467 | Revision of hip or knee replacement w CC.
469 | Major joint replacement or reattachment of lower extremity w MCC.***
478 | Biopsies of musculoskeletal system & connective tissue w CC.
481 | Hip & femur procedures except major joint w CC.
485 | Knee procedures w pdx of infection w MCC.
486 | Knee procedures w pdx of infection w CC.
487 | Knee procedures w pdx of infection w/o CC/MCC.**
490 | Back & neck procedures except spinal fusion w CC/MCC or disc devices.
492 | Lower extrem & humer proc except hip, foot, femur w MCC.
493 | Lower extrem & humer proc except hip, foot, femur w CC.
503 | Foot procedures w MCC.
511 | Shoulder, elbow or forearm proc, exc major joint proc w CC.***
513 | Hand or wrist proc, except major thumb or joint proc w CC/MCC.
514 | Hand or wrist proc, except major thumb or joint proc w/o CC/MCC.**
597 | Malignant breast disorders w MCC.
599 | Malignant breast disorders w/o CC/MCC.***
625 | Thyroid, parathyroid & thyroglossal procedures w MCC.
659 | Kidney & ureter procedures for non-neoplasm w MCC.
660 | Kidney & ureter procedures for non-neoplasm w CC.
666 | Prostatectomy w CC.***
695 | Kidney & urinary tract signs & symptoms w MCC.
711 | Testes procedures w CC/MCC.
717 | Other male reproductive system O.R. proc exc malignancy w CC/MCC.
739 | Uterine, adnexa proc for non-ovarian/adnexal malig w MCC.
749 | Other female reproductive system O.R. procedures w CC/MCC.
754 | Malignancy, female reproductive system w MCC.
802 | Other O.R. proc of the blood & blood forming organs w MCC.
808 | Major hematol/immun diag exc sickle cell crisis & coagul w MCC.
823 | Lymphoma & non-acute leukemia w other O.R. proc w MCC.
896 | Alcohol/drug abuse or dependence w/o rehabilitation therapy w MCC.
909 | Other O.R. procedures for injuries w/o CC/MCC.*
928 | Full thickness burn w skin graft or inhal inj w CC/MCC.
933 | Extensive burns or full thickness burns w MV 96+ hrs w/o skin graft.
957 | Other O.R. procedures for multiple significant trauma w MCC.
969 | HIV w extensive O.R. procedure w MCC.
970 | HIV w extensive O.R. procedure w/o MCC.**
984 | Prostatic O.R. procedure unrelated to principal diagnosis w MCC.
985 | Prostatic O.R. procedure unrelated to principal diagnosis w CC.
PROPOSED QUINTILE 5
11 | Tracheostomy for face, mouth & neck diagnoses w MCC.
12 | Tracheostomy for face, mouth & neck diagnoses w CC.
24 | Craniotomy w major device implant or acute complex CNS PDX w/o MCC.***
25 | Craniotomy & endovascular intracranial procedures w MCC.
26 | Craniotomy & endovascular intracranial procedures w CC.
31 | Ventricular shunt procedures w MCC.
32 | Ventricular shunt procedures w CC.
38 | Extracranial procedures w CC.***
132 | Cranial/facial procedures w/o CC/MCC.
137 | Mouth procedures w CC/MCC.
226 | Cardiac defibrillator implant w/o cardiac cath w MCC.
227 | Cardiac defibrillator implant w/o cardiac cath w/o MCC.
242 | Permanent cardiac pacemaker implant w MCC.**
243 | Permanent cardiac pacemaker implant w CC.
244 | Permanent cardiac pacemaker implant w/o CC/MCC.
249 | Percutaneous cardiovasc proc w non-drug-eluting stent w/o MCC.***
250 | Perc cardiovasc proc w/o coronary artery stent or AMI w MCC.
326 | Stomach, esophageal & duodenal proc w MCC.
328 | Stomach, esophageal & duodenal proc w/o CC/MCC.***
330 | Major small & large bowel procedures w CC.
331 | Major small & large bowel procedures w/o CC/MCC.
335 | Peritoneal adhesiolysis w MCC.
344 | Minor small & large bowel procedures w MCC.
347 | Anal & stomal procedures w MCC.
353 | Hernia procedures except inguinal & femoral w MCC.
406 | Pancreas, liver & shunt procedures w CC.***
411 | Cholecystectomy w c.d.e. w MCC.
414 | Cholecystectomy except by laparoscope w/o c.d.e. w MCC.
415 | Cholecystectomy except by laparoscope w/o c.d.e. w CC.
417 | Laparoscopic cholecystectomy w/o c.d.e. w MCC.**
418 | Laparoscopic cholecystectomy w/o c.d.e. w CC.
423 | Other hepatobiliary or pancreas O.R. procedures w MCC.
456 | Spinal fusion exc cerv w spinal curv, malig or 9+ fusions w MCC.
457 | Spinal fusion exc cerv w spinal curv, malig or 9+ fusions w CC.
459 | Spinal fusion except cervical w MCC.
469 | Major joint replacement or reattachment of lower extremity w MCC.**
470 | Major joint replacement or reattachment of lower extremity w/o MCC.
477 | Biopsies of musculoskeletal system & connective tissue w MCC.
480 | Hip & femur procedures except major joint w MCC.
487 | Knee procedures w pdx of infection w/o CC/MCC.***
488 | Knee procedures w/o pdx of infection w CC/MCC.
496 | Local excision & removal int fix devices exc hip & femur w CC.*
498 | Local excision & removal int fix devices of hip & femur w CC/MCC.
507 | Major shoulder or elbow joint procedures w CC/MCC.
514 | Hand or wrist proc, except major thumb or joint proc w/o CC/MCC.***
582 | Mastectomy for malignancy w CC/MCC.
619 | O.R. procedures for obesity w MCC.
653 | Major bladder procedures w MCC.
656 | Kidney & ureter procedures for neoplasm w MCC.
662 | Minor bladder procedures w MCC.
709 | Penis procedures w CC/MCC.
713 | Transurethral prostatectomy w CC/MCC.
746 | Vagina, cervix & vulva procedures w CC/MCC.
826 | Myeloprolif disord or poorly diff neopl w maj O.R. proc w MCC.
827 | Myeloprolif disord or poorly diff neopl w maj O.R. proc w CC.
829 | Myeloprolif disord or poorly diff neopl w other O.R. proc w CC/MCC.
836 | Acute leukemia w/o major O.R. procedure w/o CC/MCC.***
855 | Infectious & parasitic diseases w O.R. procedure w/o CC/MCC.*
906 | Hand procedures for injuries.
927 | Extensive burns or full thickness burns w MV 96+ hrs w skin graft.
970 | HIV w extensive O.R. procedure w/o MCC.***
*One of the original 290 proposed low-volume MS-LTC-DRGs initially assigned to this proposed low-volume quintile; removed from this proposed low-volume quintile in addressing nonmonotonicity (refer to step 6 in section II.I.4..of the preamble of this proposed rule).
**One of the original 290 proposed low-volume MS-LTC-DRGs initially assigned to a different proposed low-volume quintile but moved to this proposed low-volume quintile in addressing nonmonotonicity (refer to step 6 in section II.I.4. of the preamble of this proposed rule).
***One of the original 290 proposed low-volume MS-LTC-DRGs initially assigned to this proposed low-volume quintile but moved to a different proposed low-volume quintile in addressing nonmonotonicity (refer to step 6 in section II.I.4. of the preamble of this proposed rule).

We note that we will continue to monitor the volume (that is, the number of LTCH cases) in the low-volume quintiles to ensure that our proposed quintile assignment results in appropriate payment for such cases and does not result in an unintended financial incentive for LTCHs to inappropriately admit these types of cases.

4. Steps for Determining the Proposed FY 2009 MS-LTC-DRG Relative Weights

In general, the proposed FY 2009 MS-LTC-DRG relative weights in this proposed rule were determined based on the methodology established in the August 30, 2002 LTCH PPS final rule (67 FR 55989 through 55991). In summary, for FY 2009, we are proposing to group LTCH cases to the appropriate proposed MS-LTC-DRG, while taking into account the proposed low-volume MS-LTC-DRGs (as described above), before the proposed FY 2009 MS-LTC-DRG relative weights are determined. After grouping the cases to the appropriate proposed MS-LTC-DRG (or proposed low-volume quintile), we would calculate the proposed relative weights for FY 2009 by first removing statistical outliers and cases with a length of stay of 7 days or less (as discussed in greater detail below). Next, we would adjust the number of cases in each proposed MS-LTC-DRG (or proposed low-volume quintile) for the effect of short-stay outlier cases (as also discussed in greater detail below). The short-stay adjusted discharges and corresponding charges are used to calculate “relative adjusted weights” in each proposed MS-LTC-DRG (or proposed low-volume quintile) using the HSRV method (described above). In general, to determine the proposed FY 2009 MS-LTC-DRG relative weights in this proposed rule, we are proposing to use the same methodology we used in determining the FY 2008 MS-LTC-DRG relative weights in the FY 2008 IPPS final rule with comment period (72 FR 47281 through 47299). However, we are proposing to make a modification to our methodology for determining proposed relative weights for MS-LTC-DRGs with no LTCH cases (as discussed in greater detail in Step 5 below). Also, we note that, although we are generally proposing to use the same methodology in this proposed rule (with the exception noted above) as the methodology used in the FY 2008 IPPS final rule with comment, the discussion presented below of the steps for determining the proposed FY 2009 MS-LTC-DRG relative weights varies slightly from the discussion of the steps for determining the FY 2008 MS-LTC-DRG relative weights (presented in the FY 2008 IPPS final rule with comment) because we are taking this opportunity to refine our description to more precisely explain our methodology for determining the MS-LTC-DRG relative weights.

As discussed in the FY 2008 IPPS final rule with comment when we adopted the MS-LTC-DRGs, the adoption of the MS-LTC-DRGs with either two or three severity levels resulted in some slight modifications of procedures for assigning relative weights in cases of zero volume and/or nonmonotonicity (described in detail below) from the methodology we established when we implemented the LTCH PPS in the August 30, 2002 LTCH PPS final rule. As also discussed in the FY 2008 IPPS final rule with comment when we adopted the MS-LTC-DRGs, we implemented the MS-LTC-DRGs with a 2-year transition beginning in FY 2008. For FY 2008, the first year of the transition, 50 percent of the relative weight for a MS-LTC-DRG was based on the average LTC-DRG relative weight under Version 24.0 of the LTC-DRG GROUPER. The remaining 50 percent of the relative weight was based on the MS-LTC-DRG relative weight under Version 25.0 of the MS-LTC-DRG GROUPER. In FY 2009, the MS-LTC-DRG relative weights are based on 100 percent of the MS-LTC-DRG relative weights. Accordingly, in determining the proposed FY 2009 MS-LTC-DRG relative weights in this proposed rule, there is no longer a need to include a step to calculate MS-LTC-DRG transition blended relative weights (see Step 7 in the FY 2008 IPPS final rule with comment period (72 FR 47295)). Therefore, in this proposed rule, we determined the proposed FY 2009 MS-LTC-DRG relative weights based solely on the proposed MS-LTC-DRG relative weight under proposed Version 26.0 of the MS-LTC-DRG GROUPER, which is discussed in section II.B. of the preamble of this proposed rule. Furthermore, we are proposing that we would determine the final FY 2009 MS-LTC-DRG relative weights in the final rule based on the final Version 26.0 of the MS-LTC-DRG GROUPER that will be presented in that same final rule.

Below we discuss in detail the steps for calculating the proposed FY 2009 MS-LTC-DRG relative weights. We note that, as we stated above in section II.I.3.b. of the preamble of this proposed rule, we have excluded the data of all-inclusive rate LTCHs and LTCHs that are paid in accordance with demonstration projects that had claims in the FY 2007 MedPAR file.

Step 1—Remove statistical outliers.

The first step in the calculation of the proposed FY 2009 MS-LTC-DRG relative weights is to remove statistical outlier cases. Consistent with our historical relative weight methodology, we are proposing to continue to define statistical outliers as cases that are outside of 3.0 standard deviations from the mean of the log distribution of both charges per case and the charges per day for each proposed MS-LTC-DRG. These statistical outliers are removed prior to calculating the proposed relative weights because we believe that they may represent aberrations in the data that distort the measure of average resource use. Including those LTCH cases in the calculation of the proposed relative weights could result in an inaccurate proposed relative weight that does not truly reflect relative resource use among the proposed MS-LTC-DRGs.

Step 2—Remove cases with a length of stay of 7 days or less.

The MS-LTC-DRG relative weights reflect the average of resources used on representative cases of a specific type. Generally, cases with a length of stay of 7 days or less do not belong in a LTCH because these stays do not fully receive or benefit from treatment that is typical in a LTCH stay, and full resources are often not used in the earlier stages of admission to a LTCH. If we were to include stays of 7 days or less in the computation of the proposed FY 2009 MS-LTC-DRG relative weights, the value of many relative weights would decrease and, therefore, payments would decrease to a level that may no longer be appropriate. We do not believe that it would be appropriate to compromise the integrity of the payment determination for those LTCH cases that actually benefit from and receive a full course of treatment at a LTCH, by including data from these very short-stays. Therefore, consistent with our historical relative weight methodology, in determining the proposed FY 2009 MS-LTC-DRG relative weights, we are proposing to remove LTCH cases with a length of stay of 7 days or less.

Step 3—Adjust charges for the effects of short-stay outliers.

After removing cases with a length of stay of 7 days or less, we are left with cases that have a length of stay of greater than or equal to 8 days. As the next step in the calculation of the proposed FY 2009 MS-LTC-DRG relative weights, consistent with our historical relative weight methodology, we are proposing to adjust each LTCH's charges per discharge for those remaining cases for the effects of short-stay outliers (as defined in § 412.529(a) in conjunction with § 412.503 for LTCH discharges occurring on or after October 1, 2008). (We note that even if a case was removed in Step 2 (that is, cases with a length of stay of 7 days or less), it was paid as a short-stay outlier if its length of stay was less than or equal to five-sixths of the average length of stay of the MS-LTC-DRG.)

We would make this adjustment by counting a short-stay outlier as a fraction of a discharge based on the ratio of the length of stay of the case to the average length of stay for the proposed MS-LTC-DRG for nonshort-stay outlier cases. This has the effect of proportionately reducing the impact of the lower charges for the short-stay outlier cases in calculating the average charge for the proposed MS-LTC-DRG. This process produces the same result as if the actual charges per discharge of a short-stay outlier case were adjusted to what they would have been had the patient's length of stay been equal to the average length of stay of the proposed MS-LTC-DRG.

Counting short-stay outlier cases as full discharges with no adjustment in determining the proposed FY 2009 MS-LTC-DRG relative weights would lower the proposed FY 2009 MS-LTC-DRG relative weight for affected proposed MS-LTC-DRGs because the relatively lower charges of the short-stay outlier cases would bring down the average charge for all cases within a proposed MS-LTC-DRG. This would result in an “underpayment” for nonshort-stay outlier cases and an “overpayment” for short-stay outlier cases. Therefore, we are proposing to adjust for short-stay outlier cases under § 412.529 in this manner because it results in more appropriate payments for all LTCH cases.

Step 4—Calculate the proposed FY 2009 MS-LTC-DRG relative weights on an iterative basis.

Consistent with our historical relative weight methodology, we are proposing to calculate the proposed MS-LTC-DRG relative weights using the HSRV methodology, which is an iterative process. First, for each LTCH case, we calculate a hospital-specific relative charge value by dividing the short-stay outlier adjusted charge per discharge (see step 3) of the LTCH case (after removing the statistical outliers (see step 1)) and LTCH cases with a length of stay of 7 days or less (see step 2) by the average charge per discharge for the LTCH in which the case occurred. The resulting ratio is then multiplied by the LTCH's case-mix index to produce an adjusted hospital-specific relative charge value for the case. An initial case-mix index value of 1.0 is used for each LTCH.

For each proposed MS-LTC-DRG, the proposed FY 2009 relative weight is calculated by dividing the average of the adjusted hospital-specific relative charge values (from above) for the MS-LTC-DRG by the overall average hospital-specific relative charge value across all cases for all LTCHs. Using these recalculated MS-LTC-DRG relative weights, each LTCH's average relative weight for all of its cases (that is, its case-mix) is calculated by dividing the sum of all the LTCH's MS-LTC-DRG relative weights by its total number of cases. The LTCH's hospital-specific relative charge values above are multiplied by these hospital-specific case-mix indexes. These hospital-specific case-mix adjusted relative charge values are then used to calculate a new set of MS-LTC-DRG relative weights across all LTCHs. This iterative process is continued until there is convergence between the weights produced at adjacent steps, for example, when the maximum difference is less than 0.0001.

Step 5—Determine a proposed FY 2009 relative weight for proposed MS-LTC-DRGs with no LTCH cases.

As we stated above, we determine the proposed FY 2009 relative weight for each proposed MS-LTC-DRG using total Medicare allowable charges reported in the best available LTCH claims data (that is, the December 2007 update of the FY 2007 MedPAR file for this proposed rule). Of the proposed FY 2009 MS-LTC-DRGs, we identified a number of proposed MS-LTC-DRGs for which there were no LTCH cases in the database. That is, based on data from the FY 2007 MedPAR file used for this proposed rule, no patients who would have been classified to those proposed MS-LTC-DRGs were treated in LTCHs during FY 2007 and, therefore, no charge data are available for those proposed MS-LTC-DRGs. Thus, in the process of determining the proposed MS-LTC-DRG relative weights, we are unable to calculate proposed relative weights for these proposed MS-LTC-DRGs with no LTCH cases using the methodology described in Steps 1 through 4 above. However, because patients with a number of the diagnoses under these proposed MS-LTC-DRGs may be treated at LTCHs, consistent with our historical methodology, we are proposing to assign relative weights to each of the proposed no-volume MS-LTC-DRGs based on clinical similarity and relative costliness (with the exception of proposed “transplant” MS-LTC-DRGs and proposed “error” MS-LTC-DRGs as discussed below). In general, we are proposing to determine proposed FY 2009 relative weights for the proposed MS-LTC-DRGs with no LTCH cases in the FY 2007 MedPAR file used in this proposed rule (that is, proposed “no-volume MS-LTC-DRGs) by cross-walking each proposed no-volume MS-LTC-DRG to another proposed MS-LTC-DRG with a proposed relative weight (determined in accordance with the proposed methodology described above). Then, under our proposed methodology presented in this proposed rule, the proposed “no-volume” MS-LTC-DRG would be assigned the same proposed relative weight of the proposed MS-LTC-DRG to which it would be cross-walked (as described in greater detail below). As noted above, we are proposing to make a modification to our methodology for determining proposed relative weights for MS-LTC-DRGs with no LTCH cases in this proposed rule, which is discussed in greater detail below. As also noted above, even where we are not proposing changes to our existing methodology, we are taking this opportunity to refine our description to more precisely explain our proposed methodology for determining the MS-LTC-DRG relative weights in this proposed rule.

Specifically, in this proposed rule, we are proposing to determine the relative weight for each proposed MS-LTC-DRG using total Medicare allowable charges reported in the December 2007 update of the FY 2007 MedPAR file. Of the 746 proposed MS-LTC-DRGs for FY 2009, we identified 203 proposed MS-LTC-DRGs for which there were no LTCH cases in the database (including the 8 proposed “transplant” MS-LTC-DRGs and 2 proposed “error” MS-LTC-DRGs). For this proposed rule, as noted above, we are proposing to assign proposed relative weights for each of the 203 proposed no-volume MS-LTC-DRGs (with the exception of the 8 proposed “transplant” proposed MS-LTC-DRGs and the 2 proposed “error” MS-LTC-DRGs, which are discussed below) based on clinical similarity and relative costliness to one of the remaining 543 (746 − 203 = 543) proposed MS-LTC-DRGs for which we are able to determine relative weights, based on FY 2007 LTCH claims data. (For the remainder of this discussion, we refer to one of the 543 proposed MS-LTC-DRGs for which we are able to determine relative weight as the proposed “cross-walked” MS-LTC-DRG.) Then we are proposing to assign the proposed no-volume MS-LTC-DRG the proposed relative weight of the proposed cross-walked MS-LTC-DRG. This proposed approach differs from the one we used to determine the FY 2008 MS-LTC-DRG relative weights when there were no LTCH cases (see 72 FR 47290). Specifically, in determining the FY 2008 MS-LTC-DRG relative weights in the FY 2008 IPPS final rule with comment period, if the no volume MS-LTC-DRG was cross-walked to a MS-LTC-DRG that had 25 or more cases and, therefore, was not in a low-volume quintile, we assigned the relative weight of a quintile to a no-volume MS-LTC-DRG (rather than assigning the relative weight of the cross-walked MS-LTC-DRG). While we believe this approach would result in appropriate LTCH PPS payments (because it is consistent with our methodology for determining relative weights for MS-LTC-DRGs that have a low volume of LTCH cases (which is discussed above in section II.I.3.e. of this preamble)), upon further review during the development of the proposed FY 2009 MS-LTC-DRG relative weights in this proposed rule, we now believe that proposing to assign the proposed relative weight of the proposed cross-walked MS-LTC-DRG to the proposed no-volume MS-LTC-DRG would result in more appropriate LTCH PPS payments because those cases generally require equivalent relative resource (and therefore should generally have the same LTCH PPS payment). The relative weight of each MS-LTC-DRG should reflect relative resource of the LTCH cases grouped to that MS-LTC-DRG. Because the proposed no-volume MS-LTC-DRGs would be cross-walked to other proposed MS-LTC-DRGs based on clinical similarity and relative costliness, which usually require equivalent relative resource use, we believe that assigning the proposed no-volume MS-LTC-DRG the proposed relative weight of the proposed cross-walked MS-LTC-DRG would result in appropriate LTCH PPS payments. (As explained below in Step 6, when necessary, we are proposing to make adjustments to account for nonmonotonicity.)

Our proposed methodology for determining the proposed relative weights for the proposed no-volume MS-LTC-DRGs is as follows: We cross-walk the proposed no-volume MS-LTC-DRG to a proposed MS-LTC-DRG for which there are LTCH cases in the FY 2007 MedPAR file and to which it is similar clinically in intensity of use of resources and relative costliness as determined by criteria such as care provided during the period of time surrounding surgery, surgical approach (if applicable), length of time of surgical procedure, postoperative care, and length of stay. We then assign the proposed relative weight of the proposed cross-walked MS-LTC-DRG as the proposed relative weight for the proposed no-volume MS-LTC-DRG such that both of these proposed MS-LTC-DRGs (that is, the proposed no-volume MS-LTC-DRG and the proposed cross-walked MS-LTC-DRG) would have the same proposed relative weight. We note that if the proposed cross-walked MS-LTC-DRG had 25 cases or more, its proposed relative weight, which was calculated using the proposed methodology described in steps 1 through 4 above, would be assigned to the proposed no-volume MS-LTC-DRG as well. Similarly, if the proposed MS-LTC-DRG to which the proposed no-volume MS-LTC-DRG is cross-walked has 24 or less cases, and therefore was designated to one of the proposed low-volume quintiles for purposes of determining the proposed relative weights, we would assign the proposed relative weight of the applicable proposed low-volume quintile to the proposed no-volume MS-LTC-DRG such that both of these proposed MS-LTC-DRGs (that is, the proposed no-volume MS-LTC-DRG and the proposed cross-walked MS-LTC-DRG) would have the same proposed relative weight. (As we noted above, in the infrequent case where nonmonotonicity involving a proposed no-volume MS-LTC-DRG results, additional measures as described in Step 6 would be required in order to maintain monotonically increasing relative weights.)

For this proposed rule, a list of the proposed no-volume FY 2009 MS-LTC-DRGs and the proposed FY 2009 MS-LTC-DRG to which it is cross-walked (that is, the proposed cross-walked MS-LTC-DRG) is shown in the chart below.

Proposed No-Volume MS-LTC-DRG Crosswalk for FY 2009
Proposed MS-LTC-DRG (Version 26.0) | Proposed MS-LTC-DRG description (version 26.0) | Proposed cross-walked MS-LTC-DRG
9 | Bone marrow transplant | 823
13 | Tracheostomy for face, mouth & neck diagnoses w/o CC/MCC | 12
20 | Intracranial vascular procedures w PDX hemorrhage w MCC | 31
21 | Intracranial vascular procedures w PDX hemorrhage w CC | 32
22 | Intracranial vascular procedures w PDX hemorrhage w/o CC/MCC | 32
33 | Ventricular shunt procedures w/o CC/MCC | 32
34 | Carotid artery stent procedure w MCC | 37
35 | Carotid artery stent procedure w CC | 38
36 | Carotid artery stent procedure w/o CC/MCC | 38
39 | Extracranial procedures w/o CC/MCC | 38
61 | Acute ischemic stroke w use of thrombolytic agent w MCC | 70
62 | Acute ischemic stroke w use of thrombolytic agent w CC | 71
63 | Acute ischemic stroke w use of thrombolytic agent w/o CC/MCC | 72
76 | Viral meningitis w/o CC/MCC | 75
88 | Concussion w MCC | 89
90 | Concussion w/o CC/MCC | 89
114 | Orbital procedures w/o CC/MCC | 113
115 | Extraocular procedures except orbit | 125
117 | Intraocular procedures w/o CC/MCC | 125
123 | Neurological eye disorders | 125
129 | Major head & neck procedures w CC/MCC or major device | 146
130 | Major head & neck procedures w/o CC/MCC | 148
131 | Cranial/facial procedures w CC/MCC | 132
134 | Other ear, nose, mouth & throat O.R. procedures w/o CC/MCC | 133
138 | Mouth procedures w/o CC/MCC | 137
139 | Salivary gland procedures | 137
150 | Epistaxis w MCC | 152
151 | Epistaxis w/o MCC | 153
215 | Other heart assist system implant | 238
216 | Cardiac valve & oth maj cardiothoracic proc w card cath w MCC | 237
217 | Cardiac valve & oth maj cardiothoracic proc w card cath w CC | 238
218 | Cardiac valve & oth maj cardiothoracic proc w card cath w/o CC/MCC | 238
219 | Cardiac valve & oth maj cardiothoracic proc w/o card cath w MCC | 237
220 | Cardiac valve & oth maj cardiothoracic proc w/o card cath w CC | 238
221 | Cardiac valve & oth maj cardiothoracic proc w/o card cath w/o CC/MCC | 238
222 | Cardiac defib implant w cardiac cath w AMI/HF/shock w MCC | 242
223 | Cardiac defib implant w cardiac cath w AMI/HF/shock w/o MCC | 243
224 | Cardiac defib implant w cardiac cath w/o AMI/HF/shock w MCC | 242
225 | Cardiac defib implant w cardiac cath w/o AMI/HF/shock w/o MCC | 243
228 | Other cardiothoracic procedures w MCC | 252
229 | Other cardiothoracic procedures w CC | 253
230 | Other cardiothoracic procedures w/o CC/MCC | 254
231 | Coronary bypass w PTCA w MCC | 237
232 | Coronary bypass w PTCA w/o MCC | 238
233 | Coronary bypass w cardiac cath w MCC | 237
234 | Coronary bypass w cardiac cath w/o MCC | 238
235 | Coronary bypass w/o cardiac cath w MCC | 237
236 | Coronary bypass w/o cardiac cath w/o MCC | 238
245 | AICD generator procedures | 244
251 | Perc cardiovasc proc w/o coronary artery stent or AMI w/o MCC | 250
258 | Cardiac pacemaker device replacement w MCC | 259
265 | AICD lead procedures | 259
285 | Circulatory disorders w AMI, expired w/o CC/MCC | 284
295 | Deep vein thrombophlebitis w/o CC/MCC | 294
296 | Cardiac arrest, unexplained w MCC | 283
297 | Cardiac arrest, unexplained w CC | 284
298 | Cardiac arrest, unexplained w/o CC/MCC | 284
332 | Rectal resection w MCC | 356
333 | Rectal resection w CC | 357
334 | Rectal resection w/o CC/MCC | 358
336 | Peritoneal adhesiolysis w CC | 335
337 | Peritoneal adhesiolysis w/o CC/MCC | 335
338 | Appendectomy w complicated principal diag w MCC | 371
339 | Appendectomy w complicated principal diag w CC | 372
340 | Appendectomy w complicated principal diag w/o CC/MCC | 373
341 | Appendectomy w/o complicated principal diag w MCC | 371
342 | Appendectomy w/o complicated principal diag w CC | 372
343 | Appendectomy w/o complicated principal diag w/o CC/MCC | 373
345 | Minor small & large bowel procedures w CC | 344
346 | Minor small & large bowel procedures w/o CC/MCC | 344
349 | Anal & stomal procedures w/o CC/MCC | 348
350 | Inguinal & femoral hernia procedures w MCC | 348
351 | Inguinal & femoral hernia procedures w CC | 348
352 | Inguinal & femoral hernia procedures w/o CC/MCC | 348
355 | Hernia procedures except inguinal & femoral w/o CC/MCC | 354
383 | Uncomplicated peptic ulcer w MCC | 384
407 | Pancreas, liver & shunt procedures w/o CC/MCC | 406
408 | Biliary tract proc except only cholecyst w or w/o c.d.e. w MCC | 409
410 | Biliary tract proc except only cholecyst w or w/o c.d.e. w/o CC/MCC | 409
412 | Cholecystectomy w c.d.e. w CC | 411
413 | Cholecystectomy w c.d.e. w/o CC/MCC | 411
416 | Cholecystectomy except by laparoscope w/o c.d.e. w/o CC/MCC | 415
419 | Laparoscopic cholecystectomy w/o c.d.e. w/o CC/MCC | 418
420 | Hepatobiliary diagnostic procedures w MCC | 424
421 | Hepatobiliary diagnostic procedures w CC | 424
422 | Hepatobiliary diagnostic procedures w/o CC/MCC | 424
425 | Other hepatobiliary or pancreas O.R. procedures w/o CC/MCC | 424
434 | Cirrhosis & alcoholic hepatitis w/o CC/MCC | 433
453 | Combined anterior/posterior spinal fusion w MCC | 457
454 | Combined anterior/posterior spinal fusion w CC | 457
455 | Combined anterior/posterior spinal fusion w/o CC/MCC | 457
458 | Spinal fusion exc cerv w spinal curv, malig or 9+ fusions w/o CC/MCC | 457
460 | Spinal fusion except cervical w/o MCC | 459
461 | Bilateral or multiple major joint procs of lower extremity w MCC | 480
462 | Bilateral or multiple major joint procs of lower extremity w/o MCC | 482
473 | Cervical spinal fusion w/o CC/MCC | 472
479 | Biopsies of musculoskeletal system & connective tissue w/o CC/MCC | 478
483 | Major joint & limb reattachment proc of upper extremity w CC/MCC | 480
484 | Major joint & limb reattachment proc of upper extremity w/o CC/MCC | 482
491 | Back & neck procedures except spinal fusion w/o CC/MCC | 490
499 | Local excision & removal int fix devices of hip & femur w/o CC/MCC | 498
506 | Major thumb or joint procedures | 514
508 | Major shoulder or elbow joint procedures w/o CC/MCC | 507
509 | Arthroscopy | 505
512 | Shoulder, elbow or forearm proc, exc major joint proc w/o CC/MCC | 511
517 | Other musculoskelet sys & conn tiss O.R. proc w/o CC/MCC | 516
538 | Sprains, strains, & dislocations of hip, pelvis & thigh w/o CC/MCC | 537
583 | Mastectomy for malignancy w/o CC/MCC | 582
585 | Breast biopsy, local excision & other breast procedures w/o CC/MCC | 584
614 | Adrenal & pituitary procedures w CC/MCC | 629
615 | Adrenal & pituitary procedures w/o CC/MCC | 630
620 | O.R. procedures for obesity w CC | 619
621 | O.R. procedures for obesity w/o CC/MCC | 619
627 | Thyroid, parathyroid & thyroglossal procedures w/o CC/MCC | 626
654 | Major bladder procedures w CC | 653
655 | Major bladder procedures w/o CC/MCC | 653
657 | Kidney & ureter procedures forneoplasm w CC | 656
658 | Kidney & ureter procedures for neoplasm w/o CC/MCC | 656
664 | Minor bladder procedures w/o CC/MCC | 663
667 | Prostatectomy w/o CC/MCC | 666
670 | Transurethral procedures w/o CC/MCC | 669
672 | Urethral procedures w/o CC/MCC | 671
675 | Other kidney & urinary tract procedures w/o CC/MCC | 674
691 | Urinary stones w esw lithotripsy w CC/MCC | 694
692 | Urinary stones w esw lithotripsy w/o CC/MCC | 694
697 | Urethral stricture | 688
707 | Major male pelvic procedures w CC/MCC | 660
708 | Major male pelvic procedures w/o CC/MCC | 661
710 | Penis procedures w/o CC/MCC | 709
712 | Testes procedures w/o CC/MCC | 711
714 | Transurethral prostatectomy w/o CC/MCC | 713
715 | Other male reproductive system O.R. proc for malignancy w CC/MCC | 717
716 | Other male reproductive system O.R. proc for malignancy w/o CC/MCC | 717
718 | Other male reproductive system O.R. proc exc malignancy w/o CC/MCC | 717
724 | Malignancy, male reproductive system w/o CC/MCC | 723
734 | Pelvic evisceration, rad hysterectomy & rad vulvectomy w CC/MCC | 717
735 | Pelvic evisceration, rad hysterectomy & rad vulvectomy w/o CC/MCC | 717
736 | Uterine & adnexa proc for ovarian or adnexal malignancy w MCC | 754
737 | Uterine & adnexa proc for ovarian or adnexal malignancy w CC | 755
738 | Uterine & adnexa proc for ovarian or adnexal malignancy w/o CC/MCC | 756
740 | Uterine, adnexa proc for non-ovarian/adnexal malig w CC | 739
741 | Uterine, adnexa proc for non-ovarian/adnexal malig w/o CC/MCC | 739
742 | Uterine & adnexa proc for non-malignancy w CC/MCC | 755
743 | Uterine & adnexa proc for non-malignancy w/o CC/MCC | 756
745 | D&C, conization, laparascopy & tubal interruption w/o CC/MCC | 744
747 | Vagina, cervix & vulva procedures w/o CC/MCC | 746
748 | Female reproductive system reconstructive procedures | 749
750 | Other female reproductive system O.R. procedures w/o CC/MCC | 749
760 | Menstrual & other female reproductive system disorders w CC/MCC | 744
761 | Menstrual & other female reproductive system disorders w/o CC/MCC | 744
765 | Cesarean section w CC/MCC | 744
766 | Cesarean section w/o CC/MCC | 744
767 | Vaginal delivery w sterilization &/or D&C | 744
768 | Vaginal delivery w O.R. proc except steril &/or D&C | 744
769 | Postpartum & post abortion diagnoses w O.R. procedure | 744
770 | Abortion w D&C, aspiration curettage or hysterotomy | 744
774 | Vaginal delivery w complicating diagnoses | 744
775 | Vaginal delivery w/o complicating diagnoses | 744
776 | Postpartum & post abortion diagnoses w/o O.R. procedure | 744
777 | Ectopic pregnancy | 744
778 | Threatened abortion | 759
779 | Abortion w/o D&C | 759
780 | False labor | 759
782 | Other antepartum diagnoses w/o medical complications | 781
789 | Neonates, died or transferred to another acute care facility | 781
790 | Extreme immaturity or respiratory distress syndrome, neonate | 781
791 | Prematurity w major problems | 781
792 | Prematurity w/o major problems | 781
793 | Full term neonate w major problems | 781
794 | Neonate w other significant problems | 781
795 | Normal newborn | 781
799 | Splenectomy w MCC | 800
801 | Splenectomy w/o CC/MCC | 800
803 | Other O.R. proc of the blood & blood forming organs w CC | 802
804 | Other O.R. proc of the blood & blood forming organs w/o CC/MCC | 802
820 | Lymphoma & leukemia w major O.R. procedure w MCC | 823
821 | Lymphoma & leukemia w major O.R. procedure w CC | 824
822 | Lymphoma & leukemia w major O.R. procedure w/o CC/MCC | 824
825 | Lymphoma & non-acute leukemia w other O.R. proc w/o CC/MCC | 824
828 | Myeloprolif disord or poorly diff neopl w maj O.R. proc w/o CC/MCC | 827
830 | Myeloprolif disord or poorly diff neopl w other O.R. proc w/o CC/MCC | 829
837 | Chemo w acute leukemia as sdx or w high dose chemo agent w MCC | 829
838 | Chemo w acute leukemia as sdx or w high dose chemo agent w CC | 829
839 | Chemo w acute leukemia as sdx or w high dose chemo agent w/o CC/MCC | 829
848 | Chemotherapy w/o acute leukemia as secondary diagnosis w/o CC/MCC | 847
887 | Other mental disorder diagnoses | 881
894 | Alcohol/drug abuse or dependence, left ama | 881
915 | Allergic reactions w MCC | 918
916 | Allergic reactions w/o MCC | 918
955 | Craniotomy for multiple significant trauma | 26
956 | Limb reattachment, hip & femur proc for multiple significant trauma | 482
959 | Other O.R. procedures for multiple significant trauma w/o CC/MCC | 958
986 | Prostatic O.R. procedure unrelated to principal diagnosis w/o CC/MCC | 985

To illustrate this methodology for determining the proposed relative weights for the proposed MS-LTC-DRGs with no LTCH cases, we are providing the following example, which refers to the proposed no-volume MS-LTC-DRGs crosswalk information for FY 2009 provided in the chart above.

Example: There were no cases in the FY 2007 MedPAR file used for this proposed rule for proposed MS-LTC-DRG 61 (Acute ischemic stroke w use of thrombolytic agent w MCC). We determined that MS-LTC-DRG 70 (Nonspecific cebrovascular disorders w MCC) is similar clinically and based on resource use to proposed MS-LTC-DRG 61. Therefore, we are proposing to assign the same proposed relative weight of proposed MS-LTC-DRG 70 of 0.8718 for FY 2009 to proposed MS-LTC-DRG 61 (Table 11 of the Addendum of this proposed rule).

Furthermore, for FY 2009, consistent with our historical relative weight methodology, we are proposing to establish MS-LTC-DRG relative weights of 0.0000 for the following proposed transplant MS-LTC-DRGs: Heart Transplant or Implant of Heart Assist System with MCC (MS-LTC-DRG 1); Heart Transplant or Implant of Heart Assist System without MCC (MS-LTC-DRG 2); Liver Transplant with MCC or Intestinal Transplant (MS-LTC-DRG 5); Liver Transplant without MCC (MS-LTC-DRG 6); Lung Transplant (MS-LTC-DRG 7); Simultaneous Pancreas/Kidney Transplant (MS-LTC-DRG 8); Pancreas Transplant (MS-LTC-DRG 10); and Kidney Transplant (MS-LTC-DRG 652). This is because Medicare will only cover these procedures if they are performed at a hospital that has been certified for the specific procedures by Medicare and presently no LTCH has been so certified. Based on our research, we found that most LTCHs only perform minor surgeries, such as minor small and large bowel procedures, to the extent any surgeries are performed at all. Given the extensive criteria that must be met to become certified as a transplant center for Medicare, we believe it is unlikely that any LTCHs will become certified as a transplant center. In fact, in the more than 20 years since the implementation of the IPPS, there has never been a LTCH that even expressed an interest in becoming a transplant center.

If in the future a LTCH applies for certification as a Medicare-approved transplant center, we believe that the application and approval procedure would allow sufficient time for us to determine appropriate weights for the MS-LTC-DRGs affected. At the present time, we would only include these eight proposed transplant MS-LTC-DRGs in the GROUPER program for administrative purposes only. Because we use the same GROUPER program for LTCHs as is used under the IPPS, removing these proposed MS-LTC-DRGs would be administratively burdensome.

Again, we note that, as this system is dynamic, it is entirely possible that the number of proposed MS-LTC-DRGs with no volume of LTCH cases based on the system will vary in the future. We used the most recent available claims data in the MedPAR file to identify no-volume proposed MS-LTC-DRGs and to determine the proposed relative weights in this proposed rule.

Step 6—Adjust the proposed FY 2009 MS-LTC-DRG relative weights to account for nonmonotonically increasing relative weights.

As discussed in section II.B. of the preamble of this proposed rule, the MS-DRGs (used under the IPPS) on which the MS-LTC-DRGs are based provide a significant improvement in the DRG system's recognition of severity of illness and resource usage. The proposed MS-DRGs contain base DRGs that have been subdivided into one, two, or three severity levels. Where there are three severity levels, the most severe level has at least one code that is referred to as an MCC. The next lower severity level contains cases with at least one code that is a CC. Those cases without a MCC or a CC are referred to as without CC/MCC. When data did not support the creation of three severity levels, the base was divided into either two levels or the base was not subdivided. The two-level subdivisions could consist of the CC/MCC and the without CC/MCC. Alternatively, the other type of two level subdivision could consist of the MCC and without MCC.

In those base MS-LTC-DRGs that are split into either two or three severity levels, cases classified into the “without CC/MCC” MS-LTC-DRG are expected to have a lower resource use (and lower costs) than the “with CC/MCC” MS-LTC-DRG (in the case of a two-level split) or the “with CC” and “with MCC” MS-LTC-DRGs (in the case of a three-level split). That is, theoretically, cases that are more severe typically require greater expenditure of medical care resources and will result in higher average charges. Therefore, in the three severity levels, relative weights should increase by severity, from lowest to highest. If the relative weights do not increase (that is, if within a base MS-LTC-DRG, a MS-LTC-DRG with MCC has a lower relative weight than one with CC, or the MS-LTC-DRG without CC/MCC has a higher relative weight than either of the others, they are nonmonotonic). We continue to believe that utilizing nonmonotonic relative weights to adjust Medicare payments would result in inappropriate payments. Consequently, in general, we are proposing to combine proposed MS-LTC-DRG severity levels within a base MS-LTC-DRG for the purpose of computing a relative weight when necessary to ensure that monotonicity is maintained. In determining the proposed FY 2009 MS-LTC-DRG relative weights in this proposed rule, in general, we are proposing to use the same methodology to adjust for nonmonotonicity that we used to determine the FY 2008 MS-LTC-DRG relative weights in the FY 2008 IPPS final rule with comment (72 FR 47293 through 47295). However, as noted above, we are taking this opportunity to refine our description to more precisely explain our methodology for determining the MS-LTC-DRG relative weights in this proposed rule. Specifically, in determining the proposed FY 2009 MS-LTC-DRG relative weights in this proposed rule, under each of the example scenarios provided below, we would combine severity levels within a base MS-LTC-DRG as follows:

The first example of nonmonotonically increasing relative weights for a MS-LTC-DRG pertains to a base MS-LTC-DRG with a three-level split and each of the three levels has 25 or more LTCH cases and, therefore, none of those MS-LTC-DRGs is assigned to one of the five low-volume quintiles. In this proposed rule, if nonmonotonicity is detected in the proposed relative weights of the proposed MS-LTC-DRGs in adjacent severity levels (for example, the proposed relative weight of the “with MCC” (the highest severity level) is less than the “with CC” (the middle level), or the “with CC” is less than the “without CC/MCC”), we would combine the nonmonotonic adjacent proposed MS-LTC-DRGs and re-determine a proposed relative weight based on the case-weighted average of the combined LTCH cases of the nonmonotonic proposed MS-LTC-DRGs. The case-weighted average charge is calculated by dividing the total charges for all LTCH cases in both severity levels by the total number of LTCH cases for both proposed MS-LTC-DRGs. The same proposed relative weight would be assigned to both affected levels of the base MS-LTC-DRG. If nonmonotonicity remains an issue because the above process results in a proposed relative weight that is still nonmonotonic to the remaining proposed MS-LTC-DRG relative weight within the base MS-LTC-DRG, we would combine all three of the severity levels to redetermine the proposed relative weights based on the case-weighted average charge of the combined severity levels. This same proposed relative weight is then assigned to each of the proposed MS-LTC-DRGs in that base MS-LTC-DRG.

A second example of nonmonotonically increasing relative weights for a base MS-LTC-DRG pertains to the situation where there are three severity levels and one or more of the severity levels within a base MS-LTC-DRG has less than 25 LTCH cases (that is, low-volume). In this proposed rule, if nonmonotonicity occurs in the case where either the highest or lowest severity level (“with MCC” or “without CC/MCC”) has 25 LTCH cases or more and the other two severity levels are low-volume (and therefore the other two severity levels would otherwise be assigned the proposed relative weight of the applicable proposed low-volume quintile(s)), we would combine the data for the cases in the two adjacent proposed low-volume MS-LTC-DRGs for the purpose of determining a proposed relative weight. If the combination results in at least 25 cases, we re-determine one proposed relative weight based on the case-weighted average charge of the combined severity levels and assign this same proposed relative weight to each of the severity levels. If the combination results in less than 25 cases, based on the case-weighted average charge of the combined proposed low-volume MS-LTC-DRGs, both proposed MS-LTC-DRGs would be assigned to the appropriate proposed low-volume quintile (discussed above in section II.I.3.e. of this preamble) based on the case-weighted average charge of the combined proposed low-volume MS-LTC-DRGs. Then the proposed relative weight of the affected proposed low-volume quintile would be redetermined and that proposed relative weight would be assigned to each of the affected severity levels (and all of the proposed MS-LTC-DRGs in the affected proposed low-volume quintile). If nonmonotonicity persists, we would combine all three severity levels and redetermine one proposed relative weight based on the case-weighted average charge of the combined severity levels and this same proposed relative weight would be assigned to each of the three levels.

Similarly, in nonmonotonic cases where the middle level has 25 cases or more but either or both of the lowest or highest severity level has less than 25 cases (that is, low volume), we would combine the nonmonotonic proposed low-volume MS-LTC-DRG with the middle level proposed MS-LTC-DRG of the base MS-LTC-DRG. We would redetermine one proposed relative weight based on the case-weighted average charge of the combined severity levels and assign this same proposed relative weight to each of the affected proposed MS-LTC-DRGs. If nonmonotonicity persists, we would combine all three levels for the purpose of redetermining a proposed relative weight based on the case-weighted average charge of the combined severity levels, and assign that proposed relative weight to each of the three severity levels.

In the case where all three severity levels in the base MS-LTC-DRGs are proposed low-volume MS-LTC-DRGs and two of the severity levels are nonmonotonic in relation to each other, we would combine the two adjacent nonmonotonic severity levels. If that combination results in less than 25 cases, both proposed low-volume MS-LTC-DRGs would be assigned to the appropriate proposed low-volume quintile (discussed above in section II.I.3.e. of this preamble) based on the case-weighted average charge of the combined proposed low-volume MS-LTC-DRGs. Then the proposed relative weight of the affected proposed low-volume quintile would be redetermined and that proposed relative weight would be assigned to each of the affected severity levels (and all of the proposed MS-LTC-DRGs in the affected proposed low-volume quintile). If the nonmonotonicity persists, we would combine all three levels of that base MS-LTC-DRG for the purpose of redetermining a proposed relative weight based on the case-weighted average charge of the combined severity levels, and assign that proposed relative weight to each of the three severity levels. If that combination of all three severity levels results in less than 25 cases, we would assign that “combined” base MS-LTC-DRG to the appropriate proposed low-volume quintile based on the case-weighted average charge of the combined proposed low-volume MS-LTC-DRGs. Then the proposed relative weight of the affected proposed low-volume quintile would be redetermined and that proposed relative weight would be assigned to each of the affected severity levels (and all of the proposed MS-LTC-DRGs in the affected proposed low-volume quintile).

Another example of nonmonotonicity involves a base MS-LTC-DRG with three severity levels where at least one of the severity levels has no cases. As discussed above in greater detail in Step 5, based on resource use intensity and clinical similarity, we propose to cross-walk a proposed no-volume MS-LTC-DRG to a proposed MS-LTC-DRG that has at least one case. Under our proposed methodology for the treatment of proposed no-volume MS-LTC-DRGs, the proposed no-volume MS-LTC-DRG would be assigned the same proposed relative weight as the proposed MS-LTC-DRG to which the proposed no-volume MS-LTC-DRG is cross-walked. For many proposed no-volume MS-LTC-DRGs, as shown in the chart above in Step 5, the application of our proposed methodology results in a proposed cross-walk MS-LTC-DRG that is the adjacent severity level in the same base MS-LTC-DRG. Consequently, in most instances, the proposed no-volume MS-LTC-DRG and the adjacent proposed MS-LTC-DRG to which it is cross-walked would not result in nonmonotonicity because both of these severity levels would have the same proposed relative weight. (In this proposed rule, under our proposed methodology for the treatment of proposed no-volume MS-LTC-DRGs, in the case where the proposed no-volume MS-LTC-DRG is either the highest or lowest severity level, the proposed cross-walk MS-LTC-DRG would be the middle level (“with CC”) within the same base MS-LTC-DRG, and therefore the proposed no-volume MS-LTC-DRG (either the “with MCC” or the “without CC/MCC”) and the proposed cross-walk MS-LTC-DRG (the “with CC”) would have the same proposed relative weight. Consequently, no adjustment for monotonicity would be necessary.) However, if our proposed methodology for determining proposed relative weights for proposed no-volume MS-LTC-DRGs results in nonmonotonicity with the third severity level in the base-MS-LTC-DRG, all three severity levels would be combined for the purpose of redetermining one proposed relative weight based on the case-weighted average charge of the combined severity levels. This same proposed relative weight would be assigned to each of the three severity levels in the base MS-LTC-DRG.

Thus far in the discussion, we have presented examples of nonmonotonicity in a base MS-LTC-DRG that has three severity levels. We would apply the same process where the base MS-LTC-DRG contains only two severity levels. For example, if nonmonotonicity occurs in a base MS-LTC-DRG with two severity levels (that is, the proposed relative weight of the higher severity level is less than the lower severity level), where both of the proposed MS-LTC-DRGs have at least 25 cases or where one or both of the proposed MS-LTC-DRGs is low volume (that is, less than 25 cases), we would combine the two proposed MS-LTC-DRGs of that base MS-LTC-DRG for the purpose of redetermining a proposed relative weight based on the combined case-weighted average charge for both severity levels. This same proposed relative weight would be assigned to each of the two severity levels in the base MS-LTC-DRG. Specifically, if the combination of the two severity levels would result in at least 25 cases, we would redetermine one proposed relative weight based on the case-weighted average charge and assign that proposed relative weight to each of the two proposed MS-LTC-DRGs. If the combination results in less than 25 cases, we would assign both proposed MS-LTC-DRGs to the appropriate proposed low-volume quintile (discussed above in section II.I.3.e. of this preamble) based on their combined case-weighted average charge. Then the proposed relative weight of the affected proposed low-volume quintile would be redetermined and that proposed relative weight would be assigned to each of the affected severity levels.

Step 7—Calculate the proposed FY 2009 budget neutrality factor.

As we established in the RY 2008 LTCH PPS final rule (72 FR 26882), under the broad authority conferred upon the Secretary under section 123 of Pub. L. 106-113 as amended by section 307(b) of Pub. L. 106-554 to develop the LTCH PPS, beginning with the MS-LTC-DRG update for FY 2008, the annual update to the MS-LTC-DRG classifications and relative weights will be done in a budget neutral manner such that estimated aggregate LTCH PPS payments would be unaffected, that is, would be neither greater than nor less than the estimated aggregate LTCH PPS payments that would have been made without the MS-LTC-DRG classification and relative weight changes. Specifically, in that same final rule, we established under § 412.517(b) that the annual update to the MS-LTC-DRG classifications and relative weights be done in a budget neutral manner. For a detailed discussion on the establishment of the requirement to update the MS-LTC-DRG classifications and relative weights in a budget neutral manner, we refer readers to the RY 2008 LTCH PPS final rule (72 FR 26880 through 26884). Updating the MS-LTC-DRGs in a budget neutral manner results in an annual update to the individual MS-LTC-DRG classifications and relative weights based on the most recent available data to reflect changes in relative LTCH resource use. To accomplish this, the MS-LTC-DRG relative weights are uniformly adjusted to ensure that estimated aggregate payments under the LTCH PPS would not be affected (that is, decreased or increased). Consistent with that provision, we are proposing to update the MS-LTC-DRG classifications and relative weights for FY 2009 based on the most recent available data and include a proposed budget neutrality adjustment that would be applied in determining the proposed MS-LTC-DRG relative weights.

To ensure budget neutrality in updating the proposed MS-LTC-DRG classifications and proposed relative weights under § 412.517(b), consistent with the budget neutrality methodology we established in the FY 2008 IPPS final rule with comment period (72 FR 47295 through 47296), in determining the proposed budget neutrality adjustment for FY 2009 in this proposed rule, we are proposing to use a method that is similar to the methodology used under the IPPS. Specifically, for FY 2009, after recalibrating the proposed MS-LTC-DRG relative weights as we do under the methodology as described in detail in Steps 1 through 6 above, we would calculate and apply a normalization factor to those relative weights to ensure that estimated payments are not influenced by changes in the composition of case types or the changes being proposed to the classification system. That is, the proposed normalization adjustment is intended to ensure that the recalibration of the proposed MS-LTC-DRG relative weights (that is, the process itself) neither increases nor decreases total estimated payments.

To calculate the proposed normalization factor for FY 2009, we would use the following steps: (1) We use the most recent available claims data (FY 2007) and the proposed MS-LTC-DRG relative weights (determined above in Steps 1 through 6 above) to calculate the average CMI; (2) we group the same claims data (FY 2007) using the FY 2008 GROUPER (Version 25.0) and FY 2008 relative weights (established in the FY 2008 IPPS final rule with comment period (72 FR 47295 through 47296)) and calculate the average CMI; and (3), we compute the ratio of these average CMIs by dividing the average CMI determined in step (2) by the average CMI determined in step (1). In determining the proposed MS-LTC-DRG relative weights for FY 2009, based on the latest available LTCH claims data, the normalization factor is estimated as 1.038266, which would be applied in determining each proposed MS-LTC-DRG relative weight. That is, each proposed MS-LTC-DRG relative weight would be multiplied by 1.038266 in the first step of the budget neutrality process. Accordingly, the proposed relative weights in Table 11 in the Addendum of this proposed rule reflect this proposed normalization factor. We also ensure that estimated aggregate LTCH PPS payments (based on the most recent available LTCH claims data) after reclassification and recalibration (the new proposed FY 2009 MS-LTC-DRG classifications and relative weights) are equal to estimated aggregate LTCH PPS payments (for the same most recent available LTCH claims data) before reclassification and recalibration (the existing FY 2008 MS-DRG classifications and relative weights). Therefore, we would calculate the proposed budget neutrality adjustment factor by simulating estimated total payments under both sets of GROUPERs and relative weights using current LTCH PPS payment policies (RY 2008) and the most recent available claims data (from the FY 2007 MedPAR file).

Accordingly, we are proposing to use RY 2008 LTCH PPS rates and policies in determining the proposed FY 2009 budget neutrality adjustment in this proposed rule, using the following steps: (1) We simulate estimated total payments using the normalized proposed relative weights under GROUPER Version 26.0 (as described above); (2) we simulate estimated total payments using the FY 2008 GROUPER (Version 25.0) and FY 2008 MS-LTC-DRG relative weights (as established in the FY 2008 IPPS final rule (72 FR 47295 through 47296)); (3) we calculate the ratio of these estimated total payments by dividing the estimated total payments determined in step (2) by the estimated total payments determined in step (1). Then, each of the normalized proposed relative weights is multiplied by the proposed budget neutrality factor to determine the budget neutral proposed relative weight for each proposed MS-LTC-DRG.

Accordingly, in determining the proposed MS-LTC-DRG relative weights for FY 2009 in this proposed rule, based on the most recent available LTCH claims data, we are proposing a budget neutrality factor of 0.99965, which would be applied to the normalized proposed relative weights (described above). The proposed FY 2009 MS-LTC-DRG relative weights in Table 11 in the Addendum of this proposed rule reflect this proposed budget neutrality factor. Furthermore, we expect that we will have established payments rates and policies for RY 2009 prior to the development of the FY 2009 IPPS final rule. Therefore, for purposes of determining the FY 2009 budget neutrality factor in the final rule, we are proposing that we would simulate estimated total payments using the most recent LTCH PPS payment policies and LTCH claims data that are available at that time.

Table 11 in the Addendum to this proposed rule lists the proposed MS-LTC-DRGs and their respective proposed budget neutral relative weights, geometric mean length of stay, and five-sixths of the geometric mean length of stay (used in the determination of short-stay outlier payments under § 412.529) for FY 2009.

J. Proposed Add-On Payments for New Services and Technologies

1. Background

Sections 1886(d)(5)(K) and (L) of the Act establish a process of identifying and ensuring adequate payment for new medical services and technologies (sometimes collectively referred to in this section as “new technologies”) under the IPPS. Section 1886(d)(5)(K)(vi) of the Act specifies that a medical service or technology will be considered new if it meets criteria established by the Secretary after notice and opportunity for public comment. Section 1886(d)(5)(K)(ii)(I) of the Act specifies that the process must apply to a new medical service or technology if, “based on the estimated costs incurred with respect to discharges involving such service or technology, the DRG prospective payment rate otherwise applicable to such discharges under this subsection is inadequate.”

The regulations implementing this provision establish three criteria for new medical services and technologies to receive an additional payment. First, 42CFR412.87(b)(2) states that a specific medical service or technology will be considered new for purposes of new medical service or technology add-on payments until such time as Medicare data are available to fully reflect the cost of the technology in the DRG weights through recalibration. Typically, there is a lag of 2 to 3 years from the point a new medical service or technology is first introduced on the market (generally on the date that the technology receives FDA approval/clearance) and when data reflecting the use of the medical service or technology are used to calculate the DRG weights. For example, data from discharges occurring during FY 2007 are used to calculate the FY 2009 DRG weights in this proposed rule. Section 412.87(b)(2) of our existing regulations provides that “a medical service or technology may be considered new within 2 or 3 years after the point at which data begin to become available reflecting the ICD-9-CM code assigned to the new medical service or technology (depending on when a new code is assigned and data on the new medical service or technology become available for DRG recalibration). After CMS has recalibrated the DRGs based on available data to reflect the costs of an otherwise new medical service or technology, the medical service or technology will no longer be considered “new” under the criterion for this section.”

The 2-year to 3-year period during which a medical service or technology can be considered new would ordinarily begin on the date on which the medical service or technology received FDA approval or clearance. (We note that, for purposes of this section of the proposed rule, we refer to both FDA approval and FDA clearance as FDA “approval.”) However, in some cases, initially there may be no Medicare data available for the new service or technology following FDA approval. For example, the newness period could extend beyond the 2-year to 3-year period after FDA approval is received in cases where the product initially was generally unavailable to Medicare patients following FDA approval, such as in the case of a national noncoverage determination, or if there was some documented delay in bringing the product onto the market after that approval (for instance, component production or drug production has been postponed following FDA approval due to shelf life concerns or manufacturing issues). After the DRGs have been recalibrated to reflect the costs of an otherwise new medical service or technology, the medical service or technology is no longer eligible for special add-on payment for new medical services or technologies (§ 412.87(b)(2)). For example, an approved new technology that received FDA approval in October 2007 and entered the market at that time may be eligible to receive add-on payments as a new technology for discharges occurring before October 1, 2010 (the start of FY 2011). Because the FY 2011 DRG weights would be calculated using FY 2009 MedPAR data, the costs of such a new technology would be fully reflected in the FY 2011 DRG weights. Therefore, the new technology would no longer be eligible to receive add-on payments as a new technology for discharges occurring in FY 2011 and thereafter.

Section 412.87(b)(3) further provides that, to be eligible for the add-on payment for new medical services or technologies, the DRG prospective payment rate otherwise applicable to the discharge involving the new medical services or technologies must be assessed for adequacy. Under the cost criterion, to assess whether a new technology would be inadequately paid under the applicable DRG-prospective payment rate, we evaluate whether the charges for cases involving the new technology exceed certain threshold amounts. In the FY 2004 IPPS final rule (68 FR 45385), we established the threshold at the geometric mean standardized charge for all cases in the DRG plus 75 percent of 1 standard deviation above the geometric mean standardized charge (based on the logarithmic values of the charges and converted back to charges) for all cases in the DRG to which the new medical service or technology is assigned (or the case-weighted average of all relevant DRGs, if the new medical service or technology occurs in more than one DRG).

However, section 503(b)(1) of Pub. L. 108-173 amended section 1886(d)(5)(K)(ii)(I) of the Act to provide that, beginning in FY 2005, CMS will apply “a threshold * * * that is the lesser of 75 percent of the standardized amount (increased to reflect the difference between cost and charges) or 75 percent of one standard deviation for the diagnosis-related group involved.” (We refer readers to section IV.D. of the preamble to the FY 2005 IPPS final rule (69 FR 49084) for a discussion of the revision of the regulations to incorporate the change made by section 503(b)(1) of Pub. L. 108-173.) Table 10 in section XIX. of the interim final rule with comment period published in the Federal Register on November 27, 2007, contained the final thresholds that are being used to evaluate applications for new technology add-on payments for FY 2009 (72 FR 66888 through 66892). An applicant must demonstrate that the cost threshold is met using information from inpatient hospital claims.

With regard to the issue of whether the HIPAA Privacy Rule at 45 CFR Parts 160 and 164 applies to claims information that providers submit with applications for new technology add-on payments, we addressed this issue in the September 7, 2001 final rule that established the new technology add-on payment regulations (66 FR 46917). In the preamble to that final rule, we explained that health plans, including Medicare, and providers that conduct certain transactions electronically, including the hospitals that would be receiving payment under the FY 2001 IPPS final rule, are required to comply with the HIPAA Privacy Rule. We further explained how such entities could meet the applicable HIPAA requirements by discussing how the HIPAA Privacy Rule permitted providers to share with health plans information needed to ensure correct payment, if they had obtained consent from the patient to use that patient's data for treatment, payment, or health care operations. We also explained that because the information to be provided within applications for new technology add-on payment would be needed to ensure correct payment, no additional consent would be required. The HHS Office of Civil Rights has since amended the HIPAA Privacy Rule, but the results remain. The HIPAA Privacy Rule no longer requires covered entities to obtain consent from patients to use or disclose protected health information for treatment, payment, or health care operations, and expressly permits such entities to use or to disclose protected health information for any of these purposes. (We refer readers to 45 CFR 164.502(a)(1)(ii), and 164.506(c)(1) and (c)(3), and the Standards for Privacy of Individually Identifiable Health Information published in the Federal Register on August 14, 2002, for a full discussion of changes in consent requirements.)

Section 412.87(b)(1) of our existing regulations provides that a new technology is an appropriate candidate for an additional payment when it represents “an advance that substantially improves, relative to technologies previously available, the diagnosis or treatment of Medicare beneficiaries.” For example, a new technology represents a substantial clinical improvement when it reduces mortality, decreases the number of hospitalizations or physician visits, or reduces recovery time compared to the technologies previously available. (We refer readers to the September 7, 2001 final rule for a complete discussion of this criterion (66 FR 46902).)

The new medical service or technology add-on payment policy under the IPPS provides additional payments for cases with relatively high costs involving eligible new medical services or technologies while preserving some of the incentives inherent under an average-based prospective payment system. The payment mechanism is based on the cost to hospitals for the new medical service or technology. Under § 412.88, if the costs of the discharge (determined by applying CCRs as described in § 412.84(h)) exceed the full DRG payment, Medicare will make an add-on payment equal to the lesser of: (1) 50 percent of the estimated costs of the new technology (if the estimated costs for the case including the new technology exceed Medicare's payment) or (2) 50 percent of the difference between the full DRG payment and the hospital's estimated cost for the case. If the amount by which the actual costs of a new medical service or technology case exceeds the full DRG payment (including payments for IME and DSH, but excluding outlier payments) by more than the 50-percent marginal cost factor, Medicare payment is limited to the full DRG payment plus 50 percent of the estimated costs of the new technology.

Section 1886(d)(4)(C)(iii) of the Act requires that the adjustments to annual DRG classifications and relative weights must be made in a manner that ensures that aggregate payments to hospitals are not affected. Therefore, in the past, we accounted for projected payments under the new medical service and technology provision during the upcoming fiscal year at the same time we estimated the payment effect of changes to the DRG classifications and recalibration. The impact of additional payments under this provision was then included in the budget neutrality factor, which was applied to the standardized amounts and the hospital-specific amounts. However, section 503(d)(2) of Pub. L. 108-173 provides that there shall be no reduction or adjustment in aggregate payments under the IPPS due to add-on payments for new medical services and technologies. Therefore, add-on payments for new medical services or technologies for FY 2005 and later years have not been budget neutral.

Applicants for add-on payments for new medical services or technologies for FY 2010 must submit a formal request, including a full description of the clinical applications of the medical service or technology and the results of any clinical evaluations demonstrating that the new medical service or technology represents a substantial clinical improvement, along with a significant sample of data to demonstrate the medical service or technology meets the high-cost threshold. Complete application information, along with final deadlines for submitting a full application, will be available on our Web site at: http://www.cms.hhs.gov/AcuteInpatientPPS/08_newtech.asp#TopOfPage. To allow interested parties to identify the new medical services or technologies under review before the publication of the proposed rule for FY 2010, the Web site will also list the tracking forms completed by each applicant.

The Council on Technology and Innovation (CTI) at CMS oversees the agency's cross-cutting priority on coordinating coverage, coding and payment processes for Medicare with respect to new technologies and procedures, including new drug therapies, as well as promoting the exchange of information on new technologies between CMS and other entities. The CTI, composed of senior CMS staff and clinicians, was established under section 942(a) of Pub. L. 108-173. It is co-chaired by the Director of the Center for Medicare Management (CMM), who is also designated as the CTI's Executive Coordinator, and the Director of the Office of Clinical Standards and Quality (OCSQ).

The specific processes for coverage, coding, and payment are implemented by CMM, OCSQ, and the local claims-payment contractors (in the case of local coverage and payment decisions). The CTI supplements rather than replaces these processes by working to assure that all of these activities reflect the agency-wide priority to promote high-quality, innovative care, and at the same time to streamline, accelerate, and improve coordination of these processes to ensure that they remain up to date as new issues arise. To achieve its goals, the CTI works to streamline and create a more transparent coding and payment process, improve the quality of medical decisions, and speed patient access to effective new treatments. It is also dedicated to supporting better decisions by patients and doctors in using Medicare-covered services through the promotion of better evidence development, which is critical for improving the quality of care for Medicare beneficiaries.

The agency plans to continue its Open Door forums with stakeholders who are interested in CTI's initiatives. In addition, to improve understanding of CMS processes for coverage, coding, and payment and how to access them, the CTI is developing an “innovator's guide” to these processes. This guide will, for example, outline regulation cycles and application deadlines. The intent is to consolidate this information, much of which is already available in a variety of CMS documents and in various places on CMS's Web site, in a user-friendly format. In the meantime, we invite any product developers with specific issues involving the agency to contact us early in the process of product development if they have questions or concerns about the evidence that would be needed later in the development process for the agency's coverage decisions for Medicare.

The CTI aims to provide information on CTI activities to stakeholders, including Medicare beneficiaries, advocates, medical product manufacturers, providers, and health policy experts, and other stakeholders with useful information on CTI initiatives. Stakeholders with further questions about Medicare's coverage, coding, and payment processes, or who want further guidance about how they can navigate these processes, can contact the CTI at CTI@cms.hhs.gov or from the “Contact Us” section of the CTI home page (http://www.cms.hhs.gov/CouncilonTechInnov/).

2. Public Input Before Publication of a Notice of Proposed Rulemaking on Add-On Payments

Section 1886(d)(5)(K)(viii) of the Act, as amended by section 503(b)(2) of Pub. L. 108-173, provides for a mechanism for public input before publication of a notice of proposed rulemaking regarding whether a medical service or technology represents a substantial clinical improvement or advancement. The process for evaluating new medical service and technology applications requires the Secretary to—

• Provide, before publication of a proposed rule, for public input regarding whether a new service or technology represents an advance in medical technology that substantially improves the diagnosis or treatment of Medicare beneficiaries;

• Make public and periodically update a list of the services and technologies for which applications for add-on payments are pending;

• Accept comments, recommendations, and data from the public regarding whether a service or technology represents a substantial clinical improvement; and

• Provide, before publication of a proposed rule, for a meeting at which organizations representing hospitals, physicians, manufacturers, and any other interested party may present comments, recommendations, and data regarding whether a new medical service or technology represents a substantial clinical improvement to the clinical staff of CMS.

In order to provide an opportunity for public input regarding add-on payments for new medical services and technologies for FY 2009 before publication of the FY 2009 IPPS proposed rule, we published a notice in the Federal Register on December 28, 2007 (72 FR 73845 through 73847), and held a town hall meeting at the CMS Headquarters Office in Baltimore, MD, on February 21, 2008. In the announcement notice for the meeting, we stated that the opinions and alternatives provided during the meeting would assist us in our evaluations of applications by allowing public discussion of the substantial clinical improvement criterion for each of the FY 2009 new medical service and technology add-on payment applications before the publication of the FY 2009 IPPS proposed rule.

Approximately 70 individuals attended the town hall meeting in person, while approximately 20 additional participants listened over an open telephone line. Each of the four FY 2009 applicants presented information on its technology, including a focused discussion of data reflecting the substantial clinical improvement aspect of the technology. We received two comments during the town hall meeting, which are summarized below. We considered each applicant's presentation made at the town hall meeting, as well as written comments submitted on each applicant's application, in our evaluation of the new technology add-on applications for FY 2009 in this proposed rule. We have summarized these comments below or, if applicable, indicated that no comments were received at the end of the discussion of each application.

Comment: One commenter addressed the substantial clinical improvement criterion. A medical device association stated that CMS' interpretation of the statutory criteria for new technology add-on payments is narrow and makes it difficult for potential applicants, especially small manufacturing companies, to qualify for new technology add-on payments. The commenter urged CMS to “deem a device to satisfy the substantial clinical improvement criteria if it was granted a humanitarian device exemption or priority review based on the fact that it represents breakthrough technologies, which offer significant advantages over existing approved alternatives, for which no alternatives exist, or the availability of which is in the best interests of the patients.” In addition, the commenter remarked that this process would simplify CMS' evaluation of applications for new technology add-on payments and would promote access to innovative treatments, as intended by Congress. Although the commenter also made remarks that were unrelated to substantial clinical improvement, because the purpose of the town hall meeting was specifically to discuss substantial clinical improvement of pending new technology applications, those comments are not summarized in this proposed rule.

Response: With respect to the comment that CMS has a narrow interpretation of the statute that makes it difficult for applicants to meet the statutory criteria for a new technology add-on payment, we note that we have already specifically addressed the issue in the past (71 FR 47997 and 72 FR 47301). In addition, we addressed the comment concerning automatically deeming technologies granted a humanitarian device exemption (HDE) at 72 FR 47302. Further, because the purpose of the new technology town hall meeting was to discuss substantial clinical improvement of pending applications, we are not providing a response to the unrelated comments in this proposed rule.

Comment: One commenter, a medical technology association, submitted comments in reference to the MS-DRGs and the need to account for complexity as well as severity in making refinements to the DRG classification system. The commenter also made the following comments: CMS should raise the new technology marginal cost factor, adjust the newness policy to begin with the issuance of an ICD-9-CM code instead of the FDA approval date, provide access to the quarterly MedPAR updates, and allow for the use of external data for determining new technology payments (when CMS determines that the external data are unbiased and valid).

Response: Section 1886(d)(5)(K)(viii) of the Act requires that CMS accept comments, recommendations, and data from the public regarding whether a service or technology represents a substantial clinical improvement. Because the comments above are not related to the substantial clinical improvement criterion of pending applications, we are not providing a response to them in this proposed rule.

3. FY 2009 Status of Technologies Approved for FY 2008 Add-On Payments

We did not approve any applications for new technology add-on payments for FY 2008. For additional information, refer to the FY 2008 IPPS final rule with comment period (72 FR 47305 through 47307).

4. FY 2009 Applications for New Technology Add-On Payments

We received four applications to be considered for new technology add-on payment for FY 2009. A discussion of each of these applications is presented below. We note that, in the past, we have considered applications that had not yet received FDA approval, but were anticipating FDA approval prior to publication of the IPPS final rule. In such cases, we generally provide a more limited discussion of those technologies in the proposed rule because it is not known if these technologies will meet the newness criterion in time for us to conduct a complete analysis in the final rule. This year, three out of four applicants do not yet have FDA approval. Consequently, we have presented a limited analysis of them in this proposed rule.

a. CardioWest™ Temporary Total Artificial Heart System (CardioWest™ TAH-t)

SynCardia Systems, Inc. submitted an application for approval of the CardioWest™ temporary Total Artificial Heart system (TAH-t) for new technology add-on payments for FY 2009. The TAH-t is a technology that is used as a bridge to heart transplant device for heart transplant-eligible patients with end-stage biventricular failure. The TAH-t pumps up to 9.5 liters of blood per minute. This high level of perfusion helps improve hemodynamic function in patients, thus making them better heart transplant candidates.

The TAH-t was approved by the FDA on October 15, 2004, for use as a bridge to transplant device in cardiac transplant-eligible candidates at risk of imminent death from biventricular failure. The TAH-t is intended to be used in hospital inpatients. Some of the FDA's post-approval requirements include that the manufacturer agree to provide a post-approval study demonstrating that the success of the device at one center can be reproduced at other centers. The study was to include at least 50 patients who will be followed up to 1 year, including (but not limited to) the following endpoints; survival to transplant, adverse events, and device malfunction.

Presently, Medicare does not cover artificial heart devices, including the TAH-t. However, on February 01, 2008, CMS proposed to reverse a national noncoverage determination that would extend coverage to this technology within the confines of an FDA-approved clinical study. (To view the proposed National Coverage Determination (NCD), we refer readers to the CMS Web site at http://www.cms.hhs.gov/mcd/viewdraftdecisionmemo.asp?from2=viewdraftdecisionmemo.asp&id=211&.) Should this proposal be finalized, it would become effective on May 01, 2008. Because Medicare's existing coverage policy with respect to this device has precluded it from being paid for by Medicare, we would not expect the costs associated with this technology to be currently reflected in the data used to determine MS-DRGs relative weights. As we have indicated in the past, although we generally believe that the newness period would begin on the date that FDA approval was granted, in cases where the applicant can demonstrate a documented delay in market availability subsequent to FDA approval, we would consider delaying the start of the newness period. This technology's situation represents one such case. We also note that section 1886(d)(5)(K)(ii)(II) of the Act requires that we provide for the collection of cost data for a new medical service or technology for a period of at least 2 years and no more than 3 years “beginning on the date on which an inpatient hospital code is issued with respect to the service or technology.” Furthermore, the statute specifies that the term “inpatient hospital code” means any code that is used with respect to inpatient hospital services for which payment may be made under the IPPS and includes ICD-9-CM codes and any subsequent revisions. Although the TAH-t has been described by the ICD-9-CM code(s) (described below in the cost threshold discussion) since the time of its FDA approval, because the TAH-t has not been covered under the Medicare program (and, therefore, no Medicare payment has been made for this technology), this code is not “used with respect to inpatient hospital services for which payment” is made under the IPPS, and thus we assume that none of the costs associated with this technology would be reflected in the Medicare claims data used to recalibrate the MS-DRG weights. For this reason, despite its FDA approval date, it appears that this technology would still be eligible to be considered “new” for purposes of the new technology add-on payment if and when the proposal to reverse the national noncoverage determination concerning this technology is finalized. Therefore, based on this information, it appears that the TAH-t would meet the newness criterion on the date that Medicare coverage begins, should the proposed NCD be finalized.

In an effort to demonstrate that TAH-t would meet the cost criterion, the applicant submitted data based on 28 actual cases of the TAH-t. The data included 6 cases (or 21.4 percent of cases) from 2005, 13 cases (or 46.5 percent of cases) from 2006, 7 cases (or 25 percent of cases) from 2007, and 2 cases (or 7.1 percent of cases) from 2008. Currently, cases involving the TAH-t are assigned to MS-DRG 215 (Other Heart Assist System Implant). As discussed below in this section, we are proposing to remove the TAH-t from MS-DRG 215 and reassign the TAH-t to MS-DRGs 001 (Heart Transplant or Implant of Heart Assist System with MCC) and 002 (Heart Transplant or Implant of Heart Assist System without MCC). Therefore, to determine if the technology meets the cost criterion, it is appropriate to compare the average standardized charge per case to the thresholds for MS-DRGs 001, 002, and 215 included in Table 10 of the November 27, 2007 interim final rule (72 FR 66888 through 66889). The thresholds for MS-DRGs 001, 002, and 215 from Table 10 are $345,031, $178,142, and $151,824, respectively. Based on the 28 cases the applicant submitted, the average standardized charge per case was $731,632. Because the average standardized charge per case is much greater than the thresholds cited above for MS-DRG 215 (and MS-DRGs 001 and 002, should the proposal to reassign the TAH-t be finalized), the applicant asserted that the TAH-t meets the cost criterion whether or not the costs were analyzed by using either a case-weighted threshold or case-weighted standardized charge per case.

In addition to analyzing the costs of actual cases involving the TAH-t, the applicant searched the FY 2006 MedPAR file to identify cases involving patients who would have potentially been eligible to receive the TAH-t. The applicant submitted three different MedPAR analyses. The first MedPAR analysis involved a search for cases using ICD-9-CM diagnosis code 428.0 (Congestive heart failure) in combination with ICD-9-CM procedure code 37.66 (Insertion of implantable heart assist system), and an inpatient hospital length of stay greater than or equal to 60 days. The applicant found two cases that met this criterion, which had an average standardized charge per case of $821,522. The second MedPAR analysis searched for cases with ICD-9-CM diagnosis code 428.0 (Congestive heart failure) and one or more of the following ICD-9-CM procedure codes: 37.51 (Heart transplant), 37.52 (Implantation of total heart replacement system), 37.64 (Removal of heart assist system), 37.66 (Insertion of implantable heart assist system), or 37.68 (Insertion of percutaneous external heart assist device), and a length of stay greater than or equal to 60 days. The applicant found 144 cases that met this criterion, which had an average standardized charge per case of $841,827. The final MedPAR analysis searched for cases with ICD-9-CM procedure code 37.51 (Heart transplant) in combination with one of the following ICD-9-CM procedure codes: 37.52 (Implantation of total heart replacement system), 37.65 (Implantation of external heart system), or 37.66 (Insertion of implantable heart assist system). The applicant found 37 cases that met this criterion, which had an average standardized charge per case of $896,601. Because only two cases met the criterion for the first analysis, consistent with historical practice, we would not consider it to be of statistical significance and, therefore, would not rely upon it to demonstrate whether the TAH-t would meet the cost threshold. However, both of the additional analyses seem to provide an adequate number of cases to demonstrate whether the TAH-t would meet the cost threshold. We assume that none of the costs associated with this technology would be reflected in the MedPAR analyses that the applicant used to demonstrate that the technology would meet the cost criterion. We note that, under all three of the analyses the applicant performed, it identified cases that would have been eligible for the TAH-t, but did not remove charges that were unrelated to the TAH-t, nor did the applicant insert a proxy of charges related to the TAH-t. However, as stated above, the average standardized charge per case is much greater than any of the thresholds for MS-DRGs 001, 002, and 215. Therefore, even if the applicant were to approximate what the costs of cases eligible to receive the TAH-t would have been by removing non-TAH-t associated charges and inserting charges related to the TAH-t, it appears that the average standardized charges per case for cases eligible for the TAH-t would exceed the relevant thresholds from Table 10 (as discussed above) and would therefore appear to meet the cost criterion. We invite public comment on whether TAH-t meets the cost criterion.

As noted in section II.G. of this preamble, we are proposing to remove the TAH-t from MS-DRG 215 and reassign the TAH-t to MS-DRGs 001 and 002. As stated earlier, CMS is proposing to reverse a national noncoverage determination that would extend coverage to artificial heart devices within the confines of an FDA-approved clinical study, effective May 1, 2008. If this proposal is finalized, the MCE will require both the procedure code 37.52 (Implantation of total replacement heart system) and the diagnosis code reflecting clinical trial—V70.7 (Examination of participant in clinical trial). As we have previously mentioned, the TAH-t appears to meet the cost thresholds for MS-DRGs 001, 002, and 215. Therefore, its proposed reassignment from MS-DRG 215 to MS-DRGs 001 and 002 should have no material effect on meeting the cost thresholds in MS-DRGs 001 and 002 should the reassignment proposal be finalized.

The manufacturer states that the TAH-t is the only mechanical circulatory support device intended as a bridge-to-transplant for patients with irreversible biventricular failure. It also asserts that the TAH-t improves clinical outcomes because it has been shown to reduce mortality in patients who are otherwise in end-stage heart failure. In addition, the manufacturer claims that the TAH-t provides greater hemodynamic stability and end-organ perfusion, thus making patients who receive it better candidates for eventual heart transplant. We welcome comments from the public regarding whether the TAH-t represents a substantial clinical improvement.

We did not receive any written comments or public comments at the town hall meeting regarding the substantial clinical improvement aspects of this technology.

b. Emphasys Medical Zephyr® Endobronchial Valve (Zephyr® EBV)

Emphasys Medical submitted an application for new technology add-on payments for FY 2009 for the Emphasys Medical Zephyr® Endobronchial Valve (Zephyr® EBV). The Zephyr® EBV is intended to treat patients with emphysema by reducing volume in the diseased, hyperinflated portion of the emphysematous lung with fewer risks and complications than with more invasive surgical alternatives. Zephyr® EBV therapy involves placing small, one-way valves in the patients' airways to allow air to flow out of, but not into, the diseased portions of the lung thus reducing the hyperinflation. A typical procedure involves placing three to four valves in the target lobe using a bronchoscope, and the procedure takes approximately 20 to 40 minutes to complete. The Zephyr® EBVs are designed to be relatively easy to place, and are intended to be removable so that, unlike more risky surgical alternatives such as Lung Volume Reduction Surgery (LVRS) or Lung Transplant, the procedure has the potential to be fully reversible.

Currently, the Zephyr® EBV has yet to receive approval from the FDA, but the manufacturer indicated to CMS that it expects to receive its FDA approval in the second or third quarter of 2008. Because the technology is not yet approved by the FDA, we will limit our discussion of this technology to data that the applicant submitted, rather than make specific proposals with respect to whether the device would meet the new technology add-on criteria.

In an effort to demonstrate that the Zephyr® EBV would meet the cost criterion, the applicant searched the FY 2006 MedPAR file for cases with one of the following ICD-9-CM diagnosis codes: 492.0 (Emphysematous bleb), 492.8 (Other emphysema, NEC), or 496 (Chronic airway obstruction, NEC). Based on the diagnosis codes searched by the applicant, cases of the Zephyr® EBV would be most prevalent in MS-DRGs 190 (Chronic Obstructive Pulmonary Disease with MCC), 191 (Chronic Obstructive Pulmonary Disease with CC), and 192 (Chronic Obstructive Pulmonary Disease without CC/MCC). The applicant found 1,869 cases (or 12.8 percent of cases) in MS-DRG 190, 5,789 cases (or 39.5 percent of cases) in MS-DRG 191, and 6,995 cases (or 47.7 percent of cases) in MS-DRG 192 (which equals a total of 14,653 cases). The average standardized charge per case was $21,567 for MS-DRG 190, $15,494 for MS-DRG 191, and $11,826 for MS-DRG 192. The average standardized charge per case does not include charges related to the Zephyr® EBV; therefore, it is necessary to add the charges related to the device to the average standardized charge per case in evaluating the cost threshold criteria. Although the applicant submitted data related to the estimated cost of the Zephyr® EBV per case, the applicant noted that the cost of the device was proprietary information because the device is not yet available on the open market. The applicant estimates $23,920 in charges related to the Zephyr® EBV (based on a 100 percent charge markup of the cost of the device). In addition to case-weighting the data based on the amount of cases that the applicant found in the FY 2006 MedPAR file, the applicant case-weighted the data based on its own projections of how many Medicare cases it would expect to map to MS-DRGs 190, 191, and 192 in FY 2009. The applicant projects that, 5 percent of the cases would map to MS-DRG 190, 15 percent of the cases would map to MS-DRG 191, and 80 percent of the cases would map to MS-DRG 192. Adding the charges related to the device to the average standardized charge per case (based on the applicant's projected case distribution) resulted in a case-weighted average standardized charge per case of $36,782 ($12,862 plus $23,920). Using the thresholds published in Table 10 (72 FR 66889), the case-weighted threshold for MS-DRGs 190, 191, and 192 was $18,394. Because the case-weighted average standardized charge per case for the applicable MS-DRGs exceed the case-weighted threshold amount, the applicant maintains that the Zephyr® EBV would meet the cost criterion. As noted above, the applicant also performed a case-weighted analysis of the data based on the 14,653 cases the applicant found in the FY 2006 MedPAR file. Based on this analysis, the applicant found that the case-weighted average standardized charge per case ($38,441 based on the 14,653 cases) exceeded the case-weighted threshold ($20,606 based on the 14,653 cases). Based on both analyses described above, it appears that the applicant would meet the cost criterion. We invite public comment on whether Zephyr® EBV meets the cost criterion.

The applicant asserts that the Zephyr® EBV is a substantial clinical improvement because it provides a new therapy along the continuum of care for patients with emphysema that offers improvement in lung function over standard medical therapy while incurring significantly less risk than more invasive treatments such as LVRS and lung transplant. Specifically, the applicant submitted data from the ongoing pivotal Endobronchial Valve for Emphysema Palliation (VENT) trial,¹⁴ which compared 220 patients who received EBV treatment to 101 patients who received standard medical therapy, including bronchodilators, steroids, mucolytics, and supplemental oxygen. At 6 months, patients who received the Zephyr® EBV had an average of 7.2 percent and 5.8 percent improvement (compared to standard medical therapy) in the primary effectiveness endpoints of the Forced Expiratory Volume in 1 second test (FEV1), and the 6 Minute Walk Test (6MWT), respectively. Both results were determined by the applicant to be statistically significant. The FEV1 results were determined using the t-test parametric confidence intervals (the p value determined using the one-side t-test adjusted for unequal variance) and the 6MWT results were determined using the Mann-Whitney nonparametric confidence intervals (the p value was calculated using the one-sided Wilcoxon rank sum test). However, the data also showed that patients who received the Zephyr® EBV experienced a number of adverse events, including hemoptyis, pneumonia, respiratory failure, pneumothorax, and COPD exacerbations, as well as valve migrations and expectorations that, in some cases, required repeat bronchoscopy. The manufacturer also submitted the VENT pivotal trial 1-year follow-up data, but has requested that the data not be disclosed because it has not yet been presented publicly nor published in a peer-reviewed journal.

¹⁴ Strange, Charlie., et al., design of the Endobronchial Valve for Emphysema Palliation trial (VENT): A Nonsurgical Method of Lung Volume Reduction, BMC Pulmonary Medicine. 2007; 7:10.

While CMS recognizes that the Zephyr® EBV therapy is significantly less risky than LVRS and lung transplant, we are concerned that the benefits as shown in the VENT pivotal trial may not outweigh the risks when compared with medical therapy alone. Further, we note that, according to the applicant, the Zephyr® EBV is intended for use in many patients who are ineligible for LVRS and/or lung transplant (including those too sick to undergo more invasive surgery and those with lower lobe predominant disease distribution), but that certain patients (that is, those with upper lobe predominant disease distribution) could be eligible for either surgery or the Zephyr® EBV. We welcome comments from the public on both the patient population who would be eligible for the technology, and whether the Zephyr® EBV represents a substantial clinical improvement in the treatment of patients with emphysema.

We received written comments from the manufacturer and its presenters at the town hall meeting clarifying some questions that were raised at the town hall meeting. Specifically, these commenters explained that, in general, the target population for the Zephyr® EBV device was the same population that could benefit from LVRS, and also includes some patients who were too sick to undergo surgery. The commenters also explained that patients with emphysema with more heterogeneous lung damage were more likely to benefit from the device.

We welcome public comments regarding where exactly this technology falls in the continuum of care of patients with emphysema, and for whom the risk/benefit ratio is most favorable.

c. Oxiplex®

FzioMed, Inc. submitted an application for new technology add-on payments for FY 2009 for Oxiplex®. Oxiplex® is an absorbable, viscoelastic gel made of carboxymethylcellulose (CMC) and polyethylene oxide (PEO) that is intended to be surgically implanted during a posterior discectomy, laminotomy, or laminectomy. The manufacturer asserts that the gel reduces the potential for inflammatory mediators that injure, tether, or antagonize the nerve root in the epidural space by creating an acquiescent, semi-permeable environment to protect against localized debris. These proinflammatory mediators (phospholipase A and nitric oxide), induced or extruded by intervertebral discs, may be responsible for increased pain during these procedures. The manufacturer also asserts that Oxiplex® is a unique material in that it coats tissue, such as the nerve root in the epidural space, to protect the nerve root from the effects of inflammatory mediators originating from either the nucleus pulposus, from blood derived inflammatory cells, or cytokines during the healing process.

Oxiplex® is expecting to receive premarket approval from the FDA by June 2008. Because the technology is not yet approved by the FDA, we will limit our discussion of this technology to data that the applicant submitted, rather than make specific proposals with respect to whether the device would meet the new technology add-on payment criteria.

With regard to the newness criterion, we are concerned that Oxiplex® may be substantially similar to adhesion barriers that have been on the market for several years. We also note that Oxiplex® has been marketed as an adhesion barrier in other countries outside of the United States. The manufacturer maintains that Oxiplex® is different from adhesion barriers in several ways, including chemical composition, method of action, surgical application (that is, it is applied liberally to the nerve root and surrounding neural tissues as opposed to minimally only to nerve elements), and tissue response (noninflammatory as opposed to inflammatory). We welcome comments from the public on this issue.

In an effort to demonstrate that the technology meets the cost criterion, the applicant searched the FY 2006 MedPAR file for cases with ICD-9-CM procedure codes 03.09 (Other exploration and decompression of spinal canal) or 80.51 (Excision of interveterbral disc) that mapped to CMS DRGs 499 and 500 (CMS DRGs 499 and 500 are crosswalked to MS-DRGs 490 and 491 (Back and Neck Procedures except Spinal Fusion with or without CC)). Because these cases do not include charges associated with the technology, the applicant determined it was necessary to add an additional $7,143 in charges to the average standardized charge per case of cases that map to MS-DRGs 490 and 491. (To do this, the applicant used a methodology of inflating the costs of the technology by the average CCR computed by using the average costs and charges for supplies for cases with ICD-9-CM procedure codes 03.09 and 80.51 that map to MS-DRGs 490 and 491). Of the 221,505 cases the applicant found, 95,340 cases (or 43 percent of cases) would map to MS-DRG 490, which has an average standardized charge of $60,301, and 126,165 cases (or 57 percent of cases) would map to MS-DRG 491, which has an average standardized charge per case of $43,888. This resulted in a case-weighted average standardized charge per case of $50,952. The case-weighted threshold for MS-DRGs 490 and 491 was $27,481. Because the case-weighted average standardized charge per case exceeds the case-weighted threshold in MS-DRGs 490 and 491, the applicant maintains that Oxiplex® would meet the cost criterion. We invite public comment on whether Oxiplex® meets the cost criterion.

The manufacturer maintains that Oxiplex® is a substantial clinical improvement because it “creates a protective environment around the neural tissue that limits nerve root exposure to post-surgical irritants and damage and thus reduces adverse outcomes associated with Failed Back Surgery Syndrome (FBSS) following surgery.” The manufacturer also claims that the Oxiplex® gel reduces leg and back pain after discectomy, laminectomy, and laminotomy. The manufacturer also asserts that the use of Oxiplex® is consistent with fewer revision surgeries. (During the FDA Investigational Device Exemption (IDE) trial, one Oxiplex® patient required revision surgery compared to six control patients.) However, as we noted previously in this section, we are concerned that Oxiplex® may be substantially similar to adhesion barriers that have been on the market for several years. We are also concerned that even if we were to determine that Oxiplex is not substantially similar to existing adhesion barriers, there may still be insufficient evidence to support the manufacturer's claims that Oxiplex® reduces pain associated with spinal surgery. In addition, we have found no evidence to support the manufacturer's claims regarding mode of action, degree of dural healing, degree of wound healing, and local tissue response such as might be shown in animal studies. We welcome comments from the public regarding whether Oxiplex® represents a substantial clinical improvement.

We did not receive any written comments or public comments at the town hall meeting regarding the substantial clinical improvement aspects of this technology.

d. TherOx Downstream® System

TherOx, Inc. submitted an application for new technology add-on payments for FY 2009 for the TherOx Downstream® System (Downstream® System). The Downstream® System uses SuperSaturatedOxygen Therapy (SSO2) that is designed to limit myocardial necrosis by minimizing microvascular damage in acute myocardial infarction (AMI) patients following intervention with Percutaneous Transluminal Coronary Angioplasty (PTCA), and coronary stent placement by perfusing the affected myocardium with blood that has been supersaturated with oxygen. SSO2 therapy refers to the delivery of superoxygenated arterial blood directly to areas of myocardial tissue that have been reperfused using PTCA and stent placement, but which may still be at risk. The desired effect of SSO2 therapy is to reduce infarct size and thus preserve heart muscle and function. The DownStream® System is the console portion of a disposable cartridge-based system that withdraws a small amount of the patient's arterial blood, mixes it with a small amount of saline, and supersaturates it with oxygen to create highly oxygen-enriched blood. The superoxygenated blood is delivered directly to the infarct-related artery via the TherOx infusion catheter. SSO2 therapy is a catheter laboratory-based procedure. Additional time in the catheter lab area is an average of 100 minutes. The manufacturer claims that the SSO2 therapy duration lasts 90 minutes and requires an additional 10 minutes post-procedure preparation for transfer time. The TherOx Downstream® System is currently not FDA approved; however, the manufacturer states that it expects to receive FDA approval in the second quarter of 2008. Because the technology is not yet approved by the FDA, we will limit our discussion of this technology to data that the applicant submitted, rather than make specific proposals with respect to whether the device would meet the new technology add-on criteria.

In an effort to demonstrate that it would meet the cost criterion, the applicant submitted two analyses. The applicant believes that cases that would be eligible for the Downstream® System would most frequently group to MS-DRGs 246 (Percutaneous Cardiovascular Procedure with Drug-Eluting Stent with MCC or 4+Vessels/Stents), 247 (Percutaneous Cardiovascular Procedure with Drug-Eluting Stent without MCC), 248 (Percutaneous Cardiovascular Procedure with Non-Drug-Eluting Stent with MCC or 4+Vessels/Stents), and 249 (Percutaneous Cardiovascular Procedure with Non-Drug-Eluting Stent without MCC). The first analysis used data based on 83 clinical trial patients from 10 clinical sites. Of the 83 cases, 78 were assigned to MS-DRGs 246, 247, 248, or 249. The data showed that 32 of these patients were 65 years old or older. There were 12 cases (or 15.4 percent of cases) in MS-DRG 246, 56 cases (or 71.8 percent of cases) in MS-DRG 247, 2 cases (or 2.6 percent of cases) in MS-DRG 248, and 8 cases (or 10.3 percent of cases) in MS-DRG 249. (The remaining five cases grouped to MS-DRGs that the technology would not frequently group to and therefore are not included in this analysis.) The average standardized charge per case for MS-DRGs 246, 247, 248, and 249 was $66,730, $53,963, $54,977, and $41,594, respectively. The case-weighted average standardized charge per case for the four MS-DRGs listed above is $54,665. Based on the threshold from Table 10 (72 FR 66890), the case-weighted threshold for the four MS-DRGs listed above was $49,303. The applicant also searched the FY 2006 MedPAR file to identify cases that would be eligible for the Downstream® System. The applicant specifically searched for cases with primary ICD-9-CM diagnosis code 410.00 (Acute myocardial infarction of anterolateral wall with episode of care unspecified), 410.01 (Acute myocardial infarction of anterolateral wall with initial episode of care), 410.10 (Acute myocardial infarction of other anterior wall with episode of care unspecified), or 410.11 (Acute myocardial infarction of other anterior wall with initial episode of care) in combination with ICD-9-CM procedure code of 36.06 (Insertion of non-drug-eluting coronary artery stent(s)) or 36.07 (Insertion of drug-eluting coronary artery stent(s)). The applicant's search found 13,527 cases within MS-DRGs 246, 247, 248, and 249 distributed as follows: 2,287 cases (or 16.9 percent of cases) in MS-DRG 246; 9,691 cases (or 71.6 percent of cases) in MS-DRG 247; 402 cases (or 3 percent of cases) in MS-DRG 248; and 1,147 cases (or 8.5 percent of cases) in MS-DRG 249. Not including the charges associated with the technology, the geometric mean standardized charge per case for MS-DRGs 246, 247, 248, and 249 was $59,631, $42,357, $49,718 and $37,446, respectively. Therefore, based on this analysis, the total case-weighted geometric mean standardized charge per case across these MS-DRGs was $45,080. The applicant estimated that it was necessary to add an additional $21,620 in charges to the total case-weighted geometric mean standardized charge per case. The applicant included charges for supplies and tests related to the technology, charges for 100 minutes of additional procedure time in the catheter laboratory and charges for the technology itself in the additional charge amount referenced above. The inclusion of these charges would result in a total case-weighted geometric mean standardized charge per case of $66,700. The case-weighted threshold for MS-DRGs 246, 247, 248, and 249 (from Table 10 (72 FR 66889)) was $49,714. Because the total case-weighted average standardized charge per case from the first analysis and the case-weighted geometric mean standardized charge per case from the second analysis exceeds the applicable case-weighted threshold, the applicant maintains the Downstream® System would meet the cost criterion. We invite public comment on whether Downstream® System meets the cost criterion.

The applicant asserts that the Downstream® System is a substantial clinical improvement because it reduces infarct size in acute AMI where PTCA and stent placement have also been performed. Data was submitted from the Acute Myocardial Infarction Hyperbaric Oxygen Treatment (AMIHOT) II trial, which was presented at the October 2007 Transcatheter Cardiovascular Therapeutics conference, but has not been published in peer reviewed literature, that showed an average of 6.5 percent reduction in infarct size as measured with Tc-99m Sestamibi imaging in patients who received supersaturated oxygen therapy. We note that those patients also showed a significantly higher incidence of bleeding complications. While we recognize that a reduction of infarct size may correlate with improved clinical outcomes, we question whether the degree of infarct size reduction found in the trial represents a substantial clinical improvement, particularly in light of the apparent increase in bleeding complications. We welcome comments from the public on this matter.

We received one written comment from the manufacturer clarifying questions that were raised at the town hall meeting. Specifically, the commenter explained the methodology of Tc-99m Sestamibi scanning and interpretation in the AMIHOT II trial. In addition, the commenter explained that the AMIHOT ¹⁵ and AMIHOT II trials did not attempt to measure differences in heart failure outcomes nor mortality outcomes.

¹⁵ Oneill, WW., et al., Acute Myocardial Infarction with Hyperoxemic Therapy (AMIHOT): A Prospective Randomized Trial of Intracoronary Hyperoxemic Reperfusion after Percutaneous Coronary Intervention. Journal of the American College of Cardiology, Vol. 50, No. 5, 2007, pp. 397-405.

5. Proposed Regulatory Change

Section 1886(d)(5)(K)(i) of the Act directs us to establish a mechanism to recognize the cost of new medical services and technologies under the IPPS, with such mechanism established after notice and opportunity for public comment. In accordance with this authority, we established at § 412.87(b) of our regulations criteria that a medical service or technology must meet in order to qualify for the additional payment for new medical services and technologies. Specifically, we evaluate applications for new medical service or technology add-on payment by determining whether they meet the criteria of newness, adequacy of payment, and substantial clinical improvement.

As stated in section III.J.1. of the preamble of this proposed rule, § 412.87(b)(2) of our existing regulations provides that a specific medical service or technology will be considered new for purposes of new medical service or technology add-on payments after the point at which data begin to become available reflecting the ICD-9-CM code assigned to the new service or technology. The point at which these data become available typically begins when the new medical service or technology is first introduced on the market, generally on the date that the medical service or technology receives FDA approval. Accordingly, for purposes of the new medical service or technology add-on payment, a medical service or technology cannot be considered new prior to the date on which FDA approval is granted.

In addition, as stated in section III.J.1. of the preamble of this proposed rule, § 412.87(b)(3) of our existing regulations provides that, to be eligible for the add-on payment for new medical services or technologies, the DRG prospective payment rate otherwise applicable to the discharge involving the new medical service or technology must be assessed for adequacy. Under the cost criterion, to assess the adequacy of payment for a new medical service or technology paid under the applicable DRG prospective payment rate, we evaluate whether the charges for cases involving the new medical service or technology exceed certain threshold amounts.

Section 412.87(b)(1) of our existing regulations provides that, to be eligible for the add-on payment for new medical services or technologies, the new medical service or technology must represent an advance that substantially improves, relative to technologies previously available, the diagnosis or treatment of Medicare beneficiaries. In addition, § 412.87(b)(1) states that CMS will announce its determination as to whether a new medical service or technology meets the substantial clinical improvement criteria in the Federal Register as part of the annual updates and changes to the IPPS.

Since the implementation of the policy on add-on payments for new medical services and technologies, we accept applications for add-on payments for new medical services and technologies on an annual basis by a specified deadline. For example, applications for FY 2009 were submitted in November 2007. After accepting applications, CMS then evaluates them in the annual IPPS proposed and final rules to determine whether the medical service or technology is eligible for the new medical service or technology add-on payment. If an application meets each of the eligibility criteria, the medical service or technology is eligible for new medical service or technology add-on payments beginning on the first day of the new fiscal year (that is, October 1).

We have advised prior and potential applicants that we evaluate whether a medical service or technology is eligible for the new medical service or technology add-on payments prior to publication of the final rule setting forth the annual updates and changes to the IPPS, with the results of our determination announced in the final rule. We announce our results in the final rule for each fiscal year because we believe predictability is an important aspect of the IPPS and that it is important to apply a consistent payment methodology for new medical services or technologies throughout the entire fiscal year. For example, hospitals must train their billing and other staff after publication of the final rule to properly implement the coding and payment changes for the upcoming fiscal year set forth in the final rule. In addition, hospitals' budgetary process and clinical decisions regarding whether to utilize new technologies are based in part on the applicable payment rates under the IPPS for the upcoming fiscal year, including whether the new medical services or technologies qualify for the new medical service or technology add-on payment. If CMS were to make multiple payment changes under the IPPS during a fiscal year, these changes could adversely affect the decisions hospitals implement at the beginning of the fiscal year. For these reasons, we believe applications for new medical service or technology add-on payments should be evaluated prior to publication of the final IPPS rule for each fiscal year. Therefore, if an application does not meet the new medical service or technology add-on payment criteria prior to publication of the final rule, it will not be eligible for the new medical service or technology add-on payments for the fiscal year for which it applied for the add-on payments.

Because we make our determination regarding whether a medical service or technology meets the eligibility criteria for the new medical service or technology add-on payments prior to publication of the final rule, we have advised both past and potential applicants that their medical service or technology must receive FDA approval early enough in the IPPS rulemaking cycle to allow CMS enough time to fully evaluate the application prior to the publication of the IPPS final rule. Moreover, because new medical services or technologies that have not received FDA approval do not meet the newness criterion, it would not be necessary or prudent for us to make a final determination regarding whether a new medical service or technology meets the cost threshold and substantial clinical improvement criteria prior to the medical service or technology receiving FDA approval. In addition, we do not believe it is appropriate for CMS to determine whether a medical service or technology represents a substantial clinical improvement over existing technologies before the FDA makes a determination as to whether the medical service or technology is safe and effective. For these reasons, we first determine whether a medical service or technology meets the newness criteria, and only if so, do we then make a determination as to whether the technology meets the cost threshold and represents a substantial clinical improvement over existing medical services or technologies. For example, even if an application has FDA approval, if the medical service or technology is beyond the timeline of 2-3 years to be considered new, in the past we have not made a determination on the cost threshold and substantial clinical improvement. Further, as we have discussed in prior final rules (69 FR 49018-49019 and 70 FR 47344), it is our past and present practice to analyze the new medical service or technology add-on payment criteria in the following sequence: Newness, cost threshold, and finally substantial clinical improvement. Under our proposal in this proposed rule, we would continue this practice of analyzing the eligibility criteria in this sequence and announce in the annual Federal Register as part of the annual updates and changes to the IPPS our determination on whether a medical service or technology meets the eligibility criteria in § 412.87(b).

In the interest of more clearly defining the parameters under which CMS can fully and completely evaluate new medical service or technology add-on payment applications, we are proposing to amend the regulations at § 412.87 by adding a new paragraph (c) to codify our current policy and specify that CMS will consider whether a new medical service or technology meets the eligibility criteria in § 412.87(b) and announce the results in the Federal Register as part of the annual updates and changes to the IPPS. As a result, we are proposing to remove the duplicative text in § 412.87(b)(1) that specifies that CMS will determine whether a new medical service or technology meets the substantial clinical improvement criteria and announce the results of its determination in the Federal Register as part of the annual updates and changes to the IPPS. We note that this proposal is not a change to our current policy, as we have always given consideration to whether an application meets the new medical service or technology eligibility criteria in the annual IPPS proposed and final rules. Rather, this proposal simply codifies our current practice of fully evaluating new medical service or technology add-on payment applications prior to publication of the final rule in order to maintain predictability within the IPPS for the upcoming fiscal year.

In addition, we are proposing in new paragraph (c) of § 412.87 to set July 1 of each year as the deadline by which IPPS new medical service or technology add-on payment applications must receive FDA approval. This proposed deadline should provide us with enough time to fully consider all of the new medical service or technology add-on payment criteria for each application and maintain predictability in the IPPS for the coming fiscal year.

Finally, under this proposal, applications that have not received FDA approval by July 1 would not be considered in the final rule, even if they were summarized in the corresponding IPPS proposed rule. However, applications that receive FDA approval of the medical service or technology after July 1 would be able to reapply for the new medical service or technology add-on payment the following year (at which time they would be given full consideration in both the IPPS proposed and final rules).

In summary, for the reasons cited above, we are proposing to revise § 412.87 to remove the second sentence of (b)(1) and add a new paragraph (c) to codify our current practice of how CMS evaluates new medical service or technology add-on payment applications and establish in paragraph (c) a deadline of July 1 of each year as the deadline by which IPPS new medical service or technology add-on payment applications must receive FDA approval in order to be fully evaluated in the applicable IPPS final rule each year.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of statistical areas established by the Office of Management and Budget (OMB). A discussion of the proposed FY 2009 hospital wage index based on the statistical areas, including OMB's revised definitions of Metropolitan Areas, appears under section III.C. of this preamble.

Beginning October 1, 1993, section 1886(d)(3)(E) of the Act requires that we update the wage index annually. Furthermore, this section provides that the Secretary base the update on a survey of wages and wage-related costs of short-term, acute care hospitals. The survey must exclude the wages and wage-related costs incurred in furnishing skilled nursing services. This provision also requires us to make any updates or adjustments to the wage index in a manner that ensures that aggregate payments to hospitals are not affected by the change in the wage index. The proposed adjustment for FY 2009 is discussed in section II.B. of the Addendum to this proposed rule.

As discussed below in section III.I. of this preamble, we also take into account the geographic reclassification of hospitals in accordance with sections 1886(d)(8)(B) and 1886(d)(10) of the Act when calculating IPPS payment amounts. Under section 1886(d)(8)(D) of the Act, the Secretary is required to adjust the standardized amounts so as to ensure that aggregate payments under the IPPS after implementation of the provisions of sections 1886(d)(8)(B) and (C) and 1886(d)(10) of the Act are equal to the aggregate prospective payments that would have been made absent these provisions. The proposed budget neutrality adjustment for FY 2009 is discussed in section II.A.4.b. of the Addendum to this proposed rule.

Section 1886(d)(3)(E) of the Act also provides for the collection of data every 3 years on the occupational mix of employees for short-term, acute care hospitals participating in the Medicare program, in order to construct an occupational mix adjustment to the wage index. A discussion of the occupational mix adjustment that we are proposing to apply beginning October 1, 2008 (the FY 2009 wage index) appears under section III.D. of this preamble.

B. Requirements of Section 106 of the MIEA-TRHCA

1. Wage Index Study Required Under the MIEA-TRHCA

Section 106(b)(1) of the MIEA-TRHCA (Pub. L. 109-432) required MedPAC to submit to Congress, not later than June 30, 2007, a report on the Medicare wage index classification system applied under the Medicare IPPS. Section 106(b) of MIEA-TRHCA required the report to include any alternatives that MedPAC recommends to the method to compute the wage index under section 1886(d)(3)(E) of the Act.

In addition, section 106(b)(2) of the MIEA-TRHCA instructed the Secretary of Health and Human Services, taking into account MedPAC's recommendations on the Medicare wage index classification system, to include in this FY 2009 IPPS proposed rule one or more proposals to revise the wage index adjustment applied under section 1886(d)(3)(E) of the Act for purposes of the IPPS. The proposal (or proposals) must consider each of the following:

• Problems associated with the definition of labor markets for the wage index adjustment.

• The modification or elimination of geographic reclassifications and other adjustments.

• The use of Bureau of Labor of Statistics data or other data or methodologies to calculate relative wages for each geographic area.

• Minimizing variations in wage index adjustments between and within MSAs and statewide rural areas.

• The feasibility of applying all components of CMS' proposal to other settings.

• Methods to minimize the volatility of wage index adjustments while maintaining the principle of budget neutrality.

• The effect that the implementation of the proposal would have on health care providers on each region of the country.

• Methods for implementing the proposal(s) including methods to phase in such implementations.

• Issues relating to occupational mix such as staffing practices and any evidence on quality of care and patient safety including any recommendation for alternative calculations to the occupational mix.

In its June 2007 Report to Congress, “Report to the Congress: Promoting Greater Efficiency in Medicare” (Chapter 6 with Appendix), MedPAC made three broad recommendations regarding the wage index:

(1) Congress should repeal the existing hospital wage index statute, including reclassifications and exceptions, and give the Secretary authority to establish a new wage index system;

(2) The Secretary should establish a hospital compensation index that—

• Uses wage data from all employers and industry-specific occupational weights;

• Is adjusted for geographic differences in the ratio of benefits to wages;

• Is adjusted at the county level and smoothes large differences between counties; and

• Is implemented so that large changes in wage index values are phased in over a transition period; and

(3) The Secretary should use the hospital compensation index for the home health and skilled nursing facility prospective payment systems and evaluate its use in the other Medicare fee-for-service prospective payment systems.

The full June 2007 Report to Congress is available at the Web site: http://www.medpac.gov/documents/Jun07_EntireReport.pdf).

In the presentation and analysis of its alternative wage index system, MedPAC addressed almost all of the nine points for consideration under section 106(b)(2) of Pub. L. 109-432. Following are the highlights of the alternative wage index system recommended by MedPAC:

• Although the MedPAC recommended wage index generally retains the current labor market definitions, it supplements the metropolitan areas with county-level adjustments and eliminates single wage index values for rural areas.

• In the MedPAC recommended wage index, the county-level adjustments, together with a smoothing process that constrains the magnitude of differences between and within contiguous wage areas, serve as a replacement for geographical reclassifications.

• The MedPAC recommended wage index uses BLS data instead of the CMS hospital wage data collected on the Medicare cost report. MedPAC adjusts the BLS data for geographic differences in the ratio of benefits to wages using Medicare cost report data.

• The BLS data are collected from a sample of all types of employers, not just hospitals. The MedPAC recommended wage index could be adapted to other providers such as HHAs and SNFs by replacing hospital occupational weights with occupational weights appropriate for other types of providers.

• In the MedPAC recommended wage index, volatility over time is addressed by the use of BLS data, which is based on a 3-year rolling sample design.

• MedPAC recommends a phased implementation for its recommended wage index in order to cushion the effect of large wage index changes on individual hospitals.

• MedPAC suggests that using BLS data automatically addresses occupational mix differences, because the BLS data are specific to health care occupations, and national industry-wide occupational weights are applied to all geographic areas.

• The MedPAC report does not provide any evidence of the impact of its wage index on staffing practices or the quality of care and patient safety.

To assist CMS in meeting the requirements of section 106(b)(2) of Pub. L. 109-432, in February 2008, CMS awarded a Task Order under its Expedited Research and Demonstration Contract, to Acumen, LLC. The two general responsibilities of the Task Order are to (1) conduct a detailed impact analysis that compares the effects of MedPAC's wage and hospital compensation indexes with the CMS wage index and (2) assist CMS in developing a proposal (or proposals) that addresses the nine points for consideration under section 106(b)(2) of Pub. L. 109-432. Specifically, the tasks under the Task Order include, but are not limited to, an evaluation of whether differences between the two types of wage data (that is, CMS cost report and occupational mix data and BLS data) produce significant differences in wage index values among labor market areas, a consideration of alternative methods of incorporating benefit costs into the construction of the wage index, a review of past and current research on alternative labor market area definitions, and a consideration of how aspects of the MedPAC recommended wage index can be applied to the CMS wage data in constructing a new methodology for the wage index. We will present any analyses and proposals resulting from this Task Order in the FY 2009 IPPS final rule or in a special Federal Register notice issued after the final rule is published.

2. CMS Proposals in Response to Requirements Under Section 106(b) of the MIEA-TRHCA

As discussed in section III.A. of this preamble, the purpose of the hospital wage index is to adjust the IPPS standardized payment to reflect labor market area differences in wage levels. The geographic reclassification system exists in order to assist “hospitals which are disadvantaged by their current geographic classification because they compete with hospitals that are located in the geographic area to which they seek to be reclassified” (56 FR 25469). Geographic reclassification is established under section 1886(d)(10) of the Act and is implemented through 42 CFR Part 412, Subpart L. (We refer readers to section III.I. of this preamble for a detailed discussion of the geographic reclassification system and other area wage index exceptions.)

In its June 2007 Report to Congress, MedPAC discussed its findings that geographic reclassification, and numerous other area wage index exceptions added to the system over the years, have created major complexities and “troubling anomalies” in the hospital wage index. A review of the IPPS final rules reveals a long history of legislative changes that have permitted certain hospitals, that otherwise would not be able to reclassify under section 1886(d)(10) of the Act, to receive a higher wage index than calculated for their geographic area. MedPAC reports that more than one-third of hospitals now receive a higher wage index due to geographic reclassification or other wage index exceptions. We are concerned about the integrity of the current system, and agree with MedPAC that the process has become burdensome.

As noted above, MedPAC recommended the elimination of geographic reclassification and other wage index exceptions. In addition, the President's FY 2009 Budget included a proposal to apply the geographic reclassification budget neutrality requirement at the State level rather than by adjusting the standardized rate for hospitals nationwide. Given the language in section 1886(d)(10) of the Act establishing the MGCRB, we believe a statutory change would be required to make these changes. However, we do have the authority to make some regulatory changes to the reclassification system as discussed below. We note that these proposals do not preclude future consideration of MedPAC's recommendations that could be implemented through additional changes to our regulations, once our analysis of those recommendations is complete (after the publication of the FY 2009 IPPS proposed rule).

a. Proposed Revision of the Reclassification Average Hourly Wage Comparison Criteria

Regulations at 42 CFR 413.230(d)(1) set forth the average hourly wage comparison criteria that an individual hospital must meet in order for the MGCRB to approve a geographic reclassification application. Our current criteria (requiring an urban hospital to demonstrate that its average hourly wage is at least 108 percent of the average hourly wage of hospitals in the area in which the hospital is located and at least 84 percent of the average hourly wage of hospitals in the area to which it seeks redesignation) were adopted in the FY 1993 IPPS final rule (57 FR 39825). In that final rule, we explained that the 108 percent threshold “is based on the national average hospital wage as a percentage of its area wage (96 percent) plus one standard deviation (12 percent).” We also explained that we would use the 84-percent threshold to reflect the average hospital wage of the hospital as a percentage of its area wage less one standard deviation. We stated that “to qualify for a wage index reclassification, a hospital must have an average hourly wage that is more than one national standard deviation above its original labor market area and not less than one national standard deviation below its new labor market area” (57 FR 39770). In response to numerous public comments we received, we expressed our policy and legal justifications for adopting the specific thresholds. Among other things, we stated that geographic reclassifications must be viewed not just in terms of those hospitals that are reclassifying, but also in terms of the nonreclassifying hospitals that, through a budget neutrality adjustment, are required to bear a financial burden associated with the higher wage indices received by those hospitals that reclassify. We also indicated that the Secretary has ample legal authority under section 1886(d)(10) of the Act to set the wage comparison thresholds and to revise such thresholds upon further review. We refer readers to that final rule for a full discussion of our justifications for the standards.

In the FY 2000 IPPS final rule (65 FR 47089 through 47090), the wage comparison criteria for rural hospitals seeking individual hospital reclassifications were reduced to 82 percent and 106 percent to compensate for the historic economic underperformance of rural hospitals. The 2-percent drop in both thresholds was determined to allow a significant benefit to some hospitals that were close to meeting the existing criteria but would not make the reclassification standards overly liberal for rural hospitals.

CMS has not evaluated or recalibrated the average hourly wage criteria for geographic reclassification since they were established in FY 1993. In consideration of the MIEA-TRHCA requirements and MedPAC's finding that over one-third of hospitals are receiving a reclassified wage index or other wage index adjustment, we decided to reevaluate the average hourly wage criteria for geographic reclassification. We ran simulations with more recent wage data to determine what would be the appropriate average hourly wage criteria. We found that the average hospital average hourly wage as a percentage of its area's wage has increased from approximately 96 percent in FY 1993 to closer to 98 percent over FYs 2006, 2007, and 2008 (97.8, 98.2, and 98 percent, respectively). We also determined that the standard deviation has been reduced from approximately 12 percent in FY 1993 to closer to 10 percent over the same 3-year period (10.7, 10.4, and 10.4 percent, respectively); that is, assuming normal distributions, approximately 68 percent of all hospitals would have an average hourly wage that deviates less than 10 percentage points above or below the mean. This assessment indicates that the new baseline criteria for reclassification should be set to 88/108 percent. While the 108 criterion appears not to require adjustment, the current 84 percent standard appears to be too low a threshold to serve the purpose of establishing wage comparability with a proximate labor market area.

To assess the impact that these changes would have had on hospitals that reclassified in FY 2008, we ran models that set urban individual reclassification standards to 88/108 percent and the county group reclassification standard to 88 percent. We retained the 2-percent benefit for rural hospitals by setting an 86/106 percent standard. We used 3-year average hourly wage figures from the 2005, 2006, and 2007 wage surveys and compared them to 3-year average hourly wage figures for CBSAs over the same 3-year period.

Of the 295 hospitals that applied for and received individual reclassifications in FY 2008, 45 of them (15.3 percent) would not meet the proposed 88/86 percent threshold. Of the 66 hospitals that applied for and received county group reclassification in FY 2008, 6 hospitals (9.1 percent) in 3 groups would not have qualified with the new standards. We also ran comparisons for hospitals that reclassified in FY 2006 and FY 2007 to determine if they would have been able to reclassify in FY 2008, using 3-year averages available in FY 2008. We found that, of all hospitals that were reclassified in FY 2008 (that is, applications approved for FYs 2006 through 2008), 14.7 percent of individual reclassifications and 8.5 percent of county group reclassification would not have qualified to reclassify in FY 2008.

Section 106 of MIEA-TRHCA requires us to propose revisions to the hospital wage index system after considering the recommendations of MedPAC. To address this requirement, we are proposing that the 84/108 criteria for urban hospital reclassifications and the 82/106 criteria for rural hospital reclassifications be recalibrated using the methodology published in the FY 1993 final rule and more recent wage data (that is, data used in computing the FYs 2006, 2007, 2008 wage indices). We believe that hospitals that are seeking to reclassify to another area should be required to demonstrate more similarity to the area than the current criteria permit, and our recent analysis demonstrates that those criteria are no longer appropriate. Therefore, we are proposing to change the criterion for the comparison of a hospital's average hourly wage to that of the area to which the hospital seeks reclassification to 88 percent for urban hospitals and 86 percent for rural hospitals for new reclassifications beginning with the FY 2010 wage index and, accordingly, revise our regulations at 42 CFR 412.230 to reflect these changes. The criterion for the comparison of a hospital's average hourly wage to that of its geographic area would be unchanged (108 percent for urban hospitals and 106 percent for rural hospitals). We also are proposing that, when there are significant changes in labor market area definitions, such as CMS' adoption of new OMB CBSA definitions based upon the decennial census (69 FR 49027), we would again reevaluate and, if warranted, recalibrate these criteria. This would allow CMS to consider the effects of periodic changes in labor market boundaries and provide a regular timeline for updating and validating the reclassification criteria. Finally, we are proposing to adjust the 85 percent criterion for both urban and rural county group reclassifications to be equal to the proposed 88 percent standard for urban reclassifications, and to revise the regulations at 42 CFR 412.232 and 412.234 to reflect the change. The urban and rural county group average hourly wage standard has always been equivalent for both urban and rural county groups and has always been 1 percent higher than the 84 percent urban area individual reclassification standard. We would continue the policy of having an equivalent wage comparison criterion for both urban and rural county groups, as these groups have always used the same wage comparison criteria. We also would use the individual urban hospital reclassification standard of 88 percent because this threshold would ensure that the hospitals in the county group are at least as comparable to the proximate area as are individual hospitals within their own areas. Also, we do not believe it would be appropriate to have a group reclassification standard lower than the individual reclassification standards, thus potentially creating a situation where all of the hospitals in a county could reclassify, even though no single hospital within such county would be able to meet any average hourly wage-related comparisons for an individual reclassification.

We considered raising the group reclassification criterion to 89 percent in order to preserve the historical policy of the standard being set at 1 percent higher than the individual reclassification standard. However, we determined that making the group standard equal to the individual standard would adequately address our stated concerns.

We note that the proposed changes in the reclassification criteria apply only to new reclassifications beginning with the FY 2010 wage index. Any hospital or county group that is in the midst of a 3-year reclassification in FY 2010 will not be affected by the proposed criteria change until they reapply for a geographic reclassification. Therefore, we are proposing the effective date for these changes would be September 1, 2008, the deadline for hospitals to submit applications for reclassification for the FY 2010 wage index.

b. Within-State Budget Neutrality Adjustment for the Rural and Imputed Floors

Section 4410 of the Balanced Budget Act of 1997 (BBA) established the rural floor by requiring that the wage index for a hospital in an urban area of a State cannot be less than the area wage index determined for that State's rural area. Section 4410(b) of the BBA imposed the budget neutrality requirement and stated that the Secretary shall “adjust the area wage index referred to in subsection (a) for hospitals not described in such subsection.” Therefore, in order to compensate for the increased wage indices of urban hospitals receiving the rural floor, a nationwide budget neutrality adjustment is applied to the wage index to account for the additional payment to these hospitals. As a result, urban hospitals that qualify for their State's rural floor wage index receive enhanced payments at the expense of all rural hospitals nationwide and all other urban hospitals that do not receive their State's rural floor. In the FY 2009 proposed wage index, 266 hospitals in 27 States benefit from the rural floor. The first chart below lists the percentage of total payments each State either received or contributed to fund the current rural floor and imputed floor provisions with national budget neutrality adjustments (as indicated in the discussion of the imputed floor below in this section III.B.2.b.). The second chart below provides a graphical depiction of the proposed FY 2009 impacts.

FY 2009 IPPS Estimated Payments with Proposed Within-State Rural Floor and Imputed Floor Budget Neutrality
State | Current policy application of national rural floor and imputed floor budget neutrality | Proposed policy application of rural floor and imputed floor budget neutrality within each state
Alabama | −0.1 | 0.3
Alaska | 0.0 | −0.2
Arizona | −0.2 | 0.3
Arkansas | −0.1 | 0.3
California | 0.7 | −0.8
Colorado | 0.0 | −0.1
Connecticut | 2.1 | −2.2
Delaware | −0.2 | 0.3
Washington, DC | −0.2 | 0.3
Florida | 0.0 | 0.0
Georgia | −0.1 | 0.3
Hawaii | −0.1 | 0.3
Idaho | −0.1 | 0.3
Illinois | −0.2 | 0.1
Indiana | −0.1 | 0.0
Iowa | 0.1 | −0.1
Kansas | −0.1 | 0.3
Kentucky | −0.1 | 0.3
Louisiana | −0.1 | 0.0
Maine | −0.1 | 0.3
Massachusetts | −0.2 | 0.3
Michigan | −0.2 | 0.3
Minnesota | −0.2 | 0.3
Mississippi | −0.1 | 0.3
Missouri | −0.1 | 0.0
Montana | −0.1 | 0.2
Nebraska | −0.1 | 0.3
Nevada | −0.2 | 0.3
New Hampshire | 1.1 | −1.2
New Jersey | 0.7 | −0.8
New Mexico | −0.1 | 0.0
New York | −0.2 | 0.3
North Carolina | −0.1 | 0.1
North Dakota | 0.1 | −0.1
Ohio | −0.1 | 0.1
Oklahoma | −0.1 | 0.1
Oregon | −0.1 | 0.0
Pennsylvania | −0.1 | 0.1
Rhode Island | −0.2 | 0.3
South Carolina | −0.1 | 0.0
South Dakota | −0.1 | 0.3
Tennessee | 0.0 | 0.0
Texas | −0.1 | 0.1
Utah | −0.1 | 0.3
Vermont | 3.5 | −3.4
Virginia | −0.1 | 0.0
Washington | −0.1 | −0.1
West Virginia | 0.0 | −0.1
Wisconsin | −0.1 | −0.1
Wyoming | 0.0 | 0.1

The above charts demonstrate how, at a State-by-State level, the rural floor is creating a benefit for a minority of States that is then funded by a majority of States, including States that are overwhelmingly rural in character. The intent behind the rural floor seems to have been to address anomalous occurrences where certain urban areas in a State have unusually depressed wages when compared to the State's rural areas. However, because these comparisons occur at the State level, we believe it also would be sound policy to make the budget neutrality adjustment specific to the State, redistributing payments among hospitals within the State, rather than adjusting payments to hospitals in other States.

In addition, a statewide budget neutrality adjustment would address the situation we discussed in the FY 2008 IPPS final rule with comment period (72 FR 47324) in which rural CAHs were converting to IPPS status, apparently to raise the State's rural wage index to a level whereby all urban hospitals in the State would receive the rural floor. Medicare payments to CAHs are based on 101 percent of reasonable costs while the IPPS pays hospitals a fixed rate per discharge. In addition, as a CAH, a hospital is guaranteed to recover its costs, while an IPPS hospital is provided with incentives to increase efficiency to cover its costs. Thus, we stated that the identified CAHs were converting back to IPPS, even though the conversion would not directly benefit them. Because these hospitals’ wage levels are higher than most, if not all, of the urban hospitals in the State, the wage indices for most, if not all, of the State's urban hospitals would increase as a result of the rural floor provision if the CAHs convert to IPPS status. In simulating the effect of the hospitals setting the State's rural floor, we estimated that payment to hospitals in the State would increase in excess of $220 million in a single year. The MedPAC, in its June 2007 Report to the Congress stated, “The fact that the movement of one or two CAHs in or out of the [I]PPS system can increase (or decrease) Medicare payments by $220 million suggests there is a flaw in the design of the wage index system.” (We refer readers to page 131 of the report.)

For the above reasons, we are proposing to apply a State level rural floor budget neutrality adjustment to the wage index beginning in FY 2009. States that have no hospitals receiving a rural floor wage index would no longer have a negative budget neutrality adjustment applied to their wage indices. Conversely, hospitals in States with hospitals receiving a rural floor would have their wage indices downwardly adjusted to achieve budget neutrality within the State. All hospitals within each State would, in effect, be responsible for funding the rural floor adjustment applicable within that specific State.

In the FY 2005 IPPS final rule and the FY 2008 IPPS final rule with comment period (69 FR 49109 and 72 FR 47321, respectively), we temporarily adopted an “imputed” floor measure to address a concern by some individuals that hospitals in all-urban States were disadvantaged by the absence of rural hospitals. Because no rural wage index could be calculated, no rural floor could be applied within such States. We originally limited application of the policy to FYs 2005 through 2007 and then extended it one additional year, through FY 2008. We are proposing to extend the imputed floor for 3 additional years, through FY 2011, and to revise the introductory text of § 412.64(h)(4) of our regulations to reflect this extension. For FY 2009, 26 hospitals in New Jersey (33.8 percent) would receive the imputed floor. Rhode Island, the only other all-urban State, has no hospitals that would receive the imputed floor. In past years, we applied a national budget neutrality adjustment to the standardized amount to ensure that payments remained constant to payments that would have occurred in the absence of the imputed floor policy. As a result, payments to all other hospitals in the Nation were adjusted downward to subsidize the higher payments to New Jersey hospitals receiving the imputed floor. As the intent of the imputed floor is to create a protection to all-urban States similar to the protection offered to urban-rural mixed States by the rural floor, and the effect of the measure is also State-specific like the rural floor, we believe that the budget neutrality adjustments for the imputed floor and the rural floor should be applied in the same manner. Therefore, beginning with FY 2009, we are also proposing to apply the imputed floor budget neutrality adjustment to the wage index and at the State level.

Based on our impact analysis of these proposals for FY 2009, of the 49 States (Maryland is excluded because it is under a State waiver), the District of Columbia, and Puerto Rico, 39 would see either no change or an increase in total Medicare payments as a result of applying a budget neutrality adjustment to the wage index for the rural and imputed floors at the State level rather than the national level. The total payments of the remaining 12 States would decrease 0.1 percent to 3.4 percent compared to continuing our prior national adjustment policy. The full impact analysis is reflected in the two charts presented earlier in this section III.B.2.b. of the preamble of this proposed rule. Tables 4D-1 and 4D-2 in the Addendum to this proposed rule reflect the proposed FY 2009 State level budget neutrality adjustments for the rural and imputed floors. We are specifically requesting public comments from national and State hospital associations regarding these proposals, particularly the national associations, as they represent member hospitals that are both positively and negatively affected by our proposed policies, and are, therefore, in the best position to comment on the policy merits of these proposals. We will view the absence of any comments from the national hospital associations as a sign that they do not object to our proposed policies.

c. Within-State Budget Neutrality Adjustment for Geographic Reclassification

Currently, section 1886(d)(8)(D) of the Act requires us to adjust the standardized amount to ensure that the effects of geographic reclassification do not increase aggregate IPPS payments. This means that, in the case of a reclassification, budget neutrality is achieved by reducing the standardized amount for all hospitals nationwide. The FY 2009 President's Budget includes a legislative proposal to apply geographic reclassification budget neutrality at the State level (available at the Web site: www.hhs.gov/budget/09budget/2009BudgetInBrief.pdf under FY 2009 Medicare Proposals, page 54). If this proposal is enacted by the Congress, budget neutrality would be achieved by adjusting the wage index for all hospitals within the State rather than reducing the standardized amount for all hospitals nationwide.

As noted also in MedPAC's June 2007 Report to Congress, over the years, there have been many changes to the Medicare law that are intended to broaden the ability for a hospital to receive a wage index that is higher than the value that is calculated for its geographic area and not be subject to the proximity or wage level criteria for geographic reclassification established under section 1886(d)(10) of the Act. These more targeted geographic reclassification provisions are creating inequities in the wage index by sometimes allowing hospitals to be reclassified to areas where other hospitals that are closer in proximity are ineligible to reclassify. Applying budget neutrality at the State level would focus the costs of geographic reclassification closer to the areas where hospitals that benefit from the reclassification are located. We expect that a legislative provision on applying geographic reclassification budget neutrality at the State level would be applied to all reclassifications and wage index exceptions that are implemented through 42 CFR Part 412, Subpart L, and certain provisions of the Social Security Act that permit hospitals to receive a higher wage index than is calculated for their geographic area. (As discussed above, as a proposed regulatory matter, there also would be a separate within-State budget neutrality adjustment for the imputed and rural floors.) We expect that reclassification budget neutrality at the State level would operate through adjustments to the IPPS payments to hospitals in the State in which the reclassifying hospital is geographically located.

We are seeking public comments regarding MedPAC's recommendations for reforming the wage index, our plan for our contractor's review of the wage index, and the regulatory proposals for modifying the current hospital wage index system. We also welcome additional suggestions for reforming the hospital wage index.

C. Core-Based Statistical Areas for the Hospital Wage Index

The wage index is calculated and assigned to hospitals on the basis of the labor market area in which the hospital is located. In accordance with the broad discretion under section 1886(d)(3)(E) of the Act, beginning with FY 2005, we define hospital labor market areas based on the Core-Based Statistical Areas (CBSAs) established by OMB and announced in December 2003 (69 FR 49027). For a discussion of OMB's revised definitions of CBSAs and our implementation of the CBSA definitions, we refer readers to the preamble of the FY 2005 IPPS final rule (69 FR 49026 through 49032).

As with the FY 2008 final rule, for FY 2009 we are proposing to provide that hospitals receive 100 percent of their wage index based upon the CBSA configurations. Specifically, for each hospital, we will determine a wage index for FY 2009 employing wage index data from FY 2005 hospital cost reports and using the CBSA labor market definitions. We consider CBSAs that are MSAs to be urban, and CBSAs that are Micropolitan Statistical Areas as well as areas outside of CBSAs to be rural. In addition, it has been our longstanding policy that where an MSA has been divided into Metropolitan Divisions, we consider the Metropolitan Division to comprise the labor market areas for purposes of calculating the wage index (69 FR 49029). We are proposing to codify this longstanding policy into our regulations at § 412.64(b)(1)(ii)(A).

On November 20, 2007, OMB announced the revision of titles for eight urban areas (OMB Bulletin No. 08-01). The revised titles are as follows:

• Hammonton, New Jersey qualifies as a new principal city of the Atlantic City, New Jersey CBSA. The new title is Atlantic City-Hammonton, New Jersey CBSA;

• New Brunswick, New Jersey, located in the Edison, New Jersey Metropolitan Division, qualifies as a new principal city of the New York-Northern New Jersey-Long Island, New York, New Jersey, Pennsylvania CBSA. The new title for the Metropolitan Division is Edison-New Brunswick, New Jersey CBSA;

• Summerville, South Carolina qualifies as a new principal city of the Charleston-North Charleston, South Carolina CBSA. The new title is Charleston-North Charleston-Summerville, South Carolina;

• Winter Haven, Florida qualifies as a new principal city of the Lakeland, Florida CBSA. The new title is Lakeland-Winter Haven, Florida;

• Bradenton, Florida replaces Sarasota, Florida as the most populous principal city of the Sarasota-Bradenton-Venice, Florida CBSA. The new title is Bradenton-Sarasota-Venice, Florida. The new CBSA code is 14600;

• Frederick, Maryland replaces Gaithersburg, Maryland as the second most populous principal city in the Bethesda-Gaithersburg-Frederick, Maryland CBSA. The new title is Bethesda-Frederick-Gaithersburg, Maryland;

• North Myrtle Beach, South Carolina replaces Conway, South Carolina as the second most populous principal city of the Myrtle Beach-Conway-North Myrtle Beach, South Carolina CBSA. The new title is Myrtle Beach-North Myrtle Beach-Conway, South Carolina;

• Pasco, Washington replaces Richland, Washington as the second most populous principal city of the Kennewick-Richland-Pasco, Washington CBSA. The new title is Kennewick-Pasco-Richland, Washington.

The OMB bulletin is available on the OMB Web site at https://www.whitehouse.gov/OMB— go to “Bulletins” or “Statistical Programs and Standards.” CMS will apply these changes to the IPPS beginning October 1, 2008.

D. Proposed Occupational Mix Adjustment to the Proposed FY 2009 Wage Index

As stated earlier, section 1886(d)(3)(E) of the Act provides for the collection of data every 3 years on the occupational mix of employees for each short-term, acute care hospital participating in the Medicare program, in order to construct an occupational mix adjustment to the wage index, for application beginning October 1, 2004 (the FY 2005 wage index). The purpose of the occupational mix adjustment is to control for the effect of hospitals’ employment choices on the wage index. For example, hospitals may choose to employ different combinations of registered nurses, licensed practical nurses, nursing aides, and medical assistants for the purpose of providing nursing care to their patients. The varying labor costs associated with these choices reflect hospital management decisions rather than geographic differences in the costs of labor.

1. Development of Data for the Proposed FY 2009 Occupational Mix Adjustment

On October 14, 2005, we published a notice in the Federal Register (70 FR 60092) proposing to use a new survey, the 2006 Medicare Wage Index Occupational Mix Survey (the 2006 survey) to apply an occupational mix adjustment to the FY 2008 wage index. In the proposed 2006 survey, we included several modifications based on the comments and recommendations we received on the 2003 survey, including (1) allowing hospitals to report their own average hourly wage rather than using BLS data; (2) extending the prospective survey period; and (3) reducing the number of occupational categories but refining the subcategories for registered nurses.

We made the changes to the occupational categories in response to MedPAC comments to the FY 2005 IPPS final rule (69 FR 49036). Specifically, MedPAC recommended that CMS assess whether including subcategories of registered nurses would result in a more accurate occupational mix adjustment. MedPAC believed that including all registered nurses in a single category may obscure significant wage differences among the subcategories of registered nurses, for example, the wages of surgical registered nurses and floor registered nurses may differ. Also, to offset additional reporting burden for hospitals, MedPAC recommended that CMS should combine the general service categories that account for only a small percentage of a hospital's total hours with the “all other occupations” category because most of the occupational mix adjustment is correlated with the nursing general service category.

In addition, in response to the public comments on the October 14, 2005 notice, we modified the 2006 survey. On February 10, 2006, we published a Federal Register notice (71 FR 7047) that solicited comments and announced our intent to seek OMB approval on the revised occupational mix survey (Form CMS-10079 (2006)). OMB approved the survey on April 25, 2006.

The 2006 survey provides for the collection of hospital-specific wages and hours data, a 6-month prospective reporting period (that is, January 1, 2006, through June 30, 2006), the transfer of each general service category that comprised less than 4 percent of total hospital employees in the 2003 survey to the “all other occupations” category (the revised survey focuses only on the mix of nursing occupations), additional clarification of the definitions for the occupational categories, an expansion of the registered nurse category to include functional subcategories, and the exclusion of average hourly rate data associated with advance practice nurses.

The 2006 survey included only two general occupational categories: nursing and “all other occupations.” The nursing category has four subcategories: Registered nurses, licensed practical nurses, aides, orderlies, attendants, and medical assistants. The registered nurse subcategory includes two functional subcategories: management personnel and staff nurses or clinicians. As indicated above, the 2006 survey provided for a 6-month data collection period, from January 1, 2006 through June 30, 2006. However, we allowed flexibility for the reporting period beginning and ending dates to accommodate some hospitals' biweekly payroll and reporting systems. That is, the 6-month reporting period had to begin on or after December 25, 2005, and end before July 9, 2006.

We are proposing to use the entire 6-month 2006 survey data to calculate the occupational mix adjustment for the FY 2009 wage index. The original timelines for the collection, review, and correction of the 2006 occupational mix data were discussed in detail in the FY 2007 IPPS final rule (71 FR 48008). The revision and correction process for all of the data, including the 2006 occupational mix survey data to be used for computing the FY 2009 wage index, is discussed in detail in section III.K. of the preamble of this proposed rule.

2. Calculation of the Proposed Occupational Mix Adjustment for FY 2009

For FY 2009 (as we did for FY 2008), we are proposing to calculate the occupational mix adjustment factor using the following steps:

Step 1—For each hospital, determine the percentage of the total nursing category attributable to a nursing subcategory by dividing the nursing subcategory hours by the total nursing category's hours (registered nurse management personnel and registered nurse staff nurses or clinicians are treated as separate nursing subcategories). Repeat this computation for each of the five nursing subcategories: registered nurse management personnel; registered nurse staff nurses or clinicians; licensed practical nurses; nursing aides, orderlies, and attendants; and medical assistants.

Step 2—Determine a national average hourly rate for each nursing subcategory by dividing a subcategory's total salaries for all hospitals in the occupational mix survey database by the subcategory's total hours for all hospitals in the occupational mix survey database.

Step 3—For each hospital, determine an adjusted average hourly rate for each nursing subcategory by multiplying the percentage of the total nursing category (from Step 1) by the national average hourly rate for that nursing subcategory (from Step 2). Repeat this calculation for each of the five nursing subcategories.

Step 4—For each hospital, determine the adjusted average hourly rate for the total nursing category by summing the adjusted average hourly rate (from Step 3) for each of the nursing subcategories.

Step 5—Determine the national average hourly rate for the total nursing category by dividing total nursing category salaries for all hospitals in the occupational mix survey database by total nursing category hours for all hospitals in the occupational mix survey database.

Step 6—For each hospital, compute the occupational mix adjustment factor for the total nursing category by dividing the national average hourly rate for the total nursing category (from Step 5) by the hospital's adjusted average hourly rate for the total nursing category (from Step 4).

If the hospital's adjusted average hourly rate is less than the national average hourly rate (indicating the hospital employs a less costly mix of nursing employees), the occupational mix adjustment factor would be greater than 1.0000. If the hospital's adjusted average hourly rate is greater than the national average hourly rate, the occupational mix adjustment factor would be less than 1.0000.

Step 7—For each hospital, calculate the occupational mix adjusted salaries and wage-related costs for the total nursing category by multiplying the hospital's total salaries and wage-related costs (from Step 5 of the unadjusted wage index calculation in section III.G. of this preamble) by the percentage of the hospital's total workers attributable to the total nursing category (using the occupational mix survey data, this percentage is determined by dividing the hospital's total nursing category salaries by the hospital's total salaries for “nursing and all other”) and by the total nursing category's occupational mix adjustment factor (from Step 6 above).

The remaining portion of the hospital's total salaries and wage-related costs that is attributable to all other employees of the hospital is not adjusted by the occupational mix. A hospital's all other portion is determined by subtracting the hospital's nursing category percentage from 100 percent.

Step 8—For each hospital, calculate the total occupational mix adjusted salaries and wage-related costs for a hospital by summing the occupational mix adjusted salaries and wage-related costs for the total nursing category (from Step 7) and the portion of the hospital's salaries and wage-related costs for all other employees (from Step 7).

To compute a hospital's occupational mix adjusted average hourly wage, divide the hospital's total occupational mix adjusted salaries and wage-related costs by the hospital's total hours (from Step 4 of the unadjusted wage index calculation in section III.G. of this preamble).

Step 9—To compute the occupational mix adjusted average hourly wage for an urban or rural area, sum the total occupational mix adjusted salaries and wage-related costs for all hospitals in the area, then sum the total hours for all hospitals in the area. Next, divide the area's occupational mix adjusted salaries and wage-related costs by the area's hours.

Step 10—To compute the national occupational mix adjusted average hourly wage, sum the total occupational mix adjusted salaries and wage-related costs for all hospitals in the Nation, then sum the total hours for all hospitals in the Nation. Next, divide the national occupational mix adjusted salaries and wage-related costs by the national hours. The proposed FY 2009 occupational mix adjusted national average hourly wage is $32.2252.

Step 11—To compute the occupational mix adjusted wage index, divide each area's occupational mix adjusted average hourly wage (Step 9) by the national occupational mix adjusted average hourly wage (Step 10).

Step 12—To compute the Puerto Rico specific occupational mix adjusted wage index, follow Steps 1 through 11 above. The proposed FY 2009 occupational mix adjusted Puerto Rico specific average hourly wage is $13.7851.

The table below is an illustrative example of the proposed occupational mix adjustment.

BILLING CODE 4120-01-P

BILLING CODE 4120-01-C

Because the occupational mix adjustment is required by statute, all hospitals that are subject to payments under the IPPS, or any hospital that would be subject to the IPPS if not granted a waiver, must complete the occupational mix survey, unless the hospital has no associated cost report wage data that are included in the proposed FY 2009 wage index.

For the FY 2008 wage index, if a hospital did not respond to the occupational mix survey, or if we determined that a hospital's submitted data were too erroneous to include in the wage index, we assigned the hospital the average occupational mix adjustment for the labor market area (72 FR 47314). We believed this method had the least impact on the wage index for other hospitals in the area. For areas where no hospital submitted data for purposes of calculating the occupational mix adjustment, we applied the national occupational mix factor of 1.0000 in calculating the area's FY 2008 occupational mix adjusted wage index. We indicated in the FY 2008 IPPS final rule that we reserve the right to apply a different approach in future years, including potentially penalizing nonresponsive hospitals (72 FR 47314).

For the FY 2009 wage index, we are proposing to handle the data for hospitals that did not respond to the occupational mix survey (neither the 1st quarter nor 2nd quarter data) in the same manner as discussed above for the FY 2008 wage index. In addition, if a hospital submits survey data for either the 1st quarter or 2nd quarter, but not for both quarters, we are proposing to use the data the hospital submitted for one quarter to calculate the hospital's proposed FY 2009 occupational mix adjustment factor. Lastly, if a hospital submits a survey(s), but that survey data can not be used because we determine it to be aberrant, we will also assign the hospital the average occupational mix adjustment for its labor market area. For example, if a hospital's individual nurse category average hourly wages are out of range (that is, unusually high or low), and the hospital does not provide sufficient documentation to explain the aberrancy, or the hospital does not submit any registered nurse staff salaries or hours data, we will assign the hospital the average occupational mix adjustment for the labor market area in which it is located.

In calculating the average occupational mix adjustment factor for a labor market area, we replicated Steps 1 through 6 of the calculation for the occupational mix adjustment. However, instead of performing these steps at the hospital level, we aggregated the data at the labor market area level. In following these steps, for example, for CBSAs that contain providers that did not submit occupational mix survey data, the occupational mix adjustment factor ranged from a low of 0.8968 (CBSA 39820, Redding, CA), to a high of 1.0775 (CBSA 43300, Sherman-Denison, TX). Also, in computing a hospital's occupational mix adjusted salaries and wage-related costs for nursing employees (Step 7 of the calculation), in the absence of occupational mix survey data, we multiplied the hospital's total salaries and wage-related costs by the percentage of the area's total workers attributable to the area's total nursing category. For FY 2009, there was one CBSA for which we did not have occupational mix data for any of its providers (CBSA 12020, Athens-Clark County, GA). In the absence of any data in this labor market area, we applied an occupational mix adjustment factor of 1.0 to all provider(s).

In the FY 2007 IPPS final rule, we also indicated that we would give serious consideration to applying a hospital-specific penalty if a hospital does not comply with regulations requiring submission of occupational mix survey data in future years. We stated that we believe that section 1886(d)(5)(I)(i) of the Act provides us with the authority to penalize hospitals that do not submit occupational mix survey data. That section authorizes us to provide for exceptions and adjustments to the payment amounts under IPPS as the Secretary deems appropriate. We also indicated that we would address this issue in the FY 2008 IPPS proposed rule.

In the FY 2008 IPPS proposed rule, we solicited comments and suggestions for a hospital-specific penalty for hospitals that do not submit occupational mix survey data. In response to the FY 2008 IPPS proposed rule, some commenters suggested a 1-percent to 2-percent reduction in the hospital's wage index value or a set percentage of the standardized amount. We noted that any penalty that we would determine for nonresponsive hospitals would apply to a future wage index, not the FY 2008 wage index.

In the FY 2008 final rule with comment period, we assigned nonresponsive hospitals the average occupational mix adjustment for the labor market area. For areas where no hospital submitted survey data, we applied the national occupational mix adjustment factor of 1.0000 in calculating the area's FY 2008 occupational mix adjusted wage index. We appreciate the suggestions we received regarding future penalties for hospitals that do not submit occupational mix survey data. We stated in the FY 2008 final rule with comment period that we may consider proposing a policy to penalize hospitals that do not submit occupational mix survey data for FY 2010, the first year of the application of the new 2007-2008 occupational mix survey, and that we expected that any such penalty would be proposed in the FY 2009 IPPS proposed rule so hospitals would be aware of the policy before the deadline for submitting the data to the fiscal intermediaries/MAC. At this time, however, we are not proposing a penalty for FY 2010. Rather, we are reserving the right to propose a penalty in the FY 2010 IPPS proposed rule, once we collect and analyze the FY 2007-2008 occupational mix survey data. Hospitals are still on notice that any failure to submit occupational mix data for the FY 2007-2008 survey year may result in a penalty in FY 2010, thus achieving our policy goal of ensuring that hospitals are aware of the consequences of failure to submit data in response to the most recent survey.

3. 2007-2008 Occupational Mix Survey for the FY 2010 Wage Index

As stated earlier, section 304(c) of Pub. L. 106-554 amended section 1886(d)(3)(E) of the Act to require CMS to collect data every 3 years on the occupational mix of employees for each short-term, acute care hospital participating in the Medicare program. We used occupational mix data collected on the 2006 survey to compute the proposed occupational mix adjustment for FY 2009. In the FY 2008 IPPS final rule with comment period (72 FR 47315), we discussed how we modified the occupational mix survey. The revised 2007-2008 occupational mix survey provides for the collection of hospital-specific wages and hours data for the 1-year period of July 1, 2007, through June 30, 2008, additional clarifications to the survey instructions, the elimination of the registered nurse subcategories, some refinements to the definitions of the occupational categories, and the inclusion of additional cost centers that typically provide nursing services. The revised 2007-2008 occupational mix survey will be applied beginning with the FY 2010 wage index.

On February 2, 2007, we published in the Federal Register a notice soliciting comments on the proposed revisions to the occupational mix survey (72 FR 5055). The comment period for the notice ended on April 3, 2007. After considering the comments we received, we made a few minor editorial changes and published the final 2007-2008 occupational mix survey on September 14, 2007 (72 FR 52568). OMB approved the survey without change on February 1, 2008 (OMB Control Number 0938 0907). The 2007-2008 Medicare occupational mix survey (Form CMS-10079 (2008)) is available on the CMS Web site at: http://www.cms.hhs.gov/AcuteInpatientPPS/WIFN/list.asp#TopOfPage, and through the fiscal intermediaries/MAC. Hospitals must submit their completed surveys to their fiscal intermediaries/MAC by September 1, 2008. The preliminary, unaudited 2007-2008 occupational mix survey data will be released in early October 2008, along with the FY 2006 Worksheet S-3 wage data, for the FY 2010 wage index review and correction process.

E. Worksheet S-3 Wage Data for the Proposed FY 2009 Wage Index

The proposed FY 2009 wage index values (to be effective for hospital discharges occurring on or after October 1, 2008, and before October 1, 2009) in section II.B. of the Addendum to this proposed rule are based on the data collected from the Medicare cost reports submitted by hospitals for cost reporting periods beginning in FY 2005 (the FY 2008 wage index was based on FY 2004 wage data).

1. Included Categories of Costs

The proposed FY 2009 wage index includes the following categories of data associated with costs paid under the IPPS (as well as outpatient costs):

• Salaries and hours from short-term, acute care hospitals (including paid lunch hours and hours associated with military leave and jury duty).

• Home office costs and hours.

• Certain contract labor costs and hours (which includes direct patient care, certain top management, pharmacy, laboratory, and nonteaching physician Part A services, and certain contract indirect patient care services (as discussed in the FY 2008 final rule with comment period (72 FR 47315).

• Wage-related costs, including pensions and other deferred compensation costs. We note that, on March 28, 2008, CMS published a technical clarification to the cost reporting instructions for pension and deferred compensation costs (sections 2140 through 2142.7 of the Provider Reimbursement Manual, Part I). These instructions are used for developing pension and deferred compensation costs for purposes of the wage index, as discussed in the instructions for Worksheet S-3, Part II, Lines 13 through 20 and in the FY 2006 final rule (70 FR 47369).

2. Excluded Categories of Costs

Consistent with the wage index methodology for FY 2008, the proposed wage index for FY 2009 also excludes the direct and overhead salaries and hours for services not subject to IPPS payment, such as SNF services, home health services, costs related to GME (teaching physicians and residents) and certified registered nurse anesthetists (CRNAs), and other subprovider components that are not paid under the IPPS. The proposed FY 2009 wage index also excludes the salaries, hours, and wage-related costs of hospital-based rural health clinics (RHCs), and Federally qualified health centers (FQHCs) because Medicare pays for these costs outside of the IPPS (68 FR 45395). In addition, salaries, hours, and wage-related costs of CAHs are excluded from the wage index, for the reasons explained in the FY 2004 IPPS final rule (68 FR 45397).

3. Use of Wage Index Data by Providers Other Than Acute Care Hospitals Under the IPPS

Data collected for the IPPS wage index are also currently used to calculate wage indices applicable to other providers, such as SNFs, home health agencies, and hospices. In addition, they are used for prospective payments to IRFs, IPFs, and LTCHs, and for hospital outpatient services. We note that, in the IPPS rules, we do not address comments pertaining to the wage indices for non-IPPS providers. Such comments should be made in response to separate proposed rules for those providers.

F. Verification of Worksheet S-3 Wage Data

The wage data for the proposed FY 2009 wage index were obtained from Worksheet S-3, Parts II and III of the FY 2005 Medicare cost reports. Instructions for completing Worksheet S-3, Parts II and III are in the Provider Reimbursement Manual (PRM), Part II, sections 3605.2 and 3605.3. The data file used to construct the proposed wage index includes FY 2005 data submitted to us as of February 29, 2008. As in past years, we performed an intensive review of the wage data, mostly through the use of edits designed to identify aberrant data.

We asked our fiscal intermediaries/MAC to revise or verify data elements that resulted in specific edit failures. For the proposed FY 2009 wage index, we identified and excluded 37 providers with data that was too aberrant to include in the proposed wage index, although if data elements for some of these providers are corrected, we intend to include some of these providers in the FY 2009 final wage index. We instructed fiscal intermediaries/MACs to complete their data verification of questionable data elements and to transmit any changes to the wage data no later than April 14, 2008. We believe all unresolved data elements will be resolved by the date the final rule is issued. The revised data will be reflected in the FY 2009 IPPS final rule.

In constructing the proposed FY 2009 wage index, we included the wage data for facilities that were IPPS hospitals in FY 2005; inclusive of those facilities that have since terminated their participation in the program as hospitals, as long as those data did not fail any of our edits for reasonableness. We believe that including the wage data for these hospitals is, in general, appropriate to reflect the economic conditions in the various labor market areas during the relevant past period and to ensure that the current wage index represents the labor market area's current wages as compared to the national average of wages. However, we excluded the wage data for CAHs as discussed in the FY 2004 IPPS final rule (68 FR 45397). For this proposed rule, we removed 20 hospitals that converted to CAH status between February 16, 2007, the cut-off date for CAH exclusion from the FY 2008 wage index, and February 18, 2008, the cut-off date for CAH exclusion from the FY 2009 wage index. After removing hospitals with aberrant data and hospitals that converted to CAH status, the proposed FY 2009 wage index is calculated based on 3,533 hospitals.

1. Wage Data for Multicampus Hospitals

In the FY 2008 final rule with comment period (72 FR 47317), we discussed our policy for allocating a multicampus hospital's wages and hours data, by full-time equivalent (FTE) staff, among the different labor market areas where its campuses are located. During the FY 2009 wage index desk review process, we requested fiscal intermediaries/MACs to contact multicampus hospitals that had campuses in different labor market areas to collect the data for the allocation. The proposed FY 2009 wage index in this proposed rule includes separate wage data for campuses of three multicampus hospitals.

As with the FY 2008 wage index, we allowed hospitals the option of allocating their wages and hours for the FY 2009 wage index based on either FTE staff or discharge data. Again, we are providing this option until a revised cost report is available that will allow a multicampus hospital to report the number of FTEs by location of its different campuses. Two of the three multicampus hospitals chose to have their wage data allocated by their Medicare discharge data. One of the hospitals provided FTE staff data for the allocation. The average hourly wage associated with each geographical location of a multicampus hospital is reflected in Table 2 of the Addendum to this proposed rule.

2. New Orleans' Post-Katrina Wage Index

Since 2005 when Hurricane Katrina devastated the Gulf States, we have received numerous comments suggesting that current Medicare payments to hospitals in New Orleans, Louisiana are inadequate, and the wage index does not accurately reflect the increase in labor costs experienced by the city after the storm. The post-Katrina effects on the New Orleans wage index will not be realized in the wage index until FY 2010, when the wage index will be based on cost reporting periods beginning during FY 2006 (that is, beginning on or after October 1, 2005 and before October 1, 2006).

In responding to the health-related needs of people affected by the hurricane, the Federal Government, through the Deficit Reduction Act of 2005 (DRA), appropriated $2 billion in FY 2006. These funds allowed the Secretary to make available $160 million in February 2007 to Louisiana, Mississippi, and Alabama for payments to hospitals and skilled nursing facilities facing financial stress because of changing wage rates not yet reflected in Medicare payment methodologies. In March and May 2007, the Department provided two additional DRA grants of $15 million and $35 million, respectively, to Louisiana for professional health care workforce recruitment and sustainability in the greater New Orleans area, namely the Orleans, Jefferson, St. Bernard, and Plaquemines Parishes. In addition, the Department issued a supplemental award of $60 million in provider stabilization grant funding to Louisiana, Mississippi, and Alabama to continue to help health care providers meet changing wage rates not yet reflected by Medicare's payment policies. On July 23, 2007, HHS awarded to Louisiana a new $100 million Primary Care Grant to help increase access to primary care in the Greater New Orleans area. The resulting stabilization and expansion of the community based primary care infrastructure, post Katrina, helps provide a viable alternative to local hospital emergency rooms for all citizens of New Orleans, especially those who are poor and uninsured. In other Department efforts, the OIG has performed an in-depth review of the post-Katrina infrastructure of five New Orleans hospitals, including the hospitals' staffing levels and wage costs. The OIG's final reports and recommendations are scheduled to be published in Spring 2008.

G. Method for Computing the Proposed FY 2009 Unadjusted Wage Index

The method used to compute the proposed FY 2009 wage index without an occupational mix adjustment follows:

Step 1—As noted above, we based the proposed FY 2009 wage index on wage data reported on the FY 2005 Medicare cost reports. We gathered data from each of the non-Federal, short-term, acute care hospitals for which data were reported on the Worksheet S-3, Parts II and III of the Medicare cost report for the hospital's cost reporting period beginning on or after October 1, 2004, and before October 1, 2005. In addition, we included data from some hospitals that had cost reporting periods beginning before October 2004 and reported a cost reporting period covering all of FY 2004. These data are included because no other data from these hospitals would be available for the cost reporting period described above, and because particular labor market areas might be affected due to the omission of these hospitals. However, we generally describe these wage data as FY 2005 data. We note that, if a hospital had more than one cost reporting period beginning during FY 2005 (for example, a hospital had two short cost reporting periods beginning on or after October 1, 2004, and before October 1, 2005), we included wage data from only one of the cost reporting periods, the longer, in the wage index calculation. If there was more than one cost reporting period and the periods were equal in length, we included the wage data from the later period in the wage index calculation.

Step 2—Salaries—The method used to compute a hospital's average hourly wage excludes certain costs that are not paid under the IPPS. (We note that, beginning with FY 2008 (72 FR 47315), we include lines 22.01, 26.01, and 27.01 of Worksheet S-3, Part II for overhead services in the wage index. However, we note that the wages and hours on these lines are not incorporated into line 101, column 1 of Worksheet A, which, through the electronic cost reporting software, flows directly to line 1 of Worksheet S-3, Part II. Therefore, the first step in the wage index calculation for FY 2009 is to compute a “revised” Line 1, by adding to the Line 1 on Worksheet S-3, Part II (for wages and hours respectively) the amounts on Lines 22.01, 26.01, and 27.01.) In calculating a hospital's average salaries plus wage-related costs, we subtract from Line 1 (total salaries) the GME and CRNA costs reported on Lines 2, 4.01, 6, and 6.01, the Part B salaries reported on Lines 3, 5 and 5.01, home office salaries reported on Line 7, and exclude salaries reported on Lines 8 and 8.01 (that is, direct salaries attributable to SNF services, home health services, and other subprovider components not subject to the IPPS). We also subtract from Line 1 the salaries for which no hours were reported. To determine total salaries plus wage-related costs, we add to the net hospital salaries the costs of contract labor for direct patient care, certain top management, pharmacy, laboratory, and nonteaching physician Part A services (Lines 9 and 10), home office salaries and wage-related costs reported by the hospital on Lines 11 and 12, and nonexcluded area wage-related costs (Lines 13, 14, and 18).

We note that contract labor and home office salaries for which no corresponding hours are reported are not included. In addition, wage-related costs for nonteaching physician Part A employees (Line 18) are excluded if no corresponding salaries are reported for those employees on Line 4.

Step 3—Hours—With the exception of wage-related costs, for which there are no associated hours, we compute total hours using the same methods as described for salaries in Step 2.

Step 4—For each hospital reporting both total overhead salaries and total overhead hours greater than zero, we then allocate overhead costs to areas of the hospital excluded from the wage index calculation. First, we determine the ratio of excluded area hours (sum of Lines 8 and 8.01 of Worksheet S-3, Part II) to revised total hours (Line 1 minus the sum of Part II, Lines 2, 3, 4.01, 5, 5.01, 6, 6.01, 7, and Part III, Line 13 of Worksheet S-3). We then compute the amounts of overhead salaries and hours to be allocated to excluded areas by multiplying the above ratio by the total overhead salaries and hours reported on Line 13 of Worksheet S-3, Part III. Next, we compute the amounts of overhead wage-related costs to be allocated to excluded areas using three steps: (1) We determine the ratio of overhead hours (Part III, Line 13 minus the sum of lines 22.01, 26.01, and 27.01) to revised hours excluding the sum of lines 22.01, 26.01, and 27.01 (Line 1 minus the sum of Lines 2, 3, 4.01, 5, 5.01, 6, 6.01, 7, 8, 8.01, 22.01, 26.01, and 27.01). (We note that for the FY 2008 and subsequent wage index calculations, we are excluding the sum of lines 22.01, 26.01, and 27.01 from the determination of the ratio of overhead hours to revised hours, since hospitals typically do not provide fringe benefits (wage-related costs) to contract personnel. Therefore, it is not necessary for the wage index calculation to exclude overhead wage-related costs for contract personnel. Further, if a hospital does contribute to wage-related costs for contracted personnel, the instructions for lines 22.01, 26.01, and 27.01 require that associated wage-related costs be combined with wages on the respective contract labor lines.); (2) we compute overhead wage-related costs by multiplying the overhead hours ratio by wage-related costs reported on Part II, Lines 13, 14, and 18; and (3) we multiply the computed overhead wage-related costs by the above excluded area hours ratio. Finally, we subtract the computed overhead salaries, wage-related costs, and hours associated with excluded areas from the total salaries (plus wage-related costs) and hours derived in Steps 2 and 3.

Step 5—For each hospital, we adjust the total salaries plus wage-related costs to a common period to determine total adjusted salaries plus wage-related costs. To make the wage adjustment, we estimate the percentage change in the employment cost index (ECI) for compensation for each 30-day increment from October 14, 2003, through April 15, 2005, for private industry hospital workers from the BLS' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. We also note that, since April 2006 with the publication of March 2006 data, the BLS' ECI uses a different classification system, the North American Industrial Classification System (NAICS), instead of the Standard Industrial Codes (SICs), which no longer exist. We have consistently used the ECI as the data source for our wages and salaries and other price proxies in the IPPS market basket and are not proposing to make any changes to the usage at this time. The factors used to adjust the hospital's data were based on the midpoint of the cost reporting period, as indicated below.

Midpoint of cost reporting period
After | Before | Adjustment factor
10/14/2004 | 11/15/2004 | 1.05390
11/14/2004 | 12/15/2004 | 1.05035
12/14/2004 | 01/15/2005 | 1.04690
01/14/2005 | 02/15/2005 | 1.04342
02/14/2005 | 03/15/2005 | 1.03992
03/14/2005 | 04/15/2005 | 1.03641
04/14/2005 | 05/15/2005 | 1.03291
05/14/2005 | 06/15/2005 | 1.02940
06/14/2005 | 07/15/2005 | 1.02596
07/14/2005 | 08/15/2005 | 1.02264
08/14/2005 | 09/15/2005 | 1.01943
09/14/2005 | 10/15/2005 | 1.01627
10/14/2005 | 11/15/2005 | 1.01308
11/14/2005 | 12/15/2005 | 1.00987
12/14/2005 | 01/15/2006 | 1.00661
01/14/2006 | 02/15/2006 | 1.00333
02/14/2006 | 03/15/2006 | 1.00000
03/14/2006 | 04/15/2006 | 0.99670

For example, the midpoint of a cost reporting period beginning January 1, 2005, and ending December 31, 2005, is June 30, 2005. An adjustment factor of 1.02596 would be applied to the wages of a hospital with such a cost reporting period. In addition, for the data for any cost reporting period that began in FY 2005 and covered a period of less than 360 days or more than 370 days, we annualize the data to reflect a 1-year cost report. Dividing the data by the number of days in the cost report and then multiplying the results by 365 accomplishes annualization.

Step 6—Each hospital is assigned to its appropriate urban or rural labor market area before any reclassifications under section 1886(d)(8)(B), section 1886(d)(8)(E), or section 1886(d)(10) of the Act. Within each urban or rural labor market area, we add the total adjusted salaries plus wage-related costs obtained in Step 5 for all hospitals in that area to determine the total adjusted salaries plus wage-related costs for the labor market area.

Step 7—We divide the total adjusted salaries plus wage-related costs obtained under both methods in Step 6 by the sum of the corresponding total hours (from Step 4) for all hospitals in each labor market area to determine an average hourly wage for the area.

Step 8—We add the total adjusted salaries plus wage-related costs obtained in Step5 for all hospitals in the Nation and then divide the sum by the national sum of total hours from Step 4 to arrive at a national average hourly wage. Using the data as described above, the proposed national average hourly wage (unadjusted for occupational mix) is $32.2489.

Step 9—For each urban or rural labor market area, we calculate the hospital wage index value, unadjusted for occupational mix, by dividing the area average hourly wage obtained in Step 7 by the national average hourly wage computed in Step 8.

Step 10—Following the process set forth above, we develop a separate Puerto Rico-specific wage index for purposes of adjusting the Puerto Rico standardized amounts. (The national Puerto Rico standardized amount is adjusted by a wage index calculated for all Puerto Rico labor market areas based on the national average hourly wage as described above.) We add the total adjusted salaries plus wage-related costs (as calculated in Step 5) for all hospitals in Puerto Rico and divide the sum by the total hours for Puerto Rico (as calculated in Step 4) to arrive at an overall proposed average hourly wage (unadjusted for occupational mix) of $13.7956 for Puerto Rico. For each labor market area in Puerto Rico, we calculate the Puerto Rico-specific wage index value by dividing the area average hourly wage (as calculated in Step 7) by the overall Puerto Rico average hourly wage.

Step 11—Section 4410 of Pub. L. 105-33 provides that, for discharges on or after October 1, 1997, the area wage index applicable to any hospital that is located in an urban area of a State may not be less than the area wage index applicable to hospitals located in rural areas in that State. For FY 2009, this proposed change would affect 266 hospitals in 69 urban areas. The areas affected by this provision are identified by a footnote in Table 4A in the Addendum of this proposed rule.

In the FY 2005 IPPS final rule (69 FR 49109), we adopted the “imputed” floor as a temporary 3-year measure to address a concern by some individuals that hospitals in all-urban States were disadvantaged by the absence of rural hospitals to set a wage index floor in those States. The imputed floor was originally set to expire in FY 2007, but we extended it an additional year in the FY 2008 IPPS final rule with comment period (72FR47321). As explained in section III.B.2.b. of the preamble of this proposed rule, we are proposing to extend the imputed floor for an additional 3 years, through FY 2011.

H. Analysis and Implementation of the Proposed Occupational Mix Adjustment and the Proposed FY 2009 Occupational Mix Adjusted Wage Index

As discussed in section III.D. of this preamble, for FY 2009, we are proposing to apply the occupational mix adjustment to 100 percent of the FY 2009 wage index. We calculated the occupational mix adjustment using data from the 2006 occupational mix survey data, using the methodology described in section III.D.3. of this preamble.

Using the 1st and 2nd quarter occupational mix survey data and applying the occupational mix adjustment to 100 percent of the proposed FY2009 wage index results in a proposed national average hourly wage of $32.2252 and a proposed Puerto-Rico specific average hourly wage of $13.7851. After excluding data of hospitals that either submitted aberrant data that failed critical edits, or that do not have FY 2005 Worksheet S-3 cost report data for use in calculating the proposed FY2009 wage index, we calculated the proposed FY 2009 wage index using the occupational mix survey data from 3,364 hospitals. Using the Worksheet S-3 cost report data of 3,533 hospitals and occupational mix 1st and/or 2nd quarter survey data from 3,364 hospitals represents a 95.2 percent survey response rate. The proposed FY2009 national average hourly wages for each occupational mix nursing subcategory as calculated in Step 2 of the occupational mix calculation are as follows:

Occupational mix nursing subcategory | Average hourly wage
National RN Management | $38.6341
National RN Staff | $33.4795
National LPN | $19.2316
National Nurse Aides, Orderlies, and Attendants | $13.6954
National Medical Assistants | $15.7714
National Nurse Category | $28.7291

The proposed national average hourly wage for the entire nurse category as computed in Step 5 of the occupational mix calculation is $28.7291. Hospitals with a nurse category average hourly wage (as calculated in Step 4) of greater than the national nurse category average hourly wage receive an occupational mix adjustment factor (as calculated in Step 6) of less than 1.0. Hospitals with a nurse category average hourly wage (as calculated in Step 4) of less than the national nurse category average hourly wage receive an occupational mix adjustment factor (as calculated in Step 6) of greater than 1.0.

Based on the January through June 2006 occupational mix survey data, we determined (in Step 7 of the occupational mix calculation) that the proposed national percentage of hospital employees in the Nurse category is 42.99 percent, and the proposed national percentage of hospital employees in the All Other Occupations category is 57.01 percent. At the CBSA level, the percentage of hospital employees in the Nurse category ranged from a low of 27.26 percent in one CBSA, to a high of 85.30 percent in another CBSA.

The proposed wage index values for FY 2009 (except those for hospitals receiving wage index adjustments under section 1886(d)(13) of the Act) are shown in Tables 4A, 4B, 4C, and 4F in the Addendum to this proposed rule.

Tables 3A and 3B in the Addendum to this proposed rule list the 3-year average hourly wage for each labor market area before the redesignation of hospitals based on FYs 2007, 2008, and 2009 cost reporting periods. Table 3A lists these data for urban areas and Table 3B lists these data for rural areas. In addition, Table 2 in the Addendum to this proposed rule includes the adjusted average hourly wage for each hospital from the FY 2003 and FY 2004 cost reporting periods, as well as the FY 2005 period used to calculate the proposed FY 2009 wage index. The 3-year averages are calculated by dividing the sum of the dollars (adjusted to a common reporting period using the method described previously) across all 3 years, by the sum of the hours. If a hospital is missing data for any of the previous years, its average hourly wage for the 3-year period is calculated based on the data available during that period.

The proposed wage index values in Tables 2, 4A, 4B, 4C, and 4F and the average hourly wages in Tables 2, 3A, and 3B in the Addendum to this proposed rule include the proposed occupational mix adjustment. The proposed wage index values in Tables 2, 4A, 4B, and 4C also include the proposed State-specific rural floor and imputed floor budget neutrality adjustments that are discussed in section III.B.2. of this preamble. The proposed State budget neutrality adjustments for the rural and imputed floors are included in Tables 4D-1 and 4D-2 in the Addendum to this proposed rule.

I. Proposed Revisions to the Wage Index Based on Hospital Redesignations

1. General

Under section 1886(d)(10) of the Act, the MGCRB considers applications by hospitals for geographic reclassification for purposes of payment under the IPPS. Hospitals must apply to the MGCRB to reclassify 13 months prior to the start of the fiscal year for which reclassification is sought (generally by September 1). Generally, hospitals must be proximate to the labor market area to which they are seeking reclassification and must demonstrate characteristics similar to hospitals located in that area. The MGCRB issues its decisions by the end of February for reclassifications that become effective for the following fiscal year (beginning October 1). The regulations applicable to reclassifications by the MGCRB are located in 42 CFR 412.230 through 412.280.

Section 1886(d)(10)(D)(v) of the Act provides that, beginning with FY 2001, a MGCRB decision on a hospital reclassification for purposes of the wage index is effective for 3 fiscal years, unless the hospital elects to terminate the reclassification. Section 1886(d)(10)(D)(vi) of the Act provides that the MGCRB must use average hourly wage data from the 3 most recently published hospital wage surveys in evaluating a hospital's reclassification application for FY 2003 and any succeeding fiscal year.

Section 304(b) of Pub. L. 106-554 provides that the Secretary must establish a mechanism under which a statewide entity may apply to have all of the geographic areas in the State treated as a single geographic area for purposes of computing and applying a single wage index, for reclassifications beginning in FY 2003. The implementing regulations for this provision are located at 42 CFR 412.235.

Section 1886(d)(8)(B) of the Act requires the Secretary to treat a hospital located in a rural county adjacent to one or more urban areas as being located in the MSA to which the greatest number of workers in the county commute, if the rural county would otherwise be considered part of an urban area under the standards for designating MSAs and if the commuting rates used in determining outlying counties were determined on the basis of the aggregate number of resident workers who commute to (and, if applicable under the standards, from) the central county or counties of all contiguous MSAs. In light of the CBSA definitions and the Census 2000 data that we implemented for FY 2005 (69 FR 49027), we undertook to identify those counties meeting these criteria. Eligible counties are discussed and identified under section III.I.5. of this preamble.

2. Effects of Reclassification/Redesignation

Section 1886(d)(8)(C) of the Act provides that the application of the wage index to redesignated hospitals is dependent on the hypothetical impact that the wage data from these hospitals would have on the wage index value for the area to which they have been redesignated. These requirements for determining the wage index values for redesignated hospitals are applicable both to the hospitals deemed urban under section 1886(d)(8)(B) of the Act and hospitals that were reclassified as a result of the MGCRB decisions under section 1886(d)(10) of the Act. Therefore, as provided in section 1886(d)(8)(C) of the Act, the wage index values were determined by considering the following:

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• If including the wage data for the redesignated hospitals increases the wage index value for the urban area to which the hospitals are redesignated, both the area and the redesignated hospitals receive the combined wage index value. Otherwise, the hospitals located in the urban area receive a wage index excluding the wage data of hospitals redesignated into the area.

Rural areas whose wage index values would be reduced by excluding the wage data for hospitals that have been redesignated to another area continue to have their wage index values calculated as if no redesignation had occurred (otherwise, redesignated rural hospitals are excluded from the calculation of the rural wage index). The wage index value for a redesignated rural hospital cannot be reduced below the wage index value for the rural areas of the State in which the hospital is located.

CMS has also adopted the following policies:

• The wage data for a reclassified urban hospital is included in both the wage index calculation of the area to which the hospital is reclassified (subject to the rules described above) and the wage index calculation of the urban area where the hospital is physically located.

• In cases where urban hospitals have reclassified to rural areas under 42 CFR 412.103, the urban hospital wage data are: (a) Included in the rural wage index calculation, unless doing so would reduce the rural wage index; and (b) included in the urban area where the hospital is physically located.

3. FY 2009 MGCRB Reclassifications

Under section 1886(d)(10) of the Act, the MGCRB considers applications by hospitals for geographic reclassification for purposes of payment under the IPPS. The specific procedures and rules that apply to the geographic reclassification process are outlined in 42 CFR 412.230 through 412.280.

At the time this proposed rule was constructed, the MGCRB had completed its review of FY 2009 reclassification requests. There were 314 hospitals approved for wage index reclassifications by the MGCRB for FY 2009. Because MGCRB wage index reclassifications are effective for 3 years, hospitals reclassified during FY 2007 or FY 2008 are eligible to continue to be reclassified based on prior reclassifications to current MSAs during FY 2009. There were 175 hospitals approved for wage index reclassifications in FY 2007 and 324 hospitals approved for wage index reclassifications in FY 2008. Of all of the hospitals approved for reclassification for FY 2007, FY 2008, and FY 2009, 813 hospitals are in a reclassification status for FY 2009.

Under 42 CFR 412.273, hospitals that have been reclassified by the MGCRB are permitted to withdraw their applications within 45 days of the publication of a proposed rule. The request for withdrawal of an application for reclassification or termination of an existing 3-year reclassification that would be effective in FY 2009 must be received by the MGCRB within 45 days of the publication of this proposed rule. If a hospital elects to withdraw its wage index application after the MGCRB has issued its decision, but within 45 days of publication of this proposed rule date, it may later cancel its withdrawal in a subsequent year and request the MGCRB to reinstate its wage index reclassification for the remaining fiscal year(s) of the 3-year period (42 CFR 412.273(b)(2)(i)). The request to cancel a prior withdrawal or termination must be in writing to the MGCRB no later than the deadline for submitting reclassification applications for the following fiscal year (42 CFR 412.273(d)). For further information about withdrawing, terminating, or canceling a previous withdrawal or termination of a 3-year reclassification for wage index purposes, we refer the reader to 42 CFR 412.273, as well as the August 1, 2002 IPPS final rule (67 FR 50065), and the August 1, 2001 IPPS final rule (66 FR 39887).

Changes to the wage index that result from withdrawals of requests for reclassification, wage index corrections, appeals, and the Administrator's review process will be incorporated into the wage index values published in the FY 2009 final rule. These changes may affect not only the wage index value for specific geographic areas, but also the wage index value redesignated hospitals receive; that is, whether they receive the wage index that includes the data for both the hospitals already in the area and the redesignated hospitals. Further, the wage index value for the area from which the hospitals are redesignated may be affected.

Applications for FY 2010 reclassifications are due to the MGCRB by September 2, 2008 (the first working day of September 2008). We note that this is also the deadline for canceling a previous wage index reclassification withdrawal or termination under 42 CFR 412.273(d). Applications and other information about MGCRB reclassifications may be obtained, beginning in mid-July 2008, via the CMS Internet Web site at: http://cms.hhs.gov/providers/prrb/mgcinfo.asp, or by calling the MGCRB at (410) 786-1174. The mailing address of the MGCRB is: 2520 Lord Baltimore Drive, Suite L, Baltimore, MD 21244-2670.

4. FY 2008 Policy Clarifications and Revisions

We note below several policies related to geographic reclassification that were clarified or revised in the FY 2008 IPPS final rule with comment period (72 FR 47333):

• Reinstating Reclassifications—As provided for in 42 CFR 412.273(b)(2), once a hospital (or hospital group) accepts a newly approved reclassification, any previous reclassification is permanently terminated.

• Geographic Reclassification for Multicampus Hospitals—Because campuses of a multicampus hospital can now have their wages and hours data allocated by FTEs or discharge data, a hospital campus located in a geographic area distinct from the geographic area associated with the provider number of the multicampus hospital will have official wage data to supplement an individual or group reclassification application (§ 412.230(d)(2)(v)).

• New England Deemed Counties—Hospitals in New England deemed counties are treated the same as Lugar hospitals in calculating the wage index. That is, the area is considered rural, but the hospitals within the area are deemed to be urban (§ 412.64(b)(3)(ii)).

• “Fallback” Reclassifications—A hospital will automatically be given its most recently approved reclassification (thereby permanently terminating any previously approved reclassifications) unless it provides written notice to the MGCRB within 45 days of publication of the notice of proposed rulemaking that it wishes to withdraw its most recently approved reclassification and “fall back” to either its prior reclassification or its home area wage index for the following fiscal year.

5. Redesignations of Hospitals Under Section 1886(d)(8)(B) of the Act

Section 1886(d)(8)(B) of the Act requires us to treat a hospital located in a rural county adjacent to one or more urban areas as being located in the MSA if certain criteria are met. Effective beginning FY 2005, we use OMB's 2000 CBSA standards and the Census 2000 data to identify counties in which hospitals qualify under section 1886(d)(8)(B) of the Act to receive the wage index of the urban area. Hospitals located in these counties have been known as “Lugar” hospitals and the counties themselves are often referred to as “Lugar” counties. We provide the proposed FY 2009 chart below with the listing of the rural counties containing the hospitals designated as urban under section 1886(d)(8)(B) of the Act. For discharges occurring on or after October 1, 2008, hospitals located in the rural county in the first column of this chart will be redesignated for purposes of using the wage index of the urban area listed in the second column.

Rural Counties Containing Hospitals Redesignated as Urban Under Section 1886(D)(8)(B) of the Act
[Based on CBSAs and Census 2000 Data]
Rural county | CBSA
Cherokee, AL | Rome, GA
Macon, AL | Auburn-Opelika, AL
Talladega, AL | Anniston-Oxford, AL
Hot Springs, AR | Hot Springs, AR
Windham, CT | Hartford-West Hartford-East Hartford, CT
Bradford, FL | Gainesville, FL
Hendry, FL | West Palm Beach-Boca Raton-Boynton, FL
Levy, FL | Gainesville, FL
Walton, FL | Fort Walton Beach-Crestview-Destin, FL
Banks, GA | Gainesville, GA
Chattooga, GA | Chattanooga, TN-GA
Jackson, GA | Atlanta-Sandy Springs-Marietta, GA
Lumpkin, GA | Atlanta-Sandy Springs-Marietta, GA
Morgan, GA | Atlanta-Sandy Springs-Marietta, GA
Peach, GA | Macon, GA
Polk, GA | Atlanta-Sandy Springs-Marietta, GA
Talbot, GA | Columbus, GA-AL
Bingham, ID | Idaho Falls, ID
Christian, IL | Springfield, IL
DeWitt, IL | Bloomington-Normal, IL
Iroquois, IL | Kankakee-Bradley, IL
Logan, IL | Springfield, IL
Mason, IL | Peoria, IL
Ogle, IL | Rockford, IL
Clinton, IN | Lafayette, IN
Henry, IN | Indianapolis-Carmel, IN
Spencer, IN | Evansville, IN-KY
Starke, IN | Gary, IN
Warren, IN | Lafayette, IN
Boone, IA | Ames, IA
Buchanan, IA | Waterloo-Cedar Falls, IA
Cedar, IA | Iowa City, IA
Allen, KY | Bowling Green, KY
Assumption Parish, LA | Baton Rouge, LA
St. James Parish, LA | Baton Rouge, LA
Allegan, MI | Holland-Grand Haven, MI
Montcalm, MI | Grand Rapids-Wyoming, MI
Oceana, MI | Muskegon-Norton Shores, MI
Shiawassee, MI | Lansing-East Lansing, MI
Tuscola, MI | Saginaw-Saginaw Township North, MI
Fillmore, MN | Rochester, MN
Dade, MO | Springfield, MO
Pearl River, MS | Gulfport-Biloxi, MS
Caswell, NC | Burlington, NC
Davidson, NC | Greensboro-High Point, NC
Granville, NC | Durham, NC
Harnett, NC | Raleigh-Cary, NC
Lincoln, NC | Charlotte-Gastonia-Concord, NC-SC
Polk, NC | Spartanburg, NC
Los Alamos, NM | Santa Fe, NM
Lyon, NV | Carson City, NV
Cayuga, NY | Syracuse, NY
Columbia, NY | Albany-Schenectady-Troy, NY
Genesee, NY | Rochester, NY
Greene, NY | Albany-Schenectady-Troy, NY
Schuyler, NY | Ithaca, NY
Sullivan, NY | Poughkeepsie-Newburgh-Middletown, NY
Wyoming, NY | Buffalo-Niagara Falls, NY
Ashtabula, OH | Cleveland-Elyria-Mentor, OH
Champaign, OH | Springfield, OH
Columbiana, OH | Youngstown-Warren-Boardman, OH-PA
Cotton, OK | Lawton, OK
Linn, OR | Corvallis, OR
Adams, PA | York-Hanover, PA
Clinton, PA | Williamsport, PA
Greene, PA | Pittsburgh, PA
Monroe, PA | Allentown-Bethlehem-Easton, PA-NJ
Schuylkill, PA | Reading, PA
Susquehanna, PA | Binghamton, NY
Clarendon, SC | Sumter, SC
Lee, SC | Sumter, SC
Oconee, SC | Greenville, SC
Union, SC | Spartanburg, SC
Meigs, TN | Cleveland, TN
Bosque, TX | Waco, TX
Falls, TX | Waco, TX
Fannin, TX | Dallas-Plano-Irving, TX
Grimes, TX | College Station-Bryan, TX
Harrison, TX | Longview, TX
Henderson, TX | Dallas-Plano-Irving, TX
Milam, TX | Austin-Round Rock, TX
Van Zandt, TX | Dallas-Plano-Irving, TX
Willacy, TX | Brownsville-Harlingen, TX
Buckingham, VA | Charlottesville, VA
Floyd, VA | Blacksburg-Christiansburg-Radford, VA
Middlesex, VA | Virginia Beach-Norfolk-Newport News, VA
Page, VA | Harrisonburg, VA
Shenandoah, VA | Winchester, VA-WV
Island, WA | Seattle-Bellevue-Everett, WA
Mason, WA | Olympia, WA
Wahkiakum, WA | Longview, WA
Jackson, WV | Charleston, WV
Roane, WV | Charleston, WV
Green, WI | Madison, WI
Green Lake, WI | Fond du Lac, WI
Jefferson, WI | Milwaukee-Waukesha-West Allis, WI
Walworth, WI | Milwaukee-Waukesha-West Allis, WI

As in the past, hospitals redesignated under section 1886(d)(8)(B) of the Act are also eligible to be reclassified to a different area by the MGCRB. Affected hospitals are permitted to compare the reclassified wage index for the labor market area in Table 4C in the Addendum to this proposed rule into which they have been reclassified by the MGCRB to the wage index for the area to which they are redesignated under section 1886(d)(8)(B) of the Act. Hospitals may withdraw from an MCGRB reclassification within 45 days of the publication of this proposed rule.

6. Reclassifications Under Section 1886(d)(8)(B) of the Act

As discussed in last year's FY 2008 IPPS final rule with comment period (72 FR 47336-47337), Lugar hospitals are treated like reclassified hospitals for purposes of determining their applicable wage index and receive the reclassified wage index (Table 4C in the Addendum to this proposed rule) for the urban area to which they have been redesignated. Because Lugar hospitals are treated like reclassified hospitals, when they are seeking reclassification by the MCGRB, they are subject to the rural reclassification rules set forth at 42 CFR 412.230. The procedural rules set forth at § 412.230 list the criteria that a hospital must meet in order to reclassify as a rural hospital. Lugar hospitals are subject to the proximity criteria and payment thresholds that apply to rural hospitals. Specifically, the hospital must be no more than 35 miles from the area to which it seeks reclassification (§ 412.230(b)(1)); and the hospital must show that its average hourly wage is at least 106 percent of the average hourly wage of all other hospitals in the area in which the hospital is located (§ 412.230(d)(1)(iii)(C)). Under current rules, the hospital must also demonstrate that its average hourly wage is equal to at least 82 percent of the average hourly wage of hospitals in the area to which it seeks redesignation (§ 412.230(d)(1)(iv)(C)). However, we are proposing to increase this threshold to 86 percent (as discussed in section III.B.2.a. of this preamble).

Hospitals not located in a Lugar County seeking reclassification to the urban area where the Lugar hospitals have been redesignated are not permitted to measure to the Lugar County to demonstrate proximity (no more than 15 miles for an urban hospital, and no more than 35 miles for a rural hospital or the closest urban or rural area for RRCs or SCHs) in order to be reclassified to such urban area. These hospitals must measure to the urban area exclusive of the Lugar County to meet the proximity or nearest urban or rural area requirement. As discussed in the FY 2008 final rule with comment period, we treat New England deemed counties in a manner consistent with how we treat Lugar counties. (We refer readers to 72 FR 47337 for a discussion of this policy.)

J. Proposed FY 2009 Wage Index Adjustment Based on Commuting Patterns of Hospital Employees

In accordance with the broad discretion under section 1886(d)(13) of the Act, as added by section 505 of Pub. L. 108-173, beginning with FY 2005, we established a process to make adjustments to the hospital wage index based on commuting patterns of hospital employees (the “out-migration” adjustment). The process, outlined in the FY 2005 IPPS final rule (69 FR 49061), provides for an increase in the wage index for hospitals located in certain counties that have a relatively high percentage of hospital employees who reside in the county but work in a different county (or counties) with a higher wage index. Such adjustments to the wage index are effective for 3 years, unless a hospital requests to waive the application of the adjustment. A county will not lose its status as a qualifying county due to wage index changes during the 3-year period, and counties will receive the same wage index increase for those three years. However, a county that qualifies in any given year may no longer qualify after the 3-year period, or it may qualify but receive a different adjustment to the wage index level. Hospitals that receive this adjustment to their wage index are not eligible for reclassification under section 1886(d)(8) or section 1886(d)(10) of the Act. Adjustments under this provision are not subject to the budget neutrality requirements under section 1886(d)(3)(E) of the Act.

Hospitals located in counties that qualify for the wage index adjustment are to receive an increase in the wage index that is equal to the average of the differences between the wage indices of the labor market area(s) with higher wage indices and the wage index of the resident county, weighted by the overall percentage of hospital workers residing in the qualifying county who are employed in any labor market area with a higher wage index. Beginning with the FY 2008 wage index, we use post-reclassified wage indices when determining the out-migration adjustment (72 FR 47339).

For the proposed FY 2009 wage index, we calculated the out-migration adjustment using the same formula described in the FY 2005 IPPS final rule (69 FR 49064), with the addition of using the post-reclassified wage indices, to calculate the out-migration adjustment. This adjustment is calculated as follows:

Step 1. Subtract the wage index for the qualifying county from the wage index of each of the higher wage area(s) to which hospital workers commute.

Step 2. Divide the number of hospital employees residing in the qualifying county who are employed in such higher wage index area by the total number of hospital employees residing in the qualifying county who are employed in any higher wage index area. For each of the higher wage index areas, multiply this result by the result obtained in Step 1.

Step 3. Sum the products resulting from Step 2 (if the qualifying county has workers commuting to more than one higher wage index area).

Step 4. Multiply the result from Step 3 by the percentage of hospital employees who are residing in the qualifying county and who are employed in any higher wage index area.

These adjustments will be effective for each county for a period of 3 fiscal years. For example, hospitals that received the adjustment for the first time in FY 2008 will be eligible to retain the adjustment for FY 2009. For hospitals in newly qualified counties, adjustments to the wage index are effective for 3 years, beginning with discharges occurring on or after October 1, 2008.

Hospitals receiving the wage index adjustment under section 1886(d)(13)(F) of the Act are not eligible for reclassification under sections 1886(d)(8) or (d)(10) of the Act unless they waive the out-migration adjustment. Consistent with our FY 2005, 2006, 2007, and 2008 IPPS final rules, we are proposing that hospitals redesignated under section 1886(d)(8) of the Act or reclassified under section 1886(d)(10) of the Act will be deemed to have chosen to retain their redesignation or reclassification. Section 1886(d)(10) hospitals that wish to receive the out-migration adjustment, rather than their reclassification, should follow the termination/withdrawal procedures specified in 42 CFR 412.273 and section III.I.3. of the preamble of this proposed rule. Otherwise, they will be deemed to have waived the out-migration adjustment. Hospitals redesignated under section 1886(d)(8) of the Act will be deemed to have waived the out-migration adjustment, unless they explicitly notify CMS within 45 days from the publication of this proposed rule that they elect to receive the out-migration adjustment instead. These notifications should be sent to the following address: Centers for Medicare and Medicaid Services, Center for Medicare Management, Attention: Wage Index Adjustment Waivers, Division of Acute Care, Room C4-08-06, 7500 Security Boulevard, Baltimore, MD 21244-1850.

Table 4J in the Addendum to this proposed rule lists the proposed out-migration wage index adjustments for FY 2009. Hospitals that are not otherwise reclassified or redesignated under section 1886(d)(8) or section 1886(d)(10) of the Act will automatically receive the listed adjustment. In accordance with the procedures discussed above, redesignated/reclassified hospitals would be deemed to have waived the out-migration adjustment unless CMS is otherwise notified. Hospitals that are eligible to receive the out-migration wage index adjustment and that withdraw their application for reclassification would automatically receive the wage index adjustment listed in Table 4J in the Addendum to this proposed rule.

K. Process for Requests for Wage Index Data Corrections

The preliminary, unaudited Worksheet S-3 wage data and occupational mix survey data files for the FY 2009 wage index were made available on October 5, 2007, through the Internet on the CMS Web site at: http://www.cms.hhs.gov/AcuteInpatientPPS/WIFN/list.asp#TopOfPage.

In the interest of meeting the data needs of the public, beginning with the proposed FY 2009 wage index, we posted an additional public use file on our Web site that reflects the actual data that are used in computing the proposed wage index. The release of this new file does not alter the current wage index process or schedule. We notified the hospital community of the availability of these data as we do with the current public use wage data files through our Hospital Open Door forum. We encourage hospitals to sign up for automatic notifications of information about hospital issues and the scheduling of the Hospital Open Door forums at: http://www.cms.hhs.gov/OpenDoorForums/.

In a memorandum dated October 5, 2007, we instructed all fiscal intermediaries/MACs to inform the IPPS hospitals they service of the availability of the wage index data files and the process and timeframe for requesting revisions (including the specific deadlines listed below). We also instructed the fiscal intermediaries/MACs to advise hospitals that these data were also made available directly through their representative hospital organizations.

If a hospital wished to request a change to its data as shown in the October 5, 2007 wage and occupational mix data files, the hospital was to submit corrections along with complete, detailed supporting documentation to its fiscal intermediary/MAC by December 7, 2007. Hospitals were notified of this deadline and of all other possible deadlines and requirements, including the requirement to review and verify their data as posted on the preliminary wage index data files on the Internet, through the October 5, 2007 memorandum referenced above.

In the October 5, 2007 memorandum, we also specified that a hospital requesting revisions to its 1st and/or 2nd quarter occupational mix survey data was to copy its record(s) from the CY 2006 occupational mix preliminary files posted to our Web site in October, highlight the revised cells on its spreadsheet, and submit its spreadsheet(s) and complete documentation to its fiscal intermediary/MAC no later than December 7, 2007.

The fiscal intermediaries (or, if applicable, the MACs) notified the hospitals by mid-February 2008 of any changes to the wage index data as a result of the desk reviews and the resolution of the hospitals' early-December revision requests. The fiscal intermediaries/MACs also submitted the revised data to CMS by mid-February 2008. CMS published the proposed wage index public use files that included hospitals' revised wage index data on February 25, 2008. In a memorandum also dated February 25, 2008, we instructed fiscal intermediaries/MACs to notify all hospitals regarding the availability of the proposed wage index public use files and the criteria and process for requesting corrections and revisions to the wage index data. Hospitals had until March 11, 2008 to submit requests to the fiscal intermediaries/MACs for reconsideration of adjustments made by the fiscal intermediaries/MACs as a result of the desk review, and to correct errors due to CMS's or the fiscal intermediary's (or, if applicable, the MAC's) mishandling of the wage index data. Hospitals were also required to submit sufficient documentation to support their requests.

After reviewing requested changes submitted by hospitals, fiscal intermediaries/MACs are to transmit any additional revisions resulting from the hospitals' reconsideration requests by April 14, 2008. The deadline for a hospital to request CMS intervention in cases where the hospital disagreed with the fiscal intermediary's (or, if applicable, the MAC's) policy interpretations is April 21, 2008.

Hospitals should also examine Table 2 in the Addendum to this proposed rule. Table 2 in the Addendum to this proposed rule contains each hospital's adjusted average hourly wage used to construct the wage index values for the past 3 years, including the FY 2005 data used to construct the proposed FY 2009 wage index. We note that the hospital average hourly wages shown in Table 2 only reflect changes made to a hospital's data and transmitted to CMS by February 29, 2008.

We will release the final wage index data public use files in early May 2008 on the Internet at http://www.cms.hhs.gov/AcuteInpatientPPS/WIFN/list.asp#TopOfPage. The May 2008 public use files will be made available solely for the limited purpose of identifying any potential errors made by CMS or the fiscal intermediary/MAC in the entry of the final wage index data that result from the correction process described above (revisions submitted to CMS by the fiscal intermediaries/MACs by April 14, 2008). If, after reviewing the May 2008 final files, a hospital believes that its wage or occupational mix data are incorrect due to a fiscal intermediary or MAC or CMS error in the entry or tabulation of the final data, the hospital should send a letter to both its fiscal intermediary or MAC and CMS that outlines why the hospital believes an error exists and to provide all supporting information, including relevant dates (for example, when it first became aware of the error). CMS and the fiscal intermediaries (or, if applicable, the MACs) must receive these requests no later than June 9, 2008. Requests mailed to CMS should be sent to: Centers for Medicare & Medicaid Services, Center for Medicare Management, Attention: Wage Index Team, Division of Acute Care, C4-08-06, 7500 Security Boulevard, Baltimore, MD 21244-1850.

Each request also must be sent to the fiscal intermediary or the MAC. The fiscal intermediary or the MAC will review requests upon receipt and contact CMS immediately to discuss its findings.

At this point in the process, that is, after the release of the May 2008 wage index data files, changes to the wage and occupational mix data will only be made in those very limited situations involving an error by the fiscal intermediary or the MAC or CMS that the hospital could not have known about before its review of the final wage index data files. Specifically, neither the fiscal intermediary or the MAC nor CMS will approve the following types of requests:

• Requests for wage index data corrections that were submitted too late to be included in the data transmitted to CMS by fiscal intermediaries or the MACs on or before April 21, 2008.

• Requests for correction of errors that were not, but could have been, identified during the hospital's review of the February 25, 2008 wage index public use files.

• Requests to revisit factual determinations or policy interpretations made by the fiscal intermediary or the MAC or CMS during the wage index data correction process.

Verified corrections to the wage index data received timely by CMS and the fiscal intermediaries or the MACs (that is, by June 9, 2008) will be incorporated into the final wage index in the FY 2009 IPPS final rule, which will be effective October 1, 2008.

We created the processes described above to resolve all substantive wage index data correction disputes before we finalize the wage and occupational mix data for the FY 2009 payment rates. Accordingly, hospitals that do not meet the procedural deadlines set forth above will not be afforded a later opportunity to submit wage index data corrections or to dispute the fiscal intermediary's (or, if applicable the MAC's) decision with respect to requested changes. Specifically, our policy is that hospitals that do not meet the procedural deadlines set forth above will not be permitted to challenge later, before the Provider Reimbursement Review Board, the failure of CMS to make a requested data revision. (See W. A. Foote Memorial Hospital v. Shalala, No. 99-CV-75202-DT (E.D. Mich. 2001) and Palisades General Hospital v. Thompson, No. 99-1230 (D.D.C. 2003).) We refer the reader also to the FY 2000 final rule (64 FR 41513) for a discussion of the parameters for appealing to the PRRB for wage index data corrections.

Again, we believe the wage index data correction process described above provides hospitals with sufficient opportunity to bring errors in their wage and occupational mix data to the fiscal intermediary's (or, if applicable, the MAC's) attention. Moreover, because hospitals will have access to the final wage index data by early May 2008, they have the opportunity to detect any data entry or tabulation errors made by the fiscal intermediary or the MAC or CMS before the development and publication of the final FY 2009 wage index by August 1, 2008, and the implementation of the FY 2009 wage index on October 1, 2008. If hospitals availed themselves of the opportunities afforded to provide and make corrections to the wage and occupational mix data, the wage index implemented on October 1 should be accurate. Nevertheless, in the event that errors are identified by hospitals and brought to our attention after June 9, 2008, we retain the right to make midyear changes to the wage index under very limited circumstances.

Specifically, in accordance with 42 CFR 412.64(k)(1) of our existing regulations, we make midyear corrections to the wage index for an area only if a hospital can show that: (1) The fiscal intermediary or the MAC or CMS made an error in tabulating its data; and (2) the requesting hospital could not have known about the error or did not have an opportunity to correct the error, before the beginning of the fiscal year. For purposes of this provision, “before the beginning of the fiscal year” means by the June deadline for making corrections to the wage data for the following fiscal year's wage index. This provision is not available to a hospital seeking to revise another hospital's data that may be affecting the requesting hospital's wage index for the labor market area. As indicated earlier, since CMS makes the wage index data available to hospitals on the CMS Web site prior to publishing both the proposed and final IPPS rules, and the fiscal intermediaries or the MAC notify hospitals directly of any wage index data changes after completing their desk reviews, we do not expect that midyear corrections will be necessary. However, under our current policy, if the correction of a data error changes the wage index value for an area, the revised wage index value will be effective prospectively from the date the correction is made.

In the FY 2006 IPPS final rule (70 FR 47385), we revised 42 CFR 412.64(k)(2) to specify that, effective on October 1, 2005, that is beginning with the FY 2006 wage index, a change to the wage index can be made retroactive to the beginning of the Federal fiscal year only when: (1) The fiscal intermediary (or, if applicable, the MAC) or CMS made an error in tabulating data used for the wage index calculation; (2) the hospital knew about the error and requested that the fiscal intermediary (or if applicable the MAC) and CMS correct the error using the established process and within the established schedule for requesting corrections to the wage index data, before the beginning of the fiscal year for the applicable IPPS update (that is, by the June 9, 2008 deadline for the FY 2009 wage index); and (3) CMS agreed that the fiscal intermediary (or if applicable, the MAC) or CMS made an error in tabulating the hospital's wage index data and the wage index should be corrected.

In those circumstances where a hospital requested a correction to its wage index data before CMS calculates the final wage index (that is, by the June deadline), and CMS acknowledges that the error in the hospital's wage index data was caused by CMS's or the fiscal intermediary's (or, if applicable, the MAC's) mishandling of the data, we believe that the hospital should not be penalized by our delay in publishing or implementing the correction. As with our current policy, we indicated that the provision is not available to a hospital seeking to revise another hospital's data. In addition, the provision cannot be used to correct prior years' wage index data; it can only be used for the current Federal fiscal year. In other situations where our policies would allow midyear corrections, we continue to believe that it is appropriate to make prospective-only corrections to the wage index.

We note that, as with prospective changes to the wage index, the final retroactive correction will be made irrespective of whether the change increases or decreases a hospital's payment rate. In addition, we note that the policy of retroactive adjustment will still apply in those instances where a judicial decision reverses a CMS denial of a hospital's wage index data revision request.

L. Labor-Related Share for the Proposed Wage Index for FY 2009

Section 1886(d)(3)(E) of the Act directs the Secretary to adjust the proportion of the national prospective payment system base payment rates that are attributable to wages and wage-related costs by a factor that reflects the relative differences in labor costs among geographic areas. It also directs the Secretary to estimate from time to time the proportion of hospital costs that are labor-related: “The Secretary shall adjust the proportion (as estimated by the Secretary from time to time) of hospitals' costs which are attributable to wages and wage-related costs of the DRG prospective payment rates * * *” We refer to the portion of hospital costs attributable to wages and wage-related costs as the labor-related share. The labor-related share of the prospective payment rate is adjusted by an index of relative labor costs, which is referred to as the wage index.

Section 403 of Pub. L. 108-173 amended section 1886(d)(3)(E) of the Act to provide that the Secretary must employ 62 percent as the labor-related share unless this “would result in lower payments to a hospital than would otherwise be made.” However, this provision of Pub. L. 108-173 did not change the legal requirement that the Secretary estimate “from time to time” the proportion of hospitals costs that are “attributable to wages and wage-related costs.” We interpret this to mean that hospitals receive payment based on either a 62-percent labor-related share, or the labor-related share estimated from time to time by the Secretary, depending on which labor-related share resulted in a higher payment.

We have continued our research into the assumptions employed in calculating the labor-related share. Our research involves analyzing the compensation share separately for urban and rural hospitals, using regression analysis to determine the proportion of costs influenced by the area wage index, and exploring alternative methodologies to determine whether all or only a portion of professional fees and nonlabor intensive services should be considered labor-related.

In the FY 2006 IPPS final rule (70 FR 47392), we presented our analysis and conclusions regarding the methodology for updating the labor-related share for FY 2006. We also recalculated a labor-related share of 69.731 percent, using the FY 2002-based PPS market basket for discharges occurring on or after October 1, 2005. In addition, we implemented this revised and rebased labor-related share in a budget neutral manner, but consistent with section 1886(d)(3)(E) of the Act, we did not take into account the additional payments that would be made as a result of hospitals with a wage index less than or equal to 1.0 being paid using a labor-related share lower than the labor-related share of hospitals with a wage index greater than 1.0.

The labor-related share is used to determine the proportion of the national PPS base payment rate to which the area wage index is applied. In this proposed rule, we are not proposing to make any changes to the national average proportion of operating costs that are attributable to wages and salaries, fringe benefits, professional fees, contract labor, and labor intensive services. Therefore, we are proposing to continue to use a labor-related share of 69.731 percent for discharges occurring on or after October 1, 2008. Tables 1A and 1B in the Addendum to this proposed rule reflect this proposed labor-related share. We note that section 403 of Pub. L. 108-173 amended sections 1886(d)(3)(E) and 1886(d)(9)(C)(iv) of the Act to provide that the Secretary must employ 62 percent as the labor-related share unless this employment “would result in lower payments to a hospital than would otherwise be made.”

We also are proposing to continue to use a labor-related share for the Puerto Rico-specific standardized amounts of 58.7 percent for discharges occurring on or after October 1, 2008. Consistent with our methodology for determining the national labor-related share, we added the Puerto Rico-specific relative weights for wages and salaries, fringe benefits, contract labor, nonmedical professional fees, and other labor-intensive services to determine the labor-related share. Puerto Rico hospitals are paid based on 75 percent of the national standardized amounts and 25 percent of the Puerto Rico-specific standardized amounts. For Puerto Rico hospitals, the national labor-related share will always be 62 percent because the wage index for all Puerto Rico hospitals is less than 1.0. A Puerto Rico-specific wage index is applied to the Puerto Rico-specific portion of payments to the hospitals. The labor-related share of a hospital's Puerto Rico-specific rate will be either 62 percent or the Puerto Rico-specific labor-related share depending on which results in higher payments to the hospital. If the hospital has a Puerto Rico-specific wage index of greater than 1.0, we will set the hospital's rates using a labor-related share of 62 percent for the 25 percent portion of the hospital's payment determined by the Puerto Rico standardized amounts because this amount will result in higher payments. Conversely, a hospital with a Puerto Rico-specific wage index of less than 1.0 will be paid using the Puerto Rico-specific labor-related share of 58.7 percent of the Puerto Rico-specific rates because the lower labor-related share will result in higher payments. The proposed Puerto Rico labor-related share of 58.7 percent for FY 2008 is reflected in the Table 1C of the Addendum to this proposed rule.

IV. Other Decisions and Proposed Changes to the IPPS for Operating Costs and GME Costs

A. Proposed Changes to the Postacute Care Transfer Policy (§ 412.4)

1. Background

Existing regulations at § 412.4(a) define discharges under the IPPS as situations in which a patient is formally released from an acute care hospital or dies in the hospital. Section 412.4(b) defines transfers from one acute care hospital to another. Section 412.4(c) establishes the conditions under which we consider a discharge to be a transfer for purposes of our postacute care transfer policy. In transfer situations, the transferring hospital is paid based on a per diem rate for each day of the stay, not to exceed the full MS-DRG payment that would have been made if the patient had been discharged without being transferred.

The per diem rate paid to a transferring hospital is calculated by dividing the full MS-DRG payment by the geometric mean length of stay for the MS-DRG. Based on an analysis that showed that the first day of hospitalization is the most expensive (60 FR 5804), our policy generally provides for payment that is double the per diem amount for the first day, with each subsequent day paid at the per diem amount up to the full DRG payment (§ 412.4(f)(1)). Transfer cases are also eligible for outlier payments. The outlier threshold for transfer cases is equal to the fixed-loss outlier threshold for nontransfer cases (adjusted for geographic variations in costs), divided by the geometric mean length of stay for the MS-DRG, multiplied by the length of stay for the case plus one day. The purpose of the IPPS postacute care transfer payment policy is to avoid providing an incentive for a hospital to transfer patients to another hospital, a SNF, or home under a written plan of care for home health services early in the patients” stay in order to minimize costs while still receiving the full MS-DRG payment. The transfer policy adjusts the payments to approximate the reduced costs of transfer cases.

Beginning with the FY 2006 IPPS, the regulations at § 412.4 specified that, effective October 1, 2005, a DRG would be subject to the postacute care transfer policy if, based on Version 23.0 of the DRG Definitions Manual (FY 2006), using data from the March 2005 update of FY 2004 MedPAR file, the DRG meets the following criteria:

• The DRG had a geometric mean length of stay of at least 3 days;

• The DRG had at least 2,050 postacute care transfer cases; and

• At least 5.5 percent of the cases in the DRG were discharged to postacute care prior to the geometric mean length of stay for the DRG.

In addition, if the DRG was one of a paired set of DRGs based on the presence or absence of a CC or major cardiovascular condition (MCV), both paired DRGs would be included if either one met the three criteria above.

If a DRG met the above criteria based on the Version 23.0 DRG Definitions Manual and FY 2004 MedPAR data, we made the DRG subject to the postacute care transfer policy. We noted in the FY 2006 final rule that we would not revise the list of DRGs subject to the postacute care transfer policy annually unless we made a change to a specific CMS DRG. We established this policy to promote certainty and stability in the postacute care transfer payment policy. Annual reviews of the list of CMS DRGs subject to the policy would likely lead to great volatility in the payment methodology with certain DRGs qualifying for the policy in one year, deleted the next year, only to be reinstated the following year. However, we noted that, over time, as treatment practices change, it was possible that some CMS DRGs that qualified for the policy will no longer be discharged with great frequency to postacute care. Similarly, we explained that there may be other CMS DRGs that at that time had a low rate of discharges to postacute care, but which might have very high rates in the future.

The regulations at § 412.4 further specify that if a DRG did not exist in Version 23.0 of the DRG Definitions Manual or a DRG included in Version 23.0 of the DRG Definitions Manual is revised, the DRG will be a qualifying DRG if it meets the following criteria based on the version of the DRG Definitions Manual in use when the new or revised DRG first became effective, using the most recent complete year of MedPAR data:

• The total number of discharges to postacute care in the DRG must equal or exceed the 55th percentile for all DRGs; and

• The proportion of short-stay discharges to postacute care to total discharges in the DRG exceeds the 55th percentile for all DRGs. A short-stay discharge is a discharge before the geometric mean length of stay for the DRG.

A DRG also is a qualifying DRG if it is paired with another DRG based on the presence or absence of a CC or MCV that meets either of the above two criteria.

The MS-DRGs that we adopted for FY 2008 were a significant revision to the CMS DRG system (72 FR 47141). Because the MS-DRGs were not reflected in Version 23.0 of the DRG Definitions Manual, consistent with § 412.4, we established policy to recalculate the 55th percentile thresholds in order to determine which MS-DRGs would be subject to the postacute care transfer policy (72 FR 47186 through 47188). Further, under the MS-DRGs, the subdivisions within the base DRGs are different than those under the previous CMS DRGs. Unlike the CMS DRGs, the MS-DRGs are not divided based on the presence or absence of a CC or MCV. Rather, the MS-DRGs have up to three subdivisions based on: (1) The presence of a MCC; (2) the presence of a CC; or (3) the absence of either an MCC or CC. Consistent with our previous policy under which both CMS DRGs in a CC/non-CC pair were qualifying DRGs if one of the pair qualified, we established that each MS-DRG that shared a base MS-DRG will be a qualifying DRG if one of the MS-DRGs that shared the base DRG qualifies. We revised § 412.4(d)(3)(ii) to codify this policy.

Similarly, the adoption of the MS-DRGs also necessitated a revision to one of the criteria used in § 412.4(f)(5) of the regulations to determine whether a DRG meets the criteria for payment under the “special payment methodology.” Under the special payment methodology, a case subject to the special payment methodology that is transferred early to a postacute care setting will be paid 50 percent of the total IPPS payment plus the average per diem for the first day of the stay. In addition, the hospital will receive 50 percent of the per diem amount for each subsequent day of the stay, up to the full MS-DRG payment amount. A CMS DRG was subject to the special payment methodology if it met the criteria of § 412.4(f)(5). Section 412.4(f)(5)(iv) specifies that, for discharges occurring on or after October 1, 2005, and prior to October 1, 2007, if a DRG meets the criteria specified under § 412.4(f)(5)(i) through (f)(5)(iii), any DRG that is paired with it based on the presence or absence of a CC or MCV is also subject to the special payment methodology. Given that this criterion was no longer applicable under the MS-DRG system, in the FY 2008 final rule with comment period, we added a new § 412.4(f)(6) (42 FR 47188 and 47410). Section 412.4(f)(6) provides that, for discharges on or after October 1, 2007, if an MS-DRG meets the criteria specified under §§ 412.4(f)(6)(i) through (f)(6)(iii), any other MS-DRG that is part of the same MS-DRG group is also subject to the special payment methodology. We updated this criterion so that it conformed to the changes associated with adopting MS-DRGs for FY 2008. The revision makes an MS-DRG subject to the special payment methodology if it shares a base MS-DRG with an MS-DRG that meets the criteria for receiving the special payment methodology.

Section 1886(d)(5)(J) of the Act provides that, effective for discharges on or after October 1, 1998, a “qualified discharge” from one of DRGs selected by the Secretary to a postacute care provider would be treated as a transfer case. This section required the Secretary to define and pay as transfers all cases assigned to one of the DRGs selected by the Secretary, if the individuals are discharged to one of the following postacute care settings:

• A hospital or hospital unit that is not a subsection 1886(d) hospital. (Section 1886(d)(1)(B) of the Act identifies the hospitals and hospital units that are excluded from the term “subsection (d) hospital” as psychiatric hospitals and units, rehabilitation hospitals and units, children's hospitals, long-term care hospitals, and cancer hospitals.)

• A SNF (as defined at section1819(a) of the Act).

• Home health services provided by a home health agency, if the services relate to the condition or diagnosis for which the individual received inpatient hospital services, and if the home health services are provided within an appropriate period (as determined by the Secretary). In the FY 1999 IPPS final rule (63 FR 40975 through 40976 and 40979 through 40981), we specified that a patient discharged to home would be considered transferred to postacute care if the patient received home health services within 3 days after the date of discharge. In addition, in the FY 1999 IPPS final rule, we did not include patients transferred to a swing-bed for skilled nursing care in the definition of postacute care transfer cases (63 FR 40977).

2. Proposed Policy Change Relating to Transfers to Home with a Written Plan for the Provision of Home Health Services

As noted above, in the FY 1999 IPPS final rule (63 FR 40975 through 40976 and 40979 through 40981), we determined that 3 days is an appropriate period within which home health services should begin following a beneficiary's discharge to the home in order for the discharge to be considered a “qualified discharge” subject to the payment adjustment for postacute care transfer cases. In that same final rule, we noted that we would monitor whether 3 days would remain an appropriate timeframe.

Section 1886(d)(5)(J)(ii)(III) of the Act provides that the discharge of an individual who receives home health services upon discharge will be treated as a transfer if “such services are provided within an appropriate period as determined by the Secretary * * *”. The statute thus confers upon the Secretary the authority to determine an appropriate timeframe for the application of the postacute care transfer policy in cases where home health services commence subsequent to discharge from an acute care hospital. In the FY 1999 final IPPS rule, we established the policy that the postacute care transfer policy would apply to cases in which the home health care begins within 3 days of the discharge from an acute care policy. We noted in that rule that we did not believe that it was appropriate to limit the transfer definition to cases in which home health care begins on the same day as the patient is discharged from the hospital. We observed that data indicated that less than 8 percent of discharged patients who receive home health care begin receiving those services on the date of discharge. It is unreasonable to expect that patients who are discharged later in the day would receive a home health visit that same day. Furthermore, we believed that the financial incentive to delay needed home health care for only a matter of hours would be overwhelming if we limited the timeframe to one day. At the time of that final rule, we explained that we believed that 3 days would be a more appropriate timeframe because it would mitigate the incentive to delay home health services to avoid the application of the postacute care transfer policy, and because a 3-day timeframe was consistent with existing patterns of care.

In that final rule, we also noted that a number of commenters had raised issues and questions concerning the proposal to adopt 3 days as the appropriate timeframe for the application of the postacute care transfer policy in these cases. While most of the commenters advocated shorter timeframes, on the grounds that postacute care beginning 3 days after a discharge should not be considered a substitute for inpatient hospital care, others suggested that a 3-day window might still allow for needlessly prolonged hospital care or delayed home health in order to avoid the application of the postacute care transfer policy. Although MedPAC agreed with the commenters who asserted that home health care services furnished after a delay of more than one day may not necessarily be regarded as substituting for inpatient acute care, they also noted that a 3-day window allows for the fact that most home health patients do not receive care every day, as well as for those occasions in which there may be a delay in arranging for the provision of planned care (for example, an intervening weekend). The commission also stated that a shorter period may create a stronger incentive to delay the provision of necessary care beyond the window so that the hospital will receive the full DRG payment. In the light of these comments and, in particular, of the concern that a 3-day timeframe still allowed for some incentive to delay necessary home health services in order to avoid the application of the postacute care transfer policy, we indicated that we would continue to monitor this policy in order to track any changes in practices that may indicate the need for revising the window.

Since the adoption of this policy in FY 1999, we have continued to receive reports that some providers discharge patients prior to the geometric mean length of stay but intentionally delay home health services beyond 3 days after the acute hospital discharge in order to avoid the postacute care transfer payment adjustment policy. These reports, and the concerns expressed by some commenters in FY 1999 about the adequacy of a 3-day window to reduce such incentives, have prompted us to examine the available data concerning the initiation and program payments for home health care subsequent to discharge from postacute care.

We merged the FY 2004 MedPAR file with postacute care bill files matching beneficiary identification numbers and discharge and admission dates and looked at the 10 DRGs that were subject to the postacute care transfer policy from FYs 1999 through 2003 (DRG 14 (Intracranial Hemorrhage and Stroke with Infarction (formerly “Specific Cerebrovascular Disorders Except Transient Ischemic Attack”)); DRG 113 (Amputation for Circulatory System Disorders Except Upper Limb and Toe); DRG 209 (Major Joint Limb Reattachment Procedures of Lower Extremity); DRG 210 (Hip and Femur Procedures Except Major Joint Procedures ≤17 with CC); DRG 211 (Hip and Femur Procedures Except Major Joint Procedures Age ≤17 without CC); DRG 236 (Fractures of Hip and Pelvis); DRG 263 (Skin Graft and/or Debridement for Skin Ulcer or Cellulitis with CC); DRG 264 (Skin Graft and/or Debridement for Skin Ulcer or Cellulitis without CC); DRG 429 (Organic Disturbances and Mental Retardation); and DRG 483 (Tracheostomy with Mechanical Ventiliation 96+ Hours or Principal Diagnosis Except Face, Mouth, and Neck Diagnoses (formerly “Tracheostomy Except for Face, Mouth, and Neck Diagnoses”)). We selected the original 10 “qualified DRGs” because they were the DRGs to which the postacute care transfer policy applied for FYs 1999 through 2003 and because we expect that trends that we found in the data with those DRGs would be likely to accurately reflect provider practices after the inception of the postacute care transfer policy. We expect that provider practices for the original 10 DRGs would be consistent even with the expansion of the DRGs that are subject to the postacute care transfer policy. We note that providers may have even a greater incentive to delay the initiation of home health care in an effort to avoid the postacute care transfer policy now that there are more DRGs to which the policy applies. We compared data on home health services provided to patients who were discharged prior to the geometric mean length of stay to patients who were discharged at or beyond the geometric mean length of stay. For purposes of this analysis, we assumed that home health was the first discharge designation from the acute care hospital setting.

The data showed that, on average, the Medicare payment per home health visit was higher for patients who were discharged prior to the geometric mean length of stay (as compared to patients who were discharged at or beyond the geometric mean length of stay). Additionally, we found some evidence in the data suggesting that, for patients discharged prior to the geometric mean length of stay for many DRGs, hospitals may indeed be discharging patients earlier than advisable, providing less than the optimal amount of acute inpatient care, and are instead substituting home health care for inpatient services, resulting in higher home health care payments under the Medicare program. One generally would expect that patients discharged prior to the geometric mean length of stay are genuinely less severely ill than patients discharged at or after the geometric mean length of stay because patients in the former group are judged to be appropriate for discharge after less acute inpatient care. However, our data paint a different picture. For example, the data on the average per day Medicare payments for home health care for those patients who are discharged from the hospital prior to the geometric mean length of stay in the DRGs to which the postacute care transfer policy applies, as compared to Medicare payments for patients discharged from the hospital at or after the geometric mean length of stay, show patterns other than what might be expected if hospitals are generally discharging patients for home health care only after the full amount of acute inpatient care. Specifically, average Medicare payments per home health care visit are consistently higher for patients discharged prior to the geometric mean length of stay than for patients discharged at or after the geometric mean length of stay. The average home health care per visit payments for patients treated for the relevant DRGs and discharged before the geometric mean length of stay are $204 when the initiation of home health care began on the second day after discharge, $199 on the third day, and $182 on the sixth day, compared to $177, $163, and $171, respectively for patients discharged on or after the geometric mean length of stay. Furthermore, the ratio of the payments for these two groups actually increases from 1.16 on the third day after discharge to 1.22 on the fourth day, before falling again to 1.04, 1.07, and 1.08 on the fifth, sixth, and seventh days. This suggests the possibility that home health care for some relatively sicker patients is being delayed until just beyond the 3-day window during which the postacute care transfer policy applies. In the light of these data, we believe that it is appropriate to propose extending the applicable timeframe in order to reduce the incentive for providers to delay home health care when discharging patients from the acute care setting. Further examination of the data indicates that the average per day Medicare payments for home health care for those patients, in the DRGs to which the postacute care transfer policy applies, who are discharged from the hospital prior to the geometric mean length of stay, stabilizes at a somewhat lower amount when the initiation of home health visits begins on the seventh and subsequent days after discharge. Specifically, average payments per visit for this group fall from $182 when home health services began on the sixth day after the acute care hospital discharge to $174 on the seventh day, and then remain relatively steady at $171, $177, and $172 on the eighth, ninth, and tenth days. This suggests that a 7-day period would be an appropriate point at which to establish a new timeframe. The stabilization of average home health care visit payments at and after the seventh day suggests that this may be the point at which the incentives to delay the start of home health care in order to avoid the application of the postacute care transfer policy are reduced. As a consequence of this analysis, in this proposed rule, we are proposing to revise § 412.4(c)(3) to extend the timeframe to within 7 days of discharge to home under a written plan for the provision of home health services, effective October 1, 2008. We believe that extending the applicable timeframe will lessen the incentive for providers to delay the start of home health care after discharging patients from the acute care hospital setting. During the comment period on this proposed rule, we plan to continue to search our data on postacute care discharges to home health services. We welcome comments and suggestions on other data analyses that can be performed to determine an appropriate timeframe for which the postacute care transfer policy would apply.

In addition to the reasons noted above, we believe that 7 days is currently an appropriate timeframe because we believe that accommodates current practices and it is sufficiently long enough to lessen the likelihood that providers would delay the initiation of necessary home health services. At the same time, we believe that 7 days is narrow enough that we would still expect the majority of the home health services to be related to the condition to which the acute inpatient hospital stay was necessary. Further, we note that there may be some cases for which it is not clinically appropriate to begin home health services immediately following an acute care discharge, and that even when home health services are clinically appropriate sooner than within 7 days of acute care discharge, home health services may not be immediately available.

We note that, as we stated in the FY 2000 IPPS final rule (65 FR 47081), if the hospital's continuing care plan for the patient is not related to the purpose of the inpatient hospital admission, a condition code 42 must be entered on the claim. If the continuing care plan is related to the purpose of the inpatient hospital admission but begins after 7 days (formerly after 3 days) of discharge, a condition code 43 must be entered on the claim. The presence of either of these condition codes in conjunction with patient status discharge code 06 (Discharged/Transferred to Home under Care of Organized Home Health Service Organization in Anticipation of Covered Skilled Care) will result in full payment rather than the transfer payment amount.

3. Evaluation of MS-DRGs Under Postacute Care Transfer Policy for FY 2009

For FY 2009, we are not proposing to make any changes to the criteria by which an MS-DRG would qualify for inclusion in the postacute care transfer policy. However, because we are proposing to revise some existing MS-DRGs and to add one new MS-DRG (discussed under section II.G. of this preamble), we are proposing to evaluate those MS-DRGs under our existing postacute care transfer criteria in order to determine whether any of the revised or new MS-DRGs will meet the postacute care transfer criteria for FY 2009. Therefore, for 2009, we are evaluating MS-DRGs 001, 002, 215, 245, 901 through 909, 913 through 923, 955 through 959, and 963 through 965. Any revisions made would not constitute a change to the application of the postacute care transfer policy. A list indicating which MS-DRGs would be subject to the postacute care transfer policy for FY 2009 can be found in Table 5 in the Addendum to this proposed rule.

B. Reporting of Hospital Quality Data for Annual Hospital Payment Update (§ 412.64(d)(2))

1. Background

a. Overview

CMS is transforming the Medicare program from a passive payer to an active purchaser of higher quality, more efficient health care. Such care will contribute to the sustainability of the Medicare program, encourage the delivery of high quality care while avoiding unnecessary costs, and help ensure high value for beneficiaries. To support this transformation, CMS has worked with stakeholders to develop and implement quality measures, make provider and plan performance public, link payment incentives to reporting on measures, and ultimately is working to link payment to actual performance on these measures. Commonly referred to as value-based purchasing, this policy aligns payment incentives with the quality of care as well as the resources used to deliver care to encourage the delivery of high-value health care.

The success of this transformation is supported by and dependent upon an increasing number of widely-agreed upon quality measures. The Medicare program has defined measures of quality in almost every setting and measures some aspect of care for almost all Medicare beneficiaries. These measures include clinical processes, patient perception of their care experience, and, increasingly, outcomes.

The Medicare program has established mechanisms for collecting information on these measures, such as QualityNet, an Internet-based process that hospitals use to report all-payer information. Initial voluntary efforts were supplemented beginning in FY 20 05 by a provision in the Medicare Prescription Drug Improvement and Modernization Act (MMA), which provided the full annual payment update only to “subsection (d) hospitals” (that is, hospitals paid under the IPPS) that successfully reported on a set of widely-agreed upon quality measures. Since FY 2007, as required by subsequent legislation (the Deficit Reduction Act (DRA)) the number of quality measures and the amount of the financial incentive have increased.

As a result, the great majority of hospitals now report on quality measures for heart failure, heart disease, pneumonia, and surgical infection and received the full annual update for FY 2008. The number of measures has continued to grow and the types of measures have grown as well, with the addition of outcomes measures, such as heart attack and heart failure mortality measures, and the HCAHPS measure of patient satisfaction. In section IV.B.2. of this preamble, we are seeking public comments on proposed additional quality measures.

Reporting on these measures provides hospitals a greater awareness of the quality of care they provide and provides actionable information for consumers to make more informed decisions about their health care providers and treatments.

Moving beyond reporting to performance, CMS has designed a Hospital Value-Based Purchasing Plan that would link hospital payments to their actual performance on quality measures. In accordance with the DRA, the Plan was submitted to Congress in November 2007. We discuss the Plan more fully in section IV.C. of this preamble.

The ongoing CMS Premier Hospital Quality Incentive Demonstration project is another effort linking payments to quality performance. Launched in 2003, the Premier Hospital Quality Incentive Demonstration project promotes measurable improvements in the quality of care, examining whether economic incentives to hospitals are effective at improving the quality of care. Early evidence from the project indicates that linking payments to quality performance can be effective.

As required by section 5001(c) the DRA, CMS also has implemented a program intended to encourage the prevention of certain avoidable or preventable hospital-acquired conditions (HACs), including infections, that may occur during a hospital stay. Beginning Octo ber 1, 2007, CMS required hospitals to begin reporting information on Medicare claims specifying whether certain diagnoses were present on admission (POA). Beginning October 1, 2008, CMS will no longer pay hospitals for a DRG using the higher-paying CC or MCC associated with one or more of these conditions (if no other condition meeting the higher paying CC or MCC criteria is present) unless the condition was POA (that is, not acquired during the hospital stay). Linking a payment incentive to hospitals’ prevention of avoidable or preventable HACs is a strong approach for encouraging high quality care. Combating these HACs can reduce morbidity and mortality as well as reducing unnecessary costs. In the FY 2008 IPPS final rule with comment period (72 FR 47217), CMS identified eight HACs. In section II.F. of this preamble, CMS is seeking comment on additional proposed conditions.

CMS is committed to enhancing these value-based purchasing programs, in close collaboration with stakeholders, through the development and use of new measures for quality reporting, expanded public reporting, greater and more widespread incentives in the payment system for reporting on such measures, and ultimately performance on those measures. These initiatives hold the potential to transform the delivery of health care by rewarding quality of care and delivering higher value to Medicare beneficiaries.

A critical element of value-based purchasing is well-accepted measures. Hospitals can then measure their performance relative to other hospitals. Further, this information can be posted for consumers to use to make more informed choices about their care. In this section IV.B. of this preamble, we describe past and current efforts to make this information available and proposals to expand these efforts and make even more useful hospital quality information available to the public.

b. Voluntary Hospital Quality Data Reporting

In December 2002, the Secretary announced a partnership with several collaborators intended to promote hospital quality improvement and public reporting of hospital quality information. These collaborators included the American Hospital Association (AHA), the Federation of American Hospitals (FAH), the Association of American Medical Colleges (AAMC), the Joint Commission on Accreditation of Healthcare Organizations (the Joint Commission), the National Quality Forum (NQF), the American Medical Association (AMA), the Consumer-Purchaser Disclosure Project, the American Association of Retired Persons (AARP), the American Federation of Labor-Congress of Industrial Organizations (AFL-CIO), the Agency for Healthcare Research and Quality (AHRQ), as well as CMS and others. In July 2003, CMS began the National Voluntary Hospital Reporting Initiative. This initiative is now known as the Hospital Quality Alliance: Improving Care through Information (HQA).

We established the following “starter set” of 10 quality measures for voluntary reporting as of November 1, 2003:

Heart Attack (Acute Myocardial Infarction or AMI)

• Was aspirin given to the patient upon arrival to the hospital?

• Was aspirin prescribed when the patient was discharged?

• Was a beta blocker given to the patient upon arrival to the hospital?

• Was a beta blocker prescribed when the patient was discharged?

• Was an Angiotensin Converting Enzyme (ACE) Inhibitor given for the patient with heart failure?

Heart Failure (HF)

• Did the patient get an assessment of his or her heart function?

• Was an Angiotensin Converting Enzyme (ACE) Inhibitor given to the patient?

Pneumonia (PN)

• Was an antibiotic given to the patient in a timely way?

• Had the patient received a pneumococcal vaccination?

• Was the patient's oxygen level assessed?

This starter set of 10 quality measures was endorsed by the NQF. The NQF is a voluntary consensus standard-setting organization established to standardize health care quality measurement and reporting through its consensus development process. In addition, this starter set is a subset of measures currently collected for the Joint Commission as part of its hospital inpatient certification program.

We chose these 10 quality measures in order to collect data that would: (1) Provide useful and valid information about hospital quality to the public; (2) provide hospitals with a sense of predictability about public reporting expectations; (3) begin to standardize data and data collection mechanisms; and (4) foster hospital quality improvement.

Hospitals submit quality data through the QualityNet secure Web site (formerly known as QualityNet Exchange) (www.qualitynet.org). This Web site meets or exceeds all current Health Insurance Portability and Accountability Act requirements for security of personal health information. Data from this initiative are used to populate the Hospital Compare Web site, www.hospitalcompare.hhs.gov. This Web site assists beneficiaries and the general public by providing information on hospital quality of care for consumers who need to select a hospital. It further serves to encourage consumers to work with their doctors and hospitals to discuss the quality of care hospitals provide to patients, thereby providing an additional incentive to improve the quality of care that they furnish.

c. Hospital Quality Data Reporting Under Section 501(b) of Pub. L. 108-173

Section 1886(b)(3)(B)(vii) of the Act, as added by section 501(b) of Pub. L. 108-173, revised the mechanism used to update the standardized amount of payment for inpatient hospital operating costs. Specifically, the statute provided for a reduc tion of 0.4 percentage points to the update percentage increase (also known as the market basket update) for each of FYs 2005 through 2007 for any subsection (d) hospital that does not submit data on a set of 10 quality indicators established by the Secretary as of November 1, 2003. The statute also provided that any reduction would apply only to the fiscal year involved, and would not be taken into account in computing the applicable percentage increase for a subsequent fiscal year. This measure established an incentive for IPPS hospitals to submit data on the quality measures established by the Secretary.

We initially implemented section 1886(b)(3)(B)(vii) of the Act in the FY 2005 IPPS final rule (69 FR 49078). In addition, we established the Reporting Hospital Quality Data for Annual Payment Update (RHQDAPU) program and added 42 CFR 412.64(d)(2) to our regulations. We adopted additional requirements under the RHQDAPU program in the FY 2006 IPPS final rule (70 FR 47420).

d. Hospital Quality Data Reporting Under Section 5001(a) of Pub. L. 109-171

Section 5001(a) of the Deficit Reduction Act of 2005, Pub. L. 109-171 (DRA), further amended section 1886(b)(3)(B) of the Act to revise the mechanism used to update the standardized amount for payment for hospital inpatient operating costs. Specifically, sections 1886(b)(3)(B)(viii)(I) and (II) of the Act provide that the payment update for FY 2007 and each subsequent fiscal year be reduced by 2.0 percentage points for any subsection (d) hospital that does not submit certain quality data in a form and manner, and at a time, specified by the Secretary. Section 1886(b)(3)(B)(viii)(III) of the Act requires that the Secretary expand the “starter set” of 10 quality measures that were established by the Secretary as of No vember 1, 2003, as the Secretary determines to be appropriate for the measurement of the quality of care furnished by a hospital in inpatient settings. In expanding this set of measures, section 1886(b)(3)(B)(viii)(IV) of the Act requires that, effective for payments beginning with FY 2007, the Secretary begin to adopt the baseline set of performance measures as set forth in a December 2005 report issued by the Institute of Medicine (IOM) of the National Academy of Sciences under section 238(b) of the MMA.¹⁶

¹⁶ Institute of Medicine, “Performance Measurement: Accelerating Improvement,” December 1, 2005, available at: www.iom.edu/CMS/3809/19805/31310.aspx.

The IOM measures include: 21 HQA quality measures (including the “starter set” of 10 quality measures); the HCAHPS patient experience of care survey; and 3 structural measures. The structural measures are: (1) Implementation of computerized provider order entry for prescriptions; (2) staffing of intensive care units with intensivists; and (3) evidence-based hospital referrals. These structural measures constitute the Leapfrog Group's original “three leaps,” and are part of the NQF's 30 Safe Practices for Better Healthcare.

Sections 1886(b)(3)(B)(viii)(V) and (VI) of the Act require that, effective for payments beginning with FY 2008, the Secretary add other quality measures that reflect consensus among affected parties, and to the extent feasible and practicable, have been set forth by one or more national consensus building entities, and provide the Secretary with the discretion to replace any quality measures or indicators in appropriate cases, such as where all hospitals are effectively in compliance with a measure, or the measures or indicators have been subsequently shown to not represent the best clinical practice. Thus, the Secretary is granted broad discretion to replace measures that are no longer appropriate for the RHQDAPU program.

Section 1886(b)(3)(B)(viii)(VII) of the Act requires that the Secretary establish procedures for making quality data available to the public after ensuring that a hospital would have the opportunity to review its data before these data are made public. In addition, this section requires that the Secretary report quality measures of process, structure, outcome, patients' perspective of care, efficiency, and costs of care that relate to services furnished in inpatient settings on the CMS Web site.

Section 1886(b)(3)(B)(viii)(I) of the Act also provides that any reduction in a hospital's payment update will apply only with respect to the fiscal year involved, and will not be taken into account for computing the applicable percentage increase for a subsequent fiscal year.

In the FY 2007 IPPS final rule (71 FR 48045), we amended our regulations at 42 CFR 412.64(d)(2) to reflect the 2.0 percentage point reduction in the payment update for FY 2007 and subsequent fiscal years for subsection (d) hospitals that do not comply with requirements for reporting quality data, as provided for under section 1886(b)(3)(B)(viii) of the Act. In the FY 2007 IPPS final rule, we also added 11 additional quality measures to the 10-measure starter set to establish an expanded set of 21 quality measures (71 FR 48033 through 48037).

Commenters on the FY 2007 IPPS proposed rule requested that we notify the public as far in advance as possible of any proposed expansions of the measure set and program procedures in order to encourage broad collaboration and to give hospitals time to prepare for any anticipated change. Taking these concerns into account, in the CY 2007 OPPS/ASC final rule with comment period (71 FR 68201), we adopted six additional quality measures for the FY 2008 IPPS update, for a total of 27 measures. The measure set that we adopted for the FY 2008 payment determination was as follows:

Topic | Quality measure
Heart Attack (Acute Myocardial Infarction). | • Aspirin at arrival.*
| • Aspirin prescribed at discharge.*
| • Angiotensin Converting Enzyme Inhibitor (ACE-I) or Angiotensin II Receptor Blocker (ARB) for left ventricular systolic dysfunction.*
| • Beta blocker at arrival.*
| • Beta blocker prescribed at discharge.*
| • Fibrinolytic (thrombolytic) agent received within 30 minutes of hospital arrival.**
| • Percutaneous Coronary Intervention (PCI) received within 120 minutes of hospital arrival.**
| • Adult smoking cessation advice/counseling.**
Heart Failure (HF) | • Left ventricular function assessment.*
| • Angiotensin Converting Enzyme Inhibitor (ACE-I) or Angiotensin II Receptor Blocker (ARB) for left ventricular systolic dysfunction.
| • Discharge instructions.**
| • Adult smoking cessation advice/counseling.**
Pneumonia (PN) | • Initial antibiotic received within 4 hours of hospital arrival *
| • Oxygenation assessment.*
| • Pneumococcal vaccination status.*
| • Blood culture performed before first antibiotic received in hospital.**
| • Adult smoking cessation advice/counseling.**
| • Appropriate initial antibiotic selection.**
| • Influenza vaccination status.**
Surgical Care Improvement Project (SCIP)—named SIP for discharges prior to July 2006 (3Q06) | • Prophylactic antibiotic received within 1 hour prior to surgical incision.**
| • Prophylactic antibiotics discontinued within 24 hours after surgery end time.**
| • SCIP-VTE-1: Venous thromboembolism (VTE) prophylaxis ordered for surgery patients.***
| • SCIP-VTE-2: VTE prophylaxis within 24 hours pre/post surgery.***
| • SCIP Infection 2: Prophylactic antibiotic selection for surgical patients.***
Mortality Measures (Medicare patients) | • Acute Myocardial Infarction 30-day mortality Medicare patients***
| • Heart Failure 30-day mortality Medicare patients.***
Patients' Experience of Care. | HCAHPS patient survey.***
*Measure included in 10 measure starter set.
**Measure included in 21 measure expanded set.
***Measure added in CY 2007 OPPS/ASC final rule with comment period (data submission required as of January 2007 for three additional SCIP measures).

For FY 2008, hospitals were required to submit data on 25 of the 27 measures. No data submission was required for the two mortality outcome measures (30-Day Risk Standardized Mortality Rates for Heart Failure and AMI), because they were calculated using existing administrative Medicare claims data. The measures used for the payment determination included, for the first time, the HCAHPS patient experience of care survey as well as two outcome measures. These measures expanded the types of measures available for public reporting as required under section 1886(b)(3)(B)(viii) of the Act. In addition, the outcome measures, which are claims-based measures, did not increase the data submission requirements for hospitals, thereby reducing the burden associated with collection of data for quality reporting.

In the FY 2008 IPPS proposed rule (72 FR 24805), we proposed to add 1 outcome measure and 4 process measures to the existing 27-measure set to establish a new set of 32 quality measures to be used under the RHQDAPU program for the FY 2009 IPPS annual payment determination. We proposed to add the following five measures for the FY 2009 IPPS annual payment determination:

• PN 30-day mortality measure (Medicare patients)

• SCIP Infection 4: Cardiac Surgery Patients with Controlled 6AM Postoperative

Serum Glucose

• SCIP Infection 6: Surgery Patients with Appropriate Hair Removal

• SCIP Infection 7: Colorectal Patients with Immediate Postoperative

Normothermia

• SCIP Cardiovascular 2: Surgery Patients on a Beta Blocker Prior to Arrival Who Received a Beta Blocker During the Perioperative Period

We stated that we planned to formally adopt these measures a year in advance in order to provide time for hospitals to prepare for changes related to the RHQDAPU program. We also stated that we anticipated that the proposed measures would be endorsed by the NQF, as a national consensus building entity. Finally, we stated that any proposed measure that was not endorsed by the NQF by the time that we published the FY 2008 IPPS final rule with comment period would not be finalized in that final rule.

At the time we published the FY 2008 IPPS final rule with comment period, only the PN 30-day mortality measure had been endorsed by the NQF. Therefore, we finalized only that measure as part of the FY 2009 IPPS measure set and stated that we would further address adding additional measures in the CY 2008 OPPS/ASC final rule and, if necessary, in the FY 2009 IPPS proposed and final rules. We also responded to comments we had received on the five proposed measures (72 FR 47348 through 47351).

In the CY 2008 OPPS/ASC final rule with comment period (72 FR 66875), we noted that the NQF had endorsed the following additional process measures that we had proposed to include in the FY 2009 RHQDAPU program measure set:

• SCIP Infection 4: Cardiac Surgery Patients with Controlled 6AM Postoperative

Serum Glucose

• SCIP Infection 6: Surgery Patients with Appropriate Hair Removal

As we stated in the FY 2008 IPPS proposed rule (72 FR 24805), these measures reflect our continuing commitment to quality improvement in both clinical care and quality. These quality measures reflect consensus among affected parties as demonstrated by endorsement by a national consensus building entity. The addition of these two measures for the FY 2009 measure set bring the total number of measures in that measure set to 30 (72 FR 66876).

The measure set to be used for FY 2009 annual payment determination is as follows:

Topic | Quality measure
Heart Attack (Acute Myocardial Infarction) | • Aspirin at arrival*.
| • Aspirin prescribed at discharge*.
| • Angiotensin Converting Enzyme Inhibitor (ACE-I) or Angiotensin II Receptor Blocker (ARB) for left ventricular systolic dysfunction*.
| • Beta blocker at arrival*.
| • Beta blocker prescribed at discharge*.
| • Fibrinolytic (thrombolytic) agent received within 30 minutes of hospital arrival**.
| • Primary Percutaneous Coronary Intervention (PCI) received within 120 minutes of hospital arrival**.
| • Adult smoking cessation advice/counseling**.
Heart Failure (HF) | • Left ventricular function assessment*.
| • Angiotensin Converting Enzyme Inhibitor (ACE-I) or Angiotensin II Receptor Blocker (ARB) for left ventricular systolic dysfunction*.
| • Discharge instructions**.
| • Adult smoking cessation advice/counseling**.
Pneumonia (PN) | • Initial antibiotic received within 4 hours of hospital arrival*.
| • Oxygenation assessment*.
| • Pneumococcal vaccination status*.
| • Blood culture performed before first antibiotic received in hospital**.
| • Adult smoking cessation advice/counseling**.
| • Appropriate initial antibiotic selection**.
| • Influenza vaccination status**.
Surgical Care Improvement Project (SCIP)—named SIP for discharges prior to July 2006 (3Q06) | • Prophylactic antibiotic received within 1 hour prior to surgical incision**.
| • Prophylactic antibiotics discontinued within 24 hours after surgery end time**.
| • SCIP-VTE-1: Venous thromboembolism (VTE) prophylaxis ordered for surgery patients***.
| • SCIP-VTE-2: VTE prophylaxis within 24 hours pre/post surgery***.
| • SCIP Infection 2: Prophylactic antibiotic selection for surgical patients***.
| • SCIP-Infection 4: Cardiac Surgery Patients with Controlled 6AM Postoperative Serum Glucose*****.
| • SCIP Infection 6: Surgery Patients with Appropriate Hair Removal*****.
Mortality Measures (Medicare patients) | • Acute Myocardial Infarction 30-day mortality Medicare patients***.
| • Heart Failure 30-day mortality Medicare patients***.
| • Pneumonia 30-day mortality Medicare patients****.
Patients' Experience of Care | • HCAHPS patient survey***.
* Measure included in 10 measure starter set.
** Measure included in 21 measure expanded set.
*** Measure added in CY 2007 OPPS/ASC final rule with comment period.
**** Measure added in FY 2008 IPPS final rule with comment period.
***** Measure added in CY 2008 OPPS/ASC final rule with comment period (data submission required effective with discharges starting January 1, 2008).

We also stated in the FY 2008 IPPS final rule with comment period and the CY 2008 OPPS/ASC final rule with comment period that the RHQDAPU program participation requirements for the FY 2009 program would apply to additional measures we adopt for the FY 2009 program (72 FR 47361; 72 FR 66877).

Therefore, hospitals are required to start submitting data for SCIP Infection 4 and SCIP Infection 6 starting with first quarter calendar year 2008 discharges and subsequent quarters until further notice. Hospitals must submit their aggregate population and sample size counts for Medicare and non-Medicare patients. These requirements are consistent with the requirements for the other AMI, HF, PN, and SCIP process measures included in the FY 2009 measure set. The complete list of procedures for participating in the RHQDAPU program for FY 2009 are provided in the FY 2008 IPPS final rule with comment period (72 FR 47359 through 47361).

Because SCIP Cardiovascular 2 and SCIP Infection 7 had not been endorsed by a national consensus building entity by the publishing deadline for the CY 2008 OPPS/ASC final rule with comment period, we did not adopt these measures as part of the FY 2009 IPPS measure set.

In the FY 2008 IPPS proposed rule, we also solicited public comments on 18 measures and 8 measure sets that could be selected for future inclusion in the RHQDAPU program (72 FR 24805). These measures and measure sets highlight our interest in improving patient safety and outcomes of care, with a particular focus on the quality of surgical care and patient outcomes. In order to engender a broad review of potential performance measures, the list included measures that have not yet received endorsement by a national consensus review process for public reporting. The list also included measures developed by organizations other than CMS as well as measures that can be calculated using administrative data (such as claims).

We solicited public comment not only on the measures and measure sets that were listed, but also on whether there were any critical gaps or “missing” measures or measure sets. We specifically requested input concerning the following issues:

• Which of the measures or measure sets should be included in the FY 2009 RHQDAPU program or in subsequent years?

• What challenges for data collection and reporting are posed by the identified measures and measure sets?

• What improvements could be made to data collection or reporting that might offset or otherwise address those challenges?

In the FY 2008 IPPS final rule with comment period (72 FR 47351), after consideration of the public comments received, we decided not to adopt any of these measures or measure sets for FY 2009. We indicated that we will continue to consider some of these measures and measure sets for subsequent years.

2. Proposed Quality Measures for FY 2010 and Subsequent Years

a. Proposed Quality Measures for FY 2010

For FY 2010, we are proposing to require continued submission of data on 26 of the 30 existing AMI, Heart Failure, Pneumonia, HCAHPS, and SCIP measures adopted for FY 2009. As noted above, the three outcome measures do not require hospitals to submit data. In addition, we are proposing to remove the Pneumonia Oxygenation Assessment measure from the RHQDAPU program measure set. We are proposing to discontinue requiring hospitals to submit data on the Pneumonia Oxygenation Assessment measure, effective with discharges beginning January 1, 2009. Section 1886(b)(3)(B)(viii)(VI) of the Act provides the Secretary with the discretion to replace any quality measures or indicators in appropriate cases, such as where all hospitals are effectively in compliance with a measure. We interpret this to authorize the Secretary to remove or retire measures from the RHQDAPU program.

In the case of the Pneumonia Oxygenation Assessment measure, the vast majority of hospitals are performing near 100 percent. In addition, oxygenation assessment is routinely performed by hospitals for admitted patients without regard to the specific diagnosis. Thus, the measure is topped out so completely across virtually all hospitals as to provide no significant opportunity for improvement. We believe that the burden to hospitals to abstract and report these data outweighs the benefit in publicly reporting hospital level data with very little variation among hospitals. We do not expect that the retirement of the Pneumonia Oxygenation Assessment measure will result in the deterioration of care. However, if we determine otherwise, we may seek to reintroduce the measure.

The proposed removal of the Pneumonia Oxygenation Assessment measure for FY 2010 represents the first instance of retiring a measure. We intend to review other existing chart-abstracted measures recognizing the significant burden to hospitals that chart abstraction requires. In this way, we seek to maximize the value of the RHQDAPU program to promote quality improvement by hospitals and to report information that the public will find beneficial in choosing inpatient hospital services. We invite comment on the retirement of the Pneumonia Oxygenation Assessment measure. In addition, we invite comment on other measures that may be suitable for retirement from the RHQDAPU program measure set. Finally, we invite comment on the following general considerations relevant to retiring measures:

• Should CMS retire a RHQDAPU program measure when hospital performance on the measure has reached a high threshold (that is, performance on the measure has topped out) even if the measure still reflects best practice?

• Are there reasons to consider retiring a measure other than high overall performance?

• When a measure is retired on the basis of substantially complete compliance by hospitals, should data collection on the measure again be required after 1 or 2 years to assure that a high compliance level remains, or should some other way of monitoring continued hospital compliance be used?

The specifications for two of the existing measures have been updated by the NQF, effective May 2007, with respect to the applicable timing interval. For the measures previously identified as:

• AMI—Primary Percutaneous Coronary Intervention (PCI) received within 120 minutes of hospital arrival, the NQF has revised its endorsement of the specifications to reflect that the timing interval has been changed to PCI within 90 minutes of arrival.

• Pneumonia—Initial antibiotic received within 4 hours of hospital arrival, the NQF has revised its endorsement of the specifications to reflect that the initial antibiotic must be received within 6 hours of arrival.

In the FY 2008 IPPS final rule with comment period, one commenter “urged CMS to develop a policy to harmonize measures that related to payment, such as the NQF's move from a 4-hour timeframe for initial antibiotic administration for pneumonia patients to a 6-hour timeframe (72 FR 47357).” Another commenter raised the issue of the timing for PCI in the AMI topic (72 FR 47347-8). In response to these comments, we responded that if we believe that a change is an appropriate change for the RHQDAPU program, we would expect to adopt it.

Because the NQF is now endorsing different timing intervals with respect to these measures, we are proposing to also update these measures for the purposes of the FY 2010 RHQDAPU program. The updated measures are as follows:

• AMI—Timing of Receipt of Primary Percutaneous Coronary Intervention (PCI); and

• Pneumonia—Timing of receipt of initial antibiotic following hospital arrival.

We note that the technical specifications for these measures will not change, and hospitals will continue to submit the same data that they currently submit. However, beginning with discharges on or after January 1, 2009, CMS will calculate the measures using the updated timing intervals.

The NQF updated these two measures to reflect the most current consensus standards effective May 2007. Because this was after we issued the FY 2008 IPPS proposed rule, we could not adopt the updated measures in the FY 2008 IPPS final rule with comment period or CY 2008 OPPS/ASC final rule with comment period. We also recognized that we did not have in place a subregulatory process that would have permitted us to update the measures. Therefore, we announced that hospitals could suppress the public reporting of the quality data for the two measures for hospital discharges starting with April 1, 2007 discharges. We did this because we believe that hospitals should not be held to out-of-date consensus standards for public reporting pending the next regulatory cycle.

We propose, in the future, to act on updates to existing RHQDAPU program measures made by a consensus building entity such as the NQF through a subregulatory process. This is necessary to be able to utilize the most up-to-date consensus standards in the RHQDAPU program, and recognizes that neither scientific advances nor consensus building entity standard updates are linked to the timing of regulatory actions. We propose to implement updates to existing RHQDAPU program measures and provide notification through the Qualitynet Web site, and additionally in the CMS/Joint Commission Specifications Manual for National Hospital Inpatient Quality Measures where data collection and measure specifications changes are necessary. We invite comment on this proposal.

Under section 1886(b)(3)(B)(viii)(III) of the Act, the Secretary shall expand the RHQDAPU program measures beyond the measures specified as of November 1, 2003. Under section 1886(b)(3)(B)(viii)(V) of the Act, these measures, to the extent feasible and practicable, shall include measures set forth by one or more national consensus building entities.

We are proposing to add the following 43 measures for the FY 2010 payment determination: a SCIP measure that we proposed last year; 4 nursing sensitive measures; 3 readmission measures; 6 Venous Thromboembolism measures; 5 stroke measures; 9 AHRQ measures; and 15 cardiac surgery measures.

We are proposing to add SCIP Cardiovascular 2, Surgery Patients on a Beta Blocker Prior to Arrival Who Received a Beta Blocker During the Perioperative Period. This measure was initially proposed last year in the FY 2008 IPPS proposed rule, but because the NQF had not endorsed this measure at the time we issued the FY 2008 IPPS final rule with comment period or the CY 2008 OPPS/ASC final rule with comment period, we did not adopt it. For the purposes of proposing the FY 2010 RHQDAPU program measure set, CMS believes that NQF endorsement of a measure represents a standard for consensus among affected parties as specified in section 1886(b)(3)(B)(viii)(V) of the Act. The NQF is an independent health care quality endorsement organization with a diverse representation of consumer, purchaser, provider, academic, clinical, and other health care stakeholder organizations.

In November 2007, the NQF endorsed SCIP Cardiovascular 2. CMS believes that this measure targets an important process of care, beta blocker administration for noncardiac surgery patients. Therefore, we are now proposing to add SCIP Cardiovascular 2 to the RHQDAPU program measures for FY 2010. The specifications and data collection tools are currently available through the Qualitynet Web site and in the CMS/Joint Commission Specifications Manual for National Hospital Inpatient Quality Measures for hospitals to utilize and submit data for this measure. We are proposing that hospitals be required to submit data on this measure beginning with January 1, 2009 discharges.

We also are proposing to add four nursing sensitive measures to the RHQDAPU program measure set for FY 2010. The four measures are:

• Failure to Rescue

• Pressure Ulcer Prevalence and Incidence by Severity (Joint Commission developed measure; all patient data from chart abstraction)

• Patient Falls Prevalence

• Patient Falls with Injury

These measures broaden the ability of the RHQDAPU program measure set to assess care generally associated with nursing staff. In addition, these measures are directed toward outcomes that are underrepresented among the RHQDAPU program measures. These measures apply to the vast majority of inpatient stays and provide a great deal of critical information about hospital quality to consumers and stakeholders. The specifications and data collection tools are scheduled to be available in the specifications manual by December 2008 for hospitals to utilize and submit data for these measures. We are proposing that hospitals be required to submit data on these four measures effective with discharges beginning April 1, 2009. While these measures are endorsed by NQF, the Joint Commission has initiated rigorous field testing of the measures, which may not be completed until late 2008. Therefore, it is possible that the endorsement status of these measures may change in the next several months. If this rigorous field testing results in uncertainty as to the NQF endorsement status at the time we issue the FY 2009 IPPS final rule, we will defer our final decision on whether to require these measures for the RHQDAPU program for FY 2010 until the time that we issue the CY 2009 OPPS/ASC final rule with comment period. This deferral is consistent with our measure expansion during the past 2 years, when we finalized some RHQDAPU program measures in the annual OPPS/ASC final rules.

We are proposing to adopt three readmission measures for FY 2010 that will be calculated using Medicare administrative claims data. The proposed measures are:

• Pneumonia (PN) 30-Day Risk Standardized Readmission Measure (Medicare patients)

• Heart Attack (AMI) 30-Day Risk Standardized Readmission Measure (Medicare patients)

• Heart Failure (HF) 30-Day Risk Standardized Readmission Measure (Medicare patients)

These readmission measures assess both quality of care and efficiency of care. They also promote coordination of care among hospitals and other providers. They compliment the existing 30-Day Risk Standardized Mortality Measures for Pneumonia, Heart Attack, and Heart Failure. These measures require no additional data collection from hospitals. The measures are risk adjusted to account for differences between hospitals in the characteristics of their patient populations.

These three claims-based readmission measures are pending NQF endorsement. The NQF endorsement decision on these three measures is expected before we issue the FY 2009 IPPS final rule. We are proposing to add these three measures contingent upon NQF endorsement. We are also proposing to defer our decision on whether to include these measures until we issue the CY 2009 OPPS/ASC final rule, in the event that NQF endorsement status is still pending when we issue the FY 2009 IPPS final rule. This deferral is consistent with our measure expansion during the past 2 years, when we finalized some RHQDAPU program measures in the annual OPPS/ASC final rules.

We are also proposing to add six Venous Thromboembolism (VTE) measures. These measures comprehensively address a major cause of morbidity and mortality among hospitalized patients.

• VTE-1: VTE Prophylaxis

• VTE-2: VTE Prophylaxis in the ICU

• VTE-4: Patients with overlap in anticoagulation therapy

• VTE-5/6: (as combined measure) Patients with UFH dosages who have platelet count monitoring and adjustment of medication per protocol or nomogram

• VTE-7: Discharge instructions to address: follow-up monitoring, compliance, dietary restrictions and adverse drug reactions/interactions

• VTE-8: Incidence of preventable VTE

These VTE measures are pending NQF endorsement. The NQF endorsement decision on these measures is expected before we issue the FY 2009 IPPS final rule. We are proposing to add these measures contingent upon NQF endorsement. We also are proposing to defer our decision on whether to include these measures until we issue the CY 2009 OPPS/ASC final rule with comment period, in the event that NQF endorsement status is still pending when we issue the FY 2009 IPPS final rule. This deferral is consistent with our measure expansion during the past 2 years, when we finalized some RHQDAPU program measures in the annual OPPS/ASC final rules. We are proposing that hospitals be required to submit data on these six measures effective with discharges beginning January 1, 2009.

We also are proposing to add five Stroke measures that will apply only to certain identified groups under specific ICD-9-CM codes as specified in the specifications manual. These measures comprehensively address an important condition not currently covered by the RHQDAPU program that is associated with significant morbidity and mortality.

• STK-1 DVT Prophylaxis

• STK-2 Discharged on Antithrombotic Therapy

• STK-3 Patients with Atrial Fibrillation Receiving Anticoagulation Therapy

• STK-5 Antithrombotic Medication By End of Hospital Day Two

• STK-7 Dysphasia Screening

These Stroke measures are pending NQF endorsement. The NQF endorsement decision on these measures is expected before we issue the FY 2009 IPPS final rule. We are proposing to add these measures contingent upon NQF endorsement. We also are proposing to defer our adoption of these measures until we issue the CY 2009 OPPS/ASC final rule with comment period in the event that NQF endorsement status is still pending as of the time we issue the FY 2009 IPPS final rule. This approach is consistent with our measure expansion during the past 2 years, when CMS finalized some RHQDAPU program measures in the annual OPPS/ASC final rules. We are proposing that hospitals be required to submit data on these five measures effective with discharges beginning July 1, 2009.

We also are proposing to add the following nine AHRQ Patient Safety Indicators (PSI) and Inpatient Quality Indicators (IQI) that have been endorsed by the NQF:

• Patient Safety Indicator (PSI) 4—Death among surgical patients with treatable serious complications

• PSI 6—Iatrogenic pneumothorax, adult

• PSI 14—Postoperative wound dehiscence

• PSI 15—Accidental puncture or laceration

• Inpatient Quality Indicator (IQI) 4 and 11—Abdominal aortic aneurysm (AAA) mortality rate (with or without volume)

• IQI 19—Hip fracture morality rate

• IQI Mortality for selected medical conditions (composite)

• IQI Mortality for selected surgical procedures (composite)

• IQI Complication/patient safety for selected indicators (composite)

These are claims-based outcome measures. They are important additional measures that can be calculated for hospital inpatients without the burden of additional chart abstraction. Hospitals currently collect and submit these data to CMS and other insurers for reimbursement. These measures will be calculated using all-payer claims data that hospitals currently collect with respect to each patient discharge. We are proposing to require hospitals to submit to CMS the all-payer claims data that we specify in the technical specifications manual as necessary to calculate the AHRQ PSI/IQI measures. We are proposing that hospitals begin submitting data on a quarterly basis on these measures to CMS by April 1, 2010 beginning with October 1, 2009 discharges.

However, we are aware that a large number of hospitals already submit these data on a voluntary basis to third party data aggregators such as State health agencies or State hospital associations. We seek comments on whether a hospital that already submits the data necessary to calculate these measures to such entities should be permitted to authorize such an entity to transmit these data to CMS, in accordance with applicable confidentiality laws, on their behalf. This would relieve the hospital of the burden of having to submit the same data directly to CMS via the QIO Clinical Warehouse.

As an alternative to requiring that hospitals submit all-payer claims data for purposes of calculating the AHRQ PSI/IQI measures, CMS is considering whether it should initially calculate the AHRQ PSI/IQI measures using Medicare claims data only, and at a subsequent date require submission of all-payer claims data. We also seek comment on this alternative.

We also are proposing to add 15 cardiac surgery measures. Cardiac surgical procedures carry a significant risk of morbidity and mortality. We believe that the nationwide public reporting of these cardiac surgery measures would provide highly meaningful information for the public.

Currently, over 85 percent of hospitals with a cardiac surgery program submit data on the proposed cardiac surgery measures listed below to the Society of Thoracic Surgeons (STS) Cardiac Surgery Clinical Data Registry. We are proposing to accept these data from the STS registry beginning on July 1, 2009, on a quarterly basis for discharges on or after January 1, 2009. Hospitals that participate in the RHQDAPU program, but that do not submit data on the proposed cardiac surgery measures to the STS registry for discharges on or after January 1, 2009, would need to submit such data to CMS. Although we would accept cardiac surgery data from other clinical data registries, we are unaware of any other registries that collect all of the data necessary to support calculation of the proposed cardiac surgery measures. Hospitals and CMS would need to establish appropriate legal arrangements, to the extent such arrangements are necessary, to ensure that the transfer of these data from the STS registry to CMS complies with all applicable laws. By accepting these registry-based data, only those hospitals with cardiac surgery programs that do not already collect such data to submit to the STS registry will have any additional data submission burden. All of the proposed measures are currently NQF-endorsed. We are proposing that hospitals begin submitting data by July 1, 2009, on a quarterly basis on the following 15 cardiac surgery measures to the STS data registry or CMS for 1st quarter calendar year 2009 discharges:

• Participation in a Systematic Database for Cardiac Surgery

• Pre-Operative Beta Blockade

• Prolonged Intubation

• Deep Sternal Wound Infection Rate

• Stroke/CVA

• Post-Operative Renal Insufficiency

• Surgical Reexploration

• Anti-Platelet Medication at Discharge

• Beta Blockade Therapy at Discharge

• Anti-Lipid Treatment at Discharge

• Risk-Adjusted Operative Mortality for CABG

• Risk-Adjusted Operative Mortality for Aortic Valve Replacement

• Risk-Adjusted Operative Mortality for Mitral Valve Replacement/Repair

• Risk-Adjusted Mortality for Mitral Valve Replacement and CABG Surgery

• Risk-Adjusted Mortality for Aortic Valve Replacement and CABG Surgery

The following table lists the 72 proposed measures for FY 2010:

Topic | Quality measure
Heart Attack (Acute Myocardial Infarction) | • AMI-1 Aspirin at arrival *.
| • AMI-2 Aspirin prescribed at discharge *.
| • AMI-3 Angiotensin Converting Enzyme Inhibitor (ACE-I) or Angiotensin II Receptor Blocker (ARB) for left ventricular systolic dysfunction *.
| • AMI 6 Beta blocker at arrival *.
| • AMI-5 Beta blocker prescribed at discharge *.
| • AMI-7a Fibrinolytic (thrombolytic) agent received within 30 minutes of hospital arrival**.
| • AMI-4 Adult smoking cessation advice/counseling**.
| • AMI-8a Timing of Receipt of Primary Percutaneous Coronary Intervention (PCI).
Heart Failure (HF) | • HF-2 Left ventricular function assessment *.
| • HF-3 Angiotensin Converting Enzyme Inhibitor (ACE-I) or Angiotensin II Receptor Blocker (ARB) for left ventricular systolic dysfunction *.
| • HF-1 Discharge instructions**.
| • HF-4 Adult smoking cessation advice/counseling**.
Pneumonia (PN) | • PN-2 Pneumococcal vaccination status *.
| • PN-3b Blood culture performed before first antibiotic received in hospital**.
| • PN-4 Adult smoking cessation advice/counseling**.
| • PN-6 Appropriate initial antibiotic selection**.
| • PN-7 Influenza vaccination status**.
| • PN-5c Timing of receipt of initial antibiotic following hospital arrival******.
Surgical Care Improvement Project (SCIP)—named SIP for discharges prior to July 2006 (3Q06) | • SCIP-1 Prophylactic antibiotic received within 1 hour prior to surgical incision**.
| • SCIP-3 Prophylactic antibiotics discontinued within 24 hours after surgery end time**.
| • SCIP-VTE-1: Venous thromboembolism (VTE) prophylaxis ordered for surgery patients***.
| • SCIP-VTE-2: VTE prophylaxis within 24 hours pre/post surgery***.
| • SCIP Infection 2: Prophylactic antibiotic selection for surgical patients***.
| • SCIP-Infection 4: Cardiac Surgery Patients with Controlled 6AM Postoperative Serum Glucose*****.
| • SCIP Infection 6: Surgery Patients with Appropriate Hair Removal*****.
| • SCIP Cardiovascular 2: Surgery Patients on a Beta Blocker Prior to Arrival Who Received a Beta Blocker During the Perioperative Period******.
Mortality Measures (Medicare patients) | • MORT-30-AMI Acute Myocardial Infarction 30-day mortality Medicare patients***.
| • MORT-30-HF Heart Failure 30-day mortality Medicare patients***.
| • MORT-30-PN Pneumonia 30-day mortality Medicare patients****.
Patients' Experience of Care | • HCAHPS patient survey***.
Readmission Measures (Medicare patients) | • Heart Attack (AMI) 30-Day Risk Standardized Readmission Measure (Medicare patients)******.
| • Heart Failure (HF) 30-Day Risk Standardized Readmission Measure (Medicare patients)******.
| • Pneumonia (PN) 30-Day Risk Standardized Readmission Measure (Medicare patients) ******.
Inpatient Stroke Care | • STK-1 DVT Prophylaxis******.
| • STK-2 Discharged on Antithrombotic Therapy******.
| • STK-3 Patients with Atrial Fibrillation Receiving Anticoagulation Therapy******.
| • STK-5 Antithrombotic Medication By End of Hospital Day Two******.
| • STK-7 Dysphasia Screening******.
Venous Thromboembolic Care | • VTE-1: VTE Prophylaxis******.
| • VTE-2: VTE Prophylaxis in the ICU******.
| • VTE-4: Patients with overlap in anticoagulation therapy******.
| • VTE-5/6: (as combined measure) patients with UFH dosages who have platelet count monitoring and adjustment of medication per protocol or nomagram******.
| • VTE-7: Discharge instructions to address: followup monitoring, compliance, dietary restrictions, and adverse drug reactions/interactions******.
| • VTE-8: Incidence of preventable VTE******.
AHRQ Patient Safety Indicators | • Death among surgical patients with treatable serious complications******.
| • Iatrogenic pneumothorax, adult******.
| • Postoperative wound dehiscence******.
| • Accidental puncture or laceration******.
AHRQ Inpatient Quality Indicators (IQI) | • Abdominal aortic aneurysm (AAA) mortality rate (with or without volume) ******.
| • Hip fracture morality rate******.
AHRQ IQI Composite Measures | • Mortality for selected surgical procedures (composite) ******.
| • Complication/patient safety for selected indicators (composite) ******.
| • Mortality for selected medical conditions (composite) ******.
Nursing Sensitive Measures | • Failure to Rescue******.
| • Pressure Ulcer Prevalence and Incidence by Severity ******.
| • Patient Falls Prevalence******.
| • Patient Falls with Injury******.
Cardiac Surgery Measures | • Participation in a Systematic Database for Cardiac Surgery ******.
| • Pre-operative Beta Blockade******.
| • Prolonged Intubation******.
| • Deep Sternal Wound Infection Rate******.
| • Stroke/CVA******.
| • Postoperative Renal Insufficiency******.
| • Surgical Reexploration******.
| • Anti-platelet Medication at Discharge******.
| • Beta Blockade Therapy at Discharge******.
| • Anti-lipid Treatment at Discharge******.
| • Risk-Adjusted Operative Mortality for CABG******.
| • Risk-Adjusted Operative Mortality for Aortic Valve Replacement******.
| • Risk-Adjusted Operative Mortality for Mitral Valve Replacement/Repair******.
| • Risk-Adjusted Mortality for Mitral Valve Replacement and CABG Surgery******.
| • Risk-Adjusted Mortality for Aortic Valve Replacement and CABG Surgery ******.
*Measure included in 10 measure starter set.
**Measure included in 21 measure expanded set.
***Measure added in CY 2007 OPPS/ASC final rule with comment period.
****Measure added in FY 2008 IPPS final rule with comment period.
*****Measure added in CY 2008 OPPS/ASC final rule with comment period.
******Measure proposed in FY 2009 IPPS proposed rule.

In summary, we are proposing to increase the RHQDAPU program measures from 30 measures for FY 2009 to a total of 72 measures for FY 2010. The following table lists the increase in the RHQDAPU program measure set since the program's inception:

IPPS payment year | Number of RHQDAPU program quality measures | Topics covered
2005-2006 | 10 | AMI, HF, PN.
2007 | 21 | AMI, HF, PN, SCIP.
2008 | 27 | AMI, HF, PN, SCIP, Mortality, HCAHPS.
2009 | 30 | AMI, HF, PN, SCIP, Mortality, HCAHPS.
2010 | 72 | AMI, HF, PN, SCIP, Mortality, HCAHPS, Nursing Sensitive, Readmission, VTE, Stroke, AHRQ IQI/PSI measures and composites, Cardiac Surgery.

The above measures reflect our continuing commitment to quality improvement in both clinical care and patient safety. These additional measures also demonstrate our commitment to include in the RHQDAPU program only those quality measures that reflect consensus among the affected parties and that have been reviewed by a consensus building process.

To the extent that the proposed measures have not already been endorsed by a consensus building entity such as the NQF, we anticipate that they will be endorsed prior to the time that we issue the FY 2009 IPPS final rule. We intend to finalize the FY 2010 RHQDAPU program measure set in the FY 2009 IPPS final rule, contingent on the endorsement status of the proposed measures. However, to the extent that a measure has not received NQF endorsement by the time we issue the FY 2009 IPPS final rule, we intend to finalize that measure for the FY 2010 RHQDAPU program measure set in the CY 2009 OPPS/ASC final rule with comment period if the measure is endorsed prior to the time we issue the CY-2009-OPPS/ASC final rule with comment period. We are requesting public comment on these measures.

b. Possible New Quality Measures, Measure Sets, and Program Requirements for FY 2011 and Subsequent Years

The following table contains a list of 59 measures and 4 measure sets from which additional quality measures could be selected for inclusion in the RHQDAPU program. It includes measures and measure sets that highlight CMS' interest in improving patient safety and outcomes of care, with a particular focus on the quality of surgical care and patient outcomes. In order to engender a broad review of potential performance measures, the list includes measures that have not yet been considered for approval by the HQA or endorsed by a consensus review process such as the NQF. It also includes measures developed by organizations other than CMS as well as measures that are to be derived from administrative data (such as claims) that may need to be modified for specific use by the Medicare program if implemented under the RHQDAPU program.

We are seeking public comment on the measures and measure sets that are listed as well as any critical gaps or missing measures or measure sets. We specifically request input concerning the following:

• Which of the measures or measure sets should be included in the RHQDAPU program for FY 2011 or in subsequent years?

• What challenges for data collection and reporting are posed by the identified measures and measure sets? What improvements could be made to data collection or reporting that might offset or otherwise address those challenges?

We are soliciting public comment on the following measure sets for consideration in FY 2011 and subsequent years:

Possible Measures and Measure Sets for the RHQDAPU Program for FY 2011 and Subsequent Years
Topic | Quality measure
Chronic Pulmonary Obstructive Disease Measures:
Complications of Vascular Surgery | AAA stratified by open and endovascular methods.
| Carotid Endarterectomy.
| Lower extremity bypass.
Inpatient Diabetes Care Measures:
Healthcare Associated Infection | Central Line-Associated Blood Stream Infections.
| Surgical Site Infections.
Timeliness of Emergency Care Measures, including Timeliness | Median Time from ED Arrival to ED Departure for Admitted ED Patients.
| Median Time from ED Arrival to ED Departure for Discharged ED Patients.
| Admit Decision Time to ED Departure Time for Admitted Patients.
Surgical Care Improvement Project (SCIP)—named SIP for discharges prior to July 2006 (3Q06) | SCIP Infection 8—Short Half-life Prophylactic Administered Preoperatively Redosed Within 4 Hours After Preoperative Dose.
| SCIP Cardiovascular 3—Surgery Patients on a Beta Blocker Prior to Arrival Receiving a Beta Blocker on Postoperative Days 1 and 2.
Complication Measures (Medicare patients):
Healthcare Acquired Conditions | Serious reportable events in healthcare (never events).
| Pressure ulcer prevalence and incidence by severity.
| Catheter-associated UTI.
Hospital Inpatient Cancer Care Measures | Patients with early stage breast cancer who have evaluation of the axilla.
| College of American Pathologists breast cancer protocol.
| Surgical resection includes at least 12 nodes.
| College of American Pathologists Colon and rectum protocol.
| Completeness of pathologic reporting.
Serious Reportable Events in Healthcare (“Never Events”) | Surgery performed on the wrong body part.
| Surgery performed on the wrong patient.
| Wrong surgical procedure on a patient.
| Retention of a foreign object in a patient after surgery or other procedure.
| Intraoperative or immediately post-operative death in a normal health patient (defined as a Class 1 patient for purposes of the American Society of Anesthesiologists patient safety initiative).
| Patient death or serious disability associated with the use of contaminated drugs, devices, or biologics provided by the healthcare facility.
| Patient death or serious disability associated with the use or function of a device in patient care in which the device is used or functions other than as intended.
| Patient death or serious disability associated with intravascular air embolism that occurs while being cared for in a healthcare facility.
| Patient death or serious disability associated with patient elopement (disappearance) for more than four hours.
| Patient suicide, or attempted suicide resulting in serious disability, while being cared for in a healthcare facility.
| Patient death or serious disability associated with a medication error (e.g., error involving the wrong drug, wrong dose, wrong patient, wrong time, wrong rate, wrong preparation, or wrong route of administration).
| Patient death or serious disability associated with a hemolytic reaction due to the administration of ABO-incompatible blood or blood products.
| Patient death or serious disability associated with hypoglycemia, the onset of which occurs while the patient is being cared for in a health care facility.
| Stage 3 or 4 pressure ulcers acquired after admission to a health care facility.
| Patient death or serious disability due to spinal manipulative therapy.
| Patient death or serious disability associated with an electric shock while being cared for in a healthcare facility.
| Any incident in which a line designated for oxygen or other gas to be delivered to a patient contains the wrong gas or is contaminated by toxic substances.
| Patient death or serious disability associated with a burn incurred from any source while being cared for in a health care facility.
| Patient death associated with a fall while being cared for in a health care facility.
| Patient death or serious disability associated with the use of restraints or bedrails while being cared for in a health care facility.
| Any instance of care ordered by or provided by someone impersonating a physician, nurse, pharmacist, or other licensed health care provider.
| Abduction of a patient of any age.
| Sexual assault on a patient within or on the grounds of a health care facility.
| Death or significant injury of a patient or staff member resulting from a physical assault (i.e., battery) that occurs within or on the grounds of a health care facility.
Average Length of Stay Coupled with Global Readmission Measure:
Preventable Hospital-Acquired Conditions (HACs) | Catheter-Associated Urinary Tract Infection (UTI).
| Vascular Catheter-Associated Infection.
| Surgical Site Infections—Mediastinitis after Coronary Artery Bypass Graft (CABG).
| Surgical Site Infections following Elective Procedures—Total Knee Replacement, Laparoscopic Gastric Bypass, Litigation and Stripping of Varicose Veins.
| Legionnaires' Disease.
| Glycemic Control—Diabetic Ketoacidosis, Nonketotic Hypersmolar Coma, Hypoglycemic Coma.
| Iatrogenic pneumothorax.
| Delirium.
| Ventilator-Associated Pneumonia (VAP).
| Deep Vein Thrombosis (DVT)/Pulmonary Embolism (PE).
| Staphylococcus aureus Septicemia.
| Clostridium-Difficile Associated Disease (CDAD).
| Methicillin-Resistant Staphylococcus aureus (MRSA).

c. Considerations in Expanding and Updating Quality Measures Under the RHQDAPU Program

The RHQDAPU program has significantly expanded from an initial set of 10 measures to 30 measures for the FY 2009 payment determination. Initially, the conditions covered by the RHQDAPU program measures were limited to Acute Myocardial Infarction, Heart Failure, and Pneumonia, three high-cost and high-volume conditions. In expanding the process measures, Surgical Infection Prevention was the first additional focus, now supplemented by the two Venous Thromboembolism SCIP measures SCIP VTE-1 and SCIP VTE-2 for surgical patients. Of the 30 current measures, 27 require data collection from chart abstraction and surveying patients and submission of detailed data elements.

In looking forward to further expansion of the RHQDAPU program, we believe it is important to take several goals into consideration. These include: (a) Expanding the types of measures beyond process of care measures to include an increased number of outcome measures, efficiency measures, and experience-of-care measures; (b) expanding the scope of hospital services to which the measures apply; (c) considering the burden on hospitals in collecting chart-abstracted data; (d) harmonizing the measures used in the RHQDAPU program with other CMS quality programs to align incentives and promote coordinated efforts to improve quality; (e) seeking to use measures based on alternative sources of data that do not require chart abstraction or that utilize data already being broadly reported by hospitals, such as clinical data registries or all-payer claims data bases; and (f) weighing the meaningfulness and utility of the measures compared to the burden on hospitals in submitting data under the RHQDAPU program.

We request comments on how to reduce burden on the hospitals participating in the RHQDAPU program. We realize that our proposal to expand the RHQDAPU program measure set from submission of 30 measures in FY 2009 to 72 measures in FY 2010 is potentially burdensome. However, to minimize hospitals' burden, the proposed expansion uses many existing data sources, including Medicare claims and registry data. We also request comment about which measures would be most useful while minimizing burden.

(1) Expanding the Types of Measures

Section 1886(b)(3)(B)(viii)(III) of the Act requires the Secretary to add other quality measures that the Secretary determines to be appropriate for the measurement of the quality of care furnished by hospitals in inpatient settings. We intend to expand outcome measures such as mortality measures and measures of complications. For FY 2010, the proposed measure set includes:

• Patient Experience of Care. HCAHPS collects data regarding a patient's experience of care in the hospital and provides a very meaningful perspective from the patient standpoint.

• Efficiency. Efficiency is a Quality Domain, as defined by the IOM, that relates Quality and Cost. The three proposed readmission measures address hospital efficiency. These are considered efficiency measures because higher hospital readmission rates are linked to higher costs and also to lower quality of care received during hospitalization and after the initial hospital stay. We are also seeking additional ways in which to address efficiency.

• Outcomes. The three 30-day mortality measures, the STS cardiac surgery measures, the AHRQ PSI/IQI measures, and the four outcome-related nursing sensitive measures represent significant expansion of the RHQDAPU program outcome measures. Additional outcome measures are provided in the list under consideration for inclusion in the RHQDAPU program for FY 2010 and beyond.

(2) Expanding the Scope of Hospital Services To Which Measures Apply

Many of the most common and high-cost Medicare DRGs were posted on the Hospital Compare Web site in March 2008 as part of the President's transparency initiative. We have assessed these DRGs and have found that the FY 2009 RHQDAPU program measure set does not capture data regarding care in important areas such as Inpatient Diabetes Care, Chronic Obstructive Pulmonary Disease (COPD), and Chest Pain. These are areas for which we currently do not have quality measures but which constitute a significant portion of the top paying DRGs for Medicare beneficiaries. We intend to develop measures in these areas in order to provide additional quality information on the most common and high-cost conditions that affect Medicare beneficiaries. In the proposed FY 2010 measure set, measures have been expanded to comprehensively address services related to preventing Venous Thromboembolism, treatment of stroke, and nursing services.

(3) Considering the Burden on Hospitals in Collecting Chart-Abstracted Data for Measures

Although we are proposing to add additional chart-abstracted measures for FY 2010, we also are proposing to stagger the dates for which data collection for these measures must begin, which we believe will lessen the burden on hospitals as they incorporate these new measures into their systems. We also intend to work to simplify the data abstraction specifications that add to the burden of data collection.

(4) Harmonizing With Other CMS Programs

We intend to harmonize measures across settings and other CMS programs as evidenced by the implementation of the readmission measures not only for the RHQDAPU program but also for the QIOs' 9th Scope of Work (SOW) Patient Pathways/Care Transitions Theme, which also uses the 30-Day Readmission Measures and will provide assistance to engage hospitals in improving care. The 9th SOW also focuses on disparities in health care, which is another important area of interest for CMS. We plan to analyze current RHQDAPU measures to identify particular RHQDAPU program measures needed to evaluate the existence of health care disparities, to require data elements that would support better identification of health care disparities, and to find more efficient ways to ascertain this information from claims data. In addition, at least some of the CY 2008 Physician Quality Reporting Initiative (PQRI) measures align with the current RHQDAPU program AMI and SCIP measures reported starting with the FY 2007 RHQDAPU measure set. In other words, there are financial incentives that cover the same clinical processes of care across different providers and settings. For example, Aspirin for Heart Attack corresponds to PQRI measure number 28, and Surgical Infection Antibiotic Timing corresponds to PQRI measure number 20. Outpatient quality measures under the Hospital Outpatient Data Quality Data Reporting Program (HOP QDRP) are also aligned with the RHQDAPU program measures. For example, the HOP QDRP addresses Acute Myocardial Infarction treatment for transferred patients and surgical infection prevention for outpatient surgery.

(5) Using Alternative Data Sources Not Requiring Chart Abstraction

We are actively pursuing alternative data sources, including data sources that are electronically maintained. Alternative data submission methodologies that we are proposing in this rule include:

• Use of registry-collected clinical data for which there is broad existing hospital participation as previously described with the STS registry.

• Use of data collected by State data organizations, State hospital associations, Federal entities such as AHRQ, and/or other data warehouses.

In addition, we are considering adopting the following methods of data collection in the future and request comments on these methods:

• Use of the CMS Continuity Assessment Record & Evaluation (CARE) tool, a standardized data collection instrument, which would allow data to be transmitted in “real time.” This recently developed, Internet-based, quality data collection tool was developed as a part of the Post Acute Care Reform Demonstration Program mandated by section 5008 of the DRA. The CARE tool consists of a core set of assessment items, common to all patients and all care settings (meeting criteria of being predictive of cost, utilization, outcomes, among others), organized under five major domains: Medical, Functional, Social, Environmental, and Cognitive—Continuity of Care. The Internet-based CARE tool will communicate critical information across settings accurately, quickly, and efficiently with reduced time burden to providers and is intended to enhance beneficiaries' safe transitions between settings to prevent avoidable, costly events such as unnecessary rehospitalizations or medication errors. We believe that the CARE tool may provide a vehicle for collection of data elements to be used for calculating RHQDAPU program quality measures. CMS is considering utilizing the CARE tool in this manner. The Care tool is available at: www.cms.hhs.gov/PaperworkReductionActof1995/PRAL/list.asp#TopOfPage. (Viewers should select “Show only items with the word “10243”, click on show items, select CMS-10243, click on downloads, and open Appendices A & B, pdf files.)

We are particularly interested in receiving public comment on this tool. Our goal is to have a standardized, efficient, effective, interoperable, common assessment tool to capture key patient characteristics that will help CMS capture information related to resource utilization; expected costs as well as clinical outcomes; and post-discharge disposition. The CARE tool will also be useful for guiding payment and quality policies.

Specifically, we are interested in receiving public comments on how CARE might advance the use of health information technology in automating the process for collecting and submitting quality data.

• Submission of data derived from electronic versions of laboratory test reports that are issued by the laboratory in accordance with CLIA to the ordering provider and maintained by the hospital as part of the patient's medical record during and after the patient's course of treatment at the hospital. We are considering using these data to support risk adjustment for claims-based outcome measures (for example, mortality measures) and to develop other outcomes measures. This would support use of electronically maintained data and our goal of reducing manual data collection burden on hospitals.

• Submission of data currently being collected by clinical data registries in addition to the STS registry. This would support and leverage existing clinical data registries and existing voluntary clinical data collection efforts, such as:

• American College of Cardiology (ACC) data registry for Cardiac Measures.

• ACC data registry for ICD.

• ACC data registry for Carotid Stents.

• Vascular Surgery Registry for Vascular Surgical Procedures.

• ACC-sponsored “Get with the Guidelines” registry for Stroke Care.

(6) Weighing the Meaningfulness and Utility of the Measures Compared to the Burden on Hospitals in Submitting Data Under the RHQDAPU Program

We are proposing to retire one measure from the RHQDAPU program for FY 2010 because we have determined that the burden on hospitals in abstracting the data outweighs the meaningful benefit that we can ascertain from the measure. As we explained more fully above, we are seeking comments on the applicability to the RHQDAPU program of criteria currently described in the Hospital VBP Issues Paper for inclusion and retirement of measures. The Hospital VBP Issues Paper is located on the CMS Web site at the following location: http://www.cms.hhs.gov/AcuteInpatientPPS/downloads/hospital_VBP_plan_issues_paper.pdf.

3. Form and Manner and Timing of Quality Data Submission

In the FY 2007 IPPS final rule (71 FR 48031 through 48045), we set out RHQDAPU program procedures for data submission, program withdrawal, data validation, attestation, public display of hospitals” quality data, and reconsiderations. Section 1886(b)(3)(B)(viii)(I) of the Act requires that subsection (d) hospitals submit data on measures selected under that clause with respect to the applicable fiscal year. In addition, section 1886(b)(3)(B)(viii)(II) of the Act requires that each subsection (d) hospital submit data on measures selected under that clause to the Secretary in a form and manner, and at a time, specified by the Secretary. The technical specifications for each RHQDAPU program measure are listed in the CMS/Joint Commission Specifications Manual for National Inpatient Hospital Quality Measures (Specifications Manual). We update this manual semiannually or more frequently in unusual cases, and include detailed instructions and calculation algorithms for hospitals to collect and submit the data for the required measures.

The maintenance of the specifications for the measures selected by the Secretary occurs through publication of the Specifications Manual. Thus, measure selection by the Secretary occurs through the rulemaking process; whereas the maintenance of the technical specifications for the selected measures occurs through a subregulatory process so as to best maintain the specifications consistent with current science and consensus. The data submission, Specifications Manual, and submission deadlines are posted on the QualityNet Web site at www.qualitynet.org. We require that hospitals submit data in accordance with the specifications for the appropriate discharge periods. When measure specifications are updated, we are proposing to require that hospitals submit all of the data required to calculate the required measures as outlined in the Specifications Manual current as of the patient discharge date.

4. Current and Proposed RHQDAPU Program Procedures

a. RHQDAPU Program Procedures for FY 2009

In the FY 2008 IPPS final rule with comment period, we stated that the requirements for FY 2008 would continue to apply for FY 2009 (72 FR 47361). The “Reporting Hospital Quality Data for Annual Payment Update Reference Checklist” section of the QualityNet Web site contains all of the forms to be completed by hospitals participating in the RHQDAPU program.

Under these requirements hospitals must—

• Register with QualityNet, before participating hospitals initially begin reporting data, regardless of the method used for submitting data.

■ Identify a QualityNet Administrator who follows the registration process located on the QualityNet Web site (www.qualitynet.org).

■ Complete the revised RHQDAPU program Notice of Participation form (only for hospitals that did not submit a form prior to August 15, 2007). For hospitals that share the same Medicare Provider Number (now CMS Certification Number (CCN)), report the name and address of each hospital on this form.

■ Collect and report data for each of the required measures except the Medicare mortality measures (AMI, HF, and PN 30-day Mortality for Medicare Patients). Hospitals must continuously report these data. Hospitals must submit the data to the QIO Clinical Warehouse using the CMS Abstraction & Reporting Tool (CART), The Joint Commission ORYX® Core Measures Performance Measurement System, or another third-party vendor tool that has met the measurement specification requirements for data transmission to QualityNet. All submissions will be executed through QualityNet. Because the information in the QIO Clinical Warehouse is considered QIO information, it is subject to the stringent QIO confidentiality regulations in 42 CFR Part 480. The QIO Clinical Warehouse will submit the data to CMS on behalf of the hospitals.

• Submit complete data regarding the quality measures in accordance with the joint CMS/Joint Commission sampling requirements located on the QualityNet Web site for each quality measure that requires hospitals to collect and report data. These requirements specify that hospitals must submit a random sample or complete population of cases for each of the topics covered by the quality measures. Hospitals must meet the sampling requirements for these quality measures for discharges in each quarter.

• Submit to CMS on a quarterly basis aggregate population and sample size counts for Medicare and non-Medicare discharges for the four topic areas (AMI, HF, PN, and SCIP).

• Continuously collect and submit HCAHPS data in accordance with the HCAHPS Quality Assurance Guidelines, Version 3.0, located at the Web site: www.hcahpsonline.org. The QIO Clinical Warehouse has been modified to accept zero HCAHPS-eligible discharges. We remind the public to refer to the QualityNet Web site for any questions about how to submit “zero cases” information.

For the AMI 30-day, HF 30-day, and PN 30-day mortality measures, CMS uses Part A and Part B claims for Medicare fee-for-service patients to calculate the mortality measures. For FY 2009, hospital inpatient claims (Part A) from July 1, 2006 to June 30, 2007, will be used to identify the relevant patients and the index hospitalizations. Inpatient claims for the index hospitalizations and Part A and Part B claims for all inpatient, outpatient, and physician services received one year prior to the index hospitalizations are used to determine patient comorbidity, which is used in the risk adjustment calculation (see the Web site: www.qualitynet.org/dcs/ContentServer?cid=1163010398556&pagename=QnetPublic%2FPage%2FQnetTier2&c=Page). No other hospital data submission is required to calculate the mortality rates.

b. Proposed RHQDAPU Program Procedures for FY 2010

We are proposing to continue requiring the FY 2009 RHQDAPU program procedures for FY 2010 for hospitals participating in the RHQDAPU program, with the following modifications:

• Notice of Participation. New subsection (d) hospitals and existing hospitals that wish to participate in RHQDAPU for the first time must complete a revised “Reporting Hospital Quality Data for Annual Payment Update Notice of Participation” that includes the name and address of each hospital that shares the same CCN.

• Data Submission. In order to reduce the burden on hospitals that treat a low number of patients who are covered by the submission requirements, we are proposing the following:

■ AMI. We are proposing that a hospital that has five or fewer AMI discharges (both Medicare and non-Medicare combined) in a quarter will not be required to submit AMI patient level data for that quarter. We are proposing to begin implementing this requirement with discharges on or after January 1, 2009. However, the hospital must still submit its aggregate AMI population and sample size counts to CMS for that quarter as part of its quarterly RHQDAPU data submission.

■ HCAHPS. We are proposing that a hospital that has five or fewer HCAHPS-eligible discharges in any month will not be required to submit HCAHPS surveys for that month. However, the hospital must still submit its total number of HCAHPS-eligible cases for that month as part of its quarterly HCAHPS data submission. We are proposing to begin implementing this requirement with discharges on or after January 1, 2009.

■ HF. We are proposing that a hospital that has five or fewer HF discharges (both Medicare and non-Medicare combined) in a quarter will not be required to submit HF patient level data for that quarter. However, the hospital must still submit its aggregate HF population and sample size counts to CMS for that quarter as part of its quarterly RHQDAPU data submission. We are proposing to begin implementing this requirement with discharges on or after January 1, 2009.

■ PN. We are proposing that a hospital that has five or fewer PN discharges (both Medicare and non-Medicare combined) in a quarter will not be required to submit PN patient level data for that quarter. However, the hospital must still submit its aggregate PN population and sample size counts to CMS for that quarter as part of its quarterly RHQDAPU data submission. We are proposing to begin implementing this requirement with discharges on or after January 1, 2009.

■ SCIP. We are proposing that a hospital that has five or fewer SCIP discharges (both Medicare and non-Medicare combined) in a quarter will not be required to submit SCIP patient level data for that quarter. However, the hospital must still submit its aggregate SCIP population and sample size counts to CMS for that quarter as part of its quarterly RHQDAPU data submission. We are proposing to begin implementing this requirement with discharges on or after January 1, 2009.

In addition, we are proposing the following quarterly deadlines for hospitals to submit the FY 2010 AMI, HF, SCIP, PN, Stroke, VTE, and nursing sensitive measure data:

• The data submission deadline for hospitals to submit the patient level measure data for 1st calendar quarter of 2009 discharges would be August 15, 2009. Data must be submitted for each of these measures 4.5 months after the end of the preceding quarter. The specific deadlines will be listed on the QualityNet Web site.

• Even though data on applicable measures will not be due until 4.5 months after the end of the preceding quarter, hospitals must submit their aggregate population and sample size counts no later than 4 months after the end of the preceding quarter (the exact dates will be posted on the QualityNet Web site). This deadline falls approximately 15 days before the data submission deadline for the clinical process measures, and we are proposing it so that we can inform hospitals about their data submission status for the quarter before the 4.5 month clinical process measure deadline. We have found from past experience that hospitals need sufficient time to submit additional data when their counts differ from Medicare claims counts generated by CMS. We will provide hospitals with these Medicare claims counts and submitted patient level data counts on the QualityNet Web site approximately 2 weeks before the quarterly submission deadline. We plan to use the aggregate population and sample size data to assess submission completeness and adherence to sampling requirements for Medicare and non-Medicare patients.

We propose the following quarterly deadlines for hospitals to submit cardiac surgery and the AHRQ PSI/IQI measure data to CMS or other entities:

• The data submission deadline for hospitals to submit cardiac surgery patient level measure data to CMS or STS data registry for 1st calendar quarter of 2009 discharges would be June 1, 2009. Data must be submitted for each of these measures 2 months after the end of the preceding quarter. The specific deadlines will be listed on the QualityNet Web site.

• The data submission deadline for hospitals to submit the AHRQ PSI/IQI measure data to CMS for 4th calendar quarter of 2009 discharges would be April 1, 2010. Data must be submitted for each of these measures 3 months after the end of the preceding quarter. The specific deadlines will be listed on the QualityNet Web site.

We are proposing these quarterly submission deadlines for cardiac surgery and AHRQ PSI/IQI measure data to coordinate submission deadlines with external data registries and provide more timely information to the consumers. We are proposing this quarterly submission deadline for cardiac surgery measure data to coincide with the STS quarterly submission deadline that is approximately 2 months following the discharge quarter. We also propose to shorten the time lag between the date of discharge and the public reporting of these quality measures to provide more timely consumer information.

5. Current and Proposed HCAHPS Requirements

a. FY 2009 HCAHPS Requirements

For FY 2009, hospitals must continuously collect and submit HCAHPS data to the QIO Clinical Warehouse by the data submission deadlines posted on the Web site at: www.hcahpsonline.org. The data submission deadline for first quarter CY 2008 (January through March) discharges is July 9, 2008. To collect HCAHPS data, a hospital can either contract with an approved HCAHPS survey vendor that will conduct the survey and submit data on the hospital's behalf to the QIO Clinical Warehouse, or a hospital can self-administer the survey without using a survey vendor, provided that the hospital meets Minimum Survey Requirements as specified on the Web site at: www.hcahpsonline.org. A current list of approved HCAHPS survey vendors can be found on the Web site at: www.hcahpsonline.org.

Every hospital choosing to contract with a survey vendor should provide the sample frame of hospital-eligible discharges to its survey vendor with sufficient time to allow the survey vendor to begin contacting each sampled patient within 6 weeks of discharge from the hospital (see the Quality Assurance Guidelines for details about HCAHPS eligibility and sample frame creation) and must authorize the survey vendor to submit data via QualityNet on the hospital's behalf. CMS strongly recommends that the hospitals employing a survey vendor promptly review the two HCAHPS Feedback Reports (the Provider Survey Status Summary Report and the Data Submission Detail Report) that are available after the survey vendor submits the data to the QIO Clinical Warehouse. These reports enable a hospital to ensure that its survey vendor has submitted the data on time and it has been accepted into the Warehouse.

In the FY 2008 IPPS final rule with comment period (72 FR 47362), we stated that hospitals and survey vendors must participate in a quality oversight process conducted by the HCAHPS project team. Starting in July 2007, we began asking hospitals/survey vendors to correct any problems that were found and provide followup documentation of corrections for review within a defined time period. If the HCAHPS project team finds that the hospital has not made these corrections, CMS may determine that the hospital is not submitting HCAHPS data that meet the requirements for the RHQDAPU program. As part of these activities, HCAHPS project staff reviews and discusses with survey vendors and hospitals self-administering the survey their specific Quality Assurance Plans, survey management procedures, sampling and data collection protocols, and data preparation and submission procedures.

b. Proposed FY 2010 HCAHPS Requirements

For FY 2010, we are proposing continuous collection of HCAHPS in accordance with the Quality Assurance Guidelines located at the Web site: www.hcahpsonline.org, by the quarterly data submission deadlines posted on the Web site: www.hcahpsonline.org. As stated above, starting with January 1, 2009 discharges, we are proposing that hospitals that have five or fewer HCAHPS-eligible discharges in a month would not be required to submit HCAHPS patient-level data for that month as part of the quarterly data submission that includes that month, but they would still be required to submit the number of HCAHPS-eligible cases for that month as part of their HCAHPS quarterly data submission.

With respect to HCAHPS oversight, we are proposing that the HCAHPS Project Team will continue to conduct site visits and/or conference calls with hospitals/survey vendors to ensure the hospital's compliance with the HCAHPS requirements. During the onsite visit or conference call, the HCAHPS Project Team will review the hospital's/survey vendor's survey systems and will assess protocols based upon the most recent Quality Assurance Guidelines. All materials relevant to survey administration will be subject to review. The systems and program review includes, but it is not necessarily limited to: (a) survey management and data systems; (b) printing and mailing materials and facilities; (c) telephone/IVR materials and facilities; (d) data receipt, entry and storage facilities; and (e) written documentation of survey processes. Organizations will be given a defined time period in which to correct any problems and provide followup documentation of corrections for review. Hospitals/survey vendors will be subject to followup site visits and/or conference calls, as needed. If CMS determines that a hospital is noncompliant with HCAHPS program requirements, CMS may determine that the hospital is not submitting HCAHPS data that meet the requirements of the RHQDAPU program.

6. Current and Proposed Chart Validation Requirements

a. Chart Validation Requirements for FY 2009

In the FY 2008 IPPS final rule with comment period (72 FR 47361), we stated that, until further notice, we would continue to require that hospitals meet the chart validation requirements that we implemented in the FY 2006 IPPS final rule (70 FR 47421 and 47422). These requirements, as well as additional information on validation requirements, continue and are being placed on the QualityNet Web site.

We also stated in the FY 2008 IPPS final rule with comment period that, until further notice, hospitals must pass our validation requirement that requires a minimum of 80-percent reliability, based upon our chart-audit validation process (72 FR 47361).

In the FY 2008 IPPS final rule with comment period (72 FR 47362), we indicated that, for the FY 2009 update, all FY 2008 validation requirements would apply, except for the following modifications. We would modify the validation requirement to pool the quarterly validation estimates for 4th quarter CY 2006 through 3rd quarter 2007 discharges. We would also expand the list of validated measures in the FY 2009 update to add SCIP Infection-2, SCIP VTE-1, and SCIP VTE-2 (starting with 4th quarter CY 2006 discharges). We would also drop the current two-step process to determine if the hospital is submitting validated data. For the FY 2009 update, we stated that we will pool validation estimates covering the four quarters (4th quarter CY 2006 discharges through 3rd quarter 2007 discharges) in a similar manner to the current 3rd quarter pooled confidence interval.

In summary, the following chart validation requirements apply for the FY 2009 RHQDAPU program:

• The 21-measure expanded set will be validated using 4th quarter CY 2006 (4Q06) through 3rd quarter CY 2007 (3Q07) discharges.

• SCIP VTE-1, VTE-2, and SCIP Infection 2 will be validated using 2nd quarter CY 2007 and 3rd quarter CY 2007 discharges.

• SCIP Infection 4 and SCIP Infection 6 must be submitted starting with 1st quarter CY 2008 discharges but will not be validated.

• HCAHPS data must continuously be submitted and will be reviewed as discussed above.

• AMI, HF, and PN 30-day mortality measures will be calculated as discussed below.

In the FY 2008 IPPS final rule with comment period (72 FR 47364), we stated that, for the FY 2008 update and in subsequent years, we would revise and post up-to-date confidence interval information on the QualityNet Web site explaining the application of the confidence interval to the overall validation results. The data are being validated at several levels. There are consistency and internal edit checks to ensure the integrity of the submitted data; there are external edit checks to verify expectations about the volume of the data received.

b. Proposed Chart Validation Requirements for FY 2010

For FY 2010, we are proposing the following chart validation requirements to reflect the proposed 72-measure set:

• The following 21 measures from the FY 2009 RHQDAPU program measure set will be validated using data from 4th quarter 2007 through 3rd quarter 2008 discharges.

Topic | Quality measure validated from 4th quarter 2007 through 3rd quarter 2008 discharges
Heart Attack (Acute Myocardial Infarction) | Aspirin at arrival
| Aspirin prescribed at discharge
| Angiotensin Converting Enzyme Inhibitor (ACE-I) or Angiotensin II Receptor Blocker (ARB) for left ventricular systolic dysfunction
| Beta blocker at arrival
| Beta blocker prescribed at discharge
| Fibrinolytic (thrombolytic) agent received within 30 minutes of hospital arrival
| Adult smoking cessation advice/counseling
Heart Failure (HF) | Left ventricular function assessment
| Angiotensin Converting Enzyme Inhibitor (ACE-I) or Angiotensin II Receptor Blocker (ARB) for left ventricular systolic dysfunction
| Discharge instructions
| Adult smoking cessation advice/counseling
Pneumonia (PN) | Pneumococcal vaccination status
| Blood culture performed before first antibiotic received in hospital
| Adult smoking cessation advice/counseling
| Appropriate initial antibiotic selection
| Influenza vaccination status
Surgical Care Improvement Project (SCIP)—named SIP for discharges prior to July 2006 (3Q06) | Prophylactic antibiotic received within 1 hour prior to surgical incision
| SCIP-VTE-1: Venous thromboembolism (VTE) prophylaxis ordered for surgery patients***
| SCIP-VTE-2: VTE prophylaxis within 24 hours pre/post surgery***
| SCIP Infection 2: Prophylactic antibiotic selection for surgical patients***
| SCIP-Infection 3: Prophylactic antibiotics discontinued within 24 hours after surgery end time

• SCIP Infection 4 and Infection 6 will be validated using data from 2nd and 3rd quarter CY 2008 discharges.

In addition, we are proposing to include the following three measures in the FY 2010 RHQDAPU program validation process that are included the FY 2009 RHQDAPU program measure set but have been updated or deleted for the FY 2010 measure set:

• Pneumonia antibiotic prophylaxis timing within 4 hours will be validated using data from 4th quarter 2007 through 3rd quarter 2008 discharges.

• Percutaneous Coronary Intervention (PCI) Timing within 120 minutes will be validated using data from 4th quarter 2007 through 3rd quarter 2008 discharges.

• Pneumonia Oxygenation Assessment will be validated using data from 4th quarter through 3rd quarter 2008 discharges.

These measures will be submitted by hospitals during 2008 and early 2009, and are available to be validated by CMS in time for the FY 2010 RHQDAPU program payment eligibility determination.

As explained above, will also revise and post up-to-date confidence interval information on the QualityNet Web site explaining the application of the confidence interval to the overall validation results.

c. Chart Validation Methods and Requirements Under Consideration for FY 2011 and Subsequent Years

Under the current and proposed RHQDAPU program chart validation process, we validate measures by reabstracting on a quarterly basis a random sample of five patient records for each hospital. This quarterly sample results in an annual combined sample of 20 patient records across 4 calendar quarters, but because the samples are random, they do not necessarily include patient records covering each of the clinical topics.

We anticipate that the proposed expansion of the RHQDAPU program measure set to include additional clinical topics will decrease the percentage of RHQDAPU clinical topics, as well as the total number of measures, covered in many hospitals' annual chart validation. In addition to the measures for which hospitals must submit data for FY 2009 (with the exception of the Pneumonia Oxygenation Assessment measure), we have proposed that hospitals will submit data on the proposed five stroke measures, six VTE measures, and four nursing sensitive measures for FY 2010 using chart abstraction. CMS is considering the addition of these measures to the current RHQDAPU program validation process for FY 2011 and future years.

However, we are considering whether registries and other external parties that may be collecting data on proposed RHQDAPU program measures could validate the accuracy of those measures beginning in FY 2011. In addition, we note that the proposed readmission measures are calculated using Medicare claims information and do not require chart validation.

We are interested in receiving public comments from a broad set of stakeholders on the impact of adding measures to the validation process, as well as modifications to the current validation process that could improve the reliability and validity of the methodology. We specifically request input concerning the following:

• Which of the measures or measure sets should be included in the FY 2010 RHQDAPU program chart validation process or in the chart validation process for subsequent years?

• What validation challenges are posed by the RHQDAPU program measures and measure sets? What improvements could be made to validation or reporting that might offset or otherwise address those challenges?

• Should CMS switch from its current quarterly validation sample of five charts per hospital to randomly selecting a sample of hospitals, and selecting more charts on an annual basis to improve reliability of hospital level validation estimates?

• Should CMS select the validation sample by clinical topic to ensure that all publicly reported measures are covered by the validation sample?

7. Data Attestation Requirements

a. Proposed Change to Requirements for FY 2009

In the FY 2008 IPPS final rule with comment period (72 FR 47364), we stated that we would require for FY 2008 and subsequent years that hospitals attest each quarter to the completeness and accuracy of their data, including the volume of data, submitted to the QIO Clinical Warehouse in order to improve aspects of the validation checks. We stated that we would provide additional information to explain this attestation requirement, as well as provide the relevant form to be completed on the QualityNet Web site, at the same time as the publication of the FY 2008 IPPS final rule with comment period.

We are now proposing to defer the requirement in FY 2009 for hospitals to separately attest to the accuracy and completeness of their submitted data due to the burden placed on hospitals to report paper attestation forms on a quarterly basis. We continue to expect that hospitals will submit quality data that are accurate to the best of their knowledge and ability.

b. Proposed Requirements for FY 2010

For FY 2010 and subsequent years, we are soliciting public comment on the electronic implementation of the attestation requirement at the point of data submission to the QIO Clinical Warehouse. Hospitals would electronically pledge to CMS that their submitted data are accurate and complete to the best of their knowledge. Hospitals would be required to designate an authorized contact to CMS for attestation in their patient-level data submission.

Resubmissions would continue to be allowed before the quarterly submission deadline, and hospitals would be required to electronically update their pledges about data accuracy at the time of resubmission. We welcome comments on this approach.

8. Public Display Requirements

Section 1886(b)(3)(B)(viii)(VII) of the Act provides that the Secretary shall establish procedures for making data submitted under the RHQDAPU program available to the public. The RHQDAPU program quality measures are posted on the Hospital Compare Web site (http://www.hospitalcompare.hhs.gov). CMS requires that hospitals sign a “Reporting Hospital Quality Data for Annual Payment Update Notice of Participation” form when they first register to participate in the RHQDAPU program. Once a hospital has submitted a form, the hospital is considered to be an active RHQDAPU program participant until such time as the hospital submits a withdrawal form to CMS (72 FR 47360). Hospitals signing this form agree that they will allow CMS to publicly report the quality measures as required in the applicable year's RHQDAPU program requirements.

We are proposing to continue to display quality information for public viewing as required by section 1886(b)(3)(B)(viii)(VII) of the Act. Before we display this information, hospitals will be permitted to review their information as recorded in the QIO Clinical Warehouse.

Currently, hospitals that share the same CCN (formerly known as Medicare Provider Number (MPN)) must combine data collection and submission across their multiple campuses (for both clinical measures and for HCAHPS). These measures are then publicly reported as if they apply to a single hospital. We estimate that approximately 5 to 10 percent of the hospitals reported on the Hospital Compare Web site share CCNs. Beginning with the FY 2008 RHQDAPU program, hospitals must report the name and address of each hospital that shares the same CCN. This information will be gathered through the RHQDAPU program Notice of Participation form for new hospitals participating in the RHQDAPU program. To increase transparency in public reporting and improve the usefulness of the Hospital Compare Web site, we will note on the Web site where publicly reported measures combine results from two or more hospitals.

9. Proposed Reconsideration and Appeal Procedures

For FY 2009, we are proposing to continue the current RHQDAPU program reconsideration and appeal procedures finalized in the FY 2008 IPPS final rule with comment period. The deadline for submitting a request for reconsideration in connection with the FY 2009 payment determination is November 1, 2008. We also are proposing to use the same procedural rules finalized in the FY 2008 IPPS final rule with comment period (72 FR 47365). We posted these rules on the QualityNet Web site for the FY 2008 RHQDAPU program reconsideration process.

Under the procedural rules, in order to receive reconsideration for FY 2009, the hospital must—

• Submit to CMS, via QualityNet, a Reconsideration Request form (available on the QualityNet Web site) containing the following information:

○ Hospital Medicare ID number.

○ Hospital Name.

○ CMS-identified reason for failure (as provided in the CMS notification of failure letter to the hospital).

○ Hospital basis for requesting reconsideration. (This must identify the hospital's specific reason(s) for believing it met the RHQDAPU program requirements and should receive the full FY 2009 IPPS annual payment update.)

○ CEO contact information, including name, e-mail address, telephone number, and mailing address (must include physical address, not just the post office box).

○ QualityNet System Administrator contact information, including name, e-mail address, telephone number, and mailing address (must include physical address, not just the post office box).

• The request must be signed by the hospital's CEO.

• Following receipt of a request for reconsideration, CMS will—

• Provide an e-mail acknowledgement, using the contact information provided in the reconsideration request, to the CEO and the QualityNet Administrator that the letter has been received.

• Provide a formal response to the hospital CEO, using the contact information provided in the reconsideration request, notifying the facility of the outcome of the reconsideration process. CMS expects the process to take 60 to 90 days from the due date of November 1, 2008.

If a hospital is dissatisfied with the result of a RHQDAPU program reconsideration decision, the hospital may file a claim under 42 CFR part 405, subpart R (a Provider Reimbursement Review Board (PRRB) appeal).

10. Proposed RHQDAPU Program Withdrawal Deadline for FYs 2009 and 2010

We propose to accept RHQDAPU program withdrawal forms for FY 2009 from hospitals through August 15, 2008. We are proposing this deadline to provide CMS with sufficient time to update the RHQDAPU FY 2009 payment to hospitals starting on October 1, 2008. If a hospital withdraws from the program for FY 2009, it will receive a 2.0 percentage point reduction in its FY 2009 annual payment update.

We also propose to accept RHQDAPU program withdrawal forms for FY 2010 from hospitals through August 15, 2009. If a hospital withdraws from the program for FY 2010, it will receive a 2.0 percentage point reduction in its FY 2010 annual payment update.

11. Requirements for New Hospitals

In the FY 2008 IPPS final rule with comment period (72 FR 47366), we stated that a new hospital that receives a provider number on or after October 1 of each year (beginning with October 1, 2007) will be required to report RHQDAPU program data beginning with the first day of the quarter following the date the hospital registers to participate in the RHQDAPU program. For example, a hospital that receives its CCN on October 2, 2008, and signs up to participate in the RHQDAPU program on November 1, 2007, will be expected to meet all of the data submission requirements for discharges on or after January 1, 2009.

In addition, we strongly recommend that each new hospital participate in an HCAHPS dry run, if feasible, prior to beginning to collect HCAHPS data on an ongoing basis to meet RHQDAPU program requirements. We refer readers to the Web site at www.hcahpsonline.org for a schedule of upcoming dry runs. The dry run will give newly participating hospitals the opportunity to gain first-hand experience collecting and transmitting HCAHPS data without the public reporting of results. Using the official survey instrument and the approved modes of administration and data collection protocols, hospitals/survey vendors will collect HCAHPS data and submit the data to QualityNet.

12. Electronic Medical Records

In the FY 2006 IPPS final rule, we encouraged hospitals to take steps toward the adoption of electronic medical records (EMRs) that will allow for reporting of clinical quality data from the EMRs directly to a CMS data repository (70 FR 47420). We intend to begin working toward creating measures’ specifications, and a system or mechanism, or both, that will accept the data directly without requiring the transfer of the raw data into an XML file as is currently done. The Department continues to work cooperatively with other Federal agencies in the establishment of Federal Health Architecture (FHA) data standards. We encouraged hospitals that are developing systems to conform them to industry standards, and in particular to FHA data standards, once identified, taking measures to ensure that the data necessary for quality measures are captured. Ideally, such systems will also provide point-of-care decision support that enables detection of high levels of performance on the measures. Hospitals using EMRs to produce data on quality measures will be held to the same performance expectations as hospitals not using EMRs.

Due to the low volume of comments we received on this issue in response to the FY 2006 proposed IPPS rule, in the FY 2007 IPPS proposed (71 FR 24095), we again invited public comment on these requirements and related options. In the FY 2007 IPPS final rule (71 FR 48045), we summarized and addressed the additional comments we received. In the FY 2008 IPPS proposed rule (72 FR 24809), we noted that we would welcome additional comments on this issue.

In the FY 2008 IPPS final rule with comment period (72 FR 47366), we responded to the additional comments we received and noted that CMS plans to continue working with the American Health Information Community (AHIC) and other entities to explore processes through which an EMR could speed the collection and minimize the resources necessary for quality reporting. (The AHIC is a Federal advisory body, chartered in 2005 to make recommendations to the Secretary on how to accelerate the development and adoption of health information technology.) In addition, we noted that we will continue to participate in appropriate HHS studies and workgroups, as mentioned by a GAO report (GAO-07-320) about hospital quality data and their use of information technology. As appropriate, CMS will inform interested parties regarding progress in the implementation of HIT for the collection and submission of hospital quality data as specific steps, including timeframes and milestones, are identified. Current mechanisms include publication in the Federal Register as well as ongoing collaboration with external stakeholders such as the HQA, the AHA, the FAH, the AAMC, and the Joint Commission. We further anticipate that as HIT is implemented, a formal plan, including training, will be developed to assist providers in understanding and utilizing HIT in reporting quality data. In addition, we will assess the effectiveness of our communications with providers and stakeholders as it relates to all information dissemination pertinent to collecting hospital quality data as part of an independent and comprehensive external evaluation of the RHQDAPU program.

We are again soliciting comments on the issues and challenges associated with EMRs. Specifically, we invite comment on our proposed changes to our data submission requirements to be more aligned with currently implemented HIT systems, including data collection from registries and laboratory data.

We recognize the potential burden on hospitals of increased data reporting requirements for process measures that require chart abstraction. In FY 2007 IPPS rulemaking, we listed a variety of additional possible measures for future years. The measures included and emphasized additional outcomes measures. Additional measures were included for which the data sources are claims. For these, no additional data abstraction or submission would be required for reporting hospitals beyond the claims data. In proposing measures for FY 2010, we seek to emphasize outcome measures and to minimize any additional data collection burden. In addition, as provided in section 1886(b)(3)(B)(viii)(VI) and discussed in section IV.B.2.a. of this proposed rule, we are proposing to retire one measure where there is no meaningful difference among hospitals as a means of reducing data collection burden.

C. Medicare Hospital Value-Based Purchasing (VBP)

1. Medicare Hospital VBP Plan Report to Congress

Through section 5001(b) of the Deficit Reduction Act of 2005, Congress authorized the development of a plan to implement value-based purchasing (VBP) beginning FY 2009 for IPPS hospital services. By statute, the plan must address: (a) The ongoing development, selection, and modification process for measures of quality and efficiency in hospital inpatient settings; (b) reporting, collection, and validation of quality data; (c) the structure, size, and source of value-based payment adjustments; and (d) public disclosure of hospital performance data.

To develop the plan, CMS created a Hospital VBP Workgroup with members from various CMS components and the Office of the Assistant Secretary for Planning and Evaluation. The Workgroup completed an environmental scan of existing hospital VBP programs, an issue paper outlining the topics to be addressed in the plan, and an options paper presenting design alternatives for the plan.

CMS hosted two public Listening Sessions in early 2007 to solicit comments from interested parties on outstanding design questions associated with development of the plan. The perspectives expressed by stakeholders (including hospitals, consumers, and purchasers) during these sessions and in writing assisted the Workgroup in creating the Medicare Hospital VBP Plan Report to Congress. The Report was submitted to Congress on November 21, 2007.

The Medicare Hospital VBP Plan builds on the foundation of Medicare's current RHQDAPU program (discussed in section IV.B. of the preamble of this proposed rule), which, since FY 2005, has provided differential payments to hospitals that report their performance on a defined set of inpatient measures for public posting on the Hospital Compare Web site. If authorized by Congress, the VBP Plan would replace the current quality reporting program with a new program that would include both public reporting and financial incentives to drive improvements in clinical quality, patient-centeredness, and efficiency.

The proposed plan contains the following key components: (a) A performance assessment model that incorporates measures from different quality domains (that is, clinical process of care, patient experience of care, outcomes, among others) to calculate a hospital's total performance score; (b) options for translating this score into an incentive payment that would make a portion of the hospital's base DRG payment contingent on its total performance score; (c) criteria for selecting performance measures for the financial incentive and candidate measures for FY 2009 and beyond; (d) a phased approach for transitioning from the RHQDAPU program to the VBP plan; (e) proposed enhancements to the current data transmission and validation infrastructure to support VBP program requirements; (f) refinements to the Hospital Compare Web site to support expanded public reporting; and (g) an approach to monitoring VBP impacts.

The Medicare Hospital VBP Plan Report to Congress is available on the CMS Web site at: http://www.cms.hhs.gov/AcuteInpatientPPS/downloads/HospitalVBPPlanRTCFINALSUBMITTED2007.pdf.

2. Testing and Further Development of the Medicare Hospital VBP Plan

The Hospital VBP Workgroup has undertaken testing of the VBP Plan. This “dry run” or “simulation” of the Plan will use the most recent clinical process-of-care and HCAHPS measurement data available from the RHQDAPU program. New information generated by the VBP Plan testing will include: (a) Performance scores by domain; (b) total performance scores; and (c) financial impacts. Following a process similar to that used in developing the Plan, CMS will analyze this information by individual IPPS hospital, by segment of the hospital industry (that is, geographic location, size, teaching status, among others), and in aggregate for all IPPS hospitals.

The results of VBP Plan testing will be used to further develop the Plan. Priorities for Plan completion include addressing the small numbers issue (described on pages 74 and 75 of the Hospital VBP Plan Report to Congress) and developing a scoring methodology for the outcomes domain (pages 57-58 of the Hospital VBP Plan Report to Congress), which will become an additional aspect of the performance model. After completion, the Plan will be retested.

We are seeking public comments on how to take full advantage of the new information generated through this testing and further Plan development. For example: Should the testing and retesting results be publicly posted? If the testing results were to be posted, would the best location be the Hospital Compare Web site or the CMS Web site at: http://www.cms.hhs.gov? In what format would public posting be most useful to potential audiences? At what level would the data be posted—individual hospital or some higher level? Which data elements from the testing results would be most useful to share?

D. Sole Community Hospitals (SCHs) and Medicare-Dependent, Small Rural Hospitals (MDHs): Volume Decrease Adjustment (§§ 412.92 and 412.108)

1. Background

Under the IPPS, special payment protections are provided to a sole community hospital (SCH). Section 1886(d)(5)(D)(iii) of the Act defines an SCH as a hospital that, by reason of factors such as isolated location, weather conditions, travel conditions, absence of other like hospitals (as determined by the Secretary), or historical designation by the Secretary as an essential access community hospital, is the sole source of inpatient hospital services reasonably available to Medicare beneficiaries. The regulations that set forth the criteria that a hospital must meet to be classified as an SCH are located in 42 CFR 412.92 of the regulations.

Under the IPPS, separate special payment protections also are provided to a Medicare-dependent, small rural hospital (MDH). Section 1886(d)(5)(G)(iv) of the Act defines an MDH as a hospital that is located in a rural area, has not more than 100 beds, is not an SCH, and has a high percentage of Medicare discharges (not less than 60 percent in its 1987 cost reporting year or in 2 of its most recent 3 audited and settled Medicare cost reporting years). The regulations that set forth the criteria that a hospital must meet to be classified as an MDH are located in 42 CFR 412.108.

Although SCHs and MDHs are paid under special payment methodologies, they are hospitals that are paid under section 1886(d) of the Act. Like all IPPS hospitals paid under section 1886(d) of the Act, SCHs and MDHs are paid for their discharges based on the DRG weights calculated under section 1886(d)(4) of the Act.

Effective with hospital cost reporting periods beginning on or after October 1, 2000, section 1886(d)(5)(D)(i) of the Act (as amended by section 6003(e) of Pub. L. 101-239) and section 1886(b)(3)(I) of the Act (as added by section 405 of Pub. L. 106-113 and further amended by section 213 of Pub. L. 106-554), provide that SCHs are paid based on whichever of the following rates yields the greatest aggregate payment to the hospital for the cost reporting period:

• The Federal rate applicable to the hospital;

• The updated hospital-specific rate based on FY 1982 costs per discharge;

• The updated hospital-specific rate based on FY 1987 costs per discharge; or

• The updated hospital-specific rate based on FY 1996 costs per discharge.

For purposes of payment to SCHs for which the FY 1996 hospital-specific rate yields the greatest aggregate payment, payments for discharges during FYs 2001, 2002, and 2003 were based on a blend of the FY 1996 hospital-specific rate and the greater of the Federal rate or the updated FY 1982 or FY 1987 hospital-specific rate. For discharges during FY 2004 and subsequent fiscal years, payments based on the FY 1996 hospital-specific rate are 100 percent of the updated FY 1996 hospital-specific rate.

Through and including FY 2006, under section 1886(d)(5)(G) of the Act, MDHs are paid based on the Federal rate or, if higher, the Federal rate plus 50 percent of the difference between the Federal rate and the updated hospital-specific rate based on FY 1982 or FY 1987 costs per discharge, whichever is higher. However, section 5003 of Pub. L. 109-171 (DRA) modified these rules for discharges occurring on or after October 1, 2006. Section 5003(c) changed the 50 percent adjustment to 75 percent. Section 5003(b) requires that an MDH use the 2002 cost reporting year as its base year (that is, the FY 2002 updated hospital-specific rate), if that use results in a higher payment. MDHs do not have the option to use their FY 1996 hospital-specific rate.

For each cost reporting period, the fiscal intermediary/MAC determines which of the payment options will yield the highest aggregate payment. Interim payments are automatically made at the highest rate using the best data available at the time the fiscal intermediary/MAC makes the determination. However, it may not be possible for the fiscal intermediary/MAC to determine in advance precisely which of the rates will yield the highest aggregate payment by year's end. In many instances, it is not possible to forecast the outlier payments, the amount of the DSH adjustment, or the IME adjustment, all of which are applicable only to payments based on the Federal rate and not to payments based on the hospital-specific rate. The fiscal intermediary/MAC makes a final adjustment at the close of the cost reporting period after it determines precisely which of the payment rates would yield the highest aggregate payment to the hospital.

If a hospital disagrees with the fiscal intermediary's or MAC's determination regarding the final amount of program payment to which it is entitled, it has the right to appeal the fiscal intermediary's or MAC's decision in accordance with the procedures set forth in 42 CFR Part 405, Subpart R, which concern provider payment determinations and appeals.

2. Volume Decrease Adjustment for SCHs and MDHs: Data Sources for Determining Core Staff Values

Section 1886(d)(5)(D)(ii) of the Act requires that the Secretary make a payment adjustment to an SCH that experiences a decrease of more than 5 percent in its total number of inpatient discharges from one cost reporting period to the next, if the circumstances leading to the decline in discharges were beyond the SCH's control. Section 1886(d)(5)(G)(iii) of the Act requires that the Secretary make a payment adjustment to an MDH that experiences a decrease of more than 5 percent in its total number of inpatient discharges from one cost reporting period to the next, if the circumstances leading to the decline in discharges were beyond the MDH's control. These adjustments were designed to compensate an SCH or MDH for the fixed costs it incurs in the year in which the reduction in discharges occurred, which it may be unable to reduce. Such costs include the maintenance of necessary core staff and services. Our records indicate that less than 10 SCHs/MDHs request and receive this payment adjustment each year.

We believe that not all staff costs can be considered fixed costs. Using a standardized formula specified by us, the SCH or MDH must demonstrate that it appropriately adjusted the number of staff in inpatient areas of the hospital based on the decrease in the number of inpatient days. This formula examines nursing staff in particular. If an SCH or MDH has an excess number of nursing staff, the cost of maintaining those staff members is deducted from the total adjustment. One exception to this policy is that no SCH or MDH may reduce its number of staff to a level below what is required by State or local law. In other words, an SCH or MDH will not be penalized for maintaining a level of staff that is consistent with State or local requirements.

The process for determining the amount of the volume decrease adjustment can be found in Section 2810.1 of the Provider Reimbursement Manual, Part 1 (PRM-1). Fiscal intermediaries/MACs are responsible for establishing whether an SCH or MDH is eligible for a volume decrease adjustment and, if so, the amount of the adjustment. To qualify for this adjustment, the SCH or MDH must demonstrate that: (a) a decrease of more than 5 percent in total number of inpatient discharges has occurred; and (b) the circumstance that caused the decrease in discharges was beyond the control of the hospital. Once the fiscal intermediary/MAC has established that the SCH or MDH satisfies these two requirements, it will calculate the adjustment. The adjustment amount is determined by subtracting the second year's DRG payment from the lesser of: (a) the second year's costs minus any adjustment for excess staff; or (b) the previous year's costs multiplied by the appropriate IPPS update factor minus any adjustment for excess staff. The SCH or MDH receives the difference in a lump-sum payment.

In order to determine whether or not the hospital's nurse staffing level is appropriate, the fiscal intermediary/MAC compares the hospital's actual number of nursing staff in each area with the staffing of like-size hospitals in the same census region. If a hospital employs more than the reported average number of nurses for hospitals of its size and census region, the fiscal intermediary/MAC reduces the amount of the adjustment by the cost of maintaining the additional staff. The amount of the reduction is calculated by multiplying the actual number of nursing staff above the reported average by the average nurse salary for that hospital as reported on the Medicare cost report. The complete process for determining the amount of the adjustment can be found at Section 2810.1 of the PRM-1.

Prior to FY 2007, our policy was for fiscal intermediaries/MACs to obtain average nurse staffing data from the AHA HAS/Monitrend Data Book. However, in light of concerns that the Data Book had been published in 1989 and is no longer updated, in the FY 2007 IPPS rule, we proposed and finalized our policy to update the data sources and methodology used to determine the core staffing factors (that is, the average nursing staff for similar bed size and census region) for purposes of calculating the volume decrease adjustment (71 FR 48056 through 48060). We specified that for adjustment requests for decreases in discharges beginning with FY 2007 (that is, a decrease in discharges in 2007 as compared to 2006), an SCH or MDH could opt to use one of two data sources: the AHA Annual Survey or the Occupational Mix Survey, but could not use the HAS/Monitrend Data Book. (For any open adjustment requests prior to FY 2007, we allowed SCHs and MDHs the option of using the results of any of three sources: (1) The 2006 Occupational Mix Survey for cost reporting periods beginning in FY 2006; (2) the AHA Annual Survey (where available); or (3) the AHA HAS/Monitrend Data Book. We also specified a methodology for calculating those core staffing factors. For purposes of explaining the methodology, we applied it to the 2003 Occupational Mix Survey data. In our explanation, we recognized that some of the 2003 data seemed anomalous, and we solicited comments on a possible alternative methodology. However, there were no suggested alternative methodologies from the commenters. We also explained that, while we used the 2003 Occupational Mix Survey data “for purposes of describing how we would implement this methodology,” the final policy was to use FY 2006 Occupational Mix Survey data going forward. At the time we published the proposed and final rules, however, we had not yet processed the FY 2006 data, and could not present the core staffing figures that resulted from such data.

We have now processed the 2006 Occupational Mix Survey data using the methodology specified in the FY 2007 IPPS final rule and continue to see some results that cause us to believe that the methodology for calculating the core staffing factors should be slightly revised from the methodology discussed in the FY 2007 IPPS final rule (71 FR 48056 through 48060). The new methodology uses a revised formula to remove outliers from the core staffing values.

a. Occupational Mix Survey

In the FY 2007 IPPS final rule (71 FR 48055), we explained the methodology we would use for calculating core staffing values from the Occupational Mix Survey. We stated that we would calculate the nursing hours per patient day for each SCH or MDH by dividing the number of paid nursing hours (for registered nurses, licensed practical nurses and nursing aides) reported on the Occupational Mix Survey by the number of patients days reported on the Medicare cost report. The results would be grouped in the same bed-size groups and census regions as were used in the HAS/Monitrend Data Book.

We indicated that we would publish the mean number of nursing hours per patient day, for each census region and bed-size group, in the Federal Register and on the CMS Web site. For purposes of the volume decrease adjustment, the published data would be utilized in the same way as the HAS/Monitrend data: The fiscal intermediary/MAC would multiply the SCH's and MDH's number of patient days by the applicable published hours per patient day. This figure would be divided by the average number of worked hours per year per nurse (for example, 2,080 for a standard 40-hour week). The result would be the target number of core nursing staff for the particular SCH or MDH. If necessary, the cost of any excess staff (number of FTEs that exceed the published number) would be removed from the second year's costs or, if applicable, the previous year's costs multiplied by the IPPS update factor when determining the volume decrease adjustment.

In the FY 2007 IPPS final rule (71 FY 48057), we stated that we would use the results of the FY 2006 Occupational Mix Survey and begin applying the methodology for adjustments resulting from a decrease in discharges in FY 2007. Because the occupational mix survey is conducted once every 3 years, we would update the data set every 3 years. However, at the time of the FY 2007 IPPS final rule, the FY 2006 Occupational Mix Survey data were not available. In that final rule, we described our methodology using the FY 2003 occupational mix data and the FY 2003 Medicare cost report file. However, these data were used only in order to present an example of how our methodology would work. Our final policy was to use FY 2006 occupational mix and cost report data when actually processing adjustment requests.

In the FY 2007 IPPS final rule, to illustrate how we would calculate the average number of nursing hours per patient day by bed size and region, we first merged the FY 2003 Occupational Mix Survey data with the FY 2003 Medicare cost report file. We eliminated all observations for non-IPPS providers, providers who failed to complete the occupational mix survey and the providers for which provider numbers, bed counts, and/or days counts were missing.

For each provider in the pool, we calculated the number of nursing hours by adding the number of registered nurses, licensed practical nurses, and nursing aide hours reported on the Occupational Mix Survey. We divided the result of this calculation by the total number of inpatient days reported on the cost report to determine the number of nursing hours per patient day. For purposes of calculating the census regional averages for the various bed-size groups, we finalized our rule to only include observations that fell within three standard deviations of the mean of all observations, thus removing potential outliers in the data.

When the FY 2006 Occupational Mix Survey data became available, our analysis of the results indicated that the methodology for computing core staffing factors should be further revised in order to further eliminate outlier data.

After consulting with the Office of the Actuary on appropriate statistical methods to remove outlier data, we are proposing to modify our methodology for calculating the average nursing hours per patient day using the FY 2006 Occupational Mix Survey data and FY 2006 Medicare cost report data. Similar to what was finalized in the FY 2007 IPPS rule, we are proposing to merge the FY 2006 Occupational Mix Survey data with the FY 2006 Medicare cost report file. We would then eliminate all observations for non-IPPS providers, providers who failed to complete the occupational mix survey and the providers for which provider numbers, bed counts and/or days counts were missing. We would annualize the results so that the nursing hours from the Occupational Mix Survey and the patient days reported on the Medicare cost report is representative of one year.

For each provider in the pool, we would calculate the number of nursing hours by adding the number of registered nurses, licensed practical nurses, and nursing aide hours reported on the Occupational Mix Survey. We would divide the result of this calculation by the total number of patient days reported on line 12 on Worksheet S-3, Part I, Column 6 of the Medicare cost report. This includes patient days in the general acute care area and the intensive care unit area. The result is the number of nursing hours per patient day.

For purposes of calculating the census regional averages for the various bed-size groups, we are proposing a different method to remove outliers in the data. First, we would calculate the difference between the observations in the 75th percentile and the 25th percentile, which is the inter-quartile range. We would remove observations that are greater than the 75th percentile plus 1.5 times the inter-quartile range and less than the 25th percentile minus 1.5 times the inter-quartile range. This methodology, known as the Tukey method, is a common statistical method used by the Office of the Actuary. Under the standard deviation method described in the FY 2007 IPPS final rule, the mean and standard deviation can be influenced by extreme values (because the standard deviation is increased by the very observations that would otherwise be discarded from the analysis). Our proposed methodology is a more robust technique because it uses the quartile values instead of variance to describe the spread of the data, and quartiles are less influenced by extreme outlier values that may be present in the data.

Our proposed method would prevent the mean from being influenced by extreme observations and assumes that the middle 50 percent of the data has no outlier observations. The application of this methodology would result in a pool of approximately 2,578 providers. Each census region and bed group category required at least three providers in order for their average to be published. The results of the average nursing hours per patient day by bed size and region using the FY 2006 Occupational Mix Survey Data and the FY 2006 hospital cost report data are shown in the table below. As stated in the FY 2007 IPPS final rule (71 FR 48059), the results of the FY 2006 Occupational Mix Survey may be used for the volume decrease adjustment calculations for decreases in discharges beginning with cost reporting periods beginning in FYs 2006, 2007, and 2008.

Paid Nursing Hours per Patient Day
Number of beds | Census Region: New England | Census Region: Middle Atlantic | Census Region: South Atlantic | Census Region: East North Central | Census Region: East South Central | Census Region: West North Central | Census Region: West South Central | Census Region: Mountain | Census Region: Pacific
| (1) | (2) | (3) | (4) | (5) | (6) | (7) | (8) | (9)
0-49 | 25.47 | 20.60 | 21.08 | 24.52 | 20.27 | 25.92 | 22.16 | 24.52 | 20.99
50-99 | 20.99 | 18.51 | 20.36 | 23.44 | 19.00 | 22.44 | 20.44 | 22.54 | 18.89
100-199 | 18.12 | 16.31 | 17.31 | 18.87 | 17.43 | 19.50 | 17.01 | 18.70 | 16.25
200-399 | 16.92 | 13.80 | 16.23 | 17.79 | 16.06 | 18.66 | 14.56 | 16.82 | 16.63
400+ | 17.52 | 14.43 | 16.68 | 18.41 | 14.14 | 16.90 | 16.25 | 15.50 | 18.15

b. AHA Annual Survey

In the FY 2007 IPPS final rule (71 FR 48058), we also allowed SCHs or MDHs that experienced a greater than 5 percent reduction in the number of discharges in a cost reporting period the option of using the AHA Annual Survey results, where available, to compare the number of hospital's core staff with other like-sized hospitals in its geographic area. Our methodology for calculating the nursing hours per patient day using the AHA Annual Survey data and the Medicare hospital cost report was similar to the methodology using the Occupational Mix Survey data (eliminating outliers outside of three standard deviations from the mean). For this reason, as with the occupational mix data, both standard deviations and the mean could be influenced by extreme values. Therefore, we are proposing to refine our methodology to calculate the core staffing factors using the AHA Annual Survey data as well. The AHA Annual Survey contains FTE counts for registered nurses, practical and vocational nurses, nursing assistive personnel, and other personnel in both inpatient and outpatient areas of the hospital. This is consistent with the Occupational Mix Survey which collects data on both the inpatient and outpatient areas of the hospital.

In the FY 2007 IPPS final rule, we stated we would calculate the nursing hours per patient day using the AHA Annual Survey data in a similar method to the Occupational Mix Survey. Consistent with the HAS/Monitrend Data book, we would only calculate the average number of nursing staff for a bed-size/census group if there are data available for three or more hospitals. First, we would merge the AHA Annual Survey Data with the corresponding Medicare cost report. We would eliminate all observations for non-IPPS providers, providers with hospital-based SNFs, and the providers for which provider numbers, bed counts, and/or days counts were missing. We would multiply the number of nurse, licensed practical nurse, and nursing aide FTEs reported on the AHA Annual Survey by 2,080 hours to derive the number of nursing hours per year (based on a 40-hour work week). We would then divide this number by the total number of patient days reported on line 12 on Worksheet S-3, Part I, Column 6 of the Medicare cost report. In the FY 2007 IPPS final rule (71 FR 48060), we had stated that we would eliminate all providers with results beyond three standard deviations from the mean. However, to be consistent with our methodology with the Occupational Mix Survey data, we are also proposing that we would remove outliers from the AHA Annual Survey data by calculating the difference between the observations in the 75th percentile and the 25th percentile, which is the inter-quartile range. Then, we are proposing to remove observations that are greater than the 75th percentile plus 1.5 times the inter-quartile range and less than the 25th percentile minus 1.5 times the inter-quartile range. After removing the outliers, we would group the hospitals by bed size and census area to calculate the average number of nursing hours per patient day for each category. Using the 2006 AHA Annual Survey data as an example, this would result in a pool of approximately 1,205 providers. The results of the nursing hours per patient day using the 2006 AHA Annual Survey data and the Medicare cost report data are shown below. The 2006 Survey would be used for the volume decrease adjustment calculations for decreases in discharges occurring during cost reporting periods beginning in FY 2006. As we stated in the FY 2007 IPPS final rule, for other years, the corresponding AHA Annual Survey would be used for the year in which the decreased occurred. For example, if a hospital experienced a decrease between its 2004 and 2005 cost reporting periods, the fiscal intermediary/MAC would compare the hospital's 2005 staffing with the results of the 2005 AHA Annual Survey, using the methodology discussed above.

Paid Nursing Hours per Patient Day
Number of beds | Census Region: New England | Census Region: Middle Atlantic | Census Region: South Atlantic | Census Region: East North Central | Census Region: East South Central | Census Region: West North Central | Census Region: West South Central | Census Region: Mountain | Census Region: Pacific
| (1) | (2) | (3) | (4) | (5) | (6) | (7) | (8) | (9)
0-49 | 25.82 | 23.48 | 21.77 | 26.12 | 17.25 | 24.75 | 23.66 | 25.44 | 24.50
50-99 | 23.42 | 19.40 | 20.69 | 23.47 | 22.06 | 23.28 | 20.55 | 19.28 | 19.91
100-199 | 18.89 | 17.46 | 18.43 | 20.08 | 19.64 | 20.23 | 19.02 | 18.80 | 18.71
200-399 | 18.89 | 14.96 | 15.75 | 17.02 | 15.07 | 19.81 | 15.85 | 18.17 | 18.01
400+ | 18.98 | 16.66 | 17.39 | 21.59 | 16.47 | 17.71 | 15.06 | 17.76 | 21.11

E. Rural Referral Centers (RRCs) (§ 412.96)

Under the authority of section 1886(d)(5)(C)(i) of the Act, the regulations at § 412.96 set forth the criteria that a hospital must meet in order to qualify under the IPPS as an RRC. For discharges occurring before October 1, 1994, RRCs received the benefit of payment based on the other urban standardized amount rather than the rural standardized amount. Although the other urban and rural standardized amounts are the same for discharges occurring on or after October 1, 1994, RRCs continue to receive special treatment under both the DSH payment adjustment and the criteria for geographic reclassification.

Section 402 of Pub. L. 108-173 raised the DSH adjustment for other rural hospitals with less than 500 beds and RRCs. Other rural hospitals with less than 500 beds are subject to a 12-percent cap on DSH payments. RRCs are not subject to the 12-percent cap on DSH payments that is applicable to other rural hospitals (with the exception of rural hospitals with 500 or more beds). RRCs are not subject to the proximity criteria when applying for geographic reclassification, and they do not have to meet the requirement that a hospital's average hourly wage must exceed the average hourly wage of the labor market area where the hospital is located by a certain percentage (106/108 percent in FY 2008).

Section 4202(b) of Pub. L. 105-33 states, in part, “[a]ny hospital classified as an RRC by the Secretary * * * for fiscal year 1991 shall be classified as such an RRC for fiscal year 1998 and each subsequent year.” In the August 29, 1997 final rule with comment period (62 FR 45999), we reinstated RRC status for all hospitals that lost the status due to triennial review or MGCRB reclassification, but did not reinstate the status of hospitals that lost RRC status because they were now urban for all purposes because of the OMB designation of their geographic area as urban. However, subsequently, in the August 1, 2000 final rule (65 FR 47089), we indicated that we were revisiting that decision. Specifically, we stated that we would permit hospitals that previously qualified as an RRC and lost their status due to OMB redesignation of the county in which they are located from rural to urban to be reinstated as an RRC. Otherwise, a hospital seeking RRC status must satisfy the applicable criteria. We used the definitions of “urban” and “rural” specified in Subpart D of 42 CFR Part 412.

One of the criteria under which a hospital may qualify as a RRC is to have 275 or more beds available for use (§ 412.96(b)(1)(ii)). A rural hospital that does not meet the bed size requirement can qualify as an RRC if the hospital meets two mandatory prerequisites (a minimum CMI and a minimum number of discharges), and at least one of three optional criteria (relating to specialty composition of medical staff, source of inpatients, or referral volume) (§ 412.96(c)(1) through (c)(5) and the September 30, 1988 Federal Register (53 FR 38513)). With respect to the two mandatory prerequisites, a hospital may be classified as an RRC if—

• The hospital's CMI is at least equal to the lower of the median CMI for urban hospitals in its census region, excluding hospitals with approved teaching programs, or the median CMI for all urban hospitals nationally; and

• The hospital's number of discharges is at least 5,000 per year, or, if fewer, the median number of discharges for urban hospitals in the census region in which the hospital is located. (The number of discharges criterion for an osteopathic hospital is at least 3,000 discharges per year, as specified in section 1886(d)(5)(C)(i) of the Act.)

1. Case-Mix Index

Section 412.96(c)(1) provides that CMS establish updated national and regional CMI values in each year's annual notice of prospective payment rates for purposes of determining RRC status. The methodology we used to determine the national and regional CMI values is set forth in the regulations at § 412.96(c)(1)(ii). The proposed national median CMI value for FY 2009 includes all urban hospitals nationwide, and the proposed regional values for FY 2009 are the median CMI values of urban hospitals within each census region, excluding those hospitals with approved teaching programs (that is, those hospitals that train residents in an approved GME program as provided in § 413.75). These values are based on discharges occurring during FY 2007 (October 1, 2006 through September 30, 2007), and include bills posted to CMS' records through December 2007.

We are proposing that, in addition to meeting other criteria, if rural hospitals with fewer than 275 beds are to qualify for initial RRC status for cost reporting periods beginning on or after October 1, 2008, they must have a CMI value for FY 2007 that is at least—

• 1.4285; or

• The median CMI value (not transfer-adjusted) for urban hospitals (excluding hospitals with approved teaching programs as identified in § 413.75) calculated by CMS for the census region in which the hospital is located.

The proposed median CMI values by region are set forth in the following table:

Region | Case-mix index value
1. New England (CT, ME, MA, NH, RI, VT) | 1.2515
2. Middle Atlantic (PA, NJ, NY) | 1.2691
3. South Atlantic (DE, DC, FL, GA, MD, NC, SC, VA, WV) | 1.3589
4. East North Central (IL, IN, MI, OH, WI) | 1.3572
5. East South Central (AL, KY, MS, TN) | 1.3040
6. West North Central (IA, KS, MN, MO, NE, ND, SD) | 1.3557
7. West South Central (AR, LA, OK, TX) | 1.4405
8. Mountain (AZ, CO, ID, MT, NV, NM, UT, WY) | 1.4692
9. Pacific (AK, CA, HI, OR, WA) | 1.3872

The preceding numbers will be revised in the FY 2009 IPPS final rule to the extent required to reflect the updated FY 2007 MEDPAR file, which will contain data from additional bills received through March 2008.

Hospitals seeking to qualify as RRCs or those wishing to know how their CMI value compares to the criteria should obtain hospital-specific CMI values (not transfer-adjusted) from their fiscal intermediaries. Data are available on the Provider Statistical and Reimbursement (PS&R) System. In keeping with our policy on discharges, these CMI values are computed based on all Medicare patient discharges subject to the IPPS DRG-based payment.

2. Discharges

Section 412.96(c)(2)(i) provides that CMS set forth the national and regional numbers of discharges in each year's annual notice of prospective payment rates for purposes of determining RRC status. As specified in section 1886(d)(5)(C)(ii) of the Act, the national standard is set at 5,000 discharges. We are proposing to update the regional standards based on discharges for urban hospitals' cost reporting periods that began during FY 2006 (that is, October 1, 2005 through September 30, 2006), which is the latest cost report data available at the time this proposed rule was developed.

Therefore, we are proposing that, in addition to meeting other criteria, a hospital, if it is to qualify for initial RRC status for cost reporting periods beginning on or after October 1, 2008, must have as the number of discharges for its cost reporting period that began during FY 2006 a figure that is at least—

• 5,000 (3,000 for an osteopathic hospital); or

• The median number of discharges for urban hospitals in the census region in which the hospital is located, as indicated in the following table.

Region | Number of discharges
1. New England (CT, ME, MA, NH, RI, VT) | 8,158
2. Middle Atlantic (PA, NJ, NY) | 10,443
3. South Atlantic (DE, DC, FL, GA, MD, NC, SC, VA, WV) | 10,344
4. East North Central (IL, IN, MI, OH, WI) | 8,900
5. East South Central (AL, KY, MS, TN) | 7,401
6. West North Central (IA, KS, MN, MO, NE, ND, SD) | 7,988
7. West South Central (AR, LA, OK, TX) | 5,816
8. Mountain (AZ, CO, ID, MT, NV, NM, UT, WY) | 9,919
9. Pacific (AK, CA, HI, OR, WA) | 8,600

These numbers will be revised in the FY 2009 IPPS final rule based on the latest available cost reports.

We note that the median number of discharges for hospitals in each census region is greater than the national standard of 5,000 discharges. Therefore, 5,000 discharges is the minimum criterion for all hospitals.

We reiterate that, if an osteopathic hospital is to qualify for RRC status for cost reporting periods beginning on or after October 1, 2008, the hospital would be required to have at least 3,000 discharges for its cost reporting period that began during FY 2005.

F. Indirect Medical Education (IME) Adjustment (§ 412.105)

1. Background

Section 1886(d)(5)(B) of the Act provides for an additional payment amount under the IPPS for hospitals that have residents in an approved graduate medical education (GME) program in order to reflect the higher indirect patient care costs of teaching hospitals relative to nonteaching hospitals. The regulations regarding the calculation of this additional payment, known as the indirect medical education (IME) adjustment, are located at § 412.105.

The Balanced Budget Act of 1997 (Pub. L. 105-33) established a limit on the number of allopathic and osteopathic residents that a hospital may include in its full-time equivalent (FTE) resident count for direct GME and IME payment purposes. Under section 1886(h)(4)(F) of the Act, for cost reporting periods beginning on or after October 1, 1997, a hospital's unweighted FTE count of residents for purposes of direct GME may not exceed the hospital's unweighted FTE count for its most recent cost reporting period ending on or before December 31, 1996. Under section 1886(d)(5)(B)(v) of the Act, a similar limit on the FTE resident count for IME purposes is effective for discharges occurring on or after October 1, 1997.

2. IME Adjustment Factor for FY 2009

The IME adjustment to the MS-DRG payment is based in part on the applicable IME adjustment factor. The IME adjustment factor is calculated by using a hospital's ratio of residents to beds, which is represented as r, and a formula multiplier, which is represented as c, in the following equation: c x [{1 + r} .405 − 1]. The formula is traditionally described in terms of a certain percentage increase in payment for every 10-percent increase in the resident-to-bed ratio.

Section 502(a) of Pub. L. 108-173 modified the formula multiplier (c) to be used in the calculation of the IME adjustment. Prior to the enactment of Pub. L. 108-173, the formula multiplier was fixed at 1.35 for discharges occurring during FY 2003 and thereafter. In the FY 2005 IPPS final rule, we announced the schedule of formula multipliers to be used in the calculation of the IME adjustment and incorporated the schedule in our regulations at § 412.105(d)(3)(viii) through (d)(3)(xii). Section 502(a) modifies the formula multiplier beginning midway through FY 2004 and provides for a new schedule of formula multipliers for FYs 2005 and thereafter as follows:

• For discharges occurring on or after April 1, 2004, and before October 1, 2004, the formula multiplier is 1.47.

• For discharges occurring during FY 2005, the formula multiplier is 1.42.

• For discharges occurring during FY 2006, the formula multiplier is 1.37.

• For discharges occurring during FY 2007, the formula multiplier is 1.32.

• For discharges occurring during FY 2008 and fiscal years thereafter, the formula multiplier is 1.35.

Accordingly, for discharges occurring during FY 2009, the formula multiplier would be 1.35. We estimate that application of this formula multiplier for FY 2009 IME adjustment will result in an increase in IME payment of 5.5 percent for every approximately 10-percent increase in the hospital's resident-to-bed ratio.

G. Medicare GME Affiliation Provisions for Teaching Hospitals in Certain Emergency Situations; Technical Correction (§ 413.79(f)(6)(iv))

1. Background

Under section 1886(h) of the Act, as amended by section 9202 of the Consolidated Omnibus Budget Reconciliation Act (COBRA) of 1985 (Pub. L. 99-272), the Secretary is authorized to make payments to hospitals for the direct costs of approved GME programs. Section 1886(d)(5)(B) of the Act provides that prospective payment acute care hospitals that have residents in an approved GME program receive an additional payment for a Medicare discharge to reflect the higher patient care costs of teaching hospitals, that is, IME costs. Sections 1886(h)(4)(F) and 1886(d)(5)(B)(v) of the Act establish limits on the number of allopathic and osteopathic residents that hospitals may count for purposes of calculating direct GME payments and the IME adjustment, respectively, establishing hospital-specific direct GME and IME FTE resident caps. Under the authority granted by section 1886(h)(4)(H)(ii) of the Act, the Secretary issued rules to allow institutions that are members of the same affiliated group to apply their direct GME and IME FTE resident caps on an aggregate basis through a Medicare GME affiliation agreement. The Medicare regulations at §§ 413.75 and 413.76 permit hospitals, through a Medicare GME affiliation agreement, to adjust IME and direct GME FTE resident caps to reflect the rotation of residents among affiliated hospitals.

In response to circumstances in the aftermath of Hurricanes Katrina and Rita, we supplemented regulations in the April 12, 2006 interim final rule with comment period published in the Federal Register (71 FR 18654). The regulatory changes allowed certain hospitals to engage in emergency Medicare GME affiliations so that Medicare funding for GME is maintained while there are displaced residents training at various host hospitals even as the hurricane-affected hospitals are rebuilding their training programs. The modifications to the regulations at § 413.75(b) and § 413.76(f) provided flexibility for home hospitals whose residency programs have been disrupted due to an emergency to enter into emergency Medicare GME affiliation agreements with host hospitals where the hospitals may not otherwise meet the regulatory requirements to form Medicare GME affiliations. (We note that on November 27, 2007, we issued a second interim final rule with comment period providing further flexibility relating to emergency Medicare GME affiliation agreements (72 FR 66893 through 66898). We expect to address the public comments received on both interim final rules with comment period and finalize our policies in the FY 2009 IPPS final rule scheduled to be published in August 2008.)

2. Technical Correction

In the April 12, 2006 interim final rule, we revised § 413.79(f) by adding a new paragraph (6) to provide for more flexibility in Medicare GME affiliations for home hospitals located in section 1135 emergency areas to allow the home hospitals to efficiently find training sites for displaced residents. We have discovered that, under § 413.79(f)(6)(iv), in our provisions on the host hospital exception from the rolling average for the period from August 29, 2005 to June 30, 2006, we included an incorrect cross-reference to the rolling average requirements for direct GME as “§ 413.75(d).” The correct citation to the rolling average requirements for direct GME is § 413.79(d). We are proposing to correct the cross-reference under § 413.79(f)(6)(iv) to read “paragraph (d) of this section”.

H. Payments to Medicare Advantage Organizations: Collection of Risk Adjustment Data (§ 422.310)

Section 1853 of the Act requires CMS to make advance monthly payments to a Medicare Advantage (MA) organization for each beneficiary enrolled in an MA plan offered by the organization for coverage of Medicare Part A and Part B benefits. Section 1853(a)(1)(C) of the Act requires CMS to adjust the monthly payment amount for each enrollee to take into account the health status of the MA plan's enrollees. Under the CMS-Hierarchical Condition Category (HCC) risk adjustment payment methodology, CMS determines risk scores for MA enrollees for a year and adjusts the monthly payment amount using the appropriate enrollee risk score.

Under section 1853(a)(3)(B) of the Act, MA organizations are required to “submit data regarding inpatient hospital services . . . and data regarding other services and other information as the Secretary deems necessary” in order to implement a methodology for “risk adjusting” payments made to MA organizations. Risk adjustments to payments are made in order to take into account “variations in per capita costs based on [the] health status” of the Medicare beneficiaries enrolled in an MA plan offered by the organization. Submission of data on inpatient hospital services has been required with respect to services beginning on or after July 1, 1997. Submission of data on other services has been required since July 1, 1998.

While we initially required the submission of comprehensive data regarding services provided by MA organizations, including comprehensive inpatient hospital encounter data, we subsequently permitted MA organizations to submit an “abbreviated” set of data. Our regulations at 42 CFR 422.310(d)(1) currently explicitly provide MA organizations with the option of submitting an abbreviated data set. Under this provision, we currently collect limited risk adjustment data from MA organizations, primarily diagnosis data.

From calendar years 2000 through 2006, application of risk adjustment to MA payments was “phased in” with an increasing percentage of the monthly capitation payment subjected to risk adjustment. Beginning with calendar year 2007, 100 percent of payments to MA organizations are risk-adjusted. Given the increased importance of the accuracy of our risk adjustment methodology, we are proposing to amend § 422.310 to provide that CMS will collect data from MA organizations regarding each item and service provided to an MA plan enrollee. This will allow us to include utilization data and other factors that CMS can use in developing the CMS-HCC risk adjustment models in order to reflect patterns of diagnoses and expenditures in the MA program.

Specifically, we are proposing to revise § 422.310(a) to clarify that risk adjustment data are data used not only in the application of risk adjustment to MA payments, but also in the development of risk adjustment models. For example, once encounter data for MA enrollees are available, CMS would have beneficiary-specific information on the utilization of services by MA plan enrollees. These data could be used to calibrate the CMS-HCC risk adjustment models using MA patterns of diagnoses and expenditures.

We are proposing to revise §§ 422.310(b), (c), (d)(3), and (g) to clarify that the term “services” includes items and services.

We are proposing to revise § 422.310(d) to clarify that CMS has the authority to require MA organizations to submit encounter data for each item and service provided to an MA plan enrollee. The proposed revision also would clarify that CMS will determine the formats for submitting encounter data, which may be more abbreviated than those used for the fee-for-service claims data submission process.

We are proposing to revise § 422.310(f) to clarify that one of the “other” purposes for which CMS may use risk adjustment data collected under this section would be to update risk adjustment models with data from MA enrollees. In addition, when providing that CMS may use risk adjustment data for purposes other than adjusting payments as described at §§ 422.304(a) and (c), we are proposing to delete the phrase “except for medical records data” from paragraph (f). Any use of medical records data collected under paragraph (e) of § 422.310 is governed by the Privacy Act and the privacy provisions in the HIPAA. Furthermore, there may be occasions when we learn from analysis of medical record review data that some organizations have misunderstood our guidance on how to implement an operational instruction. We want to be able to provide improved guidance to MA organizations based on any insights that may emerge during analysis of the medical record review data.

In addition, we are proposing a technical correction to § 422.310(f) to clarify that risk adjustment data are used not only to adjust payments to plans described at §§ 422.301(a)(1), (a)(2), and (a)(3) (which refer to coordinated care plans and private fee-for-service plans), but also to adjust payments for ESRD enrollees and payments to MSA plans and Religious Fraternal Benefit society plans, as described at § 422.301(c).

Under § 422.310(g), we would continue to provide that data that CMS receives after the final deadline for a payment year will not be accepted for purposes of the reconciliation. However, we are proposing to revise paragraph (g)(2) of § 422.310 to change the deadline from “December 31” of the payment year to “January 31” of the year following the payment year. We are also proposing to add language to provide that CMS may adjust deadlines as appropriate.

I. Hospital Emergency Services under EMTALA (§ 489.24)

1. Background

Sections 1866(a)(1)(I), 1866(a)(1)(N), and 1867 of the Act impose specific obligations on certain Medicare-participating hospitals and CAHs. (Throughout this section of this proposed rule, when we reference the obligation of a “hospital” under these sections of the Act and in our regulations, we mean to include CAHs as well.) These obligations concern individuals who come to a hospital emergency department and request examination or treatment for a medical condition, and apply to all of these individuals, regardless of whether they are beneficiaries of any program under the Act.

The statutory provisions cited above are frequently referred to as the Emergency Medical Treatment and Labor Act (EMTALA), also known as the patient antidumping statute. EMTALA was passed in 1986 as part of the Consolidated Omnibus Budget Reconciliation Act of 1985 (COBRA), Pub. L. 99-272. Congress incorporated these antidumping provisions within the Social Security Act to ensure that individuals with emergency medical conditions are not denied essential lifesaving services. Under section 1866(a)(1)(I)(i) of the Act, a hospital that fails to fulfill its EMTALA obligations under these provisions may be subject to termination of its Medicare provider agreement, which would result in loss of all Medicare and Medicaid payments.

Section 1867 of the Act sets forth requirements for medical screening examinations for individuals who come to the hospital and request examination or treatment for a medical condition. The section further provides that if a hospital finds that such an individual has an emergency medical condition, it is obligated to provide that individual with either necessary stabilizing treatment or an appropriate transfer to another medical facility where stabilization can occur.

The EMTALA statute also outlines the obligation of hospitals to receive appropriate transfers from other hospitals. Section 1867(g) of the Act states that a participating hospital that has specialized capabilities or facilities (such as burn units, shock-trauma units, neonatal intensive care units, or, with respect to rural areas, regional referral centers as identified by the Secretary in regulation) shall not refuse to accept an appropriate transfer of an individual who requires these specialized capabilities or facilities if the hospital has the capacity to treat the individual. The regulations implementing section 1867 of the Act are found at 42 CFR 489.24. The regulations at 42 CFR 489.20(l), (m), (q), and (r) also refer to certain EMTALA requirements. The Interpretive Guidelines concerning EMTALA are found at Appendix V of the CMS State Operations Manual.

2. EMTALA Technical Advisory Group (TAG) Recommendations

Section 945 of the Medicare Prescription Drug, Improvement, and Modernization Act of 2003 (MMA), Pub. L. 108-173, required the Secretary to establish a Technical Advisory Group (TAG) to advise the Secretary on issues related to the regulations and implementation of EMTALA. The MMA specified that the EMTALA TAG be composed of 19 members, including the Administrator of CMS, the Inspector General of HHS, hospital representatives and physicians representing specific specialties, patient representatives, and representatives of organizations involved in EMTALA enforcement.

The EMTALA TAG's functions, as identified in the charter for the EMTALA TAG, were as follows: (1) Review EMTALA regulations; (2) provide advice and recommendations to the Secretary concerning these regulations and their application to hospitals and physicians; (3) solicit comments and recommendations from hospitals, physicians, and the public regarding the implementation of such regulations; and (4) disseminate information concerning the application of these regulations to hospitals, physicians, and the public. The TAG met 7 times during its 30-month term, which ended on September 30, 2007. At its meetings, the TAG heard testimony from representatives of physician groups, hospital associations, and others regarding EMTALA issues and concerns. During each meeting, the three subcommittees established by the TAG (the On-Call Subcommittee, the Action Subcommittee, and the Framework Subcommittee) developed recommendations, which were then discussed and voted on by members of the TAG. In total, the TAG submitted 55 recommendations to the Secretary. If implemented, some of the recommendations would require regulatory changes. Of the 55 recommendations developed by the TAG, 5 have already been implemented by CMS. A complete list of TAG recommendations will be available shortly in the Emergency Medical Treatment and Labor Act Technical Advisory Group final report available at the Web site: http://www.cms.hhs.gov/FACA/07_emtalatag.asp. The following recommendations have already been implemented by CMS:

• That CMS revise, in the EMTALA regulations [42 CFR 489.24(b)], the following sentence contained in the definition of “labor”: “A woman experiencing contractions is in true labor unless a physician certifies that, after a reasonable time of observation, the woman is in false labor.”

This recommendation was adopted with modification in the FY 2007 IPPS final rule (71 FR 48143). We revised the definition of “labor” in the regulations at § 489.24(b) to permit a physician, certified nurse-midwife, or other qualified medical person, acting within his or her scope of practice in accordance with State law and hospital bylaws, to certify that a woman is experiencing false labor. We issued Survey and Certification Letter S&C-06-32 on September 29, 2006, to clarify the regulation change. (The Survey and Certification Letter can be found at the following Web site: http://www.cms.hhs.gov/SurveyCertificationGenInfo/PMSR/list.asp).

• That hospitals with specialized capabilities (as defined in the EMTALA regulations) that do not have a dedicated emergency department be bound by the same responsibilities under EMTALA as hospitals with specialized capabilities that do have a dedicated emergency department.

This recommendation was adopted in the FY 2007 IPPS final rule (71 FR 48143). We added language at § 489.24(f) that makes explicit the current policy that all Medicare-participating providers with specialized capabilities are required to accept an appropriate transfer if they have the capacity to treat the individual. We issued Survey and Certification Letter S&C-06-32 on September 29, 2006, to clarify the regulation change. (The Survey and Certification Letter can be found at the following Web site: http://www.cms.hhs.gov/SurveyCertificationGenInfo/PMSR/list.asp).

• That CMS clarify the intent of regulations regarding obligations under EMTALA to receive individuals who arrive by ambulance. Specifically, the TAG recommended that CMS revise a letter of guidance that had been issued by the agency to clarify its position on the practice of delaying the transfer of an individual from an emergency medical service provider's stretcher to a bed in a hospital's emergency department.

This recommendation was adopted with modification by CMS in Survey and Certification Letter S&C-07-20, which was released on April 27, 2007. (The Survey and Certification Letter can be found at the following Web site: http://www.cms.hhs.gov/SurveyCertificationGenInfo/PMSR/list.asp).

• That CMS clarify that a hospital may not refuse to accept an individual appropriately transferred under EMTALA on the grounds that it (the receiving hospital) does not approve the method of transfer arranged by the attending physician at the sending hospital (for example, a receiving hospital may not require the sending hospital to use an ambulance transport designated by the receiving hospital). In addition, CMS should improve its communication of such clarifications with its regional offices.

This recommendation was adopted and implemented by CMS in Survey and Certification Letter S&C-07-20, which was released on April 27, 2007. (The Survey and Certification Letter can be found at the following Web site: http://www.cms.hhs.gov/SurveyCertificationGenInfo/PMSR/list.asp).

• That CMS strike the language in the Interpretive Guidelines (CMS State Operations Manual, Appendix V) that addresses telehealth/telemedicine (relating to the regulations at § 489.24(j)(1)) and replace it with language that clarifies that the treating physician ultimately determines whether an on-call physician should come to the emergency department and that the treating physician may use a variety of methods to communicate with the on-call physician. A potential violation occurs only if the treating physician requests that the on-call physician come to the emergency department and the on-call physician refuses.

This recommendation was adopted and implemented by CMS in Survey and Certification Letter S&C-07-23, which was released on June 22, 2007. (The Survey and Certification Letter can be found at the following Web site: http://www.cms.hhs.gov/SurveyCertificationGenInfo/PMSR/list.asp).

We are considering the remaining recommendations of the EMTALA TAG and may address them through future changes to or clarifications of the existing regulations or the Interpretive Guidelines, or both.

At the end of its term, the EMTALA TAG compiled a final report to the Secretary. This report includes, among other materials, minutes from each TAG meeting as well as a comprehensive list of all of the TAG's recommendations. The final report will be available shortly at the following Web site: http://www.cms.hhs.gov/FACA/07_emtalatag.asp.

3. Proposed Changes Relating to Applicability of EMTALA Requirements to Hospital Inpatients

While many issues pertaining to EMTALA involve individuals presenting to a hospital's dedicated emergency department, questions have been raised regarding the applicability of the EMTALA requirements to inpatients. We have previously discussed the applicability of the EMTALA requirements to hospital inpatients in both the May 9, 2002 IPPS proposed rule (67 FR 31475) and the September 9, 2003 stand alone final rule on EMTALA (68 FR 53243). As we stated in both of the aforementioned rules, in 1999, the United States Supreme Court considered a case (Roberts v. Galen of Virginia, 525 U.S. 249 (1999)) that involved, in part, the question of whether EMTALA applies to inpatients in a hospital. In the context of that case, the United States Solicitor General advised the Court that HHS would develop a regulation clarifying its position on that issue. In the 2003 final rule, CMS took the position that a hospital's obligation under EMTALA ends when that hospital, in good faith, admits an individual with an unstable emergency medical condition as an inpatient to that hospital. In that rule, CMS noted that other patient safeguards protected inpatients, including the CoPs as well as State malpractice law. However, in the 2003 final rule, CMS did not directly address the question of whether EMTALA's “specialized care” requirements (section 1867(g) of the Act) applied to inpatients.

As noted in section IV.I.2. of this preamble, the EMTALA TAG has developed a set of recommendations to the Secretary. One of those recommendations calls for CMS to revise its regulations to address the situation of an individual who: (1) Presents to a hospital that has a dedicated emergency department and is determined to have an unstabilized emergency medical condition; (2) is admitted to the hospital as an inpatient; and (3) the hospital subsequently determines that stabilizing the individual's emergency medical condition requires specialized care only available at another hospital.

We believe that the obligation of EMTALA does not end for all hospitals once an individual has been admitted as an inpatient to the hospital where the individual first presented with a medical condition that was determined to be an emergency medical condition. Rather, once the individual is admitted, admission only impacts on the EMTALA obligation of the hospital where the individual first presented. (Throughout this section of the preamble of this proposed rule, we will refer to the hospital where the individual first presented as the “admitting hospital.”) Section 1867(g) of the Act states: “Nondiscrimination—A participating hospital that has specialized capabilities or facilities (such as burn units, shock-trauma units, neonatal intensive care units, or (with respect to rural areas) regional referral centers as identified by the Secretary in regulation) shall not refuse to accept an appropriate transfer of an individual who requires such specialized capabilities or facilities if the hospital has the capacity to treat the individual.” Section 1867(g) of the Act therefore requires a receiving hospital with specialized capabilities to accept a request to transfer an individual with an unstable emergency medical condition as long as the hospital has the capacity to treat that individual, regardless of whether the individual had been an inpatient at the admitting hospital. Furthermore, in the September 9, 2003 final rule (68 FR 53263), we amended the regulations at § 489.24(d)(2)(i) to state: “If a hospital has screened an individual under paragraph (a) of this section and found the individual to have an emergency medical condition, and admits that individual in good faith in order to stabilize the emergency medical condition, the hospital has satisfied its special responsibilities under this section with respect to that individual” (emphasis added). We did not intend for the regulation to end the EMTALA obligation for any other hospital to which the individual may appropriately be transferred to stabilize his or her emergency medical condition. Permitting inpatient admission at the admitting hospital to end EMTALA obligations for another hospital to which an unstabilized individual is being appropriately transferred to receive specialized care would seemingly contradict the intent of section 1867(g) of the Act to ensure that hospitals with specialized capabilities provide medical treatment to individuals with emergency medical conditions to stabilize their conditions.

We also note that, as we discussed in the preamble of the September 9, 2003 stand alone final rule, once a hospital has admitted an individual as an inpatient, the individual is protected under the Medicare CoPs and may also have additional protections under State law. Accordingly, we believe it is consistent with the intent of EMTALA to limit its protections to individuals who need them most; for example, individuals who present to a hospital but may not have been formally admitted as patients and thus are not covered by other protections applicable to inpatients of the hospital. As noted above, once the individual is admitted, the CoPs apply to the admitting hospital's care of that individual. A hospital that fails to provide treatment to such individuals could face termination of its Medicare provider agreement for a violation of the CoPs. However, these CoPs do not, of course, apply to a hospital with specialized capabilities to which the individual might be transferred unless and until the individual is formally admitted as a patient at that hospital. Therefore, in order to ensure an individual the protections intended by the EMTALA statute, especially section 1867(g) of the Act (obligating a hospital with specialized capabilities to accept an appropriately transferred individual if it has the capacity to treat that individual), we believe it is appropriate to propose to clarify that section 1867(g) of the Act continues to apply so as to protect even an individual who has been admitted as an inpatient to the admitting hospital who has not been stable since becoming an inpatient. We believe that this proposed clarification is necessary to ensure that EMTALA protections are continued for individuals who are not otherwise protected by the hospital CoPs. (We note that this proposed clarification is consistent with the EMATLA TAG's recommendation that EMTALA does not apply when an individual is admitted to the hospital for an elective procedure and subsequently develops an emergency medical condition.)

We recognize that this proposed clarification that EMTALA applies to a hospital with specialized capabilities when an inpatient (who presented to the admitting hospital under EMTALA) is in need of specialized care to stabilize his or her emergency medical condition may raise concerns among the provider community that such a clarification in policy could hypothetically result in an increase in the number of transfers. However, the intention of this proposed clarification is not to encourage patient dumping to hospitals with specialized capabilities. Rather, even if the hospital with specialized capabilities has an EMTALA obligation to accept an individual who was an inpatient at the admitting hospital, the admitting hospital transferring the individual should take all steps necessary to ensure that it is providing needed treatment within its capabilities prior to transferring the individual. This means that an individual with an unstabilized emergency medical condition should be transferred only when the capabilities of the admitting hospital have been exceeded.

Accordingly, we are proposing to revise § 489.24(f) by adding to the existing text a provision that specifies that paragraph (f) also applies to an individual who has been admitted under paragraph (d)(2)(i) of the section and who has not been stabilized.

While we are not including the following in our proposed clarification, we are seeking public comments on whether the EMTALA obligation imposed on hospitals with specialized capabilities to accept appropriate transfers should apply to a hospital with specialized capabilities in the case of an individual who had a period of stability during his or her stay at the admitting hospital and is in need of specialized care available at the hospital with specialized capabilities. CMS takes seriously its duty to protect patients with emergency medical conditions as required by EMTALA. Thus, we are seeking public comments as to whether, with respect to the EMTALA obligation on the hospital with specialized capabilities, it should or should not matter if an individual who currently has an unstabilized emergency medical condition (which is beyond the capability of the admitting hospital) (1) remained unstable after coming to the hospital emergency department or (2) subsequently had a period of stability after coming to the hospital emergency department.

In summary, to implement the recommendation by the EMTALA TAG and clarify our policy regarding the applicability of EMTALA to hospital inpatients, we are proposing to amend § 489.24(f) to add a provision to state that when an individual covered by EMTALA was admitted as an inpatient and remains unstabilized with an emergency medical condition, a receiving hospital with specialized capabilities has an EMTALA obligation to accept that individual, assuming that the transfer of the individual is an appropriate transfer and the participating hospital with specialized capabilities has the capacity to treat the individual.

4. Proposed Changes to the EMTALA Physician On-Call Requirements

a. Relocation of Regulatory Provisions

During its term, the EMTALA TAG dedicated a significant portion of its discussion to a hospital's physician on-call obligations under EMTALA and made several recommendations to the Secretary regarding physician on-call requirements that are included in its final report (will be available shortly at the Web site: http://www.cms.hhs/gov/FACA/07_emtalatag.asp). The TAG recommended that CMS move the regulation discussing the obligation to maintain an on-call list from the EMTALA regulations at § 489.24(j)(1) to the regulations implementing provider agreements at § 489.20(r)(2). We agree with the TAG's recommendation. The requirement to maintain an on-call list is found at section 1866(a)(1)(I)(iii) of the Act, the section of the Act that refers to provider agreements. Section 1867 of the Act, which outlines the EMTALA requirements, makes no mention of the requirement to maintain an on-call list.

To implement the EMTALA TAG's recommendation, we are proposing to delete the provision relating to maintaining a list of on-call physicians from § 489.24(j)(1). We note that a provision for an on-call physician list is already included in the regulations as a hospital provider agreement requirement at § 489.20(r)(2). We are proposing to incorporate the language of § 489.24(j)(1) as replacement language for the existing § 489.20(r)(2) and amend the regulatory language to make it more consistent with the statutory language found at section 1866(a)(1)(I)(iii) of the Act. Proposed revised § 489.20(r)(2) would read: “An on-call list of physicians on its medical staff available to provide treatment necessary after the initial examination to stabilize individuals with emergency medical conditions who are receiving services required under § 489.24 in accordance with the resources available to the hospital; and”. These proposed changes would make the regulations consistent with the statutory basis for maintaining an on-call list.

The EMTALA TAG made additional recommendations regarding how a hospital would satisfy its on-call list obligations, including calling for an annual plan by the hospital and medical staff for on-call coverage that would include an assessment of factors such as the hospital's capabilities and services, community need for emergency department services as indicated by emergency department visits, emergent transfers, physician resources, and past performance of previous on-call plans. The TAG also recommended that a hospital have a backup plan for viable patient care options when an on-call physician is not available, including such factors as telemedicine, other staff physicians, transfer agreements, and regional or community call arrangements. While community call arrangements are discussed below, we intend to address the remainder of the TAG recommendations at a later date.

b. Shared/Community Call

As noted in the previous section, section 1866(a)(1)(I)(iii) of the Act states, as a requirement for participation in the Medicare program, that a hospital must keep a list of physicians who are on call for duty after the initial examination to provide treatment necessary to stabilize an individual with an emergency medical condition. If a physician on the list is called by a hospital to provide stabilizing treatment and either fails or refuses to appear within a reasonable period of time, the hospital and that physician may be in violation of EMTALA as provided for under section 1867(d)(1)(C) of the Act. Thus, hospitals are required to maintain a list of on-call physicians, and physicians or hospitals, or both, may be held responsible under the EMTALA statute if a physician who is on call fails or refuses to appear within a reasonable period of time.

In the May 9, 2002 proposed rule (67 FR 31471), we stated that we were aware of hospitals' increasing concerns regarding their physician on-call requirements. Specifically, we noted that we were aware of reports of physicians, particularly specialty physicians, severing their relationships with hospitals because of on-call obligations, especially when those physicians belong to more than one hospital medical staff. We further noted that physician attrition from these medical staffs could result in hospitals having no specialty physician service coverage for their patients. In the September 9, 2003 final rule (68 FR 53264), we clarified the regulations at § 489.24(j) to permit on-call physicians to schedule elective surgery during the time that they are on call and to permit on-call physicians to have simultaneous on-call duties. We also specified that physicians, including specialists and subspecialists, are not required to be on call at all times, and that the hospital must have policies and procedures to be followed when a particular specialty is not available or the on-call physician cannot respond because of situations beyond his or her control. We expected these clarifications would help to improve access to physician services for all hospital patients by permitting hospitals flexibility to determine how best to maximize their available physician resources. Furthermore, we expected that these clarifications would permit hospitals to continue to attract physicians to serve on their medical staffs, thereby continuing to provide services to all patients, including those individuals who are covered by EMTALA.

As part of its recommendations concerning physician on-call requirements, the EMTALA TAG recommended that hospitals be permitted to participate in “community call.” Specifically, the language of the recommendation states: “The TAG recommends that CMS clarify its position regarding shared or community call: that such community call arrangements are acceptable if the hospitals involved have formal agreements recognized in their policies and procedures, as well as backup plans. It should also be clarified that a community call arrangement does not remove a hospital's obligation to perform an MSE [medical screening examination].” The TAG also recommended in a subsequent recommendation that “A hospital may satisfy its on-call coverage obligation by participation in an approved community/regional call coverage program. (CMS to determine appropriate approval process).”

We believe that community call (as described below) would afford additional flexibility to hospitals providing on-call services and improve access to specialty physician services for individuals in an emergency department. Therefore, we are proposing to amend our regulations at § 489.24(j) to provide that hospitals may comply with the on-call list requirement specified at § 489.20(r)(2) (under our proposed revision), by participating in a formal community call plan so long as the plan meets the elements outlined below. We are further proposing to revise the regulations to state that, notwithstanding participation in a community call plan, hospitals are still required to perform medical screening examinations on individuals who present seeking treatment and to provide for an appropriate transfer when appropriate.

We propose “community call,” to be a formal on-call plan that permits a specific hospital in a region to be designated as the on-call facility for a specific time period, or for a specific service, or both. For example, if there are two hospitals that choose to participate in community call, Hospital A could be designated as the on-call facility for the first 15 days of each month and Hospital B could be designated as the on-call facility for the rest of each month. Alternatively, Hospital A could be designated as on-call for cases requiring specialized interventional cardiac care, while Hospital B could be designated as on-call for neurosurgical cases. We anticipate that hospitals and their communities would have the flexibility to develop a plan that reflects their local resources and needs. Such a community on-call plan will allow various physicians in a certain specialty in the aggregate to be on continuous call (24 hours a day, 7 days a week), without putting a continuous call obligation on any one physician. We note that generally if an individual arrives at a hospital other than the designated on-call facility, is determined to have an unstabilized emergency medical condition, and requires the services of an on-call specialist, the individual would be transferred to the designated on-call facility in accordance with the community call plan.

As noted above, we are proposing that a community call plan must be a formal plan among the participating hospitals. While we do not believe it is necessary for the formal community call plan to be subject to preapproval by CMS, if an EMTALA complaint investigation is initiated, the plan will be subject to review and enforcement by CMS. We are proposing that, at a minimum, hospitals must include the following elements when devising a formal community call plan:

• The community call plan would include a clear delineation of on-call coverage responsibilities, that is, when each hospital participating in the plan is responsible for on-call coverage.

• The community call plan would define the specific geographic area to which the plan applies.

• The community call plan would be signed by an appropriate representative of each hospital participating in the plan.

• The community call plan would ensure that any local and regional EMS system protocol formally includes information on community on-call arrangements.

• Hospitals participating in the community call plan would engage in an analysis of the specialty on-call needs of the community for which the plan is effective.

• The community call plan would include a statement specifying that even if an individual arrives at the hospital that is not designated as the on-call hospital, that hospital still has an EMTALA obligation to provide a medical screening examination and stabilizing treatment within its capability, and hospitals participating in community call must abide by the EMTALA regulations governing appropriate transfers.

• There would be an annual reassessment of the community call plan by the participating hospitals.

Proposed revised § 489.24(j) would read “Availability of on-call physicians. In accordance with the on-call list requirements specified in § 489.20(r)(2), a hospital must have written policies and procedures in place—(1) To respond to situations in which a particular specialty is not available or the on-call physician cannot respond because of circumstances beyond the physician's control; and (2) To provide that emergency services are available to meet the needs of individuals with emergency medical conditions if a hospital elects to—(i) Permit on-call physicians to schedule elective surgery during the time that they are on call; (ii) Permit on-call physicians to have simultaneous on-call duties; and (iii) Participate in a formal community call plan. Notwithstanding participation in a community call plan, hospitals are still required to perform medical screening examinations on individuals who present seeking treatment and to conduct appropriate transfers. The formal community call plan must include the following elements: [proposed elements noted above in the bullets are included in regulations text].”

We welcome public comments on the proposed elements of the formal community call plan noted above. We are also soliciting public comments on whether individuals believe it is important that, in situations where there is a governing State or local agency that would have authority over the development of a formal community call plan, the plan be approved by that agency. In summary, we are proposing that, as part of the obligation to have an on-call list, hospitals may choose to participate in community call, provided that the formal community call plan includes, at a minimum, the elements noted in bullets above. Additionally, each hospital participating in the community call plan must have written policies and procedures in place to respond to situations in which the on-call physician is unable to respond due to situations beyond his or her control. We are further proposing that a hospital would still be responsible for performing medical screening examinations on individuals who present to the hospital seeking treatment and conducting appropriate transfers, regardless of which hospital has on-call responsibilities on a particular day.

5. Proposed Technical Change to Regulations

In the FY 2008 IPPS final rule with comment period (72 FR 47413), we revised § 489.24(a)(2) (which refers to the nonapplicability of the EMTALA provisions in an emergency area during an emergency period) to conform it to the changes made to section 1135 of the Act by the Pandemic and All-Hazards Preparedness Act. When we made the change to the regulations, we inadvertently left out language consistent with the following statutory language found in section 1135: “pursuant to an appropriate State emergency preparedness plan; or in the case of a public health emergency described in subsection (g)(1)(B) that involves a pandemic infectious disease, pursuant to a State pandemic preparedness plan or a plan referred to in clause (i), whichever is applicable in the State.” We also inadvertently left out the phrase in section 1135 “during an emergency period” when we state the nonapplicability of the sanctions in an emergency area. We are proposing to revise the language at § 489.24(a)(2) to include the aforementioned language to conform the regulation text to the statutory language. Proposed revised § 489.24(a)(2) would read as follows: “Nonapplicability of provisions of this section. Sanctions under this section for an inappropriate transfer during a national emergency or for the direction or relocation of an individual to receive medical screening at an alternate location pursuant to an appropriate State emergency preparedness plan or, in the case of a public health emergency that involves a pandemic infectious disease, pursuant to a State pandemic preparedness plan do not apply to a hospital with a dedicated emergency department located in an emergency area during an emergency period, as specified in section 1135(g)(1) of the Act. A waiver of these sanctions is limited to a 72-hour period beginning upon the implementation of a hospital disaster protocol, except that, if a public health emergency involves a pandemic infectious disease (such as pandemic influenza), the waiver will continue in effect until the termination of the applicable declaration of a public health emergency, as provided for by section 1135(e)(1)(B) of the Act.”

J. Application of Incentives To Reduce Avoidable Readmissions to Hospitals

1. Introduction

A significant portion of Medicare spending—$15 billion each year—is related to hospital readmissions. According to a 2005 MedPAC analysis ,¹⁷ nearly 18 percent of beneficiaries who are discharged from the hospital are readmitted within 30 days, resulting in approximately 2 million readmissions. By MedPAC's method, over 13 percent of 30-day hospital readmissions and an associated $12 billion in spending (⅘ of all Medicare spending for readmissions) were found to be potentially avoidable. Beyond cost considerations, readmissions may reflect poor quality of care and affect beneficiaries” quality of life. Though not all readmissions are avoidable, hospitals should share accountability for readmission rates that could be much lower through the application of evidence-based best practices. Interventions that have been shown to reduce readmissions include better quality of care during the hospitalization, more complete care plans, emphasis on coordination of care at the point of transitions to home or postacute care, better use of after-hospital care, and more active involvement of patients and caregivers in decision making.

¹⁷ Medicare Payment Advisory Commission: Report to Congress: Promoting Greater Efficiency in Medicare. June 2007, Chapter 5, page 103.

The application of incentives to reduce hospital readmissions, including payment and public reporting approaches, could promote the adoption and development of best practice interventions for averting avoidable readmissions, resulting in higher quality of care for Medicare beneficiaries and reduction in unnecessary costs for the program. Under the current payment system, readmissions are financially rewarding for hospitals. Application of payment incentives to encourage reduction of avoidable readmissions could help address unintended incentives in the current payment system.

In this section, following discussion of readmission issues related to measurement, accountability, and interventions, we are presenting three approaches to applying incentives to reduce avoidable readmissions for public comment: (1) Direct adjustment to hospital DRG payments for avoidable readmissions, (2) adjustments to hospital DRG payments through a performance-based payment methodology, and (3) public reporting of readmission rates. We note that either type of adjustment to hospital payments for readmissions would likely require new statutory authority for the Medicare program. We are seeking public comments on all of the ideas presented in this section.

2. Measurement

Routine, valid, and reliable measurement of hospital-specific rates of readmissions would be a prerequisite to any method of applying incentives for reducing hospital readmissions. Measurement data should be meaningful and actionable for hospitals and should be fair to encourage trust and engagement in the effort. Risk adjustment of measurement data is necessary to account for patientπspecific factors that influence the likelihood of readmission, such as age, disease severity, and comorbidities.

Another important consideration in measurement of readmission rates is the time period from discharge to readmission (for example, 7, 15, 30, or 90 days). In section IV.B. of the preamble of this proposed rule, measures of risk-adjusted 30-day readmission rates are proposed for the RHQDAPU program. The 9th Scope of Work for Medicare Quality Improvement Organizations (QIO 9th SOW) also includes 30-day readmission measures for communities.

Measures should be aligned across settings of care. Hospitals are not the only providers that affect the occurrence of readmissions. For example, the care delivered by SNFs and HHAs also has an important impact on whether a beneficiary is readmitted. Data from aligned readmissions measures, applicable to various settings of care, would provide better information about care coordination problems within and between settings. Alignment of readmissions measures would also facilitate more powerful application of incentives across Medicare's payment systems.

Another consideration is whether to focus on all readmissions or to focus on those that are known to be higher cost, more easily preventable, or most frequently occurring. For example, numerous hospitals have successfully implemented programs to reduce readmissions of heart failure patients, so more is known about the prevention of heart failure readmissions. Further, heart failure readmissions may be more costly than readmissions for other conditions. Another focus of efforts to prevent readmissions could be patients with multiple chronic conditions, who may be at the highest risk to experience readmissions.

3. Accountability

In the assignment of accountability for readmissions, risk adjustment of measurement data is one consideration of fairness; however, other factors must also be considered, including avoidability and shared accountability. Most clinicians would agree that a goal of zero readmissions may not be appropriate, as an extremely low rate of readmissions could indicate restricted access to needed medical services, overuse of hospital resources during the initial hospitalization (for example, prolonged length of stay), or excessive intensity of post-acute care services. Adequate risk adjustment could help to elucidate the avoidability of readmissions by identifying an expected readmission rate for a given patient or patient population.

Shared accountability is another important consideration. Hospitals are clearly accountable for the care provided during hospitalization and can also affect the quality of care provided after the hospitalization, but hospitals are not the only accountable entity. Both during and after hospitalization, physicians and other health professionals share accountability for the quality of care. Other provider entities, including skilled nursing facilities, rehabilitation facilities, home health agencies, and end-stage renal disease facilities, also share accountability for avoidable readmissions. Medicare beneficiaries themselves and their caregivers and social support systems play important roles in avoiding readmissions, particularly when beneficiaries have been discharged to home.

Assignment of accountability also requires consideration of situations where the patient presents for readmission with a different diagnosis or presents to a different hospital. If the locus of accountability were at the hospital level, a second hospital should not be held accountable for a readmission resulting from a first hospital's lack of adherence to evidence-based best practices for averting readmissions. If the locus of accountability were at the community level, then shared accountability could encourage hospitals to work together to reduce readmissions.

4. Interventions

A number of interventions have been identified as best practices for averting avoidable readmissions.¹⁸,¹⁹,²⁰,²¹,²²,²³,²⁴,²⁵,²⁶ Some of these evidence-based interventions are listed below:

¹⁸ Coleman, E.A., C. Parry, S. Chalmers, et al. 2006. The care transitions intervention: Results of a randomized controlled trial. Archives of Internal Medicine, 166 (September 25): 1822-1828.

¹⁹ Coleman, E.A., J.D. Smith, R. Devbani, et al. 2005. Posthospital medication discrepancies: Prevalence and contributing factors. Archives of Internal Medicine 165, (September 12): 1842-1847.

²⁰ Coleman, E., and R. Berenson. 2004. Lost in transition: Challenges and opportunities for improving the quality of transitional care. Annals of Internal Medicine, 141, no. 7 (October 5): 533-536.

²¹ Institute for Healthcare Improvement. 2004a. Reducing readmissions for heart failure patients: Hackensack University Medical Center. Available at http://www.ihi.org.

²² Institute for Healthcare Improvement. 2004b. The MedProvider inpatient care unit-congestive heart failure project. Available at: http://www.ihi.org.

²³ Lappe, J.M., J.B. Muhlestein, D.L. Lappe, et al. 2004. Improvements in 1-year cardiovascular clinical outcomes associated with a hospital-based discharge medication program. Annals of Internal Medicine, 141, no.6 (September 21): 446-453.

²⁴ Naylor, M.D., D. Brooton, R. Campbell, et al. 1999. Comprehensive discharge planning and home follow-up of hospitalized elders. Journal of the American Medical Association, 281, no.7 (February 17): 613-620.

²⁵ VanSuch, M., J.M. Naessens, R.J. Stroebel, et al. 2006. Effect of discharge instructions on readmission of hospitalized patients with heart failure: Do all of the Joint Commission on Accreditation of Healthcare Organizations heart failure core measures reflect better care? Quality and Safety in Healthcare, 15: 414-417.

²⁶ Weinberg D.B., J.H. Gittell, R.W. Lusenhop, et al. 2007. Beyond our walls: Impact of patient and provider coordination across the continuum on outcomes for surgical patients. Health Services Research, 42, no. 1, pt. 1 (February): 7-24.

• Better, safer care during the hospitalization.

• Improved communication among providers and with the patient and caregivers.

• Care planning that begins with assessment at admission.

• Clear discharge instructions, with specific attention to medication management.

• Shared accountability for care coordination, with attention to transitions and hand-offs.

• Discharge to a proper setting of care.

• Better, safer care in the post-acute setting of care.

• Appropriate use of palliative care and honest planning for the likely course.

• Timely physician follow up visits.

• Active involvement of patients and their caregivers.

Interventions such as these have been employed by several participants in CMS Physician Group Practice Demonstration and have contributed to improvements in the quality and cost-efficiency of care provided to Medicare beneficiaries. For example, the University of Michigan Faculty Group Practice's transitional care call-back program contacts Medicare patients discharged from the emergency department and acute care hospital to address gaps in care during the transition between care settings. The program provides short-term care coordination with linkages to visiting nurse and community services, as well as coordination with primary care and specialty clinics. The Everett Clinic utilizes hospital coaches to guide patients and caregivers through complicated care processes during hospital stays and on discharge. The clinic proactively reaches out to recently hospitalized patients to assure that they have a physician followup visit within 10 days after discharge to address any unresolved or new health problems.

CMS is considering strategies for distributing a discharge checklist that the agency developed to help beneficiaries and their caregivers prepare for discharge from a hospital or nursing home. The checklist includes a range of issues to consider and address with physicians and other health care providers to facilitate a smooth transition to home or postacute care setting. In addition, the checklist provides information about supportive home and community-based services.

The QIO 9th SOW includes a theme entitled Patient Pathways (Care Transitions). The goal of this theme is to measurably improve the quality of care for Medicare beneficiaries who transition among care settings, resulting in reduced readmissions and replicable strategies to sustain reduced readmission rates. The QIO 8th SOW included initiatives to reduce avoidable readmissions of home health patients.

5. Financial Incentive: Direct Payment Adjustment

The first of three approaches presented for comment is direct adjustment to hospital DRG payments for readmissions. This approach would likely require new statutory authority for the Medicare program. In section II.F. of the preamble of this

proposed rule, we discuss direct adjustments to MS-DRG payment for selected preventable HACs. Similarly, a payment adjustment could be applied for readmissions determined to be avoidable because the hospital did not follow evidence-based best practices for averting readmissions. The magnitude of the payment adjustment could be based on patient-specific risk factors and on the apportionment of shared accountability among the involved entities.

A variation of this approach could be adjustment of all hospital payments for readmissions, nationwide or by some regional designation, based on aggregate information about avoidable readmissions for the entire relevant Medicare population (national or regional) under typical circumstances. Under this approach, hospitals would receive less Medicare payment for readmissions for conditions with lower expected rates of readmission and less shared accountability.

Potential unintended consequences resulting from a financial incentive to avert readmissions also need to be considered. For example, hospitals could begin discharging patients to settings that provide more intensive postacute care to avoid readmissions, thereby potentially driving up total costs for episodes of care and total Medicare spending. As another example of potential unintended consequences, hospitals could begin to resist medically necessary readmissions from postacute care providers, creating an access problem.

6. Financial Incentive: Performance-Based Payment Adjustment

The second approach presented for comment is adjustment to hospital MS-DRG payments using a performance-based payment methodology, such as the Medicare Hospital VBP Plan referenced in section IV.C. of the preamble of this proposed rule and available at: http://www.cms.hhs.gov/AcuteInpatientPPS/downloads/HospitalVBPPlanRTCFINALSUBMITTED2007.pdf. The intent of the VBP Plan methodology is to promote adherence to evidence-based best practices in the delivery of care and to provide rewards for those who are successful in improving their measured performance. Implementation of the VBP methodology would require new statutory authority for the Medicare program.

Under the VBP Plan, measures of clinical processes of care, patient experience (HCAHPS), and outcomes (30-day mortality) would be scored and translated into an incentive payment. These measures of process, outcome, and patient-centeredness address areas of quality that are important to reducing readmissions; however, other measures could be added to more fully adjust payments for readmissions. Direct measures of hospital-specific, risk adjusted readmission rates could be included in the VBP Plan performance assessment model. In addition, other measures of care coordination that indirectly address readmissions could also be included.

The direct adjustment approach and the VBP Plan approaches for applying financial incentives to the reduction of avoidable readmissions could be implemented separately or in combination.

7. Nonfinancial Incentive: Public Reporting

A third approach presented for comment is public reporting of hospital-specific, risk adjusted readmission rates. The Administration's Value-Driven Health Care initiative, which stems from the President's Executive Order Promoting Quality and Efficient Health Care in Federal Government Health Care Programs, calls for Federal agencies to make health care quality and cost information more transparent. Health care consumers, including Medicare beneficiaries, and their providers and caregivers need better information to support more informed decision making about their care. The public reporting of readmission rates would likely not require new statutory authority for the Medicare program.

The Hospital Compare Web site could be used to report readmission rates along with the other quality and cost of care parameters displayed on that site. Public reporting has been demonstrated to be a strong non-financial incentive with a competitive effect, as hospitals appropriately focus on maintaining and enhancing their reputations as providers of high quality of care. The VBP Plan envisions public reporting in concert with the VBP financial incentive, but the public reporting incentive could be applied regardless of statutory authority to implement the VBP Plan.

8. Conclusion

The purpose of this section is to solicit and encourage public comments on considerations and options for applying incentives to reduce avoidable hospital readmissions. We welcome public comments on readmission issues related to measurement, accountability, and interventions, as well as on potential approaches to applying financial and nonfinancial incentives to reduce avoidable readmissions.

K. Rural Community Hospital Demonstration Program

In accordance with the requirements of section 410A(a) of Pub. L. 108-173, the Secretary has established a 5-year demonstration program (beginning with selected hospitals' first cost reporting period beginning on or after October 1, 2004) to test the feasibility and advisability of establishing “rural community hospitals” for Medicare payment purposes for covered inpatient hospital services furnished to Medicare beneficiaries. A rural community hospital, as defined in section 410A(f)(1), is a hospital that—

• Is located in a rural area (as defined in section 1886(d)(2)(D) of the Act) or is treated as being located in a rural area under section 1886(d)(8)(E) of the Act;

• Has fewer than 51 beds (excluding beds in a distinct part psychiatric or rehabilitation unit) as reported in its most recent cost report;

• Provides 24-hour emergency care services; and

• Is not designated or eligible for designation as a CAH.

Section 410A(a)(4) of Pub. L. 108-173 states that no more than 15 such hospitals may participate in the demonstration program.

As we indicated in the FY 2005 IPPS final rule (69 FR 49078), in accordance with sections 410A(a)(2) and (a)(4) of Pub. L. 108-173 and using 2002 data from the U.S. Census Bureau, we identified 10 States with the lowest population density from which to select hospitals: Alaska, Idaho, Montana, Nebraska, Nevada, New Mexico, North Dakota, South Dakota, Utah, and Wyoming (Source: U.S. Census Bureau Statistical Abstract of the United States: 2003). Nine rural community hospitals located within these States are currently participating in the demonstration program. (Of the 13 hospitals that participated in the first 2 years of the demonstration program, 4 hospitals located in Nebraska have become CAHs and have withdrawn from the program.)

In a notice published in the Federal Register on February 6, 2008 (73 FR 6971 through 6973), we announced a solicitation for up to six additional hospitals to participate in the demonstration program. Hospitals that enter the demonstration under this solicitation will be able to participate for no more than 2 years. The February 6, 2008 notice specifies the eligibility requirements for the demonstration program.

Under the demonstration program, participating hospitals are paid the reasonable costs of providing covered inpatient hospital services (other than services furnished by a psychiatric or rehabilitation unit of a hospital that is a distinct part), applicable for discharges occurring in the first cost reporting period beginning on or after the October 1, 2004 implementation date of the demonstration program. Payments to the participating hospitals will be the lesser amount of the reasonable cost or a target amount in subsequent cost reporting periods. The target amount in the second cost reporting period is defined as the reasonable costs of providing covered inpatient hospital services in the first cost reporting period, increased by the inpatient prospective payment update factor (as defined in section 1886(b)(3)(B) of the Act) for that particular cost reporting period. The target amount in subsequent cost reporting periods is defined as the preceding cost reporting period's target amount, increased by the inpatient prospective payment update factor (as defined in section 1886(b)(3)(B) of the Act) for that particular cost reporting period.

Covered inpatient hospital services are inpatient hospital services (defined in section 1861(b) of the Act), and include extended care services furnished under an agreement under section 1883 of the Act.

Section 410A of Pub. L. 108-173 requires that, “in conducting the demonstration program under this section, the Secretary shall ensure that the aggregate payments made by the Secretary do not exceed the amount which the Secretary would have paid if the demonstration program under this section was not implemented.” Generally, when CMS implements a demonstration program on a budget neutral basis, the demonstration program is budget neutral in its own terms; in other words, the aggregate payments to the participating providers do not exceed the amount that would be paid to those same providers in the absence of the demonstration program. This form of budget neutrality is viable when, by changing payments or aligning incentives to improve overall efficiency, or both, a demonstration program may reduce the use of some services or eliminate the need for others, resulting in reduced expenditures for the demonstration program's participants. These reduced expenditures offset increased payments elsewhere under the demonstration program, thus ensuring that the demonstration program as a whole is budget neutral or yields savings. However, the small scale of this demonstration program, in conjunction with the payment methodology, makes it extremely unlikely that this demonstration program could be viable under the usual form of budget neutrality. Specifically, cost-based payments to participating small rural hospitals are likely to increase Medicare outlays without producing any offsetting reduction in Medicare expenditures elsewhere. Therefore, a rural community hospital's participation in this demonstration program is unlikely to yield benefits to the participant if budget neutrality were to be implemented by reducing other payments for these providers.

In order to achieve budget neutrality for this demonstration program for FY 2009, we are proposing to adjust the national inpatient PPS rates by an amount sufficient to account for the added costs of this demonstration program. We are proposing to apply budget neutrality across the payment system as a whole rather than merely across the participants in this demonstration program. As we discussed in the FY 2005, FY 2006, FY 2007 and FY 2008 IPPS final rules (69 FR 49183; 70 FR 47462; 71 FR 48100; and 72 FR 47392), we believe that the language of the statutory budget neutrality requirements permits the agency to implement the budget neutrality provision in this manner. For FY 2009, using data from the cost reports from each of the nine hospitals' first year of participation in the demonstration program, that is, cost reports for years beginning in CY 2005, and estimating the cost of six additional hospitals based on these data, we estimate that the additional cost would be $32,011,849. (In the final rule, we should know the exact number of hospitals participating in the demonstration program and would revise our estimates accordingly.) This estimated adjusted amount reflects the estimated difference between the participating hospitals costs and the IPPS payment based on data from the hospitals' cost reports. We discuss the payment rate adjustment that is required to ensure the budget neutrality of the demonstration program for FY 2009 in section II.A.4. of the Addendum to this proposed rule.

V. Proposed Changes to the IPPS for Capital-Related Costs

A. Background

Section 1886(g) of the Act requires the Secretary to pay for the capital-related costs of inpatient acute hospital services “in accordance with a prospective payment system established by the Secretary.” Under the statute, the Secretary has broad authority in establishing and implementing the IPPS for acute care hospital inpatient capital-related costs. We initially implemented the IPPS for capital-related costs in the Federal fiscal year (FY) 1992 IPPS final rule (56 FR 43358), in which we established a 10-year transition period to change the payment methodology for Medicare hospital inpatient capital-related costs from a reasonable cost-based methodology to a prospective methodology (based fully on the Federal rate).

FY 2001 was the last year of the 10-year transition period established to phase in the IPPS for hospital inpatient capital-related costs. For cost reporting periods beginning in FY 2002, capital IPPS payments are based solely on the Federal rate for most acute care hospitals (other than hospitals receiving certain exception payments and certain new hospitals). The basic methodology for determining capital prospective payments using the Federal rate is set forth in § 412.312. For the purpose of calculating payments for each discharge, the standard Federal rate is adjusted as follows:

(Standard Federal Rate) × (DRG Weight) × (Geographic Adjustment Factor (GAF)) × (Large Urban Add-on, if applicable) × (COLA for hospitals located in Alaska and Hawaii) × (1 + Capital DSH Adjustment Factor + Capital IME Adjustment Factor, if applicable).

Hospitals also may receive outlier payments for those cases that qualify under the threshold established for each fiscal year as specified in § 412.312(c) of the regulations.

1. Exception Payments

The regulations at § 412.348(f) provide that a hospital may request an additional payment if the hospital incurs unanticipated capital expenditures in excess of $5 million due to extraordinary circumstances beyond the hospital's control. This policy was originally established for hospitals during the 10-year transition period, but as we discussed in the FY 2003 IPPS final rule (67 FR 50102), we revised the regulations at § 412.312 to specify that payments for extraordinary circumstances are also made for cost reporting periods after the transition period (that is, cost reporting periods beginning on or after October 1, 2001). Additional information on the exception payment for extraordinary circumstances in § 412.348(f) can be found in the FY 2005 IPPS final rule (69 FR 49185 and 49186).

During the transition period, under §§ 412.348(b) through (e), eligible hospitals could receive regular exception payments. These exception payments guaranteed a hospital a minimum payment percentage of its Medicare allowable capital-related costs depending on the class of the hospital (§ 412.348(c)), but were available only during the 10-year transition period. After the end of the transition period, eligible hospitals can no longer receive this exception payment. However, even after the transition period, eligible hospitals receive additional payments under the special exceptions provisions at § 412.348(g), which guarantees all eligible hospitals a minimum payment of 70 percent of its Medicare allowable capital-related costs provided that special exceptions payments do not exceed 10 percent of total capital IPPS payments. Special exceptions payments may be made only for the 10 years from the cost reporting year in which the hospital completes its qualifying project, and the hospital must have completed the project no later than the hospital's cost reporting period beginning before October 1, 2001. Thus, an eligible hospital may receive special exceptions payments for up to 10 years beyond the end of the capital IPPS transition period. Hospitals eligible for special exceptions payments are required to submit documentation to the intermediary indicating the completion date of their project. (For more detailed information regarding the special exceptions policy under § 412.348(g), we refer readers to the FY 2002 IPPS final rule (66 FR 39911 through 39914) and the FY 2003 IPPS final rule (67 FR 50102).)

2. New Hospitals

Under the IPPS for capital-related costs, § 412.300(b) of the regulations defines a new hospital as a hospital that has operated (under current or previous ownership) for less than 2 years. (For more detailed information, we refer readers to the FY 1992 IPPS final rule (56 FR 43418).) During the 10-year transition period, a new hospital was exempt from the capital IPPS for its first 2 years of operation and was paid 85 percent of its reasonable costs during that period. Originally, this provision was effective only through the transition period and, therefore, ended with cost reporting periods beginning in FY 2002. Because, as discussed in the FY 2003 IPPS final rule (67 FR 50101), we believe that special protection to new hospitals is also appropriate even after the transition period, we revised the regulations at § 412.304(c)(2) to provide that, for cost reporting periods beginning on or after October 1, 2002, a new hospital (defined under § 412.300(b)) is paid 85 percent of its Medicare allowable capital-related costs through its first 2 years of operation, unless the new hospital elects to receive fully prospective payment based on 100 percent of the Federal rate. (We refer readers to the FY 2002 IPPS final rule (66 FR 39910) for a detailed discussion of the statutory basis for the system, the development and evolution of the system, the methodology used to determine capital-related payments to hospitals both during and after the transition period, and the policy for providing exception payments.)

3. Hospitals Located in Puerto Rico

Section 412.374 provides for the use of a blended payment amount for prospective payments for capital-related costs to hospitals located in Puerto Rico. Accordingly, under the capital IPPS, we compute a separate payment rate specific to Puerto Rico hospitals using the same methodology used to compute the national Federal rate for capital-related costs. In general, hospitals located in Puerto Rico are paid a blend of the applicable capital IPPS Puerto Rico rate and the applicable capital IPPS Federal rate.

Prior to FY 1998, hospitals in Puerto Rico were paid a blended capital IPPS rate that consisted of 75 percent of the capital IPPS Puerto Rico specific rate and 25 percent of the capital IPPS Federal rate. However, effective October 1, 1997 (FY 1998), in conjunction with the change to the operating IPPS blend percentage for hospitals located in Puerto Rico required by section 4406 of Pub. L. 105-33, we revised the methodology for computing capital IPPS payments to hospitals in Puerto Rico to be based on a blend of 50 percent of the capital IPPS Puerto Rico rate and 50 percent of the capital IPPS Federal rate. Similarly, in conjunction with the change in operating IPPS payments to hospitals located in Puerto Rico for FY 2005 required by section 504 of Pub. L. 108-173, we again revised the methodology for computing capital IPPS payments to hospitals located in Puerto Rico to be based on a blend of 25 percent of the capital IPPS Puerto Rico rate and 75 percent of the capital IPPS Federal rate effective for discharges occurring on or after October 1, 2004.

B. Revisions to the Capital IPPS Based on Data on Hospital Medicare Capital Margins

As noted above, under the Secretary's broad authority under the statute in establishing and implementing the IPPS for hospital inpatient capital-related costs, we have established a standard Federal payment rate for capital-related costs, as well as the mechanism for updating that rate each year. For FY 1992, we computed the standard Federal payment rate for capital-related costs under the IPPS by updating the FY 1989 Medicare inpatient capital cost per case by an actuarial estimate of the increase in Medicare inpatient capital costs per case. Each year after FY 1992, we update the capital standard Federal rate, as provided at § 412.308(c)(1), to account for capital input price increases and other factors. The regulations at § 412.308(c)(2) provide that the capital Federal rate is adjusted annually by a factor equal to the estimated proportion of outlier payments under the capital Federal rate to total capital payments under the capital Federal rate. In addition, § 412.308(c)(3) requires that the capital Federal rate be reduced by an adjustment factor equal to the estimated proportion of payments for (regular and special) exceptions under § 412.348. Section 412.308(c)(4)(ii) requires that the capital standard Federal rate be adjusted so that the effects of the annual DRG reclassification and the recalibration of DRG weights, and changes in the geographic adjustment factor are budget neutral.

In the FY 2008 IPPS final rule with comment period (72 FR 47398 through 47401), based on our analysis of data on inpatient hospital Medicare capital margins that we obtained through our monitoring and comprehensive review of the adequacy of the standard Federal payment rate for capital-related costs and the updates provided under the existing regulations, we made changes in the payment structure under the capital IPPS beginning with FY 2008. We summarize these changes below. We refer readers to section V.B. of the preamble of the FY 2008 final rule with comment period (72 FR 47393 through 47401) for a detailed discussion of the data used as a basis for these changes. These data showed that hospital inpatient Medicare capital margins were very high across all hospitals during the period from FY 1996 through FY 2004.

In the FY 2008 IPPS final rule with comment period, as background, we noted that, in general, under a PPS, standard payment rates should reflect the costs that an average, efficient provider would bear to provide the services required for quality patient care. Payment rate updates should also account for the changes necessary to continue providing such services. Updates should reflect, for example, the increased costs that are necessary to provide for the introduction of new technology that improves patient care. Updates should also take into account the productivity gains that, over time, allow providers to realize the same, or even improved, quality outcomes with reduced inputs and lower costs. Hospital margins, the difference between the costs of actually providing services and the payments received under a particular system, thus provide some evidence concerning whether payment rates have been established and updated at an appropriate level over time for efficient providers to provide necessary services. All other factors being equal, sustained substantial positive margins demonstrate that payment rates and updates have exceeded what is required to provide those services. It is to be expected, under a PPS, that highly efficient providers might regularly realize positive margins, while less efficient providers might regularly realize negative margins. However, a PPS that is correctly calibrated should not necessarily experience sustained periods in which providers generally realize substantial positive Medicare margins. Under the capital IPPS in particular, it seems especially appropriate that there should not be sustained significant positive margins across the system as a whole. Prior to the implementation of the capital IPPS, Congress mandated that the Medicare program pay only 85 percent of hospitals' inpatient Medicare capital costs. During the first 5 years of the capital IPPS, Congress also mandated a budget neutrality adjustment, under which the standard Federal capital rate was set each year so that payments under the system as a whole equaled 90 percent of estimated hospitals' inpatient Medicare capital costs for the year. Finally, Congress has twice adjusted the standard Federal capital rate (a 7.4 percent reduction beginning in FY 1994, followed by a 17.78 percent reduction beginning in FY 1998). On the second occasion in particular, the specific congressional mandate was “to apply the budget neutrality factor used to determine the Federal capital payment rate in effect on September 30, 1995 * * * to the unadjusted standard Federal capital payment rate” for FY 1998 and beyond. (The designated budget neutrality factor constituted a 17.78 percent reduction.) This statutory language indicates that Congress considered the payment levels in effect during FYs1992 through 1995, established under the budget neutrality provision to pay 90 percent of hospitals' inpatient Medicare capital costs in the aggregate, appropriate for the capital IPPS. The statutory history of the capital IPPS thus suggests that the system in the aggregate should not provide for continuous, large positive margins.

As we also discussed in the FY 2008 IPPS final rule with comment period, we believed that there could be a number of reasons for the relatively high margins that most IPPS hospitals have realized under the capital IPPS. One possibility is that the updates to the capital IPPS rates have been higher than the actual increases in Medicare inpatient capital costs that hospitals have experienced in recent years. Another possible reason for the relatively high margins of most capital IPPS hospitals may be that the payment adjustments provided under the system are too high, or perhaps even unnecessary. Specifically, the adjustments for teaching hospitals, disproportionate share hospitals, and large urban hospitals appear to be contributing to excessive payment levels for these classes of hospitals. Since the inception of the capital IPPS in FY 1992, the system has provided adjustments for teaching hospitals (the IME adjustment factor, under § 412.322 of the regulations), disproportionate share hospitals (the DSH adjustment factor, under § 412.320), and large urban hospitals (the large urban location adjustment factor, under § 412.316(b)). The classes of hospitals eligible for these adjustments have been realizing much higher margins than other hospitals under the system. Specifically, teaching hospitals (11.6 percent for FYs 1998 through 2004), disproportionate share hospitals (8.4 percent), and urban hospitals (8.3 percent) have had significant positive margins. Other classes of hospitals have experienced much lower margins, especially rural hospitals (0.3 percent for FYs 1998 through 2004) and nonteaching hospitals (1.3 percent). The three groups of hospitals that have been realizing especially high margins under the capital IPPS are, therefore, classes of hospitals that are eligible to receive one or more specific payment adjustment under the system. We believed that the evidence indicates that these adjustments have been contributing to the significantly large positive margins experienced by the classes of hospitals eligible for these adjustments.

Therefore, in the FY 2008 IPPS final rule with comment period, we made two changes to the structure of payments under the capital IPPS, as discussed under items 1. and 2. below.

1. Elimination of the Large Add-On Payment Adjustment

In the FY 2008 IPPS final rule with comment period, we determined that the data we had gathered on inpatient hospital Medicare capital margins provided sufficient evidence to warrant elimination of the large urban add-on payment adjustment starting in FY 2008 under the capital IPPS. Therefore, for FYs 2008 and beyond, we discontinued the 3.0 percent additional payment that had been provided to hospitals located in large urban areas (72 FR 24822). This decision was supported by comments from MedPAC.

2. Changes to the Capital IME Adjustment

a. Background and Changes Made for FY 2008

In the FY 2008 IPPS proposed rule, we noted that margin analysis indicated that several classes of hospitals had experienced continuous, significant positive margins. The analysis indicated that the existing payment adjustments for teaching hospitals and disproportionate share hospitals were contributing to excessive payment levels for these classes of hospitals. Therefore, we stated that it may be appropriate to reduce these adjustments significantly, or even to eliminate them altogether, within the capital IPPS. These payment adjustments, unlike parallel adjustments under the operating IPPS, were not mandated by the Act. Rather, they were included within the original design of the capital IPPS under the Secretary's broad authority in section 1886(g)(1) of the Act to include appropriate adjustments and exceptions within a capital IPPS. In the FY 2008 final rule with comment period, we also noted a MedPAC recommendation that we seriously reexamine the appropriateness of the existing capital IME adjustment, that the margin analysis indicated such adjustment may be too high, and that MedPAC's previous analysis also suggested the adjustment may be too high. In light of MedPAC's recommendation, we extended the margin analysis discussed in the FY 2008 IPPS proposed rule in order to distinguish the experience of teaching hospitals from the experience of urban and rural hospitals generally. Specifically, we isolated the margins of urban, large urban, and rural teaching hospitals, as opposed to urban, large urban, and rural nonteaching hospitals. In conducting this analysis, we employed updated cost report information, which allowed us to incorporate the margins for an additional year, FY 2005, into the analysis. The data on the experience of urban, large urban, and rural teaching hospitals as opposed to nonteaching hospitals provided significant new information. As the analysis demonstrated, teaching hospitals in each class (urban, large urban, and rural) performed significantly better than comparable nonteaching hospitals. For the period covering FYs 1998 through 2005, urban teaching hospitals realized aggregate positive margins of 11.9 percent, compared to a positive margin of 0.9 percent for urban nonteaching hospitals. Similarly, large urban teaching hospitals realized an aggregate positive margin of 12.8 percent during that period, while large urban nonteaching hospitals had an aggregate positive margin of only 2.9 percent. Finally, rural teaching hospitals experienced an aggregate positive margin of 4.5 percent, as compared to a negative 1.3 percent margin for nonteaching rural hospitals. We noted that the positive margins for teaching hospitals did not exhibit a decline to the same degree as the margins for all hospitals. For example, the positive margins for all IPPS hospitals declined from 8.7 percent in FY 2002 to 5.3 percent in FY 2004 and 3.7 percent in FY 2005. For urban hospitals, aggregate margins decreased from 10.3 percent in FY 2002 to 6.4 percent in FY 2004 and 4.8 percent in FY 2005. Rural hospitals experienced a decrease from 1.5 percent in FY 2001 to a negative margin of -4.2 percent in FY 2005. In comparison, the aggregate margin for teaching hospitals was 12.1 percent in FY 2001 and 10.6 percent in FY 2005. For urban teaching hospitals, margins were 12.5 percent in FY 2001, 14.0 percent in FY 2002, 13.6 percent in FY 2003, 11.9 percent in FY 2004, and 10.9 percent in FY 2005. Rural teaching hospital margins were more variable, but did not exhibit a pattern of significant decline. In FY 2001, rural teaching hospitals had a positive margin of 3.2 percent; in FY 2002, 8.2 percent; in FY 2003, 4.7 percent; in FY 2004, 5.7 percent; and in FY 2005, 4.0 percent. We are reprinting below the table found in the FY 2008 IPPS final rule with comment period showing our analysis (72 FR 47400).

Hospital Inpatient Medicare Capital Margins
| 1996 | 1997 | 1998 | 1999 | 2000 | 2001 | 2002 | 2003 | 2004 | 2005 | Aggregate 1996-2005 | Aggregate 1998-2005
U.S. | 17.6 | 13.4 | 7.0 | 6.8 | 7.3 | 8.1 | 8.7 | 7.6 | 5.3 | 3.7 | 8.5 | 6.8
URBAN | 17.7 | 13.8 | 7.8 | 7.5 | 8.4 | 9.2 | 10.3 | 9.0 | 6.4 | 4.8 | 9.4 | 7.9
RURAL | 16.8 | 11.0 | 2.1 | 2.4 | 1.0 | 1.5 | −1.7 | −1.4 | −2.3 | −4.2 | 2.6 | −0.4
No DSH Payments | 16.2 | 11.7 | 4.2 | 4.3 | 5.6 | 5.5 | 4.7 | 4.4 | −1.3 | −4.7 | 5.9 | 3.2
Has DSH Payments | 18.5 | 14.4 | 8.6 | 8.1 | 8.2 | 9.0 | 10.0 | 8.5 | 7.0 | 5.9 | 9.5 | 8.1
$1-$249,999 | 14.5 | 12.9 | −0.4 | 3.1 | 1.6 | 4.1 | 3.2 | 1.4 | −1.7 | −4.8 | 3.2 | 1.9
$250,000-$999,999 | 15.5 | 9.0 | 2.3 | 1.6 | 2.8 | 2.7 | −2.4 | −1.5 | −4.3 | −7.3 | 1.5 | −0.9
$1,000,000-$2,999,999 | 16.8 | 13.0 | 8.7 | 9.0 | 8.7 | 7.0 | 10.1 | 5.2 | 3.2 | 2.0 | 8.2 | 6.6
$3,000,000 or more | 20.3 | 16.6 | 10.4 | 9.3 | 9.7 | 12.1 | 13.2 | 12.5 | 10.6 | 9.5 | 12.2 | 11.0
TEACHING | 19.5 | 15.7 | 9.8 | 9.7 | 11.2 | 12.1 | 13.8 | 13.2 | 11.7 | 10.6 | 12.7 | 11.6
Urban | 19.7 | 15.9 | 10.2 | 10.0 | 11.4 | 12.5 | 14.0 | 13.6 | 11.9 | 10.9 | 13.0 | 11.9
Large Urban | 20.5 | 16.8 | 11.0 | 10.1 | 12.5 | 13.9 | 15.2 | 14.7 | 12.0 | 11.9 | 13.9 | 12.8
Rural | 13.9 | 8.5 | 1.0 | 2.9 | 5.8 | 3.2 | 8.2 | 4.7 | 5.7 | 4.0 | 5.7 | 4.5
NONTEACHING | 15.3 | 10.5 | 3.4 | 2.8 | 2.2 | 2.6 | 1.7 | 0.0 | −3.2 | −5.1 | 2.8 | 0.3
Urban | 14.4 | 10.1 | 3.8 | 3.0 | 3.0 | 3.1 | 3.6 | 0.9 | −2.9 | −4.9 | 3.1 | 0.9
Large Urban | 15.5 | 11.3 | 6.2 | 6.1 | 5.7 | 5.2 | 5.3 | 1.7 | −0.9 | −3.2 | 5.1 | 2.9
Rural | 17.3 | 11.4 | 2.3 | 2.4 | 0.2 | 1.2 | −3.7 | −2.6 | −3.9 | −6.0 | 2.0 | −1.3
Census Division:
New England (1) | 27.9 | 25.9 | 17.1 | 15.1 | 18.2 | 20.7 | 21.3 | 21.1 | 20.5 | 20.3 | 21.0 | 19.5
Middle Atlantic (2) | 19.1 | 15.5 | 11.1 | 11.6 | 14.1 | 16.5 | 18.7 | 18.0 | 14.7 | 16.0 | 15.6 | 15.2
South Atlantic (3) | 18.1 | 13.9 | 5.9 | 4.0 | 6.0 | 5.0 | 6.6 | 6.9 | 5.8 | 2.8 | 7.4 | 5.4
East North Central (4) | 18.2 | 12.7 | 6.4 | 7.1 | 8.8 | 8.5 | 6.1 | 7.1 | 6.6 | 3.2 | 8.4 | 6.7
East South Central (5) | 14.9 | 11.1 | 3.3 | 4.1 | 3.8 | 3.8 | 3.8 | −0.9 | −3.4 | −5.8 | 3.2 | 0.9
West North Central (6) | 14.3 | 7.0 | 0.1 | −-0.3 | −1.5 | 2.0 | 1.9 | 3.4 | 1.6 | −0.4 | 2.8 | 0.9
West South Central (7) | 13.2 | 8.3 | 3.3 | 2.6 | −0.7 | 0.0 | 1.2 | −2.0 | −4.0 | −6.5 | 1.2 | −1.0
Mountain (8) | 17.2 | 14.7 | 8.5 | 7.7 | 7.2 | 6.4 | 2.9 | 3.3 | 0.8 | −4.7 | 5.8 | 3.6
Pacific (9) | 20.4 | 16.1 | 12.3 | 11.3 | 11.9 | 13.3 | 14.7 | 12.1 | 9.8 | 8.8 | 13.0 | 11.7
Code 99 | 23.7 | 24.1 | 14.5 | 16.8 | 19.8 | 20.7 | 20.5 | 25.1 | 21.6 | 24.8 | 21.4 | 20.8
Bed Size:
< 100 beds | 17.7 | 13.0 | 4.6 | 3.5 | 2.7 | 2.5 | −1.8 | −1.2 | −6.1 | −9.6 | 2.0 | −0.9
100-249 beds | 15.1 | 10.5 | 3.7 | 4.5 | 4.3 | 6.1 | 6.0 | 4.2 | 1.5 | 0.8 | 5.6 | 3.8
250-499 beds | 18.9 | 14.1 | 8.9 | 8.3 | 10.6 | 10.7 | 12.1 | 11.6 | 10.3 | 7.7 | 11.4 | 10.1
500-999 beds | 19.9 | 17.1 | 10.7 | 10.4 | 11.3 | 10.8 | 12.6 | 10.1 | 7.3 | 7.8 | 11.6 | 10.1
>= 1000 beds | 8.2 | 14.0 | 2.2 | −1.3 | −6.6 | −3.6 | 6.5 | 8.1 | 6.5 | 2.1 | 3.5 | 2.3
Notes:
Based on Medicare Cost Report hospital data updated as of the 1st quarter of 2007.
Medicare payments are from Worksheet E, Part A, Lines 9 and 10.
Expenses are from Worksheet D, Part I, columns 10 and 12 and Part II, columns 6 and 8.
We apply the outlier trimming methodology developed with MedPAC.
Code 99 applies when census division information was not specified in the Medicare Cost Report hospital data.

As we indicated in the FY 2008 IPPS final rule with comment period (72 FR 47401), the statutory history of the capital IPPS suggests that the system in the aggregate should not provide for continuous, large positive margins. As we also indicated, a possible reason for the relatively high margins of many capital IPPS hospitals may be that the payment adjustments provided under the system are too high, or perhaps even unnecessary. We agreed with MedPAC's recommendation and reexamined the appropriateness of the teaching adjustment. We concluded that the record of relatively high and persistent positive margins for teaching hospitals under the capital IPPS indicated that the teaching adjustment is unnecessary, and that it was therefore appropriate to exercise our discretion under the capital IPPS to eliminate this adjustment. At the same time, we believed that we should mitigate abrupt changes in payment policy and that we should provide time for hospitals to adjust to changes in the payments that they can expect under the program.

Therefore, in the FY 2008 IPPS final rule with comment period, we adopted a policy to phase out the capital teaching adjustment over a 3-year period beginning in FY 2008. Specifically, we maintained the adjustment for FY 2008, in order to give teaching hospitals an opportunity to plan and make adjustments to the change. During the second year of the transition, FY 2009, the formula for determining the amount of the teaching adjustment was revised so that adjustment amounts will be half of the amounts provided under the current formula. For FY 2010 and after, hospitals will no longer receive an adjustment for teaching activity under the capital IPPS.

b. Public Comments Received on Phase Out of Capital IPPS Teaching Adjustment Provisions Included in the FY 2008 Final Rule With Comment Period and Further Solicitation of Public Comments

As indicated above, in the FY 2008 IPPS final rule with comment period, we formally adopted as final policy a phase out of the capital IPPS teaching adjustment over a 3-year period, maintaining the current adjustment for FY 2008, making a 50-percent reduction in FY 2009, and eliminating the adjustment for FY 2010 and subsequent years. However, because we concluded that this change to the structure of payments under the capital IPPS was significant, we provided the public with an opportunity for further comment on these provisions through a 90-day comment period after publication of the FY 2008 IPPS final rule with comment period (72 FR 47401). In addition, as we indicated in that final rule with comment period, to provide a more than adequate opportunity for hospitals, associations, and other interested parties to raise issues and concerns related to our policy, we are providing additional opportunity for public comment during this FY 2009 proposed rulemaking cycle for the IPPS.

We received numerous timely pieces of correspondence that commented on the policy of phasing out the capital IPPS teaching adjustment as described in the FY 2008 IPPS final rule with comment period. These comments are available on our e-rulemaking Web site, at http://www.cms.hhs.gov/eRulemaking/ECCMSR/list.asp. We will also accept public comments on this policy during the comment period for this proposed rule. We will respond to both sets of public comments when we issue the FY 2009 IPPS final rule, which is scheduled for publication in August 2008.

VI. Proposed Changes for Hospitals and Hospital Units Excluded From the IPPS

A. Proposed Payments to Excluded Hospitals and Hospital Units

Historically, hospitals and hospital units excluded from the prospective payment system received payment for inpatient hospital services they furnished on the basis of reasonable costs, subject to a rate-of-increase ceiling. An annual per discharge limit (the target amount as defined in § 413.40(a)) was set for each hospital or hospital unit based on the hospital's own cost experience in its base year. The target amount was multiplied by the Medicare discharges and applied as an aggregate upper limit (the ceiling as defined in § 413.40(a)) on total inpatient operating costs for a hospital's cost reporting period. Prior to October 1, 1997, these payment provisions applied consistently to all categories of excluded providers, which include rehabilitation hospitals and units (now referred to as IRFs), psychiatric hospitals and units (now referred to as IPFs), LTCHs, children's hospitals, and cancer hospitals.

Payment for children's hospitals and cancer hospitals that are excluded from the IPPS continues to be subject to the rate-of-increase ceiling based on the hospital's own historical cost experience. (We note that, in accordance with § 403.752(a) of the regulations, RNHCIs are also subject to the rate-of-increase limits established under § 413.40 of the regulations.)

In this FY 2009 IPPS proposed rule, we are proposing that the percentage increase in the rate-of-increase limits for cancer and children's hospitals and RNHCIs would be the proposed percentage increase in the FY 2009 IPPS operating market basket, which is estimated to be 3.0 percent. Consistent with our historical approach, we calculated the proposed IPPS operating market basket for FY 2009 using the most recent data available. However, if more recent data are available for the final rule, we will use them to calculate the IPPS operating market basket. For cancer and children's hospitals and RNHCIs, the proposed FY 2009 rate-of-increase percentage that is applied to FY 2008 target amounts in order to calculate FY 2009 target amounts is 3.0 percent, based on Global Insight, Inc.'s 2008 first quarter forecast of the IPPS operating market basket increase, in accordance with the applicable regulations in 42 CFR 413.40.

IRFs, IPFs, and LTCHs were paid previously under the reasonable cost methodology. However, the statute was amended to provide for the implementation of prospective payment systems for IRFs, IPFs, and LTCHs. In general, the prospective payment systems for IRFs, IPFs, and LTCHs provided transition periods of varying lengths during which time a portion of the prospective payment was based on cost-based reimbursement rules under Part 413 (certain providers do not receive a transition period or may elect to bypass the transition period as applicable under 42 CFR Part 412, Subparts N, O, and P). We note that the various transition periods provided for under the IRF PPS, the IPF PPS, and the LTCH PPS have ended.

For cost reporting periods beginning on or after October 1, 2002, all IRFs are paid 100 percent of the adjusted Federal rate under the IRF PPS. Therefore, for cost reporting periods beginning on or after October 1, 2002, no portion of an IRF PPS payment is subject to 42 CFR Part 413. Similarly, for cost reporting periods beginning on or after October 1, 2006, all LTCHs are paid 100 percent of the adjusted Federal prospective payment rate under the LTCH PPS. Therefore, for cost reporting periods beginning on or after October 1, 2006, no portion of the LTCH PPS payment is subject to 42 CFR Part 413. (We note that, to the extent a portion of a LTCH's PPS payment was subject to reasonable cost principles, the Secretary utilized his broad authority under section 123 of the BBRA, as amended by section 307 of the BIPA, to make such portion subject to 42 CFR Part 413 and various provisions in section 1886(b) of the Act.) Likewise, for cost reporting periods beginning on or after January 1, 2008, all IPFs are paid 100 percent of the Federal per diem amount under the IPF PPS. Therefore, for cost reporting periods beginning on or after January 1, 2008, no portion of an IPF PPS payment is subject to 42 CFR Part 413.

B. IRF PPS

Section 1886(j) of the Act, as added by section 4421(a) of Pub. L. 105-33, provided for a phase-in of a case-mix adjusted PPS for inpatient hospital services furnished by IRFs for cost reporting periods beginning on or after October 1, 2000, and before October 1, 2002, with payments based entirely on the adjusted Federal prospective payment for cost reporting periods beginning on or after October 1, 2002. Section 1886(j) of the Act was amended by section 125 of Pub. L. 106-113 to require the Secretary to use a discharge as the payment unit for services furnished under the PPS for inpatient rehabilitation hospitals and inpatient rehabilitation units of hospitals (referred to as IRFs), and to establish classes of patient discharges by functional-related groups. Section 305 of Pub. L. 106-554 further amended section 1886(j) of the Act to allow IRFs, subject to the blended methodology, to elect to be paid the full Federal prospective payment rather than the transitional period payments specified in the Act.

On August 7, 2001, we issued a final rule in the Federal Register (66 FR 41316) establishing the PPS for IRFs, effective for cost reporting periods beginning on or after January 1, 2002. There was a transition period for cost reporting periods beginning on or after January 1, 2002, and ending before October 1, 2002. For cost reporting periods beginning on or after October 1, 2002, payments are based entirely on the adjusted Federal prospective payment rate determined under the IRF PPS.

C. LTCH PPS

On August 30, 2002, we issued a final rule in the Federal Register (67 FR 55954) establishing the PPS for LTCHs, effective for cost reporting periods beginning on or after October 1, 2002. Except for a LTCH that made an election under § 412.533(c) or a LTCH that is defined as new under § 412.23(e)(4), there was a transition period under § 412.533(a) for LTCHs. For cost reporting periods beginning on or after October 1, 2006, all LTCHs are paid 100 percent of the adjusted Federal prospective payment rate.

D. IPF PPS

In accordance with section 124 of Pub. L. 106-113 and section 405(g)(2) of Pub. L. 108-173, we established a PPS for inpatient hospital services furnished in IPFs. On November 15, 2004, we issued in the Federal Register a final rule (69 FR 66922) that established the IPF PPS, effective for IPF cost reporting periods beginning on or after January 1, 2005. Under the requirements of that final rule, we computed a Federal per diem base rate to be paid to all IPFs for inpatient psychiatric services based on the sum of the average routine operating, ancillary, and capital costs for each patient day of psychiatric care in an IPF, adjusted for budget neutrality. The Federal per diem base rate is adjusted to reflect certain patient characteristics, including age, specified DRGs, selected high-cost comorbidities, days of the stay, and certain facility characteristics, including a wage index adjustment, rural location, indirect teaching costs, the presence of a full-service emergency department, and COLAs for IPFs located in Alaska and Hawaii.

We established a 3-year transition period during which IPFs whose cost reporting periods began on or after January 1, 2005, and before January 1, 2008, would be paid a PPS payment, a portion of which was based on reasonable cost principles and a portion of which was the Federal per diem payment amount. For cost reporting periods beginning on or after January 1, 2008, all IPFs are paid 100 percent of the Federal per diem payment amount.

E. Determining Proposed LTCH Cost-to-Charge Ratios (CCRs) Under the LTCH PPS

In general, we use a LTCH's overall CCR, which is computed based on either the most recently settled cost report or the most recent tentatively settled cost report, whichever is from the latest cost reporting period, in accordance with § 412.525(a)(4)(iv)(B) and § 412.529(c)(4)(iv)(B) for high cost outliers and short-stay outliers, respectively. (We note that, in some instances, we use an alternative CCR, such as the statewide average CCR in accordance with the regulations at § 412.525(a)(4)(iv)(C) and § 412.529(c)(4)(iv)(C), or a CCR that is specified by CMS or that is requested by the hospital under the provisions of the regulations at § 412.525(a)(4)(iv)(A) and § 412.529(c)(4)(iv)(A).) Under the LTCH PPS, a single prospective payment per discharge is made for both inpatient operating and capital-related costs. Therefore, we compute a single “overall” or “total” LTCH-specific CCR based on the sum of LTCH operating and capital costs (as described in Chapter 3, section 150.24, of the Medicare Claims Processing Manual (CMS Pub. 100-4)) as compared to total charges. Specifically, a LTCH's CCR is calculated by dividing a LTCH's total Medicare costs (that is, the sum of its operating and capital inpatient routine and ancillary costs) by its total Medicare charges (that is, the sum of its operating and capital inpatient routine and ancillary charges).

Generally, a LTCH is assigned the applicable statewide average CCR if, among other things, a LTCH's CCR is found to be in excess of the applicable maximum CCR threshold (that is, the LTCH CCR ceiling). This is because CCRs above this threshold are most likely due to faulty data reporting or entry, and, therefore, these CCRs should not be used to identify and make payments for outlier cases. Such data are clearly errors and should not be relied upon. Thus, under our established policy, generally, if a LTCH's calculated CCR is above the applicable ceiling, the applicable LTCH PPS statewide average CCR is assigned to the LTCH instead of the CCR computed from its most recent (settled or tentatively settled) cost report data.

In the FY 2008 IPPS final rule with comment period, in accordance with § 412.525(a)(4)(iv)(C)(2) for high-cost outliers and § 412.529(c)(4)(iv)(C)(2) for short-stay outliers, using our established methodology for determining the LTCH total CCR ceiling, based on IPPS total CCR data from the March 2007 update to the Provider-Specific File (PSF), we established a total CCR ceiling of 1.284 under the LTCH PPS effective October 1, 2007, through September 30, 2008. (For further detail on our methodology for annually determining the LTCH total CCR ceiling, we refer readers to the FY 2007 IPPS final rule (71 FR 48117 through 48121) and the FY 2008 IPPS final rule with comment period (72 FR 47403 through 47404).)

Our general methodology established for determining the statewide average CCRs used under the LTCH PPS is similar to our established methodology for determining the LTCH total CCR ceiling (described above) because it is based on “total” IPPS CCR data. Under the LTCH PPS high-cost outlier policy at § 412.525(a)(4)(iv)(C) and the short-stay outlier policy at § 412.529(c)(4)(iv)(C), the fiscal intermediary (or MAC) may use a statewide average CCR, which is established annually by CMS, if it is unable to determine an accurate CCR for a LTCH in one of the following circumstances: (1) A new LTCH that has not yet submitted its first Medicare cost report (for this purpose, a new LTCH is defined as an entity that has not accepted assignment of an existing hospital's provider agreement in accordance with § 489.18); (2) a LTCH whose CCR is in excess of the LTCH CCR ceiling (as discussed above); and (3) any other LTCH for whom data with which to calculate a CCR are not available (for example, missing or faulty data). (Other sources of data that the fiscal intermediary (or MAC) may consider in determining a LTCH's CCR include data from a different cost reporting period for the LTCH, data from the cost reporting period preceding the period in which the hospital began to be paid as a LTCH (that is, the period of at least 6 months that it was paid as a short-term acute care hospital), or data from other comparable LTCHs, such as LTCHs in the same chain or in the same region.)

In this proposed rule, in accordance with § 412.525(a)(4)(iv)(C)(2) for high-cost outliers and § 412.529(c)(4)(iv)(C)(2) for short-stay outliers, using our established methodology for determining the LTCH total CCR ceiling (described above), based on IPPS total CCR data from the December 2007 update to the PSF), we are proposing a total CCR ceiling of 1.262 under the LTCH PPS, effective for discharges occurring on or after October 1, 2008, and before October 1, 2009. If more recent data become available before publication of the final rule, we will use such data to determine the final total CCR ceiling under the LTCH PPS for FY 2009.

In this FY 2009 IPPS proposed rule, in accordance with § 412.525(a)(4)(iv)(C) for high-cost outliers and § 412.529(c)(4)(iv)(C) for short-stay outliers, using our established methodology for determining the LTCH statewide average CCRs (described above), based on the most recent complete IPPS total CCR data from the December 2007 update of the PSF, we are proposing LTCH PPS statewide average total CCRs for urban and rural hospitals that would be effective for discharges occurring on or after October 1, 2008, and before October 1, 2009, presented in Table 8C of the Addendum to this proposed rule. If more recent data become available before publication of the final rule, we will use such data to determine the final statewide average total CCRs for urban and rural hospitals under the LTCH PPS for FY 2009 using our established methodology described above.

We note that, for this proposed rule, as we established when we revised our methodology for determining the applicable LTCH statewide average CCRs in the FY 2007 IPPS final rule (71 FR 48119 through 48121), and as is the case under the IPPS, all areas in the District of Columbia, New Jersey, Puerto Rico, and Rhode Island are classified as urban, and, therefore, there are no proposed rural statewide average total CCRs listed for those jurisdictions in Table 8C of the Addendum to this proposed rule. In addition, as we established when we revised our methodology for determining the applicable LTCH statewide average CCRs in that same final rule, and as is the case under the IPPS, although Massachusetts has areas that are designated as rural, there were no short-term acute care IPPS hospitals or LTCHs located in those areas as of December 2007. Therefore, for this proposed rule, there is no proposed rural statewide average total CCR listed for rural Massachusetts in Table 8C of the Addendum of this proposed rule. As we also established when we revised our methodology for determining the applicable LTCH statewide average CCRs in the FY 2007 IPPS final rule (71 FR 48120 through 48121), in determining the urban and rural statewide average total CCRs for Maryland LTCHs paid under the LTCH PPS, we use, as a proxy, the national average total CCR for urban IPPS hospitals and the national average total CCR for rural IPPS hospitals, respectively. We use this proxy because we believe that the CCR data on the PSF for Maryland hospitals may not be accurate (as discussed in greater detail in that same final rule (71 FR 48120)).

F. Proposed Change to the Regulations Governing Hospitals-Within-Hospitals

On September 1, 1994, we published hospital-within-hospital (HwH) regulations for LTCHs to address inappropriate Medicare payments to entities that were effectively units of other hospitals (59 FR 45330). There was concern that the HwH model was being used by some acute care hospitals paid under the IPPS as a way of inappropriately receiving higher payments for a subset of their cases. Moreover, IPPS-exclusion of long-term care “units” was and remains inconsistent with the statutory scheme.

Therefore, we established the HwH regulations at 42 CFR 412.23 (currently at § 412.22) for a LTCH HwH that is co-located with another hospital. A co-located hospital is a hospital that occupies space in the same building or on the same campus as another hospital. The regulations at § 412.23(e) required that, to be excluded from the IPPS, long-term care HwHs must have a separate governing body, chief medical officer, medical staff, and chief executive officer from that of the co-located hospital. In addition, the HwH must meet either of the following two criteria: The HwH must perform certain specified basic hospital functions on its own and not receive them from the host hospital or a third entity that controls both hospitals; or the HwH must receive at least 75 percent of its inpatients from sources other than the co-located hospital. A third option was added to the regulations on September 1, 1995 (60 FR 45778) that allowed HwHs to demonstrate their separateness by showing that the cost of the services that the hospital obtains under contracts or other agreements with the co-located hospital or a third entity that controls both hospitals is no more than 15 percent. In 1997, we extended application of the HwH rules at § 412.22 to all classes of IPPS excluded hospitals. Therefore, effective for cost reporting periods beginning on or after October 1, 1997, psychiatric, rehabilitation, cancer, and children's hospitals that are co-located with another hospital are also required to meet the “separateness” criteria at § 412.22(e).

In addition, a “grandfathering” provision was added to the regulations at § 412.22(f), as provided for under section 4417 of the Balanced Budget Act (BBA) of 1997 (Pub. L. 105-33). This provision of the regulations allowed a LTCH that was excluded from the IPPS on or before September 30, 1995, and at that time occupied space in a building also used by another hospital, or in one or more buildings located on the same campus as buildings used by another hospital, to retain its IPPS-excluded status even if the HwH criteria at § 412.22(e) could not be met, as long as the hospital continued to operate under the same terms and conditions as were in effect on September 30, 1995. Consistent with the grandfathering provision under the BBA, which only applied to LTCHs, we extended the application of the grandfathering rule to the other classes of IPPS-excluded hospitals that are HwHs but did not meet the criteria at § 412.22(e). (We subsequently expanded this provision to allow for a grandfathered hospital to make specified changes during particular timeframes.)

Despite our efforts to allow those HwHs for whom the IPPS-exclusion status is appropriate to meet the HwH criteria, it appears that there may be a gap in our regulations. There remain certain HwHs under current rules that may be unnecessarily restricted from expanding their bed size. These HwHs are State hospitals that are co-located with another State hospital and that are grandfathered under § 412.22(f). Where a State law defines the structure and authority of the State's agencies and institutions, and the State hospital is co-located with another hospital that is under State governance, each hospital may have control over the day-to-day operations of its respective facility and have separate management, patient intake, and billing systems and medical staff, as well as a governing board. However, State law may require that the legal accountability for the budgets and activities of entities operating within a State-run institution rests with the State. Therefore, the co-located State hospitals may also be governed by a common governing body. Because of State law requirements, these HwHs are, therefore, precluded from meeting the HwH criteria at § 412.22(e)(1)(i) that requires the governing body of a co-located hospital to be separate from the governing body of the hospital with which it shares space. The excluded hospital's governing body cannot be under the control of the hospital occupying space in the same building or on the same campus, or of any third entity that controls both hospitals. Currently, there are State HwHs in these types of arrangements that have been able to retain their IPPS-excluded status solely because of the grandfathering provision in § 412.22(f). These HwHs were IPPS-excluded even before the HwH criteria were implemented and only remain excluded HwHs under § 412.22(f) as long as they continue to meet the requirements specified under § 412.22(f)(1), (f)(2), and (f)(3). Because they are grandfathered, these HwHs cannot increase their bed size without losing their IPPS-excluded status under the grandfathering provisions (§ 412.22(f)). Furthermore, if a grandfathered State-run HwH increased its bed size, it would be unable to qualify as an IPPS-excluded HwH under § 412.22(e) because it cannot meet the HwH criteria at § 412.22(e)(1)(i) as a result of State law requirements regarding its organizational structure and governance. These HwHs are precluded from the flexibility to expand their bed size, which is available to other HwHs whose organizational structure is not bound by State law.

As discussed in the previous paragraph, the organizational arrangements were in place for these State-operated HwHs before the HwH regulations were adopted. To the extent the arrangements are required by State law, we believe they do not reflect attempts by entities to establish a nominal hospital and, in turn, seek inappropriate exclusions. We also believe it may be unnecessary to prevent hospitals that were created before the HwH requirements, and that because of State statutory requirements cannot meet the subsequently issued separate governing body requirements, from being excluded from the IPPS. Accordingly, we are proposing to add a provision to the regulations that would apply only to State hospitals that were in existence when the HwH regulations were established. This proposed provision would not apply to other State hospitals that chose to open as a HwH subsequent to the establishment of the HwH regulations in FY 1994, under an organizational structure the same as or similar to the one described in this section. These hospitals knew, in advance of becoming a HwH, the requirements that had to be met in order to be an IPPS-excluded HwH, unlike those hospitals that existed before the HwH regulations were established.

Accordingly, we are proposing to add a new paragraph (e)(1)(vi) to § 412.22 to provide that if a hospital cannot meet the criteria in § 412.22(e)(1)(i) solely because it is a State hospital occupying space with another State hospital, the HwH can nevertheless qualify for an exclusion from the IPPS if that hospital meets the other applicable criteria in § 412.22(e) and—

• Both State hospitals share the same building or same campus and have been continuously owned and operated by the State since October 1, 1995;

• Is required by State law to be subject to the governing authority of the State hospital with which it shares space or the governing authority of a third entity that controls both hospitals; and

• Was excluded from the inpatient prospective payment system before October 1, 1995, and continues to be excluded from the IPPS through September 30, 2008.

We believe the proposed criteria capture the segment of grandfathered, State-operated HwHs that are unable to increase their bed size because of State law regarding governance. We emphasize that we intend to allow an exception to the criteria in § 412.22 (e)(1)(i) only if the hospital that meets the proposed criteria above cannot meet the separate governing body requirement because of State law. We do not intend to provide similar treatment for hospitals that are not subject to State statutory requirements regarding governance but have chosen not to organize in a manner that would allow them to be an IPPS-excluded hospital that meets the HwH criteria at § 412.22(e)(1)(i).

VII. Disclosure Required of Certain Hospitals and Critical Access Hospitals Regarding Physician Ownership (§ 489.2(u) and (v))

Section 1866 of the Act states that any provider of services (except a fund designated for purposes of sections 1814(g) and 1835(e) of the Act) shall be qualified to participate in the Medicare program and shall be eligible for Medicare payments if it files with the Secretary a Medicare provider agreement and abides by the requirements applicable to Medicare provider agreements. These requirements are incorporated into our regulations in 42 CFR Part 489, Subparts A and B. Section 1861(e) of the Act defines the term “hospital.” Section 1861(e)(9) of the Act authorizes the Secretary to establish requirements for hospitals as he finds necessary in the interest of patient health and safety. Section 1820(e)(3) of the Act authorizes the Secretary to establish criteria necessary for an institution to be certified as a “critical access hospital.”

In the FY 2008 IPPS final rule with comment period, we revised our regulations governing Medicare provider agreements, specifically § 489.20(u), to require a hospital to disclose to all patients whether it is physician-owned and, if so, the names of its physician owners (72 FR 47385 through 47387). In addition, we added a definition of physician-owned hospital at § 489.3. The disclosure requirement in current § 489.20(u) is applicable only to those hospitals with physician ownership. (For purposes of this proposal, the term “hospital” also includes “critical access hospital” (CAH).) We neglected to include those hospitals in which no physician held an ownership or investment interest, but in which an immediate family member of a physician held an ownership or investment interest. However, it was always our intent to have consistency between the disclosure requirements and the physician self-referral statute and regulations. The physician self-referral statute and regulations, which recognize the potential for program and patient abuse where a financial relationship exists, are applicable to both a physician and the immediate family member of the physician. We believe that it is necessary to revise our definition of physician-owned hospital because a physician's potential conflict of interest occurs not only in those instances where he or she has a financial relationship in the form of an ownership or investment interest, but also where his or her immediate family member has a similar interest, and patients should be informed of this as part of making an informed decision concerning treatment. Therefore, we are proposing to revise the language in § 489.3 to define a “physician-owned hospital” as a participating hospital in which a physician, or an immediate family member of a physician (as defined at § 411.351), has an ownership or investment interest in the hospital.

To effectuate the changes made in the FY 2008 IPPS final rule with comment period, we relied on our authority in sections 1861(e)(9), 1820(e)(3) and 1866 of the Act, and on our general rulemaking authority in sections 1871 and 1102 of the Act. Following publication of the FY 2008 IPPS final rule with comment period, we became aware that some physician-owned hospitals have no physician owners who refer patients to the hospital (for example, in the case of a hospital whose physician-owners have retired from the practice of medicine). We believe that requiring a hospital with no referring physician owners to disclose to all patients that it is physician-owned and to provide the patients with a list of the (nonreferring) physician owners would be an unnecessary burden on the hospital and of no value in assisting a patient in making an informed decision as to where to seek treatment. Similarly, we do not believe that it is useful to require a hospital to make such disclosures when no referring physician has an immediate family member who has an ownership or investment interest in the hospital. Accordingly, we are proposing to include in § 489.20(v) new language to provide for an exception to the disclosure requirements for a physician-owned hospital (as defined at § 489.3) that does not have any physician owners who refer patients to the hospital (and that has no referring physicians (as defined at § 411.351) who have an immediate family member with an ownership or investment interest in the hospital), provided that the hospital attests, in writing, to that effect and maintains such attestation in its files for review by State and Federal surveyors or other government officials. (We note that, as explained below, we are proposing to redesignate the existing paragraphs (v) and (w) of § 489.20 as paragraphs (w) and (x), respectively.)

We are proposing to revise § 489.20(u) to specify that a hospital must furnish to patients the list of owners and investors who are physicians (or immediate family members of physicians) at the time the list is requested by or on behalf of the patient. In response to the FY 2008 IPPS proposed rule, we received public comments that noted that our proposal did not establish a timeframe within which the hospital must furnish to patients the required list of the hospital's physician owners or investors. These commenters suggested that we require that the list be provided to the patient at the time the request for the list is made by or on behalf of the patient. We stated in the preamble of the FY 2008 IPPS final rule with comment period that we would not revise the provision to include any specific timeframe for making the list available because we believed that it was important to allow hospitals some degree of flexibility regarding the manner and form in which it notified patients of the identity of its physician owners and investors (72 FR 47386). However, we also stated later in the preamble that we were revising proposed § 489.20(u) to specify that the hospital should furnish a list of physician owners to a patient at the beginning of his or her hospital stay or outpatient visit, but the regulation text did not reflect this change (72 FR 47387).

We have reconsidered the issue and are proposing in § 489.20(u)(1) that the list of the hospital's owners or investors who are physicians or immediate family members of physicians (as defined at § 411.351) must be furnished at the time the patient or someone on the patient's behalf requests it. We are proposing this change for two reasons. First, in the FY 2008 IPPS final rule with comment period, in response to public comments received on the FY 2008 IPPS proposed rule, we stated that we believed that the physician ownership disclosure proposal would permit an individual to make more informed decisions regarding his or her treatment and to evaluate whether the existence of a financial relationship, in the form of an ownership interest, suggests a conflict of interest that is not in his or her best interest. However, we maintain that the provision of a generic notice that the hospital is owned by physicians or immediate family members of physicians is insufficient to permit an individual to make a truly informed decision. We believe that it is critical that the patient receives the list of names of the relevant owners or investors at the time the request is made by or on behalf of the patient so that the patient may make a determination as to whether his or her admitting or referring physician has a potential conflict of interest. Second, furnishing the list at the time the request is made by the patient or on behalf of the patient is crucial to affording the patient an opportunity to make an informed decision before treatment is furnished at the hospital. We are not specifying a form to be used for the list; rather, we are addressing the timeframe for the hospital to furnish the list to the patient.

In addition, we are proposing to add new § 489.20(u)(2) to require a hospital to require all physicians who are members of the hospital's medical staff to agree, as a condition of continued medical staff membership or admitting privileges, to disclose in writing to all patients who they refer to the hospital any ownership or investment interest in the hospital held by themselves or by an immediate family member. We would require that physicians agree to make such disclosures at the time they refer patients to the hospital. We proposed a similar requirement in the FY 2008 IPPS proposed rule, but decided not to adopt it as final. In response to a public comment, we stated that we would not finalize the proposal because we believed that it would not provide any additional protections for patients that would not already be offered by the requirement for hospitals to disclose their physician ownership to patients. We have revisited this issue.

In the FY 2008 IPPS final rule with comment period, we stated that the scheduling of most hospital inpatient or outpatient services is performed by a staff member in the physician's office, often weeks, or even months, in advance of the furnishing of the service. As discussed previously, we believe that early notification of physician ownership or investment in the hospital is beneficial to the patient's decisionmaking concerning his or her treatment. Currently, under § 489.20(u), scheduling of inpatient stays and outpatient visits at physician-owned hospitals would be permitted without notification to the patient of the referring physician's ownership or investment interest in the hospital. If a patient were notified of the physician ownership or investment at the time of the referral, he or she would have an opportunity to discuss the physician's ownership or investment in the hospital and make a more informed decision. We believe that it would be in the best interests of the patient and the physician owner or investor to disclose the physician's (or his or her immediate family member's) ownership in the hospital at the time the physician is referring the patient to the hospital. We are revising § 489.20(u) accordingly.

We note that notification of physician ownership or investment in a hospital may not be viewed negatively by all interested parties. For instance, some physician owners or investors in hospitals believe that disclosing their ownership or investment interests in the hospital to their patients at the time of the referral is extremely beneficial for both the physician and the patient. They communicate to patients their belief that their ownership in the hospital permits them to have total control over scheduling, staffing, and quality mechanisms. Section 5006 of the Medicare, Prescription Drug, Improvement, and Modernization Act of 2003 (MMA) required, among other things, that HHS study the quality of care and patient satisfaction with specialty hospitals. HHS concluded that specialty hospital patients have very favorable perceptions of the clinical quality of care they receive, and that overall patient satisfaction is very high.

We are also proposing to revise § 489.53 to permit CMS to terminate the Medicare provider agreement if the hospital fails to comply with the provisions of proposed § 489.20(u)(1) or (u)(2). We believe that these revisions would be necessary to enforce the proposed disclosure requirements set forth in § 489.20.

We are not inclined to make a corresponding change to the medical staff bylaws condition of participation (CoP) in § 482.22(c). We believe that the proposed disclosure requirement is appropriate for inclusion in the regulations governing Medicare provider agreements for the following reasons. As stated in the FY 2008 IPPS final rule with comment period, each participating provider must comply with all applicable provisions of the provider agreement regulations found in 42 CFR Part 489, and CMS may terminate a provider agreement if the provider is not in substantial compliance with these requirements (72 FR 47391). A provider's compliance with applicable provider agreement regulations is reviewed through a variety of means, including onsite investigation of complaints. Thus, compliance with this proposed requirement could be easily monitored. We also note that any revisions to the medical staff bylaws concerning the requirement that the disclosure be given at the time of the referral would be difficult to enforce as a CoP because the required notification generally would be given outside of the hospital's or CAH's premises. However, we are considering whether these proposed changes would be better effectuated through changes to our regulations governing the CoPs applicable to hospitals and CAHs, which appear at 42 CFR Part 482 and 42 CFR Part 485, Subpart F, respectively, and, therefore, we are soliciting public comments on this issue.

In the FY 2008 IPPS final rule with comment period, we added a new provision at § 489.20(v) to require that hospitals and CAHs: (1) Furnish all patients written notice at the beginning of their inpatient hospital stay or outpatient service if a doctor of medicine or a doctor of osteopathy is not present in the hospital 24 hours per day, 7 days per week; and (2) describe how the hospital or CAH will meet the medical needs of any patient who develops an emergency medical condition at a time when no physician is present in the hospital (72 FR 47387). (We are proposing to redesignate existing § 489.20(v) and (w) as § 489.20(w) and (x), respectively, to accommodate the addition of the proposed exception to the requirements in § 489.20(v) discussed above.) We stated that it is important to ensure that consumers are provided accurate information on the availability of physician services at the point when they are about to become patients of a hospital or CAH. In order to be fully informed, consumers should be made aware of whether a hospital or CAH has a physician on-site 24 hours per day, 7 days per week, and should be made aware of the hospital's or CAH's processes for addressing medical emergencies that may occur when a physician is not on site. Given the patient safety measures addressed by these provisions, we are proposing to set forth penalties for failure to comply with these requirements. Specifically, we are proposing to revise § 489.53 to permit CMS to terminate the provider agreement of any hospital or CAH that fails to comply with the requirements set forth in proposed redesignated § 489.20(w).

We are also soliciting public comments on whether hospitals and CAHs should educate patients about the availability of information regarding physician ownership under the proposed disclosure requirements and, if so, by what means (for example, by a posting in the admissions office or in a patient brochure).

VIII. Physician Self-Referral Provisions (§§ 411.351, 411.352 and 411.354)

A. Stand in the Shoes Provisions

1. Physician “Stand in the Shoes” Provisions

a. Background

Section 1877 of the Act, also known as the physician self-referral law: (1) Prohibits a physician from making referrals for certain designated health services (“DHS”) payable by Medicare to an entity with which he or she (or an immediate family member) has a financial relationship (ownership, investment or compensation), unless an exception applies; and (2) prohibits the entity from filing claims with Medicare (or billing another individual, entity, or third party payor) for those referred services. The statute establishes a number of specific exceptions and grants the Secretary the authority to create regulatory exceptions for financial relationships that pose no risk of program or patient abuse. Determining whether DHS entities and referring physicians (or their immediate family members) have direct or indirect financial relationships is a key step in applying the statute.

In the final rule entitled “Medicare Program; Physicians' Referrals to Health Care Entities With Which They Have Financial Relationships (Phase III),” published in the Federal Register on September 5, 2007 (72 FR 51012) (“Phase III”), we interpreted certain provisions of section 1877 of the Act, including provisions relating to direct and indirect compensation arrangements. Specifically, the Phase III final rule included provisions under which referring physicians are treated as standing in the shoes of their physician organizations for purposes of applying the rules that describe direct and indirect compensation arrangements in § 411.354 (72 FR 51026 through 51030). A “physician organization” is defined at § 411.351 as “a physician (including a professional corporation of which the physician is the sole owner), a physician practice, or a group practice that complies with the requirements of § 411.352.” Therefore, when determining whether a direct or indirect compensation arrangement exists between a physician and an entity to which the physician refers Medicare patients for DHS, the referring physician stands in the shoes of: (1) Another physician who employs the referring physician; (2) his or her wholly-owned professional corporation (“PC”); (3) a physician practice (that is, a medical practice) that employs or contracts with the referring physician or in which the physician has an ownership interest; or (4) a group practice of which the referring physician is a member or independent contractor. The referring physician is considered to have the same compensation arrangements (with the same parties and on the same terms) as the physician organization in whose shoes the referring physician stands.

Subsequent to the publication of Phase III, industry stakeholders, including academic medical centers (“AMCs”), integrated tax-exempt health care delivery systems, and their representatives, expressed concern about the application of the Phase III “stand in the shoes” provisions to compensation arrangements involving “mission support payments” and “similar payments” (referred to in this proposed rule generally as “support payments”). The stakeholders believed that certain payments did not previously trigger application of the physician self-referral law but, after Phase III, need to satisfy the requirements of an exception. One example offered was a DHS entity component (such as a hospital) of an AMC that transfers funds to the faculty practice plan component of the AMC. If a referring physician stands in the shoes of his or her faculty practice plan, the compensation arrangement between the hospital providing the support payment and the faculty practice plan will be considered to be a direct compensation arrangement between the hospital and the physician and would need to satisfy the requirements of a direct compensation arrangement exception, if the physician is to continue referring Medicare patients to the component for DHS. According to the industry stakeholders, before Phase III, such arrangements would have been analyzed under the rules regarding indirect compensation arrangements and would, in their view, have been permitted. After Phase III, in their view, it is unlikely that the requirements of an available exception could be satisfied given the nature of support payments; that is, support payments usually are not tied to specific items or services provided by the faculty practice plan (or group practice within an integrated health care delivery system), but rather are intended to support the overall mission of the AMC or maintain operations in an integrated health care delivery system. For this reason, support payments likely do not satisfy the requirement, present in many exceptions, that the compensation be fair market value for items or services provided. Similarly, some stakeholders raised concerns about support payments made from faculty practice plans to AMC components. Although AMCs are free to use the exception for services provided by an AMC in § 411.355(e) (which would protect support payments made among AMC components if all of the conditions of the exception are met), industry stakeholders explained that many AMCs do not do so, preferring instead to rely on other available exceptions and the rules regarding indirect compensation arrangements (especially prior to Phase III).

To provide CMS sufficient time to study the “stand in the shoes” provisions as they relate to compensation arrangements involving support payments, seek additional public comment, and develop an approach for addressing this issue, on November 15, 2007, we issued a final rule entitled “Medicare Program; Delay of the Date of Applicability for Certain Provisions of Physicians' Referrals to Health Care Entities With Which They Have Financial Relationships (Phase III)” (72 FR 64164) that delayed the effective date of the provisions in § 411.354(c)(1)(ii), § 411.354(c)(2)(iv), and § 411.354(c)(3) for 12 months after the effective date of Phase III (that is, until December 4, 2008). That final rule was applicable to the following compensation arrangements between the following physician organizations and entities ONLY:

• With respect to an AMC as described in § 411.355(e)(2), compensation arrangements between a faculty practice plan and another component of the same AMC; and

• With respect to an integrated section 501(c)(3) health care system, compensation arrangements between an affiliated DHS entity and an affiliated physician practice in the same integrated section 501(c)(3) health care system.

Following the publication of the November 15, 2007 final rule, other industry stakeholders asserted that, in addition to section 501(c)(3) health care systems, most integrated health care delivery systems, including ones involving for-profit entities, make support payments. The stakeholders further asserted that, although under the “stand in the shoes” provisions such payments must now satisfy a direct compensation arrangement exception, there is, in fact, no applicable exception. These stakeholders urged that any approach to addressing the impact of the Phase III “stand in the shoes” provisions on support payments and other monetary transfers within integrated health care delivery systems should have universal applicability that is not dependent on whether the system meets the definition of an AMC or has a particular status under the rules of the Internal Revenue Service.

b. Proposals

Given the potential widespread impact of the “stand in the shoes” provisions, as well as the considerable industry interest in their application, we are revisiting the “stand in the shoes” policy and regulations issued in Phase III. We believe that a more refined approach to the “stand in the shoes” provisions would accomplish our goals of simplifying the analysis of many financial arrangements and reducing program abuse by bringing more financial relationships within the scope of the physician self-referral law (such as certain potentially abusive arrangements between DHS entities and physician organizations that may not have met the definition of an “indirect compensation arrangement”). We note that we are not suggesting that support payments and other similar compensation arrangements are without risk of program or patient abuse, nor are we endorsing such payments and arrangements.

We are proposing here two alternative ways to address the “stand in the shoes” issues described above, and are seeking industry input on each proposal, as well as on other possible approaches. The first is a multi-faceted approach to revising the Phase III “stand in the shoes” provisions. The second proposal would leave the Phase III “stand in the shoes” provisions as promulgated and would, instead, create a new exception using our authority under section 1877(b)(4) of the Act for nonabusive arrangements that warrant protection not available under existing exceptions. We are also interested in public comments on other approaches and on whether changes to the existing “stand in the shoes” provisions are needed at all.

For the first proposal, we propose revising § 411.354(c)(2)(iv) to provide that a physician would be deemed not to stand in the shoes of his or physician organization if the compensation arrangement between the physician organization and the physician satisfies the requirements of the exception in § 411.357(c) (for bona fide employment relationships), the exception in § 411.357(d) (for personal service arrangements), or the exception in § 411.357(l) (for fair market value compensation). Currently, all physicians stand in the shoes of their physician organizations, regardless of the nature of the compensation they receive from the physician organization. Under our proposal, the first step in the analysis would be to look at the compensation a referring physician receives from his or her physician organization. A compensation arrangement between a physician organization and a physician that satisfies the requirements of § 411.357(c), (d), or (l) would be consistent with fair market value by design and not determined in a manner that takes into account (directly or indirectly) the volume or value of any referrals by the physician to the physician organization. Although such compensation could, in some circumstances, be determined in a manner that takes into account (directly or indirectly) the volume or value of the physician's referrals to the DHS entity (see 66 FR 869), we believe that the risk of program or patient abuse will be addressed sufficiently by analyzing such arrangements between DHS entities and referring physicians who do not stand in the shoes of their physician organizations using the rules regarding indirect compensation arrangements. Therefore, under this proposal, if the compensation arrangement between a physician organization and one of its referring physicians satisfies the requirements of one of the exceptions noted above, the referring physician would be deemed not to stand in the shoes of the physician organization for purposes of applying the definitions of, and provisions related to, direct and indirect compensation arrangements in § 411.354(c). Arrangements between DHS entities and physician organizations whose physicians do not stand in their shoes may still create indirect compensation arrangements that would need to satisfy the requirements of the exception for indirect compensation arrangements in § 411.357(p).

Under this first proposed approach, physician owners and investors would continue to stand in the shoes of their physician organizations. However, we are concerned that considering all physician owners of, or physician investors in, a physician organization to stand in the shoes of the physician organization, as they currently do under the Phase III “stand in the shoes” provisions, might be over-inclusive. For example, in a State that prohibits the corporate practice of medicine, a physician owner of a captive or “friendly” PC who has no right to the distribution of profits would stand in the shoes of his or her physician organization, even though his or her employment arrangement with the group satisfies the requirements of the exception for bona fide employment relationships in § 411.357(c). We are considering whether these and similarly situated physician owners should have to stand in the shoes of their physician organizations when their ownership interest is nominal in nature and their compensation arrangement with the physician organization satisfies the requirements of one of the exceptions in § 411.357(c), (d), or (l). We are soliciting public comments on this issue.

As described above, a physician-employee or contractor whose compensation arrangement with a physician organization does not satisfy the requirements of § 411.357(c), (d), or (l) would stand in the shoes of the physician organization. This is necessary to address our concern that an arrangement between a DHS entity and a physician organization that compensates its physicians in a manner that does not satisfy the requirements of an exception may be particularly prone to abuse. For example, where a physician-employee's compensation arrangement with his or her group practice exceeds fair market value for services provided to the group practice employer (and, thus, does not satisfy the requirements of the exception in § 411.357(c)), and the physician-employee's DHS referrals to the group practice instead are protected under the exception for in-office ancillary services in § 411.355(b), there is risk that the physician-employee's above-fair-market-value compensation may reflect the volume or value of referrals to the DHS entity. This could be the result of a support or other payment between the DHS entity and the group practice that is designed to channel compensation to the physician-employee for referrals to the DHS entity.

We are also considering, and solicit comments on, an approach under which only owners of a physician organization would stand in the shoes of that physician organization (in which case, a physician would not stand in the shoes of a physician organization unless he or she holds an ownership or investment interest, even if the physician's compensation arrangement with that physician organization does not satisfy the requirements of § 411.357(c), (d), or (l)). In conjunction with this approach, we are interested in receiving comments on whether and under what circumstances the “stand in the shoes” provisions should apply to a physician organization that has no physician owners.

In this first approach, we also propose to revise § 411.354(c)(3)(ii) to provide that the provisions of §§ 411.354(c)(1)(ii) and (c)(2)(iv) do not apply when the requirements of § 411.355(e) are satisfied. In other words, a physician would not stand in the shoes of his or her physician organization (for example, a faculty practice plan) when his or her referral for DHS is protected under the exception in § 411.355(e) for services provided by an AMC. We note that, if all of the requirements of the exception in § 411.355(e) are not satisfied, a physician would stand in the shoes of his or her physician organization unless, as discussed above with respect to proposed revised § 411.354(c)(2)(iv), the compensation from the physician organization to the physician satisfies the requirements of the exception for bona fide employment relationships, the exception for personal service arrangements, or the exception for fair market value compensation in § 411.357(c), (d), and (l), respectively. We are proposing to include a specific revision to the regulation in § 411.354(c)(2)(iv); however, we are seeking public comment as to whether this policy is better achieved by revising § 411.354(c)(3) to delete the reference to applying the exceptions in § 411.355, and thereby providing that the “stand in the shoes” provisions do not apply where the prohibition on referrals is not applicable because all of the requirements of any of the exceptions in § 411.355 are satisfied.

In this first approach, we also propose to revise § 411.354(c)(3)(ii) to provide that the provisions of § 411.354(c)(1)(ii) and (c)(2)(iv) do not apply when compensation is provided by a component of an AMC to a physician organization affiliated with that AMC through a written contract to provide services required to satisfy the AMC's obligations under the Medicare graduate medical education (GME) rules where the contract is limited to only services necessary to fulfill the GME obligations as set forth in 42 CFR, Part 413, Subpart F. We have in mind certain arrangements between a hospital component of an AMC and a community physician group to serve as a teaching site for the AMC's residents, as required by the GME rules. If adopted, this proposal would not mean that such arrangements necessarily are lawful, but rather that they would be analyzed by applying the rules regarding indirect compensation arrangements.

Under this first proposal, if adopted, some referring physicians would no longer stand in the shoes of their physician organizations as they currently do under the Phase III “stand in the shoes” provisions. In such circumstances, the rules regarding direct and indirect compensation arrangements would still apply, and financial relationships would still need to be analyzed for compliance with the statute and regulations. We are concerned that, where physicians do not stand in the shoes of their physician organizations, some potentially abusive arrangements between DHS entities and physician organizations might be viewed incorrectly as falling outside the definition of an “indirect compensation arrangement” at § 411.354(c)(2) and, therefore, as not within the scope of the physician self-referral law. The definition of “indirect compensation arrangement” generally requires that three elements be present: (1) An unbroken chain of financial relationships between the DHS entity and the referring physician; (2) aggregate compensation to the referring physician (from the entity in the chain closest to the physician) that varies with or takes into account in any manner the volume or value of referrals to, or other business generated for, the DHS entity; and (3) knowledge by the DHS entity that the referring physician receives such compensation. (We refer readers to 66 FR 864 through 870, 69 FR 16057 through 16063, and 72 FR 51026 through 51031 for further explanation.) We believe that some parties may be construing these elements (particularly the second and the third) too narrowly. For example, we believe that aggregate compensation can vary with or take into account the volume or value of referrals to, or business generated for, DHS entities in a wide range of circumstances, including, without limitation, arrangements involving: variable, per-click, or percentage-based compensation; exclusive contracts; inflated fixed payments; or explicit or implicit tying of compensation to other referrals. To address this issue, we may provide additional guidance on the application of the three elements of the definition of “indirect compensation arrangement” in the FY 2009 IPPS final rule. We are interested in public comments regarding ways in which we can ensure that the full range of potentially abusive arrangements between DHS entities and physician organizations are appropriately addressed in situations where physicians do not stand in the shoes of their physician organizations.

As discussed above, we are proposing an alternative approach to addressing the Phase III “stand in the shoes” provisions. (However, we are proposing regulation text for the first proposal only.) Our alternative proposal is to make no revisions to the Phase III “stand in the shoes” provisions in §§ 411.354(c)(1)(ii), (c)(2)(iv), and, (c)(3) and, to the extent necessary to protect nonabusive arrangements, promulgate a separate exception using our authority under section 1877(b)(4) of the Act to create exceptions for arrangements that do not pose a risk of program or patient abuse. The new exception would apply to specific types of nonabusive payments or arrangements that are not otherwise covered by existing exceptions (for example, certain support payments, as described above), subject to conditions necessary to protect against program and patient abuse, similar to those conditions incorporated into the existing exception for services provided by an AMC in § 411.355(e). Specifically, we are considering establishing a new exception, using our authority under section 1877(b)(4) of the Act, for compensation arrangements between DHS entities and physician organizations and physicians for “mission support” payments (or similar compensation arrangements) and, if so, how we should define those payments (or similar compensation arrangements), and what criteria such an exception should include to protect against program or patient abuse. We are soliciting comments about this proposal, including whether an exception should be limited to “mission support” payments, whether other specific types of payments or compensation arrangements should be eligible for such an exception, the types of parties that should be permitted to use the exception (for example, AMC components, physician practices), and the conditions that should apply to such an exception to ensure that a protected compensation arrangement poses no risk of program or patient abuse. We are concerned that some “mission support” payments or similar payments are subject to fraud and abuse. We are interested in public comments that identify with specificity the types of compensation agreements that should be permitted under an applicable exception.

Under this approach, the proposed exception might address compensation arrangements between components of certain well-defined integrated delivery systems, perhaps with tightly-crafted conditions similar to those in the existing exception for services provided by an AMC in § 411.355(e). For example, some industry stakeholders have recommended that we establish an exception for compensation arrangements between a DHS entity component of an integrated health care delivery system and a physician organization component of the same integrated health care delivery system. We are concerned that the term “integrated health care delivery system” is loosely used in the industry to describe a wide variety of systems, with varying degrees of actual integration, and that it may prove infeasible to craft a sufficiently circumscribed definition. In many circumstances, payment arrangements between components of “integrated health care delivery systems,” as well as payments from “integrated health care delivery systems” to physicians affiliated with those systems are susceptible to fraud and abuse. However, we are soliciting public comments defining a fully integrated health care delivery system, what types of compensation arrangements should be protected (for example, support payments), and what conditions should be included in an exception that would ensure no risk of program or patient abuse. We note that any exception established using our authority under section 1877(b)(4) of the Act would include documentation requirements and a requirement that the arrangement not violate the anti-kickback statute or any Federal or State law or regulation governing billing or claims submission, consistent with the existing exceptions created under this authority.

According to some industry stakeholders, an “integrated health care delivery system” could be defined, for example, as a health care delivery system comprised of two or more entities that are related and substantially integrated by common ownership or control, and which includes at least one hospital and one physician organization that has no physician owners or investors who make referrals for DHS to any component of the health care delivery system. Entities that file consolidated financial statements could be deemed to be substantially integrated for purposes of this definition. For purposes of this approach, ownership could exist if an individual or individuals possess 50 percent ownership or equity in the component of the integrated health care delivery system, and control would exist if an individual or an organization has the power, directly or indirectly, significantly to influence or direct the actions or policies of the component of the integrated health care delivery system. As noted above, it would be necessary to define “integrated health care delivery system,” as well as “ownership” and “control,” and to determine whether to permit integrated health care delivery systems to include entities related through written contractual affiliation agreements and, if so, what limitations (if any) should be placed on the types of contractually affiliated entities we would permit to be included as components of an integrated health care delivery system. We would need also to determine what characteristics indicate substantial integration and identify the types of compensation arrangements that exist between components of integrated health care delivery systems. We are seeking public comments regarding this possible approach (including the specific issues noted), as well as public comments on other alternative approaches to addressing the concerns regarding support payments and similar monetary transfers noted by industry stakeholders and described above.

2. DHS Entity “Stand in the Shoes” Provisions

On July 12, 2007, we published in the Federal Register a proposed rule entitled “Medicare Program; Proposed Revisions to Payment Policies Under the Physician Fee Schedule, and Other Part B Payment Policies for CY 2008; Proposed Revisions to the Payment Policies of Ambulance Services Under the Ambulance Fee Schedule for CY 2008; and the Proposed Elimination of the E-Prescribing Exemption for Computer-Generated Facsimile Transmissions; Proposed Rule” (the “CY 2008 PFS proposed rule”) (72 FR 38122). In that rule, we proposed a corollary provision to the Phase III “stand in the shoes” provisions that addressed the DHS entity side of physician—DHS entity financial relationships. Specifically, we proposed to amend § 411.354(c) to provide that, where a DHS entity owns or controls an entity to which a physician refers Medicare patients for DHS, the DHS entity would stand in the shoes of the entity that it owns or controls and would be deemed to have the same compensation arrangements with the same parties and on the same terms as does the entity that it owns or controls. For example, a hospital would stand in the shoes of a medical foundation that it owns or controls (such as where the hospital is the sole member of a nonprofit corporation). Thus, under the CY 2008 PFS proposed rule proposal, if a hospital owns or controls a medical foundation that contracts with a physician to provide physician services at a clinic owned by the medical foundation, the hospital would stand in the shoes of the medical foundation and would be deemed to have a direct compensation relationship with the contractor physician. We solicited public comments as to whether and how we would employ a “stand in the shoes” approach for these types of relationships, as well as for other types of financial relationships.

In response to the CY 2008 PFS proposed rule, we received comments from a variety of industry stakeholders, including physicians, medical associations, and their representatives. Although several commenters supported the proposed entity “stand in the shoes” provisions because they share our concerns regarding parties ability to avoid application of the physician self-referral law by simply inserting an entity in the chain of financial relationships linking a DHS entity and a referring physician, many commenters expressed concern that the proposal was unclear and potentially overly broad. Commenters requested guidance regarding the level of ownership or control that would trigger the application of the entity “stand in the shoes” provisions. One commenter recommended that, instead of finalizing the entity “stand in the shoes” provisions, we issue, through a notice of proposed rulemaking, a more detailed proposal that would give industry stakeholders the opportunity to provide more meaningful comments.

We did not finalize the DHS entity “stand in the shoes” provisions in the CY 2008 PFS final rule published in the Federal Register on November 27, 2007 (72 FR 66222, 66306). Because the DHS entity “stand in the shoes” provisions are integrally related to the physician “stand in the shoes” provisions that we finalized in Phase III and for which we are proposing the regulatory revisions described above, we are re-proposing here the DHS entity “stand in the shoes” provisions, with some modification. We believe that a comprehensive approach to the “stand in the shoes” provisions that addresses both physicians and physician organizations, as well as DHS entities and other entities that they own or control, is the best vehicle to address the goals outlined in the Phase III final rule, namely: (1) Simplifying the analysis of many financial arrangements; and (2) reducing program abuse by bringing more financial relationships within the ambit of the physician self-referral law.

We are proposing to revise § 411.354(a) to provide that an entity that furnishes DHS would be deemed to stand in the shoes of an organization in which it has a 100 percent ownership interest and would be deemed to have the same compensation arrangements with the same parties and on the same terms as does the organization that it owns. We believe this approach is straightforward and can be readily applied. We note that, under this approach (as compared to our CY 2008 PFS proposal), a DHS entity would stand in the shoes of any wholly-owned organization, not merely a wholly-owned DHS entity. An organization may be in any legal form (for example, a limited liability company, partnership, or corporation, regardless of status as nonprofit or exempt from taxation). We are seeking public comments specifically as to whether we should consider a DHS entity to stand in the shoes of another organization in which the DHS entity holds less than a 100 percent ownership interest and, if so, what amount of ownership should trigger application of the entity “stand in the shoes” provisions. In addition, we are seeking public comments as to whether we should deem a DHS entity to stand in the shoes of an organization that it controls (for example, an entity would stand in the shoes of a nonprofit organization of which it is the sole member); we would consider a DHS entity to control an organization if the DHS entity has the power, directly or indirectly, significantly to influence or direct the actions or policies of the organization. We are seeking public comments as to what level of control should trigger the application of the entity “stand in the shoes” provisions.

3. Application of the Physician “Stand in the Shoes” and the Entity “Stand in the Shoes” Provisions

In order to protect against program and patient abuse when multiple links involving various corporate and other entities exist in a chain of financial relationships between a DHS entity and a referring physician, we are proposing that, when applying the physician “stand in the shoes” provisions and the entity “stand in the shoes” provisions to a chain of financial relationships between a physician and a DHS entity, the following conventions would apply:

• First, parties would apply the physician “stand in the shoes” provisions and deem the physician to stand in the shoes of his or her physician organization (in those instances where the physician “stand in the shoes” provisions apply to the particular physician and physician organization).

• However, if applying the physician “stand in the shoes” provisions would result in only one financial relationship remaining between the DHS entity and the “collapsed” physician/physician organization and that relationship is an ownership interest, the physician “stand in the shoes” provisions would not be applied, and the entity “stand in the shoes” provisions instead would be applied first.

• If more than two organizations remain after first “collapsing” the physician and the physician organization (that is, if at least two links remain in the chain of financial relationships between the physician who is standing in the shoes of his or her physician organization and the DHS entity), the next step would be to apply the entity “stand in the shoes” provisions.

These conventions ensure that at least one compensation arrangement remains between the DHS entity and the referring physician for purposes of analyzing the chain of relationships under the physician-self referral rules. For example, if a chain of financial relationships runs: hospital—wholly-owned home health agency—group practice—physician owner of the group practice, the first step would be to apply the physician “stand in the shoes provisions” such that the physician owner would stand in the shoes of the group practice. The next step would be to apply the entity “stand in the shoes” provisions and deem the hospital to stand in the shoes of its wholly-owned home health agency. Assuming that the financial relationship between the home health agency and the group practice is a compensation arrangement, the remaining financial relationship would be deemed to be a direct compensation arrangement between the hospital (standing in the shoes of the home health agency) and the physician (standing in the shoes of the group practice). By contrast, the example of a chain of financial relationships that runs: hospital—group practice wholly-owned by the hospital—employed physician of the group practice (whose compensation does not satisfy the requirements of the exception in § 411.357(c)), is illustrative. If the relationship between the hospital and the group practice is solely an ownership interest (that is, there is no separate compensation arrangement between them), applying the physician “stand in the shoes” provisions first, so that the physician-employee stands in the shoes of the group practice, would result in one remaining financial link between the group practice and the hospital, and that relationship would be an ownership interest. In those circumstances, the entity “stand in the shoes” provisions would be applied first and the hospital would stand in the shoes of its wholly-owned group practice. The physician would not stand in the shoes of the group practice. The remaining financial relationship would be deemed to be a direct compensation arrangement between the hospital (standing in the shoes of the group practice) and the physician. (We note that, in this example, the physician's compensation from the group practice does not satisfy the requirements of the exception for bona fide employment relationships in § 411.357(c) and, thus, no direct exception would apply to that compensation arrangement.) Using the same chain of financial relationships, but assuming instead that the hospital has a compensation arrangement with (in addition to being the sole owner of) the group practice (for example, an office space rental agreement), under the proposals described above, the physician would stand in the shoes of the group practice, but the hospital would not stand in the shoes of the group practice because, after first applying the physician “stand in the shoes” provisions, only two organizations would remain (that is, only one link in the chain of financial relationships remains). The remaining financial relationship created by the rental agreement would be deemed to be a direct compensation arrangement between the hospital and the physician, which would need to satisfy the requirements of an exception.

We are not proposing regulation text at this time with respect to the application of the physician and entity “stand in the shoes” provisions. At such time as these provisions are finalized, we would amend the regulation text, as appropriate, to codify requirements related to the application of the provisions.

4. Definitions: “Physician” and “Physician Organization”

In an interim final rule with comment period entitled “Medicare Program; Physicians’ Referrals to Health Care Entities With Which They Have Financial Relationships (Phase II); Interim Final Rule,” published in the Federal Register on March 26, 2004 (72 FR 16054) (“Phase II”), we revised the definition of “referring physician” at § 411.351 to provide that a referring physician is deemed to stand in the shoes of his or her wholly-owned PC (69 FR 16060). In that rule, we stated that it is not necessary to treat a referring physician as separate from his or her wholly-owned PC. In the Phase III final rule, for purposes of implementing the physician “stand in the shoes” provisions, the term “physician organization” was newly defined at § 411.351 as “a physician (including a professional corporation of which the physician is the sole owner), a physician practice, or a group practice that complies with the requirements of § 411.352.” Our intent was that, when applying the physician “stand in the shoes” provisions in § 411.354, a physician would stand in the shoes of: (1) Another physician who employs the physician; (2) his or her wholly-owned PC; (3) a physician practice that employs or contracts with the physician or in which the physician has an ownership interest; or (4) a group practice of which the physician is a member or independent contractor.

Essentially, we intended this definition to incorporate the Phase II policy that a physician stands in the shoes of, or is considered the same as, the PC of which he or she is the sole owner. In determining whether a direct or indirect compensation arrangement exists between a DHS entity and a referring physician, we intended that parties should first “collapse” the physician into his or her wholly-owned PC, and then deem that “collapsed” physician/PC unit to stand in the shoes of the physician organization (if one exists). However, we are concerned that parties may interpret the rules, using the definition of “physician organization” exclusive of the definition of “referring physician,” as requiring only that they deem a physician to stand in the shoes of his or her wholly-owned PC without further deeming the “collapsed” physician/PC unit to stand in the shoes of the physician organization. That is, with respect to a chain of financial relationships that runs: hospital—group practice—PC—physician, parties might interpret our rules as requiring only that the physician stand in the shoes of the PC and not in the shoes of the group practice, so that the resulting chain of financial relationships (after the application of the “stand in the shoes” provisions) would run: hospital—group practice—PC/physician. However, our intention was that, after application of the “stand in the shoes” provisions, the chain of financial relationships would run: hospital—group practice/PC/physician.

Therefore, we are proposing revisions to the definitions of “physician” and “physician organization” to clarify that: (1) A physician and the PC of which he or she is the sole owner are always treated the same for purposes of applying the physician self-referral rules; and (2) a physician who stands in the shoes of his or her wholly-owned PC also stands in the shoes of his or her physician organization in accordance with § 411.354(c)(1)(ii) and (c)(2)(iv).

B. Period of Disallowance

In response to the Phase II interim final rule with comment period, several commenters questioned what the time period would be for which the physician could not refer patients for DHS to an entity and for which the entity could not bill Medicare (the “period of disallowance”) where a financial relationship between a referring physician and an entity failed to satisfy the requirements of an exception to the general prohibition on self-referral. (See 72 FR 51024 through 51025; and 72 FR 38183.) In the Phase III final rule, in response to these inquiries, we stated that the statute provides no explicit limitation on the billing and claims submission prohibition (72 FR 51025). In the CY 2008 PFS proposed rule, we stated that the statute contemplates that the period of disallowance begins with the date that a financial relationship failed to comply with the statute and the regulations, and ends with the date that the arrangement came into compliance or ended (72 FR 38183). We noted that, in some cases, it may not be clear when a financial relationship has ended. We provided the example of an entity leasing space to a physician at a rental price that is substantially below fair market value. We stated that such an arrangement may raise the inference that the below-market rent was in exchange for future referrals, including referrals made beyond the expiration of the lease. We solicited comments with respect to: (1) The types of noncompliance for which it is not clear when a financial relationship ended; and (2) whether we should always employ a case-by-case approach or deem certain types of financial relationships to continue for a prescribed period of time. We also solicited public comments as to whether we should allow a prescribed period of disallowance to terminate where the parties have returned (or paid back the value of) any excess compensation. For example, if we were to impose a period of disallowance for a prescribed period of time because it would not be clear when a noncompliant compensation arrangement ended, we stated that we might allow the parties to terminate the period of disallowance sooner than the prescribed period if the prohibited compensation were returned. In the CY 2008 PFS proposed rule, we cautioned that we did not envision allowing such an option where the parties knew or, in our judgment, reasonably should have known, that the arrangement did not satisfy the requirements of an exception. Finally, we sought public comments as to whether we should impose a period of disqualification, prohibiting the parties from using an exception where an arrangement has failed to satisfy the requirements of that exception. We gave the example of nonmonetary compensation provided by an entity to a physician that greatly exceeded the permissible limit prescribed in § 411.357(k), and questioned whether, in addition to whatever period of disallowance would apply, the parties should be disqualified, for some period of time, from using this exception.

We received few public comments in response to the CY 2008 PFS proposed rule solicitation of comments; however, with respect to the length of the period of disallowance, one commenter asserted that the appropriate period of disallowance should match the period that the financial relationship did not satisfy the requirements of an exception, but that the period should be limited to a maximum term. In addition, commenters asserted that, if the parties unwind the relationship and return the prohibited compensation, the period of disallowance should end. Another commenter suggested that the period of disallowance should end once the hospital corrects or terminates the arrangement and the physician repays to the hospital any compensation in excess of what is permitted. Alternatively, according to the commenter, if the physician does not repay the excess compensation, the period of disallowance should end once the hospital repays to Medicare the excess compensation, and the hospital should be prohibited from paying any further compensation to the physician until the physician reimburses the hospital for the excess compensation. One commenter asserted that certain circumstances warrant no period of disallowance. For instance, according to the commenter, if parties to an arrangement were unaware that the arrangement violates the physician self-referral law but later were notified by CMS or its contractor of the possible violation, they should be able to amend the arrangement so that it satisfies the requirements of an exception without any period of disallowance. The commenter also asserted that there should be no period of disqualification preventing the parties from using an exception in light of the onerous penalties under the physician self-referral law.

At this time, we are proposing to amend § 411.353(c) to provide that, where the reason(s) a financial relationship does not meet any applicable exception is not related to compensation (for example, a signature is missing or an agreement is not in writing as required by the applicable exception), the period of disallowance would begin on the date the arrangement first was out of compliance and end no later than the date the arrangement was brought into compliance (for example, by obtaining a missing signature on an agreement or executing a written agreement as required by the applicable exception). For example, where a hospital and a physician enter into a personal service arrangement for medical director services and begin performing under the arrangement on January 1, but do not execute a written agreement until January 31, provided that all of the requirements of § 411.357(d) (the exception for personal service arrangements) are satisfied as of January 31, the period of disallowance would begin on January 1 and end no later than January 31. As discussed below, we believe that it is possible that a financial arrangement may end prior to the arrangement being brought into compliance. In such circumstances, a determination as to the duration of the period of disallowance necessarily would be made on a case-by-case basis considering the facts and circumstances, and we are not proposing a prescribed period of disallowance for such a situation.

We are also proposing that, where the reason a financial relationship does not meet any applicable exception is related to the payment or receipt of excess compensation (for example, the compensation paid to a physician is greater than fair market value or exceeds the limits in § 411.357(k) or (m)), the period of disallowance would begin on the date the arrangement first was out of compliance and end no later than the date the excess compensation (including interest, as appropriate) was returned by the party receiving it to the party that provided it and all other requirements of the applicable exception are met. For example, if a hospital provided nonmonetary compensation totaling $100 in excess of the limits in § 411.357(k) on February 1 and the parties did not discover the noncompliance until October 1 (and, therefore, could not avail themselves of the provisions in § 411.357(k)(3) permitting parties to remain in compliance with the exception if excess nonmonetary compensation (within certain limits) provided inadvertently is discovered and returned with 180 days of its receipt), the period of disallowance would begin on February 1 and end no later than the date that the physician returned the excess nonmonetary compensation or its value ($100 plus interest, as appropriate) to the hospital. Assuming that the physician paid the hospital $100 (plus interest, as appropriate) on October 15, the period of disallowance would run from February 1 through no later than October 15.

Our proposal would also prescribe a period of disallowance where the reason a financial relationship does not meet any applicable exception is related to the payment or receipt of compensation that is insufficient to satisfy the requirements of an exception (for example, office space or equipment rental payments that are below fair market value). We are proposing that the period of disallowance would begin on the date the arrangement first was out of compliance and end no later than the date the shortfall was paid to the party to which it is owed and all other requirements of the applicable exception are met. The “shortfall” would be that amount (including interest, as appropriate) necessary to bring the arrangement into compliance from the date of its inception. For example, assume a hospital and physician entered into a 2-year office space rental agreement on January 1 (of Year 1) which specified rental charges (consistent with fair market value) of $20 per square foot during Year 1 and automatically adjusted upward each January 1 by any increase in the CPI-U. If, on January 1 of Year 2 of the agreement, the rental charges increased to $21 per square foot based on the amount of increase in the CPI-U, but the physician continued to pay $20 per square foot until the compliance failure was identified on June 30 of Year 2, the period of disallowance would run from January 1 of Year 2 until no later than June 30 of Year 2, provided that the physician paid the hospital on June 30 of Year 2 the shortfall of $1 per square foot for the 6-month shortfall period (plus interest, as appropriate) and, as of July 1 through the term of the agreement, the physician paid $21 per square foot for the office space, and the arrangement otherwise satisfied the requirements of the exception in § 411.357(d). As discussed below, we believe that it is possible that an arrangement may end prior to excess compensation being returned or a shortfall being paid; however, such a determination as to the duration of the period of disallowance necessarily would be made on a case-by-case basis considering the facts and circumstances, and we are not proposing a prescribed period of disallowance for such a situation.

We also note that an arrangement may be noncompliant for reasons that are related to compensation, but which do not involve the payment or receipt of excess compensation or a shortfall in compensation paid or received. For example, many of our exceptions require that the compensation not take into account the volume or value of referrals or other business generated between the parties and that the compensation be commercially reasonable, even if no referrals were made between the parties. It is possible that the amount of compensation provided under an arrangement is fair market value or is consistent with a prescribed limit in one of the exceptions (such as in § 411.357(k)), but, for example, takes into account the volume or value of referrals and this results in a noncompliant arrangement. We are not proposing a prescribed period of disallowance for arrangements that are noncompliant for reasons that are related to compensation but which do not involve only the payment or receipt of excess compensation or a shortfall in compensation paid or received. Rather, the appropriate period of disallowance for such arrangements would need to be determined on a case-by-case basis.

Essentially, our proposals place an outside limit on the period of disallowance in certain circumstances. That is, where the reason(s) for noncompliance does not relate to compensation, the latest the period of disallowance would end would be the date the arrangement was brought into compliance. Where the reason for noncompliance is the fact that excess compensation was provided or too little compensation was paid, the latest the period of disallowance would end would be the date that the party receiving the excess compensation returned it to the party that provided it or the party owing the shortfall in compensation paid it to the party to which it was owed (assuming the arrangement otherwise satisfies the requirements of an applicable exception).

We recognize, of course, that parties to a financial relationship that is noncompliant may never bring the relationship into compliance with an applicable exception. The financial relationship may expire according to the terms of the underlying agreement (such as the date of expiration of a personal service contract), or it may end earlier or later than the expiration date provided in the underlying agreement. However, we do not propose to prescribe with specificity when such a noncompliant financial relationship (and, thus, the period of disallowance) might end. Likewise, if a party that receives excess compensation never repays the excess compensation, or a party who owes additional compensation (the shortfall) never pays it, the question arises as to when the financial relationship ends. To return to the example that we gave in the CY 2008 PFS proposed rule and that we reference above, if an entity leases space to a physician at a rental price that is substantially below fair market value, the inference may be raised that the below-market rent was in exchange for future referrals, including referrals made beyond the expiration of the lease agreement. Therefore, in such a situation, if the physician does not pay the rental charges shortfall, the financial relationship may not end at the expiration of the written lease agreement, but rather could extend for some period beyond the expiration of the written lease agreement. We are not proposing to establish any specific time period or even guidelines for when the financial relationship in the above example would be deemed to end (so that future referrals would not be tainted); rather the determination of when the financial relationship ends must depend on the facts and circumstances. We note that our proposals pertain only to placing an outside limit on the period of disallowance for making referrals and billing the Medicare program in the case of certain noncompliant financial relationships; they do not address whether the anti-kickback statute is implicated and/or whether civil monetary penalties under the physician self-referral statute are potentially applicable due to noncompliant financial relationships.

We are not proposing, as one commenter suggested, that, in a situation involving noncompliance due to excess compensation paid by an entity to a physician (or the physician's immediate relative), the period of disallowance would end no later than the date the entity repays the excess compensation to the Medicare program, should the physician not repay the excess compensation to the entity. This approach is not consistent with the statute. We are also not proposing, as another commenter suggested, to impose no period of disallowance for the situation in which parties allegedly were unaware of the noncompliant nature of a financial relationship. We do not have the authority under section 1877 of the Act to waive violations of the physician self-referral law. We note also that there would be practical problems in determining whether parties were unaware of the noncompliant nature of the arrangement and that we would be discouraging parties from carefully structuring arrangements and monitoring them. In the CY 2008 PFS proposed rule, we proposed an alternative method of compliance that may address some of the commenter's concerns, and that proposal is still under consideration for final rulemaking. Finally, we are not proposing to impose a period of disqualification during which the parties to a noncompliant financial relationship would be prohibited from using a particular exception due to that relationship. We may propose rulemaking on this subject in the future.

C. Gainsharing Arrangements

1. Background

The term “gainsharing” typically refers to an arrangement under which a hospital gives physicians a share of the reduction in the hospital's costs (that is, the hospital's cost savings) attributable in part to the physicians' efforts. Gainsharing may take several forms. Some arrangements are narrowly targeted, giving the physician a financial incentive to select specific medical devices and products that are less expensive or to adopt specific clinical practices or protocols that reduce costs. Other, more problematic arrangements are not targeted at utilization of specific supplies or specific clinical practices, but instead offer the physician payments to reduce total average costs per case below target amounts.

Gainsharing arrangements seek to align physician incentives with those of hospitals by offering physicians a share of the hospital's variable cost savings attributable to the physicians' efforts in controlling the cost of providing patient care. Following the institution of the Medicare Part A DRG system of hospital reimbursement and with the growth of managed care, hospitals have experienced significant financial pressure to reduce costs. However, because physicians are paid separately under Medicare Part B and Medicaid, physicians do not share necessarily a hospital's incentive to control the hospital's patient care costs. Gainsharing arrangements are designed to align hospital and physician incentives by offering physicians a portion of the hospital's cost savings in exchange for identifying and implementing cost-saving strategies.

2. Statutory Impediments to Gainsharing Arrangements

Whereas gainsharing promotes hospital cost reductions by aligning physician incentives with those of the hospital, these arrangements also implicate the physician self-referral statute (section 1877 of the Act). Section 1877(a)(1) of the Act states that, except as provided in section 1877(b) of the Act, if a physician (or an immediate family member of such physician) has a financial relationship with an entity, the physician may not make a referral to the entity for the furnishing of DHS for which payment otherwise may be made under title XVIII of the Act. The provision of monetary or nonmonetary remuneration by a hospital to a physician through a gainsharing arrangement would constitute a financial relationship with an entity for purposes of the physician self-referral statute.

Gainsharing arrangements also implicate two specific fraud and abuse statutes. First, sections 1128A(b)(1) and (b)(2) of the Act, commonly referred to as the Civil Monetary Penalty, or CMP, statute, prohibit a hospital from knowingly making a payment directly or indirectly to a physician as an inducement to reduce or limit items or services furnished to Medicare or Medicaid beneficiaries, and a physician from knowingly accepting such payment. Second, gainsharing arrangements implicate section 1128B(b) of the Act (the “anti-kickback statute”) if one purpose of the cost savings payment is to influence referrals of Federal health care program business.

3. Office of Inspector General (OIG) Approach Towards Gainsharing Arrangements

The HHS Office of Inspector General (“OIG”) historically has been wary of gainsharing arrangements. In July 1999, OIG issued a Special Advisory Bulletin that addressed the application of sections 1128A(b)(1) and (2) of the Act to gainsharing arrangements. Although OIG recognized that appropriately structured gainsharing arrangements may offer significant benefits where there is no adverse impact on the quality of care received by patients, section 1128A(b) of the Act clearly prohibits arrangements that are intended as an inducement to limit or reduce services to Medicare or Medicaid patients. In addition, OIG stated that regulatory relief from the CMP prohibition would require statutory authorization.

OIG has issued several favorable advisory opinions regarding individual gainsharing arrangements, although the opinions (like all OIG advisory opinions) do not have general applicability. When evaluating the risks posed by a gainsharing arrangement, OIG has generally looked for three types of safeguards, namely: (1) Measures that promote accountability and transparency; (2) adequate quality controls; and (3) controls on payments related to referrals. Properly structured, gainsharing arrangements may offer opportunities for hospitals to reduce costs without causing inappropriate reductions in medical services or rewarding referrals of Federal health care program patients. In a number of specific cases involving limited proposed arrangements, OIG has issued advisory opinions in which it concluded that the proposed arrangement presents a low risk of abuse and, therefore, it would exercise its prosecutorial discretion not to impose sanctions. In these cases, OIG has concluded, based on the totality of facts and circumstances and the presence of adequate safeguards, that: (1) The proposed arrangement would constitute an improper payment to induce the reduction or limitation of services as prohibited by sections 1128A(b)(1) and (2) of the Act, but that OIG would not impose sanctions on the requestors of the advisory opinion; and (2) the proposed arrangement would potentially generate prohibited remuneration under the anti-kickback statute if the requisite intent to induce or reward referrals of Federal health care program business were present, but that OIG would not impose administrative sanctions on the requestors under section 1128A(a), or under section 1128(b)(7) or section 1128A(a)(7), as those sections relate to the commission of acts described in the anti-kickback statute.

4. MedPAC Recommendation

MedPAC, in its March 2005 Report to Congress, “Physician-owned Specialty Hospitals,” recommended that gainsharing arrangements between physicians and hospitals be permitted. Specifically, MedPAC stated that, “[t]he Congress should grant the Secretary the authority to allow gainsharing arrangements between physicians and hospitals and to regulate those arrangements to protect the quality of care and minimize financial incentives that could affect physician referrals.” (See http://www.medpac.gov/publications/congressional repots/Mar05EntireReport.pdf, at page 47). In addition, MedPAC stated that, drawing on OIG's work, the Secretary could require that gainsharing arrangements:

• Identify specific actions that would produce savings, such as limiting the inappropriate use of supplies;

• Are transparent and disclosed to patients;

• Include periodic reviews of quality of care by an independent organization;

• Limit the amount of time during which physicians can share cost savings in order to prevent hospitals from using these agreements as a mechanism to induce physician referrals;

• Avoid rewarding physicians for increasing referrals to the hospitals, such as capping potential savings based on the number of prior year admissions; and

• Monitor changes in the severity, age, and insurance coverage of patients affected by the gainsharing arrangement.

5. Demonstration Programs

CMS has long been interested in evaluating the association between payments and the quality of care. In 1991, CMS initiated a demonstration program entitled the “Medicare Participating Heart Bypass Center Demonstration.” This demonstration was conducted to assess the feasibility and cost effectiveness of a negotiated all-inclusive bundled payment arrangement for coronary artery bypass graft (CABG) surgery while maintaining high quality care. CMS originally negotiated contracts with four applicants. In 1993, the demonstration was expanded to include three more participants. The results of the demonstration showed that an all-inclusive bundled payment arrangement can provide an incentive to physicians and hospitals to work together to provide services more efficiently, improve quality, and reduce costs. The bundling of the physician and hospital payments did not have a negative impact on the post-discharge health improvements of the demonstration patients. Three of the four original hospitals were able to make major changes in physician practice patterns and operations that generated significant cost savings. A hospital's participation in the demonstration appeared to have little or no effect on physician referral patterns.

A second demonstration project that involves gainsharing arrangements is authorized by section 646 of the MMA, which added a new section 1866C of the Act and established the Medicare Health Care Quality MHCQ Demonstration Program. MHCQ demonstration projects are intended to “* * * examine health delivery factors that encourage the delivery of improved quality in patient care.” Using the authority provided by section 1866C of the Act, CMS decided to implement a 3-year demonstration that would test gainsharing models involving physicians and collaborations between hospitals working with physicians in a single geographic area to improve the quality of inpatient hospital care. In contrast to traditional models of gainsharing, the proposed demonstration approaches must be across single or multiple organizations and involve long-term followup to ensure both documented improvements in quality and reductions in the overall costs of care. CMS is particularly interested in demonstration designs that: (1) Track patients well beyond a hospital episode to determine the impact of hospital-physician collaborations on preventing short and longer-term complications, duplication of services, and coordination of care across settings; and (2) offer other quality improvements for eliminating preventable complications and unnecessary costs.

A third series of demonstration projects was authorized by section 5007 of the Deficit Reduction Act of 2005 (the “DRA”) (Pub. L. 109-171). This provision requires the Secretary to establish a qualified gainsharing demonstration under which the Secretary shall approve up to six demonstration projects. Section 5007 demonstration projects would involve arrangements between a hospital and physicians and practitioners under which the hospital provides for remuneration (that is, gainsharing payments) to certain physicians and to certain practitioners (as defined in 1842(b)(18)(C) of the Act) that represents solely a share of the savings incurred directly as a result of collaborative efforts between the hospital and a particular physician (or practitioner) to improve overall quality and efficiency. Each demonstration project must also provide measures to monitor quality and efficiency in the participating project hospital(s).

6. Solicitation of Comments

In the CY 2008 PFS proposed rule, we noted that we are concerned about compensation arrangements between entities and physicians under which compensation is determined on a percentage basis (for example, rental charges for office space that are determined based on a percentage of a group practice's revenues) (72 FR 38184). We proposed to clarify that percentage-based compensation arrangements may be used only for paying for personally performed physician services and that such arrangements must be based on the revenues directly resulting from the physician services rather than based on some other factor such as a percentage of the savings by the hospital department. The proposed changes, if finalized, might prevent typical gainsharing arrangements between physicians and hospitals to which they refer for DHS. We have not yet finalized our proposal in the CY 2008 PFS final rule; however, it remains under active consideration.

Notwithstanding our general concern with arrangements that involve the use of a percentage-based compensation formula (other than payment to a physician for work personally performed by the physician), we recognize the value to the Medicare program and its beneficiaries where the alignment of hospital and physician incentives results in improvements in quality of care. Therefore, we are considering whether to issue an exception specific to gainsharing arrangements. Under section 1877(b)(4) of the Act, we may issue additional exceptions (that is, exceptions not specified in the statute) only where doing so would create no risk of program or patient abuse. At this time, we decline to issue a specific proposal concerning an exception for gainsharing arrangements, but rather are soliciting comments as to whether we should establish an exception for gainsharing arrangements, and, if so, what safeguards should be included in the exception. Specifically, we are interested in receiving comments on: (1) What types of requirements and safeguards should be included in any exception for gainsharing arrangements; and (2) whether certain services, clinical protocols, or other arrangements should not qualify for the exception.

D. Physician-Owned Implant and Other Medical Device Companies

1. Background

We have recently become aware of an increase in physician investment in implant and other medical device manufacturing, distribution, and purchasing companies. We recognize that physician involvement often adds value to device manufacturing companies and that many physicians may have legitimate investment interests in these companies. Physicians participate in the research, development, and testing involved in creating and producing many lifesaving and quality-of-life enhancing medical devices. The added value of physician involvement in distribution and purchasing companies, essentially middlemen companies, is less clear. When physicians profit from the referrals they make to hospitals through physician-owned implant and medical device companies (“POCs”), we are concerned about possible program or patient abuse. POCs exist in three primary forms: manufacturers, distributors, and group purchasing organizations (“GPOs”). Our understanding, however, is that many POCs are not manufacturers, but rather are companies that profit from the purchase and resale of products made by another organization (that is, they act as distributors) or from GPO fees paid by device vendors. In many cases, the physician investors bear little, if any, economic risk with respect to the medical devices. It is also our understanding that some physicians are offered investment interests in “private label” or similar manufacturing entities when the physicians have provided little, if any, necessary research, design, or testing services. We are concerned that some physician-owned organizations may serve little purpose other than providing physicians the opportunity to earn economic benefits in exchange for nothing more than ordering medical devices or other products that the physician-investors use on their own patients. The financial incentives paid to the physicians may foster an anti-competitive climate, raise quality of care concerns, and lead to overutilization of the device or other product to which the physician is linked. Physicians are responsible for selecting or recommending the devices ordered for the hospital's patients. It is reasonable to believe that medical device or implant companies without physician investment will have difficulty finding referral sources in areas where many physicians are invested in a POC that offers competing products.

In response to our proposed change to the definition of “entity” at § 411.351 in the CY 2008 PFS proposed rule, we received public comments regarding whether a physician-owned implant or other medical device company should or should not be considered to be an “entity.” One commenter noted that orthopedic surgeons may have an ownership interest in a manufacturer of spinal implants that sells its implants to the hospital where the surgeon performs his or her surgeries. According to the commenter, because the proposed definition of “entity” would extend to an entity that “performs the DHS,” the manufacturer arguably could be considered to be an “entity” under § 411.351. This commenter urged us to exclude such manufacturers from the definition of “entity.” The commenter stated that indirect arrangements involving spinal implants would trigger the self-referral prohibition if they are not at fair market value. Comments submitted on behalf of a manufacturer of spinal implants asserted that, despite superficial similarities, joint ventures involving medical devices differ in many material ways from the types of arrangements about which we expressed concern. This commenter also asserted that the meaning of “has performed the DHS” is unclear and that we should clarify that the proposal applied only to “true” “under arrangement” relationships with hospitals, but that, in any event, implantable devices are not DHS. According to the commenter, even if implantable devices were deemed to be DHS, the rigorous physician self-referral exceptions (for example, the exception for indirect compensation arrangements in § 411.357(p)) are still available to protect the arrangement and against program or patient abuse.

In an October 6, 2006 letter response to a request for guidance regarding certain physician investments in the medical device industry, OIG stated that it was aware of an apparent proliferation of physician investments in medical device and distribution companies, including GPOs, and that, given the strong potential for improper inducements between and among the physician investors, the companies, device vendors, and medical device purchasers, it believed that all of these ventures should be closely scrutinized under the fraud and abuse laws. OIG also clarified that its 1989 Special Fraud Alert on Joint Ventures applies to all physician joint ventures and would, therefore, apply to physician investments in medical device manufacturing and distribution companies, as well as GPOs. OIG confirmed that the fact that a substantial portion of a venture's gross revenues is derived from participant-driven referrals is a potential indicator of a problematic joint venture. The October 6, 2006 letter response is available at http://oig.hhs.gov/fraud/docs/alertsandbulletins/GuidanceMedicalDevice%20(2).pdf. See also http://oig.hhs.gov/testimony/docs/2008/demske_testimony022708.pdf.

A medical device company requested that we take a closer look at the current prevalence of POCs and the impact that these companies may have on program or patient abuse, as well as the negative impact on competition among POCs and nonphysician owned medical device companies. This company noted that, in the CY2008 PFS proposed rule, we proposed revising the definition of “entity” to include, among other things, an entity that causes a claim to be submitted to Medicare. It suggested that we finalize our proposal and that we deem POCs to be DHS entities under certain circumstances. It also suggested that, in certain circumstances, physician investors in POCs should be deemed to have a direct compensation relationship with the hospitals that order and use implantable devices furnished by the POCs. The company suggested that a POC should not be considered to have caused a claim to be presented where the referring physician is named as an inventor on an issued patent for the implantable item, provided that the physician does not receive any remuneration from the POC based on the volume or value of his or her referrals, or where the physician's investment interest satisfies the requirements of the exception in § 411.356(a) for large, publicly traded entities. We note that it is not clear to us under what circumstances a patent holder physician, who presumably receives royalty payments from the POC, would receive remuneration that does not relate to the volume or value of referrals or other business generated by the physician. In the Phase II final rule with comment period, we noted that we received a comment that questioned whether the payment of a royalty by an equipment manufacturer to a physician inventor for a device implanted during surgeries performed by the physician inventor is permitted or whether that arrangement would create an indirect compensation relationship with the hospital that purchased the device. We stated, in response, that the physician inventor would have an indirect compensation arrangement with the hospital in which the surgeries are performed but, provided the royalty payment was fair market value, the relationship should satisfy the exception for indirect compensation arrangements in § 411.357(p) (69FR 16060).

2. Solicitation of Comments

At this time, we are not issuing a specific proposal regarding POCs. The statute and our existing regulations, specifically those related to indirect compensation arrangements, address many POCs. In some problematic circumstances, an unbroken chain of financial relationships will connect the physician owner of a POC to a DHS entity to which the physician makes referrals, and the other elements of an indirect compensation arrangement contained in § 411.354(c)(2) will also be present, including the requisite knowledge by the DHS entity of the physician's interest in the POC. In many instances, the arrangement would not satisfy the requirements of the exception for indirect compensation arrangements in § 411.357(p), and would, therefore, run afoul of the physician self-referral statute. However, we are soliciting public comments as to whether our physician self-referral rules should address POCs and similar physician owned companies more specifically, or whether the concerns surrounding POCs and similar organizations, to the extent that they are not addressed by the statute and our current rules, are better addressed through enforcement of the False Claims Act, the anti-kickback statute and similar fraud and abuse laws, other public laws, and through other applicable Federal, State, and local regulations. In this regard, we are seeking comments as to whether, and to what degree, physician investment in POCs and similar organizations presents risks of overutilization, substandard care, and increased costs to the Medicare program and its beneficiaries, or whether the risk is confined to possible anti-competitive behavior. To the extent that commenters believe that certain physician investment in POCs and similar organizations should be addressed more specifically under our physician self-referral rules, commenters are encouraged to provide us with suggestions as to specific actions we should take (for example, considering POCs to be DHS entities under certain circumstances, considering physician investors in POCs who influence hospitals as to the ordering of medical devices to have direct compensation relationships with the hospitals, excepting certain investment interests from coverage under our rules, etc.).

IX. Financial Relationships Between Hospitals and Physicians

A. Background

As stated earlier, under section 1877 of the Act, a physician is prohibited from referring a Medicare patient for DHS to an entity (including an individual) with which the physician (or an immediate family member of the physician) has a financial relationship, unless an exception applies. In addition, section 1877 of the Act provides that an entity may not present or cause to be presented a claim or bill to Medicare or any individual, third party payor, or other entity for DHS furnished as a result of a prohibited referral. Also, section 1877 of the Act prohibits us from making payment for DHS furnished pursuant to a prohibited referral. The statute contains several exceptions for certain types of compensation arrangements and ownership or investment interests, including the exception in section 1877(d)(3) of the Act for ownership or investment by a physician in the hospital itself and not merely in a subdivision of the hospital (that is, the “whole” hospital). Section 1877(b)(4) of the Act authorizes us to create additional exceptions, provided that they do not create a risk of program or patient abuse. As a result of the statutory exceptions in section 1877 of the Act, and the exceptions we have created using our authority under section 1877(b)(4) of the Act, our regulations contain approximately 40 exceptions to the prohibition on physician self-referrals. (We refer readers to 42 CFR 411.351 through 411.357 of our regulations and the September 5, 2007 “Phase III” final rule (72 FR 51012).)

Section 1877(f) of the Act provides that: “Each entity providing covered items or services for which payment may be made under this title [42 USCS 1395 et seq.] shall provide the Secretary with the information concerning the entity's ownership, investment, and compensation arrangements, including: (1) The covered items and services provided by the entity, and (2) the names and unique physician identification numbers of all physicians with an ownership or investment interest (as described in subsection (a)(2)(A)), or with a compensation arrangement (as described in subsection (a)(2)(B)), in the entity, or whose immediate relatives have such an ownership or investment interest or who have a compensation relationship with the entity. Such information shall be provided in such form, manner, and at such times as the Secretary shall specify.” (Emphasis added)

Some industry representatives have argued that the reference to financial relationships as described in section 1877(a)(2)(A) and (a)(2)(B) of the Act limits our ability to obtain information on financial relationships that do not satisfy one of the statutory or regulatory exceptions. We disagree. The statute clearly contains a broad authorization for the Secretary to obtain information concerning an entity's financial relationships, “including,” but not limited to, financial relationships that satisfy an exception. We believe that there would have been little point to the Congress providing us with the authority to compel information on excepted arrangements only, because, as we have noted previously, “an entity could decide that one or more of its financial relationships falls within an exception, fail to retain data concerning those financial relationships, and thereby prevent the government from reviewing the arrangements to determine if they qualify for an exception.” (72 FR 51069.) Accordingly, our regulation in § 411.361 requires entities to report “any ownership or investment interest, as defined at § 411.354(b), or any compensation arrangement, as defined at § 411.354(c), except for ownership or investment interests that satisfy the exceptions set forth in § 411.356(a) and § 411.356(b) regarding publicly-traded securities and mutual funds” (emphasis added). The statute provides that an ownership or investment interest in the entity may be through equity, debt, or other means, and includes an interest in an entity that holds an ownership or investment interest in any entity that furnishes DHS.

Our regulations have been drafted to reflect clearly our commonsense interpretation of the statutory reporting requirements. In the proposed rule entitled “Medicare and Medicaid Programs; Physicians” Referrals to Health Care Entities With Which They Have Financial Relationships,” published in the Federal Register on January 9, 1998 (63 FR 1703), we proposed to modify § 411.361 to require that entities report information concerning their reportable financial relationships to us on a prescribed form and thereafter report annually all changes to the submitted information that occurred in the previous 12 months. In addition, we revisited the statute and interpreted the opening paragraph of section 1877(f) of the Act to permit us to gather any data on financial relationships, including, but not necessarily limited to, financial relationships for which there are no exceptions under section 1877(a)(2)(A) or (a)(2)(B) of the Act. Therefore, we proposed to amend § 411.361 to reflect explicitly our authority to ask for a broader scope of information than the regulation permitted at that time.

In the Phase II final rule with comment period (69 FR 16121), we modified the reporting requirement in § 411.361 to remove all references to the use of a prescribed form, to require entities to make information available only upon request, and to maintain the information only for the length of time specified by the applicable regulatory requirements for the information (that is, the rules of the Internal Revenue Service, Securities and Exchange Commission, Medicare, Medicaid, or other programs). In addition, we modified § 411.361 to provide that entities need not report ownership or investment interests that satisfy the exceptions in § 411.356(a) and (b) for publicly-traded securities and mutual funds.

Most, if not all, hospitals have financial relationships with referring physicians. These financial relationships may involve ownership or investment interests, compensation arrangements, or both. The financial relationships can be direct or they may be indirect (such as through a physician group practice or limited liability company). The physician self-referral statute was first enacted in 1989, and the reporting requirements in the regulations in § 411.361 were first implemented in our December 3, 1991 interim final rule with comment period, published in the Federal Register at 56 FR 61374. Since that time, CMS has not engaged in a comprehensive reporting initiative to examine financial relationships between hospitals and physicians. Consistent with congressional intent in enacting the physician self-referral statute, we believe it is important to query hospitals concerning their financial relationships with physicians.

B. Section 5006 of the Deficit Reduction Act (DRA) of 2005

Section 5006 of the DRA required the Secretary to develop a strategic and implementing plan to address certain issues relating to physician-owned specialty hospitals. The specific issues the Secretary was required to address were: (1) Proportionality of investment return; (2) bona fide investment; (3) annual disclosure of investment information; (4) the provision by specialty hospitals of (i) care to patients who are eligible for Medicaid (or who are not eligible for Medicaid but who are regarded as such because they receive benefits under a section 1115 waiver) and (ii) charity care; and (5) appropriate enforcement. In order to assist us in preparing the report and implementing plan required by section 5006 of the DRA, we sent a voluntary survey to 130 specialty hospitals and 220 competitor hospitals, which sought information regarding, among other things, the hospitals' ownership and investment relationships, and their compensation arrangements with physicians. In the enforcement section of the strategic and implementing plan that was included in our “Final Report to the Congress and Strategic and Implementing Plan Required under Section 5006 of the Deficit Reduction Act of 2005” issued on August 8, 2006, available on our Web site at http://www.cms.hhs.gov/PhysicianSelfReferral/06a_DRA_Reports.asp (hereinafter referred to as the “DRA Report to Congress”), we stated that we would require all hospitals (that is, not just specialty hospitals) to provide us information on a periodic basis concerning the investment interests in the hospital of physicians and the hospital's compensation arrangements with physicians (DRA Report to Congress 69). We stated that we would not limit our requirement to information concerning physician investments in specialty hospitals for two reasons. First, physician investments in any type of hospital raise potential issues concerning compensation arrangements that can be associated with the investment. For example, a disproportionate return on investment or non-bona fide investment (through, for example, a sham loan), creates a prohibited compensation arrangement under the physician self-referral law and raises the possibility of an illegal kickback scheme. Second, other types of compensation arrangements (that is, those that are not associated with an investment interest), implicate the physician self-referral law, such as leasing, employment, and personal service arangements. It is also important to note that, although a physician may be highly motivated to refer patients to a hospital in which he or she has an ownership interest, the physician may be just as likely to refer patients to a hospital with which he or she has a compensation relationship, given that the physician may see a more direct and immediate financial benefit from the compensation arrangement. In the DRA Report to Congress, we stated that we would implement a regular disclosure process, but that we had not designed the process at that point, and that we would consider such issues as whether we should: (1) Survey all hospitals annually; (2) stagger our survey so that all hospitals are queried but not all in the same year; and/or (3) focus our inquiry on certain types of relationships or certain hospitals. We stated that we would also consider whether, having once provided information, hospitals need only submit updated information on a yearly or other periodic basis.

C. Disclosure of Financial Relationships Report (DFRR)

Following up on our commitment to capture information concerning financial relationships between all types of hospitals and physicians, and to assist in enforcement of the physician self-referral statute and implementing regulations, we created an information collection instrument, referred to as the Disclosure of Financial Relationships Report (“DFRR”). The DFRR is designed to collect information concerning the ownership and investment interests and compensation arrangements between hospitals and physicians. (Appendix C of this proposed rule contains the DFRR instrument and instructions for public comment.) We believe information submitted by hospitals would permit us to analyze the types of financial relationships involving hospitals and physicians, the structure of various compensation arrangements and trends therein, and potentially whether the hospitals are in compliance with the physician self-referral law and implementing regulations. Using our authority under section 1877(f) of the Act and 42 CFR 411.361, we are proposing to send the DFRR to 500 hospitals, a number that we believe is necessary to provide us with sufficient information: (1) To determine compliance; and (2) to assist us in any future rulemaking concerning the reporting requirements and other physician self-referral provisions.

We intend for our sample size to be a significant percentage of the total number of Medicare-participating hospitals. The 2007 CMS Statistics Handbook determined that, as of December 2006, there were approximately 6,200 Medicare-participating hospitals. Our goal is to begin by sending the DFRR to 8 to 10 percent of the Medicare-participating hospitals (496 to 620 hospitals). We reviewed our available funding and determined that our resources would permit us to review data from 500 hospitals (both general acute care hospitals and specialty hospitals).

As discussed further below, the DFRR also may assist us in making an informed decision as to whether to propose rulemaking for an annual (or other periodic) disclosure requirement for all hospitals. By posing a comprehensive set of questions to a significant number of hospitals, we believe that we will be informed not only as to whether we should engage in such rulemaking, but also as to what the design of the proposed information collection should look like.

Originally, we had planned to pilot this information collection request in advance of rulemaking. Thus, we prepared a proposed information collection request in accordance with the Paperwork Reduction Act. We announced and sought public comment on the information collection request in a 60-day Federal Register notice (CMS-10236) that was published on May 18, 2007 (72 FR 28056). On September 14, 2007, we published in the Federal Register a revised information collection request in which we increased the time estimate for completing the DFRR and increased the time for submission of the DFRR from 45 days to 60 days (72 FR 52568). (For additional information, we refer the reader to 72 FR 28056 and 72 FR 52568.)

In this proposed rule, we are providing a discussion of the potential burden associated with completing the DFRR, including an analysis that provides estimates of the burden for small, medium, and large hospitals. To better understand the potential burden for completing the DFRR collection, we reviewed the bed size of Medicare-participating hospitals and developed three categories of hospitals (small, medium, and large hospitals). We randomly selected 20 hospitals from each category and requested that these 60 hospitals estimate the aggregate number of hours it would take them to complete and submit the entire DFRR collection. The 33 hospitals that responded included 11 small, 11 medium, and 11 large hospitals. We reviewed the responses from the 33 hospitals and determined that the average number of hours to complete the DFRR was 31 hours. This figure represents a significant increase from our most recent time and burden estimate. Therefore, we believe it would be beneficial to seek further comments on the accuracy of the time and burden estimates associated with this information collection instrument. Because the information that we seek is that which hospitals should already be keeping in the normal course of their business activities (even apart from the need to document compliance with the physician self-referral law), we anticipate that the majority of the time spent completing the DFRR will be spent by administrative staff. We believe that the tasks involved would include retrieving the information and printing it from electronic files or copy it from hard files, which largely should involve administrative personnel. In addition, the review and organization of the materials would also impose burden on the respondent. Nevertheless, in order to err on the side of more potential burden rather than less, we have calculated costs using an hourly rate for accountants.

D. Civil Monetary Penalties

We are proposing that the DFRR be completed, certified by the appropriate officer of the hospital, and received by CMS within 60 days of the date that appears on the cover letter or e-mail transmission of the DFRR. We are soliciting comment on the proposed 60-day timeframe for completing the DFRR.

Section 411.361(f) provides that failure to timely submit the requested information concerning an entity's ownership, investment, and compensation arrangements may result in civil monetary penalties of up to $10,000 for each day beyond the deadline established for disclosure. Although we have the authority to impose civil monetary penalties, we seek not to invoke this authority and will work with entities to comply with the reporting requirements. Prior to imposing a civil monetary penalty in any amount, we would issue a letter to any hospital that does not return the completed DFRR, inquiring as to why the hospital did not return timely the completed DFRR. In addition, a hospital may, upon a demonstration of good cause, receive an extension of time to submit the requested information.

E. Uses of Information Captured by the DFRR

As noted above, we anticipate that the DFRR will be useful in determining whether the financial relationships between 500 hospitals and the physicians associated with those hospitals are in compliance with the physician self-referral statute and regulations. In addition, the results of the DFRR may assist us in other rulemaking efforts.

In the CY 2008 PFS proposed rule, we proposed certain changes to our physician self-referral rules (72 FR 38179 through 38187). With the exception of the anti-markup provisions, however, we have not yet finalized any of the proposals. We are actively working on the proposals, and although we expect to finalize the proposals before receiving and analyzing the completed DFRRs, information gleaned from the completed DFRRs may shape our final rulemaking if that rulemaking is delayed. Our analysis of the DFRRs may affect subsequent proposals on these and other related issues.

F. Solicitation of Comments

We are soliciting comments on the DFRR information collection instrument through this proposed rule as follows:

• Whether the collection effort should be recurring, and, if so, whether it should be implemented on an annual or some other periodic basis.

• Whether we are collecting too much or not enough information, and whether we are collecting the correct (or incorrect) type of information.

• The amount of time it will take hospitals to complete the DFRR and the costs associated with completing the DFRR; the amount of time we should give hospitals to complete and return their responses to us.

• Whether we should direct the collection instrument to all hospitals, and, if so, whether we should stagger the collection so that only a certain number of hospitals are subject to it in any given year.

• Whether hospitals, once having completed the DFRR, should have to send in yearly updates and report only changed information.

X. MedPAC Recommendations

We are required by section 1886(e)(4)(B) of the Act to respond to MedPAC's recommendations regarding hospital inpatient payments in our annual proposed and final IPPS rules. We have reviewed MedPAC's March 2008 “Report to the Congress: Medicare Payment Policy” and have given it careful consideration in conjunction with the proposed policies set forth in this document. MedPAC's Recommendation 2A-1 states that “The Congress should increase payment rates for the acute inpatient and outpatient prospective payment systems in 2009 by the projected rate of increase in the hospital market basket index, concurrent with implementation of a quality incentive payment program.” This recommendation is discussed in Appendix B to this proposed rule.

Recommendation 2A-2: MedPAC recommended that “The Congress should reduce the indirect medical education adjustment in 2009 by 1 percentage point to 4.5 percent per 10 percent increment in the resident-to-bed ratio. The funds obtained by reducing the indirect medical education adjustment should be used to fund a quality incentive payment program.”

Response: Redirecting funds obtained by reducing the IME adjustment to fund a quality incentive payment program is consistent with the VBP initiatives to improve the quality of care and, therefore, merits consideration. However, section 502(a) of Pub. L. 108-173 modified the formula multiplier (c) to be used in the calculation of the IME adjustment beginning midway through FY 2004 and provided for a new schedule of formula multipliers for FYs 2005 and thereafter. Consequently, CMS could not implement MedPAC's recommendation to reduce the IME adjustment in 2009 without a statutory change. We note that included in the President's FY 2009 budget proposal was a proposal to reduce the IME adjustment from 5.5 percent to 2.2 percent over 3 years, starting in FY 2009, in order to better align IME payments with the estimated costs per case that teaching hospitals may face.

In its June 2007 “Report to Congress: Promoting Greater Efficiency in Medicare,” MedPAC made recommendations concerning the Medicare hospital wage index. Section 106(b)(1) of the MIEA-TRHCA (Pub. L. 109-432) required MedPAC to submit to Congress, not later than June 30, 2007, a report on the Medicare hospital wage index classification system applied under the Medicare IPPS, including any alternatives that MedPAC recommended to the method to compute the wage index under section 1886(d)(3)(E) of the Act. In addition, section 106(b)(2) of the MIEA-TRHCA instructed the Secretary taking into account MedPAC's recommendations on the Medicare hospital wage index classification system, to include in this FY 2009 IPPS proposed rule one or more proposals to revise the wage index adjustment applied under section 1886(d)(3)(E) of the Act for purposes of the IPPS. The MedPAC recommendations and our proposals concerning the Medicare hospital wage index are discussed in section III.B. of the preamble of this proposed rule.

For further information relating specifically to the MedPAC reports or to obtain a copy of the reports, contact MedPAC at (202) 653-7220, or visit MedPAC's Web site at: http://www.medpac.gov.

XI. Other Required Information

A. Requests for Data From the Public

In order to respond promptly to public requests for data related to the prospective payment system, we have established a process under which commenters can gain access to raw data on an expedited basis. Generally, the data are available in computer tape or cartridge format. However, some files are available on diskette as well as on the Internet at: http://www.cms.hhs.gov/providers/hipps. Data files and the cost for each file, if applicable, are listed below. Anyone wishing to purchase data tapes, cartridges, or diskettes should submit a written request along with a company check or money order (payable to CMS-PUF) to cover the cost to the following address: Centers for Medicare & Medicaid Services, Public Use Files, Accounting Division, P.O. Box 7520, Baltimore, MD 21207-0520, (410)-786-3691. Files on the Internet may be downloaded without charge.

1. CMS Wage Data

This file contains the hospital hours and salaries for FY 2005 used to create the proposed FY 2009 prospective payment system wage index. The file is currently available for the NPRM and will be available by the beginning of May for the final rule.

Processing year | Wage data year | PPS fiscal year
2008 | 2005 | 2009
2007 | 2004 | 2008
2006 | 2003 | 2007
2005 | 2002 | 2006
2004 | 2001 | 2005
2003 | 2000 | 2004
2002 | 1999 | 2003
2001 | 1998 | 2002
2000 | 1997 | 2001
1999 | 1996 | 2000
1998 | 1995 | 1999
1997 | 1994 | 1998
1996 | 1993 | 1997
1995 | 1992 | 1996
1994 | 1991 | 1995
1993 | 1990 | 1994
1992 | 1989 | 1993
1991 | 1988 | 1992

These files support the following:

• Notice of proposed rulemaking published in the Federal Register.

• Final rule published in the Federal Register.

Media: Diskette/most recent year on the Internet.

File Cost: $165.00 per year.

Periods Available: FY 2009 PPS Update.

2. CMS Hospital Wages Indices (Formerly: Urban and Rural Wage Index Values Only)

This file contains a history of all wage indices since October 1, 1983.

Media: Diskette/most recent year on the Internet.

File Cost: $165.00 per year.

Periods Available: FY 2009 PPS Update.

3. FY 2009 Proposed Rule Occupational Mix Adjusted and Unadjusted AHW by Provider

This file includes each hospital's adjusted and unadjusted average hourly wage.

Media: Internet.

Periods Available: FY 2009 PPS Update.

4. FY 2009 Proposed Rule Occupational Mix Adjusted and Unadjusted AHW and Pre-Reclassified Wage Index by CBSA

This file includes each CBSA's adjusted and unadjusted average hourly wage.

Media: Internet.

Periods Available: FY 2009 PPS Update.

5. Provider Occupational Mix Adjustment Factors for Each Occupational Category

This file contains each hospital's occupational mix adjustment factors by occupational category.

Media: Internet.

Periods Available: FY 2009 PPS Update.

6. PPS SSA/FIPS MSA State and County Crosswalk

This file contains a crosswalk of State and county codes used by the Social Security Administration (SSA) and the Federal Information Processing Standards (FIPS), county name, and a historical list of Metropolitan Statistical Areas (MSAs).

Media: Diskette/Internet.

File Cost: $165.00 per year.

Periods Available: FY 2009 PPS Update.

7. Reclassified Hospitals New Wage Index (Formerly: Reclassified Hospitals by Provider Only)

This file contains a list of hospitals that were reclassified for the purpose of assigning a new wage index. Two versions of these files are created each year. They support the following:

• Notice of proposed rulemaking published in the Federal Register.

• Final rule published in the Federal Register.

Media: Diskette/Internet.

File Cost: $165.00 per year.

Periods Available: FY 2009 PPS Update.

8. PPS-IV to PPS-XII Minimum Data Set

The Minimum Data Set contains cost, statistical, financial, and other information from Medicare hospital cost reports. The data set includes only the most current cost report (as submitted, final settled, or reopened) submitted for a Medicare participating hospital by the Medicare fiscal intermediary to CMS. This data set is updated at the end of each calendar quarter and is available on the last day of the following month.

Media: Tape/Cartridge.

File Cost: $770.00 per year.

| Periods beginning on or after | and before
PPS-IV | 10/01/86 | 10/01/87
PPS-V | 10/01/87 | 10/01/88
PPS-VI | 10/01/88 | 10/01/89
PPS-VII | 10/01/89 | 10/01/90
PPS-VIII | 10/01/90 | 10/01/91
PPS-IX | 10/01/91 | 10/01/92
PPS-X | 10/01/92 | 10/01/93
PPS-XI | 10/01/93 | 10/01/94
PPS-XII | 10/01/94 | 10/01/95
(Note: The PPS-XIII, PPS-XIV, PPS-XV, PPS-XVI, PPS-XVII, PPS-XVIII, PPS-XIX PPS-XX, PPS-XXI, PPS-XXII, and PPS-XXIII Minimum Data Sets are part of the PPS-XIII, PPS-XIV, PPS-XV, PPS-XVI, PPS-XVII, PPS-XVIII, PPS-XIX, PPS-XX, PPS-XXI, PPS-XXII, and PPS-XXIII Hospital Data Set Files (refer to item 10 below).)

9. PPS-IX to PPS-XII Capital Data Set

The Capital Data Set contains selected data for capital-related costs, interest expense and related information and complete balance sheet data from the Medicare hospital cost report. The data set includes only the most current cost report (as submitted, final settled or reopened) submitted for a Medicare certified hospital by the Medicare fiscal intermediary to CMS. This data set is updated at the end of each calendar quarter and is available on the last day of the following month.

Media: Tape/Cartridge.

File Cost: $770.00 per year.

| Periods beginning on or after | and before
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, PPS-XVII, PPS-XVIII, PPS-XIX PPS-XX, PPS-XXI, PPS-XXII, and PPS-XXIII Capital Data Sets are part of the PPS-XIII, PPS-XIV, PPS-XV, PPS-XVI, PPS-XVII, PPS-XVIII, PPS-XIX, PPS-XX, PPS-XXI, PPS-XXII, and PPS-XXIII Hospital Data Set Files (refer to item 10 below).)

10. PPS-XIII to PPS-XXIII Hospital Data Set

The file contains cost, statistical, financial, and other data from the Medicare Hospital Cost Report. The data set includes only the most current cost report (as submitted, final settled, or reopened) submitted for a Medicare-certified hospital by the Medicare fiscal intermediary to CMS. The data set is updated at the end of each calendar quarter and is available on the last day of the following month.

Media: Diskette/Internet.

File Cost: $2,500.00.

| Periods beginning on or after | and before
PPS-XIII | 10/01/95 | 10/01/96
PPS-XIV | 10/01/96 | 10/01/97
PPS-XV | 10/01/97 | 10/01/98
PPS-XVI | 10/01/98 | 10/01/99
PPS-XVII | 10/01/99 | 10/01/00
PPS-XVIII | 10/01/00 | 10/01/01
PPS-XIX | 10/01/01 | 10/01/02
PPS-XX | 10/01/02 | 10/01/03
PPS-XXI | 10/01/03 | 10/01/04
PPS-XXII | 10/01/04 | 10/01/05
PPS-XXIII | 10/01/05 | 10/01/06

11. Provider-Specific File

This file is a component of the PRICER program used in the fiscal intermediary's or the MAC's system to compute DRG payments for individual bills. The file contains records for all prospective payment system eligible hospitals, including hospitals in waiver States, and data elements used in the prospective payment system recalibration processes and related activities. Beginning with December 1988, the individual records were enlarged to include pass-through per diems and other elements.

Media: Diskette/Internet.

File Cost: $265.00.

Periods Available: FY 2009 PPS Update.

12. CMS Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• Notice of proposed rulemaking published in the Federal Register.

• Final rule published in the Federal Register.

Media: Diskette/most recent year on Internet.

Price: $165.00 per year/per file.

Periods Available: FY 1985 through FY 2009.

13. MS-DRG Relative Weights (Formerly Table 5 DRG)

This file contains a listing of MS-DRGs, MS-DRG narrative descriptions, relative weights, and geometric and arithmetic mean lengths of stay as published in the Federal Register. The hard copy image has been copied to diskette. There are two versions of this file as published in the Federal Register:

• Notice of proposed rulemaking.

• Final rule.

Media: Diskette/Internet.

File Cost: $165.00.

Periods Available: FY 2009 PPS Update.

14. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet.

File Cost: $165.00.

Periods Available: FY 2009 PPS Update.

15. AOR/BOR Tables

This file contains data used to develop the MS-DRG relative weights. It contains mean, maximum, minimum, standard deviation, and coefficient of variation statistics by MS-DRG for length of stay and standardized charges. The BOR tables are “Before Outliers Removed” and the AOR is “After Outliers Removed.” (Outliers refer to statistical outliers, not payment outliers.)

Two versions of this file are created each year. They support the following:

• Notice of proposed rulemaking published in the Federal Register.

• Final rule published in the Federal Register.

Media: Diskette/Internet.

File Cost: $165.00.

Periods Available: FY 2009 PPS Update.

16. Prospective Payment System (PPS) Standardizing File

This file contains information that standardizes the charges used to calculate relative weights to determine payments under the prospective payment system. Variables include wage index, cost-of-living adjustment (COLA), case-mix index, disproportionate share, and the Metropolitan Statistical Area (MSA). The file supports the following:

• Notice of proposed rulemaking published in the Federal Register.

• Final rule published in the Federal Register.

Media: Internet.

File Cost: No charge.

Periods Available: FY 2009 PPS Update.

For further information concerning these data tapes, contact the CMS Public Use Files Hotline at (410) 786-3691.

Commenters interested in discussing any data used in constructing this proposed rule should contact Nisha Bhat at (410) 786-5320.

B. Collection of Information Requirements

1. Legislative Requirement for Solicitation of Comments

Under the Paperwork Reduction Act of 1995, we are required to provide 60-day notice in the Federal Register and solicit public comment before a collection of information requirement is submitted to the Office of Management and Budget (OMB) for review and approval. In order to fairly evaluate whether an information collection should be approved by OMB, section 3506(c)(2)(A) of the Paperwork Reduction Act of 1995 requires that we solicit comment on the following issues:

• The need for the information collection and its usefulness in carrying out the proper functions of our agency.

• The accuracy of our estimate of the information collection burden.

• The quality, utility, and clarity of the information to be collected.

• Recommendations to minimize the information collection burden on the affected public, including automated collection techniques.

2. Solicitation of Comments on Proposed Requirements in Regulatory Text

We are soliciting public comment on each of the issues listed under section XI.B.1. of this preamble for the following sections of this document that contain information collection requirements (ICRs):

a. ICRs Regarding Physician Reporting Requirements (§ 411.361)

Section 411.361(a) of the regulations states that except for entities that furnish 20 or fewer Part A and Part B services during a calendar year or for Medicare covered services furnished outside the United States, all entities furnishing services for which payment may be made under Medicare must submit information to CMS or to the Office of the Inspector General (OIG) concerning their reportable financial relationships (any ownership or investment interest, or compensation arrangement) in the form, manner, and at times that CMS or OIG specifies. As described in section IX. of the preamble of this proposed rule, and in accordance with its authority under 42 CFR 411.361(e), CMS is requiring that hospitals provide information concerning their ownership, investment and compensation arrangements with physicians by completing the DFRR instrument.

An information collection request concerning the DFRR was previously submitted to OMB for approval. We announced and sought public comment on the information collection request in both 60-day and 30-day Federal Register notices that published on May 18, 2007 (72 FR 28056), and September 14, 2007 (72 FR 52568), respectively. As further discussed in section IX. of this preamble, we have decided to obtain additional input from the public concerning the time and cost burden associated with completing and submitting the DFRR instrument. (The instrument is included as Appendix C to this proposed rule.) We believe that hospital accounting personnel would be responsible for: (1) Ensuring that the appropriate data or supporting documentation is retrieved; (2) completing the DFRR; and (3) submitting the DFRR to the Chief Executive Officer, Chief Financial Officer, or comparable officer of the hospital for his or her signature on the certification statement.

Initially, CMS would require 500 hospitals to complete and submit the DFRR instrument. We estimate that these tasks would require 31 hours for each of the 500 hospitals to complete the DFRR. Thus, the total number of burden hours required for 500 hospitals to complete the DFRR instrument is 15,500 hours.

b. ICRs Regarding Risk Adjustment Data (§ 422.310)

As discussed in section IV.H. of the preamble of this proposed rule, § 422.310(b) states that each MA organization must submit to CMS (in accordance with CMS instructions) the data necessary to characterize the context and purposes of each item and service provided to a Medicare enrollee by a provider, supplier, physician, or other practitioner. In addition, § 422.310(b) states that CMS may collect data necessary to characterize the functional limitations of enrollees of each MA organization. Section 422.310(c) lists the nature of the data elements to be submitted to CMS.

The burden associated with these requirements is the time and effort necessary for the MA organization to submit the necessary data to CMS. These requirements are subject to the PRA and the associated burden is currently approved under OMB control number 0938-0878. However, under notice and comment periods separate from this proposed rule, we intend to revise the currently approved information collection to include burden estimates as they pertain to § 422.310. The preliminary burden estimate for this proposed rule is as follows: Currently, there are 676 MA organizations. Assuming that 99 percent of encounter data claims are submitted electronically and 1 percent are submitted manually, we estimate that it will take 1,089 hours annually for submission of electronic claims and 73,335 hours annually for submission of manual claims. The estimated annual burden associated with these requirements is an annual average of 110 hours per MA organization.

c. ICRs Regarding Basic Commitments of Providers (§ 489.20)

As discussed in section IV.I. of the preamble of this proposed rule, proposed § 489.20(r)(2) states that a hospital, as defined in § 489.24(b), must maintain an on-call list of physicians on its medical staff to provide treatment necessary to stabilize patients who are receiving services required under § 489.24 in accordance with the resources available to the hospital. The burden associated with this requirement is the time and effort necessary to draft, maintain, and periodically update the list of on-call physicians. We estimate that it will take 3 hours for each of the 100 Medicare-participating hospitals to comply with this recordkeeping requirement. The estimated annual burden associated with this requirement is 300 hours.

As discussed in section VII. of the preamble of this proposed rule, proposed § 489.20(u)(1) states that, in the case of a physician-owned hospital as defined in § 489.3, the hospital must furnish written notice to all patients at the beginning of their hospital stay or outpatient visit that the hospital is a physician-owned facility. In addition, patients must be advised that a list of the hospital's owners or investors who are physicians (or immediate family members of physicians) is available upon request. Upon receiving the request of the patient or an individual on behalf of the patient, a hospital must immediately disseminate the list to the requesting patient.

The burden associated with the requirements in this section is the time and effort necessary for a hospital to furnish written notice to all patients that the hospital is a physician-owned hospital. Whereas this requirement is subject to the PRA, the associated burden is currently approved under OMB control number 0938-1034, with an expiration date of February 28, 2011.

In addition, there is burden associated with furnishing a patient with the list of the hospital's owners or investors who are physicians (or immediate family members of physicians) at the time of the patient request. However, CMS has no way to accurately quantify the burden because we cannot estimate the number of this type of request that a hospital may receive. We are soliciting public comments on the annual number of requests a hospital may receive for lists of physician-owners and investors, and will reevaluate this issue in the final rule stage of rulemaking.

Proposed § 489.20(u)(2) would require disclosure of physician ownership as a condition of continued medical staff membership or admitting privileges. The burden associated with this requirement is the time and effort required for a hospital to develop, draft, and implement changes to its medical staff bylaws and other policies governing admitting privileges. Approximately 175 physician-owned hospitals would be required to comply with this requirement. We estimate that it will require a hospital's general counsel 4 hours to revise a hospital's medical staff bylaws and policies governing admitting privileges. Therefore, the total annual hospital burden would be 700 hours.

In addition, the proposed § 489.20(u)(2) imposes a burden on physicians. As stated earlier, all physicians who are also members of the hospital's medical staff must agree, as a condition of continued medical staff membership or admitting privileges, to disclose, in writing, to all patients they refer to the hospital any ownership or investment interest in the hospital held by themselves or by an immediate family member. The disclosure must be made at the time the referral is made. The burden associated with this requirement is the time and effort necessary for a physician to draft a disclosure and to provide it to the patient at the time the referral is made to the physician-owned hospital. We estimate that it will take each physician, or designated office staff member, 1 hour to develop a disclosure notice and make copies that will be distributed to patients. In addition, we estimate 30 seconds to provide the disclosure to each patient and an additional 30 seconds to record the proof of disclosure into each patient's medical record.

Although we can estimate the number of physician-owned hospitals, we are unable to quantify the number of physicians that possess an ownership or investment interest in hospitals. There is limited data available concerning physician ownership in hospitals. The studies to date, including those by CMS and the Government Accountability Office, pertain to physician ownership in specialty hospitals (cardiac, orthopedic, and surgical hospitals). These specialty hospital studies published data concerning the average percentage of shares of direct ownership by physicians (less than 2 percent), indirect ownership through group practices, and the aggregate percentage of physician ownership, but did not publish the number of physician owners in these types of hospitals. More importantly, proposed § 489.20(u)(2) would apply to physician ownership in any type of hospital. Our other research involved a review of enrollment data. However, the CMS enrollment application (CMS-855) requires the reporting of ownership interests that exceed 5 percent or greater, and, thus, most physician ownership is not captured. In summary, because we are unable to estimate the total physician burden associated with this reporting requirement, we are seeking public comment pertaining to this burden and will reevaluate this issue in the final rule stage of rulemaking.

Proposed § 489.20(v) states that the aforementioned requirements in § 489.20(u)(1) and (u)(2) do not apply to a physician-owned hospital that does not have at least one referring physician who has an ownership or investment interest in the hospital or who has an immediate family member who has an ownership or investment interest in the hospital. To comply with this exception, an eligible hospital must sign an attestation to that effect and maintain the document in its records. Therefore, the number of hospitals that are now subject to the disclosure requirement would be slightly reduced. However, there may be a minimal burden attributable to the proposed requirement that the hospital maintain an attestation statement in its records.

The burden associated with this requirement will be limited to those physician-owned hospitals that do not have at least one referring physician who has an ownership or investment interest in the hospital or who has an immediate family member who has an ownership or investment interest in the hospital. The burden would include the time and effort for these hospitals to develop, sign, and maintain the attestations in their records. We estimate that 10 percent, or approximately 18, of the estimated 175 physician-owned hospitals would be subject to this requirement. We estimate that it would take each of these physician-owned hospitals an average of 1 hour to develop, sign, and maintain the attestation in its records. The estimated annual burden associated with this requirement is 18 hours. However, because we have no way of knowing for certain the number of physician-owned hospitals that do not have at least one referring physician who has an ownership or investment interest in the hospital or who has an immediate family member who has an ownership or investment interest in the hospital, we are requesting public comment regarding the accuracy of our estimate and the associated burden with the attestation requirement.

Section 489.20(w) requires all hospitals, as defined in § 489.24(b), to furnish all patients notice, in accordance with § 482.13(b)(2), at the beginning of their hospital stay or outpatient visit if a doctor of medicine or a doctor of osteopathy is not present in the hospital 24 hours per day, 7 days per week. The notice must indicate how the hospital will meet the medical needs of any inpatient who develops an emergency medical condition, as defined in § 489.24(b), at a time when there is no physician present in the hospital. The burden associated with this requirement is the time and effort necessary for each hospital to develop a standard notice to furnish to its patients. Whereas this requirement is subject to the PRA, the associated burden is approved under OMB control number 0938-1034 with a current expiration date of February 28, 2011.

Estimated Annual Reporting and Recordkeeping Burden
Regulation section(s) | OMB control No. | Respondents | Responses | Burden per response (hours) | Total annual burden (hours)
§ 411.361 | 0938-New | 500 | 500 | 31 | 15,500
§ 422.310(b) | 0938-0878 | 676 | 676 | 110 | * 74,424
§ 489.20(r) | 0938-New | 100 | 100 | 3 | 300
§ 489.20(u)(1) and (w) | 0938-1034 | 2,679 | 49,735,635 | ** | 839,599
§ 489.20(u)(2) | 0938-New | 175 | 175 | 4 | 700
§ 489.20(v) | 0938-New | 18 | 18 | 1 | 18
Total |  |  |  |  | 930,541
* Burden estimate is based on proposed revisions to the currently approved OMB control number.
** There are multiple requirements associated with the regulation section approved under this OMB control number. There is no uniform estimate of the burden per response.

3. Associated Information Collections Not Specified in Regulatory Text

This proposed rule imposes collection of information requirements as outlined in the regulation text and specified above. However, this proposed rule also makes reference to several associated information collections that are not discussed in the regulation text. The following is a discussion of these collections, which have already received OMB approval.

a. Present on Admission (POA) Indicator Reporting

Section II.F.8 of the preamble of this proposed rule discusses the present on admission indicator (POA) reporting requirements. As stated earlier, POA indicator information is necessary to identify which conditions were acquired during hospitalization for the hospital-acquired condition (HAC) payment provision and for broader public health uses of Medicare data. Through Change Request No. 5499 (released May 11, 2007), CMS issued instructions requiring IPPS hospitals to submit the POA indicator data for all diagnosis codes on Medicare claims.

The burden associated with this requirement is the time and effort necessary to place the appropriate POA codes on Medicare claims. While the requirement is subject to the PRA; the associated burden is approved under 0938-0997 with an expiration date of August 31, 2009.

b. Proposed Add-On Payments for New Services and Technologies

Section II.J. of the preamble of this proposed rule discusses proposed add-on payments for new services and technologies. Specifically, this section states that applicants for add-on payments for new medical services or technologies for FY 2010 must submit a formal request. A formal request includes a full description of the clinical applications of the medical service or technology and the results of any clinical evaluations demonstrating that the new medical service or technology represents a substantial clinical improvement. In addition, the request must contain a significant sample of the data to demonstrate that the medical service or technology meets the high-cost threshold.

We detailed the burden associated with this requirement in a final rule published in the Federal Register on September 7, 2001 (66 FR 46902). As stated in that final rule, we believe the associated burden is exempt from the PRA as stipulated under 5 CFR 1320.3(h)(6). Collection of the information for this requirement will be conducted on an individual case-by-case basis.

c. Reporting of Hospital Quality Data for Annual Hospital Payment Update

As noted in section IV.B. of the preamble of this proposed rule, the RHQDAPU program was originally established to implement section 501(b) of Pub. L. 108-173, thereby expanding our voluntary Hospital Quality Initiative. The RHQDAPU program originally consisted of a “starter set” of 10 quality measures. OMB approved the collection of data associated with the original starter set of quality measures under OMB control number 0938-0918, with a current expiration date of January 31, 2010.

We added additional quality measures to the RHQDAPU program and submitted the information collection request to OMB for approval. This expansion of the RHQDAPU measures was part of our implementation of section 5001(a) of the DRA. Section 1886(b)(3)(B)(viii)(III) of the Act, added by section 5001(a) of the DRA, requires that the Secretary expand the “starter set” of 10 quality measures that were established by the Secretary as of November 1, 2003, to include measures “that the Secretary determines to be appropriate for the measurement of the quality of care furnished by hospitals in inpatient settings.” The burden associated with these reporting requirements is currently approved under OMB control number 0938-1022 with a current expiration date of December 31, 2008.

However, for FY 2009, we submitted to OMB for approval a revised information collection request using the same OMB control number (0938-1022). In the revised request, we proposed to add three new RHQDAPU quality measures that we adopted for the FY 2009 RHADAPU program to the PRA process. These three measures are as follows:

• Pneumonia 30-day Mortality (Medicare patients);

• SCIP Infection 4: Cardiac Surgery Patients with Controlled 6AM Postoperative Serum Glucose; and

• SCIP Infection 6: Surgery Patients with Appropriate Hair Removal.

The revised information collection request was announced in the Federal Register via an emergency notice on January 28, 2008 (73 FR 4868). The information collection request is currently under review by OMB. Once approved, we will submit another revision of the information collection request to obtain approval for the new measures contained in this proposed rule.

Section IV.B.5. of the preamble of this proposed rule also discusses the requirements for the continuous collection of HCAHPS quality data. The HCAHPS survey is designed to produce comparable data on the patient's perspective on care that allows objective and meaningful comparisons between hospitals on domains that are important to consumers. We also added the HCAHPS survey to the PRA process in the information collection request currently approved under OMB control number 0938-1022 with a current expiration date of December 31, 2008.

Section IV.B.9. of the preamble of this proposed rule addresses the reconsideration and appeal procedures for a hospital that we believe did not meet the RHQDAPU program requirements. If a hospital disagrees with our determination, it may submit a written request to us requesting that we reconsider our decision. The hospital's letter must explain the reasons it believes it did meet the RHQDAPU program requirements. While this is a reporting requirement, the burden associated with it is not subject to the PRA under 5 CFR 1320.4(a)(2). The burden associated with information collection requirements imposed subsequent to an administrative action is not subject to the PRA.

d. Occupational Mix Adjustment to the FY 2009 Index (Hospital Wage Index Occupational Mix Survey)

Section III. of the preamble of this proposed rule details the proposed changes to the hospital wage index. Specifically, section III.D. addresses the proposed occupational mix adjustment to the proposed FY 2009 index. While the preamble does not contain any new information collection requirements, it is important to note that there is an OMB approved collection associated with the hospital wage index.

Section 304(c) of Pub. L. 106-554 amended section 1886(d)(3)(E) of the Act to require CMS to collect data at least once every 3 years on the occupational mix of employees for each short-term, acute care hospital participating in the Medicare program, in order to construct an occupational mix adjustment to the wage index. We collect the data via the occupational mix survey.

The burden associated with this information collection request is the time and effort required to collect and submit the data in the Hospital Wage Index Occupational Mix Survey to CMS. While this burden is subject to the PRA, it is already approved under OMB control number 0938-0907, with an expiration date of February 28, 2011.

4. Addresses for Submittal of Comments on Information Collection Requirements

If you comment on these information collection and recordkeeping requirements, please do either of the following:

1. Submit your comments electronically as specified in the ADDRESSES section of this proposed rule; or

2. Mail copies to the address specified in the ADDRESSES section of this proposed rule and to— Office of Information and Regulatory Affairs, Office of Management and Budget, Room 10235, New Executive Office Building, Washington, DC 20503, Attn: Carolyn L. Raffaelli, CMS Desk Officer, CMS-1390-P; E-mail: Carolyn_L._Raffaelli@omb.eop.gov. Fax (202) 395-6974.

C. Response to Comments

Because of the large number of public comments we normally receive on Federal Register documents, we are not able to acknowledge or respond to them individually. We will consider all comments we receive by the date and time specified in the DATES section of this preamble, and, when we proceed with a subsequent document, we will respond to the comments in the preamble to that document.

List of Subjects

42 CFR Part 411

Kidney diseases, Medicare, Physician referral, Reporting and recordkeeping requirements.

42 CFR Part 412

Administrative practice and procedure, Health facilities, Medicare, Puerto Rico, Reporting and recordkeeping requirements.

42 CFR Part 413

Health facilities, Kidney diseases, Medicare, Puerto Rico, Reporting and recordkeeping requirements.

42 CFR Part 422

Administrative practice and procedure, Grant programs—health, Health care, Health insurance, Health maintenance organizations (HMO), Loan programs—health, Medicare, Reporting and recordkeeping requirements.

42 CFR Part 489

Health facilities, Medicare, Reporting and recordkeeping requirements.

For the reasons stated in the preamble of this proposed rule, the Centers for Medicare & Medicaid Services is proposing to amend 42 CFR Chapter IV as follows:

PART 411—EXCLUSIONS FROM MEDICARE AND LIMITATIONS ON MEDICARE PAYMENT

1. The authority citation for part 411 continues to read as follows:

Authority: Secs. 1102, 1860D-1 through 1860D-42, 1871, and 1877 of the Social Security Act (42 U.S.C. 1302, 1395w-101 through 1395w-152, 1395hh, and 1395nn).

2. Section 411.351 is amended by—

a. Revising the definition of “physician”.

b. Revising the definition of “physician organization”.

The revisions read as follows:

§ 411.351 Definitions.

* * * * *

Physician means a doctor of medicine or osteopathy, a doctor of dental surgery or dental medicine, a doctor of podiatric medicine, a doctor of optometry, or a chiropractor, as defined in section 1861(r) of the Act. A physician and the professional corporation of which he or she is a sole owner are the same for purposes of this subpart.

* * * * *

Physician organization means a physician, a physician practice, or a group practice that complies with the requirements of § 411.352.

* * * * *

3. Section 411.353 is amended by revising paragraph (c) to read as follows:

§ 411.353 Prohibition on certain referrals by physicians and limitations on billing.

* * * * *

(c) Denial of payment. Except as provided in paragraph (e) of this section, no Medicare payment may be made for a designated health service that is furnished pursuant to a prohibited referral. The period during which referrals are prohibited is the period of disallowance. For purposes of this section, with respect to the following types of noncompliance, the period of disallowance begins at the time the financial relationship fails to satisfy the requirements of an applicable exception and ends no later than—

(1) Where the noncompliance is unrelated to compensation, the date that the financial relationship satisfies all of the requirements of an applicable exception;

(2) Where the noncompliance is due to the payment of excess compensation, the date on which the excess compensation is returned to the party that paid it and the financial relationship satisfies all of the requirements of an applicable exception; or

(3) Where the noncompliance is due to the payment of compensation that is of an amount insufficient to satisfy the requirements of an applicable exception, the date on which the additional required compensation is paid to the party to which it is owed such that the financial relationship would satisfy all of the requirements of the exception as of its date of inception.

* * * * *

4. Section 411.354 is amended by—

a. Adding a new paragraph (a)(1)(iii).

b. Revising paragraph (c)(2)(iv).

c. Revising paragraph (c)(3)(ii).

The addition and revisions read as follows:

§ 411.354 Financial relationship, compensation, and ownership or investment interest.

(a) * * *

(1) * * *

(iii) For purposes of paragraph (c) of this section, an entity that furnishes DHS is deemed to stand in the shoes of an organization in which it has a 100 percent ownership interest.

* * * * *

(c) * * *

(2) * * *

(iv) For purposes of paragraph (c)(2)(i) of this section, a physician is deemed to “stand in the shoes” of his or her physician organization unless the total compensation from the physician organization to the physician satisfies the requirements of § 411.357(c), (d), or (l).

(3) * * *

(ii) The provisions of paragraphs (c)(1)(ii) and (c)(2)(iv) of this section—

(A) Need not apply during the original term or current renewal term of an arrangement that satisfied the requirements of § 411.357(p) as of September 5, 2007 (42 CFR parts 400-413, revised as of October 1, 2007);

(B) Do not apply to an arrangement that satisfies the requirements of § 411.355(e); and

(C) Do not apply with respect to an arrangement between a physician organization and a component of an academic medical center listed in § 411.355(e)(2) for the provision to that academic medical center of only services required to satisfy the academic medical center's obligations under the Medicare graduate medical education (GME) rules in part 413, subpart F of this chapter.

* * * * *

PART 412—PROSPECTIVE PAYMENT SYSTEMS FOR INPATIENT HOSPITAL SERVICES

5. The authority citation for part 412 continues to read as follows:

Authority: Secs. 1102 and 1871 of the Social Security Act (42 U.S.C. 1302 and 1395hh), and sec. 124 of Pub. L. 106-113 (113 Stat. 1501A-332).

6. Section 412.4 is amended by revising paragraph (c)(3) to read as follows:

§ 412.4 Discharges and transfers.

* * * * *

(c) * * *

(3) To home under a written plan of care for the provision of home health services from a home health agency and those services begin—

(i) Effective for fiscal years prior to FY 2009, within 3 days after the date of discharge; and

(ii) Effective FY 2009, within 7 days after the date of discharge.

* * * * *

7. Section 412.22 is amended by—

a. In the introductory text of paragraph (e), removing the phrase “paragraph (f) of this section” and adding in its place “paragraphs (e)(1) (vi) and (f) of this section”.

b. Adding a new paragraph (e)(1)(vi).

The addition reads as follows:

§ 412.22 Excluded hospitals and hospital units: General rules.

* * * * *

(e) * * *

(1) * * *

(vi) Effective October 1, 2008, if a State hospital that is occupying space in the same building or on the same campus as another State hospital cannot meet the criterion under paragraph (e)(1)(i) of this section solely because its governing body is under the control of the State hospital with which it shares a building or a campus, or is under the control of a third entity that also controls the State hospital with which it shares a building or a campus, the State hospital can nevertheless qualify for an exclusion if it meets the other applicable criteria in this section and—

(A) Both State hospitals occupy space in the same building or on the same campus and have been continuously owned and operated by the State since October 1, 1995;

(B) Is required by State law to be subject to the governing authority of the State hospital with which it shares space or the governing authority of a third entity that controls both hospitals; and

(C) Was excluded from the inpatient prospective payment system before October 1, 1995, and continues to be excluded from the inpatient prospective payment system through September 30, 2008.

* * * * *

8. Section 412.64 is amended by—

a. Republishing the introductory text of paragraph (b)(1)(ii) and revising paragraph (b)(1)(ii)(A).

b. In the introductory text of paragraph (h)(4), removing the date “September 30, 2008” and adding in its place “September 30, 2011”.

The revision reads as follows:

§ 412.64 Federal rates for inpatient operating costs for Federal fiscal year 2005 and subsequent fiscal years.

* * * * *

(b) * * *

(1) * * *

(ii) The term urban area means—

(A) A Metropolitan Statistical Area or a Metropolitan division (in the case where a Metropolitan Statistical Area is divided into Metropolitan Divisions), as defined by the Executive Office of Management and Budget; or

* * * * *

9. Section 412.87 is amended by—

a. Revising paragraph (b)(1).

b. Adding a new paragraph (c).

The revision and addition read as follows:

§ 412.87 Additional payment for new medical services and technologies: General provisions.

* * * * *

(b) * * *

(1) A new medical service or technology represents an advance that substantially improves, relating to technologies previously available, the diagnosis or treatment of Medicare beneficiaries.

* * * * *

(c) Announcement of determinations and deadline for consideration of new medical service or technology applications. CMS will consider whether a new medical service or technology meets the eligibility criteria specified in paragraph (b) of this section and announce the results in the Federal Register as part of its annual updates and changes to the IPPS. CMS will only consider, for add-on payments for a particular fiscal year, an application for which the new medical service or technology has received FDA approval or clearance by July 1 prior to the particular fiscal year.

10. Section 412.230 is amended by—

a. Revising paragraph (d)(1)(iv)(C).

b. Adding a new paragraph (d)(1)(iv)(D).

The addition and revision read as follows:

§ 412.230 Criteria for an individual hospital seeking redesignation to another rural area or an urban area.

* * * * *

(d) * * *

(1) * * *

(iv) * * *

(C) With respect to redesignations for fiscal years 2002 through 2009, the hospital's average hourly wage is equal to, in the case of a hospital located in a rural area, at least 82 percent, and in the case of a hospital located in an urban area, at least 84 percent of the average hourly wage of hospitals in the area to which it seeks redesignation.

(D) With respect to redesignations for fiscal year 2010 and later fiscal years, the hospital's average hourly wage is equal to, in the case of a hospital located in a rural area, at least 86 percent, and in the case of a hospital located in an urban area, at least 88 percent of the average hourly wage of hospitals in the area to which it seeks redesignation.

* * * * *

11. Section 412.232 is amended by revising paragraphs (c)(1) and (c)(2) to read as follows:

§ 412.232 Criteria for all hospitals in a rural county seeking urban redesignation.

* * * * *

(c) * * *

(1) Aggregate hourly wage for fiscal years before fiscal year 2010—(i) Aggregate hourly wage. With respect to redesignations effective beginning fiscal year 1999 and before fiscal year 2010, the aggregate average hourly wage for all hospitals in the rural county must be equal to at least 85 percent of the average hourly wage in the adjacent urban area.

(ii) Aggregate hourly wage weighted for occupational mix. For redesignations effective before fiscal year 1999, the aggregate hourly wage for all hospitals in the rural county, weighed for occupational categories, is at least 90 percent of the average hourly wage in the adjacent urban area.

(2) Aggregate hourly wage for fiscal year 2010 and later fiscal years. With respect to redesignations effective for fiscal year 2010 and later fiscal years, the aggregate average hourly wage for all hospitals in the rural county must be equal to at least 88 percent of the average hourly wage in the adjacent urban area.

* * * * *

12. Section 412.234 is amended by revising paragraphs (b)(1) and (b)(2) to read as follows:

§ 412.234 Criteria for all hospitals in an urban county seeking redesignation to another urban area.

* * * * *

(b) * * *

(1) Aggregate hourly wage for fiscal years before fiscal year 2010—(i) Aggregate hourly wage. With respect to redesignations effective beginning fiscal year 1999 and before fiscal year 2010, the aggregate average hourly wage for all hospitals in the urban county must be at least 85 percent of the average hourly wage in the urban area to which the hospitals in the county seek reclassification.

(ii) Aggregate hourly wage weighted for occupational mix. For redesignations effective before fiscal year 1999, the aggregate hourly wage for all hospitals in the county, weighed for occupational categories, is at least 90 percent of the average hourly wage in the adjacent urban area.

(2) Aggregate hourly wage for fiscal year 2010 and later fiscal years. With respect to redesignations effective for fiscal year 2010 and later fiscal years, the aggregate average hourly wage for all hospitals in the urban county must be at least 88 percent of the average hourly wage in the urban area to which the hospitals in the county seek reclassification.

* * * * *

PART 413—PRINCIPLES OF REASONABLE COST REIMBURSEMENT; PAYMENT FOR END-STAGE RENAL DISEASE SERVICES; PROSPECTIVELY DETERMINED PAYMENT RATES FOR SKILLED NURSING FACILITIES

13. The authority citation for Part 413 continues to read as follows:

Authority: Secs. 1102, 1812(d), 1814(b), 1815, 1833(a), (i), and (n), 1861(v), 1871, 1881, 1883, and 1886 of the Social Security Act (42 U.S.C. 1302, 1395d(d), 1395f(b), 1395g, 1395l(a), (i), and (n), 1395x(v), 1395hh, 1395rr, 1395tt, and 1395ww); and sec. 124 of Pub. L. 106-133 (113 Stat. 1501A-332).

§ 413.79 [Amended]

14. In § 413.79(f)(6)(iv), remove the cross-reference “§ 413.75(d)” and add the cross-reference “paragraph (d) of this section” in its place.

PART 422—MEDICARE ADVANTAGE PROGRAM

15. The authority citation for Part 422 continues to read as follows:

Authority: Secs. 1102 and 1871 of the Social Security Act (42 U.S.C. 1302 and 1395hh).

16. Section 422.310 is revised to read as follows:

§ 422.310 Risk adjustment data.

(a) Definition of risk adjustment data. Risk adjustment data are all data that are used in the development and application of a risk adjustment payment model.

(b) Data collection: Basic rule. Each MA organization must submit to CMS (in accordance with CMS instructions) the data necessary to characterize the context and purposes of each item and service provided to a Medicare enrollee by a provider, supplier, physician, or other practitioner. CMS may also collect data necessary to characterize the functional limitations of enrollees of each MA organization.

(c) Sources and extent of data. (1) To the extent required by CMS, risk adjustment data must account for the following:

(i) Items and services covered under the original Medicare program.

(ii) Medicare-covered items and services for which Medicare is not the primary payer.

(iii) Other additional or supplemental benefits that the MA organization may provide.

(2) The data must account separately for each provider, supplier, physician, or other practitioner that would be permitted to bill separately under the original Medicare program, even if they participate jointly in the same service.

(d) Other data requirements. (1) MA organizations must submit data that conform to CMS’ requirements for data equivalent to Medicare fee-for-service data, when appropriate, and to all relevant national standards. CMS may specify abbreviated formats for data submission required of MA organizations.

(2) The data must be submitted electronically to the appropriate CMS contractor.

(3) MA organizations must obtain the risk adjustment data required by CMS from the provider, supplier, physician, or other practitioner that furnished the item or service.

(4) MA organizations may include in their contracts with providers, suppliers, physicians, and other practitioners, provisions that require submission of complete and accurate risk adjustment data as required by CMS. These provisions may include financial penalties for failure to submit complete data.

(e) Validation of risk adjustment data. MA organizations and their providers and practitioners will be required to submit a sample of medical records for the validation of risk adjustment data, as required by CMS. There may be penalties for submission of false data.

(f) Use of data. CMS uses the data obtained under this section to determine the risk adjustment factors used to adjust payments, as required under §§ 422.304(a) and (c). CMS may also use the data for other purposes, including updating of risk adjustment models.

(g) Deadlines for submission of risk adjustment data. Risk adjustment factors for each payment year are based on risk adjustment data submitted for items and services furnished during the 12-month period before the payment year that is specified by CMS. As determined by CMS, this 12-month period may include a 6-month data lag that may be changed or eliminated as appropriate. CMS may adjust these deadlines, as appropriate.

(1) The annual deadline for risk adjustment data submission is the first Friday in September for risk adjustment data reflecting items and services furnished during the 12-month period ending the prior June 30, and the first Friday in March for data reflecting services furnished during the 12-month period ending the prior December 31.

(2) CMS allows a reconciliation process to account for late data submissions. CMS continues to accept risk adjustment data submitted after the March deadline until January 31 of the year following the payment year. After the payment year is completed, CMS recalculates the risk factors for affected individuals to determine if adjustments to payments are necessary. Risk adjustment data that are received after the annual January 31 late data submission deadline will not be accepted for the purposes of reconciliation.

PART 489—PROVIDER AGREEMENTS AND SUPPLIER APPROVAL

17. The authority citation for part 489 continues to read as follows:

Authority: Secs. 1102, 1819, 1820(e), 1861, 1864(m), 1866, 1869, and 1871 of the Social Security Act (42 U.S.C. 1302, 1395i-3, 1395x, 1395aa(m), 1395cc, 1395ff, and 1395hh).

18. Section 489.3 is amended by revising the definition of “physician-owned hospital” to read as follows:

§ 489.3 Definitions.

* * * * *

Physician-owned hospital means any participating hospital (as defined in § 489.24) in which a physician, or an immediate family member of a physician (as defined in § 411.351 of this chapter), has an ownership or investment interest. The ownership or investment interest may be through equity, debt, or other means, and includes an interest in an entity that holds an ownership or investment interest in the hospital. This definition does not include a hospital with physician ownership or investment interests that satisfy the requirements at § 411.356(a) or (b) of this chapter.

* * * * *

19. Section 489.20 is amended by—

a. Revising paragraph (r)(2).

b. Revising paragraph (u).

c. Redesignating paragraphs (v) and (w) as paragraphs (w) and (x), respectively.

d. Adding a new paragraph (v).

The revisions and addition read as follows:

§ 489.20 Basic commitments.

* * * * *

(r) * * *

(2) An on-call list of physicians on its medical staff available to provide treatment necessary after the initial examination to stabilize individuals with emergency medical conditions who are receiving services required under § 489.24 in accordance with the resources available to the hospital; and

* * * * *

(u) Except as provided in paragraph (v) of this section, in the case of a physician-owned hospital as defined in § 489.3—

(1) To furnish written notice to all patients at the beginning of their hospital stay or outpatient visit that the hospital is a physician-owned hospital, in order to assist the patients in making an informed decision regarding their care, in accordance with § 482.13(b)(2) of this subchapter. The notice should disclose, in a manner reasonably designed to be understood by all patients, the fact that the hospital meets the Federal definition of a physician-owned hospital specified in § 489.3 and that the list of the hospital's owners or investors who are physicians or immediate family members of physicians (as defined at § 411.351 of this chapter) must be provided to the patients at the time the request for the list is made by or on behalf of the patient. For purposes of this paragraph (u)(1), the hospital stay or outpatient visit begins with the provision of a package of information regarding scheduled preadmission testing and registration for a planned hospital admission for inpatient care or outpatient service.

(2) To require all physicians who are members of the hospital's medical staff to agree, as a condition of continued medical staff membership or admitting privileges, to disclose, in writing, to all patients they refer to the hospital any ownership or investment interest in the hospital that is held by themselves or by an immediate family member (as defined in § 411.351 of this chapter). Disclosure must be required at the time the referral is made.

(v) The requirements of paragraph (u) of this section do not apply to any physician-owned hospital that does not have at least one referring physician (as defined at § 411.351 of this chapter) who has an ownership or investment interest in the hospital or who has an immediate family member who has an ownership or investment interest in the hospital, provided that such hospital signs an attestation statement to that effect and maintain such a notice in its records.

* * * * *

20. Section 489.24 is amended by—

a. Revising paragraph (a)(2).

b. Revising paragraph (f).

c. Revising paragraph (j).

The revisions read as follows:

§ 489.24 Special responsibilities of Medicare hospitals in emergency cases.

(a) * * *

(2) Nonapplicability of provisions of this section. Sanctions under this section for an inappropriate transfer during a national emergency or for the direction or relocation of an individual to receive medical screening at an alternate location pursuant to an appropriate State emergency preparedness plan or, in the case of a public health emergency that involves a pandemic infectious disease, pursuant to a State pandemic preparedness plan do not apply to a hospital with a dedicated emergency department located in an emergency area during an emergency period, as specified in section 1135(g)(1) of the Act. A waiver of these sanctions is limited to a 72-hour period beginning upon the implementation of a hospital disaster protocol, except that, if a public health emergency involves a pandemic infectious disease (such as pandemic influenza), the waiver will continue in effect until the termination of the applicable declaration of a public health emergency, as provided for by section 135(e)(1)(B) of the Act.

* * * * *

(f) Recipient hospital responsibilities. A participating hospital that has specialized capabilities or facilities (including, but not limited to, facilities such as burn units, shock-trauma units, neonatal intensive case units, or, with respect to rural areas, regional referral centers (which, for purposes of this subpart, mean hospitals meeting the requirements of referral centers found at § 412.96 of this chapter)) may not refuse to accept from a referring hospital within the boundaries of the United States an appropriate transfer of an individual who requires such specialized capabilities or facilities if the receiving hospital has the capacity to treat the individual. This provision applies to—

(1) Any participating hospital with specialized capabilities, regardless of whether the hospital has a dedicated emergency department; and

(2) An individual who has been admitted under paragraph (d)(2)(i) of this section and who has not been stabilized.

* * * * *

(j) Availability of on-call physicians. In accordance with the on-call list requirements specified in § 489.20(r)(2), a hospital must have written policies and procedures in place—

(1) To respond to situations in which a particular specialty is not available or the on-call physician cannot respond because of circumstances beyond the physician's control; and

(2) To provide that emergency services are available to meet the needs of individuals with emergency medical conditions if a hospital elects to—

(i) Permit on-call physicians to schedule elective surgery during the time that they are on call;

(ii) Permit on-call physicians to have simultaneous on-call duties; and

(iii) Participate in a formal community call plan. Notwithstanding participation in a community call plan, hospitals are still required to perform medical screening examinations on individuals who present seeking treatment and to conduct appropriate transfers. The formal community plan must include the following elements:

(A) A clear delineation of on-call coverage responsibilities; that is, when each hospital participating in the plan is responsible for on-call coverage.

(B) A description of the specific geographic area to which the plan applies.

(C) A signature by an appropriate representative of each hospital participating in the plan.

(D) Assurances that any local and regional EMS system protocol formally includes information on community on-call arrangements.

(E) Evidence of engagement of the hospitals participating in the community call plan in an analysis of the specialty on-call needs of the community for which the plan is effective.

(F) A statement specifying that even if an individual arrives at a hospital that is not designated as the on-call hospital, that hospital still has an obligation under § 489.24 to provide a medical screening examination and stabilizing treatment within its capability, and that hospitals participating in the community call plan must abide by the regulations under § 489.24 governing appropriate transfers.

(G) An annual assessment of the community call plan by the participating hospitals.

21. Section 489.53 is amended by revising paragraph (c) to read as follows:

§ 489.53 Termination by CMS.

* * * * *

(c) Termination of agreements with physician-owned hospitals. In the case of a physician-owned hospital, as defined at § 489.3, CMS may terminate the provider agreement if the hospital failed to comply with the requirements of § 489.20(u) or (w).

* * * * *

(Catalog of Federal Domestic Assistance Program No. 93.773, Medicare—Hospital Insurance; and Program No. 93.774, Medicare—Supplementary Medical Insurance Program)

Dated: April 1, 2008.
Kerry Weems,
Acting Administrator, Centers for Medicare & Medicaid Services.

Dated: April 10, 2008.
Michael O. Leavitt,
Secretary.

[Editorial Note: The following Addendum and appendixes will not appear in the Code of Federal Regulations.]

Addendum—Proposed Schedule of Standardized Amounts, Update Factors, and Rate-of-Increase Percentages Effective With Cost Reporting Periods Beginning On or After October 1, 2008

I. Summary and Background

In this Addendum, we are setting forth the methods and data we used to determine the proposed prospective payment rates for Medicare hospital inpatient operating costs and Medicare hospital inpatient capital-related costs. We are also setting forth the proposed rate-of-increase percentages for updating the target amounts for certain hospitals and hospital units excluded from the IPPS. In general, except for SCHs, MDHs, and hospitals located in Puerto Rico, each hospital's payment per discharge under the IPPS is based on 100 percent of the Federal national rate, also known as the national adjusted standardized amount. This amount reflects the national average hospital cost per case from a base year, updated for inflation.

SCHs are paid based on whichever of the following rates yields the greatest aggregate payment: The Federal national rate; the updated hospital-specific rate based on FY 1982 costs per discharge; the updated hospital-specific rate based on FY 1987 costs per discharge; or the updated hospital-specific rate based on FY 1996 costs per discharge.

Under section 1886(d)(5)(G) of the Act, MDHs historically have been paid based on the Federal national rate or, if higher, the Federal national rate plus 50 percent of the difference between the Federal national rate and the updated hospital-specific rate based on FY 1982 or FY 1987 costs per discharge, whichever was higher. (MDHs did not have the option to use their FY 1996 hospital-specific rate.) However, section 5003(a)(1) of Pub. L. 109-171 extended and modified the MDH special payment provision that was previously set to expire on October 1, 2006, to include discharges occurring on or after October 1, 2006, but before October 1, 2011. Under section 5003(b) of Pub. L. 109-171, if the change results in an increase to an MDH's target amount, an MDH must rebase its hospital-specific rates to its FY 2002 cost report. Section 5003(c) of Pub. L. 109-171 further required that MDHs be paid based on the Federal national rate or, if higher, the Federal national rate plus 75 percent of the difference between the Federal national rate and the updated hospital-specific rate. Further, based on the provisions of section 5003(d) of Pub. L. 109-171, MDHs are no longer subject to the 12-percent cap on their DSH payment adjustment factor.

For hospitals located in Puerto Rico, the payment per discharge is based on the sum of 25 percent of an updated Puerto Rico-specific rate based on average costs per case of Puerto Rico hospitals for the base year and 75 percent of the Federal national rate. (We refer readers to section II.D.3. of this Addendum for a complete description.)

As discussed below in section II. of this Addendum, we are proposing to make changes in the determination of the prospective payment rates for Medicare inpatient operating costs for FY 2009. In section III. of this Addendum, we discuss our proposed policy changes for determining the prospective payment rates for Medicare inpatient capital-related costs for FY 2009. Section IV. of this Addendum sets forth our proposed changes for determining the rate-of-increase limits for certain hospitals excluded from the IPPS for FY 2009. The tables to which we refer in the preamble of this proposed rule are presented in section V. of this Addendum of this proposed rule.

II. Proposed Changes to Prospective Payment Rates for Hospital Inpatient Operating Costs for FY 2009

The basic methodology for determining prospective payment rates for hospital inpatient operating costs for FY 2005 and subsequent fiscal years is set forth at § 412.64. The basic methodology for determining the prospective payment rates for hospital inpatient operating costs for hospitals located in Puerto Rico for FY 2005 and subsequent fiscal years is set forth at §§ 412.211 and 412.212. Below we discuss the factors used for determining the prospective payment rates.

In summary, the proposed standardized amounts set forth in Tables 1A, 1B, and 1C, of section VI. of this Addendum reflect—

• Equalization of the standardized amounts for urban and other areas at the level computed for large urban hospitals during FY 2004 and onward, as provided for under section 1886(d)(3)(A)(iv) of the Act, updated by the applicable percentage increase required under sections 1886(b)(3)(B)(i)(XX) and 1886(b)(3)(B)(viii) of the Act.

• The labor-related share that is applied to the standardized amounts and Puerto Rico-specific standardized amounts to give the hospital the highest payment, as provided for under sections 1886(d)(3)(E), and 1886(d)(9)(C)(iv) of the Act.

• Proposed updates of 3.0 percent for all areas (that is, the estimated full market basket percentage increase of 3.0 percent), as required by section 1886(b)(3)(B)(i)(XX) of the Act, as amended by section 5001(a)(1) of Pub. L. 109-171, and reflecting the requirements of section 1886(b)(3)(B)(viii) of the Act, as added by section 5001(a)(3) of Pub. L. 109-171, to reduce the applicable percentage increase by 2.0 percentage points for a hospital that fails to submit data, in a form and manner specified by the Secretary, relating to the quality of inpatient care furnished by the hospital.

• A proposed update of 3.0 percent to the Puerto Rico-specific standardized amount (that is, the full estimated rate-of-increase in the hospital market basket for IPPS hospitals), as provided for under § 412.211(c), which states that we update the Puerto Rico-specific standardized amount using the percentage increase specified in § 412.64(d)(1), or the percentage increase in the market basket index for prospective payment hospitals for all areas.

• An adjustment to the standardized amount to ensure budget neutrality for DRG recalibration and reclassification, as provided for under section 1886(d)(4)(C)(iii) of the Act.

• An adjustment to ensure the wage index update and changes are budget neutral, as provided for under section 1886(d)(3)(E) of the Act.

• An adjustment to ensure the effects of geographic reclassification are budget neutral, as provided for in section 1886(d)(8)(D) of the Act, by removing the FY 2008 budget neutrality factor and applying a revised factor.

• An adjustment to remove the FY 2008 outlier offset and apply an offset for FY 2009.

• An adjustment to ensure the effects of the rural community hospital demonstration required under section 410A of Pub. L. 108-173 are budget neutral, as required under section 410A(c)(2) of Pub. L. 108-173.

• An adjustment to eliminate the effect of coding or classification changes that do not reflect real changes in case-mix, as discussed below and in section II.D. of the preamble to this proposed rule.

We note that, beginning in FY 2008, we applied the budget neutrality adjustment for the rural floor to the hospital wage indices rather than the standardized amount. For FY 2009, we are proposing to continue to apply the rural floor budget neutrality adjustment to hospital wage indices rather than the standardized amount. In addition, instead of applying the budget neutrality adjustment for the imputed rural floor adopted under section 1886(d)(3)(E) of the Act to the standardized amounts, beginning with FY 2009, we are proposing to apply the imputed rural floor budget neutrality adjustment to the wage indices. Beginning in FY 2009, we are also proposing to apply the budget neutrality adjustments for the rural floor and imputed rural floor at the State level rather than the national level. For a complete discussion of the budget neutrality proposals concerning the rural floor and the imputed rural floor, including the proposal for a within-State budget neutrality adjustment, we refer readers to section III.B.2.b. of the preamble to this proposed rule.

A. Calculation of the Adjusted Standardized Amount

1. Standardization of Base-Year Costs or Target Amounts

In general, the national standardized amount is based on per discharge averages of adjusted hospital costs from a base period (section 1886(d)(2)(A) of the Act) or, for Puerto Rico, adjusted target amounts from a base period (section 1886(d)(9)(B)(i) of the Act), updated and otherwise adjusted in accordance with the provisions of section 1886(d) of the Act. The September 1, 1983 interim final rule (48 FR 39763) contained a detailed explanation of how base-year cost data (from cost reporting periods ending during FY 1981) were established for urban and rural hospitals in the initial development of standardized amounts for the IPPS. The September 1, 1987 final rule (52 FR 33043 and 33066) contains a detailed explanation of how the target amounts were determined and how they are used in computing the Puerto Rico rates.

Sections 1886(d)(2)(B) and (d)(2)(C) of the Act require us to update base-year per discharge costs for FY 1984 and then standardize the cost data in order to remove the effects of certain sources of cost variations among hospitals. These effects include case-mix, differences in area wage levels, cost-of-living adjustments for Alaska and Hawaii, indirect medical education costs, and costs to hospitals serving a disproportionate share of low-income patients.

In accordance with section 1886(d)(3)(E) of the Act, the Secretary estimates, from time-to-time, the proportion of hospitals' costs that are attributable to wages and wage-related costs. In general, the standardized amount is divided into labor-related and nonlabor-related amounts; only the proportion considered to be the labor-related amount is adjusted by the wage index. Section 1886(d)(3)(E) of the Act requires that 62 percent of the standardized amount be adjusted by the wage index, unless doing so would result in lower payments to a hospital than would otherwise be made. (Section 1886(d)(9)(C)(iv)(II) of the Act extends this provision to the labor-related share for hospitals located in Puerto Rico.)

For FY 2009, we are not proposing to change the national and Puerto Rico-specific labor-related and nonlabor-related shares from the percentages established for FY 2008. Therefore, the labor-related share continues to be 69.7 percent for the national standardized amounts and 58.7 percent for the Puerto Rico-specific standardized amount. Consistent with section 1886(d)(3)(E) of the Act, we are applying the wage index to a labor-related share of 62 percent for all non-Puerto Rico hospitals whose wage indexes are less than or equal to 1.0000. For all non-Puerto Rico hospitals whose wage indices are greater than 1.0000, we are applying the wage index to a labor-related share of 69.7 percent of the national standardized amount. For hospitals located in Puerto Rico, we are applying a labor-related share of 58.7 percent if its Puerto Rico-specific wage index is less than or equal to 1.0000. For hospitals located in Puerto Rico whose Puerto Rico-specific wage index values are greater than 1.0000, we are applying a labor share of 62 percent.

The standardized amounts for operating costs appear in Table 1A, 1B, and 1C of the Addendum to this proposed rule.

2. Computing the Average Standardized Amount

Section 1886(d)(3)(A)(iv)(II) of the Act requires that, beginning with FY-2004 and thereafter, an equal standardized amount be computed for all hospitals at the level computed for large urban hospitals during FY 2003, updated by the applicable percentage update. Section 1886(d)(9)(A)(ii)(II) of the Act equalizes the Puerto Rico-specific urban and rural area rates. Accordingly, we are calculating FY 2009 national and Puerto Rico standardized amounts irrespective of whether a hospital is located in an urban or rural location.

3. Updating the Average Standardized Amount

In accordance with section 1886(d)(3)(A)(iv)(II) of the Act, we are updating the equalized standardized amount for FY 2008 by the full estimated market basket percentage increase for hospitals in all areas, as specified in section 1886(b)(3)(B)(i)(XX) of the Act, as amended by section 5001(a)(1) of Pub. L. 109-171. The percentage change in the market basket reflects the average change in the price of goods and services purchased by hospitals to furnish inpatient care. The most recent forecast of the hospital market basket increase for FY 2009 is 3.0 percent. Thus, for FY 2009, the proposed update to the average standardized amount is 3.0 percent for hospitals in all areas. The estimated market basket increase of 3.0 percent is based on the 2008 first quarter forecast of the hospital market basket increase (as discussed in Appendix B of this proposed rule).

Section 1886(b)(3)(B) of the Act specifies the mechanism to be used to update the standardized amount for payment for inpatient hospital operating costs. Section 1886(b)(3)(B)(viii) of the Act, as added by section 5001(a)(3) of Pub. L. 109-171, provides for a reduction of 2.0 percentage points from the update percentage increase (also known as the market basket update) for FY 2007 and each subsequent fiscal year for any “subsection (d) hospital” that does not submit quality data, as discussed in section IV.A. of the preamble of this proposed rule. The standardized amounts in Tables 1A through 1C of section V. of the Addendum to this proposed rule reflect these differential amounts.

Section 412.211(c) states that we update the Puerto Rico-specific standardized amount using the percentage increase specified in § 412.64(d)(1) or the percentage increase in the market basket index for prospective payment hospitals for all areas. We are proposing to apply the full rate-of-increase in the hospital market basket for IPPS hospitals to the Puerto Rico-specific standardized amount. Therefore, the proposed update to the Puerto Rico-specific standardized amount is estimated to be 3.0 percent.

Although the update factors for FY 2009 are set by law, we are required by section 1886(e)(4) of the Act to recommend, taking into account MedPAC's recommendations, appropriate update factors for FY 2009 for both IPPS hospitals and hospitals and hospital units excluded from the IPPS. Our recommendation on the update factors (which is required by sections 1886(e)(4)(A) and (e)(5)(A) of the Act) is set forth in Appendix B of this proposed rule.

4. Other Adjustments to the Average Standardized Amount

As in the past, we are adjusting the FY 2009 standardized amount to remove the effects of the FY 2008 geographic reclassifications and outlier payments before applying the FY 2009 updates. We then applied budget neutrality offsets for outliers and geographic reclassifications to the standardized amount based on proposed FY 2009 payment policies.

We do not remove the prior year's budget neutrality adjustments for reclassification and recalibration of the DRG weights and for updated wage data because, in accordance with sections 1886(d)(4)(C)(iii) and 1886(d)(3)(E) of the Act, estimated aggregate payments after updates in the DRG relative weights and wage index should equal estimated aggregate payments prior to the changes. If we removed the prior year's adjustment, we would not have satisfied these conditions.

Budget neutrality is determined by comparing aggregate IPPS payments before and after making changes that are required to be budget neutral (for example, changes to DRG classifications, recalibration of the DRG relative weights, updates to the wage index, and different geographic reclassifications). We included outlier payments in the simulations because they may be affected by changes in these parameters.

We are also proposing to adjust the standardized amount this year by an estimated amount to ensure that aggregate IPPS payments did not exceed the amount of payments that would have been made in the absence of the rural community hospital demonstration program, as required under section 410A of Pub. L. 108-173. This demonstration is required to be budget neutral under section 410A(c)(2) of Pub. L. 108-173. For FY 2009, we are proposing to no longer apply budget neutrality for the imputed rural floor to the standardized amount, and to apply it instead to the wage index, as discussed in section of II.B.2. of the preamble to this proposed rule. For FY 2009, we are also proposing an adjustment to eliminate the effect of coding or classification changes that did not reflect real changes in case-mix using the Secretary's authority under section 1886(d)(3)(A)(vi) of the Act, by the percentage specified in section 7 of Pub. L. 110-90.

a. Proposed Recalibration of DRG Weights and Updated Wage Index—Budget Neutrality Adjustment

Section 1886(d)(4)(C)(iii) of the Act specifies that, beginning in FY 1991, the annual DRG reclassification and recalibration of the relative weights must be made in a manner that ensures that aggregate payments to hospitals are not affected. As discussed in section II. of the preamble of this proposed rule, we normalized the recalibrated DRG weights by an adjustment factor so that the average case weight after recalibration is equal to the average case weight prior to recalibration. However, equating the average case weight after recalibration to the average case weight before recalibration does not necessarily achieve budget neutrality with respect to aggregate payments to hospitals because payments to hospitals are affected by factors other than average case weight. Therefore, as we have done in past years, we made a budget neutrality adjustment to ensure that the requirement of section 1886(d)(4)(C)(iii) of the Act is met.

Section 1886(d)(3)(E) of the Act requires us to update the hospital wage index on an annual basis beginning October 1, 1993. This provision also requires us to make any updates or adjustments to the wage index in a manner that ensures that aggregate payments to hospitals are not affected by the change in the wage index. Consistent with current policy, for FY 2009, we are adjusting 100 percent of the wage index factor for occupational mix. We describe the occupational mix adjustment in section III.D. of the preamble to this proposed rule.

To comply with the requirement that DRG reclassification and recalibration of the relative weights and the updated wage index be budget neutral, we used FY 2007 discharge data to simulate payments and compared aggregate payments using the FY 2008 relative weights and wage indices to aggregate payments using the proposed FY 2009 relative weights and wage indices. The same methodology was used for the FY 2008 budget neutrality adjustment. Based on this comparison, we computed a proposed budget neutrality adjustment factor equal to 0.999525 to be applied to the national standardized amount. We are also adjusting the Puerto Rico-specific standardized amount for the effect of DRG reclassification and recalibration. We computed a proposed budget neutrality adjustment factor of 0.998700 to be applied to the Puerto Rico-specific standardized amount. These proposed budget neutrality adjustment factors are applied to the standardized amounts for FY 2008 without removing the prior year's budget neutrality adjustments. In addition, as discussed in section IV. of this Addendum, we are applying the same proposed DRG reclassification and recalibration budget neutrality factor of 0.998700 to the hospital-specific rates that would be effective for cost reporting periods beginning on or after October 1, 2008.

b. Reclassified Hospitals—Budget Neutrality Adjustment

Section 1886(d)(8)(B) of the Act provides that, effective with discharges occurring on or after October 1, 1988, certain rural hospitals are deemed urban. In addition, section 1886(d)(10) of the Act provides for the reclassification of hospitals based on determinations by the MGCRB. Under section 1886(d)(10) of the Act, a hospital may be reclassified for purposes of the wage index.

Under section 1886(d)(8)(D) of the Act, the Secretary is required to adjust the standardized amount to ensure that aggregate payments under the IPPS after implementation of the provisions of sections 1886(d)(8)(B) and (C) and 1886(d)(10) of the Act are equal to the aggregate prospective payments that would have been made absent these provisions. We note that the wage index adjustments provided under section 1886(d)(13) of the Act are not budget neutral. Section 1886(d)(13)(H) of the Act provides that any increase in a wage index under section 1886(d)(13) shall not be taken into account “in applying any budget neutrality adjustment with respect to such index” under section 1886(d)(8)(D) of the Act. To calculate the proposed budget neutrality factor for FY 2009, we used FY 2007 discharge data to simulate payments, and compared total IPPS payments prior to any reclassifications under sections 1886(d)(8)(B) and (C) and 1886(d)(10) of the Act to total IPPS payments after such reclassifications. Based on these simulations, we calculated a proposed adjustment factor of 0.992333 to ensure that the effects of these provisions are budget neutral, consistent with the statute.

The proposed adjustment factor is applied to the standardized amount after removing the effects of the FY 2008 budget neutrality adjustment factor. We note that the FY 2009 adjustment reflects FY 2009 wage index reclassifications approved by the MGCRB or the Administrator. (Section 1886(d)(10)(D)(v) of the Act makes wage index reclassifications effective for 3 years. Therefore, the FY 2009 geographic reclassification could either be the continuation of a 3-year reclassification that began in FY 2007 or FY 2008, or a new one beginning in FY 2009.)

c. Case-Mix Budget Neutrality Adjustment

As stated earlier, beginning in FY 2008, we adopted the new MS-DRG patient classification system for the IPPS to better recognize severity of illness in Medicare payment rates. In the FY 2008 IPPS final rule with comment period, we indicated that we believe the adoption of the MS-DRGs had the potential to lead to increases in aggregate payments without a corresponding increase in actual patient severity of illness due to the incentives for improved documentation and coding. In that final rule, using the Secretary's authority under section 1886(d)(3)(A)(vi) of the Act to maintain budget neutrality by adjusting the national standardized amounts to eliminate the effect of changes in coding or classification that do not reflect real change in case-mix, we established prospective documentation and coding adjustments of −1.2 percent for FY 2008, −1.8 percent for FY 2009, and −1.8 percent for FY 2010. On September 29, 2007, Pub. L. 110-90 was enacted. Section 7 of Pub. L. 110-90 included a provision that reduces the documentation and coding adjustment for the MS-DRG system that we adopted in the FY 2008 IPPS final rule with comment period to −0.6 percent for FY 2008 and −0.9 percent for FY 2009. To comply with the provision of section 7 of Pub. L. 110-90, in a final rule that appeared in the Federal Register on November 27, 2007 (72 FR 66886), we changed the IPPS documentation and coding adjustment for FY 2008 to −0.6 percent, and revised the FY 2008 national standardized amounts (as well as other payment factors and thresholds) accordingly, with these revisions effective October 1, 2007. For FY 2009, section 7 of Pub. L. 110-90 requires a documentation and coding adjustment of −0.9 percent instead of the −1.8 percent adjustment specified in the FY 2008 IPPS final rule with comment period. As required by statute, we are applying a documentation and coding adjustment of −0.9 percent to the FY 2009 IPPS national standardized amounts. The documentation and coding adjustments established in the FY 2008 IPPS final rule with comment period are cumulative. As a result, the −0.9 percent documentation and coding adjustment in FY 2009 is in addition to the −0.6 percent adjustment in FY 2008, yielding a combined effect of −1.5 percent.

As discussed in more detail in section II.D. of the preamble of this proposed rule, in calculating the FY 2008 Puerto Rico standardized amount, we made an inadvertent error and applied the documentation and coding adjustment established using our authority in section 1886(d)(3)(A)(vi) of the Act (which only applies to the national standardized amounts) to the Puerto Rico-specific standardized amount. We are currently in the process of developing a Federal Register notice to remove the −0.6 percent documentation and coding adjustment from the FY 2008 Puerto Rico-specific standardized amount retroactive to October 1, 2007. As discussed in section II.D. of the preamble of this proposed rule, we are not applying the documentation and coding adjustment to the Puerto Rico-specific standardized amount for FY 2009, but we may consider doing so for the FY 2010 Puerto Rico-specific standardized amount in the FY 2010 rulemaking. In calculating the FY 2009 Puerto Rico-specific standardized amount for this proposed rule, we have removed the −0.6 percent documentation and coding adjustment that was inadvertently applied to the FY 2008 Puerto Rico-specific standardized amount.

d. Outliers

Section 1886(d)(5)(A) of the Act provides for payments in addition to the basic prospective payments for “outlier” cases involving extraordinarily high costs. To qualify for outlier payments, a case must have costs greater than the sum of the prospective payment rate for the DRG, any IME and DSH payments, any new technology add-on payments, and the “outlier threshold” or “fixed loss” amount (a dollar amount by which the costs of a case must exceed payments in order to qualify for an outlier payment). We refer to the sum of the prospective payment rate for the DRG, any IME and DSH payments, any new technology add-on payments, and the outlier threshold as the outlier “fixed-loss cost threshold.” To determine whether the costs of a case exceed the fixed-loss cost threshold, a hospital's CCR is applied to the total covered charges for the case to convert the charges to estimated costs. Payments for eligible cases are then made based on a marginal cost factor, which is a percentage of the estimated costs above the fixed-loss cost threshold. The marginal cost factor for FY 2009 is 80 percent, the same marginal cost factor we have used since FY 1995 (59 FR 45367).

In accordance with section 1886(d)(5)(A)(iv) of the Act, outlier payments for any year are projected to be not less than 5 percent nor more than 6 percent of total operating DRG payments plus outlier payments. Section 1886(d)(3)(B) of the Act requires the Secretary to reduce the average standardized amount by a factor to account for the estimated proportion of total DRG payments made to outlier cases. Similarly, section 1886(d)(9)(B)(iv) of the Act requires the Secretary to reduce the average standardized amount applicable to hospitals located in Puerto Rico to account for the estimated proportion of total DRG payments made to outlier cases. More information on outlier payments may be found on the CMS Web site at http://www.cms.hhs.gov/AcuteInpatientPPS/04_outlier.asp#TopOfPage.

(1) Proposed FY 2009 Outlier Fixed-Loss Cost Threshold

For FY 2009, we are proposing to use the same methodology used for FY 2008 (72 FR 47417) to calculate the outlier threshold. Similar to the methodology used in the FY 2008 final rule with comment period, for FY 2009, we are applying an adjustment factor to the CCRs to account for cost and charge inflation (as explained below). As we have done in the past, to calculate the proposed FY 2009 outlier threshold, we simulated payments by applying FY 2009 rates and policies using cases from the FY 2007 MedPAR files. Therefore, in order to determine the proposed FY 2009 outlier threshold, we inflate the charges on the MedPAR claims by 2 years, from FY 2007 to FY 2009.

We are proposing to continue using a refined methodology that takes into account the lower inflation in hospital charges that are occurring as a result of the outlier final rule (68 FR 34494), which changed our methodology for determining outlier payments by implementing the use of more current CCRs. Our refined methodology uses more recent data that reflect the rate-of-change in hospital charges under the new outlier policy.

Using the most recent data available, we calculated the 1-year average annualized rate-of-change in charges-per-case from the last quarter of FY 2006 in combination with the first quarter of FY 2007 (July 1, 2006 through December 31, 2006) to the last quarter of FY 2007 in combination with the first quarter of FY 2008 (July 1, 2007 through December 31, 2007). This rate of change was 5.84 percent (1.0585) or 12.03 percent (1.1204) over 2 years.

As we have done in the past, we are proposing to establish the proposed FY 2009 outlier threshold using hospital CCRs from the December 2007 update to the Provider-Specific File (PSF)—the most recent available data at the time of this proposed rule. This file includes CCRs that reflected implementation of the changes to the policy for determining the applicable CCRs that became effective August 8, 2003 (68 FR 34494).

As discussed in the FY 2007 final rule (71 FR 48150), we worked with the Office of Actuary to derive the methodology described below to develop the CCR adjustment factor. For FY 2009, we are proposing to use the same methodology to calculate the CCR adjustment by using the FY 2007 operating cost per discharge increase in combination with the actual FY 2007 operating market basket increase determined by Global Insight, Inc., as well as the charge inflation factor described above to estimate the adjustment to the CCRs. (We note that the FY 2007 actual (otherwise referred to as “final”) operating market basket increase reflects historical data whereas the published FY 2007 operating market basket update factor was based on Global Insight, Inc.'s 2006 second quarter forecast with historical data through the first quarter of 2007.) By using the operating market basket rate-of-increase and the increase in the average cost per discharge from hospital cost reports, we are using two different measures of cost inflation. For FY 2009, we determined the adjustment by taking the percentage increase in the operating costs per discharge from FY 2005 to FY 2006 (1.0538) from the cost report and dividing it by the final operating market basket increase from FY 2006 (1.0420). We repeated this calculation for 2 prior years to determine the 3-year average of the rate of adjusted change in costs between the operating market basket rate-of-increase and the increase in cost per case from the cost report (FY 2003 to FY 2004 percentage increase of operating costs per discharge of 1.0629 divided by FY 2004 final operating market basket increase of 1.0400, FY 2004 to FY 2005 percentage increase of operating costs per discharge of 1.0565 divided by FY 2005 final operating market basket increase of 1.0430). For FY 2009, we averaged the differentials calculated for FY 2004, FY 2005, and FY 2006, which resulted in a mean ratio of 1.0154. We multiplied the 3-year average of 1.0154 by the 2007 operating market basket percentage increase of 1.0340, which resulted in an operating cost inflation factor of 5.0 percent or 1.05. We then divided the operating cost inflation factor by the 1-year average change in charges (1.058474) and applied an adjustment factor of 0.9920 to the operating CCRs from the PSF.

As stated in the FY 2008 final rule with comment period, we continue to believe it is appropriate to apply only a 1-year adjustment factor to the CCRs. On average, it takes approximately 9 months for fiscal intermediaries (or, if applicable, the MAC) to tentatively settle a cost report from the fiscal year end of a hospital's cost reporting period. The average “age” of hospitals' CCRs from the time the fiscal intermediary or the MAC inserts the CCR in the PSF until the beginning of FY 2008 is approximately 1 year. Therefore, as stated above, we believe a 1-year adjustment factor to the CCRs is appropriate.

We used the same methodology for the capital CCRs and determined the adjustment by taking the percentage increase in the capital costs per discharge from FY 2005 to FY 2006 (1.0462) from the cost report and dividing it by the final capital market basket increase from FY 2006 (1.0090). We repeated this calculation for 2 prior years to determine the 3-year average of the rate of adjusted change in costs between the capital market basket rate-of-increase and the increase in cost per case from the cost report (FY 2003 to FY 2004 percentage increase of capital costs per discharge of 1.0315 divided by FY 2004 final capital market basket increase of 1.0050, FY 2004 to FY 2005 percentage increase of capital costs per discharge of 1.0311 divided by FY 2005 final capital market basket increase of 1.0060). For FY 2009, we averaged the differentials calculated for FY 2004, FY 2005, and FY 2006, which resulted in a mean ratio of 1.0294. We multiplied the 3-year average of 1.0294 by the 2007 capital market basket percentage increase of 1.0120, which resulted in a capital cost inflation factor of 4.17 percent or 1.0417. We then divided the capital cost inflation factor by the 1-year average change in charges (1.058474) and applied an adjustment factor of 0.9842 to the capital CCRs from the PSF. We are using the same charge inflation factor for the capital CCRs that was used for the operating CCRs. The charge inflation factor is based on the overall billed charges. Therefore, we believe it is appropriate to apply the charge factor to both the operating and capital CCRs.

For purposes of estimating the proposed outlier threshold for FY 2009, we assume 3.0 percent case-mix growth in FY 2009 compared with our FY 2007 claims data (that is, a 1.2 percent increase in FY 2008 and an additional 1.8 percent increase in FY 2009). The 3 percent case-mix growth was projected by the Office of the Actuary as the amount case-mix is expected to increase in response to adoption of the MS-DRGs as a result of improvements in documentation and coding that do not reflect real changes in patient severity of illness. It is necessary to take the 3 percent expected case-mix growth into account when calculating the outlier threshold that results in outlier payments being 5.1 percent of total payments for FY 2009. If we did not take this 3 percent projected case-mix growth into account, our estimate of total payments would be too low, and as a result, our estimate of the outlier threshold would be too high. While we assume 3 percent case-mix growth for all hospitals in our outlier threshold calculations, the FY 2009 national standardized amounts used to calculate the outlier threshold reflect the statutorily mandated documentation and coding adjustment of −0.9 percent for FY 2009, on top of the −0.6 percent adjustment for FY 2008.

Using this methodology, we are proposing an outlier fixed-loss cost threshold for FY 2009 equal to the prospective payment rate for the DRG, plus any IME and DSH payments, and any add-on payments for new technology, plus $21,025.

As we did in establishing the FY 2008 outlier threshold (72 FR 47417), in our projection of FY 2009 outlier payments, we are not making any adjustments for the possibility that hospitals' CCRs and outlier payments may be reconciled upon cost report settlement. We continue to believe that, due to the policy implemented in the outlier final rule (68 FR 34494, June 9, 2003), CCRs will no longer fluctuate significantly and, therefore, few hospitals will actually have these ratios reconciled upon cost report settlement. In addition, it is difficult to predict the specific hospitals that will have CCRs and outlier payments reconciled in any given year. We also noted that reconciliation occurs because hospitals' actual CCRs for the cost reporting period are different than the interim CCRs used to calculate outlier payments when a bill is processed. Our simulations assume that CCRs accurately measure hospital costs based on information available to us at the time we set the outlier threshold. For these reasons, we are not making any assumptions about the effects of reconciliation on the outlier threshold calculation.

We also note that there are some factors that contributed to a proposed lower fixed loss outlier threshold for FY 2009 compared to FY 2008. First, the case-weighted national average operating CCR declined by approximately an additional 1 percentage point from the March 2007 update (used to calculate the FY 2008 outlier threshold) to the December 2007 update of the PSF (used to calculate the proposed FY 2009 outlier threshold). In addition, as discussed in sections II.C. and II.H. of the preamble of this proposed rule, we began a 2-year phase-in of the MS-DRGs in FY 2008, with the DRG relative weights based on a 50 percent blend of the CMS DRGs and MS-DRGs in FY 2008 and based on 100 percent of the MS-DRGs beginning in FY 2009. Better recognition of severity of illnesses with the MS-DRGs means that nonoutlier payments will compensate hospitals for the higher costs of some cases that previously received outlier payments. As cases are paid more accurately, in order to meet the 5.1 percent target, we need to decrease the fixed-loss outlier threshold so that more cases qualify for outlier payments. In addition, as noted previously, in our modeling of the outlier threshold, we included a 3-percent adjustment for expected case-mix growth between FY 2007 and FY 2009. Together, we believe that the above factors cumulatively contributed to a lower proposed fixed-loss outlier threshold in FY 2009 compared to FY 2008.

(2) Other Proposed Changes Concerning Outliers

As stated in the FY 1994 IPPS final rule (58 FR 46348), we establish an outlier threshold that is applicable to both hospital inpatient operating costs and hospital inpatient capital-related costs. When we modeled the combined operating and capital outlier payments, we found that using a common threshold resulted in a lower percentage of outlier payments for capital-related costs than for operating costs. We are projecting that the proposed thresholds for FY 2009 will result in outlier payments that will equal 5.1 percent of operating DRG payments and 5.73 percent of capital payments based on the Federal rate.

In accordance with section 1886(d)(3)(B) of the Act, we are reducing the FY 2009 standardized amount by the same percentage to account for the projected proportion of payments paid as outliers.

The outlier adjustment factors that are applied to the standardized amount for the proposed FY 2009 outlier threshold are as follows:

| Operating standardized amounts | Capital federal rate
National | 0.948928 | 0.942711
Puerto Rico | 0.955988 | 0.925627

Consistent with current policy, we are applying the outlier adjustment factors to FY 2009 rates after removing the effects of the FY 2008 outlier adjustment factors on the standardized amount.

To determine whether a case qualifies for outlier payments, we apply hospital-specific CCRs to the total covered charges for the case. Estimated operating and capital costs for the case are calculated separately by applying separate operating and capital CCRs. These costs are then combined and compared with the outlier fixed-loss cost threshold.

The outlier final rule (68 FR 34494) eliminated the application of the statewide average CCRs for hospitals with CCRs that fell below 3 standard deviations from the national mean CCR. However, for those hospitals for which the fiscal intermediary or MAC computes operating CCRs greater than 1.213 or capital CCRs greater than 0.148, or hospitals for whom the fiscal intermediary or MAC is unable to calculate a CCR (as described at § 412.84(i)(3) of our regulations), we still use statewide average CCRs to determine whether a hospital qualifies for outlier payments.²⁷ Table 8A in this Addendum contains the statewide average operating CCRs for urban hospitals and for rural hospitals for which the fiscal intermediary or MAC is unable to compute a hospital-specific CCR within the above range. Effective for discharges occurring on or after October 1, 2008, these statewide average ratios would replace the ratios published in the IPPS final rule for FY 2008 (72 FR 48126-48127). Table 8B in this Addendum contains the comparable statewide average capital CCRs. Again, the CCRs in Tables 8A and 8B would be used during FY 2009 when hospital-specific CCRs based on the latest settled cost report are either not available or are outside the range noted above. For an explanation of Table 8C, we refer readers to section V. of this Addendum.

²⁷ These figures represent 3.0 standard deviations from the mean of the log distribution of CCRs for all hospitals.

We finally note that we published a manual update (Change Request 3966) to our outlier policy on October 12, 2005, which updated Chapter 3, Section 20.1.2 of the Medicare Claims Processing Manual. The manual update covered an array of topics, including CCRs, reconciliation, and the time value of money. We encourage hospitals that are assigned the statewide average operating and/or capital CCRs to work with their fiscal intermediaries (or MAC if applicable) on a possible alternative operating and/or capital CCR as explained in Change Request 3966. Use of an alternative CCR developed by the hospital in conjunction with the fiscal intermediary or MAC can avoid possible overpayments or underpayments at cost report settlement, thus ensuring better accuracy when making outlier payments and negating the need for outlier reconciliation. We also note that a hospital may request an alternative operating or capital CCR ratio at any time as long as the guidelines of Change Request 3966 are followed. To download and view the manual instructions on outlier and cost-to-charge ratios, visit the Web site: http://www.cms.hhs.gov/manuals/downloads/clm104c03.pdf.

(3) FY 2007 and FY 2008 Outlier Payments

In the FY 2008 IPPS final rule (72 FR 47420), we stated that, based on available data, we estimated that actual FY 2007 outlier payments would be approximately 4.6 percent of actual total DRG payments. This estimate was computed based on simulations using the FY 2006 MedPAR file (discharge data for FY 2006 bills). That is, the estimate of actual outlier payments did not reflect actual FY 2007 bills, but instead reflected the application of FY 2007 rates and policies to available FY 2006 bills.

Our current estimate, using available FY 2007 bills, is that actual outlier payments for FY 2007 were approximately 4.64 percent of actual total DRG payments. Thus, the data indicate that, for FY 2007, the percentage of actual outlier payments relative to actual total payments is lower than we projected before FY 2007. Consistent with the policy and statutory interpretation we have maintained since the inception of the IPPS, we do not plan to make retroactive adjustments to outlier payments to ensure that total outlier payments for FY 2007 are equal to 5.1 percent of total DRG payments.

We currently estimate that actual outlier payments for FY 2008 will be approximately 4.8 percent of actual total DRG payments, 0.3 percentage points lower than the 5.1 percent we projected in setting the outlier policies for FY 2008. This estimate is based on simulations using the FY 2007 MedPAR file (discharge data for FY 2007 bills). We used these data to calculate an estimate of the actual outlier percentage for FY 2008 by applying FY 2008 rates and policies, including an outlier threshold of $22,185 to available FY 2007 bills.

e. Proposed Rural Community Hospital Demonstration Program Adjustment (Section 410A of Pub. L. 108-173)

Section 410A of Pub. L. 108-173 requires the Secretary to establish a demonstration that will modify reimbursement for inpatient services for up to 15 small rural hospitals. Section 410A(c)(2) of Pub. L. 108-173 requires that “in conducting the demonstration program under this section, the Secretary shall ensure that the aggregate payments made by the Secretary do not exceed the amount which the Secretary would have paid if the demonstration program under this section was not implemented.” As discussed in section IV.K. of the preamble to this proposed rule, we have satisfied this requirement by adjusting national IPPS rates by a factor that is sufficient to account for the added costs of this demonstration. There are currently nine hospitals participating in the demonstration program. CMS is currently conducting a solicitation for up to six additional hospitals to participate in the demonstration program. For this proposed rule, we used data from the cost reports of the 9 currently participating hospitals to estimate a total cost number for 15 hospitals that could potentially participate in the demonstration program in FY 2009. (In the final rule, we will know the exact number of hospitals participating in the demonstration program, and we will revise our estimates accordingly.) We estimate that the average additional annual payment that will be made to each participating hospital under the demonstration will be approximately $2,134,123. We based this estimate on the recent historical experience of the difference between inpatient cost and payment for hospitals that are participating in the demonstration program. As an estimate of the cost for a total of 15 hospitals that may participate, the total annual impact of the demonstration program for FY 2009 is projected to be $32,011,849. The required adjustment to the Federal rate used in calculating Medicare inpatient prospective payments as a result of the demonstration is 0.999666.

In order to achieve budget neutrality, we are adjusting the national IPPS rates by an amount sufficient to account for the added costs of this demonstration. In other words, we are applying budget neutrality across the payment system as a whole rather than merely across the participants of this demonstration, consistent with past practice. We believe that the language of the statutory budget neutrality requirement permits the agency to implement the budget neutrality provision in this manner. The statutory language requires that “aggregate payments made by the Secretary do not exceed the amount which the Secretary would have paid if the demonstration * * * was not implemented,” but does not identify the range across which aggregate payments must be held equal.

5. Proposed FY 2009 Standardized Amount

The adjusted proposed standardized amount is divided into labor-related and nonlabor-related portions. Tables 1A and 1B of this Addendum contain the national standardized amounts that we are proposing to apply to all hospitals, except hospitals located in Puerto Rico, for FY 2009. The proposed Puerto Rico-specific amounts are shown in Table 1C of this Addendum. The proposed amounts shown in Tables 1A and 1B differ only in that the labor-related share applied to the standardized amounts in Table 1A is 69.7 percent, and Table 1B is 62 percent. In accordance with sections 1886(d)(3)(E) and 1886(d)(9)(C)(iv) of the Act, we are applying a labor-related share of 62 percent, unless application of that percentage would result in lower payments to a hospital than would otherwise be made. In effect, the statutory provision means that we apply a labor-related share of 62 percent for all hospitals (other than those in Puerto Rico) whose wage indexes are less than or equal to 1.0000.

In addition, Tables 1A and 1B include proposed standardized amounts reflecting the full 3.0 percent update for FY 2009, and proposed standardized amounts reflecting the 2.0 percentage point reduction to the update (a 1.0 percent update) applicable for hospitals that fail to submit quality data consistent with section 1886(b)(3)(B)(viii) of the Act.

Under section 1886(d)(9)(A)(ii) of the Act, the Federal portion of the Puerto Rico payment rate is based on the discharge-weighted average of the national large urban standardized amount (this proposed amount is set forth in Table 1A). The proposed labor-related and nonlabor-related portions of the national average standardized amounts for Puerto Rico hospitals for FY 2009 are set forth in Table 1C of this Addendum. This table also includes the proposed Puerto Rico standardized amounts. The labor-related share applied to the Puerto Rico specific standardized amount is 58.7 percent, or 62 percent, depending on which provides higher payments to the hospital. (Section 1886(d)(9)(C)(iv) of the Act, as amended by section 403(b) of Pub. L. 108-173, provides that the labor-related share for hospitals located in Puerto Rico be 62 percent, unless the application of that percentage would result in lower payments to the hospital.)

The following table illustrates the proposed changes from the FY 2008 national average standardized amount. The second and third columns show the proposed changes from the FY 2008 standardized amounts for hospitals that satisfy the quality data submission requirement for receiving the full update (3.0 percent) with the different labor-related shares that apply to hospitals. The fourth and fifth columns show the proposed changes for hospitals receiving the reduced update (1.0 percent) with the different labor-related shares that apply to hospitals. The first row of the table shows the updated (through FY 2008) average standardized amount after restoring the FY 2008 offsets for outlier payments, demonstration budget neutrality, the New Jersey imputed floor budget neutrality, and the geographic reclassification budget neutrality. The DRG reclassification and recalibration and wage index budget neutrality factor is cumulative. Therefore, the FY 2008 factor is not removed from this table. Also, in order to properly apply the documentation and coding adjustment, it was necessary to first remove the FY 2008 adjustment from the FY 2008 rate in the first row of the table and then later in the table to cumulatively apply the sum of the FY 2008 and FY 2009 adjustments (that is, 1−(.006 + .009)) to the FY 2009 rate. (For a complete discussion on the documentation and coding adjustment, we refer readers to section II.D of the preamble to this proposed rule.)

Comparison of FY 2008 Standardized Amounts to the Proposed FY 2009 Single Standardized Amount With Full Update and Reduced Update
| Full update (3.0 percent); wage index is greater than 1.0000 | Full update (3.0 percent); wage index is less than 1.0000 | Reduced update (1.0 percent); wage index is greater than 1.0000 | Reduced update (1.0 percent); wage index is less than 1.0000
FY 2008 Base Rate, after removing geographic reclassification budget neutrality, demonstration budget neutrality, documentation and coding adjustment, NJ imputed floor budget neutrality and outlier offset (based on the labor and market share percentage for FY 2009) | Labor: $3,723.07 Nonlabor: $1,618.50 | Labor: $3,311.77 Nonlabor: $2,029.80 | Labor: $3,723.07 Nonlabor: $1,618.50 | Labor: $3,311.77 Nonlabor: $2,029.80
FY 2009 Update Factor | 1.030 | 1.030 | 1.010 | 1.010
FY 2009 DRG Recalibrations and Wage Index Budget Neutrality Factor | 0.999525 | 0.999525 | 0.999525 | 0.999525
FY 2009 Reclassification Budget Neutrality Factor | 0.992333 | 0.992333 | 0.992333 | 0.992333
FY 2009 Outlier Factor | 0.948928 | 0.948928 | 0.948928 | 0.948928
Rural Demonstration Budget Neutrality Factor | 0.999666 | 0.999666 | 0.999666 | 0.999666
FY 2009 Documentation and Coding Adjustment and Actual FY 2008 Adjustment | 0.985 | 0.985 | 0.985 | 0.985
Proposed Rate for FY 2009 | Labor: $3,553.98 Nonlabor: $1,544.98 | Labor: $3,161.36 Nonlabor: $1,937.60 | Labor: $3,484.97 Nonlabor: $1,514.98 | Labor: $3,099.97 Nonlabor: $1,899.98

Under section 1886(d)(9)(A)(ii) of the Act, the Federal portion of the Puerto Rico payment rate is based on the national average standardized amounts. The labor-related and nonlabor-related portions of the national average standardized amounts for hospitals located in Puerto Rico are set forth in Table 1C of this Addendum. This table also includes the Puerto Rico standardized amounts. The labor-related share applied to the Puerto Rico standardized amount is 58.7 percent, or 62 percent, depending on which results in higher payments to the hospital. (Section 1886(d)(9)(C)(iv) of the Act, as amended by section 403(b) of Pub. L. 108-173, provides that the labor-related share for hospitals located in Puerto Rico be 62 percent, unless the application of that percentage would result in lower payments to the hospital.)

B. Proposed Adjustments for Area Wage Levels and Cost-of-Living

Tables 1A through 1C, as set forth in this Addendum, contain the proposed labor-related and nonlabor-related shares that we are using to calculate the proposed prospective payment rates for hospitals located in the 50 States, the District of Columbia, and Puerto Rico for FY 2009. This section addresses two types of adjustments to the standardized amounts that were made in determining the prospective payment rates as described in this Addendum.

1. Proposed Adjustment for Area Wage Levels

Sections 1886(d)(3)(E) and 1886(d)(9)(C)(iv) of the Act require that we make an adjustment to the labor-related portion of the national and Puerto Rico prospective payment rates, respectively, to account for area differences in hospital wage levels. This adjustment is made by multiplying the labor-related portion of the adjusted standardized amounts by the appropriate wage index for the area in which the hospital is located. In section III. of the preamble to this proposed rule, we discuss the data and methodology for the FY 2009 wage index.

2. Proposed Adjustment for Cost-of-Living in Alaska and Hawaii

Section 1886(d)(5)(H) of the Act authorizes the Secretary to make an adjustment to take into account the unique circumstances of hospitals in Alaska and Hawaii. Higher labor-related costs for these two States are taken into account in the adjustment for area wages described above. For FY 2009, we are proposing to adjust the payments for hospitals in Alaska and Hawaii by multiplying the nonlabor-related portion of the standardized amount by the applicable adjustment factor contained in the table below.

Table of Cost-of-Living Adjustment Factors: Alaska and Hawaii Hospitals
Area | Cost of living adjustment factor
Alaska:
City of Anchorage and 80-kilometer (50-mile) radius by road | 1.24
City of Fairbanks and 80-kilometer (50-mile) radius by road | 1.24
City of Juneau and 80-kilometer (50-mile) radius by road | 1.24
Rest of Alaska | 1.25
Hawaii:
City and County of Honolulu | 1.25
County of Hawaii | 1.17
County of Kauai | 1.25
County of Maui and County of Kalawao | 1.25
(The above factors are based on data obtained from the U.S. Office of Personnel Management.)

C. Proposed MS-DRG Relative Weights

As discussed in section II.H. of the preamble of this proposed rule, we have developed proposed relative weights for each MS-DRG that reflect the resource utilization of cases in each MS-DRG relative to Medicare cases in other MS-DRGs. Table 5 of this Addendum contains the proposed relative weights that we will apply to discharges occurring in FY 2009. These factors have been recalibrated as explained in section II. of the preamble of this proposed rule.

D. Calculation of the Proposed Prospective Payment Rates

General Formula for Calculation of the Proposed Prospective Payment Rates for FY 2009

In general, the operating prospective payment rate for all hospitals paid under the IPPS located outside of Puerto Rico, except SCHs and MDHs, for FY 2009 equals the Federal rate.

The prospective payment rate for SCHs for FY 2009 equals the higher of the applicable Federal rate, or the hospital-specific rate as described below. The prospective payment rate for MDHs for FY 2009 equals the higher of the Federal rate, or the Federal rate plus 75 percent of the difference between the Federal rate and the hospital-specific rate as described below. The prospective payment rate for hospitals located in Puerto Rico for FY 2009 equals 25 percent of the Puerto Rico rate plus 75 percent of the applicable national rate.

1. Federal Rate

The Federal rate is determined as follows:

Step 1—Select the applicable average standardized amount depending on whether the hospital submitted qualifying quality data (full update for qualifying hospitals, update minus 2.0 percentage points for nonqualifying hospitals).

Step 2—Multiply the labor-related portion of the standardized amount by the applicable wage index for the geographic area in which the hospital is located or the area to which the hospital is reclassified.

Step 3—For hospitals in Alaska and Hawaii, multiply the nonlabor-related portion of the standardized amount by the applicable cost-of-living adjustment factor.

Step 4—Add the amount from Step 2 and the nonlabor-related portion of the standardized amount (adjusted, if applicable, under Step 3).

Step 5—Multiply the final amount from Step 4 by the relative weight corresponding to the applicable MS-DRG (see Table 5 of this Addendum).

The Federal rate as determined in Step 5 is then further adjusted if the hospital qualifies for either the IME or DSH adjustment. In addition, for hospitals that qualify for a low-volume payment adjustment under section 1886(d)(12) of the Act and 42 CFR 412.101(b), the payment in Step 5 is increased by 25 percent.

2. Hospital-Specific Rate (Applicable Only to SCHs and MDHs)

a. Calculation of Hospital-Specific Rate

Section 1886(b)(3)(C) of the Act provides that SCHs are paid based on whichever of the following rates yields the greatest aggregate payment: the Federal rate; the updated hospital-specific rate based on FY 1982 costs per discharge; the updated hospital-specific rate based on FY 1987 costs per discharge; or the updated hospital-specific rate based on FY 1996 costs per discharge.

As discussed previously, MDHs are required to rebase their hospital-specific rates to their FY 2002 cost reports if doing so results in higher payments. In addition, effective for discharges occurring on or after October 1, 2006, MDHs are to be paid based on the Federal national rate or, if higher, the Federal national rate plus 75 percent (changed from 50 percent) of the difference between the Federal national rate and the greater of the updated hospital-specific rates based on either FY 1982, FY 1987 or FY 2002 costs per discharge. Further, MDHs are no longer subject to the 12-percent cap on their DSH payment adjustment factor.

Hospital-specific rates have been determined for each of these hospitals based on the FY 1982 costs per discharge, the FY 1987 costs per discharge, or, for SCHs, the FY 1996 costs per discharge and for MDHs, the FY 2002 cost per discharge. For a more detailed discussion of the calculation of the hospital-specific rates, we refer the reader to the FY 1984 IPPS interim final rule (48 FR 39772); the April 20, 1990 final rule with comment (55 FR 15150); the FY 1991 IPPS final rule (55 FR 35994); and the FY 2001 IPPS final rule (65 FR 47082). In addition, for both SCHs and MDHs, the hospital-specific rate is adjusted by the budget neutrality adjustment factor as discussed in section III. of this Addendum. The resulting rate will be used in determining the payment rate an SCH or MDH will receive for its discharges beginning on or after October 1, 2007.

b. Updating the FY 1982, FY 1987, FY 1996, and FY 2002 Hospital-Specific Rates for FY 2009

We are proposing to increase the hospital-specific rates by 3.0 percent (the proposed estimated hospital market basket percentage increase) for FY 2009 for those SCHs and MDHs that submit qualifying quality data and by 1.0 percent for SCHs and MDHs that fail to submit qualifying quality data. Section 1886(b)(3)(C)(iv) of the Act provides that the update factor applicable to the hospital-specific rates for SCHs is equal to the update factor provided under section 1886(b)(3)(B)(iv) of the Act, which, for SCHs in FY 2008, is the market basket rate-of-increase for hospitals that submit qualifying quality data and the market basket rate-of-increase minus 2 percent for hospitals that fail to submit qualifying quality data. Section 1886(b)(3)(D) of the Act provides that the update factor applicable to the hospital-specific rates for MDHs also equals the update factor provided for under section 1886(b)(3)(B)(iv) of the Act, which, for FY 2009, is the market basket rate-of-increase for hospitals that submit qualifying quality data and the market basket rate-of-increase minus 2 percent for hospitals that fail to submit qualifying quality data.

3. General Formula for Calculation of Proposed Prospective Payment Rates for Hospitals Located in Puerto Rico Beginning On or After October 1, 2008, and Before October 1, 2009

Section 1886(d)(9)(E)(iv) of the Act provides that, effective for discharges occurring on or after October 1, 2004, hospitals located in Puerto Rico are paid based on a blend of 75 percent of the national prospective payment rate and 25 percent of the Puerto Rico-specific rate.

a. Puerto Rico Rate

The Puerto Rico prospective payment rate is determined as follows:

Step 1—Select the applicable average standardized amount considering the applicable wage index (Table 1C of this Addendum).

Step 2—Multiply the labor-related portion of the standardized amount by the applicable Puerto Rico-specific wage index.

Step 3—Add the amount from Step 2 and the nonlabor-related portion of the standardized amount.

Step 4—Multiply the amount from Step 3 by the applicable MS-DRG relative weight (Table 5 of this Addendum).

Step 5—Multiply the result in Step 4 by 25 percent.

b. National Rate

The national prospective payment rate is determined as follows:

Step 1—Select the applicable average standardized amount.

Step 2—Multiply the labor-related portion of the standardized amount by the applicable wage index for the geographic area in which the hospital is located or the area to which the hospital is reclassified.

Step 3—Add the amount from Step 2 and the nonlabor-related portion of the national average standardized amount.

Step 4—Multiply the amount from Step 3 by the applicable MS-DRG relative weight (Table 5 of this Addendum).

Step 5—Multiply the result in Step 4 by 75 percent.

The sum of the Puerto Rico rate and the national rate computed above equals the prospective payment for a given discharge for a hospital located in Puerto Rico. This rate is then further adjusted if the hospital qualifies for either the IME or DSH adjustment.

III. Proposed Changes to Payment Rates for Acute Care Hospital Inpatient Capital-Related Costs for FY 2009

The PPS for acute care hospital inpatient capital-related costs was implemented for cost reporting periods beginning on or after October 1, 1991. Effective with that cost reporting period, hospitals were paid during a 10-year transition period (which extended through FY 2001) to change the payment methodology for Medicare acute care hospital inpatient capital-related costs from a reasonable cost-based methodology to a prospective methodology (based fully on the Federal rate).

The basic methodology for determining Federal capital prospective rates is set forth in the regulations at 42 CFR 412.308 through 412.352. Below we discuss the factors that we are proposing to use to determine the capital Federal rate for FY 2009, which would be effective for discharges occurring on or after October 1, 2008.

The 10-year transition period ended with hospital cost reporting periods beginning on or after October 1, 2001 (FY 2002). Therefore, for cost reporting periods beginning in FY 2002, all hospitals (except “new” hospitals under § 412.304(c)(2)) are paid based on the capital Federal rate. For FY 1992, we computed the standard Federal payment rate for capital-related costs under the IPPS by updating the FY 1989 Medicare inpatient capital cost per case by an actuarial estimate of the increase in Medicare inpatient capital costs per case. Each year after FY 1992, we update the capital standard Federal rate, as provided at § 412.308(c)(1), to account for capital input price increases and other factors. The regulations at § 412.308(c)(2) provide that the capital Federal rate be adjusted annually by a factor equal to the estimated proportion of outlier payments under the capital Federal rate to total capital payments under the capital Federal rate. In addition, § 412.308(c)(3) requires that the capital Federal rate be reduced by an adjustment factor equal to the estimated proportion of payments for (regular and special) exceptions under § 412.348. Section 412.308(c)(4)(ii) requires that the capital standard Federal rate be adjusted so that the effects of the annual DRG reclassification and the recalibration of DRG weights and changes in the geographic adjustment factor (GAF) are budget neutral.

For FYs 1992 through 1995, § 412.352 required that the capital Federal rate also be adjusted by a budget neutrality factor so that aggregate payments for inpatient hospital capital costs were projected to equal 90 percent of the payments that would have been made for capital-related costs on a reasonable cost basis during the respective fiscal year. That provision expired in FY 1996. Section 412.308(b)(2) describes the 7.4 percent reduction to the capital Federal rate that was made in FY 1994, and § 412.308(b)(3) describes the 0.28 percent reduction to the capital Federal rate made in FY 1996 as a result of the revised policy for paying for transfers. In FY 1998, we implemented section 4402 of Pub. L. 105-33, which required that, for discharges occurring on or after October 1, 1997, the budget neutrality adjustment factor in effect as of September 30, 1995, be applied to the unadjusted capital standard Federal rate and the unadjusted hospital-specific rate. That factor was 0.8432, which was equivalent to a 15.68 percent reduction to the unadjusted capital payment rates. An additional 2.1 percent reduction to the rates was effective from October 1, 1997 through September 30, 2002, making the total reduction 17.78 percent. As we discussed in the FY 2003 IPPS final rule (67 FR 50102) and implemented in § 412.308(b)(6), the 2.1 percent reduction was restored to the unadjusted capital payment rates effective October 1, 2002.

To determine the appropriate budget neutrality adjustment factor and the regular exceptions payment adjustment during the 10-year transition period, we developed a dynamic model of Medicare inpatient capital-related costs; that is, a model that projected changes in Medicare inpatient capital-related costs over time. With the expiration of the budget neutrality provision, the capital cost model was only used to estimate the regular exceptions payment adjustment and other factors during the transition period. As we explained in the FY 2002 IPPS final rule (66 FR 39911), beginning in FY 2002, an adjustment for regular exception payments is no longer necessary because regular exception payments were only made for cost reporting periods beginning on or after October 1, 1991, and before October 1, 2001 (see § 412.348(b)). Because payments are no longer made under the regular exception policy effective with cost reporting periods beginning in FY 2002, we discontinued use of the capital cost model. The capital cost model and its application during the transition period are described in Appendix B of the FY 2002 IPPS final rule (66 FR 40099).

Section 412.374 provides for the use of a blended payment system for payments to hospitals located in Puerto Rico under the IPPS for acute care hospital inpatient capital-related costs. Accordingly, under the capital PPS, we compute a separate payment rate specific to hospitals located in Puerto Rico using the same methodology used to compute the national Federal rate for capital-related costs. In accordance with section 1886(d)(9)(A) of the Act, under the IPPS for acute care hospital operating costs, hospitals located in Puerto Rico are paid for operating costs under a special payment formula. Prior to FY 1998, hospitals located in Puerto Rico were paid a blended operating rate that consisted of 75 percent of the applicable standardized amount specific to Puerto Rico hospitals and 25 percent of the applicable national average standardized amount. Similarly, prior to FY 1998, hospitals located in Puerto Rico were paid a blended capital rate that consisted of 75 percent of the applicable capital Puerto Rico-specific rate and 25 percent of the applicable capital Federal rate. However, effective October 1, 1997, in accordance with section 4406 of Pub. L. 105-33, the methodology for operating payments made to hospitals located in Puerto Rico under the IPPS was revised to make payments based on a blend of 50 percent of the applicable standardized amount specific to Puerto Rico hospitals and 50 percent of the applicable national average standardized amount. In conjunction with this change to the operating blend percentage, effective with discharges occurring on or after October 1, 1997, we also revised the methodology for computing capital payments to hospitals located in Puerto Rico to be based on a blend of 50 percent of the Puerto Rico capital rate and 50 percent of the capital Federal rate.

As we discussed in the FY 2005 IPPS final rule (69 FR 49185), section 504 of Pub. L. 108-173 increased the national portion of the operating IPPS payments for hospitals located in Puerto Rico from 50 percent to 62.5 percent and decreased the Puerto Rico portion of the operating IPPS payments from 50 percent to 37.5 percent for discharges occurring on or after April 1, 2004 through September 30, 2004 (see the March 26, 2004 One-Time Notification (Change Request 3158)). In addition, section 504 of Pub. L. 108-173 provided that the national portion of operating IPPS payments for hospitals located in Puerto Rico is equal to 75 percent and the Puerto Rico portion of operating IPPS payments is equal to 25 percent for discharges occurring on or after October 1, 2004. Consistent with that change in operating IPPS payments to hospitals located in Puerto Rico, for FY 2005 (as we discussed in the FY 2005 IPPS final rule), we revised the methodology for computing capital payments to hospitals located in Puerto Rico to be based on a blend of 25 percent of the Puerto Rico capital rate and 75 percent of the capital Federal rate for discharges occurring on or after October 1, 2004.

A. Determination of Proposed Federal Hospital Inpatient Capital-Related Prospective Payment Rate Update

In the FY 2008 IPPS final rule with comment period (72 FR 66886 through 66888), we established a capital Federal rate of $426.14 for FY 2008. In the discussion that follows, we explain the factors that we are proposing to use to determine the proposed FY 2009 capital Federal rate. In particular, we explain why the proposed FY 2009 capital Federal rate would decrease approximately 1.14 percent, compared to the FY 2008 capital Federal rate. However, taking into account an estimated increase in Medicare fee-for-service discharges in FY 2009 as compared to FY 2008, as well as the estimated increase in payments due to documentation and coding (discussed in section VIII. of Appendix A to this proposed rule), we estimate that the increase in aggregate capital payments would be negligible during this same period (approximately $6 million). Total payments to hospitals under the IPPS are relatively unaffected by changes in the capital prospective payments. Because capital payments constitute about 10 percent of hospital payments, a 1-percent change in the capital Federal rate yields only about a 0.1 percent change in actual payments to hospitals. As noted above, aggregate payments under the capital IPPS are projected to increase in FY 2009 compared to FY 2008.

1. Projected Capital Standard Federal Rate Update

a. Description of the Update Framework

Under § 412.308(c)(1), the capital standard Federal rate is updated on the basis of an analytical framework that takes into account changes in a capital input price index (CIPI) and several other policy adjustment factors. Specifically, we have adjusted the projected CIPI rate-of-increase as appropriate each year for case-mix index-related changes, for intensity, and for errors in previous CIPI forecasts. The proposed update factor for FY 2009 under that framework is 0.7 percent based on the best data available at this time. The proposed update factor under that framework is based on a projected 1.2 percent increase in the CIPI, a 0.0 percent adjustment for intensity, a 0.0 percent adjustment for case-mix, a −0.5 percent adjustment for the FY 2007 DRG reclassification and recalibration, and a forecast error correction of 0.0 percent. As discussed below in section III.C. of the Addendum to this proposed rule, we continue to believe that the CIPI is the most appropriate input price index for capital costs to measure capital price changes in a given year. We also explain the basis for the FY 2009 CIPI projection in that same section of this Addendum. In addition, as also noted below, the proposed capital rates would be further adjusted to account for documentation and coding improvements under the MS-DRGs discussed in section II.D. of the preamble of this proposed rule. Below we describe the policy adjustments that we are proposing to apply in the update framework for FY 2009.

The case-mix index is the measure of the average MS-DRG weight for cases paid under the IPPS. Because the MS-DRG weight determines the prospective payment for each case, any percentage increase in the case-mix index corresponds to an equal percentage increase in hospital payments.

The case-mix index can change for any of several reasons:

• The average resource use of Medicare patients changes (“real” case-mix change);

• Changes in hospital coding of patient records result in higher weight MS-DRG assignments (“coding effects”); and

• The annual MS-DRG reclassification and recalibration changes may not be budget neutral (“reclassification effect”).

We define real case-mix change as actual changes in the mix (and resource requirements) of Medicare patients as opposed to changes in coding behavior that result in assignment of cases to higher weighted MS-DRGs but do not reflect higher resource requirements. The capital update framework includes the same case-mix index adjustment used in the former operating IPPS update framework (as discussed in the May 18, 2004 IPPS proposed rule for FY 2005 (69 FR 28816)). (We no longer use an update framework to make a recommendation for updating the operating IPPS standardized amounts as discussed in section II. of Appendix B in the FY 2006 IPPS final rule (70 FR 47707).)

Absent the projected increase in case-mix resulting from documentation and coding improvements under the recently adopted MS-DRGs, for FY 2009, we are projecting a 1.0 percent total increase in the case-mix index. We estimate that the real case-mix increase will also equal 1.0 percent for FY 2009. The net adjustment for change in case-mix is the difference between the projected real increase in case-mix and the projected total increase in case-mix. Therefore, the net adjustment for case-mix change in FY 2009 is 0.0 percentage points.

The capital update framework also contains an adjustment for the effects of DRG reclassification and recalibration. This adjustment is intended to remove the effect on total payments of prior year's changes to the DRG classifications and relative weights, in order to retain budget neutrality for all case-mix index-related changes other than those due to patient severity. Due to the lag time in the availability of data, there is a 2-year lag in data used to determine the adjustment for the effects of DRG reclassification and recalibration. For example, we are adjusting for the effects of the FY 2007 DRG reclassification and recalibration as part of our proposed update for FY 2009. We estimate that FY 2007 DRG reclassification and recalibration resulted in a 0.5 percent change in the case-mix when compared with the case-mix index that would have resulted if we had not made the reclassification and recalibration changes to the DRGs. Therefore, we are proposing to make a −0.5 percent adjustment for DRG reclassification in the proposed update for FY 2009 to maintain budget neutrality.

The capital update framework also contains an adjustment for forecast error. The input price index forecast is based on historical trends and relationships ascertainable at the time the update factor is established for the upcoming year. In any given year, there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the availability of data to develop a measurement of the forecast error. A forecast error of 0.10 percentage point was calculated for the FY 2007 update. That is, current historical data indicate that the forecasted FY 2007 CIPI (1.1 percent) used in calculating the FY 2007 update factor slightly understated the actual realized price increases (1.2 percent) by 0.10 percentage point. This slight underprediction was mostly due to the incorporation of newly available source data for fixed asset prices and moveable asset prices into the market basket. However, because this estimation of the change in the CIPI is less than 0.25 percentage points, it is not reflected in the update recommended under this framework. Therefore, we are proposing to make a 0.0 percent adjustment for forecast error in the update for FY 2009.

Under the capital IPPS update framework, we also make an adjustment for changes in intensity. We calculate this adjustment using the same methodology and data that were used in the past under the framework for operating IPPS. The intensity factor for the operating update framework reflects how hospital services are utilized to produce the final product, that is, the discharge. This component accounts for changes in the use of quality-enhancing services, for changes within DRG severity, and for expected modification of practice patterns to remove noncost-effective services.

We calculate case-mix constant intensity as the change in total charges per admission, adjusted for price level changes (the CPI for hospital and related services) and changes in real case-mix. The use of total charges in the calculation of the intensity factor makes it a total intensity factor; that is, charges for capital services are already built into the calculation of the factor. Therefore, we have incorporated the intensity adjustment from the operating update framework into the capital update framework. Without reliable estimates of the proportions of the overall annual intensity increases that are due, respectively, to ineffective practice patterns and the combination of quality-enhancing new technologies and complexity within the DRG system, we assume that one-half of the annual increase is due to each of these factors. The capital update framework thus provides an add-on to the input price index rate of increase of one-half of the estimated annual increase in intensity, to allow for increases within DRG severity and the adoption of quality-enhancing technology.

We have developed a Medicare-specific intensity measure based on a 5-year average. Past studies of case-mix change by the RAND Corporation (Has DRG Creep Crept Up? Decomposing the Case Mix Index Change Between 1987 and 1988 by G. M. Carter, J. P. Newhouse, and D. A. Relles, R-4098-HCFA/ProPAC (1991)) suggest that real case-mix change was not dependent on total change, but was usually a fairly steady increase of 1.0 to 1.5 percent per year. However, we used 1.4 percent as the upper bound because the RAND study did not take into account that hospitals may have induced doctors to document medical records more completely in order to improve payment.

We calculate case-mix constant intensity as the change in total charges per admission, adjusted for price level changes (the CPI for hospital and related services), and changes in real case-mix. As we noted above, in accordance with § 412.308(c)(1)(ii), we began updating the capital standard Federal rate in FY 1996 using an update framework that takes into account, among other things, allowable changes in the intensity of hospital services. For FYs 1996 through 2001, we found that case-mix constant intensity was declining, and we established a 0.0 percent adjustment for intensity in each of those years. For FYs 2002 and 2003, we found that case-mix constant intensity was increasing, and we established a 0.3 percent adjustment and 1.0 percent adjustment for intensity, respectively. For FYs 2004 and 2005, we found that the charge data appeared to be skewed (as discussed in greater detail below), and we established a 0.0 percent adjustment in each of those years. Furthermore, we stated that we would continue to apply a 0.0 percent adjustment for intensity until any increase in charges can be tied to intensity rather than attempts to maximize outlier payments.

As noted above, our intensity measure is based on a 5-year average, and therefore, the intensity adjustment for FY 2009 is based on data from the 5-year period beginning with FY 2003 and extending through FY 2007. There continues to be a substantial increase in hospital charges for three of those 5 years without a corresponding increase in the hospital case-mix index. Most dramatically, for FY 2003, the change in hospitals' charges is over 16 percent, which is reflective of the large increases in charges that we found in the 4 years prior to FY 2003 and before our revisions to the outlier policy in 2003 (discussed below). For FY 2004 and FY 2005, the change in hospitals' charges is somewhat lower in comparison to FY 2003, but is still significantly large. For FY 2006 and FY 2007, the change in hospitals' charges appears to be slightly moderating. However, the change in hospitals' charges for FYs 2003 and 2004 and to a somewhat lesser extent FY 2005 remains similar to the considerable increase in hospitals' charges that we found when examining hospitals' charge data in determining the intensity factor in the update recommendations for the past few years, as discussed in the FY 2004 IPPS final rule (68 FR 45482), the FY 2005 IPPS final rule (69 FR 49285), the FY 2006 IPPS final rule (70 FR 47500), the FY 2007 IPPS final rule (72 FR 47500), and the FY 2008 IPPS final rule with comment period (72 FR 47426). If hospitals were treating new or different types of cases, which would result in an appropriate increase in charges per discharge, then we would expect hospitals' case-mix to increase proportionally. As we discussed most recently in the FY 2008 IPPS final rule with comment period (72 FR 47426), because our intensity calculation relies heavily upon charge data and we believe that these charge data may be inappropriately skewed, we established a 0.0 percent adjustment for intensity for FY 2008 just as we did for FYs 2004 through 2007.

On June 9, 2003, we published in the Federal Register revisions to our outlier policy for determining the additional payment for extraordinarily high-cost cases (68 FR 34494 through 34515). These revised policies were effective on August 8, 2003, and October 1, 2003. While it does appear that a response to these policy changes is beginning to occur, that is, the increase in charges for FYs 2004 and 2005 are somewhat less than the previous 4 years, they still show a significant annual increase in charges without a corresponding increase in hospital case-mix. Specifically, the increases in charges in FY 2004 and FY 2005 (approximately 12 percent and 8 percent, respectively), for example, which, while less than the increase in the previous 3 years, are still much higher than increases in years prior to FY 2001. In addition, these increases in charges for FYs 2003, FY 2004, and FY 2005 significantly exceed the respective case-mix increases for the same period. Based on the significant increases in charges for FYs 2003 through 2005 that remain in the 5-year average used for the intensity adjustment, we believe residual effects of hospitals’ charge practices prior to the implementation of the outlier policy revisions established in the June 9, 2003 final rule continue to appear in the data, because it may have taken hospitals some time to adopt changes in their behavior in response to the new outlier policy. Thus, we believe that the FY 2003, FY 2004, FY 2005 charge data may still be skewed. Although it appears that the change in hospitals’ charges is more reasonable because the intensity adjustment is based on a 5-year average, and although the new outlier policy was generally effective in FY 2004, we believe the effects of hospitals attempting to maximize outlier payments, while lessening costs, continue to skew the charge data.

Therefore, we are proposing to make a 0.0 percent adjustment for intensity for FY 2009. In the past (FYs 1996 through 2001) when we found intensity to be declining, we believed a zero (rather than negative) intensity adjustment was appropriate. Similarly, we believe that it is appropriate to apply a zero intensity adjustment for FY 2009 until any increase in charges during the 5-year period upon which the intensity adjustment is based can be tied to intensity rather than to attempts to maximize outlier payments.

Above, we described the basis of the components used to develop the proposed 0.7 percent capital update factor for all hospitals under the capital update framework for FY 2009 as shown in the table below.

CMS Proposed FY 2009 Update Factor to the Capital Federal Rate
Capital Input Price Index | 1.2
Intensity | 0.0
Case-Mix Adjustment Factors:
Real Across DRG Change | −1.0
Projected Case-Mix Change | 1.0
Subtotal | 1.2
Effect of FY 2007 Reclassification and Recalibration | −0.5
Forecast Error Correction | 0.0
Total Update for Hospitals | 0.7

b. Comparison of CMS and MedPAC Update Recommendation

In its March 2008 Report to Congress, MedPAC did not make a specific update recommendation for capital IPPS payments for FY 2009. However, in that same report, in assessing the adequacy of current payments and costs, MedPAC recommended an update to the hospital inpatient and outpatient PPS rates equal to the increase in the hospital market basket in FY 2009, concurrent with a quality incentive program. (MedPAC's Report to the Congress: Medicare Payment Policy, March 2008, Section 2A.)

2. Proposed Outlier Payment Adjustment Factor

Section 412.312(c) establishes a unified outlier payment methodology for inpatient operating and inpatient capital-related costs. A single set of thresholds is used to identify outlier cases for both inpatient operating and inpatient capital-related payments. Section 412.308(c)(2) provides that the standard Federal rate for inpatient capital-related costs be reduced by an adjustment factor equal to the estimated proportion of capital-related outlier payments to total inpatient capital-related PPS payments. The outlier thresholds are set so that operating outlier payments are projected to be 5.1 percent of total operating DRG payments.

In the FY 2008 IPPS final rule with comment (72 FR 66887), we estimated that outlier payments for capital would equal 4.77 percent of inpatient capital-related payments based on the capital Federal rate in FY 2008. Based on the proposed thresholds as set forth in section II.A. of this Addendum, we estimate that proposed outlier payments for capital-related costs would equal 5.73 percent for inpatient capital-related payments based on the proposed capital Federal rate in FY 2009. Therefore, we are proposing to apply an outlier adjustment factor of 0.9427 to the capital Federal rate. Thus, we estimate that the percentage of capital outlier payments to total capital standard payments for FY 2009 will be higher than the percentages for FY 2008. This increase is primarily due to the proposed decrease to the fixed-loss amount, which is discussed section II.A. of this Addendum.

The outlier reduction factors are not built permanently into the capital rates; that is, they are not applied cumulatively in determining the capital Federal rate. The proposed FY 2009 outlier adjustment of 0.9427 is a −1.01percent change from the FY 2008 outlier adjustment of 0.9523. Therefore, the net change in the proposed outlier adjustment to the capital Federal rate for FY 2009 is 0.9899 (0.9427/0.9523). Thus, the proposed outlier adjustment decreases the FY 2009 capital Federal rate by 1.01 percent compared with the FY 2008 outlier adjustment.

3. Proposed Budget Neutrality Adjustment Factor for Changes in DRG Classifications and Weights and the GAF

Section 412.308(c)(4)(ii) requires that the capital Federal rate be adjusted so that aggregate payments for the fiscal year based on the capital Federal rate after any changes resulting from the annual DRG reclassification and recalibration and changes in the GAF are projected to equal aggregate payments that would have been made on the basis of the capital Federal rate without such changes. Because we implemented a separate GAF for Puerto Rico, we apply separate budget neutrality adjustments for the national GAF and the Puerto Rico GAF. We apply the same budget neutrality factor for DRG reclassifications and recalibration nationally and for Puerto Rico. Separate adjustments were unnecessary for FY 1998 and earlier because the GAF for Puerto Rico was implemented in FY 1998.

In the past, we used the actuarial capital cost model (described in Appendix B of the FY 2002 IPPS final rule (66 FR 40099)) to estimate the aggregate payments that would have been made on the basis of the capital Federal rate with and without changes in the DRG classifications and weights and in the GAF to compute the adjustment required to maintain budget neutrality for changes in DRG weights and in the GAF. During the transition period, the capital cost model was also used to estimate the regular exception payment adjustment factor. As we explain in section III.A. of this Addendum, beginning in FY 2002, an adjustment for regular exception payments is no longer necessary. Therefore, we will no longer use the capital cost model. Instead, we are using historical data based on hospitals’ actual cost experiences to determine the exceptions payment adjustment factor for special exceptions payments.

To determine the proposed factors for FY 2009, we compared (separately for the national capital rate and the Puerto Rico capital rate) estimated aggregate capital Federal rate payments based on the FY 2008 DRG relative weights and the FY 2008 GAF to estimated aggregate capital Federal rate payments based on the proposed FY 2009 relative weights and the proposed FY 2009 GAFs. We established the final FY 2008 budget neutrality factors of 0.9902 for the national capital rate and 0.9955 for the Puerto Rico capital rate. In making the comparison, we set the exceptions reduction factor to 1.00. To achieve budget neutrality for the changes in the national GAFs, based on calculations using updated data, we are proposing to apply an incremental budget neutrality adjustment of 1.0013 for FY 2009 to the previous cumulative FY 2008 adjustments of 0.9902, yielding a proposed adjustment of 0.9915, through FY 2009. For the Puerto Rico GAFs, we are proposing to apply a proposed incremental budget neutrality adjustment of 1.0009 for FY 2009 to the previous cumulative FY 2008 adjustment of 0.9955, yielding a proposed cumulative adjustment of 0.9965 (calculated with unrounded numbers) through FY 2009.

We then compared estimated aggregate capital Federal rate payments based on the FY 2008 DRG relative weights and the proposed FY 2009 GAFs to estimated aggregate capital Federal rate payments based on the cumulative effects of the proposed FY 2009 DRG relative weights and the proposed FY 2009 GAFs. The proposed incremental adjustment for proposed DRG classifications and proposed changes in relative weights is 0.9994 both nationally and for Puerto Rico. The proposed cumulative adjustments for DRG classifications and changes in relative weights and for proposed changes in the GAFs through FY 2009 are 0.9909 nationally and 0.9959 for Puerto Rico. The following table summarizes the adjustment factors for each fiscal year:

BILLING CODE 4120-01-P

BILLING CODE 4120-01-C

The methodology used to determine the recalibration and geographic (DRG/GAF) budget neutrality adjustment factor is similar to the methodology used in establishing budget neutrality adjustments under the PPS for operating costs. One difference is that, under the operating PPS, the budget neutrality adjustments for the effect of geographic reclassifications are determined separately from the effects of other changes in the hospital wage index and the DRG relative weights. Under the capital PPS, there is a single DRG/GAF budget neutrality adjustment factor (the national capital rate and the Puerto Rico capital rate are determined separately) for changes in the GAF (including geographic reclassification) and the DRG relative weights. In addition, there is no adjustment for the effects that geographic reclassification has on the other payment parameters, such as the payments for serving low-income patients or indirect medical education payments.

In the FY 2008 IPPS correction notice (72 FR 57636), we calculated a GAF/DRG budget neutrality factor of 0.9996 for FY 2008. For FY 2009, we are proposing to establish a GAF/DRG budget neutrality factor of 1.0007. The GAF/DRG budget neutrality factors are built permanently into the capital rates; that is, they are applied cumulatively in determining the capital Federal rate. This follows the requirement that estimated aggregate payments each year be no more or less than they would have been in the absence of the annual DRG reclassification and recalibration and changes in the GAFs. The incremental change in the proposed adjustment from FY 2008 to FY 2009 is 1.0007. The cumulative change in the proposed capital Federal rate due to this proposed adjustment is 0.9909 (the product of the incremental factors for FYs 1994 though 2008 and the proposed incremental factor of 1.0007 for FY 2009). (We note that averages of the incremental factors that were in effect during FYs 2004 and 2005, respectively, were used in the calculation of the proposed cumulative adjustment of 0.9909 for FY 2009.)

The proposed factor accounts for DRG reclassifications and recalibration and for changes in the GAFs. It also incorporates the effects on the proposed GAFs of FY 2009 geographic reclassification decisions made by the MGCRB compared to FY 2008 decisions. However, it does not account for changes in payments due to changes in the DSH and IME adjustment factors.

4. Exceptions Payment Adjustment Factor

Section 412.308(c)(3) of our regulations requires that the capital standard Federal rate be reduced by an adjustment factor equal to the estimated proportion of additional payments for both regular exceptions and special exceptions under § 412.348 relative to total capital PPS payments. In estimating the proportion of regular exception payments to total capital PPS payments during the transition period, we used the actuarial capital cost model originally developed for determining budget neutrality (described in Appendix B of the FY 2002 IPPS final rule (66 FR 40099)) to determine the exceptions payment adjustment factor, which was applied to both the Federal and hospital-specific capital rates.

An adjustment for regular exception payments is no longer necessary in determining the FY 2009 capital Federal rate because, in accordance with § 412.348(b), regular exception payments were only made for cost reporting periods beginning on or after October 1, 1991 and before October 1, 2001. Accordingly, as we explained in the FY 2002 IPPS final rule (66 FR 39949), in FY 2002 and subsequent fiscal years, no payments are made under the regular exceptions provision. However, in accordance with § 412.308(c), we still need to compute a budget neutrality adjustment for special exception payments under § 412.348(g). We describe our methodology for determining the exceptions adjustment used in calculating the FY 2008 capital Federal rate below.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exceptions payments if it meets the following criteria: (1) A project need requirement as described at § 412.348(g)(2), which, in the case of certain urban hospitals, includes an excess capacity test as described at § 412.348(g)(4); (2) an age of assets test as described at § 412.348(g)(3); and (3) a project size requirement as described at § 412.348(g)(5).

Based on information compiled from our fiscal intermediaries, six hospitals have qualified for special exceptions payments under § 412.348(g). Because we have cost reports ending in FY 2005 for all of these hospitals, we calculated the adjustment based on actual cost experience. Using data from cost reports ending in FY 2005 from the December 2007 update of the HCRIS data, we divided the capital special exceptions payment amounts for the six hospitals that qualified for special exceptions by the total capital PPS payment amounts (including special exception payments) for all hospitals. Based on the data from cost reports ending in FY 2005, this ratio is rounded to 0.0002. We also computed the ratios for FY 2004 and FY 2003, which both round to 0.0003. Since the ratios are trending downward, we are proposing an adjustment of 0.0002. Because special exceptions are budget neutral, we are proposing to offset the proposed capital Federal rate by 0.02 percent for special exceptions payments for FY 2009. Therefore, the proposed exceptions adjustment factor is equal to 0.9998 (1−0.0002) to account for special exceptions payments in FY 2009.

In the FY 2008 IPPS final rule with comment period (72 FR 47430), we estimated that total (special) exceptions payments for FY 2008 would equal 0.03 percent of aggregate payments based on the capital Federal rate. Therefore, we applied an exceptions adjustment factor of 0.9997 (1 − 0.0003) to determine the FY 2008 capital Federal rate. As we stated above, we estimate that exceptions payments in FY 2009 would equal 0.02 percent of aggregate payments based on the proposed FY 2009 capital Federal rate. Therefore, we are proposing to apply an exceptions payment adjustment factor of 0.9998 to the proposed capital Federal rate for FY 2009. The proposed exceptions adjustment factor for FY 2009 is slightly lower than the factor used in determining the FY 2008 capital Federal rate in the FY 2008 IPPS final rule. The exceptions reduction factors are not built permanently into the capital rates; that is, the factors are not applied cumulatively in determining the capital Federal rate. Therefore, the net change in the proposed exceptions adjustment factor used in determining the proposed FY 2009 capital Federal rate is 1.0001 (0.9998/0.9997).

5. Proposed Capital Standard Federal Rate for FY 2009

In the FY 2008 IPPS final rule with comment period (72 FR 66888), we established a capital Federal rate of $426.14 for all hospitals for FY 2008. We are proposing to establish an update of 0.7 percent in determining the proposed FY 2009 capital Federal rate for all hospitals. However, under the statutory authority at section 1886(d)(3)(A)(vi) of the Act, and as specified in section 7 of Pub. L. 110-90, we are proposing an additional 0.9 percent reduction to the proposed standardized amounts for both capital and operating Federal payment rates in FY 2009. The proposed 0.9 percent reduction is based on our Actuary's analysis of the effect of changes in coding or classification of discharges that do not reflect real changes in case-mix in light of the adoption of the MS-DRGs. Although the proposed 0.9 percent reduction is outside the established process for developing the proposed capital Federal payment rate, it nevertheless is a factor in the final prospective payment rate to hospitals for capital-related costs. For that reason, the proposed national capital Federal payment rate proposed in this proposed rule was determined by applying the proposed 0.9 percent reduction. (As discussed below in section II.A.6. of this Addendum, we are not proposing to apply the proposed 0.9 percent reduction in developing the proposed FY 2009 Puerto Rico-specific capital rate.) As a result of the proposed 0.70 percent update and other proposed budget neutrality factors discussed above, we are proposing to establish a capital Federal rate of $421.29 for FY 2009. The proposed capital Federal rate for FY 2009 was calculated as follows:

• The proposed FY 2009 update factor is 1.0070, that is, the update is 0.70 percent.

• The proposed FY 2009 budget neutrality adjustment factor that is applied to the capital standard Federal payment rate for changes in the DRG relative weights and in the GAFs is 1.0007.

• The proposed FY 2009 outlier adjustment factor is 0.9427.

• The proposed FY 2009 (special) exceptions payment adjustment factor is 0.9998.

• The proposed FY 2009 reduction for improvements in documentation and coding under the MS-DRGs is 0.9 percent.

Because the proposed capital Federal rate has already been adjusted for differences in case-mix, wages, cost-of-living, indirect medical education costs, and payments to hospitals serving a disproportionate share of low-income patients, we are not proposing to make additional adjustments in the proposed capital standard Federal rate for these factors, other than the budget neutrality factor for changes in the DRG relative weights and the GAFs.

We are providing the following chart that shows how each of the proposed factors and adjustments for FY 2009 affected the computation of the proposed FY 2009 capital Federal rate in comparison to the FY 2008 capital Federal rate. The proposed FY 2009 update factor has the effect of increasing the proposed capital Federal rate by 0.70 percent compared to the FY 2008 capital Federal rate. The proposed GAF/DRG budget neutrality factor has the effect of increasing the proposed capital Federal rate by 0.07 percent. The proposed FY 2009 outlier adjustment factor has the effect of decreasing the proposed capital Federal rate by 1.01 percent compared to the FY 2008 capital Federal rate. The proposed FY 2009 exceptions payment adjustment factor has the effect of increasing the proposed capital Federal rate by 0.01 percent. The proposed adjustment for improvements in documentation and coding under the MS-DRGs has the effect of decreasing the proposed FY 2009 capital Federal rate by 0.9 percent as compared to the FY 2008 capital Federal rate. The combined effect of all the proposed changes decreases the proposed capital Federal rate by 1.14 percent compared to the FY 2008 capital Federal rate.

Comparison of Factors and Adjustments: FY 2008 Capital Federal Rate and Proposed FY 2009 Capital Federal Rate
| FY 2008 | Proposed FY 2009 ⁴ | Change | Percent change ⁵
Update Factor ¹ | 1.0090 | 1.0070 | 1.0070 | 0.70
GAF/DRG Adjustment Factor ¹ | 0.9996 | 1.0007 | 1.0007 | 0.07
Outlier Adjustment Factor ² | 0.9523 | 0.9427 | 0.9899 | −1.01
Exceptions Adjustment Factor ² | 0.9997 | 0.9998 | 1.0001 | 0.01
MS-DRG Coding and Documentation Improvements Adjustment Factor ³ | 0.9940 | 0.9910 | 0.9910 | −0.90
Capital Federal Rate | $426.14 | $421.29 | 0.9886 | −1.14
¹ The update factor and the GAF/DRG budget neutrality factors are built permanently into the capital rates. Thus, for example, the incremental change from FY 2008 to FY 2009 resulting from the application of the proposed 1.0007 GAF/DRG budget neutrality factor for FY 2009 is 1.0007.
² The outlier reduction factor and the exceptions adjustment factor are not built permanently into the capital rates; that is, these factors are not applied cumulatively in determining the capital rates. Thus, for example, the net change resulting from the application of the proposed FY 2009 outlier adjustment factor is 0.9427/0.9523, or 0.9899.
³ Proposed adjustment to FY 2009 IPPS rates to account for documentation and coding improvements expected to result from the adoption of the MS-DRGs, as discussed above in section III.D. of the Addendum to this proposed rule.
⁴ Proposed factors for FY 2009, as discussed above in section III. of this Addendum.
⁵ Percent change of individual factors may not sum due to rounding.

6. Proposed Special Capital Rate for Puerto Rico Hospitals

Section 412.374 provides for the use of a blended payment system for payments to hospitals located in Puerto Rico under the PPS for acute care hospital inpatient capital-related costs. Accordingly, under the capital PPS, we compute a separate payment rate specific to hospitals located in Puerto Rico using the same methodology used to compute the national Federal rate for capital-related costs. Under the broad authority of section 1886(g) of the Act, as discussed in section V. of the preamble of this proposed rule, beginning with discharges occurring on or after October 1, 2004, capital payments to hospitals located in Puerto Rico are based on a blend of 25 percent of the Puerto Rico capital rate and 75 percent of the capital Federal rate. The Puerto Rico capital rate is derived from the costs of Puerto Rico hospitals only, while the capital Federal rate is derived from the costs of all acute care hospitals participating in the IPPS (including Puerto Rico).

To adjust hospitals' capital payments for geographic variations in capital costs, we apply a GAF to both portions of the blended capital rate. The GAF is calculated using the operating IPPS wage index, and varies depending on the labor market area or rural area in which the hospital is located. We use the Puerto Rico wage index to determine the GAF for the Puerto Rico part of the capital-blended rate and the national wage index to determine the GAF for the national part of the blended capital rate.

Because we implemented a separate GAF for Puerto Rico in FY 1998, we also apply separate budget neutrality adjustments for the national GAF and for the Puerto Rico GAF. However, we apply the same budget neutrality factor for DRG reclassifications and recalibration nationally and for Puerto Rico. As we stated above in section III.A.4. of this Addendum, for Puerto Rico, the proposed GAF budget neutrality factor is 1.0009, while the DRG adjustment is 0.9994, for a combined proposed cumulative adjustment of 1.0004.

In computing the payment for a particular Puerto Rico hospital, the Puerto Rico portion of the capital rate (25 percent) is multiplied by the Puerto Rico-specific GAF for the labor market area in which the hospital is located, and the national portion of the capital rate (75 percent) is multiplied by the national GAF for the labor market area in which the hospital is located (which is computed from national data for all hospitals in the United States and Puerto Rico). In FY 1998, we implemented a 17.78 percent reduction to the Puerto Rico capital rate as a result of Pub. L. 105-33. In FY 2003, a small part of that reduction was restored.

For FY 2008, before application of the GAF, the special capital rate for hospitals located in Puerto Rico was $201.67 for discharges occurring on or after October 1, 2007, through September 30, 2008 (72 FR 66888). However, as discussed in greater detail in section II.D. of the preamble of this proposed rule, we are revising this rate in a forthcoming correction notice that will be retroactive to October 1, 2007, to remove the application of the 0.6 percent documentation and coding adjustment for FY 2008, consistent with the correction to the Puerto Rico specific standardized amount for FY 2008. The statute gives broad authority to the Secretary under section 1886(g) of the Act, with respect to the development of and adjustments to a capital PPS. Although we would not be outside the authority of section 1886(g) of the Act in applying the documentation and coding adjustment to the Puerto Rico-specific portion of the capital payment rate, we have historically made changes to the capital PPS consistent with those changes made to the IPPS. Thus, we are removing the documentation and coding adjustment from the FY 2008 Puerto Rico-specific portion of the blended capital payment rate, consistent with its removal from the Puerto Rico-specific standardized amount under the IPPS for operating costs. Furthermore, we are not proposing to apply the 0.9 percent documentation and coding adjustment to the proposed FY 2009 Puerto Rico-specific portion of the blended capital payment. However, as also discussed in section II.D. of the preamble of this proposed rule, we may propose to apply such an adjustment to the Puerto Rico operating and capital rates in the future. With the changes we are proposing to make to the other factors used to determine the capital rate, the proposed FY 2009 special capital rate for hospitals in Puerto Rico is $197.19.

B. Calculation of the Proposed Inpatient Capital-Related Prospective Payments for FY 2009

Because the 10-year capital PPS transition period ended in FY 2001, all hospitals (except “new” hospitals under § 412.324(b) and under § 412.304(c)(2)) are paid based on 100 percent of the capital Federal rate in FY 2007. The applicable capital Federal rate was determined by making the following adjustments:

• For outliers, by dividing the capital standard Federal rate by the outlier reduction factor for that fiscal year; and

• For the payment adjustments applicable to the hospital, by multiplying the hospital's GAF, disproportionate share adjustment factor, and IME adjustment factor, when appropriate.

For purposes of calculating payments for each discharge during FY 2009, the capital standard Federal rate would be adjusted as follows: (Standard Federal Rate) × (DRG weight) × (GAF) × (COLA for hospitals located in Alaska and Hawaii) × (1 + Disproportionate Share Adjustment Factor + IME Adjustment Factor, if applicable). The result is the adjusted capital Federal rate. (As discussed above and in section V. of the preamble of this proposed rule, we eliminated the large urban add-on adjustment in existing regulations at § 412.316, beginning in FY 2008.)

Hospitals also may receive outlier payments for those cases that qualify under the thresholds established for each fiscal year. Section 412.312(c) provides for a single set of thresholds to identify outlier cases for both inpatient operating and inpatient capital-related payments. The proposed outlier thresholds for FY 2009 are in section II.A. of this Addendum. For FY 2009, a case qualifies as a cost outlier if the cost for the case plus the IME and DSH payments is greater than the prospective payment rate for the DRG plus the proposed fixed-loss amount of $21,025.

An eligible hospital may also qualify for a special exceptions payment under § 412.348(g) up through the 10th year beyond the end of the capital transition period if it meets the following criteria: (1) A project need requirement described at § 412.348(g)(2), which in the case of certain urban hospitals includes an excess capacity test as described at § 412.348(g)(4); and (2) a project size requirement as described at § 412.348(g)(5). Eligible hospitals include SCHs, urban hospitals with at least 100 beds that have a DSH patient percentage of at least 20.2 percent or qualify for DSH payments under § 412.106(c)(2), and hospitals that have a combined Medicare and Medicaid inpatient utilization of at least 70 percent. Under § 412.348(g)(8), the amount of a special exceptions payment is determined by comparing the cumulative payments made to the hospital under the capital PPS to the cumulative minimum payment level. This amount is offset by: (1) Any amount by which a hospital's cumulative capital payments exceed its cumulative minimum payment levels applicable under the regular exceptions process for cost reporting periods beginning during which the hospital has been subject to the capital PPS; and (2) any amount by which a hospital's current year operating and capital payments (excluding 75 percent of operating DSH payments) exceed its operating and capital costs. Under § 412.348(g)(6), the minimum payment level is 70 percent for all eligible hospitals.

During the transition period, new hospitals (as defined under § 412.300) were exempt from the capital IPPS for their first 2 years of operation and were paid 85 percent of their reasonable costs during that period. Effective with the third year of operation through the remainder of the transition period, under § 412.324(b), we paid the hospitals under the appropriate transition methodology (if the hold-harmless methodology were applicable, the hold-harmless payment for assets in use during the base period would extend for 8 years, even if the hold-harmless payments extend beyond the normal transition period).

Under § 412.304(c)(2), for cost reporting periods beginning on or after October 1, 2002, we pay a new hospital 85 percent of its reasonable costs during the first 2 years of operation unless it elects to receive payment based on 100 percent of the capital Federal rate. Effective with the third year of operation, we pay the hospital based on 100 percent of the capital Federal rate (that is, the same methodology used to pay all other hospitals subject to the capital PPS).

C. Capital Input Price Index

1. Background

Like the operating input price index, the capital input price index (CIPI) is a fixed-weight price index that measures the price changes associated with capital costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

We periodically update the base year for the operating and capital input prices to reflect the changing composition of inputs for operating and capital expenses. The CIPI was last rebased to FY 2002 in the FY 2006 IPPS final rule (70 FR 47387).

2. Forecast of the CIPI for FY 2009

Based on the latest forecast by Global Insight, Inc. (first quarter of 2008), we are forecasting the CIPI to increase 1.2 percent in FY 2009. This reflects a projected 1.9 percent increase in vintage-weighted depreciation prices (building and fixed equipment, and movable equipment), and a 2.9 percent increase in other capital expense prices in FY 2009, partially offset by 2.8 percent decline in vintage-weighted interest expenses in FY 2009. The weighted average of these three factors produces the 1.2 percent increase for the CIPI as a whole in FY 2009.

IV. Proposed Changes to Payment Rates for Excluded Hospitals and Hospital Units: Rate-of-Increase Percentages

Historically, hospitals and hospital units excluded from the prospective payment system received payment for inpatient hospital services they furnished on the basis of reasonable costs, subject to a rate-of-increase ceiling. An annual per discharge limit (the target amount as defined in § 413.40(a)) was set for each hospital or hospital unit based on the hospital's own cost experience in its base year. The target amount was multiplied by the Medicare discharges and applied as an aggregate upper limit (the ceiling as defined in § 413.40(a)) on total inpatient operating costs for a hospital's cost reporting period. Prior to October 1, 1997, these payment provisions applied consistently to all categories of excluded providers (rehabilitation hospitals and units (now referred to as IRFs), psychiatric hospitals and units (now referred to as IPFs), LTCHs, children's hospitals, and cancer hospitals).

Payment for services furnished in children's hospitals and cancer hospitals that are excluded from the IPPS continues to be subject to the rate-of-increase ceiling based on the hospital's own historical cost experience. (We note that, in accordance with § 403.752(a), RNHCIs are also subject to the rate-of-increase limits established under § 413.40 of the regulations.)

We are proposing that the FY 2009 rate-of-increase percentage for cancer and children's hospitals and RNHCIs is the percentage increase in the FY 2009 IPPS operating market basket, estimated to be 3.0 percent. Consistent with our historical approach, if more recent data are available for the final rule, we will use those data to calculate the IPPS operating market basket. For this proposed rule, we are proposing to calculate the IPPS operating market basket for FY 2009 using the most recent data available. For cancer and children's hospitals and RNHCIs, the proposed FY 2009 rate-of-increase percentage that is applied to FY 2008 target amounts in order to calculate the proposed FY 2009 target amounts is based on Global Insight, Inc.'s 2008 forecast of the IPPS operating market basket increase, in accordance with the applicable regulations at 42 CFR 413.40.

IRFs, IPFs, and LTCHs were previously paid under the reasonable cost methodology. However, the statute was amended to provide for the implementation of prospective payment systems for IRFs, IPFs, and LTCHs. In general, the prospective payment systems for IRFs, IPFs, and LTCHs provide transitioning periods of varying lengths of time during which a portion of the prospective payment is based on cost-based reimbursement rules under 42 CFR Part 413 (certain providers do not receive a transitioning period or may elect to bypass the transition as applicable under 42 CFR part 412, subparts N, O, and P.) We note that the various transitioning periods provided for under the IRF PPS, the IPF PPS, and the LTCH PPS have ended. For cost reporting periods beginning on or after October 1, 2002, all IRFs are paid 100 percent of the adjusted Federal rate under the IRF PPS. Therefore, for cost reporting periods beginning on or after October 1, 2002, no portion of an IRF PPS payment is subject to 42 CFR part 413. Similarly, for cost reporting periods beginning on or after October 1, 2006, all LTCHs are paid 100 percent of the adjusted Federal prospective payment rate under the LTCH PPS. Therefore, for cost reporting periods beginning on or after October 1, 2006, no portion of the LTCH PPS payment is subject to 42 CFR part 413. Likewise, for cost reporting periods beginning on or after January 1, 2008, all IPFs are paid 100 percent of the Federal per diem amount under the IPF PPS. Therefore, for cost reporting periods beginning on or after January 1, 2008, no portion of an IPF PPS payment is subject to 42 CFR part 413.

V. Tables

This section contains the tables referred to throughout the preamble to this proposed rule and in this Addendum. Tables 1A, 1B, 1C, 1D, 2, 3A, 3B, 4A, 4B, 4C, 4D, 4D-1, 4D-2, 4E, 4F, 4G, 4H, 4J, 5, 6A, 6B, 6C, 6D, 6E, 6F, 7A, 7B, 8A, 8B, 8C, 9A, 9C, 10, and 11 are presented below. The following tables discussed in section II. of the preamble of this proposed rule are available only through the Internet on the CMS Web site at: http://www.cms.hhs.gov/AcuteInpatientPPS/: Table 6G.—Additions to the CC Exclusions List; Table 6H.—Deletions from the CC Exclusions List; Table 6I.—Complete List of Complication and Comorbidity (CC) Exclusions; Table 6J.—Major Complication and Comorbidity (MCC) List; and Table 6K.—Complication and Comorbidity (CC).

The tables presented in this section of the Addendum are as follows:

Table 1A.—National Adjusted Operating Standardized Amounts, Labor/Nonlabor (69.7 Percent Labor Share/30.3 Percent Nonlabor Share If Wage Index Is Greater Than 1)

Table 1B.—National Adjusted Operating Standardized Amounts, Labor/Nonlabor (62 Percent Labor Share/38 Percent Nonlabor Share If Wage Index Is Less Than or Equal To 1)

Table 1C.—Adjusted Operating Standardized Amounts for Puerto Rico, Labor/Nonlabor

Table 1D.—Capital Standard Federal Payment Rate

Table 2.—Hospital Case-Mix Indexes for Discharges Occurring in Federal Fiscal Year 2007; Hospital Wage Indexes for Federal Fiscal Year 2009; Hospital Average Hourly Wages for Federal Fiscal Years 2007 (2003 Wage Data), 2008 (2004 Wage Data), and 2009 (2005 Wage Data); and 3-Year Average of Hospital Average Hourly Wages

Table 3A.—FY 2009 and 3-Year Average Hourly Wage for Urban Areas by CBSA

Table 3B.—FY 2009 and 3-Year Average Hourly Wage for Rural Areas by CBSA

Table 4A.—Wage Index and Capital Geographic Adjustment Factor (GAF) for Urban Areas by CBSA and by State—FY 2009

Table 4B.—Wage Index and Capital Geographic Adjustment Factor (GAF) for Rural Areas by CBSA and by State—FY 2009

Table 4C.—Wage Index and Capital Geographic Adjustment Factor (GAF) for Hospitals That Are Reclassified by CBSA and by State—FY 2009

Table 4D-1.—Rural Floor Budget Neutrality Factors—FY 2009

Table 4D-2.—Urban Areas with Hospitals Receiving the Statewide Rural Floor or Imputed Floor Wage Index—FY 2009

Table 4E.—Urban CBSAs and Constituent Counties—FY 2009

Table 4F.—Puerto Rico Wage Index and Capital Geographic Adjustment Factor (GAF) by CBSA—FY 2009

Table 4J.—Out-Migration Adjustment—FY 2009

Table 5.—List of Medicare Severity Diagnosis-Related Groups (MS-DRGs), Relative Weighting Factors, and Geometric and Arithmetic Mean Length of Stay

Table 6A.—New Diagnosis Codes

Table 6B.—New Procedure Codes

Table 6C.—Invalid Diagnosis Codes

Table 6D.—Invalid Procedure Codes

Table 6E.—Revised Diagnosis Code Titles

Table 6F.—Revised Procedure Code Titles

Table 7A.—Medicare Prospective Payment System Selected Percentile Lengths of Stay: FY 2007 MedPAR Update—December 2007 GROUPER V25.0 MS-DRGs

Table 7B.—Medicare Prospective Payment System Selected Percentile Lengths of Stay: FY 2007 MedPAR Update—December 2007 GROUPER V26.0 MS-DRGs

Table 8A.—Proposed Statewide Average Operating Cost-to-Charge Ratios— March 2008

Table 8B.—Proposed Statewide Average Capital Cost-to-Charge Ratios—March 2008

Table 8C.—Proposed Statewide Average Total Cost-to-Charge Ratios for LTCHs—March 2008

Table 9A.—Hospital Reclassifications and Redesignations—FY 2009

Table 9C.—Hospitals Redesignated as Rural under Section 1886(d)(8)(E) of the Act—FY 2009

Table 10.—Geometric Mean Plus the Lesser of .75 of the National Adjusted Operating Standardized Payment Amount (Increased to Reflect the Difference Between Costs and Charges) or .75 of One Standard Deviation of Mean Charges by Medicare Severity Diagnosis-Related Group (MS-DRG)—March 2008

Table 11.—Proposed FY 2009 MS-LTC-DRGs, Proposed Relative Weights, Proposed Geometric Average Length of Stay, and Proposed Short-Stay Outlier Threshold

Table 1A.—National Adjusted Operating Standardized Amounts, Labor/Nonlabor
[69.7 Percent Labor Share/30.3 Percent Nonlabor Share if Wage Index Greater Than 1]
Full update (3.0 percent): Labor-related | Full update (3.0 percent): Nonlabor-related | Reduced update (1.0 percent): Labor-related | Reduced update (1.0 percent): Nonlabor-related
$3,553.98 | $1,544.98 | $3,484.97 | $1,514.98

Table 1B.—National Adjusted Operating Standardized Amounts, Labor/Nonlabor
[62 Percent Labor Share/38 Percent Nonlabor Share if Wage Index Less Than or Equal to 1]
Full update (3.0 percent): Labor-related | Full update (3.0 percent): Nonlabor-related | Reduced update (1.0 percent): Labor-related | Reduced update (1.0 percent): Nonlabor-related
$3,161.36 | $1,937.60 | $3,099.97 | $1,899.98

Table 1C.—Adjusted Operating Standardized Amounts for Puerto Rico, Labor/Nonlabor
| Rates if wage index greater than 1: Labor | Rates if wage index greater than 1: Nonlabor | Rates if wage index less than or equal to 1: Labor | Rates if wage index less than or equal to 1: Nonlabor
National | $3,553.98 | $1,544.98 | $3,161.36 | $1,937.60
Puerto Rico | 1,501.82 | 920.46 | 1,421.88 | 1,000.40

Table 1D.—Capital Standard Federal Payment Rate
| Rate
National | $421.29
Puerto Rico | 197.19

Table 2.—Hospital Case-Mix Indexes for Discharges Occurring in Federal Fiscal Year 2007; Hospital Wage Indexes for Federal Fiscal Year 2009; Hospital Average Hourly Wages for Federal Fiscal Years 2007 (2003 Wage Data), 2008 (2004 Wage Data) and 2009 (2005 Wage Data); and 3-Year Average of Hospital Average Hourly Wages
Provider No. | Case-mix index ² | FY 2009 wage index | Average hourly wage FY 2007 | Average hourly wage FY 2008 | Average hourly wage FY 2009 ¹ | Average hourly wage** (3 years)
010001 | 1.5513 | 0.8397 | 22.1989 | 23.2195 | 24.7672 | 23.3821
010005 | 1.1192 | 0.8636 | 23.6022 | 23.0203 | 25.7755 | 24.1406
010006 | 1.4819 | 0.7883 | 23.4975 | 23.7502 | 25.0258 | 24.0951
010007 | 1.0611 | 0.7647 | 19.9329 | 21.3492 | 22.0185 | 21.1334
010008 | 1.0242 | 0.7821 | 17.9533 | 22.0793 | 23.2562 | 20.8430
010009 | 0.9973 | 0.8636 | 23.5626 | 25.9011 | 25.8405 | 25.1048
010010 | 1.0945 | 0.8786 | 27.0385 | 22.8602 | 24.8375 | 24.7458
010011 | 1.6762 | 0.8786 | 27.6658 | 27.4668 | 27.1978 | 27.4380
010012 | 1.1633 | 0.9524 | 24.4059 | 25.5767 | 26.4968 | 25.4682
010015 | 1.0453 | 0.7693 | 22.3383 | 27.0806 | 23.6811 | 24.1695
010016 | 1.5794 | 0.8786 | 24.6488 | 26.8611 | 28.9705 | 26.8024
010018 | 1.4886 | 0.8786 | 23.7048 | 24.8974 | 26.9498 | 25.1709
010019 | 1.2556 | 0.7883 | 22.8766 | 23.3460 | 25.0154 | 23.7418
010021 | 1.2285 | 0.7677 | 19.7367 | 21.0624 | 21.7592 | 20.8458
010022 | 0.9940 | 0.9760 | 25.8404 | 27.4318 | 28.7520 | 27.3475
010023 | 1.7665 | 0.8192 | 25.4272 | 26.1739 | 27.0693 | 26.2901
010024 | 1.5997 | 0.8192 | 22.0819 | 25.0715 | 26.6617 | 24.5911
010025 | 1.2929 | 0.8495 | 22.7635 | 23.6186 | 23.8602 | 23.4229
010027 | 0.7391 | 0.7662 | 16.4682 | 17.0513 | 18.2507 | 17.2827
010029 | 1.5947 | 0.8495 | 23.9007 | 25.0468 | 24.3605 | 24.4407
010032 | 0.8805 | 0.7972 | 19.3311 | 18.5545 | 20.8446 | 19.6445
010033 | 2.1342 | 0.8786 | 27.4181 | 29.1471 | 29.2005 | 28.6046
010034 | 1.0166 | 0.8192 | 17.7457 | 19.1549 | 21.2713 | 19.3572
010035 | 1.2478 | 0.8786 | 24.2425 | 24.2746 | 26.5285 | 25.0065
010036 | 1.1526 | 0.7647 | 21.5796 | 24.2887 | 23.7923 | 23.2285
010038 | 1.3336 | 0.8054 | 23.7039 | 27.0752 | 28.9624 | 26.4786
010039 | 1.6454 | 0.8987 | 26.9919 | 28.6462 | 29.8012 | 28.4927
010040 | 1.6515 | 0.8052 | 24.3207 | 24.7657 | 25.9851 | 25.0414
010043 | 1.0854 | 0.8786 | 21.9774 | 23.9121 | 25.3624 | 23.7097
010044 | 1.0626 | 0.7647 | 22.5009 | 24.4276 | 23.4009 | 23.4233
010045 | 1.1529 | 0.7869 | 20.4927 | 23.1695 | 23.5160 | 22.3334
010046 | 1.5241 | 0.8052 | 23.4219 | 25.9105 | 25.4444 | 24.8777
010047 | 0.8836 | 0.7774 | 26.4851 | 19.7542 | 21.7347 | 22.0981
010049 | 1.1411 | 0.7662 | 21.7888 | 22.4248 | 23.1186 | 22.4564
010050 | 1.0831 | 0.8786 | 22.9620 | 24.4060 | 25.3663 | 24.2272
010051 | 0.8989 | 0.8695 | 18.7701 | 18.0305 | 20.0755 | 18.9088
010052 | 0.8813 | 0.8192 | 25.9233 | 36.3638 | 23.4990 | 28.7904
010054 | 1.1310 | 0.8636 | 23.3624 | 24.4810 | 25.4189 | 24.4485
010055 | 1.5957 | 0.8322 | 22.5396 | 22.4145 | 25.3295 | 23.4244
010056 | 1.5856 | 0.8786 | 23.7398 | 24.5754 | 25.7272 | 24.7305
010058 | 1.0206 | 0.8786 | 19.5092 | 17.0150 | 31.1856 | 21.2663
010059 | 1.0080 | 0.8636 | 23.0012 | 24.8199 | 27.8607 | 25.3457
010061 | 0.9842 | 0.8740 | 24.1185 | 25.2454 | 25.5878 | 24.9798
010062 | 1.0319 | 0.7718 | 21.4805 | 21.7112 | 22.9481 | 22.0341
010064 | 1.7124 | 0.8786 | 24.8155 | 27.6149 | 26.6313 | 26.3101
010065 | 1.5119 | 0.8786 | 23.0477 | 24.3346 | 24.5833 | 24.0058
010066 | 0.8885 | 0.7647 | 19.8692 | 25.4612 | 25.6055 | 23.6384
010068 | *** | * | 22.7156 | 24.4145 | * | 23.5620
010069 | 0.9721 | 0.7647 | 23.1243 | 23.6272 | 27.3424 | 24.6217
010072 | *** | * | 24.4989 | * | * | 24.4989
010073 | 0.9451 | 0.7647 | 18.3963 | 19.0046 | 20.7832 | 19.3949
010078 | 1.6130 | 0.8054 | 23.5279 | 24.3828 | 25.2879 | 24.4148
010079 | 1.2409 | 0.8987 | 22.7337 | 22.3034 | 23.1015 | 22.7293
010083 | 1.1817 | 0.8115 | 22.4279 | 24.0036 | 25.0403 | 23.8754
010084 | *** | * | 26.3238 | 26.5079 | 27.5054 | 26.7172
010085 | 1.3040 | 0.8636 | 24.2609 | 23.6280 | 24.0460 | 23.9691
010086 | 1.0270 | 0.7647 | 22.2096 | 21.5584 | 26.8993 | 23.3292
010087 | 2.2105 | 0.7809 | 22.4318 | 24.8320 | 26.2401 | 24.3812
010089 | 1.2944 | 0.8786 | 25.0811 | 26.2628 | 25.9704 | 25.7574
010090 | 1.7257 | 0.8030 | 26.0494 | 26.3957 | 25.6095 | 26.0158
010091 | 0.9075 | 0.7693 | 23.1310 | 22.5272 | 23.6554 | 23.1156
010092 | 1.4953 | 0.8695 | 26.6796 | 26.9959 | 28.5598 | 27.4270
010095 | 0.8389 | 0.8695 | 16.5250 | 17.0024 | 17.8242 | 17.1161
010097 | 0.7528 | 0.8192 | 19.4511 | 19.2481 | 18.4215 | 18.9973
010099 | 0.9928 | 0.7647 | 20.8383 | 20.6736 | 22.3677 | 21.2837
010100 | 1.7251 | 0.8115 | 23.8919 | 25.1460 | 25.4338 | 24.8850
010101 | 1.1737 | 0.8786 | 24.2575 | 25.0974 | 26.2731 | 25.2372
010102 | 0.9506 | 0.8192 | 25.6158 | 26.9859 | 26.6935 | 26.4289
010103 | 1.8628 | 0.8786 | 27.8272 | 28.9636 | 30.4015 | 29.0796
010104 | 1.8548 | 0.8786 | 27.6471 | 28.3126 | 30.4938 | 28.7438
010108 | 1.0595 | 0.8192 | 24.6740 | 25.4325 | 26.8882 | 25.7625
010109 | 0.9572 | 0.8098 | 17.6733 | 21.0449 | 21.9296 | 20.0804
010110 | 0.7382 | 0.7862 | 26.0038 | 19.8738 | 22.1164 | 22.5113
010112 | 0.9794 | 0.7647 | 17.1833 | 20.4027 | 21.3150 | 19.6839
010113 | 1.6320 | 0.7809 | 22.3282 | 24.7170 | 25.0689 | 24.0138
010114 | 1.4032 | 0.8786 | 25.6152 | 25.7090 | 25.3646 | 25.5596
010118 | 1.2125 | 0.8192 | 21.4630 | 22.7191 | 25.3678 | 23.1085
010120 | 1.0320 | 0.7647 | 20.9019 | 22.1868 | 22.8170 | 21.9915
010125 | 1.0385 | 0.8123 | 21.5123 | 22.8911 | 23.6542 | 22.7013
010126 | 1.1498 | 0.8192 | 23.9327 | 24.4957 | 25.7234 | 24.7205
010128 | 0.9062 | 0.7693 | 23.6647 | 24.9881 | 25.9417 | 24.9328
010129 | 1.0676 | 0.7781 | 22.1574 | 21.8502 | 24.4806 | 22.8945
010130 | 1.0051 | 0.8786 | 23.7528 | 24.5644 | 25.2775 | 24.5383
010131 | 1.3760 | 0.8987 | 26.4297 | 27.2707 | 28.0468 | 27.2971
010137 | 1.2318 | 0.8786 | 27.5782 | 28.5843 | 30.4347 | 28.8905
010138 | 0.6210 | 0.7713 | 16.7602 | 14.5551 | 15.0814 | 15.4264
010139 | 1.5846 | 0.8786 | 26.8726 | 28.1473 | 29.3543 | 28.1531
010143 | 1.2041 | 0.8636 | 26.2762 | 24.0674 | 25.0859 | 25.0921
010144 | 1.7285 | 0.7809 | 22.5133 | 22.3916 | 23.8581 | 22.9469
010145 | 1.4494 | 0.8695 | 24.5092 | 25.8293 | 27.3277 | 25.8981
010146 | 1.1251 | 0.8054 | 22.6586 | 22.6879 | 23.7803 | 23.0525
010148 | 0.8893 | 0.7647 | 23.9246 | 23.5714 | 25.0949 | 24.1955
010149 | 1.2271 | 0.8192 | 24.4805 | 25.4354 | 26.8895 | 25.7355
010150 | 0.9968 | 0.8192 | 23.6080 | 24.4098 | 25.0060 | 24.3378
010152 | 1.2632 | 0.7809 | 22.4075 | 23.7803 | 26.0777 | 24.1152
010157 | 1.1630 | 0.7883 | 23.3828 | 24.2206 | 27.1156 | 24.7415
010158 | 1.2536 | 0.7883 | 23.5533 | 25.5905 | 26.2350 | 25.0899
010162 | *** | * | 33.8777 | * | * | 33.8777
010163 | *** | * | * | 34.0325 | * | 34.0325
010164 | 1.2261 | 0.8786 | * | 23.2447 | 25.6659 | 24.4751
010165 | *** | * | * | 28.8040 | * | 28.8040
010166 | *** | * | * | 29.7256 | * | 29.7256
010167 | 1.6912 | 0.8786 | * | * | * | *
010168 | 1.3124 | 0.9061 | * | * | * | *
020001 | 1.7281 | 1.1884 | 35.4232 | 36.5298 | 38.1754 | 36.7192
020004 | *** | * | 31.8004 | * | * | 31.8004
020006 | 1.2847 | 1.1884 | 34.3752 | 37.0211 | 37.2838 | 36.2129
020008 | 1.2046 | 1.1884 | 36.1250 | 39.3432 | 40.6758 | 38.7262
020012 | 1.3619 | 1.1884 | 32.5975 | 33.9375 | 36.1891 | 34.2975
020014 | 1.0617 | 1.1884 | 29.4472 | 30.9722 | 30.6325 | 30.3727
020017 | 2.0201 | 1.1884 | 35.4119 | 35.8804 | 38.2137 | 36.5154
020018 | 0.9475 | 1.9292 | * | * | * | *
020019 | 0.9038 | * | * | * | * | *
020024 | 1.1768 | 1.1884 | 29.5195 | 38.6934 | 39.9916 | 35.5845
020026 | 1.5400 | 1.9292 | * | * | * | *
020027 | 0.9585 | 1.9292 | * | * | * | *
030001 | 1.5351 | 1.0271 | 32.4791 | 33.4178 | 35.9045 | 33.8225
030002 | 2.1087 | 1.0271 | 30.2200 | 31.0818 | 32.9061 | 31.4265
030006 | 1.7187 | 0.9442 | 27.0599 | 27.7421 | 29.1218 | 28.0025
030007 | 1.4597 | 1.1305 | 31.1928 | 33.7213 | 35.5193 | 33.5056
030009 | *** | * | 26.5408 | * | * | 26.5408
030010 | 1.4417 | 0.9442 | 28.5684 | 30.6261 | 31.8606 | 30.4135
030011 | 1.5335 | 0.9442 | 28.1423 | 28.8203 | 30.2062 | 29.0981
030012 | 1.4301 | 1.0198 | 27.3895 | 29.1042 | 31.3041 | 29.3702
030013 | 1.5318 | 0.9903 | 27.0111 | 31.2815 | 31.9135 | 30.1305
030014 | 1.5815 | 1.0271 | 29.6582 | 29.8296 | 30.6276 | 30.0779
030016 | 1.2770 | 1.0271 | 29.1980 | 30.7896 | 31.1854 | 30.4653
030017 | 2.0581 | 1.0271 | 30.6007 | 34.4852 | 34.8458 | 33.3763
030018 | 1.3639 | 1.0271 | 29.4566 | 31.8056 | 31.7220 | 31.0137
030019 | 1.3016 | 1.0271 | 29.5921 | 30.1934 | 33.6528 | 31.0565
030022 | 1.8063 | 1.0271 | 30.5710 | 30.3746 | 35.0728 | 31.9469
030023 | 1.8138 | 1.1652 | 34.2142 | 35.8287 | 37.5481 | 35.8798
030024 | 2.1440 | 1.0271 | 31.9247 | 33.1797 | 35.6078 | 33.6344
030030 | 1.6952 | 1.0271 | 32.0994 | 34.4166 | 36.4747 | 34.2670
030033 | 1.3116 | 1.1305 | 28.7508 | 29.9383 | 32.0342 | 30.2702
030036 | 1.5415 | 1.0271 | 30.9834 | 33.0523 | 36.2020 | 33.6063
030037 | 1.9894 | 1.0271 | 31.2877 | 34.1079 | 35.1314 | 33.3937
030038 | 1.6433 | 1.0271 | 29.9314 | 31.7238 | 31.2906 | 31.0104
030040 | *** | * | 27.5322 | * | * | 27.5322
030043 | 1.2301 | 0.8857 | 26.5834 | 27.3856 | 28.3147 | 27.4531
030055 | 1.4731 | 1.0011 | 27.1473 | 27.1621 | 30.9311 | 28.4812
030060 | 1.1614 | * | 24.8373 | * | * | 24.8373
030061 | 1.6370 | 1.0271 | 28.0696 | 28.1337 | 33.0826 | 29.7496
030062 | 1.2360 | 0.8857 | 26.6880 | 28.9587 | 29.9331 | 28.5898
030064 | 2.0334 | 0.9442 | 28.3853 | 29.8226 | 31.6603 | 30.0071
030065 | 1.6347 | 1.0271 | 29.5883 | 31.0817 | 31.4568 | 30.7651
030067 | 1.0057 | 0.9155 | 20.7591 | 27.4497 | 27.0766 | 25.0396
030068 | 1.1245 | 0.8857 | 23.1394 | 23.8792 | 26.0276 | 24.3896
030069 | 1.4761 | 1.1254 | 30.2224 | 29.7802 | 30.7696 | 30.2553
030071 | 1.0045 | 1.4448 | * | * | * | *
030073 | 1.1300 | 1.4448 | * | * | * | *
030074 | 0.9181 | 1.4448 | * | * | * | *
030077 | 0.8053 | 1.4448 | * | * | * | *
030078 | 1.1355 | 1.4448 | * | * | * | *
030080 | *** | * | 27.1360 | 28.6568 | 30.7660 | 28.9576
030083 | 1.3493 | 1.0271 | 27.4983 | 33.5302 | 35.8488 | 32.0946
030084 | 1.0175 | 1.4448 | * | * | * | *
030085 | 1.6306 | 0.9442 | 26.8364 | 28.1388 | 29.0750 | 28.0469
030087 | 1.7040 | 1.0271 | 29.5962 | 31.2331 | 31.1070 | 30.6895
030088 | 1.3727 | 1.0271 | 27.8604 | 29.9758 | 30.5716 | 29.5054
030089 | 1.5952 | 1.0271 | 28.9068 | 30.1591 | 31.3148 | 30.1497
030092 | 1.5055 | 1.0271 | 31.7512 | 30.6343 | 30.4361 | 30.8516
030093 | 1.3209 | 1.0271 | 26.4430 | 27.8821 | 33.0699 | 29.2816
030094 | 1.5460 | 1.0271 | 31.5422 | 33.4050 | 34.2007 | 33.1194
030099 | 0.9137 | 0.8857 | 27.1402 | 26.9227 | 24.9115 | 26.3285
030100 | 2.0982 | 0.9442 | 31.5628 | 34.7532 | 35.0944 | 33.8057
030101 | 1.4909 | 1.1388 | 27.8302 | 30.6764 | 33.2110 | 30.6802
030102 | 2.4535 | 1.0271 | 31.6285 | 33.6247 | 36.9492 | 34.0941
030103 | 1.7698 | 1.0271 | 31.7322 | 32.2833 | 33.9387 | 32.6963
030105 | 2.3493 | 1.0271 | 31.2970 | 32.7449 | 33.9846 | 32.7833
030106 | 1.5634 | 1.0271 | 32.9840 | 36.4667 | 40.1625 | 36.8304
030107 | 1.9107 | 1.0271 | 35.6197 | 35.5386 | 35.4524 | 35.5298
030108 | 2.0613 | 1.0271 | * | 29.9395 | 34.8483 | 32.9293
030109 | *** | * | 16.5906 | * | * | 16.5906
030110 | 1.6838 | 1.0271 | 31.4852 | 29.7949 | 36.2124 | 32.4772
030111 | 1.0463 | 0.9442 | * | 33.3711 | 28.5133 | 30.2230
030112 | 2.0028 | 1.0271 | * | 36.6601 | 33.4776 | 34.6249
030113 | 0.9099 | 1.4448 | * | * | * | *
030114 | 1.4838 | 0.9442 | * | * | 28.8439 | 28.8439
030115 | 1.4714 | 1.0271 | * | * | 32.5857 | 32.5857
030117 | 1.2494 | 0.9817 | * | * | * | *
030118 | 1.1423 | 1.0198 | * | * | * | *
030119 | 1.2774 | 1.0271 | * | * | * | *
030120 | 0.8689 | 1.0271 | * | * | * | *
030121 | 1.0784 | 1.0271 | * | * | * | *
040001 | 1.0747 | 0.9131 | 22.9327 | 22.9948 | 24.4950 | 23.4592
040002 | 1.1735 | 0.7641 | 21.2020 | 25.0000 | 24.0479 | 23.3250
040004 | 1.6814 | 0.9131 | 27.1741 | 28.1117 | 29.2695 | 28.2056
040007 | 1.7434 | 0.8754 | 40.1291 | 29.1941 | 27.4839 | 32.0643
040010 | 1.4746 | 0.9131 | 24.2315 | 26.5287 | 28.2363 | 26.3909
040011 | 1.0296 | 0.7641 | 21.0967 | 22.2431 | 22.6320 | 22.0004
040014 | 1.3517 | 0.8650 | 26.4777 | 28.9855 | 34.8259 | 29.4945
040015 | 1.1207 | 0.7641 | 20.4279 | 20.1061 | 22.3145 | 20.9794
040016 | 1.7125 | 0.8754 | 25.8056 | 26.5911 | 26.4787 | 26.3029
040017 | 1.1221 | 0.8952 | 21.9147 | 23.8768 | 24.3768 | 23.3605
040018 | 1.1123 | 0.7843 | 24.0026 | 25.6751 | 26.2511 | 25.2931
040019 | 1.0410 | 0.8909 | 23.8706 | 24.9113 | 26.4915 | 25.0680
040020 | 1.6290 | 0.8909 | 22.6497 | 23.9470 | 26.1519 | 24.2422
040021 | 1.5502 | 0.8754 | 25.4046 | 26.1853 | 27.6779 | 26.3611
040022 | 1.4648 | 0.9131 | 29.5000 | 27.9902 | 30.0234 | 29.1589
040026 | 1.5430 | 0.9146 | 27.7931 | 29.5299 | 31.8579 | 29.7126
040027 | 1.5239 | 0.8477 | 21.4252 | 23.8220 | 25.7922 | 23.6373
040029 | 1.4258 | 0.8754 | 24.8409 | 25.1479 | 27.8865 | 25.9688
040036 | 1.6268 | 0.8754 | 27.6234 | 29.7150 | 30.4885 | 29.2730
040039 | 1.2296 | 0.8291 | 21.2712 | 21.4819 | 22.9798 | 21.9027
040041 | 1.1562 | 0.8650 | 23.7787 | 26.4964 | 26.4417 | 25.5529
040042 | 1.2893 | 0.9329 | 21.1716 | 19.8709 | 23.1648 | 21.3821
040047 | 1.0408 | 0.7758 | 22.4249 | 23.0358 | 23.3547 | 22.9631
040050 | 1.1948 | 0.7641 | 17.6906 | 18.5119 | 19.6944 | 18.6284
040051 | 0.9470 | 0.7641 | 21.3342 | 22.0394 | 22.1983 | 21.8575
040054 | *** | * | 18.0509 | 19.5353 | * | 18.7591
040055 | 1.5598 | 0.7843 | 23.0448 | 24.9164 | 26.0132 | 24.6243
040062 | 1.6247 | 0.7843 | 23.8994 | 25.2303 | 25.6541 | 24.9287
040067 | 1.1145 | 0.7648 | 19.0471 | 18.9872 | 20.9688 | 19.6151
040069 | 1.0608 | 0.8909 | 24.8060 | 24.9996 | 23.3108 | 24.3661
040071 | 1.5798 | 0.8650 | 25.4680 | 25.2840 | 26.6629 | 25.8031
040072 | 1.1274 | 0.7641 | 22.4741 | 22.1058 | 22.9668 | 22.5262
040074 | 1.2633 | 0.8754 | 25.2699 | 26.2661 | 27.3878 | 26.2955
040076 | 0.9952 | 0.8650 | 23.5742 | 23.0954 | 24.7891 | 23.8273
040078 | 1.6712 | 0.8650 | 23.5915 | 26.1937 | 25.6870 | 25.0529
040080 | 1.0467 | 0.8291 | 24.1921 | 24.8760 | 26.5895 | 25.2945
040081 | 0.8888 | 0.7998 | 16.8437 | 17.2536 | 18.4756 | 17.5296
040084 | 1.2389 | 0.8754 | 27.7626 | 26.6449 | 28.1552 | 27.5095
040085 | 1.0085 | 0.8909 | 22.9916 | 25.7215 | 26.6972 | 25.1591
040088 | 1.6650 | 0.7789 | 22.4860 | 23.6276 | 24.7107 | 23.6212
040091 | 1.1951 | 0.8093 | 24.2398 | 23.1913 | 22.3295 | 23.2265
040100 | *** | * | 21.3051 | 22.6131 | 24.5448 | 22.8466
040114 | 1.8332 | 0.8754 | 26.7581 | 27.7928 | 28.5682 | 27.7154
040118 | 1.5334 | 0.8291 | 26.0388 | 26.8908 | 26.5770 | 26.5251
040119 | 1.3884 | 0.8650 | 24.3680 | 24.2419 | 25.6769 | 24.7942
040126 | *** | * | 15.6985 | 17.3715 | * | 16.4167
040132 | *** | * | * | 22.0054 | 21.8131 | 21.8928
040134 | 2.3449 | 0.8754 | 31.9325 | 32.2832 | 34.9636 | 33.0707
040137 | 1.3582 | 0.8754 | 25.9979 | 27.7360 | 27.7619 | 27.1679
040138 | 1.5085 | 0.9131 | 27.8584 | 28.3342 | 33.0048 | 29.8698
040141 | 0.7864 | 0.9131 | 26.1041 | 30.3475 | 33.8758 | 29.9321
040142 | 1.5543 | 0.9146 | 21.4222 | 23.8620 | 23.1293 | 22.9022
040143 | *** | * | 37.1976 | * | * | 37.1976
040144 | *** | * | 21.4008 | * | * | 21.4008
040145 | 1.7933 | 0.8291 | * | 24.4367 | 20.3865 | 22.2702
040146 | *** | * | * | 33.7876 | * | 33.7876
040147 | 1.7491 | 0.8754 | * | * | 35.7643 | 35.7643
040148 | 1.3585 | 0.8754 | * | * | * | *
050002 | 1.4597 | 1.5288 | 35.5184 | 41.7336 | 43.1732 | 40.2432
050006 | 1.5912 | 1.2730 | 33.5751 | 37.1639 | 41.7694 | 37.1459
050007 | 1.4363 | 1.5025 | 43.4440 | 45.8773 | 46.3257 | 45.2428
050008 | 1.4460 | 1.4905 | 49.3167 | 46.8706 | 50.9532 | 49.0479
050009 | 1.6477 | 1.3974 | 43.0584 | 46.2186 | 49.7145 | 46.4654
050013 | 1.8267 | 1.3974 | 35.7591 | 43.5623 | 43.4884 | 40.8362
050014 | 1.2659 | 1.2710 | 36.0305 | 37.4135 | 39.4733 | 37.6850
050015 | 1.6268 | * | 32.2188 | * | * | 32.2188
050016 | 1.3208 | 1.1925 | 24.5768 | 31.0653 | 34.4877 | 30.1759
050017 | 2.0225 | 1.2827 | 39.6653 | 42.2200 | 44.3892 | 42.1245
050018 | 1.2702 | 1.1916 | 23.3204 | 31.8310 | 43.5594 | 30.7984
050022 | 1.5850 | 1.1822 | 31.6467 | 33.0592 | 36.6332 | 33.8292
050024 | 1.1169 | 1.1822 | 29.4062 | 33.4334 | 33.5179 | 32.1616
050025 | 1.7936 | 1.1822 | 33.5466 | 32.7476 | 36.4068 | 34.2656
050026 | 1.5921 | 1.1822 | 31.5250 | 33.1277 | 35.0276 | 33.2678
050028 | 1.2946 | 1.1822 | 27.3826 | 28.5736 | 28.1194 | 28.0466
050030 | 1.2276 | 1.1822 | 27.2945 | 30.9014 | 33.5634 | 30.5981
050036 | 1.6000 | 1.1822 | 33.8000 | 36.0905 | 37.8493 | 35.9795
050038 | 1.6319 | 1.5766 | 44.2265 | 48.7483 | 55.2150 | 49.5117
050039 | 1.6727 | 1.1822 | 35.2630 | 36.6943 | 34.9232 | 35.5973
050040 | 1.3922 | 1.1916 | 35.8322 | 35.7054 | 38.1639 | 36.6252
050042 | 1.4804 | 1.2730 | 37.3760 | 40.3326 | 40.4361 | 39.4000
050043 | 1.6147 | 1.5288 | 45.4887 | 48.2283 | 50.5011 | 48.0790
050045 | 1.3307 | 1.1822 | 25.0150 | 27.0676 | 28.5930 | 26.9305
050046 | 1.1963 | 1.1822 | 26.1926 | 29.1125 | 31.8120 | 29.0132
050047 | 1.7553 | 1.4905 | 55.9367 | 45.1675 | 48.5921 | 49.7760
050054 | 1.1791 | 1.1822 | 21.3650 | 24.0338 | 27.1306 | 24.3249
050055 | 1.3418 | 1.4905 | 42.9516 | 44.2926 | 48.2759 | 45.1972
050056 | 1.4226 | 1.1916 | 30.6126 | 32.7693 | 34.7937 | 32.7247
050057 | 1.6897 | 1.1822 | 30.0236 | 31.7467 | 33.7545 | 31.8592
050058 | 1.6320 | 1.1916 | 33.1409 | 37.2538 | 39.1657 | 36.5431
050060 | 1.5084 | 1.1822 | 29.9762 | 32.0196 | 34.1151 | 31.9978
050063 | 1.4482 | 1.1916 | 34.0906 | 36.3085 | 36.6271 | 35.6915
050065 | *** | * | 34.9110 | 38.2421 | 42.0052 | 38.4607
050067 | 1.2075 | 1.1963 | 38.8070 | 40.1393 | 41.8949 | 40.2601
050069 | 1.7361 | 1.1822 | 34.6353 | 35.3850 | 38.1313 | 36.1111
050070 | 1.3124 | 1.5025 | 47.4099 | 46.4009 | 49.3910 | 47.8284
050071 | 1.4512 | 1.5766 | 50.7602 | 49.6495 | 52.5202 | 51.0422
050072 | 1.4096 | 1.5278 | 49.4344 | 50.0343 | 51.9174 | 50.5640
050073 | 1.2488 | 1.5278 | 49.9730 | 49.0069 | 50.6478 | 49.8748
050075 | 1.3747 | 1.5288 | 54.4089 | 49.8290 | 51.5366 | 51.6907
050076 | 1.8168 | 1.5278 | 52.3788 | 50.2039 | 51.0338 | 51.1894
050077 | 1.5379 | 1.1822 | 34.8660 | 36.5384 | 37.4961 | 36.4378
050078 | 1.2512 | 1.1916 | 32.0133 | 30.4274 | 37.1909 | 33.1204
050079 | 1.5736 | 1.5278 | 47.3449 | 48.8994 | 48.2983 | 48.1333
050082 | 1.6600 | 1.1822 | 38.2878 | 37.8905 | 42.1694 | 39.4148
050084 | 1.5667 | 1.1954 | 35.5196 | 39.5748 | 41.0288 | 38.7442
050089 | 1.3670 | 1.1822 | 33.9593 | 36.4018 | 39.2412 | 36.5180
050090 | 1.2562 | 1.4879 | 33.8953 | 37.7421 | 41.5994 | 37.7203
050091 | 1.0354 | 1.1916 | 32.1301 | 37.1223 | 40.1032 | 36.4125
050093 | 1.5575 | 1.1822 | 36.9481 | 36.8486 | 37.7213 | 37.1762
050095 | *** | * | * | * | 44.2364 | 44.2364
050096 | 1.2641 | 1.1916 | 34.9237 | 33.1322 | 33.3800 | 33.8096
050099 | 1.5398 | 1.1822 | 33.4174 | 32.0650 | 34.3480 | 33.2470
050100 | 1.8205 | 1.1822 | 31.4404 | 33.3959 | 34.2814 | 33.0478
050101 | 1.3210 | 1.5278 | 42.4589 | 47.9327 | 48.7447 | 46.4291
050102 | 1.3903 | 1.1822 | 32.0617 | 32.8434 | 33.2811 | 32.8150
050103 | 1.5437 | 1.1916 | 34.0935 | 35.6773 | 37.5528 | 35.8192
050104 | 1.4136 | 1.1916 | 32.3043 | 33.6204 | 37.1418 | 34.4090
050107 | 1.5287 | 1.1822 | 32.5846 | 33.5687 | 36.6966 | 34.2821
050108 | 1.8628 | 1.2827 | 38.8672 | 42.0131 | 43.0409 | 41.3295
050110 | 1.2335 | 1.1822 | 26.8408 | 28.0670 | 30.9036 | 28.6069
050111 | 1.1657 | 1.1916 | 28.7875 | 31.8766 | 31.9371 | 30.8306
050112 | 1.5363 | 1.1916 | 37.7281 | 38.9483 | 39.9904 | 38.9358
050113 | 1.1706 | 1.5025 | 39.4882 | 42.8884 | 46.3447 | 42.8008
050114 | *** | * | 34.0309 | 35.7274 | 37.5895 | 35.8060
050115 | 1.4716 | 1.1822 | 28.8051 | 32.5257 | 33.8575 | 31.7873
050116 | 1.6387 | 1.1916 | 36.8825 | 37.6018 | 39.1213 | 37.9136
050117 | *** | * | 34.2020 | 35.0531 | * | 34.3889
050118 | 1.2470 | 1.1963 | 39.9683 | 41.6701 | 41.8166 | 41.1955
050121 | 1.2657 | 1.1822 | 30.6105 | 34.6244 | 35.1123 | 33.4898
050122 | 1.6278 | 1.1954 | 33.9812 | 34.0259 | 36.8803 | 34.9559
050124 | 1.2976 | 1.1916 | 30.2522 | 29.9944 | 31.7666 | 30.6975
050125 | 1.4819 | 1.5766 | 44.9523 | 47.7578 | 53.6251 | 49.3187
050126 | 1.5255 | 1.1916 | 31.7619 | 32.6686 | 30.6587 | 31.6279
050127 | 1.2888 | 1.2827 | 32.0355 | 40.7610 | 42.5307 | 37.9357
050128 | 1.4865 | 1.1822 | 31.1308 | 33.4233 | 34.2327 | 32.9837
050129 | 1.8869 | 1.1822 | 34.7359 | 36.9887 | 40.7010 | 37.4287
050131 | 1.4641 | 1.5278 | 45.3152 | 47.5257 | 50.5592 | 48.0185
050132 | 1.4120 | 1.1916 | 35.9199 | 39.6807 | 39.5311 | 38.3266
050133 | 1.5874 | 1.2710 | 31.9527 | 33.1814 | 34.7446 | 33.5182
050135 | 1.0174 | 1.1916 | 25.1813 | 25.3209 | 25.4416 | 25.3286
050136 | 1.3870 | 1.4879 | 43.3747 | 46.6619 | 52.9752 | 47.9218
050137 | 1.5096 | 1.1916 | 39.1496 | 40.2457 | 45.3315 | 41.8810
050138 | 1.4788 | 1.1916 | 45.3727 | 40.6343 | 46.7946 | 44.1215
050139 | 1.3979 | 1.1916 | 37.8986 | 38.7385 | 44.3290 | 40.6568
050140 | 1.3188 | 1.1822 | 40.9725 | 39.4954 | 44.5658 | 41.7792
050144 | *** | * | 33.6662 | 38.2424 | 40.4728 | 37.3677
050145 | 1.5409 | 1.4671 | 42.2921 | 48.0796 | 49.2634 | 46.7040
050146 | 1.8140 | * | * | * | * | *
050148 | 1.0935 | * | 28.2305 | * | * | 28.2305
050149 | 1.5423 | 1.1916 | 35.8821 | 37.3616 | 43.3419 | 39.0535
050150 | 1.2344 | 1.2710 | 33.6583 | 37.9946 | 43.5908 | 38.2550
050152 | 1.4480 | 1.4905 | 46.1553 | 51.6567 | 54.7138 | 50.9486
050153 | 1.4515 | 1.5766 | 42.8955 | 47.6374 | 50.4838 | 47.2422
050155 | *** | * | 16.9516 | 16.7756 | * | 16.8520
050158 | 1.3682 | 1.1916 | 35.7805 | 39.9160 | 42.7838 | 39.6127
050159 | 1.2951 | 1.1822 | 32.5704 | 34.6915 | 35.0123 | 34.1437
050167 | 1.4830 | 1.1954 | 31.4798 | 34.0418 | 38.0704 | 34.4888
050168 | 1.5682 | 1.1822 | 37.9784 | 40.5973 | 40.8318 | 39.8615
050169 | 1.5146 | 1.1916 | 29.4693 | 31.4115 | 33.1105 | 31.4624
050173 | 1.3454 | 1.1822 | 29.0576 | 31.6717 | 32.3240 | 30.9921
050174 | 1.5492 | 1.4879 | 44.4199 | 48.1740 | 53.7062 | 48.9658
050175 | *** | * | 33.3061 | 35.0152 | * | 34.1608
050177 | *** | * | 24.0717 | * | * | 24.0717
050179 | 1.1909 | 1.1963 | 30.4973 | 31.6651 | 34.6529 | 32.3080
050180 | 1.5822 | 1.5278 | 42.0358 | 45.7099 | 48.7392 | 45.6253
050188 | 1.5411 | 1.5766 | 41.0943 | 43.7381 | 45.8470 | 43.4416
050189 | 1.0400 | 1.4671 | 30.1155 | 28.7580 | 31.5787 | 30.2839
050191 | 1.5029 | 1.1916 | 37.7805 | 37.8756 | 42.0018 | 39.2858
050192 | 0.9799 | 1.1822 | 27.1400 | 27.8386 | 27.4599 | 27.4784
050193 | 1.2329 | 1.1822 | 33.9520 | 29.0623 | 36.7215 | 32.9051
050194 | 1.3496 | 1.5758 | 44.7107 | 49.0030 | 49.8490 | 47.9003
050195 | 1.5733 | 1.5288 | 48.8595 | 53.5583 | 57.6511 | 53.3853
050196 | 1.0787 | 1.1822 | 34.0956 | 32.8293 | 41.1280 | 35.9355
050197 | 1.9800 | 1.5758 | 50.0728 | 52.9998 | 55.2982 | 52.8587
050204 | 1.4038 | 1.1916 | 32.0121 | 35.3954 | 38.8654 | 35.4348
050205 | 1.3872 | 1.1916 | 29.3334 | 30.6322 | 30.6087 | 30.1774
050207 | *** | * | 30.0062 | 31.3431 | * | 30.6661
050211 | 1.3077 | 1.5288 | 35.0515 | 35.0289 | 42.9220 | 37.8234
050214 | *** | * | 25.4647 | * | * | 25.4647
050215 | *** | * | 48.8112 | 50.7578 | * | 49.8014
050219 | 1.3346 | 1.1916 | 26.4143 | 25.8378 | 26.7043 | 26.3093
050222 | 1.6635 | 1.1822 | 32.3882 | 33.7510 | 35.4673 | 33.9374
050224 | 1.6644 | 1.1822 | 32.5010 | 35.7280 | 37.2306 | 35.2444
050225 | 1.3992 | 1.1822 | 34.0836 | 35.1227 | 37.5227 | 35.6603
050226 | 1.5964 | 1.1822 | 32.4411 | 35.4597 | 36.5328 | 34.8249
050228 | 1.3082 | 1.4905 | 43.7939 | 47.1430 | 49.9023 | 46.9935
050230 | 1.5485 | 1.1822 | 34.0600 | 35.8490 | 38.8880 | 36.2981
050231 | 1.7120 | 1.1916 | 32.1813 | 33.7139 | 37.0216 | 34.3576
050232 | 1.7085 | 1.1925 | 26.3004 | 34.3242 | 35.5078 | 32.2261
050234 | 1.2780 | 1.1822 | 32.3726 | 34.8308 | 37.7096 | 34.9915
050235 | 1.4885 | 1.1916 | 30.5405 | 37.0858 | 39.1708 | 35.6922
050236 | 1.4514 | 1.1822 | 33.0686 | 32.6462 | 34.4239 | 33.3573
050238 | 1.5286 | 1.1916 | 33.3346 | 34.0823 | 35.1235 | 34.2447
050239 | 1.6781 | 1.1916 | 33.1148 | 35.9041 | 36.3232 | 35.1511
050240 | *** | * | 36.1154 | 40.7427 | * | 38.4427
050242 | 1.3854 | 1.5758 | 46.4844 | 50.9882 | 53.7118 | 50.5362
050243 | 1.5755 | 1.1822 | 32.9385 | 36.1209 | 37.8510 | 35.6823
050245 | 1.3731 | 1.1822 | 27.3866 | 33.2556 | 34.5668 | 31.8473
050248 | 1.1239 | 1.4671 | * | 40.4941 | 46.0285 | 43.3497
050251 | *** | * | 27.8452 | * | * | 27.8452
050253 | *** | * | 23.5381 | * | * | 23.5381
050254 | 1.2803 | 1.2827 | 31.2386 | 33.0865 | 33.5043 | 32.6688
050256 | *** | * | 29.6793 | 32.7159 | 32.6816 | 31.5748
050257 | 0.9389 | 1.1822 | 20.1829 | 24.0737 | 29.2635 | 24.4838
050261 | 1.2967 | 1.1822 | 29.2150 | 30.8704 | 33.7180 | 31.3396
050262 | 2.2067 | 1.1916 | 39.9946 | 41.4835 | 43.7672 | 41.7544
050264 | 1.3674 | 1.5288 | 47.7024 | 43.4181 | 48.0876 | 46.3588
050270 | *** | * | 33.6855 | 36.0111 | * | 34.8609
050272 | 1.4019 | 1.1822 | 29.4671 | 30.9290 | 31.5894 | 30.7391
050276 | 1.1193 | 1.5278 | 41.1406 | 43.7943 | 47.2414 | 44.0832
050277 | 1.1820 | 1.1916 | 35.4443 | 35.0079 | * | 35.2189
050278 | 1.5456 | 1.1916 | 31.8712 | 34.3798 | 38.5649 | 35.0167
050279 | 1.1978 | 1.1822 | 29.7118 | 31.6738 | 32.1678 | 31.1945
050280 | 1.7360 | 1.2730 | 38.8341 | 41.3912 | 43.5214 | 41.2937
050281 | 1.4053 | 1.1916 | 29.4882 | 31.6639 | 31.0678 | 30.7699
050283 | 1.6153 | 1.5288 | 44.3122 | 43.6855 | 44.8602 | 44.2950
050289 | 1.6158 | 1.5025 | 44.2814 | 50.1762 | 52.0875 | 49.0216
050290 | 1.7575 | 1.1916 | 37.3563 | 40.6192 | 42.0066 | 39.9556
050291 | 1.9821 | 1.4879 | 38.4365 | 41.2100 | 43.2395 | 41.1200
050292 | 1.0615 | 1.1822 | 26.9786 | 27.3365 | 30.9112 | 28.4996
050295 | 1.4386 | 1.1822 | 34.7382 | 38.4256 | 39.5132 | 37.7732
050296 | 1.1373 | 1.5758 | 39.9842 | 42.5405 | 44.8105 | 42.4568
050298 | 1.2078 | 1.1839 | 30.2022 | 33.7864 | 33.6925 | 32.5818
050299 | *** | * | 35.1249 | 32.3707 | * | 33.6024
050300 | 1.4161 | 1.1822 | 30.2874 | 33.6821 | 37.1244 | 33.7458
050301 | 1.2490 | 1.4497 | 35.9491 | 37.1103 | 36.3661 | 36.4668
050305 | 1.4137 | 1.5288 | 44.9681 | 48.5339 | 52.8531 | 48.7916
050308 | 1.5368 | 1.5766 | 43.7413 | 46.4180 | 49.0086 | 46.4303
050309 | 1.4523 | 1.2827 | 38.2659 | 40.1499 | 41.1612 | 39.8863
050312 | *** | * | 36.8498 | * | * | 36.8498
050313 | 1.2021 | 1.1954 | 35.0478 | 37.5024 | 37.8834 | 36.8450
050315 | 1.3141 | 1.1822 | 33.2038 | 32.5538 | 37.3526 | 34.4352
050320 | 1.2624 | 1.5288 | 45.7686 | 46.2071 | 50.6670 | 47.5834
050324 | 1.7781 | 1.1822 | 34.5503 | 36.3474 | 37.1854 | 36.0605
050325 | 1.1860 | 1.1855 | 31.3730 | 37.0441 | 34.0333 | 34.2474
050327 | 1.6676 | 1.1822 | 33.9507 | 35.9349 | 36.9523 | 35.6196
050329 | 1.2676 | 1.1822 | 23.2927 | 33.0390 | 36.7650 | 31.1927
050333 | 1.0488 | 1.1822 | 19.6352 | 18.6534 | 32.2010 | 21.9629
050334 | 1.5881 | 1.4671 | 43.9656 | 47.2968 | 50.9796 | 47.4795
050335 | 1.3834 | 1.1963 | 30.9928 | 34.7192 | 37.2324 | 34.3853
050336 | 1.2384 | 1.1954 | 30.4664 | 31.5480 | 33.0304 | 31.7345
050342 | 1.2489 | 1.1822 | 29.2244 | 30.4226 | 29.8368 | 29.8437
050348 | 1.7714 | 1.1822 | 31.5156 | 32.7107 | 33.5253 | 32.6280
050349 | 0.9688 | 1.1822 | 24.4863 | 25.4266 | 23.1089 | 24.2535
050350 | 1.4256 | 1.1916 | 31.0136 | 31.7908 | 34.0896 | 32.2951
050351 | 1.5307 | 1.1916 | 30.6599 | 33.3064 | 35.0010 | 33.0083
050352 | 1.3551 | 1.2827 | 36.7673 | 37.0807 | 38.6234 | 37.4921
050353 | 1.5204 | 1.1916 | 29.4215 | 30.4206 | 37.1683 | 32.2253
050357 | 1.5056 | 1.1822 | 32.6763 | 36.2089 | 38.9202 | 35.9956
050359 | 1.1869 | 1.1822 | 29.8345 | 31.3391 | 30.3963 | 30.5262
050360 | 1.5234 | 1.5278 | 47.4497 | 52.3811 | 53.4113 | 51.1213
050366 | 1.1511 | 1.1837 | 33.6714 | 37.1527 | 41.8302 | 37.3699
050367 | 1.4838 | 1.5278 | 38.6330 | 40.1904 | 40.0423 | 39.6594
050369 | 1.4765 | 1.1916 | 30.6439 | 32.2467 | 33.3330 | 32.1001
050373 | 1.4477 | 1.1916 | 35.1380 | 34.3737 | 37.6802 | 35.7093
050376 | 1.7774 | 1.1916 | 34.3539 | 35.2837 | 36.6487 | 35.4753
050378 | 1.0502 | 1.1916 | 37.9904 | 40.1923 | 42.0465 | 40.0787
050380 | 1.6776 | 1.5766 | 46.0276 | 49.4258 | 52.5752 | 49.4098
050382 | 1.4478 | 1.1916 | 30.4014 | 32.6683 | 32.9220 | 31.9903
050385 | 1.2993 | 1.4879 | 36.8107 | 36.4188 | 36.5610 | 36.5948
050390 | 1.1220 | 1.1822 | 27.3183 | 27.9359 | 33.0438 | 29.3100
050391 | *** | * | 17.2141 | * | * | 17.2141
050393 | 1.3848 | 1.1916 | 34.1743 | 35.6356 | 35.1855 | 35.0078
050394 | 1.6185 | 1.1822 | 27.4861 | 32.1894 | 32.1720 | 30.6682
050396 | 1.5625 | 1.1822 | 32.4918 | 37.3972 | 38.9901 | 36.2041
050397 | 0.8787 | 1.1822 | 28.3671 | 29.6825 | 31.1603 | 29.8101
050407 | 1.1900 | 1.4905 | 42.2748 | 44.6839 | 47.5560 | 44.8602
050411 | 1.3207 | 1.1916 | 38.8294 | 38.6328 | 44.7079 | 40.9918
050414 | 1.3194 | 1.2827 | 38.7585 | 41.8688 | 45.0472 | 42.0484
050417 | 1.3093 | 1.1822 | 32.9341 | 36.1222 | 37.0117 | 35.4225
050420 | *** | * | 35.2869 | 39.9237 | * | 37.6935
050423 | 1.0114 | 1.1822 | 28.3768 | 31.9751 | 32.4104 | 31.1452
050424 | 1.9524 | 1.1822 | 34.5680 | 36.6091 | 37.5218 | 36.2762
050425 | 1.3696 | 1.2827 | 49.2245 | 46.6628 | 45.7794 | 47.0234
050426 | 1.4616 | 1.1822 | 33.2031 | 34.9855 | 37.6483 | 35.2291
050430 | 0.9394 | 1.1822 | 23.9045 | 24.5327 | 25.9363 | 24.7203
050432 | *** | * | 33.1876 | 35.2416 | * | 34.2247
050433 | *** | * | 21.3573 | 21.1287 | 23.0629 | 21.6609
050434 | 0.9988 | 1.1822 | 32.6255 | 33.7794 | 35.4799 | 33.9524
050435 | 1.1984 | 1.1822 | 30.6530 | 33.0372 | 35.7401 | 33.2043
050438 | 1.5503 | 1.1916 | 36.3026 | 36.2044 | 38.2823 | 36.9424
050441 | 1.9553 | 1.5766 | 44.5694 | 46.6160 | 49.2095 | 46.8421
050444 | 1.4083 | 1.2202 | 34.6313 | 37.6821 | 39.3915 | 37.5291
050447 | 2.2656 | 1.1822 | 26.7960 | 29.0780 | 27.1252 | 27.7351
050448 | 1.2948 | 1.1822 | 30.6201 | 32.7748 | 32.6666 | 31.9996
050454 | 1.9380 | 1.4905 | 38.5833 | 40.2811 | 43.3674 | 40.8320
050455 | 1.5610 | 1.1822 | 30.4606 | 34.5445 | 35.0200 | 33.3430
050456 | *** | * | 21.6261 | 27.7659 | 27.9693 | 25.0702
050457 | 1.5970 | 1.4905 | 47.8947 | 50.0282 | 53.3144 | 50.4334
050464 | 1.7391 | 1.1963 | 38.3058 | 41.6235 | 42.6660 | 40.8465
050468 | 1.7714 | 1.1916 | 31.1111 | 35.7409 | 37.3361 | 34.8277
050469 | *** | * | 30.6502 | * | * | 30.6502
050470 | *** | * | 27.8678 | 31.0466 | 32.5012 | 30.5202
050471 | 1.7119 | 1.1916 | 35.4768 | 36.8680 | 36.4887 | 36.2903
050476 | 1.4110 | 1.4497 | 38.7856 | 41.1042 | 40.5395 | 40.1623
050477 | *** | * | 37.7668 | 40.1566 | * | 39.0877
050478 | 1.0325 | 1.1822 | 40.2558 | 41.1668 | 41.5592 | 41.0379
050481 | 1.5130 | 1.1916 | 36.1394 | 38.8650 | 42.8499 | 39.2898
050485 | 1.6505 | 1.1916 | 36.1488 | 34.6219 | 34.7050 | 35.1967
050488 | 1.4378 | 1.5288 | 42.6854 | 45.0630 | 47.1937 | 45.0874
050491 | *** | * | 34.3598 | * | * | 34.3598
050492 | 1.3241 | 1.1822 | 28.0826 | 30.7718 | 32.6577 | 30.4668
050494 | 1.4344 | 1.2710 | 38.1177 | 40.6384 | 42.3086 | 40.3782
050496 | 1.6970 | 1.5278 | 48.2468 | 51.6363 | 51.1433 | 50.4172
050498 | 1.3475 | 1.2827 | 37.1667 | 41.0350 | 42.2469 | 40.1486
050502 | 1.6482 | 1.1916 | 28.7046 | 31.8872 | 32.9773 | 31.1609
050503 | 1.5152 | 1.1822 | 34.0994 | 37.3605 | 37.7183 | 36.4438
050506 | 1.5249 | 1.1925 | 37.7420 | 39.8586 | 40.6497 | 39.4417
050510 | 1.3370 | 1.5278 | 52.5376 | 49.4533 | 51.3691 | 51.0324
050512 | 1.4990 | 1.5288 | 50.9264 | 48.8057 | 50.1599 | 49.9366
050515 | 1.3185 | 1.1822 | 38.9542 | 40.2957 | 41.0328 | 40.1925
050516 | 1.5093 | 1.2827 | 39.8161 | 43.0249 | 45.5247 | 42.8485
050517 | 1.2967 | 1.1822 | 20.0213 | 22.4096 | 29.3674 | 23.6394
050523 | 1.2869 | 1.5278 | 40.6535 | 43.4579 | 46.9830 | 43.8643
050526 | 1.1843 | 1.1822 | 28.1997 | 33.3964 | 35.5437 | 32.2787
050528 | 1.1507 | 1.1822 | 31.4941 | 36.2908 | 38.3022 | 35.4339
050531 | 1.0520 | 1.1916 | 27.1974 | 28.3348 | 28.4865 | 28.0127
050534 | 1.4315 | 1.1822 | 33.1666 | 36.6447 | 38.1859 | 36.0367
050535 | *** | * | 34.6143 | 37.8174 | * | 36.2328
050537 | 1.4828 | 1.2827 | 34.9931 | 38.2145 | 40.1908 | 37.8814
050541 | 1.4378 | 1.5758 | 52.5908 | 48.0867 | 51.5270 | 50.6366
050543 | 0.7526 | 1.1822 | 29.4443 | 24.4913 | 32.8347 | 28.6007
050545 | 0.7226 | 1.1916 | 31.3080 | 35.3209 | * | 33.2475
050546 | 0.6945 | 1.1822 | 33.2245 | 36.5099 | * | 34.9356
050547 | 1.0205 | 1.4879 | 34.8401 | 33.8036 | * | 34.2850
050548 | 0.6180 | 1.1822 | 39.2234 | 41.1075 | * | 40.1570
050549 | 1.6510 | 1.1822 | 35.2792 | 38.3927 | 40.6759 | 38.1001
050550 | *** | * | 30.9612 | 34.9476 | 39.2133 | 34.7849
050551 | 1.3452 | 1.1822 | 34.0467 | 37.2506 | 37.6198 | 36.3778
050552 | 0.9428 | 1.1916 | 33.0711 | 33.9810 | 35.3466 | 34.1389
050557 | 1.5993 | 1.1963 | 33.3654 | 35.7023 | 38.6871 | 35.9147
050561 | 1.4093 | 1.1916 | 38.0196 | 38.2543 | 39.1298 | 38.5223
050567 | 1.5110 | 1.1822 | 35.7063 | 37.6384 | 39.0084 | 37.5231
050568 | 1.2464 | 1.1822 | 25.2337 | 26.0908 | 26.7719 | 26.0576
050569 | 1.3207 | * | 31.6785 | * | * | 31.6785
050570 | 1.5519 | 1.1822 | 34.5161 | 38.4373 | 40.6719 | 37.8603
050571 | *** | * | 34.7627 | 39.0649 | * | 36.9575
050573 | 1.5662 | 1.1822 | 34.7279 | 35.2842 | 36.8535 | 35.6371
050575 | 1.3192 | 1.1916 | 25.1457 | 23.7990 | 22.1000 | 23.5654
050577 | *** | * | 32.3744 | * | * | 32.3744
050578 | 1.4310 | 1.1916 | 35.2390 | 31.3639 | 43.4883 | 36.9415
050579 | *** | * | 42.5081 | * | * | 42.5081
050580 | 1.1517 | 1.1822 | 31.5806 | 34.1531 | 35.0950 | 33.6230
050581 | 1.4139 | 1.1916 | 34.0136 | 37.7567 | 40.0883 | 37.3040
050583 | 1.6442 | 1.1822 | 34.5747 | 37.4450 | 40.5818 | 37.4769
050584 | 1.4508 | 1.1839 | 30.3434 | 30.7839 | 31.9887 | 31.0588
050585 | *** | * | 22.2521 | * | * | 22.2521
050586 | 1.3101 | 1.1822 | 26.4782 | 31.3513 | 31.1898 | 29.6927
050588 | 1.3759 | 1.1916 | 32.7556 | 37.7387 | 39.4229 | 36.6367
050589 | 1.2424 | 1.1822 | 34.5100 | 37.6886 | 37.2032 | 36.5093
050590 | 1.2814 | 1.2827 | 38.4971 | 41.7519 | 44.2900 | 41.5361
050591 | *** | * | 30.6106 | 34.7133 | * | 32.5892
050592 | *** | * | 27.3606 | 31.8053 | 32.2351 | 30.0884
050594 | *** | * | 36.5256 | 42.0788 | * | 39.2148
050597 | 1.2983 | 1.1916 | 28.8294 | 31.5625 | 32.8964 | 31.1668
050599 | 1.8547 | 1.2827 | 32.7835 | 34.7187 | 36.6122 | 34.7394
050601 | 1.5329 | 1.1916 | 36.0572 | 39.7717 | 43.2367 | 39.7359
050603 | 1.4506 | 1.1822 | 34.0275 | 35.0279 | 35.4778 | 34.9101
050604 | 1.3664 | 1.5766 | 55.0821 | 49.4446 | 49.6225 | 50.8907
050608 | 1.2665 | 1.1822 | 30.4169 | 31.2909 | 30.7266 | 30.8122
050609 | 1.2511 | 1.1822 | 41.7208 | 39.7397 | 42.4128 | 41.2383
050613 | *** | * | 42.8108 | 42.9930 | * | 42.8892
050615 | *** | * | 35.9547 | 39.1299 | * | 37.5269
050616 | 1.4930 | 1.1822 | 37.7284 | 37.1200 | 40.8621 | 38.5549
050618 | 1.0232 | 1.1822 | 31.3182 | 33.1472 | 34.9156 | 33.1400
050624 | 1.3457 | 1.1916 | 33.9594 | 35.9346 | 39.2531 | 36.4371
050625 | 1.7610 | 1.1916 | 38.6591 | 41.0439 | 44.8446 | 41.6090
050633 | 1.2411 | 1.1925 | 36.8302 | 38.4916 | 40.7347 | 38.7394
050636 | 1.2748 | 1.1822 | 32.5576 | 33.0718 | 35.4525 | 33.7338
050641 | 1.3434 | 1.1916 | 39.6921 | 32.3586 | 32.0483 | 34.3171
050644 | 1.0499 | 1.1916 | 28.8237 | 30.7981 | 33.2746 | 30.9581
050660 | 1.7555 | * | * | * | * | *
050662 | 0.7264 | 1.5766 | 33.2446 | 38.3017 | * | 35.5809
050663 | 1.4166 | 1.1916 | 27.7334 | 17.7035 | 17.8180 | 19.8971
050667 | 0.9359 | 1.3974 | 24.2771 | 25.9161 | 25.8444 | 25.2820
050668 | 1.2668 | 1.4905 | 56.6555 | 51.6049 | 52.6968 | 53.2587
050674 | 1.2833 | 1.2827 | 48.0893 | 47.0720 | 48.6658 | 47.9616
050677 | 1.3833 | 1.1916 | 38.5770 | 39.2161 | 40.7889 | 39.6370
050678 | 1.3254 | 1.1822 | 32.4473 | 33.7633 | 35.8378 | 34.1139
050680 | 1.2900 | 1.5278 | 38.2871 | 37.9856 | 39.0346 | 38.4541
050682 | 0.8353 | 1.1822 | 17.9077 | 22.2193 | 22.3883 | 20.9013
050684 | 1.1150 | 1.1822 | 27.5256 | 28.8378 | 33.5883 | 30.1544
050686 | 1.5945 | 1.1822 | 41.0188 | 39.7757 | 41.3815 | 40.7110
050688 | 1.2103 | 1.5766 | 44.1510 | 49.4062 | 53.2703 | 49.0705
050689 | 1.5822 | 1.5278 | 45.0951 | 48.8533 | 48.9898 | 47.6626
050690 | 1.3422 | 1.4879 | 50.9094 | 49.0226 | 51.7590 | 50.5850
050693 | 1.3899 | 1.1822 | 34.5797 | 39.6838 | 42.8232 | 38.9551
050694 | 1.0517 | 1.1822 | 30.7858 | 32.1065 | 34.8458 | 32.6630
050695 | *** | * | 39.6004 | 49.0340 | * | 44.6756
050696 | 2.2640 | 1.1916 | 37.3837 | 39.8963 | 39.4330 | 38.9118
050697 | 1.1055 | 1.2730 | 16.6605 | 22.1441 | 26.7588 | 21.2675
050699 | *** | * | 28.9083 | 21.5725 | 28.8973 | 26.4337
050701 | 1.3490 | 1.1822 | 31.9529 | 34.9876 | 37.2811 | 34.8704
050704 | 1.0435 | 1.1916 | 29.7740 | 31.6097 | 32.1995 | 31.2008
050707 | *** | * | 35.7311 | 43.5555 | 44.0218 | 40.8918
050708 | 1.4932 | 1.1822 | 30.5860 | 31.8442 | 28.3051 | 30.2199
050709 | 1.4478 | 1.1822 | 26.8549 | 24.5621 | 29.5339 | 27.1486
050710 | 1.2058 | 1.1822 | 45.8022 | 44.2482 | 46.2957 | 45.4488
050713 | *** | * | 21.1273 | 21.4825 | * | 21.2886
050714 | 1.4054 | 1.5818 | 31.9527 | 34.1542 | 42.9756 | 36.5738
050717 | 1.5439 | 1.1916 | 39.3227 | 38.8773 | 37.0867 | 38.4090
050718 | *** | * | 25.5140 | 31.9622 | * | 28.5587
050720 | 0.9656 | 1.1822 | 29.4726 | 30.3595 | 32.1156 | 30.5944
050722 | 0.9138 | 1.1822 | 31.4867 | 33.7991 | 35.6698 | 33.7766
050723 | 1.3255 | 1.1916 | 38.5446 | 38.7140 | 41.1633 | 39.6081
050724 | 2.0000 | 1.1822 | 31.6910 | 35.2344 | 35.0980 | 34.1972
050725 | 0.8736 | 1.1916 | 24.3100 | 30.0580 | 28.8366 | 27.6830
050726 | 1.5371 | 1.1963 | 30.6479 | 28.6361 | 30.6054 | 29.9355
050727 | 1.3473 | 1.1916 | 33.9118 | 32.7783 | 33.0915 | 33.2499
050728 | *** | * | 39.3581 | 41.8263 | * | 40.4993
050729 | *** | * | 36.5432 | 38.1882 | * | 37.4033
050730 | *** | * | 37.0629 | 39.2046 | * | 38.1210
050732 | 2.3278 | 1.1822 | * | 33.6831 | 34.3456 | 34.0196
050733 | 1.5906 | 1.2730 | * | 40.1517 | 40.6287 | 40.3877
050734 | *** | * | * | 31.2883 | * | 31.2883
050735 | 1.3963 | 1.1916 | * | * | 36.6052 | 36.6052
050736 | 1.2104 | 1.1916 | * | * | 41.8905 | 41.8905
050737 | 1.4996 | 1.1916 | * | * | 38.0395 | 38.0395
050738 | 1.5052 | 1.1916 | * | * | 43.9225 | 43.9225
050739 | 1.6284 | 1.1916 | * | * | 57.2436 | 57.2436
050740 | 1.4538 | 1.1916 | * | * | 54.0328 | 54.0328
050741 | 1.4520 | 1.1916 | * | * | 51.1485 | 51.1485
050742 | 1.4454 | 1.1916 | * | * | 39.0793 | 39.0793
050744 | 1.7412 | 1.1822 | * | * | 48.4913 | 48.4913
050745 | 1.3450 | 1.1822 | * | * | 42.5490 | 42.5490
050746 | 1.8196 | 1.1822 | * | * | 43.1981 | 43.1981
050747 | 1.5410 | 1.1822 | * | * | 44.5852 | 44.5852
050748 | 1.1344 | 1.1954 | * | * | 42.9957 | 42.9957
050749 | 1.3856 | 1.1822 | * | * | 28.1978 | 28.1978
050750 | *** | * | * | * | 33.9880 | 33.9880
050751 | 2.9380 | 1.1916 | * | * | 29.5465 | 29.5465
050752 | 1.4092 | 1.1916 | * | * | 39.8004 | 39.8004
050753 | 1.6850 | 1.1916 | * | * | * | *
050754 | 1.1933 | 1.5025 | * | * | * | *
050755 | 1.3602 | 1.1916 | * | * | * | *
050757 | 1.5947 | 1.1822 | * | * | * | *
050758 | 1.3399 | 1.1822 | * | * | * | *
050759 | 2.1683 | 1.1822 | * | * | * | *
060001 | 1.5186 | 1.0070 | 29.6191 | 31.0018 | 32.4200 | 30.9988
060003 | 1.4098 | 1.0409 | 29.4809 | 31.3616 | 31.8621 | 30.9372
060004 | 1.1053 | 1.0561 | 32.4609 | 32.0095 | 34.8408 | 33.1185
060006 | 1.3131 | 0.9303 | 25.2139 | 27.2057 | 26.8067 | 26.4045
060008 | 1.2609 | 0.9303 | 23.0947 | 26.5175 | 27.2059 | 25.5276
060009 | 1.4736 | 1.0561 | 31.5210 | 32.4208 | 34.0129 | 32.6683
060010 | 1.5411 | 0.9734 | 27.1916 | 29.5304 | 30.6402 | 29.1093
060011 | 1.5219 | 1.0561 | 35.1573 | 32.1001 | 34.4158 | 33.8458
060012 | 1.5548 | 0.9738 | 27.3885 | 28.7724 | 29.4348 | 28.5090
060013 | 1.5942 | 0.9303 | 26.8675 | 27.9145 | 28.0786 | 27.6090
060014 | 1.8805 | 1.0561 | 31.0542 | 31.9389 | 33.0340 | 32.0056
060015 | 1.8679 | 1.0561 | 32.5285 | 32.2927 | 36.3270 | 33.6071
060016 | 1.1848 | 0.9303 | 26.5427 | 27.1430 | 28.3040 | 27.3080
060018 | 1.2897 | 0.9303 | 24.1086 | 25.3897 | 26.5770 | 25.3463
060020 | 1.5516 | 0.9303 | 24.5992 | 25.9147 | 26.7340 | 25.7382
060022 | 1.6011 | 0.9738 | 28.2944 | 29.3379 | 31.9353 | 29.8727
060023 | 1.6260 | 1.0409 | 29.5760 | 31.1556 | 32.7901 | 31.1705
060024 | 1.8688 | 1.0561 | 30.0279 | 31.5411 | 32.8183 | 31.5099
060027 | 1.5941 | 1.0409 | 29.6121 | 30.9212 | 31.6117 | 30.7134
060028 | 1.4266 | 1.0561 | 31.6900 | 32.1656 | 33.4942 | 32.4479
060030 | 1.4302 | 0.9734 | 27.8642 | 29.9513 | 31.2907 | 29.7046
060031 | 1.5357 | 1.0409 | 27.8345 | 29.3907 | 30.8385 | 29.3398
060032 | 1.4900 | 1.0561 | 31.0686 | 32.7383 | 34.6417 | 32.7827
060034 | 1.7145 | 1.0561 | 30.9359 | 32.1252 | 33.3625 | 32.1070
060036 | 1.0946 | 0.9303 | 20.3226 | 22.8256 | 20.9359 | 21.3443
060041 | 0.9254 | 0.9303 | 24.6142 | 25.9710 | 31.4722 | 27.2226
060043 | 0.9724 | 0.9303 | 18.2143 | 21.9955 | 23.3899 | 21.1620
060044 | 1.1929 | 0.9303 | 26.5611 | 24.8352 | 29.4060 | 26.8390
060049 | 1.4157 | 0.9581 | 29.3724 | 30.2192 | 32.1570 | 30.6358
060054 | 1.4812 | 0.9925 | 24.3389 | 25.0980 | 24.6714 | 24.6993
060064 | 1.7013 | 1.0561 | 32.3681 | 33.2428 | 37.2384 | 33.8162
060065 | 1.4081 | 1.0561 | 32.4735 | 33.8538 | 34.9177 | 33.7649
060071 | 1.1347 | 0.9303 | 27.6657 | 28.1762 | 31.5370 | 29.2648
060075 | 1.3842 | 0.9925 | 32.2545 | 37.6023 | 35.8069 | 35.2179
060076 | 1.2641 | 0.9303 | 26.5631 | 30.7808 | 31.6033 | 29.6210
060096 | 1.6188 | 1.0409 | 32.1310 | 37.8243 | 38.2230 | 36.0395
060100 | 1.7198 | 1.0561 | 32.6104 | 33.2145 | 33.5326 | 33.1192
060103 | 1.3654 | 1.0409 | 31.6314 | 32.9690 | 33.7519 | 32.8044
060104 | 1.4279 | 1.0561 | 32.4232 | 35.4409 | 37.1405 | 34.8954
060107 | 1.5071 | 1.0561 | 26.8388 | 28.0660 | 30.3986 | 28.4350
060112 | 1.6339 | 1.0561 | 34.9272 | 34.7116 | 35.1275 | 34.9373
060113 | 1.4241 | 1.0561 | * | 32.6073 | 35.2074 | 33.9039
060114 | 1.3878 | 1.0561 | * | 34.8536 | 35.3035 | 35.0938
060115 | 0.8560 | 0.9303 | * | * | * | *
060116 | 1.2796 | 1.0409 | * | * | 33.1528 | 33.1528
060117 | 1.4396 | 0.9303 | * | * | 28.3098 | 28.3098
060118 | 1.4247 | 0.9303 | * | * | * | *
060119 | 2.0319 | 0.9734 | * | * | * | *
070001 | 1.5932 | 1.2038 | 35.8958 | 37.0403 | 37.9403 | 36.9862
070002 | 1.8116 | 1.1897 | 33.4398 | 34.7636 | 36.4240 | 34.8862
070003 | 1.1297 | 1.1897 | 34.1352 | 35.6320 | 36.0505 | 35.2926
070004 | 1.1791 | 1.1897 | 29.4448 | 29.9557 | 31.2093 | 30.2307
070005 | 1.4770 | 1.2038 | 33.7813 | 34.9404 | 36.5469 | 35.0801
070006 | 1.3529 | 1.2391 | 37.9148 | 39.3935 | 41.2133 | 39.5140
070007 | 1.2875 | 1.1897 | 35.9617 | 36.2914 | 36.8054 | 36.3570
070008 | 1.2515 | 1.1897 | 28.5506 | 30.7305 | 35.4942 | 31.5216
070009 | 1.3430 | 1.1897 | 32.9299 | 35.5670 | 36.6355 | 34.9997
070010 | 1.6851 | 1.2391 | 35.3730 | 36.7227 | 38.6086 | 36.9439
070011 | 1.4127 | 1.1897 | 31.8987 | 31.6843 | 34.1325 | 32.5714
070012 | 1.4106 | 1.1897 | 29.4216 | 31.9345 | 33.2459 | 31.5134
070015 | 1.4333 | 1.2391 | 35.3385 | 37.3454 | 39.9225 | 37.5863
070016 | 1.4989 | 1.2038 | 31.4930 | 33.2391 | 34.1238 | 32.9404
070017 | 1.3644 | 1.2038 | 34.0490 | 35.6456 | 37.5821 | 35.7978
070018 | 1.3783 | 1.2391 | 39.7515 | 41.8460 | 42.4745 | 41.4021
070019 | 1.3857 | 1.2038 | 34.5125 | 33.7246 | 35.8591 | 34.6869
070020 | 1.2985 | 1.1897 | 33.6453 | 32.9714 | 35.6515 | 34.1183
070021 | 1.1854 | 1.1897 | 36.9241 | 38.5623 | 39.7761 | 38.4026
070022 | 1.6626 | 1.2038 | 39.0462 | 40.2283 | 41.4692 | 40.2883
070024 | 1.3628 | 1.1897 | 35.2323 | 34.7419 | 36.8976 | 35.6415
070025 | 1.7385 | 1.1897 | 32.4085 | 34.5887 | 36.1293 | 34.3741
070027 | 1.4463 | 1.1897 | 29.8513 | 30.4433 | 33.5960 | 31.3085
070028 | 1.5690 | 1.2391 | 35.1966 | 38.0855 | 43.1846 | 38.7150
070029 | 1.2883 | 1.1897 | 30.9299 | 31.0662 | 32.8478 | 31.6076
070031 | 1.2891 | 1.2038 | 30.1915 | 30.4054 | 30.5906 | 30.4009
070033 | 1.4498 | 1.2391 | 40.1594 | 41.7955 | 44.6692 | 42.2677
070034 | 1.4240 | 1.2391 | 38.3965 | 40.1685 | 42.4078 | 40.3330
070035 | 1.2479 | 1.1897 | 30.7440 | 32.2766 | 33.4024 | 32.1114
070036 | 1.6115 | 1.1897 | 38.3413 | 42.3391 | 43.6345 | 41.4903
070038 | 0.8866 | 1.2038 | 25.7914 | 35.8053 | 29.9492 | 29.4507
070039 | 0.9487 | 1.2038 | 36.1369 | 34.7219 | 32.7121 | 34.7190
070040 | 1.0777 | 1.1897 | * | * | * | *
080001 | 1.6391 | 1.0799 | 32.0105 | 33.5310 | 34.9490 | 33.5152
080002 | *** | * | 29.6800 | 31.3391 | 33.0378 | 31.3601
080003 | 1.6226 | 1.0799 | 30.7697 | 34.3048 | 30.5113 | 31.8516
080004 | 1.5578 | 1.0645 | 30.1094 | 32.2443 | 34.3823 | 32.3013
080006 | 1.3096 | 1.0304 | 27.4749 | 28.8862 | 31.0299 | 29.2083
080007 | 1.4835 | 1.0909 | 30.1100 | 31.1645 | 33.4764 | 31.6259
090001 | 1.7487 | 1.1018 | 36.6577 | 38.3043 | 40.1629 | 38.3535
090003 | 1.2254 | 1.0670 | 31.0419 | 32.1960 | 32.8939 | 31.9877
090004 | 1.9209 | 1.1018 | 35.6964 | 37.3798 | 38.5646 | 37.2403
090005 | 1.4073 | 1.0670 | 33.0178 | 33.7448 | 35.2850 | 34.0306
090006 | 1.3917 | 1.0670 | 29.4912 | 31.3562 | 32.3448 | 31.0266
090008 | 1.2958 | 1.0670 | 32.0745 | 33.7471 | 36.6606 | 34.0292
090011 | 2.0065 | 1.1018 | 36.7579 | 38.0654 | 39.0086 | 37.9688
100001 | 1.4956 | 0.9092 | 26.4631 | 27.2809 | 27.8509 | 27.2111
100002 | 1.4292 | 1.0025 | 27.2350 | 28.7068 | 30.6650 | 28.8632
100006 | 1.6260 | 0.9189 | 29.1505 | 28.3673 | 28.9654 | 28.8205
100007 | 1.5846 | 0.9189 | 28.5702 | 29.0472 | 30.3800 | 29.3589
100008 | 1.6979 | 0.9865 | 29.1705 | 30.3392 | 32.1650 | 30.5829
100009 | 1.3613 | 0.9865 | 27.4424 | 27.8618 | 30.0468 | 28.3830
100012 | 1.6154 | 0.9502 | 28.4600 | 29.8353 | 30.8602 | 29.7781
100014 | 1.4551 | 0.9073 | 25.1524 | 27.4019 | 27.4048 | 26.6903
100015 | 1.2730 | 0.8993 | 26.0916 | 27.2483 | 28.6813 | 27.3086
100017 | 1.6234 | 0.9073 | 27.9654 | 28.2402 | 29.8685 | 28.7071
100018 | 1.6116 | 0.9820 | 30.2423 | 30.6545 | 32.8609 | 31.2755
100019 | 1.6071 | 0.9401 | 28.6630 | 30.3008 | 31.4521 | 30.1350
100020 | *** | * | 27.1257 | * | * | 27.1257
100022 | 1.6470 | 1.0025 | 32.8088 | 36.7912 | 36.3330 | 35.3146
100023 | 1.5384 | 0.9073 | 25.2652 | 25.4270 | 27.1008 | 26.0111
100024 | 1.2924 | 0.9865 | 29.1894 | 29.5423 | 29.8902 | 29.5369
100025 | 1.7145 | 0.8633 | 23.3843 | 26.7013 | 27.1652 | 25.7513
100026 | 1.5761 | 0.8633 | 23.4730 | 26.0147 | 27.3027 | 25.6436
100027 | *** | * | 18.9432 | * | * | 18.9432
100028 | 1.3554 | 0.9401 | 27.7497 | 27.5664 | 28.7776 | 28.0281
100029 | 1.2121 | 0.9865 | 28.8842 | 30.5382 | 31.5979 | 30.3873
100030 | 1.3539 | 0.9189 | 24.6314 | 25.3513 | 26.3096 | 25.4476
100032 | 1.6723 | 0.8993 | 26.8162 | 26.9275 | 27.8918 | 27.2236
100034 | 1.7942 | 0.9865 | 28.1280 | 27.2915 | 28.9362 | 28.1268
100035 | 1.6017 | 0.9757 | 29.4803 | 30.2382 | 32.5568 | 30.7182
100038 | 1.7177 | 1.0025 | 31.3403 | 31.6657 | 32.8363 | 31.9625
100039 | 1.5743 | 1.0025 | 28.2531 | 29.3699 | 29.0221 | 28.8790
100040 | 1.7008 | 0.9092 | 26.2429 | 27.2835 | 28.3342 | 27.2945
100043 | 1.4134 | 0.8993 | 26.4221 | 27.0054 | 26.8400 | 26.7591
100044 | 1.5389 | 0.9905 | 30.3659 | 33.1141 | 34.3895 | 32.6318
100045 | 1.3128 | 0.9073 | 29.7375 | 26.5413 | 25.5601 | 27.1971
100046 | 1.4584 | 0.8993 | 26.9469 | 26.7702 | 27.7856 | 27.1801
100047 | 1.6986 | 0.9648 | 26.7674 | 29.9729 | 31.4038 | 29.3525
100048 | 0.9293 | 0.8633 | 19.3226 | 20.2657 | 21.7684 | 20.4248
100049 | 1.2227 | 0.8715 | 24.0385 | 24.5571 | 27.6295 | 25.3718
100050 | 1.1486 | 0.9865 | 21.5101 | 25.3354 | 23.5194 | 23.4888
100051 | 1.3882 | 0.9189 | 28.0946 | 28.6225 | 30.1464 | 29.0839
100052 | 1.4592 | 0.8715 | 23.6796 | 23.4036 | 25.1096 | 24.0877
100053 | 1.3335 | 0.9865 | 28.5118 | 31.7415 | 31.9242 | 30.6741
100054 | 1.4058 | 0.8703 | 28.7646 | 30.5515 | 30.9825 | 30.1173
100055 | 1.4682 | 0.8993 | 25.6243 | 27.3826 | 29.6999 | 27.4746
100057 | 1.4366 | 0.9189 | 24.8010 | 26.3134 | 27.7025 | 26.3249
100061 | 1.5221 | 0.9865 | 31.4413 | 30.4528 | 31.9154 | 31.2647
100062 | 1.6289 | 0.8633 | 25.1280 | 25.9597 | 26.3043 | 25.8131
100063 | 1.2914 | 0.8993 | 25.5097 | 26.4139 | 27.0754 | 26.3647
100067 | 1.4240 | 0.8993 | 26.8628 | 27.4762 | 27.5486 | 27.3159
100068 | 1.6629 | 0.9073 | 26.1341 | 27.6576 | 27.6975 | 27.1712
100069 | 1.5199 | 0.8993 | 25.7450 | 27.2108 | 29.0462 | 27.3031
100070 | 1.6948 | 0.9757 | 26.8461 | 29.2005 | 29.1098 | 28.3496
100071 | 1.3016 | 0.8993 | 26.3768 | 25.3667 | 25.1867 | 25.6298
100072 | 1.3899 | 0.9073 | 25.7962 | 27.1889 | 27.6927 | 26.8986
100073 | 1.7604 | 1.0025 | 30.5845 | 29.4165 | 31.0379 | 30.3564
100075 | 1.5137 | 0.8993 | 25.7612 | 27.6534 | 26.7551 | 26.7473
100076 | 1.2093 | 0.9865 | 23.4551 | 24.0412 | 24.0262 | 23.8474
100077 | 1.3908 | 0.9648 | 30.6925 | 30.7564 | 27.9764 | 29.8150
100079 | 1.4454 | * | * | * | * | *
100080 | 1.6170 | 1.0025 | 28.2188 | 29.5346 | 31.0487 | 29.6112
100081 | 0.9435 | 0.8633 | 16.9756 | 19.5711 | 19.7407 | 18.7147
100084 | 1.7063 | 0.9189 | 27.4947 | 32.7503 | 30.6285 | 30.2189
100086 | 1.3909 | 1.0025 | 28.5971 | 29.9072 | 31.3169 | 29.9261
100087 | 1.8447 | 0.9757 | 29.5823 | 30.5938 | 32.1290 | 30.7622
100088 | 1.5784 | 0.9092 | 26.7574 | 28.2825 | 29.5464 | 28.3236
100090 | 1.4708 | 0.9092 | 26.5703 | 27.6175 | 28.9548 | 27.7918
100092 | 1.5273 | 0.9401 | 27.8341 | 26.6315 | 28.6765 | 27.7162
100093 | 1.7183 | 0.8633 | 21.6438 | 22.5555 | 23.4836 | 22.5921
100099 | 1.0283 | 0.8715 | 25.8454 | 26.2395 | 28.0669 | 26.7407
100102 | 1.1035 | 0.8758 | 26.1015 | 27.8551 | 29.0373 | 27.7069
100105 | 1.5837 | 0.9741 | 29.9745 | 30.9915 | 30.8907 | 30.6081
100106 | 1.0497 | 0.8633 | 24.7650 | 24.8098 | 25.6284 | 25.0615
100107 | 1.1889 | 0.9502 | 27.4760 | 30.5764 | 31.2927 | 29.8950
100108 | 0.8653 | 0.8633 | 21.3540 | 22.6270 | 22.8139 | 22.2176
100109 | 1.2509 | 0.9073 | 25.5669 | 26.2446 | 26.7361 | 26.2234
100110 | 1.5739 | 0.9189 | 29.4788 | 29.5985 | 30.3729 | 29.8429
100113 | 1.9724 | 0.9427 | 28.0440 | 29.2429 | 30.5837 | 29.3004
100114 | 1.7025 | 0.9865 | 29.2862 | 30.2544 | 32.3934 | 30.6145
100117 | 1.2439 | 0.9092 | 27.7198 | 28.4928 | 30.0549 | 28.8365
100118 | 1.3879 | 0.8633 | 27.6438 | 27.0981 | 28.3179 | 27.7197
100121 | 1.1178 | 0.8715 | 26.2990 | 27.9353 | 24.9371 | 26.3668
100122 | 1.2316 | 0.8703 | 24.6285 | 26.7175 | 27.6162 | 26.3632
100124 | 1.1998 | 0.8633 | 24.0333 | 24.8880 | 26.2310 | 25.0380
100125 | 1.2235 | 0.9865 | 29.7750 | 31.7749 | 33.3469 | 31.6838
100126 | 1.3212 | 0.8993 | 29.6247 | 28.3213 | 28.9151 | 28.9566
100127 | 1.5761 | 0.8993 | 26.0923 | 27.4632 | 27.0669 | 26.8835
100128 | 2.1341 | 0.8993 | 29.2566 | 30.0324 | 30.3690 | 29.9099
100130 | 1.1458 | 1.0025 | 26.0268 | 28.3651 | 30.9735 | 28.5262
100131 | 1.4707 | 0.9865 | 27.8164 | 29.7647 | 30.9586 | 29.6460
100132 | 1.2889 | 0.8993 | 26.0526 | 27.8180 | 27.6613 | 27.2139
100134 | 0.8985 | 0.8633 | 20.7367 | 21.6544 | 22.9624 | 21.8248
100135 | 1.6390 | 0.8981 | 26.7030 | 29.1856 | 29.8423 | 28.5445
100137 | 1.3328 | 0.8715 | 24.8519 | 26.8391 | 28.2969 | 26.7255
100139 | 0.8641 | 0.9427 | 18.2197 | 21.1310 | 21.4420 | 20.1386
100140 | 1.1161 | 0.9092 | 26.1352 | 27.8352 | 28.5466 | 27.5007
100142 | 1.1395 | 0.8633 | 24.8853 | 25.6999 | 26.8978 | 25.8482
100150 | 1.2603 | 0.9865 | 26.8492 | 27.7740 | 29.3690 | 27.9646
100151 | 1.7355 | 0.9092 | 30.6447 | 29.7267 | 31.3820 | 30.5873
100154 | 1.6098 | 0.9865 | 28.2506 | 29.7332 | 31.3618 | 29.8234
100156 | 1.1428 | 0.9427 | 27.5706 | 28.3927 | 28.3041 | 28.1071
100157 | 1.5705 | 0.8993 | 29.7455 | 30.3086 | 30.3339 | 30.1497
100160 | 1.2508 | 0.9865 | 30.7454 | 30.6902 | 32.3113 | 31.2761
100161 | 1.5295 | 0.9189 | 28.0545 | 29.5673 | 30.8955 | 29.5189
100166 | 1.5059 | 0.9757 | 28.8685 | 30.1811 | 31.9053 | 30.2720
100167 | 1.2272 | 1.0025 | 30.2166 | 31.7813 | 32.4711 | 31.5289
100168 | 1.5608 | 1.0025 | 27.6739 | 27.0938 | 28.0517 | 27.6177
100172 | *** | * | 20.7857 | 22.2183 | 20.5502 | 21.2381
100173 | 1.6082 | 0.8993 | 26.5436 | 28.6402 | 30.2470 | 28.5123
100175 | 0.9474 | 0.8633 | 23.9665 | 25.0913 | 26.1711 | 25.0707
100176 | 1.8223 | 1.0025 | 30.7087 | 33.3181 | 35.5821 | 33.1514
100177 | 1.3295 | 0.9401 | 28.0089 | 29.6284 | 31.0063 | 29.5570
100179 | 1.7392 | 0.9092 | 29.1111 | 29.2795 | 30.5213 | 29.6480
100180 | 1.5114 | 0.8993 | 29.9238 | 31.0099 | 31.5463 | 30.8513
100181 | 1.1566 | 0.9865 | 24.3708 | 23.9656 | 26.0656 | 24.7884
100183 | 1.2816 | 0.9865 | 29.0270 | 30.5042 | 32.9863 | 30.7987
100187 | 1.3637 | 0.9865 | 27.8144 | 30.7705 | 31.6639 | 30.0560
100189 | 1.3348 | 1.0025 | 28.8320 | 29.9376 | 30.5491 | 29.8033
100191 | 1.3365 | 0.8993 | 28.3710 | 29.4533 | 30.9183 | 29.5986
100200 | 1.3715 | 1.0025 | 28.7694 | 29.6400 | 29.0719 | 29.1618
100204 | 1.5799 | 0.9427 | 27.4763 | 27.2819 | 29.9311 | 28.2769
100206 | 1.2774 | 0.8993 | 27.0295 | 27.7551 | 28.8609 | 27.8936
100209 | 1.5193 | 0.9865 | 26.8473 | 28.5336 | 29.0435 | 28.1481
100210 | 1.5671 | 1.0025 | 29.8515 | 32.0830 | 32.4538 | 31.4634
100211 | 1.2490 | 0.8993 | 24.7533 | 26.2859 | 28.8303 | 26.5619
100212 | 1.4634 | 0.8633 | 26.1846 | 27.7960 | 29.2475 | 27.7618
100213 | 1.5367 | 0.9757 | 27.9283 | 29.5218 | 30.2251 | 29.2000
100217 | 1.3065 | 0.9741 | 27.3989 | 27.7683 | 30.3301 | 28.4907
100220 | 1.6181 | 0.9502 | 28.3868 | 29.3601 | 30.8265 | 29.5174
100223 | 1.5286 | 0.8703 | 25.0332 | 26.1115 | 27.6756 | 26.3160
100224 | 1.2624 | 1.0025 | 26.6446 | 28.0455 | 29.1992 | 27.9615
100225 | 1.3079 | 1.0025 | 28.5259 | 30.8782 | 32.6890 | 30.6971
100226 | 1.3028 | 0.9092 | 28.8165 | 28.8791 | 30.2828 | 29.3578
100228 | 1.3954 | 1.0025 | 28.1396 | 30.1635 | 31.0195 | 29.7490
100230 | 1.3499 | 1.0025 | 29.8493 | 31.9448 | 34.6099 | 32.1778
100231 | 1.7092 | 0.8633 | 25.7037 | 26.6773 | 28.3633 | 26.9108
100232 | 1.2640 | 0.9092 | 28.5537 | 28.3892 | 29.3783 | 28.7734
100234 | 1.3320 | 1.0025 | 27.4456 | 28.8835 | 29.7800 | 28.7289
100236 | 1.4357 | 0.9648 | 28.9955 | 28.3017 | 30.5701 | 29.2818
100237 | 1.8545 | 1.0025 | 31.7848 | 33.1536 | 33.9606 | 32.9295
100238 | 1.5484 | 0.8993 | 30.1094 | 31.4198 | 31.6331 | 31.0862
100239 | 1.3821 | 0.8993 | 28.6893 | 29.0650 | 30.3212 | 29.3632
100240 | 0.9591 | 0.9865 | 27.3523 | 29.7000 | 31.0943 | 29.4319
100242 | 1.5092 | 0.8633 | 25.6083 | 26.1988 | 27.8149 | 26.5486
100243 | 1.4703 | 0.8993 | 27.4534 | 28.3894 | 29.8294 | 28.5415
100244 | 1.4338 | 0.9502 | 26.6876 | 28.2881 | 29.8266 | 28.3031
100246 | 1.5457 | 0.9905 | 29.3310 | 30.1061 | 30.0261 | 29.8298
100248 | 1.5452 | 0.8993 | 28.8082 | 30.2133 | 32.4702 | 30.5161
100249 | 1.2896 | 0.8993 | 24.9876 | 26.4676 | 28.5107 | 26.7077
100252 | 1.1632 | 0.9741 | 27.8256 | 27.1639 | 29.1429 | 28.0419
100253 | 1.3893 | 1.0025 | 27.4927 | 28.7770 | 28.5597 | 28.3018
100254 | 1.4934 | 0.8981 | 26.1406 | 27.4900 | 28.5240 | 27.3995
100255 | 1.3025 | 0.8993 | 26.5571 | 27.3866 | 29.5157 | 27.8451
100256 | 1.7382 | 0.8993 | 30.3081 | 30.2093 | 33.3907 | 31.2430
100258 | 1.5591 | 1.0025 | 31.2203 | 33.8630 | 35.2197 | 33.4797
100259 | 1.2682 | 0.8993 | 27.4809 | 29.0612 | 29.9274 | 28.8444
100260 | 1.3830 | 0.9905 | 26.7129 | 28.2301 | 29.4885 | 28.1387
100264 | 1.4156 | 0.8993 | 26.8216 | 28.0370 | 30.1956 | 28.3177
100265 | 1.3296 | 0.8993 | 25.7432 | 26.3326 | 26.6920 | 26.2976
100266 | 1.3896 | 0.8633 | 23.0208 | 24.2517 | 25.6366 | 24.3555
100267 | 1.2811 | 0.9757 | 28.7259 | 28.9674 | 30.6033 | 29.4523
100268 | 1.1771 | 1.0025 | 29.0668 | 30.5750 | 33.6114 | 31.0650
100269 | 1.3742 | 1.0025 | 26.6047 | 27.8407 | 28.3722 | 27.6319
100271 | 2.0607 | * | * | * | * | *
100275 | 1.3310 | 1.0025 | 26.8943 | 28.7797 | 31.0459 | 28.9926
100276 | 1.2874 | 1.0025 | 29.7606 | 30.5720 | 31.7050 | 30.6750
100277 | 1.5574 | 0.9865 | 20.4791 | 24.1122 | 25.5878 | 23.9890
100279 | 1.4040 | 0.9502 | 28.6383 | 29.2257 | 31.1921 | 29.7250
100281 | 1.3929 | 1.0025 | 29.6698 | 30.9131 | 32.8807 | 31.2127
100284 | 1.0632 | 0.9865 | 22.3134 | 25.2637 | 21.4401 | 22.7441
100285 | 1.2639 | 1.0025 | * | 41.9481 | 34.7963 | 39.4585
100286 | 1.5465 | 0.9820 | 28.3645 | 25.8085 | 26.5795 | 26.8126
100287 | 1.3877 | 1.0025 | 28.1051 | 29.7536 | 30.3059 | 29.3361
100288 | 1.7404 | 1.0025 | 28.7902 | 31.0506 | 32.9558 | 30.8729
100289 | 1.6231 | 1.0025 | 29.6376 | 31.9011 | 31.4701 | 31.0127
100290 | 1.2302 | 0.9215 | 27.1011 | 28.7111 | 29.7566 | 28.5282
100291 | 1.3483 | 0.9401 | 28.4722 | 28.1515 | 28.3762 | 28.3296
100292 | 1.3753 | 0.8633 | 26.7063 | 27.7644 | 28.5799 | 27.7205
100293 | *** | * | 32.7963 | * | * | 32.7963
100294 | *** | * | 30.7557 | * | * | 30.7557
100295 | *** | * | 26.1983 | * | * | 26.1983
100296 | 1.3271 | 0.9865 | * | 29.3870 | 31.1449 | 30.2840
100297 | *** | * | * | 32.1536 | * | 32.1536
100298 | 0.8450 | 0.8981 | * | 19.0297 | 21.9226 | 20.3569
100299 | 1.2918 | 0.9757 | * | 34.3697 | 31.6820 | 33.1821
100300 | *** | * | * | * | 33.1669 | 33.1669
100302 | 1.1546 | 0.9189 | * | * | * | *
110001 | 1.3724 | 0.8740 | 26.4338 | 26.5640 | 27.4189 | 26.8009
110002 | 1.3136 | 0.9760 | 26.4715 | 26.2228 | 28.9001 | 27.2273
110003 | 1.3119 | 0.7840 | 22.7066 | 24.2097 | 25.0083 | 23.9366
110004 | 1.3686 | 0.8880 | 24.9978 | 25.1846 | 27.2513 | 25.7796
110005 | 1.2944 | 0.9760 | 28.1209 | 27.2826 | 29.5994 | 28.4189
110006 | 1.5596 | 0.9589 | 28.3839 | * | 32.3714 | 30.3778
110007 | 1.5907 | 0.8770 | 26.6396 | 26.3133 | 28.0665 | 27.0191
110008 | 1.3589 | 0.9760 | 29.2947 | 30.9757 | 31.8366 | 30.6980
110010 | 2.1741 | 0.9760 | 31.7185 | 33.2396 | 33.9818 | 32.9905
110011 | 1.2809 | 0.9760 | 28.0598 | 28.5892 | 30.3526 | 29.0303
110015 | 1.0815 | 0.9760 | 28.1274 | 28.8796 | 30.5004 | 29.2479
110016 | 1.2537 | 0.8495 | 22.7263 | 24.3563 | 25.9193 | 24.3226
110018 | 1.1989 | 0.9760 | 26.8016 | 30.1849 | 30.9429 | 29.3022
110020 | 1.2987 | 0.9760 | 28.3822 | 27.5559 | 29.4629 | 28.5809
110023 | 1.3269 | 0.9760 | 29.8061 | 29.3282 | 29.2001 | 29.4297
110024 | 1.4712 | 0.8943 | 27.0225 | 27.3357 | 28.5637 | 27.6412
110025 | 1.4799 | 1.0139 | 31.0703 | 30.2845 | 32.6731 | 31.3350
110026 | 1.0963 | 0.7840 | 21.8018 | 22.8820 | 24.3858 | 23.0082
110027 | 1.0459 | 0.7840 | 22.6058 | 25.5291 | 25.6536 | 24.4936
110028 | 1.7426 | 0.9604 | 30.4641 | 31.4568 | 32.8679 | 31.5933
110029 | 1.7563 | 0.9760 | 27.3618 | 29.2134 | 30.0367 | 28.8932
110030 | 1.3857 | 0.9760 | 29.6841 | 29.9531 | 32.0250 | 30.6320
110031 | 1.2793 | 0.9760 | 27.1989 | 29.5533 | 30.7447 | 29.1990
110032 | 1.2564 | 0.7840 | 23.2586 | 25.1896 | 24.4949 | 24.3026
110033 | 1.7263 | 0.9760 | 30.3415 | 32.4178 | 32.7019 | 31.8557
110034 | 1.7739 | 0.9604 | 27.2338 | 28.7915 | 29.6801 | 28.5541
110035 | 1.7859 | 0.9760 | 28.9408 | 30.1852 | 31.5705 | 30.2749
110036 | 1.8235 | 0.8943 | 26.6664 | 27.2280 | 28.4022 | 27.4638
110038 | 1.5488 | 0.8397 | 22.2720 | 22.9685 | 23.3659 | 22.8669
110039 | 1.3716 | 0.9604 | 26.3503 | 26.2485 | 28.4347 | 26.8945
110040 | 1.1123 | 0.9760 | 20.9487 | 23.9526 | 21.5761 | 22.1590
110041 | 1.2061 | 0.9760 | 24.8864 | 26.1948 | 27.6593 | 26.2845
110042 | 1.0795 | 0.9760 | 34.9954 | 33.4391 | 34.5117 | 34.3025
110043 | 1.7560 | 0.8943 | 27.8477 | 28.8551 | 30.3702 | 28.9989
110044 | 1.2146 | 0.7840 | 23.3039 | 24.3772 | 27.0418 | 24.8928
110045 | 1.0279 | 0.9760 | 24.4275 | 27.7619 | 28.2217 | 26.7950
110046 | 1.1453 | 0.9760 | 26.7464 | * | 28.6264 | 27.6790
110050 | 1.0857 | 0.8499 | 27.5985 | 27.0651 | 27.1525 | 27.2626
110051 | 1.1244 | 0.7840 | 20.1756 | 21.4898 | 22.1488 | 21.3080
110054 | 1.4223 | 0.9760 | 28.9254 | 29.4691 | 31.5780 | 30.0224
110059 | 1.1567 | 0.7840 | 23.2137 | 24.7838 | 24.9265 | 24.3029
110064 | 1.5836 | 0.9061 | 24.1219 | 26.9363 | 28.7283 | 26.5861
110069 | 1.3437 | 0.9618 | 26.2085 | 29.9098 | 30.6443 | 28.9853
110071 | 1.1205 | 0.7840 | 21.3963 | 21.2041 | 23.6494 | 22.1661
110073 | 1.0228 | 0.7840 | 18.5753 | 23.3571 | 23.0067 | 21.5478
110074 | 1.4894 | 0.9589 | 27.9190 | 31.0062 | 30.3996 | 29.7348
110075 | 1.3134 | 0.8841 | 23.7585 | 24.8244 | 26.1068 | 24.8944
110076 | 1.4843 | 0.9760 | 28.7871 | 29.4344 | 31.0636 | 29.7176
110078 | 1.9462 | 0.9760 | 29.9625 | 30.5196 | 31.1064 | 30.5424
110079 | 1.5678 | 0.9760 | 26.8412 | 27.3274 | 29.0882 | 27.7224
110080 | *** | * | 18.4714 | * | * | 18.4714
110082 | 1.9672 | 0.9760 | 30.8320 | 30.1072 | 31.1407 | 30.6976
110083 | 1.9525 | 0.9760 | 30.4287 | 34.0610 | 34.5768 | 33.0335
110086 | 1.2641 | 0.7840 | 21.6898 | 22.9959 | 23.4762 | 22.7087
110087 | 1.4285 | 0.9760 | 28.1633 | 31.0403 | 32.8007 | 30.7266
110089 | 1.1392 | 0.7840 | 23.9026 | 24.3327 | 26.0096 | 24.7677
110091 | 1.2915 | 0.9760 | 29.5337 | 27.0994 | 28.0609 | 28.1665
110092 | 1.1137 | 0.7840 | 20.8911 | 21.4168 | 22.8591 | 21.7047
110095 | 1.4622 | 0.8397 | 26.3075 | 28.0526 | 27.9005 | 27.4450
110100 | 0.9787 | 0.8630 | 16.2575 | 20.8201 | 20.0633 | 18.9182
110101 | 0.9836 | 0.7907 | 19.4257 | 21.0983 | 23.8601 | 21.3923
110104 | 1.2036 | 0.7840 | 20.3777 | 21.8966 | 22.2585 | 21.5748
110105 | 1.3643 | 0.7840 | 23.1405 | 23.4010 | 23.7738 | 23.4420
110107 | 1.9504 | 0.9815 | 28.9352 | 30.1027 | 31.5754 | 30.2370
110109 | 1.0213 | 0.7840 | 23.0376 | 21.6023 | 21.6011 | 22.0502
110111 | 1.1524 | 0.9604 | 25.1270 | 25.7084 | 27.2234 | 26.0060
110112 | 1.0413 | 0.8397 | 22.7672 | 26.4089 | 24.2924 | 24.5380
110113 | 0.9563 | 0.9604 | 21.3417 | 22.0793 | 22.0479 | 21.8312
110115 | 1.7706 | 0.9760 | 31.5074 | 32.7927 | 33.3880 | 32.5794
110121 | 1.0024 | 0.8397 | 26.2336 | 23.4571 | 24.5645 | 24.7827
110122 | 1.5445 | 0.8397 | 25.1934 | 25.4439 | 26.3052 | 25.6427
110124 | 1.0887 | 0.7840 | 22.9212 | 22.9571 | 24.8540 | 23.5883
110125 | 1.2577 | 0.9618 | 23.7834 | 24.7347 | 26.4991 | 24.9905
110128 | 1.2891 | 0.8841 | 25.7839 | 25.4190 | 24.5272 | 25.2129
110129 | 1.5763 | 0.9061 | 25.9625 | 30.0444 | 29.7304 | 28.5402
110130 | 0.9171 | 0.7840 | 19.1284 | 20.4349 | 21.7084 | 20.4154
110132 | 1.0348 | 0.7840 | 20.2502 | 21.2642 | 21.6033 | 21.0527
110135 | 1.2731 | 0.7840 | 22.5346 | 24.0945 | 25.1022 | 23.9470
110136 | *** | * | 18.8212 | * | * | 18.8212
110142 | 0.9807 | 0.8025 | 21.3935 | 21.6286 | 22.2156 | 21.7484
110143 | 1.4253 | 0.9760 | 28.6583 | 29.9139 | 30.9590 | 29.8777
110146 | 1.0832 | 0.9112 | 27.0987 | 29.0193 | 30.1159 | 28.7418
110149 | *** | * | 28.4040 | * | * | 28.4040
110150 | 1.2994 | 0.9760 | 25.3742 | 26.9884 | 27.7908 | 26.7261
110153 | 1.1210 | 0.9618 | 25.7467 | 29.3305 | 30.2424 | 28.4006
110161 | 1.5555 | 0.9760 | 30.4885 | 31.5001 | 31.9981 | 31.3389
110163 | 1.4520 | 0.8770 | 28.2169 | 27.7679 | 29.5674 | 28.5127
110164 | 1.7038 | 0.9815 | 28.8946 | 30.0145 | 31.2804 | 30.1111
110165 | 1.4333 | 0.9760 | 27.0977 | 28.7902 | 28.7898 | 28.2209
110168 | 1.7664 | 0.9760 | 28.5700 | 29.7774 | 30.8727 | 29.7602
110172 | 1.4736 | 0.9760 | 31.1234 | 31.3999 | 33.0426 | 31.8709
110177 | 1.9238 | 0.9604 | 28.8356 | 29.7079 | 30.5507 | 29.7260
110183 | 1.2868 | 0.9760 | 28.6208 | 28.3505 | 29.6606 | 28.9003
110184 | 1.2634 | 0.9760 | 28.3545 | 29.4071 | 30.2897 | 29.4131
110186 | 1.3171 | 0.9061 | 27.4925 | 28.2880 | 29.6479 | 28.4857
110187 | 1.2029 | 0.9760 | 25.2139 | 26.9638 | 31.0150 | 27.7895
110189 | 1.1025 | 0.9760 | 26.1418 | 26.2799 | 27.4200 | 26.6304
110190 | 1.0867 | 0.8081 | 23.3204 | 24.5224 | 29.4199 | 25.5710
110191 | 1.3278 | 0.9760 | 27.7760 | 30.9481 | 28.7481 | 29.1019
110192 | 1.4139 | 0.9760 | 28.8267 | 30.0843 | 31.6605 | 30.2562
110193 | *** | * | 27.9161 | * | * | 27.9161
110194 | 0.8957 | 0.7840 | 19.1920 | 21.0826 | 20.5257 | 20.2837
110198 | 1.3546 | 0.9760 | 31.0557 | 32.8171 | 34.0021 | 32.6125
110200 | 2.0256 | 0.9061 | 24.9236 | 27.2974 | 29.4610 | 27.3150
110201 | 1.4532 | 0.9815 | 31.0841 | 32.0967 | 33.4267 | 32.2165
110203 | 0.9588 | 0.9760 | 29.7888 | 32.3441 | 32.0585 | 31.3300
110205 | 1.1768 | 0.8347 | 22.0207 | 23.9738 | 26.1963 | 24.0311
110209 | 0.6196 | 0.7840 | 21.1534 | 21.2428 | 22.4539 | 21.6327
110212 | 1.2087 | 0.8163 | * | * | * | *
110214 | *** | * | 37.1450 | * | * | 37.1450
110215 | 1.3584 | 0.9760 | 27.5566 | 29.5238 | 30.1770 | 29.1787
110219 | 1.4002 | 0.9760 | 28.8814 | 32.2603 | 33.4462 | 31.6155
110220 | *** | * | 37.5741 | * | * | 37.5741
110221 | *** | * | 28.0500 | * | * | 28.0500
110222 | *** | * | 35.6189 | * | * | 35.6189
110223 | *** | * | * | 25.3071 | * | 25.3071
110224 | *** | * | * | 33.6464 | * | 33.6464
110225 | 1.2065 | 0.9760 | * | 29.5373 | 28.9757 | 29.2212
110226 | 1.1952 | 0.9760 | * | * | 32.1814 | 32.1814
110228 | 0.8800 | 0.9760 | * | * | * | *
110229 | 1.2950 | 0.9760 | * | * | * | *
110230 | 1.3685 | 0.7840 | * | * | * | *
120001 | 1.7874 | 1.1608 | 34.1385 | 39.6348 | 39.0344 | 37.5738
120002 | 1.2448 | 1.1219 | 32.3784 | 34.1709 | 37.7249 | 34.7927
120004 | 1.2549 | 1.1608 | 30.0668 | 31.3555 | 32.5141 | 31.3602
120005 | 1.2949 | 1.1219 | 31.1985 | 33.6942 | 35.1716 | 33.3840
120006 | 1.2614 | 1.1608 | 31.6785 | 34.2231 | 35.7058 | 33.9086
120007 | 1.6360 | 1.1608 | 30.2473 | 30.8773 | 35.0167 | 31.9560
120010 | 1.9848 | 1.1608 | 29.5714 | 30.8526 | 34.3338 | 31.4351
120011 | 1.4966 | 1.1608 | 37.1792 | 39.1941 | 44.0519 | 40.3992
120014 | 1.3531 | 1.1219 | 30.3463 | 30.9839 | 34.2101 | 31.8841
120019 | 1.1710 | 1.1219 | 30.4257 | 33.0114 | 36.1586 | 33.2188
120022 | 1.8673 | 1.1608 | 29.9527 | 32.5326 | 34.9024 | 32.4610
120026 | 1.4190 | 1.1608 | 32.4566 | 34.2244 | 35.8383 | 34.2218
120027 | 1.3261 | 1.1608 | 28.7905 | 29.5825 | 31.8146 | 30.1238
120028 | 1.2595 | 1.1608 | 32.4847 | 34.0451 | 34.6327 | 33.7338
120029 | *** | * | * | 44.6382 | * | 44.6382
130002 | 1.4057 | 0.9100 | 24.7871 | 24.7266 | 24.3491 | 24.6130
130003 | 1.4692 | 0.9560 | 28.6158 | 28.6136 | 29.8774 | 29.0074
130006 | 1.7566 | 0.9290 | 27.2158 | 28.0048 | 28.8325 | 28.0328
130007 | 1.7298 | 0.9290 | 28.7246 | 30.4958 | 31.2250 | 30.1204
130013 | 1.3634 | 0.9290 | 30.9609 | 36.1570 | 33.8909 | 33.6903
130014 | 1.2442 | 0.9290 | 27.2543 | 27.5936 | 28.2815 | 27.7157
130018 | 1.7489 | 0.9327 | 27.3439 | 28.4041 | 30.2030 | 28.6009
130024 | 1.1981 | 0.8272 | 23.6212 | 24.8035 | 25.3184 | 24.5765
130025 | 1.2309 | 0.7597 | 21.1998 | 22.7962 | 23.8581 | 22.6625
130028 | 1.4347 | 0.9103 | 27.2195 | 28.4934 | 29.3360 | 28.3737
130049 | 1.5627 | 1.0315 | 27.3597 | 29.0185 | 29.7190 | 28.7360
130062 | *** | * | 25.6467 | 29.1925 | 28.3416 | 27.9024
130063 | 1.4068 | 0.9290 | 26.0955 | 27.7607 | 27.7664 | 27.1825
130065 | 1.9441 | 0.9327 | 21.9792 | 30.4547 | 25.8977 | 26.3095
130066 | 2.0484 | 0.9504 | * | 28.9883 | 28.1483 | 28.5227
130067 | 2.5439 | * | * | 21.3867 | 26.8243 | 23.8814
140001 | 1.1235 | 0.8797 | 22.3001 | 22.2003 | 23.2221 | 22.5895
140002 | 1.3464 | 0.8993 | 27.0165 | 27.4779 | 29.1084 | 27.9303
140007 | 1.4044 | 1.0334 | 30.7378 | 31.4024 | 32.4342 | 31.5521
140008 | 1.4402 | 1.0334 | 29.1767 | 31.8008 | 32.7592 | 31.2208
140010³ | 1.4980 | 1.0334 | 31.8806 | 40.1360 | 39.3702 | 36.3250
140B10³ | *** | * | * | 40.1360 | 39.3702 | 39.7545
140011 | 1.2146 | 0.8428 | 23.8575 | 25.8864 | 26.2125 | 25.4083
140012 | 1.3120 | 1.0334 | 29.0336 | 31.8213 | 31.9498 | 30.8913
140013 | 1.4671 | 0.9043 | 23.9269 | 25.0951 | 26.4178 | 25.1250
140015 | 1.3506 | 0.8993 | 24.4687 | 24.6409 | 25.2491 | 24.8022
140018 | 1.3731 | 1.0334 | 26.3533 | 30.7398 | 31.5604 | 29.4466
140019 | 0.9139 | 0.8428 | 21.3438 | 22.3179 | 22.2899 | 21.9787
140026 | 1.1531 | 0.8743 | 25.9669 | 26.0493 | 28.1690 | 26.7518
140029 | 1.5837 | 1.0334 | 30.2688 | 36.7722 | 36.3824 | 34.4448
140030 | 1.5087 | 1.0334 | 30.2776 | 31.6822 | 32.1110 | 31.3500
140032 | 1.2668 | 0.8993 | 26.7310 | 27.5367 | 28.5229 | 27.5996
140033 | *** | * | 27.9993 | 29.5256 | 31.4328 | 29.1997
140034 | 1.1683 | 0.8993 | 24.0470 | 24.4653 | 26.7233 | 25.0924
140040 | 1.2236 | 0.9043 | 23.2293 | 24.5589 | 28.4995 | 25.3375
140043 | 1.2647 | 0.8606 | 27.3469 | 29.8633 | 31.3736 | 29.5994
140046 | 1.4727 | 0.8993 | 24.7334 | 25.6230 | 25.7906 | 25.3934
140048 | 1.2788 | 1.0334 | 29.3877 | 30.6686 | 31.6262 | 30.5704
140049 | 1.5369 | 1.0334 | 29.0976 | 30.8617 | 32.0217 | 30.6556
140051 | 1.5614 | 1.0334 | 30.9696 | 32.1730 | 32.7506 | 31.9766
140052 | 1.3408 | 0.8993 | 25.9617 | 26.9907 | 26.7896 | 26.5759
140053 | 1.7853 | 0.9133 | 27.4518 | 28.4513 | 29.9472 | 28.5957
140054 | 1.4862 | 1.0334 | 33.1406 | 34.2378 | 34.5342 | 33.9734
140058 | 1.2320 | 0.8993 | 24.6058 | 25.2568 | 26.5660 | 25.4975
140059 | 1.0669 | 0.8993 | 22.6743 | 21.6230 | 22.8588 | 22.3764
140062 | 1.3719 | 1.0334 | 34.1230 | 36.8271 | 36.6461 | 35.8580
140063 | 1.4103 | 1.0334 | 28.6559 | 30.5465 | 31.1242 | 30.0979
140064 | 1.2191 | 0.9043 | 23.8639 | 25.7551 | 26.6231 | 25.4620
140065 | 1.4143 | 1.0334 | 30.1856 | 31.5510 | 32.4631 | 31.3610
140066 | 1.1167 | 0.8993 | 22.1524 | 22.0225 | 23.6295 | 22.6003
140067 | 1.8104 | 0.9043 | 28.3506 | 29.8982 | 30.6882 | 29.6686
140068 | 1.2321 | 1.0334 | 28.3938 | 26.7166 | 31.3440 | 28.7631
140075 | 1.2712 | 1.0334 | 26.2626 | 35.9507 | 33.6844 | 31.5469
140077 | 0.9374 | 0.8993 | 20.3999 | 21.6468 | 22.5061 | 21.5537
140080 | 1.4286 | 1.0334 | 28.8791 | 29.9067 | 30.3760 | 29.7135
140082 | 1.6302 | 1.0334 | 28.3429 | 31.0516 | 32.0539 | 30.4270
140083 | 0.9706 | 1.0334 | 26.8919 | 27.2189 | 26.1622 | 26.6852
140084 | 1.2689 | 1.0334 | 30.5036 | 30.7251 | 31.3281 | 30.8596
140088 | 1.8601 | 1.0334 | 30.5450 | 32.6866 | 34.0556 | 32.5121
140089 | 1.2292 | 0.8428 | 24.1066 | 24.9120 | 26.6942 | 25.2540
140091 | 1.7570 | 0.9353 | 27.8536 | 28.2095 | 29.4099 | 28.5130
140093 | 1.2251 | 0.9711 | 28.3298 | 28.6709 | 31.2955 | 29.5310
140094 | 1.0614 | 1.0334 | 27.3841 | 28.7647 | 28.8596 | 28.3324
140095 | 1.2067 | 1.0334 | 28.7617 | 29.7385 | 29.9452 | 29.4617
140100 | 1.4165 | 1.0334 | 41.3374 | 37.2961 | 37.3023 | 38.5940
140101 | 1.2742 | 1.0334 | 29.4081 | 28.9723 | 31.0048 | 29.8038
140103 | 1.1919 | 1.0334 | 23.6406 | 24.0926 | 25.3608 | 24.3942
140105 | *** | * | 29.5274 | 29.6590 | 30.7135 | 29.8404
140110 | 1.1348 | 1.0334 | 28.6364 | 30.3432 | 31.3460 | 30.1323
140113 | 1.5825 | 0.9353 | 29.5452 | 30.2542 | 31.6124 | 30.5020
140114 | 1.5001 | 1.0334 | 28.2151 | 29.8316 | 31.1390 | 29.7616
140115 | 1.2630 | 1.0334 | 26.0383 | 25.4576 | 26.2578 | 25.9061
140116 | 1.3668 | 1.0341 | 34.5537 | 34.3876 | 34.1356 | 34.3550
140117 | 1.5097 | 1.0334 | 27.7201 | 30.9679 | 28.5785 | 29.0528
140118 | 1.4623 | 1.0334 | 32.5518 | 33.1987 | 33.6634 | 33.1346
140119 | 1.8095 | 1.0334 | 34.2118 | 32.2185 | 34.3896 | 33.5609
140120 | 1.3098 | 0.9043 | 23.9724 | 25.9275 | 26.2398 | 25.4006
140122 | 1.5055 | 1.0334 | 30.5653 | 30.2888 | 32.4728 | 31.1094
140124 | 1.2504 | 1.0334 | 35.7563 | 38.2191 | 38.8956 | 37.6290
140125 | 1.1586 | 0.8993 | 22.7571 | 26.5801 | 27.6333 | 25.6694
140127 | 1.6283 | 0.9520 | 25.6668 | 27.8363 | 29.3326 | 27.6412
140130 | 1.2280 | 1.0334 | 32.6209 | 32.5425 | 34.5053 | 33.2090
140133 | 1.4054 | 1.0334 | 31.0269 | 30.3259 | 32.8907 | 31.4186
140135 | 1.4168 | 0.8840 | 23.3196 | 24.6645 | 25.9046 | 24.6639
140137 | 1.0555 | 0.8993 | 23.4174 | 31.4349 | * | 26.5232
140143 | 1.1818 | 1.0334 | 27.4499 | 26.1126 | 27.0294 | 26.8354
140145 | 1.0941 | 0.8993 | 26.0875 | 25.2040 | 26.9326 | 26.0849
140147 | 1.0800 | 0.8428 | 21.0686 | 21.1817 | 22.1026 | 21.4534
140148 | 1.6364 | 0.9133 | 25.5677 | 27.0038 | 28.9453 | 27.2136
140150 | 1.6423 | 1.0334 | 52.0970 | 35.5951 | 45.8193 | 44.1226
140151 | 0.7986 | 1.0334 | 27.0312 | 26.0825 | 27.3539 | 26.8313
140152 | *** | * | 30.2209 | 29.8647 | 32.2789 | 30.7789
140155 | 1.3176 | 1.0334 | 29.5734 | 32.7960 | 35.0804 | 32.3959
140158 | 1.3565 | 1.0334 | 27.3721 | 30.4445 | 32.1130 | 30.0627
140160 | 1.1748 | 0.9756 | 25.8684 | 27.6905 | 28.9023 | 27.4932
140161 | 1.1449 | 0.8596 | 25.2898 | 28.8266 | 28.8132 | 27.6822
140162 | 1.5506 | 0.9520 | 29.4121 | 32.1810 | 33.0967 | 31.5165
140164 | 1.7462 | 0.8993 | 24.6009 | 25.9726 | 27.3117 | 26.0022
140166 | 1.1830 | 0.8428 | 26.4800 | 26.2875 | 27.2398 | 26.6846
140167 | 1.1518 | 0.8428 | 22.8703 | 24.9904 | 24.2733 | 24.0635
140172 | 1.3856 | 1.0334 | 32.1220 | 33.0926 | 33.4586 | 32.9106
140174 | 1.5880 | 1.0334 | 30.5905 | 31.2231 | 34.2433 | 32.0655
140176 | 1.2311 | 1.0341 | 32.9794 | 32.6145 | 33.2116 | 32.9375
140177 | 0.9832 | 1.0334 | 26.4340 | 25.5725 | 26.0709 | 26.0349
140179 | 1.3098 | 1.0334 | 29.3657 | 30.2944 | 31.3599 | 30.3150
140180 | 1.1869 | 1.0334 | 27.8887 | 29.1352 | 29.7982 | 28.9361
140181 | 1.1559 | 1.0334 | 25.0226 | 27.6835 | 27.3815 | 26.6876
140182 | 1.4662 | 1.0334 | 30.1755 | 32.8972 | 26.4085 | 29.5346
140184 | 1.3087 | 0.8428 | 25.2327 | 26.6104 | 27.5837 | 26.4843
140185 | 1.4359 | 0.8993 | 25.2423 | 26.5398 | 27.9409 | 26.5570
140186 | 1.4967 | 1.0334 | 29.8022 | 30.7212 | 41.2521 | 33.4222
140187 | 1.5073 | 0.8993 | 24.8332 | 25.5873 | 26.9246 | 25.7702
140189 | 1.1619 | 0.8428 | 22.5965 | 24.7013 | 29.1349 | 25.4810
140191 | 1.3271 | 1.0334 | 28.5836 | 31.9943 | 29.7497 | 30.0468
140197 | 1.0759 | 1.0334 | 24.0463 | 24.9103 | 24.8700 | 24.5943
140200 | 1.5134 | 1.0334 | 28.8435 | 30.6641 | 31.3692 | 30.2724
140202 | 1.4541 | 1.0334 | 32.7915 | 32.9433 | 34.3762 | 33.4137
140206 | 1.2021 | 1.0334 | 29.7953 | 29.6275 | 31.1376 | 30.1671
140207 | 1.1245 | 1.0334 | 26.0535 | 28.2262 | 31.6793 | 28.4326
140208 | 1.6424 | 1.0334 | 29.5380 | 31.4035 | 26.1728 | 28.8260
140209 | 1.5750 | 0.9043 | 26.3230 | 29.7965 | 27.4032 | 27.7656
140210 | 1.0667 | 0.8428 | 20.6954 | 19.2053 | 22.2507 | 20.7150
140211 | 1.3317 | 1.0334 | 30.3286 | 31.4539 | 34.5893 | 32.1847
140213 | 1.2466 | 1.0334 | 31.6926 | 32.1031 | 33.3902 | 32.4246
140217 | 1.4736 | 1.0334 | 32.1277 | 32.9404 | 33.2151 | 32.8054
140223 | 1.4965 | 1.0334 | 31.7267 | 33.5083 | 34.6969 | 33.3189
140224 | 1.3728 | 1.0334 | 29.6181 | 31.2237 | 30.1050 | 30.3035
140228 | 1.4758 | 0.9862 | 27.9456 | 28.2855 | 28.7440 | 28.3351
140231 | 1.4738 | 1.0334 | 30.0236 | 34.8291 | 35.2199 | 33.3358
140233 | 1.6742 | 0.9862 | 29.7093 | 31.5168 | 32.3348 | 31.1982
140234 | 1.0951 | 0.8743 | 24.5476 | 25.7353 | 25.7647 | 25.3480
140239 | 1.5089 | 0.9862 | 31.1879 | 31.0918 | 33.7241 | 31.9840
140240 | 1.4543 | 1.0334 | 31.5637 | 32.7986 | 28.0966 | 30.7320
140242 | 1.5121 | 1.0334 | 34.6120 | 35.2351 | 36.6696 | 35.4606
140250 | 1.2451 | 1.0334 | 29.6305 | 31.2533 | 32.9392 | 31.3008
140251 | 1.3749 | 1.0334 | 28.0622 | 28.3598 | 29.5921 | 28.6552
140252 | 1.4509 | 1.0334 | 34.4268 | 35.8762 | 36.1503 | 35.4953
140258 | 1.5542 | 1.0334 | 34.2333 | 33.0093 | 34.5667 | 33.9309
140275 | 1.3633 | 0.8606 | 27.8186 | 28.5064 | 26.7377 | 27.6728
140276 | 1.9223 | 1.0334 | 31.6359 | 32.1048 | 32.7052 | 32.1538
140280 | 1.4877 | 0.8606 | 24.9401 | 26.6536 | 26.9815 | 26.2013
140281 | 1.7853 | 1.0334 | 33.3903 | 35.6589 | 37.5673 | 35.5869
140286 | 1.2031 | 1.0334 | 30.3237 | 32.0048 | 32.2227 | 31.5106
140288 | 1.4810 | 1.0334 | 31.5197 | 31.5944 | 32.5446 | 31.8981
140289 | 1.2801 | 0.8993 | 23.8452 | 25.6847 | 26.0851 | 25.2075
140290 | 1.3716 | 1.0334 | 31.8135 | 32.5247 | 35.9647 | 33.4767
140291 | 1.5227 | 1.0334 | 31.9052 | 33.8706 | 32.7857 | 32.8705
140292 | 1.1466 | 1.0334 | 28.5094 | 30.6917 | 32.4476 | 30.3851
140294 | 1.1034 | 0.8428 | 24.0750 | 26.1595 | 26.9772 | 25.8209
140300 | 1.1745 | 1.0334 | 35.1494 | 42.5240 | 37.1204 | 38.1961
140301 | 1.0712 | 1.0334 | 49.9507 | 39.4295 | 38.0581 | 40.7701
140303 | 2.1328 | 1.0334 | 29.6470 | * | 32.2920 | 30.8365
150001 | 1.1896 | 0.9827 | 28.9075 | 31.8089 | 32.9797 | 31.2747
150002 | 1.4747 | 1.0328 | 26.6222 | 27.6481 | 28.1057 | 27.6106
150003 | 1.5897 | 0.8960 | 26.7585 | 26.9771 | 29.0575 | 27.6017
150004 | 1.4569 | 1.0328 | 28.7336 | 30.9626 | 31.6781 | 30.3933
150005 | 1.2612 | 0.9827 | 29.5371 | 30.5367 | 31.6148 | 30.6086
150006 | 1.3702 | 0.9353 | 25.6265 | 27.1364 | 28.3389 | 27.0718
150007 | 1.4525 | 0.9254 | 29.4971 | 30.0500 | 31.0369 | 30.2270
150008 | 1.4479 | 1.0328 | 27.5703 | 27.0525 | 29.1473 | 27.9333
150009 | 1.4395 | 0.9238 | 25.4496 | 25.7616 | 26.1499 | 25.7891
150010 | 1.5221 | 0.9254 | 27.2272 | 28.4118 | 28.2599 | 27.9486
150011 | 1.3308 | 0.9707 | 25.3178 | 26.7686 | 27.7857 | 26.5785
150012 | 1.5537 | 0.9644 | 30.0348 | 31.2282 | 30.4819 | 30.5840
150015 | 1.3616 | 0.9320 | 28.0931 | 27.3811 | 30.1474 | 28.5072
150017 | 1.8267 | 0.9004 | 26.3973 | 26.3379 | 27.1249 | 26.6388
150018 | 1.5912 | 0.9353 | 27.3689 | 29.1137 | 30.0478 | 28.9018
150021 | 1.8098 | 0.9004 | 28.9196 | 30.0030 | 31.1140 | 30.0142
150022 | 1.0584 | 0.8637 | 23.1041 | 23.8971 | 26.8394 | 24.4351
150023 | 1.5869 | 0.9707 | 26.9095 | 27.7520 | 30.3560 | 28.3734
150024 | 1.4757 | 0.9827 | 28.1655 | 28.4170 | 30.6133 | 29.0364
150026 | 1.3515 | 0.9353 | 28.6517 | 30.4967 | 31.9378 | 30.4512
150029 | 1.3421 | 0.9644 | 28.7187 | 29.9307 | 29.7461 | 29.4587
150030 | 1.1963 | 0.9707 | 29.1493 | 29.3588 | 31.1964 | 29.9386
150033 | 1.4204 | 0.9827 | 28.6838 | 29.7744 | 33.1990 | 30.5371
150034 | 1.4624 | 1.0328 | 28.6429 | 28.0434 | 30.0027 | 28.9357
150035 | 1.5482 | 0.9320 | 26.9700 | 27.8904 | 29.2014 | 28.0374
150037 | 1.2521 | 0.9827 | 31.0935 | 29.0161 | 30.4623 | 30.1390
150038 | 1.1402 | 0.9827 | 29.3156 | 33.0112 | 31.9539 | 31.4556
150042 | 1.3656 | 0.8791 | 22.8786 | 25.1403 | 25.2440 | 24.4073
150044 | 1.4443 | 0.9238 | 25.2137 | 25.2685 | 25.9260 | 25.4830
150045 | 1.0453 | 0.9004 | 26.9818 | 27.5340 | 29.4308 | 27.9971
150046 | 1.5575 | 0.9130 | 24.5593 | 26.5876 | 27.6210 | 26.2766
150047 | 1.7059 | 0.9004 | 25.5194 | 25.8497 | 27.1835 | 26.1904
150048 | 1.4375 | 0.9583 | 27.1233 | 28.1525 | 29.5578 | 28.3255
150051 | 1.6111 | 0.9707 | 26.5655 | 28.9157 | 30.3742 | 28.6837
150056 | 1.9795 | 0.9827 | 28.8727 | 29.3500 | 30.5758 | 29.6152
150057 | 2.0656 | 0.9827 | 28.9529 | 30.3287 | 29.1268 | 29.4500
150058 | 1.6334 | 0.9644 | 29.1444 | 29.1255 | 31.7536 | 30.0001
150059 | 1.4852 | 0.9827 | 31.4987 | 31.3362 | 36.2553 | 33.0486
150061 | 1.1299 | 0.8479 | 21.3711 | 22.6746 | 23.2415 | 22.4414
150064 | 1.2404 | 0.8479 | 25.4987 | 28.7978 | 28.9419 | 27.8440
150065 | 1.2493 | 0.9707 | 27.9283 | 30.2053 | 30.8254 | 29.6617
150069 | 1.1831 | 0.9583 | 26.2028 | 26.0909 | 27.0720 | 26.4651
150072 | 1.1283 | 0.8584 | 21.2120 | 21.7644 | 23.0612 | 21.9963
150074 | 1.4309 | 0.9827 | 25.9321 | 28.5655 | 29.4124 | 28.0120
150075 | 1.1406 | 0.9004 | 25.1568 | 25.7245 | 26.5972 | 25.8595
150076 | 1.2974 | 0.9353 | 29.3249 | 30.1120 | 29.2703 | 29.5697
150082 | 1.5914 | 0.8525 | 28.3494 | 26.4544 | 28.1280 | 27.6224
150084 | 1.8344 | 0.9827 | 31.1720 | 33.1784 | 34.8522 | 33.0904
150086 | 1.2227 | 0.9583 | 25.1992 | 26.6745 | 27.2568 | 26.4089
150088 | 1.2980 | 0.9707 | 27.2103 | 29.1509 | 30.2378 | 28.8855
150089 | 1.5552 | 0.8479 | 24.7233 | 24.8045 | 26.7270 | 25.4200
150090 | 1.5584 | 1.0328 | 30.4835 | 30.6412 | 30.8754 | 30.6754
150091 | 1.1569 | 0.9004 | 30.4234 | 32.1627 | 33.0402 | 31.9030
150097 | 1.1855 | 0.9827 | 27.7468 | 29.1359 | 29.4776 | 28.7947
150100 | 1.6039 | 0.8525 | 25.7997 | 26.9724 | 27.6326 | 26.7725
150101 | 1.0840 | 0.9004 | 29.0301 | 30.5475 | 31.6018 | 30.3780
150102 | 1.0268 | 0.9320 | 25.7424 | 25.8742 | 25.4704 | 25.6892
150104 | 1.1443 | 0.9827 | 28.2552 | 28.7788 | 30.8970 | 29.3100
150109 | 1.5465 | 0.8960 | 25.3367 | 26.8464 | 28.7412 | 26.9892
150112 | 1.4960 | 0.9707 | 28.0068 | 29.8540 | 31.7711 | 29.8902
150113 | 1.2097 | 0.9707 | 24.7960 | 25.9814 | 26.9088 | 25.9097
150115 | 1.3474 | 0.8479 | 22.0747 | 22.5793 | 22.3560 | 22.3407
150125 | 1.5500 | 1.0328 | 27.6535 | 29.3596 | 31.2081 | 29.4320
150126 | 1.3476 | 1.0328 | 28.9454 | 29.4300 | 32.5356 | 30.2297
150128 | 1.4329 | 0.9827 | 28.7810 | 29.5008 | 31.1046 | 29.8290
150129 | 1.1906 | 0.9827 | 29.7398 | 31.4317 | 32.9621 | 31.3709
150132 | *** | * | 27.6560 | * | * | 27.6560
150133 | 1.2148 | 0.9353 | 25.1322 | 24.2538 | 23.0651 | 24.1076
150134 | *** | * | 26.3249 | 21.6740 | 27.3963 | 24.7453
150146 | 1.1296 | 0.9547 | 29.5256 | 30.3343 | 31.8743 | 30.6315
150147 | 1.4431 | 1.0328 | 27.2339 | 26.1646 | 28.9248 | 27.6245
150149 | 0.9337 | 0.8525 | 23.7026 | 24.9629 | 25.3324 | 24.7398
150150 | 1.3583 | 0.9004 | 27.0542 | 26.7700 | 26.5963 | 26.7808
150153 | 2.3079 | 0.9827 | 32.1022 | 35.0617 | 37.3920 | 35.1885
150154 | 2.4814 | 0.9827 | 29.8514 | 29.8894 | 30.5758 | 30.1310
150155 | *** | * | 45.0121 | * | * | 45.0121
150156 | *** | * | 25.9681 | * | * | 25.9681
150157 | 1.7719 | 0.9827 | * | 32.3106 | 32.9148 | 32.6153
150158 | 1.2495 | 0.9827 | * | * | 30.4337 | 30.4337
150159 | *** | * | * | * | 27.5574 | 27.5574
150160 | 2.0971 | 0.9827 | * | * | 28.6108 | 28.6108
150161 | 1.6006 | 0.9827 | * | * | * | *
150162 | 1.8254 | 0.9827 | * | * | * | *
150163 | 1.0174 | 0.9238 | * | * | * | *
150164 | 1.1402 | 0.9419 | * | * | * | *
150165 | 1.3537 | 0.9320 | * | * | * | *
150166 | 1.0260 | 0.9320 | * | * | * | *
160001 | 1.2035 | 0.8881 | 24.5108 | 25.7255 | 25.8676 | 25.3903
160005 | 1.2221 | 0.8709 | 23.1034 | 24.7755 | 24.8586 | 24.2778
160008 | 1.0503 | 0.8709 | 22.1402 | 22.4758 | 24.1271 | 22.9093
160013 | 1.1826 | 0.8888 | 24.0956 | 24.4099 | 25.5144 | 24.6765
160016 | 1.5621 | 0.8881 | 24.5338 | 27.1460 | 26.6516 | 26.0785
160024 | 1.5070 | 0.9460 | 27.4158 | 29.3756 | 32.4228 | 29.7117
160028 | 1.3546 | 0.9360 | 27.8535 | 30.0576 | 29.8324 | 29.2977
160029 | 1.5290 | 0.9337 | 28.7324 | 30.6687 | 32.2010 | 30.5406
160030 | 1.4497 | 0.9457 | 28.7786 | 30.9415 | 30.4757 | 30.0901
160032 | 1.0815 | 0.8944 | 25.4662 | 26.2935 | 28.5629 | 26.7834
160033 | 1.6123 | 0.8709 | 26.5315 | 27.2060 | 27.4787 | 27.0636
160040 | 1.3560 | 0.9248 | 25.9032 | 26.8110 | 28.2966 | 27.0153
160045 | 1.6650 | 0.8746 | 26.6463 | 27.5289 | 28.1662 | 27.4620
160047 | 1.3438 | 0.9360 | 26.0227 | 28.1280 | 29.4261 | 27.7499
160057 | 1.3696 | 0.9107 | 25.1272 | 25.6274 | 27.7953 | 26.1996
160058 | 1.9928 | 0.9337 | 28.4167 | 28.9924 | 29.8956 | 29.1104
160064 | 1.5613 | 0.9248 | 28.7668 | 28.4209 | 33.6067 | 30.2004
160067 | 1.3956 | 0.9248 | 24.8137 | 26.0243 | 26.7671 | 25.8721
160069 | 1.5119 | 0.8709 | 27.4473 | 27.6157 | 28.4064 | 27.8032
160079 | 1.4505 | 0.8746 | 24.7372 | 26.1618 | 28.5014 | 26.4591
160080 | 1.2258 | 0.8709 | 25.8252 | 27.2370 | 27.8729 | 26.9717
160082 | 1.7394 | 0.9460 | 27.4718 | 28.7831 | 31.7482 | 29.3428
160083 | 1.6319 | 0.9460 | 27.3004 | 28.3921 | 29.9472 | 28.5559
160089 | 1.2114 | 0.9107 | 23.2149 | 23.2888 | 23.9184 | 23.4747
160101 | 1.1157 | 0.9460 | 25.0503 | 25.4740 | 26.8503 | 25.8119
160104 | 1.6343 | 0.8709 | 28.1891 | 29.8126 | 27.0516 | 28.2560
160110 | 1.4968 | 0.9248 | 26.6633 | 28.8134 | 29.9071 | 28.6042
160112 | 1.2363 | 0.8709 | 24.7957 | 25.2886 | 26.1706 | 25.4488
160117 | 1.3763 | 0.8709 | 25.4659 | 27.3927 | 24.3309 | 25.6596
160122 | 1.1372 | 0.8709 | 23.9177 | 24.4996 | 25.3176 | 24.5888
160124 | 1.1221 | 0.8709 | 22.5482 | 24.3063 | 25.5031 | 24.1100
160146 | 1.4330 | 0.8745 | 22.6949 | 24.8485 | 25.1816 | 24.2135
160147 | 1.2223 | 0.8881 | 28.6303 | 29.8992 | 33.6376 | 30.7344
160153 | 1.6977 | 0.8745 | 29.9378 | 30.6173 | 30.4338 | 30.3298
160155 | 2.0066 | 0.8709 | * | * | * | *
170001 | 1.1220 | 0.8086 | 23.1260 | 23.8863 | 24.5932 | 23.8766
170006 | 1.3222 | 0.9351 | 24.2068 | 27.1033 | 28.3509 | 26.6135
170009 | 1.0785 | 0.9453 | 30.9025 | 29.6386 | 32.2817 | 30.9531
170010 | 1.2334 | 0.8086 | 23.9707 | 25.5573 | 28.1793 | 25.9458
170012 | 1.6303 | 0.8785 | 26.1367 | 27.1195 | 28.7852 | 27.3256
170013 | 1.7166 | 0.8785 | 25.2476 | 26.7124 | 28.3035 | 26.7042
170014 | 1.0389 | 0.9453 | 23.8135 | 24.2322 | 25.8151 | 24.6246
170016 | 1.5893 | 0.8873 | 25.8061 | 26.7536 | 28.6802 | 27.0793
170017 | 1.1359 | 0.8980 | 26.9657 | 27.2925 | 29.1445 | 27.8530
170020 | 1.5631 | 0.8785 | 23.2757 | 24.1149 | 25.0539 | 24.1602
170023 | 1.4632 | 0.8785 | 24.0561 | 23.9812 | 24.8758 | 24.3255
170027 | 1.4379 | 0.8086 | 23.1766 | 23.4037 | 24.1118 | 23.5721
170033 | 1.3317 | 0.8086 | 21.9709 | 24.1882 | 25.0393 | 23.6609
170039 | 0.9397 | 0.8980 | 26.9852 | 26.0952 | 23.5961 | 25.4102
170040 | 1.9332 | 0.9453 | 28.4458 | 30.2468 | 30.0807 | 29.6659
170049 | 1.5092 | 0.9453 | 25.2070 | 26.4086 | 31.8575 | 27.9185
170058 | 1.0992 | 0.8086 | 22.9210 | 26.5949 | 28.1316 | 25.7970
170068 | 1.2130 | 0.8885 | 23.0635 | 23.8812 | 23.8492 | 23.5912
170074 | 1.1942 | 0.8086 | 23.7829 | 23.0567 | 24.8855 | 23.9145
170075 | 0.8436 | 0.8086 | 19.7760 | 19.9351 | 21.1954 | 20.2943
170086 | 1.5732 | 0.8873 | 26.1362 | 26.3615 | 28.5234 | 27.0437
170094 | 0.9157 | 0.8086 | 21.5295 | 16.5136 | 17.1709 | 18.5438
170103 | 1.2784 | 0.8980 | 23.8042 | 24.2003 | 25.5653 | 24.5527
170104 | 1.4059 | 0.9453 | 26.2990 | 27.6211 | 29.5069 | 27.8074
170105 | 1.1156 | 0.8086 | 21.9606 | 22.7412 | 23.4317 | 22.7174
170109 | 1.0350 | 0.9453 | 23.1088 | 23.8515 | 29.0177 | 25.4500
170110 | 0.8962 | 0.8086 | 23.3260 | 23.9572 | 24.7910 | 24.0231
170114 | 0.5755 | * | * | * | * | *
170120 | 1.3720 | 0.9351 | 22.0253 | 22.2805 | 23.5271 | 22.6059
170122 | 1.6975 | 0.8980 | 26.6605 | 28.7175 | 29.6314 | 28.2843
170123 | 1.6684 | 0.8980 | 27.6653 | 27.0843 | 28.7608 | 27.8479
170133 | 1.0196 | 0.9453 | 23.1226 | 25.2301 | 25.7108 | 24.7246
170137 | 1.3249 | 0.8086 | 24.7096 | 25.3395 | 26.8014 | 25.6444
170142 | 1.3711 | 0.8720 | 23.9527 | 24.6019 | 25.5550 | 24.7027
170145 | 1.0867 | 0.8086 | 23.2162 | 23.3967 | 25.3728 | 23.9852
170146 | 1.5002 | 0.9453 | 29.8858 | 29.0720 | 31.6994 | 30.2197
170147 | *** | * | 22.4973 | 24.3268 | 21.4565 | 23.0046
170150 | 1.1410 | 0.8252 | 20.9448 | 19.6160 | 22.0251 | 20.8653
170166 | 1.0165 | 0.8086 | 21.0762 | 22.6968 | 24.1063 | 22.6638
170175 | 1.4832 | 0.8785 | 25.6281 | 26.7229 | 31.7582 | 28.0191
170176 | 1.5583 | 0.9453 | 27.2332 | 29.0735 | 30.1114 | 28.8494
170180 | *** | * | 32.5010 | * | * | 32.5010
170182 | 1.4504 | 0.9453 | 27.3503 | 28.9710 | 30.3781 | 28.8971
170183 | 1.9858 | 0.8980 | 25.8340 | 26.1890 | 27.7178 | 26.5683
170185 | 1.2572 | 0.9453 | 27.8139 | 28.1780 | 29.3202 | 28.5075
170186 | 2.5220 | 0.8980 | 32.8392 | 30.2613 | 30.7638 | 31.2790
170187 | 1.6421 | 0.8086 | 22.8493 | 24.1461 | 24.6391 | 23.8933
170188 | 1.9852 | 0.9453 | 30.6844 | 32.2573 | 33.7221 | 32.2678
170190 | 1.0158 | 0.8720 | 22.9540 | 26.2625 | 27.3023 | 25.5425
170191 | 1.8259 | 0.8086 | 22.1197 | 24.3813 | 26.0279 | 24.3247
170192 | 1.7639 | 0.8980 | 26.2724 | 27.7421 | 30.9200 | 28.4741
170193 | 1.3485 | 0.8785 | 20.6821 | 24.8531 | 24.4126 | 22.9315
170194 | 1.2331 | 0.9453 | 29.9014 | 27.6989 | 28.1972 | 28.5250
170195 | 2.4249 | 0.9453 | 30.1001 | 29.5947 | 29.1763 | 29.5492
170196 | 2.4635 | 0.8980 | * | 32.1832 | 29.9641 | 30.9601
170197 | 2.3250 | 0.8980 | * | * | * | *
170198 | 1.9320 | 0.8086 | * | * | * | *
180001 | 1.3069 | 0.9590 | 27.6917 | 29.7423 | 29.9655 | 29.1412
180002 | 1.0662 | 0.8062 | 25.7862 | 26.5488 | 27.3339 | 26.5496
180004 | 1.0759 | 0.7837 | 22.0797 | 20.8805 | 22.0615 | 21.6721
180005 | 1.1460 | 0.8767 | 24.9779 | 25.6159 | 27.4304 | 26.0705
180007 | 1.5443 | 0.8950 | 25.7042 | 27.1924 | 26.9425 | 26.6126
180009 | 1.7525 | 0.9127 | 26.4101 | 27.3228 | 28.7030 | 27.5584
180010 | 1.8312 | 0.8950 | 25.6153 | 27.7600 | 28.1667 | 27.1559
180011 | 1.6281 | 0.8756 | 25.5463 | 24.9909 | 25.0355 | 25.1733
180012 | 1.4715 | 0.9123 | 25.6000 | 26.7279 | 27.2829 | 26.5352
180013 | 1.5001 | 0.9276 | 23.7075 | 24.8125 | 26.8088 | 25.0983
180016 | 1.2868 | 0.9245 | 24.8408 | 24.7091 | 26.9522 | 25.4644
180017 | 1.3104 | 0.8230 | 21.8885 | 21.9715 | 25.4164 | 23.1027
180018 | 1.3551 | 0.7837 | 20.9857 | 23.3035 | 23.9155 | 22.7447
180019 | 1.1134 | 0.7837 | 24.0283 | 24.6279 | 27.6787 | 25.4951
180020 | 1.0616 | 0.7837 | 24.6953 | 25.9975 | 26.8856 | 25.8897
180021 | 0.9634 | 0.7837 | 20.7950 | 22.0740 | 22.3752 | 21.7644
180024 | 1.1593 | 0.9123 | 31.1159 | 26.3532 | 26.9538 | 28.0398
180025 | 1.2308 | 0.9245 | 22.6897 | 28.5935 | 28.4153 | 26.7267
180027 | 1.2008 | 0.8302 | 20.8303 | 21.7639 | 23.3873 | 21.9095
180029 | 1.4670 | 0.8756 | 25.6479 | 26.1528 | 26.3892 | 26.0660
180035 | 1.4807 | 0.9590 | 31.0794 | 32.8461 | 34.0348 | 32.7266
180036 | 1.3287 | 0.9127 | 25.2972 | 25.6959 | 30.2621 | 27.0558
180037 | *** | * | 26.3132 | 27.8506 | 33.1874 | 29.1431
180038 | 1.5441 | 0.8764 | 26.0440 | 26.9752 | 28.2413 | 27.1328
180040 | 1.8313 | 0.9245 | 27.9979 | 28.5162 | 30.2450 | 28.9050
180043 | 1.1741 | 0.7978 | 20.9326 | 20.6439 | 24.0566 | 21.9172
180044 | 1.5998 | 0.8767 | 24.4569 | 25.8060 | 25.7978 | 25.3776
180045 | 1.3277 | 0.9590 | 27.4732 | 29.4127 | 29.9346 | 28.9840
180046 | 1.0026 | 0.8950 | 27.1034 | 27.0962 | 28.5552 | 27.5846
180048 | 1.3531 | 0.9123 | 23.9230 | 24.3696 | 24.6786 | 24.3395
180049 | 1.4067 | 0.8756 | 22.4769 | 24.3699 | 23.5737 | 23.4731
180050 | 1.1306 | 0.7919 | 26.3604 | 25.9557 | 26.7714 | 26.3675
180051 | 1.2266 | 0.8302 | 23.5299 | 24.3916 | 25.2356 | 24.4156
180053 | 0.9909 | 0.7837 | 21.3044 | 22.1921 | 23.0290 | 22.2290
180056 | 1.1314 | 0.8531 | 24.3074 | 24.5326 | 26.3959 | 25.0679
180064 | 1.2227 | 0.8151 | 17.1009 | 20.1799 | 21.9508 | 19.7362
180066 | 1.1136 | 0.9276 | 22.2713 | 23.7860 | 24.9530 | 23.6732
180067 | 1.9454 | 0.8950 | 26.0238 | 27.9852 | 29.6029 | 27.9902
180069 | 1.0930 | 0.8767 | 26.3701 | 26.6714 | 27.6777 | 26.8870
180070 | 1.1929 | 0.8077 | 20.6741 | 20.2189 | 21.3693 | 20.7657
180078 | 1.0594 | 0.8767 | 27.6806 | 28.2762 | 29.2125 | 28.3867
180079 | 1.1477 | 0.8096 | 20.2100 | 23.6005 | 24.9898 | 22.8630
180080 | 1.2693 | 0.7889 | 21.5818 | 23.7788 | 25.2996 | 23.5872
180087 | 1.2269 | 0.7837 | 20.8841 | 22.0302 | 22.1044 | 21.6767
180088 | 1.7069 | 0.9245 | 28.0916 | 28.6107 | 30.7936 | 29.1743
180092 | 1.1677 | 0.8950 | 23.7909 | 23.7866 | 25.2884 | 24.3103
180093 | 1.6170 | 0.8131 | 20.5807 | 21.4392 | 22.3324 | 21.4596
180095 | 1.0117 | 0.7837 | 17.9146 | 21.5639 | 21.2154 | 20.0750
180101 | 1.3146 | 0.8950 | 27.4506 | 28.1621 | 28.8758 | 28.2013
180102 | 1.5042 | 0.8302 | 21.0896 | 25.2343 | 27.3887 | 24.3942
180103 | 2.0473 | 0.8950 | 28.4583 | 28.1734 | 29.7626 | 28.8044
180104 | 1.5676 | 0.8302 | 25.6157 | 25.9689 | 27.1274 | 26.2415
180105 | 0.9511 | 0.7837 | 21.6002 | 23.1917 | 24.3659 | 23.0870
180106 | 0.8902 | 0.7837 | 20.2884 | 20.7220 | 21.2265 | 20.7447
180115 | 0.9040 | 0.7837 | 20.5539 | 20.3089 | 22.7088 | 21.1833
180116 | 1.1839 | 0.8320 | 23.5354 | 25.8927 | 26.8836 | 25.4592
180117 | 0.9408 | 0.7837 | 22.8469 | 24.7378 | 24.9567 | 24.2081
180124 | 1.3223 | 0.9276 | 24.8292 | 25.4664 | 27.1341 | 25.8362
180127 | 1.3584 | 0.9123 | 24.6774 | 26.3947 | 28.3610 | 26.4554
180128 | 0.9392 | 0.7837 | 22.6056 | 23.8144 | 23.7770 | 23.4109
180130 | 1.6779 | 0.9245 | 27.8900 | 29.1712 | 29.6725 | 28.9399
180132 | 1.4346 | 0.8756 | 24.5105 | 25.3789 | 29.0546 | 26.3805
180138 | 1.1879 | 0.9245 | 28.1901 | 28.6871 | 29.2584 | 28.7287
180139 | 1.0065 | 0.7837 | 23.3569 | 24.7575 | 26.2434 | 24.7763
180141 | 1.8666 | 0.9245 | 25.3357 | 27.5912 | 28.7307 | 27.2557
180143 | 1.6777 | 0.8950 | 28.1924 | 30.8734 | 28.2122 | 29.0557
180144 | *** | * | 29.5052 | * | * | 29.5052
180147 | *** | * | * | 31.1615 | * | 31.1615
180148 | *** | * | * | 30.1250 | * | 30.1250
180149 | 1.0087 | 0.7837 | * | * | 16.4909 | 16.4909
180150 | 1.8775 | 0.9245 | * | * | * | *
190001 | 1.0903 | 0.7682 | 22.1394 | 22.1569 | 22.5328 | 22.2811
190002 | 1.5733 | 0.8438 | 23.3368 | 24.6984 | 25.9371 | 24.6300
190003 | 1.4214 | 0.8438 | 25.8294 | 26.7844 | 28.0895 | 26.9253
190004 | 1.5112 | 0.7870 | 25.3473 | 25.0803 | 24.6536 | 25.0228
190005 | 1.5223 | 0.9140 | 22.6029 | 24.2899 | 28.3303 | 24.2844
190006 | 1.2838 | 0.8438 | 22.7979 | 24.8836 | 25.2490 | 24.3632
190007 | 1.1753 | 0.7682 | 21.8205 | 23.1426 | 24.0527 | 23.0456
190008 | 1.7450 | 0.7870 | 24.6074 | 26.3638 | 27.2663 | 26.0087
190009 | 1.3606 | 0.8127 | 21.1005 | 24.0696 | 25.0269 | 23.3881
190011 | 1.0090 | 0.7961 | 21.4052 | 21.6991 | 21.9165 | 21.6827
190013 | 1.5563 | 0.7682 | 21.4573 | 23.7333 | 22.8372 | 22.6699
190014 | 1.2264 | 0.7682 | 22.7151 | 22.6405 | 24.5399 | 23.2756
190015 | 1.3070 | 0.9140 | 23.7789 | 25.1767 | 26.9572 | 25.3336
190017 | 1.4841 | 0.8438 | 24.5390 | 24.7537 | 25.5465 | 24.9732
190019 | 1.7201 | 0.8127 | 24.0468 | 25.4624 | 27.5462 | 25.7258
190020 | 1.2827 | 0.8142 | 22.1967 | 23.4602 | 24.2346 | 23.3365
190025 | 1.3344 | 0.7682 | 23.5007 | 24.5024 | 26.5944 | 24.8092
190026 | 1.6101 | 0.8127 | 23.7702 | 24.1556 | 25.3736 | 24.4572
190027 | 1.6236 | 0.7682 | 24.3006 | 26.7132 | 31.5026 | 27.4175
190034 | 1.2092 | 0.7871 | 20.7334 | 21.2130 | 22.9658 | 21.6044
190036 | 1.6604 | 0.9140 | 25.4164 | 25.6551 | 30.2172 | 26.9231
190037 | *** | * | 19.4071 | 20.7271 | 28.0447 | 21.7538
190039 | 1.5115 | 0.9140 | 24.4386 | 25.4003 | 24.6075 | 24.8194
190040 | 1.4212 | 0.9140 | 28.6297 | 28.0169 | 28.2426 | 28.2870
190041 | 1.4648 | 0.8547 | 28.5376 | 28.0050 | 28.7683 | 28.4375
190044 | 1.2898 | 0.7943 | 20.9993 | 21.2604 | 22.2461 | 21.5123
190045 | 1.5439 | 0.9140 | 25.8238 | 27.1996 | 27.5854 | 26.9044
190046 | 1.4309 | 0.9140 | 23.8552 | 24.7370 | * | 24.2936
190050 | 1.1484 | 0.7726 | 21.0259 | 20.9142 | 22.7951 | 21.5828
190053 | 1.2074 | 0.7783 | 17.9788 | 18.5819 | 20.6282 | 19.0432
190054 | 1.3250 | 0.7767 | 23.1471 | 22.7011 | 23.5129 | 23.1218
190060 | 1.4709 | 0.7682 | 23.7393 | 22.6291 | 19.8899 | 21.9229
190064 | 1.6110 | 0.8142 | 23.1358 | 23.7298 | 26.9941 | 24.6370
190065 | 1.5904 | 0.8142 | 22.1880 | 23.1202 | 22.9847 | 22.7749
190078 | 1.0906 | 0.7869 | 22.2431 | 22.2346 | 25.6940 | 23.4396
190079 | 1.1812 | 0.9140 | 24.0985 | 23.8192 | 25.3327 | 24.4472
190081 | 0.8736 | 0.7682 | 20.0121 | 21.4510 | 20.4101 | 20.6028
190086 | 1.2760 | 0.7785 | 22.0610 | 22.2895 | 22.2837 | 22.2151
190088 | 1.1378 | 0.8547 | 23.8562 | 23.1638 | 24.7445 | 23.9122
190090 | 1.0338 | 0.7682 | 23.1241 | 24.3303 | 25.8607 | 24.3672
190098 | 1.7595 | 0.8547 | 25.6854 | 25.7449 | 27.5043 | 26.3126
190099 | 1.0153 | 0.7871 | 22.0610 | 23.2343 | 25.7481 | 23.6613
190102 | 1.5441 | 0.8438 | 27.3126 | 26.9700 | 28.3071 | 27.5010
190106 | 1.1415 | 0.8127 | 23.5376 | 26.6227 | 24.2755 | 24.7510
190111 | 1.6311 | 0.8547 | 25.5729 | 26.5722 | 27.3180 | 26.5044
190114 | 1.0602 | 0.7682 | 17.2678 | 19.1586 | 20.3639 | 18.9135
190115 | 1.2209 | 0.8547 | 28.2066 | 26.0797 | 26.0278 | 26.7727
190116 | 1.1880 | 0.7767 | 22.3710 | 23.4013 | 24.2156 | 23.3424
190118 | 0.9844 | 0.8547 | 22.8809 | 21.2580 | 22.6571 | 22.2425
190122 | 1.4015 | 0.8142 | 22.0072 | 22.2371 | 22.8671 | 22.4040
190124 | *** | * | 26.0032 | 27.9484 | 28.6694 | 27.4838
190125 | 1.5711 | 0.7961 | 25.5463 | 24.8256 | 26.6254 | 25.6717
190128 | 1.0269 | 0.8142 | 28.3257 | 29.6682 | 31.1762 | 29.7845
190131 | 1.3325 | 0.8142 | 27.8465 | 28.6795 | 28.5938 | 28.3736
190133 | 0.9162 | 0.7784 | 18.2045 | 22.4311 | 23.9545 | 22.0666
190135 | 1.6174 | 0.9140 | 27.7540 | 30.5646 | 35.0524 | 30.2944
190140 | 0.9876 | 0.7717 | 18.9652 | 23.0485 | 23.6705 | 21.8176
190144 | 1.2672 | 0.8547 | 22.9181 | 23.7875 | 24.8858 | 23.8764
190145 | 0.9764 | 0.7772 | 19.9265 | 20.8579 | 21.3982 | 20.7221
190146 | 1.5575 | 0.9140 | 27.4824 | 28.7200 | 28.5963 | 28.2726
190151 | 0.9239 | 0.7682 | 18.7467 | 18.8391 | 20.6962 | 19.4061
190152 | 1.1740 | 0.9140 | 28.1334 | 30.8512 | 34.6485 | 30.9971
190158 | *** | * | 26.4787 | 30.6450 | 21.9727 | 27.7355
190160 | 1.5637 | 0.7961 | 22.9325 | 24.7822 | 25.8632 | 24.4460
190161 | 1.0278 | 0.7682 | 22.6187 | 22.9035 | 23.8066 | 23.1213
190162 | *** | * | 25.2953 | * | * | 25.2953
190164 | 1.1308 | 0.8127 | 25.2560 | 26.6207 | 27.7247 | 26.5855
190167 | 1.2763 | 0.8438 | 26.4669 | 25.3283 | 27.1969 | 26.3225
190175 | 1.2783 | 0.9140 | 26.0547 | 27.4256 | 30.5928 | 28.0066
190176 | 1.7856 | 0.9140 | 25.8826 | 26.2596 | * | 26.0715
190177 | 1.6464 | 0.9140 | 27.7792 | 28.2751 | 29.7229 | 28.5969
190182 | *** | * | 27.1682 | 29.8656 | 30.7038 | 29.2917
190183 | 1.2357 | 0.7870 | 22.6928 | 22.0119 | 23.3452 | 22.7038
190184 | 0.9592 | 0.7785 | 24.9476 | 24.1626 | 22.6137 | 23.9160
190185 | *** | * | 25.6394 | 28.9759 | 36.7292 | 29.7365
190190 | 0.9248 | 0.7843 | 24.3327 | 26.7043 | 27.5056 | 26.1460
190191 | 1.3760 | 0.8438 | 24.1923 | 26.1628 | 26.9649 | 25.7635
190196 | 0.9701 | 0.8438 | 24.0385 | 25.8472 | 27.7801 | 25.9541
190197 | *** | * | 25.8071 | 26.4825 | 28.7026 | 26.9781
190199 | 1.1052 | 0.8142 | 27.3304 | 32.0194 | 36.7076 | 31.6410
190200 | *** | * | 28.8173 | 27.4781 | * | 28.3200
190201 | 1.2572 | 0.7682 | 25.1010 | 24.4563 | 26.8537 | 25.4868
190202 | 1.5245 | 0.8142 | 27.6084 | 29.6612 | * | 28.6936
190203 | *** | * | 28.1832 | 29.9753 | * | 29.0343
190204 | 1.4475 | 0.9140 | 28.1033 | 30.5140 | 32.9125 | 30.3814
190205 | 1.6677 | 0.8438 | 26.6832 | 28.2484 | 30.1674 | 28.3935
190206 | 2.0426 | 0.9140 | 26.7401 | 29.2371 | 32.0163 | 29.3053
190208 | 0.8467 | 0.7682 | 28.7308 | 27.9908 | 24.9395 | 26.8779
190218 | 1.0293 | 0.8547 | 26.7262 | 28.1039 | 26.5243 | 27.0954
190236 | 1.4591 | 0.8547 | 24.7142 | 26.4614 | 26.9046 | 26.0708
190241 | 2.2461 | 0.7870 | 25.2123 | 25.7906 | 26.5307 | 25.8664
190242 | 1.1726 | 0.8142 | 24.8461 | 25.0035 | 26.9715 | 25.6625
190245 | 1.6582 | 0.7961 | 25.5751 | 26.7642 | 26.4147 | 26.2436
190246 | 1.8467 | 0.7843 | * | 22.7833 | 31.7133 | 27.5712
190247 | *** | * | 32.7499 | * | * | 32.7499
190248 | *** | * | 23.2220 | * | * | 23.2220
190249 | 1.7284 | 0.8142 | 20.0468 | 25.2523 | 27.0954 | 23.4238
190250 | 2.1126 | 0.9140 | 31.5101 | 33.3302 | 32.8347 | 32.5070
190251 | 1.3045 | 0.8142 | 21.4464 | 23.8389 | 25.1576 | 23.4538
190252 | *** | * | 23.6924 | * | * | 23.6924
190253 | *** | * | 22.8060 | 23.8037 | 22.2212 | 23.0780
190254 | *** | * | 32.9290 | * | * | 32.9290
190255 | 0.7692 | 0.8438 | 22.2412 | 16.1593 | 23.8013 | 20.1015
190256 | 0.8038 | 0.9140 | * | 25.9577 | 25.9352 | 25.9454
190257 | 1.6689 | 0.7785 | * | 26.5505 | 22.7493 | 24.6724
190258 | *** | * | 31.3715 | 26.1141 | 25.1970 | 27.3097
190259 | 2.0814 | 0.8438 | * | 26.5084 | 27.5500 | 27.0088
190260 | *** | * | * | 29.3947 | 33.6205 | 31.1711
190261 | 1.3897 | 0.7961 | * | 27.0441 | 25.4725 | 26.2680
190262 | *** | * | * | 30.3719 | * | 30.3719
190263 | 2.3211 | 0.8438 | * | 26.4202 | 29.7034 | 28.0032
190264 | *** | * | * | 26.5842 | * | 26.5842
190265 | *** | * | * | 22.6231 | 30.9242 | 27.1318
190266 | 2.3213 | 0.8142 | * | * | 24.3790 | 24.3790
190267 | 1.3728 | 0.9140 | * | * | 24.2777 | 24.2777
190268 | 1.6840 | 0.8438 | * | * | 29.1407 | 29.1407
190270 | 1.8665 | 0.9140 | * | * | * | *
190272 | 1.2748 | 0.8438 | * | * | 28.4541 | 28.4541
190273 | 1.7599 | 0.8142 | * | * | * | *
190274 | 1.6077 | 0.9140 | * | * | * | *
190275 | 1.3329 | 0.9140 | * | * | * | *
190276 | 0.8985 | 0.8547 | * | * | * | *
190277 | 0.8585 | 0.8069 | * | * | * | *
200001 | 1.3378 | 1.0115 | 25.2542 | 26.3045 | 28.1124 | 26.5658
200002 | 1.1591 | 0.8609 | 25.7212 | 27.1151 | 33.2665 | 28.3561
200008 | 1.3906 | 0.9927 | 27.7137 | 29.1836 | 29.3519 | 28.7769
200009 | 1.9207 | 0.9927 | 30.7510 | 32.5812 | 35.0717 | 32.7319
200018 | 1.3207 | 0.8609 | 23.5632 | 22.5027 | 24.6780 | 23.5929
200019 | 1.2779 | 0.9927 | 25.6649 | 27.7896 | 28.3393 | 27.2843
200020 | 1.3255 | 1.0007 | 32.6436 | 34.0916 | 34.5740 | 33.7902
200021 | 1.2204 | 0.9927 | 27.1381 | 29.2054 | 28.7597 | 28.4046
200024 | 1.6748 | 0.9644 | 27.5410 | 29.7817 | 30.9932 | 29.4721
200025 | 1.1710 | 0.9927 | 26.3124 | 28.5750 | 29.3588 | 28.1289
200031 | 1.3018 | 0.8609 | 21.2370 | 22.2151 | 23.7539 | 22.4062
200032 | 1.1782 | 0.9075 | 26.3322 | 26.8993 | 27.2259 | 26.8277
200033 | 1.8241 | 1.0115 | 29.3108 | 31.7007 | 33.6270 | 31.6171
200034 | 1.3255 | 0.9644 | 27.0582 | 27.0103 | 28.0397 | 27.3625
200037 | 1.1982 | 0.8609 | 24.1732 | 24.9418 | 26.7798 | 25.3841
200039 | 1.2970 | 0.9644 | 25.1179 | 26.6409 | 28.8029 | 26.8816
200040 | 1.2039 | 0.9927 | 25.9893 | 27.8053 | 25.5506 | 26.3685
200041 | 1.2079 | 0.8609 | 24.9670 | 26.6777 | 27.5049 | 26.3961
200050 | 1.2398 | 1.0115 | 27.6825 | 29.5033 | 30.1456 | 29.1592
200052 | 1.1153 | 0.8609 | 22.5159 | 24.4204 | 25.6220 | 24.1936
200063 | 1.1834 | 0.8609 | 25.8623 | 27.9748 | 28.2184 | 27.3991
210001 | 1.3549 | 0.9460 | 28.2858 | 29.3471 | 31.2328 | 29.6476
210002 | 1.9987 | 0.9981 | 32.3005 | 33.7388 | 36.0222 | 34.1104
210003 | 1.6222 | 1.0670 | 34.1109 | 30.7334 | 28.2547 | 30.8148
210004 | 1.4250 | 1.1018 | 33.6056 | 31.7132 | 33.9015 | 33.0686
210005 | 1.2610 | 1.1018 | 28.9554 | 29.5835 | 32.4052 | 30.3394
210006 | 1.0725 | 0.9981 | 25.9005 | 27.3620 | 27.9844 | 27.0796
210007 | 1.7994 | 0.9981 | 31.8767 | 30.7124 | 31.4098 | 31.3077
210008 | 1.4105 | 0.9981 | 24.3341 | 28.8850 | 31.8512 | 28.2947
210009 | 1.6490 | 0.9981 | 27.7900 | 30.2661 | 31.8249 | 29.9840
210011 | 1.3847 | 0.9981 | 30.8575 | 31.0966 | 30.7517 | 30.9025
210012 | 1.5973 | 0.9981 | 30.3078 | 31.1778 | 32.5280 | 31.3781
210013 | 1.1768 | 0.9981 | 28.5328 | 28.9917 | 32.1151 | 29.7726
210015 | 1.2997 | 0.9981 | 29.9261 | 32.2774 | 31.6875 | 31.3239
210016 | 1.6120 | 1.1018 | 32.3506 | 33.5493 | 35.3218 | 33.6933
210017 | 1.2904 | 0.8795 | 25.1890 | 26.8592 | 26.6187 | 26.2235
210018 | 1.2011 | 1.1018 | 29.5533 | 29.6521 | 31.5431 | 30.2539
210019 | 1.7205 | 0.9194 | 27.3731 | 28.7844 | 30.5458 | 28.9499
210022 | 1.4645 | 1.1018 | 35.4727 | 37.3092 | 36.1806 | 36.3038
210023 | 1.4878 | 1.0060 | 32.1812 | 33.0212 | 34.1635 | 33.1583
210024 | 1.8236 | 0.9981 | 30.6359 | 32.9434 | 34.5523 | 32.7596
210025 | 1.2388 | 0.8795 | 23.8552 | 24.8570 | 23.5138 | 24.0665
210027 | 1.4130 | 0.8795 | 24.6343 | 24.4821 | 25.2106 | 24.7916
210028 | 1.0692 | 0.9307 | 26.3469 | 26.7462 | 28.5196 | 27.2373
210029 | 1.2751 | 0.9981 | 31.0266 | 31.8539 | 32.9078 | 31.9592
210030 | 1.1883 | 0.8795 | 26.9763 | 32.2033 | 29.1777 | 29.4507
210032 | 1.1828 | 1.0645 | 27.0727 | 27.9359 | 29.2770 | 28.1114
210033 | 1.1640 | 0.9981 | 28.5534 | 29.2504 | 28.4332 | 28.7353
210034 | 1.2631 | 0.9981 | 30.2908 | 32.3827 | 33.0382 | 31.9423
210035 | 1.3018 | 1.0670 | 28.6484 | 27.3901 | 30.6664 | 28.8614
210037 | 1.2037 | 0.8795 | 27.3287 | 27.8394 | 28.8691 | 28.0163
210038 | 1.1889 | 0.9981 | 29.8121 | 32.3206 | 31.1537 | 31.0730
210039 | 1.1193 | 1.0670 | 30.4991 | 32.4139 | 35.1146 | 32.6902
210040 | 1.2216 | 0.9981 | 28.3559 | 29.2390 | 31.0827 | 29.5738
210043 | 1.3058 | 1.0060 | 26.6524 | 32.6961 | 29.2744 | 29.4113
210044 | 1.3653 | 0.9981 | 29.7339 | 30.3349 | 31.5436 | 30.5467
210045 | 0.9952 | 0.9194 | 14.2223 | 16.3724 | 19.6097 | 16.8133
210048 | 1.3768 | 0.9981 | 27.5043 | 26.0650 | 29.2439 | 27.5592
210049 | 1.2275 | 0.9981 | 26.0900 | 27.0161 | 28.5947 | 27.3346
210051 | 1.2948 | 1.0670 | 29.8892 | 29.5219 | 30.7936 | 30.0807
210054 | 1.2558 | 1.0670 | 27.4328 | 27.7607 | 28.6884 | 27.9549
210055 | 1.2394 | 1.0670 | 30.6941 | 31.4905 | 30.1989 | 30.7527
210056 | 1.3104 | 0.9981 | 30.0810 | 32.3518 | 32.7755 | 31.8047
210057 | 1.3542 | 1.1018 | 31.6787 | 32.8299 | 33.7244 | 32.7501
210058 | 1.1208 | 0.9981 | 31.0873 | 31.1988 | 32.0642 | 31.4531
210060 | 1.2448 | 1.0670 | 27.1764 | 29.9626 | 32.5116 | 29.9224
210061 | 1.2566 | 0.8983 | 23.1645 | 25.0253 | 26.6822 | 25.0230
220001 | 1.2273 | 1.1338 | 30.6070 | 31.2316 | 32.0820 | 31.3057
220002 | 1.3729 | 1.1338 | 32.4356 | 33.6649 | 35.9738 | 34.0706
220006 | *** | * | 30.7673 | 33.6438 | * | 32.1319
220008 | 1.2887 | 1.1338 | 31.3385 | 34.7924 | 35.8651 | 34.0329
220010 | 1.2326 | 1.1338 | 30.7804 | 32.0925 | 33.7364 | 32.2148
220011 | 1.1369 | 1.1338 | 34.7655 | 36.5640 | 39.1211 | 36.8964
220012 | 1.4655 | 1.2672 | 37.8763 | 39.7564 | 41.7040 | 39.8247
220015 | 1.2984 | 1.0343 | 29.6315 | 32.4903 | 35.2353 | 32.4365
220016 | 1.1282 | 1.0343 | 30.4813 | 32.5863 | 33.1404 | 32.0656
220017 | 1.3194 | 1.1994 | 31.6170 | 33.3020 | 34.6550 | 33.1982
220019 | 1.0429 | 1.1338 | 24.4009 | 25.7855 | 26.3006 | 25.5037
220020 | 1.1312 | 1.1338 | 28.5288 | 30.8458 | 32.1503 | 30.5508
220024 | 1.2349 | 1.0343 | 28.7342 | 31.9491 | 32.8073 | 31.1791
220025 | 1.0377 | 1.1338 | 25.6478 | 30.4369 | 27.6958 | 27.7639
220028 | *** | * | 31.7122 | 39.3089 | * | 35.2808
220029 | 1.1472 | 1.1338 | 30.6935 | 31.6363 | 32.6767 | 31.6963
220030 | 1.1059 | 1.0343 | 26.8849 | 28.1347 | 29.3701 | 28.1501
220031 | 1.5532 | 1.1994 | 36.8477 | 38.9433 | 39.4182 | 38.4392
220033 | 1.1976 | 1.1338 | 31.8249 | 32.3495 | 34.6977 | 33.0203
220035 | 1.4173 | 1.1338 | 31.4470 | 34.8739 | 36.1775 | 35.0964
220036 | 1.5119 | 1.1994 | 33.1436 | 35.9124 | 37.7268 | 35.6257
220046 | 1.4449 | 1.0445 | 30.4460 | 31.4510 | 33.8585 | 31.9500
220049 | 1.2309 | 1.1338 | 30.4740 | 32.4652 | 35.1108 | 32.7132
220050 | 1.0897 | 1.0343 | 28.3434 | 29.5194 | 30.3160 | 29.4110
220051 | 1.3081 | 1.0199 | 30.2552 | 30.1022 | 32.8672 | 31.0914
220052 | 1.1432 | 1.1994 | 32.4130 | 32.3532 | 34.9126 | 33.2019
220058 | 1.0116 | 1.1338 | 25.7247 | 27.8893 | 30.0325 | 27.9127
220060 | 1.1603 | 1.1994 | 32.5477 | 34.7336 | 36.8641 | 34.7665
220062 | 0.6341 | 1.1338 | 25.0766 | 25.4224 | 27.3304 | 25.9567
220063 | 1.2647 | 1.1338 | 30.2866 | 32.9283 | 32.2417 | 31.8295
220065 | 1.2613 | 1.0343 | 27.6009 | 30.1103 | 32.3793 | 30.0468
220066 | 1.3284 | 1.0343 | 27.8073 | 29.9736 | * | 28.8792
220067 | 1.2302 | 1.1994 | 30.2222 | 32.4019 | 33.9807 | 32.2180
220070 | 1.1429 | 1.1338 | 33.1299 | 34.2598 | 35.6244 | 34.3611
220071 | 1.8365 | 1.1994 | 36.5065 | 37.4087 | 40.0281 | 38.0115
220073 | 1.1896 | 1.1338 | 34.2989 | 36.0289 | 37.4224 | 35.9320
220074⁴ | 1.3507 | 1.1338 | 30.5607 | 31.4730 | 33.2051 | 31.7041
220B74⁴ | *** | * | * | 31.4731 | 33.2051 | 32.3862
220075 | 1.5438 | 1.1994 | 30.9175 | 32.2957 | 33.3538 | 32.1942
220076 | *** | * | 27.5148 | * | * | 27.5148
220077 | 1.6655 | 1.0972 | 31.7325 | 34.0168 | 33.7563 | 33.1765
220080 | 1.1645 | 1.1338 | 29.9595 | 31.1268 | 33.1617 | 31.3799
220082 | 1.2899 | 1.1338 | 30.0611 | 30.8230 | 32.2105 | 31.0609
220083 | 1.0693 | 1.1994 | 34.5118 | 34.5969 | 35.2728 | 34.8205
220084 | 1.2134 | 1.1338 | 30.9527 | 31.6955 | 34.6254 | 32.3748
220086 | 1.7222 | 1.1994 | 34.2388 | 35.3451 | 36.2359 | 35.3173
220088 | 1.9446 | 1.1994 | 35.8255 | 34.7637 | 37.0808 | 35.9288
220089 | *** | * | 32.6305 | 34.8205 | * | 33.7125
220090 | 1.2394 | 1.1338 | 32.9011 | 34.1963 | 35.8940 | 34.3697
220095 | 1.1576 | 1.1338 | 28.0673 | 30.8626 | 31.1619 | 30.0333
220098 | 1.1400 | 1.1338 | 30.5869 | 31.5403 | 30.6593 | 30.9378
220100 | 1.3072 | 1.1994 | 31.9859 | 34.6599 | 35.7276 | 34.1807
220101 | 1.2971 | 1.1338 | 35.3464 | 37.7809 | 36.0984 | 36.4336
220105 | 1.1814 | 1.1338 | 33.2625 | 34.4029 | 35.8155 | 34.5228
220108 | 1.1999 | 1.1994 | 32.6131 | 33.8854 | 35.6985 | 34.0752
220110 | 2.0011 | 1.1994 | 39.2167 | 40.7382 | 43.8401 | 41.3123
220111 | 1.2206 | 1.1994 | 33.6167 | 34.2498 | 35.6193 | 34.5167
220116 | 1.8714 | 1.1994 | 36.4149 | 38.8799 | 40.0952 | 38.4127
220119 | 1.1333 | 1.1994 | 30.9965 | 32.0863 | 33.7174 | 32.3365
220126 | 1.1806 | 1.1994 | 31.4882 | 32.6938 | 35.6250 | 33.2716
220133 | *** | * | 29.4855 | 34.9182 | * | 32.1170
220135 | 1.3038 | 1.2672 | 36.0203 | 37.5189 | 38.7180 | 37.4435
220153 | *** | * | * | 19.8085 | 17.9600 | 18.7803
220154 | *** | * | * | 28.7898 | * | 28.7898
220162 | 1.5970 | * | * | * | * | *
220163 | 1.6172 | 1.1338 | 34.4874 | 37.4968 | 39.4859 | 37.2285
220171 | 1.6935 | 1.1338 | 32.7414 | 35.9948 | 36.4545 | 35.0735
220174 | 1.1926 | 1.1338 | 30.0406 | 30.9503 | 32.9113 | 31.3266
220175 | 1.2681 | * | * | * | 34.1550 | 34.1550
220176 | 1.6474 | 1.1338 | * | * | 31.4195 | 31.4195
230002 | 1.3237 | 1.0113 | 32.9010 | 32.7578 | 33.9675 | 33.2532
230003 | 1.2416 | 0.9455 | 27.5824 | 28.4716 | 28.9871 | 28.3360
230004 | 1.7110 | 1.0227 | 29.3934 | 31.5136 | 33.4620 | 31.5262
230005 | 1.2402 | 0.9337 | 25.8768 | 27.7463 | 29.0625 | 27.5854
230013 | 1.3836 | 1.0052 | 24.6511 | 27.2075 | 28.6417 | 26.7586
230015 | 1.1593 | 0.9159 | 26.2782 | 27.2541 | 28.9588 | 27.5253
230017 | 1.6518 | 1.0910 | 31.8821 | 32.5396 | 36.8018 | 33.8177
230019 | 1.6077 | 1.0052 | 32.3401 | 34.3213 | 35.1415 | 33.9317
230020 | 1.7476 | 1.0113 | 28.5646 | 29.5324 | 29.9072 | 29.3527
230021 | 1.5495 | 1.0365 | 26.5659 | 28.6169 | 29.5397 | 28.2368
230022 | 1.2686 | 0.9652 | 25.6683 | 30.1195 | 25.7829 | 27.0325
230024 | 1.6538 | 1.0113 | 32.1483 | 32.5892 | 34.5253 | 33.1061
230029 | 1.6160 | 1.0052 | 32.3538 | 32.3845 | 33.1460 | 32.6277
230030 | 1.2847 | 0.8864 | 23.8082 | 25.1100 | 24.9719 | 24.6466
230031 | 1.3571 | 0.9972 | 29.7232 | 30.0120 | 30.8859 | 30.2337
230034 | 1.3764 | 0.8864 | 24.4845 | 24.4141 | 29.1079 | 25.8635
230035 | 1.1994 | 0.9305 | 24.8822 | 25.6715 | 25.7083 | 25.4572
230036 | 1.4140 | 0.9472 | 29.3754 | 29.9642 | 31.0922 | 30.1636
230037 | 1.3059 | 1.0113 | 28.9244 | 28.5311 | 28.8529 | 28.7691
230038 | 1.7649 | 0.9455 | 28.2012 | 29.1263 | 30.1019 | 29.1994
230040 | 1.1794 | 0.9305 | 25.5154 | 26.3190 | 27.2835 | 26.3819
230041 | 1.5803 | 0.9472 | 27.8853 | 27.9569 | 30.3060 | 28.7057
230046 | 1.9162 | 1.0444 | 31.6235 | 32.2924 | 33.5285 | 32.5197
230047 | 1.4494 | 1.0052 | 31.1771 | 31.7075 | 32.0225 | 31.6475
230053 | 1.6700 | 1.0113 | 32.5711 | 32.1566 | 33.5420 | 32.7704
230054 | 1.8803 | 0.9412 | 25.7591 | 26.3251 | 28.1223 | 26.7475
230055 | 1.2587 | 0.8864 | 27.4349 | 28.4787 | 28.1872 | 28.0393
230058 | 1.1167 | 0.8864 | 25.9291 | 27.3156 | 27.9625 | 27.0813
230059 | 1.5346 | 0.9455 | 27.9091 | 28.5875 | 28.3586 | 28.2947
230060 | 1.2934 | 0.8864 | 28.2874 | 27.0288 | 28.7744 | 28.0391
230065 | *** | * | 32.6255 | * | * | 32.6255
230066 | 1.3058 | 1.0227 | 30.6184 | 30.2104 | 32.3459 | 31.0702
230069 | 1.1826 | 1.0810 | 30.2663 | 31.3406 | 31.9653 | 31.2223
230070 | 1.6502 | 0.9034 | 25.6778 | 26.8315 | 28.0349 | 26.8663
230071 | 0.9448 | 1.0052 | 28.3064 | 29.6728 | 28.2055 | 28.7253
230072 | 1.3622 | 0.9455 | 26.2838 | 27.4742 | 28.8006 | 27.5408
230075 | 1.3557 | 1.0086 | 28.2540 | 30.9525 | 32.1146 | 30.4322
230077 | 1.8799 | 1.0810 | 29.8538 | 30.5567 | 31.0097 | 30.4726
230078 | 1.1903 | 0.8864 | 25.6809 | 25.7232 | 27.0050 | 26.0991
230080 | 1.2607 | 0.9472 | 24.1573 | 24.5432 | 25.6193 | 24.7905
230081 | 1.2326 | 0.8864 | 24.7374 | 26.4337 | 27.8091 | 26.3288
230085 | 1.2326 | 1.0910 | 23.4959 | 25.4289 | 27.6459 | 25.5347
230089 | 1.3435 | 1.0113 | 31.0522 | 32.8450 | 32.2293 | 31.9436
230092 | 1.3964 | 1.0113 | 28.6829 | 29.3442 | 30.5399 | 29.5449
230093 | 1.2159 | 0.8922 | 25.5804 | 27.4463 | 27.0555 | 26.7238
230095 | 1.2754 | 0.9472 | 22.8681 | 25.1854 | 25.9196 | 24.6699
230096 | 1.1779 | 1.0365 | 30.6024 | 31.7399 | 27.7873 | 29.8976
230097 | 1.6913 | 0.9305 | 28.2526 | 29.8962 | 31.5152 | 29.8782
230099 | 1.2173 | 1.0113 | 29.0221 | 29.3720 | 28.7386 | 29.0351
230100 | 1.1914 | 0.8864 | 24.1881 | 25.2118 | 25.6583 | 25.0492
230101 | 1.1683 | 0.8864 | 25.4839 | 28.4372 | 28.8595 | 27.6204
230104⁵ | 1.5934 | 1.0113 | 32.4634 | 32.4125 | 34.0171 | 32.9570
230B04⁵ | *** | * | * | * | 34.0171 | 34.0171
230105 | 1.7842 | 0.9472 | 32.4583 | 30.5515 | 32.1103 | 31.7057
230106 | 1.2381 | 0.9455 | 25.3243 | 27.8584 | 30.0195 | 27.7687
230108 | 1.1549 | 0.8864 | 20.2539 | 24.4337 | 25.7463 | 23.4436
230110 | 1.2539 | 0.8864 | 27.0040 | 25.7196 | 27.0263 | 26.5809
230117 | 1.8415 | 1.0910 | 32.7994 | 33.0602 | 33.9148 | 33.2761
230118 | 1.0095 | 0.8864 | 23.6110 | 24.8890 | 24.8631 | 24.4400
230119 | 1.4381 | 1.0113 | 30.7488 | 31.9696 | 33.2026 | 32.0127
230121 | 1.2621 | 0.9652 | 26.4940 | 26.8361 | 27.7495 | 27.0478
230130 | 1.6817 | 1.0052 | 30.1608 | 31.2744 | 32.5589 | 31.3612
230132 | 1.5413 | 1.1258 | 32.3939 | 35.5304 | 38.2428 | 35.3551
230133 | 1.4288 | 0.8864 | 23.9442 | 25.0647 | 25.8516 | 24.9772
230135 | 1.3171 | 1.0113 | 25.9583 | 23.6005 | 31.5185 | 26.7530
230141 | 1.6173 | 1.1258 | 31.6152 | 33.2553 | 36.3094 | 33.7170
230142 | 1.2688 | 1.0113 | 27.8377 | 29.7417 | 29.9882 | 29.2232
230144 | 1.8275 | 1.0444 | * | * | * | *
230146 | 1.3735 | 1.0113 | 26.8156 | 27.2621 | 29.0197 | 27.7279
230151 | 1.3314 | 1.0052 | 27.4546 | 29.8366 | 28.6704 | 28.6311
230156 | 1.5950 | 1.0444 | 32.3755 | 33.9034 | 34.7840 | 33.7042
230165 | 1.5974 | 1.0113 | 29.6376 | 31.4242 | 32.2831 | 31.1343
230167 | 1.6088 | 0.9899 | 29.8071 | 31.0657 | 32.8063 | 31.2488
230174 | 1.3451 | 0.9455 | 30.0563 | 29.7488 | 31.2452 | 30.3405
230176 | 1.3115 | 1.0113 | 28.1498 | 28.9798 | 29.2664 | 28.8186
230180 | 1.1167 | 0.8864 | 26.0707 | 24.9696 | 24.6000 | 25.1971
230184 | *** | * | 34.6295 | * | * | 34.6295
230190 | *** | * | 30.7875 | 33.8229 | 33.6707 | 32.7904
230193 | 1.3561 | 0.9972 | 25.1626 | 26.4728 | 28.4624 | 26.7218
230195 | 1.4319 | 1.0052 | 29.5656 | 30.9702 | 32.5528 | 31.0477
230197 | 1.6021 | 1.1258 | 32.0063 | 33.7128 | 34.8039 | 33.5209
230204 | 1.4349 | 1.0052 | 31.5615 | 32.2882 | 30.1956 | 31.3391
230207 | 1.2451 | 1.0052 | 25.4268 | 25.1983 | 26.8215 | 25.8117
230208 | 1.2210 | 0.9305 | 23.7523 | 24.3476 | 25.2472 | 24.4569
230212 | 1.0426 | 1.0444 | 31.9818 | 32.8567 | 33.4362 | 32.7601
230216 | 1.4778 | 0.9972 | 29.0147 | 29.2061 | 28.9567 | 29.0586
230217 | 1.4015 | 1.0086 | 30.1136 | 31.9732 | 33.0815 | 31.7828
230222 | 1.4250 | 0.9472 | 29.9341 | 30.6482 | 32.4389 | 30.9827
230223 | 1.3052 | 1.0052 | 28.6745 | 29.8430 | 31.9496 | 30.1361
230227 | 1.4799 | 1.0052 | 30.8218 | 33.6716 | 34.2728 | 32.7518
230230 | 1.4804 | 0.9899 | 29.8763 | 31.1712 | 31.4931 | 30.8595
230236 | 1.5428 | 0.9455 | 31.3110 | 30.8556 | 31.9088 | 31.3744
230239 | 1.3021 | 0.8864 | 21.0814 | 22.1579 | 23.5448 | 22.2557
230241 | 1.1943 | 0.9972 | 27.6106 | 28.5516 | 30.0233 | 28.7406
230244 | 1.4607 | 1.0113 | 29.6283 | 30.0405 | 32.1407 | 30.6177
230254 | 1.4847 | 1.0052 | 29.2653 | 29.5874 | 31.2379 | 30.0646
230257 | 0.9794 | 1.0052 | 29.6712 | 30.6372 | 30.0667 | 30.1067
230259 | 1.2691 | 1.0444 | 27.4217 | 27.5982 | 27.9557 | 27.6540
230264 | 2.0641 | 1.0052 | 22.7768 | 28.5416 | 29.2178 | 26.4132
230269 | 1.4701 | 1.0052 | 31.3226 | 31.3800 | 34.2667 | 32.3991
230270 | 1.3480 | 1.0113 | 28.5372 | 28.8173 | 29.2388 | 28.8712
230273 | 1.4692 | 1.0113 | 31.9862 | 31.5396 | 32.5706 | 32.0372
230275 | 0.5428 | 0.9034 | 23.8104 | 25.2133 | 22.3717 | 23.7470
230277 | 1.4612 | 1.0052 | 29.8372 | 31.4023 | 32.2518 | 31.1889
230279 | 0.5480 | 1.0810 | 27.2816 | 27.9726 | 26.8539 | 27.3521
230283 | *** | * | 33.5531 | * | * | 33.5531
230294 | *** | * | 31.6195 | * | * | 31.6195
230295 | *** | * | 27.1298 | * | * | 27.1298
230296 | *** | * | * | 34.2107 | * | 34.2107
230297 | 1.6971 | 1.0052 | * | * | * | *
230298 | 0.7864 | 1.0052 | * | * | * | *
230300 | 3.3739 | 1.0052 | * | * | * | *
230301 | 1.0374 | 1.0052 | * | * | * | *
240001 | 1.5531 | 1.0997 | 33.1499 | 34.7673 | 37.2179 | 35.0462
240002 | 1.8744 | 1.0519 | 31.6000 | 33.1051 | 34.6345 | 33.1529
240004 | 1.5878 | 1.0997 | 32.7010 | 32.5777 | 33.5085 | 32.9298
240006 | 1.2147 | 1.0982 | 31.0777 | 33.4777 | 32.8229 | 32.4953
240010 | 1.9657 | 1.0982 | 33.4668 | 32.7261 | 35.9102 | 34.0521
240014 | 1.0726 | 1.0997 | 29.8905 | 30.7519 | 33.4476 | 31.3959
240017 | *** | * | 24.3596 | * | * | 24.3596
240018 | 1.2598 | 0.9925 | 28.1432 | 29.4995 | 30.5632 | 29.4372
240019 | 1.0353 | 1.0519 | 33.7546 | 32.7052 | 34.2538 | 33.5836
240020 | 1.1144 | 1.0997 | 31.3874 | 33.2449 | 34.5686 | 33.0762
240022 | 1.0632 | 0.9120 | 26.1920 | 27.3137 | 28.5889 | 27.3645
240030 | 1.3950 | 1.0638 | 26.5508 | 27.1312 | 27.6584 | 27.1136
240036 | 1.6415 | 1.0997 | 32.7028 | 34.2980 | 37.2177 | 34.8308
240038 | 1.4964 | 1.0997 | 31.9891 | 33.0554 | 34.7330 | 33.2508
240040 | 1.0575 | 1.0519 | 27.5074 | 28.9009 | 30.0238 | 28.8059
240043 | 1.2453 | 0.9120 | 23.3489 | 24.0708 | 25.7420 | 24.4201
240044 | 1.0841 | 0.9745 | 25.0988 | 26.8681 | 28.5689 | 26.7906
240047 | 1.5230 | 1.0519 | 28.6406 | 29.7835 | 35.6742 | 31.1184
240050 | 1.0910 | 1.0997 | 27.5553 | 30.9805 | 33.7946 | 30.9171
240052 | 1.2031 | 0.9120 | 28.7206 | 29.4617 | 31.0917 | 29.7873
240053 | 1.5039 | 1.0997 | 31.4324 | 33.1148 | 34.4186 | 33.0264
240056 | 1.3585 | 1.0997 | 33.1728 | 34.0845 | 35.8580 | 34.4096
240057 | 1.7902 | 1.0997 | 30.7703 | 33.4713 | 34.8349 | 33.0717
240059 | 1.0937 | 1.0997 | 31.0911 | 32.4803 | 32.5938 | 32.0866
240061 | 1.8510 | 1.0982 | 33.1799 | 32.0828 | 34.6008 | 33.3406
240063 | 1.5799 | 1.0997 | 33.7895 | 35.2877 | 36.9798 | 35.4057
240064 | 1.1730 | 1.0401 | 34.3757 | 27.2407 | 29.9902 | 30.4614
240066 | 1.5245 | 1.0997 | 35.3441 | 36.0705 | 39.6582 | 37.0745
240069 | 1.1972 | 1.0997 | 29.3718 | 30.9719 | 31.1660 | 30.5144
240071 | 1.1037 | 1.0997 | 28.6950 | 31.7754 | 32.5442 | 30.9915
240075 | 1.1903 | 1.0638 | 27.5039 | 29.1171 | 30.3218 | 29.0129
240076 | 1.0213 | 1.0997 | 30.6936 | 33.1439 | 33.7939 | 32.5944
240078 | 1.6519 | 1.0997 | 32.5785 | 34.6118 | 36.1976 | 34.5440
240080 | 1.9537 | 1.0997 | 32.5725 | 34.8064 | 36.5363 | 34.6282
240084 | 1.1356 | 1.0519 | 26.5975 | 27.0995 | 29.0260 | 27.5332
240088 | 1.2998 | 1.0638 | 28.0603 | 29.1387 | 30.7223 | 29.3333
240093 | 1.4599 | 1.0997 | 27.2928 | 29.1717 | 30.4718 | 29.0677
240100 | 1.3409 | 0.9120 | 30.8391 | 31.5774 | 30.9460 | 31.1194
240101 | 1.1984 | 0.9120 | 25.6963 | 26.8849 | 28.5492 | 27.1176
240104 | 1.2063 | 1.0997 | 31.6511 | 35.0736 | 35.8816 | 34.3219
240106 | 1.6106 | 1.0997 | 30.5927 | 32.8156 | 33.9953 | 32.4894
240115 | 1.4822 | 1.0997 | 32.0107 | 33.5288 | 36.2755 | 33.9354
240117 | 1.1647 | 0.9647 | 24.5750 | 27.6950 | 29.0889 | 27.1230
240128 | *** | * | 23.3334 | * | * | 23.3334
240132 | 1.2651 | 1.0997 | 32.1233 | 34.6191 | 36.4224 | 34.2571
240141 | 1.1039 | 1.0997 | 31.4468 | 32.8689 | 34.2453 | 32.8961
240166 | 1.1593 | 0.9120 | 27.6987 | 26.5328 | 26.1726 | 26.6670
240187 | 1.2972 | 1.0997 | 27.8844 | 29.1582 | 30.9633 | 29.4012
240196 | 0.8466 | 1.0997 | 31.5965 | 34.3743 | 35.0319 | 33.6757
240206 | 0.9236 | 1.4448 | * | * | * | *
240207 | 1.2383 | 1.0997 | 32.5589 | 34.6792 | 36.4537 | 34.6384
240210 | 1.2823 | 1.0997 | 32.7123 | 34.4184 | 36.5922 | 34.6233
240211 | 1.0511 | 0.9932 | 22.5430 | 17.4044 | 16.6144 | 18.6322
240213 | 1.4161 | 1.0997 | 33.8680 | 35.7818 | 37.4575 | 35.7765
250001 | 1.9650 | 0.8095 | 23.5222 | 23.7773 | 24.3386 | 23.8768
250002 | 0.9549 | 0.7883 | 23.4063 | 25.4201 | 25.0335 | 24.6387
250004 | 1.7720 | 0.8909 | 24.7907 | 25.8722 | 24.8072 | 25.1647
250006 | 1.1563 | 0.8909 | 24.4282 | 25.9199 | 27.0493 | 25.8303
250007 | 1.2323 | 0.8898 | 24.8929 | 27.7665 | 29.3457 | 27.3747
250009 | 1.2588 | 0.8361 | 23.0352 | 23.4866 | 24.9100 | 23.8155
250010 | 1.0456 | 0.7653 | 21.4322 | 21.8665 | 22.7976 | 22.0351
250012 | 0.9464 | 0.9329 | 21.5540 | 23.4837 | 26.4108 | 23.6996
250015 | 1.1829 | 0.7653 | 22.0067 | 22.2803 | 22.3674 | 22.2133
250017 | 1.0987 | 0.7653 | 22.7660 | 33.6840 | 25.7397 | 26.7933
250018 | 0.8867 | 0.7653 | 17.1276 | 17.9025 | 19.1099 | 18.0552
250019 | 1.5607 | 0.8898 | 25.7376 | 26.2199 | 27.7207 | 26.5559
250020 | 1.0028 | 0.7653 | 22.1851 | 23.7245 | 23.1510 | 23.0478
250023 | 0.8728 | 0.8156 | 18.0108 | 18.5067 | 19.5072 | 18.7146
250025 | 1.1390 | 0.7653 | 22.5621 | 23.1738 | 23.0544 | 22.9290
250027 | 0.9541 | 0.7653 | 24.4937 | 26.9922 | 32.5430 | 27.8433
250031 | 1.3451 | 0.8095 | 24.8139 | 25.9189 | 26.7496 | 25.8093
250034 | 1.5368 | 0.8909 | 26.1887 | 26.7996 | 27.9267 | 26.9950
250035 | 0.8649 | 0.7653 | 20.1622 | 19.1038 | 20.5237 | 19.9107
250036 | 1.0485 | 0.8030 | 20.3625 | 19.7951 | 22.5661 | 20.8304
250038 | 0.9523 | 0.8095 | 22.2571 | 26.9621 | 30.7941 | 25.9485
250040 | 1.4898 | 0.8156 | 24.5962 | 27.3366 | 26.2250 | 26.0460
250042 | 1.2547 | 0.8909 | 25.6807 | 26.1190 | 27.4593 | 26.4125
250043 | 0.9847 | 0.7653 | 18.8979 | 20.8841 | 21.1254 | 20.3156
250044 | 1.0363 | 0.7883 | 24.0508 | 24.9199 | 26.1725 | 25.0759
250048 | 1.6491 | 0.8095 | 25.2092 | 24.7659 | 27.6318 | 25.8347
250049 | 0.8715 | 0.7653 | 19.1044 | 20.4775 | 24.2222 | 21.0940
250050 | 1.3084 | 0.7653 | 20.8084 | 21.1657 | 22.4407 | 21.4799
250051 | 0.8661 | 0.7653 | 14.3741 | 13.9532 | 14.1652 | 14.1687
250057 | 1.1739 | 0.7653 | 22.7601 | 24.3654 | 22.9665 | 23.3314
250058 | 1.2366 | 0.7653 | 19.2502 | 18.9970 | 19.6711 | 19.3080
250059 | 0.9358 | 0.7653 | 23.8997 | 26.7491 | 25.5976 | 25.3587
250060 | 0.8110 | 0.7653 | 28.1431 | 25.4779 | 27.0347 | 26.8919
250061 | 0.8867 | 0.7653 | 17.8267 | 18.7413 | 25.1493 | 20.4689
250067 | 1.0949 | 0.7653 | 23.1193 | 25.2189 | 23.8020 | 24.0644
250069 | 1.4416 | 0.8280 | 22.6353 | 22.4194 | 23.4494 | 22.8355
250072 | 1.6783 | 0.8095 | 25.8399 | 25.5337 | 27.5770 | 26.3178
250077 | 0.9717 | 0.7653 | 18.3735 | 19.0416 | 19.6329 | 19.0451
250078 | 1.5855 | 0.8156 | 22.1243 | 22.8430 | 23.9580 | 22.9829
250079 | 0.8932 | 0.7653 | 45.5166 | 43.0845 | 46.0338 | 44.8458
250081 | 1.3682 | 0.8280 | 23.9995 | 25.6808 | 24.8259 | 24.8305
250082 | 1.4127 | 0.8150 | 23.0287 | 23.5399 | 25.6206 | 24.1469
250084 | 1.2526 | 0.7653 | 19.6492 | 19.1604 | 19.5676 | 19.4638
250085 | 1.0182 | 0.7653 | 22.5513 | 24.2915 | 24.6743 | 23.8551
250093 | 1.1850 | 0.7653 | 23.0984 | 23.9128 | 26.4337 | 24.4984
250094 | 1.6982 | 0.8156 | 24.1422 | 24.7718 | 25.4215 | 24.7893
250095 | 1.0314 | 0.7653 | 21.7488 | 23.6140 | 25.9001 | 23.7842
250096 | 1.2042 | 0.8095 | 24.9187 | 26.3743 | 27.7270 | 26.3759
250097 | 1.4899 | 0.8146 | 21.8139 | 22.0211 | 22.7899 | 22.2472
250099 | 1.2725 | 0.8095 | 21.1269 | 21.5656 | 27.5739 | 23.2182
250100 | 1.5271 | 0.8280 | 25.6846 | 27.0286 | 27.5468 | 26.7620
250102 | 1.5947 | 0.8095 | 24.6652 | 25.4050 | 25.5308 | 25.2035
250104 | 1.4396 | 0.8280 | 23.4303 | 24.4311 | 25.3986 | 24.4448
250112 | 0.9616 | 0.7653 | 24.3069 | 26.3357 | 27.4138 | 26.0536
250117 | 1.1581 | 0.8156 | 22.2450 | 23.7337 | 24.5692 | 23.5009
250120 | *** | * | 24.6370 | 26.6522 | * | 25.6905
250122 | 1.1272 | 0.7653 | 27.2795 | 27.4424 | 23.4884 | 26.0511
250123 | 1.3504 | 0.8898 | 26.6221 | 27.9058 | 29.8280 | 28.1116
250124 | 0.8367 | 0.8095 | 20.4394 | 20.5667 | 21.9411 | 20.9862
250125 | 1.3788 | 0.8898 | 27.5158 | 26.7687 | 32.7395 | 28.5834
250126 | 1.0192 | 0.9329 | 24.4126 | 25.0019 | 25.2582 | 24.9087
250127 | 0.8041 | 1.4448 | * | * | * | *
250128 | 0.9631 | 0.8099 | 17.7624 | 21.7882 | 23.5915 | 21.3639
250134 | 0.9291 | 0.8095 | 22.2167 | 21.0211 | 22.0830 | 21.7636
250136 | 1.0279 | 0.8095 | 22.9468 | 25.2241 | 27.1454 | 25.0260
250138 | 1.3091 | 0.8095 | 24.3018 | 25.2642 | 27.3114 | 25.5721
250141 | 1.4795 | 0.9329 | 28.5922 | 30.5112 | 33.4397 | 31.0006
250149 | 0.8769 | 0.7653 | 16.8796 | 17.2268 | 17.0956 | 17.0712
250151 | 0.5535 | 0.7653 | 18.8846 | 22.8238 | * | 19.4286
250152 | 0.8224 | 0.8095 | 26.9334 | 26.4559 | 28.5527 | 27.2309
250155 | *** | * | 22.5728 | * | * | 22.5728
250156 | *** | * | * | 16.8659 | * | 16.8659
250157 | *** | * | * | 29.6398 | * | 29.6398
250162 | 1.0520 | 0.8912 | * | * | * | *
260001 | 1.6886 | 0.9704 | 27.9230 | 29.5271 | 31.1839 | 29.5270
260004 | 0.9098 | 0.8470 | 20.3217 | 21.3629 | 24.1888 | 22.1072
260005 | 1.5296 | 0.8986 | 27.7855 | 27.9477 | 31.1215 | 28.9388
260006 | 1.4493 | 0.8470 | 30.3440 | 27.3754 | 33.7767 | 30.5981
260009 | 1.2153 | 0.9444 | 24.2360 | 25.7546 | 26.6670 | 25.5689
260011 | 1.5894 | 0.9038 | 25.6387 | 27.5762 | 31.2590 | 28.1581
260015 | 1.0293 | 0.8470 | 24.6139 | 25.0640 | 25.0244 | 24.8950
260017 | 1.3008 | 0.8736 | 23.5713 | 25.0461 | 26.2612 | 24.9757
260020 | 1.7335 | 0.8986 | 27.4730 | 29.3080 | 30.9576 | 29.2687
260021 | 1.3073 | 0.8986 | 29.3646 | 32.6735 | 19.4693 | 25.9620
260022 | 1.3246 | 0.8738 | 23.3393 | 24.8713 | 25.9379 | 24.7192
260023 | 1.3719 | 0.8986 | 24.3192 | 25.4314 | 25.5884 | 25.1233
260024 | 1.1889 | 0.8470 | 19.4952 | 19.2199 | 20.7131 | 19.8199
260025 | 1.3981 | 0.8986 | 22.2451 | 24.0358 | 24.5032 | 23.6143
260027 | 1.6154 | 0.9444 | 26.3590 | 29.3811 | 31.0217 | 28.7832
260032 | 1.8506 | 0.8986 | 25.6763 | 27.4857 | 28.7163 | 27.3241
260034 | 1.0142 | 0.9444 | 25.0573 | 27.1685 | 28.7725 | 27.0780
260040 | 1.7140 | 0.8470 | 24.3938 | 25.9074 | 27.2449 | 25.8128
260047 | 1.4348 | 0.8470 | 25.4978 | 26.6343 | 27.2646 | 26.4797
260048 | 1.1808 | 0.9444 | 27.6117 | 28.1515 | 29.6955 | 28.5297
260050 | 1.1398 | 1.0267 | 25.0506 | 26.2346 | 27.8050 | 26.4419
260052 | 1.3065 | 0.8986 | 26.0052 | 27.6360 | 29.6982 | 27.7827
260057 | 1.0872 | 0.9444 | 20.9639 | 21.5925 | 23.8167 | 22.1481
260059 | 1.2943 | 0.8547 | 22.6922 | 22.3885 | 24.9630 | 23.3714
260061 | 1.1720 | 0.8470 | 22.4766 | 22.8589 | 23.6708 | 22.9805
260062 | 1.2709 | 0.9444 | 28.1661 | 28.4975 | 29.6135 | 28.7754
260064 | 1.3641 | 0.8470 | 22.2395 | 23.3498 | 21.4934 | 22.3902
260065 | 1.7935 | 0.8470 | 27.1014 | 29.3564 | 27.9224 | 28.1492
260068 | 1.7301 | 0.8470 | 26.0295 | 27.3475 | 28.1227 | 27.1642
260070 | 0.9682 | 0.8470 | 24.6331 | 21.9701 | 25.2991 | 24.0399
260074 | 1.2162 | 0.8470 | 25.6218 | 28.0468 | 28.6203 | 27.4572
260077 | 1.6229 | 0.8986 | 26.7466 | 27.6624 | 28.7183 | 27.7262
260078 | 1.2711 | 0.8470 | 20.1983 | 21.1539 | 23.1780 | 21.5534
260080 | 1.0066 | 0.8470 | 17.9107 | 18.6070 | 18.6804 | 18.3878
260081 | 1.4925 | 0.8986 | 28.1182 | 29.1890 | 32.3581 | 29.9070
260085 | 1.5513 | 0.9444 | 26.6718 | 28.0306 | 29.6492 | 28.1046
260091 | 1.4867 | 0.8986 | 28.0537 | 28.5473 | 30.1154 | 28.9182
260094 | 1.6133 | 0.8470 | 24.1473 | 23.8654 | 25.1476 | 24.3842
260095 | 1.3868 | 0.9444 | 24.2698 | 27.6196 | 29.9069 | 27.0422
260096 | 1.5240 | 0.9444 | 29.7312 | 30.7267 | 32.9353 | 31.1666
260097 | 1.1896 | 0.8770 | 25.0624 | 25.5634 | 27.3117 | 26.0306
260102 | 0.9841 | 0.9444 | 27.2145 | 26.7624 | 30.7667 | 28.2426
260104 | 1.5825 | 0.8986 | 28.6247 | 28.0235 | 29.6366 | 28.7794
260105 | 1.8539 | 0.8986 | 29.8848 | 29.4766 | 32.4075 | 30.5702
260107 | *** | * | 25.8177 | 27.9710 | 29.7754 | 27.7676
260108 | 1.8291 | 0.8986 | 26.6374 | 27.0758 | 28.5633 | 27.4377
260110 | 1.6476 | 0.8470 | 24.7656 | 26.6030 | 28.0368 | 26.5197
260113 | 1.1410 | 0.8470 | 21.2072 | 21.8884 | 23.0810 | 22.0233
260115 | 1.2609 | 0.8986 | 23.1396 | 24.6389 | 25.5643 | 24.4735
260116 | 1.0435 | 0.8470 | 21.3503 | 20.7479 | 22.5593 | 21.5340
260119 | 1.2922 | 0.8470 | 27.9769 | 31.5490 | 31.4981 | 30.2546
260137 | 1.7457 | 0.9704 | 24.3273 | 27.6592 | 31.4059 | 27.8364
260138 | 1.8944 | 0.9444 | 30.4410 | 30.6284 | 31.7554 | 30.9538
260141 | 1.8592 | 0.8470 | 24.1555 | 25.5663 | 26.6672 | 25.5210
260142 | 1.0838 | 0.8470 | 21.5923 | 21.7609 | 22.8201 | 22.0857
260147 | 0.9526 | 0.8470 | 21.4235 | 22.1928 | 22.9670 | 22.1968
260159 | *** | * | 22.6276 | 23.9515 | 24.3018 | 23.5847
260160 | 1.0612 | 0.8470 | 23.8257 | 25.5096 | 26.6702 | 25.4076
260162 | 1.4383 | 0.8986 | 27.0236 | 28.4660 | 30.5739 | 28.7100
260163 | 1.2130 | 0.8557 | 21.6408 | 21.5566 | 23.8630 | 22.3617
260166 | 1.2356 | 0.9444 | 29.1225 | 28.5858 | 29.5234 | 29.0824
260175 | 1.1172 | 0.9444 | 25.1817 | 24.6064 | 25.7060 | 25.1720
260176 | 1.7557 | 0.8986 | 29.3034 | 31.1056 | 30.6112 | 30.3581
260177 | 1.2272 | 0.9444 | 27.0185 | 28.7942 | 29.0786 | 28.3077
260178 | 1.9689 | 0.8470 | 25.4782 | 27.1201 | 26.9886 | 26.5981
260179 | 1.5286 | 0.8986 | 26.6069 | 28.3234 | 29.6937 | 28.2012
260180 | 1.5853 | 0.8986 | 28.2931 | 29.3820 | 30.7313 | 29.4593
260183 | 1.6733 | 0.8986 | 27.5577 | 29.2684 | 31.4894 | 29.4549
260186 | 1.4640 | 0.8470 | 26.9797 | 28.8610 | 29.1853 | 28.3616
260190 | 1.2175 | 0.9444 | 27.9137 | 30.5343 | 30.8981 | 29.7909
260191 | 1.4412 | 0.8986 | 24.6973 | 26.3244 | 27.8627 | 26.3553
260193 | 1.2305 | 0.9444 | 26.8922 | 28.1060 | 29.5416 | 28.1851
260195 | 1.2498 | 0.8470 | 22.6870 | 24.0411 | 25.0275 | 23.9191
260198 | *** | * | 28.0021 | 27.2555 | 27.9073 | 27.7138
260200 | 1.2908 | 0.8986 | 28.2453 | 27.4784 | 30.3290 | 28.7369
260207 | 1.1540 | 0.8470 | 22.6109 | 22.9579 | 23.6383 | 23.1705
260209 | 1.1532 | 0.9038 | 25.0098 | 25.0749 | 26.4196 | 25.5826
260210 | 1.3929 | 0.8986 | 26.8745 | 30.5975 | 36.4040 | 30.6935
260211 | 1.4262 | 0.9444 | 40.9821 | 35.9113 | 37.1525 | 38.3586
260213 | *** | * | * | 34.8953 | * | 34.8953
260214 | 1.2306 | 0.9444 | * | * | 31.0153 | 31.0153
260216 | 1.3065 | 0.9444 | * | * | * | *
260218 | 0.8126 | * | * | * | * | *
260219 | 1.3191 | 0.8986 | * | * | * | *
260220 | 2.3259 | * | * | * | * | *
270002 | 1.1469 | 0.8640 | 24.0534 | 25.2907 | 28.3363 | 25.9060
270003 | 1.2563 | 0.8679 | 28.8700 | 29.1938 | 28.0533 | 28.6560
270004 | 1.6239 | 0.9045 | 26.1319 | 26.6779 | 28.5851 | 27.1552
270011 | 1.0779 | * | 22.7061 | 24.4696 | * | 23.5588
270012 | 1.5992 | 0.8679 | 25.2914 | 26.5854 | 28.0655 | 26.6761
270014 | 1.8067 | 0.8992 | 25.8231 | 27.4811 | 28.2567 | 27.1793
270017 | 1.3001 | 0.8909 | 26.5404 | 27.4150 | 29.3524 | 27.7689
270023 | 1.5599 | 0.8909 | 25.5682 | 26.3076 | 28.1878 | 26.6584
270032 | 1.0422 | 0.8640 | 20.3469 | 20.4330 | 21.6349 | 20.8153
270049 | 1.7681 | 0.9045 | 27.1634 | 28.6880 | 29.8869 | 28.6461
270051 | 1.5064 | 0.8909 | 26.5621 | 24.9371 | 29.3917 | 26.9486
270057 | 1.2964 | 0.8640 | 25.5811 | 27.1838 | 28.3612 | 27.1309
270074 | 0.8884 | 1.4448 | * | * | * | *
270081 | 1.0022 | * | 19.5612 | 20.0438 | * | 19.8033
270086 | 1.2443 | 0.8679 | 21.0808 | 20.7976 | 21.8997 | 21.2340
270087 | 1.3324 | 0.8640 | 25.9772 | 24.8022 | 24.9177 | 25.2095
280003 | 1.7687 | 0.9620 | 30.6124 | 30.1057 | 32.3760 | 30.9970
280009 | 1.8349 | 0.9336 | 27.0705 | 29.3634 | 28.1542 | 28.1942
280013 | 1.7183 | 0.9400 | 27.0250 | 27.9523 | 30.3102 | 28.4716
280020 | 1.6559 | 0.9620 | 27.3284 | 32.3896 | 29.4807 | 29.7217
280023 | 1.3206 | 0.9336 | 26.7980 | 29.5132 | 30.0701 | 28.7818
280030 | 1.9392 | 0.9400 | 29.5102 | 30.6991 | 31.8740 | 30.6841
280032 | 1.2928 | 0.9336 | 24.3995 | 24.7539 | 25.6529 | 24.9364
280040 | 1.5775 | 0.9400 | 28.7207 | 29.5276 | 30.7378 | 29.6445
280060 | 1.6610 | 0.9400 | 27.7496 | 30.3049 | 30.8594 | 29.5587
280061 | 1.4476 | 0.9223 | 26.0208 | 26.4824 | 28.9580 | 27.1706
280065 | 1.2542 | 0.9611 | 28.0581 | 28.0132 | 29.5456 | 28.5374
280077 | 1.3602 | 0.8841 | 27.0860 | 28.2206 | 29.9204 | 28.4615
280081 | 1.6812 | 0.9400 | 28.7464 | 31.1212 | 28.9675 | 29.5979
280105 | 1.2560 | 0.9400 | 27.8599 | 29.8488 | 30.0457 | 29.2896
280111 | 1.1718 | 0.8761 | 24.5617 | 27.4853 | 28.3536 | 26.8743
280119 | 0.8951 | 1.4448 | * | * | * | *
280123 | 0.9698 | 0.8884 | 15.4047 | 22.2185 | 20.2745 | 18.6147
280125 | 1.5858 | 0.8761 | 22.1345 | 23.2900 | 24.7453 | 23.4399
280127 | 1.8312 | 0.9620 | 29.3684 | 25.6806 | 26.5628 | 26.9797
280128 | 2.7488 | 0.9620 | 28.5422 | 28.8734 | 27.1001 | 28.1534
280129 | 2.0416 | 0.9400 | * | 27.8793 | 27.9490 | 27.9189
280130 | 1.3820 | 0.9400 | * | 29.8588 | 29.9628 | 29.9161
290001 | 1.7753 | 1.0476 | 36.3129 | 35.5113 | 33.3287 | 34.9942
290002 | 0.8657 | 0.9837 | 17.3876 | 23.9348 | 22.7349 | 20.8853
290003 | 1.7934 | 1.1666 | 30.3373 | 32.8182 | 34.6402 | 32.6118
290005 | 1.4648 | 1.1666 | 28.3366 | 31.7107 | 34.2346 | 31.0980
290006 | 1.0851 | 1.0476 | 31.7301 | 31.9838 | 33.1563 | 32.3337
290007 | 1.7274 | 1.1666 | 38.1938 | 39.7323 | 41.2361 | 39.7802
290008 | 1.2072 | 0.9824 | 27.3019 | 31.1116 | 33.2436 | 30.5242
290009 | 1.6426 | 1.0476 | 36.2724 | 32.3348 | 34.0900 | 34.1940
290012 | 1.3313 | 1.1666 | 32.3966 | 35.7988 | 38.5049 | 35.5355
290019 | 1.4604 | 1.0476 | 29.3650 | 30.5964 | 32.2793 | 30.8005
290020 | 1.0227 | 0.9824 | 23.2103 | 27.6277 | 27.2889 | 25.9788
290021 | 1.6689 | 1.1666 | 32.7894 | 36.7310 | 36.8695 | 35.4886
290022 | 1.7132 | 1.1666 | 29.9717 | 33.5330 | 38.8235 | 33.9036
290027 | 0.8931 | 0.9824 | 23.9959 | 23.9818 | 29.1114 | 25.2225
290032 | 1.4391 | 1.0476 | 31.6711 | 34.6589 | 36.9148 | 34.3264
290039 | 1.5440 | 1.1666 | 32.1423 | 34.9622 | 34.6334 | 33.9791
290041 | 1.4922 | 1.1666 | 34.2436 | 37.6077 | 38.4409 | 36.9258
290042 | *** | * | * | 22.4859 | * | 22.4859
290044 | *** | * | 37.1662 | * | * | 37.1662
290045 | 1.6567 | 1.1666 | 33.1512 | 34.4584 | 38.3841 | 35.4482
290046 | 1.4029 | 1.1666 | * | 38.7966 | 38.3084 | 38.5269
290047 | 1.4035 | 1.1666 | * | 33.4695 | 35.6348 | 34.5601
290049 | 1.3302 | 1.0476 | * | 26.0725 | 33.4248 | 30.0551
290051 | 1.8934 | 1.0027 | * | * | 32.5253 | 32.5253
290052 | 1.1590 | 0.9824 | * | * | * | *
290053 | 1.5711 | 1.1666 | * | * | * | *
300001 | 1.4434 | 1.0807 | 29.2260 | 29.8145 | 31.0102 | 30.0651
300003 | 2.0357 | 1.0807 | 34.7900 | 37.0886 | 37.7215 | 36.5476
300005 | 1.3788 | 1.0807 | 27.8000 | 27.8431 | 28.7980 | 28.1664
300011 | 1.3319 | 1.0807 | 30.9403 | 31.8928 | 33.0771 | 31.9916
300012 | 1.3235 | 1.0807 | 30.4972 | 31.2655 | 33.0547 | 31.6597
300014 | 1.2318 | 1.0807 | 29.7667 | 29.1847 | 30.7717 | 29.9265
300017 | 1.2863 | 1.0807 | 29.9560 | 31.6699 | 33.4139 | 31.6768
300018 | 1.3172 | 1.0807 | 29.4270 | 31.7891 | 31.5012 | 30.9778
300019 | 1.2444 | 1.0807 | 27.5672 | 28.2287 | 28.3103 | 28.0672
300020 | 1.1991 | 1.0807 | 30.8491 | 30.9783 | 32.4635 | 31.4527
300023 | 1.4459 | 1.0807 | 31.0040 | 31.2726 | 32.3183 | 31.5692
300029 | 1.8204 | 1.0807 | 29.8117 | 31.4429 | 32.0012 | 31.1343
300034 | 1.8504 | 1.0807 | 30.7676 | 31.6880 | 33.5519 | 32.0214
310001 | 1.7571 | 1.2878 | 41.7460 | 39.3391 | 41.4917 | 40.8275
310002 | 1.7914 | 1.2693 | 37.9183 | 37.8652 | 37.9453 | 37.9105
310003 | 1.1900 | 1.2878 | 36.2346 | 39.0785 | 40.1509 | 38.5759
310005 | 1.3414 | 1.1440 | 32.1319 | 33.6311 | 34.7634 | 33.5607
310006 | 1.4339 | 1.2878 | 28.4771 | 28.7321 | 30.4276 | 29.2523
310008 | 1.3390 | 1.2878 | 32.6788 | 33.3172 | 34.3243 | 33.4553
310009 | 1.3656 | 1.2693 | 33.6940 | 33.6165 | 35.4592 | 34.2954
310010 | 1.2858 | 1.1313 | 33.9552 | 33.7009 | 36.0797 | 34.6164
310011 | 1.2607 | 1.1599 | 31.2907 | 34.3497 | 37.4820 | 34.3008
310012 | 1.5959 | 1.2878 | 38.3590 | 39.8568 | 41.9596 | 40.0664
310013 | *** | * | 31.0447 | 35.6260 | 32.9465 | 33.1378
310014 | 1.8164 | 1.1221 | 30.0793 | 32.9016 | 36.5996 | 33.3018
310015 | 1.9106 | 1.2693 | 36.8818 | 39.2928 | 40.8200 | 39.0289
310016 | 1.3313 | 1.2878 | 35.6155 | 38.2740 | 41.0326 | 38.2707
310017 | 1.3644 | 1.2693 | 32.2434 | 35.7308 | 35.9780 | 34.6067
310018 | 1.1472 | 1.2693 | 30.3234 | 32.9704 | 32.6937 | 31.9526
310019 | 1.5510 | 1.2878 | 30.3518 | 30.6369 | 31.8909 | 30.9689
310020 | 1.5807 | 1.2878 | 33.5516 | 37.3372 | 38.4230 | 37.3143
310021 | 1.6495 | 1.1316 | 32.1929 | 31.6562 | 32.2042 | 32.0219
310022 | 1.3231 | 1.1221 | 30.4043 | 31.1951 | 32.8059 | 31.4436
310024 | 1.3886 | 1.1440 | 33.3415 | 33.8622 | 36.6897 | 34.6507
310025 | 1.4248 | 1.2878 | 34.3687 | 32.2630 | 32.1469 | 32.9318
310026 | 1.3243 | 1.2878 | 29.1588 | 30.1392 | 30.1294 | 29.8053
310027 | 1.4636 | 1.1440 | 29.7793 | 31.5967 | 34.6445 | 31.9780
310028 | 1.1907 | 1.1440 | 32.2977 | 33.9911 | 34.8312 | 33.7159
310029 | 1.7792 | 1.1221 | 32.9246 | 33.6695 | 35.2057 | 33.9510
310031 | 2.8606 | 1.1221 | 37.0668 | 39.3783 | 39.5882 | 38.6577
310032 | 1.3218 | 1.1221 | 30.7865 | 33.0258 | 35.2379 | 33.0201
310034 | 1.4121 | 1.1221 | 31.7012 | 32.7523 | 36.8586 | 33.7114
310037 | 1.4765 | 1.2878 | 38.5415 | 38.2865 | 40.4608 | 39.0092
310038 | 1.8931 | 1.2693 | 35.9190 | 36.3344 | 39.8671 | 37.3872
310039 | 1.2417 | 1.2693 | 31.4278 | 33.2100 | 32.6403 | 32.4242
310040 | 1.2573 | 1.2878 | 33.8535 | 37.7945 | 41.2219 | 37.4721
310041 | 1.3358 | 1.1221 | 32.8390 | 33.9799 | 35.1979 | 33.9784
310042 | *** | * | 34.4986 | * | * | 34.4986
310044 | 1.3493 | 1.1313 | 31.9678 | 33.7614 | 33.5843 | 33.0824
310045 | 1.6491 | 1.2878 | 36.7862 | 38.4424 | 39.2064 | 38.1273
310047 | 1.3458 | 1.1666 | 34.1520 | 37.3695 | 37.7198 | 36.4657
310048 | 1.3736 | 1.1316 | 32.9681 | 33.9506 | 34.5223 | 33.8353
310050 | 1.2457 | 1.2693 | 29.1732 | 32.3686 | 37.9191 | 32.9302
310051 | 1.4905 | 1.1440 | 35.0121 | 38.1174 | 39.7645 | 37.6891
310052 | 1.3237 | 1.1221 | 32.5778 | 33.5849 | 36.5463 | 34.2544
310054 | 1.4134 | 1.2693 | 34.4431 | 36.9095 | 38.2409 | 36.5602
310057 | 1.4334 | 1.1221 | 31.1268 | 31.8933 | 34.2018 | 32.3544
310058 | 1.0541 | 1.2878 | 27.1555 | 30.4080 | 30.4416 | 29.4040
310060 | 1.2546 | 1.1221 | 27.3415 | 27.8242 | 27.9121 | 27.7048
310061 | 1.2219 | 1.1221 | 31.6648 | 39.0538 | 33.5561 | 34.7375
310063 | 1.3448 | 1.1440 | 31.9247 | 33.8519 | 38.1450 | 34.4537
310064 | 1.5372 | 1.1666 | 35.7607 | 38.6310 | 39.4132 | 38.0057
310069 | 1.2581 | 1.1221 | 31.7642 | 34.4669 | 35.1354 | 33.8309
310070 | 1.4555 | 1.2693 | 34.3225 | 36.3279 | 36.9963 | 35.8869
310073 | 1.7821 | 1.1221 | 32.6733 | 34.2858 | 36.9226 | 34.6721
310074 | 1.4656 | 1.2878 | 40.3494 | 39.6196 | 39.0709 | 39.6558
310075 | 1.4250 | 1.1221 | 31.5226 | 32.5338 | 33.5226 | 32.5111
310076 | 1.6465 | 1.2693 | 38.0643 | 37.5163 | 38.1641 | 37.9202
310077 | *** | * | 34.6085 | * | * | 34.6085
310078 | *** | * | 30.5761 | * | * | 30.5761
310081 | 1.2620 | 1.1221 | 30.1561 | 31.0699 | 31.7950 | 31.0154
310083 | 1.3189 | 1.2693 | 30.3580 | 31.9151 | 28.3385 | 30.1096
310084 | 1.2659 | 1.1221 | 33.5941 | 32.6051 | 34.9604 | 33.7173
310086 | 1.2615 | 1.1221 | 29.5566 | 29.8794 | 30.9445 | 30.1377
310088 | 1.1243 | 1.1666 | 29.9929 | 30.3552 | 31.2420 | 30.5505
310090 | 1.2372 | 1.1440 | 32.8191 | 33.4615 | 33.9146 | 33.3953
310091 | 1.1327 | 1.1221 | 29.3969 | 31.9762 | 35.2892 | 32.2224
310092 | 1.4052 | 1.1313 | 29.7958 | 32.7054 | 32.8408 | 31.7803
310093 | 1.2201 | 1.2693 | 29.1288 | 30.2860 | 32.3840 | 30.5687
310096 | 1.9372 | 1.2693 | 34.1524 | 35.0707 | 34.2007 | 34.4697
310105 | 1.1572 | 1.2878 | 30.1069 | 32.5672 | 32.0252 | 31.5545
310108 | 1.4030 | 1.2693 | 33.0172 | 34.5866 | 36.2821 | 34.6390
310110 | 1.3096 | 1.1313 | 33.2246 | 33.4809 | 35.6793 | 34.1565
310111 | 1.2536 | 1.1221 | 31.8393 | 34.8284 | 36.0727 | 34.2677
310112 | 1.3277 | 1.1221 | 31.2372 | 32.2676 | 34.5315 | 32.6218
310113 | 1.2425 | 1.1221 | 31.0436 | 33.6771 | 35.0222 | 33.3347
310115 | 1.3224 | 1.1221 | 29.5320 | 31.9208 | 32.1173 | 31.2475
310116 | 1.2972 | 1.2878 | 29.2748 | 29.8144 | 27.5857 | 28.8828
310118 | 1.3587 | 1.2878 | 31.1803 | 31.2296 | 32.8252 | 31.7711
310119 | 1.8782 | 1.2693 | 43.1238 | 41.5702 | 41.2971 | 41.9830
310120 | 1.0851 | 1.1440 | 29.2535 | 33.3861 | 35.1643 | 32.4707
310122 | *** | * | * | 41.9029 | * | 41.9029
310123 | *** | * | * | 37.1022 | * | 37.1022
310124 | *** | * | * | 41.8827 | * | 41.8827
310125 | *** | * | * | 36.2186 | * | 36.2186
310126 | *** | * | * | * | 34.3166 | 34.3166
320001 | 1.6823 | 0.9499 | 29.6182 | 30.0077 | 31.4174 | 30.3597
320002 | 1.5341 | 1.0587 | 32.0477 | 33.1342 | 34.1580 | 33.1619
320003 | 1.1298 | 1.0207 | 27.6222 | 31.4473 | 31.5768 | 30.3534
320004 | 1.3299 | 0.8858 | 24.7803 | 26.2073 | 28.2392 | 26.4283
320005 | 1.4214 | 0.9295 | 24.7543 | 28.7893 | 25.2152 | 26.1577
320006 | 1.2584 | 0.9295 | 26.9080 | 28.0964 | 28.5156 | 27.8949
320009 | 1.5798 | 0.9499 | 32.0116 | 27.8084 | 31.3279 | 30.3184
320011 | 1.1519 | 0.9300 | 25.6693 | 27.9522 | 28.9931 | 27.5536
320013 | 1.1126 | 1.0207 | 22.8283 | 30.5865 | 31.2869 | 27.7697
320014 | 1.0864 | 0.8858 | 27.2806 | 28.7089 | 30.4781 | 28.8685
320016 | 1.1842 | 0.8858 | 25.0835 | 27.1492 | 26.6374 | 26.3150
320017 | 1.2575 | 0.9499 | 31.6357 | 33.3496 | 30.5759 | 31.7120
320018 | 1.5461 | 0.8882 | 26.5109 | 25.9248 | 28.3438 | 26.9103
320019 | 1.4058 | 0.9499 | 27.8067 | 35.0217 | 28.6731 | 30.2204
320021 | 1.6185 | 0.9499 | 26.9918 | 28.8504 | 30.4499 | 28.7977
320022 | 1.1799 | 0.8858 | 23.9595 | 25.3707 | 27.5132 | 25.6817
320030 | 1.0361 | 0.8858 | 21.0378 | 24.4497 | 25.5246 | 23.7752
320033 | 1.2183 | 1.0207 | 31.7114 | 30.1471 | 30.1829 | 30.6567
320037 | 1.2261 | 0.9499 | 24.9657 | 25.2876 | 27.8969 | 26.0664
320038 | 1.2596 | 0.8858 | 21.7022 | 32.7192 | 31.6504 | 29.0042
320057 | 0.9342 | 1.4430 | * | * | * | *
320058 | 0.7891 | 1.4430 | * | * | * | *
320059 | 0.9914 | 1.4430 | * | * | * | *
320060 | 1.0159 | 1.4430 | * | * | * | *
320061 | 1.0245 | 1.4430 | * | * | * | *
320062 | 0.9174 | 1.4430 | * | * | * | *
320063 | 1.3932 | 0.9273 | 25.0031 | 26.0104 | 27.4933 | 26.1576
320065 | 1.3072 | 0.9273 | 27.3163 | 25.7945 | 26.9113 | 26.6843
320067 | 0.8947 | 0.8858 | 24.9865 | 24.7025 | 25.4100 | 25.0450
320069 | 1.0782 | 0.8858 | 22.4128 | 23.9863 | 25.3134 | 23.9141
320070 | 0.9255 | 1.4430 | * | * | * | *
320074 | 1.2421 | 0.9499 | 31.1333 | 28.4396 | 28.8072 | 29.1304
320079 | 1.2567 | 0.9499 | 26.1188 | 27.6877 | 31.5635 | 28.5357
320083 | 2.4454 | 0.9499 | 26.6921 | 29.5483 | 32.9443 | 29.7645
320084 | 0.9653 | 0.8858 | 17.5788 | 22.7706 | 24.2897 | 21.5109
320085 | 1.7562 | 0.8882 | 27.9944 | 27.4100 | 28.4513 | 27.9647
320086 | 1.4744 | 0.8858 | * | * | * | *
320087 | 1.3725 | 1.0587 | * | * | * | *
330002 | 1.5701 | 1.3043 | 30.9600 | 32.1956 | 34.7252 | 32.6020
330003 | 1.3545 | 0.8833 | 24.4326 | 25.2223 | 26.8348 | 25.5129
330004 | 1.3501 | 1.0709 | 28.0594 | 30.2236 | 30.3204 | 29.4839
330005 | 1.5906 | 0.9593 | 30.3200 | 31.5030 | 33.2828 | 31.7049
330006 | 1.2783 | 1.3043 | 33.6284 | 34.2001 | 36.3279 | 34.6900
330008 | 1.1757 | 0.9593 | 23.4429 | 25.2005 | 26.2131 | 24.9414
330009 | 1.3652 | 1.3043 | 36.2820 | 38.9166 | 41.3767 | 38.8011
330010 | 1.0125 | 0.8375 | 20.7476 | 19.7098 | 20.5800 | 20.3266
330011 | 1.3772 | 0.8721 | 25.1308 | 27.4747 | 26.8258 | 26.4851
330013 | 1.9475 | 0.8833 | 26.4578 | 26.8382 | 28.8015 | 27.3879
330014 | 1.3374 | 1.3043 | 42.1759 | 45.7619 | 46.3155 | 44.6761
330016 | *** | * | 22.0493 | 23.0769 | * | 22.5738
330019 | 1.3063 | 1.3043 | 38.5368 | 39.7429 | 44.5627 | 40.8880
330023 | 1.5312 | 1.2855 | 35.9428 | 36.4736 | 37.5106 | 36.6960
330024 | 1.7996 | 1.3043 | 42.7691 | 43.2342 | 44.8034 | 43.6032
330025 | 1.0483 | 0.9593 | 21.2565 | 23.2424 | 24.2691 | 22.9268
330027 | 1.3943 | 1.2855 | 42.8000 | 45.1920 | 45.9531 | 44.5412
330028 | 1.5319 | 1.3043 | 36.6498 | 36.2901 | 38.0116 | 36.9910
330029 | 0.5241 | 0.9593 | 23.2039 | 24.0679 | 22.9321 | 23.3384
330030 | 1.1544 | 0.8911 | 24.6175 | 25.3454 | 25.5081 | 25.1586
330033 | 1.2323 | 0.8531 | 24.5510 | 24.8022 | 25.0205 | 24.7863
330036 | 1.2126 | 1.3043 | 29.1884 | 30.3757 | 30.4633 | 30.0049
330037 | 1.2293 | 0.8911 | 22.3689 | 21.9246 | 23.4904 | 22.5870
330041 | 1.3098 | 1.3043 | 37.4883 | 36.9934 | 37.1640 | 37.2203
330043 | 1.4593 | 1.2729 | 39.1643 | 38.8060 | 40.6059 | 39.5013
330044 | 1.3446 | 0.8721 | 26.5669 | 28.2293 | 28.2619 | 27.6916
330045 | 1.4086 | 1.2729 | 38.1269 | 40.0326 | 41.6537 | 39.9715
330046 | 1.3696 | 1.3043 | 50.3152 | 47.4975 | 52.2364 | 49.9699
330047 | 1.2132 | 0.8375 | 24.3932 | 24.9934 | 26.1791 | 25.2159
330049 | 1.4907 | 1.2694 | 29.8350 | 34.8585 | 34.9720 | 33.3441
330053 | 1.0857 | 0.8911 | 20.6272 | 21.8383 | 20.1297 | 20.8283
330055 | 1.5415 | 1.3043 | 41.5934 | 42.2007 | 44.2313 | 42.7264
330056 | 1.3947 | 1.3043 | 36.0136 | 38.8910 | 39.9628 | 38.2393
330057 | 1.6802 | 0.8833 | 26.4989 | 27.7121 | 30.1910 | 28.1436
330058 | 1.2665 | 0.8911 | 22.2524 | 22.6852 | 23.6285 | 22.8634
330059 | 1.5527 | 1.3043 | 41.7343 | 44.9162 | 45.3660 | 44.0375
330061 | 1.1594 | 1.3043 | 36.0587 | 37.8828 | 37.8620 | 37.2887
330064 | 1.2603 | 1.3043 | 38.0437 | 38.2332 | 41.5714 | 39.3164
330065 | 1.0618 | 0.9593 | 25.3043 | 24.4004 | 26.2272 | 25.3188
330066 | 1.2729 | 0.8833 | 29.1780 | 25.8174 | 27.2069 | 27.4291
330067 | 1.3961 | 1.2694 | 27.8900 | 29.2571 | 30.7516 | 29.2920
330072 | 1.3012 | 1.3043 | 37.8505 | 39.6996 | 41.4567 | 39.5848
330073 | 1.1090 | 0.8911 | 22.5592 | 23.4020 | 25.1380 | 23.7034
330074 | 1.1944 | 0.8911 | 22.6629 | 23.4576 | 23.1004 | 23.0807
330075 | 1.1190 | 0.9865 | 23.1592 | 24.2552 | 23.7516 | 23.7241
330078 | 1.4677 | 0.9593 | 25.8073 | 27.2870 | 27.6659 | 26.9471
330079 | 1.3733 | 0.8308 | 24.6054 | 24.9941 | 27.9464 | 25.8287
330080 | 1.1760 | 1.3043 | 39.1417 | 38.9405 | 40.2059 | 39.4431
330084 | 1.0851 | 0.8308 | 22.5573 | 25.6880 | 27.3430 | 25.1537
330085 | 1.1551 | 0.9471 | 25.3285 | 26.6235 | 27.1697 | 26.3813
330086 | 1.3189 | 1.3043 | 32.7675 | 35.5269 | 40.9743 | 36.5723
330088 | 1.0110 | 1.2729 | 34.0789 | 35.3871 | 35.9962 | 35.1584
330090 | 1.4588 | 0.9101 | 25.5351 | 26.8730 | 27.7287 | 26.7363
330091 | 1.3843 | 0.9593 | 25.9378 | 27.0040 | 28.3015 | 27.0881
330094 | 1.2631 | 0.9901 | 25.7116 | 26.9148 | 28.6203 | 27.1128
330096 | 1.1987 | 0.8308 | 22.7189 | 24.2422 | 24.7885 | 23.9177
330100 | 1.1185 | 1.3043 | 38.3333 | 39.6244 | 37.8618 | 38.6066
330101 | 1.8970 | 1.3043 | 40.1929 | 43.7944 | 45.5381 | 43.2279
330102 | 1.4096 | 0.9593 | 25.3879 | 26.6887 | 27.2523 | 26.4449
330103 | 1.2008 | 0.8351 | 22.8242 | 24.5585 | 25.4907 | 24.2904
330104 | 1.3423 | 1.3043 | 33.7537 | 35.1076 | 36.5857 | 35.1622
330106 | 1.6914 | 1.2855 | 43.8210 | 46.3657 | 48.2871 | 46.1844
330107 | 1.2407 | 1.2729 | 34.9047 | 35.7384 | 38.0246 | 36.2529
330108 | 1.1289 | 0.8347 | 23.2919 | 23.9368 | 25.3011 | 24.1893
330111 | 0.9674 | 0.9593 | 20.3473 | 40.4349 | 23.2125 | 25.3142
330115 | 1.1888 | 0.9865 | 25.2373 | 23.8235 | 24.3889 | 24.4744
330119 | 1.7304 | 1.3043 | 39.0528 | 42.2901 | 41.2326 | 40.8420
330125 | 1.7378 | 0.8911 | 27.2920 | 28.0584 | 29.4802 | 28.3192
330126 | 1.3038 | 1.2855 | 35.2257 | 36.5689 | 37.7797 | 36.5514
330127 | 1.3108 | 1.3043 | 45.3680 | 45.2993 | 45.2542 | 45.3069
330128 | 1.2304 | 1.3043 | 39.5197 | 41.7790 | 43.3424 | 41.5728
330132 | 1.1001 | 0.8439 | 21.0479 | 21.7648 | 22.1446 | 21.6691
330133 | 1.3704 | 1.3043 | 39.3837 | 38.5228 | 39.9011 | 39.2582
330135 | 1.2101 | 1.1586 | 27.9132 | 32.0525 | 33.2291 | 31.0896
330136 | 1.5320 | 0.9471 | 25.8531 | 26.6680 | 25.4193 | 25.9628
330140 | 1.7962 | 0.9865 | 27.6183 | 29.3461 | 31.1320 | 29.4083
330141 | 1.3202 | 1.2729 | 39.4701 | 39.3741 | 39.1699 | 39.3348
330144 | 0.9865 | 0.8362 | 22.9561 | 23.3874 | 24.9303 | 23.7658
330151 | 1.2083 | 0.8362 | 21.7665 | 19.7959 | 21.6335 | 21.0260
330152 | 1.3015 | 1.3043 | 37.6721 | 38.2079 | 39.5722 | 38.4999
330153 | 1.7175 | 0.8833 | 26.4386 | 28.4446 | 28.9924 | 27.9865
330154 | 1.6921 | * | * | * | * | *
330157 | 1.3796 | 0.9471 | 26.5686 | 27.1432 | 29.7604 | 27.7881
330158 | 1.6713 | 1.3043 | 38.2033 | 41.7010 | 39.5913 | 39.8276
330159 | 1.3553 | 0.9865 | 28.2774 | 31.7835 | 33.8472 | 31.2089
330160 | 1.5503 | 1.3043 | 36.6208 | 37.1915 | 39.1048 | 37.6457
330162 | 1.3383 | 1.3043 | 34.9460 | 37.6226 | 38.7613 | 37.1390
330163 | 1.1132 | 0.9593 | 27.1933 | 28.3910 | 28.6229 | 28.0754
330164 | 1.4898 | 0.8911 | 27.7217 | 27.8746 | 29.8437 | 28.5199
330166 | 1.0613 | 0.8308 | 20.4680 | 20.7121 | 22.8498 | 21.3014
330167 | 1.6290 | 1.2855 | 36.7653 | 39.1251 | 39.1824 | 38.3281
330169 | 1.3998 | 1.3043 | 45.3774 | 46.4939 | 47.5367 | 46.4021
330171 | *** | * | 30.4005 | 35.1577 | * | 32.5880
330175 | 1.1285 | 0.8568 | 23.8509 | 24.1005 | 26.7868 | 24.8937
330177 | 0.9936 | 0.8308 | 20.6338 | 22.9834 | 23.4294 | 22.3276
330180 | 1.1924 | 0.8833 | 24.3761 | 25.4170 | 26.8643 | 25.5779
330181 | 1.3033 | 1.2855 | 41.4104 | 43.0977 | 46.2154 | 43.5483
330182 | 2.2878 | 1.2855 | 40.9014 | 41.3033 | 42.7924 | 41.6641
330184 | 1.3645 | 1.3043 | 35.8102 | 39.0437 | 39.7213 | 38.2058
330185 | 1.2668 | 1.2729 | 36.3155 | 38.4002 | 39.6695 | 38.1531
330188 | 1.2402 | 0.9593 | 25.1153 | 27.5988 | 29.7302 | 27.4385
330189 | 1.2886 | 0.8833 | 22.3484 | 22.4383 | 25.8116 | 23.5448
330191 | 1.2850 | 0.8833 | 25.5656 | 26.4328 | 28.2938 | 26.8175
330193 | 1.4383 | 1.3043 | 39.9327 | 39.8910 | 40.0256 | 39.9494
330194 | 1.7941 | 1.3043 | 45.5639 | 46.8880 | 49.8845 | 47.4698
330195 | 1.7054 | 1.3043 | 39.7802 | 41.7885 | 43.3185 | 41.6774
330196 | 1.2884 | 1.3043 | 36.7178 | 38.2525 | 38.6925 | 37.9124
330197 | 1.1174 | 0.8308 | 26.8921 | 25.9872 | 26.5516 | 26.4718
330198 | 1.3922 | 1.2855 | 33.4930 | 34.8985 | 35.8688 | 34.8129
330199 | 1.1949 | 1.3043 | 38.6407 | 40.3948 | 39.4065 | 39.4834
330201 | 1.8000 | 1.3043 | 37.2064 | 42.6707 | 46.5096 | 42.1336
330202 | 1.4107 | 1.3043 | 37.4150 | 37.4158 | 38.7609 | 37.8756
330203 | 1.4153 | 0.9865 | 32.1207 | 34.0499 | 34.6499 | 33.6383
330204 | 1.4550 | 1.3043 | 39.6393 | 41.9953 | 39.5313 | 40.4252
330205 | 1.2337 | 1.1586 | 31.9510 | 33.9418 | 35.3766 | 33.7848
330208 | 1.1951 | 1.3043 | 32.1256 | 33.5287 | 37.1706 | 34.2436
330209 | *** | * | 30.2038 | * | * | 30.2038
330211 | 1.0836 | 0.8308 | 24.4470 | 25.8752 | 24.9417 | 25.1105
330213 | 1.0678 | 0.8308 | 24.4049 | 27.4890 | 28.5365 | 26.7727
330214 | 1.8791 | 1.3043 | 41.8719 | 42.1339 | 43.2434 | 42.4360
330215 | 1.2792 | 0.8721 | 23.7361 | 23.9583 | 26.3964 | 24.6837
330218 | 1.0910 | 0.9865 | 26.9638 | 26.9982 | 28.4109 | 27.4690
330219 | 1.7127 | 0.9593 | 29.8889 | 32.5658 | 33.2132 | 31.8655
330221 | 1.3708 | 1.3043 | 39.2080 | 40.0514 | 42.5461 | 40.6770
330222 | 1.2774 | 0.8833 | 25.8507 | 27.7198 | 28.7835 | 27.5072
330223 | 0.9707 | 0.8308 | 23.3669 | 26.1264 | 27.1959 | 25.6000
330224 | 1.3100 | 1.0709 | 27.9231 | 29.1738 | 30.4765 | 29.2021
330225 | 1.2228 | 1.2855 | 32.3585 | 35.7651 | 32.9013 | 33.6812
330226 | 1.4002 | 0.8911 | 24.5646 | 24.8471 | 26.3674 | 25.2746
330229 | 1.2244 | 0.8420 | 21.9356 | 23.0577 | 23.9230 | 22.9668
330230 | 1.0278 | 1.3043 | 37.1298 | 38.6569 | 39.3870 | 38.3808
330231 | 1.1135 | 1.3043 | 40.6697 | 44.9422 | 48.9002 | 44.9236
330232 | 1.2072 | 0.8833 | 26.3313 | 27.4639 | 27.9601 | 27.2541
330233 | 1.5357 | 1.3043 | 47.3497 | 52.7070 | 40.8517 | 46.1530
330234 | 2.3425 | 1.3043 | 48.2306 | 49.3219 | 49.8754 | 49.1340
330235 | 1.1520 | 0.9471 | 27.7031 | 29.4346 | 30.8007 | 29.3076
330236 | 1.5494 | 1.3043 | 40.2386 | 42.8981 | 42.6166 | 41.9558
330238 | 1.2738 | 0.8911 | 21.7435 | 21.8386 | 23.3946 | 22.3482
330239 | 1.2402 | 0.8420 | 22.3854 | 23.1885 | 24.6380 | 23.4006
330240 | 1.4609 | 1.3043 | 43.5753 | 40.5001 | 41.6117 | 41.8580
330241 | 1.8409 | 0.9865 | 30.2304 | 32.7683 | 32.9148 | 32.0133
330242 | 1.3112 | 1.3043 | 37.4870 | 36.9015 | 38.7839 | 37.7206
330245 | 1.7745 | 0.8721 | 26.1811 | 27.4326 | 28.6678 | 27.4605
330246 | 1.3715 | 1.2729 | 37.1611 | 35.7416 | 35.9559 | 36.2356
330247 | 1.1834 | 1.3043 | 35.4980 | 39.0219 | 41.3428 | 38.4848
330249 | 1.3392 | 0.9865 | 25.3246 | 24.6091 | 26.9847 | 25.6366
330250 | 1.3845 | 0.9216 | 27.1606 | 29.0080 | 29.6168 | 28.6244
330259 | 1.5072 | 1.2855 | 35.1514 | 36.4788 | 39.0189 | 36.8295
330261 | 1.2365 | 1.3043 | 33.7834 | 40.2579 | 38.0192 | 37.2335
330263 | 1.0140 | 0.8308 | 23.8738 | 24.1333 | 24.2125 | 24.0872
330264 | 1.3203 | 1.1586 | 30.4701 | 31.0557 | 32.1770 | 31.4635
330265 | 1.2419 | 0.8911 | 21.6477 | 23.9081 | 22.7426 | 22.7616
330267 | 1.3921 | 1.3043 | 32.8541 | 34.9885 | 35.3884 | 34.4218
330268 | 0.9313 | 0.8308 | 25.3567 | 23.8793 | 23.9129 | 24.3479
330270 | 2.0758 | 1.3043 | 57.3596 | 55.2136 | 52.3126 | 54.6691
330273 | 1.3499 | 1.3043 | 37.0157 | 35.9298 | 39.7849 | 37.6016
330276 | 1.1594 | 0.8344 | 24.3300 | 26.0935 | 27.0432 | 25.8320
330277 | 1.2068 | 0.9101 | 26.4535 | 30.9053 | 30.8138 | 29.1290
330279 | 1.6224 | 0.9593 | 27.4539 | 29.6385 | 31.2369 | 29.4467
330285 | 1.9771 | 0.8911 | 30.1928 | 31.1235 | 31.9305 | 31.0944
330286 | 1.3514 | 1.2729 | 35.5895 | 37.6040 | 38.8533 | 37.3699
330290 | 1.6233 | 1.3043 | 39.4690 | 40.6933 | 39.8010 | 39.9779
330304 | 1.3053 | 1.3043 | 36.2845 | 37.3537 | 39.4605 | 37.8134
330306 | 1.4567 | 1.3043 | 36.3552 | 38.7713 | 39.0391 | 38.0888
330307 | 1.3412 | 0.9561 | 29.2529 | 29.5885 | 30.8103 | 29.9028
330314 | *** | * | 26.2719 | 28.1788 | 22.6868 | 26.0606
330316 | 1.2398 | 1.3043 | 34.8567 | 37.1766 | 37.9320 | 36.6690
330331 | 1.2869 | 1.2855 | 39.8402 | 41.2694 | 44.1690 | 41.7977
330332 | 1.3105 | 1.2855 | 35.1646 | 37.0111 | 38.6906 | 36.9311
330338 | *** | * | 37.7497 | * | * | 37.7497
330339 | 0.7634 | 0.8833 | 23.5786 | 24.3066 | 25.0041 | 24.2976
330340 | 1.2284 | 1.2729 | 37.9000 | 37.4161 | 38.4698 | 37.9265
330350 | 1.5260 | 1.3043 | 41.1339 | 44.4617 | 44.2368 | 43.3333
330353 | 1.2443 | 1.3043 | 45.9692 | 45.0977 | 46.0175 | 45.7015
330354 | 2.1246 | * | * | * | * | *
330357 | 1.2886 | 1.3043 | 38.2286 | 40.3850 | 40.2097 | 39.5419
330372 | 1.2901 | 1.2855 | 36.1840 | 35.1297 | 37.0288 | 36.1053
330385 | 1.0504 | 1.3043 | 48.6175 | 49.0859 | 47.3989 | 48.3826
330386 | 1.3408 | 1.1461 | 29.9366 | 33.3216 | 32.9974 | 32.1005
330389 | 1.7338 | 1.3043 | 37.1862 | 39.6871 | 37.5883 | 38.1257
330390 | 1.2394 | 1.3043 | 36.3842 | 35.5562 | 38.7634 | 36.9285
330393 | 1.7385 | 1.2729 | 38.0619 | 39.2186 | 38.9295 | 38.7593
330394 | 1.6520 | 0.8721 | 27.3388 | 28.4597 | 28.8056 | 28.2126
330395 | 1.4204 | 1.3043 | 36.3921 | 37.5791 | 50.1276 | 40.5815
330396 | 1.3480 | 1.3043 | 37.4998 | 39.4904 | 39.1940 | 38.7397
330397 | 1.4094 | 1.3043 | 37.5682 | 41.4448 | 41.1659 | 39.9850
330399 | 1.1317 | 1.3043 | 34.7394 | 36.7626 | 39.8000 | 37.1071
330401 | 1.3519 | 1.2729 | 37.8559 | 40.4485 | 41.7804 | 40.0688
330403 | 0.9101 | 0.8911 | 25.5163 | 25.2937 | 28.7267 | 26.3688
330404 | 0.9366 | 1.3043 | * | * | 36.1044 | 36.1044
330405 | 0.9452 | 1.3043 | * | * | 35.2698 | 35.2698
330406 | 0.9450 | 0.8833 | * | * | 28.2727 | 28.2727
330407 | 0.9449 | 0.8833 | * | * | * | *
340001 | 1.4870 | 0.9570 | 28.3988 | 29.5709 | 29.9082 | 29.3235
340002 | 1.7858 | 0.9192 | 28.4860 | 29.6622 | 30.7384 | 29.6332
340003 | 1.2344 | 0.8632 | 24.1602 | 26.0888 | 26.6393 | 25.6927
340004 | 1.4318 | 0.9096 | 26.6404 | 27.5283 | 27.9184 | 27.3734
340008 | 1.2672 | 0.9567 | 26.7443 | 27.7206 | 29.0639 | 27.8645
340010 | 1.3315 | 0.9557 | 27.2105 | 28.7544 | 29.5207 | 28.5197
340011 | 1.1738 | 0.8632 | 19.7441 | 22.0047 | 22.5138 | 21.4242
340012 | 1.2246 | 0.8632 | 23.2288 | 24.7576 | 24.9253 | 24.3215
340013 | 1.2360 | 0.9307 | 23.9492 | 26.3607 | 26.9137 | 25.7232
340014 | 1.6086 | 0.8984 | 27.4888 | 27.8384 | 29.5330 | 28.3119
340015 | 1.3956 | 0.9570 | 28.0585 | 28.3928 | 30.0958 | 28.8519
340016 | 1.3330 | 0.8632 | 25.6454 | 27.2365 | 27.9629 | 26.9654
340017 | 1.2759 | 0.9192 | 25.7780 | 27.5672 | 28.4845 | 27.2551
340020 | 1.1889 | 0.8788 | 26.4465 | 27.5473 | 28.3440 | 27.4399
340021 | 1.3379 | 0.9570 | 29.4864 | 29.3835 | 31.3610 | 30.1011
340023 | 1.3629 | 0.9307 | 26.4225 | 26.2716 | 27.6909 | 26.8311
340024 | 1.1349 | 0.8809 | 23.6638 | 26.4001 | 26.8984 | 25.6597
340025 | 1.2988 | 0.9192 | 23.5881 | 24.0101 | 25.2827 | 24.3044
340027 | 1.2181 | 0.9174 | 25.5973 | 26.3840 | 26.6506 | 26.2232
340028 | 1.5011 | 0.9923 | 28.0323 | 30.7591 | 31.9846 | 30.2233
340030 | 1.9766 | 0.9693 | 29.6630 | 30.4591 | 31.1985 | 30.4842
340032 | 1.4553 | 0.9570 | 26.5958 | 28.7636 | 29.2058 | 28.2291
340035 | 1.0979 | 0.8632 | 23.9669 | 24.6262 | 26.0827 | 24.8874
340036 | 1.3100 | 0.9685 | 27.2691 | 27.3860 | 29.0626 | 27.9422
340037 | 1.1218 | 0.8794 | 25.6262 | 29.0618 | 30.5346 | 28.5630
340038 | 1.2380 | 0.8885 | 22.4829 | 24.2111 | 26.2582 | 24.3742
340039 | 1.2806 | 0.9570 | 27.4457 | 27.8228 | 29.5042 | 28.2768
340040 | 1.9081 | 0.9346 | 27.6626 | 28.7434 | 30.1256 | 28.8796
340041 | 1.3315 | 0.8946 | 24.3595 | 26.8314 | 27.1270 | 26.1141
340042 | 1.2353 | 0.8632 | 25.0110 | 25.6349 | 27.0573 | 25.9214
340047 | 1.8051 | 0.8984 | 27.4022 | 28.4968 | 28.7600 | 28.2338
340049 | 1.7851 | 0.9693 | 30.6791 | 29.6826 | 31.5524 | 30.6567
340050 | 1.2008 | 0.9567 | 26.0365 | 27.5274 | 29.2266 | 27.6025
340051 | 1.1886 | 0.8794 | 23.9612 | 24.4561 | 25.4961 | 24.6507
340053 | 1.4900 | 0.9570 | 27.8577 | 28.9355 | 30.8320 | 29.2316
340055 | 1.2129 | 0.8946 | 26.0647 | 26.5752 | 29.0098 | 27.1555
340060 | 1.0621 | 0.9141 | 22.9097 | 25.1791 | 26.8366 | 24.9813
340061 | 1.7496 | 0.9693 | 27.0089 | 29.8574 | 31.2885 | 29.4140
340064 | 1.1205 | 0.8632 | 23.4233 | 23.9701 | 25.0796 | 24.1848
340068 | 1.2915 | 0.8632 | 22.6814 | 23.6757 | 24.7388 | 23.6999
340069 | 1.8414 | 0.9693 | 29.3439 | 31.4951 | 32.2147 | 31.0749
340070 | 1.2531 | 0.8984 | 25.3226 | 26.6546 | 27.7660 | 26.6186
340071 | 1.0621 | 0.9557 | 26.3921 | 27.9748 | 29.7321 | 28.0710
340072 | 1.1433 | * | 25.2493 | 24.1350 | * | 24.6895
340073 | 1.6527 | 0.9693 | 30.9849 | 31.6803 | 33.2859 | 32.0279
340075 | 1.2349 | 0.8946 | 25.1551 | 25.1438 | 26.8298 | 25.7432
340084 | 1.1236 | 0.9570 | 21.1363 | 23.1300 | 25.6868 | 23.2795
340085 | 1.1506 | 0.8882 | 26.5164 | 27.9572 | 29.1072 | 27.8491
340087 | 1.2341 | 0.8632 | 22.4287 | 25.4730 | 23.8343 | 23.9111
340090 | 1.3071 | 0.9685 | 26.4031 | 26.7428 | 28.3594 | 27.2234
340091 | 1.6022 | 0.9096 | 27.1285 | 28.8044 | 30.4345 | 28.8160
340096 | 1.2333 | 0.8882 | 24.9036 | 26.5438 | 26.5795 | 26.0408
340097 | 1.2431 | 0.8632 | 26.2228 | 29.8005 | 27.9788 | 27.9546
340098 | 1.4670 | 0.9570 | 28.2493 | 29.7180 | 31.3896 | 29.8226
340099 | 1.2912 | 0.8632 | 21.8564 | 23.9702 | 26.0062 | 24.0248
340104 | 0.7848 | 0.8794 | 16.1204 | 17.0165 | 19.9477 | 17.8305
340106 | 1.1406 | 0.8632 | 26.0892 | 26.1340 | 24.5134 | 25.5139
340107 | 1.1991 | 0.9068 | 24.1762 | 26.5626 | 27.3548 | 26.0750
340109 | 1.2448 | 0.8868 | 25.4464 | 26.6383 | 26.6462 | 26.2343
340113 | 1.9457 | 0.9570 | 28.5587 | 30.3841 | 32.3765 | 30.4662
340114 | 1.5304 | 0.9693 | 28.3222 | 28.1311 | 30.1188 | 28.8788
340115 | 1.6260 | 0.9693 | 26.7592 | 27.2781 | 28.0955 | 27.3861
340116 | 1.7476 | 0.8946 | 27.5881 | 29.3698 | 29.9425 | 28.9452
340119 | 1.2861 | 0.9570 | 25.6226 | 29.4470 | 27.2924 | 27.4283
340120 | 1.0708 | 0.8632 | 25.9134 | 25.5399 | 26.1449 | 25.8647
340121 | 1.0930 | 0.9087 | 23.1343 | 23.8854 | 25.1565 | 24.0798
340123 | 1.2779 | 0.9141 | 26.0637 | 28.5669 | 28.7125 | 27.7861
340124 | *** | * | 22.2988 | 23.5480 | 25.7275 | 23.7126
340126 | 1.3283 | 0.9557 | 26.9866 | 28.2247 | 30.6880 | 28.6662
340127 | 1.1942 | 0.9693 | 26.4746 | 28.2161 | 28.8647 | 27.8604
340129 | 1.3110 | 0.9570 | 25.7976 | 26.7606 | 31.7833 | 27.9613
340130 | 1.3497 | 0.9570 | 26.1717 | 28.1594 | 29.5278 | 27.9862
340131 | 1.4690 | 0.9174 | 27.4750 | 28.8542 | 29.6545 | 28.6874
340132 | 1.2127 | 0.8632 | 23.5856 | 24.6162 | 25.3247 | 24.5295
340133 | 1.0197 | 0.8940 | 23.4678 | 24.8579 | 26.8831 | 25.1020
340137 | *** | * | 22.1741 | 28.9672 | 27.0855 | 25.1884
340138 | 0.9092 | 0.9693 | * | * | * | *
340141 | 1.6729 | 0.9087 | 29.3878 | 29.3171 | 29.3351 | 29.3465
340142 | 1.2123 | 0.8632 | 26.6886 | 27.7555 | 28.2393 | 27.5936
340143 | 1.5447 | 0.8946 | 28.0082 | 27.9777 | 29.3839 | 28.4856
340144 | 1.2183 | 0.9570 | 26.1865 | 27.0150 | 27.6523 | 26.9370
340145 | 1.2148 | 0.9570 | 25.8459 | 26.7482 | 28.0628 | 26.9029
340147 | 1.3027 | 0.9557 | 26.9162 | 28.2626 | 29.6936 | 28.3096
340148 | 1.5007 | 0.8984 | 25.3660 | 25.8325 | 27.9119 | 26.4048
340151 | 1.2153 | 0.8684 | 22.7736 | 23.2158 | 24.5768 | 23.5273
340153 | 1.9232 | 0.9570 | 27.6509 | 28.5979 | 29.8260 | 28.7235
340155 | 1.4750 | 0.9693 | 30.3443 | 30.9501 | 31.7547 | 31.0367
340156 | 0.8722 | 1.4446 | * | * | * | *
340158 | 1.1294 | 0.9087 | 27.7816 | 27.6526 | 29.4088 | 28.3011
340159 | 1.2146 | 0.9693 | 24.2588 | 25.3108 | 28.1688 | 25.9712
340160 | 1.3520 | 0.8632 | 21.7923 | 23.4631 | 24.2003 | 23.1718
340166 | 1.3505 | 0.9570 | 27.1132 | 28.5395 | 29.9101 | 28.5234
340168 | 0.4196 | 0.9087 | * | * | * | *
340171 | 1.1184 | 0.9570 | 27.8539 | 27.4701 | 31.1928 | 28.9088
340173 | 1.3301 | 0.9693 | 28.3502 | 30.2815 | 30.9813 | 29.9351
340177 | *** | * | 26.7155 | * | * | 26.7155
340179 | *** | * | 34.1895 | * | * | 34.1895
340182 | *** | * | 27.8071 | * | * | 27.8071
340183 | 1.1992 | 0.9570 | * | * | 30.1224 | 30.1224
350002 | 1.8113 | 0.7336 | 22.4307 | 23.5869 | 23.6039 | 23.2267
350003 | 1.2133 | 0.7336 | 23.9639 | 24.9975 | 24.5802 | 24.5236
350006 | 1.5637 | 0.7336 | 21.2726 | 22.4626 | 23.4334 | 22.3834
350009 | 1.0718 | 0.8212 | 23.8681 | 24.5737 | 23.9783 | 24.1447
350010 | 1.0699 | * | 20.1290 | 20.4198 | * | 20.2749
350011 | 1.9136 | 0.8212 | 23.8400 | 24.1135 | 26.0184 | 24.6622
350014 | 0.9542 | * | 19.1684 | 17.5837 | * | 18.3437
350015 | 1.5991 | 0.7336 | 20.9046 | 21.3342 | 22.9107 | 21.7900
350017 | 1.2273 | 0.7336 | 22.4359 | 21.6187 | 24.0965 | 22.7331
350019 | 1.6984 | 0.7709 | 23.2018 | 24.9615 | 24.9880 | 24.4055
350030 | 0.9524 | 0.7336 | 20.2722 | 22.5976 | 23.1013 | 22.0048
350063 | 0.9136 | 1.4365 | * | * | * | *
350064 | 0.7388 | 1.4365 | * | * | * | *
350070 | 1.7656 | 0.8212 | 25.2365 | 26.2454 | 26.2850 | 25.9334
360001 | 1.4815 | 0.9581 | 25.8669 | 28.8623 | 30.1018 | 28.2801
360002 | 1.2851 | 0.8723 | 24.5155 | 25.4859 | 25.2198 | 25.0794
360003 | 1.7681 | 0.9581 | 28.9672 | 30.7812 | 31.8948 | 30.5710
360006 | 1.8125 | 0.9869 | 30.1363 | 30.9806 | 31.8259 | 31.0038
360008 | 1.3172 | 0.8759 | 26.2632 | 27.5683 | 28.0182 | 27.2862
360009 | 1.5509 | 0.9299 | 25.0007 | 27.0618 | 28.2407 | 26.7836
360010 | 1.2398 | 0.8784 | 23.7825 | 24.7352 | 25.5935 | 24.7214
360011 | 1.2808 | 0.9657 | 27.6036 | 31.5587 | 29.9864 | 29.6800
360012 | 1.3492 | 0.9869 | 30.1416 | 31.0526 | 31.9806 | 31.0579
360013 | 1.0853 | 0.9299 | 27.0893 | 29.8412 | 30.2383 | 29.0666
360014 | 1.1225 | 0.9657 | 27.1017 | 27.0743 | 28.1800 | 27.4862
360016 | 1.4873 | 0.9581 | 27.8031 | 29.6298 | 30.2164 | 29.2161
360017 | 1.6193 | 0.9869 | 29.8525 | 31.7081 | 33.2491 | 31.6157
360019 | 1.3267 | 0.9266 | 26.9178 | 27.2997 | 28.3226 | 27.5252
360020 | 1.5825 | 0.9266 | 23.6400 | 25.6328 | 27.6681 | 25.6284
360025 | 1.4547 | 0.9267 | 27.4533 | 27.1546 | 28.4754 | 27.6992
360026 | 1.3750 | 0.9321 | 25.5379 | 25.2945 | 27.5409 | 26.1280
360027 | 1.5168 | 0.9266 | 27.4454 | 28.2923 | 29.6304 | 28.4671
360029 | 1.1810 | 0.9267 | 24.3216 | 26.4208 | 27.8825 | 26.2449
360032 | 1.2265 | 0.8582 | 25.0034 | 25.9916 | 27.2621 | 26.0956
360035 | 1.6390 | 0.9869 | 30.0172 | 31.3181 | 31.2432 | 30.8528
360036 | 1.1944 | 0.9266 | 27.8343 | 29.3514 | 29.9390 | 29.0664
360037 | 1.5004 | 0.9266 | 29.0046 | 30.0446 | 30.6535 | 29.8835
360038 | 1.5826 | 0.9581 | 25.4274 | 31.0611 | 31.3759 | 29.1457
360039 | 1.4590 | 0.9657 | 23.9783 | 24.7873 | 25.8206 | 24.8982
360040 | 1.2069 | 0.8969 | 24.8569 | 25.5337 | 26.7437 | 25.7182
360041 | 1.4496 | 0.9266 | 26.1522 | 26.6755 | 28.4427 | 27.1150
360044 | 1.1770 | 0.8709 | 21.5619 | 24.3840 | 24.7681 | 23.5345
360046 | 1.2150 | 0.9581 | 25.4673 | 26.2417 | 28.2956 | 26.6958
360048 | 1.8237 | 0.9267 | 29.3415 | 29.4378 | 30.0370 | 29.6170
360049 | *** | * | 26.2222 | * | * | 26.2222
360051 | 1.6897 | 0.9321 | 26.8501 | 28.1167 | 29.4411 | 28.1381
360052 | 1.5471 | 0.9321 | 26.2066 | 26.8806 | 28.4711 | 27.2049
360054 | 1.3413 | 0.8759 | 22.9359 | 24.8248 | 23.6593 | 23.7903
360055 | 1.4007 | 0.8931 | 27.3941 | 30.0143 | 31.4776 | 29.5863
360056 | 1.5488 | 0.9581 | 26.5318 | 30.3677 | 31.1802 | 29.4451
360058 | 1.1206 | 0.8582 | 23.8119 | 24.5003 | 25.9278 | 24.7681
360059 | 1.4695 | 0.9266 | 29.3624 | 30.6173 | 30.6279 | 30.2152
360062 | 1.5597 | 0.9869 | 31.7422 | 32.8893 | 32.8990 | 32.5514
360064 | 1.5123 | 0.8931 | 25.2336 | 27.7795 | 28.6078 | 27.1789
360065 | 1.2709 | 0.9266 | 28.0405 | 29.7155 | 31.5056 | 29.7621
360066 | 1.4332 | 0.9299 | 27.1436 | 29.7605 | 30.9636 | 29.2899
360068 | 1.8584 | 0.9267 | 26.2065 | 26.6933 | 28.6320 | 27.1929
360070 | 1.6693 | 0.8845 | 27.2389 | 27.8891 | 28.8717 | 27.9936
360071 | 1.1466 | 0.8617 | 23.4619 | 26.4081 | 25.7940 | 25.2133
360072 | 1.5262 | 0.9869 | 25.9589 | 27.2286 | 28.3666 | 27.2276
360074 | 1.2813 | 0.9267 | 25.8959 | 27.5328 | 27.9970 | 27.1581
360075 | 1.2013 | 0.9266 | 26.8925 | 26.1657 | 28.3916 | 27.1857
360076 | 1.5143 | 0.9581 | 28.1013 | 29.0148 | 29.2102 | 28.7968
360077 | 1.5018 | 0.9266 | 28.4449 | 28.0133 | 28.3010 | 28.2547
360078 | 1.2814 | 0.9266 | 25.7885 | 27.4689 | 27.3636 | 26.8573
360079 | 1.7270 | 0.9321 | 27.2437 | 30.1230 | 31.3114 | 29.5585
360080 | 1.1032 | 0.8582 | 21.4526 | 22.7020 | 21.8797 | 22.0297
360081 | 1.3032 | 0.9267 | 29.8366 | 29.5312 | 31.4274 | 30.2589
360082 | 1.3735 | 0.9266 | 29.2561 | 28.7925 | 30.5823 | 29.5279
360084 | 1.6319 | 0.8845 | 27.3917 | 28.5402 | 29.2435 | 28.4167
360085 | 2.0543 | 0.9869 | 31.5800 | 32.8502 | 33.1267 | 32.5905
360086 | 1.6514 | 0.9321 | 25.4218 | 27.3124 | 28.3559 | 27.0242
360087 | 1.4326 | 0.9266 | 29.6579 | 28.4185 | 28.6324 | 28.8850
360089 | 1.1327 | 0.8582 | 25.3465 | 25.5608 | 28.0769 | 26.2935
360090 | 1.4661 | 0.9267 | 29.0199 | 30.7530 | 29.2643 | 29.6802
360091 | 1.3415 | 0.9266 | 25.8657 | 27.6809 | 28.1671 | 27.2522
360092 | 1.2566 | 0.9869 | 25.4954 | 25.4055 | 28.0797 | 26.3112
360095 | 1.4803 | 0.9267 | 26.4635 | 29.3787 | 30.1514 | 28.6022
360096 | 1.1353 | 0.8582 | 25.9275 | 26.8653 | 27.9493 | 26.9250
360098 | 1.4304 | 0.9266 | 25.5973 | 26.6382 | 26.5824 | 26.3001
360100 | 1.3412 | 0.8845 | 25.4523 | 23.6167 | 25.8131 | 24.9650
360101 | 1.4779 | 0.9266 | 27.6030 | 29.7817 | 30.6609 | 29.3460
360107 | 1.1819 | 0.9267 | 24.6095 | 26.0534 | 26.8168 | 25.8586
360109 | 1.0429 | 0.8582 | 26.3131 | 30.1382 | 30.4624 | 28.9111
360112 | 1.8522 | 0.9267 | 30.5715 | 31.1356 | 32.4383 | 31.4039
360113 | 1.2805 | 0.9581 | 26.6556 | 30.2871 | 30.3893 | 29.0672
360115 | 1.3320 | 0.9266 | 25.9841 | 26.1821 | 26.8438 | 26.3395
360116 | 1.2122 | 0.9581 | 25.1717 | 26.4968 | 26.8619 | 26.2113
360118 | 1.4755 | 0.9295 | 27.3884 | 28.5643 | 29.9812 | 28.5726
360121 | 1.2872 | 0.9267 | 27.4442 | 28.3835 | 31.6755 | 29.0943
360123 | 1.4063 | 0.9266 | 27.1920 | 28.0334 | 28.5418 | 27.9298
360125 | 1.2052 | 0.8582 | 24.1388 | 25.9067 | 27.1761 | 25.6993
360130 | 1.5015 | 0.9266 | 25.6570 | 26.3986 | 28.1792 | 26.7600
360131 | 1.3679 | 0.8845 | 25.3719 | 26.6635 | 27.3408 | 26.4479
360132 | 1.3742 | 0.9581 | 27.7724 | 29.4070 | 29.8386 | 28.9945
360133 | 1.5965 | 0.9321 | 29.8684 | 31.7521 | 33.1791 | 31.6376
360134 | 1.7642 | 0.9581 | 27.7339 | 28.5141 | 29.9175 | 28.7663
360137 | 1.7064 | 0.9266 | 26.1250 | 27.6894 | 30.3093 | 28.0256
360141 | 1.6073 | 0.8931 | 29.7937 | 31.1778 | 31.9380 | 30.9580
360143 | 1.3047 | 0.9266 | 28.3057 | 26.9394 | 28.0681 | 27.7625
360144 | 1.3394 | 0.9266 | 28.2473 | 28.9177 | 29.6531 | 28.9566
360145 | 1.6504 | 0.9266 | 27.1908 | 28.1835 | 29.3247 | 28.2623
360147 | 1.2554 | 0.8582 | 25.5854 | 27.5548 | 29.2356 | 27.4482
360148 | 1.1785 | 0.8582 | 26.0837 | 26.3399 | 25.7446 | 26.0498
360150 | 1.3213 | 0.9266 | 25.1217 | 28.2561 | 27.8825 | 27.0949
360151 | 1.4719 | 0.8845 | 25.3780 | 26.5636 | 26.9664 | 26.3114
360152 | 1.5125 | 0.9869 | 29.9425 | 31.5377 | 33.3560 | 31.6190
360153 | 0.9954 | 0.8582 | 19.8499 | 20.2147 | 21.8404 | 20.6626
360155 | 1.4645 | 0.9266 | 26.9127 | 28.9521 | 28.8915 | 28.2820
360156 | 1.1512 | 0.8701 | 24.3281 | 25.0833 | 26.2253 | 25.2574
360159 | 1.3312 | 0.9657 | 29.1529 | 28.6174 | 29.0171 | 28.9284
360161 | 1.3364 | 0.8931 | 25.4433 | 27.0875 | 27.7406 | 26.7559
360163 | 1.8747 | 0.9581 | 28.9742 | 30.0724 | 31.2057 | 30.0774
360170 | 1.1878 | 0.9869 | 28.5474 | 29.5954 | 30.0025 | 29.4160
360172 | 1.3762 | 0.9266 | 27.5669 | 28.8283 | 30.2315 | 28.8817
360174 | 1.2862 | 0.9321 | 26.8586 | 28.3143 | 28.3749 | 27.8656
360175 | 1.2487 | 0.9657 | 28.1531 | 28.3054 | 29.7479 | 28.7375
360179 | 1.5492 | 0.9581 | 30.0311 | 29.8299 | 31.3518 | 30.4088
360180 | 2.3387 | 0.9266 | 29.6633 | 31.4342 | 32.0205 | 31.0895
360185 | 1.2624 | 0.8582 | 25.6800 | 26.1080 | 26.4201 | 26.0786
360187 | 1.4967 | 0.9321 | 24.9353 | 25.7600 | 27.3727 | 26.0387
360189 | 1.1420 | 0.9869 | 26.3756 | 27.5097 | 28.2736 | 27.4040
360192 | 1.3279 | 0.9266 | 26.4616 | 27.5991 | 29.1980 | 27.8031
360195 | 1.0799 | 0.9266 | 25.0922 | 27.6155 | 27.2619 | 26.6349
360197 | 1.1347 | 0.9657 | 28.7580 | 28.9207 | 28.5250 | 28.7314
360203 | 1.1898 | 0.8582 | 24.4433 | 25.3692 | 27.7551 | 25.8598
360210 | 1.2170 | 0.9869 | 28.2976 | 29.6476 | 31.8161 | 29.9477
360211 | 1.6076 | 0.8582 | 25.7053 | 26.5459 | 27.2721 | 26.4875
360212 | 1.3076 | 0.9266 | 25.6080 | 26.6976 | 28.5868 | 26.9659
360218 | 1.2246 | 0.9869 | 29.8662 | 30.0101 | 31.0690 | 30.3264
360230 | 1.5275 | 0.9266 | 28.8018 | 30.0661 | 30.5975 | 29.8409
360234 | 1.4185 | 0.9581 | 25.9360 | 31.0656 | 30.7904 | 29.2950
360236 | 1.3057 | 0.9581 | 25.6728 | 29.5321 | 29.9348 | 28.6891
360239 | 1.3536 | 0.9321 | 27.2939 | 30.7728 | 31.7919 | 29.9651
360241 | *** | * | 23.0662 | 25.7290 | 25.8138 | 24.8236
360242 | 1.9535 | * | * | * | * | *
360245 | 0.6344 | 0.9266 | 20.6504 | 20.3426 | 20.4587 | 20.4760
360247 | 0.4196 | 0.9869 | 19.3677 | * | * | 19.3677
360253 | 2.2617 | 0.9581 | 33.2371 | 34.3347 | 34.6849 | 34.0994
360259 | 1.2301 | 0.9267 | 25.9878 | 27.2902 | 28.0868 | 27.1587
360261 | 1.5079 | 0.9118 | 22.3614 | 25.6332 | 26.6241 | 24.8458
360262 | 1.2975 | 0.9267 | 28.6995 | 30.1559 | 31.5616 | 30.2316
360263 | 1.9432 | 0.9299 | 25.1652 | 25.4864 | 28.1657 | 26.3875
360264 | *** | * | 36.0754 | * | * | 36.0754
360265 | *** | * | 36.6265 | * | * | 36.6265
360266 | 2.1538 | 0.9869 | * | 31.7565 | 29.8358 | 30.6488
360267 | *** | * | * | 34.0936 | * | 34.0936
360268 | *** | * | * | 34.0526 | * | 34.0526
360269 | 1.7035 | 0.9581 | * | 24.8552 | 25.5163 | 25.2427
360270 | 1.1268 | 0.8582 | * | * | 28.8661 | 28.8661
360271 | *** | * | * | * | 28.4331 | 28.4331
360272 | *** | * | * | * | 38.0986 | 38.0986
360273 | *** | * | * | * | 37.6617 | 37.6617
360274 | 1.5016 | 0.9321 | * | * | * | *
360276 | 1.1341 | 0.8931 | * | * | * | *
370001 | 1.6484 | 0.8652 | 26.0194 | 26.8884 | 28.4890 | 27.1483
370002 | 1.1271 | 0.8016 | 22.0476 | 23.6886 | 26.2488 | 23.9833
370004 | 1.1127 | 0.9349 | 26.7434 | 26.8521 | 28.2786 | 27.2955
370006 | 1.2372 | 0.8784 | 22.4802 | 23.9935 | 25.2294 | 23.8425
370007 | 1.0227 | 0.8016 | 19.4036 | 20.3706 | 21.1255 | 20.2911
370008 | 1.4408 | 0.8686 | 25.3352 | 26.6563 | 27.9923 | 26.6850
370011 | 1.0018 | 0.8686 | 21.9649 | 22.3391 | 23.1755 | 22.5131
370013 | 1.5415 | 0.8686 | 26.5364 | 27.2667 | 28.3486 | 27.4244
370014 | 1.0690 | 0.9291 | 25.9393 | 26.4488 | 28.8951 | 27.1129
370015 | 1.0296 | 0.8652 | 24.7547 | 25.5815 | 27.8050 | 26.1032
370016 | 1.5756 | 0.8686 | 26.7938 | 29.8284 | 30.4646 | 28.9272
370018 | 1.5016 | 0.8652 | 25.3573 | 24.6868 | 31.2325 | 27.0624
370019 | 1.1994 | 0.8016 | 22.0221 | 25.2814 | 26.7609 | 24.7201
370020 | 1.4065 | 0.8016 | 20.8723 | 22.7566 | 27.7807 | 23.6027
370022 | 1.1935 | 0.8016 | 24.6099 | 22.2289 | 26.4826 | 24.3184
370023 | 1.2804 | 0.8106 | 23.5170 | 24.0376 | 24.9575 | 24.1637
370025 | 1.3471 | 0.8652 | 23.9873 | 24.5547 | 24.8323 | 24.4542
370026 | 1.4489 | 0.8686 | 25.8428 | 25.5172 | 26.0190 | 25.7953
370028 | 1.9475 | 0.8686 | 27.8621 | 28.5619 | 29.9829 | 28.8114
370029 | 1.1365 | 0.8016 | 26.8508 | 28.5309 | 30.0133 | 28.4170
370030 | 1.0209 | 0.8652 | 24.1483 | 25.8212 | 26.0822 | 25.3421
370032 | 1.4768 | 0.8686 | 24.8626 | 26.2642 | 28.0726 | 26.3353
370034 | 1.2643 | 0.8016 | 19.5099 | 20.4106 | 23.2177 | 21.1222
370036 | 1.0929 | 0.8016 | 19.2318 | 19.8162 | 21.1549 | 20.1518
370037 | 1.6173 | 0.8686 | 24.9553 | 25.2350 | 26.8975 | 25.7110
370039 | 1.0375 | 0.8652 | 23.0254 | 23.5745 | 25.3412 | 23.9675
370040 | 0.9726 | 0.8016 | 22.8356 | 26.7395 | 19.7632 | 23.1713
370041 | 0.8769 | 0.8652 | 22.6731 | 22.9834 | 29.5069 | 24.8467
370047 | 1.4262 | 0.8686 | 24.1991 | 24.4766 | 27.8930 | 25.5715
370048 | 1.0294 | 0.8016 | 21.4543 | 22.0627 | 23.4845 | 22.3179
370049 | 1.3024 | 0.8686 | 23.8844 | 22.8755 | 24.2087 | 23.6440
370051 | 1.0519 | 0.8016 | 19.8329 | 19.3222 | 21.8711 | 20.3135
370054 | 1.2382 | 0.8016 | 22.4652 | 25.2142 | 23.4638 | 23.6682
370056 | 1.8723 | 0.8630 | 24.3986 | 25.5453 | 27.6169 | 25.8232
370057 | 1.0258 | 0.8652 | 19.8683 | 22.1337 | 23.1808 | 21.6643
370060 | 1.0456 | 0.8652 | 19.9025 | 23.3858 | 25.5560 | 22.9757
370065 | 1.0154 | 0.8112 | 21.2343 | 23.5815 | 24.0050 | 22.9087
370072 | 0.8329 | 0.8274 | 11.7942 | 13.0963 | 22.8589 | 14.5180
370078 | 1.5381 | 0.8652 | 27.8611 | 26.6972 | 30.4817 | 28.2974
370080 | 0.9489 | 0.8016 | 19.9595 | 22.4113 | 23.7218 | 22.0520
370083 | 0.9450 | 0.8067 | 19.2568 | 20.9878 | 21.9159 | 20.6845
370084 | 1.0056 | 0.8016 | 19.6230 | 20.7326 | 17.4201 | 19.1737
370089 | 1.4095 | 0.8016 | 20.6153 | 22.1523 | 22.0592 | 21.6429
370091 | 1.6019 | 0.8652 | 24.1438 | 25.8697 | 28.0464 | 26.0375
370093 | 1.6611 | 0.8686 | 26.0459 | 27.5356 | 26.7255 | 26.7691
370094 | 1.3751 | 0.8686 | 24.5555 | 26.5265 | 28.3484 | 26.4229
370097 | 1.2821 | 0.8630 | 26.3168 | 26.8138 | 28.0905 | 27.0817
370099 | 1.0542 | 0.8016 | 24.9971 | 26.7206 | 30.5425 | 27.4897
370100 | 0.9080 | 0.8116 | 17.9732 | 19.4002 | 20.6297 | 19.4038
370103 | 1.0407 | 0.8016 | 18.8933 | 19.4273 | 22.2665 | 20.0894
370105 | 2.0282 | 0.8686 | 26.7973 | 26.6399 | 30.5423 | 27.9853
370106 | 1.4171 | 0.8686 | 27.8979 | 28.5957 | 29.6782 | 28.7253
370112 | 0.9279 | 0.8016 | 16.0592 | 16.7888 | 19.0125 | 17.3058
370113 | 1.1274 | 0.8950 | 26.9720 | 26.4608 | 30.0045 | 27.8038
370114 | 1.5752 | 0.8652 | 23.0006 | 25.9841 | 27.3069 | 25.4424
370138 | 1.0937 | 0.8016 | 20.2528 | 22.1675 | 23.6337 | 21.8806
370139 | 0.9151 | 0.8016 | 19.4287 | 20.5156 | 21.0751 | 20.3636
370148 | 1.5372 | 0.8686 | 27.0904 | 28.1933 | 29.3428 | 28.2968
370149 | 1.3311 | 0.8686 | 23.3493 | 23.3423 | 23.0749 | 23.2542
370153 | 1.1065 | 0.8016 | 23.2778 | 24.1667 | 25.9232 | 24.4635
370156 | 1.0044 | 0.8137 | 25.2562 | 23.0104 | 22.7138 | 23.5680
370158 | 0.9394 | 0.8686 | 20.7641 | 21.5228 | 22.0059 | 21.4295
370166 | 0.8545 | 0.8652 | 25.1107 | 24.7251 | 26.3414 | 25.3950
370169 | 0.9454 | 0.8179 | 16.8252 | 16.6752 | 24.5386 | 19.7622
370170 | 0.9052 | 1.4446 | * | * | * | *
370171 | 0.9693 | 1.4446 | * | * | * | *
370172 | 0.8569 | 1.4704 | * | * | * | *
370173 | 0.9838 | 1.4446 | * | * | * | *
370174 | 0.9087 | 1.4446 | * | * | * | *
370176 | 1.3084 | 0.8652 | 24.7655 | 24.9650 | 26.6672 | 25.4759
370178 | 0.9114 | 0.8016 | 16.0179 | 16.0747 | 15.5266 | 15.8654
370180 | 1.1405 | 1.4446 | * | * | * | *
370183 | 0.9683 | 0.8652 | 24.7103 | 23.8419 | 30.3849 | 26.4222
370190 | 1.5039 | 0.8652 | 29.1568 | 34.6942 | 32.5630 | 32.3673
370192 | 1.9589 | 0.8686 | 27.6367 | 19.0638 | 19.1330 | 21.1807
370196 | *** | * | 22.3498 | 20.8296 | 24.6968 | 22.8178
370199 | 0.9156 | 0.8686 | 23.3989 | 23.7412 | 23.9357 | 23.7085
370200 | 1.0572 | 0.8016 | 20.5175 | 21.7153 | 19.7049 | 20.6651
370201 | 1.7010 | 0.8686 | 23.8090 | 24.2364 | 25.5862 | 24.5320
370202 | 1.4934 | 0.8652 | 26.1132 | 25.7966 | 25.8246 | 25.9084
370203 | 1.9356 | 0.8686 | 22.8869 | 25.7770 | 30.3614 | 26.3098
370206 | 1.7577 | 0.8686 | 26.0353 | 27.5752 | 30.8129 | 28.1710
370210 | 2.1582 | 0.8652 | 23.3786 | 27.2111 | 25.7890 | 25.4309
370211 | 1.1931 | 0.8686 | 27.8737 | 28.6537 | 30.9637 | 29.3408
370212 | 1.8217 | 0.8686 | 19.1720 | 20.3495 | 20.0910 | 19.8981
370214 | 0.8902 | 0.8137 | 20.6217 | 21.0732 | 20.1491 | 20.5858
370215 | 2.3013 | 0.8686 | 31.5652 | 32.4087 | 32.0922 | 32.0514
370216 | 2.0050 | 0.8652 | 27.2429 | 25.8260 | 29.6639 | 27.5894
370217 | *** | * | 26.8677 | * | * | 26.8677
370218 | 1.9640 | 0.8652 | * | 30.3445 | 23.7493 | 26.4612
370219 | *** | * | * | * | 41.4373 | 41.4373
370220 | 2.3081 | 0.8686 | * | * | 21.3140 | 21.3140
370222 | 1.8753 | 0.8686 | * | * | 26.9158 | 26.9158
370223 | 0.8701 | 0.8686 | * | * | 24.0138 | 24.0138
370226 | 1.4674 | 0.8016 | * | * | * | *
370227 | 0.9326 | 0.8652 | * | * | * | *
370228 | 1.2387 | 0.8652 | * | * | * | *
380001 | 1.2850 | 1.1204 | 29.5842 | 32.0770 | 33.8473 | 31.8553
380002 | 1.2143 | 1.0298 | 30.3385 | 31.5246 | 32.6801 | 31.5496
380004 | 1.6454 | 1.1204 | 32.6901 | 34.5432 | 36.1178 | 34.4710
380005 | 1.4198 | 1.0298 | 30.9087 | 33.2849 | 33.5739 | 32.5875
380007 | 1.9643 | 1.1204 | 33.9601 | 35.1697 | 36.4198 | 35.2082
380009 | 2.0934 | 1.1204 | 32.4016 | 34.5635 | 36.5661 | 34.5647
380010 | *** | * | 34.4208 | * | * | 34.4208
380014 | 1.8838 | 1.1076 | 33.6078 | 33.1928 | 35.7074 | 34.1739
380017 | 1.7891 | 1.1204 | 34.2605 | 35.3734 | 37.0024 | 35.5661
380018 | 1.8551 | 1.0298 | 30.9923 | 31.8181 | 32.4859 | 31.7959
380020 | 1.4577 | 1.1157 | 29.6053 | 34.6183 | 35.7367 | 32.9979
380021 | 1.4597 | 1.1204 | 29.2164 | 32.6142 | 33.0611 | 31.5746
380022 | 1.3523 | 1.0572 | 30.1742 | 29.6224 | 30.9162 | 30.2422
380025 | 1.1973 | 1.1204 | 35.5084 | 36.4910 | 38.1479 | 36.7332
380027 | 1.3782 | 1.1157 | 26.4982 | 28.0247 | 31.4378 | 28.6431
380029 | 1.2617 | 1.0725 | 28.7994 | 29.4461 | 33.3348 | 30.6606
380033 | 1.7377 | 1.1157 | 33.4828 | 34.0094 | 36.0221 | 34.5420
380037 | 1.3322 | 1.1204 | 32.4033 | 32.7922 | 34.0301 | 33.1177
380038 | 1.2761 | 1.1204 | 34.5971 | 35.1105 | 35.0334 | 34.9145
380039 | *** | * | 38.0989 | * | * | 38.0989
380040 | 1.4621 | 1.0298 | 31.2286 | 32.9081 | 34.4710 | 32.9570
380047 | 1.8056 | 1.1043 | 31.0584 | 32.8188 | 35.8144 | 33.3095
380050 | 1.4231 | 1.0298 | 27.1814 | 29.7329 | 31.3064 | 29.4427
380051 | 1.7594 | 1.1204 | 30.8891 | 32.8545 | 34.6659 | 32.8426
380052 | 1.2624 | 1.0298 | 25.6085 | 28.6119 | 27.7647 | 27.2628
380056 | 1.1073 | 1.0725 | 27.7253 | 29.1686 | 31.0190 | 29.2586
380060 | 1.4994 | 1.1204 | 32.0101 | 33.8863 | 35.1087 | 33.6769
380061 | 1.6390 | 1.1204 | 32.3699 | 34.5230 | 35.7630 | 34.2152
380071 | 1.3775 | 1.1204 | 31.7761 | 31.0901 | 31.6798 | 31.5133
380075 | 1.3482 | 1.0298 | 33.8962 | 31.6884 | 34.0174 | 33.2050
380081 | *** | * | 26.8149 | * | * | 26.8149
380082 | 1.2966 | 1.1204 | 35.6708 | 35.7821 | 37.7239 | 36.4069
380089 | 1.3399 | 1.1204 | 34.6015 | 35.4850 | 36.9989 | 35.7198
380090 | 1.3418 | 1.1157 | 33.0990 | 35.5535 | 41.4499 | 36.7267
380091 | 1.4734 | 1.1204 | 39.9703 | 40.5066 | 38.4947 | 39.6719
380100 | *** | * | * | * | 45.3849 | 45.3849
390001 | 1.5668 | 0.8342 | 23.6075 | 24.3251 | 25.4178 | 24.4575
390002 | 1.3393 | 0.8579 | 24.7867 | 25.0860 | 25.9811 | 25.2995
390003 | 1.2164 | 0.8342 | 23.3672 | 24.5099 | 26.2863 | 24.7251
390004 | 1.6088 | 0.9185 | 24.4068 | 25.2424 | 26.5037 | 25.3610
390006 | 1.9527 | 0.9185 | 26.8581 | 28.6926 | 30.9901 | 28.9685
390008 | 1.1400 | 0.8402 | 22.8042 | 22.6297 | 22.9409 | 22.7921
390009 | 1.8038 | 0.8708 | 26.7462 | 26.7234 | 28.7325 | 27.4264
390010 | 1.1889 | 0.8579 | 24.5785 | 24.8196 | 26.0951 | 25.1622
390011 | *** | * | 21.4856 | 20.2291 | * | 20.8697
390012 | 1.1856 | 1.0992 | 30.7542 | 32.4856 | 34.1980 | 32.4294
390013 | 1.3619 | 0.9185 | 25.0037 | 26.2323 | 28.3024 | 26.5751
390016 | 1.2430 | 0.8559 | 23.2095 | 24.3488 | 26.1785 | 24.5413
390019 | 1.1210 | 0.9675 | 24.0538 | 25.7515 | 25.3173 | 24.9933
390022 | *** | * | 30.3565 | 29.6308 | * | 29.9808
390023 | 1.2632 | 1.0992 | 35.4452 | 34.7787 | 36.2584 | 35.4918
390024 | *** | * | 33.5186 | 38.8750 | 37.4780 | 36.5096
390025 | 0.4329 | 1.0992 | 19.1362 | 20.3878 | * | 19.7743
390026 | 1.3079 | 1.0992 | 31.8512 | 31.8309 | 36.0580 | 33.1365
390027 | 1.6538 | 1.0992 | 35.5692 | 39.2158 | 40.9084 | 38.5953
390028 | 1.5828 | 0.8579 | 27.1869 | 27.1451 | 29.6197 | 27.9531
390030 | 1.1870 | 0.8626 | 23.6063 | 24.6343 | 26.5661 | 24.9940
390031 | 1.2126 | 0.9204 | 26.2654 | 27.2033 | 26.1246 | 26.5387
390032 | 1.2693 | 0.8579 | 23.9466 | 24.5243 | 25.3739 | 24.6172
390035 | 1.1907 | 1.0992 | 28.4564 | 29.5417 | 27.2114 | 28.3541
390036 | 1.4853 | 0.8579 | 21.6358 | 24.4917 | 26.1934 | 24.0498
390037 | 1.4598 | 0.8579 | 25.4290 | 25.2296 | 27.0768 | 25.9180
390039 | 1.2528 | 0.8342 | 22.0208 | 23.2300 | 22.1517 | 22.4609
390041 | 1.3077 | 0.8579 | 22.9814 | 24.2257 | 25.1175 | 24.1286
390042 | 1.3624 | 0.8579 | 28.3633 | 28.0996 | 29.6193 | 28.7201
390043 | 1.1959 | 0.8342 | 23.2378 | 24.2087 | 24.3584 | 23.9394
390044 | 1.5562 | 1.0788 | 28.7758 | 29.4057 | 29.9946 | 29.4217
390045 | 1.4816 | 0.8342 | 23.9343 | 24.6495 | 25.8784 | 24.8306
390046 | 1.6617 | 0.9799 | 29.6574 | 30.5115 | 32.5260 | 30.9440
390048 | 1.1221 | 0.9185 | 28.5342 | 28.3152 | 28.4555 | 28.4340
390049 | 1.5809 | 0.9675 | 29.6121 | 30.7431 | 30.4709 | 30.2929
390050 | 2.0142 | 0.8579 | 27.2599 | 27.3481 | 29.6697 | 28.1208
390052 | 1.1476 | 0.8389 | 24.9510 | 25.1462 | 26.3688 | 25.5002
390054 | *** | * | 24.4435 | 27.4805 | 27.5682 | 26.3435
390056 | 1.1124 | 0.8378 | 23.5077 | 23.5821 | 24.7026 | 23.9359
390057 | 1.3322 | 1.0992 | 29.7982 | 30.9198 | 31.0260 | 30.6011
390058 | 1.3063 | 0.9185 | 26.9546 | 27.7296 | 29.6597 | 28.1041
390061 | 1.5170 | 0.9799 | 29.1318 | 30.0597 | 30.9185 | 29.9889
390062 | 1.1231 | 0.8342 | 21.2999 | 21.0713 | 22.8844 | 21.7734
390063 | 1.8374 | 0.8708 | 26.4998 | 26.8381 | 28.3963 | 27.2925
390065 | 1.3159 | 1.1006 | 27.6249 | 29.5654 | 31.8827 | 29.7493
390066 | 1.3881 | 0.9185 | 25.9645 | 25.4407 | 29.0022 | 26.8307
390067 | 1.7872 | 0.9185 | 29.7234 | 30.6128 | 32.2862 | 30.8943
390068 | 1.3404 | 0.9799 | 26.7358 | 29.0962 | 29.6963 | 28.5413
390070 | 1.3523 | 1.0992 | 33.3185 | 34.4935 | 34.5477 | 34.1258
390071 | 1.0062 | 0.8342 | 24.6462 | 24.8467 | 26.3816 | 25.3085
390072 | 1.0663 | 0.8342 | 25.3029 | 26.2568 | 28.8131 | 26.7355
390073 | 1.6919 | 0.8342 | 25.7822 | 26.4083 | 27.0855 | 26.4996
390074 | *** | * | 23.6500 | 25.4098 | * | 24.5222
390076 | 1.3189 | 1.0992 | 31.8500 | 32.7671 | 33.9877 | 32.8740
390079 | 1.8491 | 0.8560 | 22.5607 | 24.4452 | 26.0178 | 24.3375
390080 | 1.3943 | 1.0992 | 28.7063 | 29.2645 | 31.6193 | 29.8842
390081 | 1.2389 | 1.0992 | 31.7569 | 33.6247 | 36.4760 | 33.9941
390084 | 1.1285 | 0.8342 | 23.2039 | 24.3372 | 24.3181 | 23.9420
390086 | 1.5931 | 0.8342 | 23.5141 | 25.0992 | 24.7444 | 24.4724
390090 | 1.9186 | 0.8579 | 27.3528 | 27.0122 | 30.1231 | 28.1610
390091 | 1.1759 | 0.8559 | 21.7010 | 23.3562 | 23.2108 | 22.7618
390093 | 1.1913 | 0.8559 | 22.6082 | 22.6023 | 23.8837 | 23.0312
390095 | 1.1678 | 0.8342 | 22.6150 | 24.6290 | 25.3848 | 24.2111
390096 | 1.6015 | 1.0788 | 28.8258 | 28.6055 | 30.3896 | 29.2646
390097 | 1.2500 | 1.0992 | 26.1741 | 27.9858 | 28.1266 | 27.3784
390100 | 1.6431 | 0.9799 | 30.0132 | 30.0234 | 32.5896 | 30.9302
390101 | 1.2844 | 0.9666 | 23.1497 | 24.8377 | 27.3460 | 25.1596
390102 | 1.4773 | 0.8579 | 24.8369 | 24.4589 | 25.5321 | 24.9493
390103 | *** | * | 20.5741 | 20.4446 | * | 20.5090
390104 | 1.1021 | 0.8342 | 19.2326 | 19.6630 | 20.4543 | 19.7621
390107 | 1.5861 | 0.8579 | 24.1159 | 24.6565 | 25.6775 | 24.8676
390108 | 1.1988 | 1.0992 | 27.8171 | 28.5928 | 34.3038 | 30.1995
390110 | 1.5950 | 0.8579 | 27.7311 | 25.3407 | 25.7142 | 26.1477
390111 | 2.1581 | 1.0992 | 34.2990 | 34.8756 | 38.6429 | 35.9670
390112 | 1.3266 | 0.8342 | 20.2380 | 21.5439 | 18.4179 | 19.9664
390113 | 1.3312 | 0.8559 | 23.3686 | 24.2593 | 24.8661 | 24.1707
390114 | 1.6377 | 0.8579 | 26.9620 | 27.9184 | 28.5319 | 27.8260
390115 | 1.4264 | 1.0992 | 29.6905 | 30.8063 | 32.5023 | 31.0518
390116 | 1.2605 | 1.0992 | 32.2513 | 33.2562 | 33.9272 | 33.1578
390117 | 1.1784 | 0.8344 | 20.7821 | 21.5038 | 22.2319 | 21.5356
390118 | 1.1738 | 0.8342 | 20.5614 | 21.8917 | 23.6529 | 22.0851
390119 | 1.2800 | 0.8342 | 23.0928 | 24.3245 | 25.3896 | 24.2630
390121 | *** | * | 25.4826 | * | * | 25.4826
390122 | 1.1069 | 0.8395 | 23.1866 | 23.3220 | 24.6425 | 23.7140
390123 | 1.1993 | 1.0992 | 32.4528 | 34.0062 | 35.1219 | 33.8960
390125 | 1.2499 | 0.8364 | 22.4033 | 22.8816 | 24.0182 | 23.1230
390127 | 1.3561 | 1.0992 | 31.9091 | 33.6557 | 33.1200 | 32.8957
390128 | 1.2331 | 0.8579 | 24.1628 | 24.1390 | 25.1844 | 24.5037
390130 | 1.1985 | 0.8342 | 23.0592 | 23.2504 | 30.3208 | 25.3350
390131 | 1.3570 | 0.8579 | 23.0577 | 23.5783 | 27.7127 | 24.8832
390132 | 1.4504 | 1.0992 | 29.6396 | 31.1168 | 30.0723 | 30.2692
390133 | 1.7609 | 0.9675 | 31.1083 | 32.9812 | 33.0697 | 32.4255
390136 | *** | * | 23.9813 | * | * | 23.9813
390137 | 1.4546 | 0.8342 | 24.2878 | 26.1457 | 26.9140 | 25.8031
390138 | 1.1966 | 0.9185 | 25.3410 | 27.4231 | 27.7549 | 26.8681
390139 | 1.3522 | 1.0992 | 34.1447 | 34.0836 | 36.4969 | 34.9221
390142 | 1.5286 | 1.0992 | 33.8224 | 34.5773 | 33.3491 | 33.9107
390145 | 1.5880 | 0.8579 | 24.6672 | 25.6980 | 26.9194 | 25.7780
390146 | 1.1823 | 0.8364 | 22.6752 | 25.1805 | 23.9869 | 23.9695
390147 | 1.3781 | 0.8579 | 26.8522 | 28.6606 | 29.0974 | 28.1881
390150 | 1.1119 | 0.8579 | 22.8228 | 22.7668 | 22.6473 | 22.7481
390151 | 1.3436 | 1.1006 | 29.9254 | 31.4067 | 31.8952 | 31.1171
390153 | 1.3705 | 1.0992 | 32.8234 | 33.2427 | 36.0259 | 34.1045
390154 | 1.2171 | 0.8342 | 22.8391 | 23.3559 | 23.9776 | 23.4008
390156 | 1.3593 | 1.0992 | 32.2688 | 32.8999 | 33.7034 | 32.9631
390157 | 1.3257 | 0.8579 | 21.5923 | 22.1112 | 23.0975 | 22.2734
390160 | 1.3326 | 0.8579 | 24.0208 | 22.9696 | 25.2027 | 24.0528
390162 | 1.5041 | 1.1449 | 35.5057 | 34.5809 | 35.1818 | 35.0918
390163 | 1.2454 | 0.8559 | 23.2055 | 22.8341 | 24.8747 | 23.6452
390164 | 2.1300 | 0.8579 | 26.3087 | 27.1950 | 29.7760 | 27.7684
390166 | *** | * | 20.9272 | 23.3255 | 28.2160 | 23.9468
390168 | 1.4758 | 0.8579 | 26.1365 | 26.9816 | 27.3654 | 26.8304
390169 | 1.4118 | 0.8342 | 26.5514 | 26.2643 | 26.6049 | 26.4723
390173 | 1.2178 | 0.8342 | 23.9927 | 25.6455 | 27.6024 | 25.7719
390174 | 1.6824 | 1.0992 | 34.2069 | 34.8999 | 34.9029 | 34.6825
390176 | 1.1316 | 0.8579 | 23.9779 | 24.1247 | 12.3126 | 18.1769
390178 | 1.3247 | 0.8930 | 22.6006 | 23.1452 | 23.9151 | 23.2190
390179 | 1.4264 | 1.0992 | 28.0688 | 30.1219 | 31.5474 | 29.9836
390180 | 1.3926 | 1.0992 | 34.9832 | 35.5291 | 38.2969 | 36.3036
390181 | *** | * | 25.9871 | 26.6021 | 27.8820 | 26.8191
390183 | 1.1452 | 0.8342 | 27.0122 | 27.8358 | 28.2196 | 27.6769
390184 | 1.0915 | 0.8579 | 22.7451 | 23.9736 | 23.9958 | 23.5369
390185 | 1.2586 | 0.9675 | 25.4256 | 27.1119 | 25.5306 | 25.9878
390189 | 1.1436 | 0.8342 | 22.6796 | 23.6215 | 23.4893 | 23.2864
390192 | 1.0388 | 0.8342 | 20.5459 | 23.6171 | 23.7948 | 22.6673
390194 | 1.2037 | 0.9675 | 27.5890 | 26.3152 | 23.7351 | 25.7636
390195 | 1.6565 | 1.0992 | 34.2980 | 34.5594 | 37.2471 | 35.3797
390196 | 1.6460 | * | * | * | * | *
390197 | 1.4171 | 0.9675 | 26.8270 | 27.2455 | 28.1394 | 27.4100
390198 | 1.1294 | 0.8708 | 20.5979 | 20.4350 | 21.0850 | 20.7061
390199 | 1.1366 | 0.8342 | 22.3224 | 23.0046 | 24.5461 | 23.3008
390201 | 1.3518 | 0.9512 | 27.0054 | 27.3542 | 28.5649 | 27.6588
390203 | 1.5297 | 1.0992 | 29.4930 | 29.1370 | 30.7209 | 29.8038
390204 | 1.2911 | 1.0992 | 29.5251 | 30.7346 | 32.0218 | 30.7952
390211 | 1.2835 | 0.8930 | 25.1689 | 26.5052 | 27.7862 | 26.4993
390217 | 1.2278 | 0.8579 | 23.5879 | 24.1886 | 26.2690 | 24.6769
390219 | 1.3577 | 0.8579 | 25.4886 | 26.1196 | 26.3253 | 25.9698
390220 | 1.0888 | 1.0992 | 28.9128 | 30.7435 | 32.0869 | 30.6085
390222 | 1.2691 | 1.0992 | 30.9464 | 31.7361 | 32.3724 | 31.7085
390223 | 1.9836 | 1.0992 | 30.2523 | 34.3280 | 37.4105 | 33.8814
390225 | 1.1877 | 0.9799 | 27.5803 | 27.2555 | 26.3628 | 26.9591
390226 | 1.7135 | 1.0992 | 32.6658 | 32.6508 | 35.4653 | 33.6044
390228 | 1.3609 | 0.8579 | 23.9845 | 24.2242 | 25.5103 | 24.5893
390231 | 1.4014 | 1.0992 | 30.9339 | 32.8353 | 35.2285 | 33.0470
390233 | 1.3823 | 0.9666 | 25.6904 | 27.2597 | 28.3647 | 27.1364
390236 | 0.9818 | 0.8345 | 22.1144 | 23.1290 | 24.5566 | 23.2393
390237 | 1.5868 | 0.8342 | 27.4944 | 28.4337 | 29.0645 | 28.3719
390246 | 1.1777 | * | 25.1956 | 26.0179 | * | 25.6189
390256 | 1.9774 | 0.9185 | 28.0617 | 28.8970 | 28.5871 | 28.5302
390258 | 1.4533 | 1.0992 | 30.4142 | 31.7164 | 32.0531 | 31.4303
390263 | 1.5092 | 0.9675 | 28.5864 | 29.9850 | 31.7255 | 30.1997
390265 | 1.5374 | 0.8579 | 24.0675 | 25.0166 | 27.7776 | 25.6284
390266 | 1.1912 | 0.8930 | 20.8789 | 22.2228 | 23.0128 | 22.0423
390267 | 1.2760 | 0.8579 | 24.2428 | 24.8309 | 25.7553 | 24.9521
390268 | 1.4064 | 0.8810 | 25.6643 | 26.7342 | 28.4188 | 27.0040
390270 | 1.6183 | 0.8342 | 24.9510 | 26.5010 | 27.0286 | 26.2567
390272 | 0.6051 | 1.0992 | * | * | 32.9893 | 32.9893
390278 | 0.6005 | 1.0992 | 26.6664 | 28.6323 | 28.8290 | 28.0560
390285 | 1.4914 | 1.0992 | 36.7163 | 37.6669 | 38.4678 | 37.6177
390286 | 1.2124 | 1.0992 | 29.5281 | 31.3393 | 31.7320 | 30.8704
390287 | *** | * | 39.3176 | 42.2401 | * | 40.3959
390288 | *** | * | 30.9701 | * | * | 30.9701
390289 | *** | * | 30.7583 | * | * | 30.7583
390290 | 1.8004 | 1.0992 | 38.3776 | 41.1426 | 47.7624 | 42.2989
390302 | 0.8675 | 1.0992 | * | * | * | *
390303 | *** | * | 27.5580 | * | * | 27.5580
390304 | 1.2958 | 1.0992 | 30.4832 | 32.1633 | 33.4111 | 32.1082
390305 | *** | * | * | 29.3217 | * | 29.3217
390306 | *** | * | * | 40.3789 | * | 40.3789
390307 | 2.0387 | 0.8930 | * | 24.5393 | 22.9455 | 23.6860
390308 | *** | * | * | 36.1737 | * | 36.1737
390309 | *** | * | * | 37.8924 | * | 37.8924
390310 | *** | * | * | 44.3991 | * | 44.3991
390311 | *** | * | * | * | 49.8990 | 49.8990
390312 | 1.2883 | 1.0992 | * | * | 51.3342 | 51.3342
390313 | 1.1642 | 0.9204 | * | * | * | *
390314 | 1.9344 | 0.9675 | * | * | * | *
390315 | 1.6395 | 0.8579 | * | * | * | *
390316 | 1.6856 | 0.9518 | * | * | * | *
390318 | 0.8280 | 0.9675 | * | * | * | *
400001 | 1.3295 | 0.4404 | 13.9386 | 14.9151 | 15.4246 | 14.7738
400002 | 1.9377 | 0.4122 | 15.3833 | 12.9440 | 12.9793 | 13.6878
400003 | 1.3791 | 0.4122 | 13.9258 | 15.7906 | 14.6853 | 14.8161
400004 | 1.2115 | 0.4404 | 12.0923 | 12.5928 | 13.5193 | 12.7362
400005 | 1.2533 | 0.4404 | 10.3505 | 11.1152 | 11.7582 | 11.0789
400006 | 1.1625 | 0.4404 | 8.1841 | 8.1381 | * | 8.1610
400007 | 1.1605 | 0.4404 | 11.8203 | 12.0743 | 10.4935 | 11.4512
400009 | 0.9834 | 0.3137 | 9.3834 | 9.5114 | 10.1204 | 9.6757
400010 | 0.9051 | 0.3311 | 9.8132 | 10.7993 | 10.4202 | 10.3256
400011 | 1.1055 | 0.4404 | 9.6641 | 8.5503 | 9.4065 | 9.2136
400012 | 1.4864 | 0.4404 | 12.3362 | 10.1156 | * | 11.0797
400013 | 1.3650 | 0.4404 | 11.1414 | 11.4222 | 12.3068 | 11.6476
400014 | 1.3749 | 0.3896 | 10.5286 | 9.9395 | 12.3295 | 10.8952
400015 | 1.4718 | 0.4404 | 13.7043 | 22.2017 | 21.9216 | 18.9475
400016 | 1.4676 | 0.4404 | 16.6472 | 16.1931 | 17.9101 | 16.9079
400017 | 0.8958 | 0.4404 | 10.3123 | 9.9185 | 10.0587 | 10.0981
400018 | 1.1103 | 0.4404 | 11.9184 | 12.3942 | 13.1567 | 12.5002
400019 | 1.5158 | 0.4404 | 12.8380 | 14.7133 | 15.2358 | 14.0763
400021 | 1.3614 | 0.4648 | 14.4549 | 13.9217 | 14.9779 | 14.4495
400022 | 1.4439 | 0.4122 | 14.9089 | 15.3625 | 15.2119 | 15.1640
400024 | 0.8933 | 0.3896 | 10.8439 | 12.6226 | 13.7214 | 12.2509
400026 | 1.1373 | 0.3137 | 9.9262 | 7.1179 | 8.9063 | 8.4875
400028 | 1.1913 | 0.4122 | 11.3260 | 10.6711 | 9.6940 | 10.5465
400032 | 1.1451 | 0.4404 | 10.3736 | 10.7141 | 10.7841 | 10.6281
400044 | 1.4861 | 0.4122 | 14.6420 | 11.3551 | 12.1404 | 12.5283
400048 | 1.3035 | 0.3137 | 9.6416 | 9.6860 | 10.5172 | 9.9689
400061 | 2.2573 | 0.4404 | 18.1303 | 18.0093 | 17.4499 | 17.8500
400079 | 1.2280 | 0.3311 | 9.5296 | 10.4599 | 10.6123 | 10.2200
400087 | 1.3360 | 0.4404 | 11.0377 | 11.4162 | 12.0032 | 11.4590
400098 | 1.3491 | 0.4404 | 13.8034 | 13.7878 | 12.8752 | 13.4675
400102 | 1.1900 | 0.4404 | 10.5879 | 12.1761 | 12.1258 | 11.5565
400103 | 1.9297 | 0.3896 | 10.6971 | 11.7488 | 11.3309 | 11.2618
400104 | 1.2190 | 0.4404 | 11.4322 | 12.8404 | 12.6932 | 12.3296
400105 | 1.2578 | 0.4404 | 15.6626 | 16.9029 | 17.0458 | 16.5427
400106 | 1.1085 | 0.4404 | 13.4097 | 12.9272 | 14.8543 | 13.7089
400109 | 1.4302 | 0.4404 | 14.4386 | 14.8208 | 14.5707 | 14.6114
400110 | 1.2156 | 0.3358 | 11.1812 | 9.9278 | 10.8210 | 10.6067
400111 | 1.2130 | 0.3311 | 14.1718 | 10.2141 | 10.7888 | 11.5139
400112 | 1.2446 | 0.4404 | 10.1512 | 13.5177 | 11.2302 | 11.5795
400113 | 1.1764 | 0.4122 | 10.5305 | 10.9503 | 11.5947 | 11.0441
400114 | 1.1726 | 0.4404 | 10.1379 | 10.8913 | 11.6870 | 10.9257
400115 | 1.0815 | 0.4404 | 12.0713 | 9.6200 | 10.6805 | 10.8173
400117 | 1.1347 | 0.4404 | 9.5929 | 11.6258 | 12.1537 | 11.0019
400118 | 1.2649 | 0.4404 | 12.8692 | 12.7861 | 12.6196 | 12.7539
400120 | 1.3351 | 0.4404 | 13.4069 | 14.0817 | 14.5200 | 14.0199
400121 | 1.1129 | 0.4404 | 9.7427 | 9.1826 | 9.9712 | 9.6244
400122 | 1.8905 | 0.4404 | 8.9478 | 9.5814 | 10.0960 | 9.5553
400123 | 1.2353 | 0.3896 | 12.8317 | 12.5609 | 13.8597 | 13.0762
400124 | 2.6860 | 0.4404 | 17.2139 | 17.9140 | 19.1698 | 18.1028
400125 | 1.2073 | 0.4067 | 11.9787 | 13.5394 | 13.1075 | 12.8846
400126 | 1.2894 | 0.4648 | 14.1062 | 16.5726 | * | 15.3043
400127 | 2.0911 | 0.4404 | 17.8303 | 20.7775 | * | 19.5304
400128 | 1.0184 | 0.4404 | * | 12.3520 | * | 12.3520
410001 | 1.3144 | 1.1338 | 29.0877 | 30.0315 | 30.5848 | 29.9101
410004 | 1.3107 | 1.1338 | 29.4953 | 31.3023 | 35.2360 | 31.9950
410005 | 1.2724 | 1.1338 | 28.1141 | 31.4387 | 34.5807 | 31.2615
410006 | 1.3911 | 1.0669 | 30.1855 | 32.8456 | 33.5403 | 32.1894
410007 | 1.6113 | 1.1338 | 33.2896 | 32.0730 | 34.2549 | 33.1928
410008 | 1.3225 | 1.0669 | 30.9505 | 32.5889 | 33.5128 | 32.3511
410009 | 1.2374 | 1.0669 | 31.7300 | 32.8422 | 34.3405 | 32.9948
410010 | 1.1305 | 1.1338 | 32.0704 | 32.7379 | 34.8380 | 33.2523
410011 | 1.4882 | 1.1338 | 33.8781 | 30.1941 | 36.7639 | 33.5131
410012 | 1.5728 | 1.1338 | 33.6072 | 37.0299 | 35.5818 | 35.4055
410013 | 1.2045 | 1.1587 | 35.8075 | 41.0010 | 40.1823 | 38.9884
420002 | 1.5630 | 0.9561 | 29.5592 | 30.5111 | 31.2220 | 30.4468
420004 | 1.9671 | 0.9231 | 28.1455 | 28.9250 | 30.2325 | 29.1286
420005 | 1.1610 | 0.8609 | 25.0420 | 24.6968 | 26.5027 | 25.3750
420006 | *** | * | 26.3293 | 27.7764 | 29.1383 | 27.7486
420007 | 1.6315 | 0.9294 | 26.8165 | 29.0901 | 28.9533 | 28.2944
420009 | 1.4114 | 0.9294 | 27.0147 | 29.9378 | 28.6625 | 28.5279
420010 | 1.1406 | 0.8609 | 25.1452 | 25.5710 | 26.5503 | 25.7612
420011 | 1.1778 | 0.9605 | 22.1787 | 25.5130 | 25.9543 | 24.5702
420015 | 1.3156 | 0.9605 | 24.1685 | 26.3499 | 27.4912 | 26.0287
420016 | 0.9672 | 0.8609 | 21.6266 | 22.5681 | 23.4313 | 22.5462
420018 | 1.8307 | 0.8984 | 25.6687 | 27.5563 | 29.0897 | 27.4853
420019 | 1.0990 | 0.8767 | 22.5489 | 25.4954 | 25.8113 | 24.4094
420020 | 1.3500 | 0.9231 | 28.4344 | 27.5000 | 29.2372 | 28.3934
420023 | 1.7169 | 0.9605 | 27.4589 | 28.9321 | 30.4471 | 28.9941
420026 | 1.8642 | 0.8984 | 27.8986 | 28.0647 | 29.5039 | 28.4725
420027 | 1.5767 | 0.9294 | 26.4472 | 28.5621 | 31.3772 | 28.7401
420030 | 1.3204 | 0.9231 | 27.8435 | 28.4433 | 30.3403 | 28.8720
420033 | 1.1839 | 0.9605 | 30.4162 | 31.1608 | 32.4244 | 31.3429
420036 | 1.2480 | 0.9557 | 23.8742 | 24.6505 | 26.3463 | 24.9665
420037 | 1.3390 | 0.9605 | 29.8321 | 30.9556 | 32.7083 | 31.1311
420038 | 1.2831 | 0.9605 | 24.6642 | 26.6435 | 27.1507 | 26.1466
420039 | 1.0529 | 0.9017 | 28.2220 | 26.5582 | 26.3100 | 26.9774
420043 | 1.1111 | 0.8766 | 24.0971 | 25.7951 | 25.8352 | 25.2415
420048 | 1.2885 | 0.8984 | 25.9610 | 26.9625 | 27.4313 | 26.8137
420049 | 1.2591 | 0.8683 | 26.0953 | 25.7060 | 28.0020 | 26.6253
420051 | 1.7106 | 0.8609 | 25.9056 | 26.4710 | 27.4172 | 26.6012
420053 | 1.2316 | 0.8644 | 23.2246 | 24.4793 | 25.5724 | 24.4361
420054 | 1.1106 | 0.8612 | 25.6779 | 25.6444 | 26.7888 | 26.0196
420055 | 1.0931 | 0.8609 | 24.0965 | 25.1738 | 25.3132 | 24.8604
420056 | 1.3487 | 0.8609 | 27.7250 | 28.4512 | 29.7763 | 28.7570
420057 | 1.2036 | 0.8609 | 24.9313 | 26.2489 | 25.6602 | 25.6193
420062 | 1.1026 | 0.9557 | 26.7467 | 25.9569 | 27.2249 | 26.6400
420064 | 1.2630 | 0.8683 | 24.3540 | 24.6507 | 25.0602 | 24.6890
420065 | 1.4161 | 0.9231 | 25.5483 | 26.8118 | 28.1872 | 26.8671
420066 | 0.9980 | 0.8609 | 25.1062 | 25.0932 | * | 25.0997
420067 | 1.3639 | 0.8827 | 25.8561 | 26.5658 | 27.7148 | 26.7379
420068 | 1.3759 | 0.9231 | 25.6857 | 27.7315 | 28.0296 | 27.1430
420069 | 1.2054 | 0.8609 | 22.3445 | 23.7494 | 24.4638 | 23.5595
420070 | 1.3136 | 0.8984 | 24.7899 | 27.5988 | 27.6406 | 26.7218
420071 | 1.4339 | 0.9294 | 25.2862 | 27.6371 | 28.1087 | 27.0462
420072 | 1.1634 | 0.8609 | 17.8019 | 21.6587 | 20.7707 | 19.9748
420073 | 1.3829 | 0.8984 | 25.5204 | 26.1120 | 28.2651 | 26.7147
420078 | 1.8607 | 0.9605 | 29.5135 | 30.9001 | 32.0165 | 30.8100
420079 | 1.5040 | 0.9231 | 27.5439 | 28.6374 | 30.5954 | 28.9420
420080 | 1.4321 | 0.8827 | 28.6060 | 31.5670 | 32.8693 | 30.8888
420082 | 1.5113 | 0.9597 | 31.2671 | 33.9874 | 34.8836 | 33.3515
420083 | 1.4528 | 0.9294 | 26.4932 | 28.9007 | 29.6565 | 28.4194
420085 | 1.5909 | 0.9074 | 27.8386 | 29.1127 | 29.9059 | 28.9688
420086 | 1.4584 | 0.8984 | 28.0485 | 27.9523 | 29.6321 | 28.5671
420087 | 1.8044 | 0.9231 | 25.4697 | 26.8409 | 28.4609 | 26.9052
420089 | 1.3777 | 0.9231 | 28.1855 | 29.5862 | 31.7347 | 29.8346
420091 | 1.4537 | 0.8609 | 26.0592 | 27.2520 | 27.9042 | 27.0840
420093 | *** | * | 28.0765 | 33.0474 | * | 30.2237
420098 | 1.2041 | 0.8609 | 30.7532 | 27.1939 | 27.6701 | 28.2065
420099 | *** | * | * | 30.3089 | * | 30.3089
420100 | *** | * | * | * | 29.2958 | 29.2958
420101 | 1.2049 | 0.8609 | * | * | 33.1975 | 33.1975
420102 | 1.4677 | 0.9605 | * | * | * | *
430005 | 1.3356 | 0.8428 | 22.4111 | 23.8694 | 25.4368 | 23.9203
430008 | 1.1161 | 0.8963 | 24.4277 | 26.0873 | 27.2262 | 25.9003
430012 | 1.3044 | 0.9262 | 24.0326 | 25.2030 | 27.0179 | 25.4023
430013 | 1.2029 | 0.9262 | 25.9828 | 27.0427 | 28.4945 | 27.1837
430014 | 1.4127 | 0.8428 | 26.8752 | 27.9288 | 28.9278 | 27.9157
430015 | 1.1983 | 0.8428 | 23.6296 | 26.5787 | 28.0396 | 26.1008
430016 | 1.5975 | 0.9379 | 28.9376 | 32.8765 | 31.1313 | 30.9581
430027 | 1.7417 | 0.9379 | 26.6044 | 27.5759 | 29.2595 | 27.8481
430048 | 1.2671 | 0.8557 | 24.1969 | 25.1715 | 25.6411 | 25.0133
430060 | 0.9444 | 0.8428 | 13.2618 | * | * | 13.2618
430064 | 0.9859 | 0.8428 | 18.3125 | 16.4916 | 17.7325 | 17.4427
430077 | 1.7222 | 0.9618 | 25.8572 | 27.2116 | 31.1926 | 28.0482
430081 | 0.9388 | 1.4448 | * | * | * | *
430082 | 0.8463 | 1.4448 | * | * | * | *
430083 | 0.8496 | 1.4448 | * | * | * | *
430084 | 0.9068 | 1.4448 | * | * | * | *
430085 | 0.8878 | 1.4448 | * | * | * | *
430089 | 1.8588 | 0.8783 | 22.3335 | 23.2467 | 24.9033 | 23.5426
430090 | 1.6017 | 0.9379 | 26.4862 | 29.0197 | 32.7369 | 29.5038
430091 | 2.2308 | 0.9502 | 25.1105 | 24.7274 | 26.7238 | 25.5162
430092 | 1.8871 | 0.8428 | 21.6478 | 21.9197 | 23.2508 | 22.2946
430093 | 1.3555 | 0.9502 | 27.5326 | 26.0232 | 24.7398 | 26.0952
430094 | 1.7381 | 0.8557 | 22.9091 | 23.2894 | 23.6605 | 23.3062
430095 | 2.4765 | 0.9379 | 31.3409 | 32.2326 | 32.5850 | 32.0536
430096 | 1.9114 | 0.8428 | 21.6713 | 24.6041 | 24.9608 | 23.8070
440001 | 1.1662 | 0.7999 | 21.2398 | 21.5755 | 25.4844 | 22.7818
440002 | 1.7208 | 0.8886 | 25.7434 | 26.3802 | 26.9121 | 26.3584
440003 | 1.3386 | 0.9445 | 28.4862 | 28.3557 | 26.0107 | 27.4326
440006 | 1.4409 | 0.9445 | 29.7146 | 31.5533 | 31.7373 | 31.0128
440007 | 0.9815 | 0.8176 | 19.9754 | 18.8273 | 22.7570 | 20.4815
440008 | 0.9673 | 0.8339 | 23.2126 | 27.3732 | 26.8850 | 25.9985
440009 | 1.1674 | 0.7957 | 23.9279 | 23.8148 | 24.4410 | 24.0653
440010 | 0.9494 | 0.7957 | 19.3669 | 19.6231 | 20.2498 | 19.7446
440011 | 1.3656 | 0.7957 | 23.6154 | 23.6698 | 24.8292 | 24.0419
440012 | 1.5047 | 0.7964 | 24.0169 | 23.7871 | 24.9243 | 24.2664
440015 | 1.8290 | 0.7957 | 25.0430 | 26.0601 | 27.1580 | 26.0995
440016 | 1.0436 | 0.8101 | 23.0350 | 24.5812 | 25.2515 | 24.2770
440017 | 1.7685 | 0.7964 | 25.0588 | 24.6707 | 26.1800 | 25.3213
440018 | 1.1100 | 0.7999 | 23.2107 | 25.0780 | 24.5898 | 24.3284
440019 | 1.6911 | 0.7957 | 25.3592 | 25.2230 | 26.2435 | 25.5920
440020 | 1.0903 | 0.8614 | 24.0995 | 24.7785 | 27.5620 | 25.4792
440024 | 1.1324 | 0.8717 | 23.9745 | 24.7705 | 26.2519 | 25.0623
440025 | 1.1246 | 0.8611 | 22.5407 | 22.6571 | 24.0274 | 23.0928
440026 | *** | * | 28.0349 | 26.8153 | 28.4597 | 27.7725
440029 | 1.4650 | 0.9445 | 30.1204 | 31.2310 | 31.4630 | 30.9557
440030 | 1.2893 | 0.8013 | 23.7670 | 22.2607 | 22.3131 | 22.8053
440031 | 1.1356 | 0.7976 | 20.8964 | 22.6790 | 22.0708 | 21.8517
440032 | 1.1644 | 0.7957 | 19.7150 | 21.0380 | 23.8016 | 21.5383
440033 | 1.0637 | 0.7984 | 21.1087 | 22.7991 | 23.9790 | 22.5856
440034 | 1.6302 | 0.7957 | 24.6994 | 25.5061 | 25.9124 | 25.3762
440035 | 1.3910 | 0.9252 | 25.9613 | 26.2451 | 27.9203 | 26.6992
440039 | 2.1051 | 0.9445 | 29.8611 | 30.1790 | 30.1901 | 30.0895
440040 | 0.9210 | 0.7957 | 20.8637 | 20.8817 | 21.1282 | 20.9641
440046 | 1.3069 | 0.9445 | 27.9539 | 29.7377 | 30.7314 | 29.5270
440047 | 0.9617 | 0.8295 | 21.7892 | 22.8323 | 25.2156 | 23.3140
440048 | 1.8071 | 0.9305 | 29.4789 | 29.3187 | 30.6710 | 29.8250
440049 | 1.6747 | 0.9305 | 26.4772 | 28.8742 | 29.8603 | 28.4462
440050 | 1.2834 | 0.7964 | 24.4616 | 24.9694 | 26.3815 | 25.3086
440051 | 0.9337 | 0.8039 | 23.9253 | 23.4866 | 23.6554 | 23.6741
440052 | 1.0032 | 0.7957 | 22.8016 | 22.6128 | 24.4075 | 23.2437
440053 | 1.2712 | 0.9445 | 27.1197 | 27.8180 | 30.3887 | 28.4325
440054 | 1.0962 | 0.7957 | 23.5137 | 23.7931 | 21.9638 | 23.0467
440056 | 1.2127 | 0.7957 | 22.7820 | 23.2313 | 24.0623 | 23.3523
440057 | 1.1032 | 0.7978 | 16.6346 | 17.2176 | 19.3540 | 17.6957
440058 | 1.2003 | 0.7957 | 24.3522 | 26.0706 | 29.1174 | 26.6028
440059 | 1.4855 | 0.9252 | 28.3565 | 27.9467 | 29.4514 | 28.5989
440060 | 1.1325 | 0.8339 | 24.1024 | 25.0795 | 26.5869 | 25.2908
440061 | 1.1295 | 0.7957 | 23.9678 | 23.7360 | 25.4125 | 24.3711
440063 | 1.6197 | 0.7999 | 24.2566 | 23.9644 | 26.0741 | 24.7976
440064 | 0.9999 | 0.8857 | 23.7176 | 26.1246 | 26.7947 | 25.5515
440065 | 1.2421 | 0.9445 | 24.6169 | 25.8536 | 25.6096 | 25.3745
440067 | 1.1905 | 0.7957 | 24.4772 | 24.6553 | 26.0852 | 25.0966
440068 | 1.1835 | 0.8717 | 24.8146 | 26.1071 | 27.9066 | 26.2722
440070 | 1.0014 | 0.8066 | 20.0938 | 21.9166 | 23.2223 | 21.7288
440072 | 1.0393 | 0.8886 | 23.9563 | 25.7089 | 26.1643 | 25.2966
440073 | 1.4453 | 0.9252 | 26.3570 | 27.6154 | 27.5114 | 27.1567
440081 | 1.1673 | 0.8009 | 20.7125 | 20.7688 | 21.9671 | 21.1573
440082 | 1.9913 | 0.9445 | 30.6115 | 32.2479 | 32.8913 | 31.8790
440083 | 0.9577 | 0.7957 | 25.6099 | 23.6356 | 25.7074 | 24.9682
440084 | 1.1762 | 0.7982 | 18.6043 | 18.8699 | 19.8938 | 19.1297
440091 | 1.7581 | 0.8857 | 26.5687 | 28.1989 | 28.9678 | 27.9314
440102 | 1.0796 | 0.7957 | 20.7363 | 21.6762 | 22.1103 | 21.5215
440104 | 1.7788 | 0.8857 | 26.5741 | 27.9756 | 28.0888 | 27.5200
440105 | 0.9119 | 0.7999 | 22.9372 | 22.7962 | 23.7139 | 23.1599
440109 | 1.0139 | 0.8027 | 20.8924 | 21.4629 | 22.5885 | 21.7090
440110 | 1.1221 | 0.7957 | 20.9179 | 22.5929 | 23.6262 | 22.5559
440111 | 1.2820 | 0.9445 | 29.0975 | 28.8453 | 29.7446 | 29.2213
440115 | 0.9684 | 0.8295 | 23.1409 | 23.7107 | 24.9776 | 23.9354
440120 | 1.4947 | 0.7957 | 25.7161 | 24.7572 | 26.0604 | 25.5176
440125 | 1.6557 | 0.7957 | 22.8097 | 23.6328 | 24.0920 | 23.4915
440130 | 1.1217 | 0.7957 | 23.9955 | 25.1262 | 26.3188 | 25.1413
440131 | 1.1784 | 0.9305 | 25.6666 | 26.9649 | 28.3153 | 26.9308
440132 | 1.2291 | 0.7957 | 23.9410 | 24.0708 | 29.3371 | 25.7508
440133 | 1.7069 | 0.9445 | 29.2829 | 29.6093 | 32.5699 | 30.4215
440135 | 0.6898 | 0.7957 | 28.1925 | 27.7037 | 27.2084 | 27.7046
440137 | 1.0639 | 0.8695 | 22.2538 | 22.9547 | 24.6130 | 23.2371
440141 | 0.9917 | 0.7957 | 24.2406 | 24.9917 | 24.8736 | 24.6802
440144 | 1.2549 | 0.9252 | 23.9241 | 25.2293 | 26.3207 | 25.2055
440147 | *** | * | 33.1756 | 34.8199 | 36.6955 | 34.8975
440148 | 1.1236 | 0.9252 | 23.9810 | 22.6188 | 28.0703 | 24.8107
440150 | 1.4307 | 0.9445 | 28.1012 | 29.4381 | 30.5491 | 29.3876
440151 | 1.1663 | 0.9252 | 27.1729 | 28.2203 | 28.6580 | 27.9977
440152 | 2.0008 | 0.9305 | 27.1877 | 28.4612 | 29.0563 | 28.2859
440153 | 1.0509 | 0.7964 | 23.6473 | 24.9388 | 23.3772 | 23.9591
440156 | 1.6421 | 0.8857 | 27.7309 | 28.5645 | 30.5139 | 28.9635
440159 | 1.4818 | 0.9305 | 26.9098 | 25.8289 | 27.2779 | 26.6811
440161 | 1.9267 | 0.9445 | 28.7074 | 29.9894 | 31.0647 | 29.9300
440162 | *** | * | 27.6837 | 24.8705 | 24.6410 | 25.6902
440166 | *** | * | 35.3064 | * | * | 35.3064
440168 | 1.0456 | 0.9305 | 28.1215 | 29.4028 | 31.3312 | 29.7029
440173 | 1.4350 | 0.7957 | 23.1167 | 24.0621 | 23.1355 | 23.4173
440174 | 0.8828 | 0.8269 | 25.4829 | 26.2087 | 27.4573 | 26.4456
440175 | 1.0111 | 0.7957 | 24.4848 | 24.7869 | 26.7698 | 25.3295
440176 | 1.3339 | 0.7964 | 22.9631 | 23.7695 | 24.9405 | 23.9373
440180 | 1.3459 | 0.7984 | 24.9841 | 22.3070 | 24.3370 | 23.7701
440181 | 0.9020 | 0.8322 | 24.8857 | 25.9450 | 26.4759 | 25.8145
440182 | 0.9536 | 0.8101 | 24.3302 | 25.0111 | 24.9897 | 24.8044
440183 | 1.6228 | 0.9305 | 29.1982 | 30.6599 | 30.9900 | 30.2946
440184 | 1.1292 | 0.7999 | 24.5786 | 23.3970 | 26.9069 | 24.9779
440185 | 1.1883 | 0.8717 | 25.3817 | 26.7473 | 26.3958 | 26.1839
440186 | 0.9919 | 0.9445 | 27.3733 | 28.9124 | 28.2842 | 28.1940
440187 | 1.0974 | 0.7957 | 24.0723 | 25.8238 | 27.4029 | 25.7687
440189 | 1.4158 | 0.8452 | 28.2621 | 28.8974 | 30.5766 | 29.1873
440192 | 1.0765 | 0.9252 | 27.3917 | 29.6272 | 30.6519 | 29.2789
440193 | 1.3104 | 0.9445 | 24.3622 | 25.2124 | 25.9713 | 25.1845
440194 | 1.2925 | 0.9445 | 29.4706 | 30.8593 | 32.3002 | 30.9187
440197 | 1.3992 | 0.9445 | 29.4275 | 30.1184 | 31.4294 | 30.3064
440200 | 0.9829 | 0.9445 | 21.1860 | 23.8654 | 23.8295 | 22.9591
440203 | *** | * | 23.7451 | 17.9041 | * | 20.6007
440217 | 1.3768 | 0.9305 | 28.8641 | 29.8888 | 31.6636 | 30.1328
440218 | 2.0116 | 0.9445 | 23.7257 | 18.7275 | 36.9244 | 25.9465
440222 | 1.0088 | 0.9305 | 28.4664 | 29.0062 | 30.5130 | 29.3485
440225 | 0.8097 | 0.7957 | 24.8328 | 27.8860 | 26.9656 | 26.4719
440226 | 1.5694 | 0.7957 | 26.5831 | 27.1348 | 28.3176 | 27.3318
440227 | 1.2974 | 0.9445 | * | 30.7785 | 31.9097 | 31.3743
440228 | 1.5738 | 0.9305 | * | 28.3687 | 29.5349 | 29.0087
450002 | 1.4448 | 0.8867 | 28.0936 | 28.8521 | 29.7157 | 28.8515
450005 | 1.2408 | 0.8595 | 24.4933 | 24.5405 | 27.3460 | 25.4548
450007 | 1.3344 | 0.8949 | 23.0026 | 23.9490 | 24.4625 | 23.8045
450008 | 1.3803 | 0.8855 | 24.4701 | 24.5965 | 24.4362 | 24.5017
450010 | 1.5960 | 0.9175 | 25.5503 | 25.5582 | 30.1022 | 27.0858
450011 | 1.6560 | 0.9193 | 26.7418 | 28.5329 | 29.9285 | 28.4349
450015 | 1.5911 | 0.9852 | 29.9193 | 29.4919 | 30.3151 | 29.9209
450018 | 1.5354 | 0.9925 | 30.2383 | 30.7852 | 31.3118 | 30.7838
450021 | 1.8903 | 0.9852 | 29.5658 | 31.3107 | 31.7338 | 30.8752
450023 | 1.4138 | 0.8153 | 25.4450 | 25.5346 | 25.1670 | 25.3821
450024 | 1.5693 | 0.8867 | 26.9113 | 28.2047 | 27.3787 | 27.5109
450028 | 1.5788 | 0.9226 | 29.1438 | 29.5792 | 29.5668 | 29.4314
450029 | 1.6143 | 0.8816 | 25.0602 | 26.9361 | 28.6442 | 26.7635
450031 | 1.4439 | 0.9852 | 29.0824 | 30.3542 | 29.2123 | 29.5392
450032 | 1.2547 | 0.8407 | 21.5084 | 25.5785 | 26.3146 | 24.2723
450033 | 1.5969 | 0.9226 | 29.2468 | 27.8680 | 29.7653 | 28.9230
450034 | 1.5308 | 0.8595 | 26.5313 | 27.6929 | 29.6291 | 28.1119
450035 | 1.5326 | 0.9925 | 28.0668 | 28.8049 | 30.3345 | 29.0806
450037 | 1.5845 | 0.8666 | 26.6207 | 28.3403 | 28.2594 | 27.7345
450039 | 1.5955 | 0.9852 | 26.7503 | 28.2081 | 29.8132 | 28.2727
450040 | 1.7553 | 0.8712 | 25.4734 | 26.8412 | 28.5453 | 26.9585
450042 | 1.7455 | 0.8703 | 26.6382 | 26.5429 | 27.6115 | 26.9555
450044 | 1.6959 | 0.9852 | 31.0381 | 29.4293 | 32.9897 | 31.1698
450046 | 1.5774 | 0.8494 | 24.8947 | 25.5903 | 27.2425 | 25.9770
450047 | 0.8561 | 0.9226 | 21.8824 | 23.8457 | 24.9663 | 23.5090
450051 | 1.9250 | 0.9852 | 28.8829 | 29.9038 | 30.3953 | 29.7565
450052 | 0.9850 | 0.8153 | 22.6448 | 23.0007 | 24.3959 | 23.3480
450054 | 1.7911 | 0.8855 | 27.5399 | 26.5599 | 30.2202 | 28.0403
450055 | 1.0449 | 0.8153 | 22.9245 | 23.6382 | 24.1423 | 23.5765
450056 | 1.6824 | 0.9521 | 28.3092 | 31.4971 | 32.0873 | 30.6432
450058 | 1.5743 | 0.8949 | 26.6926 | 26.9918 | 27.7297 | 27.1586
450059 | 1.2980 | 0.9024 | 26.8325 | 27.3856 | 28.5629 | 27.5865
450064 | 1.5113 | 0.9852 | 26.8355 | 28.2786 | 29.0474 | 28.0416
450068 | 2.0486 | 0.9925 | 29.5876 | 30.5001 | 32.0346 | 30.7379
450072 | 1.2155 | 0.9925 | 25.8619 | 27.1081 | 28.0902 | 27.0430
450073 | 0.8877 | 0.8153 | 26.9446 | 26.1567 | 22.2326 | 25.0645
450076 | 1.6904 | * | * | * | * | *
450078 | 0.8999 | 0.8153 | 21.4716 | 20.0758 | 20.7809 | 20.7567
450079 | 1.6789 | 0.9852 | 30.2420 | 30.5968 | 36.8906 | 32.4452
450080 | 1.2493 | 0.8666 | 27.9191 | 26.2439 | 26.8091 | 27.0298
450082 | 1.1597 | 0.8153 | 23.9025 | 24.2018 | 25.5648 | 24.5569
450083 | 1.7529 | 0.8901 | 27.4955 | 32.6462 | 30.2031 | 29.9862
450085 | 1.0822 | 0.8153 | 24.3637 | 25.6440 | 26.3606 | 25.4425
450087 | 1.3998 | 0.9852 | 30.0095 | 31.2668 | 32.6536 | 31.3363
450090 | 1.2615 | 0.8803 | 21.3837 | 21.8839 | 22.7815 | 22.0412
450092 | 1.2126 | 0.8153 | 24.9917 | 26.2781 | 28.2267 | 26.4935
450096 | *** | * | 26.5103 | 28.1902 | * | 27.3122
450097 | 1.4580 | 0.9925 | 29.0142 | 29.8734 | 31.9758 | 30.2412
450099 | 1.3019 | 0.8883 | 31.3495 | 31.7829 | 29.8469 | 30.9845
450101 | 1.6171 | 0.8703 | 25.4409 | 26.7457 | 28.4201 | 26.8726
450102 | 1.7083 | 0.8901 | 25.6318 | 26.4161 | 27.3343 | 26.4779
450104 | 1.1855 | 0.8949 | 24.6169 | 28.8063 | 27.7838 | 26.9841
450107 | 1.5806 | 0.8867 | 27.6064 | 27.8177 | 29.0310 | 28.1649
450108 | 1.1922 | 0.8949 | 21.6557 | 19.3245 | 22.4281 | 21.1092
450119 | 1.3181 | 0.9118 | 27.8027 | 31.1026 | 34.4129 | 30.7679
450121 | *** | * | 29.1296 | 27.7472 | * | 28.4439
450123 | 1.3318 | 0.8595 | 24.9674 | 26.2469 | 24.0420 | 24.9404
450124 | 1.7511 | 0.9521 | 28.2571 | 30.9140 | 31.9772 | 30.4250
450126 | 1.3989 | 0.9925 | 29.3768 | 30.5540 | 32.0348 | 30.6758
450128 | 1.2318 | 0.9118 | 25.1122 | 26.3296 | 28.3156 | 26.5694
450130 | 1.1977 | 0.8949 | 24.3295 | 24.3842 | 26.9201 | 25.2414
450131 | *** | * | 25.9494 | * | * | 25.9494
450132 | 1.6322 | 0.9425 | 30.1620 | 31.9981 | 31.1340 | 31.0941
450133 | 1.5320 | 0.9283 | 28.4647 | 30.0648 | 30.9597 | 29.8077
450135 | 1.6395 | 0.9852 | 27.8983 | 30.1385 | 30.7885 | 29.6276
450137 | 1.6679 | 0.9852 | 31.4950 | 31.9644 | 35.7749 | 33.2271
450143 | 1.0277 | 0.9521 | 23.4592 | 23.6834 | 24.4333 | 23.8654
450144 | 1.0083 | 0.8712 | 26.2881 | 29.2987 | 31.1551 | 28.7443
450147 | 1.4564 | 0.8153 | 24.3562 | 24.7221 | 26.3019 | 25.1662
450148 | 1.2241 | 0.9852 | 27.0894 | 29.6777 | 30.0530 | 28.8673
450151 | *** | * | 23.9558 | 26.2011 | 22.8759 | 24.2772
450152 | 1.2565 | 0.8855 | 23.3428 | 23.1056 | 24.3424 | 23.6074
450154 | 1.3302 | 0.8153 | 21.7237 | 22.9357 | 24.2578 | 22.9598
450155 | 1.1251 | 0.8153 | 21.7604 | 24.8052 | 24.8768 | 23.6641
450162 | 1.3269 | 0.8712 | 33.3285 | 32.9317 | 33.7803 | 33.3236
450163 | 1.0627 | 0.8207 | 24.1267 | 24.7857 | 27.0963 | 25.3188
450165 | 1.1447 | 0.8949 | 28.6490 | 29.1839 | 30.2222 | 29.3460
450176 | 1.4003 | 0.9118 | 23.1284 | 24.4338 | 25.8569 | 24.4742
450177 | 1.0905 | 0.8153 | 23.7624 | 24.4064 | 26.0891 | 24.7683
450178 | 0.9986 | 0.9283 | 27.8405 | 27.1184 | 28.5998 | 27.8381
450184 | 1.5684 | 0.9925 | 28.5399 | 29.5940 | 30.9705 | 29.6894
450187 | 1.2150 | 0.9925 | 28.3243 | 27.7374 | 29.2737 | 28.4472
450188 | 0.9254 | 0.8153 | 23.0595 | 23.2280 | 24.6816 | 23.6817
450191 | 1.1258 | 0.9521 | 26.5863 | 28.3937 | 31.1321 | 28.6333
450192 | 1.1180 | 0.8424 | 24.1186 | 26.4722 | 26.9874 | 25.8921
450193 | 2.0321 | 0.9925 | 34.4545 | 36.4793 | 37.1873 | 36.0649
450194 | 1.2632 | 0.8366 | 22.9605 | 24.3531 | 30.4368 | 25.7167
450196 | 1.4595 | 0.9852 | 24.0161 | 23.4577 | 25.4820 | 24.2962
450200 | 1.6042 | 0.8195 | 23.5012 | 25.6413 | 27.9825 | 25.4502
450201 | 0.9730 | 0.8153 | 23.2510 | 23.2800 | 22.5445 | 22.9956
450203 | 1.2116 | 0.9684 | 26.5237 | 27.8795 | 28.0968 | 27.5107
450209 | 1.8278 | 0.8997 | 27.5668 | 30.6146 | 31.9858 | 29.9981
450210 | 1.0215 | 0.8304 | 21.8722 | 22.5736 | 22.9049 | 22.4486
450211 | 1.3455 | 0.8666 | 28.4581 | 28.3770 | 28.8471 | 28.5692
450213 | 1.7959 | 0.8949 | 25.9169 | 26.8566 | 28.0289 | 26.9446
450214 | 1.2281 | 0.9925 | 27.4357 | 27.9913 | 28.2247 | 27.8829
450219 | 0.9660 | 0.8153 | 21.9207 | 23.9636 | 24.7267 | 23.5184
450221 | 1.1119 | 0.8153 | 19.3793 | 21.3721 | 20.7113 | 20.5035
450222 | 1.6824 | 0.9925 | 30.0314 | 30.3801 | 31.9231 | 30.7843
450224 | 1.3283 | 0.8901 | 26.8302 | 28.4382 | 28.7921 | 28.0121
450229 | 1.6525 | 0.8408 | 24.4450 | 25.1370 | 26.8016 | 25.3958
450231 | 1.6726 | 0.8997 | 27.1674 | 26.9783 | 27.0533 | 27.0671
450234 | 1.0198 | 0.8153 | 20.6889 | 20.4659 | 21.6802 | 21.1358
450235 | 1.0077 | 0.8153 | 23.5212 | 21.8967 | 23.8005 | 23.0639
450236 | 1.1319 | 0.8542 | 23.5426 | 22.9622 | 24.5926 | 23.6934
450237 | 1.6540 | 0.8949 | 25.7939 | 30.5885 | 31.2172 | 28.9557
450239 | 0.9770 | 0.8855 | 21.2586 | 19.1359 | 18.4232 | 19.4675
450241 | 1.0252 | 0.8153 | 20.8732 | 21.3641 | 28.4948 | 23.5112
450243 | 1.0024 | 0.8153 | 15.4510 | 17.2966 | 19.0176 | 17.2995
450253 | 0.9321 | 0.9925 | 24.2435 | 24.1056 | 22.9919 | 23.7733
450270 | 1.2113 | 0.8424 | 15.2190 | 19.8180 | 12.9994 | 15.5383
450271 | 1.2778 | 0.9684 | 22.7035 | 24.1269 | 23.9525 | 23.6286
450272 | 1.2096 | 0.9521 | 26.2576 | 27.0521 | 29.0903 | 27.4843
450280 | 1.4612 | 0.9852 | 29.9730 | 31.6575 | 34.9324 | 32.1866
450283 | 1.0893 | 0.9852 | 22.7938 | 24.1754 | 28.2079 | 24.8171
450289 | 1.4524 | 0.9925 | 32.2645 | 32.6533 | 32.6122 | 32.5225
450292 | 1.2808 | 0.9852 | 26.3242 | 26.8110 | 29.0226 | 27.3779
450293 | 0.8910 | 0.8153 | 23.6413 | 24.0827 | 24.1552 | 23.9551
450296 | 1.0439 | 0.9925 | 30.4324 | 31.5596 | 33.4528 | 31.7845
450299 | 1.5997 | 0.9193 | 27.5797 | 28.4171 | 29.4576 | 28.5044
450306 | 0.9802 | 0.8408 | 21.4558 | 22.9486 | 22.6822 | 22.3403
450315 | 2.4335 | 0.9852 | 37.1721 | * | 31.4204 | 33.9617
450324 | 1.5212 | 0.9852 | 25.1633 | 26.6093 | 27.9889 | 26.5490
450330 | 1.2552 | 0.9925 | 26.0771 | 27.1100 | 27.7403 | 26.9930
450340 | 1.4092 | 0.8600 | 25.0344 | 25.6791 | 30.5228 | 26.9242
450346 | 1.4343 | 0.8595 | 23.6072 | 23.8720 | 24.8416 | 24.1224
450347 | 1.2208 | 0.9925 | 28.7667 | 30.7825 | 28.5780 | 29.3911
450348 | 1.0018 | 0.8153 | 21.6787 | 21.0484 | 22.6822 | 21.8120
450351 | 1.2791 | 0.9684 | 26.5388 | 29.2560 | 29.9580 | 28.5841
450352 | 1.1062 | 0.9852 | 26.2281 | 27.2983 | 27.6466 | 27.0615
450353 | *** | * | 27.0248 | 27.9576 | * | 27.5079
450358 | 1.9716 | 0.9925 | 31.4926 | 32.5922 | 33.9078 | 32.6875
450369 | 0.9268 | 0.8153 | 19.9148 | 22.8525 | 24.1950 | 22.2632
450370 | 1.2579 | 0.8388 | 25.5834 | 26.3235 | 29.0806 | 27.0009
450372 | 1.4550 | 0.9852 | 30.8886 | 29.5022 | 30.9328 | 30.4453
450373 | 0.9144 | 0.8153 | 24.8286 | 27.0726 | 27.4243 | 26.4835
450378 | 1.3092 | 0.9925 | 30.3883 | 32.2278 | 33.0566 | 31.9025
450379 | 1.4002 | 0.9852 | 33.7521 | 35.3807 | 35.0613 | 34.7094
450388 | 1.7004 | 0.8949 | 27.4328 | 27.8155 | 29.5360 | 28.2774
450389 | 1.1714 | 0.9852 | 25.6732 | 26.9638 | 26.8481 | 26.4861
450393 | 0.7662 | 0.9852 | 21.9347 | * | 39.0250 | 28.4483
450395 | 1.0730 | 0.9925 | 27.5189 | 26.7743 | 28.4265 | 27.6022
450399 | 0.8925 | 0.8153 | 20.3528 | 22.1731 | 20.6300 | 21.0332
450400 | 1.0684 | 0.8153 | 23.6358 | 26.2871 | 29.5008 | 26.1110
450403 | 1.3192 | 0.9852 | 29.0359 | 29.8643 | 31.7040 | 30.2580
450411 | 1.0061 | 0.8153 | 20.9372 | 21.5746 | 21.7875 | 21.4276
450418 | *** | * | 28.4362 | * | * | 28.4362
450419 | 1.3124 | 0.9852 | 31.9966 | 34.2427 | 34.9949 | 33.8163
450422 | 1.2786 | 0.9852 | 34.4331 | 31.3454 | 32.4640 | 32.6976
450424 | 1.3562 | 0.9925 | 28.2463 | 30.7228 | 29.8269 | 29.5962
450431 | 1.6067 | 0.9521 | 26.3263 | 27.3926 | 28.5263 | 27.4173
450438 | 1.1486 | 0.8388 | 27.8659 | 26.5223 | 27.7728 | 27.3852
450446 | 0.7131 | 0.9925 | 17.0691 | 17.2871 | 15.4631 | 16.6064
450447 | 1.3552 | 0.9852 | 25.4200 | 26.5238 | 28.3710 | 26.7880
450451 | 1.0753 | 0.8689 | 24.6201 | 26.5477 | 25.8824 | 25.6945
450460 | 0.9426 | 0.8206 | 22.4227 | 24.9870 | 25.2172 | 24.1531
450462 | 1.7253 | 0.9852 | 29.6069 | 30.1466 | 30.6488 | 30.1364
450465 | 1.1257 | 0.9925 | 26.2759 | 27.0835 | 28.1840 | 27.2041
450469 | 1.4624 | 0.9852 | 26.3262 | 26.3445 | 31.1333 | 27.8724
450475 | 1.1940 | 0.8666 | 23.0942 | 24.5176 | 24.7023 | 24.0834
450484 | 1.4990 | 0.8666 | 26.7242 | 28.3913 | 27.7774 | 27.6347
450488 | 1.1180 | 0.8666 | 22.3981 | 23.7985 | 24.9095 | 23.7092
450489 | 0.9839 | 0.8153 | 23.4806 | 25.2680 | 26.9542 | 25.1940
450497 | 0.9966 | 0.8528 | 22.0918 | 23.1860 | 23.0703 | 22.7799
450498 | 0.9829 | 0.8153 | 18.6563 | 20.2475 | 20.6876 | 19.8494
450508 | 1.4530 | 0.8666 | 28.4471 | 27.2850 | 29.1501 | 28.3018
450514 | *** | * | 26.3704 | 27.3043 | 26.4002 | 26.6921
450518 | 1.4419 | 0.8595 | 28.1755 | 29.1322 | 27.5863 | 28.1826
450530 | 1.2667 | 0.9925 | 29.1349 | 29.9720 | 30.7727 | 29.9520
450537 | 1.5128 | 0.9852 | 27.7757 | 28.7448 | 30.9146 | 29.1361
450539 | 1.2202 | 0.8220 | 23.1829 | 24.2151 | 25.0188 | 24.1139
450547 | 0.9744 | 0.9852 | 23.7820 | 34.3349 | 25.4122 | 27.1653
450558 | 1.7678 | 0.8408 | 26.9407 | 28.0655 | 28.7729 | 27.9448
450563 | 1.5299 | 0.9852 | 30.8332 | 32.0507 | 32.6847 | 31.9164
450565 | 1.3270 | 0.9684 | 26.7942 | 28.1741 | 27.4760 | 27.4805
450571 | 1.6222 | 0.8600 | 25.2108 | 27.4605 | 26.5303 | 26.3740
450573 | 1.0770 | 0.8279 | 22.0797 | 22.1492 | 24.6744 | 22.9817
450578 | 0.9673 | 0.8153 | 22.5167 | 25.0498 | 25.2476 | 24.2617
450580 | 1.0515 | 0.8153 | 22.3886 | 23.9004 | 25.9872 | 23.9915
450584 | 1.0829 | 0.8153 | 20.5257 | 22.5204 | 23.6045 | 22.1623
450586 | 1.0201 | 0.8153 | 18.9107 | 20.6699 | 18.3294 | 19.3042
450587 | 1.2259 | 0.8153 | 23.1202 | 25.0174 | 25.9358 | 24.6518
450591 | 1.1895 | 0.9925 | 25.7031 | 27.1744 | 27.9847 | 26.9265
450596 | 1.1854 | 0.9684 | 27.4011 | 29.8462 | 31.6577 | 29.6788
450597 | 0.9963 | 0.8153 | 24.7853 | 24.2586 | 24.8439 | 24.6216
450604 | 1.3397 | 0.8153 | 24.4743 | 25.9133 | 29.1526 | 26.5819
450605 | 0.9810 | 0.8494 | 20.9276 | 23.9332 | 14.8030 | 19.8571
450610 | 1.5974 | 0.9925 | 27.7317 | 28.3713 | 30.5957 | 28.8793
450615 | 0.9986 | 0.8185 | 21.8442 | 24.1902 | 22.6324 | 22.8680
450617 | 1.5826 | 0.9925 | 28.0225 | 28.8323 | 30.2898 | 29.0536
450620 | 0.9635 | 0.8153 | 18.6183 | 20.3723 | 21.2530 | 20.0799
450630 | 1.5054 | 0.9925 | 29.1462 | 29.8431 | 31.7991 | 30.2292
450634 | 1.6203 | 0.9852 | 28.7312 | 30.3274 | 31.7983 | 30.2933
450638 | 1.5993 | 0.9925 | 30.6572 | 32.4911 | 33.3208 | 32.0988
450639 | 1.4598 | 0.9852 | 30.4019 | 32.6255 | 34.3727 | 32.4471
450641 | 0.9799 | 0.8528 | 19.4389 | 20.2483 | 21.7288 | 20.4546
450643 | 1.3367 | 0.8816 | 22.7355 | 24.4999 | 27.2517 | 24.7934
450644 | 1.5467 | 0.9925 | 29.7918 | 30.7815 | 31.6848 | 30.7914
450646 | 1.4527 | 0.8867 | 25.6313 | 26.8060 | 27.4611 | 26.6291
450647 | 1.8764 | 0.9852 | 30.6924 | 32.4236 | 34.0988 | 32.4013
450651 | 1.5358 | 0.9852 | 30.4484 | 31.9261 | 33.6467 | 32.0226
450653 | 1.1592 | 0.8153 | 25.2144 | 26.1756 | 26.5346 | 25.9882
450654 | 0.9049 | 0.8153 | 21.5002 | 22.5447 | 25.0736 | 23.0141
450656 | 1.4220 | 0.8666 | 25.5050 | 28.1493 | 29.7276 | 27.7366
450658 | 0.9793 | 0.8153 | 22.2293 | 24.7856 | 22.7086 | 23.2037
450659 | 1.4021 | 0.9925 | 31.5024 | 34.2380 | 34.2632 | 33.2709
450661 | 1.4614 | 0.9425 | 30.2610 | 30.0751 | 29.2361 | 29.8375
450662 | 1.6460 | 0.9226 | 29.0535 | 29.0532 | 30.9608 | 29.6825
450668 | 1.5414 | 0.8867 | 28.8635 | 30.6114 | 30.2059 | 29.8659
450669 | 1.2189 | 0.9852 | 27.9796 | 30.2374 | 32.1221 | 30.1382
450670 | 1.4361 | 0.9925 | 25.9638 | 26.4266 | 26.2942 | 26.2315
450672 | 1.8349 | 0.9852 | 30.1191 | 31.8420 | 33.0834 | 31.7654
450674 | 0.9478 | 0.9925 | 28.7101 | 29.8971 | 31.9284 | 30.1847
450675 | 1.4578 | 0.9852 | 28.9005 | 30.9562 | 32.6351 | 30.8652
450677 | 1.3166 | 0.9852 | 25.9555 | 27.2760 | 27.1594 | 26.8126
450678 | 1.4170 | 0.9852 | 31.1563 | 33.3386 | 33.5496 | 32.6557
450683 | 1.2015 | 0.9852 | 27.4925 | 21.1737 | 24.8430 | 24.2908
450684 | 1.2814 | 0.9925 | 29.3025 | 30.2139 | 31.2746 | 30.2639
450686 | 1.6149 | 0.8712 | 24.2331 | 25.8530 | 26.4851 | 25.5754
450688 | 1.2727 | 0.9852 | 26.8599 | 26.9897 | 29.4376 | 27.7076
450690 | 1.3408 | 0.8901 | 26.5528 | 26.1743 | 30.0569 | 27.4939
450694 | 1.1759 | 0.8153 | 23.9961 | 24.0031 | 27.0859 | 24.8819
450697 | 1.4748 | 0.8949 | 24.8667 | 26.4132 | 28.2983 | 26.4744
450698 | 0.9175 | 0.8280 | 20.0955 | 21.5742 | 23.3052 | 21.6138
450702 | 1.6153 | 0.8666 | 26.8384 | 26.3696 | 27.1300 | 26.7835
450709 | 1.4034 | 0.9925 | 26.8146 | 27.1077 | 31.3218 | 28.4257
450711 | 1.4823 | 0.9118 | 26.7472 | 27.5622 | 28.1016 | 27.5198
450713 | 1.5563 | 0.9521 | 28.8285 | 29.4980 | 30.4912 | 29.6225
450715 | 1.3146 | 0.9852 | 17.3991 | 17.0235 | * | 17.2098
450716 | 1.4070 | 0.9925 | 32.3960 | 33.7096 | 33.9898 | 33.3800
450718 | 1.4669 | 0.9521 | 27.3215 | 28.1560 | 29.7584 | 28.4466
450723 | 1.4494 | 0.9852 | 28.5103 | 30.1704 | 31.0456 | 29.9614
450730 | 1.3722 | 0.9852 | 31.3324 | 32.7293 | 32.8896 | 32.3004
450742 | 1.1754 | 0.9852 | 27.2023 | 30.0583 | 30.4185 | 29.2913
450743 | 1.4478 | 0.9852 | 28.3362 | 28.4736 | 29.5077 | 28.8191
450746 | 0.8780 | 0.8153 | 20.6343 | 22.7873 | 23.3483 | 22.2429
450747 | 1.1965 | 0.8901 | 23.8314 | 25.8175 | 28.3918 | 25.8472
450749 | 0.9371 | 0.8153 | 20.0487 | 22.1562 | 23.9271 | 21.9555
450751 | *** | * | 18.7456 | 21.4223 | * | 20.1469
450754 | 0.9429 | 0.8153 | 22.1819 | 24.7797 | 22.8559 | 23.2191
450755 | 0.9660 | 0.8429 | 19.8988 | 22.2006 | 24.7427 | 22.1319
450758 | *** | * | 28.7342 | 28.2803 | 28.3285 | 28.4884
450760 | 1.0061 | 0.8867 | 24.7489 | 25.1637 | 23.7138 | 24.5602
450766 | 2.0334 | 0.9852 | 30.8004 | 30.2341 | 31.2061 | 30.7524
450770 | 1.1706 | 0.9521 | 24.1647 | 24.3244 | 23.6084 | 24.0129
450771 | 1.7003 | 0.9852 | 30.7105 | 32.0500 | 32.4987 | 31.7652
450774 | 1.7600 | 0.9925 | 27.2080 | 25.7436 | 27.5052 | 26.8202
450775 | 1.3943 | 0.9925 | 28.1428 | 29.8230 | 31.6636 | 29.9048
450779 | 1.2842 | 0.9852 | 29.9674 | 31.8403 | 32.0748 | 31.3351
450780 | 2.5251 | 0.8949 | 26.7611 | 27.0084 | 28.5545 | 27.4508
450788 | 1.5291 | 0.8494 | 26.2840 | 28.3759 | 29.7646 | 28.1299
450795 | 1.1739 | 0.9925 | 25.2007 | 32.9803 | 43.8548 | 34.0292
450796 | 1.8173 | 0.8997 | 36.4073 | 37.6274 | 39.4710 | 37.9807
450797 | 1.2450 | 0.9925 | 24.8950 | 24.8598 | 26.0293 | 25.2371
450801 | 1.4989 | 0.8195 | 24.6328 | 23.6072 | 25.6368 | 24.6370
450803 | 1.2105 | 0.9925 | 28.9235 | 29.0106 | 28.7024 | 28.8861
450804 | 2.0345 | 0.9925 | 27.8775 | 29.1282 | 31.1869 | 29.4370
450808 | 1.8935 | 0.9521 | 21.9793 | 23.0312 | 29.6456 | 24.9240
450809 | 1.6551 | 0.9521 | 26.4223 | 27.3080 | 29.4671 | 27.7555
450811 | 1.7218 | 0.9118 | 27.2584 | 31.2208 | 31.7219 | 29.8931
450813 | 1.1338 | 0.8949 | 20.1710 | 22.9289 | 26.5793 | 23.2366
450820 | 1.4186 | 0.9925 | 31.4666 | 33.9030 | 34.7415 | 33.5465
450822 | 1.3260 | 0.9852 | 32.2968 | 32.2145 | 34.4032 | 32.9996
450824 | 2.6758 | 0.9521 | 31.2375 | 33.3653 | 31.8377 | 32.1641
450825 | 1.4768 | 0.9118 | 20.6457 | 25.1521 | 25.7993 | 23.7848
450827 | 1.4405 | 0.9175 | 23.7554 | 24.1984 | 24.3655 | 24.1145
450828 | 1.3774 | 0.8153 | 24.4740 | 24.8236 | 26.9546 | 25.5737
450829 | *** | * | 20.6016 | 19.5842 | * | 20.0933
450830 | 1.0119 | 0.9283 | 28.5902 | 27.8005 | 28.4004 | 28.2670
450831 | 0.9180 | 0.9925 | 23.3880 | 23.9467 | 24.4124 | 23.8672
450832 | 1.3167 | 0.9925 | 26.5229 | 27.3290 | 28.1375 | 27.3874
450833 | 1.1878 | 0.9852 | 27.0133 | 27.9649 | 29.0241 | 28.0113
450834 | 1.6180 | 0.9193 | 20.9607 | 27.4844 | 26.7240 | 24.5166
450838 | 1.0772 | 0.8279 | 19.5754 | 18.9620 | 19.2941 | 19.2971
450839 | 0.9688 | 0.8153 | 25.8222 | 27.2199 | 27.5319 | 26.8415
450840 | 1.2996 | 0.9852 | 30.1743 | 32.2538 | 32.4135 | 31.6992
450841 | 1.9116 | 0.9226 | 20.9410 | 20.9424 | 24.4366 | 22.2249
450844 | 1.3797 | 0.9925 | 30.7887 | 33.7978 | 33.0727 | 32.7243
450845 | 1.8834 | 0.8867 | 29.4933 | 29.9265 | 28.5011 | 29.2842
450847 | 1.2564 | 0.9925 | 28.5548 | 29.7356 | 30.7409 | 29.7031
450848 | 1.2904 | 0.9925 | 29.5355 | 30.5546 | 31.1455 | 30.4213
450850 | 1.5769 | 0.9562 | 21.9266 | 31.9606 | 27.2645 | 26.5516
450851 | 2.3662 | 0.9852 | 32.6950 | 35.1102 | 32.8357 | 33.5034
450853 | 1.7353 | 0.9852 | 36.1169 | 37.1043 | 38.3572 | 37.3449
450854 | *** | * | 27.1868 | * | * | 27.1868
450855 | 1.6258 | 0.9226 | 30.8855 | 32.6916 | 30.7321 | 31.4205
450856 | 2.0970 | 0.8949 | 39.0865 | 37.7362 | 35.4977 | 37.3569
450857 | *** | * | 30.4632 | * | * | 30.4632
450860 | 1.8529 | 0.9925 | 24.0171 | 29.1075 | 33.3360 | 29.3070
450861 | *** | * | 34.9290 | * | * | 34.9290
450862 | 1.5594 | 0.9925 | 31.2224 | 31.8095 | 33.7932 | 32.2128
450863 | *** | * | 24.8825 | * | * | 24.8825
450864 | 2.1890 | 0.8901 | 23.3765 | 24.5049 | 25.3514 | 24.5415
450865 | 1.1032 | 0.9521 | 29.1763 | 29.9559 | 31.9179 | 30.4451
450866 | *** | * | 15.2959 | * | * | 15.2959
450867 | 1.1589 | 0.9521 | 28.2289 | 29.5879 | 31.4926 | 29.7806
450868 | 1.7418 | 0.9425 | 27.9579 | 25.3486 | 27.7398 | 27.0759
450869 | 2.1455 | 0.9118 | 22.6253 | 26.1616 | 28.7406 | 27.5500
450870 | *** | * | 37.4364 | * | * | 37.4364
450871 | 1.8768 | 0.9521 | * | 28.9150 | 32.3967 | 30.6337
450872 | 1.3756 | 0.9852 | * | 27.2833 | 31.7321 | 29.8421
450873 | *** | * | * | 14.8821 | * | 14.8821
450874 | 1.6738 | 0.9852 | * | 34.6083 | 35.6817 | 35.2071
450875 | 1.7360 | 0.8997 | * | 23.2763 | 23.2949 | 23.2862
450876 | 1.9264 | 0.8712 | * | 28.4343 | 30.3498 | 29.4575
450877 | 1.4979 | 0.8867 | * | 26.1867 | 29.2330 | 27.6968
450878 | 2.5641 | 0.8949 | * | 31.6750 | 33.6233 | 32.6691
450879 | 1.3352 | 0.8816 | * | 35.5672 | 36.4836 | 36.0727
450880 | 1.5477 | 0.9852 | * | 35.9572 | 32.6680 | 34.0899
450881 | *** | * | * | 24.5464 | * | 24.5464
450882 | *** | * | * | 26.6910 | * | 26.6910
450883 | 2.4793 | 0.9852 | * | 35.2646 | 37.1500 | 36.2387
450884 | 1.0281 | 0.8715 | * | 27.8213 | 23.5791 | 25.5501
450885 | 1.4517 | 0.9852 | * | 34.1148 | 36.0926 | 35.1477
450886 | 1.5017 | 0.9852 | * | * | 30.1552 | 30.1552
450887 | *** | * | * | * | 25.5574 | 25.5574
450888 | 1.7096 | 0.9708 | * | * | 28.5970 | 28.5970
450889 | 1.5530 | 0.9852 | * | * | 35.6125 | 35.6125
450890 | 1.8266 | 0.9852 | * | * | 32.1973 | 32.1973
450891 | 1.4143 | 0.9852 | * | * | 39.0842 | 39.0842
450892 | *** | * | * | * | 39.5303 | 39.5303
450893 | 1.3909 | 0.9852 | * | * | 36.2633 | 36.2633
450894 | 1.7932 | 0.9852 | * | * | 25.9422 | 25.9422
450895 | *** | * | * | 18.4142 | * | 18.4142
460001 | 1.8307 | 0.9075 | 28.7150 | 30.0040 | * | 29.3648
460003 | 1.5382 | 0.9271 | 31.4135 | 32.3427 | 29.6430 | 31.1480
460004 | 1.7729 | 0.9271 | 28.2040 | 29.6342 | 29.8751 | 29.2534
460005 | 1.5237 | 0.9271 | 25.0239 | 26.0731 | 29.4163 | 26.8371
460006 | 1.4480 | 0.9271 | 27.1392 | 28.3678 | 28.9633 | 28.1485
460007 | 1.3341 | 0.9228 | 27.1308 | 28.0035 | 29.1171 | 28.1204
460008 | 1.3382 | 0.9271 | 29.5907 | 31.5485 | 27.6886 | 29.5829
460009 | 1.9760 | 0.9271 | 27.2885 | 28.3836 | 29.4687 | 28.4457
460010 | 2.0995 | 0.9271 | 29.0063 | 30.4606 | 30.9793 | 30.1575
460011 | 1.3236 | 0.8395 | 24.4402 | 24.9677 | 26.5474 | 25.3370
460013 | 1.3909 | 0.9075 | 27.7381 | 29.2731 | 29.7232 | 28.9118
460014 | 1.1488 | 0.9271 | 28.2647 | 29.5963 | 30.6427 | 29.4780
460015 | 1.3542 | 0.8827 | 27.2506 | 29.1318 | 28.7993 | 28.4031
460017 | 1.5067 | 0.8778 | 24.3030 | 26.1589 | 28.7101 | 26.4243
460018 | 0.8937 | 0.8395 | 22.0517 | 22.8028 | 22.0916 | 22.3156
460019 | 1.1962 | 0.8395 | 24.3756 | 23.2202 | 25.1607 | 24.2508
460020 | 0.9177 | * | 18.5159 | * | * | 18.5159
460021 | 1.7949 | 1.1388 | 28.0291 | 29.5761 | 29.7373 | 29.2069
460023 | 1.2032 | 0.9075 | 26.9512 | 28.5884 | 28.9445 | 28.1975
460026 | 1.0634 | 0.9052 | 26.9295 | 27.9487 | 29.2757 | 28.0634
460030 | 1.1657 | 0.8395 | 23.5942 | 24.4218 | 26.8971 | 24.9667
460033 | 0.8711 | 0.8395 | 25.3422 | 26.6606 | 27.9090 | 26.6490
460035 | 0.9610 | 0.8395 | 20.6322 | 21.9115 | 23.8672 | 22.1202
460039 | 1.0970 | 0.8827 | 29.5651 | 30.4912 | 30.0656 | 30.0667
460041 | 1.3694 | 0.9271 | 26.4640 | 26.3807 | 26.7342 | 26.5286
460042 | 1.4973 | 0.9271 | 24.9454 | 26.8389 | 36.2868 | 28.7517
460043 | 0.9867 | 0.9075 | 28.2008 | 28.6668 | 29.5636 | 28.8137
460044 | 1.3270 | 0.9271 | 27.4928 | 28.7023 | 29.5056 | 28.5642
460047 | 1.6851 | 0.9271 | 28.2336 | 29.9990 | 30.9988 | 29.7618
460049 | 1.9801 | 0.9271 | 26.6702 | 28.4884 | 28.6251 | 27.9963
460051 | 1.4090 | 0.9271 | 27.0160 | 27.8841 | 28.1118 | 27.6918
460052 | 1.6516 | 0.9075 | 26.1629 | 27.1995 | 28.7433 | 27.4110
460054 | 1.6931 | 0.8827 | 24.9926 | 25.7870 | 26.3926 | 25.7328
460055 | 1.4742 | 0.9075 | * | * | * | *
470001 | 1.2668 | 0.9297 | 28.3017 | 29.7540 | 32.2867 | 30.1248
470003 | 1.8776 | 0.9275 | 28.1137 | 30.1973 | 30.0513 | 29.4645
470005 | 1.3533 | 0.9275 | 30.7872 | 33.1981 | 33.9946 | 32.7064
470011 | 1.1581 | 0.9275 | 28.1330 | 29.6269 | 30.8723 | 29.5547
470012 | 1.2088 | 0.9275 | 26.0225 | 27.0751 | 29.8242 | 27.6835
470024 | 1.1462 | 0.9275 | 27.0394 | 26.6351 | 27.3091 | 26.9932
490001 | 1.0923 | 0.8061 | 23.2174 | 24.0368 | 24.6876 | 23.9910
490002 | 1.0162 | 0.8061 | 20.8609 | 21.7092 | 24.0666 | 22.0939
490004 | 1.2931 | 0.9449 | 27.1676 | 27.5890 | 28.8643 | 27.8908
490005 | 1.5720 | 1.0669 | 29.8215 | 30.5349 | 31.4889 | 30.6457
490007 | 2.0360 | 0.8869 | 27.6572 | 29.3098 | 30.7391 | 29.2722
490009 | 1.9926 | 0.9728 | 30.4722 | 28.4642 | 31.4238 | 30.0808
490011 | 1.5707 | 0.8869 | 26.4766 | 27.4764 | 28.8762 | 27.6271
490012 | 1.0101 | 0.8061 | 21.0605 | 22.9922 | 21.8319 | 21.9360
490013 | 1.3744 | 0.9694 | 24.7521 | 25.5560 | 27.3086 | 25.8824
490017 | 1.5021 | 0.8869 | 25.8216 | 27.5902 | 29.6761 | 27.7176
490018 | 1.3622 | 0.9449 | 26.2510 | 27.2644 | 27.8664 | 27.1379
490019 | 1.1503 | 1.0669 | 25.9885 | 25.8264 | 29.8874 | 27.1451
490020 | 1.2876 | 0.9203 | 27.3142 | 29.3468 | 30.5993 | 29.0707
490021 | 1.4622 | 0.8646 | 25.7938 | 27.0641 | 28.1233 | 26.9966
490022 | 1.4112 | 1.0669 | 32.2676 | 30.1203 | 31.7964 | 31.3740
490023 | 1.3297 | 1.0669 | 30.3416 | 30.9920 | 32.6291 | 31.3336
490024 | 1.6994 | 0.8889 | 26.1125 | 27.9689 | 29.0379 | 27.6964
490027 | 1.1143 | 0.8061 | 24.0288 | 23.0017 | 24.3832 | 23.7446
490032 | 1.9515 | 0.9203 | 25.2654 | 28.5897 | 28.0097 | 27.3514
490033 | 1.0967 | 1.0669 | 31.2922 | 31.8282 | 30.9894 | 31.3730
490037 | 1.2781 | 0.8061 | 24.7711 | 25.2859 | 26.2942 | 25.4675
490038 | 1.2238 | 0.8061 | 21.8509 | 22.6504 | 24.0844 | 22.8205
490040 | 1.5127 | 1.1017 | 32.6564 | 34.1841 | 35.6796 | 34.1603
490041 | 1.5635 | 0.8869 | 26.0897 | 27.1613 | 29.1224 | 27.4587
490042 | 1.3157 | 0.8750 | 24.4650 | 25.7333 | 26.6055 | 25.6256
490043 | 1.3375 | 1.1017 | 33.7096 | 35.8872 | 36.5934 | 35.4348
490044 | 1.4493 | 0.8869 | 23.3527 | 23.3793 | 24.1751 | 23.6463
490045 | 1.3427 | 1.0669 | 32.0937 | 30.3772 | 32.8751 | 31.7663
490046 | 1.5416 | 0.8869 | 26.6517 | 27.9604 | 29.3861 | 28.0339
490048 | 1.4333 | 0.8646 | 26.2828 | 27.0620 | 28.0302 | 27.1308
490050 | 1.5231 | 1.0669 | 31.3885 | 32.2993 | 31.1346 | 31.5946
490052 | 1.6678 | 0.8869 | 23.5973 | 25.0046 | 25.1956 | 24.5749
490053 | 1.1871 | 0.8061 | 23.3315 | 23.8004 | 24.6193 | 23.9160
490057 | 1.6362 | 0.8869 | 26.6898 | 27.4918 | 29.0678 | 27.7786
490059 | 1.6585 | 0.9203 | 27.3611 | 30.8669 | 32.1008 | 30.0791
490060 | 1.0194 | 0.8061 | 23.6113 | 24.3192 | 25.7752 | 24.5807
490063 | 1.8759 | 1.1017 | 31.3619 | 31.6069 | 34.1154 | 32.3880
490066 | 1.3873 | 0.8869 | 27.8250 | 29.5917 | 31.4281 | 29.7032
490067 | 1.2870 | 0.9203 | 24.9021 | 25.9497 | 26.7787 | 25.8584
490069 | 1.5365 | 0.9203 | 27.3181 | 29.1527 | 30.1463 | 28.8658
490071 | 1.4069 | 0.9203 | 29.7186 | 31.7061 | 33.7101 | 31.7115
490073 | *** | * | 33.1829 | 34.5774 | 46.4178 | 36.1085
490075 | 1.3188 | 0.8483 | 25.2022 | 25.7323 | 27.3411 | 26.0795
490077 | 1.4181 | 0.9728 | 26.6806 | 28.1506 | 31.0002 | 28.6185
490079 | 1.2674 | 0.8985 | 25.3103 | 25.2340 | 24.2052 | 24.9039
490084 | 1.1427 | 0.8248 | 24.9007 | 25.7657 | 26.3132 | 25.6727
490088 | 1.0983 | 0.8646 | 24.1471 | 25.0619 | 26.0270 | 25.0928
490089 | 1.1018 | 0.8889 | 24.9438 | 25.9902 | 27.4562 | 26.1612
490090 | 1.0545 | 0.8061 | 25.1157 | 25.5418 | 27.0746 | 25.9182
490092 | 1.0775 | 0.8061 | 23.3439 | 25.7405 | 27.5268 | 25.4745
490093 | 1.5429 | 0.8869 | 25.6531 | 26.7886 | 28.7103 | 27.0735
490094 | 0.9727 | 0.9203 | 28.2165 | 28.9155 | 29.7975 | 28.9991
490097 | 1.0690 | 0.9203 | 26.5322 | 27.1470 | 27.4607 | 27.0696
490098 | 1.2889 | 0.8061 | 23.2782 | 25.1625 | 26.7140 | 25.0883
490101 | 1.4144 | 1.1017 | 31.2377 | 32.3695 | 32.9490 | 32.2107
490104 | 0.7712 | 0.9203 | * | 17.0548 | 19.0055 | 18.0437
490105 | 0.8355 | 0.8061 | 25.5329 | 26.3827 | * | 25.9379
490106 | 0.7733 | 0.8061 | 23.8334 | 25.7352 | 26.2318 | 25.2383
490107 | 1.4215 | 1.1017 | 32.2672 | 33.5430 | 35.0239 | 33.6804
490108 | 1.0546 | 0.8646 | 22.9076 | 23.3204 | 25.1884 | 23.8173
490109 | 0.9060 | 0.8869 | 22.7854 | 24.2296 | 21.6710 | 22.7835
490110 | 1.3576 | 0.8307 | 24.2887 | 24.9861 | 26.3071 | 25.2068
490111 | 1.1082 | 0.8061 | 22.1476 | 22.7336 | 26.4282 | 23.6179
490112 | 1.7315 | 0.9203 | 27.1932 | 29.0816 | 31.2526 | 29.1894
490113 | 1.2911 | 1.0669 | 31.8177 | 32.4547 | 34.7813 | 33.0718
490114 | 1.1439 | 0.8061 | 22.5255 | 22.1387 | 23.0526 | 22.5829
490115 | 1.2011 | 0.8061 | 22.4058 | 23.5718 | 23.2109 | 23.0488
490116 | 1.1712 | 0.8061 | 24.2258 | 24.3853 | 25.0343 | 24.5470
490117 | 1.1002 | 0.8061 | 19.6398 | 18.1138 | 20.3031 | 19.3436
490118 | 1.6337 | 0.9203 | 27.6749 | 29.0569 | 31.2383 | 29.3451
490119 | 1.3013 | 0.8869 | 26.5756 | 27.8866 | 29.5203 | 28.0191
490120 | 1.4551 | 0.8869 | 25.8795 | 25.9610 | 27.1973 | 26.3518
490122 | 1.5919 | 1.1017 | 32.0743 | 33.3719 | 35.2212 | 33.5744
490123 | 1.1435 | 0.8061 | 24.3490 | 24.2254 | 24.5997 | 24.3927
490126 | 1.1732 | 0.8061 | 23.6690 | 24.0908 | 25.3282 | 24.3545
490127 | 1.1178 | 0.8061 | 21.3735 | 23.5161 | 23.1390 | 22.6004
490130 | 1.2203 | 0.8869 | 23.9982 | 25.3352 | 25.9771 | 25.1170
490134 | 0.8323 | 0.8061 | * | 33.2405 | 31.1474 | 32.1153
490135 | 0.7518 | 0.8889 | * | 25.9998 | 27.2771 | 26.6418
490136 | 1.4451 | 0.9203 | * | * | 31.2889 | 31.2889
490138 | 1.9348 | 0.8646 | * | * | * | *
500001 | 1.6024 | 1.1562 | 31.1605 | 33.0901 | 37.5297 | 33.7723
500002 | 1.3750 | 1.0164 | 27.6400 | 29.1448 | 30.1855 | 29.0190
500003 | 1.3968 | 1.1377 | 30.6939 | 32.1262 | 32.7960 | 31.8089
500005 | 1.8014 | 1.1562 | 33.5117 | 35.0997 | 36.0900 | 34.9342
500007 | 1.3520 | 1.1377 | 29.2869 | 30.5263 | 31.0289 | 30.3229
500008 | 1.9737 | 1.1562 | 32.6052 | 33.5666 | 34.7787 | 33.6731
500011 | 1.3817 | 1.1562 | 31.4514 | 32.6223 | 38.3960 | 33.9417
500012 | 1.7799 | 1.0164 | 30.0509 | 33.8101 | 33.1661 | 32.2294
500014 | 1.6593 | 1.1562 | 36.1380 | 36.5833 | 37.2677 | 36.6858
500015 | 1.4000 | 1.1562 | 34.5877 | 37.5724 | 40.8644 | 37.5957
500016 | 1.6703 | 1.1377 | 31.4905 | 32.9177 | 34.2801 | 32.9164
500019 | 1.2524 | 1.0295 | 30.5594 | 31.6242 | 33.8866 | 32.0653
500021 | 1.3071 | 1.1377 | 30.7927 | 32.4702 | 33.5572 | 32.3511
500024 | 1.7453 | 1.1462 | 32.6171 | 36.1647 | 37.4510 | 35.4266
500025 | 1.9117 | 1.1562 | 37.7952 | 40.6369 | 44.7077 | 41.0323
500026 | 1.4550 | 1.1562 | 32.8369 | 34.5881 | 35.5055 | 34.3334
500027 | 1.4942 | 1.1562 | 34.6164 | 39.2906 | 42.4941 | 38.7477
500030 | 1.6959 | 1.1395 | 32.4426 | 34.9174 | 36.7964 | 34.7347
500031 | 1.2671 | 1.1297 | 32.8833 | 33.2391 | 34.1649 | 33.4481
500033 | 1.2468 | 1.0164 | 30.6292 | 31.8891 | 32.6732 | 31.7837
500036 | 1.3290 | 1.0164 | 28.7096 | 30.5938 | 31.9136 | 30.4918
500037 | 1.0577 | 1.0164 | 28.1056 | 31.2654 | 29.1752 | 29.5198
500039 | 1.5629 | 1.1377 | 32.2245 | 33.5606 | 34.5710 | 33.5071
500041 | 1.4344 | 1.1186 | 30.3627 | 34.2017 | 36.9240 | 33.8434
500044 | 1.8913 | 1.0514 | 29.0214 | 31.0936 | 32.0719 | 30.6373
500049 | 1.3698 | 1.0164 | 27.7170 | 29.8189 | 30.8120 | 29.5153
500050 | 1.5082 | 1.1186 | 32.6751 | 33.7713 | 35.7229 | 34.0820
500051 | 1.7917 | 1.1562 | 32.5764 | 34.7610 | 36.4745 | 34.6036
500052 | 1.4632 | 1.1562 | * | * | * | *
500053 | 1.2557 | 1.0164 | 28.2901 | 30.2811 | 28.5649 | 29.0318
500054 | 1.9737 | 1.0514 | 31.6595 | 32.5105 | 34.8088 | 32.9758
500058 | 1.6843 | 1.0164 | 30.7487 | 30.7034 | 32.6820 | 31.4274
500060 | 1.3541 | 1.1562 | 37.4869 | 38.7682 | 40.3002 | 38.8996
500064 | 1.8909 | 1.1562 | 31.6112 | 32.3581 | 34.7906 | 32.9459
500072 | 1.2605 | 1.0576 | 31.2000 | 32.5269 | 33.1128 | 32.3268
500077 | 1.4765 | 1.0514 | 31.6153 | 33.2223 | 34.3082 | 33.0354
500079 | 1.3733 | 1.1377 | 31.3280 | 32.5809 | 34.2468 | 32.6847
500084 | 1.2608 | 1.1562 | 30.2411 | 32.7883 | 33.3057 | 32.1164
500088 | 1.4739 | 1.1562 | 35.3770 | 36.7953 | 38.5166 | 36.8898
500108 | 1.6172 | 1.1377 | 31.8483 | 34.3872 | 35.8890 | 34.0321
500119 | 1.3809 | 1.0514 | 29.7028 | 31.2233 | 31.7102 | 30.8549
500124 | 1.4071 | 1.1562 | 32.3505 | 34.4790 | 36.3296 | 34.3958
500129 | 1.5755 | 1.1377 | 32.1102 | 34.4447 | 37.3169 | 34.6824
500134 | 0.5967 | 1.1562 | 27.2428 | 28.1374 | 28.9744 | 28.2246
500139 | 1.4903 | 1.1462 | 33.9739 | 34.6412 | 37.5682 | 35.2949
500141 | 1.2645 | 1.1562 | 31.3308 | 33.7532 | 34.2350 | 33.1511
500143 | 0.5889 | 1.1462 | 23.6766 | 25.3099 | 26.3882 | 25.1082
500148 | 1.2204 | 1.0164 | 26.4206 | 37.7830 | 24.6331 | 30.3555
500150 | 1.2775 | 1.1186 | * | * | 34.7828 | 34.7828
510001 | 1.9319 | 0.8569 | 25.2973 | 25.8693 | 26.7901 | 26.0184
510002 | 1.2681 | 0.8732 | 23.8921 | 23.7270 | 24.8834 | 24.1721
510006 | 1.3528 | 0.8631 | 24.9627 | 24.8777 | 26.6403 | 25.4772
510007 | 1.6750 | 0.9107 | 24.7264 | 27.1149 | 28.5769 | 26.8115
510008 | 1.3363 | 0.9253 | 26.3554 | 27.5241 | 27.4687 | 27.1395
510012 | 0.9584 | 0.7759 | 18.8984 | 20.8455 | 22.9026 | 20.8292
510013 | 1.1635 | 0.7635 | 22.7882 | 22.8779 | 22.9605 | 22.8737
510018 | 1.0730 | 0.8398 | 22.4597 | 23.1043 | 23.7726 | 23.1223
510022 | 1.8098 | 0.8398 | 26.9511 | 26.8328 | 27.6095 | 27.1376
510023 | 1.2565 | 0.8011 | 20.6435 | 21.0940 | 23.1446 | 21.6346
510024 | 1.7530 | 0.8569 | 25.5634 | 26.6621 | 31.1308 | 27.8371
510026 | 0.9848 | 0.7635 | 17.9908 | 19.2025 | 17.8264 | 18.3206
510029 | 1.2995 | 0.8398 | 22.7104 | 24.0872 | 25.3908 | 24.0179
510030 | 1.1499 | 0.7635 | 24.3936 | 24.2007 | 25.5580 | 24.7270
510031 | 1.4626 | 0.8398 | 23.2624 | 24.0237 | 26.7854 | 24.6110
510033 | 1.5988 | 0.8028 | 22.6189 | 24.0796 | 24.2824 | 23.6905
510038 | 1.0704 | 0.7635 | 20.6565 | 20.9180 | 21.7526 | 21.1101
510039 | 1.3740 | 0.7635 | 19.8751 | 20.4719 | 21.3807 | 20.5901
510046 | 1.3781 | 0.7795 | 22.1712 | 22.2935 | 24.7175 | 23.0443
510047 | 1.2053 | 0.8569 | 27.1214 | 27.6859 | 28.8777 | 27.9077
510048 | 1.1872 | 0.7635 | 18.8576 | 22.7930 | 23.6384 | 21.5406
510050 | 1.5377 | 0.8569 | 21.0772 | 21.9009 | 23.5780 | 22.1906
510053 | 1.0938 | 0.7635 | 22.3318 | 21.5338 | 22.6278 | 22.1640
510055 | 1.5578 | 0.9107 | 28.4615 | 29.4111 | 30.7366 | 29.5844
510058 | 1.3382 | 0.8028 | 23.9015 | 25.3248 | 24.8750 | 24.7020
510059 | *** | * | 22.1435 | 20.8847 | 21.9025 | 21.6378
510062 | 1.2241 | 0.8398 | 26.2296 | 26.7066 | 27.7962 | 26.9089
510067 | 1.0951 | 0.7635 | 25.0437 | 25.2130 | 25.2231 | 25.1585
510070 | 1.2034 | 0.8398 | 23.5639 | 23.9742 | 25.4968 | 24.3383
510071 | 1.2818 | 0.7795 | 23.4508 | 23.2954 | 23.4542 | 23.4003
510072 | 1.0733 | 0.7635 | 20.5146 | 19.4370 | 20.2379 | 20.0443
510077 | 1.0382 | 0.8748 | 24.5010 | 25.9515 | 27.1603 | 25.8349
510082 | 1.1006 | 0.7635 | 19.9081 | 20.3279 | 21.1654 | 20.4929
510085 | 1.2021 | 0.8398 | 26.3877 | 26.2617 | 26.8122 | 26.4911
510086 | 1.0879 | 0.7635 | 19.8735 | 19.2606 | 20.1963 | 19.7687
510090 | *** | * | * | * | 39.0764 | 39.0764
520002 | 1.3026 | 0.9823 | 27.7705 | 29.0501 | 31.9053 | 29.6240
520004 | 1.4018 | 0.9796 | 27.6530 | 28.9857 | 30.9192 | 29.2469
520008 | 1.5695 | 1.0182 | 30.7553 | 33.8057 | 33.6749 | 32.7716
520009 | 1.6546 | 0.9511 | 27.4044 | 28.8591 | 29.6272 | 28.6360
520011 | 1.2826 | 0.9511 | 26.6268 | 28.0224 | 29.5006 | 28.0213
520013 | 1.4977 | 1.0976 | 29.0018 | 30.1834 | 32.1701 | 30.5206
520017 | 1.1201 | 0.9599 | 28.4699 | 29.3278 | 31.0517 | 29.6386
520019 | 1.3503 | 0.9511 | 28.6971 | 29.8640 | 30.2175 | 29.6442
520021 | 1.3207 | 1.0315 | 28.4182 | 29.1129 | 29.7788 | 29.1139
520027 | 1.4430 | 1.0182 | 31.4284 | 32.4137 | 33.5809 | 32.5077
520028 | 1.3966 | 1.1014 | 26.7260 | 28.0813 | 29.4683 | 28.3047
520030 | 1.6874 | 0.9823 | 29.4678 | 30.5724 | 31.6785 | 30.5738
520033 | 1.2248 | 0.9511 | 28.0662 | 29.0236 | 30.2616 | 29.1742
520034 | 1.2622 | 0.9511 | 26.1094 | 26.8886 | 28.1800 | 27.0611
520035 | 1.3586 | 0.9587 | 27.3276 | 28.1048 | 29.4053 | 28.2938
520037 | 1.7405 | 0.9823 | 30.1799 | 32.2144 | 31.6795 | 31.3757
520038 | 1.2048 | 1.0182 | 29.3134 | 29.6339 | 30.5249 | 29.8341
520040 | *** | * | 29.1262 | 31.2038 | 35.9633 | 32.0420
520041 | 1.0813 | 1.1232 | 23.5495 | 25.3764 | 26.1572 | 25.0721
520044 | 1.3626 | 0.9587 | 27.3685 | 28.2382 | 28.6601 | 28.1191
520045 | 1.5915 | 0.9511 | 27.3336 | 29.2556 | 30.0840 | 28.8905
520048 | 1.5102 | 0.9511 | 26.8080 | 29.1870 | 30.1468 | 28.5889
520049 | 2.0434 | 0.9511 | 26.9851 | 28.0936 | 29.4223 | 28.1983
520051 | 1.5346 | 1.0182 | 31.9949 | 31.5974 | 32.4111 | 32.0738
520057 | 1.1885 | 0.9704 | 27.7528 | 29.1158 | 31.3292 | 29.4114
520059 | 1.3571 | 1.0026 | 29.5801 | 30.4491 | 31.1783 | 30.4093
520060 | *** | * | 24.8638 | * | * | 24.8638
520062 | 1.3331 | 1.0182 | 28.8510 | 32.8584 | 32.6992 | 31.5738
520063 | 1.1678 | 1.0182 | 29.0993 | 30.3391 | 31.5185 | 30.3770
520064 | 1.5219 | 1.0182 | 30.3225 | 31.5723 | 33.1248 | 31.5779
520066 | 1.4182 | 0.9824 | 29.2088 | 31.0644 | 31.6673 | 30.6304
520070 | 1.6950 | 0.9599 | 27.6771 | 28.2059 | 30.0451 | 28.7359
520071 | 1.2135 | 1.0026 | 30.0262 | 30.6930 | 31.5435 | 30.8053
520075 | 1.6946 | 0.9511 | 29.2920 | 30.1582 | 32.2755 | 30.5484
520076 | 1.2239 | 1.1014 | 27.3335 | 27.4423 | 26.8932 | 27.2252
520078 | 1.4666 | 1.0182 | 29.9837 | 31.6606 | 32.0179 | 31.1768
520083 | 1.7215 | 1.1232 | 30.8826 | 32.7728 | 34.7200 | 32.8276
520087 | 1.7126 | 0.9796 | 28.5810 | 30.5659 | 31.9747 | 30.3890
520088 | 1.3463 | 0.9523 | 30.7450 | 30.6657 | 30.7462 | 30.7187
520089 | 1.5744 | 1.1232 | 33.8793 | 33.4098 | 34.9331 | 34.0808
520091 | 1.2752 | 0.9511 | 25.4593 | 27.3442 | 28.7166 | 27.1741
520095 | 1.2282 | 0.9704 | 30.4216 | 32.0381 | 33.2399 | 31.9187
520096 | 1.3683 | 1.0026 | 27.8896 | 29.5985 | 28.5204 | 28.6435
520097 | 1.3252 | 0.9511 | 29.1479 | 29.9998 | 31.0204 | 30.0765
520098 | 2.0129 | 1.1232 | 32.5785 | 36.5776 | 38.0962 | 35.8078
520100 | 1.3329 | 0.9824 | 29.3243 | 29.9458 | 31.7748 | 30.3552
520102 | 1.1961 | 1.0026 | 29.1680 | 30.7990 | 31.5735 | 30.5379
520103 | 1.5575 | 1.0182 | 30.3165 | 32.6269 | 34.5620 | 32.5629
520107 | 1.3439 | 0.9523 | 28.9878 | 29.4178 | 30.0343 | 29.4887
520109 | 1.0451 | 0.9511 | 24.7228 | 25.0697 | 25.9723 | 25.2667
520113 | 1.2659 | 0.9511 | 31.4708 | 33.3475 | 33.3023 | 32.7086
520116 | 1.2564 | 1.0026 | 27.9688 | 30.2156 | 31.6687 | 29.9794
520132 | *** | * | 25.0006 | 27.3431 | * | 26.0481
520136 | 1.6351 | 1.0182 | 30.6522 | 32.1479 | 32.3480 | 31.6992
520138 | 1.8898 | 1.0182 | 30.8016 | 31.6581 | 32.5653 | 31.6762
520139 | 1.3351 | 1.0182 | 28.8870 | 30.4903 | 31.7060 | 30.3322
520140 | *** | * | 31.0043 | 31.1315 | * | 31.0699
520152 | *** | * | 29.7308 | * | * | 29.7308
520160 | 1.7768 | 0.9511 | 27.9548 | 29.5582 | 30.3037 | 29.2715
520170 | 1.4785 | 1.0182 | 30.4309 | 31.4710 | 31.7586 | 31.2272
520173 | 1.0888 | * | 29.2429 | 31.0599 | * | 30.1478
520177 | 1.5992 | 1.0182 | 31.4555 | 32.5714 | 33.1218 | 32.4064
520189 | 1.1684 | 1.0315 | 28.0014 | 29.0295 | 29.2212 | 28.7600
520193 | 1.7185 | 0.9511 | 27.8113 | 29.2007 | 29.4715 | 28.8651
520194 | 1.5801 | 1.0182 | 30.1668 | 31.4379 | 30.9993 | 30.8959
520195 | 0.6565 | 1.0182 | 36.3116 | 36.2900 | 41.6044 | 37.9667
520196 | 1.7736 | 0.9599 | 36.9266 | 31.1175 | 31.6125 | 32.7571
520197 | *** | * | * | 30.1917 | * | 30.1917
520198 | 1.3572 | 0.9511 | * | 28.5975 | 29.9781 | 29.2918
520199 | 2.0438 | 1.0182 | * | 36.5699 | 37.0103 | 36.7943
520202 | 1.6509 | 0.9823 | * | * | * | *
520203 | 2.9989 | 1.1232 | * | * | * | *
530002 | 1.1984 | 0.9223 | 28.3063 | 29.2069 | 29.2407 | 28.9305
530006 | 1.2359 | 0.9223 | 27.2421 | 29.2104 | 30.3704 | 28.9041
530008 | 1.1650 | 0.9223 | 24.0090 | 26.5180 | 30.5992 | 27.0161
530009 | 0.9602 | 0.9223 | 24.6719 | 26.0490 | 27.0529 | 25.9191
530010 | 1.2145 | 0.9223 | 25.9852 | 27.4121 | 28.5518 | 27.3468
530011 | 1.1265 | 0.9223 | 27.8772 | 27.8613 | 31.1309 | 28.8654
530012 | 1.7040 | 0.9618 | 26.9582 | 28.7524 | 30.6085 | 28.7888
530014 | 1.5582 | 0.9611 | 26.7156 | 28.5469 | 29.6709 | 28.4442
530015 | 1.1779 | 0.9327 | 29.8310 | 29.8306 | 33.4886 | 31.0902
530017 | 0.9134 | 0.9223 | 29.8503 | 31.1105 | 25.8172 | 28.8536
530025 | 1.2876 | 0.9223 | 24.4392 | 29.4346 | 28.8951 | 27.4712
530032 | 1.0528 | 0.9223 | 23.9004 | 24.6580 | 25.4254 | 24.6844
¹ Based on salaries adjusted for occupational mix, according to the calculation in section III.D.2. of the preamble to this proposed rule.
² The case-mix index is based on the billed DRGs in the FY 2007 MedPAR file. It is not transfer adjusted.
³ Provider 140010 is part of a multicampus provider (MCH) that is comprised of campuses that are located in two different CBSAs. The provider number with a “B” in the 4th position, 140B10, indicates the portion of the wage and hours of the MCH that is allocated to CBSA 29404; provider number 140010 indicates the portion of wages and hours of the MCH that is allocated to CBSA 16974.
⁴ Provider 220074 is part of a multicampus provider (MCH) that is comprised of campuses that are located in two different CBSAs. The provider number with a “B” in the 4th position, 220B74, indicates the portion of the wage and hours of the MCH that is allocated to CBSA 14484; provider number 220074 indicates the portion of wages and hours of the MCH that is allocated to CBSA 39300.
⁵ Provider 230104 is part of a multicampus provider (MCH) that is comprised of campuses that are located in two different CBSAs. The provider number with a “B” in the 4th position, 230B04, indicates the portion of the wage and hours of the MCH that is allocated to CBSA 47644; provider number 230104 indicates the portion of wages and hours of the MCH that is allocated to CBSA 19804.
*Denotes wage data not available for the provider for that year.
**Based on the sum of the salaries and hours computed for Federal FYs 2007, 2008, and 2009.
***Denotes MedPAR data not available for the provider for FY 2007.

Table 3A.—FY 2009 and 3-Year* Average Hourly Wage for Urban Areas by CBSA
[*Based on the salaries and hours computed for Federal FYs 2007, 2008, and 2009]
CBSA code | Urban area | FY 2009 average hourly wage | 3-Year average hourly wage
10180 | Abilene, TX | 27.1004 | 25.7723
10380 | Aguadilla-Isabela-San Sebastián, PR | 10.6709 | 10.7622
10420 | Akron, OH | 28.3319 | 26.9292
10500 | Albany, GA | 28.2617 | 27.2184
10580 | Albany-Schenectady-Troy, NY | 28.4655 | 27.2227
10740 | Albuquerque, NM | 30.6500 | 29.7201
10780 | Alexandria, LA | 26.1655 | 24.7913
10900 | Allentown-Bethlehem-Easton, PA-NJ | 31.2097 | 30.7425
11020 | Altoona, PA | 26.7060 | 25.9824
11100 | Amarillo, TX | 29.0008 | 28.2619
11180 | Ames, IA | 30.4757 | 30.0901
11260 | Anchorage, AK | 38.0798 | 36.6236
11300 | Anderson, IN | 28.7750 | 27.5948
11340 | Anderson, SC | 31.3772 | 28.7401
11460 | Ann Arbor, MI | 33.6572 | 32.6579
11500 | Anniston-Oxford, AL | 25.8029 | 24.6804
11540 | Appleton, WI | 30.0406 | 29.0241
11700 | Asheville, NC | 29.6273 | 28.5517
12020 | Athens-Clarke County, GA | 30.9008 | 29.8591
12060 | Atlanta-Sandy Springs-Marietta, GA | 31.4502 | 30.3269
12100 | Atlantic City-Hammonton, NJ | 38.0743 | 36.7794
12220 | Auburn-Opelika, AL | 24.3605 | 24.4407
12260 | Augusta-Richmond County, GA-SC | 30.9498 | 29.7603
12420 | Austin-Round Rock, TX | 30.6888 | 29.3079
12540 | Bakersfield, CA | 36.5786 | 34.6045
12580 | Baltimore-Towson, MD | 32.1655 | 30.9372
12620 | Bangor, ME | 32.5961 | 30.6397
12700 | Barnstable Town, MA | 40.8356 | 39.1326
12940 | Baton Rouge, LA | 26.2494 | 25.0384
12980 | Battle Creek, MI | 32.3508 | 30.7409
13020 | Bay City, MI | 30.3060 | 28.7057
13140 | Beaumont-Port Arthur, TX | 27.7045 | 26.7778
13380 | Bellingham, WA | 36.7964 | 34.7347
13460 | Bend, OR | 35.6036 | 33.2554
13644 | Bethesda-Frederick-Gaithersburg, MD | 33.9508 | 32.8571
13740 | Billings, MT | 29.1465 | 27.7805
13780 | Binghamton, NY | 28.1030 | 27.6136
13820 | Birmingham-Hoover, AL | 28.3138 | 27.3821
13900 | Bismarck, ND | 23.2350 | 22.4949
13980 | Blacksburg-Christiansburg-Radford, VA | 26.1759 | 25.2599
14020 | Bloomington, IN | 30.3742 | 28.6837
14060 | Bloomington-Normal, IL | 30.6807 | 29.0683
14260 | Boise City-Nampa, ID | 29.9365 | 29.1371
14484 | Boston-Quincy, MA | 38.6504 | 36.7387
14500 | Boulder, CO | 32.3079 | 31.3052
14540 | Bowling Green, KY | 26.8895 | 25.3106
14600 | Bradenton-Sarasota-Venice, FL | 31.5095 | 30.2345
14740 | Bremerton-Silverdale, WA | 34.5710 | 33.5071
14860 | Bridgeport-Stamford-Norwalk, CT | 42.0944 | 39.8678
15180 | Brownsville-Harlingen, TX | 29.7382 | 29.0319
15260 | Brunswick, GA | 32.6731 | 31.3350
15380 | Buffalo-Niagara Falls, NY | 30.9123 | 29.5833
15500 | Burlington, NC | 27.7660 | 26.6186
15540 | Burlington-South Burlington, VT | 29.6973 | 29.1460
15764 | Cambridge-Newton-Framingham, MA | 35.6990 | 34.3809
15804 | Camden, NJ | 34.1250 | 32.6476
15940 | Canton-Massillon, OH | 28.5297 | 27.6782
15980 | Cape Coral-Fort Myers, FL | 30.6869 | 29.4302
16180 | Carson City, NV | 32.3122 | 30.2124
16220 | Casper, WY | 30.6085 | 28.7888
16300 | Cedar Rapids, IA | 28.3050 | 27.0341
16580 | Champaign-Urbana, IL | 30.1432 | 29.1751
16620 | Charleston, WV | 27.1192 | 26.3071
16700 | Charleston-North Charleston-Summerville, SC | 29.7955 | 28.4097
16740 | Charlotte-Gastonia-Concord, NC-SC | 30.8456 | 29.4515
16820 | Charlottesville, VA | 31.3517 | 29.8273
16860 | Chattanooga, TN-GA | 28.6158 | 27.6439
16940 | Cheyenne, WY | 29.6709 | 28.4442
16974 | Chicago-Naperville-Joliet, IL | 33.3033 | 32.5973
17020 | Chico, CA | 35.0695 | 34.2761
17140 | Cincinnati-Middletown, OH-KY-IN | 30.9027 | 29.7285
17300 | Clarksville, TN-KY | 26.7544 | 25.7478
17420 | Cleveland, TN | 26.2909 | 25.3790
17460 | Cleveland-Elyria-Mentor, OH | 29.8896 | 28.9336
17660 | Coeur d'Alene, ID | 29.5998 | 28.7256
17780 | College Station-Bryan, TX | 29.6321 | 28.1756
17820 | Colorado Springs, CO | 31.4793 | 29.6470
17860 | Columbia, MO | 27.2133 | 26.2863
17900 | Columbia, SC | 28.9948 | 27.6672
17980 | Columbus, GA-AL | 29.2007 | 27.4844
18020 | Columbus, IN | 31.7711 | 29.8902
18140 | Columbus, OH | 31.8334 | 30.9635
18580 | Corpus Christi, TX | 27.3797 | 26.2260
18700 | Corvallis, OR | 35.7074 | 34.1739
19060 | Cumberland, MD-WV | 24.2686 | 24.3744
19124 | Dallas-Plano-Irving, TX | 31.7539 | 30.5827
19140 | Dalton, GA | 27.3868 | 26.8521
19180 | Danville, IL | 31.2955 | 29.5310
19260 | Danville, VA | 27.3411 | 26.0795
19340 | Davenport-Moline-Rock Island, IA-IL | 27.2010 | 26.8964
19380 | Dayton, OH | 30.0672 | 28.7100
19460 | Decatur, AL | 24.8584 | 24.2893
19500 | Decatur, IL | 26.3336 | 25.3091
19660 | Deltona-Daytona Beach-Ormond Beach, FL | 28.4632 | 27.8441
19740 | Denver-Aurora, CO | 34.1438 | 32.7970
19780 | Des Moines-West Des Moines, IA | 30.6173 | 28.7458
19804 | Detroit-Livonia-Dearborn, MI | 32.3846 | 31.4605
20020 | Dothan, AL | 24.8722 | 23.3546
20100 | Dover, DE | 34.3823 | 32.3013
20220 | Dubuque, IA | 26.5562 | 26.9190
20260 | Duluth, MN-WI | 33.8981 | 31.7842
20500 | Durham, NC | 31.2419 | 30.0944
20740 | Eau Claire, WI | 30.9902 | 29.6325
20764 | Edison-New Brunswick, NJ | 36.1487 | 34.5118
20940 | El Centro, CA | 29.1074 | 28.1129
21060 | Elizabethtown, KY | 27.2829 | 26.5352
21140 | Elkhart-Goshen, IN | 30.6988 | 29.4323
21300 | Elmira, NY | 26.8991 | 25.8564
21340 | El Paso, TX | 28.5812 | 28.1095
21500 | Erie, PA | 28.0896 | 26.9188
21660 | Eugene-Springfield, OR | 35.9675 | 34.2186
21780 | Evansville, IN-KY | 27.4904 | 26.7119
21820 | Fairbanks, AK | 36.1891 | 34.2975
21940 | Fajardo, PR | 13.1075 | 12.8846
22020 | Fargo, ND-MN | 26.0887 | 24.9864
22140 | Farmington, NM | 25.2152 | 26.1577
22180 | Fayetteville, NC | 31.9846 | 30.2233
22220 | Fayetteville-Springdale-Rogers, AR-MO | 29.4256 | 27.9239
22380 | Flagstaff, AZ | 37.5481 | 35.8798
22420 | Flint, MI | 36.2781 | 34.1503
22500 | Florence, SC | 27.3900 | 26.5639
22520 | Florence-Muscle Shoals, AL | 25.2619 | 24.0763
22540 | Fond du Lac, WI | 30.7462 | 30.7188
22660 | Fort Collins-Loveland, CO | 30.8219 | 29.2764
22744 | Fort Lauderdale-Pompano Beach-Deerfield Beach, FL | 31.6349 | 30.8485
22900 | Fort Smith, AR-OK | 25.2751 | 24.4937
23020 | Fort Walton Beach-Crestview-Destin, FL | 28.1059 | 26.8450
23060 | Fort Wayne, IN | 28.8955 | 28.1729
23104 | Fort Worth-Arlington, TX | 31.2137 | 29.8330
23420 | Fresno, CA | 35.7716 | 34.2816
23460 | Gadsden, AL | 25.7517 | 24.9688
23540 | Gainesville, FL | 30.4476 | 29.0940
23580 | Gainesville, GA | 30.0367 | 28.8932
23844 | Gary, IN | 30.0576 | 28.8628
24020 | Glens Falls, NY | 28.2938 | 26.8175
24140 | Goldsboro, NC | 29.5207 | 28.5197
24220 | Grand Forks, ND-MN | 24.9880 | 24.4055
24300 | Grand Junction, CO | 31.2200 | 29.9879
24340 | Grand Rapids-Wyoming, MI | 29.9037 | 29.1399
24500 | Great Falls, MT | 27.9340 | 26.5446
24540 | Greeley, CO | 32.4200 | 30.9988
24580 | Green Bay, WI | 30.6825 | 29.5078
24660 | Greensboro-High Point, NC | 29.4639 | 28.1363
24780 | Greenville, NC | 30.1256 | 28.8796
24860 | Greenville-Mauldin-Easley, SC | 31.0004 | 29.7649
25020 | Guayama, PR | 10.1106 | 09.6176
25060 | Gulfport-Biloxi, MS | 28.6731 | 27.0856
25180 | Hagerstown-Martinsburg, MD-WV | 29.8828 | 28.7638
25260 | Hanford-Corcoran, CA | 35.7293 | 33.4052
25420 | Harrisburg-Carlisle, PA | 29.4620 | 28.6481
25500 | Harrisonburg, VA | 28.8643 | 27.8908
25540 | Hartford-West Hartford-East Hartford, CT | 36.0188 | 34.1981
25620 | Hattiesburg, MS | 24.2839 | 23.4139
25860 | Hickory-Lenoir-Morganton, NC | 28.8353 | 27.7789
25980 | ¹ Hinesville-Fort Stewart, GA
26100 | Holland-Grand Haven, MI | 29.3296 | 28.2605
26180 | Honolulu, HI | 37.4061 | 34.9722
26300 | Hot Springs, AR | 29.4741 | 27.9457
26380 | Houma-Bayou Cane-Thibodaux, LA | 25.3740 | 24.7942
26420 | Houston-Sugar Land-Baytown, TX | 31.9906 | 30.9869
26580 | Huntington-Ashland, WV-KY-OH | 29.4107 | 27.7644
26620 | Huntsville, AL | 28.9607 | 27.8624
26820 | Idaho Falls, ID | 29.3359 | 28.2699
26900 | Indianapolis-Carmel, IN | 31.6890 | 30.3105
26980 | Iowa City, IA | 30.2168 | 29.3116
27060 | Ithaca, NY | 30.8103 | 29.9028
27100 | Jackson, MI | 30.5399 | 29.5811
27140 | Jackson, MS | 25.9122 | 24.9687
27180 | Jackson, TN | 27.3080 | 26.6865
27260 | Jacksonville, FL | 29.3541 | 28.3904
27340 | Jacksonville, NC | 27.0573 | 25.9214
27500 | Janesville, WI | 31.7184 | 30.5036
27620 | Jefferson City, MO | 29.1505 | 27.2519
27740 | Johnson City, TN | 25.8452 | 24.5939
27780 | Johnstown, PA | 25.9505 | 24.9881
27860 | Jonesboro, AR | 26.0204 | 24.6491
27900 | Joplin, MO | 31.3014 | 28.6510
28020 | Kalamazoo-Portage, MI | 35.1589 | 33.2912
28100 | Kankakee-Bradley, IL | 38.7329 | 33.0300
28140 | Kansas City, MO-KS | 30.4624 | 29.0579
28420 | Kennewick-Pasco-Richland, WA | 31.3630 | 30.6561
28660 | Killeen-Temple-Fort Hood, TX | 28.5417 | 26.9557
28700 | Kingsport-Bristol-Bristol, TN-VA | 25.3719 | 24.5154
28740 | Kingston, NY | 30.3965 | 29.3492
28940 | Knoxville, TN | 25.4214 | 24.8943
29020 | Kokomo, IN | 29.8433 | 29.2845
29100 | La Crosse, WI-MN | 31.6291 | 30.0294
29140 | Lafayette, IN | 28.8946 | 27.2885
29180 | Lafayette, LA | 27.2063 | 25.9638
29340 | Lake Charles, LA | 24.4720 | 24.0434
29404 | Lake County-Kenosha County, IL-WI | 33.4390 | 32.6639
29420 | Lake Havasu City-Kingman, AZ | 31.6370 | 29.6383
29460 | Lakeland-Winter Haven, FL | 28.1459 | 27.5004
29540 | Lancaster, PA | 31.0576 | 30.0449
29620 | Lansing-East Lansing, MI | 31.9010 | 30.9914
29700 | Laredo, TX | 28.4147 | 26.3095
29740 | Las Cruces, NM | 28.3851 | 27.2925
29820 | Las Vegas-Paradise, NV | 37.5945 | 35.4889
29940 | Lawrence, KS | 26.8014 | 25.6444
30020 | Lawton, OK | 27.8148 | 26.3376
30140 | Lebanon, PA | 29.0022 | 26.8307
30300 | Lewiston, ID-WA | 29.8774 | 29.0074
30340 | Lewiston-Auburn, ME | 30.0517 | 28.7720
30460 | Lexington-Fayette, KY | 28.8431 | 27.8163
30620 | Lima, OH | 29.9606 | 28.3617
30700 | Lincoln, NE | 31.0009 | 30.3915
30780 | Little Rock-North Little Rock-Conway, AR | 28.2114 | 28.2530
30860 | Logan, UT-ID | 28.3537 | 27.8958
30980 | Longview, TX | 27.3041 | 26.9355
31020 | Longview, WA | 36.9240 | 33.8434
31084 | Los Angeles-Long Beach-Glendale, CA | 38.9626 | 36.6108
31140 | Louisville-Jefferson County, KY-IN | 29.7925 | 28.3269
31180 | Lubbock, TX | 28.0803 | 26.7835
31340 | Lynchburg, VA | 27.7933 | 26.6660
31420 | Macon, GA | 31.6291 | 30.3409
31460 | Madera, CA | 26.7719 | 26.0576
31540 | Madison, WI | 36.2618 | 34.3945
31700 | Manchester-Nashua, NH | 33.0542 | 31.4821
31900 | Mansfield, OH | 29.9812 | 28.5726
32420 | Mayagüez, PR | 12.5555 | 11.7170
32580 | McAllen-Edinburg-Mission, TX | 29.3886 | 27.9884
32780 | Medford, OR | 33.0786 | 32.3223
32820 | Memphis, TN-MS-AR | 30.0626 | 28.8798
32900 | Merced, CA | 39.1381 | 36.7035
33124 | Miami-Miami Beach-Kendall, FL | 31.8599 | 30.6911
33140 | Michigan City-La Porte, IN | 29.1570 | 27.7380
33260 | Midland, TX | 30.8197 | 29.6993
33340 | Milwaukee-Waukesha-West Allis, WI | 32.8741 | 31.8085
33460 | Minneapolis-St. Paul-Bloomington, MN-WI | 35.4391 | 33.7580
33540 | Missoula, MT | 28.2291 | 26.9683
33660 | Mobile, AL | 25.1640 | 24.3569
33700 | Modesto, CA | 39.1156 | 36.9865
33740 | Monroe, LA | 25.6673 | 24.6843
33780 | Monroe, MI | 28.7386 | 29.0350
33860 | Montgomery, AL | 26.3999 | 25.1056
34060 | Morgantown, WV | 27.8745 | 26.4870
34100 | Morristown, TN | 23.5598 | 23.4073
34580 | Mount Vernon-Anacortes, WA | 32.2055 | 31.3429
34620 | Muncie, IN | 26.7339 | 25.4260
34740 | Muskegon-Norton Shores, MI | 32.9571 | 31.3172
34820 | Myrtle Beach-North Myrtle Beach-Conway, SC | 28.0263 | 27.0772
34900 | Napa, CA | 45.2771 | 42.3405
34940 | Naples-Marco Island, FL | 31.7163 | 30.5323
34980 | Nashville-Davidson-Murfreesboro-Franklin, TN | 30.5185 | 29.8356
35004 | Nassau-Suffolk, NY | 41.0210 | 39.8184
35084 | Newark-Union, NJ-PA | 37.3360 | 36.1271
35300 | New Haven-Milford, CT | 38.1842 | 37.0168
35380 | New Orleans-Metairie-Kenner, LA | 29.4715 | 27.1340
35644 | New York-White Plains-Wayne, NY-NJ | 42.0303 | 40.8866
35660 | Niles-Benton Harbor, MI | 29.3085 | 28.0264
35980 | Norwich-New London, CT | 36.8468 | 36.0398
36084 | Oakland-Fremont-Hayward, CA | 49.9560 | 47.7941
36100 | Ocala, FL | 27.4049 | 26.5357
36140 | Ocean City, NJ | 37.4820 | 34.3008
36220 | Odessa, TX | 30.3782 | 30.3247
36260 | Ogden-Clearfield, UT | 29.7855 | 28.2615
36420 | Oklahoma City, OK | 27.9928 | 27.1135
36500 | Olympia, WA | 37.0153 | 34.9710
36540 | Omaha-Council Bluffs, NE-IA | 30.2913 | 29.2081
36740 | Orlando-Kissimmee, FL | 29.6766 | 28.9783
36780 | Oshkosh-Neenah, WI | 30.0761 | 28.8544
36980 | Owensboro, KY | 28.2413 | 27.1328
37100 | Oxnard-Thousand Oaks-Ventura, CA | 36.9286 | 35.1055
37340 | Palm Bay-Melbourne-Titusville, FL | 30.3622 | 29.2690
37380 | ² Palm Coast, FL | 28.3179 | 27.7197
37460 | Panama City-Lynn Haven, FL | 27.4719 | 25.9842
37620 | Parkersburg-Marietta-Vienna, WV-OH | 25.9281 | 25.2122
37700 | Pascagoula, MS | 25.8776 | 25.5012
37764 | Peabody, MA | 34.6216 | 32.8179
37860 | Pensacola-Ferry Pass-Brent, FL | 26.1506 | 24.9081
37900 | Peoria, IL | 29.1439 | 28.4392
37964 | Philadelphia, PA | 35.4610 | 33.9583
38060 | Phoenix-Mesa-Scottsdale, AZ | 33.0972 | 31.5810
38220 | Pine Bluff, AR | 26.6629 | 25.9270
38300 | Pittsburgh, PA | 27.6753 | 26.3759
38340 | Pittsfield, MA | 33.6590 | 31.7762
38540 | Pocatello, ID | 29.3360 | 28.3737
38660 | Ponce, PR | 13.2835 | 13.4725
38860 | Portland-South Portland-Biddeford, ME | 31.9890 | 30.7480
38900 | Portland-Vancouver-Beaverton, OR-WA | 36.1216 | 34.7569
38940 | Port St. Lucie, FL | 31.9898 | 30.8026
39100 | Poughkeepsie-Newburgh-Middletown, NY | 35.2679 | 33.9878
39140 | Prescott, AZ | 32.8634 | 30.9614
39300 | Providence-New Bedford-Fall River, RI-MA | 34.3817 | 33.0490
39340 | Provo-Orem, UT | 29.1600 | 28.8274
39380 | Pueblo, CO | 27.8188 | 26.8684
39460 | Punta Gorda, FL | 29.9874 | 29.4798
39540 | Racine, WI | 28.8930 | 28.8892
39580 | Raleigh-Cary, NC | 31.2156 | 30.0484
39660 | Rapid City, SD | 30.6204 | 27.7643
39740 | Reading, PA | 30.0875 | 29.3819
39820 | Redding, CA | 41.6249 | 39.4241
39900 | Reno-Sparks, NV | 33.7604 | 34.6330
40060 | Richmond, VA | 29.6609 | 28.3807
40140 | Riverside-San Bernardino-Ontario, CA | 36.2653 | 34.0181
40220 | Roanoke, VA | 28.6468 | 27.4630
40340 | Rochester, MN | 35.3899 | 33.7865
40380 | Rochester, NY | 28.7144 | 27.8099
40420 | Rockford, IL | 31.7824 | 30.6686
40484 | Rockingham County-Strafford County, NH | 31.9359 | 31.0988
40580 | Rocky Mount, NC | 29.2288 | 27.8751
40660 | Rome, GA | 31.2559 | 29.9017
40900 | Sacramento-Arden-Arcade-Roseville, CA | 41.9426 | 40.3835
40980 | Saginaw-Saginaw Township North, MI | 29.1128 | 28.2485
41060 | St. Cloud, MN | 37.2177 | 34.8308
41100 | St. George, UT | 29.7373 | 29.2069
41140 | St. Joseph, MO-KS | 33.7767 | 30.5981
41180 | St. Louis, MO-IL | 28.9842 | 27.8523
41420 | Salem, OR | 34.3369 | 32.4058
41500 | Salinas, CA | 47.9744 | 45.4050
41540 | Salisbury, MD | 29.6266 | 27.8982
41620 | Salt Lake City, UT | 29.8767 | 29.1422
41660 | San Angelo, TX | 27.7212 | 26.5502
41700 | San Antonio, TX | 28.8457 | 27.6665
41740 | San Diego-Carlsbad-San Marcos, CA | 36.2686 | 34.6834
41780 | Sandusky, OH | 28.4754 | 27.6992
41884 | San Francisco-San Mateo-Redwood City, CA | 48.5597 | 46.7826
41900 | San Germán-Cabo Rojo, PR | 14.9779 | 14.5348
41940 | San Jose-Sunnyvale-Santa Clara, CA | 51.2569 | 48.2592
41980 | San Juan-Caguas-Guaynabo, PR | 14.1930 | 13.8050
42020 | San Luis Obispo-Paso Robles, CA | 38.5623 | 36.3112
42044 | Santa Ana-Anaheim-Irvine, CA | 38.1247 | 35.9846
42060 | Santa Barbara-Santa Maria-Goleta, CA | 37.7124 | 35.1162
42100 | Santa Cruz-Watsonville, CA | 51.5525 | 48.3881
42140 | Santa Fe, NM | 34.1580 | 33.1619
42220 | Santa Rosa-Petaluma, CA | 49.2189 | 45.6081
42340 | Savannah, GA | 28.8176 | 27.8424
42540 | Scranton-Wilkes-Barre, PA | 26.5201 | 25.6648
42644 | Seattle-Bellevue-Everett, WA | 37.3352 | 35.3387
42680 | Sebastian-Vero Beach, FL | 30.7417 | 30.0442
43100 | Sheboygan, WI | 29.1159 | 28.0863
43300 | Sherman-Denison, TX | 29.9470 | 27.3065
43340 | Shreveport-Bossier City, LA | 27.5578 | 26.7863
43580 | Sioux City, IA-NE-SD | 28.3024 | 27.7781
43620 | Sioux Falls, SD | 30.2235 | 29.2197
43780 | South Bend-Mishawaka, IN-MI | 31.0993 | 30.1358
43900 | Spartanburg, SC | 29.1025 | 28.3525
44060 | Spokane, WA | 33.9523 | 32.3332
44100 | Springfield, IL | 29.4330 | 27.9091
44140 | Springfield, MA | 33.3312 | 31.8950
44180 | Springfield, MO | 27.3178 | 26.6919
44220 | Springfield, OH | 27.8315 | 26.5028
44300 | State College, PA | 28.4188 | 27.0040
44700 | Stockton, CA | 38.6087 | 36.4711
44940 | Sumter, SC | 27.6406 | 26.7218
45060 | Syracuse, NY | 31.7909 | 30.5763
45104 | Tacoma, WA | 35.9647 | 33.8969
45220 | Tallahassee, FL | 29.0061 | 27.8746
45300 | Tampa-St. Petersburg-Clearwater, FL | 28.9032 | 28.1723
45460 | Terre Haute, IN | 29.4437 | 27.6736
45500 | Texarkana, TX-Texarkana, AR | 26.4165 | 24.8363
45780 | Toledo, OH | 29.8934 | 28.9126
45820 | Topeka, KS | 28.5929 | 27.0599
45940 | Trenton-Ewing, NJ | 34.3697 | 33.3207
46060 | Tucson, AZ | 30.4264 | 29.2232
46140 | Tulsa, OK | 27.8831 | 26.3265
46220 | Tuscaloosa, AL | 28.0199 | 26.8295
46340 | Tyler, TX | 28.6912 | 27.8517
46540 | Utica-Rome, NY | 28.1040 | 27.1057
46660 | Valdosta, GA | 26.3052 | 25.6427
46700 | Vallejo-Fairfield, CA | 45.6926 | 44.8127
47020 | Victoria, TX | 25.6787 | 25.2869
47220 | Vineland-Millville-Bridgeton, NJ | 35.2379 | 33.0201
47260 | Virginia Beach-Norfolk-Newport News, VA-NC | 28.5838 | 27.2923
47300 | Visalia-Porterville, CA | 33.2020 | 31.5996
47380 | Waco, TX | 28.0515 | 26.9091
47580 | Warner Robins, GA | 30.5824 | 28.8902
47644 | Warren-Troy-Farmington Hills, MI | 32.1363 | 31.0932
47894 | Washington-Arlington-Alexandria, DC-VA-MD-WV | 34.3840 | 33.3639
47940 | Waterloo-Cedar Falls, IA | 28.0510 | 26.9028
48140 | Wausau, WI | 31.6785 | 30.5738
48260 | Weirton-Steubenville, WV-OH | 25.8721 | 24.7386
48300 | Wenatchee, WA | 30.3614 | 31.9688
48424 | West Palm Beach-Boca Raton-Boynton Beach, FL | 31.1027 | 29.7030
48540 | Wheeling, WV-OH | 22.6472 | 21.8074
48620 | Wichita, KS | 28.9395 | 27.7964
48660 | Wichita Falls, TX | 29.5744 | 26.8201
48700 | Williamsport, PA | 25.8784 | 24.8306
48864 | Wilmington, DE-MD-NJ | 34.0940 | 32.8588
48900 | Wilmington, NC | 29.1370 | 29.0123
49020 | Winchester, VA-WV | 31.4889 | 30.6457
49180 | Winston-Salem, NC | 29.0508 | 28.2246
49340 | Worcester, MA | 35.2688 | 34.2006
49420 | Yakima, WA | 32.0317 | 30.9552
49500 | Yauco, PR | 10.8210 | 10.6067
49620 | York-Hanover, PA | 31.1804 | 29.5691
49660 | Youngstown-Warren-Boardman, OH-PA | 28.8065 | 27.5854
49700 | Yuba City, CA | 34.7445 | 32.8688
49740 | Yuma, AZ | 31.9135 | 30.1305
¹ This area has no average hourly wage because there are no short-term, acute care hospitals in the area.
² This is a new CBSA for FY 2008. To calculate the 3-year average hourly wage for this new area, we included the hospitals' data from their previous geographic location for FY 2006 and FY 2007.

Table 3B.—FY 2009 and 3-Year* Average Hourly Wage for Rural Areas by CBSA
[*Based on the sum of the salaries and hours computed for Federal FYs 2007, 2008, and 2009]
CBSA code | Nonurban area | FY 2009 average hourly wage | 3-Year average hourly wage
01 | Alabama | 24.6411 | 23.6242
02 | Alaska | 38.4008 | 35.4138
03 | Arizona | 28.5407 | 27.4573
04 | Arkansas | 24.6204 | 23.3335
05 | California | 38.6569 | 35.9246
06 | Colorado | 30.0754 | 28.7842
07 | Connecticut | 36.4301 | 35.6330
08 | Delaware | 32.6029 | 30.8226
10 | Florida | 27.8797 | 26.8062
11 | Georgia | 25.2642 | 24.2873
12 | Hawaii | 36.0283 | 33.6508
13 | Idaho | 24.4380 | 24.1641
14 | Illinois | 27.1642 | 25.9705
15 | Indiana | 27.3432 | 26.4475
16 | Iowa | 28.1850 | 26.6791
17 | Kansas | 25.9806 | 24.8089
18 | Kentucky | 25.2536 | 24.2249
19 | Louisiana | 24.7667 | 23.6881
20 | Maine | 27.7429 | 26.2711
21 | Maryland | 28.3407 | 27.4609
22 | Massachusetts |  |
23 | Michigan | 28.5656 | 27.6632
24 | Minnesota | 29.3894 | 28.3126
25 | Mississippi | 24.6569 | 23.9273
26 | Missouri | 26.3804 | 25.2174
27 | Montana | 27.8425 | 26.4700
28 | Nebraska | 28.0119 | 26.9486
29 | Nevada | 31.6580 | 29.6483
30 | New Hampshire | 33.2526 | 32.8237
31 | New Jersey ¹ |  |
32 | New Mexico | 28.5810 | 27.1089
33 | New York | 26.7717 | 25.8110
34 | North Carolina | 27.8184 | 26.7060
35 | North Dakota | 23.7299 | 22.7358
36 | Ohio | 27.6801 | 26.8138
37 | Oklahoma | 25.8341 | 24.3148
38 | Oregon | 33.1220 | 30.9016
39 | Pennsylvania | 26.9119 | 25.8178
40 | Puerto Rico ¹ |  |
41 | Rhode Island ¹ |  |
42 | South Carolina | 27.7889 | 26.8744
43 | South Dakota | 27.1581 | 25.8858
44 | Tennessee | 25.6634 | 24.6486
45 | Texas | 26.2796 | 25.3601
46 | Utah | 27.0526 | 25.6723
47 | Vermont | 32.0308 | 30.2935
49 | Virginia | 25.9700 | 24.9967
50 | Washington | 32.6127 | 31.5030
51 | West Virginia | 24.6596 | 23.6988
52 | Wisconsin | 30.7058 | 29.7224
53 | Wyoming | 29.7219 | 28.3175
¹ All counties within the State or territory are classified as urban.

Table 4A.—Wage Index and Capital Geographic Adjustment Factor (GAF) for Urban Areas by CBSA and by State—FY 2009
[Constituent counties are listed in Table 4E.]
CBSA Code | Urban area | State | Wage index | GAF
10180 | Abilene, TX | TX | 0.8408 | 0.8880
10380 | Aguadilla-Isabela-San Sebastián, PR | PR | 0.3311 | 0.4691
10420 | Akron, OH | OH | 0.8784 | 0.9150
10500 | Albany, GA | GA | 0.8770 | 0.9140
10580 | Albany-Schenectady-Troy, NY | NY | 0.8833 | 0.9185
10740 | Albuquerque, NM | NM | 0.9499 | 0.9654
10780 | Alexandria, LA | LA | 0.8127 | 0.8676
10900 | Allentown-Bethlehem-Easton, PA-NJ | NJ | 1.1221 | 1.0821
10900 | Allentown-Bethlehem-Easton, PA-NJ | PA | 0.9675 | 0.9776
11020 | Altoona, PA | PA | 0.8342 | 0.8833
11100 | Amarillo, TX | TX | 0.8997 | 0.9302
11180 | Ames, IA | IA | 0.9417 | 0.9597
11260 | Anchorage, AK | AK | 1.1884 | 1.1255
11300 | Anderson, IN | IN | 0.8923 | 0.9249
11340 | Anderson, SC | SC | 0.9721 | 0.9808
11460 | Ann Arbor, MI | MI | 1.0444 | 1.0302
11500 | Anniston-Oxford, AL | AL | 0.8007 | 0.8588
11540 | Appleton, WI | WI | 0.9511 | 0.9662
11700 | Asheville, NC | NC | 0.9192 | 0.9439
12020 | Athens-Clarke County, GA | GA | 0.9589 | 0.9717
12060 | Atlanta-Sandy Springs-Marietta, GA | GA | 0.9760 | 0.9835
12100 | Atlantic City-Hammonton, NJ | NJ | 1.1666 | 1.1113
12220 | Auburn-Opelika, AL | AL | 0.7647 | 0.8322
12260 | Augusta-Richmond County, GA-SC | GA | 0.9604 | 0.9727
12260 | Augusta-Richmond County, GA-SC | SC | 0.9589 | 0.9717
12420 | Austin-Round Rock, TX | TX | 0.9521 | 0.9669
12540 | Bakersfield, CA | CA | 1.1822 | 1.1214
12580 | Baltimore-Towson, MD | MD | 0.9981 | 0.9987
12620 | Bangor, ME | ME | 1.0115 | 1.0079
12700 | Barnstable Town, MA | MA | 1.2672 | 1.1761
12940 | Baton Rouge, LA | LA | 0.8142 | 0.8687
12980 | Battle Creek, MI | MI | 1.0039 | 1.0027
13020 | Bay City, MI | MI | 0.9472 | 0.9635
13140 | Beaumont-Port Arthur, TX | TX | 0.8595 | 0.9015
13380 | Bellingham, WA | WA | 1.1395 | 1.0935
13460 | Bend, OR | OR | 1.1043 | 1.0703
13644 | Bethesda-Frederick-Gaithersburg, MD | MD | 1.1018 | 1.0686
13740 | Billings, MT | MT | 0.9045 | 0.9336
13780 | Binghamton, NY | NY | 0.8721 | 0.9105
13820 | Birmingham-Hoover, AL | AL | 0.8786 | 0.9152
13900 | Bismarck, ND | ND | 0.7336 | 0.8088
13980 | Blacksburg-Christiansburg-Radford, VA | VA | 0.8122 | 0.8672
14020 | Bloomington, IN | IN | 0.9419 | 0.9598
14060 | Bloomington-Normal, IL | IL | 0.9520 | 0.9669
14260 | Boise City-Nampa, ID | ID | 0.9290 | 0.9508
14484 | Boston-Quincy, MA | MA | 1.1994 | 1.1326
14500 | Boulder, CO | CO | 0.9994 | 0.9996
14540 | Bowling Green, KY | KY | 0.8344 | 0.8834
14600 | Bradenton-Sarasota-Venice, FL | FL | 0.9757 | 0.9833
14740 | Bremerton-Silverdale, WA | WA | 1.0706 | 1.0478
14860 | Bridgeport-Stamford-Norwalk, CT | CT | 1.2591 | 1.1709
15180 | Brownsville-Harlingen, TX | TX | 0.9226 | 0.9463
15260 | Brunswick, GA | GA | 1.0139 | 1.0095
15380 | Buffalo-Niagara Falls, NY | NY | 0.9593 | 0.9719
15500 | Burlington, NC | NC | 0.8632 | 0.9042
15540 | Burlington-South Burlington, VT | VT | 0.9275 | 0.9498
15764 | Cambridge-Newton-Framingham, MA | MA | 1.1078 | 1.0726
15804 | Camden, NJ | NJ | 1.1221 | 1.0821
15940 | Canton-Massillon, OH | OH | 0.8845 | 0.9194
15980 | Cape Coral-Fort Myers, FL | FL | 0.9502 | 0.9656
16180 | Carson City, NV | NV | 1.0027 | 1.0018
16220 | Casper, WY | WY | 0.9618 | 0.9737
16300 | Cedar Rapids, IA | IA | 0.8746 | 0.9123
16580 | Champaign-Urbana, IL | IL | 0.9353 | 0.9552
16620 | Charleston, WV | WV | 0.8398 | 0.8873
16700 | Charleston-North Charleston-Summerville, SC | SC | 0.9231 | 0.9467
16740 | Charlotte-Gastonia-Concord, NC-SC | NC | 0.9570 | 0.9704
16740 | Charlotte-Gastonia-Concord, NC-SC | SC | 0.9557 | 0.9694
16820 | Charlottesville, VA | VA | 0.9728 | 0.9813
16860 | Chattanooga, TN-GA | GA | 0.8880 | 0.9219
16860 | Chattanooga, TN-GA | TN | 0.8857 | 0.9202
16940 | Cheyenne, WY | WY | 0.9223 | 0.9461
16974 | Chicago-Naperville-Joliet, IL | IL | 1.0334 | 1.0228
17020 | Chico, CA | CA | 1.1822 | 1.1214
17140 | Cincinnati-Middletown, OH-KY-IN | IN | 0.9583 | 0.9713
17140 | Cincinnati-Middletown, OH-KY-IN | KY | 0.9590 | 0.9717
17140 | Cincinnati-Middletown, OH-KY-IN | OH | 0.9581 | 0.9711
17300 | Clarksville, TN-KY | KY | 0.8302 | 0.8804
17300 | Clarksville, TN-KY | TN | 0.8280 | 0.8788
17420 | Cleveland, TN | TN | 0.8137 | 0.8683
17460 | Cleveland-Elyria-Mentor, OH | OH | 0.9266 | 0.9491
17660 | Coeur d'Alene, ID | ID | 0.9185 | 0.9434
17780 | College Station-Bryan, TX | TX | 0.9193 | 0.9440
17820 | Colorado Springs, CO | CO | 0.9738 | 0.9820
17860 | Columbia, MO | MO | 0.8470 | 0.8925
17900 | Columbia, SC | SC | 0.8984 | 0.9293
17980 | Columbus, GA-AL | AL | 0.9061 | 0.9347
17980 | Columbus, GA-AL | GA | 0.9061 | 0.9347
18020 | Columbus, IN | IN | 0.9852 | 0.9898
18140 | Columbus, OH | OH | 0.9869 | 0.9910
18580 | Corpus Christi, TX | TX | 0.8494 | 0.8942
18700 | Corvallis, OR | OR | 1.1076 | 1.0725
19060 | Cumberland, MD-WV | MD | 0.8795 | 0.9158
19060 | Cumberland, MD-WV | WV | 0.7635 | 0.8313
19124 | Dallas-Plano-Irving, TX | TX | 0.9852 | 0.9898
19140 | Dalton, GA | GA | 0.8499 | 0.8946
19180 | Danville, IL | IL | 0.9711 | 0.9801
19260 | Danville, VA | VA | 0.8483 | 0.8935
19340 | Davenport-Moline-Rock Island, IA-IL | IL | 0.8606 | 0.9023
19340 | Davenport-Moline-Rock Island, IA-IL | IA | 0.8709 | 0.9097
19380 | Dayton, OH | OH | 0.9321 | 0.9530
19460 | Decatur, AL | AL | 0.7714 | 0.8372
19500 | Decatur, IL | IL | 0.8428 | 0.8895
19660 | Deltona-Daytona Beach-Ormond Beach, FL | FL | 0.8814 | 0.9172
19740 | Denver-Aurora, CO | CO | 1.0561 | 1.0381
19780 | Des Moines-West Des Moines, IA | IA | 0.9460 | 0.9627
19804 | Detroit-Livonia-Dearborn, MI | MI | 1.0052 | 1.0036
20020 | Dothan, AL | AL | 0.7718 | 0.8375
20100 | Dover, DE | DE | 1.0669 | 1.0453
20220 | Dubuque, IA | IA | 0.8709 | 0.9097
20260 | Duluth, MN-WI | MN | 1.0519 | 1.0353
20260 | Duluth, MN-WI | WI | 1.0499 | 1.0339
20500 | Durham, NC | NC | 0.9693 | 0.9789
20740 | Eau Claire, WI | WI | 0.9599 | 0.9724
20764 | Edison-New Brunswick, NJ | NJ | 1.1221 | 1.0821
20940 | El Centro, CA | CA | 1.1822 | 1.1214
21060 | Elizabethtown, KY | KY | 0.8466 | 0.8922
21140 | Elkhart-Goshen, IN | IN | 0.9547 | 0.9688
21300 | Elmira, NY | NY | 0.8347 | 0.8836
21340 | El Paso, TX | TX | 0.8867 | 0.9210
21500 | Erie, PA | PA | 0.8708 | 0.9096
21660 | Eugene-Springfield, OR | OR | 1.1157 | 1.0779
21780 | Evansville, IN-KY | IN | 0.8525 | 0.8965
21780 | Evansville, IN-KY | KY | 0.8531 | 0.8969
21820 | Fairbanks, AK | AK | 1.1884 | 1.1255
21940 | Fajardo, PR | PR | 0.4067 | 0.5400
22020 | Fargo, ND-MN | MN | 0.9120 | 0.9389
22020 | Fargo, ND-MN | ND | 0.8212 | 0.8738
22140 | Farmington, NM | NM | 0.8858 | 0.9203
22180 | Fayetteville, NC | NC | 0.9923 | 0.9947
22220 | Fayetteville-Springdale-Rogers, AR-MO | AR | 0.9131 | 0.9396
22220 | Fayetteville-Springdale-Rogers, AR-MO | MO | 0.9123 | 0.9391
22380 | Flagstaff, AZ | AZ | 1.1652 | 1.1104
22420 | Flint, MI | MI | 1.1258 | 1.0845
22500 | Florence, SC | SC | 0.8609 | 0.9025
22520 | Florence-Muscle Shoals, AL | AL | 0.7883 | 0.8497
22540 | Fond du Lac, WI | WI | 0.9523 | 0.9671
22660 | Fort Collins-Loveland, CO | CO | 0.9581 | 0.9711
22744 | Fort Lauderdale-Pompano Beach-Deerfield Beach, FL | FL | 1.0025 | 1.0017
22900 | Fort Smith, AR-OK | AR | 0.7843 | 0.8467
22900 | Fort Smith, AR-OK | OK | 0.8016 | 0.8595
23020 | Fort Walton Beach-Crestview-Destin, FL | FL | 0.8703 | 0.9093
23060 | Fort Wayne, IN | IN | 0.9004 | 0.9307
23104 | Fort Worth-Arlington, TX | TX | 0.9684 | 0.9783
23420 | Fresno, CA | CA | 1.1822 | 1.1214
23460 | Gadsden, AL | AL | 0.7991 | 0.8576
23540 | Gainesville, FL | FL | 0.9427 | 0.9604
23580 | Gainesville, GA | GA | 0.9321 | 0.9530
23844 | Gary, IN | IN | 0.9320 | 0.9529
24020 | Glens Falls, NY | NY | 0.8780 | 0.9148
24140 | Goldsboro, NC | NC | 0.9159 | 0.9416
24220 | Grand Forks, ND-MN | MN | 0.9120 | 0.9389
24220 | Grand Forks, ND-MN | ND | 0.7709 | 0.8368
24300 | Grand Junction, CO | CO | 0.9925 | 0.9949
24340 | Grand Rapids-Wyoming, MI | MI | 0.9305 | 0.9519
24500 | Great Falls, MT | MT | 0.8679 | 0.9075
24540 | Greeley, CO | CO | 1.0028 | 1.0019
24580 | Green Bay, WI | WI | 0.9511 | 0.9662
24660 | Greensboro-High Point, NC | NC | 0.9141 | 0.9403
24780 | Greenville, NC | NC | 0.9346 | 0.9547
24860 | Greenville-Mauldin-Easley, SC | SC | 0.9605 | 0.9728
25020 | Guayama, PR | PR | 0.3137 | 0.4521
25060 | Gulfport-Biloxi, MS | MS | 0.8898 | 0.9232
25180 | Hagerstown-Martinsburg, MD-WV | MD | 0.9273 | 0.9496
25180 | Hagerstown-Martinsburg, MD-WV | WV | 0.9253 | 0.9482
25260 | Hanford-Corcoran, CA | CA | 1.1822 | 1.1214
25420 | Harrisburg-Carlisle, PA | PA | 0.9185 | 0.9434
25500 | Harrisonburg, VA | VA | 0.8956 | 0.9273
25540 | Hartford-West Hartford-East Hartford, CT | CT | 1.1897 | 1.1263
25620 | Hattiesburg, MS | MS | 0.7653 | 0.8326
25860 | Hickory-Lenoir-Morganton, NC | NC | 0.8946 | 0.9266
26100 | Holland-Grand Haven, MI | MI | 0.9101 | 0.9375
26180 | Honolulu, HI | HI | 1.1608 | 1.1075
26300 | Hot Springs, AR | AR | 0.9146 | 0.9407
26380 | Houma-Bayou Cane-Thibodaux, LA | LA | 0.7870 | 0.8487
26420 | Houston-Sugar Land-Baytown, TX | TX | 0.9925 | 0.9949
26580 | Huntington-Ashland, WV-KY-OH | KY | 0.9127 | 0.9394
26580 | Huntington-Ashland, WV-KY-OH | OH | 0.9118 | 0.9387
26580 | Huntington-Ashland, WV-KY-OH | WV | 0.9107 | 0.9380
26620 | Huntsville, AL | AL | 0.8987 | 0.9295
26820 | Idaho Falls, ID | ID | 0.9327 | 0.9534
26900 | Indianapolis-Carmel, IN | IN | 0.9827 | 0.9881
26980 | Iowa City, IA | IA | 0.9337 | 0.9541
27060 | Ithaca, NY | NY | 0.9561 | 0.9697
27100 | Jackson, MI | MI | 0.9477 | 0.9639
27140 | Jackson, MS | MS | 0.8095 | 0.8653
27180 | Jackson, TN | TN | 0.8452 | 0.8912
27260 | Jacksonville, FL | FL | 0.9092 | 0.9369
27340 | Jacksonville, NC | NC | 0.8632 | 0.9042
27500 | Janesville, WI | WI | 0.9824 | 0.9879
27620 | Jefferson City, MO | MO | 0.9038 | 0.9331
27740 | Johnson City, TN | TN | 0.7999 | 0.8582
27780 | Johnstown, PA | PA | 0.8342 | 0.8833
27860 | Jonesboro, AR | AR | 0.8291 | 0.8796
27900 | Joplin, MO | MO | 0.9704 | 0.9796
28020 | Kalamazoo-Portage, MI | MI | 1.0910 | 1.0615
28100 | Kankakee-Bradley, IL | IL | 1.2018 | 1.1341
28140 | Kansas City, MO-KS | KS | 0.9453 | 0.9622
28140 | Kansas City, MO-KS | MO | 0.9444 | 0.9616
28420 | Kennewick-Pasco-Richland, WA | WA | 1.0164 | 1.0112
28660 | Killeen-Temple-Fort Hood, TX | TX | 0.8855 | 0.9201
28700 | Kingsport-Bristol-Bristol, TN-VA | TN | 0.7957 | 0.8551
28700 | Kingsport-Bristol-Bristol, TN-VA | VA | 0.8061 | 0.8628
28740 | Kingston, NY | NY | 0.9433 | 0.9608
28940 | Knoxville, TN | TN | 0.7957 | 0.8551
29020 | Kokomo, IN | IN | 0.9254 | 0.9483
29100 | La Crosse, WI-MN | MN | 0.9815 | 0.9873
29100 | La Crosse, WI-MN | WI | 0.9796 | 0.9860
29140 | Lafayette, IN | IN | 0.8960 | 0.9276
29180 | Lafayette, LA | LA | 0.8438 | 0.8902
29340 | Lake Charles, LA | LA | 0.7682 | 0.8348
29404 | Lake County-Kenosha County, IL-WI | IL | 1.0376 | 1.0256
29404 | Lake County-Kenosha County, IL-WI | WI | 1.0357 | 1.0243
29420 | Lake Havasu City-Kingman, AZ | AZ | 0.9817 | 0.9874
29460 | Lakeland-Winter Haven, FL | FL | 0.8715 | 0.9101
29540 | Lancaster, PA | PA | 0.9799 | 0.9862
29620 | Lansing-East Lansing, MI | MI | 0.9899 | 0.9931
29700 | Laredo, TX | TX | 0.8816 | 0.9173
29740 | Las Cruces, NM | NM | 0.8858 | 0.9203
29820 | Las Vegas-Paradise, NV | NV | 1.1666 | 1.1113
29940 | Lawrence, KS | KS | 0.8317 | 0.8814
30020 | Lawton, OK | OK | 0.8630 | 0.9040
30140 | Lebanon, PA | PA | 0.8991 | 0.9298
30300 | Lewiston, ID-WA | ID | 0.9271 | 0.9495
30300 | Lewiston, ID-WA | WA | 1.0164 | 1.0112
30340 | Lewiston-Auburn, ME | ME | 0.9326 | 0.9533
30460 | Lexington-Fayette, KY | KY | 0.8950 | 0.9268
30620 | Lima, OH | OH | 0.9299 | 0.9514
30700 | Lincoln, NE | NE | 0.9620 | 0.9738
30780 | Little Rock-North Little Rock-Conway, AR | AR | 0.8754 | 0.9129
30860 | Logan, UT-ID | ID | 0.8827 | 0.9181
30860 | Logan, UT-ID | UT | 0.8827 | 0.9181
30980 | Longview, TX | TX | 0.8666 | 0.9066
31020 | Longview, WA | WA | 1.1434 | 1.0961
31084 | Los Angeles-Long Beach-Glendale, CA | CA | 1.1916 | 1.1275
31140 | Louisville-Jefferson County, KY-IN | IN | 0.9238 | 0.9472
31140 | Louisville-Jefferson County, KY-IN | KY | 0.9245 | 0.9477
31180 | Lubbock, TX | TX | 0.8712 | 0.9099
31340 | Lynchburg, VA | VA | 0.8646 | 0.9052
31420 | Macon, GA | GA | 0.9815 | 0.9873
31460 | Madera, CA | CA | 1.1822 | 1.1214
31540 | Madison, WI | WI | 1.1232 | 1.0828
31700 | Manchester-Nashua, NH | NH | 1.0807 | 1.0546
31900 | Mansfield, OH | OH | 0.9295 | 0.9512
32420 | Mayagüez, PR | PR | 0.3896 | 0.5244
32580 | McAllen-Edinburg-Mission, TX | TX | 0.9118 | 0.9387
32780 | Medford, OR | OR | 1.0298 | 1.0203
32820 | Memphis, TN-MS-AR | AR | 0.9329 | 0.9535
32820 | Memphis, TN-MS-AR | MS | 0.9329 | 0.9535
32820 | Memphis, TN-MS-AR | TN | 0.9305 | 0.9519
32900 | Merced, CA | CA | 1.1969 | 1.1310
33124 | Miami-Miami Beach-Kendall, FL | FL | 0.9865 | 0.9907
33140 | Michigan City-La Porte, IN | IN | 0.9041 | 0.9333
33260 | Midland, TX | TX | 0.9562 | 0.9698
33340 | Milwaukee-Waukesha-West Allis, WI | WI | 1.0182 | 1.0124
33460 | Minneapolis-St. Paul-Bloomington, MN-WI | MN | 1.0997 | 1.0672
33460 | Minneapolis-St. Paul-Bloomington, MN-WI | WI | 1.0976 | 1.0659
33540 | Missoula, MT | MT | 0.8909 | 0.9239
33660 | Mobile, AL | AL | 0.7809 | 0.8442
33700 | Modesto, CA | CA | 1.1963 | 1.1306
33740 | Monroe, LA | LA | 0.7961 | 0.8554
33780 | Monroe, MI | MI | 0.8918 | 0.9246
33860 | Montgomery, AL | AL | 0.8192 | 0.8723
34060 | Morgantown, WV | WV | 0.8631 | 0.9041
34100 | Morristown, TN | TN | 0.7957 | 0.8551
34580 | Mount Vernon-Anacortes, WA | WA | 1.0164 | 1.0112
34620 | Muncie, IN | IN | 0.8479 | 0.8932
34740 | Muskegon-Norton Shores, MI | MI | 1.0227 | 1.0155
34820 | Myrtle Beach-North Myrtle Beach-Conway, SC | SC | 0.8683 | 0.9078
34900 | Napa, CA | CA | 1.3847 | 1.2497
34940 | Naples-Marco Island, FL | FL | 0.9820 | 0.9876
34980 | Nashville-Davidson-Murfreesboro-Franklin, TN | TN | 0.9445 | 0.9617
35004 | Nassau-Suffolk, NY | NY | 1.2729 | 1.1797
35084 | Newark-Union, NJ-PA | NJ | 1.1440 | 1.0965
35084 | Newark-Union, NJ-PA | PA | 1.1574 | 1.1053
35300 | New Haven-Milford, CT | CT | 1.1897 | 1.1263
35380 | New Orleans-Metairie-Kenner, LA | LA | 0.9140 | 0.9403
35644 | New York-White Plains-Wayne, NY-NJ | NJ | 1.2878 | 1.1891
35644 | New York-White Plains-Wayne, NY-NJ | NY | 1.3043 | 1.1995
35660 | Niles-Benton Harbor, MI | MI | 0.9095 | 0.9371
35980 | Norwich-New London, CT | CT | 1.1897 | 1.1263
36084 | Oakland-Fremont-Hayward, CA | CA | 1.5278 | 1.3367
36100 | Ocala, FL | FL | 0.8633 | 0.9042
36140 | Ocean City, NJ | NJ | 1.1484 | 1.0994
36220 | Odessa, TX | TX | 0.9425 | 0.9603
36260 | Ogden-Clearfield, UT | UT | 0.9243 | 0.9475
36420 | Oklahoma City, OK | OK | 0.8686 | 0.9080
36500 | Olympia, WA | WA | 1.1462 | 1.0979
36540 | Omaha-Council Bluffs, NE-IA | IA | 0.9360 | 0.9557
36540 | Omaha-Council Bluffs, NE-IA | NE | 0.9400 | 0.9585
36740 | Orlando-Kissimmee, FL | FL | 0.9189 | 0.9437
36780 | Oshkosh-Neenah, WI | WI | 0.9511 | 0.9662
36980 | Owensboro, KY | KY | 0.8764 | 0.9136
37100 | Oxnard-Thousand Oaks-Ventura, CA | CA | 1.1822 | 1.1214
37340 | Palm Bay-Melbourne-Titusville, FL | FL | 0.9401 | 0.9586
37380 | Palm Coast, FL | FL | 0.8769 | 0.9140
37460 | Panama City-Lynn Haven, FL | FL | 0.8633 | 0.9042
37620 | Parkersburg-Marietta-Vienna, WV-OH | OH | 0.8582 | 0.9006
37620 | Parkersburg-Marietta-Vienna, WV-OH | WV | 0.8028 | 0.8603
37700 | Pascagoula, MS | MS | 0.8030 | 0.8605
37764 | Peabody, MA | MA | 1.0744 | 1.0504
37860 | Pensacola-Ferry Pass-Brent, FL | FL | 0.8633 | 0.9042
37900 | Peoria, IL | IL | 0.9043 | 0.9334
37964 | Philadelphia, PA | PA | 1.0992 | 1.0669
38060 | Phoenix-Mesa-Scottsdale, AZ | AZ | 1.0271 | 1.0185
38220 | Pine Bluff, AR | AR | 0.8274 | 0.8783
38300 | Pittsburgh, PA | PA | 0.8579 | 0.9004
38340 | Pittsfield, MA | MA | 1.0445 | 1.0303
38540 | Pocatello, ID | ID | 0.9103 | 0.9377
38660 | Ponce, PR | PR | 0.4122 | 0.5450
38860 | Portland-South Portland-Biddeford, ME | ME | 0.9927 | 0.9950
38900 | Portland-Vancouver-Beaverton, OR-WA | OR | 1.1204 | 1.0810
38900 | Portland-Vancouver-Beaverton, OR-WA | WA | 1.1186 | 1.0798
38940 | Port St. Lucie, FL | FL | 0.9905 | 0.9935
39100 | Poughkeepsie-Newburgh-Middletown, NY | NY | 1.0944 | 1.0637
39140 | Prescott, AZ | AZ | 1.0198 | 1.0135
39300 | Providence-New Bedford-Fall River, RI-MA | MA | 1.0669 | 1.0453
39300 | Providence-New Bedford-Fall River, RI-MA | RI | 1.0669 | 1.0453
39340 | Provo-Orem, UT | UT | 0.9052 | 0.9341
39380 | Pueblo, CO | CO | 0.9303 | 0.9517
39460 | Punta Gorda, FL | FL | 0.9286 | 0.9505
39540 | Racine, WI | WI | 0.9511 | 0.9662
39580 | Raleigh-Cary, NC | NC | 0.9685 | 0.9783
39660 | Rapid City, SD | SD | 0.9502 | 0.9656
39740 | Reading, PA | PA | 0.9327 | 0.9534
39820 | Redding, CA | CA | 1.2730 | 1.1797
39900 | Reno-Sparks, NV | NV | 1.0476 | 1.0324
40060 | Richmond, VA | VA | 0.9203 | 0.9447
40140 | Riverside-San Bernardino-Ontario, CA | CA | 1.1822 | 1.1214
40220 | Roanoke, VA | VA | 0.8889 | 0.9225
40340 | Rochester, MN | MN | 1.0982 | 1.0662
40380 | Rochester, NY | NY | 0.8911 | 0.9241
40420 | Rockford, IL | IL | 0.9862 | 0.9905
40484 | Rockingham County-Strafford County, NH | NH | 1.0807 | 1.0546
40580 | Rocky Mount, NC | NC | 0.9068 | 0.9352
40660 | Rome, GA | GA | 0.9699 | 0.9793
40900 | Sacramento—Arden-Arcade—Roseville, CA | CA | 1.2827 | 1.1859
40980 | Saginaw-Saginaw Township North, MI | MI | 0.9034 | 0.9328
41060 | St. Cloud, MN | MN | 1.1549 | 1.1036
41100 | St. George, UT | UT | 0.9228 | 0.9465
41140 | St. Joseph, MO-KS | KS | 1.0481 | 1.0327
41140 | St. Joseph, MO-KS | MO | 1.0472 | 1.0321
41180 | St. Louis, MO-IL | IL | 0.8993 | 0.9299
41180 | St. Louis, MO-IL | MO | 0.8986 | 0.9294
41420 | Salem, OR | OR | 1.0650 | 1.0441
41500 | Salinas, CA | CA | 1.4671 | 1.3001
41540 | Salisbury, MD | MD | 0.9194 | 0.9441
41620 | Salt Lake City, UT | UT | 0.9271 | 0.9495
41660 | San Angelo, TX | TX | 0.8600 | 0.9019
41700 | San Antonio, TX | TX | 0.8949 | 0.9268
41740 | San Diego-Carlsbad-San Marcos, CA | CA | 1.1822 | 1.1214
41780 | Sandusky, OH | OH | 0.8828 | 0.9182
41884 | San Francisco-San Mateo-Redwood City, CA | CA | 1.4879 | 1.3127
41900 | San Germán-Cabo Rojo, PR | PR | 0.4648 | 0.5918
41940 | San Jose-Sunnyvale-Santa Clara, CA | CA | 1.5758 | 1.3654
41980 | San Juan-Caguas-Guaynabo, PR | PR | 0.4404 | 0.5703
42020 | San Luis Obispo-Paso Robles, CA | CA | 1.1822 | 1.1214
42044 | Santa Ana-Anaheim-Irvine, CA | CA | 1.1822 | 1.1214
42060 | Santa Barbara-Santa Maria-Goleta, CA | CA | 1.1822 | 1.1214
42100 | Santa Cruz-Watsonville, CA | CA | 1.5766 | 1.3658
42140 | Santa Fe, NM | NM | 1.0587 | 1.0398
42220 | Santa Rosa-Petaluma, CA | CA | 1.5052 | 1.3232
42340 | Savannah, GA | GA | 0.8943 | 0.9264
42540 | Scranton—Wilkes-Barre, PA | PA | 0.8342 | 0.8833
42644 | Seattle-Bellevue-Everett, WA | WA | 1.1562 | 1.1045
42680 | Sebastian-Vero Beach, FL | FL | 0.9519 | 0.9668
43100 | Sheboygan, WI | WI | 0.9511 | 0.9662
43300 | Sherman-Denison, TX | TX | 0.9291 | 0.9509
43340 | Shreveport-Bossier City, LA | LA | 0.8547 | 0.8981
43580 | Sioux City, IA-NE-SD | IA | 0.8745 | 0.9123
43580 | Sioux City, IA-NE-SD | NE | 0.8783 | 0.9150
43580 | Sioux City, IA-NE-SD | SD | 0.8783 | 0.9150
43620 | Sioux Falls, SD | SD | 0.9379 | 0.9570
43780 | South Bend-Mishawaka, IN-MI | IN | 0.9644 | 0.9755
43780 | South Bend-Mishawaka, IN-MI | MI | 0.9651 | 0.9760
43900 | Spartanburg, SC | SC | 0.9017 | 0.9316
44060 | Spokane, WA | WA | 1.0514 | 1.0349
44100 | Springfield, IL | IL | 0.9133 | 0.9398
44140 | Springfield, MA | MA | 1.0343 | 1.0234
44180 | Springfield, MO | MO | 0.8470 | 0.8925
44220 | Springfield, OH | OH | 0.8629 | 0.9040
44300 | State College, PA | PA | 0.8810 | 0.9169
44700 | Stockton, CA | CA | 1.1822 | 1.1214
44940 | Sumter, SC | SC | 0.8609 | 0.9025
45060 | Syracuse, NY | NY | 0.9865 | 0.9907
45104 | Tacoma, WA | WA | 1.1137 | 1.0765
45220 | Tallahassee, FL | FL | 0.8981 | 0.9290
45300 | Tampa-St. Petersburg-Clearwater, FL | FL | 0.8993 | 0.9299
45460 | Terre Haute, IN | IN | 0.9130 | 0.9396
45500 | Texarkana, TX-Texarkana, AR | AR | 0.8197 | 0.8727
45500 | Texarkana, TX-Texarkana, AR | TX | 0.8195 | 0.8726
45780 | Toledo, OH | OH | 0.9267 | 0.9492
45820 | Topeka, KS | KS | 0.8873 | 0.9214
45940 | Trenton-Ewing, NJ | NJ | 1.1221 | 1.0821
46060 | Tucson, AZ | AZ | 0.9442 | 0.9614
46140 | Tulsa, OK | OK | 0.8652 | 0.9056
46220 | Tuscaloosa, AL | AL | 0.8695 | 0.9087
46340 | Tyler, TX | TX | 0.8901 | 0.9234
46540 | Utica-Rome, NY | NY | 0.8721 | 0.9105
46660 | Valdosta, GA | GA | 0.8163 | 0.8702
46700 | Vallejo-Fairfield, CA | CA | 1.3974 | 1.2575
47020 | Victoria, TX | TX | 0.8153 | 0.8695
47220 | Vineland-Millville-Bridgeton, NJ | NJ | 1.1221 | 1.0821
47260 | Virginia Beach-Norfolk-Newport News, VA | NC | 0.8868 | 0.9210
47260 | Virginia Beach-Norfolk-Newport News, VA | VA | 0.8869 | 0.9211
47300 | Visalia-Porterville, CA | CA | 1.1822 | 1.1214
47380 | Waco, TX | TX | 0.8703 | 0.9093
47580 | Warner Robins, GA | GA | 0.9490 | 0.9648
47644 | Warren-Troy-Farmington-Hills, MI | MI | 0.9972 | 0.9981
47894 | Washington-Arlington-Alexandria, DC-VA-MD-WV | DC | 1.0670 | 1.0454
47894 | Washington-Arlington-Alexandria DC-VA-MD-WV | MD | 1.0670 | 1.0454
47894 | Washington-Arlington-Alexandria DC-VA-MD-WV | VA | 1.0669 | 1.0453
47894 | Washington-Arlington-Alexandria DC-VA-MD-WV | WV | 1.0647 | 1.0439
47940 | Waterloo-Cedar Falls, IA | IA | 0.9248 | 0.9479
48140 | Wausau, WI | WI | 0.9823 | 0.9878
48260 | Weirton-Steubenville, WV-OH | OH | 0.8582 | 0.9006
48260 | Weirton-Steubenville, WV-OH | WV | 0.8011 | 0.8591
48300 | Wenatchee, WA | WA | 1.0164 | 1.0112
48424 | West Palm Beach-Boca Raton-Boynton Beach, FL | FL | 0.9631 | 0.9746
48540 | Wheeling, WV-OH | OH | 0.8582 | 0.9006
48540 | Wheeling, WV-OH | WV | 0.7635 | 0.8313
48620 | Wichita, KS | KS | 0.8980 | 0.9290
48660 | Wichita Falls, TX | TX | 0.9175 | 0.9427
48700 | Williamsport, PA | PA | 0.8342 | 0.8833
48864 | Wilmington, DE-MD-NJ | DE | 1.0645 | 1.0437
48864 | Wilmington, DE-MD-NJ | MD | 1.0645 | 1.0437
48864 | Wilmington, DE-MD-NJ | NJ | 1.1221 | 1.0821
48900 | Wilmington, NC | NC | 0.9087 | 0.9365
49020 | Winchester, VA-WV | VA | 0.9771 | 0.9843
49020 | Winchester, VA-WV | WV | 0.9751 | 0.9829
49180 | Winston-Salem, NC | NC | 0.9096 | 0.9372
49340 | Worcester, MA | MA | 1.0945 | 1.0638
49420 | Yakima, WA | WA | 1.0164 | 1.0112
49500 | Yauco, PR | PR | 0.3358 | 0.4737
49620 | York-Hanover, PA | PA | 0.9666 | 0.9770
49660 | Youngstown-Warren-Boardman, OH-PA | OH | 0.8931 | 0.9255
49660 | Youngstown-Warren-Boardman, OH-PA | PA | 0.8930 | 0.9254
49700 | Yuba City, CA | CA | 1.1822 | 1.1214
49740 | Yuma, AZ | AZ | 0.9903 | 0.9933

Table 4B.—Wage Index and Capital Geographic Adjustment Factor (GAF) for Rural Areas by CBSA and by State—FY 2009
CBSA code | Rural area | State | Wage index | GAF
01 | Alabama | AL | 0.7647 | 0.8322
02 | Alaska | AK | 1.1884 | 1.1255
03 | Arizona | AZ | 0.8857 | 0.9202
04 | Arkansas | AR | 0.7641 | 0.8317
05 | California | CA | 1.1822 | 1.1214
06 | Colorado | CO | 0.9303 | 0.9517
07 | Connecticut | CT | 1.1897 | 1.1263
08 | Delaware | DE | 1.0252 | 1.0172
10 | Florida | FL | 0.8633 | 0.9042
11 | Georgia | GA | 0.7840 | 0.8465
12 | Hawaii | HI | 1.1219 | 1.0820
13 | Idaho | ID | 0.7597 | 0.8284
14 | Illinois | IL | 0.8428 | 0.8895
15 | Indiana | IN | 0.8479 | 0.8932
16 | Iowa | IA | 0.8709 | 0.9097
17 | Kansas | KS | 0.8086 | 0.8646
18 | Kentucky | KY | 0.7837 | 0.8463
19 | Louisiana | LA | 0.7682 | 0.8348
20 | Maine | ME | 0.8609 | 0.9025
21 | Maryland | MD | 0.8795 | 0.9158
22 | Massachusetts | MA | 1.0199 | 1.0136
23 | Michigan | MI | 0.8864 | 0.9207
24 | Minnesota | MN | 0.9120 | 0.9389
25 | Mississippi | MS | 0.7653 | 0.8326
26 | Missouri | MO | 0.8470 | 0.8925
27 | Montana | MT | 0.8640 | 0.9047
28 | Nebraska | NE | 0.8761 | 0.9134
29 | Nevada | NV | 0.9824 | 0.9879
30 | New Hampshire | NH | 1.0807 | 1.0546
31 | New Jersey ¹ | NJ | 1.1221 | 1.0821
32 | New Mexico | NM | 0.8858 | 0.9203
33 | New York | NY | 0.8308 | 0.8808
34 | North Carolina | NC | 0.8632 | 0.9042
35 | North Dakota | ND | 0.7336 | 0.8088
36 | Ohio | OH | 0.8582 | 0.9006
37 | Oklahoma | OK | 0.8016 | 0.8595
38 | Oregon | OR | 1.0298 | 1.0203
39 | Pennsylvania | PA | 0.8342 | 0.8833
40 | Puerto Rico ¹ | PR |  |
41 | Rhode Island ¹ | RI |  |
42 | South Carolina | SC | 0.8609 | 0.9025
43 | South Dakota | SD | 0.8428 | 0.8895
44 | Tennessee | TN | 0.7957 | 0.8551
45 | Texas | TX | 0.8153 | 0.8695
46 | Utah | UT | 0.8395 | 0.8871
47 | Vermont | VT | 0.9275 | 0.9498
49 | Virginia | VA | 0.8061 | 0.8628
50 | Washington | WA | 1.0164 | 1.0112
51 | West Virginia | WV | 0.7635 | 0.8313
52 | Wisconsin | WI | 0.9511 | 0.9662
53 | Wyoming | WY | 0.9223 | 0.9461
¹ All counties in the State or Territory are classified as urban. The New Jersey floor is imputed as specified in § 412.64(h)(4) and discussed in the FY 2005 IPPS final rule (69 FR 49109) and in section III.B.2 of the preamble of this proposed rule.

Table 4C.—Wage Index and Capital Geographic Adjustment Factor (GAF) for Hospitals That Are Reclassified by CBSA and by State—FY 2009
CBSA code | Area | State | Wage index | GAF
10420 | Akron, OH | OH | 0.8784 | 0.9150
10500 | Albany, GA | AL | 0.8397 | 0.8872
10500 | Albany, GA | GA | 0.8397 | 0.8872
10580 | Albany-Schenectady-Troy, NY | NY | 0.8833 | 0.9185
10740 | Albuquerque, NM | NM | 0.9295 | 0.9512
10780 | Alexandria, LA | LA | 0.8127 | 0.8676
10900 | Allentown-Bethlehem-Easton, PA-NJ | PA | 0.9675 | 0.9776
11100 | Amarillo, TX | KS | 0.8885 | 0.9222
11100 | Amarillo, TX | TX | 0.8883 | 0.9221
11180 | Ames, IA | IA | 0.8881 | 0.9219
11260 | Anchorage, AK | AK | 1.1884 | 1.1255
11460 | Ann Arbor, MI | MI | 1.0113 | 1.0077
12060 | Atlanta-Sandy Springs-Marietta, GA | AL | 0.9760 | 0.9835
12060 | Atlanta-Sandy Springs-Marietta, GA | GA | 0.9760 | 0.9835
12420 | Austin-Round Rock, TX | TX | 0.9521 | 0.9669
12620 | Bangor, ME | ME | 1.0115 | 1.0079
12940 | Baton Rouge, LA | MS | 0.8146 | 0.8690
13020 | Bay City, MI | MI | 0.9472 | 0.9635
13644 | Bethesda-Frederick-Gaithersburg, MD | DC | 1.1018 | 1.0686
13644 | Bethesda-Frederick-Gaithersburg, MD | PA | 1.1006 | 1.0678
13644 | Bethesda-Frederick-Gaithersburg, MD | VA | 1.1017 | 1.0686
13780 | Binghamton, NY | PA | 0.8560 | 0.8990
13820 | Birmingham-Hoover, AL | AL | 0.8786 | 0.9152
13900 | Bismarck, ND | ND | 0.7336 | 0.8088
13980 | Blacksburg-Christiansburg-Radford, VA | WV | 0.7795 | 0.8432
14020 | Bloomington, IN | IN | 0.8791 | 0.9155
14260 | Boise City-Nampa, ID | ID | 0.9100 | 0.9375
14260 | Boise City-Nampa, ID | NV | 0.9824 | 0.9879
14484 | Boston-Quincy, MA | MA | 1.1338 | 1.0898
14484 | Boston-Quincy, MA | RI | 1.1338 | 1.0898
14600 | Bradenton-Sarasota-Venice, FL | FL | 0.9648 | 0.9758
14740 | Bremerton-Silverdale, WA | WA | 1.0576 | 1.0391
14860 | Bridgeport-Stamford-Norwalk, CT | NY | 1.2694 | 1.1775
15380 | Buffalo-Niagara Falls, NY | NY | 0.9593 | 0.9719
15540 | Burlington-South Burlington, VT | NY | 0.9216 | 0.9456
15764 | Cambridge-Newton-Framingham, MA | NH | 1.0807 | 1.0546
16180 | Carson City, NV | NV | 0.9837 | 0.9888
16220 | Casper, WY | SD | 0.9618 | 0.9737
16580 | Champaign-Urbana, IL | IL | 0.8840 | 0.9190
16620 | Charleston, WV | WV | 0.8398 | 0.8873
16700 | Charleston-North Charleston-Summerville, SC | SC | 0.9231 | 0.9467
16740 | Charlotte-Gastonia-Concord, NC-SC | NC | 0.9570 | 0.9704
16740 | Charlotte-Gastonia-Concord, NC-SC | SC | 0.9557 | 0.9694
16820 | Charlottesville, VA | VA | 0.9449 | 0.9619
16860 | Chattanooga, TN-GA | AL | 0.8740 | 0.9119
16860 | Chattanooga, TN-GA | GA | 0.8740 | 0.9119
16860 | Chattanooga, TN-GA | TN | 0.8717 | 0.9103
16974 | Chicago-Naperville-Joliet, IL | IL | 1.0334 | 1.0228
16974 | Chicago-Naperville-Joliet, IL | IN | 1.0328 | 1.0223
16974 | Chicago-Naperville-Joliet, IL | WI | 1.0315 | 1.0215
17140 | Cincinnati-Middletown, OH-KY-IN | IN | 0.9583 | 0.9713
17140 | Cincinnati-Middletown, OH-KY-IN | OH | 0.9581 | 0.9711
17300 | Clarksville, TN-KY | KY | 0.8302 | 0.8804
17460 | Cleveland-Elyria-Mentor, OH | OH | 0.9266 | 0.9491
17660 | Coeur d'Alene, ID | MT | 0.8992 | 0.9298
17820 | Colorado Springs, CO | CO | 0.9738 | 0.9820
17860 | Columbia, MO | MO | 0.8470 | 0.8925
17900 | Columbia, SC | SC | 0.8984 | 0.9293
17980 | Columbus, GA-AL | AL | 0.8495 | 0.8943
17980 | Columbus, GA-AL | GA | 0.8495 | 0.8943
18140 | Columbus, OH | OH | 0.9657 | 0.9764
18700 | Corvallis, OR | OR | 1.0572 | 1.0388
19124 | Dallas-Plano-Irving, TX | TX | 0.9852 | 0.9898
19340 | Davenport-Moline-Rock Island, IA-IL | IL | 0.8606 | 0.9023
19340 | Davenport-Moline-Rock Island, IA-IL | IA | 0.8709 | 0.9097
19380 | Dayton, OH | OH | 0.9321 | 0.9530
19740 | Denver-Aurora, CO | CO | 1.0409 | 1.0278
19804 | Detroit-Livonia-Dearborn, MI | MI | 1.0052 | 1.0036
20100 | Dover, DE | DE | 1.0304 | 1.0207
20260 | Duluth, MN-WI | MN | 1.0401 | 1.0273
20500 | Durham, NC | NC | 0.9693 | 0.9789
20500 | Durham, NC | VA | 0.9694 | 0.9789
20764 | Edison-New Brunswick, NJ | NJ | 1.1221 | 1.0821
21060 | Elizabethtown, KY | KY | 0.8230 | 0.8751
21140 | Elkhart-Goshen, IN | IN | 0.9547 | 0.9688
21500 | Erie, PA | NY | 0.8420 | 0.8889
21660 | Eugene-Springfield, OR | OR | 1.1157 | 1.0779
21780 | Evansville, IN-KY | IN | 0.8479 | 0.8932
21780 | Evansville, IN-KY | KY | 0.8131 | 0.8679
22020 | Fargo, ND-MN | ND | 0.8212 | 0.8738
22020 | Fargo, ND-MN | SD | 0.8428 | 0.8895
22180 | Fayetteville, NC | NC | 0.9567 | 0.9701
22220 | Fayetteville-Springdale-Rogers, AR-MO | AR | 0.8952 | 0.9270
22220 | Fayetteville-Springdale-Rogers, AR-MO | OK | 0.8950 | 0.9268
22380 | Flagstaff, AZ | AZ | 1.1305 | 1.0876
22420 | Flint, MI | MI | 1.0810 | 1.0548
22520 | Florence-Muscle Shoals, AL | AL | 0.7883 | 0.8497
22520 | Florence-Muscle Shoals, AL | MS | 0.7883 | 0.8497
22540 | Fond du Lac, WI | WI | 0.9523 | 0.9671
22660 | Fort Collins-Loveland, CO | CO | 0.9581 | 0.9711
22744 | Ft Lauderdale-Pompano Beach-Deerfield Beach, FL | FL | 1.0025 | 1.0017
23020 | Fort Walton Beach-Crestview-Destin, FL | FL | 0.8633 | 0.9042
23060 | Fort Wayne, IN | IN | 0.9004 | 0.9307
23104 | Fort Worth-Arlington, TX | TX | 0.9684 | 0.9783
23540 | Gainesville, FL | FL | 0.9427 | 0.9604
23844 | Gary, IN | IN | 0.9320 | 0.9529
24300 | Grand Junction, CO | CO | 0.9925 | 0.9949
24340 | Grand Rapids-Wyoming, MI | MI | 0.9305 | 0.9519
24500 | Great Falls, MT | MT | 0.8679 | 0.9075
24540 | Greeley, CO | NE | 0.9611 | 0.9732
24540 | Greeley, CO | WY | 0.9611 | 0.9732
24580 | Green Bay, WI | MI | 0.9412 | 0.9594
24580 | Green Bay, WI | WI | 0.9511 | 0.9662
24660 | Greensboro-High Point, NC | NC | 0.8984 | 0.9293
24660 | Greensboro-High Point, NC | VA | 0.8985 | 0.9293
24780 | Greenville, NC | NC | 0.9174 | 0.9427
24860 | Greenville-Mauldin-Easley, SC | NC | 0.9307 | 0.9520
24860 | Greenville-Mauldin-Easley, SC | SC | 0.9294 | 0.9511
25060 | Gulfport-Biloxi, MS | MS | 0.8156 | 0.8697
25420 | Harrisburg-Carlisle, PA | PA | 0.9185 | 0.9434
25540 | Hartford-West Hartford-East Hartford, CT | CT | 1.1897 | 1.1263
25540 | Hartford-West Hartford-East Hartford, CT | MA | 1.0972 | 1.0656
25860 | Hickory-Lenoir-Morganton, NC | NC | 0.8794 | 0.9158
26180 | Honolulu, HI | HI | 1.1608 | 1.1075
26420 | Houston-Sugar Land-Baytown, TX | TX | 0.9925 | 0.9949
26580 | Huntington-Ashland, WV-KY-OH | KY | 0.8767 | 0.9138
26580 | Huntington-Ashland, WV-KY-OH | OH | 0.8759 | 0.9133
26580 | Huntington-Ashland, WV-KY-OH | WV | 0.8748 | 0.9125
26620 | Huntsville, AL | AL | 0.8636 | 0.9045
26620 | Huntsville, AL | TN | 0.8614 | 0.9029
26820 | Idaho Falls, ID | ID | 0.9327 | 0.9534
26820 | Idaho Falls, ID | WY | 0.9327 | 0.9534
26900 | Indianapolis-Carmel, IN | IN | 0.9707 | 0.9798
26980 | Iowa City, IA | IA | 0.9107 | 0.9380
27060 | Ithaca, NY | NY | 0.9101 | 0.9375
27140 | Jackson, MS | MS | 0.8095 | 0.8653
27180 | Jackson, TN | MS | 0.8361 | 0.8846
27180 | Jackson, TN | TN | 0.8339 | 0.8830
27260 | Jacksonville, FL | FL | 0.9092 | 0.9369
27260 | Jacksonville, FL | GA | 0.9112 | 0.9383
27620 | Jefferson City, MO | MO | 0.8736 | 0.9116
27780 | Johnstown, PA | PA | 0.8342 | 0.8833
27860 | Jonesboro, AR | AR | 0.8291 | 0.8796
27860 | Jonesboro, AR | MO | 0.8470 | 0.8925
27900 | Joplin, MO | KS | 0.9351 | 0.9551
27900 | Joplin, MO | OK | 0.9349 | 0.9549
28020 | Kalamazoo-Portage, MI | MI | 1.0365 | 1.0249
28140 | Kansas City, MO-KS | MO | 0.9444 | 0.9616
28420 | Kennewick-Pasco-Richland, WA | ID | 0.9560 | 0.9697
28420 | Kennewick-Pasco-Richland, WA | WA | 1.0164 | 1.0112
28700 | Kingsport-Bristol-Bristol, TN-VA | KY | 0.7919 | 0.8523
28700 | Kingsport-Bristol-Bristol, TN-VA | TN | 0.7957 | 0.8551
28940 | Knoxville, TN | KY | 0.7889 | 0.8501
28940 | Knoxville, TN | TN | 0.7957 | 0.8551
29180 | Lafayette, LA | LA | 0.8438 | 0.8902
29460 | Lakeland-Winter Haven, FL | FL | 0.8715 | 0.9101
29540 | Lancaster, PA | PA | 0.9799 | 0.9862
29620 | Lansing-East Lansing, MI | MI | 0.9652 | 0.9760
29820 | Las Vegas-Paradise, NV | AZ | 1.1388 | 1.0931
29820 | Las Vegas-Paradise, NV | UT | 1.1388 | 1.0931
30460 | Lexington-Fayette, KY | KY | 0.8756 | 0.9130
30620 | Lima, OH | OH | 0.9299 | 0.9514
30700 | Lincoln, NE | NE | 0.9336 | 0.9540
30780 | Little Rock-North Little Rock-Conway, AR | AR | 0.8650 | 0.9055
30860 | Logan, UT-ID | UT | 0.8827 | 0.9181
30980 | Longview, TX | TX | 0.8666 | 0.9066
31084 | Los Angeles-Long Beach-Glendale, CA | CA | 1.1822 | 1.1214
31140 | Louisville-Jefferson County, KY-IN | KY | 0.9123 | 0.9391
31340 | Lynchburg, VA | VA | 0.8646 | 0.9052
31420 | Macon, GA | GA | 0.9618 | 0.9737
31540 | Madison, WI | WI | 1.1014 | 1.0684
31700 | Manchester-Nashua, NH | NH | 1.0807 | 1.0546
32780 | Medford, OR | OR | 1.0298 | 1.0203
32820 | Memphis, TN-MS-AR | AR | 0.8909 | 0.9239
32820 | Memphis, TN-MS-AR | MS | 0.8909 | 0.9239
32820 | Memphis, TN-MS-AR | TN | 0.8886 | 0.9223
33124 | Miami-Miami Beach-Kendall, FL | FL | 0.9865 | 0.9907
33340 | Milwaukee-Waukesha-West Allis, WI | WI | 1.0026 | 1.0018
33460 | Minneapolis-St. Paul-Bloomington, MN-WI | MN | 1.0997 | 1.0672
33460 | Minneapolis-St. Paul-Bloomington, MN-WI | WI | 1.0976 | 1.0659
33540 | Missoula, MT | MT | 0.8909 | 0.9239
33700 | Modesto, CA | CA | 1.1963 | 1.1306
33740 | Monroe, LA | AR | 0.7789 | 0.8427
33740 | Monroe, LA | LA | 0.7785 | 0.8424
33860 | Montgomery, AL | AL | 0.8192 | 0.8723
34060 | Morgantown, WV | WV | 0.8631 | 0.9041
34740 | Muskegon-Norton Shores, MI | MI | 0.9455 | 0.9623
34820 | Myrtle Beach-North Myrtle Beach-Conway, SC | NC | 0.8632 | 0.9042
34820 | Myrtle Beach-North Myrtle Beach-Conway, SC | SC | 0.8609 | 0.9025
34980 | Nashville-Davidson-Murfreesboro-Franklin, TN | KY | 0.9276 | 0.9498
34980 | Nashville-Davidson-Murfreesboro-Franklin, TN | TN | 0.9252 | 0.9482
35004 | Nassau-Suffolk, NY | CT | 1.2038 | 1.1354
35084 | Newark-Union, NJ-PA | NJ | 1.1316 | 1.0884
35084 | Newark-Union, NJ-PA | NY | 1.1461 | 1.0979
35084 | Newark-Union, NJ-PA | PA | 1.1449 | 1.0971
35300 | New Haven-Milford, CT | CT | 1.1897 | 1.1263
35380 | New Orleans-Metairie-Kenner, LA | LA | 0.9140 | 0.9403
35644 | New York-White Plains-Wayne, NY-NJ | CT | 1.2391 | 1.1581
35644 | New York-White Plains-Wayne, NY-NJ | NJ | 1.2693 | 1.1774
35644 | New York-White Plains-Wayne, NY-NJ | NY | 1.2855 | 1.1877
35980 | Norwich-New London, CT | RI | 1.1587 | 1.1061
36084 | Oakland-Fremont-Hayward, CA | CA | 1.5278 | 1.3367
36140 | Ocean City, NJ | DE | 1.0909 | 1.0614
36220 | Odessa, TX | NM | 0.9273 | 0.9496
36220 | Odessa, TX | TX | 0.9283 | 0.9503
36420 | Oklahoma City, OK | OK | 0.8686 | 0.9080
36500 | Olympia, WA | WA | 1.1297 | 1.0871
36740 | Orlando-Kissimmee, FL | FL | 0.9073 | 0.9356
37460 | Panama City-Lynn Haven, FL | AL | 0.8322 | 0.8818
37700 | Pascagoula, MS | AL | 0.8030 | 0.8605
37764 | Peabody, MA | NH | 1.0807 | 1.0546
37860 | Pensacola-Ferry Pass-Brent, FL | AL | 0.8115 | 0.8667
37900 | Peoria, IL | IL | 0.9043 | 0.9334
37964 | Philadelphia, PA | DE | 1.0799 | 1.0540
37964 | Philadelphia, PA | NJ | 1.1221 | 1.0821
37964 | Philadelphia, PA | PA | 1.0788 | 1.0533
38220 | Pine Bluff, AR | MS | 0.8150 | 0.8693
38300 | Pittsburgh, PA | OH | 0.8582 | 0.9006
38300 | Pittsburgh, PA | PA | 0.8579 | 0.9004
38300 | Pittsburgh, PA | WV | 0.8569 | 0.8996
38340 | Pittsfield, MA | NY | 0.9901 | 0.9932
38340 | Pittsfield, MA | VT | 0.9275 | 0.9498
38860 | Portland-South Portland-Biddeford, ME | ME | 0.9644 | 0.9755
38900 | Portland-Vancouver-Beaverton, OR-WA | OR | 1.1204 | 1.0810
38900 | Portland-Vancouver-Beaverton, OR-WA | WA | 1.1186 | 1.0798
38940 | Port St. Lucie, FL | FL | 0.9741 | 0.9822
39100 | Poughkeepsie-Newburgh-Middletown, NY | NY | 1.0709 | 1.0480
39140 | Prescott, AZ | AZ | 1.0011 | 1.0008
39340 | Provo-Orem, UT | UT | 0.9052 | 0.9341
39580 | Raleigh-Cary, NC | NC | 0.9557 | 0.9694
39740 | Reading, PA | PA | 0.9204 | 0.9448
39820 | Redding, CA | CA | 1.2730 | 1.1797
39900 | Reno-Sparks, NV | NV | 1.0476 | 1.0324
40060 | Richmond, VA | VA | 0.9203 | 0.9447
40140 | Riverside-San Bernardino-Ontario, CA | AZ | 1.1254 | 1.0843
40220 | Roanoke, VA | VA | 0.8750 | 0.9126
40220 | Roanoke, VA | WV | 0.8732 | 0.9113
40380 | Rochester, NY | NY | 0.8911 | 0.9241
40420 | Rockford, IL | IL | 0.9756 | 0.9832
40484 | Rockingham County-Strafford County, NH | ME | 1.0007 | 1.0005
40660 | Rome, GA | AL | 0.9524 | 0.9672
40900 | Sacramento—Arden-Arcade—Roseville, CA | CA | 1.2710 | 1.1785
40980 | Saginaw-Saginaw Township North, MI | MI | 0.8864 | 0.9207
41060 | St. Cloud, MN | MN | 1.0638 | 1.0433
41100 | St. George, UT | UT | 0.9228 | 0.9465
41140 | St. Joseph, MO-KS | MO | 1.0267 | 1.0182
41180 | St. Louis, MO-IL | IL | 0.8993 | 0.9299
41180 | St. Louis, MO-IL | MO | 0.8986 | 0.9294
41620 | Salt Lake City, UT | UT | 0.9271 | 0.9495
41700 | San Antonio, TX | TX | 0.8949 | 0.9268
41884 | San Francisco-San Mateo-Redwood City, CA | CA | 1.4879 | 1.3127
41940 | San Jose-Sunnyvale-Santa Clara, CA | CA | 1.5758 | 1.3654
42044 | Santa Ana-Anaheim-Irvine, CA | CA | 1.1822 | 1.1214
42100 | Santa Cruz-Watsonville, CA | CA | 1.5766 | 1.3658
42140 | Santa Fe, NM | NM | 1.0207 | 1.0141
42220 | Santa Rosa-Petaluma, CA | CA | 1.4497 | 1.2896
42340 | Savannah, GA | GA | 0.8841 | 0.9191
42340 | Savannah, GA | SC | 0.8827 | 0.9181
42644 | Seattle-Bellevue-Everett, WA | WA | 1.1377 | 1.0924
43300 | Sherman-Denison, TX | OK | 0.9291 | 0.9509
43340 | Shreveport-Bossier City, LA | LA | 0.8547 | 0.8981
43580 | Sioux City, IA-NE-SD | NE | 0.8761 | 0.9134
43620 | Sioux Falls, SD | SD | 0.9262 | 0.9489
43780 | South Bend-Mishawaka, IN-MI | IN | 0.9353 | 0.9552
43900 | Spartanburg, SC | SC | 0.9017 | 0.9316
44060 | Spokane, WA | ID | 1.0315 | 1.0215
44180 | Springfield, MO | AR | 0.8477 | 0.8930
44180 | Springfield, MO | MO | 0.8470 | 0.8925
44940 | Sumter, SC | SC | 0.8609 | 0.9025
45060 | Syracuse, NY | NY | 0.9471 | 0.9635
45220 | Tallahassee, FL | GA | 0.8397 | 0.8872
45300 | Tampa-St. Petersburg-Clearwater, FL | FL | 0.8993 | 0.9299
45500 | Texarkana, TX-Texarkana, AR | AR | 0.8093 | 0.8651
45780 | Toledo, OH | OH | 0.9267 | 0.9492
45820 | Topeka, KS | KS | 0.8720 | 0.9105
46140 | Tulsa, OK | OK | 0.8652 | 0.9056
46220 | Tuscaloosa, AL | MS | 0.8280 | 0.8788
46340 | Tyler, TX | TX | 0.8901 | 0.9234
46700 | Vallejo-Fairfield, CA | CA | 1.3974 | 1.2575
47260 | Virginia Beach-Norfolk-Newport News, VA | NC | 0.8868 | 0.9210
47644 | Warren-Troy-Farmington-Hills, MI | MI | 0.9972 | 0.9981
47894 | Washington-Arlington-Alexandria, DC-VA | VA | 1.0669 | 1.0453
47940 | Waterloo-Cedar Falls, IA | IA | 0.9248 | 0.9479
48140 | Wausau, WI | WI | 0.9823 | 0.9878
48620 | Wichita, KS | KS | 0.8785 | 0.9151
48620 | Wichita, KS | OK | 0.8784 | 0.9150
48700 | Williamsport, PA | PA | 0.8342 | 0.8833
48864 | Wilmington, DE-MD-NJ | DE | 1.0645 | 1.0437
48864 | Wilmington, DE-MD-NJ | NJ | 1.1221 | 1.0821
48900 | Wilmington, NC | SC | 0.9074 | 0.9356
49180 | Winston-Salem, NC | NC | 0.9096 | 0.9372
49340 | Worcester, MA | NH | 1.0807 | 1.0546
49660 | Youngstown-Warren-Boardman, OH-PA | OH | 0.8582 | 0.9006
49660 | Youngstown-Warren-Boardman, OH-PA | PA | 0.8559 | 0.8989
04 | Arkansas | LA | 0.7682 | 0.8348
05 | California | CA | 1.1822 | 1.1214
10 | Florida | FL | 0.8633 | 0.9042
14 | Illinois | IL | 0.8428 | 0.8895
14 | Illinois | KY | 0.8320 | 0.8817
14 | Illinois | MO | 0.8470 | 0.8925
16 | Iowa | MO | 0.8738 | 0.9118
17 | Kansas | KS | 0.8086 | 0.8646
22 | Massachusetts | MA | 1.0199 | 1.0136
23 | Michigan | MI | 0.8864 | 0.9207
25 | Mississippi | MS | 0.7653 | 0.8326
26 | Missouri | MO | 0.8470 | 0.8925
30 | New Hampshire | VT | 0.9297 | 0.9513
33 | New York | NY | 0.8308 | 0.8808
34 | North Carolina | TN | 0.8611 | 0.9027
36 | Ohio | OH | 0.8582 | 0.9006
37 | Oklahoma | OK | 0.8016 | 0.8595
38 | Oregon | OR | 1.0298 | 1.0203
39 | Pennsylvania | NY | 0.8351 | 0.8839
39 | Pennsylvania | PA | 0.8342 | 0.8833
44 | Tennessee | KY | 0.7978 | 0.8567
44 | Tennessee | TN | 0.7957 | 0.8551
45 | Texas | TX | 0.8153 | 0.8695
49 | Virginia | KY | 0.8062 | 0.8628
49 | Virginia | VA | 0.8061 | 0.8628
50 | Washington | WA | 1.0164 | 1.0112
53 | Wyoming | NE | 0.9223 | 0.9461

Table 4D-1.—Rural Floor Budget Neutrality Factors—FY 2009
State | Rural floor budget neutrality ajustment factor
Alabama | 1.00000
Alaska | 0.99734
Arizona | 1.00000
Arkansas | 1.00000
California | 0.98552
Colorado | 0.99683
Connecticut | 0.96390
Delaware | 1.00000
Washington, DC | 1.00000
Florida | 0.99781
Georgia | 1.00000
Hawaii | 1.00000
Idaho | 1.00000
Illinois | 0.99993
Indiana | 0.99928
Iowa | 0.99572
Kansas | 1.00000
Kentucky | 1.00000
Louisiana | 0.99945
Maine | 1.00000
Maryland |
Massachusetts | 1.00000
Michigan | 1.00000
Minnesota | 1.00000
Mississippi | 1.00000
Missouri | 0.99910
Montana | 1.00000
Nebraska | 1.00000
Nevada | 1.00000
New Hampshire | 0.97787
New Jersey | 0.98738
New Mexico | 0.99875
New York | 1.00000
North Carolina | 0.99983
North Dakota | 0.99424
Ohio | 0.99906
Oklahoma | 0.99983
Oregon | 0.99955
Pennsylvania | 0.99895
Puerto Rico | 1.00000
Rhode Island | 1.00000
South Carolina | 0.99840
South Dakota | 1.00000
Tennessee | 0.99741
Texas | 0.99980
Utah | 1.00000
Vermont | 0.90100
Virginia | 0.99991
Washington | 0.99791
West Virginia | 0.99782
Wisconsin | 0.99809
Wyoming | 1.00000
* Maryland hospitals, under section 1814(b)(3) of the Act, are waived from the IPPS ratesetting. Therefore, the rural floor budget neutrality adjustment does not apply.
** The rural floor budget neutrality factor for New Jersey is based on an imputed floor (see Table 4B).

Table 4D-2.—Urban Areas With Hospitals Receiving the Statewide Rural Floor or Imputed Floor Wage Index—FY 2009
[*Only hospitals that are geographically located in the specified State receive the State's rural or imputed floor wage index.]
CBSA code | Urban area | State * | Rural or imputed floor wage index
10900 | Allentown-Bethlehem-Easton, PA-NJ | NJ | 1.1221
11020 | Altoona, PA | PA | 0.8342
11260 | Anchorage, AK | AK | 1.1884
11540 | Appleton, WI | WI | 0.9511
12220 | Auburn-Opelika, AL | AL | 0.7647
12540 | Bakersfield, CA | CA | 1.1822
13900 | Bismarck, ND | ND | 0.7336
15500 | Burlington, NC | NC | 0.8632
15540 | Burlington-South Burlington, VT | VT | 0.9275
15804 | Camden, NJ | NJ | 1.1221
16940 | Cheyenne, WY | WY | 0.9223
17020 | Chico, CA | CA | 1.1822
17860 | Columbia, MO | MO | 0.8470
19060 | Cumberland, MD-WV | MD | 0.8795
19060 | Cumberland, MD-WV | WV | 0.7635
19340 | Davenport-Moline-Rock Island, IA-IL | IA | 0.8709
19500 | Decatur, IL | IL | 0.8428
20220 | Dubuque, IA | IA | 0.8709
20764 | Edison-New Brunswick, NJ | NJ | 1.1221
20940 | El Centro, CA | CA | 1.1822
21820 | Fairbanks, AK | AK | 1.1884
22020 | Fargo, ND-MN | MN | 0.9120
22140 | Farmington, NM | NM | 0.8858
22500 | Florence, SC | SC | 0.8609
22900 | Fort Smith, AR-OK | OK | 0.8016
23420 | Fresno, CA | CA | 1.1822
24220 | Grand Forks, ND-MN | MN | 0.9120
24580 | Green Bay, WI | WI | 0.9511
25260 | Hanford-Corcoran, CA | CA | 1.1822
25540 | Hartford-West Hartford-East Hartford, CT | CT | 1.1897
25620 | Hattiesburg, MS | MS | 0.7653
27340 | Jacksonville, NC | NC | 0.8632
27780 | Johnstown, PA | PA | 0.8342
28420 | Kennewick-Pasco-Richland, WA | WA | 1.0164
28700 | Kingsport-Bristol-Bristol, TN-VA | TN | 0.7957
28700 | Kingsport-Bristol-Bristol, TN-VA | VA | 0.8061
28940 | Knoxville, TN | TN | 0.7957
29340 | Lake Charles, LA | LA | 0.7682
29740 | Las Cruces, NM | NM | 0.8858
30300 | Lewiston, ID-WA | WA | 1.0164
31460 | Madera, CA | CA | 1.1822
31700 | Manchester-Nashua, NH | NH | 1.0807
32780 | Medford, OR | OR | 1.0298
34100 | Morristown, TN | TN | 0.7957
34580 | Mount Vernon-Anacortes, WA | WA | 1.0164
34620 | Muncie, IN | IN | 0.8479
35300 | New Haven-Milford, CT | CT | 1.1897
35980 | Norwich-New London, CT | CT | 1.1897
36100 | Ocala, FL | FL | 0.8633
36780 | Oshkosh-Neenah, WI | WI | 0.9511
37100 | Oxnard-Thousand Oaks-Ventura, CA | CA | 1.1822
37460 | Panama City-Lynn Haven, FL | FL | 0.8633
37620 | Parkersburg-Marietta-Vienna, WV-OH | OH | 0.8582
37860 | Pensacola-Ferry Pass-Brent, FL | FL | 0.8633
39380 | Pueblo, CO | CO | 0.9303
39540 | Racine, WI | WI | 0.9511
40140 | Riverside-San Bernardino-Ontario, CA | CA | 1.1822
40484 | Rockingham County-Strafford County, NH | NH | 1.0807
41740 | San Diego-Carlsbad-San Marcos, CA | CA | 1.1822
42020 | San Luis Obispo-Paso Robles, CA | CA | 1.1822
42044 | Santa Ana-Anaheim-Irvine, CA | CA | 1.1822
42060 | Santa Barbara-Santa Maria-Goleta, CA | CA | 1.1822
42540 | Scranton-Wilkes-Barre, PA | PA | 0.8342
43100 | Sheboygan, WI | WI | 0.9511
44180 | Springfield, MO | MO | 0.8470
44700 | Stockton, CA | CA | 1.1822
44940 | Sumter, SC | SC | 0.8609
45940 | Trenton-Ewing, NJ | NJ | 1.1221
47020 | Victoria, TX | TX | 0.8153
47220 | Vineland-Millville-Bridgeton, NJ | NJ | 1.1221
47300 | Visalia-Porterville, CA | CA | 1.1822
48260 | Weirton-Steubenville, WV-OH | OH | 0.8582
48300 | Wenatchee, WA | WA | 1.0164
48540 | Wheeling, WV-OH | OH | 0.8582
48540 | Wheeling, WV-OH | WV | 0.7635
48700 | Williamsport, PA | PA | 0.8342
48864 | Wilmington, DE-MD-NJ | NJ | 1.1221
49420 | Yakima, WA | WA | 1.0164
49700 | Yuba City, CA | CA | 1.1822

Table 4E.—Urban CBSAs and Constituent Counties—FY 2009
CBSA code | Urban area (constituent counties)
10180 | Abilene, TX
| Callahan County, TX
| Jones County, TX
| Taylor County, TX
10380 | Aguadilla-Isabela-San Sebastián, PR
| Aguada Municipio, PR
| Aguadilla Municipio, PR
| Añasco Municipio, PR
| Isabela Municipio, PR
| Lares Municipio, PR
| Moca Municipio, PR
| Rincón Municipio, PR
| San Sebastián Municipio, PR
10420 | Akron, OH
| Portage County, OH
| Summit County, OH
10500 | Albany, GA
| Baker County, GA
| Dougherty County, GA
| Lee County, GA
| Terrell County, GA
| Worth County, GA
10580 | Albany-Schenectady-Troy, NY
| Albany County, NY
| Rensselaer County, NY
| Saratoga County, NY
| Schenectady County, NY
| Schoharie County, NY
10740 | Albuquerque, NM
| Bernalillo County, NM
| Sandoval County, NM
| Torrance County, NM
| Valencia County, NM
10780 | Alexandria, LA
| Grant Parish, LA
| Rapides Parish, LA
10900 | Allentown-Bethlehem-Easton, PA-NJ
| Warren County, NJ
| Carbon County, PA
| Lehigh County, PA
| Northampton County, PA
11020 | Altoona, PA
| Blair County, PA
11100 | Amarillo, TX
| Armstrong County, TX
| Carson County, TX
| Potter County, TX
| Randall County, TX
11180 | Ames, IA
| Story County, IA
11260 | Anchorage, AK
| Anchorage Municipality, AK
| Matanuska-SusitnaBorough, AK
11300 | Anderson, IN
| Madison County, IN
11340 | Anderson, SC
| Anderson County, SC
11460 | Ann Arbor, MI
| Washtenaw County, MI
11500 | Anniston-Oxford, AL
| Calhoun County, AL
11540 | Appleton, WI
| Calumet County, WI
| Outagamie County, WI
11700 | Asheville, NC
| Buncombe County, NC
| Haywood County, NC
| Henderson County, NC
| Madison County, NC
12020 | Athens-Clarke County, GA
| Clarke County, GA
| Madison County, GA
| Oconee County, GA
| Oglethorpe County, GA
12060 | ¹ Atlanta-Sandy Springs-Marietta, GA
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City-Hammonton, NJ
| Atlantic County, NJ
| Hammonton County, NJ
12220 | Auburn-Opelika, AL
| Lee County, AL
12260 | Augusta-Richmond County, GA-SC
| Burke County, GA
| Columbia County, GA
| McDuffie County, GA
| Richmond County, GA
| Aiken County, SC
| Edgefield County, SC
12420 | ¹ Austin-Round Rock, TX
| Bastrop County, TX
| Caldwell County, TX
| Hays County, TX
| Travis County, TX
| Williamson County, TX
12540 | Bakersfield, CA
| Kern County, CA
12580 | ¹ Baltimore-Towson, MD
| Anne Arundel County, MD
| Baltimore County, MD
| Carroll County, MD
| Harford County, MD
| Howard County, MD
| Queen Anne's County, MD
| Baltimore City, MD
12620 | Bangor, ME
| Penobscot County, ME
12700 | Barnstable Town, MA
| Barnstable County, MA
12940 | Baton Rouge, LA
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI
| Calhoun County, MI
13020 | Bay City, MI
| Bay County, MI
13140 | Beaumont-Port Arthur, TX
| Hardin County, TX
| Jefferson County, TX
| Orange County, TX
13380 | Bellingham, WA
| Whatcom County, WA
13460 | Bend, OR
| Deschutes County, OR
13644 | ¹ Bethesda-Frederick-Gaithersburg, MD
| Frederick County, MD
| Montgomery County, MD
13740 | Billings, MT
| Carbon County, MT
| Yellowstone County, MT
13780 | Binghamton, NY
| Broome County, NY
| Tioga County, NY
13820 | ¹ Birmingham-Hoover, AL
| Bibb County, AL
| Blount County, AL
| Chilton County, AL
| Jefferson County, AL
| St. Clair County, AL
| Shelby County, AL
| Walker County, AL
13900 | Bismarck, ND
| Burleigh County, ND
| Morton County, ND
13980 | Blacksburg-Christiansburg-Radford, VA
| Giles County, VA
| Montgomery County, VA
| Pulaski County, VA
| Radford City, VA
14020 | Bloomington, IN
| Greene County, IN
| Monroe County, IN
| Owen County, IN
14060 | Bloomington-Normal, IL
| McLean County, IL
14260 | Boise City-Nampa, ID
| Ada County, ID
| Boise County, ID
| Canyon County, ID
| Gem County, ID
| Owyhee County, ID
14484 | ¹ Boston-Quincy, MA
| Norfolk County, MA
| Plymouth County, MA
| Suffolk County, MA
14500 | Boulder, CO
| Boulder County, CO
14540 | Bowling Green, KY
| Edmonson County, KY
| Warren County, KY
14600 | Bradenton-Sarasota-Venice, FL
| Bradenton County, FL
| Manatee County, FL
| Sarasota County, FL
14740 | Bremerton-Silverdale, WA
| Kitsap County, WA
14860 | Bridgeport-Stamford-Norwalk, CT
| Fairfield County, CT
15180 | Brownsville-Harlingen, TX
| Cameron County, TX
15260 | Brunswick, GA
| Brantley County, GA
| Glynn County, GA
| McIntosh County, GA
15380 | ¹ Buffalo-Niagara Falls, NY
| Erie County, NY
| Niagara County, NY
15500 | Burlington, NC
| Alamance County, NC
15540 | Burlington-South Burlington, VT
| Chittenden County, VT
| Franklin County, VT
| Grand Isle County, VT
15764 | ¹ Cambridge-Newton-Framingham, MA
| Middlesex County, MA
15804 | ¹ Camden, NJ
| Burlington County, NJ
| Camden County, NJ
| Gloucester County, NJ
15940 | Canton-Massillon, OH
| Carroll County, OH
| Stark County, OH
15980 | Cape Coral-Fort Myers, FL
| Lee County, FL
16180 | Carson City, NV
| Carson City, NV
16220 | Casper, WY
| Natrona County, WY
16300 | Cedar Rapids, IA
| Benton County, IA
| Jones County, IA
| Linn County, IA
16580 | Champaign-Urbana, IL
| Champaign County, IL
| Ford County, IL
| Piatt County, IL
16620 | Charleston, WV
| Boone County, WV
| Clay County, WV
| Kanawha County, WV
| Lincoln County, WV
| Putnam County, WV
16700 | Charleston-North Charleston-Summerville, SC
| Berkeley County, SC
| Charleston County, SC
| Dorchester County, SC
| Summerville County, SC
16740 | ¹ Charlotte-Gastonia-Concord, NC-SC
| Anson County, NC
| Cabarrus County, NC
| Gaston County, NC
| Mecklenburg County, NC
| Union County, NC
| York County, SC
16820 | Charlottesville, VA
| Albemarle County, VA
| Fluvanna County, VA
| Greene County, VA
| Nelson County, VA
| Charlottesville City, VA
16860 | Chattanooga, TN-GA
| Catoosa County, GA
| Dade County, GA
| Walker County, GA
| Hamilton County, TN
| Marion County, TN
| Sequatchie County, TN
16940 | Cheyenne, WY
| Laramie County, WY
16974 | ¹ Chicago-Naperville-Joliet, IL
| Cook County, IL
| DeKalb County, IL
| DuPage County, IL
| Grundy County, IL
| Kane County, IL
| Kendall County, IL
| McHenry County, IL
| Will County, IL
17020 | Chico, CA
| Butte County, CA
17140 | ¹ Cincinnati-Middletown, OH-KY-IN
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY
| Christian County, KY
| Trigg County, KY
| Montgomery County, TN
| Stewart County, TN
17420 | Cleveland, TN
| Bradley County, TN
| Polk County, TN
17460 | ¹ Cleveland-Elyria-Mentor, OH
| Cuyahoga County, OH
| Geauga County, OH
| Lake County, OH
| Lorain County, OH
| Medina County, OH
17660 | Coeur d'Alene, ID
| Kootenai County, ID
17780 | College Station-Bryan, TX
| Brazos County, TX
| Burleson County, TX
| Robertson County, TX
17820 | Colorado Springs, CO
| El Paso County, CO
| Teller County, CO
17860 | Columbia, MO
| Boone County, MO
| Howard County, MO
17900 | Columbia, SC
| Calhoun County, SC
| Fairfield County, SC
| Kershaw County, SC
| Lexington County, SC
| Richland County, SC
| Saluda County, SC
17980 | Columbus, GA-AL
| Russell County, AL
| Chattahoochee County, GA
| Harris County, GA
| Marion County, GA
| Muscogee County, GA
18020 | Columbus, IN
| Bartholomew County, IN
18140 | ¹ Columbus, OH
| Delaware County, OH
| Fairfield County, OH
| Franklin County, OH
| Licking County, OH
| Madison County, OH
| Morrow County, OH
| Pickaway County, OH
| Union County, OH
18580 | Corpus Christi, TX
| Aransas County, TX
| Nueces County, TX
| San Patricio County, TX
18700 | Corvallis, OR
| Benton County, OR
19060 | Cumberland, MD-WV
| Allegany County, MD
| Mineral County, WV
19124 | ¹ Dallas-Plano-Irving, TX
| Collin County, TX
| Dallas County, TX
| Delta County, TX
| Denton County, TX
| Ellis County, TX
| Hunt County, TX
| Kaufman County, TX
| Rockwall County, TX
19140 | Dalton, GA
| Murray County, GA
| Whitfield County, GA
19180 | Danville, IL
| Vermilion County, IL
19260 | Danville, VA
| Pittsylvania County, VA
| Danville City, VA
19340 | Davenport-Moline-Rock Island, IA-IL
| Henry County, IL
| Mercer County, IL
| Rock Island County, IL
| Scott County, IA
19380 | Dayton, OH
| Greene County, OH
| Miami County, OH
| Montgomery County, OH
| Preble County, OH
19460 | Decatur, AL
| Lawrence County, AL
| Morgan County, AL
19500 | Decatur, IL
| Macon County, IL
19660 | Deltona-Daytona Beach-Ormond Beach, FL
| Volusia County, FL
19740 | ¹ Denver-Aurora, CO
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA
| Dallas County, IA
| Guthrie County, IA
| Madison County, IA
| Polk County, IA
| Warren County, IA
19804 | ¹ Detroit-Livonia-Dearborn, MI
| Wayne County, MI
20020 | Dothan, AL
| Geneva County, AL
| Henry County, AL
| Houston County, AL
20100 | Dover, DE
| Kent County, DE
20220 | Dubuque, IA
| Dubuque County, IA
20260 | Duluth, MN-WI
| Carlton County, MN
| St. Louis County, MN
| Douglas County, WI
20500 | Durham, NC
| Chatham County, NC
| Durham County, NC
| Orange County, NC
| Person County, NC
20740 | Eau Claire, WI
| Chippewa County, WI
| Eau Claire County, WI
20764 | ¹ Edison-New Brunswick, NJ
| Middlesex County, NJ
| Monmouth County, NJ
| New Brunswick County, NJ
| Ocean County, NJ
| Somerset County, NJ
20940 | El Centro, CA
| Imperial County, CA
21060 | Elizabethtown, KY
| Hardin County, KY
| Larue County, KY
21140 | Elkhart-Goshen, IN
| Elkhart County, IN
21300 | Elmira, NY
| Chemung County, NY
21340 | El Paso, TX
| El Paso County, TX
21500 | Erie, PA
| Erie County, PA
21660 | Eugene-Springfield, OR
| Lane County, OR
21780 | Evansville, IN-KY
| Gibson County, IN
| Posey County, IN
| Vanderburgh County, IN
| Warrick County, IN
| Henderson County, KY
| Webster County, KY
21820 | Fairbanks, AK
| Fairbanks North Star Borough, AK
21940 | Fajardo, PR
| Ceiba Municipio, PR
| Fajardo Municipio, PR
| Luquillo Municipio, PR
22020 | Fargo, ND-MN
| Clay County, MN
| Cass County, ND
22140 | Farmington, NM
| San Juan County, NM
22180 | Fayetteville, NC
| Cumberland County, NC
| Hoke County, NC
22220 | Fayetteville-Springdale-Rogers, AR-MO
| Benton County, AR
| Madison County, AR
| Washington County, AR
| McDonald County, MO
22380 | Flagstaff, AZ
| Coconino County, AZ
22420 | Flint, MI
| Genesee County, MI
22500 | Florence, SC
| Darlington County, SC
| Florence County, SC
22520 | Florence-Muscle Shoals, AL
| Colbert County, AL
| Lauderdale County, AL
22540 | Fond du Lac, WI
| Fond du Lac County, WI
22660 | Fort Collins-Loveland, CO
| Larimer County, CO
22744 | ¹ Fort Lauderdale-Pompano Beach-Deerfield Beach, FL
| Broward County, FL
22900 | Fort Smith, AR-OK
| Crawford County, AR
| Franklin County, AR
| Sebastian County, AR
| Le Flore County, OK
| Sequoyah County, OK
23020 | Fort Walton Beach-Crestview-Destin, FL
| Okaloosa County, FL
23060 | Fort Wayne, IN
| Allen County, IN
| Wells County, IN
| Whitley County, IN
23104 | ¹ Fort Worth-Arlington, TX
| Johnson County, TX
| Parker County, TX
| Tarrant County, TX
| Wise County, TX
23420 | Fresno, CA
| Fresno County, CA
23460 | Gadsden, AL
| Etowah County, AL
23540 | Gainesville, FL
| Alachua County, FL
| Gilchrist County, FL
23580 | Gainesville, GA
| Hall County, GA
23844 | Gary, IN
| Jasper County, IN
| Lake County, IN
| Newton County, IN
| Porter County, IN
24020 | Glens Falls, NY
| Warren County, NY
| Washington County, NY
24140 | Goldsboro, NC
| Wayne County, NC
24220 | Grand Forks, ND-MN
| Polk County, MN
| Grand Forks County, ND
24300 | Grand Junction, CO
| Mesa County, CO
24340 | Grand Rapids-Wyoming, MI
| Barry County, MI
| Ionia County, MI
| Kent County, MI
| Newaygo County, MI
24500 | Great Falls, MT
| Cascade County, MT
24540 | Greeley, CO
| Weld County, CO
24580 | Green Bay, WI
| Brown County, WI
| Kewaunee County, WI
| Oconto County, WI
24660 | Greensboro-High Point, NC
| Guilford County, NC
| Randolph County, NC
| Rockingham County, NC
24780 | Greenville, NC
| Greene County, NC
| Pitt County, NC
24860 | Greenville-Mauldin-Easley, SC
| Greenville County, SC
| Laurens County, SC
| Pickens County, SC
25020 | Guayama, PR
| Arroyo Municipio, PR
| Guayama Municipio, PR
| Patillas Municipio, PR
25060 | Gulfport-Biloxi, MS
| Hancock County, MS
| Harrison County, MS
| Stone County, MS
25180 | Hagerstown-Martinsburg, MD-WV
| Washington County, MD
| Berkeley County, WV
| Morgan County, WV
25260 | Hanford-Corcoran, CA
| Kings County, CA
25420 | Harrisburg-Carlisle, PA
| Cumberland County, PA
| Dauphin County, PA
| Perry County, PA
25500 | Harrisonburg, VA
| Rockingham County, VA
| Harrisonburg City, VA
25540 | ¹ Hartford-West Hartford-East Hartford, CT
| Hartford County, CT
| Middlesex County, CT
| Tolland County, CT
25620 | Hattiesburg, MS
| Forrest County, MS
| Lamar County, MS
| Perry County, MS
25860 | Hickory-Lenoir-Morganton, NC
| Alexander County, NC
| Burke County, NC
| Caldwell County, NC
| Catawba County, NC
25980 | Hinesville-Fort Stewart, GA
| Liberty County, GA
| Long County, GA
26100 | Holland-Grand Haven, MI
| Ottawa County, MI
26180 | Honolulu, HI
| Honolulu County, HI
26300 | Hot Springs, AR
| Garland County, AR
26380 | Houma-Bayou Cane-Thibodaux, LA
| Lafourche Parish, LA
| Terrebonne Parish, LA
26420 | ¹ Houston-Sugar Land-Baytown, TX
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH
| Boyd County, KY
| Greenup County, KY
| Lawrence County, OH
| Cabell County, WV
| Wayne County, WV
26620 | Huntsville, AL
| Limestone County, AL
| Madison County, AL
26820 | Idaho Falls, ID
| Bonneville County, ID
| Jefferson County, ID
26900 | ¹ Indianapolis-Carmel, IN
| Boone County, IN
| Brown County, IN
| Hamilton County, IN
| Hancock County, IN
| Hendricks County, IN
| Johnson County, IN
| Marion County, IN
| Morgan County, IN
| Putnam County, IN
| Shelby County, IN
26980 | Iowa City, IA
| Johnson County, IA
| Washington County, IA
27060 | Ithaca, NY
| Tompkins County, NY
27100 | Jackson, MI
| Jackson County, MI
27140 | Jackson, MS
| Copiah County, MS
| Hinds County, MS
| Madison County, MS
| Rankin County, MS
| Simpson County, MS
27180 | Jackson, TN
| Chester County, TN
| Madison County, TN
27260 | ¹ Jacksonville, FL
| Baker County, FL
| Clay County, FL
| Duval County, FL
| Nassau County, FL
| St. Johns County, FL
27340 | Jacksonville, NC
| Onslow County, NC
27500 | Janesville, WI
| Rock County, WI
27620 | Jefferson City, MO
| Callaway County, MO
| Cole County, MO
| Moniteau County, MO
| Osage County, MO
27740 | Johnson City, TN
| Carter County, TN
| Unicoi County, TN
| Washington County, TN
27780 | Johnstown, PA
| Cambria County, PA
27860 | Jonesboro, AR
| Craighead County, AR
| Poinsett County, AR
27900 | Joplin, MO
| Jasper County, MO
| Newton County, MO
28020 | Kalamazoo-Portage, MI
| Kalamazoo County, MI
| Van Buren County, MI
28100 | Kankakee-Bradley, IL
| Kankakee County, IL
28140 | ¹ Kansas City, MO-KS
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Pasco-Richland, WA
| Benton County, WA
| Franklin County, WA
28660 | Killeen-Temple-Fort Hood, TX
| Bell County, TX
| Coryell County, TX
| Lampasas County, TX
28700 | Kingsport-Bristol-Bristol, TN-VA
| Hawkins County, TN
| Sullivan County, TN
| Bristol City, VA
| Scott County, VA
| Washington County, VA
28740 | Kingston, NY
| Ulster County, NY
28940 | Knoxville, TN
| Anderson County, TN
| Blount County, TN
| Knox County, TN
| Loudon County, TN
| Union County, TN
29020 | Kokomo, IN
| Howard County, IN
| Tipton County, IN
29100 | La Crosse, WI-MN
| Houston County, MN
| La Crosse County, WI
29140 | Lafayette, IN
| Benton County, IN
| Carroll County, IN
| Tippecanoe County, IN
29180 | Lafayette, LA
| Lafayette Parish, LA
| St. Martin Parish, LA
29340 | Lake Charles, LA
| Calcasieu Parish, LA
| Cameron Parish, LA
29404 | Lake County-Kenosha County, IL-WI
| Lake County, IL
| Kenosha County, WI
29420 | Lake Havasu City-Kingman, AZ
| Mohave County, AZ
29460 | Lakeland-Winter Haven, FL
| Polk County, FL
| Winter Haven County, FL
29540 | Lancaster, PA
| Lancaster County, PA
29620 | Lansing-East Lansing, MI
| Clinton County, MI
| Eaton County, MI
| Ingham County, MI
29700 | Laredo, TX
| Webb County, TX
29740 | Las Cruces, NM
| Dona Ana County, NM
29820 | ¹ Las Vegas-Paradise, NV
| Clark County, NV
29940 | Lawrence, KS
| Douglas County, KS
30020 | Lawton, OK
| Comanche County, OK
30140 | Lebanon, PA
| Lebanon County, PA
30300 | Lewiston, ID-WA
| Nez Perce County, ID
| Asotin County, WA
30340 | Lewiston-Auburn, ME
| Androscoggin County, ME
30460 | Lexington-Fayette, KY
| Bourbon County, KY
| Clark County, KY
| Fayette County, KY
| Jessamine County, KY
| Scott County, KY
| Woodford County, KY
30620 | Lima, OH
| Allen County, OH
30700 | Lincoln, NE
| Lancaster County, NE
| Seward County, NE
30780 | Little Rock-North Little Rock-Conway, AR
| Faulkner County, AR
| Grant County, AR
| Lonoke County, AR
| Perry County, AR
| Pulaski County, AR
| Saline County, AR
30860 | Logan, UT-ID
| Franklin County, ID
| Cache County, UT
30980 | Longview, TX
| Gregg County, TX
| Rusk County, TX
| Upshur County, TX
31020 | Longview, WA
| Cowlitz County, WA
31084 | ¹ Los Angeles-Long Beach-Glendale, CA
| Los Angeles County, CA
31140 | ¹ Louisville-Jefferson County, KY-IN
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX
| Crosby County, TX
| Lubbock County, TX
31340 | Lynchburg, VA
| Amherst County, VA
| Appomattox County, VA
| Bedford County, VA
| Campbell County, VA
| Bedford City, VA
| Lynchburg City, VA
31420 | Macon, GA
| Bibb County, GA
| Crawford County, GA
| Jones County, GA
| Monroe County, GA
| Twiggs County, GA
31460 | Madera, CA
| Madera County, CA
31540 | Madison, WI
| Columbia County, WI
| Dane County, WI
| Iowa County, WI
31700 | Manchester-Nashua, NH
| Hillsborough County, NH
31900 | Mansfield, OH
| Richland County, OH
32420 | Mayagüez, PR
| Hormigueros Municipio, PR
| Mayagüez Municipio, PR
32580 | McAllen-Edinburg-Mission, TX
| Hidalgo County, TX
32780 | Medford, OR
| Jackson County, OR
32820 | ¹ Memphis, TN-MS-AR
| Crittenden County, AR
| DeSoto County, MS
| Marshall County, MS
| Tate County, MS
| Tunica County, MS
| Fayette County, TN
| Shelby County, TN
| Tipton County, TN
32900 | Merced, CA
| Merced County, CA
33124 | ¹ Miami-Miami Beach-Kendall, FL
| Miami-Dade County, FL
33140 | Michigan City-La Porte, IN
| LaPorte County, IN
33260 | Midland, TX
| Midland County, TX
33340 | ¹ Milwaukee-Waukesha-West Allis, WI
| Milwaukee County, WI
| Ozaukee County, WI
| Washington County, WI
| Waukesha County, WI
33460 | ¹ Minneapolis-St. Paul-Bloomington, MN-WI
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT
| Missoula County, MT
33660 | Mobile, AL
| Mobile County, AL
33700 | Modesto, CA
| Stanislaus County, CA
33740 | Monroe, LA
| Ouachita Parish, LA
| Union Parish, LA
33780 | Monroe, MI
| Monroe County, MI
33860 | Montgomery, AL
| Autauga County, AL
| Elmore County, AL
| Lowndes County, AL
| Montgomery County, AL
34060 | Morgantown, WV
| Monongalia County, WV
| Preston County, WV
34100 | Morristown, TN
| Grainger County, TN
| Hamblen County, TN
| Jefferson County, TN
34580 | Mount Vernon-Anacortes, WA
| Skagit County, WA
34620 | Muncie, IN
| Delaware County, IN
34740 | Muskegon-Norton Shores, MI
| Muskegon County, MI
34820 | Myrtle Beach-North Myrtle Beach-Conway, SC
| Horry County, SC
34900 | Napa, CA
| Napa County, CA
34940 | Naples-Marco Island, FL
| Collier County, FL
34980 | ¹ Nashville-Davidson-Murfreesboro-Franklin, TN
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹ Nassau-Suffolk, NY
| Nassau County, NY
| Suffolk County, NY
35084 | ¹ Newark-Union, NJ-PA
| Essex County, NJ
| Hunterdon County, NJ
| Morris County, NJ
| Sussex County, NJ
| Union County, NJ
| Pike County, PA
35300 | New Haven-Milford, CT
| New Haven County, CT
35380 | ¹ New Orleans-Metairie-Kenner, LA
| Jefferson Parish, LA
| Orleans Parish, LA
| Plaquemines Parish, LA
| St. Bernard Parish, LA
| St. Charles Parish, LA
| St. John the Baptist Parish, LA
| St. Tammany Parish, LA
35644 | ¹ New York-White Plains-Wayne, NY-NJ
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI
| Berrien County, MI
35980 | Norwich-New London, CT
| New London County, CT
36084 | ¹ Oakland-Fremont-Hayward, CA
| Alameda County, CA
| Contra Costa County, CA
36100 | Ocala, FL
| Marion County, FL
36140 | Ocean City, NJ
| Cape May County, NJ
36220 | Odessa, TX
| Ector County, TX
36260 | Ogden-Clearfield, UT
| Davis County, UT
| Morgan County, UT
| Weber County, UT
36420 | ¹ Oklahoma City, OK
| Canadian County, OK
| Cleveland County, OK
| Grady County, OK
| Lincoln County, OK
| Logan County, OK
| McClain County, OK
| Oklahoma County, OK
36500 | Olympia, WA
| Thurston County, WA
36540 | Omaha-Council Bluffs, NE-IA
| Harrison County, IA
| Mills County, IA
| Pottawattamie County, IA
| Cass County, NE
| Douglas County, NE
| Sarpy County, NE
| Saunders County, NE
| Washington County, NE
36740 | ¹ Orlando-Kissimmee, FL
| Lake County, FL
| Orange County, FL
| Osceola County, FL
| Seminole County, FL
36780 | Oshkosh-Neenah, WI
| Winnebago County, WI
36980 | Owensboro, KY
| Daviess County, KY
| Hancock County, KY
| McLean County, KY
37100 | Oxnard-Thousand Oaks-Ventura, CA
| Ventura County, CA
37340 | Palm Bay-Melbourne-Titusville, FL
| Brevard County, FL
37380 | Palm Coast, FL
| Flager County, FL
37460 | Panama City-Lynn Haven, FL
| Bay County, FL
37620 | Parkersburg-Marietta-Vienna, WV-OH
| Washington County, OH
| Pleasants County, WV
| Wirt County, WV
| Wood County, WV
37700 | Pascagoula, MS
| George County, MS
| Jackson County, MS
37764 | Peabody, MA
| Essex County, MA
37860 | Pensacola-Ferry Pass-Brent, FL
| Escambia County, FL
| Santa Rosa County, FL
37900 | Peoria, IL
| Marshall County, IL
| Peoria County, IL
| Stark County, IL
| Tazewell County, IL
| Woodford County, IL
37964 | ¹ Philadelphia, PA
| Bucks County, PA
| Chester County, PA
| Delaware County, PA
| Montgomery County, PA
| Philadelphia County, PA
38060 | ¹ Phoenix-Mesa-Scottsdale, AZ
| Maricopa County, AZ
| Pinal County, AZ
38220 | Pine Bluff, AR
| Cleveland County, AR
| Jefferson County, AR
| Lincoln County, AR
38300 | ¹ Pittsburgh, PA
| Allegheny County, PA
| Armstrong County, PA
| Beaver County, PA
| Butler County, PA
| Fayette County, PA
| Washington County, PA
| Westmoreland County, PA
38340 | Pittsfield, MA
| Berkshire County, MA
38540 | Pocatello, ID
| Bannock County, ID
| Power County, ID
38660 | Ponce, PR
| Juana Díaz Municipio, PR
| Ponce Municipio, PR
| Villalba Municipio, PR
38860 | Portland-South Portland-Biddeford, ME
| Cumberland County, ME
| Sagadahoc County, ME
| York County, ME
38900 | ¹ Portland-Vancouver-Beaverton, OR-WA
| Clackamas County, OR
| Columbia County, OR
| Multnomah County, OR
| Washington County, OR
| Yamhill County, OR
| Clark County, WA
| Skamania County, WA
38940 | Port St. Lucie, FL
| Martin County, FL
| St. Lucie County, FL
39100 | Poughkeepsie-Newburgh-Middletown, NY
| Dutchess County, NY
| Orange County, NY
39140 | Prescott, AZ
| Yavapai County, AZ
39300 | ¹ Providence-New Bedford-Fall River, RI-MA
| Bristol County, MA
| Bristol County, RI
| Kent County, RI
| Newport County, RI
| Providence County, RI
| Washington County, RI
39340 | Provo-Orem, UT
| Juab County, UT
| Utah County, UT
39380 | Pueblo, CO
| Pueblo County, CO
39460 | Punta Gorda, FL
| Charlotte County, FL
39540 | Racine, WI
| Racine County, WI
39580 | Raleigh-Cary, NC
| Franklin County, NC
| Johnston County, NC
| Wake County, NC
39660 | Rapid City, SD
| Meade County, SD
| Pennington County, SD
39740 | Reading, PA
| Berks County, PA
39820 | Redding, CA
| Shasta County, CA
39900 | Reno-Sparks, NV
| Storey County, NV
| Washoe County, NV
40060 | ¹ Richmond, VA
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹ Riverside-San Bernardino-Ontario, CA
| Riverside County, CA
| San Bernardino County, CA
40220 | Roanoke, VA
| Botetourt County, VA
| Craig County, VA
| Franklin County, VA
| Roanoke County, VA
| Roanoke City, VA
| Salem City, VA
40340 | Rochester, MN
| Dodge County, MN
| Olmsted County, MN
| Wabasha County, MN
40380 | ¹ Rochester, NY
| Livingston County, NY
| Monroe County, NY
| Ontario County, NY
| Orleans County, NY
| Wayne County, NY
40420 | Rockford, IL
| Boone County, IL
| Winnebago County, IL
40484 | Rockingham County-Strafford County, NH
| Rockingham County, NH
| Strafford County, NH
40580 | Rocky Mount, NC
| Edgecombe County, NC
| Nash County, NC
40660 | Rome, GA
| Floyd County, GA
40900 | ¹ Sacramento—Arden-Arcade—Roseville, CA
| El Dorado County, CA
| Placer County, CA
| Sacramento County, CA
| Yolo County, CA
40980 | Saginaw-Saginaw Township North, MI
| Saginaw County, MI
41060 | St. Cloud, MN
| Benton County, MN
| Stearns County, MN
41100 | St. George, UT
| Washington County, UT
41140 | St. Joseph, MO-KS
| Doniphan County, KS
| Andrew County, MO
| Buchanan County, MO
| DeKalb County, MO
41180 | ¹ St. Louis, MO-IL
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR
| Marion County, OR
| Polk County, OR
41500 | Salinas, CA
| Monterey County, CA
41540 | Salisbury, MD
| Somerset County, MD
| Wicomico County, MD
41620 | Salt Lake City, UT
| Salt Lake County, UT
| Summit County, UT
| Tooele County, UT
41660 | San Angelo, TX
| Irion County, TX
| Tom Green County, TX
41700 | ¹ San Antonio, TX
| Atascosa County, TX
| Bandera County, TX
| Bexar County, TX
| Comal County, TX
| Guadalupe County, TX
| Kendall County, TX
| Medina County, TX
| Wilson County, TX
41740 | ¹ San Diego-Carlsbad-San Marcos, CA
| San Diego County, CA
41780 | Sandusky, OH
| Erie County, OH
41884 | ¹ San Francisco-San Mateo-Redwood City, CA
| Marin County, CA
| San Francisco County, CA
| San Mateo County, CA
41900 | San Germán-Cabo Rojo, PR
| Cabo Rojo Municipio, PR
| Lajas Municipio, PR
| Sabana Grande Municipio, PR
| San Germán Municipio, PR
41940 | ¹ San Jose-Sunnyvale-Santa Clara, CA
| San Benito County, CA
| Santa Clara County, CA
41980 | ¹ San Juan-Caguas-Guaynabo, PR
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA
| San Luis Obispo County, CA
42044 | ¹ Santa Ana-Anaheim-Irvine, CA
| Orange County, CA
42060 | Santa Barbara-Santa Maria-Goleta, CA
| Santa Barbara County, CA
42100 | Santa Cruz-Watsonville, CA
| Santa Cruz County, CA
42140 | Santa Fe, NM
| Santa Fe County, NM
42220 | Santa Rosa-Petaluma, CA
| Sonoma County, CA
42340 | Savannah, GA
| Bryan County, GA
| Chatham County, GA
| Effingham County, GA
42540 | Scranton—Wilkes-Barre, PA
| Lackawanna County, PA
| Luzerne County, PA
| Wyoming County, PA
42644 | ¹ Seattle-Bellevue-Everett, WA
| King County, WA
| Snohomish County, WA
42680 | Sebastian-Vero Beach, FL
| Indian River County, FL
43100 | Sheboygan, WI
| Sheboygan County, WI
43300 | Sherman-Denison, TX
| Grayson County, TX
43340 | Shreveport-Bossier City, LA
| Bossier Parish, LA
| Caddo Parish, LA
| De Soto Parish, LA
43580 | Sioux City, IA-NE-SD
| Woodbury County, IA
| Dakota County, NE
| Dixon County, NE
| Union County, SD
43620 | Sioux Falls, SD
| Lincoln County, SD
| McCook County, SD
| Minnehaha County, SD
| Turner County, SD
43780 | South Bend-Mishawaka, IN-MI
| St. Joseph County, IN
| Cass County, MI
43900 | Spartanburg, SC
| Spartanburg County, SC
44060 | Spokane, WA
| Spokane County, WA
44100 | Springfield, IL
| Menard County, IL
| Sangamon County, IL
44140 | Springfield, MA
| Franklin County, MA
| Hampden County, MA
| Hampshire County, MA
44180 | Springfield, MO
| Christian County, MO
| Dallas County, MO
| Greene County, MO
| Polk County, MO
| Webster County, MO
44220 | Springfield, OH
| Clark County, OH
44300 | State College, PA
| Centre County, PA
44700 | Stockton, CA
| San Joaquin County, CA
44940 | Sumter, SC
| Sumter County, SC
45060 | Syracuse, NY
| Madison County, NY
| Onondaga County, NY
| Oswego County, NY
45104 | Tacoma, WA
| Pierce County, WA
45220 | Tallahassee, FL
| Gadsden County, FL
| Jefferson County, FL
| Leon County, FL
| Wakulla County, FL
45300 | ¹ Tampa-St. Petersburg-Clearwater, FL
| Hernando County, FL
| Hillsborough County, FL
| Pasco County, FL
| Pinellas County, FL
45460 | Terre Haute, IN
| Clay County, IN
| Sullivan County, IN
| Vermillion County, IN
| Vigo County, IN
45500 | Texarkana, TX-Texarkana, AR
| Miller County, AR
| Bowie County, TX
45780 | Toledo, OH
| Fulton County, OH
| Lucas County, OH
| Ottawa County, OH
| Wood County, OH
45820 | Topeka, KS
| Jackson County, KS
| Jefferson County, KS
| Osage County, KS
| Shawnee County, KS
| Wabaunsee County, KS
45940 | Trenton-Ewing, NJ
| Mercer County, NJ
46060 | Tucson, AZ
| Pima County, AZ
46140 | Tulsa, OK
| Creek County, OK
| Okmulgee County, OK
| Osage County, OK
| Pawnee County, OK
| Rogers County, OK
| Tulsa County, OK
| Wagoner County, OK
46220 | Tuscaloosa, AL
| Greene County, AL
| Hale County, AL
| Tuscaloosa County, AL
46340 | Tyler, TX
| Smith County, TX
46540 | Utica-Rome, NY
| Herkimer County, NY
| Oneida County, NY
46660 | Valdosta, GA
| Brooks County, GA
| Echols County, GA
| Lanier County, GA
| Lowndes County, GA
46700 | Vallejo-Fairfield, CA
| Solano County, CA
47020 | Victoria, TX
| Calhoun County, TX
| Goliad County, TX
| Victoria County, TX
47220 | Vineland-Millville-Bridgeton, NJ
| Cumberland County, NJ
47260 | ¹ Virginia Beach-Norfolk-Newport News, VA-NC
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA
| Tulare County, CA
47380 | Waco, TX
| McLennan County, TX
47580 | Warner Robins, GA
| Houston County, GA
47644 | ¹ Warren-Troy-Farmington Hills, MI
| Lapeer County, MI
| Livingston County, MI
| Macomb County, MI
| Oakland County, MI
| St. Clair County, MI
47894 | ¹ Washington-Arlington-Alexandria, DC-VA-MD-WV
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA
| Black Hawk County, IA
| Bremer County, IA
| Grundy County, IA
48140 | Wausau, WI
| Marathon County, WI
48260 | Weirton-Steubenville, WV-OH
| Jefferson County, OH
| Brooke County, WV
| Hancock County, WV
48300 | Wenatchee, WA
| Chelan County, WA
| Douglas County, WA
48424 | ¹ West Palm Beach-Boca Raton-Boynton Beach, FL
| Palm Beach County, FL
48540 | Wheeling, WV-OH
| Belmont County, OH
| Marshall County, WV
| Ohio County, WV
48620 | Wichita, KS
| Butler County, KS
| Harvey County, KS
| Sedgwick County, KS
| Sumner County, KS
48660 | Wichita Falls, TX
| Archer County, TX
| Clay County, TX
| Wichita County, TX
48700 | Williamsport, PA
| Lycoming County, PA
48864 | Wilmington, DE-MD-NJ
| New Castle County, DE
| Cecil County, MD
| Salem County, NJ
48900 | Wilmington, NC
| Brunswick County, NC
| New Hanover County, NC
| Pender County, NC
49020 | Winchester, VA-WV
| Frederick County, VA
| Winchester City, VA
| Hampshire County, WV
49180 | Winston-Salem, NC
| Davie County, NC
| Forsyth County, NC
| Stokes County, NC
| Yadkin County, NC
49340 | Worcester, MA
| Worcester County, MA
49420 | Yakima, WA
| Yakima County, WA
49500 | Yauco, PR
| Guánica Municipio, PR
| Guayanilla Municipio, PR
| Peñuelas Municipio, PR
| Yauco Municipio, PR
49620 | York-Hanover, PA
| York County, PA
49660 | Youngstown-Warren-Boardman, OH-PA
| Mahoning County, OH
| Trumbull County, OH
| Mercer County, PA
49700 | Yuba City, CA
| Sutter County, CA
| Yuba County, CA
49740 | Yuma, AZ
| Yuma County, AZ
¹ Large urban area.

Table 4F.—Puerto Rico Wage Index and Capital Geographic Adjustment Factor (GAF) by CBSA—FY 2009
[Note: The rural floor budget neutrality adjustment is not applicable to the Puerto Rico-specific wage index.]
CBSA code | Area | Wage index | GAF | Wage index—reclassified hospitals | GAF—reclassified hospitals
10380 | Aguadilla-Isabela-San Sebastián, PR | 0.7845 | 0.8469 |  |
21940 | Fajardo, PR | 0.9572 | 0.9705 |  |
25020 | Guayama, PR | 0.7472 | 0.8191 |  |
32420 | Mayagüez, PR | 0.9236 | 0.9470 |  |
38660 | Ponce, PR | 0.9757 | 0.9833 |  |
41900 | San Germán-Cabo Rojo, PR | 1.0864 | 1.0584 |  |
41980 | San Juan-Caguas-Guaynabo, PR | 1.0348 | 1.0237 |  |
49500 | Yauco, PR | 0.7969 | 0.8560 |  |

The following list represents all hospitals that are eligible to have their wage index increased by the out-migration adjustment listed in this table. Hospitals cannot receive the out-migration adjustment if they are reclassified under section 1886(d)(10) of the Act or redesignated under section 1886(d)(8)(B) of the Act. Hospitals that have already been reclassified under section 1886(d)(10) of the Act or redesignated under section 1886(d)(8)(B) of the Act are designated with an asterisk. We will automatically assume that hospitals that have already been reclassified under section 1886(d)(10) of the Act or redesignated under section 1886(d)(8)(B) of the Act wish to retain their reclassification/redesignation status and waive the application of the out-migration adjustment. Section 1886(d)(10) hospitals that wish to receive the out-migration adjustment, rather than their reclassification, should follow the termination/withdrawal procedures specified in 42 CFR 412.273 and section III.I.3. of the preamble of this proposed rule. Otherwise, they will be deemed to have waived the out-migration adjustment. Hospitals redesignated under section 1886(d)(8)(B) of the Act will be deemed to have waived the out-migration adjustment, unless they explicitly notify CMS that they elected to receive the out-migration adjustment instead within 45 days from the publication of this proposed rule. These notifications should be sent to the following address: Centers for Medicare and Medicaid Services, Center for Medicare Management, Attn.: Wage Index Adjustment Waivers, Division of Acute Care, Room C4-08-06, 7500 Security Boulevard, Baltimore, MD 21244-1850.

Table 4J.—Out-Migration Adjustment—FY 2009
Provider No. | Reclassified for FY 2009 | Out-migration adjustment | Qualifying county name | County code
010005 | * | 0.0296 | MARSHALL | 01470
010008 |  | 0.0174 | CRENSHAW | 01200
010009 | * | 0.0092 | MORGAN | 01510
010010 | * | 0.0296 | MARSHALL | 01470
010012 | * | 0.0186 | DE KALB | 01240
010015 |  | 0.0046 | CLARKE | 01120
010021 |  | 0.0030 | DALE | 01220
010022 | * | 0.1128 | CHEROKEE | 01090
010025 | * | 0.0235 | CHAMBERS | 01080
010027 |  | 0.0015 | COFFEE | 01150
010029 | * | 0.0289 | LEE | 01400
010032 |  | 0.0325 | RANDOLPH | 01550
010035 | * | 0.0254 | CULLMAN | 01210
010038 |  | 0.0047 | CALHOUN | 01070
010040 |  | 0.0061 | ETOWAH | 01270
010045 |  | 0.0222 | FAYETTE | 01280
010046 |  | 0.0061 | ETOWAH | 01270
010047 |  | 0.0127 | BUTLER | 01060
010049 |  | 0.0015 | COFFEE | 01150
010052 | * | 0.0103 | TALLAPOOSA | 01610
010054 | * | 0.0092 | MORGAN | 01510
010059 | * | 0.0069 | LAWRENCE | 01390
010061 | * | 0.0542 | JACKSON | 01350
010065 | * | 0.0103 | TALLAPOOSA | 01610
010078 |  | 0.0047 | CALHOUN | 01070
010083 | * | 0.0134 | BALDWIN | 01010
010085 | * | 0.0092 | MORGAN | 01510
010091 |  | 0.0046 | CLARKE | 01120
010100 | * | 0.0134 | BALDWIN | 01010
010101 | * | 0.0211 | TALLADEGA | 01600
010109 |  | 0.0451 | PICKENS | 01530
010110 |  | 0.0215 | BULLOCK | 01050
010125 |  | 0.0476 | WINSTON | 01660
010128 |  | 0.0046 | CLARKE | 01120
010129 |  | 0.0134 | BALDWIN | 01010
010138 |  | 0.0066 | SUMTER | 01590
010143 | * | 0.0254 | CULLMAN | 01210
010146 |  | 0.0047 | CALHOUN | 01070
010150 | * | 0.0127 | BUTLER | 01060
010158 | * | 0.0023 | FRANKLIN | 01290
010164 | * | 0.0211 | TALLADEGA | 01600
030067 |  | 0.0298 | LAPAZ | 03055
040014 | * | 0.0199 | WHITE | 04720
040019 | * | 0.0258 | ST. FRANCIS | 04610
040039 | * | 0.0172 | GREENE | 04270
040047 |  | 0.0117 | RANDOLPH | 04600
040067 |  | 0.0007 | COLUMBIA | 04130
040071 | * | 0.0149 | JEFFERSON | 04340
040076 | * | 0.1000 | HOT SPRING | 04290
040081 |  | 0.0357 | PIKE | 04540
050002 |  | 0.0010 | ALAMEDA | 05000
050007 |  | 0.0146 | SAN MATEO | 05510
050008 |  | 0.0026 | SAN FRANCISCO | 05480
050009 | * | 0.0180 | NAPA | 05380
050013 | * | 0.0180 | NAPA | 05380
050014 | * | 0.0139 | AMADOR | 05020
050016 |  | 0.0103 | SAN LUIS OBISPO | 05500
050042 | * | 0.0162 | TEHAMA | 05620
050043 |  | 0.0010 | ALAMEDA | 05000
050047 |  | 0.0026 | SAN FRANCISCO | 05480
050055 |  | 0.0026 | SAN FRANCISCO | 05480
050069 | * | 0.0020 | ORANGE | 05400
050070 |  | 0.0146 | SAN MATEO | 05510
050073 | * | 0.0171 | SOLANO | 05580
050075 |  | 0.0010 | ALAMEDA | 05000
050076 | * | 0.0026 | SAN FRANCISCO | 05480
050084 |  | 0.0132 | SAN JOAQUIN | 05490
050089 | * | 0.0017 | SAN BERNARDINO | 05460
050090 | * | 0.0058 | SONOMA | 05590
050099 | * | 0.0017 | SAN BERNARDINO | 05460
050101 | * | 0.0171 | SOLANO | 05580
050113 |  | 0.0146 | SAN MATEO | 05510
050118 | * | 0.0132 | SAN JOAQUIN | 05490
050122 |  | 0.0132 | SAN JOAQUIN | 05490
050129 | * | 0.0017 | SAN BERNARDINO | 05460
050133 | * | 0.0178 | YUBA | 05680
050136 | * | 0.0058 | SONOMA | 05590
050140 | * | 0.0017 | SAN BERNARDINO | 05460
050150 | * | 0.0342 | NEVADA | 05390
050152 |  | 0.0026 | SAN FRANCISCO | 05480
050167 |  | 0.0132 | SAN JOAQUIN | 05490
050168 | * | 0.0020 | ORANGE | 05400
050173 | * | 0.0020 | ORANGE | 05400
050174 | * | 0.0058 | SONOMA | 05590
050193 | * | 0.0020 | ORANGE | 05400
050194 | * | 0.0052 | SANTA CRUZ | 05540
050195 |  | 0.0010 | ALAMEDA | 05000
050197 | * | 0.0146 | SAN MATEO | 05510
050211 |  | 0.0010 | ALAMEDA | 05000
050224 | * | 0.0020 | ORANGE | 05400
050226 | * | 0.0020 | ORANGE | 05400
050228 |  | 0.0026 | SAN FRANCISCO | 05480
050230 | * | 0.0020 | ORANGE | 05400
050232 |  | 0.0103 | SAN LUIS OBISPO | 05500
050242 | * | 0.0052 | SANTA CRUZ | 05540
050245 | * | 0.0017 | SAN BERNARDINO | 05460
050264 |  | 0.0010 | ALAMEDA | 05000
050272 | * | 0.0017 | SAN BERNARDINO | 05460
050279 | * | 0.0017 | SAN BERNARDINO | 05460
050283 |  | 0.0010 | ALAMEDA | 05000
050289 |  | 0.0146 | SAN MATEO | 05510
050291 | * | 0.0058 | SONOMA | 05590
050298 |  | 0.0017 | SAN BERNARDINO | 05460
050300 | * | 0.0017 | SAN BERNARDINO | 05460
050305 |  | 0.0010 | ALAMEDA | 05000
050313 |  | 0.0132 | SAN JOAQUIN | 05490
050320 |  | 0.0010 | ALAMEDA | 05000
050325 |  | 0.0033 | TUOLUMNE | 05650
050327 | * | 0.0017 | SAN BERNARDINO | 05460
050335 | * | 0.0033 | TUOLUMNE | 05650
050336 |  | 0.0132 | SAN JOAQUIN | 05490
050348 | * | 0.0020 | ORANGE | 05400
050366 |  | 0.0015 | CALAVERAS | 05040
050367 | * | 0.0171 | SOLANO | 05580
050385 | * | 0.0058 | SONOMA | 05590
050407 |  | 0.0026 | SAN FRANCISCO | 05480
050426 | * | 0.0020 | ORANGE | 05400
050444 |  | 0.0233 | MERCED | 05340
050454 |  | 0.0026 | SAN FRANCISCO | 05480
050457 |  | 0.0026 | SAN FRANCISCO | 05480
050476 | * | 0.0278 | LAKE | 05160
050488 |  | 0.0010 | ALAMEDA | 05000
050494 | * | 0.0342 | NEVADA | 05390
050506 |  | 0.0103 | SAN LUIS OBISPO | 05500
050512 |  | 0.0010 | ALAMEDA | 05000
050517 | * | 0.0017 | SAN BERNARDINO | 05460
050526 | * | 0.0020 | ORANGE | 05400
050528 | * | 0.0233 | MERCED | 05340
050541 | * | 0.0146 | SAN MATEO | 05510
050543 | * | 0.0020 | ORANGE | 05400
050547 | * | 0.0058 | SONOMA | 05590
050548 | * | 0.0020 | ORANGE | 05400
050551 | * | 0.0020 | ORANGE | 05400
050567 | * | 0.0020 | ORANGE | 05400
050570 | * | 0.0020 | ORANGE | 05400
050580 | * | 0.0020 | ORANGE | 05400
050584 |  | 0.0017 | SAN BERNARDINO | 05460
050586 | * | 0.0017 | SAN BERNARDINO | 05460
050589 | * | 0.0020 | ORANGE | 05400
050603 | * | 0.0020 | ORANGE | 05400
050609 | * | 0.0020 | ORANGE | 05400
050618 | * | 0.0017 | SAN BERNARDINO | 05460
050633 |  | 0.0103 | SAN LUIS OBISPO | 05500
050667 | * | 0.0180 | NAPA | 05380
050668 |  | 0.0026 | SAN FRANCISCO | 05480
050678 | * | 0.0020 | ORANGE | 05400
050680 | * | 0.0171 | SOLANO | 05580
050690 | * | 0.0058 | SONOMA | 05590
050693 | * | 0.0020 | ORANGE | 05400
050714 |  | 0.0052 | SANTA CRUZ | 05540
050720 | * | 0.0020 | ORANGE | 05400
050744 | * | 0.0020 | ORANGE | 05400
050745 | * | 0.0020 | ORANGE | 05400
050746 | * | 0.0020 | ORANGE | 05400
050747 | * | 0.0020 | ORANGE | 05400
050748 |  | 0.0132 | SAN JOAQUIN | 05490
050754 |  | 0.0146 | SAN MATEO | 05510
050758 | * | 0.0017 | SAN BERNARDINO | 05460
060001 |  | 0.0042 | WELD | 06610
060003 | * | 0.0069 | BOULDER | 06060
060010 |  | 0.0153 | LARIMER | 06340
060027 | * | 0.0069 | BOULDER | 06060
060030 |  | 0.0153 | LARIMER | 06340
060103 | * | 0.0069 | BOULDER | 06060
060116 | * | 0.0069 | BOULDER | 06060
060119 |  | 0.0153 | LARIMER | 06340
070006 | * | 0.0045 | FAIRFIELD | 07000
070010 | * | 0.0045 | FAIRFIELD | 07000
070018 | * | 0.0045 | FAIRFIELD | 07000
070028 | * | 0.0045 | FAIRFIELD | 07000
070033 | * | 0.0045 | FAIRFIELD | 07000
070034 | * | 0.0045 | FAIRFIELD | 07000
080001 | * | 0.0063 | NEW CASTLE | 08010
080003 | * | 0.0063 | NEW CASTLE | 08010
100014 | * | 0.0047 | VOLUSIA | 10630
100017 | * | 0.0047 | VOLUSIA | 10630
100045 | * | 0.0047 | VOLUSIA | 10630
100047 | * | 0.0028 | CHARLOTTE | 10070
100068 | * | 0.0047 | VOLUSIA | 10630
100072 | * | 0.0047 | VOLUSIA | 10630
100077 | * | 0.0028 | CHARLOTTE | 10070
100081 | * | 0.0022 | WALTON | 10650
100102 |  | 0.0125 | COLUMBIA | 10110
100118 | * | 0.0177 | FLAGLER | 10170
100156 | * | 0.0125 | COLUMBIA | 10110
100232 | * | 0.0054 | PUTNAM | 10530
100236 | * | 0.0028 | CHARLOTTE | 10070
100252 | * | 0.0151 | OKEECHOBEE | 10460
100290 |  | 0.0582 | SUMTER | 10590
100292 | * | 0.0022 | WALTON | 10650
110023 | * | 0.0416 | GORDON | 11500
110029 | * | 0.0052 | HALL | 11550
110040 | * | 0.1455 | JACKSON | 11610
110041 | * | 0.0623 | HABERSHAM | 11540
110100 |  | 0.0790 | JEFFERSON | 11620
110101 |  | 0.0067 | COOK | 11311
110142 |  | 0.0185 | EVANS | 11441
110146 | * | 0.0805 | CAMDEN | 11170
110150 | * | 0.0227 | BALDWIN | 11030
110187 | * | 0.0643 | LUMPKIN | 11701
110189 | * | 0.0066 | FANNIN | 11450
110190 |  | 0.0241 | MACON | 11710
110205 |  | 0.0507 | GILMER | 11471
130003 | * | 0.0235 | NEZ PERCE | 13340
130024 |  | 0.0675 | BONNER | 13080
130049 | * | 0.0319 | KOOTENAI | 13270
130066 |  | 0.0319 | KOOTENAI | 13270
130067 | * | 0.0725 | BINGHAM | 13050
140001 |  | 0.0369 | FULTON | 14370
140026 |  | 0.0315 | LA SALLE | 14580
140043 | * | 0.0056 | WHITESIDE | 14988
140058 | * | 0.0126 | MORGAN | 14770
140110 | * | 0.0315 | LA SALLE | 14580
140116 |  | 0.0007 | MC HENRY | 14640
140160 | * | 0.0332 | STEPHENSON | 14970
140161 |  | 0.0168 | LIVINGSTON | 14610
140167 | * | 0.0632 | IROQUOIS | 14460
140176 |  | 0.0007 | MC HENRY | 14640
140234 |  | 0.0315 | LA SALLE | 14580
150006 | * | 0.0113 | LA PORTE | 15450
150015 | * | 0.0113 | LA PORTE | 15450
150022 |  | 0.0158 | MONTGOMERY | 15530
150030 | * | 0.0192 | HENRY | 15320
150072 |  | 0.0105 | CASS | 15080
150076 | * | 0.0215 | MARSHALL | 15490
150088 | * | 0.0111 | MADISON | 15470
150091 | * | 0.0050 | HUNTINGTON | 15340
150102 | * | 0.0108 | STARKE | 15740
150113 | * | 0.0111 | MADISON | 15470
150133 | * | 0.0193 | KOSCIUSKO | 15420
150146 | * | 0.0319 | NOBLE | 15560
160013 |  | 0.0179 | MUSCATINE | 16690
160030 |  | 0.0040 | STORY | 16840
160032 |  | 0.0235 | JASPER | 16490
160080 | * | 0.0066 | CLINTON | 16220
170137 | * | 0.0336 | DOUGLAS | 17220
170150 |  | 0.0166 | COWLEY | 17170
180012 | * | 0.0080 | HARDIN | 18460
180017 | * | 0.0035 | BARREN | 18040
180049 | * | 0.0488 | MADISON | 18750
180064 |  | 0.0314 | MONTGOMERY | 18860
180066 | * | 0.0439 | LOGAN | 18700
180070 |  | 0.0240 | GRAYSON | 18420
180079 |  | 0.0259 | HARRISON | 18480
190003 | * | 0.0085 | IBERIA | 19220
190015 | * | 0.0243 | TANGIPAHOA | 19520
190017 | * | 0.0187 | ST. LANDRY | 19480
190034 |  | 0.0189 | VERMILION | 19560
190044 |  | 0.0261 | ACADIA | 19000
190050 |  | 0.0044 | BEAUREGARD | 19050
190053 |  | 0.0101 | JEFFERSON DAVIS | 19260
190054 |  | 0.0085 | IBERIA | 19220
190078 |  | 0.0187 | ST. LANDRY | 19480
190086 | * | 0.0061 | LINCOLN | 19300
190088 | * | 0.0387 | WEBSTER | 19590
190099 |  | 0.0189 | AVOYELLES | 19040
190106 | * | 0.0102 | ALLEN | 19010
190116 |  | 0.0085 | MOREHOUSE | 19330
190133 |  | 0.0102 | ALLEN | 19010
190140 |  | 0.0035 | FRANKLIN | 19200
190144 | * | 0.0387 | WEBSTER | 19590
190145 |  | 0.0090 | LA SALLE | 19290
190184 | * | 0.0161 | CALDWELL | 19100
190190 |  | 0.0161 | CALDWELL | 19100
190191 | * | 0.0187 | ST. LANDRY | 19480
190246 |  | 0.0161 | CALDWELL | 19100
190257 | * | 0.0061 | LINCOLN | 19300
190277 |  | 0.0387 | WEBSTER | 19590
200024 | * | 0.0094 | ANDROSCOGGIN | 20000
200032 |  | 0.0466 | OXFORD | 20080
200034 | * | 0.0094 | ANDROSCOGGIN | 20000
200050 | * | 0.0227 | HANCOCK | 20040
210001 |  | 0.0187 | WASHINGTON | 21210
210023 |  | 0.0079 | ANNE ARUNDEL | 21010
210028 |  | 0.0512 | ST. MARYS | 21180
210043 |  | 0.0079 | ANNE ARUNDEL | 21010
210061 |  | 0.0188 | WORCESTER | 21230
220001 | * | 0.0067 | WORCESTER | 22170
220002 | * | 0.0271 | MIDDLESEX | 22090
220010 | * | 0.0355 | ESSEX | 22040
220011 | * | 0.0271 | MIDDLESEX | 22090
220019 | * | 0.0067 | WORCESTER | 22170
220025 | * | 0.0067 | WORCESTER | 22170
220029 | * | 0.0355 | ESSEX | 22040
220033 | * | 0.0355 | ESSEX | 22040
220035 | * | 0.0355 | ESSEX | 22040
220049 | * | 0.0271 | MIDDLESEX | 22090
220058 | * | 0.0067 | WORCESTER | 22170
220062 | * | 0.0067 | WORCESTER | 22170
220063 | * | 0.0271 | MIDDLESEX | 22090
220070 | * | 0.0271 | MIDDLESEX | 22090
220080 | * | 0.0355 | ESSEX | 22040
220082 | * | 0.0271 | MIDDLESEX | 22090
220084 | * | 0.0271 | MIDDLESEX | 22090
220090 | * | 0.0067 | WORCESTER | 22170
220095 | * | 0.0067 | WORCESTER | 22170
220098 | * | 0.0271 | MIDDLESEX | 22090
220101 | * | 0.0271 | MIDDLESEX | 22090
220105 | * | 0.0271 | MIDDLESEX | 22090
220163 | * | 0.0067 | WORCESTER | 22170
220171 | * | 0.0271 | MIDDLESEX | 22090
220174 | * | 0.0355 | ESSEX | 22040
220176 | * | 0.0067 | WORCESTER | 22170
230003 | * | 0.0220 | OTTAWA | 23690
230005 |  | 0.0473 | LENAWEE | 23450
230013 | * | 0.0025 | OAKLAND | 23620
230015 |  | 0.0295 | ST. JOSEPH | 23740
230019 | * | 0.0025 | OAKLAND | 23620
230021 | * | 0.0101 | BERRIEN | 23100
230022 | * | 0.0212 | BRANCH | 23110
230029 | * | 0.0025 | OAKLAND | 23620
230035 | * | 0.0095 | MONTCALM | 23580
230037 | * | 0.0210 | HILLSDALE | 23290
230047 | * | 0.0021 | MACOMB | 23490
230069 | * | 0.0210 | LIVINGSTON | 23460
230071 | * | 0.0025 | OAKLAND | 23620
230072 | * | 0.0220 | OTTAWA | 23690
230075 |  | 0.0047 | CALHOUN | 23120
230078 | * | 0.0101 | BERRIEN | 23100
230092 | * | 0.0223 | JACKSON | 23370
230093 |  | 0.0058 | MECOSTA | 23530
230096 | * | 0.0295 | ST. JOSEPH | 23740
230099 | * | 0.0231 | MONROE | 23570
230121 | * | 0.0678 | SHIAWASSEE | 23770
230130 | * | 0.0025 | OAKLAND | 23620
230151 | * | 0.0025 | OAKLAND | 23620
230174 | * | 0.0220 | OTTAWA | 23690
230195 | * | 0.0021 | MACOMB | 23490
230204 | * | 0.0021 | MACOMB | 23490
230207 | * | 0.0025 | OAKLAND | 23620
230208 | * | 0.0095 | MONTCALM | 23580
230217 |  | 0.0047 | CALHOUN | 23120
230222 | * | 0.0035 | MIDLAND | 23550
230223 | * | 0.0025 | OAKLAND | 23620
230227 | * | 0.0021 | MACOMB | 23490
230254 | * | 0.0025 | OAKLAND | 23620
230257 | * | 0.0021 | MACOMB | 23490
230264 | * | 0.0021 | MACOMB | 23490
230269 | * | 0.0025 | OAKLAND | 23620
230277 | * | 0.0025 | OAKLAND | 23620
230279 | * | 0.0210 | LIVINGSTON | 23460
230301 | * | 0.0025 | OAKLAND | 23620
240018 |  | 0.0805 | GOODHUE | 24240
240044 |  | 0.0625 | WINONA | 24840
240064 | * | 0.0134 | ITASCA | 24300
240069 | * | 0.0267 | STEELE | 24730
240071 | * | 0.0385 | RICE | 24650
240117 |  | 0.0527 | MOWER | 24490
240211 |  | 0.0812 | PINE | 24570
250023 | * | 0.0541 | PEARL RIVER | 25540
250040 | * | 0.0021 | JACKSON | 25290
250117 | * | 0.0541 | PEARL RIVER | 25540
250128 |  | 0.0446 | PANOLA | 25530
250162 |  | 0.0014 | HANCOCK | 25220
260059 |  | 0.0077 | LACLEDE | 26520
260064 | * | 0.0089 | AUDRAIN | 26030
260097 |  | 0.0300 | JOHNSON | 26500
260116 | * | 0.0087 | ST. FRANCOIS | 26930
260163 |  | 0.0087 | ST. FRANCOIS | 26930
280077 |  | 0.0080 | DODGE | 28260
280123 |  | 0.0123 | GAGE | 28330
290002 | * | 0.0277 | LYON | 29090
300011 | * | 0.0069 | HILLSBOROUGH | 30050
300012 | * | 0.0069 | HILLSBOROUGH | 30050
300017 | * | 0.0102 | ROCKINGHAM | 30070
300020 | * | 0.0069 | HILLSBOROUGH | 30050
300023 | * | 0.0102 | ROCKINGHAM | 30070
300029 | * | 0.0102 | ROCKINGHAM | 30070
300034 | * | 0.0069 | HILLSBOROUGH | 30050
310002 | * | 0.0268 | ESSEX | 31200
310009 | * | 0.0268 | ESSEX | 31200
310010 |  | 0.0092 | MERCER | 31260
310011 |  | 0.0115 | CAPE MAY | 31180
310015 | * | 0.0203 | MORRIS | 31300
310017 | * | 0.0203 | MORRIS | 31300
310018 | * | 0.0268 | ESSEX | 31200
310021 | * | 0.0092 | MERCER | 31260
310031 | * | 0.0153 | BURLINGTON | 31150
310038 | * | 0.0209 | MIDDLESEX | 31270
310039 | * | 0.0209 | MIDDLESEX | 31270
310044 |  | 0.0092 | MERCER | 31260
310050 | * | 0.0203 | MORRIS | 31300
310054 | * | 0.0268 | ESSEX | 31200
310057 | * | 0.0153 | BURLINGTON | 31150
310061 | * | 0.0153 | BURLINGTON | 31150
310069 | * | 0.0096 | SALEM | 31340
310070 | * | 0.0209 | MIDDLESEX | 31270
310076 | * | 0.0268 | ESSEX | 31200
310083 | * | 0.0268 | ESSEX | 31200
310091 | * | 0.0096 | SALEM | 31340
310092 |  | 0.0092 | MERCER | 31260
310093 | * | 0.0268 | ESSEX | 31200
310096 | * | 0.0268 | ESSEX | 31200
310108 | * | 0.0209 | MIDDLESEX | 31270
310110 |  | 0.0092 | MERCER | 31260
310119 | * | 0.0268 | ESSEX | 31200
320003 | * | 0.0629 | SAN MIGUEL | 32230
320011 |  | 0.0442 | RIO ARRIBA | 32190
320018 |  | 0.0024 | DONA ANA | 32060
320085 |  | 0.0024 | DONA ANA | 32060
330004 | * | 0.0633 | ULSTER | 33740
330008 | * | 0.0126 | WYOMING | 33900
330010 |  | 0.0067 | MONTGOMERY | 33380
330027 | * | 0.0123 | NASSAU | 33400
330033 |  | 0.0223 | CHENANGO | 33080
330047 |  | 0.0067 | MONTGOMERY | 33380
330073 | * | 0.0151 | GENESEE | 33290
330094 | * | 0.0503 | COLUMBIA | 33200
330103 | * | 0.0131 | CATTARAUGUS | 33040
330106 | * | 0.0123 | NASSAU | 33400
330126 | * | 0.0642 | ORANGE | 33540
330132 |  | 0.0131 | CATTARAUGUS | 33040
330135 |  | 0.0642 | ORANGE | 33540
330144 |  | 0.0054 | STEUBEN | 33690
330151 |  | 0.0054 | STEUBEN | 33690
330167 | * | 0.0123 | NASSAU | 33400
330175 |  | 0.0260 | CORTLAND | 33210
330181 | * | 0.0123 | NASSAU | 33400
330182 | * | 0.0123 | NASSAU | 33400
330191 | * | 0.0017 | WARREN | 33750
330198 | * | 0.0123 | NASSAU | 33400
330205 |  | 0.0642 | ORANGE | 33540
330224 | * | 0.0633 | ULSTER | 33740
330225 | * | 0.0123 | NASSAU | 33400
330235 | * | 0.0306 | CAYUGA | 33050
330259 | * | 0.0123 | NASSAU | 33400
330264 |  | 0.0642 | ORANGE | 33540
330276 |  | 0.0036 | FULTON | 33280
330277 | * | 0.0054 | STEUBEN | 33690
330331 | * | 0.0123 | NASSAU | 33400
330332 | * | 0.0123 | NASSAU | 33400
330372 | * | 0.0123 | NASSAU | 33400
330386 | * | 0.0745 | SULLIVAN | 33710
340020 |  | 0.0156 | LEE | 34520
340021 | * | 0.0162 | CLEVELAND | 34220
340024 |  | 0.0177 | SAMPSON | 34810
340027 | * | 0.0128 | LENOIR | 34530
340037 |  | 0.0162 | CLEVELAND | 34220
340038 |  | 0.0253 | BEAUFORT | 34060
340039 | * | 0.0101 | IREDELL | 34480
340068 | * | 0.0087 | COLUMBUS | 34230
340069 | * | 0.0015 | WAKE | 34910
340070 | * | 0.0395 | ALAMANCE | 34000
340071 | * | 0.0226 | HARNETT | 34420
340073 | * | 0.0015 | WAKE | 34910
340085 |  | 0.0250 | DAVIDSON | 34280
340096 |  | 0.0250 | DAVIDSON | 34280
340104 |  | 0.0162 | CLEVELAND | 34220
340114 | * | 0.0015 | WAKE | 34910
340126 | * | 0.0100 | WILSON | 34970
340129 | * | 0.0101 | IREDELL | 34480
340133 |  | 0.0308 | MARTIN | 34580
340138 | * | 0.0015 | WAKE | 34910
340144 | * | 0.0101 | IREDELL | 34480
340145 | * | 0.0336 | LINCOLN | 34540
340151 |  | 0.0052 | HALIFAX | 34410
340173 | * | 0.0015 | WAKE | 34910
360002 |  | 0.0141 | ASHLAND | 36020
360010 | * | 0.0074 | TUSCARAWAS | 36800
360013 | * | 0.0135 | SHELBY | 36760
360025 | * | 0.0077 | ERIE | 36220
360036 | * | 0.0126 | WAYNE | 36860
360040 |  | 0.0387 | KNOX | 36430
360044 |  | 0.0127 | DARKE | 36190
360065 | * | 0.0075 | HURON | 36400
360071 |  | 0.0035 | VAN WERT | 36820
360086 | * | 0.0186 | CLARK | 36110
360096 | * | 0.0071 | COLUMBIANA | 36140
360107 | * | 0.0119 | SANDUSKY | 36730
360125 | * | 0.0133 | ASHTABULA | 36030
360156 |  | 0.0119 | SANDUSKY | 36730
360175 | * | 0.0183 | CLINTON | 36130
360185 | * | 0.0071 | COLUMBIANA | 36140
360187 | * | 0.0186 | CLARK | 36110
360245 | * | 0.0133 | ASHTABULA | 36030
370014 | * | 0.0361 | BRYAN | 37060
370015 | * | 0.0366 | MAYES | 37480
370023 |  | 0.0090 | STEPHENS | 37680
370065 |  | 0.0096 | CRAIG | 37170
370072 |  | 0.0258 | LATIMER | 37380
370083 |  | 0.0051 | PUSHMATAHA | 37630
370100 |  | 0.0100 | CHOCTAW | 37110
370149 | * | 0.0302 | POTTAWATOMIE | 37620
370156 |  | 0.0121 | GARVIN | 37240
370169 |  | 0.0163 | MCINTOSH | 37450
370172 |  | 0.0258 | LATIMER | 37380
370214 |  | 0.0121 | GARVIN | 37240
380022 | * | 0.0067 | LINN | 38210
380029 |  | 0.0075 | MARION | 38230
380051 | * | 0.0075 | MARION | 38230
380056 |  | 0.0075 | MARION | 38230
390008 |  | 0.0060 | LAWRENCE | 39450
390016 | * | 0.0060 | LAWRENCE | 39450
390030 |  | 0.0284 | SCHUYLKILL | 39650
390031 | * | 0.0284 | SCHUYLKILL | 39650
390044 | * | 0.0191 | BERKS | 39110
390052 |  | 0.0047 | CLEARFIELD | 39230
390056 |  | 0.0036 | HUNTINGDON | 39380
390065 | * | 0.0532 | ADAMS | 39000
390066 | * | 0.0372 | LEBANON | 39460
390079 | * | 0.0003 | BRADFORD | 39130
390086 | * | 0.0047 | CLEARFIELD | 39230
390096 | * | 0.0191 | BERKS | 39110
390110 | * | 0.0003 | CAMBRIA | 39160
390113 | * | 0.0053 | CRAWFORD | 39260
390117 |  | 0.0002 | BEDFORD | 39100
390122 |  | 0.0053 | CRAWFORD | 39260
390125 |  | 0.0022 | WAYNE | 39760
390130 | * | 0.0003 | CAMBRIA | 39160
390138 | * | 0.0218 | FRANKLIN | 39350
390146 |  | 0.0022 | WARREN | 39740
390150 | * | 0.0031 | GREENE | 39370
390151 | * | 0.0218 | FRANKLIN | 39350
390162 | * | 0.0200 | NORTHAMPTON | 39590
390183 | * | 0.0284 | SCHUYLKILL | 39650
390201 |  | 0.1170 | MONROE | 39550
390236 |  | 0.0003 | BRADFORD | 39130
390313 | * | 0.0284 | SCHUYLKILL | 39650
390316 |  | 0.0191 | BERKS | 39110
420002 |  | 0.0004 | YORK | 42450
420007 | * | 0.0027 | SPARTANBURG | 42410
420009 | * | 0.0113 | OCONEE | 42360
420019 |  | 0.0158 | CHESTER | 42110
420020 | * | 0.0007 | GEORGETOWN | 42210
420027 | * | 0.0108 | ANDERSON | 42030
420030 | * | 0.0069 | COLLETON | 42140
420036 | * | 0.0064 | LANCASTER | 42280
420039 | * | 0.0153 | UNION | 42430
420043 |  | 0.0157 | CHEROKEE | 42100
420053 |  | 0.0035 | NEWBERRY | 42350
420054 |  | 0.0003 | MARLBORO | 42340
420062 | * | 0.0109 | CHESTERFIELD | 42120
420068 | * | 0.0027 | ORANGEBURG | 42370
420069 | * | 0.0052 | CLARENDON | 42130
420070 | * | 0.0052 | SUMTER | 42420
420082 |  | 0.0008 | AIKEN | 42010
420083 | * | 0.0027 | SPARTANBURG | 42410
420098 | * | 0.0007 | GEORGETOWN | 42210
430008 |  | 0.0535 | BROOKINGS | 43050
430048 |  | 0.0129 | LAWRENCE | 43400
430094 |  | 0.0129 | LAWRENCE | 43400
440007 |  | 0.0219 | COFFEE | 44150
440008 | * | 0.0449 | HENDERSON | 44380
440012 |  | 0.0007 | SULLIVAN | 44810
440016 |  | 0.0144 | CARROLL | 44080
440017 |  | 0.0007 | SULLIVAN | 44810
440024 | * | 0.0230 | BRADLEY | 44050
440025 | * | 0.0007 | GREENE | 44290
440030 |  | 0.0056 | HAMBLEN | 44310
440031 |  | 0.0019 | ROANE | 44720
440033 |  | 0.0027 | CAMPBELL | 44060
440035 | * | 0.0301 | MONTGOMERY | 44620
440047 |  | 0.0338 | GIBSON | 44260
440050 |  | 0.0007 | GREENE | 44290
440051 |  | 0.0082 | MC NAIRY | 44540
440057 |  | 0.0021 | CLAIBORNE | 44120
440060 | * | 0.0338 | GIBSON | 44260
440067 | * | 0.0056 | HAMBLEN | 44310
440070 |  | 0.0109 | DECATUR | 44190
440081 |  | 0.0052 | SEVIER | 44770
440084 |  | 0.0025 | MONROE | 44610
440109 |  | 0.0070 | HARDIN | 44350
440115 |  | 0.0338 | GIBSON | 44260
440137 |  | 0.0738 | BEDFORD | 44010
440144 | * | 0.0219 | COFFEE | 44150
440148 | * | 0.0296 | DE KALB | 44200
440153 |  | 0.0007 | COCKE | 44140
440174 |  | 0.0312 | HAYWOOD | 44370
440176 |  | 0.0007 | SULLIVAN | 44810
440180 |  | 0.0027 | CAMPBELL | 44060
440181 |  | 0.0365 | HARDEMAN | 44340
440182 |  | 0.0144 | CARROLL | 44080
440185 | * | 0.0230 | BRADLEY | 44050
450032 |  | 0.0254 | HARRISON | 45620
450039 | * | 0.0024 | TARRANT | 45910
450052 | * | 0.0276 | BOSQUE | 45160
450059 |  | 0.0075 | COMAL | 45320
450064 | * | 0.0024 | TARRANT | 45910
450087 | * | 0.0024 | TARRANT | 45910
450090 |  | 0.0650 | COOKE | 45340
450099 | * | 0.0145 | GRAY | 45563
450135 | * | 0.0024 | TARRANT | 45910
450137 | * | 0.0024 | TARRANT | 45910
450144 |  | 0.0559 | ANDREWS | 45010
450163 |  | 0.0054 | KLEBERG | 45743
450192 |  | 0.0271 | HILL | 45651
450194 |  | 0.0213 | CHEROKEE | 45281
450210 |  | 0.0151 | PANOLA | 45842
450224 | * | 0.0195 | WOOD | 45974
450236 |  | 0.0389 | HOPKINS | 45654
450270 |  | 0.0271 | HILL | 45651
450283 | * | 0.0653 | VAN ZANDT | 45947
450324 | * | 0.0132 | GRAYSON | 45564
450347 | * | 0.0370 | WALKER | 45949
450348 | * | 0.0059 | FALLS | 45500
450370 |  | 0.0235 | COLORADO | 45312
450389 | * | 0.0618 | HENDERSON | 45640
450393 | * | 0.0132 | GRAYSON | 45564
450395 | * | 0.0441 | POLK | 45850
450419 | * | 0.0024 | TARRANT | 45910
450438 |  | 0.0235 | COLORADO | 45312
450451 |  | 0.0536 | SOMERVELL | 45893
450460 |  | 0.0053 | TYLER | 45942
450469 | * | 0.0132 | GRAYSON | 45564
450497 |  | 0.0375 | MONTAGUE | 45800
450539 |  | 0.0067 | HALE | 45582
450547 | * | 0.0195 | WOOD | 45974
450563 | * | 0.0024 | TARRANT | 45910
450565 | * | 0.0486 | PALO PINTO | 45841
450573 |  | 0.0126 | JASPER | 45690
450596 | * | 0.0743 | HOOD | 45653
450615 |  | 0.0032 | CASS | 45260
450639 | * | 0.0024 | TARRANT | 45910
450641 |  | 0.0375 | MONTAGUE | 45800
450672 | * | 0.0024 | TARRANT | 45910
450675 | * | 0.0024 | TARRANT | 45910
450677 | * | 0.0024 | TARRANT | 45910
450698 |  | 0.0127 | LAMB | 45751
450747 | * | 0.0126 | ANDERSON | 45000
450755 |  | 0.0276 | HOCKLEY | 45652
450770 | * | 0.0182 | MILAM | 45795
450779 | * | 0.0024 | TARRANT | 45910
450813 | * | 0.0126 | ANDERSON | 45000
450838 |  | 0.0126 | JASPER | 45690
450872 | * | 0.0024 | TARRANT | 45910
450880 | * | 0.0024 | TARRANT | 45910
450884 |  | 0.0049 | UPSHUR | 45943
450886 | * | 0.0024 | TARRANT | 45910
450888 |  | 0.0024 | TARRANT | 45910
460001 |  | 0.0023 | UTAH | 46240
460013 |  | 0.0023 | UTAH | 46240
460017 |  | 0.0383 | BOX ELDER | 46010
460023 |  | 0.0023 | UTAH | 46240
460039 | * | 0.0383 | BOX ELDER | 46010
460043 |  | 0.0023 | UTAH | 46240
460052 |  | 0.0023 | UTAH | 46240
460055 |  | 0.0023 | UTAH | 46240
490019 | * | 0.1088 | CULPEPER | 49230
490084 |  | 0.0187 | ESSEX | 49280
490110 |  | 0.0185 | MONTGOMERY | 49600
500003 | * | 0.0166 | SKAGIT | 50280
500007 | * | 0.0166 | SKAGIT | 50280
500019 |  | 0.0131 | LEWIS | 50200
500039 | * | 0.0094 | KITSAP | 50170
500041 | * | 0.0020 | COWLITZ | 50070
510012 |  | 0.0124 | MASON | 51260
510018 | * | 0.0188 | JACKSON | 51170
510047 | * | 0.0269 | MARION | 51240
510077 | * | 0.0021 | MINGO | 51290
520028 | * | 0.0286 | GREEN | 52220
520035 |  | 0.0076 | SHEBOYGAN | 52580
520044 |  | 0.0076 | SHEBOYGAN | 52580
520057 |  | 0.0193 | SAUK | 52550
520059 | * | 0.0195 | RACINE | 52500
520071 | * | 0.0161 | JEFFERSON | 52270
520076 | * | 0.0146 | DODGE | 52130
520095 |  | 0.0193 | SAUK | 52550
520096 | * | 0.0195 | RACINE | 52500
520102 | * | 0.0242 | WALWORTH | 52630
520116 | * | 0.0161 | JEFFERSON | 52270
670015 |  | 0.0024 | TARRANT | 45910
670023 |  | 0.0024 | TARRANT | 45910

Table 5.—List of Medicare Severity Diagnosis-Related Groups (MS-DRGs), Relative Weighting Factors, and Geometric and Arithmetic Mean Length of Stay
MS-DRG | FY 2009 proposed rule post-acute DRG | FY 2009 proposed rule special pay DRG | MDC | Type | MS-DRG title | Weights | Geometric mean LOS | Arithmetic mean LOS
001 | No | No | PRE | SURG | Heart transplant or implant of heart assist system w MCC | 23.4061 | 29.1 | 40.2
002 | No | No | PRE | SURG | Heart transplant or implant of heart assist system w/o MCC | 12.8956 | 18.4 | 24.7
003 | Yes | No | PRE | SURG | ECMO or trach w MV 96+ hrs or PDX exc face, mouth & neck w maj O.R | 18.3635 | 32.5 | 39.6
004 | Yes | No | PRE | SURG | Trach w MV 96+ hrs or PDX exc face, mouth & neck w/o maj O.R. | 11.1684 | 23.5 | 28.8
005 | No | No | PRE | SURG | Liver transplant w MCC or intestinal transplant | 10.7436 | 15.9 | 21.2
006 | No | No | PRE | SURG | Liver transplant w/o MCC | 4.8292 | 8.9 | 10.2
007 | No | No | PRE | SURG | Lung transplant | 9.7325 | 15.9 | 19.7
008 | No | No | PRE | SURG | Simultaneous pancreas/kidney transplant | 4.8917 | 10.1 | 11.9
009 | No | No | PRE | SURG | Bone marrow transplant | 6.6398 | 18.2 | 21.9
010 | No | No | PRE | SURG | Pancreas transplant | 3.7508 | 9.1 | 10.8
011 | No | No | PRE | SURG | Tracheostomy for face,mouth & neck diagnoses w MCC | 4.8900 | 13.1 | 16.7
012 | No | No | PRE | SURG | Tracheostomy for face,mouth & neck diagnoses w CC | 3.0563 | 8.9 | 10.7
013 | No | No | PRE | SURG | Tracheostomy for face,mouth & neck diagnoses w/o CC/MCC | 1.9057 | 5.9 | 6.9
020 | No | No | 01 | SURG | Intracranial vascular procedures w PDX hemorrhage w MCC | 8.3276 | 14.8 | 18.4
021 | No | No | 01 | SURG | Intracranial vascular procedures w PDX hemorrhage w CC | 6.3534 | 13.7 | 15.4
022 | No | No | 01 | SURG | Intracranial vascular procedures w PDX hemorrhage w/o CC/MCC | 4.2072 | 7.6 | 9.4
023 | No | No | 01 | SURG | Cranio w major dev impl/acute complex CNS PDX w MCC or chemo implant | 5.0763 | 8.9 | 12.7
024 | No | No | 01 | SURG | Cranio w major dev impl/acute complex CNS PDX w/o MCC | 3.4757 | 6.3 | 9.0
025 | Yes | No | 01 | SURG | Craniotomy & endovascular intracranial procedures w MCC | 5.0324 | 9.9 | 13.0
026 | Yes | No | 01 | SURG | Craniotomy & endovascular intracranial procedures w CC | 3.0107 | 6.5 | 8.2
027 | Yes | No | 01 | SURG | Craniotomy & endovascular intracranial procedures w/o CC/MCC | 2.1083 | 3.5 | 4.5
028 | Yes | Yes | 01 | SURG | Spinal procedures w MCC | 5.1853 | 10.7 | 14.3
029 | Yes | Yes | 01 | SURG | Spinal procedures w CC or spinal neurostimulators | 2.7949 | 5.1 | 7.1
030 | Yes | Yes | 01 | SURG | Spinal procedures w/o CC/MCC | 1.5395 | 2.8 | 3.7
031 | Yes | No | 01 | SURG | Ventricular shunt procedures w MCC | 4.3899 | 9.4 | 13.1
032 | Yes | No | 01 | SURG | Ventricular shunt procedures w CC | 1.9471 | 4.0 | 6.0
033 | Yes | No | 01 | SURG | Ventricular shunt procedures w/o CC/MCC | 1.3334 | 2.3 | 3.0
034 | No | No | 01 | SURG | Carotid artery stent procedure w MCC | 3.2182 | 4.6 | 7.2
035 | No | No | 01 | SURG | Carotid artery stent procedure w CC | 2.0258 | 2.1 | 3.3
036 | No | No | 01 | SURG | Carotid artery stent procedure w/o CC/MCC | 1.5706 | 1.3 | 1.6
037 | No | No | 01 | SURG | Extracranial procedures w MCC | 3.0208 | 5.9 | 8.5
038 | No | No | 01 | SURG | Extracranial procedures w CC | 1.5585 | 2.5 | 3.8
039 | No | No | 01 | SURG | Extracranial procedures w/o CC/MCC | 1.0057 | 1.5 | 1.8
040 | Yes | Yes | 01 | SURG | Periph/cranial nerve & other nerv syst proc w MCC | 3.9691 | 9.7 | 13.3
041 | Yes | Yes | 01 | SURG | Periph/cranial nerve & other nerv syst proc w CC or periph neurostim | 2.1517 | 5.3 | 7.2
042 | Yes | Yes | 01 | SURG | Periph/cranial nerve & other nerv syst proc w/o CC/MCC | 1.6771 | 2.5 | 3.6
052 | No | No | 01 | MED | Spinal disorders & injuries w CC/MCC | 1.6271 | 4.9 | 6.7
053 | No | No | 01 | MED | Spinal disorders & injuries w/o CC/MCC | 0.8617 | 3.2 | 4.0
054 | Yes | No | 01 | MED | Nervous system neoplasms w MCC | 1.5844 | 5.2 | 7.0
055 | Yes | No | 01 | MED | Nervous system neoplasms w/o MCC | 1.0781 | 3.8 | 5.1
056 | Yes | No | 01 | MED | Degenerative nervous system disorders w MCC | 1.6311 | 5.7 | 7.8
057 | Yes | No | 01 | MED | Degenerative nervous system disorders w/o MCC | 0.8755 | 3.9 | 5.0
058 | No | No | 01 | MED | Multiple sclerosis & cerebellar ataxia w MCC | 1.5373 | 5.7 | 7.6
059 | No | No | 01 | MED | Multiple sclerosis & cerebellar ataxia w CC | 0.9404 | 4.2 | 5.1
060 | No | No | 01 | MED | Multiple sclerosis & cerebellar ataxia w/o CC/MCC | 0.6978 | 3.4 | 4.0
061 | No | No | 01 | MED | Acute ischemic stroke w use of thrombolytic agent w MCC | 2.8759 | 6.8 | 8.9
062 | No | No | 01 | MED | Acute ischemic stroke w use of thrombolytic agent w CC | 1.9505 | 5.3 | 6.3
063 | No | No | 01 | MED | Acute ischemic stroke w use of thrombolytic agent w/o CC/MCC | 1.5168 | 3.9 | 4.5
064 | Yes | No | 01 | MED | Intracranial hemorrhage or cerebral infarction w MCC | 1.8446 | 5.5 | 7.5
065 | Yes | No | 01 | MED | Intracranial hemorrhage or cerebral infarction w CC | 1.1748 | 4.3 | 5.2
066 | Yes | No | 01 | MED | Intracranial hemorrhage or cerebral infarction w/o CC/MCC | 0.8426 | 3.1 | 3.7
067 | No | No | 01 | MED | Nonspecific cva & precerebral occlusion w/o infarct w MCC | 1.3899 | 4.4 | 5.8
068 | No | No | 01 | MED | Nonspecific cva & precerebral occlusion w/o infarct w/o MCC | 0.8449 | 2.7 | 3.4
069 | No | No | 01 | MED | Transient ischemia | 0.7143 | 2.4 | 3.0
070 | Yes | No | 01 | MED | Nonspecific cerebrovascular disorders w MCC | 1.8241 | 6.0 | 7.9
071 | Yes | No | 01 | MED | Nonspecific cerebrovascular disorders w CC | 1.1307 | 4.4 | 5.6
072 | Yes | No | 01 | MED | Nonspecific cerebrovascular disorders w/o CC/MCC | 0.7629 | 2.8 | 3.5
073 | No | No | 01 | MED | Cranial & peripheral nerve disorders w MCC | 1.3037 | 4.7 | 6.2
074 | No | No | 01 | MED | Cranial & peripheral nerve disorders w/o MCC | 0.8406 | 3.4 | 4.3
075 | No | No | 01 | MED | Viral meningitis w CC/MCC | 1.6738 | 5.7 | 7.3
076 | No | No | 01 | MED | Viral meningitis w/o CC/MCC | 0.8544 | 3.4 | 4.1
077 | No | No | 01 | MED | Hypertensive encephalopathy w MCC | 1.6225 | 5.2 | 6.7
078 | No | No | 01 | MED | Hypertensive encephalopathy w CC | 1.0050 | 3.6 | 4.4
079 | No | No | 01 | MED | Hypertensive encephalopathy w/o CC/MCC | 0.7377 | 2.8 | 3.4
080 | No | No | 01 | MED | Nontraumatic stupor & coma w MCC | 1.1007 | 3.8 | 5.1
081 | No | No | 01 | MED | Nontraumatic stupor & coma w/o MCC | 0.7094 | 2.7 | 3.5
082 | No | No | 01 | MED | Traumatic stupor & coma, coma >1 hr w MCC | 2.0177 | 3.7 | 6.4
083 | No | No | 01 | MED | Traumatic stupor & coma, coma >1 hr w CC | 1.3027 | 3.7 | 5.0
084 | No | No | 01 | MED | Traumatic stupor & coma, coma >1 hr w/o CC/MCC | 0.8720 | 2.4 | 3.1
085 | Yes | No | 01 | MED | Traumatic stupor & coma, coma <1 hr w MCC | 2.0942 | 5.5 | 7.6
086 | Yes | No | 01 | MED | Traumatic stupor & coma, coma <1 hr w CC | 1.2049 | 3.9 | 5.0
087 | Yes | No | 01 | MED | Traumatic stupor & coma, coma <1 hr w/o CC/MCC | 0.8008 | 2.6 | 3.3
088 | No | No | 01 | MED | Concussion w MCC | 1.5774 | 4.2 | 5.9
089 | No | No | 01 | MED | Concussion w CC | 0.9162 | 3.0 | 3.8
090 | No | No | 01 | MED | Concussion w/o CC/MCC | 0.6736 | 2.0 | 2.5
091 | Yes | No | 01 | MED | Other disorders of nervous system w MCC | 1.5641 | 4.6 | 6.4
092 | Yes | No | 01 | MED | Other disorders of nervous system w CC | 0.9195 | 3.5 | 4.5
093 | Yes | No | 01 | MED | Other disorders of nervous system w/o CC/MCC | 0.6753 | 2.6 | 3.2
094 | No | No | 01 | MED | Bacterial & tuberculous infections of nervous system w MCC | 3.3477 | 9.2 | 11.9
095 | No | No | 01 | MED | Bacterial & tuberculous infections of nervous system w CC | 2.1934 | 6.9 | 8.6
096 | No | No | 01 | MED | Bacterial & tuberculous infections of nervous system w/o CC/MCC | 1.8297 | 5.0 | 6.2
097 | No | No | 01 | MED | Non-bacterial infect of nervous sys exc viral meningitis w MCC | 3.2101 | 9.9 | 12.6
098 | No | No | 01 | MED | Non-bacterial infect of nervous sys exc viral meningitis w CC | 1.8564 | 6.8 | 8.4
099 | No | No | 01 | MED | Non-bacterial infect of nervous sys exc viral meningitis w/o CC/MCC | 1.2533 | 4.6 | 5.9
100 | Yes | No | 01 | MED | Seizures w MCC | 1.5064 | 4.7 | 6.4
101 | Yes | No | 01 | MED | Seizures w/o MCC | 0.7594 | 2.9 | 3.7
102 | No | No | 01 | MED | Headaches w MCC | 0.9594 | 3.3 | 4.5
103 | No | No | 01 | MED | Headaches w/o MCC | 0.6224 | 2.5 | 3.1
113 | No | No | 02 | SURG | Orbital procedures w CC/MCC | 1.5656 | 3.8 | 5.6
114 | No | No | 02 | SURG | Orbital procedures w/o CC/MCC | 0.8313 | 1.9 | 2.6
115 | No | No | 02 | SURG | Extraocular procedures except orbit | 1.0625 | 3.3 | 4.3
116 | No | No | 02 | SURG | Intraocular procedures w CC/MCC | 1.1338 | 2.6 | 4.1
117 | No | No | 02 | SURG | Intraocular procedures w/o CC/MCC | 0.6699 | 1.6 | 2.2
121 | No | No | 02 | MED | Acute major eye infections w CC/MCC | 0.9556 | 4.4 | 5.5
122 | No | No | 02 | MED | Acute major eye infections w/o CC/MCC | 0.6127 | 3.4 | 4.0
123 | No | No | 02 | MED | Neurological eye disorders | 0.6840 | 2.3 | 2.9
124 | No | No | 02 | MED | Other disorders of the eye w MCC | 1.0620 | 3.9 | 5.3
125 | No | No | 02 | MED | Other disorders of the eye w/o MCC | 0.6660 | 2.8 | 3.5
129 | No | No | 03 | SURG | Major head & neck procedures w CC/MCC or major device | 2.0147 | 3.7 | 5.2
130 | No | No | 03 | SURG | Major head & neck procedures w/o CC/MCC | 1.1588 | 2.4 | 2.9
131 | No | No | 03 | SURG | Cranial/facial procedures w CC/MCC | 1.9768 | 4.0 | 5.7
132 | No | No | 03 | SURG | Cranial/facial procedures w/o CC/MCC | 1.1041 | 2.1 | 2.7
133 | No | No | 03 | SURG | Other ear, nose, mouth & throat O.R. procedures w CC/MCC | 1.5491 | 3.6 | 5.3
134 | No | No | 03 | SURG | Other ear, nose, mouth & throat O.R. procedures w/o CC/MCC | 0.8243 | 1.7 | 2.2
135 | No | No | 03 | SURG | Sinus & mastoid procedures w CC/MCC | 1.6842 | 3.8 | 5.8
136 | No | No | 03 | SURG | Sinus & mastoid procedures w/o CC/MCC | 0.9023 | 1.7 | 2.3
137 | No | No | 03 | SURG | Mouth procedures w CC/MCC | 1.2668 | 3.8 | 5.4
138 | No | No | 03 | SURG | Mouth procedures w/o CC/MCC | 0.7368 | 1.9 | 2.5
139 | No | No | 03 | SURG | Salivary gland procedures | 0.8176 | 1.4 | 1.8
146 | No | No | 03 | MED | Ear, nose, mouth & throat malignancy w MCC | 2.0489 | 6.7 | 9.4
147 | No | No | 03 | MED | Ear, nose, mouth & throat malignancy w CC | 1.2486 | 4.3 | 6.1
148 | No | No | 03 | MED | Ear, nose, mouth & throat malignancy w/o CC/MCC | 0.8181 | 2.7 | 3.8
149 | No | No | 03 | MED | Dysequilibrium | 0.6086 | 2.2 | 2.7
150 | No | No | 03 | MED | Epistaxis w MCC | 1.2243 | 3.7 | 5.2
151 | No | No | 03 | MED | Epistaxis w/o MCC | 0.6018 | 2.3 | 2.9
152 | No | No | 03 | MED | Otitis media & URI w MCC | 0.8976 | 3.4 | 4.5
153 | No | No | 03 | MED | Otitis media & URI w/o MCC | 0.5948 | 2.6 | 3.2
154 | No | No | 03 | MED | Other ear, nose, mouth & throat diagnoses w MCC | 1.3768 | 4.6 | 6.3
155 | No | No | 03 | MED | Other ear, nose, mouth & throat diagnoses w CC | 0.8779 | 3.5 | 4.4
156 | No | No | 03 | MED | Other ear, nose, mouth & throat diagnoses w/o CC/MCC | 0.6306 | 2.5 | 3.2
157 | No | No | 03 | MED | Dental & oral diseases w MCC | 1.4793 | 4.7 | 6.7
158 | No | No | 03 | MED | Dental & oral diseases w CC | 0.8615 | 3.4 | 4.5
159 | No | No | 03 | MED | Dental & oral diseases w/o CC/MCC | 0.5952 | 2.4 | 3.1
163 | Yes | No | 04 | SURG | Major chest procedures w MCC | 4.9951 | 12.2 | 14.9
164 | Yes | No | 04 | SURG | Major chest procedures w CC | 2.5982 | 6.7 | 8.1
165 | Yes | No | 04 | SURG | Major chest procedures w/o CC/MCC | 1.8086 | 4.3 | 5.1
166 | Yes | No | 04 | SURG | Other resp system O.R. procedures w MCC | 3.6865 | 10.0 | 12.9
167 | Yes | No | 04 | SURG | Other resp system O.R. procedures w CC | 2.0256 | 6.3 | 8.0
168 | Yes | No | 04 | SURG | Other resp system O.R. procedures w/o CC/MCC | 1.3443 | 3.9 | 5.3
175 | Yes | No | 04 | MED | Pulmonary embolism w MCC | 1.5777 | 6.0 | 7.3
176 | Yes | No | 04 | MED | Pulmonary embolism w/o MCC | 1.0696 | 4.6 | 5.3
177 | Yes | No | 04 | MED | Respiratory infections & inflammations w MCC | 2.0391 | 7.2 | 9.1
178 | Yes | No | 04 | MED | Respiratory infections & inflammations w CC | 1.4979 | 6.0 | 7.4
179 | Yes | No | 04 | MED | Respiratory infections & inflammations w/o CC/MCC | 1.0409 | 4.6 | 5.6
180 | No | No | 04 | MED | Respiratory neoplasms w MCC | 1.6938 | 6.0 | 7.9
181 | No | No | 04 | MED | Respiratory neoplasms w CC | 1.2293 | 4.5 | 5.9
182 | No | No | 04 | MED | Respiratory neoplasms w/o CC/MCC | 0.8712 | 3.2 | 4.2
183 | No | No | 04 | MED | Major chest trauma w MCC | 1.5304 | 5.8 | 7.2
184 | No | No | 04 | MED | Major chest trauma w CC | 0.9405 | 3.8 | 4.6
185 | No | No | 04 | MED | Major chest trauma w/o CC/MCC | 0.6755 | 2.9 | 3.4
186 | Yes | No | 04 | MED | Pleural effusion w MCC | 1.6200 | 5.7 | 7.4
187 | Yes | No | 04 | MED | Pleural effusion w CC | 1.0940 | 4.1 | 5.3
188 | Yes | No | 04 | MED | Pleural effusion w/o CC/MCC | 0.8121 | 3.1 | 4.0
189 | No | No | 04 | MED | Pulmonary edema & respiratory failure | 1.3473 | 4.8 | 6.1
190 | Yes | No | 04 | MED | Chronic obstructive pulmonary disease w MCC | 1.3004 | 5.0 | 6.3
191 | Yes | No | 04 | MED | Chronic obstructive pulmonary disease w CC | 0.9734 | 4.1 | 5.0
192 | Yes | No | 04 | MED | Chronic obstructive pulmonary disease w/o CC/MCC | 0.7239 | 3.3 | 4.0
193 | Yes | No | 04 | MED | Simple pneumonia & pleurisy w MCC | 1.4303 | 5.4 | 6.8
194 | Yes | No | 04 | MED | Simple pneumonia & pleurisy w CC | 1.0041 | 4.4 | 5.3
195 | Yes | No | 04 | MED | Simple pneumonia & pleurisy w/o CC/MCC | 0.7301 | 3.5 | 4.1
196 | Yes | No | 04 | MED | Interstitial lung disease w MCC | 1.6006 | 5.9 | 7.4
197 | Yes | No | 04 | MED | Interstitial lung disease w CC | 1.0973 | 4.4 | 5.4
198 | Yes | No | 04 | MED | Interstitial lung disease w/o CC/MCC | 0.8158 | 3.3 | 4.1
199 | No | No | 04 | MED | Pneumothorax w MCC | 1.7383 | 6.4 | 8.3
200 | No | No | 04 | MED | Pneumothorax w CC | 1.0118 | 3.9 | 5.1
201 | No | No | 04 | MED | Pneumothorax w/o CC/MCC | 0.7399 | 3.1 | 4.1
202 | No | No | 04 | MED | Bronchitis & asthma w CC/MCC | 0.8135 | 3.5 | 4.4
203 | No | No | 04 | MED | Bronchitis & asthma w/o CC/MCC | 0.5938 | 2.8 | 3.4
204 | No | No | 04 | MED | Respiratory signs & symptoms | 0.6533 | 2.2 | 2.9
205 | Yes | No | 04 | MED | Other respiratory system diagnoses w MCC | 1.2427 | 4.0 | 5.5
206 | Yes | No | 04 | MED | Other respiratory system diagnoses w/o MCC | 0.7266 | 2.7 | 3.4
207 | Yes | No | 04 | MED | Respiratory system diagnosis w ventilator support 96+ hours | 5.1153 | 12.8 | 15.1
208 | No | No | 04 | MED | Respiratory system diagnosis w ventilator support <96 hours | 2.1827 | 5.2 | 7.2
215 | No | No | 05 | SURG | Other heart assist system implant | 12.3351 | 7.8 | 14.2
216 | Yes | No | 05 | SURG | Cardiac valve & oth maj cardiothoracic proc w card cath w MCC | 1..1072 | 15.7 | 18.4
217 | Yes | No | 05 | SURG | Cardiac valve & oth maj cardiothoracic proc w card cath w CC | 7.0028 | 10.9 | 12.3
218 | Yes | No | 05 | SURG | Cardiac valve & oth maj cardiothoracic proc w card cath w/o CC/MCC | 5.4355 | 8.4 | 9.1
219 | Yes | Yes | 05 | SURG | Cardiac valve & oth maj cardiothoracic proc w/o card cath w MCC | 8.0764 | 11.5 | 14.0
220 | Yes | Yes | 05 | SURG | Cardiac valve & oth maj cardiothoracic proc w/o card cath w CC | 5.3066 | 7.7 | 8.6
221 | Yes | Yes | 05 | SURG | Cardiac valve & oth maj cardiothoracic proc w/o card cath w/o CC/MCC | 4.4089 | 6.0 | 6.4
222 | No | No | 05 | SURG | Cardiac defib implant w cardiac cath w AMI/HF/shock w MCC | 8.6586 | 10.7 | 13.1
223 | No | No | 05 | SURG | Cardiac defib implant w cardiac cath w AMI/HF/shock w/o MCC | 6.3035 | 4.6 | 6.3
224 | No | No | 05 | SURG | Cardiac defib implant w cardiac cath w/o AMI/HF/shock w MCC | 7.9767 | 9.2 | 11.4
225 | No | No | 05 | SURG | Cardiac defib implant w cardiac cath w/o AMI/HF/shock w/o MCC | 5.9123 | 4.5 | 5.6
226 | No | No | 05 | SURG | Cardiac defibrillator implant w/o cardiac cath w MCC | 6.7278 | 6.2 | 9.3
227 | No | No | 05 | SURG | Cardiac defibrillator implant w/o cardiac cath w/o MCC | 5.0145 | 1.8 | 2.8
228 | Yes | No | 05 | SURG | Other cardiothoracic procedures w MCC | 7.8191 | 12.1 | 14.7
229 | Yes | No | 05 | SURG | Other cardiothoracic procedures w CC | 5.0358 | 7.9 | 9.1
230 | Yes | No | 05 | SURG | Other cardiothoracic procedures w/o CC/MCC | 4.0677 | 5.6 | 6.5
231 | No | No | 05 | SURG | Coronary bypass w PTCA w MCC | 7.6801 | 11.2 | 13.3
232 | No | No | 05 | SURG | Coronary bypass w PTCA w/o MCC | 5.5460 | 8.3 | 9.2
233 | Yes | No | 05 | SURG | Coronary bypass w cardiac cath w MCC | 7.0378 | 12.4 | 14.2
234 | Yes | No | 05 | SURG | Coronary bypass w cardiac cath w/o MCC | 4.6193 | 8.3 | 8.9
235 | Yes | No | 05 | SURG | Coronary bypass w/o cardiac cath w MCC | 5.6992 | 9.5 | 11.2
236 | Yes | No | 05 | SURG | Coronary bypass w/o cardiac cath w/o MCC | 3.6122 | 6.1 | 6.6
237 | No | No | 05 | SURG | Major cardiovasc procedures w MCC or thoracic aortic aneurysm repair | 5.0881 | 7.5 | 10.8
238 | No | No | 05 | SURG | Major cardiovasc procedures w/o MCC | 2.8962 | 3.2 | 4.6
239 | Yes | No | 05 | SURG | Amputation for circ sys disorders exc upper limb & toe w MCC | 4.4798 | 12.0 | 15.3
240 | Yes | No | 05 | SURG | Amputation for circ sys disorders exc upper limb & toe w CC | 2.6706 | 8.3 | 10.4
241 | Yes | No | 05 | SURG | Amputation for circ sys disorders exc upper limb & toe w/o CC/MCC | 1.5740 | 5.6 | 6.8
242 | Yes | No | 05 | SURG | Permanent cardiac pacemaker implant w MCC | 3.7041 | 6.7 | 8.8
243 | Yes | No | 05 | SURG | Permanent cardiac pacemaker implant w CC | 2.5934 | 3.8 | 5.1
244 | Yes | No | 05 | SURG | Permanent cardiac pacemaker implant w/o CC/MCC | 2.0098 | 2.2 | 2.9
245 | No | No | 05 | SURG | AICD generator procedures | 4.0022 | 2.1 | 3.2
246 | No | No | 05 | SURG | Perc cardiovasc proc w drug-eluting stent w MCC or 4+ vessels/stents | 3.1498 | 3.6 | 5.3
247 | No | No | 05 | SURG | Perc cardiovasc proc w drug-eluting stent w/o MCC | 1.9134 | 1.7 | 2.2
248 | No | No | 05 | SURG | Perc cardiovasc proc w non-drug-eluting stent w MCC or 4+ ves/stents | 2.8065 | 4.2 | 6.0
249 | No | No | 05 | SURG | Perc cardiovasc proc w non-drug-eluting stent w/o MCC | 1.6397 | 1.9 | 2.5
250 | No | No | 05 | SURG | Perc cardiovasc proc w/o coronary artery stent w MCC | 2.9923 | 5.4 | 7.8
251 | No | No | 05 | SURG | Perc cardiovasc proc w/o coronary artery stent w/o MCC | 1.6023 | 2.1 | 2.8
252 | No | No | 05 | SURG | Other vascular procedures w MCC | 2.9526 | 5.5 | 8.5
253 | No | No | 05 | SURG | Other vascular procedures w CC | 2.2593 | 4.2 | 6.0
254 | No | No | 05 | SURG | Other vascular procedures w/o CC/MCC | 1.5485 | 2.0 | 2.7
255 | Yes | No | 05 | SURG | Upper limb & toe amputation for circ system disorders w MCC | 2.4040 | 7.1 | 9.7
256 | Yes | No | 05 | SURG | Upper limb & toe amputation for circ system disorders w CC | 1.5895 | 5.8 | 7.5
257 | Yes | No | 05 | SURG | Upper limb & toe amputation for circ system disorders w/o CC/MCC | 1.0216 | 3.6 | 4.8
258 | No | No | 05 | SURG | Cardiac pacemaker device replacement w MCC | 2.8434 | 5.4 | 7.4
259 | No | No | 05 | SURG | Cardiac pacemaker device replacement w/o MCC | 1.6944 | 2.0 | 2.8
260 | No | No | 05 | SURG | Cardiac pacemaker revision except device replacement w MCC | 3.4221 | 8.1 | 11.2
261 | No | No | 05 | SURG | Cardiac pacemaker revision except device replacement w CC | 1.4398 | 3.0 | 4.2
262 | No | No | 05 | SURG | Cardiac pacemaker revision except device replacement w/o CC/MCC | 1.0173 | 2.0 | 2.6
263 | No | No | 05 | SURG | Vein ligation & stripping | 1.5392 | 3.4 | 5.4
264 | Yes | No | 05 | SURG | Other circulatory system O.R. procedures | 2.5265 | 5.8 | 8.9
265 | No | No | 05 | SURG | AICD lead procedures | 2.2140 | 2.2 | 3.5
280 | Yes | No | 05 | MED | Acute myocardial infarction, discharged alive w MCC | 1.9395 | 5.8 | 7.3
281 | Yes | No | 05 | MED | Acute myocardial infarction, discharged alive w CC | 1.2210 | 3.9 | 4.8
282 | Yes | No | 05 | MED | Acute myocardial infarction, discharged alive w/o CC/MCC | 0.8698 | 2.6 | 3.2
283 | No | No | 05 | MED | Acute myocardial infarction, expired w MCC | 1.6979 | 3.4 | 5.5
284 | No | No | 05 | MED | Acute myocardial infarction, expired w CC | 0.9130 | 2.2 | 3.2
285 | No | No | 05 | MED | Acute myocardial infarction, expired w/o CC/MCC | 0.6059 | 1.7 | 2.2
286 | No | No | 05 | MED | Circulatory disorders except AMI, w card cath w MCC | 1.9745 | 5.2 | 6.9
287 | No | No | 05 | MED | Circulatory disorders except AMI, w card cath w/o MCC | 1.0225 | 2.4 | 3.1
288 | Yes | No | 05 | MED | Acute & subacute endocarditis w MCC | 3.0720 | 9.2 | 11.8
289 | Yes | No | 05 | MED | Acute & subacute endocarditis w CC | 1.9524 | 7.0 | 8.7
290 | Yes | No | 05 | MED | Acute & subacute endocarditis w/o CC/MCC | 1.4507 | 5.2 | 6.5
291 | Yes | No | 05 | MED | Heart failure & shock w MCC | 1.4576 | 5.0 | 6.5
292 | Yes | No | 05 | MED | Heart failure & shock w CC | 1.0053 | 4.1 | 5.0
293 | Yes | No | 05 | MED | Heart failure & shock w/o CC/MCC | 0.7205 | 3.1 | 3.7
294 | No | No | 05 | MED | Deep vein thrombophlebitis w CC/MCC | 0.9564 | 4.6 | 5.5
295 | No | No | 05 | MED | Deep vein thrombophlebitis w/o CC/MCC | 0.6347 | 3.7 | 4.3
296 | No | No | 05 | MED | Cardiac arrest, unexplained w MCC | 1.1910 | 1.9 | 3.0
297 | No | No | 05 | MED | Cardiac arrest, unexplained w CC | 0.6502 | 1.4 | 1.8
298 | No | No | 05 | MED | Cardiac arrest, unexplained w/o CC/MCC | 0.4438 | 1.1 | 1.3
299 | Yes | No | 05 | MED | Peripheral vascular disorders w MCC | 1.4326 | 5.0 | 6.7
300 | Yes | No | 05 | MED | Peripheral vascular disorders w CC | 0.9245 | 4.1 | 5.0
301 | Yes | No | 05 | MED | Peripheral vascular disorders w/o CC/MCC | 0.6580 | 3.0 | 3.7
302 | No | No | 05 | MED | Atherosclerosis w MCC | 1.0307 | 3.2 | 4.4
303 | No | No | 05 | MED | Atherosclerosis w/o MCC | 0.5666 | 2.0 | 2.5
304 | No | No | 05 | MED | Hypertension w MCC | 1.0808 | 3.9 | 5.2
305 | No | No | 05 | MED | Hypertension w/o MCC | 0.5900 | 2.3 | 2.9
306 | No | No | 05 | MED | Cardiac congenital & valvular disorders w MCC | 1.5655 | 4.4 | 6.3
307 | No | No | 05 | MED | Cardiac congenital & valvular disorders w/o MCC | 0.7476 | 2.7 | 3.4
308 | No | No | 05 | MED | Cardiac arrhythmia & conduction disorders w MCC | 1.2981 | 4.1 | 5.5
309 | No | No | 05 | MED | Cardiac arrhythmia & conduction disorders w CC | 0.8320 | 3.1 | 3.9
310 | No | No | 05 | MED | Cardiac arrhythmia & conduction disorders w/o CC/MCC | 0.5829 | 2.3 | 2.8
311 | No | No | 05 | MED | Angina pectoris | 0.4969 | 1.9 | 2.3
312 | No | No | 05 | MED | Syncope & collapse | 0.7082 | 2.5 | 3.1
313 | No | No | 05 | MED | Chest pain | 0.5312 | 1.7 | 2.1
314 | Yes | No | 05 | MED | Other circulatory system diagnoses w MCC | 1.7517 | 5.0 | 7.0
315 | Yes | No | 05 | MED | Other circulatory system diagnoses w CC | 0.9922 | 3.5 | 4.6
316 | Yes | No | 05 | MED | Other circulatory system diagnoses w/o CC/MCC | 0.6513 | 2.4 | 3.0
326 | Yes | No | 06 | SURG | Stomach, esophageal & duodenal proc w MCC | 5.8025 | 13.2 | 17.1
327 | Yes | No | 06 | SURG | Stomach, esophageal & duodenal proc w CC | 2.8389 | 7.8 | 10.1
328 | Yes | No | 06 | SURG | Stomach, esophageal & duodenal proc w/o CC/MCC | 1.4576 | 3.2 | 4.4
329 | Yes | No | 06 | SURG | Major small & large bowel procedures w MCC | 5.1793 | 12.8 | 16.0
330 | Yes | No | 06 | SURG | Major small & large bowel procedures w CC | 2.5644 | 8.3 | 9.7
331 | Yes | No | 06 | SURG | Major small & large bowel procedures w/o CC/MCC | 1.6250 | 5.2 | 5.9
332 | Yes | No | 06 | SURG | Rectal resection w MCC | 4.5358 | 12.0 | 14.3
333 | Yes | No | 06 | SURG | Rectal resection w CC | 2.4487 | 7.7 | 8.8
334 | Yes | No | 06 | SURG | Rectal resection w/o CC/MCC | 1.6247 | 4.7 | 5.5
335 | Yes | No | 06 | SURG | Peritoneal adhesiolysis w MCC | 4.0903 | 11.6 | 14.1
336 | Yes | No | 06 | SURG | Peritoneal adhesiolysis w CC | 2.2387 | 7.5 | 9.1
337 | Yes | No | 06 | SURG | Peritoneal adhesiolysis w/o CC/MCC | 1.4519 | 4.4 | 5.6
338 | No | No | 06 | SURG | Appendectomy w complicated principal diag w MCC | 3.1787 | 8.8 | 10.7
339 | No | No | 06 | SURG | Appendectomy w complicated principal diag w CC | 1.8625 | 6.0 | 7.0
340 | No | No | 06 | SURG | Appendectomy w complicated principal diag w/o CC/MCC | 1.2267 | 3.5 | 4.2
341 | No | No | 06 | SURG | Appendectomy w/o complicated principal diag w MCC | 2.1659 | 5.3 | 7.1
342 | No | No | 06 | SURG | Appendectomy w/o complicated principal diag w CC | 1.3154 | 3.2 | 4.1
343 | No | No | 06 | SURG | Appendectomy w/o complicated principal diag w/o CC/MCC | 0.9067 | 1.8 | 2.2
344 | No | No | 06 | SURG | Minor small & large bowel procedures w MCC | 3.0822 | 9.2 | 11.8
345 | No | No | 06 | SURG | Minor small & large bowel procedures w CC | 1.6391 | 6.2 | 7.2
346 | No | No | 06 | SURG | Minor small & large bowel procedures w/o CC/MCC | 1.1869 | 4.4 | 4.9
347 | No | No | 06 | SURG | Anal & stomal procedures w MCC | 2.1823 | 6.4 | 8.8
348 | No | No | 06 | SURG | Anal & stomal procedures w CC | 1.2860 | 4.4 | 5.7
349 | No | No | 06 | SURG | Anal & stomal procedures w/o CC/MCC | 0.7681 | 2.4 | 3.1
350 | No | No | 06 | SURG | Inguinal & femoral hernia procedures w MCC | 2.2486 | 5.8 | 8.0
351 | No | No | 06 | SURG | Inguinal & femoral hernia procedures w CC | 1.2638 | 3.4 | 4.6
352 | No | No | 06 | SURG | Inguinal & femoral hernia procedures w/o CC/MCC | 0.8131 | 2.0 | 2.5
353 | No | No | 06 | SURG | Hernia procedures except inguinal & femoral w MCC | 2.4935 | 6.4 | 8.4
354 | No | No | 06 | SURG | Hernia procedures except inguinal & femoral w CC | 1.4046 | 4.0 | 5.1
355 | No | No | 06 | SURG | Hernia procedures except inguinal & femoral w/o CC/MCC | 0.9675 | 2.4 | 2.9
356 | Yes | No | 06 | SURG | Other digestive system O.R. procedures w MCC | 3.8574 | 9.5 | 12.9
357 | Yes | No | 06 | SURG | Other digestive system O.R. procedures w CC | 2.1703 | 6.2 | 8.1
358 | Yes | No | 06 | SURG | Other digestive system O.R. procedures w/o CC/MCC | 1.3493 | 3.3 | 4.5
368 | No | No | 06 | MED | Major esophageal disorders w MCC | 1.6184 | 5.1 | 6.6
369 | No | No | 06 | MED | Major esophageal disorders w CC | 1.0703 | 3.8 | 4.7
370 | No | No | 06 | MED | Major esophageal disorders w/o CC/MCC | 0.7835 | 2.8 | 3.4
371 | Yes | No | 06 | MED | Major gastrointestinal disorders & peritoneal infections w MCC | 1.9062 | 6.7 | 8.7
372 | Yes | No | 06 | MED | Major gastrointestinal disorders & peritoneal infections w CC | 1.3025 | 5.6 | 6.9
373 | Yes | No | 06 | MED | Major gastrointestinal disorders & peritoneal infections w/o CC/MCC | 0.8646 | 4.2 | 4.9
374 | Yes | No | 06 | MED | Digestive malignancy w MCC | 1.9057 | 6.3 | 8.6
375 | Yes | No | 06 | MED | Digestive malignancy w CC | 1.2523 | 4.6 | 6.0
376 | Yes | No | 06 | MED | Digestive malignancy w/o CC/MCC | 0.8820 | 3.2 | 4.2
377 | Yes | No | 06 | MED | G.I. hemorrhage w MCC | 1.6069 | 4.9 | 6.4
378 | Yes | No | 06 | MED | G.I. hemorrhage w CC | 1.0048 | 3.7 | 4.4
379 | Yes | No | 06 | MED | G.I. hemorrhage w/o CC/MCC | 0.7567 | 2.9 | 3.4
380 | Yes | No | 06 | MED | Complicated peptic ulcer w MCC | 1.7995 | 5.6 | 7.3
381 | Yes | No | 06 | MED | Complicated peptic ulcer w CC | 1.1138 | 4.2 | 5.2
382 | Yes | No | 06 | MED | Complicated peptic ulcer w/o CC/MCC | 0.8208 | 3.1 | 3.7
383 | No | No | 06 | MED | Uncomplicated peptic ulcer w MCC | 1.1789 | 4.4 | 5.5
384 | No | No | 06 | MED | Uncomplicated peptic ulcer w/o MCC | 0.7818 | 3.1 | 3.7
385 | No | No | 06 | MED | Inflammatory bowel disease w MCC | 1.8541 | 6.5 | 8.8
386 | No | No | 06 | MED | Inflammatory bowel disease w CC | 1.0601 | 4.5 | 5.7
387 | No | No | 06 | MED | Inflammatory bowel disease w/o CC/MCC | 0.7746 | 3.5 | 4.3
388 | Yes | No | 06 | MED | G.I. obstruction w MCC | 1.5392 | 5.5 | 7.3
389 | Yes | No | 06 | MED | G.I. obstruction w CC | 0.9244 | 4.0 | 5.0
390 | Yes | No | 06 | MED | G.I. obstruction w/o CC/MCC | 0.6333 | 3.0 | 3.6
391 | No | No | 06 | MED | Esophagitis, gastroent & misc digest disorders w MCC | 1.0810 | 3.9 | 5.2
392 | No | No | 06 | MED | Esophagitis, gastroent & misc digest disorders w/o MCC | 0.6685 | 2.8 | 3.5
393 | No | No | 06 | MED | Other digestive system diagnoses w MCC | 1.5367 | 4.9 | 6.9
394 | No | No | 06 | MED | Other digestive system diagnoses w CC | 0.9489 | 3.8 | 4.8
395 | No | No | 06 | MED | Other digestive system diagnoses w/o CC/MCC | 0.6745 | 2.6 | 3.3
405 | Yes | No | 07 | SURG | Pancreas, liver & shunt procedures w MCC | 5.6481 | 12.4 | 17.0
406 | Yes | No | 07 | SURG | Pancreas, liver & shunt procedures w CC | 2.7895 | 7.0 | 9.2
407 | Yes | No | 07 | SURG | Pancreas, liver & shunt procedures w/o CC/MCC | 1.8411 | 4.2 | 5.5
408 | No | No | 07 | SURG | Biliary tract proc except only cholecyst w or w/o c.d.e. w MCC | 4.2539 | 12.1 | 15.0
409 | No | No | 07 | SURG | Biliary tract proc except only cholecyst w or w/o c.d.e. w CC | 2.5819 | 8.3 | 9.8
410 | No | No | 07 | SURG | Biliary tract proc except only cholecyst w or w/o c.d.e. w/o CC/MCC | 1.6374 | 5.4 | 6.5
411 | No | No | 07 | SURG | Cholecystectomy w c.d.e. w MCC | 3.7602 | 10.4 | 12.4
412 | No | No | 07 | SURG | Cholecystectomy w c.d.e. w CC | 2.3633 | 7.5 | 8.6
413 | No | No | 07 | SURG | Cholecystectomy w c.d.e. w/o CC/MCC | 1.6896 | 5.0 | 5.9
414 | Yes | No | 07 | SURG | Cholecystectomy except by laparoscope w/o c.d.e. w MCC | 3.5777 | 9.7 | 11.7
415 | Yes | No | 07 | SURG | Cholecystectomy except by laparoscope w/o c.d.e. w CC | 2.0372 | 6.5 | 7.6
416 | Yes | No | 07 | SURG | Cholecystectomy except by laparoscope w/o c.d.e. w/o CC/MCC | 1.3290 | 4.1 | 4.8
417 | No | No | 07 | SURG | Laparoscopic cholecystectomy w/o c.d.e. w MCC | 2.4851 | 6.5 | 8.4
418 | No | No | 07 | SURG | Laparoscopic cholecystectomy w/o c.d.e. w CC | 1.6541 | 4.5 | 5.6
419 | No | No | 07 | SURG | Laparoscopic cholecystectomy w/o c.d.e. w/o CC/MCC | 1.1296 | 2.5 | 3.2
420 | No | No | 07 | SURG | Hepatobiliary diagnostic procedures w MCC | 4.0976 | 9.9 | 13.7
421 | No | No | 07 | SURG | Hepatobiliary diagnostic procedures w CC | 1.8978 | 5.6 | 7.7
422 | No | No | 07 | SURG | Hepatobiliary diagnostic procedures w/o CC/MCC | 1.2275 | 3.2 | 4.4
423 | No | No | 07 | SURG | Other hepatobiliary or pancreas O.R. procedures w MCC | 4.5535 | 11.8 | 15.9
424 | No | No | 07 | SURG | Other hepatobiliary or pancreas O.R. procedures w CC | 2.5159 | 7.9 | 10.4
425 | No | No | 07 | SURG | Other hepatobiliary or pancreas O.R. procedures w/o CC/MCC | 1.3760 | 4.0 | 5.4
432 | No | No | 07 | MED | Cirrhosis & alcoholic hepatitis w MCC | 1.6776 | 5.2 | 7.0
433 | No | No | 07 | MED | Cirrhosis & alcoholic hepatitis w CC | 0.9378 | 3.8 | 4.9
434 | No | No | 07 | MED | Cirrhosis & alcoholic hepatitis w/o CC/MCC | 0.6551 | 2.9 | 3.7
435 | No | No | 07 | MED | Malignancy of hepatobiliary system or pancreas w MCC | 1.7117 | 5.7 | 7.6
436 | No | No | 07 | MED | Malignancy of hepatobiliary system or pancreas w CC | 1.1892 | 4.5 | 5.8
437 | No | No | 07 | MED | Malignancy of hepatobiliary system or pancreas w/o CC/MCC | 0.9506 | 3.2 | 4.3
438 | No | No | 07 | MED | Disorders of pancreas except malignancy w MCC | 1.6992 | 5.5 | 7.5
439 | No | No | 07 | MED | Disorders of pancreas except malignancy w CC | 1.0223 | 4.2 | 5.3
440 | No | No | 07 | MED | Disorders of pancreas except malignancy w/o CC/MCC | 0.6963 | 3.2 | 3.8
441 | Yes | No | 07 | MED | Disorders of liver except malig, cirr, alc hepa w MCC | 1.6580 | 5.1 | 7.0
442 | Yes | No | 07 | MED | Disorders of liver except malig, cirr, alc hepa w CC | 0.9825 | 3.9 | 5.1
443 | Yes | No | 07 | MED | Disorders of liver except malig, cirr, alc hepa w/o CC/MCC | 0.6945 | 3.0 | 3.8
444 | No | No | 07 | MED | Disorders of the biliary tract w MCC | 1.5579 | 5.0 | 6.6
445 | No | No | 07 | MED | Disorders of the biliary tract w CC | 1.0375 | 3.8 | 4.7
446 | No | No | 07 | MED | Disorders of the biliary tract w/o CC/MCC | 0.7225 | 2.6 | 3.3
453 | No | No | 08 | SURG | Combined anterior/posterior spinal fusion w MCC | 9.8724 | 12.0 | 15.7
454 | No | No | 08 | SURG | Combined anterior/posterior spinal fusion w CC | 7.0370 | 6.5 | 8.0
455 | No | No | 08 | SURG | Combined anterior/posterior spinal fusion w/o CC/MCC | 5.1744 | 3.7 | 4.4
456 | No | No | 08 | SURG | Spinal fus exc cerv w spinal curv/malig/infec or 9+ fus w MCC | 8.5225 | 11.6 | 14.7
457 | No | No | 08 | SURG | Spinal fus exc cerv w spinal curv/malig/infec or 9+ fus w CC | 5.6672 | 6.2 | 7.5
458 | No | No | 08 | SURG | Spinal fus exc cerv w spinal curv/malig/infec or 9+ fus w/o CC/MCC | 4.7056 | 4.0 | 4.5
459 | Yes | No | 08 | SURG | Spinal fusion except cervical w MCC | 5.9847 | 7.6 | 9.4
460 | Yes | No | 08 | SURG | Spinal fusion except cervical w/o MCC | 3.5746 | 3.6 | 4.2
461 | No | No | 08 | SURG | Bilateral or multiple major joint procs of lower extremity w MCC | 4.5636 | 6.8 | 8.4
462 | No | No | 08 | SURG | Bilateral or multiple major joint procs of lower extremity w/o MCC | 3.1564 | 3.9 | 4.2
463 | Yes | No | 08 | SURG | Wnd debrid & skn grft exc hand, for musculo-conn tiss dis w MCC | 4.6669 | 12.0 | 16.6
464 | Yes | No | 08 | SURG | Wnd debrid & skn grft exc hand, for musculo-conn tiss dis w CC | 2.6117 | 7.7 | 10.2
465 | Yes | No | 08 | SURG | Wnd debrid & skn grft exc hand, for musculo-conn tiss dis w/o CC/MCC | 1.4955 | 4.4 | 5.9
466 | Yes | No | 08 | SURG | Revision of hip or knee replacement w MCC | 4.5564 | 7.4 | 9.2
467 | Yes | No | 08 | SURG | Revision of hip or knee replacement w CC | 3.0720 | 4.8 | 5.5
468 | Yes | No | 08 | SURG | Revision of hip or knee replacement w/o CC/MCC | 2.4597 | 3.6 | 3.9
469 | Yes | No | 08 | SURG | Major joint replacement or reattachment of lower extremity w MCC | 3.2979 | 6.9 | 8.2
470 | Yes | No | 08 | SURG | Major joint replacement or reattachment of lower extremity w/o MCC | 2.0144 | 3.6 | 3.9
471 | No | No | 08 | SURG | Cervical spinal fusion w MCC | 4.4277 | 7.0 | 9.8
472 | No | No | 08 | SURG | Cervical spinal fusion w CC | 2.6200 | 2.8 | 4.1
473 | No | No | 08 | SURG | Cervical spinal fusion w/o CC/MCC | 1.9213 | 1.6 | 2.0
474 | Yes | No | 08 | SURG | Amputation for musculoskeletal sys & conn tissue dis w MCC | 3.4435 | 9.5 | 12.6
475 | Yes | No | 08 | SURG | Amputation for musculoskeletal sys & conn tissue dis w CC | 1.9768 | 6.5 | 8.4
476 | Yes | No | 08 | SURG | Amputation for musculoskeletal sys & conn tissue dis w/o CC/MCC | 1.1001 | 3.7 | 4.8
477 | Yes | Yes | 08 | SURG | Biopsies of musculoskeletal system & connective tissue w MCC | 3.2545 | 8.9 | 11.9
478 | Yes | Yes | 08 | SURG | Biopsies of musculoskeletal system & connective tissue w CC | 2.1266 | 4.6 | 6.6
479 | Yes | Yes | 08 | SURG | Biopsies of musculoskeletal system & connective tissue w/o CC/MCC | 1.4779 | 1.9 | 2.8
480 | Yes | Yes | 08 | SURG | Hip & femur procedures except major joint w MCC | 2.9050 | 7.8 | 9.3
481 | Yes | Yes | 08 | SURG | Hip & femur procedures except major joint w CC | 1.8204 | 5.4 | 5.9
482 | Yes | Yes | 08 | SURG | Hip & femur procedures except major joint w/o CC/MCC | 1.4976 | 4.5 | 4.8
483 | Yes | No | 08 | SURG | Major joint & limb reattachment proc of upper extremity w CC/MCC | 2.2601 | 3.4 | 4.2
484 | Yes | No | 08 | SURG | Major joint & limb reattachment proc of upper extremity w/o CC/MCC | 1.7535 | 2.1 | 2.4
485 | No | No | 08 | SURG | Knee procedures w pdx of infection w MCC | 3.3033 | 9.8 | 12.1
486 | No | No | 08 | SURG | Knee procedures w pdx of infection w CC | 2.1664 | 6.8 | 8.0
487 | No | No | 08 | SURG | Knee procedures w pdx of infection w/o CC/MCC | 1.5507 | 4.9 | 5.7
488 | Yes | No | 08 | SURG | Knee procedures w/o pdx of infection w CC/MCC | 1.6836 | 4.1 | 5.2
489 | Yes | No | 08 | SURG | Knee procedures w/o pdx of infection w/o CC/MCC | 1.1604 | 2.6 | 3.0
490 | No | No | 08 | SURG | Back & neck proc exc spinal fusion w CC/MCC or disc device/neurostim | 1.7221 | 3.0 | 4.3
491 | No | No | 08 | SURG | Back & neck proc exc spinal fusion w/o CC/MCC | 0.9413 | 1.8 | 2.2
492 | Yes | Yes | 08 | SURG | Lower extrem & humer proc except hip,foot,femur w MCC | 2.7705 | 6.8 | 8.5
493 | Yes | Yes | 08 | SURG | Lower extrem & humer proc except hip,foot,femur w CC | 1.7631 | 4.3 | 5.3
494 | Yes | Yes | 08 | SURG | Lower extrem & humer proc except hip,foot,femur w/o CC/MCC | 1.2385 | 2.8 | 3.4
495 | Yes | No | 08 | SURG | Local excision & removal int fix devices exc hip & femur w MCC | 3.1782 | 8.1 | 11.0
496 | Yes | No | 08 | SURG | Local excision & removal int fix devices exc hip & femur w CC | 1.7775 | 4.6 | 6.0
497 | Yes | No | 08 | SURG | Local excision & removal int fix devices exc hip & femur w/o CC/MCC | 1.1277 | 2.3 | 3.0
498 | No | No | 08 | SURG | Local excision & removal int fix devices of hip & femur w CC/MCC | 2.0274 | 5.5 | 7.9
499 | No | No | 08 | SURG | Local excision & removal int fix devices of hip & femur w/o CC/MCC | 0.9097 | 2.3 | 3.0
500 | Yes | Yes | 08 | SURG | Soft tissue procedures w MCC | 2.8423 | 7.8 | 10.8
501 | Yes | Yes | 08 | SURG | Soft tissue procedures w CC | 1.4718 | 4.5 | 6.0
502 | Yes | Yes | 08 | SURG | Soft tissue procedures w/o CC/MCC | 0.9585 | 2.3 | 2.9
503 | No | No | 08 | SURG | Foot procedures w MCC | 2.3059 | 7.2 | 9.5
504 | No | No | 08 | SURG | Foot procedures w CC | 1.4725 | 5.1 | 6.5
505 | No | No | 08 | SURG | Foot procedures w/o CC/MCC | 0.9882 | 2.6 | 3.4
506 | No | No | 08 | SURG | Major thumb or joint procedures | 1.0286 | 2.5 | 3.4
507 | No | No | 08 | SURG | Major shoulder or elbow joint procedures w CC/MCC | 1.7188 | 3.7 | 5.1
508 | No | No | 08 | SURG | Major shoulder or elbow joint procedures w/o CC/MCC | 1.1156 | 1.7 | 2.1
509 | No | No | 08 | SURG | Arthroscopy | 1.1762 | 2.0 | 3.1
510 | Yes | No | 08 | SURG | Shoulder,elbow or forearm proc, exc major joint proc w MCC | 1.9973 | 4.9 | 6.4
511 | Yes | No | 08 | SURG | Shoulder,elbow or forearm proc, exc major joint proc w CC | 1.3434 | 3.2 | 4.0
512 | Yes | No | 08 | SURG | Shoulder,elbow or forearm proc, exc major joint proc w/o CC/MCC | 0.9533 | 1.8 | 2.2
513 | No | No | 08 | SURG | Hand or wrist proc, except major thumb or joint proc w CC/MCC | 1.2813 | 3.6 | 5.0
514 | No | No | 08 | SURG | Hand or wrist proc, except major thumb or joint proc w/o CC/MCC | 0.8067 | 2.1 | 2.8
515 | Yes | Yes | 08 | SURG | Other musculoskelet sys & conn tiss O.R. proc w MCC | 3.0601 | 7.9 | 10.4
516 | Yes | Yes | 08 | SURG | Other musculoskelet sys & conn tiss O.R. proc w CC | 1.8073 | 4.5 | 6.0
517 | Yes | Yes | 08 | SURG | Other musculoskelet sys & conn tiss O.R. proc w/o CC/MCC | 1.3326 | 2.1 | 3.0
533 | Yes | No | 08 | MED | Fractures of femur w MCC | 1.4207 | 4.8 | 6.7
534 | Yes | No | 08 | MED | Fractures of femur w/o MCC | 0.7318 | 3.3 | 4.0
535 | Yes | No | 08 | MED | Fractures of hip & pelvis w MCC | 1.3327 | 4.8 | 6.2
536 | Yes | No | 08 | MED | Fractures of hip & pelvis w/o MCC | 0.6934 | 3.4 | 3.9
537 | No | No | 08 | MED | Sprains, strains, & dislocations of hip, pelvis & thigh w CC/MCC | 0.8871 | 3.6 | 4.5
538 | No | No | 08 | MED | Sprains, strains, & dislocations of hip, pelvis & thigh w/o CC/MCC | 0.5787 | 2.7 | 3.2
539 | Yes | No | 08 | MED | Osteomyelitis w MCC | 2.0097 | 7.5 | 9.7
540 | Yes | No | 08 | MED | Osteomyelitis w CC | 1.3457 | 5.7 | 7.1
541 | Yes | No | 08 | MED | Osteomyelitis w/o CC/MCC | 0.9285 | 4.2 | 5.4
542 | Yes | No | 08 | MED | Pathological fractures & musculoskelet & conn tiss malig w MCC | 1.8953 | 6.7 | 8.8
543 | Yes | No | 08 | MED | Pathological fractures & musculoskelet & conn tiss malig w CC | 1.1263 | 4.8 | 5.9
544 | Yes | No | 08 | MED | Pathological fractures & musculoskelet & conn tiss malig w/o CC/MCC | 0.7672 | 3.7 | 4.4
545 | Yes | No | 08 | MED | Connective tissue disorders w MCC | 2.3477 | 6.5 | 9.1
546 | Yes | No | 08 | MED | Connective tissue disorders w CC | 1.0951 | 4.4 | 5.5
547 | Yes | No | 08 | MED | Connective tissue disorders w/o CC/MCC | 0.7224 | 3.1 | 3.8
548 | No | No | 08 | MED | Septic arthritis w MCC | 1.8776 | 6.7 | 8.9
549 | No | No | 08 | MED | Septic arthritis w CC | 1.1590 | 5.1 | 6.4
550 | No | No | 08 | MED | Septic arthritis w/o CC/MCC | 0.8006 | 3.7 | 4.5
551 | Yes | No | 08 | MED | Medical back problems w MCC | 1.5261 | 5.4 | 7.1
552 | Yes | No | 08 | MED | Medical back problems w/o MCC | 0.7623 | 3.4 | 4.1
553 | No | No | 08 | MED | Bone diseases & arthropathies w MCC | 1.0978 | 4.7 | 6.0
554 | No | No | 08 | MED | Bone diseases & arthropathies w/o MCC | 0.6305 | 3.0 | 3.7
555 | No | No | 08 | MED | Signs & symptoms of musculoskeletal system & conn tissue w MCC | 1.0014 | 3.6 | 4.8
556 | No | No | 08 | MED | Signs & symptoms of musculoskeletal system & conn tissue w/o MCC | 0.5738 | 2.5 | 3.1
557 | Yes | No | 08 | MED | Tendonitis, myositis & bursitis w MCC | 1.4264 | 5.2 | 6.6
558 | Yes | No | 08 | MED | Tendonitis, myositis & bursitis w/o MCC | 0.8009 | 3.5 | 4.3
559 | Yes | No | 08 | MED | Aftercare, musculoskeletal system & connective tissue w MCC | 1.7085 | 5.3 | 7.6
560 | Yes | No | 08 | MED | Aftercare, musculoskeletal system & connective tissue w CC | 0.9491 | 3.6 | 4.7
561 | Yes | No | 08 | MED | Aftercare, musculoskeletal system & connective tissue w/o CC/MCC | 0.5794 | 2.1 | 2.8
562 | Yes | No | 08 | MED | Fx, sprn, strn & disl except femur, hip, pelvis & thigh w MCC | 1.3933 | 4.9 | 6.4
563 | Yes | No | 08 | MED | Fx, sprn, strn & disl except femur, hip, pelvis & thigh w/o MCC | 0.6749 | 3.1 | 3.7
564 | No | No | 08 | MED | Other musculoskeletal sys & connective tissue diagnoses w MCC | 1.4053 | 5.2 | 7.0
565 | No | No | 08 | MED | Other musculoskeletal sys & connective tissue diagnoses w CC | 0.8848 | 3.9 | 5.0
566 | No | No | 08 | MED | Other musculoskeletal sys & connective tissue diagnoses w/o CC/MCC | 0.6673 | 3.0 | 3.7
573 | Yes | No | 09 | SURG | Skin graft &/or debrid for skn ulcer or cellulitis w MCC | 3.1703 | 9.6 | 13.1
574 | Yes | No | 09 | SURG | Skin graft &/or debrid for skn ulcer or cellulitis w CC | 1.9362 | 7.1 | 9.3
575 | Yes | No | 09 | SURG | Skin graft &/or debrid for skn ulcer or cellulitis w/o CC/MCC | 1.1176 | 4.7 | 5.9
576 | No | No | 09 | SURG | Skin graft &/or debrid exc for skin ulcer or cellulitis w MCC | 3.4522 | 8.4 | 13.0
577 | No | No | 09 | SURG | Skin graft &/or debrid exc for skin ulcer or cellulitis w CC | 1.5788 | 4.2 | 6.1
578 | No | No | 09 | SURG | Skin graft &/or debrid exc for skin ulcer or cellulitis w/o CC/MCC | 0.9803 | 2.4 | 3.3
579 | Yes | No | 09 | SURG | Other skin, subcut tiss & breast proc w MCC | 2.7821 | 7.8 | 10.7
580 | Yes | No | 09 | SURG | Other skin, subcut tiss & breast proc w CC | 1.4093 | 3.7 | 5.5
581 | Yes | No | 09 | SURG | Other skin, subcut tiss & breast proc w/o CC/MCC | 0.8606 | 1.9 | 2.6
582 | No | No | 09 | SURG | Mastectomy for malignancy w CC/MCC | 0.9682 | 2.1 | 2.8
583 | No | No | 09 | SURG | Mastectomy for malignancy w/o CC/MCC | 0.7498 | 1.6 | 1.8
584 | No | No | 09 | SURG | Breast biopsy, local excision & other breast procedures w CC/MCC | 1.4344 | 4.0 | 6.0
585 | No | No | 09 | SURG | Breast biopsy, local excision & other breast procedures w/o CC/MCC | 0.7995 | 1.7 | 2.2
592 | Yes | No | 09 | MED | Skin ulcers w MCC | 1.7469 | 6.6 | 8.9
593 | Yes | No | 09 | MED | Skin ulcers w CC | 1.1021 | 5.2 | 6.4
594 | Yes | No | 09 | MED | Skin ulcers w/o CC/MCC | 0.7871 | 4.1 | 5.1
595 | No | No | 09 | MED | Major skin disorders w MCC | 1.8159 | 6.2 | 8.3
596 | No | No | 09 | MED | Major skin disorders w/o MCC | 0.8200 | 3.8 | 4.8
597 | No | No | 09 | MED | Malignant breast disorders w MCC | 1.6001 | 5.9 | 8.2
598 | No | No | 09 | MED | Malignant breast disorders w CC | 1.0812 | 4.3 | 5.7
599 | No | No | 09 | MED | Malignant breast disorders w/o CC/MCC | 0.7309 | 2.7 | 3.7
600 | No | No | 09 | MED | Non-malignant breast disorders w CC/MCC | 0.9433 | 4.1 | 5.1
601 | No | No | 09 | MED | Non-malignant breast disorders w/o CC/MCC | 0.6539 | 3.1 | 3.9
602 | Yes | No | 09 | MED | Cellulitis w MCC | 1.3980 | 5.5 | 7.0
603 | Yes | No | 09 | MED | Cellulitis w/o MCC | 0.7988 | 3.9 | 4.7
604 | No | No | 09 | MED | Trauma to the skin, subcut tiss & breast w MCC | 1.1875 | 4.3 | 5.7
605 | No | No | 09 | MED | Trauma to the skin, subcut tiss & breast w/o MCC | 0.6739 | 2.8 | 3.5
606 | No | No | 09 | MED | Minor skin disorders w MCC | 1.2415 | 4.4 | 6.3
607 | No | No | 09 | MED | Minor skin disorders w/o MCC | 0.6434 | 2.9 | 3.8
614 | No | No | 10 | SURG | Adrenal & pituitary procedures w CC/MCC | 2.5046 | 5.1 | 7.0
615 | No | No | 10 | SURG | Adrenal & pituitary procedures w/o CC/MCC | 1.3782 | 2.7 | 3.2
616 | Yes | No | 10 | SURG | Amputat of lower limb for endocrine, nutrit, & metabol dis w MCC | 4.6284 | 13.3 | 16.9
617 | Yes | No | 10 | SURG | Amputat of lower limb for endocrine, nutrit, & metabol dis w CC | 2.0940 | 7.0 | 8.8
618 | Yes | No | 10 | SURG | Amputat of lower limb for endocrine, nutrit, & metabol dis w/o CC/MCC | 1.3234 | 5.1 | 6.4
619 | No | No | 10 | SURG | O.R. procedures for obesity w MCC | 3.3383 | 5.2 | 8.2
620 | No | No | 10 | SURG | O.R. procedures for obesity w CC | 1.8739 | 2.9 | 3.7
621 | No | No | 10 | SURG | O.R. procedures for obesity w/o CC/MCC | 1.4269 | 1.9 | 2.2
622 | Yes | No | 10 | SURG | Skin grafts & wound debrid for endoc, nutrit & metab dis w MCC | 3.1268 | 9.4 | 13.2
623 | Yes | No | 10 | SURG | Skin grafts & wound debrid for endoc, nutrit & metab dis w CC | 1.8728 | 6.7 | 8.6
624 | Yes | No | 10 | SURG | Skin grafts & wound debrid for endoc, nutrit & metab dis w/o CC/MCC | 1.0877 | 4.8 | 6.0
625 | No | No | 10 | SURG | Thyroid, parathyroid & thyroglossal procedures w MCC | 2.1260 | 4.7 | 7.1
626 | No | No | 10 | SURG | Thyroid, parathyroid & thyroglossal procedures w CC | 1.1284 | 2.1 | 3.1
627 | No | No | 10 | SURG | Thyroid, parathyroid & thyroglossal procedures w/o CC/MCC | 0.7378 | 1.3 | 1.5
628 | Yes | No | 10 | SURG | Other endocrine, nutrit & metab O.R. proc w MCC | 3.2732 | 7.5 | 11.2
629 | Yes | No | 10 | SURG | Other endocrine, nutrit & metab O.R. proc w CC | 2.2931 | 6.9 | 8.7
630 | Yes | No | 10 | SURG | Other endocrine, nutrit & metab O.R. proc w/o CC/MCC | 1.5069 | 4.0 | 5.5
637 | Yes | No | 10 | MED | Diabetes w MCC | 1.3538 | 4.5 | 6.1
638 | Yes | No | 10 | MED | Diabetes w CC | 0.8135 | 3.4 | 4.3
639 | Yes | No | 10 | MED | Diabetes w/o CC/MCC | 0.5577 | 2.5 | 3.0
640 | Yes | No | 10 | MED | Nutritional & misc metabolic disorders w MCC | 1.1105 | 3.9 | 5.4
641 | Yes | No | 10 | MED | Nutritional & misc metabolic disorders w/o MCC | 0.6798 | 3.1 | 3.8
642 | No | No | 10 | MED | Inborn errors of metabolism | 1.0169 | 3.7 | 5.2
643 | Yes | No | 10 | MED | Endocrine disorders w MCC | 1.6408 | 5.8 | 7.6
644 | Yes | No | 10 | MED | Endocrine disorders w CC | 1.0437 | 4.4 | 5.5
645 | Yes | No | 10 | MED | Endocrine disorders w/o CC/MCC | 0.7164 | 3.1 | 3.9
652 | No | No | 11 | SURG | Kidney transplant | 2.9787 | 6.6 | 7.8
653 | Yes | No | 11 | SURG | Major bladder procedures w MCC | 5.8091 | 13.6 | 16.9
654 | Yes | No | 11 | SURG | Major bladder procedures w CC | 2.9531 | 8.7 | 9.9
655 | Yes | No | 11 | SURG | Major bladder procedures w/o CC/MCC | 2.0241 | 5.7 | 6.5
656 | No | No | 11 | SURG | Kidney & ureter procedures for neoplasm w MCC | 3.2762 | 8.0 | 10.1
657 | No | No | 11 | SURG | Kidney & ureter procedures for neoplasm w CC | 1.8655 | 5.0 | 6.0
658 | No | No | 11 | SURG | Kidney & ureter procedures for neoplasm w/o CC/MCC | 1.3790 | 3.3 | 3.7
659 | Yes | No | 11 | SURG | Kidney & ureter procedures for non-neoplasm w MCC | 3.3225 | 8.0 | 11.2
660 | Yes | No | 11 | SURG | Kidney & ureter procedures for non-neoplasm w CC | 1.8913 | 4.8 | 6.5
661 | Yes | No | 11 | SURG | Kidney & ureter procedures for non-neoplasm w/o CC/MCC | 1.2600 | 2.6 | 3.3
662 | No | No | 11 | SURG | Minor bladder procedures w MCC | 2.7078 | 7.4 | 10.3
663 | No | No | 11 | SURG | Minor bladder procedures w CC | 1.4443 | 3.7 | 5.3
664 | No | No | 11 | SURG | Minor bladder procedures w/o CC/MCC | 0.9940 | 1.6 | 2.1
665 | No | No | 11 | SURG | Prostatectomy w MCC | 2.5635 | 8.2 | 11.1
666 | No | No | 11 | SURG | Prostatectomy w CC | 1.5553 | 4.3 | 6.4
667 | No | No | 11 | SURG | Prostatectomy w/o CC/MCC | 0.8259 | 2.1 | 2.9
668 | No | No | 11 | SURG | Transurethral procedures w MCC | 2.2348 | 6.2 | 8.5
669 | No | No | 11 | SURG | Transurethral procedures w CC | 1.2049 | 3.1 | 4.4
670 | No | No | 11 | SURG | Transurethral procedures w/o CC/MCC | 0.7672 | 1.9 | 2.5
671 | No | No | 11 | SURG | Urethral procedures w CC/MCC | 1.4136 | 4.1 | 5.9
672 | No | No | 11 | SURG | Urethral procedures w/o CC/MCC | 0.7962 | 1.9 | 2.5
673 | No | No | 11 | SURG | Other kidney & urinary tract procedures w MCC | 2.7645 | 5.8 | 9.7
674 | No | No | 11 | SURG | Other kidney & urinary tract procedures w CC | 2.1527 | 4.6 | 7.2
675 | No | No | 11 | SURG | Other kidney & urinary tract procedures w/o CC/MCC | 1.3137 | 1.5 | 2.1
682 | Yes | No | 11 | MED | Renal failure w MCC | 1.6374 | 5.2 | 7.2
683 | Yes | No | 11 | MED | Renal failure w CC | 1.1270 | 4.5 | 5.7
684 | Yes | No | 11 | MED | Renal failure w/o CC/MCC | 0.7278 | 3.2 | 3.9
685 | No | No | 11 | MED | Admit for renal dialysis | 0.8578 | 2.5 | 3.5
686 | No | No | 11 | MED | Kidney & urinary tract neoplasms w MCC | 1.6240 | 5.6 | 7.6
687 | No | No | 11 | MED | Kidney & urinary tract neoplasms w CC | 1.0719 | 4.1 | 5.4
688 | No | No | 11 | MED | Kidney & urinary tract neoplasms w/o CC/MCC | 0.6816 | 2.5 | 3.3
689 | Yes | No | 11 | MED | Kidney & urinary tract infections w MCC | 1.2271 | 4.9 | 6.2
690 | Yes | No | 11 | MED | Kidney & urinary tract infections w/o MCC | 0.7559 | 3.5 | 4.2
691 | No | No | 11 | MED | Urinary stones w esw lithotripsy w CC/MCC | 1.4503 | 2.9 | 4.0
692 | No | No | 11 | MED | Urinary stones w esw lithotripsy w/o CC/MCC | 1.1528 | 1.9 | 2.4
693 | No | No | 11 | MED | Urinary stones w/o esw lithotripsy w MCC | 1.1915 | 3.6 | 4.8
694 | No | No | 11 | MED | Urinary stones w/o esw lithotripsy w/o MCC | 0.6573 | 2.0 | 2.6
695 | No | No | 11 | MED | Kidney & urinary tract signs & symptoms w MCC | 1.1723 | 4.2 | 5.5
696 | No | No | 11 | MED | Kidney & urinary tract signs & symptoms w/o MCC | 0.6308 | 2.6 | 3.3
697 | No | No | 11 | MED | Urethral stricture | 0.6938 | 2.4 | 3.1
698 | Yes | No | 11 | MED | Other kidney & urinary tract diagnoses w MCC | 1.4719 | 5.0 | 6.7
699 | Yes | No | 11 | MED | Other kidney & urinary tract diagnoses w CC | 0.9700 | 3.7 | 4.8
700 | Yes | No | 11 | MED | Other kidney & urinary tract diagnoses w/o CC/MCC | 0.6813 | 2.8 | 3.6
707 | No | No | 12 | SURG | Major male pelvic procedures w CC/MCC | 1.6265 | 3.4 | 4.4
708 | No | No | 12 | SURG | Major male pelvic procedures w/o CC/MCC | 1.1839 | 1.8 | 2.1
709 | No | No | 12 | SURG | Penis procedures w CC/MCC | 1.8803 | 3.8 | 6.5
710 | No | No | 12 | SURG | Penis procedures w/o CC/MCC | 1.2586 | 1.4 | 1.8
711 | No | No | 12 | SURG | Testes procedures w CC/MCC | 2.0318 | 5.5 | 8.2
712 | No | No | 12 | SURG | Testes procedures w/o CC/MCC | 0.8077 | 2.2 | 3.0
713 | No | No | 12 | SURG | Transurethral prostatectomy w CC/MCC | 1.1188 | 2.9 | 4.2
714 | No | No | 12 | SURG | Transurethral prostatectomy w/o CC/MCC | 0.6333 | 1.7 | 1.9
715 | No | No | 12 | SURG | Other male reproductive system O.R. proc for malignancy w CC/MCC | 1.7120 | 3.9 | 6.3
716 | No | No | 12 | SURG | Other male reproductive system O.R. proc for malignancy w/o CC/MCC | 0.9713 | 1.2 | 1.4
717 | No | No | 12 | SURG | Other male reproductive system O.R. proc exc malignancy w CC/MCC | 1.8091 | 5.1 | 7.2
718 | No | No | 12 | SURG | Other male reproductive system O.R. proc exc malignancy w/o CC/MCC | 0.7849 | 2.2 | 2.8
722 | No | No | 12 | MED | Malignancy, male reproductive system w MCC | 1.5588 | 5.7 | 7.6
723 | No | No | 12 | MED | Malignancy, male reproductive system w CC | 0.9901 | 4.1 | 5.3
724 | No | No | 12 | MED | Malignancy, male reproductive system w/o CC/MCC | 0.6006 | 2.4 | 3.2
725 | No | No | 12 | MED | Benign prostatic hypertrophy w MCC | 1.0462 | 4.2 | 5.5
726 | No | No | 12 | MED | Benign prostatic hypertrophy w/o MCC | 0.6675 | 2.7 | 3.5
727 | No | No | 12 | MED | Inflammation of the male reproductive system w MCC | 1.3016 | 5.0 | 6.4
728 | No | No | 12 | MED | Inflammation of the male reproductive system w/o MCC | 0.6911 | 3.3 | 4.0
729 | No | No | 12 | MED | Other male reproductive system diagnoses w CC/MCC | 1.0993 | 4.0 | 5.6
730 | No | No | 12 | MED | Other male reproductive system diagnoses w/o CC/MCC | 0.5963 | 2.4 | 3.1
734 | No | No | 13 | SURG | Pelvic evisceration, rad hysterectomy & rad vulvectomy w CC/MCC | 2.3505 | 6.0 | 8.0
735 | No | No | 13 | SURG | Pelvic evisceration, rad hysterectomy & rad vulvectomy w/o CC/MCC | 1.1311 | 2.9 | 3.4
736 | No | No | 13 | SURG | Uterine & adnexa proc for ovarian or adnexal malignancy w MCC | 4.1736 | 11.2 | 13.8
737 | No | No | 13 | SURG | Uterine & adnexa proc for ovarian or adnexal malignancy w CC | 1.9577 | 6.0 | 7.2
738 | No | No | 13 | SURG | Uterine & adnexa proc for ovarian or adnexal malignancy w/o CC/MCC | 1.1577 | 3.5 | 3.9
739 | No | No | 13 | SURG | Uterine, adnexa proc for non-ovarian/adnexal malig w MCC | 3.0131 | 7.8 | 10.2
740 | No | No | 13 | SURG | Uterine, adnexa proc for non-ovarian/adnexal malig w CC | 1.4661 | 4.3 | 5.2
741 | No | No | 13 | SURG | Uterine, adnexa proc for non-ovarian/adnexal malig w/o CC/MCC | 1.0021 | 2.7 | 3.0
742 | No | No | 13 | SURG | Uterine & adnexa proc for non-malignancy w CC/MCC | 1.3433 | 3.5 | 4.5
743 | No | No | 13 | SURG | Uterine & adnexa proc for non-malignancy w/o CC/MCC | 0.8469 | 2.0 | 2.3
744 | No | No | 13 | SURG | D&C, conization, laparoscopy & tubal interruption w CC/MCC | 1.3918 | 4.1 | 5.8
745 | No | No | 13 | SURG | D&C, conization, laparoscopy & tubal interruption w/o CC/MCC | 0.7460 | 2.1 | 2.6
746 | No | No | 13 | SURG | Vagina, cervix & vulva procedures w CC/MCC | 1.2662 | 3.0 | 4.2
747 | No | No | 13 | SURG | Vagina, cervix & vulva procedures w/o CC/MCC | 0.8403 | 1.6 | 1.9
748 | No | No | 13 | SURG | Female reproductive system reconstructive procedures | 0.8193 | 1.5 | 1.7
749 | No | No | 13 | SURG | Other female reproductive system O.R. procedures w CC/MCC | 2.4919 | 6.7 | 9.3
750 | No | No | 13 | SURG | Other female reproductive system O.R. procedures w/o CC/MCC | 0.9660 | 2.5 | 3.1
754 | No | No | 13 | MED | Malignancy, female reproductive system w MCC | 1.7520 | 6.2 | 8.3
755 | No | No | 13 | MED | Malignancy, female reproductive system w CC | 1.0769 | 4.3 | 5.7
756 | No | No | 13 | MED | Malignancy, female reproductive system w/o CC/MCC | 0.6327 | 2.5 | 3.1
757 | No | No | 13 | MED | Infections, female reproductive system w MCC | 1.5775 | 6.5 | 8.1
758 | No | No | 13 | MED | Infections, female reproductive system w CC | 1.0621 | 4.9 | 6.1
759 | No | No | 13 | MED | Infections, female reproductive system w/o CC/MCC | 0.7646 | 3.6 | 4.5
760 | No | No | 13 | MED | Menstrual & other female reproductive system disorders w CC/MCC | 0.7917 | 3.0 | 4.0
761 | No | No | 13 | MED | Menstrual & other female reproductive system disorders w/o CC/MCC | 0.5008 | 1.9 | 2.4
765 | No | No | 14 | SURG | Cesarean section w CC/MCC | 1.0606 | 4.0 | 5.0
766 | No | No | 14 | SURG | Cesarean section w/o CC/MCC | 0.7486 | 3.0 | 3.2
767 | No | No | 14 | SURG | Vaginal delivery w sterilization &/or D&C | 0.9741 | 2.6 | 3.4
768 | No | No | 14 | SURG | Vaginal delivery w O.R. proc except steril &/or D&C | 1.7321 | 0.0 | 0.0
769 | No | No | 14 | SURG | Postpartum & post abortion diagnoses w O.R. procedure | 1.2935 | 3.2 | 4.6
770 | No | No | 14 | SURG | Abortion w D&C, aspiration curettage or hysterotomy | 0.6677 | 1.6 | 2.2
774 | No | No | 14 | MED | Vaginal delivery w complicating diagnoses | 0.6571 | 2.6 | 3.2
775 | No | No | 14 | MED | Vaginal delivery w/o complicating diagnoses | 0.4830 | 2.0 | 2.2
776 | No | No | 14 | MED | Postpartum & post abortion diagnoses w/o O.R. procedure | 0.6192 | 2.5 | 3.3
777 | No | No | 14 | MED | Ectopic pregnancy | 0.7721 | 1.9 | 2.2
778 | No | No | 14 | MED | Threatened abortion | 0.4373 | 2.0 | 3.0
779 | No | No | 14 | MED | Abortion w/o D&C | 0.4871 | 1.6 | 2.1
780 | No | No | 14 | MED | False labor | 0.1962 | 1.3 | 1.5
781 | No | No | 14 | MED | Other antepartum diagnoses w medical complications | 0.6154 | 2.6 | 3.8
782 | No | No | 14 | MED | Other antepartum diagnoses w/o medical complications | 0.3926 | 1.7 | 2.5
789 | No | No | 15 | MED | Neonates, died or transferred to another acute care facility | 1.4227 | 0.0 | 0.0
790 | No | No | 15 | MED | Extreme immaturity or respiratory distress syndrome, neonate | 4.6916 | 0.0 | 0.0
791 | No | No | 15 | MED | Prematurity w major problems | 3.2042 | 0.0 | 0.0
792 | No | No | 15 | MED | Prematurity w/o major problems | 1.9334 | 0.0 | 0.0
793 | No | No | 15 | MED | Full term neonate w major problems | 3.2914 | 0.0 | 0.0
794 | No | No | 15 | MED | Neonate w other significant problems | 1.1650 | 0.0 | 0.0
795 | No | No | 15 | MED | Normal newborn | 0.1577 | 0.0 | 0.0
799 | No | No | 16 | SURG | Splenectomy w MCC | 4.7602 | 10.8 | 14.1
800 | No | No | 16 | SURG | Splenectomy w CC | 2.5819 | 6.2 | 7.9
801 | No | No | 16 | SURG | Splenectomy w/o CC/MCC | 1.6484 | 3.8 | 4.9
802 | No | No | 16 | SURG | Other O.R. proc of the blood & blood forming organs w MCC | 3.3539 | 8.9 | 12.2
803 | No | No | 16 | SURG | Other O.R. proc of the blood & blood forming organs w CC | 1.7689 | 4.7 | 6.7
804 | No | No | 16 | SURG | Other O.R. proc of the blood & blood forming organs w/o CC/MCC | 1.0613 | 2.5 | 3.4
808 | No | No | 16 | MED | Major hematol/immun diag exc sickle cell crisis & coagul w MCC | 1.9850 | 6.3 | 8.2
809 | No | No | 16 | MED | Major hematol/immun diag exc sickle cell crisis & coagul w CC | 1.1737 | 4.2 | 5.3
810 | No | No | 16 | MED | Major hematol/immun diag exc sickle cell crisis & coagul w/o CC/MCC | 0.8957 | 3.2 | 4.0
811 | No | No | 16 | MED | Red blood cell disorders w MCC | 1.2742 | 4.0 | 5.7
812 | No | No | 16 | MED | Red blood cell disorders w/o MCC | 0.7629 | 2.8 | 3.7
813 | No | No | 16 | MED | Coagulation disorders | 1.3556 | 3.7 | 5.1
814 | No | No | 16 | MED | Reticuloendothelial & immunity disorders w MCC | 1.4932 | 5.0 | 6.7
815 | No | No | 16 | MED | Reticuloendothelial & immunity disorders w CC | 0.9973 | 3.8 | 5.0
816 | No | No | 16 | MED | Reticuloendothelial & immunity disorders w/o CC/MCC | 0.6989 | 2.8 | 3.5
820 | No | No | 17 | SURG | Lymphoma & leukemia w major O.R. procedure w MCC | 5.6401 | 13.3 | 17.7
821 | No | No | 17 | SURG | Lymphoma & leukemia w major O.R. procedure w CC | 2.2489 | 5.5 | 7.9
822 | No | No | 17 | SURG | Lymphoma & leukemia w major O.R. procedure w/o CC/MCC | 1.2399 | 2.6 | 3.5
823 | No | No | 17 | SURG | Lymphoma & non-acute leukemia w other O.R. proc w MCC | 4.0990 | 12.1 | 15.4
824 | No | No | 17 | SURG | Lymphoma & non-acute leukemia w other O.R. proc w CC | 2.1791 | 6.6 | 8.7
825 | No | No | 17 | SURG | Lymphoma & non-acute leukemia w other O.R. proc w/o CC/MCC | 1.2059 | 3.0 | 4.3
826 | No | No | 17 | SURG | Myeloprolif disord or poorly diff neopl w maj O.R. proc w MCC | 4.6385 | 11.1 | 15.0
827 | No | No | 17 | SURG | Myeloprolif disord or poorly diff neopl w maj O.R. proc w CC | 2.2759 | 5.9 | 8.0
828 | No | No | 17 | SURG | Myeloprolif disord or poorly diff neopl w maj O.R. proc w/o CC/MCC | 1.3050 | 3.0 | 3.8
829 | No | No | 17 | SURG | Myeloprolif disord or poorly diff neopl w other O.R. proc w CC/MCC | 2.8972 | 7.0 | 10.7
830 | No | No | 17 | SURG | Myeloprolif disord or poorly diff neopl w other O.R. proc w/o CC/MCC | 1.0802 | 2.5 | 3.7
834 | No | No | 17 | MED | Acute leukemia w/o major O.R. procedure w MCC | 4.5854 | 9.5 | 15.5
835 | No | No | 17 | MED | Acute leukemia w/o major O.R. procedure w CC | 2.5840 | 6.2 | 10.4
836 | No | No | 17 | MED | Acute leukemia w/o major O.R. procedure w/o CC/MCC | 1.2085 | 3.4 | 5.2
837 | No | No | 17 | MED | Chemo w acute leukemia as sdx or w high dose chemo agent w MCC | 6.4047 | 17.6 | 23.1
838 | No | No | 17 | MED | Chemo w acute leukemia as sdx w CC or high dose chemo agent | 2.9669 | 7.9 | 12.3
839 | No | No | 17 | MED | Chemo w acute leukemia as sdx w/o CC/MCC | 1.4181 | 5.0 | 6.4
840 | Yes | No | 17 | MED | Lymphoma & non-acute leukemia w MCC | 2.6031 | 7.7 | 10.4
841 | Yes | No | 17 | MED | Lymphoma & non-acute leukemia w CC | 1.5529 | 5.2 | 6.9
842 | Yes | No | 17 | MED | Lymphoma & non-acute leukemia w/o CC/MCC | 1.0261 | 3.4 | 4.6
843 | No | No | 17 | MED | Other myeloprolif dis or poorly diff neopl diag w MCC | 1.8203 | 6.1 | 8.5
844 | No | No | 17 | MED | Other myeloprolif dis or poorly diff neopl diag w CC | 1.2030 | 4.6 | 6.1
845 | No | No | 17 | MED | Other myeloprolif dis or poorly diff neopl diag w/o CC/MCC | 0.8143 | 3.3 | 4.3
846 | No | No | 17 | MED | Chemotherapy w/o acute leukemia as secondary diagnosis w MCC | 2.1299 | 5.8 | 8.4
847 | No | No | 17 | MED | Chemotherapy w/o acute leukemia as secondary diagnosis w CC | 0.9436 | 2.7 | 3.4
848 | No | No | 17 | MED | Chemotherapy w/o acute leukemia as secondary diagnosis w/o CC/MCC | 0.7995 | 2.5 | 3.1
849 | No | No | 17 | MED | Radiotherapy | 1.2021 | 4.4 | 6.0
853 | Yes | No | 18 | SURG | Infectious & parasitic diseases w O.R. procedure w MCC | 5.4286 | 12.7 | 16.7
854 | Yes | No | 18 | SURG | Infectious & parasitic diseases w O.R. procedure w CC | 2.9171 | 9.1 | 11.1
855 | Yes | No | 18 | SURG | Infectious & parasitic diseases w O.R. procedure w/o CC/MCC | 1.8093 | 5.6 | 7.0
856 | Yes | No | 18 | SURG | Postoperative or post-traumatic infections w O.R. proc w MCC | 4.7315 | 11.5 | 15.4
857 | Yes | No | 18 | SURG | Postoperative or post-traumatic infections w O.R. proc w CC | 2.0472 | 6.6 | 8.5
858 | Yes | No | 18 | SURG | Postoperative or post-traumatic infections w O.R. proc w/o CC/MCC | 1.3563 | 4.5 | 5.7
862 | Yes | No | 18 | MED | Postoperative & post-traumatic infections w MCC | 1.9123 | 6.1 | 8.2
863 | Yes | No | 18 | MED | Postoperative & post-traumatic infections w/o MCC | 0.9575 | 4.2 | 5.2
864 | No | No | 18 | MED | Fever of unknown origin | 0.8224 | 3.2 | 4.1
865 | No | No | 18 | MED | Viral illness w MCC | 1.4950 | 4.7 | 6.7
866 | No | No | 18 | MED | Viral illness w/o MCC | 0.6673 | 2.8 | 3.5
867 | Yes | No | 18 | MED | Other infectious & parasitic diseases diagnoses w MCC | 2.3423 | 7.0 | 9.6
868 | Yes | No | 18 | MED | Other infectious & parasitic diseases diagnoses w CC | 1.0761 | 4.5 | 5.8
869 | Yes | No | 18 | MED | Other infectious & parasitic diseases diagnoses w/o CC/MCC | 0.7628 | 3.5 | 4.3
870 | Yes | No | 18 | MED | Septicemia or severe sepsis w MV 96+ hours | 5.7422 | 12.9 | 15.5
871 | Yes | No | 18 | MED | Septicemia or severe sepsis w/o MV 96+ hours w MCC | 1.8211 | 5.5 | 7.5
872 | Yes | No | 18 | MED | Septicemia or severe sepsis w/o MV 96+ hours w/o MCC | 1.1188 | 4.7 | 5.7
876 | No | No | 19 | SURG | O.R. procedure w principal diagnoses of mental illness | 2.4279 | 7.8 | 11.9
880 | No | No | 19 | MED | Acute adjustment reaction & psychosocial dysfunction | 0.5867 | 2.4 | 3.2
881 | No | No | 19 | MED | Depressive neuroses | 0.5784 | 3.1 | 4.2
882 | No | No | 19 | MED | Neuroses except depressive | 0.6086 | 3.1 | 4.4
883 | No | No | 19 | MED | Disorders of personality & impulse control | 1.0102 | 4.4 | 7.4
884 | Yes | No | 19 | MED | Organic disturbances & mental retardation | 0.8923 | 4.1 | 5.5
885 | No | No | 19 | MED | Psychoses | 0.8380 | 5.5 | 7.6
886 | No | No | 19 | MED | Behavioral & developmental disorders | 0.7479 | 4.0 | 6.1
887 | No | No | 19 | MED | Other mental disorder diagnoses | 0.7275 | 3.0 | 4.6
894 | No | No | 20 | MED | Alcohol/drug abuse or dependence, left ama | 0.3842 | 2.1 | 3.0
895 | No | No | 20 | MED | Alcohol/drug abuse or dependence w rehabilitation therapy | 0.8727 | 8.1 | 10.5
896 | Yes | No | 20 | MED | Alcohol/drug abuse or dependence w/o rehabilitation therapy w MCC | 1.3787 | 4.8 | 6.6
897 | Yes | No | 20 | MED | Alcohol/drug abuse or dependence w/o rehabilitation therapy w/o MCC | 0.6152 | 3.3 | 4.1
901 | No | No | 21 | SURG | Wound debridements for injuries w MCC | 3.8708 | 9.9 | 15.1
902 | No | No | 21 | SURG | Wound debridements for injuries w CC | 1.6889 | 5.5 | 7.7
903 | No | No | 21 | SURG | Wound debridements for injuries w/o CC/MCC | 0.9976 | 3.4 | 4.6
904 | No | No | 21 | SURG | Skin grafts for injuries w CC/MCC | 2.9204 | 7.0 | 11.2
905 | No | No | 21 | SURG | Skin grafts for injuries w/o CC/MCC | 1.1156 | 3.4 | 4.7
906 | No | No | 21 | SURG | Hand procedures for injuries | 0.9941 | 2.1 | 3.1
907 | Yes | No | 21 | SURG | Other O.R. procedures for injuries w MCC | 3.6871 | 8.0 | 11.6
908 | Yes | No | 21 | SURG | Other O.R. procedures for injuries w CC | 1.9162 | 4.9 | 6.8
909 | Yes | No | 21 | SURG | Other O.R. procedures for injuries w/o CC/MCC | 1.1372 | 2.7 | 3.6
913 | No | No | 21 | MED | Traumatic injury w MCC | 1.2246 | 4.2 | 5.7
914 | No | No | 21 | MED | Traumatic injury w/o MCC | 0.6625 | 2.7 | 3.4
915 | No | No | 21 | MED | Allergic reactions w MCC | 1.2354 | 3.3 | 4.7
916 | No | No | 21 | MED | Allergic reactions w/o MCC | 0.4409 | 1.7 | 2.1
917 | Yes | No | 21 | MED | Poisoning & toxic effects of drugs w MCC | 1.4143 | 3.7 | 5.2
918 | Yes | No | 21 | MED | Poisoning & toxic effects of drugs w/o MCC | 0.5809 | 2.1 | 2.7
919 | No | No | 21 | MED | Complications of treatment w MCC | 1.5200 | 4.5 | 6.4
920 | No | No | 21 | MED | Complications of treatment w CC | 0.9220 | 3.3 | 4.4
921 | No | No | 21 | MED | Complications of treatment w/o CC/MCC | 0.6097 | 2.3 | 3.0
922 | No | No | 21 | MED | Other injury, poisoning & toxic effect diag w MCC | 1.3580 | 4.1 | 6.0
923 | No | No | 21 | MED | Other injury, poisoning & toxic effect diag w/o MCC | 0.6142 | 2.4 | 3.2
927 | No | No | 22 | SURG | Extensive burns or full thickness burns w MV 96+ hrs w skin graft | 14.0060 | 23.4 | 31.1
928 | No | No | 22 | SURG | Full thickness burn w skin graft or inhal inj w CC/MCC | 5.0621 | 11.7 | 16.0
929 | No | No | 22 | SURG | Full thickness burn w skin graft or inhal inj w/o CC/MCC | 2.1574 | 5.3 | 7.7
933 | No | No | 22 | MED | Extensive burns or full thickness burns w MV 96+ hrs w/o skin graft | 2.1246 | 2.3 | 4.3
934 | No | No | 22 | MED | Full thickness burn w/o skin grft or inhal inj | 1.2949 | 4.4 | 6.2
935 | No | No | 22 | MED | Non-extensive burns | 1.2209 | 3.6 | 5.4
939 | No | No | 23 | SURG | O.R. proc w diagnoses of other contact w health services w MCC | 2.6570 | 6.6 | 10.1
940 | No | No | 23 | SURG | O.R. proc w diagnoses of other contact w health services w CC | 1.6379 | 3.6 | 5.4
941 | No | No | 23 | SURG | O.R. proc w diagnoses of other contact w health services w/o CC/MCC | 1.0782 | 2.1 | 2.7
945 | Yes | No | 23 | MED | Rehabilitation w CC/MCC | 1.2869 | 8.6 | 10.5
946 | Yes | No | 23 | MED | Rehabilitation w/o CC/MCC | 1.0861 | 6.9 | 7.9
947 | Yes | No | 23 | MED | Signs & symptoms w MCC | 1.0525 | 3.8 | 5.0
948 | Yes | No | 23 | MED | Signs & symptoms w/o MCC | 0.6473 | 2.8 | 3.5
949 | No | No | 23 | MED | Aftercare w CC/MCC | 0.7925 | 2.6 | 4.1
950 | No | No | 23 | MED | Aftercare w/o CC/MCC | 0.5548 | 2.4 | 3.5
951 | No | No | 23 | MED | Other factors influencing health status | 0.7442 | 2.2 | 4.7
955 | No | No | 24 | SURG | Craniotomy for multiple significant trauma | 5.0969 | 8.6 | 12.3
956 | Yes | No | 24 | SURG | Limb reattachment, hip & femur proc for multiple significant trauma | 3.5263 | 7.6 | 9.3
957 | No | No | 24 | SURG | Other O.R. procedures for multiple significant trauma w MCC | 6.0787 | 10.2 | 14.9
958 | No | No | 24 | SURG | Other O.R. procedures for multiple significant trauma w CC | 3.6129 | 8.0 | 10.4
959 | No | No | 24 | SURG | Other O.R. procedures for multiple significant trauma w/o CC/MCC | 2.3808 | 4.9 | 6.3
963 | No | No | 24 | MED | Other multiple significant trauma w MCC | 2.8713 | 6.7 | 9.5
964 | No | No | 24 | MED | Other multiple significant trauma w CC | 1.6024 | 4.9 | 6.2
965 | No | No | 24 | MED | Other multiple significant trauma w/o CC/MCC | 0.9832 | 3.4 | 4.1
969 | No | No | 25 | SURG | HIV w extensive O.R. procedure w MCC | 5.3749 | 12.9 | 18.8
970 | No | No | 25 | SURG | HIV w extensive O.R. procedure w/o MCC | 2.4892 | 6.5 | 9.8
974 | No | No | 25 | MED | HIV w major related condition w MCC | 2.5595 | 7.3 | 10.4
975 | No | No | 25 | MED | HIV w major related condition w CC | 1.3571 | 5.3 | 7.0
976 | No | No | 25 | MED | HIV w major related condition w/o CC/MCC | 0.8910 | 3.8 | 4.9
977 | No | No | 25 | MED | HIV w or w/o other related condition | 1.0965 | 3.9 | 5.3
981 | Yes | No |  | SURG | Extensive O.R. procedure unrelated to principal diagnosis w MCC | 5.0175 | 11.7 | 15.1
982 | Yes | No |  | SURG | Extensive O.R. procedure unrelated to principal diagnosis w CC | 3.0780 | 7.5 | 9.7
983 | Yes | No |  | SURG | Extensive O.R. procedure unrelated to principal diagnosis w/o CC/MCC | 1.9959 | 3.9 | 5.4
984 | No | No |  | SURG | Prostatic O.R. procedure unrelated to principal diagnosis w MCC | 3.3256 | 11.8 | 14.6
985 | No | No |  | SURG | Prostatic O.R. procedure unrelated to principal diagnosis w CC | 2.2113 | 7.3 | 9.7
986 | No | No |  | SURG | Prostatic O.R. procedure unrelated to principal diagnosis w/o CC/MCC | 1.2767 | 3.5 | 5.3
987 | Yes | No |  | SURG | Non-extensive O.R. proc unrelated to principal diagnosis w MCC | 3.4336 | 9.8 | 13.0
988 | Yes | No |  | SURG | Non-extensive O.R. proc unrelated to principal diagnosis w CC | 1.8752 | 5.8 | 7.8
989 | Yes | No |  | SURG | Non-extensive O.R. proc unrelated to principal diagnosis w/o CC/MCC | 1.1032 | 2.9 | 4.1
998 | No | No |  | ** | Principal diagnosis invalid as discharge diagnosis | 0.0000 | 0.0 | 0.0
999 | No | No |  | ** | Ungroupable | 0.0000 | 0.0 | 0.0
MS-DRGs 998 and 999 contain cases that could not be assigned to valid DRGs.
Note: If there is no value in either the geometric mean length of stay or the arithmetic mean length of stay columns, the volume of cases is insufficient to obtain a meaningful computation of these statistics.

Table 6A.—New Diagnosis Codes
Diagnosis code | Description | CC | MDC | MS-DRG
046.11 | Variant Creutzfeldt-Jakob disease | CC | 01 | 056, 057
046.19 | Other and unspecified Creutzfeldt-Jakob disease | CC | 01 | 056, 057
046.71 | Gerstmann-Sträussler-Scheinker syndrome | CC | 01 | 056, 057
|  |  | 25 | 974, 975, 976
046.72 | Fatal familial insomnia | CC | 01 | 056, 057
|  |  | 25 | 974, 975, 976
046.79 | Other and unspecified prion disease of central nervous system | CC | 01 | 056, 057
|  |  | 25 | 974, 975, 976
051.01 | Cowpox | N | 18 | 865, 866
051.02 | Vaccinia not from vaccination | N | 18 | 865, 866
059.00 | Orthopoxvirus infection, unspecified | N | 18 | 865, 866
059.01 | Monkeypox | CC | 18 | 865, 866
059.09 | Other orthopoxvirus infections | N | 18 | 865, 866
059.10 | Parapoxvirus infection, unspecified | N | 18 | 865, 866
059.11 | Bovine stomatitis | N | 18 | 865, 866
059.12 | Sealpox | N | 18 | 865, 866
059.19 | Other parapoxvirus infections | N | 18 | 865, 866
059.21 | Tanapox | CC | 18 | 865, 866
059.22 | Yaba monkey tumor virus | N | 18 | 865, 866
059.29 | Yatapoxvirus infection, unspecified | N | 18 | 865, 866
059.8 | Other poxvirus infections | N | 18 | 865, 866
059.9 | Poxvirus infections, unspecified | N | 18 | 865, 866
078.12 | Plantar wart | N | 09 | 606, 607
136.21 | Specific infection due to acanthamoeba | N | 18 | 867, 868, 869
136.29 | Other specific infections by free-living amebae | CC | 18 | 867, 868, 869
199.2 | Malignant neoplasm associated with transplant organ | CC | 17 | 843, 844, 845
203.02 | Multiple myeloma, in relapse | CC | 17 | 820, 821, 822, 823, 824, 825, 840, 841, 842
203.12 | Plasma cell leukemia, in relapse | CC | 17 | 820, 821, 822, 823, 824, 825, 840, 841, 842
203.82 | Other immunoproliferative neoplasms, in relapse | CC | 17 | 820, 821, 822, 823, 824, 825, 840, 841, 842
204.02 | Acute lymphoid leukemia, in relapse | CC | 17 | 820, 821, 822, 834, 835, 836, 837 ¹, 838 ¹, 839 ¹
204.12 | Chronic lymphoid leukemia, in relapse | CC | 17 | 820, 821, 822, 823, 824, 825, 840, 841, 842
204.22 | Subacute lymphoid leukemia, in relapse | CC | 17 | 820, 821, 822, 823, 824, 825, 840, 841, 842
204.82 | Other lymphoid leukemia, in relapse | CC | 17 | 820, 821, 822, 823, 824, 825, 840, 841, 842
204.92 | Unspecified lymphoid leukemia, in relapse | CC | 17 | 820, 821, 822, 823, 824, 825, 840, 841, 842
205.02 | Acute myeloid leukemia, in relapse | CC | 17 | 820, 821, 822, 834, 835, 836, 837 ¹, 838 ¹, 839 ¹
205.12 | Chronic myeloid leukemia, in relapse | CC | 17 | 820, 821, 822, 823, 824, 825, 840, 841, 842
205.22 | Subacute myeloid leukemia, in relapse | CC | 17 | 820, 821, 822, 823, 824, 825, 840, 841, 842
205.32 | Myeloid sarcoma, in relapse | CC | 17 | 820, 821, 822, 823, 824, 825, 840, 841, 842
205.82 | Other myeloid leukemia, in relapse | CC | 17 | 820, 821, 822, 823, 824, 825, 840, 841, 842
205.92 | Unspecified myeloid leukemia, in relapse | CC | 17 | 820, 821, 822, 823, 824, 825, 840, 841, 842
206.02 | Acute monocytic leukemia, in relapse | CC | 17 | 820, 821, 822, 834, 835, 836, 837 ¹, 838 ¹, 839 ¹
206.12 | Chronic monocytic leukemia, in relapse | CC | 17 | 820, 821, 822, 823, 824, 825, 840, 841, 842
206.22 | Subacute monocytic leukemia, in relapse | CC | 17 | 820, 821, 822, 823, 824, 825, 840, 841, 842
206.82 | Other monocytic leukemia, in relapse | CC | 17 | 820, 821, 822, 823, 824, 825, 840, 841, 842
206.92 | Unspecified monocytic leukemia, in relapse | CC | 17 | 820, 821, 822, 823, 824, 825, 840, 841, 842
207.02 | Acute erythremia and erythroleukemia, in relapse | CC | 17 | 820, 821, 822, 834, 835, 836, 837 ¹, 838 ¹, 839 ¹
207.12 | Chronic erythremia, in relapse | CC | 17 | 820, 821, 822, 823, 824, 825, 840, 841, 842
207.22 | Megakaryocytic leukemia, in relapse | CC | 17 | 820, 821, 822, 823, 824, 825, 840, 841, 842
207.82 | Other specified leukemia, in relapse | CC | 17 | 820, 821, 822, 823, 824, 825, 840, 841, 842
208.02 | Acute leukemia of unspecified cell type, in relapse | CC | 17 | 820, 821, 822, 834, 835, 836, 837 ¹, 838 ¹, 839 ¹
208.12 | Chronic leukemia of unspecified cell type, in relapse | CC | 17 | 820, 821, 822, 823, 824, 825, 840, 841, 842
208.22 | Subacute leukemia of unspecified cell type, in relapse | CC | 17 | 820, 821, 822, 823, 824, 825, 840, 841, 842
208.82 | Other leukemia of unspecified cell type, in relapse | CC | 17 | 820, 821, 822, 823, 824, 825, 840, 841, 842
208.92 | Unspecified leukemia, in relapse | CC | 17 | 820, 821, 822, 823, 824, 825, 840, 841, 842
209.00 | Malignant carcinoid tumor of the small intestine, unspecified portion | CC | 06 | 374, 375, 376
209.01 | Malignant carcinoid tumor of the duodenum | CC | 06 | 374, 375, 376
209.02 | Malignant carcinoid tumor of the jejunum | CC | 06 | 374, 375, 376
209.03 | Malignant carcinoid tumor of the ileum | CC | 06 | 374, 375, 376
209.10 | Malignant carcinoid tumor of the large intestine, unspecified portion | CC | 06 | 374, 375, 376
209.11 | Malignant carcinoid tumor of the appendix | CC | 06 | 338, 339, 340, 374, 375, 376
209.12 | Malignant carcinoid tumor of the cecum | CC | 06 | 374, 375, 376
209.13 | Malignant carcinoid tumor of the ascending colon | CC | 06 | 374, 375, 376
209.14 | Malignant carcinoid tumor of the transverse colon | CC | 06 | 374, 375, 376
209.15 | Malignant carcinoid tumor of the descending colon | CC | 06 | 374, 375, 376
209.16 | Malignant carcinoid tumor of the sigmoid colon | CC | 06 | 374, 375, 376
209.17 | Malignant carcinoid tumor of the rectum | CC | 06 | 374, 375, 376
209.20 | Malignant carcinoid tumor of unknown primary site | CC | 17 | 843, 844, 845
209.21 | Malignant carcinoid tumor of the bronchus and lung | CC | 04 | 180, 181, 182
209.22 | Malignant carcinoid tumor of the thymus | CC | 17 | 843, 844, 845
209.23 | Malignant carcinoid tumor of the stomach | CC | 06 | 374, 375, 376
209.24 | Malignant carcinoid tumor of the kidney | CC | 11 | 656, 657, 658, 686, 687, 688
209.25 | Malignant carcinoid tumor of foregut, not otherwise specified | CC | 06 | 374, 375, 376
209.26 | Malignant carcinoid tumor of midgut, not otherwise specified | CC | 06 | 374, 375, 376
209.27 | Malignant carcinoid tumor of hindgut, not otherwise specified | CC | 06 | 374, 375, 376
209.29 | Malignant carcinoid tumor of other sites | CC | 17 | 843, 844, 845
209.30 | Malignant poorly differentiated neuroendocrine carcinoma, any site | CC | 17 | 843, 844, 845
209.40 | Benign carcinoid tumor of the small intestine, unspecified portion | N | 06 | 393, 394, 395
209.41 | Benign carcinoid tumor of the duodenum | N | 06 | 393, 394, 395
209.42 | Benign carcinoid tumor of the jejunum | N | 06 | 393, 394, 395
209.43 | Benign carcinoid tumor of the ileum | N | 06 | 393, 394, 395
209.50 | Benign carcinoid tumor of the large intestine, unspecified portion | N | 06 | 393, 394, 395
209.51 | Benign carcinoid tumor of the appendix | N | 06 | 393, 394, 395
209.52 | Benign carcinoid tumor of the cecum | N | 06 | 393, 394, 395
209.53 | Benign carcinoid tumor of the ascending colon | N | 06 | 393, 394, 395
209.54 | Benign carcinoid tumor of the transverse colon | N | 06 | 393, 394, 395
209.55 | Benign carcinoid tumor of the descending colon | N | 06 | 393, 394, 395
209.56 | Benign carcinoid tumor of the sigmoid colon | N | 06 | 393, 394, 395
209.57 | Benign carcinoid tumor of the rectum | N | 06 | 393, 394, 395
209.60 | Benign carcinoid tumor of unknown primary site | N | 17 | 843, 844, 845
209.61 | Benign carcinoid tumor of the bronchus and lung | N | 04 | 180, 181, 182
209.62 | Benign carcinoid tumor of the thymus | N | 16 | 814, 815, 816
209.63 | Benign carcinoid tumor of the stomach | N | 06 | 393, 394, 395
209.64 | Benign carcinoid tumor of the kidney | N | 11 | 656, 657, 658, 686, 687, 688
209.65 | Benign carcinoid tumor of foregut, not otherwise specified | N | 06 | 393, 394, 395
209.66 | Benign carcinoid tumor of midgut, not otherwise specified | N | 06 | 393, 394, 395
209.67 | Benign carcinoid tumor of hindgut, not otherwise specified | N | 06 | 393, 394, 395
209.69 | Benign carcinoid tumor of other sites | N | 17 | 843, 844, 845
238.77 | Post-transplant lymphoproliferative disorder (PTLD) | CC | 21 | 919, 920, 921
249.00 | Secondary diabetes mellitus without mention of complication, not stated as uncontrolled, or unspecified | N | PRE 10 | 008, 010 637, 638, 639
249.01 | Secondary diabetes mellitus without mention of complication, uncontrolled | N | PRE 10 | 008, 010 637, 638, 639
249.10 | Secondary diabetes mellitus with ketoacidosis, not stated as uncontrolled, or unspecified | MCC | PRE 10 | 008, 010 637, 638, 639
249.11 | Secondary diabetes mellitus with ketoacidosis, uncontrolled | MCC | PRE 10 | 008, 010 637, 638, 639,
249.20 | Secondary diabetes mellitus with hyperosmolarity, not stated as uncontrolled, or unspecified | MCC | PRE 10 | 008, 010 637, 638, 639
249.21 | Secondary diabetes mellitus with hyperosmolarity, uncontrolled | MCC | PRE 10 | 008, 010 637, 638, 639
249.30 | Secondary diabetes mellitus with other coma, not stated as uncontrolled, or unspecified | MCC | PRE 10 | 008, 010 637, 638, 639
249.31 | Secondary diabetes mellitus with other coma, uncontrolled | MCC | PRE 10 | 008, 010 637, 638, 639
249.40 | Secondary diabetes mellitus with renal manifestations, not stated as uncontrolled, or unspecified | N | PRE 11 | 008, 010 698, 699, 700
249.41 | Secondary diabetes mellitus with renal manifestations, uncontrolled | N | PRE 11 | 008, 010 698, 699, 700
249.50 | Secondary diabetes mellitus with ophthalmic manifestations, not stated as uncontrolled, or unspecified | N | PRE 02 | 008, 010 124, 125
249.51 | Secondary diabetes mellitus with ophthalmic manifestations, uncontrolled | N | PRE 02 | 008, 010 124, 125
249.60 | Secondary diabetes mellitus with neurological manifestations, not stated as uncontrolled, or unspecified | N | PRE 01 | 008, 010 073, 074
249.61 | Secondary diabetes mellitus with neurological manifestations, uncontrolled | N | PRE 01 | 008, 010 073, 074
249.70 | Secondary diabetes mellitus with peripheral circulatory disorders, not stated as uncontrolled, or unspecified | N | PRE 05 | 008, 010 299, 300, 301
249.71 | Secondary diabetes mellitus with peripheral circulatory disorders, uncontrolled | N | PRE 05 | 008, 010 299, 300, 301
249.80 | Secondary diabetes mellitus with other specified manifestations, not stated as uncontrolled, or unspecified | N | PRE 10 | 008, 010 637, 638, 639
249.81 | Secondary diabetes mellitus with other specified manifestations, uncontrolled | N | PRE 10 | 008, 010 637, 638, 639
249.90 | Secondary diabetes mellitus with unspecified complication, not stated as uncontrolled, or unspecified | N | PRE 10 | 008, 010 637, 638, 639
249.91 | Secondary diabetes mellitus with unspecified complication, uncontrolled | N | PRE 10 | 008, 010 637, 638, 639
259.50 | Androgen insensitivity, unspecified | N | 10 | 643, 644, 645
259.51 | Androgen insensitivity syndrome | N | 10 | 643, 644, 645
259.52 | Partial androgen insensitivity | N | 10 | 643, 644, 645
275.5 | Hungry bone syndrome | N | 10 | 640, 641
279.50 | Graft-versus-host disease, unspecified | CC | 16 | 808, 809, 810
279.51 | Acute graft-versus-host disease | CC | 16 | 808, 809, 810
279.52 | Chronic graft-versus-host disease | CC | 16 | 808, 809, 810
279.53 | Acute on chronic graft-versus-host disease | CC | 16 | 808, 809, 810
289.84 | Heparin-induced thrombocytopenia (HIT) | N | 15 | 791 ², 793 ²
|  |  | 16 | 813
|  |  | 25 | 977
337.00 | Idiopathic peripheral autonomic neuropathy, unspecified | N | 01 | 073, 074
337.01 | Carotid sinus syndrome | N | 01 | 073, 074
337.09 | Other idiopathic peripheral autonomic neuropathy | N | 01 | 073, 074
339.00 | Cluster headache syndrome, unspecified | N | 01 | 102, 103
339.01 | Episodic cluster headache | N | 01 | 102, 103
339.02 | Chronic cluster headache | N | 01 | 102, 103
339.03 | Episodic paroxysmal hemicrania | N | 01 | 102, 103
339.04 | Chronic paroxysmal hemicrania | N | 01 | 102, 103
339.05 | Short lasting unilateral neuralgiform headache with conjunctival injection and tearing | N | 01 | 102, 103
339.09 | Other trigeminal autonomic cephalgias | N | 01 | 102, 103
339.10 | Tension type headache, unspecified | N | 01 | 102, 103
339.11 | Episodic tension type headache | N | 01 | 102, 103
339.12 | Chronic tension type headache | N | 01 | 102, 103
339.20 | Post-traumatic headache, unspecified | N | 01 | 102, 103
339.21 | Acute post-traumatic headache | N | 01 | 102, 103
339.22 | Chronic post-traumatic headache | N | 01 | 102, 103
339.3 | Drug induced headache, not elsewhere classified | N | 01 | 102, 103
339.41 | Hemicrania continua | N | 01 | 102, 103
339.42 | New daily persistent headache | N | 01 | 102, 103
339.43 | Primary thunderclap headache | N | 01 | 102, 103
339.44 | Other complicated headache syndrome | N | 01 | 102, 103
339.81 | Hypnic headache | N | 01 | 102, 103
339.82 | Headache associated with sexual activity | N | 01 | 102, 103
339.83 | Primary cough headache | N | 01 | 102, 103
339.84 | Primary exertional headache | N | 01 | 102, 103
339.85 | Primary stabbing headache | N | 01 | 102, 103
339.89 | Other headache syndromes | N | 01 | 102, 103
346.02 | Migraine with aura, without mention of intractable migraine with status migrainosus | N | 01 | 102, 103
346.03 | Migraine with aura, with intractable migraine, so stated, with status migrainosus | N | 01 | 102, 103
346.12 | Migraine without aura, without mention of intractable migraine with status migrainosus | N | 01 | 102, 103
346.13 | Migraine without aura, with intractable migraine, so stated, with status migrainosus | N | 01 | 102, 103
346.22 | Variants of migraine, not elsewhere classified, without mention of intractable migraine with status migrainosus | N | 01 | 102, 103
346.23 | Variants of migraine, not elsewhere classified, with intractable migraine, so stated, with status migrainosus | N | 01 | 102, 103
346.30 | Hemiplegic migraine, without mention of intractable migraine without mention of status migrainosus | N | 01 | 102, 103
346.31 | Hemiplegic migraine, with intractable migraine, so stated, without mention of status migrainosus | N | 01 | 102, 103
346.32 | Hemiplegic migraine, without mention of intractable migraine with status migrainosus | N | 01 | 102, 103
346.33 | Hemiplegic migraine, with intractable migraine, so stated, with status migrainosus | N | 01 | 102, 103
346.40 | Menstrual migraine, without mention of intractable migraine without mention of status migrainosus | N | 01 | 102, 103
346.41 | Menstrual migraine, with intractable migraine, so stated, without mention of status migrainosus | N | 01 | 102, 103
346.42 | Menstrual migraine, without mention of intractable migraine with status migrainosus | N | 01 | 102, 103
346.43 | Menstrual migraine, with intractable migraine, so stated, with status migrainosus | N | 01 | 102, 103
346.50 | Persistent migraine aura without cerebral infarction, without mention of intractable migraine without mention of status migrainosus | N | 01 | 102, 103
346.51 | Persistent migraine aura without cerebral infarction, with intractable migraine, so stated, without mention of status migrainosus | N | 01 | 102, 103
346.52 | Persistent migraine aura without cerebral infarction, without mention of intractable migraine with status migrainosus | N | 01 | 102, 103
346.53 | Persistent migraine aura without cerebral infarction, with intractable migraine, so stated, with status migrainosus | N | 01 | 102, 103
346.60 | Persistent migraine aura with cerebral infarction, without mention of intractable migraine without mention of status migrainosus | CC | 01 | 102, 103
346.61 | Persistent migraine aura with cerebral infarction, with intractable migraine, so stated, without mention of status migrainosus | CC | 01 | 102, 103
346.62 | Persistent migraine aura with cerebral infarction, without mention of intractable migraine with status migrainosus | CC | 01 | 102, 103
346.63 | Persistent migraine aura with cerebral infarction, with intractable migraine, so stated, with status migrainosus | CC | 01 | 102, 103
346.70 | Chronic migraine without aura, without mention of intractable migraine without mention of status migrainosus | N | 01 | 102, 103
346.71 | Chronic migraine without aura, with intractable migraine, so stated, without mention of status migrainosus | N | 01 | 102, 103
346.72 | Chronic migraine without aura, without mention of intractable migraine with status migrainosus | N | 01 | 102, 103
346.73 | Chronic migraine without aura, with intractable migraine, so stated, with status migrainosus | N | 01 | 102, 103
346.82 | Other forms of migraine, without mention of intractable migraine with status migrainosus | N | 01 | 102, 103
346.83 | Other forms of migraine, with intractable migraine, so stated, with status migrainosus | N | 01 | 102, 103
362.20 | Retinopathy of prematurity, unspecified | N | 02 | 124, 125
362.22 | Retinopathy of prematurity, stage 0 | N | 02 | 124, 125
362.23 | Retinopathy of prematurity, stage 1 | N | 02 | 124, 125
362.24 | Retinopathy of prematurity, stage 2 | N | 02 | 124, 125
362.25 | Retinopathy of prematurity, stage 3 | N | 02 | 124, 125
362.26 | Retinopathy of prematurity, stage 4 | N | 02 | 124, 125
362.27 | Retinopathy of prematurity, stage 5 | N | 02 | 124, 125
364.82 | Plateau iris syndrome | N | 02 | 124, 125
372.34 | Pingueculitis | N | 02 | 124, 125
414.3 | Coronary atherosclerosis due to lipid rich plaque | N | 05 | 302, 303
511.81 | Malignant pleural effusion | CC | 04 | 180, 181, 182
511.89 | Other specified forms of effusion, except tuberculous | CC | 04 | 186, 187, 188
|  |  | 15 | 791 ², 793 ²
569.44 | Dysplasia of anus | N | 06 | 393, 394, 395
571.42 | Autoimmune hepatitis | N | 07 | 441, 442, 443
599.70 | Hematuria, unspecified | N | 11 | 695, 696
|  |  | 15 | 791 ², 793 ²
599.71 | Gross hematuria | N | 11 | 695, 696
|  |  | 15 | 791 ², 793 ²
599.72 | Microscopic hematuria | N | 11 | 695, 696
|  |  | 15 | 791 ², 793 ²
611.81 | Ptosis of breast | N | 09 | 600, 601
611.82 | Hypoplasia of breast | N | 09 | 600, 601
611.83 | Capsular contracture of breast implant | N | 09 | 600, 601
611.89 | Other specified disorders of breast | N | 09 | 600, 601
612.0 | Deformity of reconstructed breast | N | 09 | 600, 601
612.1 | Disproportion of reconstructed breast | N | 09 | 600, 601
625.70 | Vulvodynia, unspecified | N | 13 | 742, 743, 760, 761
625.71 | Vulvar vestibulitis | N | 13 | 742, 743, 757, 758, 759
625.79 | Other vulvodynia | N | 13 | 742, 743, 760, 761
649.70 | Cervical shortening, unspecified as to episode of care or not applicable | CC | 14 | 998
649.71 | Cervical shortening, delivered, with or without mention of antepartum condition | CC | 14 | 765, 766, 767, 768, 774, 775
649.73 | Cervical shortening, antepartum condition or complication | CC | 14 | 781, 782
678.00 | Fetal hematologic conditions, unspecified as to episode of care or not applicable | N | 14 | 998
678.01 | Fetal hematologic conditions, delivered, with or without mention of antepartum condition | N | 14 | 765, 766, 767, 768, 774, 775
678.03 | Fetal hematologic conditions, antepartum condition or complication | N | 14 | 781, 782
678.10 | Fetal conjoined twins, unspecified as to episode of care or not applicable | N | 14 | 998
678.11 | Fetal conjoined twins, delivered, with or without mention of antepartum condition | N | 14 | 765, 766, 767, 768, 774, 775
678.13 | Fetal conjoined twins, antepartum condition or complication | N | 14 | 781, 782
679.00 | Maternal complications from in utero procedure, unspecified as to episode of care or not applicable | N | 14 | 765, 766, 767, 768, 774, 775
679.01 | Maternal complications from in utero procedure, delivered, with or without mention of antepartum condition | N | 14 | 765, 766, 767, 768, 774
679.02 | Maternal complications from in utero procedure, delivered, with mention of postpartum complication | N | 14 | 765, 766, 767, 768, 774
679.03 | Maternal complications from in utero procedure, antepartum condition or complication | N | 14 | 781, 782
679.04 | Maternal complications from in utero procedure, postpartum condition or complication | N | 14 | 769, 776
679.10 | Fetal complications from in utero procedures, unspecified as to episode of care or not applicable | N | 14 | 998
679.11 | Fetal complications from in utero procedures, delivered, with or without mention of antepartum condition | N | 14 | 765, 766, 767, 768, 774, 775
679.12 | Fetal complications from in utero procedures, delivered, with mention of postpartum complication | N | 14 | 765, 766, 767, 768, 774, 775
679.13 | Fetal complications from in utero procedures, antepartum condition or complication | N | 14 | 781, 782
679.14 | Fetal complications from in utero procedures, postpartum condition or complication | N | 14 | 769, 776
695.10 | Erythema multiforme, unspecified | N | 09 | 595, 596
695.11 | Erythema multiforme minor | N | 09 | 595, 596
695.12 | Erythema multiforme major | CC | 09 | 595, 596
695.13 | Stevens-Johnson syndrome | CC | 09 | 595, 596
695.14 | Stevens-Johnson syndrome-toxic epidermal necrolysis overlap syndrome | CC | 09 | 595, 596
695.15 | Toxic epidermal necrolysis | CC | 09 | 595, 596
695.19 | Other erythema multiforme | N | 09 | 595, 596
695.50 | Exfoliation due to erythematous condition involving less than 10 percent of body surface | N | 09 | 606, 607
695.51 | Exfoliation due to erythematous condition involving 10-19 percent of body surface | N | 09 | 606, 607
695.52 | Exfoliation due to erythematous condition involving 20-29 percent of body surface | N | 09 | 606, 607
695.53 | Exfoliation due to erythematous condition involving 30-39 percent of body surface | CC | 09 | 606, 607
695.54 | Exfoliation due to erythematous condition involving 40-49 percent of body surface | CC | 09 | 606, 607
695.55 | Exfoliation due to erythematous condition involving 50-59 percent of body surface | CC | 09 | 606, 607
695.56 | Exfoliation due to erythematous condition involving 60-69 percent of body surface | CC | 09 | 606, 607
695.57 | Exfoliation due to erythematous condition involving 70-79 percent of body surface | CC | 09 | 606, 607
695.58 | Exfoliation due to erythematous condition involving 80-89 percent of body surface | CC | 09 | 606, 607
695.59 | Exfoliation due to erythematous condition involving 90 percent or more of body surface | CC | 09 | 606, 607
707.20 | Pressure ulcer, unspecified stage | N | 09 | 573, 574, 575, 592, 593, 594
707.21 | Pressure ulcer, stage I | N | 09 | 573, 574, 575, 592, 593, 594
707.22 | Pressure ulcer, stage II | N | 09 | 573, 574, 575, 592, 593, 594
707.23 | Pressure ulcer, stage III | MCC ³ | 09 | 573, 574, 575, 592, 593, 594
707.24 | Pressure ulcer, stage IV | MCC ³ | 09 | 573, 574, 575, 592, 593, 594
729.90 | Disorders of soft tissue, unspecified | N | 08 | 555, 556
729.91 | Post-traumatic seroma | N | 08 | 555, 556
729.92 | Nontraumatic hematoma of soft tissue | N | 08 | 555, 556
729.99 | Other disorders of soft tissue | N | 08 | 555, 556
760.61 | Newborn affected by amniocentesis | N | 15 | 794
760.62 | Newborn affected by other in utero procedure | N | 15 | 794
760.63 | Newborn affected by other surgical operations on mother during pregnancy | N | 15 | 794
760.64 | Newborn affected by previous surgical procedure on mother not associated with pregnancy | N | 15 | 794
777.50 | Necrotizing enterocolitis in newborn, unspecified | MCC | 15 | 791 ⁴, 793 ⁴
777.51 | Stage I necrotizing enterocolitis in newborn | MCC | 15 | 791 ⁴, 793 ⁴
777.52 | Stage II necrotizing enterocolitis in newborn | MCC | 15 | 791 ⁴, 793 ⁴
777.53 | Stage III necrotizing enterocolitis in newborn | MCC | 15 | 791 ⁴, 793 ⁴
780.72 | Functional quadriplegia | MCC | 01 | 052, 053
788.91 | Functional urinary incontinence | N | 11 | 695, 696
788.99 | Other symptoms involving urinary system | N | 11 | 695, 696
795.07 | Satisfactory cervical smear but lacking transformation zone | N | 13 | 742, 743, 760, 761
795.10 | Abnormal glandular Papanicolaou smear of vagina | N | 13 | 742, 743, 760, 761
795.11 | Papanicolaou smear of vagina with atypical squamous cells of undetermined significance (ASC-US) | N | 13 | 742, 743, 760, 761
795.12 | Papanicolaou smear of vagina with atypical squamous cells cannot exclude high grade squamous intraepithelial lesion (ASC-H) | N | 13 | 742, 743, 760, 761
795.13 | Papanicolaou smear of vagina with low grade squamous intraepithelial lesion (LGSIL) | N | 13 | 742, 743, 760, 761
795.14 | Papanicolaou smear of vagina with high grade squamous intraepithelial lesion (HGSIL) | N | 13 | 742, 743, 760, 761
795.15 | Vaginal high risk human papillomavirus (HPV) DNA test positive | N | 13 | 742, 743, 760, 761
795.16 | Papanicolaou smear of vagina with cytologic evidence of malignancy | N | 13 | 742, 743, 760, 761
795.18 | Unsatisfactory vaginal cytology smear | N | 13 | 742, 743, 760, 761
795.19 | Other abnormal Papanicolaou smear of vagina and vaginal HPV | N | 13 | 742, 743, 760, 761
796.70 | Abnormal glandular Papanicolaou smear of anus | N | 06 | 393, 394, 395
796.71 | Papanicolaou smear of anus with atypical squamous cells of undetermined significance (ASC-US) | N | 06 | 393, 394, 395
796.72 | Papanicolaou smear of anus with atypical squamous cells cannot exclude high grade squamous intraepithelial lesion (ASC-H) | N | 06 | 393, 394, 395
796.73 | Papanicolaou smear of anus with low grade squamous intraepithelial lesion (LGSIL) | N | 06 | 393, 394, 395
796.74 | Papanicolaou smear of anus with high grade squamous intraepithelial lesion (HGSIL) | N | 06 | 393, 394, 395
796.75 | Anal high risk human papillomavirus (HPV) DNA test positive | N | 06 | 393, 394, 395
796.76 | Papanicolaou smear of anus with cytologic evidence of malignancy | N | 06 | 393, 394, 395
796.77 | Satisfactory anal smear but lacking transformation zone | N | 06 | 393, 394, 395
796.78 | Unsatisfactory anal cytology smear | N | 06 | 393, 394, 395
796.79 | Other abnormal Papanicolaou smear of anus and anal HPV | N | 06 | 393, 394, 395
997.31 | Ventilator associated pneumonia | CC | 04 | 205, 206
|  |  | 15 | 791 ², 793 ²
997.39 | Other respiratory complications | CC | 04 | 205, 206
|  |  | 15 | 791 ², 793 ²
998.30 | Disruption of wound, unspecified | CC | 21 | 919, 920, 921
998.33 | Disruption of traumatic wound repair | CC | 21 | 919, 920, 921
999.81 | Extravasation of vesicant chemotherapy | CC | 05 | 314, 315, 316
|  |  | 15 | 791 ², 793 ²
999.82 | Extravasation of other vesicant agent | CC | 05 | 314, 315, 316
|  |  | 15 | 791 ², 793 ²
999.88 | Other infusion reaction | N | 05 | 314, 315, 316
|  |  | 15 | 791 ², 793 ²
999.89 | Other transfusion reaction | N | 15 | 791 ², 793 ²
|  |  | 16 | 811, 812
V07.51 | Prophylactic use of selective estrogen receptor modulators (SERMs) | N | 23 | 951
V07.52 | Prophylactic use of aromatase inhibitors | N | 23 | 951
V07.59 | Prophylactic use of other agents affecting estrogen receptors and estrogen levels | N | 23 | 951
V13.51 | Personal history of pathologic fracture | N | 23 | 951
V13.52 | Personal history of stress fracture | N | 23 | 951
V13.59 | Personal history of other musculoskeletal disorders | N | 23 | 951
V15.21 | Personal history of undergoing in utero procedure during pregnancy | N | 23 | 951
V15.22 | Personal history of undergoing in utero procedure while a fetus | N | 23 | 951
V15.29 | Personal history of surgery to other organs | N | 23 | 951
V15.51 | Personal history of traumatic fracture | N | 23 | 951
V15.59 | Personal history of other injury | N | 23 | 951
V23.85 | Pregnancy resulting from assisted reproductive technology | N | 14 | 998
V23.86 | Pregnancy with history of in utero procedure during previous pregnancy | N | 14 | 998
V28.81 | Encounter for fetal anatomic survey | N | 23 | 951
V28.82 | Encounter for screening for risk of pre-term labor | N | 23 | 951
V28.89 | Other specified antenatal screening | N | 23 | 951
V45.11 | Renal dialysis status | N | 23 | 951
V45.12 | Noncompliance with renal dialysis | N | 23 | 951
V45.87 | Transplanted organ removal status | N | 23 | 951
V46.3 | Wheelchair dependence | N | 23 | 951
V51.0 | Encounter for breast reconstruction following mastectomy | N | 09 | 606, 607
V51.8 | Other aftercare involving the use of plastic surgery | N | 09 | 606, 607
V87.01 | Contact with and (suspected) exposure to arsenic | N | 23 | 951
V87.09 | Contact with and (suspected) exposure to other hazardous metals | N | 23 | 951
V87.11 | Contact with and (suspected) exposure to aromatic amines | N | 23 | 951
V87.12 | Contact with and (suspected) exposure to benzene | N | 23 | 951
V87.19 | Contact with and (suspected) exposure to other hazardous aromatic compounds | N | 23 | 951
V87.2 | Contact with and (suspected) exposure to other potentially hazardous chemicals | N | 23 | 951
V87.31 | Contact with and (suspected) exposure to mold | N | 23 | 951
V87.39 | Contact with and (suspected) exposure to other potentially hazardous substances | N | 23 | 951
V87.41 | Personal history of antineoplastic chemotherapy | N | 23 | 949, 950
V87.42 | Personal history of monoclonal drug therapy | N | 23 | 949, 950
V87.49 | Personal history of other drug therapy | N | 23 | 949, 950
V88.01 | Acquired absence of both cervix and uterus | N | 13 | 742, 743, 760, 761
V88.02 | Acquired absence of uterus with remaining cervical stump | N | 13 | 742, 743, 760, 761
V88.03 | Acquired absence of cervix with remaining uterus | N | 13 | 742, 743, 760, 761
V89.01 | Suspected problem with amniotic cavity and membrane not found | N | 23 | 951
V89.02 | Suspected placental problem not found | N | 23 | 951
V89.03 | Suspected fetal anomaly not found | N | 23 | 951
V89.04 | Suspected problem with fetal growth not found | N | 23 | 951
V89.05 | Suspected cervical shortening not found | N | 23 | 951
V89.09 | Other suspected maternal and fetal condition not found | N | 23 | 951
¹ Secondary diagnosis of acute leukemia
² Secondary diagnosis of major problem.
³ The pressure ulcer site specific codes (707.00-707.09) will be non-CCs. The pressure ulcer stage III and IV codes will be classified as MCCs.
⁴ Principal or secondary diagnosis of major problem.

Table 6B.—New Procedure Codes
Procedure code | Description | O.R. | MDC | MS-DRG
00.49 | SuperSaturated oxygen therapy | N. |
00.58 | Insertion of intra-aneurysm sac pressure monitoring device (intraoperative) | N. |
00.59 | Intravascular pressure measurement of coronary arteries | N. |
00.67 | Intravascular pressure measurement of intrathoracic arteries | N. |
00.68 | Intravascular pressure measurement of peripheral arteries | N. |
00.69 | Intravascular pressure measurement, other specified and unspecified vessels | N. |
17.11 | Laparoscopic repair of direct inguinal hernia with graft or prosthesis | Y | 06 | 350, 351, 352
17.12 | Laparoscopic repair of indirect inguinal hernia with graft or prosthesis | Y | 06 | 350, 351, 352
17.13 | Laparoscopic repair of inguinal hernia with graft or prosthesis, not otherwise specified | Y | 06 | 350, 351, 352
17.21 | Laparoscopic bilateral repair of direct inguinal hernia with graft or prosthesis | Y | 06 | 350, 351, 352
17.22 | Laparoscopic bilateral repair of indirect inguinal hernia with graft or prosthesis | Y | 06 | 350, 351, 352
17.23 | Laparoscopic bilateral repair of inguinal hernia, one direct and one indirect, with graft or prosthesis | Y | 06 | 350, 351, 352
17.24 | Laparoscopic bilateral repair of inguinal hernia with graft or prosthesis, not otherwise specified | Y | 06 | 350, 351, 352
17.31 | Laparoscopic multiple segmental resection of large intestine | Y | 06 | 329, 330, 331
|  |  | 17 | 820, 821, 822, 826, 827, 828
|  |  | 21 | 907, 908, 909
|  |  | 24 | 957, 958, 959
17.32 | Laparoscopic cecectomy | Y | 05 | 264
|  |  | 06 | 329, 330, 331
|  |  | 21 | 907, 908, 909
|  |  | 24 | 957, 958, 959
17.33 | Laparoscopic right hemicolectomy | Y | 05 | 264
|  |  | 06 | 329, 330, 331
|  |  | 17 | 820, 821, 822, 826, 827, 828
|  |  | 21 | 907, 908, 909
|  |  | 24 | 957, 958, 959
17.34 | Laparoscopic resection of transverse colon | Y | 05 | 264
|  |  | 06 | 329, 330, 331
|  |  | 17 | 820, 821, 822, 826, 827, 828
|  |  | 21 | 907, 908, 909
|  |  | 24 | 957, 958, 959
17.35 | Laparoscopic left hemicolectomy | Y | 05 | 264
|  |  | 06 | 329, 330, 331
|  |  | 10 | 628, 629, 630
|  |  | 17 | 820, 821, 822, 826, 827, 828
|  |  | 21 | 907, 908, 909
|  |  | 24 | 957, 958, 959
17.36 | Laparoscopic sigmoidectomy | Y | 06 | 329, 330, 331
|  |  | 17 | 820, 821, 822, 826, 827, 828
|  |  | 21 | 907, 908, 909
|  |  | 24 | 957, 958, 959
17.39 | Other laparoscopic partial excision of large intestine | Y | 05 | 264
|  |  | 06 | 329, 330, 331
|  |  | 17 | 820, 821, 822, 826, 827, 828
|  |  | 21 | 907, 908, 909
|  |  | 24 | 957, 958, 959
37.36 | Excision or destruction of left atrial appendage (LAA) | N. |
37.55 | Removal of internal biventricular heart replacement system | Y | PRE | 001, 002
|  |  | 05 | 237, 238
38.23 | Intravascular spectroscopy | N. |
45.81 | Laparoscopic total intra-abdominal colectomy | Y | 05 | 264
|  |  | 06 | 329, 330, 331
|  |  | 17 | 820, 821, 822, 826, 827, 828
|  |  | 21 | 907, 908, 909
|  |  | 24 | 957, 958, 959
45.82 | Open total intra-abdominal colectomy | Y | 05 | 264
|  |  | 06 | 329, 330, 331
|  |  | 17 | 820, 821, 822, 826, 827, 828
|  |  | 21 | 907, 908, 909
|  |  | 24 | 957, 958, 959
45.83 | Other and unspecified total intra-abdominal colectomy | Y | 05 | 264
|  |  | 06 | 329, 330, 331
|  |  | 17 | 820, 821, 822, 826, 827, 828
|  |  | 21 | 907, 908, 909
|  |  | 24 | 957, 958, 959
48.40 | Pull-through resection of rectum, not otherwise specified | Y | 06 | 332, 333, 334
|  |  | 17 | 820, 821, 822, 826, 827, 828
|  |  | 21 | 907, 908, 909
|  |  | 24 | 957, 958, 959
48.42 | Laparoscopic pull-through resection of rectum | Y | 06 | 332, 333, 334
|  |  | 17 | 820, 821, 822, 826, 827, 828
|  |  | 21 | 907, 908, 909
|  |  | 24 | 957, 958, 959
48.43 | Open pull-through resection of rectum | Y | 06 | 332, 333, 334
|  |  | 17 | 820, 821, 822, 826, 827, 828
|  |  | 21 | 907, 908, 909
|  |  | 24 | 957, 958, 959
48.50 | Abdominoperineal resection of the rectum, not otherwise specified | Y | 06 | 332, 333, 334
|  |  | 17 | 820, 821, 822, 826, 827, 828
|  |  | 21 | 907, 908, 909
|  |  | 24 | 957, 958, 959
48.51 | Laparoscopic abdominoperineal resection of the rectum | Y | 06 | 332, 333, 334
|  |  | 17 | 820, 821, 822, 826, 827, 828
|  |  | 21 | 907, 908, 909
|  |  | 24 | 957, 958, 959
48.52 | Open abdominoperineal resection of the rectum | Y | 06 | 332, 333, 334
|  |  | 17 | 820, 821, 822, 826, 827, 828
|  |  | 21 | 907, 908, 909
|  |  | 24 | 957, 958, 959
48.59 | Other abdominoperineal resection of the rectum | Y | 06 | 332, 333, 334
|  |  | 17 | 820, 821, 822, 826, 827, 828
|  |  | 21 | 907, 908, 909
|  |  | 24 | 957, 958, 959
53.42 | Laparoscopic repair of umbilical hernia with graft or prosthesis | Y | 06 | 353, 354, 355
53.43 | Other laparoscopic umbilical herniorrhaphy | Y | 06 | 353, 354, 355
|  |  | 21 | 907, 908, 909
|  |  | 24 | 957, 958, 959
53.62 | Laparoscopic incisional hernia repair with graft or prosthesis | Y | 06 | 353, 354, 355
|  |  | 21 | 907, 908, 909
|  |  | 24 | 957, 958, 959
53.63 | Other laparoscopic repair of other hernia of anterior abdominal wall with graft or prosthesis | Y | 06 | 353, 354, 355
53.71 | Laparoscopic repair of diaphragmatic hernia, abdominal approach | Y | 04 | 163, 164, 165
|  |  | 06 | 326, 327, 328
|  |  | 21 | 907, 908, 909
|  |  | 24 | 957, 958, 959
53.72 | Other and open repair of diaphragmatic hernia, abdominal approach | Y | 04 | 163, 164, 165
|  |  | 06 | 326, 327, 328
|  |  | 21 | 907, 908, 909
|  |  | 24 | 957, 958, 959
53.75 | Repair of diaphragmatic hernia, abdominal approach, not otherwise specified | Y | 04 | 163, 164, 165
|  |  | 06 | 326, 327, 328
|  |  | 21 | 907, 908, 909
|  |  | 24 | 957, 958, 959
53.83 | Laparoscopic repair of diaphragmatic hernia, with thoracic approach | Y | 04 | 163, 164, 165
|  |  | 06 | 326, 327, 328
|  |  | 21 | 907, 908, 909
|  |  | 24 | 957, 958, 959
53.84 | Other and open repair of diaphragmatic hernia, with thoracic approach | Y | 04 | 163, 164, 165
|  |  | 06 | 326, 327, 328
|  |  | 21 | 907, 908, 909
|  |  | 24 | 957, 958, 959
80.53 | Repair of the anulus fibrosus with graft or prosthesis | Y | 01 | 028, 029, 030
|  |  | 08 | 490, 491
|  |  | 17 | 820, 821, 822, 826, 827, 828
|  |  | 21 | 907, 908, 909
|  |  | 24 | 957, 958, 959
80.54 | Other and unspecified repair of the anulus fibrosus | Y | 01 | 028, 029, 030
|  |  | 08 | 490, 491
|  |  | 17 | 820, 821, 822, 826, 827, 828
|  |  | 21 | 907, 908, 909
|  |  | 24 | 957, 958, 959

Table 6C.—Invalid Diagnosis Codes
Diagnosis code | Description | CC | MDC | MS-DRG
046.1 | Jakob-Creutzfeldt disease | CC | 01 | 056, 057
051.0 | Cowpox | N | 18 | 865, 866
136.2 | Specific infections by free-living amebae | MCC | 18 | 867, 868, 869
259.5 | Androgen insensitivity syndrome | N | 10 | 643, 644, 645
337.0 | Idiopathic peripheral autonomic neuropathy | CC | 01 | 073, 074
511.8 | Other specified forms of pleural effusion, except tuberculous | MCC | 04 | 186, 187, 188
|  |  | 15 | 791 ¹, 793 ¹
599.7 | Hematuria | N | 11 | 695, 696
|  |  | 15 | 791 ¹, 793 ¹
611.8 | Other specified disorders of breast | N | 09 | 600, 601
695.1 | Erythema multiforme | CC | 09 | 595, 596
729.9 | Other and unspecified disorders of soft tissue | N | 08 | 555, 556
760.6 | Surgical operation on mother | N | 15 | 794
777.5 | Necrotizing enterocolitis in fetus or newborn | MCC | 15 | 791 ², 793 ²
788.9 | Other symptoms involving urinary system | N | 11 | 695, 696
795.1 | Nonspecific abnormal Papanicolaou smear of other site | N | 04 | 180, 181, 182
997.3 | Respiratory complications | CC | 04 | 205, 206
|  |  | 15 | 791 ¹, 793 ¹
999.8 | Other transfusion reaction | CC | 15 | 791 ¹, 793 ¹
|  |  | 16 | 811, 812
V13.5 | Personal history of other musculoskeletal disorders | N | 23 | 951
V15.2 | Personal history of surgery to other major organs | N | 23 | 951
V15.5 | Personal history of injury | N | 23 | 951
V28.8 | Encounter for other specified antenatal screening | N | 23 | 951
V45.1 | Renal dialysis status | N | 23 | 951
V51 | Aftercare involving the use of plastic surgery | N | 09 | 606, 607
¹ Principal or secondary diagnosis of major problem.
² Principal or secondary diagnosis of major problem.

Table 6D.—Invalid Procedure Codes
Procedure code | Description | O.R. | MDC | MS-DRG
45.8 | Total intra-abdominal colectomy | Y | 05 | 264
|  |  | 06 | 329, 330, 331
|  |  | 17 | 820, 821, 822, 826, 827, 828
|  |  | 21 | 907, 908, 909
|  |  | 24 | 957, 958, 959
48.5 | Abdominoperineal resection of rectum | Y | 06 | 332, 333, 334
|  |  | 17 | 820, 821, 822, 826, 827, 828
|  |  | 21 | 907, 908, 909
|  |  | 24 | 957, 958, 959
53.7 | Repair of diaphragmatic hernia, abdominal approach | Y | 04 | 163, 164, 165
|  |  | 06 | 326, 327, 328
|  |  | 21 | 907, 908, 909
|  |  | 24 | 957, 958, 959

Table 6E.—Revised Diagnosis Code Titles
Diagnosis code | Description | CC | MDC | MS-DRG
203.00 | Multiple myeloma, without mention of having achieved remission | CC | 17 | 820, 821, 822, 823, 824, 825, 840, 841, 842
203.10 | Plasma cell leukemia, without mention of having achieved remission | CC | 17 | 820, 821, 822, 823, 824, 825, 840, 841, 842
203.80 | Other immunoproliferative neoplasms, without mention of having achieved remission | CC | 17 | 820, 821, 822, 823, 824, 825, 840, 841, 842
204.00 | Acute lymphoid leukemia, without mention of having achieved remission | CC | 17 | 820, 821, 822, 834, 835, 836, 837 ¹, 838 ¹, 839 ¹
204.10 | Chronic lymphoid leukemia, without mention of having achieved remission | CC | 17 | 820, 821, 822, 823, 824, 825, 840, 841, 842
204.20 | Subacute lymphoid leukemia, without mention of having achieved remission | CC | 17 | 820, 821, 822, 823, 824, 825, 840, 841, 842
204.80 | Other lymphoid leukemia, without mention of having achieved remission | CC | 17 | 820, 821, 822, 823, 824, 825, 840, 841, 842
204.90 | Unspecified lymphoid leukemia, without mention of having achieved remission | CC | 17 | 820, 821, 822, 823, 824, 825, 840, 841, 842
205.00 | Acute myeloid leukemia, without mention of having achieved remission | CC | 17 | 820, 821, 822, 834, 835, 836, 837 ¹, 838 ¹, 839 ¹
205.10 | Chronic myeloid leukemia, without mention of having achieved remission | CC | 17 | 820, 821, 822, 823, 824, 825, 840, 841, 842
205.20 | Subacute myeloid leukemia, without mention of having achieved remission | CC | 17 | 820, 821, 822, 823, 824, 825, 840, 841, 842
205.30 | Myeloid sarcoma, without mention of having achieved remission | CC | 17 | 820, 821, 822, 823, 824, 825, 840, 841, 842
205.80 | Other myeloid leukemia, without mention of having achieved remission | CC | 17 | 820, 821, 822, 823, 824, 825, 840, 841, 842
205.90 | Unspecified myeloid leukemia, without mention of having achieved remission | CC | 17 | 820, 821, 822, 823, 824, 825, 840, 841, 842
206.00 | Acute monocytic leukemia, without mention of having achieved remission | CC | 17 | 820, 821, 822, 834, 835, 836, 837 ¹, 838 ¹, 839 ¹
206.10 | Chronic monocytic leukemia, without mention of having achieved remission | CC | 17 | 820, 821, 822, 823, 824, 825, 840, 841, 842
206.20 | Subacute monocytic leukemia, without mention of having achieved remission | CC | 17 | 820, 821, 822, 823, 824, 825, 840, 841, 842
206.80 | Other monocytic leukemia, without mention of having achieved remission | CC | 17 | 820, 821, 822, 823, 824, 825, 840, 841, 842
206.90 | Unspecified monocytic leukemia, without mention of having achieved remission | CC | 17 | 820, 821, 822, 823, 824, 825, 840, 841, 842
207.00 | Acute erythremia and erythroleukemia, without mention of having achieved remission | CC | 17 | 820, 821, 822, 834, 835, 836, 837 ¹, 838 ¹, 839 ¹
207.10 | Chronic erythremia, without mention of having achieved remission | CC | 17 | 820, 821, 822, 823, 824, 825, 840, 841, 842
207.20 | Megakaryocytic leukemia, without mention of having achieved remission | CC | 17 | 820, 821, 822, 823, 824, 825, 840, 841, 842
207.80 | Other specified leukemia, without mention of having achieved remission | CC | 17 | 820, 821, 822, 823, 824, 825, 840, 841, 842
208.00 | Acute leukemia of unspecified cell type, without mention of having achieved remission | CC | 17 | 820, 821, 822, 834, 835, 836, 837 ¹, 838 ¹, 839 ¹
208.10 | Chronic leukemia of unspecified cell type, without mention of having achieved remission | CC | 17 | 820, 821, 822, 823, 824, 825, 840, 841, 842
208.20 | Subacute leukemia of unspecified cell type, without mention of having achieved remission | CC | 17 | 820, 821, 822, 823, 824, 825, 840, 841, 842
208.80 | Other leukemia of unspecified cell type, without mention of having achieved remission | CC | 17 | 820, 821, 822, 823, 824, 825, 840, 841, 842
208.90 | Unspecified leukemia, without mention of having achieved remission | CC | 17 | 820, 821, 822, 823, 824, 825, 840, 841, 842
346.00 | Migraine with aura, without mention of intractable migraine without mention of status migrainosus | N | 01 | 102, 103
346.01 | Migraine with aura, with intractable migraine, so stated, without mention of status migrainosus | N | 01 | 102, 103
346.10 | Migraine without aura, without mention of intractable migraine without mention of status migrainosus | N | 01 | 102, 103
346.11 | Migraine without aura, with intractable migraine, so stated, without mention of status migrainosus | N | 01 | 102, 103
346.20 | Variants of migraine, not elsewhere classified, without mention of intractable migraine without mention of status migrainosus | N | 01 | 102, 103
346.21 | Variants of migraine, not elsewhere classified, with intractable migraine, so stated, without mention of status migrainosus | N | 01 | 102, 103
346.80 | Other forms of migraine, without mention of intractable migraine without mention of status migrainosus | N | 01 | 102, 103
346.81 | Other forms of migraine, with intractable migraine, so stated, without mention of status migrainosus | N | 01 | 102, 103
386.00 | Ménière's disease, unspecified | N | 03 | 149
386.01 | Active Ménière's disease, cochleovestibular | N | 03 | 149
386.02 | Active Ménière's disease, cochlear | N | 03 | 149
386.03 | Active Ménière's disease, vestibular | N | 03 | 149
386.04 | Inactive Ménière's disease | N | 03 | 149
707.00 | Pressure ulcer, unspecified site | N ² | 09 | 573, 574, 575, 592, 593, 594
707.01 | Pressure ulcer, elbow | N ² | 09 | 573, 574, 575, 592, 593, 594
707.02 | Pressure ulcer, upper back | N ² | 09 | 573, 574, 575, 592, 593, 594
707.03 | Pressure ulcer, lower back | N ² | 09 | 573, 574, 575, 592, 593, 594
707.04 | Pressure ulcer, hip | N ² | 09 | 573, 574, 575, 592, 593, 594
707.05 | Pressure ulcer, buttock | N ² | 09 | 573, 574, 575, 592, 593, 594
707.06 | Pressure ulcer, ankle | N ² | 09 | 573, 574, 575, 592, 593, 594
707.07 | Pressure ulcer, heel | N ² | 09 | 573, 574, 575, 592, 593, 594
707.09 | Pressure ulcer, other site | N ² | 09 | 573, 574, 575, 592, 593, 594
776.9 | Unspecified hematological disorder specific to newborn | N | 15 | 794
795.08 | Unsatisfactory cervical cytology smear | N | 13 | 742, 743, 760, 761
998.31 | Disruption of internal operation (surgical) wound | CC | 21 | 919, 920, 921
V28.3 | Encounter for routine screening for malformation using ultrasonics | N | 23 | 951
V45.71 | Acquired absence of breast and nipple | N | 23 | 951
¹ Secondary diagnosis of acute leukemia.
² The pressure ulcer site specific codes (707.00-707.09) will be non-CCs. The pressure ulcer stage III and IV codes will be classified as MCCs.

Table 6F.—Revised Procedure Code Titles
Procedure code | Description | O.R. | MDC | MS-DRG
37.52 | Implantation of internal biventricular heart replacement system | Y | PRE | 001 ¹, 002 ¹
37.53 | Replacement or repair of thoracic unit of (total) replacement heart system | Y | 05 | 215
37.54 | Replacement or repair of other implantable component of (total) replacement heart system | Y | 05 | 215
45.71 | Open and other multiple segmental resection of large intestine | Y | 06 | 329, 330, 331
|  |  | 17 | 820, 821, 822, 826, 827, 828
|  |  | 21 | 907, 908, 909
|  |  | 24 | 957, 958, 959
45.72 | Open and other cecectomy | Y | 05 | 264
|  |  | 06 | 329, 330, 331
|  |  | 21 | 907, 908, 909
|  |  | 24 | 957, 958, 959
45.73 | Open and other right hemicolectomy | Y | 05 | 264
|  |  | 06 | 329, 330, 331
|  |  | 17 | 820, 821, 822, 826, 827, 828
|  |  | 21 | 907, 908, 909
|  |  | 24 | 957, 958, 959
45.74 | Open and other resection of transverse colon | Y | 05 | 264
|  |  | 06 | 329, 330, 331
|  |  | 17 | 820, 821, 822, 826, 827, 828
|  |  | 21 | 907, 908, 909
|  |  | 24 | 957, 958, 959
45.75 | Open and other left hemicolectomy | Y | 05 | 264
|  |  | 06 | 329, 330, 331
|  |  | 10 | 628, 629, 630
|  |  | 17 | 820, 821, 822, 826, 827, 828
|  |  | 21 | 907, 908, 909
|  |  | 24 | 957, 958, 959
45.76 | Open and other sigmoidectomy | Y | 06 | 329, 330, 331
|  |  | 17 | 820, 821, 822, 826, 827, 828
|  |  | 21 | 907, 908, 909
|  |  | 24 | 957, 958, 959
45.79 | Other and unspecified partial excision of large intestine | Y | 05 | 264
|  |  | 06 | 329, 330, 331
|  |  | 17 | 820, 821, 822, 826, 827, 828
|  |  | 21 | 907, 908, 909
|  |  | 24 | 957, 958, 959
53.01 | Other and open repair of direct inguinal hernia | Y | 06 | 350, 351, 352
53.02 | Other and open repair of indirect inguinal hernia | Y | 06 | 350, 351, 352
53.03 | Other and open repair of direct inguinal hernia with graft or prosthesis | Y | 06 | 350, 351, 352
53.04 | Other and open repair of indirect inguinal hernia with graft or prosthesis | Y | 06 | 350, 351, 352
53.11 | Other and open bilateral repair of direct inguinal hernia | Y | 06 | 350, 351, 352
53.12 | Other and open bilateral repair of indirect inguinal hernia | Y | 06 | 350, 351, 352
53.13 | Other and open bilateral repair of inguinal hernia, one direct and one indirect | Y | 06 | 350, 351, 352
53.14 | Other and open bilateral repair of direct inguinal hernia with graft or prosthesis | Y | 06 | 350, 351, 352
53.15 | Other and open bilateral repair of indirect inguinal hernia with graft or prosthesis | Y | 06 | 350, 351, 352
53.16 | Other and open bilateral repair of inguinal hernia, one direct and one indirect, with graft or prosthesis | Y | 06 | 350, 351, 352
53.41 | Other and open repair of umbilical hernia with graft or prosthesis | Y | 06 | 353, 354, 355
53.49 | Other open umbilical herniorrhaphy | Y | 06 | 353, 354, 355
|  |  | 21 | 907, 908, 909
|  |  | 24 | 957, 958, 959
53.61 | Other open incisional hernia repair with graft or prosthesis | Y | 06 | 353, 354, 355
|  |  | 21 | 907, 908, 909
|  |  | 24 | 957, 958, 959
53.69 | Other and open repair of other hernia of anterior abdominal wall with graft or prosthesis | Y | 06 | 353, 354, 355
81.65 | Percutaneous vertebroplasty | Y | 08 | 515, 516, 517
|  |  | 21 | 907, 908, 909
|  |  | 24 | 957, 958, 959
81.66 | Percutaneous vertebral augmentation | Y | 08 | 515, 516, 517
|  |  | 21 | 907, 908, 909
|  |  | 24 | 957, 958, 959
¹ Note MS-DRG change.

Table 7A.—Medicare Prospective Payment System Selected Percentile Lengths of Stay: FY 2007 MedPAR Update—December 2007 Grouper V25.0 MS-DRGs
MS-DRG | Number of discharges | Arithmetic mean LOS | 10th percentile | 25th percentile | 50th percentile | 75th percentile | 90th percentile
1 | 655 | 40.2107 | 12 | 17 | 31 | 51 | 83
2 | 287 | 24.7456 | 9 | 12 | 17 | 28 | 48
3 | 23,205 | 39.6406 | 16 | 22 | 32 | 48 | 68
4 | 21,267 | 28.8412 | 11 | 17 | 24 | 35 | 49
5 | 635 | 21.1717 | 7 | 10 | 15 | 26 | 42
6 | 229 | 10.2576 | 6 | 7 | 9 | 12 | 17
7 | 356 | 19.6517 | 8 | 10 | 15 | 22 | 38
8 | 483 | 11.9337 | 6 | 7 | 9 | 13 | 20
9 | 1,346 | 21.9725 | 8 | 16 | 20 | 25 | 35
10 | 163 | 10.7791 | 6 | 7 | 8 | 11 | 19
11 | 1,264 | 16.7302 | 6 | 9 | 13 | 20 | 30
12 | 1,907 | 10.6754 | 4 | 6 | 9 | 13 | 18
13 | 1,268 | 6.9267 | 3 | 4 | 6 | 8 | 11
20 | 885 | 18.3525 | 6 | 10 | 17 | 24 | 32
21 | 530 | 15.4472 | 8 | 11 | 14 | 19 | 25
22 | 212 | 9.3726 | 2 | 6 | 9 | 12 | 15
23 | 3,730 | 12.6794 | 2 | 5 | 10 | 17 | 25
24 | 2,092 | 9.0263 | 1 | 4 | 8 | 12 | 18
25 | 8,697 | 13.0331 | 4 | 6 | 10 | 17 | 25
26 | 11,781 | 8.2206 | 2 | 4 | 7 | 11 | 15
27 | 13,695 | 4.5403 | 1 | 2 | 4 | 6 | 9
28 | 1,666 | 14.3055 | 4 | 7 | 11 | 18 | 27
29 | 3,070 | 7.1091 | 1 | 3 | 6 | 9 | 14
30 | 3,398 | 3.7310 | 1 | 1 | 3 | 5 | 7
31 | 1,024 | 13.1377 | 3 | 6 | 10 | 18 | 27
32 | 2,780 | 5.9781 | 1 | 2 | 4 | 8 | 14
33 | 3,623 | 3.0395 | 1 | 1 | 2 | 4 | 6
34 | 765 | 7.2261 | 1 | 2 | 5 | 9 | 15
35 | 2,239 | 3.2823 | 1 | 1 | 2 | 4 | 8
36 | 6,947 | 1.5949 | 1 | 1 | 1 | 2 | 3
37 | 4,841 | 8.5478 | 2 | 3 | 7 | 11 | 17
38 | 14,146 | 3.7666 | 1 | 1 | 2 | 5 | 9
39 | 51,927 | 1.8278 | 1 | 1 | 1 | 2 | 3
40 | 4,766 | 13.3479 | 3 | 6 | 10 | 17 | 25
41 | 7,573 | 7.2006 | 1 | 3 | 6 | 9 | 14
42 | 4,859 | 3.6300 | 1 | 1 | 2 | 5 | 8
52 | 1,163 | 6.7395 | 2 | 3 | 5 | 8 | 14
53 | 587 | 4.0102 | 1 | 2 | 3 | 5 | 7
54 | 5,240 | 6.9504 | 2 | 3 | 5 | 9 | 14
55 | 16,289 | 5.0708 | 1 | 2 | 4 | 6 | 10
56 | 8,250 | 7.7668 | 2 | 3 | 6 | 9 | 14
57 | 47,224 | 4.9743 | 2 | 3 | 4 | 6 | 9
58 | 736 | 7.5978 | 2 | 4 | 6 | 9 | 15
59 | 2,752 | 5.1432 | 2 | 3 | 4 | 6 | 9
60 | 4,068 | 3.9668 | 2 | 2 | 4 | 5 | 7
61 | 1,586 | 8.9426 | 2 | 4 | 7 | 11 | 17
62 | 2,464 | 6.2683 | 3 | 4 | 5 | 8 | 11
63 | 1,323 | 4.5110 | 2 | 3 | 4 | 6 | 8
64 | 55,734 | 7.4669 | 2 | 3 | 6 | 10 | 15
65 | 105,000 | 5.2179 | 2 | 3 | 4 | 6 | 9
66 | 89,325 | 3.7141 | 1 | 2 | 3 | 5 | 7
67 | 1,397 | 5.8232 | 2 | 3 | 5 | 7 | 11
68 | 11,402 | 3.4467 | 1 | 2 | 3 | 4 | 6
69 | 101,817 | 2.9920 | 1 | 2 | 2 | 4 | 5
70 | 7,341 | 7.8574 | 2 | 4 | 6 | 10 | 15
71 | 9,526 | 5.5568 | 2 | 3 | 4 | 7 | 10
72 | 5,739 | 3.5389 | 1 | 2 | 3 | 4 | 7
73 | 9,223 | 6.2394 | 2 | 3 | 5 | 8 | 12
74 | 31,500 | 4.3070 | 1 | 2 | 3 | 5 | 8
75 | 1,238 | 7.3021 | 2 | 4 | 6 | 9 | 14
76 | 873 | 4.1340 | 2 | 2 | 4 | 5 | 7
77 | 1,211 | 6.6821 | 2 | 3 | 5 | 9 | 12
78 | 1,405 | 4.4157 | 2 | 2 | 4 | 6 | 8
79 | 931 | 3.3845 | 1 | 2 | 3 | 4 | 6
80 | 1,861 | 5.1016 | 1 | 2 | 4 | 6 | 10
81 | 7,124 | 3.5267 | 1 | 2 | 3 | 4 | 6
82 | 1,757 | 6.4087 | 1 | 1 | 4 | 9 | 15
83 | 2,049 | 4.9551 | 1 | 2 | 4 | 7 | 10
84 | 2,769 | 3.1268 | 1 | 1 | 2 | 4 | 6
85 | 5,879 | 7.6399 | 2 | 3 | 6 | 10 | 15
86 | 11,469 | 5.0021 | 1 | 3 | 4 | 6 | 9
87 | 12,958 | 3.2740 | 1 | 2 | 3 | 4 | 6
88 | 711 | 5.8748 | 1 | 3 | 4 | 7 | 12
89 | 2,733 | 3.7603 | 1 | 2 | 3 | 5 | 7
90 | 3,089 | 2.5494 | 1 | 1 | 2 | 3 | 5
91 | 7,605 | 6.3657 | 2 | 3 | 5 | 8 | 13
92 | 16,265 | 4.4647 | 1 | 2 | 4 | 6 | 8
93 | 16,121 | 3.2188 | 1 | 2 | 3 | 4 | 6
94 | 1,473 | 11.8547 | 4 | 6 | 10 | 15 | 22
95 | 1,030 | 8.6359 | 3 | 5 | 7 | 11 | 15
96 | 757 | 6.1744 | 2 | 4 | 6 | 8 | 11
97 | 1,192 | 12.6023 | 4 | 7 | 11 | 16 | 23
98 | 1,005 | 8.3522 | 3 | 5 | 7 | 10 | 15
99 | 641 | 5.8752 | 2 | 3 | 5 | 8 | 11
100 | 16,989 | 6.3526 | 2 | 3 | 5 | 8 | 12
101 | 56,991 | 3.6950 | 1 | 2 | 3 | 5 | 7
102 | 1,080 | 4.5306 | 1 | 2 | 3 | 6 | 9
103 | 13,735 | 3.1270 | 1 | 2 | 2 | 4 | 6
113 | 525 | 5.5981 | 1 | 2 | 4 | 8 | 12
114 | 555 | 2.6090 | 1 | 1 | 2 | 3 | 5
115 | 1,046 | 4.3222 | 1 | 2 | 4 | 5 | 7
116 | 546 | 4.0678 | 1 | 1 | 2 | 5 | 8
117 | 996 | 2.1596 | 1 | 1 | 1 | 2 | 3
121 | 542 | 5.4576 | 2 | 3 | 4 | 7 | 10
122 | 617 | 4.0454 | 2 | 2 | 3 | 5 | 7
123 | 2,785 | 2.8747 | 1 | 2 | 2 | 4 | 5
124 | 749 | 5.2697 | 1 | 2 | 4 | 7 | 10
125 | 4,661 | 3.5134 | 1 | 2 | 3 | 4 | 7
129 | 1,353 | 5.1803 | 1 | 2 | 4 | 6 | 11
130 | 1,073 | 2.9385 | 1 | 1 | 2 | 4 | 6
131 | 929 | 5.7492 | 1 | 2 | 4 | 8 | 12
132 | 886 | 2.6501 | 1 | 1 | 2 | 3 | 5
133 | 1,981 | 5.3296 | 1 | 2 | 4 | 7 | 11
134 | 3,362 | 2.2329 | 1 | 1 | 1 | 3 | 4
135 | 352 | 5.8295 | 1 | 2 | 4 | 8 | 12
136 | 472 | 2.3305 | 1 | 1 | 1 | 3 | 5
137 | 773 | 5.4062 | 1 | 2 | 4 | 7 | 11
138 | 886 | 2.5237 | 1 | 1 | 2 | 3 | 5
139 | 1,490 | 1.8456 | 1 | 1 | 1 | 2 | 3
146 | 674 | 9.4466 | 2 | 4 | 7 | 12 | 19
147 | 1,364 | 6.1320 | 1 | 2 | 4 | 8 | 12
148 | 847 | 3.8040 | 1 | 1 | 3 | 5 | 8
149 | 38,817 | 2.7185 | 1 | 1 | 2 | 3 | 5
150 | 949 | 5.1981 | 1 | 2 | 4 | 6 | 10
151 | 6,810 | 2.8921 | 1 | 1 | 2 | 4 | 5
152 | 1,726 | 4.4571 | 1 | 2 | 3 | 5 | 8
153 | 11,433 | 3.2168 | 1 | 2 | 3 | 4 | 6
154 | 1,899 | 6.3381 | 2 | 3 | 5 | 8 | 12
155 | 4,471 | 4.4187 | 1 | 2 | 4 | 6 | 8
156 | 4,819 | 3.1731 | 1 | 2 | 3 | 4 | 6
157 | 1,044 | 6.6542 | 1 | 3 | 5 | 8 | 14
158 | 3,219 | 4.5281 | 1 | 2 | 3 | 6 | 9
159 | 2,355 | 3.0522 | 1 | 1 | 2 | 4 | 6
163 | 13,614 | 14.9476 | 5 | 8 | 13 | 19 | 27
164 | 17,887 | 8.0977 | 3 | 5 | 7 | 10 | 15
165 | 13,805 | 5.1442 | 2 | 3 | 5 | 6 | 9
166 | 20,549 | 12.9161 | 4 | 7 | 10 | 16 | 24
167 | 20,520 | 7.9756 | 2 | 4 | 7 | 10 | 15
168 | 5,467 | 5.2532 | 1 | 2 | 4 | 7 | 10
175 | 12,682 | 7.2650 | 3 | 4 | 6 | 9 | 12
176 | 41,338 | 5.3283 | 2 | 3 | 5 | 7 | 9
177 | 63,750 | 9.1032 | 3 | 5 | 7 | 12 | 17
178 | 70,831 | 7.3794 | 3 | 4 | 6 | 9 | 13
179 | 26,087 | 5.5654 | 2 | 3 | 5 | 7 | 10
180 | 22,324 | 7.9001 | 2 | 4 | 6 | 10 | 15
181 | 30,220 | 5.9078 | 2 | 3 | 5 | 8 | 11
182 | 5,446 | 4.1761 | 1 | 2 | 3 | 5 | 8
183 | 1,856 | 7.2338 | 2 | 4 | 6 | 9 | 13
184 | 4,320 | 4.5829 | 2 | 3 | 4 | 6 | 8
185 | 2,506 | 3.4066 | 1 | 2 | 3 | 4 | 6
186 | 9,239 | 7.4006 | 2 | 4 | 6 | 9 | 14
187 | 10,028 | 5.3216 | 2 | 3 | 4 | 7 | 10
188 | 5,014 | 3.9928 | 1 | 2 | 3 | 5 | 8
189 | 113,067 | 6.1459 | 2 | 3 | 5 | 8 | 11
190 | 58,781 | 6.2972 | 2 | 3 | 5 | 8 | 12
191 | 118,162 | 5.0156 | 2 | 3 | 4 | 6 | 9
192 | 184,764 | 3.9705 | 1 | 2 | 3 | 5 | 7
193 | 87,315 | 6.7517 | 2 | 4 | 6 | 8 | 12
194 | 253,950 | 5.2660 | 2 | 3 | 4 | 7 | 9
195 | 133,231 | 4.0792 | 2 | 2 | 4 | 5 | 7
196 | 5,388 | 7.3537 | 3 | 4 | 6 | 9 | 14
197 | 6,796 | 5.3899 | 2 | 3 | 4 | 7 | 10
198 | 4,616 | 4.0804 | 1 | 2 | 3 | 5 | 7
199 | 3,208 | 8.3030 | 2 | 4 | 7 | 11 | 16
200 | 8,382 | 5.0894 | 1 | 2 | 4 | 7 | 10
201 | 3,467 | 4.0580 | 1 | 2 | 3 | 5 | 8
202 | 29,252 | 4.3530 | 1 | 2 | 4 | 5 | 8
203 | 36,870 | 3.3859 | 1 | 2 | 3 | 4 | 6
204 | 25,669 | 2.8746 | 1 | 1 | 2 | 4 | 5
205 | 5,848 | 5.5050 | 1 | 2 | 4 | 7 | 10
206 | 21,532 | 3.4393 | 1 | 2 | 3 | 4 | 6
207 | 39,505 | 15.0709 | 6 | 9 | 13 | 18 | 25
208 | 76,444 | 7.2241 | 1 | 3 | 6 | 10 | 14
215 | 141 | 14.1844 | 1 | 3 | 9 | 17 | 31
216 | 8,616 | 18.3713 | 8 | 11 | 16 | 23 | 31
217 | 7,236 | 12.3046 | 6 | 8 | 11 | 15 | 20
218 | 2,554 | 9.0568 | 5 | 6 | 8 | 11 | 14
219 | 10,525 | 13.9944 | 6 | 8 | 11 | 17 | 26
220 | 13,928 | 8.5619 | 5 | 6 | 7 | 10 | 14
221 | 7,032 | 6.4428 | 4 | 5 | 6 | 7 | 10
222 | 2,771 | 13.0949 | 5 | 7 | 11 | 17 | 23
223 | 5,080 | 6.2701 | 1 | 3 | 5 | 8 | 12
224 | 1,911 | 11.3673 | 4 | 6 | 9 | 14 | 21
225 | 5,076 | 5.6420 | 2 | 3 | 5 | 7 | 10
226 | 7,064 | 9.3342 | 1 | 3 | 7 | 12 | 19
227 | 42,807 | 2.8263 | 1 | 1 | 1 | 3 | 7
228 | 2,974 | 14.7078 | 6 | 8 | 13 | 18 | 26
229 | 3,596 | 9.1096 | 4 | 6 | 8 | 11 | 15
230 | 1,566 | 6.4757 | 3 | 4 | 6 | 8 | 11
231 | 1,446 | 13.3811 | 6 | 8 | 11 | 17 | 24
232 | 1,515 | 9.1868 | 5 | 7 | 8 | 11 | 14
233 | 16,254 | 14.1787 | 7 | 9 | 12 | 17 | 24
234 | 34,309 | 8.9262 | 5 | 6 | 8 | 11 | 13
235 | 9,629 | 11.2185 | 5 | 7 | 9 | 14 | 20
236 | 30,065 | 6.6177 | 4 | 5 | 6 | 8 | 10
237 | 22,384 | 10.8073 | 2 | 5 | 9 | 14 | 21
238 | 42,226 | 4.6444 | 1 | 2 | 3 | 6 | 9
239 | 13,307 | 15.3499 | 5 | 8 | 12 | 19 | 29
240 | 11,658 | 10.3695 | 3 | 5 | 8 | 13 | 19
241 | 2,680 | 6.7634 | 3 | 4 | 6 | 8 | 12
242 | 17,519 | 8.7738 | 3 | 4 | 7 | 11 | 17
243 | 36,074 | 5.0924 | 1 | 2 | 4 | 7 | 10
244 | 62,706 | 2.9268 | 1 | 1 | 2 | 4 | 6
245 | 5,887 | 3.3061 | 1 | 1 | 2 | 4 | 7
246 | 28,818 | 5.3370 | 1 | 2 | 4 | 7 | 12
247 | 188,884 | 2.1674 | 1 | 1 | 1 | 3 | 4
248 | 13,847 | 5.9831 | 1 | 2 | 4 | 8 | 12
249 | 69,978 | 2.4966 | 1 | 1 | 2 | 3 | 5
250 | 6,762 | 7.7798 | 1 | 3 | 6 | 10 | 16
251 | 41,707 | 2.8343 | 1 | 1 | 2 | 4 | 6
252 | 45,567 | 8.5378 | 1 | 3 | 6 | 11 | 18
253 | 44,910 | 6.0144 | 1 | 2 | 5 | 8 | 13
254 | 53,360 | 2.7299 | 1 | 1 | 2 | 3 | 6
255 | 2,521 | 9.6942 | 2 | 4 | 8 | 12 | 18
256 | 3,425 | 7.4762 | 2 | 4 | 6 | 9 | 13
257 | 705 | 4.8482 | 1 | 2 | 4 | 7 | 10
258 | 686 | 7.3761 | 2 | 3 | 6 | 9 | 14
259 | 7,302 | 2.8020 | 1 | 1 | 2 | 4 | 6
260 | 1,549 | 11.2214 | 3 | 5 | 8 | 14 | 22
261 | 3,522 | 4.2127 | 1 | 1 | 3 | 6 | 9
262 | 3,531 | 2.5902 | 1 | 1 | 2 | 3 | 6
263 | 652 | 5.4126 | 1 | 1 | 3 | 7 | 13
264 | 28,273 | 8.8998 | 1 | 3 | 6 | 11 | 19
280 | 63,593 | 7.3381 | 2 | 4 | 6 | 9 | 13
281 | 53,704 | 4.8075 | 2 | 3 | 4 | 6 | 9
282 | 54,305 | 3.2480 | 1 | 2 | 3 | 4 | 6
283 | 14,888 | 5.4547 | 1 | 1 | 3 | 7 | 13
284 | 4,139 | 3.2341 | 1 | 1 | 2 | 4 | 7
285 | 2,803 | 2.2112 | 1 | 1 | 1 | 3 | 5
286 | 23,695 | 6.9333 | 2 | 3 | 5 | 9 | 14
287 | 158,158 | 3.1457 | 1 | 1 | 2 | 4 | 6
288 | 2,953 | 11.7541 | 4 | 6 | 9 | 14 | 22
289 | 1,357 | 8.6610 | 3 | 5 | 7 | 11 | 15
290 | 473 | 6.4947 | 2 | 4 | 5 | 8 | 11
291 | 187,597 | 6.4926 | 2 | 3 | 5 | 8 | 12
292 | 204,514 | 4.9936 | 2 | 3 | 4 | 6 | 9
293 | 196,441 | 3.6816 | 1 | 2 | 3 | 5 | 6
294 | 1,415 | 5.5611 | 2 | 3 | 5 | 7 | 9
295 | 1,343 | 4.3291 | 2 | 3 | 4 | 6 | 7
296 | 1,917 | 3.0303 | 1 | 1 | 1 | 3 | 7
297 | 791 | 1.8217 | 1 | 1 | 1 | 2 | 3
298 | 602 | 1.3040 | 1 | 1 | 1 | 1 | 2
299 | 17,750 | 6.6518 | 2 | 3 | 5 | 8 | 12
300 | 44,551 | 5.0493 | 2 | 3 | 4 | 6 | 9
301 | 36,994 | 3.6992 | 1 | 2 | 3 | 5 | 7
302 | 7,587 | 4.3756 | 1 | 2 | 3 | 5 | 8
303 | 70,544 | 2.5315 | 1 | 1 | 2 | 3 | 5
304 | 2,086 | 5.1942 | 1 | 2 | 4 | 7 | 10
305 | 35,079 | 2.8628 | 1 | 1 | 2 | 4 | 5
306 | 1,515 | 6.2964 | 1 | 3 | 4 | 8 | 12
307 | 6,344 | 3.4455 | 1 | 2 | 3 | 4 | 6
308 | 35,699 | 5.5438 | 1 | 2 | 4 | 7 | 11
309 | 79,311 | 3.9373 | 1 | 2 | 3 | 5 | 7
310 | 158,556 | 2.7530 | 1 | 1 | 2 | 4 | 5
311 | 21,034 | 2.3089 | 1 | 1 | 2 | 3 | 4
312 | 165,835 | 3.1053 | 1 | 2 | 2 | 4 | 6
313 | 211,391 | 2.1067 | 1 | 1 | 2 | 3 | 4
314 | 61,613 | 7.0205 | 2 | 3 | 5 | 9 | 14
315 | 29,960 | 4.6041 | 1 | 2 | 4 | 6 | 9
316 | 17,966 | 2.9978 | 1 | 1 | 2 | 4 | 6
326 | 11,226 | 17.1201 | 6 | 9 | 14 | 21 | 32
327 | 10,457 | 10.0519 | 3 | 5 | 8 | 13 | 18
328 | 8,865 | 4.3610 | 1 | 2 | 3 | 6 | 9
329 | 48,110 | 15.9561 | 6 | 9 | 13 | 20 | 29
330 | 63,624 | 9.7138 | 4 | 6 | 8 | 12 | 17
331 | 28,171 | 5.8793 | 3 | 4 | 5 | 7 | 9
332 | 1,823 | 14.3489 | 6 | 8 | 12 | 18 | 25
333 | 5,922 | 8.8349 | 4 | 6 | 8 | 10 | 15
334 | 3,719 | 5.5052 | 2 | 4 | 5 | 7 | 9
335 | 7,182 | 14.0778 | 5 | 8 | 12 | 18 | 25
336 | 12,448 | 9.0917 | 3 | 5 | 8 | 11 | 16
337 | 8,570 | 5.5883 | 1 | 3 | 5 | 8 | 10
338 | 1,501 | 10.7082 | 4 | 6 | 9 | 13 | 19
339 | 3,163 | 7.0452 | 3 | 4 | 6 | 9 | 12
340 | 3,558 | 4.1521 | 2 | 2 | 4 | 5 | 7
341 | 878 | 7.1287 | 2 | 3 | 5 | 9 | 14
342 | 2,544 | 4.1395 | 1 | 2 | 3 | 5 | 8
343 | 6,975 | 2.1792 | 1 | 1 | 2 | 3 | 4
344 | 936 | 11.7575 | 4 | 6 | 9 | 15 | 22
345 | 2,914 | 7.2447 | 3 | 4 | 6 | 9 | 12
346 | 2,759 | 4.9467 | 2 | 3 | 5 | 6 | 8
347 | 1,625 | 8.8166 | 2 | 4 | 7 | 11 | 17
348 | 4,164 | 5.7366 | 2 | 3 | 5 | 7 | 11
349 | 5,155 | 3.0795 | 1 | 1 | 2 | 4 | 6
350 | 1,756 | 7.9897 | 2 | 3 | 6 | 10 | 16
351 | 4,287 | 4.5573 | 1 | 2 | 4 | 6 | 9
352 | 8,183 | 2.4793 | 1 | 1 | 2 | 3 | 5
353 | 3,165 | 8.4051 | 2 | 4 | 7 | 11 | 16
354 | 8,420 | 5.0816 | 2 | 3 | 4 | 6 | 9
355 | 15,316 | 2.8995 | 1 | 1 | 2 | 4 | 5
356 | 8,335 | 12.9146 | 3 | 6 | 10 | 16 | 25
357 | 7,801 | 8.1406 | 2 | 4 | 6 | 10 | 16
358 | 2,477 | 4.4719 | 1 | 2 | 4 | 6 | 9
368 | 3,566 | 6.5979 | 2 | 3 | 5 | 8 | 13
369 | 5,248 | 4.7487 | 2 | 3 | 4 | 6 | 9
370 | 3,554 | 3.3995 | 1 | 2 | 3 | 4 | 6
371 | 24,371 | 8.7488 | 3 | 4 | 7 | 11 | 17
372 | 27,061 | 6.8532 | 3 | 4 | 6 | 8 | 12
373 | 15,249 | 4.9382 | 2 | 3 | 4 | 6 | 8
374 | 9,039 | 8.5759 | 2 | 4 | 7 | 11 | 16
375 | 18,945 | 6.0287 | 2 | 3 | 5 | 8 | 12
376 | 4,279 | 4.1837 | 1 | 2 | 3 | 5 | 8
377 | 51,556 | 6.3806 | 2 | 3 | 5 | 8 | 12
378 | 110,340 | 4.4472 | 2 | 3 | 4 | 5 | 8
379 | 92,136 | 3.4088 | 1 | 2 | 3 | 4 | 6
380 | 3,020 | 7.2738 | 2 | 3 | 6 | 9 | 14
381 | 5,293 | 5.1734 | 2 | 3 | 4 | 6 | 9
382 | 4,492 | 3.6814 | 1 | 2 | 3 | 5 | 7
383 | 1,223 | 5.5200 | 2 | 3 | 4 | 7 | 10
384 | 8,080 | 3.7490 | 1 | 2 | 3 | 5 | 7
385 | 1,996 | 8.8191 | 3 | 4 | 6 | 11 | 18
386 | 7,126 | 5.6996 | 2 | 3 | 5 | 7 | 10
387 | 5,033 | 4.2935 | 1 | 2 | 4 | 5 | 8
388 | 18,540 | 7.3159 | 2 | 3 | 6 | 9 | 14
389 | 45,795 | 5.0160 | 2 | 3 | 4 | 6 | 9
390 | 46,426 | 3.5522 | 1 | 2 | 3 | 4 | 6
391 | 44,299 | 5.2367 | 1 | 2 | 4 | 6 | 10
392 | 282,071 | 3.4889 | 1 | 2 | 3 | 4 | 6
393 | 23,253 | 6.8917 | 2 | 3 | 5 | 8 | 14
394 | 45,853 | 4.8196 | 1 | 2 | 4 | 6 | 9
395 | 24,740 | 3.3344 | 1 | 2 | 3 | 4 | 6
405 | 3,963 | 17.0056 | 5 | 8 | 13 | 21 | 34
406 | 5,300 | 9.1566 | 2 | 5 | 7 | 11 | 18
407 | 2,115 | 5.4851 | 1 | 3 | 5 | 7 | 10
408 | 1,548 | 14.9961 | 6 | 8 | 12 | 18 | 28
409 | 1,737 | 9.8290 | 4 | 6 | 8 | 12 | 18
410 | 598 | 6.5033 | 2 | 4 | 6 | 8 | 11
411 | 956 | 12.4069 | 5 | 7 | 10 | 15 | 22
412 | 955 | 8.5696 | 4 | 6 | 8 | 11 | 14
413 | 756 | 5.9272 | 2 | 4 | 5 | 7 | 10
414 | 5,241 | 11.7296 | 5 | 7 | 10 | 14 | 21
415 | 6,127 | 7.6236 | 3 | 5 | 7 | 9 | 13
416 | 5,328 | 4.8281 | 2 | 3 | 4 | 6 | 8
417 | 16,444 | 8.3803 | 3 | 4 | 7 | 10 | 16
418 | 27,075 | 5.6341 | 2 | 3 | 5 | 7 | 10
419 | 35,887 | 3.1911 | 1 | 1 | 3 | 4 | 6
420 | 766 | 13.6606 | 3 | 6 | 10 | 17 | 26
421 | 1,054 | 7.6879 | 2 | 3 | 6 | 10 | 16
422 | 327 | 4.3609 | 1 | 2 | 4 | 6 | 8
423 | 1,542 | 15.8599 | 4 | 7 | 12 | 20 | 32
424 | 894 | 10.4172 | 3 | 5 | 8 | 14 | 20
425 | 125 | 5.3760 | 1 | 2 | 4 | 7 | 10
432 | 15,140 | 6.9542 | 2 | 3 | 5 | 9 | 14
433 | 9,672 | 4.8719 | 1 | 2 | 4 | 6 | 9
434 | 877 | 3.6933 | 1 | 2 | 3 | 5 | 6
435 | 12,111 | 7.5614 | 2 | 3 | 6 | 10 | 15
436 | 13,158 | 5.8396 | 2 | 3 | 5 | 8 | 11
437 | 3,887 | 4.2529 | 1 | 2 | 3 | 6 | 8
438 | 14,063 | 7.5128 | 2 | 3 | 5 | 9 | 15
439 | 24,364 | 5.3275 | 2 | 3 | 4 | 7 | 10
440 | 25,670 | 3.8103 | 1 | 2 | 3 | 5 | 7
441 | 13,335 | 7.0467 | 2 | 3 | 5 | 9 | 14
442 | 14,144 | 5.1103 | 2 | 2 | 4 | 6 | 9
443 | 6,544 | 3.7796 | 1 | 2 | 3 | 5 | 7
444 | 12,898 | 6.6243 | 2 | 3 | 5 | 8 | 13
445 | 16,794 | 4.7264 | 1 | 2 | 4 | 6 | 9
446 | 15,932 | 3.2658 | 1 | 2 | 3 | 4 | 6
453 | 948 | 15.6561 | 5 | 7 | 12 | 19 | 29
454 | 1,771 | 8.0237 | 3 | 4 | 6 | 10 | 14
455 | 1,969 | 4.4307 | 1 | 3 | 4 | 5 | 7
456 | 946 | 14.7061 | 5 | 7 | 11 | 19 | 28
457 | 2,413 | 7.4836 | 3 | 4 | 6 | 9 | 13
458 | 1,609 | 4.5438 | 2 | 3 | 4 | 6 | 7
459 | 3,508 | 9.4478 | 4 | 5 | 7 | 11 | 17
460 | 51,883 | 4.2180 | 2 | 3 | 4 | 5 | 7
461 | 1,018 | 8.4342 | 3 | 5 | 6 | 9 | 14
462 | 13,194 | 4.2178 | 3 | 3 | 4 | 5 | 6
463 | 5,054 | 16.5693 | 5 | 7 | 12 | 20 | 33
464 | 5,839 | 10.2197 | 3 | 5 | 8 | 12 | 20
465 | 2,398 | 5.8661 | 1 | 3 | 5 | 7 | 11
466 | 4,072 | 9.1717 | 3 | 5 | 7 | 11 | 16
467 | 14,331 | 5.4882 | 3 | 3 | 4 | 6 | 9
468 | 21,133 | 3.9306 | 2 | 3 | 3 | 4 | 6
469 | 30,532 | 8.2006 | 3 | 5 | 7 | 10 | 14
470 | 405,204 | 3.9281 | 3 | 3 | 3 | 4 | 6
471 | 2,283 | 9.7946 | 2 | 4 | 7 | 13 | 20
472 | 6,954 | 4.0913 | 1 | 1 | 3 | 5 | 9
473 | 22,875 | 1.9623 | 1 | 1 | 1 | 2 | 4
474 | 2,918 | 12.6453 | 4 | 6 | 10 | 15 | 24
475 | 3,277 | 8.3946 | 3 | 4 | 7 | 11 | 15
476 | 1,589 | 4.7885 | 1 | 2 | 4 | 6 | 9
477 | 2,582 | 11.8548 | 3 | 6 | 9 | 15 | 22
478 | 8,562 | 6.6119 | 1 | 3 | 6 | 9 | 13
479 | 11,424 | 2.8188 | 1 | 1 | 1 | 4 | 7
480 | 26,724 | 9.2958 | 4 | 5 | 8 | 11 | 16
481 | 72,123 | 5.9291 | 3 | 4 | 5 | 7 | 9
482 | 48,111 | 4.8427 | 3 | 4 | 4 | 6 | 7
483 | 7,100 | 4.2093 | 2 | 2 | 3 | 5 | 8
484 | 17,842 | 2.4311 | 1 | 2 | 2 | 3 | 4
485 | 1,183 | 12.1116 | 4 | 6 | 10 | 15 | 22
486 | 2,186 | 8.0425 | 3 | 5 | 7 | 10 | 14
487 | 1,312 | 5.6715 | 3 | 3 | 5 | 7 | 9
488 | 2,495 | 5.2236 | 2 | 3 | 4 | 6 | 10
489 | 5,763 | 3.0465 | 1 | 2 | 3 | 4 | 5
490 | 22,971 | 4.3437 | 1 | 1 | 3 | 5 | 9
491 | 52,406 | 2.2104 | 1 | 1 | 2 | 3 | 4
492 | 5,217 | 8.5338 | 3 | 5 | 7 | 11 | 15
493 | 16,900 | 5.2509 | 2 | 3 | 4 | 6 | 9
494 | 29,166 | 3.3992 | 1 | 2 | 3 | 4 | 6
495 | 1,970 | 10.9609 | 3 | 5 | 8 | 14 | 21
496 | 5,555 | 5.9802 | 2 | 3 | 5 | 7 | 11
497 | 6,632 | 3.0054 | 1 | 1 | 2 | 4 | 6
498 | 1,163 | 7.8865 | 2 | 3 | 6 | 10 | 16
499 | 1,110 | 2.9757 | 1 | 1 | 2 | 4 | 6
500 | 1,503 | 10.8283 | 3 | 5 | 8 | 14 | 21
501 | 3,873 | 5.9700 | 2 | 3 | 5 | 8 | 12
502 | 6,452 | 2.9416 | 1 | 1 | 2 | 4 | 6
503 | 833 | 9.4586 | 3 | 5 | 7 | 11 | 17
504 | 2,162 | 6.4510 | 2 | 3 | 6 | 8 | 12
505 | 3,004 | 3.3832 | 1 | 2 | 3 | 4 | 6
506 | 810 | 3.4074 | 1 | 1 | 2 | 4 | 7
507 | 836 | 5.1459 | 1 | 2 | 4 | 6 | 10
508 | 2,481 | 2.0512 | 1 | 1 | 1 | 2 | 3
509 | 627 | 3.1100 | 1 | 1 | 2 | 3 | 7
510 | 973 | 6.4070 | 2 | 3 | 5 | 8 | 12
511 | 3,926 | 3.9758 | 1 | 2 | 3 | 5 | 7
512 | 10,961 | 2.1581 | 1 | 1 | 2 | 3 | 4
513 | 1,052 | 5.0266 | 1 | 2 | 4 | 6 | 10
514 | 1,006 | 2.8191 | 1 | 1 | 2 | 3 | 6
515 | 3,818 | 10.4445 | 3 | 5 | 8 | 13 | 20
516 | 11,280 | 5.9870 | 1 | 3 | 5 | 8 | 11
517 | 17,523 | 3.0079 | 1 | 1 | 2 | 4 | 7
533 | 822 | 6.6861 | 2 | 3 | 5 | 8 | 12
534 | 3,392 | 4.0292 | 1 | 2 | 3 | 5 | 7
535 | 6,990 | 6.2365 | 2 | 3 | 5 | 8 | 12
536 | 33,661 | 3.9328 | 2 | 3 | 3 | 5 | 7
537 | 665 | 4.4722 | 2 | 3 | 4 | 5 | 8
538 | 1,056 | 3.2197 | 1 | 2 | 3 | 4 | 6
539 | 3,417 | 9.7085 | 3 | 5 | 8 | 12 | 17
540 | 4,016 | 7.1257 | 3 | 4 | 6 | 8 | 13
541 | 1,618 | 5.3745 | 2 | 3 | 4 | 7 | 9
542 | 5,709 | 8.7758 | 3 | 4 | 7 | 11 | 17
543 | 17,012 | 5.9463 | 2 | 3 | 5 | 7 | 11
544 | 10,798 | 4.4077 | 2 | 3 | 4 | 5 | 8
545 | 4,079 | 9.0924 | 2 | 4 | 6 | 11 | 19
546 | 5,577 | 5.5338 | 2 | 3 | 4 | 7 | 10
547 | 4,533 | 3.8083 | 1 | 2 | 3 | 5 | 7
548 | 580 | 8.9379 | 3 | 4 | 7 | 11 | 17
549 | 1,110 | 6.3874 | 2 | 3 | 5 | 8 | 12
550 | 858 | 4.4545 | 2 | 2 | 4 | 6 | 8
551 | 10,066 | 7.1058 | 2 | 3 | 6 | 9 | 14
552 | 85,179 | 4.1225 | 1 | 2 | 3 | 5 | 7
553 | 3,076 | 5.9620 | 2 | 3 | 5 | 7 | 11
554 | 19,173 | 3.6913 | 1 | 2 | 3 | 5 | 7
555 | 2,013 | 4.8405 | 1 | 2 | 4 | 6 | 9
556 | 18,639 | 3.1089 | 1 | 2 | 3 | 4 | 6
557 | 3,646 | 6.6100 | 2 | 3 | 5 | 8 | 12
558 | 15,089 | 4.2586 | 2 | 2 | 4 | 5 | 7
559 | 1,815 | 7.5444 | 2 | 3 | 6 | 9 | 15
560 | 4,319 | 4.7217 | 1 | 2 | 4 | 6 | 9
561 | 7,107 | 2.7680 | 1 | 1 | 2 | 3 | 5
562 | 5,458 | 6.3674 | 2 | 3 | 5 | 8 | 12
563 | 36,267 | 3.7016 | 1 | 2 | 3 | 4 | 6
564 | 1,661 | 6.9934 | 2 | 3 | 5 | 9 | 13
565 | 3,311 | 4.9795 | 2 | 3 | 4 | 6 | 9
566 | 2,624 | 3.6825 | 1 | 2 | 3 | 5 | 7
573 | 5,477 | 13.0933 | 4 | 6 | 9 | 16 | 26
574 | 11,123 | 9.3248 | 3 | 5 | 7 | 11 | 17
575 | 5,462 | 5.8521 | 2 | 3 | 5 | 7 | 11
576 | 547 | 12.9506 | 2 | 4 | 9 | 17 | 28
577 | 2,228 | 6.1104 | 1 | 2 | 4 | 8 | 13
578 | 3,054 | 3.3062 | 1 | 1 | 2 | 4 | 7
579 | 3,511 | 10.6830 | 3 | 5 | 8 | 14 | 21
580 | 10,711 | 5.5084 | 1 | 2 | 4 | 7 | 12
581 | 12,142 | 2.6146 | 1 | 1 | 2 | 3 | 6
582 | 5,337 | 2.8943 | 1 | 1 | 2 | 3 | 5
583 | 8,748 | 1.8056 | 1 | 1 | 1 | 2 | 3
584 | 668 | 5.9850 | 1 | 2 | 4 | 8 | 13
585 | 1,469 | 2.2321 | 1 | 1 | 1 | 2 | 4
592 | 4,178 | 8.8712 | 3 | 4 | 7 | 10 | 16
593 | 12,304 | 6.4415 | 2 | 3 | 5 | 8 | 11
594 | 2,751 | 5.0593 | 2 | 3 | 4 | 6 | 9
595 | 1,112 | 8.3327 | 2 | 4 | 6 | 10 | 16
596 | 5,308 | 4.7600 | 1 | 2 | 4 | 6 | 8
597 | 458 | 8.2009 | 2 | 3 | 6 | 10 | 16
598 | 1,400 | 5.7243 | 2 | 3 | 4 | 7 | 11
599 | 306 | 3.7320 | 1 | 1 | 3 | 4 | 6
600 | 682 | 5.0513 | 2 | 3 | 4 | 7 | 9
601 | 884 | 3.8541 | 1 | 2 | 3 | 5 | 7
602 | 22,088 | 7.0278 | 2 | 4 | 6 | 9 | 13
603 | 130,121 | 4.7073 | 2 | 3 | 4 | 6 | 8
604 | 2,660 | 5.6590 | 1 | 3 | 4 | 7 | 11
605 | 22,097 | 3.4622 | 1 | 2 | 3 | 4 | 6
606 | 1,350 | 6.3422 | 1 | 3 | 4 | 7 | 12
607 | 7,168 | 3.7913 | 1 | 2 | 3 | 5 | 7
614 | 1,457 | 7.0336 | 2 | 3 | 5 | 8 | 14
615 | 1,546 | 3.1572 | 1 | 2 | 3 | 4 | 5
616 | 1,091 | 16.9432 | 6 | 9 | 13 | 20 | 31
617 | 6,718 | 8.7904 | 3 | 5 | 7 | 11 | 15
618 | 258 | 6.3605 | 2 | 3 | 6 | 8 | 11
619 | 696 | 8.2011 | 2 | 3 | 5 | 9 | 18
620 | 2,186 | 3.6780 | 1 | 2 | 3 | 4 | 7
621 | 7,848 | 2.1617 | 1 | 1 | 2 | 3 | 4
622 | 1,112 | 13.1574 | 3 | 6 | 9 | 16 | 24
623 | 3,077 | 8.5707 | 3 | 4 | 7 | 10 | 15
624 | 383 | 6.0261 | 2 | 3 | 5 | 7 | 10
625 | 1,274 | 7.0879 | 1 | 2 | 5 | 9 | 15
626 | 2,538 | 3.1233 | 1 | 1 | 2 | 3 | 7
627 | 14,026 | 1.5172 | 1 | 1 | 1 | 2 | 2
628 | 3,366 | 11.1851 | 2 | 4 | 8 | 14 | 23
629 | 4,160 | 8.7418 | 3 | 5 | 7 | 11 | 16
630 | 534 | 5.5281 | 1 | 2 | 4 | 7 | 11
637 | 17,104 | 6.0581 | 2 | 3 | 5 | 7 | 12
638 | 42,581 | 4.2659 | 1 | 2 | 3 | 5 | 8
639 | 38,312 | 3.0382 | 1 | 2 | 2 | 4 | 5
640 | 60,806 | 5.4332 | 1 | 2 | 4 | 7 | 11
641 | 201,324 | 3.8256 | 1 | 2 | 3 | 5 | 7
642 | 1,492 | 5.1810 | 1 | 2 | 4 | 6 | 9
643 | 5,176 | 7.6103 | 2 | 4 | 6 | 9 | 14
644 | 11,788 | 5.4597 | 2 | 3 | 4 | 7 | 10
645 | 8,179 | 3.8912 | 1 | 2 | 3 | 5 | 7
652 | 10,067 | 7.7888 | 4 | 5 | 6 | 9 | 13
653 | 1,697 | 16.8981 | 7 | 9 | 13 | 21 | 31
654 | 3,452 | 9.8624 | 5 | 7 | 8 | 11 | 16
655 | 1,633 | 6.5150 | 3 | 5 | 7 | 8 | 10
656 | 3,918 | 10.1146 | 4 | 5 | 8 | 12 | 19
657 | 7,422 | 5.9603 | 3 | 4 | 5 | 7 | 10
658 | 8,271 | 3.7356 | 2 | 2 | 3 | 5 | 6
659 | 4,658 | 11.2003 | 3 | 5 | 8 | 14 | 22
660 | 7,594 | 6.5146 | 2 | 3 | 5 | 8 | 13
661 | 4,260 | 3.2758 | 1 | 2 | 3 | 4 | 6
662 | 949 | 10.2740 | 2 | 4 | 8 | 14 | 20
663 | 2,054 | 5.2639 | 1 | 2 | 4 | 7 | 11
664 | 4,390 | 2.1223 | 1 | 1 | 1 | 2 | 4
665 | 654 | 11.0627 | 3 | 5 | 9 | 14 | 21
666 | 2,092 | 6.3595 | 1 | 2 | 4 | 9 | 14
667 | 3,616 | 2.8695 | 1 | 1 | 2 | 3 | 6
668 | 3,833 | 8.5265 | 2 | 4 | 7 | 11 | 16
669 | 12,746 | 4.4236 | 1 | 2 | 3 | 6 | 9
670 | 11,687 | 2.5131 | 1 | 1 | 2 | 3 | 5
671 | 808 | 5.9468 | 1 | 2 | 4 | 8 | 12
672 | 943 | 2.5302 | 1 | 1 | 2 | 3 | 5
673 | 12,542 | 9.7323 | 1 | 3 | 7 | 13 | 21
674 | 11,715 | 7.1905 | 1 | 2 | 5 | 9 | 15
675 | 7,824 | 2.0675 | 1 | 1 | 1 | 2 | 4
682 | 82,091 | 7.1569 | 2 | 3 | 5 | 9 | 14
683 | 132,320 | 5.6544 | 2 | 3 | 5 | 7 | 10
684 | 44,932 | 3.8913 | 1 | 2 | 3 | 5 | 7
685 | 2,331 | 3.4822 | 1 | 1 | 2 | 4 | 7
686 | 1,597 | 7.5717 | 2 | 3 | 6 | 9 | 15
687 | 3,261 | 5.3502 | 1 | 3 | 4 | 7 | 10
688 | 1,073 | 3.2591 | 1 | 1 | 2 | 4 | 6
689 | 55,995 | 6.2004 | 2 | 3 | 5 | 8 | 11
690 | 198,101 | 4.2356 | 2 | 2 | 4 | 5 | 7
691 | 821 | 3.9586 | 1 | 2 | 3 | 5 | 8
692 | 491 | 2.3992 | 1 | 1 | 2 | 3 | 5
693 | 2,429 | 4.8345 | 1 | 2 | 4 | 6 | 10
694 | 18,000 | 2.5778 | 1 | 1 | 2 | 3 | 5
695 | 975 | 5.5251 | 1 | 3 | 4 | 7 | 11
696 | 10,518 | 3.2901 | 1 | 2 | 3 | 4 | 6
697 | 592 | 3.1115 | 1 | 1 | 2 | 4 | 6
698 | 23,320 | 6.6546 | 2 | 3 | 5 | 8 | 13
699 | 24,207 | 4.8302 | 1 | 2 | 4 | 6 | 9
700 | 12,279 | 3.5497 | 1 | 2 | 3 | 4 | 7
707 | 5,979 | 4.4131 | 1 | 2 | 3 | 5 | 8
708 | 18,063 | 2.1475 | 1 | 1 | 2 | 3 | 4
709 | 762 | 6.5341 | 1 | 2 | 4 | 8 | 15
710 | 1,831 | 1.7739 | 1 | 1 | 1 | 2 | 3
711 | 790 | 8.1684 | 1 | 3 | 6 | 10 | 16
712 | 705 | 3.0496 | 1 | 1 | 2 | 4 | 7
713 | 10,252 | 4.1916 | 1 | 2 | 3 | 5 | 9
714 | 28,797 | 1.9430 | 1 | 1 | 2 | 2 | 3
715 | 531 | 6.2806 | 1 | 2 | 4 | 8 | 13
716 | 1,273 | 1.4289 | 1 | 1 | 1 | 1 | 2
717 | 703 | 7.2319 | 2 | 3 | 5 | 9 | 14
718 | 589 | 2.7640 | 1 | 1 | 2 | 3 | 5
722 | 745 | 7.5852 | 2 | 3 | 6 | 10 | 14
723 | 1,949 | 5.2678 | 1 | 3 | 4 | 7 | 10
724 | 578 | 3.1522 | 1 | 1 | 2 | 4 | 6
725 | 755 | 5.5007 | 2 | 3 | 4 | 7 | 10
726 | 3,716 | 3.4739 | 1 | 2 | 3 | 4 | 6
727 | 1,294 | 6.3995 | 2 | 3 | 5 | 8 | 12
728 | 6,158 | 4.0404 | 1 | 2 | 3 | 5 | 7
729 | 591 | 5.5736 | 1 | 2 | 4 | 7 | 10
730 | 471 | 3.0786 | 1 | 1 | 2 | 4 | 6
734 | 1,362 | 7.9941 | 3 | 4 | 6 | 9 | 15
735 | 1,130 | 3.3602 | 1 | 2 | 3 | 4 | 5
736 | 854 | 13.7752 | 5 | 7 | 11 | 17 | 25
737 | 3,293 | 7.1786 | 3 | 4 | 6 | 8 | 13
738 | 863 | 3.8714 | 2 | 3 | 3 | 5 | 6
739 | 1,013 | 10.1955 | 3 | 5 | 8 | 12 | 20
740 | 4,326 | 5.2305 | 2 | 3 | 4 | 6 | 9
741 | 6,014 | 2.9940 | 1 | 2 | 3 | 4 | 5
742 | 10,950 | 4.5175 | 2 | 2 | 3 | 5 | 8
743 | 32,325 | 2.2608 | 1 | 2 | 2 | 3 | 3
744 | 1,520 | 5.8355 | 1 | 2 | 4 | 7 | 12
745 | 1,694 | 2.5738 | 1 | 1 | 2 | 3 | 5
746 | 2,634 | 4.2134 | 1 | 2 | 3 | 5 | 8
747 | 10,409 | 1.8856 | 1 | 1 | 2 | 2 | 3
748 | 19,857 | 1.7358 | 1 | 1 | 1 | 2 | 3
749 | 982 | 9.3401 | 2 | 4 | 7 | 12 | 19
750 | 435 | 3.1103 | 1 | 1 | 2 | 4 | 6
754 | 978 | 8.3395 | 2 | 4 | 7 | 11 | 16
755 | 2,933 | 5.6870 | 2 | 3 | 4 | 7 | 11
756 | 677 | 3.1359 | 1 | 1 | 2 | 4 | 6
757 | 1,393 | 8.1436 | 3 | 4 | 6 | 10 | 16
758 | 1,605 | 6.0536 | 2 | 3 | 5 | 7 | 11
759 | 1,239 | 4.4722 | 2 | 2 | 4 | 5 | 8
760 | 1,700 | 3.9594 | 1 | 2 | 3 | 5 | 8
761 | 1,749 | 2.4351 | 1 | 1 | 2 | 3 | 5
765 | 2,754 | 5.0359 | 2 | 3 | 4 | 5 | 7
766 | 2,686 | 3.1601 | 2 | 2 | 3 | 4 | 4
767 | 132 | 3.3712 | 2 | 2 | 2 | 3 | 5
768 | 6 | 3.5000 | 1 | 2 | 3 | 6 | 6
769 | 98 | 4.6224 | 1 | 2 | 3 | 6 | 11
770 | 202 | 2.2277 | 1 | 1 | 1 | 2 | 5
774 | 1,506 | 3.1886 | 2 | 2 | 2 | 3 | 5
775 | 5,768 | 2.2394 | 1 | 2 | 2 | 3 | 3
776 | 511 | 3.3112 | 1 | 2 | 2 | 4 | 7
777 | 206 | 2.2136 | 1 | 1 | 2 | 3 | 4
778 | 474 | 3.0127 | 1 | 1 | 2 | 3 | 5
779 | 110 | 2.1182 | 1 | 1 | 1 | 2 | 3
780 | 40 | 1.4500 | 1 | 1 | 1 | 1 | 3
781 | 3,017 | 3.7630 | 1 | 1 | 2 | 4 | 7
782 | 171 | 2.4971 | 1 | 1 | 1 | 2 | 4
790 | 1 | 25.0000 | 125 | 125 | 125 | 125 | 125
799 | 566 | 14.0583 | 5 | 7 | 11 | 18 | 26
800 | 705 | 7.8610 | 3 | 4 | 6 | 9 | 15
801 | 557 | 4.9336 | 2 | 2 | 4 | 6 | 9
802 | 765 | 12.2706 | 3 | 5 | 9 | 15 | 25
803 | 1,070 | 6.6738 | 1 | 3 | 5 | 8 | 14
804 | 987 | 3.4215 | 1 | 1 | 3 | 4 | 6
808 | 6,088 | 8.2467 | 3 | 4 | 6 | 10 | 16
809 | 12,869 | 5.3247 | 2 | 3 | 4 | 7 | 10
810 | 2,786 | 4.0337 | 1 | 2 | 3 | 5 | 7
811 | 21,404 | 5.6912 | 1 | 2 | 4 | 7 | 11
812 | 89,951 | 3.7401 | 1 | 2 | 3 | 5 | 7
813 | 14,232 | 5.1669 | 1 | 2 | 4 | 6 | 10
814 | 1,554 | 6.7368 | 2 | 3 | 5 | 8 | 13
815 | 3,297 | 4.9706 | 1 | 2 | 4 | 6 | 9
816 | 2,147 | 3.5198 | 1 | 2 | 3 | 4 | 7
820 | 1,299 | 17.7229 | 5 | 8 | 14 | 23 | 34
821 | 2,474 | 7.8646 | 1 | 3 | 6 | 10 | 16
822 | 1,893 | 3.5288 | 1 | 1 | 3 | 4 | 7
823 | 2,178 | 15.4385 | 5 | 8 | 12 | 20 | 29
824 | 2,974 | 8.7492 | 2 | 4 | 7 | 11 | 17
825 | 1,748 | 4.3084 | 1 | 1 | 3 | 6 | 9
826 | 524 | 15.0401 | 4 | 7 | 11 | 19 | 29
827 | 1,254 | 7.9793 | 2 | 4 | 6 | 10 | 16
828 | 799 | 3.7722 | 1 | 2 | 3 | 5 | 7
829 | 1,171 | 10.6576 | 2 | 4 | 7 | 13 | 22
830 | 521 | 3.7179 | 1 | 1 | 2 | 4 | 8
834 | 4,028 | 15.4615 | 2 | 4 | 10 | 23 | 36
835 | 2,703 | 10.4351 | 2 | 3 | 6 | 12 | 28
836 | 1,622 | 5.1843 | 1 | 2 | 3 | 6 | 10
837 | 1,043 | 23.1419 | 5 | 10 | 23 | 31 | 42
838 | 1,320 | 12.2629 | 3 | 4 | 6 | 21 | 29
839 | 1,467 | 6.4104 | 3 | 4 | 5 | 6 | 10
840 | 9,659 | 10.4408 | 3 | 5 | 8 | 13 | 21
841 | 10,035 | 6.9221 | 2 | 3 | 5 | 9 | 13
842 | 5,310 | 4.5563 | 1 | 2 | 4 | 6 | 9
843 | 1,350 | 8.5222 | 2 | 4 | 6 | 10 | 17
844 | 2,412 | 6.0987 | 2 | 3 | 5 | 8 | 12
845 | 804 | 4.3022 | 1 | 2 | 3 | 6 | 8
846 | 2,113 | 8.4179 | 2 | 3 | 5 | 10 | 18
847 | 23,862 | 3.3508 | 1 | 2 | 3 | 4 | 6
848 | 1,723 | 3.1294 | 1 | 1 | 3 | 4 | 5
849 | 1,477 | 5.9709 | 2 | 3 | 5 | 6 | 12
853 | 34,852 | 16.6669 | 5 | 8 | 13 | 21 | 30
854 | 6,643 | 11.1072 | 4 | 6 | 9 | 14 | 20
855 | 459 | 7.0261 | 2 | 4 | 6 | 9 | 13
856 | 5,892 | 15.3839 | 4 | 7 | 12 | 19 | 30
857 | 9,614 | 8.4628 | 3 | 4 | 7 | 10 | 16
858 | 3,246 | 5.6741 | 2 | 3 | 5 | 7 | 10
862 | 7,929 | 8.1778 | 2 | 4 | 6 | 10 | 16
863 | 21,420 | 5.1976 | 2 | 3 | 4 | 7 | 9
864 | 18,946 | 4.0639 | 1 | 2 | 3 | 5 | 7
865 | 1,705 | 6.7009 | 2 | 3 | 4 | 8 | 14
866 | 8,182 | 3.5351 | 1 | 2 | 3 | 4 | 7
867 | 5,062 | 9.6254 | 2 | 4 | 7 | 12 | 19
868 | 2,641 | 5.7819 | 2 | 3 | 4 | 7 | 11
869 | 1,103 | 4.3128 | 2 | 2 | 4 | 5 | 7
870 | 21,199 | 15.4758 | 6 | 9 | 13 | 19 | 27
871 | 216,384 | 7.4839 | 2 | 3 | 6 | 10 | 14
872 | 90,892 | 5.7138 | 2 | 3 | 5 | 7 | 10
876 | 857 | 11.9498 | 2 | 5 | 9 | 14 | 24
880 | 9,282 | 3.1518 | 1 | 1 | 2 | 4 | 6
881 | 4,623 | 4.1888 | 1 | 2 | 3 | 5 | 8
882 | 1,556 | 4.4274 | 1 | 2 | 3 | 6 | 9
883 | 757 | 7.3725 | 1 | 2 | 4 | 8 | 15
884 | 19,006 | 5.4936 | 2 | 3 | 4 | 6 | 10
885 | 80,806 | 7.6211 | 2 | 3 | 6 | 9 | 14
886 | 404 | 6.0767 | 1 | 2 | 4 | 7 | 12
887 | 393 | 4.6209 | 1 | 2 | 3 | 5 | 8
894 | 4,369 | 2.9528 | 1 | 1 | 2 | 3 | 4
895 | 6,958 | 10.4997 | 3 | 4 | 6 | 7 | 9
896 | 5,490 | 6.6087 | 2 | 3 | 5 | 8 | 13
897 | 36,053 | 4.0582 | 1 | 2 | 3 | 5 | 6
901 | 924 | 15.0693 | 3 | 6 | 10 | 18 | 30
902 | 2,031 | 7.7371 | 2 | 3 | 6 | 9 | 16
903 | 1,500 | 4.5680 | 1 | 2 | 4 | 6 | 9
904 | 1,047 | 11.2178 | 2 | 4 | 7 | 13 | 23
905 | 811 | 4.6523 | 1 | 2 | 4 | 6 | 8
906 | 712 | 3.1657 | 1 | 1 | 2 | 4 | 6
907 | 8,462 | 11.6494 | 2 | 5 | 8 | 14 | 23
908 | 8,319 | 6.7682 | 2 | 3 | 5 | 8 | 13
909 | 5,447 | 3.6367 | 1 | 1 | 3 | 5 | 7
913 | 804 | 5.6629 | 1 | 3 | 4 | 7 | 12
914 | 6,609 | 3.4330 | 1 | 2 | 3 | 4 | 6
915 | 1,078 | 4.7356 | 1 | 2 | 3 | 6 | 9
916 | 5,508 | 2.1044 | 1 | 1 | 2 | 3 | 4
917 | 15,775 | 5.1645 | 1 | 2 | 4 | 6 | 11
918 | 35,653 | 2.7260 | 1 | 1 | 2 | 3 | 5
919 | 11,089 | 6.3723 | 2 | 3 | 5 | 8 | 13
920 | 13,970 | 4.3608 | 1 | 2 | 3 | 5 | 8
921 | 9,423 | 2.9687 | 1 | 1 | 2 | 4 | 6
922 | 1,047 | 5.9933 | 1 | 2 | 4 | 7 | 12
923 | 3,952 | 3.2338 | 1 | 1 | 2 | 4 | 6
927 | 211 | 31.1374 | 7 | 15 | 26 | 41 | 60
928 | 818 | 15.9694 | 4 | 7 | 12 | 21 | 31
929 | 438 | 7.6872 | 1 | 3 | 6 | 10 | 16
933 | 139 | 4.3453 | 1 | 1 | 1 | 4 | 8
934 | 659 | 6.1988 | 1 | 3 | 5 | 8 | 12
935 | 2,201 | 5.4330 | 1 | 2 | 4 | 7 | 11
939 | 671 | 10.0611 | 2 | 4 | 7 | 13 | 20
940 | 1,320 | 5.4220 | 1 | 2 | 4 | 7 | 12
941 | 1,707 | 2.7299 | 1 | 1 | 2 | 3 | 5
945 | 6,244 | 10.4947 | 4 | 6 | 8 | 12 | 15
946 | 3,055 | 7.8628 | 3 | 5 | 6 | 7 | 8
947 | 9,715 | 5.0101 | 1 | 2 | 4 | 6 | 10
948 | 47,722 | 3.4806 | 1 | 2 | 3 | 4 | 6
949 | 632 | 4.1092 | 1 | 1 | 2 | 4 | 6
950 | 387 | 3.4858 | 1 | 1 | 2 | 4 | 5
951 | 940 | 4.6436 | 1 | 1 | 2 | 3 | 6
955 | 443 | 12.2822 | 2 | 5 | 10 | 16 | 26
956 | 3,975 | 9.2896 | 4 | 5 | 7 | 11 | 17
957 | 1,311 | 14.8795 | 2 | 7 | 12 | 19 | 28
958 | 1,146 | 10.4031 | 3 | 6 | 8 | 13 | 19
959 | 286 | 6.2413 | 2 | 3 | 5 | 8 | 11
963 | 1,586 | 9.5214 | 2 | 4 | 8 | 13 | 19
964 | 2,573 | 6.2274 | 2 | 3 | 5 | 8 | 11
965 | 1,071 | 4.1391 | 1 | 2 | 3 | 5 | 7
969 | 639 | 18.8279 | 4 | 8 | 14 | 22 | 36
970 | 136 | 9.8309 | 2 | 3 | 7 | 12 | 17
974 | 5,920 | 10.3723 | 2 | 4 | 8 | 13 | 21
975 | 4,674 | 7.0148 | 2 | 3 | 5 | 9 | 13
976 | 2,617 | 4.9308 | 2 | 2 | 4 | 6 | 8
977 | 4,565 | 5.2931 | 1 | 2 | 4 | 6 | 10
981 | 25,479 | 15.1488 | 5 | 8 | 12 | 19 | 28
982 | 18,329 | 9.7455 | 3 | 5 | 8 | 12 | 18
983 | 6,112 | 5.3613 | 1 | 2 | 4 | 7 | 11
984 | 671 | 14.6811 | 5 | 8 | 13 | 18 | 25
985 | 903 | 9.6512 | 2 | 5 | 8 | 13 | 18
986 | 731 | 5.3338 | 1 | 2 | 3 | 7 | 12
987 | 8,240 | 13.0089 | 4 | 6 | 10 | 16 | 24
988 | 11,583 | 7.8090 | 2 | 3 | 6 | 10 | 15
989 | 5,796 | 4.1046 | 1 | 1 | 3 | 6 | 9
| 11,387,276

Table 7B.—Medicare Prospective Payment System Selected Percentile Lengths of Stay: FY 2007 MedPAR Update—December 2007 Grouper V26.0 MS-DRGs
MS-DRG | Number of discharges | Arithmetic mean LOS | 10th percentile | 25th percentile | 50th percentile | 75th percentile | 90th percentile
1 | 655 | 40.2107 | 12 | 17 | 31 | 51 | 83
2 | 287 | 24.7456 | 9 | 12 | 17 | 28 | 48
3 | 23,205 | 39.6406 | 16 | 22 | 32 | 48 | 68
4 | 21,267 | 28.8412 | 11 | 17 | 24 | 35 | 49
5 | 635 | 21.1717 | 7 | 10 | 15 | 26 | 42
6 | 229 | 10.2576 | 6 | 7 | 9 | 12 | 17
7 | 356 | 19.6517 | 8 | 10 | 15 | 22 | 38
8 | 483 | 11.9337 | 6 | 7 | 9 | 13 | 20
9 | 1,346 | 21.9725 | 8 | 16 | 20 | 25 | 35
10 | 163 | 10.7791 | 6 | 7 | 8 | 11 | 19
11 | 1,264 | 16.7302 | 6 | 9 | 13 | 20 | 30
12 | 1,907 | 10.6754 | 4 | 6 | 9 | 13 | 18
13 | 1,268 | 6.9267 | 3 | 4 | 6 | 8 | 11
20 | 885 | 18.3525 | 6 | 10 | 17 | 24 | 32
21 | 530 | 15.4472 | 8 | 11 | 14 | 19 | 25
22 | 212 | 9.3726 | 2 | 6 | 9 | 12 | 15
23 | 3,730 | 12.6794 | 2 | 5 | 10 | 17 | 25
24 | 2,092 | 9.0263 | 1 | 4 | 8 | 12 | 18
25 | 8,697 | 13.0331 | 4 | 6 | 10 | 17 | 25
26 | 11,781 | 8.2206 | 2 | 4 | 7 | 11 | 15
27 | 13,695 | 4.5403 | 1 | 2 | 4 | 6 | 9
28 | 1,666 | 14.3055 | 4 | 7 | 11 | 18 | 27
29 | 3,070 | 7.1091 | 1 | 3 | 6 | 9 | 14
30 | 3,398 | 3.7310 | 1 | 1 | 3 | 5 | 7
31 | 1,024 | 13.1377 | 3 | 6 | 10 | 18 | 27
32 | 2,780 | 5.9781 | 1 | 2 | 4 | 8 | 14
33 | 3,623 | 3.0395 | 1 | 1 | 2 | 4 | 6
34 | 765 | 7.2261 | 1 | 2 | 5 | 9 | 15
35 | 2,239 | 3.2823 | 1 | 1 | 2 | 4 | 8
36 | 6,947 | 1.5949 | 1 | 1 | 1 | 2 | 3
37 | 4,841 | 8.5478 | 2 | 3 | 7 | 11 | 17
38 | 14,146 | 3.7666 | 1 | 1 | 2 | 5 | 9
39 | 51,927 | 1.8278 | 1 | 1 | 1 | 2 | 3
40 | 4,765 | 13.3490 | 3 | 6 | 10 | 17 | 25
41 | 7,573 | 7.2006 | 1 | 3 | 6 | 9 | 14
42 | 4,859 | 3.6300 | 1 | 1 | 2 | 5 | 8
52 | 1,163 | 6.7395 | 2 | 3 | 5 | 8 | 14
53 | 587 | 4.0102 | 1 | 2 | 3 | 5 | 7
54 | 5,240 | 6.9504 | 2 | 3 | 5 | 9 | 14
55 | 16,289 | 5.0708 | 1 | 2 | 4 | 6 | 10
56 | 8,250 | 7.7668 | 2 | 3 | 6 | 9 | 14
57 | 47,224 | 4.9743 | 2 | 3 | 4 | 6 | 9
58 | 736 | 7.5978 | 2 | 4 | 6 | 9 | 15
59 | 2,752 | 5.1432 | 2 | 3 | 4 | 6 | 9
60 | 4,068 | 3.9668 | 2 | 2 | 4 | 5 | 7
61 | 1,586 | 8.9426 | 2 | 4 | 7 | 11 | 17
62 | 2,464 | 6.2683 | 3 | 4 | 5 | 8 | 11
63 | 1,323 | 4.5110 | 2 | 3 | 4 | 6 | 8
64 | 55,734 | 7.4669 | 2 | 3 | 6 | 10 | 15
65 | 105,000 | 5.2179 | 2 | 3 | 4 | 6 | 9
66 | 89,325 | 3.7141 | 1 | 2 | 3 | 5 | 7
67 | 1,397 | 5.8232 | 2 | 3 | 5 | 7 | 11
68 | 11,402 | 3.4467 | 1 | 2 | 3 | 4 | 6
69 | 101,817 | 2.9920 | 1 | 2 | 2 | 4 | 5
70 | 7,341 | 7.8574 | 2 | 4 | 6 | 10 | 15
71 | 9,526 | 5.5568 | 2 | 3 | 4 | 7 | 10
72 | 5,739 | 3.5389 | 1 | 2 | 3 | 4 | 7
73 | 9,223 | 6.2394 | 2 | 3 | 5 | 8 | 12
74 | 31,500 | 4.3070 | 1 | 2 | 3 | 5 | 8
75 | 1,238 | 7.3021 | 2 | 4 | 6 | 9 | 14
76 | 873 | 4.1340 | 2 | 2 | 4 | 5 | 7
77 | 1,211 | 6.6821 | 2 | 3 | 5 | 9 | 12
78 | 1,405 | 4.4157 | 2 | 2 | 4 | 6 | 8
79 | 931 | 3.3845 | 1 | 2 | 3 | 4 | 6
80 | 1,861 | 5.1016 | 1 | 2 | 4 | 6 | 10
81 | 7,124 | 3.5267 | 1 | 2 | 3 | 4 | 6
82 | 1,757 | 6.4087 | 1 | 1 | 4 | 9 | 15
83 | 2,049 | 4.9551 | 1 | 2 | 4 | 7 | 10
84 | 2,769 | 3.1268 | 1 | 1 | 2 | 4 | 6
85 | 5,879 | 7.6399 | 2 | 3 | 6 | 10 | 15
86 | 11,468 | 5.0024 | 1 | 3 | 4 | 6 | 9
87 | 12,958 | 3.2740 | 1 | 2 | 3 | 4 | 6
88 | 711 | 5.8748 | 1 | 3 | 4 | 7 | 12
89 | 2,733 | 3.7603 | 1 | 2 | 3 | 5 | 7
90 | 3,089 | 2.5494 | 1 | 1 | 2 | 3 | 5
91 | 7,605 | 6.3657 | 2 | 3 | 5 | 8 | 13
92 | 16,265 | 4.4647 | 1 | 2 | 4 | 6 | 8
93 | 16,121 | 3.2188 | 1 | 2 | 3 | 4 | 6
94 | 1,473 | 11.8547 | 4 | 6 | 10 | 15 | 22
95 | 1,030 | 8.6359 | 3 | 5 | 7 | 11 | 15
96 | 757 | 6.1744 | 2 | 4 | 6 | 8 | 11
97 | 1,192 | 12.6023 | 4 | 7 | 11 | 16 | 23
98 | 1,005 | 8.3522 | 3 | 5 | 7 | 10 | 15
99 | 641 | 5.8752 | 2 | 3 | 5 | 8 | 11
100 | 16,989 | 6.3526 | 2 | 3 | 5 | 8 | 12
101 | 56,991 | 3.6950 | 1 | 2 | 3 | 5 | 7
102 | 1,080 | 4.5306 | 1 | 2 | 3 | 6 | 9
103 | 13,735 | 3.1270 | 1 | 2 | 2 | 4 | 6
113 | 525 | 5.5981 | 1 | 2 | 4 | 8 | 12
114 | 555 | 2.6090 | 1 | 1 | 2 | 3 | 5
115 | 1,046 | 4.3222 | 1 | 2 | 4 | 5 | 7
116 | 546 | 4.0678 | 1 | 1 | 2 | 5 | 8
117 | 996 | 2.1596 | 1 | 1 | 1 | 2 | 3
121 | 542 | 5.4576 | 2 | 3 | 4 | 7 | 10
122 | 617 | 4.0454 | 2 | 2 | 3 | 5 | 7
123 | 2,785 | 2.8747 | 1 | 2 | 2 | 4 | 5
124 | 749 | 5.2697 | 1 | 2 | 4 | 7 | 10
125 | 4,661 | 3.5134 | 1 | 2 | 3 | 4 | 7
129 | 1,353 | 5.1803 | 1 | 2 | 4 | 6 | 11
130 | 1,073 | 2.9385 | 1 | 1 | 2 | 4 | 6
131 | 929 | 5.7492 | 1 | 2 | 4 | 8 | 12
132 | 886 | 2.6501 | 1 | 1 | 2 | 3 | 5
133 | 1,981 | 5.3296 | 1 | 2 | 4 | 7 | 11
134 | 3,362 | 2.2329 | 1 | 1 | 1 | 3 | 4
135 | 352 | 5.8295 | 1 | 2 | 4 | 8 | 12
136 | 472 | 2.3305 | 1 | 1 | 1 | 3 | 5
137 | 773 | 5.4062 | 1 | 2 | 4 | 7 | 11
138 | 886 | 2.5237 | 1 | 1 | 2 | 3 | 5
139 | 1,490 | 1.8456 | 1 | 1 | 1 | 2 | 3
146 | 674 | 9.4466 | 2 | 4 | 7 | 12 | 19
147 | 1,364 | 6.1320 | 1 | 2 | 4 | 8 | 12
148 | 847 | 3.8040 | 1 | 1 | 3 | 5 | 8
149 | 38,817 | 2.7185 | 1 | 1 | 2 | 3 | 5
150 | 949 | 5.1981 | 1 | 2 | 4 | 6 | 10
151 | 6,810 | 2.8921 | 1 | 1 | 2 | 4 | 5
152 | 1,726 | 4.4571 | 1 | 2 | 3 | 5 | 8
153 | 11,433 | 3.2168 | 1 | 2 | 3 | 4 | 6
154 | 1,899 | 6.3381 | 2 | 3 | 5 | 8 | 12
155 | 4,471 | 4.4187 | 1 | 2 | 4 | 6 | 8
156 | 4,819 | 3.1731 | 1 | 2 | 3 | 4 | 6
157 | 1,044 | 6.6542 | 1 | 3 | 5 | 8 | 14
158 | 3,219 | 4.5281 | 1 | 2 | 3 | 6 | 9
159 | 2,355 | 3.0522 | 1 | 1 | 2 | 4 | 6
163 | 13,614 | 14.9476 | 5 | 8 | 13 | 19 | 27
164 | 17,887 | 8.0977 | 3 | 5 | 7 | 10 | 15
165 | 13,805 | 5.1442 | 2 | 3 | 5 | 6 | 9
166 | 20,549 | 12.9161 | 4 | 7 | 10 | 16 | 24
167 | 20,520 | 7.9756 | 2 | 4 | 7 | 10 | 15
168 | 5,467 | 5.2532 | 1 | 2 | 4 | 7 | 10
175 | 12,682 | 7.2650 | 3 | 4 | 6 | 9 | 12
176 | 41,338 | 5.3283 | 2 | 3 | 5 | 7 | 9
177 | 63,750 | 9.1032 | 3 | 5 | 7 | 12 | 17
178 | 70,831 | 7.3794 | 3 | 4 | 6 | 9 | 13
179 | 26,087 | 5.5654 | 2 | 3 | 5 | 7 | 10
180 | 22,324 | 7.9001 | 2 | 4 | 6 | 10 | 15
181 | 30,220 | 5.9078 | 2 | 3 | 5 | 8 | 11
182 | 5,446 | 4.1761 | 1 | 2 | 3 | 5 | 8
183 | 1,856 | 7.2338 | 2 | 4 | 6 | 9 | 13
184 | 4,320 | 4.5829 | 2 | 3 | 4 | 6 | 8
185 | 2,506 | 3.4066 | 1 | 2 | 3 | 4 | 6
186 | 9,239 | 7.4006 | 2 | 4 | 6 | 9 | 14
187 | 10,028 | 5.3216 | 2 | 3 | 4 | 7 | 10
188 | 5,014 | 3.9928 | 1 | 2 | 3 | 5 | 8
189 | 113,067 | 6.1459 | 2 | 3 | 5 | 8 | 11
190 | 58,781 | 6.2972 | 2 | 3 | 5 | 8 | 12
191 | 118,162 | 5.0156 | 2 | 3 | 4 | 6 | 9
192 | 184,764 | 3.9705 | 1 | 2 | 3 | 5 | 7
193 | 87,315 | 6.7517 | 2 | 4 | 6 | 8 | 12
194 | 253,950 | 5.2660 | 2 | 3 | 4 | 7 | 9
195 | 133,231 | 4.0792 | 2 | 2 | 4 | 5 | 7
196 | 5,388 | 7.3537 | 3 | 4 | 6 | 9 | 14
197 | 6,796 | 5.3899 | 2 | 3 | 4 | 7 | 10
198 | 4,616 | 4.0804 | 1 | 2 | 3 | 5 | 7
199 | 3,208 | 8.3030 | 2 | 4 | 7 | 11 | 16
200 | 8,382 | 5.0894 | 1 | 2 | 4 | 7 | 10
201 | 3,467 | 4.0580 | 1 | 2 | 3 | 5 | 8
202 | 29,252 | 4.3530 | 1 | 2 | 4 | 5 | 8
203 | 36,870 | 3.3859 | 1 | 2 | 3 | 4 | 6
204 | 25,669 | 2.8746 | 1 | 1 | 2 | 4 | 5
205 | 5,848 | 5.5050 | 1 | 2 | 4 | 7 | 10
206 | 21,532 | 3.4393 | 1 | 2 | 3 | 4 | 6
207 | 39,505 | 15.0709 | 6 | 9 | 13 | 18 | 25
208 | 76,444 | 7.2241 | 1 | 3 | 6 | 10 | 14
215 | 141 | 14.1844 | 1 | 3 | 9 | 17 | 31
216 | 8,616 | 18.3713 | 8 | 11 | 16 | 23 | 31
217 | 7,236 | 12.3046 | 6 | 8 | 11 | 15 | 20
218 | 2,554 | 9.0568 | 5 | 6 | 8 | 11 | 14
219 | 10,525 | 13.9944 | 6 | 8 | 11 | 17 | 26
220 | 13,928 | 8.5619 | 5 | 6 | 7 | 10 | 14
221 | 7,032 | 6.4428 | 4 | 5 | 6 | 7 | 10
222 | 2,771 | 13.0949 | 5 | 7 | 11 | 17 | 23
223 | 5,080 | 6.2701 | 1 | 3 | 5 | 8 | 12
224 | 1,911 | 11.3673 | 4 | 6 | 9 | 14 | 21
225 | 5,076 | 5.6420 | 2 | 3 | 5 | 7 | 10
226 | 7,064 | 9.3342 | 1 | 3 | 7 | 12 | 19
227 | 42,807 | 2.8263 | 1 | 1 | 1 | 3 | 7
228 | 2,974 | 14.7078 | 6 | 8 | 13 | 18 | 26
229 | 3,596 | 9.1096 | 4 | 6 | 8 | 11 | 15
230 | 1,566 | 6.4757 | 3 | 4 | 6 | 8 | 11
231 | 1,446 | 13.3811 | 6 | 8 | 11 | 17 | 24
232 | 1,515 | 9.1868 | 5 | 7 | 8 | 11 | 14
233 | 16,254 | 14.1787 | 7 | 9 | 12 | 17 | 24
234 | 34,309 | 8.9262 | 5 | 6 | 8 | 11 | 13
235 | 9,629 | 11.2185 | 5 | 7 | 9 | 14 | 20
236 | 30,065 | 6.6177 | 4 | 5 | 6 | 8 | 10
237 | 22,384 | 10.8073 | 2 | 5 | 9 | 14 | 21
238 | 42,226 | 4.6444 | 1 | 2 | 3 | 6 | 9
239 | 13,307 | 15.3499 | 5 | 8 | 12 | 19 | 29
240 | 11,658 | 10.3695 | 3 | 5 | 8 | 13 | 19
241 | 2,680 | 6.7634 | 3 | 4 | 6 | 8 | 12
242 | 17,519 | 8.7738 | 3 | 4 | 7 | 11 | 17
243 | 36,074 | 5.0924 | 1 | 2 | 4 | 7 | 10
244 | 62,706 | 2.9268 | 1 | 1 | 2 | 4 | 6
245 | 3,930 | 3.2237 | 1 | 1 | 2 | 4 | 7
246 | 28,818 | 5.3370 | 1 | 2 | 4 | 7 | 12
247 | 188,884 | 2.1674 | 1 | 1 | 1 | 3 | 4
248 | 13,847 | 5.9831 | 1 | 2 | 4 | 8 | 12
249 | 69,978 | 2.4966 | 1 | 1 | 2 | 3 | 5
250 | 6,762 | 7.7798 | 1 | 3 | 6 | 10 | 16
251 | 41,707 | 2.8343 | 1 | 1 | 2 | 4 | 6
252 | 45,567 | 8.5378 | 1 | 3 | 6 | 11 | 18
253 | 44,910 | 6.0144 | 1 | 2 | 5 | 8 | 13
254 | 53,360 | 2.7299 | 1 | 1 | 2 | 3 | 6
255 | 2,521 | 9.6942 | 2 | 4 | 8 | 12 | 18
256 | 3,425 | 7.4762 | 2 | 4 | 6 | 9 | 13
257 | 705 | 4.8482 | 1 | 2 | 4 | 7 | 10
258 | 686 | 7.3761 | 2 | 3 | 6 | 9 | 14
259 | 7,302 | 2.8020 | 1 | 1 | 2 | 4 | 6
260 | 1,549 | 11.2214 | 3 | 5 | 8 | 14 | 22
261 | 3,522 | 4.2127 | 1 | 1 | 3 | 6 | 9
262 | 3,531 | 2.5902 | 1 | 1 | 2 | 3 | 6
263 | 652 | 5.4126 | 1 | 1 | 3 | 7 | 13
264 | 28,273 | 8.8998 | 1 | 3 | 6 | 11 | 19
265 | 1,957 | 3.4716 | 1 | 1 | 2 | 4 | 8
280 | 63,593 | 7.3381 | 2 | 4 | 6 | 9 | 13
281 | 53,704 | 4.8075 | 2 | 3 | 4 | 6 | 9
282 | 54,305 | 3.2480 | 1 | 2 | 3 | 4 | 6
283 | 14,888 | 5.4547 | 1 | 1 | 3 | 7 | 13
284 | 4,139 | 3.2341 | 1 | 1 | 2 | 4 | 7
285 | 2,803 | 2.2112 | 1 | 1 | 1 | 3 | 5
286 | 23,695 | 6.9333 | 2 | 3 | 5 | 9 | 14
287 | 158,158 | 3.1457 | 1 | 1 | 2 | 4 | 6
288 | 2,953 | 11.7541 | 4 | 6 | 9 | 14 | 22
289 | 1,357 | 8.6610 | 3 | 5 | 7 | 11 | 15
290 | 473 | 6.4947 | 2 | 4 | 5 | 8 | 11
291 | 187,597 | 6.4926 | 2 | 3 | 5 | 8 | 12
292 | 204,514 | 4.9936 | 2 | 3 | 4 | 6 | 9
293 | 196,441 | 3.6816 | 1 | 2 | 3 | 5 | 6
294 | 1,415 | 5.5611 | 2 | 3 | 5 | 7 | 9
295 | 1,343 | 4.3291 | 2 | 3 | 4 | 6 | 7
296 | 1,917 | 3.0303 | 1 | 1 | 1 | 3 | 7
297 | 791 | 1.8217 | 1 | 1 | 1 | 2 | 3
298 | 602 | 1.3040 | 1 | 1 | 1 | 1 | 2
299 | 17,750 | 6.6518 | 2 | 3 | 5 | 8 | 12
300 | 44,551 | 5.0493 | 2 | 3 | 4 | 6 | 9
301 | 36,994 | 3.6992 | 1 | 2 | 3 | 5 | 7
302 | 7,587 | 4.3756 | 1 | 2 | 3 | 5 | 8
303 | 70,544 | 2.5315 | 1 | 1 | 2 | 3 | 5
304 | 2,086 | 5.1942 | 1 | 2 | 4 | 7 | 10
305 | 35,079 | 2.8628 | 1 | 1 | 2 | 4 | 5
306 | 1,515 | 6.2964 | 1 | 3 | 4 | 8 | 12
307 | 6,344 | 3.4455 | 1 | 2 | 3 | 4 | 6
308 | 35,699 | 5.5438 | 1 | 2 | 4 | 7 | 11
309 | 79,311 | 3.9373 | 1 | 2 | 3 | 5 | 7
310 | 158,556 | 2.7530 | 1 | 1 | 2 | 4 | 5
311 | 21,034 | 2.3089 | 1 | 1 | 2 | 3 | 4
312 | 165,835 | 3.1053 | 1 | 2 | 2 | 4 | 6
313 | 211,391 | 2.1067 | 1 | 1 | 2 | 3 | 4
314 | 61,613 | 7.0205 | 2 | 3 | 5 | 9 | 14
315 | 29,960 | 4.6041 | 1 | 2 | 4 | 6 | 9
316 | 17,966 | 2.9978 | 1 | 1 | 2 | 4 | 6
326 | 11,226 | 17.1201 | 6 | 9 | 14 | 21 | 32
327 | 10,457 | 10.0519 | 3 | 5 | 8 | 13 | 18
328 | 8,865 | 4.3610 | 1 | 2 | 3 | 6 | 9
329 | 48,110 | 15.9561 | 6 | 9 | 13 | 20 | 29
330 | 63,624 | 9.7138 | 4 | 6 | 8 | 12 | 17
331 | 28,171 | 5.8793 | 3 | 4 | 5 | 7 | 9
332 | 1,823 | 14.3489 | 6 | 8 | 12 | 18 | 25
333 | 5,922 | 8.8349 | 4 | 6 | 8 | 10 | 15
334 | 3,719 | 5.5052 | 2 | 4 | 5 | 7 | 9
335 | 7,182 | 14.0778 | 5 | 8 | 12 | 18 | 25
336 | 12,448 | 9.0917 | 3 | 5 | 8 | 11 | 16
337 | 8,570 | 5.5883 | 1 | 3 | 5 | 8 | 10
338 | 1,501 | 10.7082 | 4 | 6 | 9 | 13 | 19
339 | 3,163 | 7.0452 | 3 | 4 | 6 | 9 | 12
340 | 3,558 | 4.1521 | 2 | 2 | 4 | 5 | 7
341 | 878 | 7.1287 | 2 | 3 | 5 | 9 | 14
342 | 2,544 | 4.1395 | 1 | 2 | 3 | 5 | 8
343 | 6,975 | 2.1792 | 1 | 1 | 2 | 3 | 4
344 | 936 | 11.7575 | 4 | 6 | 9 | 15 | 22
345 | 2,914 | 7.2447 | 3 | 4 | 6 | 9 | 12
346 | 2,759 | 4.9467 | 2 | 3 | 5 | 6 | 8
347 | 1,625 | 8.8166 | 2 | 4 | 7 | 11 | 17
348 | 4,164 | 5.7366 | 2 | 3 | 5 | 7 | 11
349 | 5,155 | 3.0795 | 1 | 1 | 2 | 4 | 6
350 | 1,756 | 7.9897 | 2 | 3 | 6 | 10 | 16
351 | 4,287 | 4.5573 | 1 | 2 | 4 | 6 | 9
352 | 8,183 | 2.4793 | 1 | 1 | 2 | 3 | 5
353 | 3,165 | 8.4051 | 2 | 4 | 7 | 11 | 16
354 | 8,420 | 5.0816 | 2 | 3 | 4 | 6 | 9
355 | 15,316 | 2.8995 | 1 | 1 | 2 | 4 | 5
356 | 8,334 | 12.9144 | 3 | 6 | 10 | 16 | 25
357 | 7,801 | 8.1406 | 2 | 4 | 6 | 10 | 16
358 | 2,477 | 4.4719 | 1 | 2 | 4 | 6 | 9
368 | 3,566 | 6.5979 | 2 | 3 | 5 | 8 | 13
369 | 5,248 | 4.7487 | 2 | 3 | 4 | 6 | 9
370 | 3,554 | 3.3995 | 1 | 2 | 3 | 4 | 6
371 | 24,371 | 8.7488 | 3 | 4 | 7 | 11 | 17
372 | 27,061 | 6.8532 | 3 | 4 | 6 | 8 | 12
373 | 15,249 | 4.9382 | 2 | 3 | 4 | 6 | 8
374 | 9,039 | 8.5759 | 2 | 4 | 7 | 11 | 16
375 | 18,945 | 6.0287 | 2 | 3 | 5 | 8 | 12
376 | 4,279 | 4.1837 | 1 | 2 | 3 | 5 | 8
377 | 51,556 | 6.3806 | 2 | 3 | 5 | 8 | 12
378 | 110,340 | 4.4472 | 2 | 3 | 4 | 5 | 8
379 | 92,136 | 3.4088 | 1 | 2 | 3 | 4 | 6
380 | 3,020 | 7.2738 | 2 | 3 | 6 | 9 | 14
381 | 5,293 | 5.1734 | 2 | 3 | 4 | 6 | 9
382 | 4,492 | 3.6814 | 1 | 2 | 3 | 5 | 7
383 | 1,223 | 5.5200 | 2 | 3 | 4 | 7 | 10
384 | 8,080 | 3.7490 | 1 | 2 | 3 | 5 | 7
385 | 1,996 | 8.8191 | 3 | 4 | 6 | 11 | 18
386 | 7,126 | 5.6996 | 2 | 3 | 5 | 7 | 10
387 | 5,033 | 4.2935 | 1 | 2 | 4 | 5 | 8
388 | 18,540 | 7.3159 | 2 | 3 | 6 | 9 | 14
389 | 45,795 | 5.0160 | 2 | 3 | 4 | 6 | 9
390 | 46,426 | 3.5522 | 1 | 2 | 3 | 4 | 6
391 | 44,299 | 5.2367 | 1 | 2 | 4 | 6 | 10
392 | 282,071 | 3.4889 | 1 | 2 | 3 | 4 | 6
393 | 23,253 | 6.8917 | 2 | 3 | 5 | 8 | 14
394 | 45,853 | 4.8196 | 1 | 2 | 4 | 6 | 9
395 | 24,740 | 3.3344 | 1 | 2 | 3 | 4 | 6
405 | 3,963 | 17.0056 | 5 | 8 | 13 | 21 | 34
406 | 5,300 | 9.1566 | 2 | 5 | 7 | 11 | 18
407 | 2,115 | 5.4851 | 1 | 3 | 5 | 7 | 10
408 | 1,548 | 14.9961 | 6 | 8 | 12 | 18 | 28
409 | 1,737 | 9.8290 | 4 | 6 | 8 | 12 | 18
410 | 598 | 6.5033 | 2 | 4 | 6 | 8 | 11
411 | 956 | 12.4069 | 5 | 7 | 10 | 15 | 22
412 | 955 | 8.5696 | 4 | 6 | 8 | 11 | 14
413 | 756 | 5.9272 | 2 | 4 | 5 | 7 | 10
414 | 5,241 | 11.7296 | 5 | 7 | 10 | 14 | 21
415 | 6,127 | 7.6236 | 3 | 5 | 7 | 9 | 13
416 | 5,328 | 4.8281 | 2 | 3 | 4 | 6 | 8
417 | 16,444 | 8.3803 | 3 | 4 | 7 | 10 | 16
418 | 27,075 | 5.6341 | 2 | 3 | 5 | 7 | 10
419 | 35,887 | 3.1911 | 1 | 1 | 3 | 4 | 6
420 | 766 | 13.6606 | 3 | 6 | 10 | 17 | 26
421 | 1,054 | 7.6879 | 2 | 3 | 6 | 10 | 16
422 | 327 | 4.3609 | 1 | 2 | 4 | 6 | 8
423 | 1,542 | 15.8599 | 4 | 7 | 12 | 20 | 32
424 | 894 | 10.4172 | 3 | 5 | 8 | 14 | 20
425 | 125 | 5.3760 | 1 | 2 | 4 | 7 | 10
432 | 15,140 | 6.9542 | 2 | 3 | 5 | 9 | 14
433 | 9,672 | 4.8719 | 1 | 2 | 4 | 6 | 9
434 | 877 | 3.6933 | 1 | 2 | 3 | 5 | 6
435 | 12,111 | 7.5614 | 2 | 3 | 6 | 10 | 15
436 | 13,158 | 5.8396 | 2 | 3 | 5 | 8 | 11
437 | 3,887 | 4.2529 | 1 | 2 | 3 | 6 | 8
438 | 14,063 | 7.5128 | 2 | 3 | 5 | 9 | 15
439 | 24,364 | 5.3275 | 2 | 3 | 4 | 7 | 10
440 | 25,670 | 3.8103 | 1 | 2 | 3 | 5 | 7
441 | 13,335 | 7.0467 | 2 | 3 | 5 | 9 | 14
442 | 14,144 | 5.1103 | 2 | 2 | 4 | 6 | 9
443 | 6,544 | 3.7796 | 1 | 2 | 3 | 5 | 7
444 | 12,898 | 6.6243 | 2 | 3 | 5 | 8 | 13
445 | 16,794 | 4.7264 | 1 | 2 | 4 | 6 | 9
446 | 15,932 | 3.2658 | 1 | 2 | 3 | 4 | 6
453 | 948 | 15.6561 | 5 | 7 | 12 | 19 | 29
454 | 1,771 | 8.0237 | 3 | 4 | 6 | 10 | 14
455 | 1,969 | 4.4307 | 1 | 3 | 4 | 5 | 7
456 | 946 | 14.7061 | 5 | 7 | 11 | 19 | 28
457 | 2,413 | 7.4836 | 3 | 4 | 6 | 9 | 13
458 | 1,609 | 4.5438 | 2 | 3 | 4 | 6 | 7
459 | 3,508 | 9.4478 | 4 | 5 | 7 | 11 | 17
460 | 51,883 | 4.2180 | 2 | 3 | 4 | 5 | 7
461 | 1,018 | 8.4342 | 3 | 5 | 6 | 9 | 14
462 | 13,194 | 4.2178 | 3 | 3 | 4 | 5 | 6
463 | 5,052 | 16.5713 | 5 | 7 | 12 | 20 | 33
464 | 5,838 | 10.2205 | 3 | 5 | 8 | 12 | 20
465 | 2,398 | 5.8661 | 1 | 3 | 5 | 7 | 11
466 | 4,072 | 9.1717 | 3 | 5 | 7 | 11 | 16
467 | 14,331 | 5.4882 | 3 | 3 | 4 | 6 | 9
468 | 21,133 | 3.9306 | 2 | 3 | 3 | 4 | 6
469 | 30,531 | 8.2004 | 3 | 5 | 7 | 10 | 14
470 | 405,204 | 3.9281 | 3 | 3 | 3 | 4 | 6
471 | 2,283 | 9.7946 | 2 | 4 | 7 | 13 | 20
472 | 6,954 | 4.0913 | 1 | 1 | 3 | 5 | 9
473 | 22,875 | 1.9623 | 1 | 1 | 1 | 2 | 4
474 | 2,918 | 12.6453 | 4 | 6 | 10 | 15 | 24
475 | 3,277 | 8.3946 | 3 | 4 | 7 | 11 | 15
476 | 1,589 | 4.7885 | 1 | 2 | 4 | 6 | 9
477 | 2,582 | 11.8548 | 3 | 6 | 9 | 15 | 22
478 | 8,562 | 6.6119 | 1 | 3 | 6 | 9 | 13
479 | 11,424 | 2.8188 | 1 | 1 | 1 | 4 | 7
480 | 26,724 | 9.2958 | 4 | 5 | 8 | 11 | 16
481 | 72,123 | 5.9291 | 3 | 4 | 5 | 7 | 9
482 | 48,111 | 4.8427 | 3 | 4 | 4 | 6 | 7
483 | 7,100 | 4.2093 | 2 | 2 | 3 | 5 | 8
484 | 17,842 | 2.4311 | 1 | 2 | 2 | 3 | 4
485 | 1,183 | 12.1116 | 4 | 6 | 10 | 15 | 22
486 | 2,186 | 8.0425 | 3 | 5 | 7 | 10 | 14
487 | 1,312 | 5.6715 | 3 | 3 | 5 | 7 | 9
488 | 2,495 | 5.2236 | 2 | 3 | 4 | 6 | 10
489 | 5,763 | 3.0465 | 1 | 2 | 3 | 4 | 5
490 | 22,971 | 4.3437 | 1 | 1 | 3 | 5 | 9
491 | 52,406 | 2.2104 | 1 | 1 | 2 | 3 | 4
492 | 5,216 | 8.5299 | 3 | 5 | 7 | 11 | 15
493 | 16,899 | 5.2510 | 2 | 3 | 4 | 6 | 9
494 | 29,166 | 3.3992 | 1 | 2 | 3 | 4 | 6
495 | 1,970 | 10.9609 | 3 | 5 | 8 | 14 | 21
496 | 5,555 | 5.9802 | 2 | 3 | 5 | 7 | 11
497 | 6,632 | 3.0054 | 1 | 1 | 2 | 4 | 6
498 | 1,163 | 7.8865 | 2 | 3 | 6 | 10 | 16
499 | 1,110 | 2.9757 | 1 | 1 | 2 | 4 | 6
500 | 1,502 | 10.8309 | 3 | 5 | 8 | 14 | 21
501 | 3,872 | 5.9698 | 2 | 3 | 5 | 8 | 12
502 | 6,452 | 2.9416 | 1 | 1 | 2 | 4 | 6
503 | 833 | 9.4586 | 3 | 5 | 7 | 11 | 17
504 | 2,162 | 6.4510 | 2 | 3 | 6 | 8 | 12
505 | 3,004 | 3.3832 | 1 | 2 | 3 | 4 | 6
506 | 810 | 3.4074 | 1 | 1 | 2 | 4 | 7
507 | 836 | 5.1459 | 1 | 2 | 4 | 6 | 10
508 | 2,481 | 2.0512 | 1 | 1 | 1 | 2 | 3
509 | 627 | 3.1100 | 1 | 1 | 2 | 3 | 7
510 | 973 | 6.4070 | 2 | 3 | 5 | 8 | 12
511 | 3,926 | 3.9758 | 1 | 2 | 3 | 5 | 7
512 | 10,961 | 2.1581 | 1 | 1 | 2 | 3 | 4
513 | 1,052 | 5.0266 | 1 | 2 | 4 | 6 | 10
514 | 1,006 | 2.8191 | 1 | 1 | 2 | 3 | 6
515 | 3,818 | 10.4445 | 3 | 5 | 8 | 13 | 20
516 | 11,280 | 5.9870 | 1 | 3 | 5 | 8 | 11
517 | 17,523 | 3.0079 | 1 | 1 | 2 | 4 | 7
533 | 822 | 6.6861 | 2 | 3 | 5 | 8 | 12
534 | 3,392 | 4.0292 | 1 | 2 | 3 | 5 | 7
535 | 6,990 | 6.2365 | 2 | 3 | 5 | 8 | 12
536 | 33,661 | 3.9328 | 2 | 3 | 3 | 5 | 7
537 | 665 | 4.4722 | 2 | 3 | 4 | 5 | 8
538 | 1,056 | 3.2197 | 1 | 2 | 3 | 4 | 6
539 | 3,417 | 9.7085 | 3 | 5 | 8 | 12 | 17
540 | 4,016 | 7.1257 | 3 | 4 | 6 | 8 | 13
541 | 1,618 | 5.3745 | 2 | 3 | 4 | 7 | 9
542 | 5,709 | 8.7758 | 3 | 4 | 7 | 11 | 17
543 | 17,012 | 5.9463 | 2 | 3 | 5 | 7 | 11
544 | 10,798 | 4.4077 | 2 | 3 | 4 | 5 | 8
545 | 4,079 | 9.0924 | 2 | 4 | 6 | 11 | 19
546 | 5,577 | 5.5338 | 2 | 3 | 4 | 7 | 10
547 | 4,533 | 3.8083 | 1 | 2 | 3 | 5 | 7
548 | 580 | 8.9379 | 3 | 4 | 7 | 11 | 17
549 | 1,110 | 6.3874 | 2 | 3 | 5 | 8 | 12
550 | 858 | 4.4545 | 2 | 2 | 4 | 6 | 8
551 | 10,066 | 7.1058 | 2 | 3 | 6 | 9 | 14
552 | 85,179 | 4.1225 | 1 | 2 | 3 | 5 | 7
553 | 3,076 | 5.9620 | 2 | 3 | 5 | 7 | 11
554 | 19,173 | 3.6913 | 1 | 2 | 3 | 5 | 7
555 | 2,013 | 4.8405 | 1 | 2 | 4 | 6 | 9
556 | 18,639 | 3.1089 | 1 | 2 | 3 | 4 | 6
557 | 3,646 | 6.6100 | 2 | 3 | 5 | 8 | 12
558 | 15,089 | 4.2586 | 2 | 2 | 4 | 5 | 7
559 | 1,815 | 7.5444 | 2 | 3 | 6 | 9 | 15
560 | 4,319 | 4.7217 | 1 | 2 | 4 | 6 | 9
561 | 7,107 | 2.7680 | 1 | 1 | 2 | 3 | 5
562 | 5,458 | 6.3674 | 2 | 3 | 5 | 8 | 12
563 | 36,267 | 3.7016 | 1 | 2 | 3 | 4 | 6
564 | 1,661 | 6.9934 | 2 | 3 | 5 | 9 | 13
565 | 3,311 | 4.9795 | 2 | 3 | 4 | 6 | 9
566 | 2,624 | 3.6825 | 1 | 2 | 3 | 5 | 7
573 | 5,477 | 13.0933 | 4 | 6 | 9 | 16 | 26
574 | 11,123 | 9.3248 | 3 | 5 | 7 | 11 | 17
575 | 5,462 | 5.8521 | 2 | 3 | 5 | 7 | 11
576 | 547 | 12.9506 | 2 | 4 | 9 | 17 | 28
577 | 2,228 | 6.1104 | 1 | 2 | 4 | 8 | 13
578 | 3,054 | 3.3062 | 1 | 1 | 2 | 4 | 7
579 | 3,511 | 10.6830 | 3 | 5 | 8 | 14 | 21
580 | 10,711 | 5.5084 | 1 | 2 | 4 | 7 | 12
581 | 12,142 | 2.6146 | 1 | 1 | 2 | 3 | 6
582 | 5,337 | 2.8943 | 1 | 1 | 2 | 3 | 5
583 | 8,748 | 1.8056 | 1 | 1 | 1 | 2 | 3
584 | 668 | 5.9850 | 1 | 2 | 4 | 8 | 13
585 | 1,469 | 2.2321 | 1 | 1 | 1 | 2 | 4
592 | 4,178 | 8.8712 | 3 | 4 | 7 | 10 | 16
593 | 12,304 | 6.4415 | 2 | 3 | 5 | 8 | 11
594 | 2,751 | 5.0593 | 2 | 3 | 4 | 6 | 9
595 | 1,112 | 8.3327 | 2 | 4 | 6 | 10 | 16
596 | 5,308 | 4.7600 | 1 | 2 | 4 | 6 | 8
597 | 458 | 8.2009 | 2 | 3 | 6 | 10 | 16
598 | 1,400 | 5.7243 | 2 | 3 | 4 | 7 | 11
599 | 306 | 3.7320 | 1 | 1 | 3 | 4 | 6
600 | 682 | 5.0513 | 2 | 3 | 4 | 7 | 9
601 | 884 | 3.8541 | 1 | 2 | 3 | 5 | 7
602 | 22,088 | 7.0278 | 2 | 4 | 6 | 9 | 13
603 | 130,121 | 4.7073 | 2 | 3 | 4 | 6 | 8
604 | 2,660 | 5.6590 | 1 | 3 | 4 | 7 | 11
605 | 22,097 | 3.4622 | 1 | 2 | 3 | 4 | 6
606 | 1,350 | 6.3422 | 1 | 3 | 4 | 7 | 12
607 | 7,168 | 3.7913 | 1 | 2 | 3 | 5 | 7
614 | 1,457 | 7.0336 | 2 | 3 | 5 | 8 | 14
615 | 1,546 | 3.1572 | 1 | 2 | 3 | 4 | 5
616 | 1,091 | 16.9432 | 6 | 9 | 13 | 20 | 31
617 | 6,718 | 8.7904 | 3 | 5 | 7 | 11 | 15
618 | 258 | 6.3605 | 2 | 3 | 6 | 8 | 11
619 | 696 | 8.2011 | 2 | 3 | 5 | 9 | 18
620 | 2,186 | 3.6780 | 1 | 2 | 3 | 4 | 7
621 | 7,848 | 2.1617 | 1 | 1 | 2 | 3 | 4
622 | 1,112 | 13.1574 | 3 | 6 | 9 | 16 | 24
623 | 3,077 | 8.5707 | 3 | 4 | 7 | 10 | 15
624 | 383 | 6.0261 | 2 | 3 | 5 | 7 | 10
625 | 1,274 | 7.0879 | 1 | 2 | 5 | 9 | 15
626 | 2,538 | 3.1233 | 1 | 1 | 2 | 3 | 7
627 | 14,026 | 1.5172 | 1 | 1 | 1 | 2 | 2
628 | 3,366 | 11.1851 | 2 | 4 | 8 | 14 | 23
629 | 4,160 | 8.7418 | 3 | 5 | 7 | 11 | 16
630 | 534 | 5.5281 | 1 | 2 | 4 | 7 | 11
637 | 17,104 | 6.0581 | 2 | 3 | 5 | 7 | 12
638 | 42,581 | 4.2659 | 1 | 2 | 3 | 5 | 8
639 | 38,312 | 3.0382 | 1 | 2 | 2 | 4 | 5
640 | 60,806 | 5.4332 | 1 | 2 | 4 | 7 | 11
641 | 201,324 | 3.8256 | 1 | 2 | 3 | 5 | 7
642 | 1,492 | 5.1810 | 1 | 2 | 4 | 6 | 9
643 | 5,176 | 7.6103 | 2 | 4 | 6 | 9 | 14
644 | 11,788 | 5.4597 | 2 | 3 | 4 | 7 | 10
645 | 8,179 | 3.8912 | 1 | 2 | 3 | 5 | 7
652 | 10,067 | 7.7888 | 4 | 5 | 6 | 9 | 13
653 | 1,697 | 16.8981 | 7 | 9 | 13 | 21 | 31
654 | 3,452 | 9.8624 | 5 | 7 | 8 | 11 | 16
655 | 1,633 | 6.5150 | 3 | 5 | 7 | 8 | 10
656 | 3,918 | 10.1146 | 4 | 5 | 8 | 12 | 19
657 | 7,422 | 5.9603 | 3 | 4 | 5 | 7 | 10
658 | 8,271 | 3.7356 | 2 | 2 | 3 | 5 | 6
659 | 4,658 | 11.2003 | 3 | 5 | 8 | 14 | 22
660 | 7,594 | 6.5146 | 2 | 3 | 5 | 8 | 13
661 | 4,260 | 3.2758 | 1 | 2 | 3 | 4 | 6
662 | 949 | 10.2740 | 2 | 4 | 8 | 14 | 20
663 | 2,054 | 5.2639 | 1 | 2 | 4 | 7 | 11
664 | 4,390 | 2.1223 | 1 | 1 | 1 | 2 | 4
665 | 654 | 11.0627 | 3 | 5 | 9 | 14 | 21
666 | 2,092 | 6.3595 | 1 | 2 | 4 | 9 | 14
667 | 3,616 | 2.8695 | 1 | 1 | 2 | 3 | 6
668 | 3,833 | 8.5265 | 2 | 4 | 7 | 11 | 16
669 | 12,746 | 4.4236 | 1 | 2 | 3 | 6 | 9
670 | 11,687 | 2.5131 | 1 | 1 | 2 | 3 | 5
671 | 808 | 5.9468 | 1 | 2 | 4 | 8 | 12
672 | 943 | 2.5302 | 1 | 1 | 2 | 3 | 5
673 | 12,542 | 9.7323 | 1 | 3 | 7 | 13 | 21
674 | 11,715 | 7.1905 | 1 | 2 | 5 | 9 | 15
675 | 7,824 | 2.0675 | 1 | 1 | 1 | 2 | 4
682 | 82,091 | 7.1569 | 2 | 3 | 5 | 9 | 14
683 | 132,320 | 5.6544 | 2 | 3 | 5 | 7 | 10
684 | 44,932 | 3.8913 | 1 | 2 | 3 | 5 | 7
685 | 2,331 | 3.4822 | 1 | 1 | 2 | 4 | 7
686 | 1,597 | 7.5717 | 2 | 3 | 6 | 9 | 15
687 | 3,261 | 5.3502 | 1 | 3 | 4 | 7 | 10
688 | 1,073 | 3.2591 | 1 | 1 | 2 | 4 | 6
689 | 55,995 | 6.2004 | 2 | 3 | 5 | 8 | 11
690 | 198,101 | 4.2356 | 2 | 2 | 4 | 5 | 7
691 | 821 | 3.9586 | 1 | 2 | 3 | 5 | 8
692 | 491 | 2.3992 | 1 | 1 | 2 | 3 | 5
693 | 2,429 | 4.8345 | 1 | 2 | 4 | 6 | 10
694 | 18,000 | 2.5778 | 1 | 1 | 2 | 3 | 5
695 | 975 | 5.5251 | 1 | 3 | 4 | 7 | 11
696 | 10,518 | 3.2901 | 1 | 2 | 3 | 4 | 6
697 | 592 | 3.1115 | 1 | 1 | 2 | 4 | 6
698 | 23,320 | 6.6546 | 2 | 3 | 5 | 8 | 13
699 | 24,207 | 4.8302 | 1 | 2 | 4 | 6 | 9
700 | 12,279 | 3.5497 | 1 | 2 | 3 | 4 | 7
707 | 5,979 | 4.4131 | 1 | 2 | 3 | 5 | 8
708 | 18,063 | 2.1475 | 1 | 1 | 2 | 3 | 4
709 | 762 | 6.5341 | 1 | 2 | 4 | 8 | 15
710 | 1,831 | 1.7739 | 1 | 1 | 1 | 2 | 3
711 | 790 | 8.1684 | 1 | 3 | 6 | 10 | 16
712 | 705 | 3.0496 | 1 | 1 | 2 | 4 | 7
713 | 10,252 | 4.1916 | 1 | 2 | 3 | 5 | 9
714 | 28,797 | 1.9430 | 1 | 1 | 2 | 2 | 3
715 | 531 | 6.2806 | 1 | 2 | 4 | 8 | 13
716 | 1,273 | 1.4289 | 1 | 1 | 1 | 1 | 2
717 | 703 | 7.2319 | 2 | 3 | 5 | 9 | 14
718 | 589 | 2.7640 | 1 | 1 | 2 | 3 | 5
722 | 745 | 7.5852 | 2 | 3 | 6 | 10 | 14
723 | 1,949 | 5.2678 | 1 | 3 | 4 | 7 | 10
724 | 578 | 3.1522 | 1 | 1 | 2 | 4 | 6
725 | 755 | 5.5007 | 2 | 3 | 4 | 7 | 10
726 | 3,716 | 3.4739 | 1 | 2 | 3 | 4 | 6
727 | 1,294 | 6.3995 | 2 | 3 | 5 | 8 | 12
728 | 6,158 | 4.0404 | 1 | 2 | 3 | 5 | 7
729 | 591 | 5.5736 | 1 | 2 | 4 | 7 | 10
730 | 471 | 3.0786 | 1 | 1 | 2 | 4 | 6
734 | 1,362 | 7.9941 | 3 | 4 | 6 | 9 | 15
735 | 1,130 | 3.3602 | 1 | 2 | 3 | 4 | 5
736 | 854 | 13.7752 | 5 | 7 | 11 | 17 | 25
737 | 3,293 | 7.1786 | 3 | 4 | 6 | 8 | 13
738 | 863 | 3.8714 | 2 | 3 | 3 | 5 | 6
739 | 1,013 | 10.1955 | 3 | 5 | 8 | 12 | 20
740 | 4,326 | 5.2305 | 2 | 3 | 4 | 6 | 9
741 | 6,014 | 2.9940 | 1 | 2 | 3 | 4 | 5
742 | 10,950 | 4.5175 | 2 | 2 | 3 | 5 | 8
743 | 32,325 | 2.2608 | 1 | 2 | 2 | 3 | 3
744 | 1,520 | 5.8355 | 1 | 2 | 4 | 7 | 12
745 | 1,694 | 2.5738 | 1 | 1 | 2 | 3 | 5
746 | 2,634 | 4.2134 | 1 | 2 | 3 | 5 | 8
747 | 10,409 | 1.8856 | 1 | 1 | 2 | 2 | 3
748 | 19,857 | 1.7358 | 1 | 1 | 1 | 2 | 3
749 | 982 | 9.3401 | 2 | 4 | 7 | 12 | 19
750 | 435 | 3.1103 | 1 | 1 | 2 | 4 | 6
754 | 978 | 8.3395 | 2 | 4 | 7 | 11 | 16
755 | 2,933 | 5.6870 | 2 | 3 | 4 | 7 | 11
756 | 677 | 3.1359 | 1 | 1 | 2 | 4 | 6
757 | 1,393 | 8.1436 | 3 | 4 | 6 | 10 | 16
758 | 1,605 | 6.0536 | 2 | 3 | 5 | 7 | 11
759 | 1,239 | 4.4722 | 2 | 2 | 4 | 5 | 8
760 | 1,700 | 3.9594 | 1 | 2 | 3 | 5 | 8
761 | 1,749 | 2.4351 | 1 | 1 | 2 | 3 | 5
765 | 2,754 | 5.0359 | 2 | 3 | 4 | 5 | 7
766 | 2,686 | 3.1601 | 2 | 2 | 3 | 4 | 4
767 | 132 | 3.3712 | 2 | 2 | 2 | 3 | 5
768 | 6 | 3.5000 | 1 | 2 | 3 | 6 | 6
769 | 98 | 4.6224 | 1 | 2 | 3 | 6 | 11
770 | 202 | 2.2277 | 1 | 1 | 1 | 2 | 5
774 | 1,506 | 3.1886 | 2 | 2 | 2 | 3 | 5
775 | 5,768 | 2.2394 | 1 | 2 | 2 | 3 | 3
776 | 511 | 3.3112 | 1 | 2 | 2 | 4 | 7
777 | 206 | 2.2136 | 1 | 1 | 2 | 3 | 4
778 | 474 | 3.0127 | 1 | 1 | 2 | 3 | 5
779 | 110 | 2.1182 | 1 | 1 | 1 | 2 | 3
780 | 40 | 1.4500 | 1 | 1 | 1 | 1 | 3
781 | 3,017 | 3.7630 | 1 | 1 | 2 | 4 | 7
782 | 171 | 2.4971 | 1 | 1 | 1 | 2 | 4
790 | 1 | 25.0000 | 125 | 125 | 125 | 125 | 125
799 | 566 | 14.0583 | 5 | 7 | 11 | 18 | 26
800 | 705 | 7.8610 | 3 | 4 | 6 | 9 | 15
801 | 557 | 4.9336 | 2 | 2 | 4 | 6 | 9
802 | 765 | 12.2706 | 3 | 5 | 9 | 15 | 25
803 | 1,070 | 6.6738 | 1 | 3 | 5 | 8 | 14
804 | 987 | 3.4215 | 1 | 1 | 3 | 4 | 6
808 | 6,088 | 8.2467 | 3 | 4 | 6 | 10 | 16
809 | 12,869 | 5.3247 | 2 | 3 | 4 | 7 | 10
810 | 2,786 | 4.0337 | 1 | 2 | 3 | 5 | 7
811 | 21,404 | 5.6912 | 1 | 2 | 4 | 7 | 11
812 | 89,951 | 3.7401 | 1 | 2 | 3 | 5 | 7
813 | 14,232 | 5.1669 | 1 | 2 | 4 | 6 | 10
814 | 1,554 | 6.7368 | 2 | 3 | 5 | 8 | 13
815 | 3,297 | 4.9706 | 1 | 2 | 4 | 6 | 9
816 | 2,147 | 3.5198 | 1 | 2 | 3 | 4 | 7
820 | 1,299 | 17.7229 | 5 | 8 | 14 | 23 | 34
821 | 2,474 | 7.8646 | 1 | 3 | 6 | 10 | 16
822 | 1,893 | 3.5288 | 1 | 1 | 3 | 4 | 7
823 | 2,178 | 15.4385 | 5 | 8 | 12 | 20 | 29
824 | 2,974 | 8.7492 | 2 | 4 | 7 | 11 | 17
825 | 1,748 | 4.3084 | 1 | 1 | 3 | 6 | 9
826 | 524 | 15.0401 | 4 | 7 | 11 | 19 | 29
827 | 1,254 | 7.9793 | 2 | 4 | 6 | 10 | 16
828 | 799 | 3.7722 | 1 | 2 | 3 | 5 | 7
829 | 1,171 | 10.6576 | 2 | 4 | 7 | 13 | 22
830 | 521 | 3.7179 | 1 | 1 | 2 | 4 | 8
834 | 4,028 | 15.4615 | 2 | 4 | 10 | 23 | 36
835 | 2,703 | 10.4351 | 2 | 3 | 6 | 12 | 28
836 | 1,622 | 5.1843 | 1 | 2 | 3 | 6 | 10
837 | 1,043 | 23.1419 | 5 | 10 | 23 | 31 | 42
838 | 1,320 | 12.2629 | 3 | 4 | 6 | 21 | 29
839 | 1,467 | 6.4104 | 3 | 4 | 5 | 6 | 10
840 | 9,659 | 10.4408 | 3 | 5 | 8 | 13 | 21
841 | 10,035 | 6.9221 | 2 | 3 | 5 | 9 | 13
842 | 5,310 | 4.5563 | 1 | 2 | 4 | 6 | 9
843 | 1,350 | 8.5222 | 2 | 4 | 6 | 10 | 17
844 | 2,412 | 6.0987 | 2 | 3 | 5 | 8 | 12
845 | 804 | 4.3022 | 1 | 2 | 3 | 6 | 8
846 | 2,113 | 8.4179 | 2 | 3 | 5 | 10 | 18
847 | 23,862 | 3.3508 | 1 | 2 | 3 | 4 | 6
848 | 1,723 | 3.1294 | 1 | 1 | 3 | 4 | 5
849 | 1,477 | 5.9709 | 2 | 3 | 5 | 6 | 12
853 | 34,852 | 16.6669 | 5 | 8 | 13 | 21 | 30
854 | 6,643 | 11.1072 | 4 | 6 | 9 | 14 | 20
855 | 459 | 7.0261 | 2 | 4 | 6 | 9 | 13
856 | 5,892 | 15.3839 | 4 | 7 | 12 | 19 | 30
857 | 9,614 | 8.4628 | 3 | 4 | 7 | 10 | 16
858 | 3,246 | 5.6741 | 2 | 3 | 5 | 7 | 10
862 | 7,929 | 8.1778 | 2 | 4 | 6 | 10 | 16
863 | 21,420 | 5.1976 | 2 | 3 | 4 | 7 | 9
864 | 18,946 | 4.0639 | 1 | 2 | 3 | 5 | 7
865 | 1,705 | 6.7009 | 2 | 3 | 4 | 8 | 14
866 | 8,182 | 3.5351 | 1 | 2 | 3 | 4 | 7
867 | 5,062 | 9.6254 | 2 | 4 | 7 | 12 | 19
868 | 2,641 | 5.7819 | 2 | 3 | 4 | 7 | 11
869 | 1,103 | 4.3128 | 2 | 2 | 4 | 5 | 7
870 | 21,199 | 15.4758 | 6 | 9 | 13 | 19 | 27
871 | 216,384 | 7.4839 | 2 | 3 | 6 | 10 | 14
872 | 90,892 | 5.7138 | 2 | 3 | 5 | 7 | 10
876 | 857 | 11.9498 | 2 | 5 | 9 | 14 | 24
880 | 9,282 | 3.1518 | 1 | 1 | 2 | 4 | 6
881 | 4,623 | 4.1888 | 1 | 2 | 3 | 5 | 8
882 | 1,556 | 4.4274 | 1 | 2 | 3 | 6 | 9
883 | 757 | 7.3725 | 1 | 2 | 4 | 8 | 15
884 | 19,006 | 5.4936 | 2 | 3 | 4 | 6 | 10
885 | 80,806 | 7.6211 | 2 | 3 | 6 | 9 | 14
886 | 404 | 6.0767 | 1 | 2 | 4 | 7 | 12
887 | 393 | 4.6209 | 1 | 2 | 3 | 5 | 8
894 | 4,369 | 2.9528 | 1 | 1 | 2 | 3 | 4
895 | 6,958 | 10.4997 | 3 | 4 | 6 | 7 | 9
896 | 5,490 | 6.6087 | 2 | 3 | 5 | 8 | 13
897 | 36,053 | 4.0582 | 1 | 2 | 3 | 5 | 6
901 | 924 | 15.0693 | 3 | 6 | 10 | 18 | 30
902 | 2,031 | 7.7371 | 2 | 3 | 6 | 9 | 16
903 | 1,500 | 4.5680 | 1 | 2 | 4 | 6 | 9
904 | 1,046 | 11.2237 | 2 | 4 | 7 | 13 | 23
905 | 811 | 4.6523 | 1 | 2 | 4 | 6 | 8
906 | 710 | 3.1451 | 1 | 1 | 2 | 4 | 6
907 | 8,461 | 11.6506 | 2 | 5 | 8 | 14 | 23
908 | 8,319 | 6.7682 | 2 | 3 | 5 | 8 | 13
909 | 5,447 | 3.6367 | 1 | 1 | 3 | 5 | 7
913 | 804 | 5.6629 | 1 | 3 | 4 | 7 | 12
914 | 6,609 | 3.4330 | 1 | 2 | 3 | 4 | 6
915 | 1,078 | 4.7356 | 1 | 2 | 3 | 6 | 9
916 | 5,508 | 2.1044 | 1 | 1 | 2 | 3 | 4
917 | 15,775 | 5.1645 | 1 | 2 | 4 | 6 | 11
918 | 35,653 | 2.7260 | 1 | 1 | 2 | 3 | 5
919 | 11,089 | 6.3723 | 2 | 3 | 5 | 8 | 13
920 | 13,970 | 4.3608 | 1 | 2 | 3 | 5 | 8
921 | 9,423 | 2.9687 | 1 | 1 | 2 | 4 | 6
922 | 1,047 | 5.9933 | 1 | 2 | 4 | 7 | 12
923 | 3,952 | 3.2338 | 1 | 1 | 2 | 4 | 6
927 | 211 | 31.1374 | 7 | 15 | 26 | 41 | 60
928 | 818 | 15.9694 | 4 | 7 | 12 | 21 | 31
929 | 438 | 7.6872 | 1 | 3 | 6 | 10 | 16
933 | 139 | 4.3453 | 1 | 1 | 1 | 4 | 8
934 | 659 | 6.1988 | 1 | 3 | 5 | 8 | 12
935 | 2,201 | 5.4330 | 1 | 2 | 4 | 7 | 11
939 | 671 | 10.0611 | 2 | 4 | 7 | 13 | 20
940 | 1,320 | 5.4220 | 1 | 2 | 4 | 7 | 12
941 | 1,707 | 2.7299 | 1 | 1 | 2 | 3 | 5
945 | 6,244 | 10.4947 | 4 | 6 | 8 | 12 | 15
946 | 3,055 | 7.8628 | 3 | 5 | 6 | 7 | 8
947 | 9,715 | 5.0101 | 1 | 2 | 4 | 6 | 10
948 | 47,722 | 3.4806 | 1 | 2 | 3 | 4 | 6
949 | 632 | 4.1092 | 1 | 1 | 2 | 4 | 6
950 | 387 | 3.4858 | 1 | 1 | 2 | 4 | 5
951 | 940 | 4.6436 | 1 | 1 | 2 | 3 | 6
955 | 444 | 12.2658 | 2 | 5 | 10 | 16 | 26
956 | 3,976 | 9.2912 | 4 | 5 | 7 | 11 | 17
957 | 1,318 | 14.8566 | 2 | 7 | 12 | 19 | 28
958 | 1,147 | 10.4080 | 3 | 6 | 8 | 13 | 19
959 | 291 | 6.2921 | 2 | 3 | 5 | 8 | 11
963 | 1,586 | 9.5214 | 2 | 4 | 8 | 13 | 19
964 | 2,573 | 6.2274 | 2 | 3 | 5 | 8 | 11
965 | 1,072 | 4.1371 | 1 | 2 | 3 | 5 | 7
969 | 639 | 18.8279 | 4 | 8 | 14 | 22 | 36
970 | 136 | 9.8309 | 2 | 3 | 7 | 12 | 17
974 | 5,920 | 10.3723 | 2 | 4 | 8 | 13 | 21
975 | 4,674 | 7.0148 | 2 | 3 | 5 | 9 | 13
976 | 2,617 | 4.9308 | 2 | 2 | 4 | 6 | 8
977 | 4,565 | 5.2931 | 1 | 2 | 4 | 6 | 10
981 | 25,478 | 15.1488 | 5 | 8 | 12 | 19 | 28
982 | 18,329 | 9.7455 | 3 | 5 | 8 | 12 | 18
983 | 6,112 | 5.3613 | 1 | 2 | 4 | 7 | 11
984 | 671 | 14.6811 | 5 | 8 | 13 | 18 | 25
985 | 903 | 9.6512 | 2 | 5 | 8 | 13 | 18
986 | 731 | 5.3338 | 1 | 2 | 3 | 7 | 12
987 | 8,240 | 13.0089 | 4 | 6 | 10 | 16 | 24
988 | 11,583 | 7.8090 | 2 | 3 | 6 | 10 | 15
989 | 5,796 | 4.1046 | 1 | 1 | 3 | 6 | 9
| 11,387,276

Table 8A.—Proposed Statewide Average Operating Cost-to-Charge Ratios—March 2008
State | Urban | Rural
Alabama | 0.261 | 0.33
Alaska | 0.401 | 0.745
Arizona | 0.288 | 0.418
Arkansas | 0.32 | 0.368
California | 0.225 | 0.303
Colorado | 0.281 | 0.437
Connecticut | 0.399 | 0.528
Delaware | 0.495 | 0.513
District of Columbia * | 0.345 |
Florida | 0.238 | 0.281
Georgia | 0.329 | 0.39
Hawaii | 0.382 | 0.453
Idaho | 0.468 | 0.534
Illinois | 0.305 | 0.395
Indiana | 0.39 | 0.466
Iowa | 0.357 | 0.444
Kansas | 0.288 | 0.424
Kentucky | 0.37 | 0.371
Louisiana | 0.299 | 0.353
Maine | 0.498 | 0.462
Maryland | 0.726 | 0.793
Massachusetts * | 0.471 |
Michigan | 0.364 | 0.462
Minnesota | 0.391 | 0.53
Mississippi | 0.302 | 0.355
Missouri | 0.33 | 0.399
Montana | 0.422 | 0.465
Nebraska | 0.335 | 0.46
Nevada | 0.22 | 0.478
New Hampshire | 0.457 | 0.427
New Jersey * | 0.178 |
New Mexico | 0.377 | 0.36
New York | 0.346 | 0.522
North Carolina | 0.402 | 0.396
North Dakota | 0.428 | 0.457
Ohio | 0.338 | 0.522
Oklahoma | 0.293 | 0.383
Oregon | 0.452 | 0.415
Pennsylvania | 0.267 | 0.413
Puerto Rico * | 0.474 |
Rhode Island * | 0.388 |
South Carolina | 0.284 | 0.301
South Dakota | 0.335 | 0.43
Tennessee | 0.297 | 0.371
Texas | 0.257 | 0.342
Utah | 0.414 | 0.572
Vermont | 0.543 | 0.619
Virginia | 0.358 | 0.357
Washington | 0.385 | 0.443
West Virginia | 0.471 | 0.462
Wisconsin | 0.425 | 0.458
Wyoming | 0.431 | 0.562
* All counties in the State or Territory are classified as urban, with the exception of Massachusetts, which has areas designated as rural. However, no short-term acute care IPPS hospitals are located in those areas as of March 2008.

Table 8B.—Proposed Statewide Average Capital Cost-to-Charge Ratios—March 2008
State | Ratio
Alabama | 0.024
Alaska | 0.036
Arizona | 0.023
Arkansas | 0.025
California | 0.015
Colorado | 0.028
Connecticut | 0.028
Delaware | 0.035
District of Columbia | 0.022
Florida | 0.022
Georgia | 0.028
Hawaii | 0.03
Idaho | 0.038
Illinois | 0.026
Indiana | 0.037
Iowa | 0.028
Kansas | 0.03
Kentucky | 0.029
Louisiana | 0.026
Maine | 0.03
Maryland | 0.058
Massachusetts | 0.031
Michigan | 0.03
Minnesota | 0.028
Mississippi | 0.027
Missouri | 0.029
Montana | 0.034
Nebraska | 0.039
Nevada | 0.021
New Hampshire | 0.032
New Jersey | 0.013
New Mexico | 0.032
New York | 0.026
North Carolina | 0.032
North Dakota | 0.037
Ohio | 0.028
Oklahoma | 0.026
Oregon | 0.031
Pennsylvania | 0.022
Puerto Rico | 0.042
Rhode Island | 0.02
South Carolina | 0.024
South Dakota | 0.032
Tennessee | 0.03
Texas | 0.026
Utah | 0.032
Vermont | 0.045
Virginia | 0.036
Washington | 0.03
West Virginia | 0.034
Wisconsin | 0.037
Wyoming | 0.044

Table 8C.—Proposed Statewide Average Total Cost-to-Charge Ratios for LTCHs—March 2008
State | Urban | Rural
Alabama | 0.279 | 0.36
Alaska | 0.432 | 0.806
Arizona | 0.311 | 0.448
Arkansas | 0.343 | 0.401
California | 0.238 | 0.322
Colorado | 0.307 | 0.479
Connecticut | 0.426 | 0.576
Delaware | 0.529 | 0.551
District of Columbia * | 0.368 |
Florida | 0.259 | 0.311
Georgia | 0.355 | 0.424
Hawaii | 0.411 | 0.487
Idaho | 0.506 | 0.576
Illinois | 0.33 | 0.427
Indiana | 0.426 | 0.507
Iowa | 0.381 | 0.483
Kansas | 0.314 | 0.463
Kentucky | 0.398 | 0.401
Louisiana | 0.325 | 0.38
Maine | 0.529 | 0.49
Maryland *** | 0.34 | 0.434
Massachusetts ** | 0.502 |
Michigan | 0.393 | 0.497
Minnesota | 0.418 | 0.569
Mississippi | 0.328 | 0.384
Missouri | 0.357 | 0.438
Montana | 0.453 | 0.505
Nebraska | 0.371 | 0.505
Nevada | 0.24 | 0.539
New Hampshire | 0.489 | 0.459
New Jersey ** | 0.19 |
New Mexico | 0.408 | 0.394
New York | 0.372 | 0.558
North Carolina | 0.434 | 0.431
North Dakota | 0.461 | 0.505
Ohio | 0.365 | 0.563
Oklahoma | 0.318 | 0.414
Oregon | 0.484 | 0.444
Pennsylvania | 0.287 | 0.443
Puerto Rico ** | 0.514 |
Rhode Island ** | 0.408 |
South Carolina | 0.308 | 0.327
South Dakota | 0.365 | 0.466
Tennessee | 0.326 | 0.406
Texas | 0.282 | 0.374
Utah | 0.445 | 0.622
Vermont | 0.594 | 0.657
Virginia | 0.393 | 0.398
Washington | 0.414 | 0.473
West Virginia | 0.505 | 0.496
Wisconsin | 0.462 | 0.497
Wyoming | 0.467 | 0.616
* All counties in the State or Territory are classified as urban, with the exception of Massachusetts, which has areas designated as rural. However, no short-term acute care IPPS hospitals or LTCHs are located in those areas as of March 2008.
** National average IPPS total cost-to-charge ratios, as discussed in section VI.E. of this proposed rule.

Table 9A.—Hospital Reclassifications and Redesignations—FY 2009
Provider No. | Geographic CBSA | Reclassified CBSA | LUGAR
010001 | 20020 | 10500 |
010005 | 01 | 26620 |
010009 | 19460 | 26620 |
010010 | 01 | 13820 |
010012 | 01 | 40660 |
010022 | 01 | 12060 |
010025 | 01 | 17980 |
010029 | 12220 | 17980 |
010035 | 01 | 13820 |
010052 | 01 | 33860 |
010054 | 19460 | 26620 |
010055 | 20020 | 37460 |
010059 | 19460 | 26620 |
010061 | 01 | 16860 |
010065 | 01 | 13820 |
010083 | 01 | 37860 |
010085 | 19460 | 26620 |
010090 | 33660 | 37700 |
010100 | 01 | 37860 |
010101 | 01 | 13820 |
010102 | 01 | 33860 |
010118 | 01 | 33860 |
010126 | 01 | 33860 |
010143 | 01 | 26620 |
010150 | 01 | 33860 |
010158 | 01 | 22520 |
010164 | 01 | 13820 |
020008 | 02 | 11260 |
030007 | 39140 | 22380 | LUGAR
030033 | 03 | 22380 |
030055 | 29420 | 39140 |
030069 | 29420 | 40140 |
030101 | 29420 | 29820 |
040014 | 04 | 30780 |
040017 | 04 | 22220 |
040019 | 04 | 32820 |
040020 | 27860 | 32820 |
040027 | 04 | 44180 |
040039 | 04 | 27860 |
040041 | 04 | 30780 |
040069 | 04 | 32820 |
040071 | 38220 | 30780 |
040076 | 04 | 30780 | LUGAR
040078 | 26300 | 30780 |
040080 | 04 | 27860 |
040085 | 04 | 32820 |
040088 | 04 | 33740 |
040091 | 04 | 45500 |
040119 | 04 | 30780 |
050006 | 05 | 39820 |
050009 | 34900 | 46700 |
050013 | 34900 | 46700 |
050014 | 05 | 40900 |
050022 | 40140 | 42044 |
050038 | 41940 | 42100 |
050042 | 05 | 39820 |
050046 | 37100 | 31084 |
050054 | 40140 | 42044 |
050069 | 42044 | 31084 |
050071 | 41940 | 42100 |
050073 | 46700 | 36084 |
050076 | 41884 | 36084 |
050082 | 37100 | 31084 |
050089 | 40140 | 31084 |
050090 | 42220 | 41884 |
050099 | 40140 | 31084 |
050101 | 46700 | 36084 |
050102 | 40140 | 42044 |
050118 | 44700 | 33700 |
050125 | 41940 | 42100 |
050129 | 40140 | 31084 |
050131 | 41884 | 36084 |
050133 | 49700 | 40900 |
050136 | 42220 | 41884 |
050140 | 40140 | 31084 |
050150 | 05 | 40900 |
050153 | 41940 | 42100 |
050159 | 37100 | 31084 |
050168 | 42044 | 31084 |
050173 | 42044 | 31084 |
050174 | 42220 | 41884 |
050188 | 41940 | 42100 |
050193 | 42044 | 31084 |
050194 | 42100 | 41940 |
050197 | 41884 | 41940 |
050224 | 42044 | 31084 |
050226 | 42044 | 31084 |
050230 | 42044 | 31084 |
050236 | 37100 | 31084 |
050242 | 42100 | 41940 |
050243 | 40140 | 42044 |
050245 | 40140 | 31084 |
050272 | 40140 | 31084 |
050279 | 40140 | 31084 |
050291 | 42220 | 41884 |
050292 | 40140 | 42044 |
050300 | 40140 | 31084 |
050301 | 05 | 42220 |
050308 | 41940 | 42100 |
050327 | 40140 | 31084 |
050329 | 40140 | 42044 |
050335 | 05 | 33700 |
050348 | 42044 | 31084 |
050360 | 41884 | 36084 |
050367 | 46700 | 36084 |
050380 | 41940 | 42100 |
050385 | 42220 | 41884 |
050390 | 40140 | 42044 |
050394 | 37100 | 31084 |
050423 | 40140 | 42044 |
050426 | 42044 | 31084 |
050441 | 41940 | 42100 |
050476 | 05 | 42220 |
050494 | 05 | 40900 |
050510 | 41884 | 36084 |
050517 | 40140 | 31084 |
050526 | 42044 | 31084 |
050534 | 40140 | 42044 |
050541 | 41884 | 41940 |
050543 | 42044 | 31084 |
050547 | 42220 | 41884 |
050548 | 42044 | 31084 |
050549 | 37100 | 31084 |
050551 | 42044 | 31084 |
050567 | 42044 | 31084 |
050570 | 42044 | 31084 |
050573 | 40140 | 42044 |
050580 | 42044 | 31084 |
050586 | 40140 | 31084 |
050589 | 42044 | 31084 |
050603 | 42044 | 31084 |
050604 | 41940 | 42100 |
050609 | 42044 | 31084 |
050616 | 37100 | 31084 |
050662 | 41940 | 42100 |
050667 | 34900 | 46700 |
050678 | 42044 | 31084 |
050680 | 46700 | 36084 |
050684 | 40140 | 42044 |
050686 | 40140 | 42044 |
050688 | 41940 | 42100 |
050690 | 42220 | 41884 |
050693 | 42044 | 31084 |
050694 | 40140 | 42044 |
050701 | 40140 | 42044 |
050709 | 40140 | 31084 |
050720 | 42044 | 31084 |
050744 | 42044 | 31084 |
050745 | 42044 | 31084 |
050746 | 42044 | 31084 |
050747 | 42044 | 31084 |
050749 | 37100 | 31084 |
050758 | 40140 | 31084 |
060003 | 14500 | 19740 |
060012 | 39380 | 17820 |
060023 | 24300 | 19740 |
060027 | 14500 | 19740 |
060031 | 17820 | 19740 |
060049 | 06 | 22660 |
060075 | 06 | 24300 |
060096 | 06 | 19740 |
060103 | 14500 | 19740 |
060116 | 14500 | 19740 |
070001 | 35300 | 35004 |
070003 | 07 | 25540 | LUGAR
070004 | 07 | 25540 |
070005 | 35300 | 35004 |
070006 | 14860 | 35644 |
070010 | 14860 | 35644 |
070011 | 07 | 25540 |
070015 | 07 | 35644 |
070016 | 35300 | 35004 |
070017 | 35300 | 35004 |
070018 | 14860 | 35644 |
070019 | 35300 | 35004 |
070022 | 35300 | 35004 |
070028 | 14860 | 35644 |
070031 | 35300 | 35004 |
070033 | 14860 | 35644 |
070034 | 14860 | 35644 |
070036 | 25540 | 35300 |
070038 | 35300 | 35004 |
070039 | 35300 | 35004 |
080001 | 48864 | 37964 |
080003 | 48864 | 37964 |
080004 | 20100 | 48864 |
080006 | 08 | 20100 |
080007 | 08 | 36140 |
090001 | 47894 | 13644 |
090004 | 47894 | 13644 |
090011 | 47894 | 13644 |
100002 | 48424 | 22744 |
100014 | 19660 | 36740 |
100017 | 19660 | 36740 |
100022 | 33124 | 22744 |
100023 | 10 | 36740 |
100024 | 10 | 33124 |
100045 | 19660 | 36740 |
100047 | 39460 | 14600 |
100049 | 10 | 29460 |
100068 | 19660 | 36740 |
100072 | 19660 | 36740 |
100077 | 39460 | 14600 |
100080 | 48424 | 22744 |
100081 | 10 | 23020 | LUGAR
100105 | 42680 | 38940 |
100109 | 10 | 36740 |
100130 | 48424 | 22744 |
100139 | 10 | 23540 | LUGAR
100150 | 10 | 33124 |
100156 | 10 | 23540 |
100157 | 29460 | 45300 |
100160 | 10 | 33124 |
100168 | 48424 | 22744 |
100176 | 48424 | 22744 |
100217 | 42680 | 38940 |
100232 | 10 | 27260 |
100234 | 48424 | 22744 |
100236 | 39460 | 14600 |
100249 | 10 | 45300 |
100252 | 10 | 38940 |
100253 | 48424 | 22744 |
100258 | 48424 | 22744 |
100268 | 48424 | 22744 |
100269 | 48424 | 22744 |
100275 | 48424 | 22744 |
100287 | 48424 | 22744 |
100288 | 48424 | 22744 |
100292 | 10 | 23020 | LUGAR
110001 | 19140 | 16860 |
110002 | 11 | 12060 |
110016 | 11 | 17980 |
110023 | 11 | 12060 |
110029 | 23580 | 12060 |
110038 | 11 | 45220 |
110040 | 11 | 12060 | LUGAR
110041 | 11 | 12060 |
110054 | 40660 | 12060 |
110069 | 47580 | 31420 |
110075 | 11 | 42340 |
110095 | 11 | 10500 |
110112 | 11 | 10500 |
110121 | 11 | 45220 |
110122 | 46660 | 45220 |
110125 | 11 | 31420 |
110128 | 11 | 42340 |
110146 | 11 | 27260 |
110150 | 11 | 12060 |
110153 | 47580 | 31420 |
110168 | 40660 | 12060 |
110187 | 11 | 12060 | LUGAR
110189 | 11 | 12060 |
120028 | 12 | 26180 |
130002 | 13 | 14260 |
130003 | 30300 | 28420 |
130049 | 17660 | 44060 |
130067 | 13 | 26820 | LUGAR
140012 | 14 | 16974 |
140015 | 14 | 41180 |
140032 | 14 | 41180 |
140034 | 14 | 41180 |
140040 | 14 | 37900 |
140043 | 14 | 19340 |
140046 | 14 | 41180 |
140058 | 14 | 41180 |
140064 | 14 | 37900 |
140084 | 29404 | 16974 |
140100 | 29404 | 16974 |
140110 | 14 | 16974 |
140130 | 29404 | 16974 |
140135 | 19500 | 16580 |
140143 | 14 | 16974 |
140155 | 28100 | 16974 |
140160 | 14 | 40420 |
140164 | 14 | 41180 |
140186 | 28100 | 16974 |
140202 | 29404 | 16974 |
140291 | 29404 | 16974 |
150002 | 23844 | 16974 |
150004 | 23844 | 16974 |
150006 | 33140 | 43780 |
150008 | 23844 | 16974 |
150011 | 15 | 26900 |
150015 | 33140 | 23844 |
150018 | 21140 | 43780 |
150023 | 45460 | 26900 |
150026 | 21140 | 43780 |
150030 | 15 | 26900 | LUGAR
150034 | 23844 | 16974 |
150042 | 15 | 14020 |
150045 | 15 | 23060 |
150048 | 15 | 17140 |
150051 | 14020 | 26900 |
150065 | 15 | 26900 |
150069 | 15 | 17140 |
150076 | 15 | 43780 |
150088 | 11300 | 26900 |
150090 | 23844 | 16974 |
150091 | 15 | 23060 |
150102 | 15 | 23844 | LUGAR
150112 | 18020 | 26900 |
150113 | 11300 | 26900 |
150115 | 15 | 21780 |
150125 | 23844 | 16974 |
150126 | 23844 | 16974 |
150133 | 15 | 43780 |
150146 | 15 | 21140 |
150147 | 23844 | 16974 |
160001 | 16 | 11180 |
160016 | 16 | 11180 |
160057 | 16 | 26980 |
160064 | 16 | 47940 |
160080 | 16 | 19340 |
160089 | 16 | 26980 |
160147 | 16 | 11180 |
170006 | 17 | 27900 |
170012 | 17 | 48620 |
170013 | 17 | 48620 |
170020 | 17 | 48620 |
170023 | 17 | 48620 |
170068 | 17 | 11100 |
170120 | 17 | 27900 |
170142 | 17 | 45820 |
170175 | 17 | 48620 |
170190 | 17 | 45820 |
170193 | 17 | 48620 |
180002 | 18 | 49 |
180005 | 18 | 26580 |
180011 | 18 | 30460 |
180012 | 21060 | 31140 |
180013 | 14540 | 34980 |
180017 | 18 | 21060 |
180024 | 18 | 31140 |
180027 | 18 | 17300 |
180029 | 18 | 30460 |
180043 | 18 | 44 |
180044 | 18 | 26580 |
180048 | 18 | 31140 |
180049 | 18 | 30460 |
180050 | 18 | 28700 |
180066 | 18 | 34980 |
180069 | 18 | 26580 |
180078 | 18 | 26580 |
180080 | 18 | 28940 |
180093 | 18 | 21780 |
180102 | 18 | 17300 |
180104 | 18 | 17300 |
180116 | 18 | 14 |
180124 | 14540 | 34980 |
180127 | 18 | 31140 |
180132 | 18 | 30460 |
190003 | 19 | 29180 |
190015 | 19 | 35380 |
190017 | 19 | 29180 |
190086 | 19 | 33740 |
190088 | 19 | 43340 |
190106 | 19 | 10780 |
190144 | 19 | 43340 |
190164 | 19 | 10780 |
190167 | 19 | 29180 |
190184 | 19 | 33740 |
190191 | 19 | 29180 |
190208 | 19 | 04 |
190218 | 19 | 43340 |
190257 | 19 | 33740 |
200020 | 38860 | 40484 |
200024 | 30340 | 38860 |
200034 | 30340 | 38860 |
200039 | 20 | 38860 |
200050 | 20 | 12620 |
220001 | 49340 | 14484 |
220002 | 15764 | 14484 |
220008 | 39300 | 14484 |
220010 | 37764 | 14484 |
220011 | 15764 | 14484 |
220019 | 49340 | 14484 |
220020 | 39300 | 14484 |
220025 | 49340 | 14484 |
220029 | 37764 | 14484 |
220033 | 37764 | 14484 |
220035 | 37764 | 14484 |
220049 | 15764 | 14484 |
220058 | 49340 | 14484 |
220062 | 49340 | 14484 |
220063 | 15764 | 14484 |
220070 | 15764 | 14484 |
220073 | 39300 | 14484 |
220074 | 39300 | 14484 |
220077 | 44140 | 25540 |
220080 | 37764 | 14484 |
220082 | 15764 | 14484 |
220084 | 15764 | 14484 |
220090 | 49340 | 14484 |
220095 | 49340 | 14484 |
220098 | 15764 | 14484 |
220101 | 15764 | 14484 |
220105 | 15764 | 14484 |
220163 | 49340 | 14484 |
220171 | 15764 | 14484 |
220174 | 37764 | 14484 |
220175 | 15764 | 14484 |
220176 | 49340 | 14484 |
230002 | 19804 | 11460 |
230003 | 26100 | 34740 |
230013 | 47644 | 19804 |
230019 | 47644 | 19804 |
230020 | 19804 | 11460 |
230021 | 35660 | 28020 |
230022 | 23 | 29620 |
230024 | 19804 | 11460 |
230029 | 47644 | 19804 |
230030 | 23 | 40980 |
230035 | 23 | 24340 | LUGAR
230036 | 23 | 13020 |
230037 | 23 | 11460 |
230038 | 24340 | 34740 |
230047 | 47644 | 19804 |
230053 | 19804 | 11460 |
230054 | 23 | 24580 |
230059 | 24340 | 34740 |
230069 | 47644 | 22420 |
230071 | 47644 | 19804 |
230072 | 26100 | 34740 |
230077 | 40980 | 22420 |
230080 | 23 | 13020 |
230089 | 19804 | 11460 |
230092 | 27100 | 11460 |
230095 | 23 | 13020 |
230096 | 23 | 28020 |
230097 | 23 | 24340 |
230099 | 33780 | 11460 |
230104 | 19804 | 11460 |
23B104 | 47644 | 19804 |
230105 | 23 | 13020 |
230106 | 24340 | 34740 |
230119 | 19804 | 11460 |
230121 | 23 | 29620 | LUGAR
230130 | 47644 | 19804 |
230135 | 19804 | 11460 |
230142 | 19804 | 11460 |
230146 | 19804 | 11460 |
230151 | 47644 | 19804 |
230165 | 19804 | 11460 |
230174 | 26100 | 34740 |
230176 | 19804 | 11460 |
230195 | 47644 | 19804 |
230204 | 47644 | 19804 |
230207 | 47644 | 19804 |
230208 | 23 | 24340 | LUGAR
230222 | 23 | 13020 |
230223 | 47644 | 19804 |
230227 | 47644 | 19804 |
230236 | 24340 | 34740 |
230244 | 19804 | 11460 |
230254 | 47644 | 19804 |
230257 | 47644 | 19804 |
230264 | 47644 | 19804 |
230269 | 47644 | 19804 |
230270 | 19804 | 11460 |
230273 | 19804 | 11460 |
230277 | 47644 | 19804 |
230279 | 47644 | 22420 |
230301 | 47644 | 19804 |
240030 | 24 | 41060 |
240036 | 41060 | 33460 |
240064 | 24 | 20260 |
240069 | 24 | 33460 |
240071 | 24 | 33460 |
240075 | 24 | 41060 |
240088 | 24 | 41060 |
240093 | 24 | 33460 |
240187 | 24 | 33460 |
250002 | 25 | 22520 |
250004 | 25 | 32820 |
250006 | 25 | 32820 |
250009 | 25 | 27180 |
250023 | 25 | 25060 | LUGAR
250031 | 25 | 27140 |
250034 | 25 | 32820 |
250040 | 37700 | 25060 |
250042 | 25 | 32820 |
250044 | 25 | 22520 |
250069 | 25 | 46220 |
250078 | 25620 | 25060 |
250081 | 25 | 46220 |
250082 | 25 | 38220 |
250094 | 25620 | 25060 |
250097 | 25 | 12940 |
250099 | 25 | 27140 |
250100 | 25 | 46220 |
250104 | 25 | 46220 |
250117 | 25 | 25060 | LUGAR
260009 | 26 | 28140 |
260015 | 26 | 27860 |
260017 | 26 | 27620 |
260022 | 26 | 16 |
260025 | 26 | 41180 |
260050 | 26 | 41140 |
260064 | 26 | 17860 |
260074 | 26 | 17860 |
260094 | 26 | 44180 |
260110 | 26 | 44180 |
260113 | 26 | 14 |
260116 | 26 | 14 |
260119 | 26 | 27860 |
260175 | 26 | 28140 |
260183 | 26 | 41180 |
260186 | 26 | 44180 |
270003 | 27 | 24500 |
270014 | 33540 | 17660 |
270017 | 27 | 33540 |
270051 | 27 | 33540 |
280009 | 28 | 30700 |
280023 | 28 | 30700 |
280032 | 28 | 30700 |
280061 | 28 | 53 |
280065 | 28 | 24540 |
280125 | 28 | 43580 |
290002 | 29 | 16180 | LUGAR
290006 | 29 | 39900 |
290008 | 29 | 14260 |
290019 | 16180 | 39900 |
300001 | 30 | 31700 |
300011 | 31700 | 49340 |
300012 | 31700 | 49340 |
300017 | 40484 | 37764 |
300019 | 30 | 15764 |
300020 | 31700 | 49340 |
300023 | 40484 | 37764 |
300029 | 40484 | 37764 |
300034 | 31700 | 49340 |
310002 | 35084 | 35644 |
310009 | 35084 | 35644 |
310014 | 15804 | 37964 |
310015 | 35084 | 35644 |
310017 | 35084 | 35644 |
310018 | 35084 | 35644 |
310021 | 45940 | 35084 |
310022 | 15804 | 37964 |
310029 | 15804 | 37964 |
310031 | 15804 | 20764 |
310032 | 47220 | 48864 |
310038 | 20764 | 35644 |
310039 | 20764 | 35644 |
310048 | 20764 | 35084 |
310050 | 35084 | 35644 |
310054 | 35084 | 35644 |
310070 | 20764 | 35644 |
310076 | 35084 | 35644 |
310081 | 15804 | 37964 |
310083 | 35084 | 35644 |
310086 | 15804 | 37964 |
310093 | 35084 | 35644 |
310096 | 35084 | 35644 |
310108 | 20764 | 35644 |
310119 | 35084 | 35644 |
320003 | 32 | 42140 |
320005 | 22140 | 10740 |
320006 | 32 | 10740 |
320013 | 32 | 42140 |
320033 | 32 | 42140 | LUGAR
320063 | 32 | 36220 |
320065 | 32 | 36220 |
330004 | 28740 | 39100 |
330008 | 33 | 15380 | LUGAR
330023 | 39100 | 35644 |
330027 | 35004 | 35644 |
330049 | 39100 | 14860 |
330067 | 39100 | 14860 |
330073 | 33 | 40380 | LUGAR
330085 | 33 | 45060 |
330090 | 21300 | 27060 |
330094 | 33 | 38340 |
330103 | 33 | 39 |
330106 | 35004 | 35644 |
330126 | 39100 | 35644 |
330136 | 33 | 45060 |
330157 | 33 | 45060 |
330167 | 35004 | 35644 |
330181 | 35004 | 35644 |
330182 | 35004 | 35644 |
330191 | 24020 | 10580 |
330198 | 35004 | 35644 |
330224 | 28740 | 39100 |
330225 | 35004 | 35644 |
330229 | 33 | 21500 |
330235 | 33 | 45060 | LUGAR
330239 | 33 | 21500 |
330250 | 33 | 15540 |
330259 | 35004 | 35644 |
330277 | 33 | 27060 |
330331 | 35004 | 35644 |
330332 | 35004 | 35644 |
330372 | 35004 | 35644 |
330386 | 33 | 35084 |
340004 | 24660 | 49180 |
340008 | 34 | 22180 |
340010 | 24140 | 39580 |
340013 | 34 | 24860 |
340014 | 49180 | 24660 |
340015 | 34 | 16740 |
340021 | 34 | 16740 |
340023 | 11700 | 24860 |
340027 | 34 | 24780 |
340039 | 34 | 16740 |
340047 | 49180 | 24660 |
340050 | 34 | 22180 |
340051 | 34 | 25860 |
340068 | 34 | 34820 |
340069 | 39580 | 20500 |
340070 | 15500 | 24660 |
340071 | 34 | 39580 | LUGAR
340073 | 39580 | 20500 |
340091 | 24660 | 49180 |
340109 | 34 | 47260 |
340114 | 39580 | 20500 |
340115 | 34 | 20500 |
340126 | 34 | 39580 |
340127 | 34 | 20500 | LUGAR
340129 | 34 | 16740 |
340131 | 34 | 24780 |
340138 | 39580 | 20500 |
340144 | 34 | 16740 |
340145 | 34 | 16740 | LUGAR
340147 | 40580 | 39580 |
340148 | 49180 | 24660 |
340173 | 39580 | 20500 |
350003 | 35 | 13900 |
350006 | 35 | 13900 |
350009 | 35 | 22020 |
360008 | 36 | 26580 |
360010 | 36 | 10420 |
360011 | 36 | 18140 |
360013 | 36 | 30620 |
360014 | 36 | 18140 |
360019 | 10420 | 17460 |
360020 | 10420 | 17460 |
360025 | 41780 | 45780 |
360027 | 10420 | 17460 |
360036 | 36 | 17460 |
360039 | 36 | 18140 |
360054 | 36 | 26580 |
360065 | 36 | 17460 |
360078 | 10420 | 17460 |
360086 | 44220 | 19380 |
360095 | 36 | 45780 |
360096 | 36 | 49660 | LUGAR
360107 | 36 | 45780 |
360121 | 36 | 45780 |
360150 | 10420 | 17460 |
360159 | 36 | 18140 |
360175 | 36 | 18140 |
360185 | 36 | 49660 | LUGAR
360187 | 44220 | 19380 |
360197 | 36 | 18140 |
360211 | 48260 | 38300 |
360245 | 36 | 17460 | LUGAR
360253 | 19380 | 17140 |
370004 | 37 | 27900 |
370006 | 37 | 48620 |
370014 | 37 | 43300 |
370015 | 37 | 46140 |
370016 | 37 | 36420 |
370018 | 37 | 46140 |
370025 | 37 | 46140 |
370026 | 37 | 36420 |
370030 | 37 | 46140 |
370047 | 37 | 36420 |
370049 | 37 | 36420 |
370113 | 37 | 22220 |
370149 | 37 | 36420 |
380001 | 38 | 38900 |
380022 | 38 | 18700 | LUGAR
380027 | 38 | 21660 |
380050 | 38 | 32780 |
380051 | 41420 | 38900 |
380090 | 38 | 21660 |
390006 | 39 | 25420 |
390013 | 39 | 25420 |
390016 | 39 | 49660 |
390031 | 39 | 39740 | LUGAR
390044 | 39740 | 37964 |
390046 | 49620 | 29540 |
390048 | 39 | 25420 |
390065 | 39 | 13644 |
390066 | 30140 | 25420 |
390071 | 39 | 48700 | LUGAR
390079 | 39 | 13780 |
390086 | 39 | 27780 |
390091 | 39 | 49660 |
390093 | 39 | 49660 |
390096 | 39740 | 37964 |
390110 | 27780 | 38300 |
390113 | 39 | 49660 |
390138 | 39 | 25420 |
390150 | 39 | 38300 | LUGAR
390151 | 39 | 13644 |
390162 | 10900 | 35084 |
390163 | 38300 | 49660 |
390185 | 42540 | 10900 |
390313 | 39 | 39740 | LUGAR
410001 | 39300 | 14484 |
410004 | 39300 | 14484 |
410005 | 39300 | 14484 |
410007 | 39300 | 14484 |
410010 | 39300 | 14484 |
410011 | 39300 | 14484 |
410012 | 39300 | 14484 |
410013 | 39300 | 35980 |
420007 | 43900 | 24860 |
420009 | 42 | 24860 | LUGAR
420020 | 42 | 16700 |
420027 | 11340 | 24860 |
420030 | 42 | 16700 |
420036 | 42 | 16740 |
420039 | 42 | 43900 | LUGAR
420062 | 42 | 16740 |
420067 | 42 | 42340 |
420068 | 42 | 16700 |
420069 | 42 | 44940 | LUGAR
420070 | 44940 | 17900 |
420071 | 42 | 24860 |
420080 | 42 | 42340 |
420083 | 43900 | 24860 |
420085 | 34820 | 48900 |
420098 | 42 | 34820 |
430012 | 43 | 43620 |
430013 | 43 | 43620 |
430014 | 43 | 22020 |
430077 | 39660 | 16220 |
440002 | 27180 | 32820 |
440008 | 44 | 27180 |
440020 | 44 | 26620 |
440024 | 17420 | 16860 |
440025 | 44 | 34 |
440035 | 17300 | 34980 |
440056 | 34100 | 28940 |
440059 | 44 | 34980 |
440060 | 44 | 27180 |
440067 | 34100 | 28700 |
440068 | 44 | 16860 |
440072 | 44 | 32820 |
440073 | 44 | 34980 |
440144 | 44 | 34980 |
440148 | 44 | 34980 |
440151 | 44 | 34980 |
440185 | 17420 | 16860 |
440192 | 44 | 34980 |
450007 | 45 | 41700 |
450039 | 23104 | 19124 |
450064 | 23104 | 19124 |
450080 | 45 | 30980 |
450087 | 23104 | 19124 |
450099 | 45 | 11100 |
450133 | 33260 | 36220 |
450135 | 23104 | 19124 |
450137 | 23104 | 19124 |
450148 | 23104 | 19124 |
450178 | 45 | 36220 |
450187 | 45 | 26420 |
450196 | 45 | 19124 |
450211 | 45 | 30980 |
450214 | 45 | 26420 |
450224 | 45 | 46340 |
450283 | 45 | 19124 | LUGAR
450324 | 43300 | 19124 |
450347 | 45 | 26420 |
450351 | 45 | 23104 |
450389 | 45 | 19124 | LUGAR
450393 | 43300 | 19124 |
450395 | 45 | 26420 |
450419 | 23104 | 19124 |
450447 | 45 | 19124 |
450465 | 45 | 26420 |
450469 | 43300 | 19124 |
450484 | 45 | 30980 |
450508 | 45 | 30980 |
450547 | 45 | 19124 |
450563 | 23104 | 19124 |
450565 | 45 | 23104 |
450596 | 45 | 23104 |
450639 | 23104 | 19124 |
450656 | 45 | 30980 |
450672 | 23104 | 19124 |
450675 | 23104 | 19124 |
450677 | 23104 | 19124 |
450747 | 45 | 46340 |
450770 | 45 | 12420 | LUGAR
450779 | 23104 | 19124 |
450813 | 45 | 41700 |
450830 | 45 | 36220 |
450872 | 23104 | 19124 |
450880 | 23104 | 19124 |
450886 | 23104 | 19124 |
460004 | 36260 | 41620 |
460005 | 36260 | 41620 |
460007 | 46 | 41100 |
460021 | 41100 | 29820 |
460026 | 46 | 39340 |
460039 | 46 | 30860 |
460041 | 36260 | 41620 |
460042 | 36260 | 41620 |
470001 | 47 | 30 |
470012 | 47 | 38340 |
490004 | 25500 | 16820 |
490005 | 49020 | 47894 |
490013 | 49 | 20500 |
490018 | 49 | 16820 |
490019 | 49 | 47894 |
490040 | 47894 | 13644 |
490042 | 13980 | 40220 |
490043 | 47894 | 13644 |
490048 | 40220 | 31340 |
490063 | 47894 | 13644 |
490079 | 49 | 24660 |
490097 | 49 | 40060 |
490101 | 47894 | 13644 |
490107 | 47894 | 13644 |
490122 | 47894 | 13644 |
500002 | 50 | 28420 |
500003 | 34580 | 42644 |
500007 | 34580 | 42644 |
500016 | 48300 | 42644 |
500021 | 45104 | 42644 |
500031 | 50 | 36500 |
500039 | 14740 | 42644 |
500041 | 31020 | 38900 |
500072 | 50 | 14740 |
500079 | 45104 | 42644 |
500108 | 45104 | 42644 |
500129 | 45104 | 42644 |
510001 | 34060 | 38300 |
510002 | 51 | 40220 |
510006 | 51 | 34060 |
510018 | 51 | 16620 | LUGAR
510024 | 34060 | 38300 |
510046 | 51 | 13980 |
510047 | 51 | 38300 |
510050 | 48540 | 38300 |
510062 | 51 | 16620 |
510070 | 51 | 16620 |
510071 | 51 | 13980 |
510077 | 51 | 26580 |
520002 | 52 | 48140 |
520013 | 20740 | 33460 |
520021 | 29404 | 16974 |
520028 | 52 | 31540 | LUGAR
520037 | 52 | 48140 |
520059 | 39540 | 33340 |
520071 | 52 | 33340 | LUGAR
520076 | 52 | 31540 |
520096 | 39540 | 33340 |
520102 | 52 | 33340 | LUGAR
520107 | 52 | 22540 |
520113 | 52 | 24580 |
520116 | 52 | 33340 | LUGAR
520189 | 29404 | 16974 |
530014 | 16940 | 24540 |
530015 | 53 | 26820 |

Table 9C.—Hospitals Redesignated as Rural Under Section 1886(d)(8)(E) of the Act—FY 2009
Provider No. | Geographic CBSA | Redesignated rural area
050192 | 23420 | 05
050528 | 32900 | 05
050618 | 40140 | 05
100048 | 37860 | 10
100118 | 37380 | 10
100134 | 27260 | 10
140167 | 14 | 14
170137 | 29940 | 17
220051 | 38340 | 22
230078 | 35660 | 23
250017 | 25 | 25
260006 | 41140 | 26
260047 | 27620 | 26
260195 | 44180 | 26
330268 | 10580 | 33
360125 | 36 | 36
370054 | 36420 | 37
380040 | 13460 | 38
390130 | 27780 | 39
390183 | 39 | 39
440135 | 34980 | 44
450052 | 45 | 45
450078 | 10180 | 45
450243 | 10180 | 45
450348 | 45 | 45
490116 | 13980 | 49
500148 | 48300 | 50

Table 10.—Geometric Mean Plus the Lesser of .75 of the National Adjusted Operating Standardized Payment Amount (Increased To Reflect the Difference Between Costs and Charges) or .75 of One Standard Deviation of Mean Charges by Medicare Severity Diagnosis-Related Group (MS-DRG)—March 2008 ¹
MS-DRG | Number of cases | Threshold
1 | 655 | $345,754
2 | 287 | 202,892
3 | 23,338 | 258,756
4 | 21,431 | 156,815
5 | 634 | 172,190
6 | 228 | 95,919
7 | 356 | 167,452
8 | 482 | 96,343
9 | 1,345 | 104,341
10 | 163 | 77,500
11 | 1,266 | 77,654
12 | 1,909 | 55,617
13 | 1,274 | 39,624
20 | 887 | 149,490
21 | 532 | 115,973
22 | 212 | 81,500
23 | 3,741 | 88,473
24 | 2,103 | 62,851
25 | 8,713 | 82,504
26 | 11,796 | 56,523
27 | 13,711 | 44,491
28 | 1,670 | 80,242
29 | 3,085 | 50,231
30 | 3,425 | 32,616
31 | 1,024 | 67,618
32 | 2,785 | 38,809
33 | 3,621 | 31,322
34 | 764 | 60,605
35 | 2,238 | 44,518
36 | 6,915 | 38,592
37 | 4,842 | 55,045
38 | 14,152 | 35,529
39 | 51,945 | 25,865
40 | 4,769 | 62,151
41 | 7,588 | 41,971
42 | 4,869 | 36,094
52 | 1,167 | 32,407
53 | 593 | 22,313
54 | 5,257 | 31,973
55 | 16,334 | 26,860
56 | 8,269 | 29,873
57 | 47,422 | 19,707
58 | 742 | 29,625
59 | 2,761 | 22,941
60 | 4,080 | 17,346
61 | 1,591 | 55,734
62 | 2,466 | 44,297
63 | 1,327 | 38,685
64 | 55,842 | 35,590
65 | 105,150 | 28,434
66 | 89,467 | 21,616
67 | 1,406 | 31,006
68 | 11,458 | 23,218
69 | 102,005 | 18,938
70 | 7,347 | 34,967
71 | 9,531 | 27,718
72 | 5,746 | 20,092
73 | 9,230 | 28,411
74 | 31,583 | 21,471
75 | 1,240 | 35,756
76 | 874 | 23,183
77 | 1,214 | 34,334
78 | 1,405 | 25,703
79 | 931 | 19,435
80 | 1,870 | 26,205
81 | 7,158 | 17,937
82 | 1,764 | 36,630
83 | 2,056 | 30,149
84 | 2,784 | 22,390
85 | 5,896 | 37,019
86 | 11,488 | 27,925
87 | 13,005 | 19,836
88 | 712 | 31,870
89 | 2,740 | 23,572
90 | 3,094 | 17,953
91 | 7,628 | 30,627
92 | 16,286 | 22,388
93 | 16,162 | 17,182
94 | 1,476 | 57,294
95 | 1,034 | 44,072
96 | 761 | 37,723
97 | 1,195 | 56,725
98 | 1,007 | 38,018
99 | 642 | 30,539
100 | 17,058 | 30,273
101 | 57,248 | 19,211
102 | 1,086 | 24,512
103 | 13,854 | 16,849
113 | 527 | 33,475
114 | 562 | 20,755
115 | 1,060 | 26,332
116 | 566 | 26,098
117 | 1,140 | 16,472
121 | 549 | 22,487
122 | 623 | 14,246
123 | 2,789 | 18,857
124 | 753 | 25,197
125 | 4,693 | 16,936
129 | 1,359 | 40,771
130 | 1,074 | 29,912
131 | 933 | 39,603
132 | 889 | 28,315
133 | 1,988 | 32,709
134 | 3,379 | 21,267
135 | 353 | 36,814
136 | 474 | 24,169
137 | 775 | 29,030
138 | 891 | 18,731
139 | 1,498 | 20,992
146 | 680 | 36,795
147 | 1,369 | 27,392
148 | 860 | 20,935
149 | 38,942 | 16,006
150 | 955 | 25,517
151 | 6,839 | 13,767
152 | 1,735 | 21,825
153 | 11,517 | 15,282
154 | 1,906 | 28,847
155 | 4,498 | 21,959
156 | 4,851 | 16,219
157 | 1,048 | 29,382
158 | 3,229 | 21,572
159 | 2,376 | 15,149
163 | 13,622 | 83,366
164 | 17,895 | 50,966
165 | 13,816 | 40,520
166 | 20,575 | 60,767
167 | 20,538 | 42,190
168 | 5,478 | 32,296
175 | 12,686 | 34,823
176 | 41,375 | 26,341
177 | 63,876 | 38,177
178 | 71,036 | 31,805
179 | 26,205 | 25,015
180 | 22,369 | 34,979
181 | 30,299 | 28,647
182 | 5,485 | 22,812
183 | 1,858 | 32,624
184 | 4,329 | 23,386
185 | 2,521 | 16,595
186 | 9,254 | 33,122
187 | 10,047 | 27,117
188 | 5,031 | 20,564
189 | 113,197 | 30,640
190 | 58,935 | 28,961
191 | 118,443 | 24,100
192 | 185,468 | 18,078
193 | 87,659 | 30,876
194 | 254,760 | 24,785
195 | 134,022 | 18,110
196 | 5,396 | 32,914
197 | 6,822 | 27,198
198 | 4,650 | 20,752
199 | 3,215 | 34,978
200 | 8,396 | 25,022
201 | 3,475 | 17,803
202 | 29,397 | 20,216
203 | 37,161 | 14,886
204 | 25,777 | 17,542
205 | 5,872 | 27,528
206 | 21,625 | 18,717
207 | 39,614 | 87,097
208 | 76,655 | 43,557
215 | 143 | 173,781
216 | 8,640 | 168,323
217 | 7,240 | 124,423
218 | 2,557 | 104,181
219 | 10,538 | 136,802
220 | 13,938 | 99,436
221 | 7,039 | 87,477
222 | 2,772 | 156,334
223 | 5,081 | 119,825
224 | 1,912 | 145,014
225 | 5,074 | 113,498
226 | 7,067 | 118,743
227 | 42,758 | 93,475
228 | 2,975 | 132,326
229 | 3,599 | 95,382
230 | 1,568 | 80,590
231 | 1,445 | 149,264
232 | 1,516 | 114,499
233 | 16,267 | 125,690
234 | 34,348 | 93,360
235 | 9,634 | 99,860
236 | 30,093 | 73,812
237 | 22,441 | 88,481
238 | 42,307 | 57,831
239 | 13,331 | 62,725
240 | 11,688 | 43,263
241 | 2,679 | 32,205
242 | 17,530 | 66,838
243 | 36,091 | 52,897
244 | 62,665 | 44,466
245 | 3,943 | 73,686
246 | 28,838 | 67,069
247 | 188,816 | 48,746
248 | 13,859 | 60,786
249 | 70,027 | 44,038
250 | 6,790 | 59,714
251 | 41,777 | 41,857
252 | 45,667 | 51,697
253 | 44,988 | 46,446
254 | 53,543 | 37,335
255 | 2,525 | 40,724
256 | 3,453 | 31,694
257 | 707 | 23,510
258 | 688 | 53,299
259 | 7,314 | 38,081
260 | 1,553 | 56,280
261 | 3,525 | 31,484
262 | 3,531 | 25,624
263 | 656 | 30,621
264 | 28,327 | 41,945
265 | 1,959 | 42,694
280 | 63,744 | 37,477
281 | 53,825 | 29,595
282 | 54,438 | 22,672
283 | 14,927 | 32,787
284 | 4,145 | 24,166
285 | 2,811 | 16,215
286 | 23,714 | 42,608
287 | 158,325 | 29,592
288 | 2,964 | 50,314
289 | 1,357 | 37,277
290 | 480 | 31,429
291 | 188,057 | 30,477
292 | 205,085 | 23,997
293 | 197,247 | 17,506
294 | 1,417 | 22,037
295 | 1,346 | 14,125
296 | 1,917 | 28,779
297 | 793 | 17,798
298 | 603 | 12,266
299 | 17,830 | 29,028
300 | 44,700 | 21,461
301 | 37,174 | 15,572
302 | 7,607 | 24,792
303 | 70,815 | 14,928
304 | 2,098 | 25,698
305 | 35,311 | 15,266
306 | 1,521 | 29,058
307 | 6,371 | 18,574
308 | 35,795 | 28,398
309 | 79,510 | 20,681
310 | 158,993 | 14,833
311 | 21,229 | 13,279
312 | 166,359 | 18,189
313 | 212,358 | 14,841
314 | 61,733 | 32,156
315 | 30,052 | 24,173
316 | 18,076 | 16,573
326 | 11,247 | 90,510
327 | 10,467 | 52,332
328 | 8,878 | 34,042
329 | 48,192 | 83,718
330 | 63,720 | 49,785
331 | 28,246 | 37,251
332 | 1,828 | 76,442
333 | 5,926 | 48,536
334 | 3,736 | 36,301
335 | 7,186 | 70,724
336 | 12,464 | 45,785
337 | 8,586 | 34,468
338 | 1,501 | 60,013
339 | 3,167 | 42,250
340 | 3,566 | 31,529
341 | 882 | 45,033
342 | 2,548 | 33,808
343 | 6,990 | 24,135
344 | 933 | 54,766
345 | 2,919 | 36,119
346 | 2,766 | 28,030
347 | 1,628 | 40,240
348 | 4,174 | 30,100
349 | 5,178 | 19,260
350 | 1,760 | 42,667
351 | 4,293 | 30,824
352 | 8,211 | 20,507
353 | 3,172 | 47,221
354 | 8,433 | 33,349
355 | 15,386 | 23,911
356 | 8,357 | 61,777
357 | 7,827 | 42,844
358 | 2,484 | 32,598
368 | 3,570 | 34,021
369 | 5,250 | 26,848
370 | 3,562 | 20,098
371 | 24,424 | 34,233
372 | 27,117 | 28,743
373 | 15,293 | 20,505
374 | 9,082 | 35,802
375 | 19,032 | 28,329
376 | 4,321 | 22,907
377 | 51,664 | 32,372
378 | 110,502 | 24,239
379 | 92,325 | 18,668
380 | 3,027 | 35,357
381 | 5,304 | 27,876
382 | 4,499 | 21,070
383 | 1,227 | 29,549
384 | 8,101 | 21,207
385 | 1,998 | 34,976
386 | 7,139 | 26,903
387 | 5,041 | 20,238
388 | 18,589 | 31,113
389 | 45,899 | 23,260
390 | 46,538 | 16,397
391 | 44,419 | 26,016
392 | 282,973 | 17,753
393 | 23,327 | 30,889
394 | 45,966 | 23,957
395 | 24,872 | 17,482
405 | 3,972 | 86,374
406 | 5,304 | 52,360
407 | 2,120 | 39,348
408 | 1,549 | 71,677
409 | 1,737 | 50,663
410 | 601 | 36,877
411 | 957 | 69,221
412 | 961 | 51,066
413 | 760 | 39,922
414 | 5,248 | 62,853
415 | 6,133 | 43,331
416 | 5,338 | 32,604
417 | 16,454 | 49,649
418 | 27,098 | 39,258
419 | 35,942 | 29,790
420 | 768 | 66,342
421 | 1,057 | 39,447
422 | 331 | 31,257
423 | 1,545 | 71,874
424 | 897 | 47,509
425 | 126 | 32,981
432 | 15,201 | 33,045
433 | 9,723 | 23,926
434 | 898 | 17,085
435 | 12,164 | 34,878
436 | 13,203 | 28,443
437 | 3,911 | 25,366
438 | 14,096 | 33,587
439 | 24,418 | 26,852
440 | 25,766 | 18,781
441 | 13,382 | 31,516
442 | 14,214 | 24,098
443 | 6,593 | 17,782
444 | 12,947 | 33,108
445 | 16,870 | 27,464
446 | 16,037 | 19,832
453 | 950 | 165,424
454 | 1,778 | 121,032
455 | 1,988 | 93,297
456 | 947 | 144,023
457 | 2,416 | 98,535
458 | 1,617 | 82,249
459 | 3,516 | 97,638
460 | 52,310 | 66,514
461 | 1,018 | 82,048
462 | 13,179 | 63,047
463 | 5,060 | 60,604
464 | 5,853 | 43,476
465 | 2,416 | 31,714
466 | 4,073 | 74,467
467 | 14,326 | 57,869
468 | 21,140 | 49,618
469 | 30,544 | 59,370
470 | 405,849 | 44,493
471 | 2,288 | 77,861
472 | 7,009 | 52,304
473 | 23,109 | 42,971
474 | 2,925 | 51,927
475 | 3,287 | 37,186
476 | 1,595 | 25,620
477 | 2,589 | 58,272
478 | 8,575 | 45,067
479 | 11,457 | 35,879
480 | 26,755 | 53,624
481 | 72,188 | 40,303
482 | 48,187 | 34,632
483 | 7,107 | 47,684
484 | 17,896 | 40,860
485 | 1,183 | 60,074
486 | 2,189 | 44,942
487 | 1,312 | 36,049
488 | 2,501 | 35,530
489 | 5,791 | 27,889
490 | 23,080 | 37,310
491 | 52,938 | 23,744
492 | 5,221 | 51,439
493 | 16,933 | 38,816
494 | 29,231 | 29,960
495 | 1,974 | 52,628
496 | 5,569 | 37,148
497 | 6,672 | 28,169
498 | 1,167 | 38,115
499 | 1,113 | 22,378
500 | 1,503 | 47,316
501 | 3,878 | 32,847
502 | 6,482 | 23,489
503 | 833 | 42,531
504 | 2,172 | 32,702
505 | 3,036 | 24,287
506 | 815 | 25,704
507 | 838 | 37,099
508 | 2,506 | 27,713
509 | 627 | 28,236
510 | 974 | 40,828
511 | 3,932 | 32,904
512 | 11,002 | 23,803
513 | 1,053 | 30,121
514 | 1,014 | 20,124
515 | 3,820 | 54,024
516 | 11,287 | 39,608
517 | 17,603 | 32,537
533 | 825 | 27,647
534 | 3,414 | 16,259
535 | 7,007 | 27,756
536 | 33,727 | 15,479
537 | 667 | 21,443
538 | 1,059 | 13,756
539 | 3,448 | 35,081
540 | 4,046 | 28,706
541 | 1,658 | 21,628
542 | 5,723 | 34,804
543 | 17,041 | 26,766
544 | 10,817 | 18,081
545 | 4,093 | 36,357
546 | 5,587 | 26,110
547 | 4,571 | 17,948
548 | 585 | 33,933
549 | 1,120 | 26,761
550 | 865 | 18,763
551 | 10,077 | 30,882
552 | 85,429 | 18,705
553 | 3,084 | 25,449
554 | 19,284 | 15,035
555 | 2,025 | 23,819
556 | 18,715 | 14,407
557 | 3,658 | 29,996
558 | 15,153 | 19,455
559 | 1,816 | 30,350
560 | 4,334 | 21,234
561 | 7,125 | 13,644
562 | 5,476 | 28,172
563 | 36,406 | 15,527
564 | 1,667 | 28,585
565 | 3,334 | 21,320
566 | 2,646 | 16,029
573 | 5,490 | 45,601
574 | 11,156 | 34,288
575 | 5,477 | 25,545
576 | 549 | 51,383
577 | 2,233 | 32,911
578 | 3,065 | 24,256
579 | 3,521 | 45,095
580 | 10,746 | 31,153
581 | 12,188 | 22,362
582 | 5,347 | 24,362
583 | 8,780 | 19,177
584 | 670 | 31,432
585 | 1,499 | 20,658
592 | 4,197 | 31,149
593 | 12,368 | 23,904
594 | 2,786 | 17,143
595 | 1,119 | 31,375
596 | 5,334 | 19,449
597 | 465 | 30,971
598 | 1,413 | 25,450
599 | 321 | 18,124
600 | 686 | 22,523
601 | 893 | 15,565
602 | 22,195 | 28,410
603 | 130,827 | 18,332
604 | 2,679 | 26,853
605 | 22,207 | 16,438
606 | 1,358 | 25,667
607 | 7,223 | 15,152
614 | 1,460 | 47,701
615 | 1,550 | 34,632
616 | 1,091 | 65,719
617 | 6,743 | 38,652
618 | 262 | 29,334
619 | 696 | 56,060
620 | 2,183 | 41,545
621 | 7,840 | 34,898
622 | 1,113 | 43,197
623 | 3,081 | 34,355
624 | 387 | 24,651
625 | 1,276 | 41,939
626 | 2,544 | 28,873
627 | 14,040 | 19,271
628 | 3,371 | 53,828
629 | 4,183 | 42,434
630 | 539 | 33,189
637 | 17,173 | 28,050
638 | 42,846 | 19,293
639 | 38,599 | 13,546
640 | 61,027 | 25,018
641 | 202,068 | 16,467
642 | 1,522 | 23,787
643 | 5,194 | 31,972
644 | 11,834 | 25,437
645 | 8,221 | 17,977
652 | 10,083 | 61,353
653 | 1,697 | 89,458
654 | 3,458 | 56,337
655 | 1,633 | 42,874
656 | 3,922 | 58,696
657 | 7,428 | 41,203
658 | 8,291 | 33,644
659 | 4,668 | 53,703
660 | 7,609 | 38,883
661 | 4,273 | 31,713
662 | 952 | 45,713
663 | 2,064 | 31,902
664 | 4,406 | 24,778
665 | 656 | 47,408
666 | 2,094 | 32,797
667 | 3,632 | 20,211
668 | 3,838 | 42,144
669 | 12,767 | 30,048
670 | 11,721 | 19,264
671 | 809 | 31,091
672 | 945 | 19,988
673 | 12,591 | 45,199
674 | 11,735 | 41,821
675 | 7,841 | 34,014
682 | 82,356 | 31,292
683 | 132,588 | 26,544
684 | 45,085 | 17,817
685 | 2,328 | 19,847
686 | 1,603 | 31,947
687 | 3,266 | 26,251
688 | 1,084 | 18,135
689 | 56,256 | 27,047
690 | 198,999 | 18,127
691 | 819 | 33,914
692 | 492 | 26,929
693 | 2,431 | 28,697
694 | 18,046 | 18,013
695 | 981 | 25,865
696 | 10,563 | 15,132
697 | 594 | 17,528
698 | 23,391 | 29,470
699 | 24,279 | 23,424
700 | 12,340 | 16,877
707 | 5,984 | 37,222
708 | 18,084 | 30,416
709 | 765 | 35,528
710 | 1,845 | 29,560
711 | 792 | 37,675
712 | 710 | 20,316
713 | 10,272 | 26,996
714 | 28,875 | 15,559
715 | 532 | 36,052
716 | 1,275 | 29,420
717 | 705 | 34,114
718 | 589 | 19,293
722 | 754 | 30,816
723 | 1,970 | 24,740
724 | 586 | 15,657
725 | 759 | 24,606
726 | 3,733 | 16,368
727 | 1,300 | 27,843
728 | 6,194 | 17,130
729 | 592 | 25,442
730 | 471 | 14,723
734 | 1,364 | 44,272
735 | 1,133 | 28,372
736 | 856 | 73,117
737 | 3,302 | 41,614
738 | 866 | 28,882
739 | 1,015 | 53,269
740 | 4,338 | 34,448
741 | 6,033 | 24,839
742 | 10,977 | 31,971
743 | 32,430 | 21,234
744 | 1,527 | 30,774
745 | 1,700 | 20,207
746 | 2,643 | 30,028
747 | 10,434 | 21,235
748 | 19,915 | 20,564
749 | 982 | 45,119
750 | 437 | 24,771
754 | 986 | 33,562
755 | 2,954 | 25,879
756 | 687 | 16,172
757 | 1,398 | 32,870
758 | 1,612 | 26,363
759 | 1,244 | 19,100
760 | 1,708 | 19,562
761 | 1,773 | 13,249
765 | 2,773 | 20,365
766 | 2,692 | 13,836
767 | 133 | 18,724
769 | 98 | 28,990
770 | 203 | 16,249
774 | 1,517 | 12,327
775 | 5,784 | 8,750
776 | 513 | 15,047
777 | 209 | 20,244
778 | 475 | 8,942
779 | 112 | 11,223
780 | 41 | 3,917
781 | 3,040 | 13,218
782 | 175 | 8,623
799 | 566 | 82,467
800 | 705 | 50,685
801 | 556 | 37,382
802 | 764 | 53,613
803 | 1,071 | 36,134
804 | 995 | 27,223
808 | 6,092 | 37,130
809 | 12,879 | 27,509
810 | 2,801 | 22,786
811 | 21,482 | 26,846
812 | 90,369 | 18,397
813 | 14,238 | 27,095
814 | 1,564 | 30,406
815 | 3,315 | 25,805
816 | 2,154 | 18,432
820 | 1,301 | 89,835
821 | 2,478 | 43,777
822 | 1,894 | 30,581
823 | 2,182 | 69,584
824 | 2,976 | 44,341
825 | 1,756 | 30,652
826 | 524 | 76,715
827 | 1,256 | 44,122
828 | 802 | 32,076
829 | 1,175 | 47,921
830 | 524 | 28,158
834 | 4,031 | 58,295
835 | 2,707 | 37,287
836 | 1,623 | 25,573
837 | 1,044 | 96,925
838 | 1,321 | 47,431
839 | 1,466 | 30,443
840 | 9,683 | 43,346
841 | 10,060 | 32,240
842 | 5,341 | 25,445
843 | 1,354 | 34,538
844 | 2,414 | 27,673
845 | 811 | 21,496
846 | 2,117 | 38,966
847 | 23,925 | 26,844
848 | 1,725 | 23,146
849 | 1,478 | 29,110
853 | 34,961 | 80,838
854 | 6,662 | 52,593
855 | 459 | 38,661
856 | 5,904 | 65,124
857 | 9,631 | 37,513
858 | 3,258 | 30,272
862 | 7,955 | 34,329
863 | 21,482 | 22,129
864 | 19,034 | 20,781
865 | 1,707 | 29,217
866 | 8,201 | 17,149
867 | 5,076 | 38,916
868 | 2,659 | 25,425
869 | 1,139 | 18,507
870 | 21,356 | 94,830
871 | 216,894 | 35,333
872 | 91,026 | 27,030
876 | 860 | 42,167
880 | 9,304 | 15,133
881 | 4,658 | 12,046
882 | 1,558 | 12,634
883 | 758 | 17,971
884 | 19,126 | 19,197
885 | 81,314 | 15,242
886 | 407 | 13,905
887 | 399 | 16,694
894 | 4,798 | 7,599
895 | 10,278 | 12,773
896 | 5,570 | 26,933
897 | 38,298 | 13,086
901 | 926 | 54,456
902 | 2,036 | 33,188
903 | 1,508 | 23,579
904 | 1,047 | 43,056
905 | 812 | 26,185
906 | 716 | 24,257
907 | 8,469 | 56,134
908 | 8,340 | 36,960
909 | 5,470 | 27,977
913 | 807 | 27,237
914 | 6,655 | 16,360
915 | 1,080 | 26,134
916 | 5,527 | 10,518
917 | 15,818 | 29,720
918 | 35,758 | 14,390
919 | 11,106 | 30,394
920 | 14,005 | 22,313
921 | 9,462 | 14,923
922 | 1,055 | 28,288
923 | 3,976 | 15,419
927 | 213 | 182,484
928 | 819 | 65,145
929 | 440 | 37,218
933 | 145 | 31,568
934 | 663 | 24,756
935 | 2,220 | 22,937
939 | 673 | 46,257
940 | 1,322 | 33,961
941 | 1,720 | 26,932
945 | 6,687 | 20,290
946 | 4,359 | 15,730
947 | 9,751 | 24,756
948 | 47,916 | 15,920
949 | 682 | 18,328
950 | 420 | 12,682
951 | 951 | 15,279
955 | 449 | 87,860
956 | 3,984 | 57,503
957 | 1,325 | 101,860
958 | 1,156 | 67,071
959 | 295 | 47,759
963 | 1,592 | 50,127
964 | 2,581 | 34,357
965 | 1,077 | 25,020
969 | 644 | 78,213
970 | 138 | 45,746
974 | 5,952 | 41,989
975 | 4,710 | 29,607
976 | 2,654 | 22,430
977 | 4,633 | 25,054
981 | 25,506 | 78,693
982 | 18,355 | 55,049
983 | 6,144 | 40,105
984 | 671 | 59,501
985 | 904 | 42,990
986 | 732 | 29,607
987 | 8,256 | 55,744
988 | 11,611 | 37,995
989 | 5,817 | 27,744
999 | 26 | 15,387
¹ Cases taken from the FY 2007 MedPAR file; MS-DRGs are from GROUPER Version 26.0.

Table 11.—Proposed FY 2009 MS-LTC-DRGS, Proposed Relative Weights, Proposed Geometric Average Length of Stay, and Proposed Short-Stay Outlier Threshold
Proposed MS-LTC-DRG | Proposed base MS-LTC-DRG | Proposed MS-LTC-DRG title | FY 2007 LTCH cases | Proposed relative weight | Proposed geometric average length of stay | Proposed short-stay outlier (SSO) threshold ¹
1 | 1 | Heart transplant or implant of heart assist system w MCC | 0 | 0.0000 | 0.0 | 0.0
2 | 1 | Heart transplant or implant of heart assist system w/o MCC | 0 | 0.0000 | 0.0 | 0.0
3 | 3 | ECMO or trach w MV 96+ hrs or PDX exc face, mouth & neck w maj O.R. | 286 | 4.5889 | 66.5 | 55.4
4 | 4 | Trach w MV 96+ hrs or PDX exc face, mouth & neck w/o maj O.R. | 1,201 | 2.9992 | 44.4 | 37.0
5 | 5 | Liver transplant w MCC or intestinal transplant | 0 | 0.0000 | 0.0 | 0.0
6 | 5 | Liver transplant w/o MCC | 0 | 0.0000 | 0.0 | 0.0
7 | 7 | Lung transplant | 0 | 0.0000 | 0.0 | 0.0
8 | 8 | Simultaneous pancreas/kidney transplant | 0 | 0.0000 | 0.0 | 0.0
9 | 9 | Bone marrow transplant | 0 | 1.2617 | 31.5 | 26.3
10 | 10 | Pancreas transplant | 0 | 0.0000 | 0.0 | 0.0
11 | 11 | Tracheostomy for face, mouth & neck diagnoses w MCC | 1 | 1.7509 | 37.9 | 31.6
12 | 11 | Tracheostomy for face, mouth & neck diagnoses w CC | 1 | 1.7509 | 37.9 | 31.6
13 | 11 | Tracheostomy for face, mouth & neck diagnoses w/o CC/MCC | 0 | 1.7509 | 37.9 | 31.6
20 | 20 | Intracranial vascular procedures w PDX hemorrhage w MCC | 0 | 1.7509 | 37.9 | 31.6
21 | 20 | Intracranial vascular procedures w PDX hemorrhage w CC | 0 | 1.7509 | 37.9 | 31.6
22 | 20 | Intracranial vascular procedures w PDX hemorrhage w/o CC/MCC | 0 | 1.7509 | 37.9 | 31.6
23 | 23 | Craniotomy w major device implant or acute complex CNS PDX w MCC* | 2 | 1.2617 | 31.5 | 26.3
24 | 23 | Craniotomy w major device implant or acute complex CNS PDX w/o MCC* | 1 | 1.2617 | 31.5 | 26.3
25 | 25 | Craniotomy & endovascular intracranial procedures w MCC | 1 | 1.7509 | 37.9 | 31.6
26 | 25 | Craniotomy & endovascular intracranial procedures w CC | 3 | 1.7509 | 37.9 | 31.6
27 | 25 | Craniotomy & endovascular intracranial procedures w/o CC/MCC | 1 | 0.8596 | 25.2 | 21.0
28 | 28 | Spinal procedures w MCC | 11 | 1.2617 | 31.5 | 26.3
29 | 28 | Spinal procedures w CC | 9 | 1.2617 | 31.5 | 26.3
30 | 28 | Spinal procedures w/o CC/MCC | 1 | 1.2617 | 31.5 | 26.3
31 | 31 | Ventricular shunt procedures w MCC | 5 | 1.7509 | 37.9 | 31.6
32 | 31 | Ventricular shunt procedures w CC | 1 | 1.7509 | 37.9 | 31.6
33 | 31 | Ventricular shunt procedures w/o CC/MCC | 0 | 1.7509 | 37.9 | 31.6
34 | 34 | Carotid artery stent procedure w MCC | 0 | 1.2617 | 31.5 | 26.3
35 | 34 | Carotid artery stent procedurew CC | 0 | 1.2617 | 31.5 | 26.3
36 | 34 | Carotid artery stent procedure w/o CC/MCC | 0 | 1.2617 | 31.5 | 26.3
37 | 37 | Extracranial procedures w MCC | 7 | 1.2617 | 31.5 | 26.3
38 | 37 | Extracranial procedures w CC* | 6 | 1.2617 | 31.5 | 26.3
39 | 37 | Extracranial procedures w/o CC/MCC | 0 | 1.2617 | 31.5 | 26.3
40 | 40 | Periph & cranial nerve & other nerv syst proc w MCC | 143 | 1.2451 | 34.8 | 29.0
41 | 40 | Periph & cranial nerve & other nerv syst proc w CC | 87 | 1.0890 | 34.5 | 28.8
42 | 40 | Periph & cranial nerve & other nerv syst proc w/o CC/MCC* | 6 | 1.0890 | 34.5 | 28.8
52 | 52 | Spinal disorders & injuries w CC/MCC | 83 | 0.9943 | 31.3 | 26.1
53 | 52 | Spinal disorders & injuries w/o CC/MCC | 7 | 0.8596 | 25.2 | 21.0
54 | 54 | Nervous system neoplasms w MCC | 31 | 1.0109 | 26.7 | 22.3
55 | 54 | Nervous system neoplasms w/o MCC | 50 | 0.6542 | 21.6 | 18.0
56 | 56 | Degenerative nervous system disorders w MCC | 1,180 | 0.8022 | 25.3 | 21.1
57 | 56 | Degenerative nervous system disorders w/o MCC | 1,945 | 0.6033 | 24.0 | 20.0
58 | 58 | Multiple sclerosis & cerebellar ataxia w MCC | 19 | 0.8596 | 25.2 | 21.0
59 | 58 | Multiple sclerosis & cerebellar ataxia w CC | 23 | 0.6327 | 21.6 | 18.0
60 | 58 | Multiple sclerosis & cerebellar ataxia w/o CC/MCC | 10 | 0.6327 | 21.6 | 18.0
61 | 61 | Acute ischemic stroke w use of thrombolytic agent w MCC | 0 | 0.8823 | 23.5 | 19.6
62 | 61 | Acute ischemic stroke w use of thrombolytic agent w CC | 0 | 0.5770 | 22.8 | 19.0
63 | 61 | Acute ischemic stroke w use of thrombolytic agent w/o CC/MCC | 0 | 0.4824 | 19.6 | 16.3
64 | 64 | Intracranial hemorrhage or cerebral infarction w MCC | 107 | 0.7831 | 24.5 | 20.4
65 | 64 | Intracranial hemorrhage or cerebral infarction w CC | 67 | 0.6217 | 24.0 | 20.0
66 | 64 | Intracranial hemorrhage or cerebral infarction w/o CC/MCC | 24 | 0.4824 | 19.6 | 16.3
67 | 67 | Nonspecific cva & precerebral occlusion w/o infarct w MCC | 4 | 0.4824 | 19.6 | 16.3
68 | 67 | Nonspecific cva & precerebral occlusion w/o infarct w/o MCC | 4 | 0.4824 | 19.6 | 16.3
69 | 69 | Transient ischemia | 13 | 0.4824 | 19.6 | 16.3
70 | 70 | Nonspecific cerebrovascular disorders w MCC | 87 | 0.8823 | 23.5 | 19.6
71 | 70 | Nonspecific cerebrovascular disorders w CC | 52 | 0.5770 | 22.8 | 19.0
72 | 70 | Nonspecific cerebrovascular disorders w/o CC/MCC | 8 | 0.4824 | 19.6 | 16.3
73 | 73 | Cranial & peripheral nerve disorders w MCC | 116 | 0.8910 | 24.6 | 20.5
74 | 73 | Cranial & peripheral nerve disorders w/o MCC | 173 | 0.6057 | 23.1 | 19.3
75 | 75 | Viral meningitis w CC/MCC | 15 | 0.6327 | 21.6 | 18.0
76 | 75 | Viral meningitis w/o CC/MCC | 0 | 0.6327 | 21.6 | 18.0
77 | 77 | Hypertensive encephalopathy w MCC | 4 | 1.2617 | 31.5 | 26.3
78 | 77 | Hypertensive encephalopathy w CC | 1 | 0.6327 | 21.6 | 18.0
79 | 77 | Hypertensive encephalopathy w/o CC/MCC | 1 | 0.4824 | 19.6 | 16.3
80 | 80 | Nontraumatic stupor & coma w MCC | 47 | 0.7859 | 29.2 | 24.3
81 | 80 | Nontraumatic stupor & coma w/o MCC | 110 | 0.7028 | 28.2 | 23.5
82 | 82 | Traumatic stupor & coma, coma >1 hr w MCC | 9 | 0.8596 | 25.2 | 21.0
83 | 82 | Traumatic stupor & coma, coma >1 hr w CC | 12 | 0.6327 | 21.6 | 18.0
84 | 82 | Traumatic stupor & coma, coma >1 hr w/o CC/MCC | 3 | 0.6327 | 21.6 | 18.0
85 | 85 | Traumatic stupor & coma, coma <1 hr w MCC | 78 | 0.8652 | 26.1 | 21.8
86 | 85 | Traumatic stupor & coma, coma <1 hr w CC | 81 | 0.6630 | 24.1 | 20.1
87 | 85 | Traumatic stupor & coma, coma <1 hr w/o CC/MCC | 15 | 0.4824 | 19.6 | 16.3
88 | 88 | Concussion w MCC | 0 | 0.4824 | 19.6 | 16.3
89 | 88 | Concussion w CC | 1 | 0.4824 | 19.6 | 16.3
90 | 88 | Concussion w/o CC/MCC | 0 | 0.4824 | 19.6 | 16.3
91 | 91 | Other disorders of nervous system w MCC | 218 | 0.9248 | 25.9 | 21.6
92 | 91 | Other disorders of nervous system w CC | 138 | 0.6661 | 25.0 | 20.8
93 | 91 | Other disorders of nervous system w/o CC/MCC | 43 | 0.6046 | 22.0 | 18.3
94 | 94 | Bacterial & tuberculous infections of nervous system w MCC | 203 | 1.0466 | 29.2 | 24.3
95 | 94 | Bacterial & tuberculous infections of nervous system w CC | 106 | 0.9763 | 28.9 | 24.1
96 | 94 | Bacterial & tuberculous infections of nervous system w/o CC/MCC | 31 | 0.7559 | 27.6 | 23.0
97 | 97 | Non-bacterial infect of nervous sys exc viral meningitis w MCC | 48 | 1.0415 | 26.0 | 21.7
98 | 97 | Non-bacterial infect of nervous sys exc viral meningitis w CC | 22 | 0.8596 | 25.2 | 21.0
99 | 97 | Non-bacterial infect of nervous sys exc viral meningitis w/o CC/MCC | 6 | 0.6327 | 21.6 | 18.0
100 | 100 | Seizures w MCC | 47 | 0.6380 | 21.8 | 18.2
101 | 100 | Seizures w/o MCC | 55 | 0.6132 | 25.4 | 21.2
102 | 102 | Headaches w MCC | 9 | 0.6327 | 21.6 | 18.0
103 | 102 | Headaches w/o MCC | 4 | 0.6327 | 21.6 | 18.0
113 | 113 | Orbital procedures w CC/MCC | 1 | 0.8596 | 25.2 | 21.0
114 | 113 | Orbital procedures w/o CC/MCC | 0 | 0.8596 | 25.2 | 21.0
115 | 115 | Extraocular procedures except orbit | 0 | 0.4824 | 19.6 | 16.3
116 | 116 | Intraocular procedures w CC/MCC | 1 | 0.8596 | 25.2 | 21.0
117 | 116 | Intraocular procedures w/o CC/MCC | 0 | 0.4824 | 19.6 | 16.3
121 | 121 | Acute major eye infections w CC/MCC | 10 | 0.6327 | 21.6 | 18.0
122 | 121 | Acute major eye infections w/o CC/MCC | 1 | 0.6327 | 21.6 | 18.0
123 | 123 | Neurological eye disorders | 0 | 0.4824 | 19.6 | 16.3
124 | 124 | Other disorders of the eye w MCC | 2 | 0.6327 | 21.6 | 18.0
125 | 124 | Other disorders of the eye w/o MCC | 8 | 0.4824 | 19.6 | 16.3
129 | 129 | Major head & neck procedures w CC/MCC or major device | 0 | 1.3344 | 30.2 | 25.2
130 | 129 | Major head & neck procedures w/o CC/MCC | 0 | 0.4824 | 19.6 | 16.3
131 | 131 | Cranial/facial procedures w CC/MCC | 0 | 1.7509 | 37.9 | 31.6
132 | 131 | Cranial/facial procedures w/o CC/MCC | 1 | 1.7509 | 37.9 | 31.6
133 | 133 | Other ear, nose, mouth & throat O.R. procedures w CC/MCC | 10 | 1.2617 | 31.5 | 26.3
134 | 133 | Other ear, nose, mouth & throat O.R. procedures w/o CC/MCC | 0 | 1.2617 | 31.5 | 26.3
135 | 135 | Sinus & mastoid procedures w CC/MCC | 2 | 0.4824 | 19.6 | 16.3
136 | 135 | Sinus & mastoid procedures w/o CC/MCC* | 1 | 0.4824 | 19.6 | 16.3
137 | 137 | Mouth procedures w CC/MCC | 1 | 1.7509 | 37.9 | 31.6
138 | 137 | Mouth procedures w/o CC/MCC | 0 | 1.7509 | 37.9 | 31.6
139 | 139 | Salivary gland procedures | 0 | 1.7509 | 37.9 | 31.6
146 | 146 | Ear, nose, mouth & throat malignancy w MCC | 40 | 1.3344 | 30.2 | 25.2
147 | 146 | Ear, nose, mouth & throat malignancy w CC | 26 | 0.9930 | 22.4 | 18.7
148 | 146 | Ear, nose, mouth & throat malignancy w/o CC/MCC | 6 | 0.4824 | 19.6 | 16.3
149 | 149 | Dysequilibrium | 11 | 0.4824 | 19.6 | 16.3
150 | 150 | Epistaxis w MCC | 0 | 0.8596 | 25.2 | 21.0
151 | 150 | Epistaxis w/o MCC | 0 | 0.6327 | 21.6 | 18.0
152 | 152 | Otitis media & URI w MCC | 9 | 0.8596 | 25.2 | 21.0
153 | 152 | Otitis media & URI w/o MCC | 23 | 0.6327 | 21.6 | 18.0
154 | 154 | Nasal trauma & deformity w MCC | 50 | 0.7707 | 22.0 | 18.3
155 | 154 | Nasal trauma & deformity w CC | 47 | 0.7011 | 21.1 | 17.6
156 | 154 | Nasal trauma & deformity w/o CC/MCC | 13 | 0.6327 | 21.6 | 18.0
157 | 157 | Dental & Oral Diseases w MCC | 12 | 0.6327 | 21.6 | 18.0
158 | 157 | Dental & Oral Diseases w CC | 21 | 0.6327 | 21.6 | 18.0
159 | 157 | Dental & Oral Diseases w/o CC/MCC | 5 | 0.4824 | 19.6 | 16.3
163 | 163 | Major chest procedures w MCC | 45 | 2.5063 | 33.5 | 27.9
164 | 163 | Major chest procedures w CC | 6 | 1.2617 | 31.5 | 26.3
165 | 163 | Major chest procedures w/o CC/MCC | 1 | 0.8596 | 25.2 | 21.0
166 | 166 | Other resp system O.R. procedures w MCC | 1,506 | 2.4992 | 41.8 | 34.8
167 | 166 | Other resp system O.R. procedures w CC | 211 | 1.8587 | 36.2 | 30.2
168 | 166 | Other resp system O.R. procedures w/o CC/MCC | 8 | 0.8596 | 25.2 | 21.0
175 | 175 | Pulmonary embolism w MCC | 128 | 0.6640 | 21.9 | 18.3
176 | 175 | Pulmonary embolism w/o MCC | 139 | 0.5479 | 20.0 | 16.7
177 | 177 | Respiratory infections & inflammations w MCC | 3,181 | 0.8784 | 22.8 | 19.0
178 | 177 | Respiratory infections & inflammations w CC | 2,334 | 0.7414 | 22.1 | 18.4
179 | 177 | Respiratory infections & inflammations w/o CC/MCC | 394 | 0.6225 | 19.4 | 16.2
180 | 180 | Respiratory neoplasms w MCC | 149 | 0.7975 | 20.9 | 17.4
181 | 180 | Respiratory neoplasms w CC | 109 | 0.6255 | 18.7 | 15.6
182 | 180 | Respiratory neoplasms w/o CC/MCC* | 11 | 0.6255 | 18.7 | 15.6
183 | 183 | Major chest trauma w MCC | 1 | 0.4824 | 19.6 | 16.3
184 | 183 | Major chest trauma w CC | 2 | 0.4824 | 19.6 | 16.3
185 | 183 | Major chest trauma w/o CC/MCC | 1 | 0.4824 | 19.6 | 16.3
186 | 186 | Pleural effusion w MCC | 121 | 0.7576 | 20.5 | 17.1
187 | 186 | Pleural effusion w CC | 60 | 0.6176 | 20.5 | 17.1
188 | 186 | Pleural effusion w/o CC/MCC* | 15 | 0.6176 | 20.5 | 17.1
189 | 189 | Pulmonary edema & respiratory failure | 6,586 | 0.9608 | 23.9 | 19.9
190 | 190 | Chronic obstructive pulmonary disease w MCC | 1,652 | 0.7477 | 20.5 | 17.1
191 | 190 | Chronic obstructive pulmonary disease w CC | 1,343 | 0.6220 | 19.4 | 16.2
192 | 190 | Chronic obstructive pulmonary disease w/o CC/MCC | 764 | 0.5358 | 17.3 | 14.4
193 | 193 | Simple pneumonia & pleurisy w MCC | 1,805 | 0.7698 | 21.6 | 18.0
194 | 193 | Simple pneumonia & pleurisy w CC | 2,026 | 0.6368 | 20.1 | 16.8
195 | 193 | Simple pneumonia & pleurisy w/o CC/MCC | 382 | 0.5374 | 17.4 | 14.5
196 | 196 | Interstitial lung disease w MCC | 110 | 0.7122 | 20.1 | 16.8
197 | 196 | Interstitial lung disease w CC | 85 | 0.5716 | 17.6 | 14.7
198 | 196 | Interstitial lung disease w/o CC/MCC | 40 | 0.5059 | 15.9 | 13.3
199 | 199 | Pneumothorax w MCC | 49 | 0.7639 | 21.8 | 18.2
200 | 199 | Pneumothorax w CC | 32 | 0.5906 | 17.8 | 14.8
201 | 199 | Pneumothorax w/o CC/MCC | 5 | 0.4824 | 19.6 | 16.3
202 | 202 | Bronchitis & asthma w CC/MCC | 88 | 0.6509 | 19.6 | 16.3
203 | 202 | Bronchitis & asthma w/o CC/MCC | 21 | 0.6327 | 21.6 | 18.0
204 | 204 | Respiratory signs & symptoms | 233 | 0.8315 | 22.8 | 19.0
205 | 205 | Other respiratory system diagnoses w MCC | 324 | 0.8236 | 22.3 | 18.6
206 | 205 | Other respiratory system diagnoses w/o MCC | 171 | 0.7182 | 21.5 | 17.9
207 | 207 | Respiratory system diagnosis w ventilator support 96+ hours | 13,186 | 2.0793 | 34.5 | 28.8
208 | 208 | Respiratory system diagnosis w ventilator support <96 hours | 1,452 | 1.1752 | 23.6 | 19.7
215 | 215 | Other heart assist system implant | 0 | 0.8596 | 25.2 | 21.0
216 | 216 | Cardiac valve & oth maj cardiothoracic proc w card cath w MMCC | 0 | 1.2617 | 31.5 | 26.3
217 | 216 | Cardiac valve & oth maj cardiothoracic proc w card cath w MCC | 0 | 0.8596 | 25.2 | 21.0
218 | 216 | Cardiac valve & oth maj cardiothoracic proc w card cath w/o CC/MMCC | 0 | 0.8596 | 25.2 | 21.0
219 | 219 | Cardiac valve & oth maj cardiothoracic proc w/o card cath w MMCC | 0 | 1.2617 | 31.5 | 26.3
220 | 219 | Cardiac valve & oth maj cardiothoracic proc w/o card cath w MCC | 0 | 0.8596 | 25.2 | 21.0
221 | 219 | Cardiac valve & oth maj cardiothoracic proc w/o card cath w/o CC/MCC | 0 | 0.8596 | 25.2 | 21.0
222 | 222 | Cardiac defib implant w cardiac cath w AMI/HF/shock w MMCC | 0 | 1.7509 | 37.9 | 31.6
223 | 222 | Cardiac defib implant w cardiac cath w AMI/HF/shock w/o MMCC | 0 | 1.7509 | 37.9 | 31.6
224 | 224 | Cardiac defib implant w cardiac cath w/o AMI/HF/shock w MMCC | 0 | 1.7509 | 37.9 | 31.6
225 | 224 | Cardiac defib implant w cardiac cath w/o AMI/HF/shock w/o MMCC | 0 | 1.7509 | 37.9 | 31.6
226 | 226 | Cardiac defibrillator implant w/o cardiac cath w MMCC | 11 | 1.7509 | 37.9 | 31.6
227 | 226 | Cardiac defibrillator implant w/o cardiac cath w/o MMCC | 9 | 1.7509 | 37.9 | 31.6
228 | 228 | Other cardiothoracic procedures w MMCC | 0 | 1.4637 | 33.3 | 27.8
229 | 228 | Other cardiothoracic procedures w MCC | 0 | 1.2121 | 28.9 | 24.1
230 | 228 | Other cardiothoracic procedures w/o CC/MMCC | 0 | 0.6327 | 21.6 | 18.0
231 | 231 | Coronary bypass w PTCA w MMCC | 0 | 1.2617 | 31.5 | 26.3
232 | 231 | Coronary bypass w PTCA w/o MMCC | 0 | 0.8596 | 25.2 | 21.0
233 | 233 | Coronary bypass w cardiac cath w MMCC | 0 | 1.2617 | 31.5 | 26.3
234 | 233 | Coronary bypass w cardiac cath w/o MMCC | 0 | 0.8596 | 25.2 | 21.0
235 | 235 | Coronary bypass w/o cardiac cath w MMCC | 0 | 1.2617 | 31.5 | 26.3
236 | 235 | Coronary bypass w/o cardiac cath w/o MMCC | 0 | 0.8596 | 25.2 | 21.0
237 | 237 | Major cardiovascular procedures w MMCC | 7 | 1.2617 | 31.5 | 26.3
238 | 237 | Major cardiovascular procedures w/o MMCC | 2 | 0.8596 | 25.2 | 21.0
239 | 239 | Amputation for circ sys disorders exc upper limb & toe w MMCC | 163 | 1.5067 | 36.6 | 30.5
240 | 239 | Amputation for circ sys disorders exc upper limb & toe w MCC | 83 | 1.1559 | 34.1 | 28.4
241 | 239 | Amputation for circ sys disorders exc upper limb & toe w/o CC/MMCC | 10 | 0.8596 | 25.2 | 21.0
242 | 242 | Permanent cardiac pacemaker implant w MCC* | 12 | 1.7509 | 37.9 | 31.6
243 | 242 | Permanent cardiac pacemaker implant w MCC | 5 | 1.7509 | 37.9 | 31.6
244 | 242 | Permanent cardiac pacemaker implant w/o CC/MMCC | 1 | 1.7509 | 37.9 | 31.6
245 | 245 | AICD generator procedures | 0 | 1.7509 | 37.9 | 31.6
246 | 246 | Percutaneous cardiovascular proc w drug-eluting stent w MMCC | 3 | 1.2617 | 31.5 | 26.3
247 | 246 | Percutaneous cardiovascular proc w drug-eluting stent w/o MMCC | 1 | 1.2617 | 31.5 | 26.3
248 | 248 | Percutaneous cardiovasc proc w non-drug-eluting stent w MMCC | 2 | 1.2617 | 31.5 | 26.3
249 | 248 | Percutaneous cardiovasc proc w non-drug-eluting stent w/o MCC* | 1 | 1.2617 | 31.5 | 26.3
250 | 250 | Perc cardiovasc proc w/o coronary artery stent or AMI w MMCC | 3 | 1.7509 | 37.9 | 31.6
251 | 250 | Perc cardiovasc proc w/o coronary artery stent or AMI w/o MMCC | 0 | 1.7509 | 37.9 | 31.6
252 | 252 | Other vascular procedures w MMCC | 134 | 1.4637 | 33.3 | 27.8
253 | 252 | Other vascular procedures w MCC | 51 | 1.2121 | 28.9 | 24.1
254 | 252 | Other vascular procedures w/o CC/MMCC | 3 | 0.6327 | 21.6 | 18.0
255 | 255 | Upper limb & toe amputation for circ system disorders w MMCC | 61 | 1.2589 | 33.8 | 28.2
256 | 255 | Upper limb & toe amputation for circ system disorders w MCC | 42 | 0.9416 | 30.0 | 25.0
257 | 255 | Upper limb & toe amputation for circ system disorders w/o CC/MMCC | 1 | 0.4824 | 19.6 | 16.3
258 | 258 | Cardiac pacemaker device replacement w MMCC | 0 | 1.2617 | 31.5 | 26.3
259 | 258 | Cardiac pacemaker device replacement w/o MMCC | 1 | 1.2617 | 31.5 | 26.3
260 | 260 | Cardiac pacemaker revision except device replacement w MMCC | 2 | 1.2617 | 31.5 | 26.3
261 | 260 | Cardiac pacemaker revision except device replacement w CC* | 1 | 0.8596 | 25.2 | 21.0
262 | 260 | Cardiac pacemaker revision except device replacement w/o CC/MCC* | 1 | 0.8596 | 25.2 | 21.0
263 | 263 | Vein ligation & stripping | 3 | 0.4824 | 19.6 | 16.3
264 | 264 | Other circulatory system O.R. procedures | 608 | 1.0954 | 31.1 | 25.9
265 | 265 | AICD lead procedures | 0 | 1.2617 | 31.5 | 26.3
280 | 280 | Circulatory disorders w AMI, discharged alive w MMCC | 259 | 0.7832 | 23.0 | 19.2
281 | 280 | Circulatory disorders w AMI, discharged alive w MCC | 110 | 0.5772 | 20.6 | 17.2
282 | 280 | Circulatory disorders w AMI, discharged alive w/o CC/MMCC | 35 | 0.5060 | 19.9 | 16.6
283 | 283 | Circulatory disorders w AMI, expired w MMCC | 56 | 0.7924 | 16.1 | 13.4
284 | 283 | Circulatory disorders w AMI, expired w CC* | 17 | 0.7924 | 16.1 | 13.4
285 | 283 | Circulatory disorders w AMI, expired w/o CC/MMCC | 0 | 0.7924 | 16.1 | 13.4
286 | 286 | Circulatory disorders except AMI, w card cath w MMCC | 8 | 1.2617 | 31.5 | 26.3
287 | 286 | Circulatory disorders except AMI, w card cath w/o MMCC | 9 | 0.8596 | 25.2 | 21.0
288 | 288 | Acute & subacute endocarditis w MMCC | 594 | 1.0060 | 26.1 | 21.8
289 | 288 | Acute & subacute endocarditis w MCC | 217 | 0.7920 | 26.1 | 21.8
290 | 288 | Acute & subacute endocarditis w/o CC/MMCC | 48 | 0.6873 | 24.3 | 20.3
291 | 291 | Heart failure & shock w MMCC | 1,728 | 0.7727 | 21.9 | 18.3
292 | 291 | Heart failure & shock w MCC | 901 | 0.6294 | 21.2 | 17.7
293 | 291 | Heart failure & shock w/o CC/MMCC | 362 | 0.5168 | 18.8 | 15.7
294 | 294 | Deep vein thrombophlebitis w CC/MMCC | 6 | 0.6327 | 21.6 | 18.0
295 | 294 | Deep vein thrombophlebitis w/o CC/MMCC | 0 | 0.6327 | 21.6 | 18.0
296 | 296 | Cardiac arrest, unexplained w MMCC | 0 | 0.7924 | 16.1 | 13.4
297 | 296 | Cardiac arrest, unexplained w MCC | 0 | 0.7924 | 16.1 | 13.4
298 | 296 | Cardiac arrest, unexplained w/o CC/MMCC | 0 | 0.7924 | 16.1 | 13.4
299 | 299 | Peripheral vascular disorders w MMCC | 587 | 0.7804 | 23.4 | 19.5
300 | 299 | Peripheral vascular disorders w MCC | 751 | 0.5847 | 22.0 | 18.3
301 | 299 | Peripheral vascular disorders w/o CC/MMCC | 78 | 0.5385 | 20.3 | 16.9
302 | 302 | Atherosclerosis w MMCC | 59 | 0.7597 | 21.8 | 18.2
303 | 302 | Atherosclerosis w/o MMCC | 61 | 0.5692 | 20.1 | 16.8
304 | 304 | Hypertension w MMCC | 6 | 0.4824 | 19.6 | 16.3
305 | 304 | Hypertension w/o MMCC | 15 | 0.4824 | 19.6 | 16.3
306 | 306 | Cardiac congenital & valvular disorders w MMCC | 59 | 0.8224 | 22.7 | 18.9
307 | 306 | Cardiac congenital & valvular disorders w/o MMCC | 38 | 0.7367 | 22.9 | 19.1
308 | 308 | Cardiac arrhythmia & conduction disorders w MMCC | 96 | 0.8384 | 25.0 | 20.8
309 | 308 | Cardiac arrhythmia & conduction disorders w MCC | 107 | 0.5679 | 20.8 | 17.3
310 | 308 | Cardiac arrhythmia & conduction disorders w/o CC/MCC | 36 | 0.4590 | 19.4 | 16.2
311 | 311 | Angina pectoris | 7 | 0.4824 | 19.6 | 16.3
312 | 312 | Syncope & collapse | 58 | 0.5083 | 19.7 | 16.4
313 | 313 | Chest pain | 6 | 0.4824 | 19.6 | 16.3
314 | 314 | Other circulatory system diagnoses w MMCC | 1,305 | 0.8758 | 22.9 | 19.1
315 | 314 | Other circulatory system diagnoses w MCC | 285 | 0.6575 | 21.0 | 17.5
316 | 314 | Other circulatory system diagnoses w/o CC/MMCC | 72 | 0.6026 | 21.0 | 17.5
326 | 326 | Stomach, esophageal & duodenal proc w MMCC | 19 | 1.7509 | 37.9 | 31.6
327 | 326 | Stomach, esophageal & duodenal proc w MCC | 3 | 1.2617 | 31.5 | 26.3
328 | 326 | Stomach, esophageal & duodenal proc w/o CC/MCC* | 1 | 1.2617 | 31.5 | 26.3
329 | 329 | Major small & large bowel procedures w MMCC | 31 | 2.2757 | 41.8 | 34.8
330 | 329 | Major small & large bowel procedures w MCC | 12 | 1.7509 | 37.9 | 31.6
331 | 329 | Major small & large bowel procedures w/o CC/MMCC | 1 | 1.7509 | 37.9 | 31.6
332 | 332 | Rectal resection w MMCC | 0 | 1.6757 | 34.2 | 28.5
333 | 332 | Rectal resection w MCC | 0 | 1.1606 | 30.0 | 25.0
334 | 332 | Rectal resection w/o CC/MMCC | 0 | 1.1606 | 30.0 | 25.0
335 | 335 | Peritoneal adhesiolysis w MMCC | 6 | 1.7509 | 37.9 | 31.6
336 | 335 | Peritoneal adhesiolysis w MCC | 0 | 1.7509 | 37.9 | 31.6
337 | 335 | Peritoneal adhesiolysis w/o CC/MMCC | 0 | 1.7509 | 37.9 | 31.6
338 | 338 | Appendectomy w complicated principal diag w MMCC | 0 | 0.9726 | 25.1 | 20.9
339 | 338 | Appendectomy w complicated principal diag w MCC | 0 | 0.7768 | 23.2 | 19.3
340 | 338 | Appendectomy w complicated principal diag w/o CC/MMCC | 0 | 0.5958 | 19.6 | 16.3
341 | 341 | Appendectomy w/o complicated principal diag w MMCC | 0 | 0.9726 | 25.1 | 20.9
342 | 341 | Appendectomy w/o complicated principal diag w MCC | 0 | 0.7768 | 23.2 | 19.3
343 | 341 | Appendectomy w/o complicated principal diag w/o CC/MMCC | 0 | 0.5958 | 19.6 | 16.3
344 | 344 | Minor small & large bowel procedures w MMCC | 5 | 1.7509 | 37.9 | 31.6
345 | 344 | Minor small & large bowel procedures w MCC | 0 | 1.7509 | 37.9 | 31.6
346 | 344 | Minor small & large bowel procedures w/o CC/MMCC | 0 | 1.7509 | 37.9 | 31.6
347 | 347 | Anal & stomal procedures w MMCC | 3 | 1.7509 | 37.9 | 31.6
348 | 347 | Anal & stomal procedures w MCC | 3 | 1.2617 | 31.5 | 26.3
349 | 347 | Anal & stomal procedures w/o CC/MMCC | 0 | 1.2617 | 31.5 | 26.3
350 | 350 | Inguinal & femoral hernia procedures w MMCC | 0 | 1.2617 | 31.5 | 26.3
351 | 350 | Inguinal & femoral hernia procedures w MCC | 0 | 1.2617 | 31.5 | 26.3
352 | 350 | Inguinal & femoral hernia procedures w/o CC/MMCC | 0 | 1.2617 | 31.5 | 26.3
353 | 353 | Hernia procedures except inguinal & femoral w MMCC | 1 | 1.7509 | 37.9 | 31.6
354 | 353 | Hernia procedures except inguinal & femoral w MCC | 1 | 0.6327 | 21.6 | 18.0
355 | 353 | Hernia procedures except inguinal & femoral w/o CC/MMCC | 0 | 0.6327 | 21.6 | 18.0
356 | 356 | Other digestive system O.R. procedures w MMCC | 141 | 1.6757 | 34.2 | 28.5
357 | 356 | Other digestive system O.R. procedures w MCC | 36 | 1.1606 | 30.0 | 25.0
358 | 356 | Other digestive system O.R. procedures w/o CC/MCC* | 4 | 1.1606 | 30.0 | 25.0
368 | 368 | Major esophageal disorders w MMCC | 26 | 0.9161 | 21.1 | 17.6
369 | 368 | Major esophageal disorders w MCC | 14 | 0.8596 | 25.2 | 21.0
370 | 368 | Major esophageal disorders w/o CC/MMCC | 4 | 0.8596 | 25.2 | 21.0
371 | 371 | Major gastrointestinal disorders & peritoneal infections w MMCC | 722 | 0.9726 | 25.1 | 20.9
372 | 371 | Major gastrointestinal disorders & peritoneal infections w MCC | 350 | 0.7768 | 23.2 | 19.3
373 | 371 | Major gastrointestinal disorders & peritoneal infections w/o CC/MCC | 68 | 0.5958 | 19.6 | 16.3
374 | 374 | Digestive malignancy w MMCC | 96 | 0.9011 | 21.5 | 17.9
375 | 374 | Digestive malignancy w MCC | 90 | 0.7804 | 23.4 | 19.5
376 | 374 | Digestive malignancy w/o CC/MMCC | 3 | 0.6327 | 21.6 | 18.0
377 | 377 | G.I. hemorrhage w MMCC | 90 | 0.8200 | 23.8 | 19.8
378 | 377 | G.I. hemorrhage w MCC | 53 | 0.6902 | 23.8 | 19.8
379 | 377 | G.I. hemorrhage w/o CC/MMCC | 18 | 0.6327 | 21.6 | 18.0
380 | 380 | Complicated peptic ulcer w MMCC | 22 | 0.8596 | 25.2 | 21.0
381 | 380 | Complicated peptic ulcer w MCC | 17 | 0.6327 | 21.6 | 18.0
382 | 380 | Complicated peptic ulcer w/o CC/MMCC | 5 | 0.4824 | 19.6 | 16.3
383 | 383 | Uncomplicated peptic ulcer w MMCC | 0 | 0.8596 | 25.2 | 21.0
384 | 383 | Uncomplicated peptic ulcer w/o MMCC | 7 | 0.8596 | 25.2 | 21.0
385 | 385 | Inflammatory bowel disease w MMCC | 36 | 0.8076 | 23.3 | 19.4
386 | 385 | Inflammatory bowel disease w MCC | 37 | 0.7126 | 23.1 | 19.3
387 | 385 | Inflammatory bowel disease w/o CC/MMCC | 5 | 0.4824 | 19.6 | 16.3
388 | 388 | G.I. obstruction w MMCC | 213 | 0.9486 | 22.5 | 18.8
389 | 388 | G.I. obstruction w MCC | 97 | 0.7302 | 20.9 | 17.4
390 | 388 | G.I. obstruction w/o CC/MMCC | 17 | 0.6327 | 21.6 | 18.0
391 | 391 | Esophagitis, gastroent & misc digest disorders w MMCC | 255 | 0.7914 | 21.9 | 18.3
392 | 391 | Esophagitis, gastroent & misc digest disorders w/o MMCC | 292 | 0.6568 | 21.0 | 17.5
393 | 393 | Other digestive system diagnoses w MMCC | 779 | 1.0684 | 25.7 | 21.4
394 | 393 | Other digestive system diagnoses w MCC | 449 | 0.7872 | 22.6 | 18.8
395 | 393 | Other digestive system diagnoses w/o CC/MMCC | 33 | 0.5783 | 22.1 | 18.4
405 | 405 | Pancreas, liver & shunt procedures w MMCC | 10 | 1.2617 | 31.5 | 26.3
406 | 405 | Pancreas, liver & shunt procedures w CC* | 2 | 1.2617 | 31.5 | 26.3
407 | 405 | Pancreas, liver & shunt procedures w/o CC/MMCC | 0 | 1.2617 | 31.5 | 26.3
408 | 408 | Biliary tract proc except only cholecyst w or w/o c.d.e. w MMCC | 0 | 0.6327 | 21.6 | 18.0
409 | 408 | Biliary tract proc except only cholecyst w or w/o c.d.e. w MCC | 1 | 0.6327 | 21.6 | 18.0
410 | 408 | Biliary tract proc except only cholecyst w or w/o c.d.e. w/o CC/MMCC | 0 | 0.6327 | 21.6 | 18.0
411 | 411 | Cholecystectomy w c.d.e. w MMCC | 1 | 1.7509 | 37.9 | 31.6
412 | 411 | Cholecystectomy w c.d.e. w MCC | 0 | 1.7509 | 37.9 | 31.6
413 | 411 | Cholecystectomy w c.d.e. w/o CC/MMCC | 0 | 1.7509 | 37.9 | 31.6
414 | 414 | Cholecystectomy except by laparoscope w/o c.d.e. w MMCC | 2 | 1.7509 | 37.9 | 31.6
415 | 414 | Cholecystectomy except by laparoscope w/o c.d.e. w MCC | 3 | 1.7509 | 37.9 | 31.6
416 | 414 | Cholecystectomy except by laparoscope w/o c.d.e. w/o CC/MMCC | 0 | 1.7509 | 37.9 | 31.6
417 | 417 | Laparoscopic cholecystectomy w/o c.d.e. w MCC* | 11 | 1.7509 | 37.9 | 31.6
418 | 417 | Laparoscopic cholecystectomy w/o c.d.e. w MCC | 5 | 1.7509 | 37.9 | 31.6
419 | 417 | Laparoscopic cholecystectomy w/o c.d.e. w/o CC/MMCC | 0 | 1.7509 | 37.9 | 31.6
420 | 420 | Hepatobiliary diagnostic procedures w MMCC | 0 | 0.8596 | 25.2 | 21.0
421 | 420 | Hepatobiliary diagnostic procedures w MCC | 0 | 0.8596 | 25.2 | 21.0
422 | 420 | Hepatobiliary diagnostic procedures w/o CC/MMCC | 0 | 0.8596 | 25.2 | 21.0
423 | 423 | Other hepatobiliary or pancreas O.R. procedures w MMCC | 23 | 1.7509 | 37.9 | 31.6
424 | 423 | Other hepatobiliary or pancreas O.R. procedures w MCC | 2 | 0.8596 | 25.2 | 21.0
425 | 423 | Other hepatobiliary or pancreas O.R. procedures w/o CC/MMCC | 0 | 0.8596 | 25.2 | 21.0
432 | 432 | Cirrhosis & alcoholic hepatitis w MMCC | 73 | 0.6977 | 20.9 | 17.4
433 | 432 | Cirrhosis & alcoholic hepatitis w MCC | 24 | 0.6327 | 21.6 | 18.0
434 | 432 | Cirrhosis & alcoholic hepatitis w/o CC/MMCC | 0 | 0.6327 | 21.6 | 18.0
435 | 435 | Malignancy of hepatobiliary system or pancreas w MMCC | 53 | 0.8340 | 22.0 | 18.3
436 | 435 | Malignancy of hepatobiliary system or pancreas w MCC | 26 | 0.4904 | 17.2 | 14.3
437 | 435 | Malignancy of hepatobiliary system or pancreas w/o CC/MMCC | 4 | 0.4824 | 19.6 | 16.3
438 | 438 | Disorders of pancreas except malignancy w MMCC | 243 | 1.0807 | 23.5 | 19.6
439 | 438 | Disorders of pancreas except malignancy w MCC | 144 | 0.7533 | 22.0 | 18.3
440 | 438 | Disorders of pancreas except malignancy w/o CC/MMCC | 24 | 0.6327 | 21.6 | 18.0
441 | 441 | Disorders of liver except malig,cirr,alc hepa w MMCC | 123 | 0.8206 | 23.1 | 19.3
442 | 441 | Disorders of liver except malig,cirr,alc hepa w MCC | 62 | 0.7145 | 21.7 | 18.1
443 | 441 | Disorders of liver except malig,cirr,alc hepa w/o CC/MMCC | 14 | 0.4824 | 19.6 | 16.3
444 | 444 | Disorders of the biliary tract w MMCC | 104 | 0.8334 | 22.7 | 18.9
445 | 444 | Disorders of the biliary tract w MCC | 35 | 0.6140 | 20.7 | 17.3
446 | 444 | Disorders of the biliary tract w/o CC/MCC* | 8 | 0.6140 | 20.7 | 17.3
453 | 453 | Combined anterior/posterior spinal fusion w MMCC | 0 | 1.7509 | 37.9 | 31.6
454 | 453 | Combined anterior/posterior spinal fusion w MCC | 0 | 1.7509 | 37.9 | 31.6
455 | 453 | Combined anterior/posterior spinal fusion w/o CC/MMCC | 0 | 1.7509 | 37.9 | 31.6
456 | 456 | Spinal fusion exc cerv w spinal curv, malig or 9+ fusions w MMCC | 1 | 1.7509 | 37.9 | 31.6
457 | 456 | Spinal fusion exc cerv w spinal curv, malig or 9+ fusions w MCC | 3 | 1.7509 | 37.9 | 31.6
458 | 456 | Spinal fusion exc cerv w spinal curv, malig or 9+ fusions w/o CC/MMCC | 0 | 1.7509 | 37.9 | 31.6
459 | 459 | Spinal fusion except cervical w MMCC | 1 | 1.7509 | 37.9 | 31.6
460 | 459 | Spinal fusion except cervical w/o MMCC | 0 | 1.7509 | 37.9 | 31.6
461 | 461 | Bilateral or multiple major joint procs of lower extremity w MMCC | 0 | 1.7509 | 37.9 | 31.6
462 | 461 | Bilateral or multiple major joint procs of lower extremity w/o MMCC | 0 | 0.8596 | 25.2 | 21.0
463 | 463 | Wnd debrid & skn grft exc hand, for musculo-conn tiss dis w MMCC | 526 | 1.4126 | 38.7 | 32.3
464 | 463 | Wnd debrid & skn grft exc hand, for musculo-conn tiss dis w MCC | 311 | 1.0643 | 34.0 | 28.3
465 | 463 | Wnd debrid & skn grft exc hand, for musculo-conn tiss dis w/o CC/MCC | 61 | 0.9863 | 34.0 | 28.3
466 | 466 | Revision of hip or knee replacement w MMCC | 3 | 1.2617 | 31.5 | 26.3
467 | 466 | Revision of hip or knee replacement w MCC | 4 | 1.2617 | 31.5 | 26.3
468 | 466 | Revision of hip or knee replacement w/o CC/MMCC | 1 | 0.4824 | 19.6 | 16.3
469 | 469 | Major joint replacement or reattachment of lower extremity w MCC* | 3 | 1.7509 | 37.9 | 31.6
470 | 469 | Major joint replacement or reattachment of lower extremity w/o MMCC | 3 | 1.7509 | 37.9 | 31.6
471 | 471 | Cervical spinal fusion w MMCC | 2 | 0.8596 | 25.2 | 21.0
472 | 471 | Cervical spinal fusion w MCC | 1 | 0.8596 | 25.2 | 21.0
473 | 471 | Cervical spinal fusion w/o CC/MMCC | 0 | 0.8596 | 25.2 | 21.0
474 | 474 | Amputation for musculoskeletal sys & conn tissue dis w MMCC | 91 | 1.5642 | 38.4 | 32.0
475 | 474 | Amputation for musculoskeletal sys & conn tissue dis w MCC | 67 | 1.1116 | 33.9 | 28.3
476 | 474 | Amputation for musculoskeletal sys & conn tissue dis w/o CC/MMCC | 4 | 0.8596 | 25.2 | 21.0
477 | 477 | Biopsies of musculoskeletal system & connective tissue w MMCC | 22 | 1.7509 | 37.9 | 31.6
478 | 477 | Biopsies of musculoskeletal system & connective tissue w MCC | 12 | 1.2617 | 31.5 | 26.3
479 | 477 | Biopsies of musculoskeletal system & connective tissue w/o CC/MMCC | 0 | 1.2617 | 31.5 | 26.3
480 | 480 | Hip & femur procedures except major joint w MMCC | 21 | 1.7509 | 37.9 | 31.6
481 | 480 | Hip & femur procedures except major joint w MCC | 11 | 1.2617 | 31.5 | 26.3
482 | 480 | Hip & femur procedures except major joint w/o CC/MMCC | 2 | 0.8596 | 25.2 | 21.0
483 | 483 | Major joint & limb reattachment proc of upper extremity w CC/MMCC | 0 | 1.7509 | 37.9 | 31.6
484 | 483 | Major joint & limb reattachment proc of upper extremity w/o CC/MMCC | 0 | 0.8596 | 25.2 | 21.0
485 | 485 | Knee procedures w pdx of infection w MMCC | 10 | 1.2617 | 31.5 | 26.3
486 | 485 | Knee procedures w pdx of infection w MCC | 10 | 1.2617 | 31.5 | 26.3
487 | 485 | Knee procedures w pdx of infection w/o CC/MCC* | 2 | 1.2617 | 31.5 | 26.3
488 | 488 | Knee procedures w/o pdx of infection w CC/MMCC | 1 | 1.7509 | 37.9 | 31.6
489 | 488 | Knee procedures w/o pdx of infection w/o CC/MMCC | 1 | 0.6327 | 21.6 | 18.0
490 | 490 | Back & neck procedures except spinal fusion w CC/MCC or disc devices | 8 | 1.2617 | 31.5 | 26.3
491 | 490 | Back & neck procedures except spinal fusion w/o CC/MMCC | 0 | 1.2617 | 31.5 | 26.3
492 | 492 | Lower extrem & humer proc except hip, foot, femur w MMCC | 10 | 1.2617 | 31.5 | 26.3
493 | 492 | Lower extrem & humer proc except hip, foot, femur w MCC | 10 | 1.2617 | 31.5 | 26.3
494 | 492 | Lower extrem & humer proc except hip, foot, femur w/o CC/MMCC | 1 | 0.8596 | 25.2 | 21.0
495 | 495 | Local excision & removal int fix devices exc hip & femur w MMCC | 42 | 1.2616 | 36.9 | 30.8
496 | 495 | Local excision & removal int fix devices exc hip & femur w CC* | 20 | 1.2616 | 36.9 | 30.8
497 | 495 | Local excision & removal int fix devices exc hip & femur w/o CC/MCC* | 5 | 1.2616 | 36.9 | 30.8
498 | 498 | Local excision & removal int fix devices of hip & femur w CC/MCC | 9 | 1.7509 | 37.9 | 31.6
499 | 498 | Local excision & removal int fix devices of hip & femur w/o CC/MCC | 0 | 1.7509 | 37.9 | 31.6
500 | 500 | Soft tissue procedures w MMCC | 68 | 1.3427 | 36.7 | 30.6
501 | 500 | Soft tissue procedures w MCC | 28 | 1.0746 | 33.3 | 27.8
502 | 500 | Soft tissue procedures w/o CC/MMCC | 4 | 0.8596 | 25.2 | 21.0
503 | 503 | Foot procedures w MMCC | 15 | 1.2617 | 31.5 | 26.3
504 | 503 | Foot procedures w MCC | 22 | 0.8596 | 25.2 | 21.0
505 | 503 | Foot procedures w/o CC/MMCC | 3 | 0.8596 | 25.2 | 21.0
506 | 506 | Major thumb or joint procedures | 0 | 1.2617 | 31.5 | 26.3
507 | 507 | Major shoulder or elbow joint procedures w CC/MMCC | 1 | 1.7509 | 37.9 | 31.6
508 | 507 | Major shoulder or elbow joint procedures w/o CC/MMCC | 0 | 1.7509 | 37.9 | 31.6
509 | 509 | Arthroscopy | 0 | 0.8596 | 25.2 | 21.0
510 | 510 | Shoulder, elbow or forearm proc, exc major joint proc w MCC* | 1 | 0.8596 | 25.2 | 21.0
511 | 510 | Shoulder, elbow or forearm proc, exc major joint proc w CC* | 2 | 0.8596 | 25.2 | 21.0
512 | 510 | Shoulder, elbow or forearm proc, exc major joint proc w/o CC/MCC | 0 | 0.8596 | 25.2 | 21.0
513 | 513 | Hand or wrist proc, except major thumb or joint proc w CC/MMCC | 6 | 1.2617 | 31.5 | 26.3
514 | 513 | Hand or wrist proc, except major thumb or joint proc w/o CC/MCC* | 1 | 1.2617 | 31.5 | 26.3
515 | 515 | Other musculoskelet sys & conn tiss O.R. proc w MMCC | 60 | 1.3728 | 31.5 | 26.3
516 | 515 | Other musculoskelet sys & conn tiss O.R. proc w MCC | 27 | 0.9133 | 28.0 | 23.3
517 | 515 | Other musculoskelet sys & conn tiss O.R. proc w/o CC/MMCC | 0 | 0.9133 | 28.0 | 23.3
533 | 533 | Fractures of femur w MMCC | 3 | 0.6327 | 21.6 | 18.0
534 | 533 | Fractures of femur w/o MMCC | 6 | 0.6327 | 21.6 | 18.0
535 | 535 | Fractures of hip & pelvis w MMCC | 16 | 0.8596 | 25.2 | 21.0
536 | 535 | Fractures of hip & pelvis w/o MMCC | 25 | 0.6130 | 26.9 | 22.4
537 | 537 | Sprains, strains, & dislocations of hip, pelvis & thigh w CC/MMCC | 1 | 0.4824 | 19.6 | 16.3
538 | 537 | Sprains, strains, & dislocations of hip, pelvis & thigh w/o CC/MCC | 0 | 0.4824 | 19.6 | 16.3
539 | 539 | Osteomyelitis w MMCC | 1,317 | 0.9928 | 30.2 | 25.2
540 | 539 | Osteomyelitis w MCC | 848 | 0.7632 | 27.6 | 23.0
541 | 539 | Osteomyelitis w/o CC/MMCC | 227 | 0.6901 | 27.1 | 22.6
542 | 542 | Pathological fractures & musculoskelet & conn tiss malig w MMCC | 23 | 0.8596 | 25.2 | 21.0
543 | 542 | Pathological fractures & musculoskelet & conn tiss malig w MCC | 42 | 0.5682 | 20.5 | 17.1
544 | 542 | Pathological fractures & musculoskelet & conn tiss malig w/o CC/MMCC | 17 | 0.4824 | 19.6 | 16.3
545 | 545 | Connective tissue disorders w MMCC | 50 | 0.9093 | 23.5 | 19.6
546 | 545 | Connective tissue disorders w MCC | 38 | 0.8478 | 25.5 | 21.3
547 | 545 | Connective tissue disorders w/o CC/MMCC | 5 | 0.4824 | 19.6 | 16.3
548 | 548 | Septic arthritis w MMCC | 172 | 0.8843 | 26.1 | 21.8
549 | 548 | Septic arthritis w MCC | 200 | 0.7080 | 26.9 | 22.4
550 | 548 | Septic arthritis w/o CC/MMCC | 73 | 0.6067 | 24.2 | 20.2
551 | 551 | Medical back problems w MMCC | 83 | 0.8867 | 26.5 | 22.1
552 | 551 | Medical back problems w/o MMCC | 156 | 0.6146 | 24.2 | 20.2
553 | 553 | Bone diseases & arthropathies w MMCC | 15 | 0.6327 | 21.6 | 18.0
554 | 553 | Bone diseases & arthropathies w/o MMCC | 59 | 0.5022 | 21.3 | 17.8
555 | 555 | Signs & symptoms of musculoskeletal system & conn tissue w MMCC | 3 | 0.8596 | 25.2 | 21.0
556 | 555 | Signs & symptoms of musculoskeletal system & conn tissue w/o MCC | 8 | 0.4824 | 19.6 | 16.3
557 | 557 | Tendonitis, myositis & bursitis w MMCC | 84 | 0.8284 | 24.6 | 20.5
558 | 557 | Tendonitis, myositis & bursitis w/o MMCC | 134 | 0.6519 | 23.0 | 19.2
559 | 559 | Aftercare, musculoskeletal system & connective tissue w MMCC | 1,368 | 0.8146 | 26.1 | 21.8
560 | 559 | Aftercare, musculoskeletal system & connective tissue w MCC | 1,613 | 0.6469 | 24.7 | 20.6
561 | 559 | Aftercare, musculoskeletal system & connective tissue w/o CC/MMCC | 730 | 0.5579 | 22.8 | 19.0
562 | 562 | Fx, sprn, strn & disl except femur, hip, pelvis & thigh w MMCC | 5 | 0.8596 | 25.2 | 21.0
563 | 562 | Fx, sprn, strn & disl except femur, hip, pelvis & thigh w/o MMCC | 9 | 0.4824 | 19.6 | 16.3
564 | 564 | Other musculoskeletal sys & connective tissue diagnoses w MMCC | 307 | 0.8803 | 24.2 | 20.2
565 | 564 | Other musculoskeletal sys & connective tissue diagnoses w MCC | 199 | 0.6473 | 22.7 | 18.9
566 | 564 | Other musculoskeletal sys & connective tissue diagnoses w/o CC/MMCC | 60 | 0.6236 | 22.5 | 18.8
573 | 573 | Skin graft &/or debrid for skn ulcer or cellulitis w MMCC | 1,814 | 1.3944 | 38.2 | 31.8
574 | 573 | Skin graft &/or debrid for skn ulcer or cellulitis w MCC | 1,761 | 1.0779 | 36.0 | 30.0
575 | 573 | Skin graft &/or debrid for skn ulcer or cellulitis w/o CC/MMCC | 200 | 0.9033 | 30.1 | 25.1
576 | 576 | Skin graft &/or debrid exc for skin ulcer or cellulitis w MMCC | 27 | 1.7840 | 37.6 | 31.3
577 | 576 | Skin graft &/or debrid exc for skin ulcer or cellulitis w MCC | 28 | 0.8093 | 27.3 | 22.8
578 | 576 | Skin graft &/or debrid exc for skin ulcer or cellulitis w/o CC/MMCC | 11 | 0.6327 | 21.6 | 18.0
579 | 579 | Other skin, subcut tiss & breast proc w MMCC | 476 | 1.3648 | 36.5 | 30.4
580 | 579 | Other skin, subcut tiss & breast proc w MCC | 398 | 1.0585 | 33.5 | 27.9
581 | 579 | Other skin, subcut tiss & breast proc w/o CC/MMCC | 34 | 0.8032 | 30.1 | 25.1
582 | 582 | Mastectomy for malignancy w CC/MMCC | 1 | 1.7509 | 37.9 | 31.6
583 | 582 | Mastectomy for malignancy w/o CC/MMCC | 0 | 1.7509 | 37.9 | 31.6
584 | 584 | Breast biopsy, local excision & other breast procedures w CC/MMCC | 2 | 0.6327 | 21.6 | 18.0
585 | 584 | Breast biopsy, local excision & other breast procedures w/o CC/MMCC | 0 | 0.6327 | 21.6 | 18.0
592 | 592 | Skin ulcers w MMCC | 3,044 | 0.9490 | 27.0 | 22.5
593 | 592 | Skin ulcers w MCC | 2,805 | 0.7171 | 26.1 | 21.8
594 | 592 | Skin ulcers w/o CC/MMCC | 435 | 0.6109 | 24.8 | 20.7
595 | 595 | Major skin disorders w MMCC | 28 | 0.8138 | 25.3 | 21.1
596 | 595 | Major skin disorders w/o MMCC | 39 | 0.6547 | 22.4 | 18.7
597 | 597 | Malignant breast disorders w MMCC | 7 | 1.2617 | 31.5 | 26.3
598 | 597 | Malignant breast disorders w MCC | 7 | 0.8596 | 25.2 | 21.0
599 | 597 | Malignant breast disorders w/o CC/MCC* | 1 | 0.8596 | 25.2 | 21.0
600 | 600 | Non-malignant breast disorders w CC/MMCC | 17 | 0.8596 | 25.2 | 21.0
601 | 600 | Non-malignant breast disorders w/o CC/MMCC | 6 | 0.4824 | 19.6 | 16.3
602 | 602 | Cellulitis w MMCC | 829 | 0.6963 | 21.7 | 18.1
603 | 602 | Cellulitis w/o MMCC | 1,634 | 0.5333 | 19.9 | 16.6
604 | 604 | Trauma to the skin, subcut tiss & breast w MMCC | 29 | 0.8236 | 24.4 | 20.3
605 | 604 | Trauma to the skin, subcut tiss & breast w/o MMCC | 53 | 0.6053 | 23.8 | 19.8
606 | 606 | Minor skin disorders w MMCC | 63 | 0.8273 | 24.5 | 20.4
607 | 606 | Minor skin disorders w/o MMCC | 93 | 0.5599 | 20.7 | 17.3
614 | 614 | Adrenal & pituitary procedures w CC/MMCC | 0 | 1.0449 | 32.5 | 27.1
615 | 614 | Adrenal & pituitary procedures w/o CC/MMCC | 0 | 0.8596 | 25.2 | 21.0
616 | 616 | Amputat of lower limb for endocrine, nutrit,& metabol dis w MMCC | 70 | 1.4804 | 38.4 | 32.0
617 | 616 | Amputat of lower limb for endocrine, nutrit,& metabol dis w MCC | 132 | 1.1478 | 33.1 | 27.6
618 | 616 | Amputat of lower limb for endocrine, nutrit,& metabol dis w/o CC/MMCC | 2 | 0.4824 | 19.6 | 16.3
619 | 619 | O.R. procedures for obesity w MMCC | 1 | 1.7509 | 37.9 | 31.6
620 | 619 | O.R. procedures for obesity w MCC | 0 | 1.7509 | 37.9 | 31.6
621 | 619 | O.R. procedures for obesity w/o CC/MMCC | 0 | 1.7509 | 37.9 | 31.6
622 | 622 | Skin grafts & wound debrid for endoc, nutrit & metab dis w MCC | 171 | 1.2978 | 35.7 | 29.8
623 | 622 | Skin grafts & wound debrid for endoc, nutrit & metab dis w MCC | 357 | 1.0065 | 30.9 | 25.8
624 | 622 | Skin grafts & wound debrid for endoc, nutrit & metab dis w/o CC/MMCC | 21 | 0.6327 | 21.6 | 18.0
625 | 625 | Thyroid, parathyroid & thyroglossal procedures w MMCC | 1 | 1.2617 | 31.5 | 26.3
626 | 625 | Thyroid, parathyroid & thyroglossal procedures w MCC | 1 | 0.8596 | 25.2 | 21.0
627 | 625 | Thyroid, parathyroid & thyroglossal procedures w/o CC/MMCC | 0 | 0.8596 | 25.2 | 21.0
628 | 628 | Other endocrine, nutrit & metab O.R. proc w MMCC | 48 | 1.3769 | 32.3 | 26.9
629 | 628 | Other endocrine, nutrit & metab O.R. proc w MCC | 110 | 1.0449 | 32.5 | 27.1
630 | 628 | Other endocrine, nutrit & metab O.R. proc w/o CC/MMCC | 2 | 0.8596 | 25.2 | 21.0
637 | 637 | Diabetes w MMCC | 421 | 0.9264 | 26.6 | 22.2
638 | 637 | Diabetes w MCC | 1,052 | 0.6950 | 24.5 | 20.4
639 | 637 | Diabetes w/o CC/MMCC | 71 | 0.5777 | 20.8 | 17.3
640 | 640 | Nutritional & misc metabolic disorders w MMCC | 638 | 0.8424 | 23.1 | 19.3
641 | 640 | Nutritional & misc metabolic disorders w/o MMCC | 548 | 0.6217 | 21.5 | 17.9
642 | 642 | Inborn errors of metabolism | 5 | 0.4824 | 19.6 | 16.3
643 | 643 | Endocrine disorders w MMCC | 30 | 0.6833 | 24.0 | 20.0
644 | 643 | Endocrine disorders w MCC | 28 | 0.5393 | 21.1 | 17.6
645 | 643 | Endocrine disorders w/o CC/MCC | 1 | 0.4824 | 19.6 | 16.3
652 | 652 | Kidney transplant | 0 | 0.0000 | 0.0 | 0.0
653 | 653 | Major bladder procedures w MCC | 2 | 1.7509 | 37.9 | 31.6
654 | 653 | Major bladder procedures w MCC | 0 | 1.7509 | 37.9 | 31.6
655 | 653 | Major bladder procedures w/o CC/MMCC | 0 | 1.7509 | 37.9 | 31.6
656 | 656 | Kidney & ureter procedures for neoplasm w MMCC | 1 | 1.7509 | 37.9 | 31.6
657 | 656 | Kidney & ureter procedures forneoplasm w MCC | 0 | 1.7509 | 37.9 | 31.6
658 | 656 | Kidney & ureter procedures for neoplasm w/o CC/MMCC | 0 | 1.7509 | 37.9 | 31.6
659 | 659 | Kidney & ureter procedures for non-neoplasm w MMCC | 6 | 1.2617 | 31.5 | 26.3
660 | 659 | Kidney & ureter procedures for non-neoplasm w MCC | 6 | 1.2617 | 31.5 | 26.3
661 | 659 | Kidney & ureter procedures for non-neoplasm w/o CC/MMCC | 1 | 0.6327 | 21.6 | 18.0
662 | 662 | Minor bladder procedures w MMCC | 2 | 1.7509 | 37.9 | 31.6
663 | 662 | Minor bladder procedures w MCC | 2 | 0.6327 | 21.6 | 18.0
664 | 662 | Minor bladder procedures w/o CC/MCC | 0 | 0.6327 | 21.6 | 18.0
665 | 665 | Prostatectomy w MCC* | 2 | 0.8596 | 25.2 | 21.0
666 | 665 | Prostatectomy w CC* | 1 | 0.8596 | 25.2 | 21.0
667 | 665 | Prostatectomy w/o CC/MMCC | 0 | 0.8596 | 25.2 | 21.0
668 | 668 | Transurethral procedures w MMCC | 4 | 0.8596 | 25.2 | 21.0
669 | 668 | Transurethral procedures w MCC | 3 | 0.6327 | 21.6 | 18.0
670 | 668 | Transurethral procedures w/o CC/MMCC | 0 | 0.6327 | 21.6 | 18.0
671 | 671 | Urethral procedures w CC/MMCC | 1 | 0.6327 | 21.6 | 18.0
672 | 671 | Urethral procedures w/o CC/MMCC | 0 | 0.6327 | 21.6 | 18.0
673 | 673 | Other kidney & urinary tract procedures w MMCC | 227 | 1.4418 | 33.8 | 28.2
674 | 673 | Other kidney & urinary tract procedures w MCC | 67 | 1.1430 | 29.1 | 24.3
675 | 673 | Other kidney & urinary tract procedures w/o CC/MMCC | 0 | 1.1430 | 29.1 | 24.3
682 | 682 | Renal failure w MMCC | 1,458 | 0.8945 | 23.8 | 19.8
683 | 682 | Renal failure w MCC | 713 | 0.7478 | 22.8 | 19.0
684 | 682 | Renal failure w/o CC/MMCC | 91 | 0.6647 | 20.6 | 17.2
685 | 685 | Admit for renal dialysis | 32 | 0.8341 | 25.1 | 20.9
686 | 686 | Kidney & urinary tract neoplasms w MMCC | 15 | 0.8596 | 25.2 | 21.0
687 | 686 | Kidney & urinary tract neoplasms w MCC | 18 | 0.8596 | 25.2 | 21.0
688 | 686 | Kidney & urinary tract neoplasms w/o CC/MMCC | 3 | 0.6327 | 21.6 | 18.0
689 | 689 | Kidney & urinary tract infections w MMCC | 868 | 0.6712 | 22.6 | 18.8
690 | 689 | Kidney & urinary tract infections w/o MMCC | 782 | 0.5266 | 20.5 | 17.1
691 | 691 | Urinary stones w esw lithotripsy w CC/MMCC | 0 | 0.4824 | 19.6 | 16.3
692 | 691 | Urinary stones w esw lithotripsy w/o CC/MMCC | 0 | 0.4824 | 19.6 | 16.3
693 | 693 | Urinary stones w/o esw lithotripsy w MMCC | 3 | 0.8596 | 25.2 | 21.0
694 | 693 | Urinary stones w/ot esw lithotripsy w/o MMCC | 5 | 0.4824 | 19.6 | 16.3
695 | 695 | Kidney & urinary tract signs & symptoms w MMCC | 4 | 1.2617 | 31.5 | 26.3
696 | 695 | Kidney & urinary tract signs & symptoms w/o MMCC | 7 | 0.6327 | 21.6 | 18.0
697 | 697 | Urethral stricture | 0 | 0.6327 | 21.6 | 18.0
698 | 698 | Other kidney & urinary tract diagnoses w MMCC | 285 | 0.9527 | 23.5 | 19.6
699 | 698 | Other kidney & urinary tract diagnoses w MCC | 142 | 0.6606 | 22.0 | 18.3
700 | 698 | Other kidney & urinary tract diagnoses w/o CC/MMCC | 33 | 0.5695 | 21.1 | 17.6
707 | 707 | Major male pelvic procedures w CC/MMCC | 0 | 1.2617 | 31.5 | 26.3
708 | 707 | Major male pelvic procedures w/o CC/MMCC | 0 | 0.6327 | 21.6 | 18.0
709 | 709 | Penis procedures w CC/MMCC | 15 | 1.7509 | 37.9 | 31.6
710 | 709 | Penis procedures w/o CC/MMCC | 0 | 1.7509 | 37.9 | 31.6
711 | 711 | Testes procedures w CC/MMCC | 6 | 1.2617 | 31.5 | 26.3
712 | 711 | Testes procedures w/o CC/MMCC | 0 | 1.2617 | 31.5 | 26.3
713 | 713 | Transurethral prostatectomy w CC/MMCC | 2 | 1.7509 | 37.9 | 31.6
714 | 713 | Transurethral prostatectomy w/o CC/MMCC | 0 | 1.7509 | 37.9 | 31.6
715 | 715 | Other male reproductive system O.R. proc for malignancy w CC/MMCC | 0 | 1.2617 | 31.5 | 26.3
716 | 715 | Other male reproductive system O.R. proc for malignancy w/o CC/MMCC | 0 | 1.2617 | 31.5 | 26.3
717 | 717 | Other male reproductive system O.R. proc exc malignancy w CC/MMCC | 11 | 1.2617 | 31.5 | 26.3
718 | 717 | Other male reproductive system O.R. proc exc malignancy w/o CC/MMCC | 0 | 1.2617 | 31.5 | 26.3
722 | 722 | Malignancy, male reproductive system w MMCC | 15 | 0.6327 | 21.6 | 18.0
723 | 722 | Malignancy, male reproductive system w MCC | 15 | 0.4824 | 19.6 | 16.3
724 | 722 | Malignancy, male reproductive system w/o CC/MMCC | 0 | 0.4824 | 19.6 | 16.3
725 | 725 | Benign prostatic hypertrophy w MMCC | 1 | 0.8596 | 25.2 | 21.0
726 | 725 | Benign prostatic hypertrophy w/o MMCC | 2 | 0.4824 | 19.6 | 16.3
727 | 727 | Inflammation of the male reproductive system w MMCC | 27 | 0.7907 | 23.1 | 19.3
728 | 727 | Inflammation of the male reproductive system w/o MMCC | 51 | 0.5259 | 20.4 | 17.0
729 | 729 | Other male reproductive system diagnoses w CC/MMCC | 49 | 0.8878 | 26.2 | 21.8
730 | 729 | Other male reproductive system diagnoses w/o CC/MMCC | 8 | 0.4824 | 19.6 | 16.3
734 | 734 | Pelvic evisceration, rad hysterectomy & rad vulvectomy w CC/MMCC | 0 | 1.2617 | 31.5 | 26.3
735 | 734 | Pelvic evisceration, rad hysterectomy & rad vulvectomy w/o CC/MMCC | 0 | 1.2617 | 31.5 | 26.3
736 | 736 | Uterine & adnexa proc for ovarian or adnexal malignancy w MMCC | 0 | 1.2617 | 31.5 | 26.3
737 | 736 | Uterine & adnexa proc for ovarian or adnexal malignancy w MCC | 0 | 0.8596 | 25.2 | 21.0
738 | 736 | Uterine & adnexa proc for ovarian or adnexal malignancy w/o CC/MMCC | 0 | 0.4824 | 19.6 | 16.3
739 | 739 | Uterine,adnexa proc for non-ovarian/adnexal malig w MMCC | 1 | 1.2617 | 31.5 | 26.3
740 | 739 | Uterine,adnexa proc for non-ovarian/adnexal malig w MCC | 0 | 1.2617 | 31.5 | 26.3
741 | 739 | Uterine,adnexa proc for non-ovarian/adnexal malig w/o CC/MMCC | 0 | 1.2617 | 31.5 | 26.3
742 | 742 | Uterine & adnexa proc for non-malignancy w CC/MMCC | 0 | 0.8596 | 25.2 | 21.0
743 | 742 | Uterine & adnexa proc for non-malignancy w/o CC/MMCC | 0 | 0.4824 | 19.6 | 16.3
744 | 744 | D&C, conization, laparascopy & tubal interruption w CC/MMCC | 1 | 0.8596 | 25.2 | 21.0
745 | 744 | D&C, conization, laparascopy & tubal interruption w/o CC/MMCC | 0 | 0.8596 | 25.2 | 21.0
746 | 746 | Vagina, cervix & vulva procedures w CC/MMCC | 1 | 1.7509 | 37.9 | 31.6
747 | 746 | Vagina, cervix & vulva procedures w/o CC/MMCC | 0 | 1.7509 | 37.9 | 31.6
748 | 748 | Female reproductive system reconstructive procedures | 0 | 1.2617 | 31.5 | 26.3
749 | 749 | Other female reproductive system O.R. procedures w CC/MMCC | 4 | 1.2617 | 31.5 | 26.3
750 | 749 | Other female reproductive system O.R. procedures w/o CC/MMCC | 0 | 1.2617 | 31.5 | 26.3
754 | 754 | Malignancy, female reproductive system w MMCC | 22 | 1.2617 | 31.5 | 26.3
755 | 754 | Malignancy, female reproductive system w MCC | 21 | 0.8596 | 25.2 | 21.0
756 | 754 | Malignancy, female reproductive system w/o CC/MMCC | 1 | 0.4824 | 19.6 | 16.3
757 | 757 | Infections, female reproductive system w MCC* | 52 | 0.7580 | 23.7 | 19.8
758 | 757 | Infections, female reproductive system w CC* | 27 | 0.7580 | 23.7 | 19.8
759 | 757 | Infections, female reproductive system w/o CC/MCC* | 5 | 0.7580 | 23.7 | 19.8
760 | 760 | Menstrual & other female reproductive system disorders w CC/MMCC | 0 | 0.8596 | 25.2 | 21.0
761 | 760 | Menstrual & other female reproductive system disorders w/o CC/MMCC | 0 | 0.8596 | 25.2 | 21.0
765 | 765 | Cesarean section w CC/MMCC | 0 | 0.8596 | 25.2 | 21.0
766 | 765 | Cesarean section w/o CC/MMCC | 0 | 0.8596 | 25.2 | 21.0
767 | 767 | Vaginal delivery w sterilization &/or D&C | 0 | 0.8596 | 25.2 | 21.0
768 | 768 | Vaginal delivery w O.R. proc except steril &/or D&C | 0 | 0.8596 | 25.2 | 21.0
769 | 769 | Postpartum & post abortion diagnoses w O.R. procedure | 0 | 0.8596 | 25.2 | 21.0
770 | 770 | Abortion w D&C, aspiration curettage or hysterotomy | 0 | 0.8596 | 25.2 | 21.0
774 | 774 | Vaginal delivery w complicating diagnoses | 0 | 0.8596 | 25.2 | 21.0
775 | 775 | Vaginal delivery w/o complicating diagnoses | 0 | 0.8596 | 25.2 | 21.0
776 | 776 | Postpartum & post abortion diagnoses w/o O.R. procedure | 0 | 0.8596 | 25.2 | 21.0
777 | 777 | Ectopic pregnancy | 0 | 0.8596 | 25.2 | 21.0
778 | 778 | Threatened abortion | 0 | 0.7580 | 23.7 | 19.8
779 | 779 | Abortion w/o D&C | 0 | 0.7580 | 23.7 | 19.8
780 | 780 | False labor | 0 | 0.7580 | 23.7 | 19.8
781 | 781 | Other antepartum diagnoses w medical complications | 1 | 0.4824 | 19.6 | 16.3
782 | 782 | Other antepartum diagnoses w/o medical complications | 0 | 0.4824 | 19.6 | 16.3
789 | 789 | Neonates, died or transferred to another acute care facility | 0 | 0.4824 | 19.6 | 16.3
790 | 790 | Extreme immaturity or respiratory distress syndrome, neonate | 0 | 0.4824 | 19.6 | 16.3
791 | 791 | Prematurity w major problems | 0 | 0.4824 | 19.6 | 16.3
792 | 792 | Prematurity w/o major problems | 0 | 0.4824 | 19.6 | 16.3
793 | 793 | Full term neonate w major problems | 0 | 0.4824 | 19.6 | 16.3
794 | 794 | Neonate w other significant problems | 0 | 0.4824 | 19.6 | 16.3
795 | 795 | Normal newborn | 0 | 0.4824 | 19.6 | 16.3
799 | 799 | Splenectomy w MCC | 0 | 0.8596 | 25.2 | 21.0
800 | 799 | Splenectomy w CC | 1 | 0.8596 | 25.2 | 21.0
801 | 799 | Splenectomy w/o CC/MMCC | 0 | 0.8596 | 25.2 | 21.0
802 | 802 | Other O.R. proc of the blood & blood forming organs w MMCC | 4 | 1.2617 | 31.5 | 26.3
803 | 802 | Other O.R. proc of the blood & blood forming organs w MCC | 0 | 1.2617 | 31.5 | 26.3
804 | 802 | Other O.R. proc of the blood & blood forming organs w/o CC/MMCC | 0 | 1.2617 | 31.5 | 26.3
808 | 808 | Major hematol/immun diag exc sickle cell crisis & coagul w MMCC | 17 | 1.2617 | 31.5 | 26.3
809 | 808 | Major hematol/immun diag exc sickle cell crisis & coagul w MCC | 11 | 0.8596 | 25.2 | 21.0
810 | 808 | Major hematol/immun diag exc sickle cell crisis & coagul w/o CC/MMCC | 1 | 0.4824 | 19.6 | 16.3
811 | 811 | Red blood cell disorders w MMCC | 43 | 0.7905 | 22.8 | 19.0
812 | 811 | Red blood cell disorders w/o MMCC | 58 | 0.5349 | 20.4 | 17.0
813 | 813 | Coagulation disorders | 55 | 0.8402 | 23.2 | 19.3
814 | 814 | Reticuloendothelial & immunity disorders w MMCC | 16 | 0.8596 | 25.2 | 21.0
815 | 814 | Reticuloendothelial & immunity disorders w MCC | 7 | 0.6327 | 21.6 | 18.0
816 | 814 | Reticuloendothelial & immunity disorders w/o CC/MMCC | 1 | 0.4824 | 19.6 | 16.3
820 | 820 | Lymphoma & leukemia w major O.R. procedure w MMCC | 0 | 1.2617 | 31.5 | 26.3
821 | 820 | Lymphoma & leukemia w major O.R. procedure w MCC | 0 | 0.8596 | 25.2 | 21.0
822 | 820 | Lymphoma & leukemia w major O.R. procedure w/o CC/MMCC | 0 | 0.8596 | 25.2 | 21.0
823 | 823 | Lymphoma & non-acute leukemia w other O.R. proc w MMCC | 11 | 1.2617 | 31.5 | 26.3
824 | 823 | Lymphoma & non-acute leukemia w other O.R. proc w MCC | 4 | 0.8596 | 25.2 | 21.0
825 | 823 | Lymphoma & non-acute leukemia w other O.R. proc w/o CC/MMCC | 0 | 0.8596 | 25.2 | 21.0
826 | 826 | Myeloprolif disord or poorly diff neopl w maj O.R. proc w MMCC | 1 | 1.7509 | 37.9 | 31.6
827 | 826 | Myeloprolif disord or poorly diff neopl w maj O.R. proc w MCC | 1 | 1.7509 | 37.9 | 31.6
828 | 826 | Myeloprolif disord or poorly diff neopl w maj O.R. proc w/o CC/MMCC | 0 | 1.7509 | 37.9 | 31.6
829 | 829 | Myeloprolif disord or poorly diff neopl w other O.R. proc w CC/MMCC | 7 | 1.7509 | 37.9 | 31.6
830 | 829 | Myeloprolif disord or poorly diff neopl w other O.R. proc w/o CC/MMCC | 0 | 1.7509 | 37.9 | 31.6
834 | 834 | Acute leukemia w/o major O.R. procedure w MMCC | 14 | 0.8596 | 25.2 | 21.0
835 | 834 | Acute leukemia w/o major O.R. procedure w CC* | 14 | 0.8596 | 25.2 | 21.0
836 | 834 | Acute leukemia w/o major O.R. procedure w/o CC/MCC* | 2 | 0.8596 | 25.2 | 21.0
837 | 837 | Chemo w acute leukemia as sdx or w high dose chemo agent w MMCC | 0 | 1.7509 | 37.9 | 31.6
838 | 837 | Chemo w acute leukemia as sdx or w high dose chemo agent w MCC | 0 | 1.7509 | 37.9 | 31.6
839 | 837 | Chemo w acute leukemia as sdx or w high dose chemo agent w/o CC/MMCC | 0 | 1.7509 | 37.9 | 31.6
840 | 840 | Lymphoma & non-acute leukemia w MMCC | 133 | 0.9227 | 23.1 | 19.3
841 | 840 | Lymphoma & non-acute leukemia w MCC | 63 | 0.7247 | 19.7 | 16.4
842 | 840 | Lymphoma & non-acute leukemia w/o CC/MMCC | 7 | 0.6327 | 21.6 | 18.0
843 | 843 | Other myeloprolif dis or poorly diff neopl diag w MMCC | 20 | 0.8596 | 25.2 | 21.0
844 | 843 | Other myeloprolif dis or poorly diff neopl diag w MCC | 11 | 0.6327 | 21.6 | 18.0
845 | 843 | Other myeloprolif dis or poorly diff neopl diag w/o CC/MMCC | 3 | 0.6327 | 21.6 | 18.0
846 | 846 | Chemotherapy w/o acute leukemia as secondary diagnosis w MMCC | 49 | 1.4778 | 30.0 | 25.0
847 | 846 | Chemotherapy w/o acute leukemia as secondary diagnosis w MCC | 43 | 1.0877 | 23.8 | 19.8
848 | 846 | Chemotherapy w/o acute leukemia as secondary diagnosis w/o CC/MMCC | 0 | 1.0877 | 23.8 | 19.8
849 | 849 | Radiotherapy | 141 | 0.7949 | 21.6 | 18.0
853 | 853 | Infectious & parasitic diseases w O.R. procedure w MMCC | 837 | 1.7864 | 37.3 | 31.1
854 | 853 | Infectious & parasitic diseases w O.R. procedure w MCC | 104 | 1.1703 | 33.0 | 27.5
855 | 853 | Infectious & parasitic diseases w O.R. procedure w/o CC/MCC* | 5 | 1.1703 | 33.0 | 27.5
856 | 856 | Postoperative or post-traumatic infections w O.R. proc w MMCC | 301 | 1.5591 | 36.7 | 30.6
857 | 856 | Postoperative or post-traumatic infections w O.R. proc w MCC | 213 | 1.0707 | 32.6 | 27.2
858 | 856 | Postoperative or post-traumatic infections w O.R. proc w/o CC/MMCC | 32 | 0.8943 | 26.8 | 22.3
862 | 862 | Postoperative & post-traumatic infections w MMCC | 1,163 | 0.9629 | 25.3 | 21.1
863 | 862 | Postoperative & post-traumatic infections w/o MMCC | 1,231 | 0.7018 | 23.8 | 19.8
864 | 864 | Fever of unknown origin | 11 | 0.4824 | 19.6 | 16.3
865 | 865 | Viral illness w MMCC | 36 | 0.7998 | 22.2 | 18.5
866 | 865 | Viral illness w/o MMCC | 14 | 0.6327 | 21.6 | 18.0
867 | 867 | Other infectious & parasitic diseases diagnoses w MMCC | 357 | 1.1296 | 23.4 | 19.5
868 | 867 | Other infectious & parasitic diseases diagnoses w MCC | 86 | 0.7458 | 22.6 | 18.8
869 | 867 | Other infectious & parasitic diseases diagnoses w/o CC/MMCC | 7 | 0.4824 | 19.6 | 16.3
870 | 870 | Septicemia w MV 96+ hours | 894 | 2.2127 | 33.0 | 27.5
871 | 871 | Septicemia w/o MV 96+ hours w MMCC | 4,507 | 0.8713 | 23.4 | 19.5
872 | 871 | Septicemia w/o MV 96+ hours w/o MMCC | 1,608 | 0.6584 | 21.8 | 18.2
876 | 876 | O.R. procedure w principal diagnoses of mental illness | 12 | 0.6327 | 21.6 | 18.0
880 | 880 | Acute adjustment reaction & psychosocial dysfunction | 11 | 0.4824 | 19.6 | 16.3
881 | 881 | Depressive neuroses | 14 | 0.6327 | 21.6 | 18.0
882 | 882 | Neuroses except depressive | 16 | 0.4824 | 19.6 | 16.3
883 | 883 | Disorders of personality & impulse control | 12 | 0.8596 | 25.2 | 21.0
884 | 884 | Organic disturbances & mental retardation | 146 | 0.5159 | 25.4 | 21.2
885 | 885 | Psychoses | 1,218 | 0.4206 | 23.9 | 19.9
886 | 886 | Behavioral & developmental disorders | 18 | 0.4824 | 19.6 | 16.3
887 | 887 | Other mental disorder diagnoses | 0 | 0.6327 | 21.6 | 18.0
894 | 894 | Alcohol/drug abuse or dependence, left ama | 0 | 0.6327 | 21.6 | 18.0
895 | 895 | Alcohol/drug abuse or dependence w rehabilitation therapy | 2 | 0.4824 | 19.6 | 16.3
896 | 896 | Alcohol/drug abuse or dependence w/o rehabilitation therapy w MMCC | 7 | 1.2617 | 31.5 | 26.3
897 | 896 | Alcohol/drug abuse or dependence w/o rehabilitation therapy w/o MMCC | 17 | 0.4824 | 19.6 | 16.3
901 | 901 | Wound debridements for injuries w MMCC | 217 | 1.5251 | 35.9 | 29.9
902 | 901 | Wound debridements for injuries w MCC | 129 | 1.0552 | 30.1 | 25.1
903 | 901 | Wound debridements for injuries w/o CC/MMCC | 23 | 0.8596 | 25.2 | 21.0
904 | 904 | Skin grafts for injuries w CC/MMCC | 78 | 1.3404 | 35.6 | 29.7
905 | 904 | Skin grafts for injuries w/o CC/MMCC | 6 | 0.8596 | 25.2 | 21.0
906 | 906 | Hand procedures for injuries | 1 | 1.7509 | 37.9 | 31.6
907 | 907 | Other O.R. procedures for injuries w MMCC | 91 | 1.6273 | 37.5 | 31.3
908 | 907 | Other O.R. procedures for injuries w MCC | 63 | 1.1167 | 34.0 | 28.3
909 | 907 | Other O.R. procedures for injuries w/o CC/MCC* | 6 | 1.1167 | 34.0 | 28.3
913 | 913 | Traumatic injury w MMCC | 37 | 0.7480 | 24.8 | 20.7
914 | 913 | Traumatic injury w/o MMCC | 66 | 0.6073 | 21.8 | 18.2
915 | 915 | Allergic reactions w MMCC | 0 | 0.4824 | 19.6 | 16.3
916 | 915 | Allergic reactions w/o MMCC | 0 | 0.4824 | 19.6 | 16.3
917 | 917 | Poisoning & toxic effects of drugs w MMCC | 8 | 0.4824 | 19.6 | 16.3
918 | 917 | Poisoning & toxic effects of drugs w/o MMCC | 9 | 0.4824 | 19.6 | 16.3
919 | 919 | Complications of treatment w MMCC | 1,235 | 1.0924 | 26.9 | 22.4
920 | 919 | Complications of treatment w MCC | 841 | 0.8582 | 26.0 | 21.7
921 | 919 | Complications of treatment w/o CC/MMCC | 117 | 0.6163 | 20.1 | 16.8
922 | 922 | Other injury, poisoning & toxic effect diag w MMCC | 7 | 0.8596 | 25.2 | 21.0
923 | 922 | Other injury, poisoning & toxic effect diag w/o MMCC | 11 | 0.6327 | 21.6 | 18.0
927 | 927 | Extensive burns or full thickness burns w MV 96+ hrs w skin graft | 1 | 1.7509 | 37.9 | 31.6
928 | 928 | Full thickness burn w skin graft or inhal inj w CC/MMCC | 9 | 1.2617 | 31.5 | 26.3
929 | 928 | Full thickness burn w skin graft or inhal inj w/o CC/MMCC | 2 | 0.6327 | 21.6 | 18.0
933 | 933 | Extensive burns or full thickness burns w MV 96+ hrs w/o skin graft | 10 | 1.2617 | 31.5 | 26.3
934 | 934 | Full thickness burn w/o skin grft or inhal inj | 40 | 0.7755 | 24.2 | 20.2
935 | 935 | Non-extensive burns | 46 | 0.7815 | 24.5 | 20.4
939 | 939 | O.R. proc w diagnoses of other contact w health services w MCC | 267 | 1.3463 | 34.1 | 28.4
940 | 939 | O.R. proc w diagnoses of other contact w health services w MCC | 135 | 0.9993 | 30.6 | 25.5
941 | 939 | O.R. proc w diagnoses of other contact w health services w/o CC/MMCC | 15 | 0.8596 | 25.2 | 21.0
945 | 945 | Rehabilitation w CC/MMCC | 2,220 | 0.6154 | 22.1 | 18.4
946 | 945 | Rehabilitation w/o CC/MMCC | 428 | 0.4311 | 18.9 | 15.8
947 | 947 | Signs & symptoms w MMCC | 57 | 0.6548 | 22.2 | 18.5
948 | 947 | Signs & symptoms w/o MMCC | 69 | 0.5737 | 22.2 | 18.5
949 | 949 | Aftercare w CC/MMCC | 3,802 | 0.7034 | 22.5 | 18.8
950 | 949 | Aftercare w/o CC/MMCC | 546 | 0.5002 | 19.2 | 16.0
951 | 951 | Other factors influencing health status | 28 | 1.2726 | 27.0 | 22.5
955 | 955 | Craniotomy for multiple significant trauma | 0 | 1.7509 | 37.9 | 31.6
956 | 956 | Limb reattachment, hip & femur proc for multiple significant trauma | 0 | 0.8596 | 25.2 | 21.0
957 | 957 | Other O.R. procedures for multiple significant trauma w MMCC | 1 | 1.2617 | 31.5 | 26.3
958 | 957 | Other O.R. procedures for multiple significant trauma w MCC | 1 | 0.4824 | 19.6 | 16.3
959 | 957 | Other O.R. procedures for multiple significant trauma w/o CC/MMCC | 0 | 0.4824 | 19.6 | 16.3
963 | 963 | Other multiple significant trauma w MMCC | 15 | 0.8596 | 25.2 | 21.0
964 | 963 | Other multiple significant trauma w MCC | 5 | 0.6327 | 21.6 | 18.0
965 | 963 | Other multiple significant trauma w/o CC/MMCC | 3 | 0.4824 | 19.6 | 16.3
969 | 969 | HIV w extensive O.R. procedure w MMCC | 13 | 1.2617 | 31.5 | 26.3
970 | 969 | HIV w extensive O.R. procedure w/o MCC* | 3 | 1.2617 | 31.5 | 26.3
974 | 974 | HIV w major related condition w MMCC | 196 | 1.0056 | 21.9 | 18.3
975 | 974 | HIV w major related condition w MCC | 85 | 0.6433 | 18.3 | 15.3
976 | 974 | HIV w major related condition w/o CC/MMCC | 16 | 0.6327 | 21.6 | 18.0
977 | 977 | HIV w or w/o other related condition | 45 | 0.6975 | 19.0 | 15.8
981 | 981 | Extensive O.R. procedure unrelated to principal diagnosis w MMCC | 1,143 | 2.3516 | 43.1 | 35.9
982 | 981 | Extensive O.R. procedure unrelated to principal diagnosis w MCC | 290 | 1.4645 | 35.2 | 29.3
983 | 981 | Extensive O.R. procedure unrelated to principal diagnosis w/o CC/MMCC | 26 | 1.1662 | 31.9 | 26.6
984 | 984 | Prostatic O.R. procedure unrelated to principal diagnosis w MMCC | 16 | 1.2617 | 31.5 | 26.3
985 | 984 | Prostatic O.R. procedure unrelated to principal diagnosis w MCC | 9 | 1.2617 | 31.5 | 26.3
986 | 984 | Prostatic O.R. procedure unrelated to principal diagnosis w/o CC/MMCC | 0 | 1.2617 | 31.5 | 26.3
987 | 987 | Non-extensive O.R. proc unrelated to principal diagnosis w MMCC | 419 | 1.7561 | 36.4 | 30.3
988 | 987 | Non-extensive O.R. proc unrelated to principal diagnosis w MCC | 218 | 1.1596 | 33.9 | 28.3
989 | 987 | Non-extensive O.R. proc unrelated to principal diagnosis w/o CC/MMCC | 10 | 0.8596 | 25.2 | 21.0
998 | 998 | Ungroupable | 0 | 0.0000 | 0.0 | 0.0
999 | 999 | Principal diagnosis invalid as discharge diagnosis | 0 | 0.0000 | 0.0 | 0.0
¹ The proposed SSO Threshold is calculated as ⅚th of the geometric average length of stay of the proposed MS-LTC-DRG (as specified at § 412.529 in conjunction with § 412.503).
* In determining the proposed MS-LTC-DRG relative weights, these proposed MS-LTC-DRGs were adjusted for nonmonotonicity as discussed in section II.I.4. (step 6) of the preamble of this proposed rule.

Appendix A—Regulatory Impact Analysis

I. Overall Impact

We have examined the impacts of this proposed rule as required by Executive Order 12866 (September 1993, Regulatory Planning and Review) and the Regulatory Flexibility Act (RFA) (September 19, 1980, Pub. L. 96-354), section 1102(b) of the Social Security Act, the Unfunded Mandates Reform Act of 1995 (Pub. L. 104-4), Executive Order 13132 on Federalism, and the Congressional Review Act (5 U.S.C. 804(2)).

Executive Order 12866 (as amended by Executive Order 13258) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We have determined that this proposed rule is a major rule as defined in 5 U.S.C. 804(2). We estimate that the proposed changes for FY 2009 operating and capital payments would redistribute in excess of $100 million among different types of inpatient cases. The market basket update to the IPPS rates required by the statute, in conjunction with other payment changes in this proposed rule, would result in an approximate $4 billion increase in FY 2009 operating and capital payments. Our impact estimate includes the −0.9 percent adjustment for documentation and coding changes to the IPPS standardized amounts and capital Federal rates for FY 2009 in accordance with section 7 of Pub. L. 110-90. For purposes of the impact analysis, we also assume an additional 1.8 percent increase in case-mix between FY 2008 and FY 2009 because we believe the adoption of the MS-DRGs will result in case-mix growth due to documentation and coding changes that do not reflect real changes in patient severity of illness. The estimates of IPPS operating payments do not reflect any changes in hospital admissions or real case-mix intensity, which would also affect overall payment changes.

The RFA requires agencies to analyze options for regulatory relief of small businesses. For purposes of the RFA, small entities include small businesses, nonprofit organizations, and small government jurisdictions. Most hospitals and most other providers and suppliers are considered to be small entities, either by being nonprofit organizations or by meeting the Small Business Administration definition of a small business (having revenues of $31.5 million or less in any 1 year). (For details on the latest standards for heath care providers, we refer readers to page 33 of the Table of Small Business Size Standards at the Small Business Administration Web site at: http://www.sba.gov/services/contractingopportunities/sizestandardstopics/tableofsize/index.html.) For purposes of the RFA, all hospitals and other providers and suppliers are considered to be small entities. Individuals and States are not included in the definition of a small entity. We believe that this proposed rule would have a significant impact on small entities as explained in this Appendix. Because we acknowledge that many of the affected entities are small entities, the analysis discussed throughout the preamble of this proposed rule constitutes our initial regulatory flexibility analysis. Therefore, we are soliciting comments on our estimates and analysis of the impact of the proposed rule on those small entities.

In addition, section 1102(b) of the Act requires us to prepare a regulatory impact analysis for any proposed or final rule that may have a significant impact on the operations of a substantial number of small rural hospitals. This analysis must conform to the provisions of section 603 of the RFA. With the exception of hospitals located in certain New England counties, for purposes of section 1102(b) of the Act, we now define a small rural hospital as a hospital that is located outside of an urban area and has fewer than 100 beds. Section 601(g) of the Social Security Amendments of 1983 (Pub. L. 98-21) designated hospitals in certain New England counties as belonging to the adjacent urban area. Thus, for purposes of the IPPS, we continue to classify these hospitals as urban hospitals.

Section 202 of the Unfunded Mandates Reform Act of 1995 (Pub. L. 104-4) also requires that agencies assess anticipated costs and benefits before issuing any rule whose mandates require spending in any 1 year of $100 million in 1995 dollars, updated annually for inflation. That threshold level is currently approximately $130 million. This proposed rule will not mandate any requirements for State, local, or tribal governments, nor will it affect private sector costs.

Executive Order 13132 establishes certain requirements that an agency must meet when it promulgates a proposed rule (and subsequent final rule) that imposes substantial direct requirement costs on State and local governments, preempts State law, or otherwise has Federalism implications. As stated above, this proposed rule would not have a substantial effect on State and local governments.

The following analysis, in conjunction with the remainder of this document, demonstrates that this proposed rule is consistent with the regulatory philosophy and principles identified in Executive Order 12866, the RFA, and section 1102(b) of the Act. The proposed rule would affect payments to a substantial number of small rural hospitals, as well as other classes of hospitals, and the effects on some hospitals may be significant.

II. Objectives

The primary objective of the IPPS is to create incentives for hospitals to operate efficiently and minimize unnecessary costs while at the same time ensuring that payments are sufficient to adequately compensate hospitals for their legitimate costs. In addition, we share national goals of preserving the Medicare Hospital Insurance Trust Fund.

We believe the proposed changes in this proposed rule would further each of these goals while maintaining the financial viability of the hospital industry and ensuring access to high quality health care for Medicare beneficiaries. We expect that these proposed changes would ensure that the outcomes of this payment system are reasonable and equitable while avoiding or minimizing unintended adverse consequences.

III. Limitations of Our Analysis

The following quantitative analysis presents the projected effects of our proposed policy changes, as well as statutory changes effective for FY 2009, on various hospital groups. We estimate the effects of individual proposed policy changes by estimating payments per case while holding all other payment policies constant. We use the best data available, but, generally, we do not attempt to make adjustments for future changes in such variables as admissions, lengths of stay, or case-mix. However, in the FY 2008 IPPS final rule, we indicated that we believe that implementation of the MS-DRGs would lead to increases in case-mix that do not reflect actual increases in patients' severity of illness as a result of more comprehensive documentation and coding. As explained in section II.D. of the preamble of this proposed rule, the FY 2008 IPPS final rule with comment period established a documentation and coding adjustment of −1.2 percent for FY 2008, −1.8 percent for FY 2009, and −1.8 percent for FY 2010 to maintain budget neutrality for the transition to the MS DRGs. Subsequently, Congress enacted Pub. L. 110-90. Section 7 of Public L. 110-90 reduced the IPPS documentation and coding adjustment from −1.2 percent to −0.6 percent for FY 2008 and from −1.8 percent to −0.9 percent for FY 2009. Following enactment of Pub. L. 110-90, we revised the FY 2008 standardized amounts (as well as other affected payment factors and thresholds) to reflect the −0.6 percent FY 2008 documentation and coding adjustment. The proposed FY 2009 IPPS national standardized amount included in this proposed rule reflects the documentation and coding adjustment of −0.9 percent for FY 2009. While we have adopted the statutorily mandated documentation and coding adjustments for payment purposes, we continue to believe that an increase in case-mix of 1.8 percent between FY 2008 and FY 2009 is likely as a result of the adoption of the MS DRGs. The impacts shown below illustrate the impact of the FY 2009 IPPS changes on hospital operating payments, including the −0.9 percent FY 2009 documentation and coding adjustment to the IPPS national standardized amounts, both prior to and following the expected 1.8 percent growth in case-mix between FY 2008 and FY 2009. As we have done in the previous rules, we are soliciting comments and information about the anticipated effects of the proposed changes on hospitals and our methodology for estimating them.

IV. Hospitals Included in and Excluded From the IPPS

The prospective payment systems for hospital inpatient operating and capital-related costs encompass most general short-term, acute care hospitals that participate in the Medicare program. There were 35 Indian Health Service hospitals in our database, which we excluded from the analysis due to the special characteristics of the prospective payment methodology for these hospitals. Among other short-term, acute care hospitals, only the 46 such hospitals in Maryland remain excluded from the IPPS under the waiver at section 1814(b)(3) of the Act.

As of March 2008, there are 3,528 IPPS hospitals to be included in our analysis. This represents about 58 percent of all Medicare-participating hospitals. The majority of this impact analysis focuses on this set of hospitals. There are also approximately 1,311 CAHs. These small, limited service hospitals are paid on the basis of reasonable costs rather than under the IPPS. There are also 1,219 specialty hospitals and 2,291 specialty units that are excluded from the IPPS. These specialty hospitals include IPFs, IRFs, LTCHs, RNHCIs, children's hospitals, and cancer hospitals. Changes in payments for IPFs and IRFs are made through other separate rulemaking. Payment impacts for these specialty hospitals and units are not included in this proposed rule. There is also a separate rule to update and make changes to the LTCH PPS for its current July 1 through June 30 rate year (RY). However, we have traditionally used the IPPS rule to update the LTCH patient classifications and relative weights because the LTCH PPS uses the same DRGs as the IPPS, resulting in the LTCH relative weights being reclassified and recalibrated according to the same schedule as the IPPS (that is, for each Federal fiscal year). The impacts of our policy changes on LTCHs, where applicable, are discussed below. (We note that, as discussed in section II.I. of the preamble of this proposed rule, in the RY 2009 LTCH PPS proposed rule 73 FR 5351 through 5352), we proposed to move the annual LTCH PPS RY update (currently effective July 1) to be effective October 1 through September 30 (the Federal fiscal year) each year beginning October 1, 2009. Under this proposal, RY 2009 would be extended 3 months, such that RY 2009 would be the 15-month period of July 1, 2008 through September 30, 2009.)

V. Effects on Excluded Hospitals and Hospital Units

As of March 2008, there were 1,219 hospitals excluded from the IPPS. Of these 1,219 hospitals, 314 IPFs, 78 children's hospitals, 11 cancer hospitals, and 19 RNHCIs are either being paid on a reasonable cost basis or have a portion of the PPS payment based on reasonable cost principles subject to the rate-of-increase ceiling under § 413.40. The remaining providers, 221 IRFs, 394 LTCHs, and 182 IPFs, are paid 100 percent of the Federal prospective rate under the IRF PPS and the LTCH PPS, respectively, or 100 percent of the Federal per diem amount under the IPF PPS. As stated above, IRFs and IPFs are not affected by this proposed rule. The impacts of the changes to LTCHs are discussed separately below. In addition, there are 1,319 IPFs co-located in hospitals otherwise subject to the IPPS, 788 of which are paid on a blend of the IPF PPS per diem payment and the reasonable cost-based payment. The remaining 531 IPF units are paid 100 percent of the Federal amount under the IPF PPS. There are 972 IRFs (paid under the IRF PPS) co-located in hospitals otherwise subject to the IPPS.

In the past, hospitals and units excluded from the IPPS have been paid based on their reasonable costs subject to limits as established by the Tax Equity and Fiscal Responsibility Act of 1982 (TEFRA). Hospitals that continue to be paid fully on a reasonable cost basis are subject to TEFRA limits for FY 2009. For these hospitals (cancer and children's hospitals), consistent with section 1886(b)(3)(B)(ii) of the Act, we are proposing an update that is the percentage increase in the FY 2009 IPPS operating market basket, which is estimated to be 3.0 percent, based on Global Insights, Inc.'s 2008 first quarter forecast of the IPPS operating market basket increase. In addition, in accordance with § 403.752(a) of the regulations, RNHCIs are paid under § 413.40, which also uses section 1886(b)(3)(B)(ii) of the Act to update target amounts by the rate-of-increase percentage. For RNHCIs, the proposed update is the percentage increase in the FY 2009 IPPS operating market basket increase, which is estimated to be 3.0 percent, based on Global Insight, Inc.'s 2008 first quarter forecast of the IPPS operating market basket increase.

The final rule implementing the IPF PPS (69 FR 66922) established a 3-year transition to the IPF PPS during which some providers received a blend of the IPF PPS per diem payment and the TEFRA reasonable cost-based payment. This transitional period for a blended payment amount for IPFs ended for cost reporting periods that began on or after January 1, 2008. Because the reasonable cost-based amount is zero percent for cost reporting periods beginning during CY 2008, no IPF will have a portion of its PPS payment that is based in part on reasonable cost subject to the rate-of-increase ceiling during FY 2009. Thus, there is no longer a need for an update factor for IPFs' TEFRA target amount for FY 2009 and thereafter.

The impact on excluded hospitals and hospital units of the proposed update in the rate-of-increase limit depends on the cumulative cost increases experienced by each excluded hospital or unit since its applicable base period. For excluded hospitals and units that have maintained their cost increases at a level below the rate-of-increase limits since their base period, the major effect is on the level of incentive payments these hospitals and hospital units receive. Conversely, for excluded hospitals and hospital units with per-case cost increases above the cumulative update in their rate-of-increase limits, the major effect is the amount of excess costs that will not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and hospital units can obtain payment adjustments for justifiable increases in operating costs that exceed the limit.

VI. Quantitative Effects of the Proposed Policy Changes Under the IPPS for Operating Costs

A. Basis and Methodology of Estimates

In this proposed rule, we are announcing proposed policy changes and payment rate updates for the IPPS for operating costs. Changes to the capital payments are discussed in section VIII. of this Appendix.

Based on the overall percentage change in payments per case estimated using our payment simulation model, we estimate that total FY 2009 operating payments will increase 4.1 percent compared to FY 2008, largely due to the statutorily mandated update to the IPPS rates. This amount also reflects the −0.9 percent FY 2009 documentation and coding adjustment to the IPPS national standardized amounts and our assumption of an additional 1.8 percent increase in case-mix between FY 2008 and FY 2009 as a result of improvements in documentation and coding that do not represent real increases in underlying resource demands and patient acuity due to the adoption of the MS-DRGs. The impacts do not illustrate changes in hospital admissions or real case-mix intensity, which will also affect overall payment changes.

We have prepared separate impact analyses of the changes to each system. This section deals with changes to the operating prospective payment system. Our payment simulation model relies on the most recent available data to enable us to estimate the impacts on payments per case of certain changes in this proposed rule. However, there are other changes for which we do not have data available that would allow us to estimate the payment impacts using this model. For those changes, we have attempted to predict the payment impacts based upon our experience and other more limited data.

The data used in developing the quantitative analyses of changes in payments per case presented below are taken from the FY 2007 MedPAR file and the most current Provider-Specific File that is used for payment purposes. Although the analyses of the changes to the operating PPS do not incorporate cost data, data from the most recently available hospital cost report were used to categorize hospitals. Our analysis has several qualifications. First, in this analysis, we do not make adjustments for future changes in such variables as admissions, lengths of stay, or underlying growth in real case-mix. Second, due to the interdependent nature of the IPPS payment components, it is very difficult to precisely quantify the impact associated with each change. Third, we use various sources for the data used to categorize hospitals in the tables. In some cases, particularly the number of beds, there is a fair degree of variation in the data from different sources. We have attempted to construct these variables with the best available source overall. However, for individual hospitals, some miscategorizations are possible.

Using cases from the FY 2007 MedPAR file, we simulated payments under the operating IPPS given various combinations of payment parameters. Any short-term, acute care hospitals not paid under the IPPS (Indian Health Service hospitals and hospitals in Maryland) were excluded from the simulations. The impact of payments under the capital IPPS, or the impact of payments for costs other than inpatient operating costs, are not analyzed in this section. Estimated payment impacts of FY 2009 changes to the capital IPPS are discussed in section VIII. of this Appendix.

The changes discussed separately below are the following:

• The effects of the annual reclassification of diagnoses and procedures, full implementation of the MS-DRG system and 100 percent cost-based DRG relative weights,

• The effects of the changes in hospitals' wage index values reflecting wage data from hospitals’ cost reporting periods beginning during FY 2005, compared to the FY 2004 wage data.

• The effects of the recalibration of the DRG relative weights as required by section 1886(d)(4)(C) of the Act, including the wage and recalibration budget neutrality factors.

• The effects of geographic reclassifications by the MGCRB that will be effective in FY 2009.

• The effects of the proposal to apply the rural floor budget neutrality adjustment at the State level, redistributing payments within the State, rather than adjusting payments to hospitals in other States.

• The effects of the proposal to apply the imputed rural floor budget neutrality adjustment to the wage index at the State-level, rather than applying it to the standardized amount at the national level.

• The effects of section 505 of Pub. L. 108-173, which provides for an increase in a hospital's wage index if the hospital qualifies by meeting a threshold percentage of residents of the county where the hospital is located who commute to work at hospitals in counties with higher wage indexes.

• The effect of the budget neutrality adjustment being made for the adoption of the MS-DRGs under section 1886(d)(3)(A)(iv) of the Act for the change in aggregate payments that is a result of changes in the coding or classification of discharges that do not reflect real changes in case-mix.

• The total estimated change in payments based on the proposed FY 2009 policies relative to payments based on FY 2008 policies.

To illustrate the impacts of the proposed FY 2009 changes, our analysis begins with a FY 2008 baseline simulation model using: the proposed FY 2009 update of 3.0 percent; the FY 2008 DRG GROUPER (Version 25.0); the most current CBSA designations for hospitals based on OMB's MSA definitions; the FY 2008 wage index; and no MGCRB reclassifications. Outlier payments are set at 5.1 percent of total operating DRG and outlier payments.

Section 1886(b)(3)(B)(viii) of the Act, as added by section 5001(a) of Pub. L. 109-171, provides that for FY 2007 and subsequent years, the update factor will be reduced by 2.0 percentage points for any hospital that does not submit quality data in a form and manner and at a time specified by the Secretary. At the time this impact was prepared, 186 providers did not receive the full market basket rate-of-increase for FY 2008 because they failed the quality data submission process. For purposes of the simulations shown below, we modeled the proposed payment changes for FY 2009 using a reduced update for these 186 hospitals. However, we do not have enough information to determine which hospitals will not receive the full market basket rate-of-increase for FY 2009 at this time.

Each policy change, statutorily or otherwise, is then added incrementally to this baseline, finally arriving at an FY 2009 model incorporating all of the proposed changes. This simulation allows us to isolate the effects of each proposed change.

Our final comparison illustrates the proposed percent change in payments per case from FY 2008 to FY 2009. Three factors not discussed separately have significant impacts here. The first is the update to the standardized amount. In accordance with section 1886(b)(3)(B)(i) of the Act, we are updating the standardized amounts for FY 2009 using the most recently forecasted hospital market basket increase for FY 2009 of 3.0 percent. (Hospitals that fail to comply with the quality data submission requirements to receive the full update will receive an update reduced by 2.0 percentage points to 1.0 percent.) Under section 1886(b)(3)(B)(iv) of the Act, the updates to the hospital-specific amounts for SCHs and for MDHs are also equal to the market basket increase, or 3.0 percent.

A second significant factor that affects the proposed changes in hospitals' payments per case from FY 2008 to FY 2009 is the change in a hospital's geographic reclassification status from one year to the next. That is, payments may be reduced for hospitals reclassified in FY 2008 that are no longer reclassified in FY 2009. Conversely, payments may increase for hospitals not reclassified in FY 2008 that are reclassified in FY 2009. Particularly with the expiration of section 508 of Pub. L. 108-173, the reclassification provision, these impacts can be quite substantial, so if a relatively small number of hospitals in a particular category lose their reclassification status, the percentage change in payments for the category may be below the national mean.

A third significant factor is that we currently estimate that actual outlier payments during FY 2008 will be 4.8 percent of total DRG payments. When the FY 2008 final rule was published, we projected FY 2008 outlier payments would be 5.1 percent of total DRG plus outlier payments; the average standardized amounts were offset correspondingly. The effects of the lower than expected outlier payments during FY 2009 (as discussed in the Addendum to this proposed rule) are reflected in the analyses below comparing our current estimates of FY 2008 payments per case to estimated FY 2009 payments per case (with outlier payments projected to equal 5.1 percent of total DRG payments).

B. Analysis of Table I

Table I displays the results of our analysis of the proposed changes for FY 2009. The table categorizes hospitals by various geographic and special payment consideration groups to illustrate the varying impacts on different types of hospitals. The top row of the table shows the overall impact on the 3,528 hospitals included in the analysis.

The next four rows of Table I contain hospitals categorized according to their geographic location: all urban, which is further divided into large urban and other urban; and rural. There are 2,542 hospitals located in urban areas included in our analysis. Among these, there are 1,402 hospitals located in large urban areas (populations over 1 million), and 1,140 hospitals in other urban areas (populations of 1 million or fewer). In addition, there are 986 hospitals in rural areas. The next two groupings are by bed-size categories, shown separately for urban and rural hospitals. The final groupings by geographic location are by census divisions, also shown separately for urban and rural hospitals.

The second part of Table I shows hospital groups based on hospitals' FY 2009 payment classifications, including any reclassifications under section 1886(d)(10) of the Act. For example, the rows labeled urban, large urban, other urban, and rural show that the number of hospitals paid based on these categorizations after consideration of geographic reclassifications (including reclassifications under section 1886(d)(8)(B) and section 1886(d)(8)(E) of the Act that have implications for capital payments) are 2,584, 1,424, 1,160 and 944, respectively.

The next three groupings examine the impacts of the proposed changes on hospitals grouped by whether or not they have GME residency programs (teaching hospitals that receive an IME adjustment) or receive DSH payments, or some combination of these two adjustments. There are 2,485 nonteaching hospitals in our analysis, 805 teaching hospitals with fewer than 100 residents, and 238 teaching hospitals with 100 or more residents.

In the DSH categories, hospitals are grouped according to their DSH payment status, and whether they are considered urban or rural for DSH purposes. The next category groups together hospitals considered urban after geographic reclassification, in terms of whether they receive the IME adjustment, the DSH adjustment, both, or neither.

The next five rows examine the impacts of the proposed changes on rural hospitals by special payment groups (SCHs, RRCs, and MDHs). There were 197 RRCs, 355 SCHs, 156 MDHs, 102 hospitals that are both SCHs and RRCs, and 12 hospitals that are both an MDH and an RRC.

The next series of groupings are based on the type of ownership and the hospital's Medicare utilization expressed as a percent of total patient days. These data were taken from the FY 2005 Medicare cost reports.

The next two groupings concern the geographic reclassification status of hospitals. The first grouping displays all urban hospitals that were reclassified by the MGCRB for FY 2009. The second grouping shows the MGCRB rural reclassifications. The final category shows the impact of the proposed policy changes on the 20 cardiac specialty hospitals in our analysis.

Table I.—Impact Analysis of Proposed Changes for FY 2009
| Number of hospitals ¹ | Proposed FY 2009 cost based DRG Weights & MS-DRG changes ² | Proposed FY 2009 wage data ³ | Proposed FY 2009 DRG, rel. wts. and wage index changes ⁴ | FY 2009 MGCRB Reclassifications ⁵ | Application of proposed rural floor and imputed rural floor, including proposed within state budget neutrality ⁶ | Proposed FY 2009 out-migration adjustment ⁷ | All proposed FY 2009 changes w/CMI adjustment prior to estimated CMI growth ⁸ | All proposed FY 2009 changes w/CMI adjustment and estimated CMI growth ⁹
| (1) | (2) | (3) | (4) | (5) | (6) | (7) | (8) | (9)
All Hospitals | 3,528 | 0.1 | −0.1 | 0 | 0 | 0 | 0 | 2.3 | 4.1
By Geographic Location:
Urban hospitals | 2,542 | 0.2 | −0.1 | 0.1 | −0.2 | 0 | 0 | 2.4 | 4.2
Large urban areas | 1,402 | 0.5 | −0.1 | 0.3 | −0.4 | −0.1 | 0 | 2.6 | 4.4
Other urban areas | 1,140 | 0 | 0 | −0.1 | −0.1 | 0.1 | 0 | 2.2 | 3.9
Rural hospitals | 986 | −1 | 0 | −1.1 | 2.1 | −0.1 | 0.1 | 1.5 | 3.3
Bed Size (Urban):
0-99 beds | 643 | −0.7 | −0.1 | −0.8 | −0.4 | 0.1 | 0 | 1.6 | 3.4
100-199 beds | 829 | 0.1 | 0 | 0 | −0.1 | 0.1 | 0 | 2.2 | 4
200-299 beds | 483 | 0.2 | 0 | 0.2 | −0.2 | −0.1 | 0 | 2.4 | 4.2
300-499 beds | 411 | 0.3 | 0 | 0.3 | −0.2 | 0 | 0 | 2.6 | 4.3
500 or more beds | 176 | 0.5 | −0.3 | 0.1 | −0.3 | 0 | 0 | 2.5 | 4.3
Bed Size (Rural):
0-49 beds | 338 | −2.3 | 0.1 | −2.3 | 0.6 | 0 | 0.2 | 0.7 | 2.5
50-99 beds | 373 | −1.2 | 0 | −1.3 | 1.1 | −0.1 | 0.2 | 1.2 | 3
100-149 beds | 166 | −0.9 | 0.1 | −0.8 | 2.5 | 0 | 0.1 | 1.5 | 3.3
150-199 beds | 67 | −0.6 | −0.1 | −0.8 | 3 | −0.1 | 0 | 2 | 3.8
200 or more beds | 42 | −0.3 | −0.1 | −0.4 | 3.2 | −0.1 | 0 | 2.1 | 3.9
Urban by Region:
New England | 121 | 0 | 0 | −0.1 | 0.5 | 0.1 | 0 | 1.2 | 3
Middle Atlantic | 348 | 0 | −0.5 | −0.5 | 0.1 | 0 | 0 | 1.2 | 3
South Atlantic | 385 | 0.4 | −0.3 | 0.1 | −0.4 | 0 | 0 | 2.7 | 4.4
East North Central | 394 | 0.5 | −0.5 | −0.1 | −0.4 | 0 | 0 | 2.4 | 4.1
East South Central | 163 | −0.1 | −0.2 | −0.2 | −0.2 | 0 | 0 | 2.4 | 4.2
West North Central | 157 | −0.1 | 0.2 | 0.1 | −0.7 | 0 | 0 | 2.8 | 4.5
West South Central | 371 | 0.4 | 0 | 0.3 | −0.6 | 0 | 0 | 2.9 | 4.7
Mountain | 157 | 0.3 | 0.1 | 0.5 | −0.2 | 0 | 0 | 3.2 | 5
Pacific | 393 | 0.4 | 0.9 | 1.2 | −0.2 | 0 | 0 | 3.4 | 5.2
Puerto Rico | 53 | −0.2 | −0.7 | −0.9 | −0.7 | 0 | 0 | 1.4 | 3.2
Rural by Region:
New England | 23 | −0.8 | −0.4 | −1.3 | 2.4 | −0.9 | 0 | 0.6 | 2.3
Middle Atlantic | 70 | −0.9 | −0.1 | −1.1 | 2 | 0 | 0.1 | 1.3 | 3.1
South Atlantic | 172 | −0.6 | −0.1 | −0.7 | 2.2 | 0 | 0.1 | 1.9 | 3.7
East North Central | 121 | −0.9 | −0.3 | −1.3 | 1.6 | 0 | 0.1 | 1.4 | 3.2
East South Central | 176 | −1.3 | −0.1 | −1.4 | 2.7 | 0 | 0.1 | 1.6 | 3.4
West North Central | 113 | −0.9 | 0.1 | −0.8 | 1.7 | 0 | 0.1 | 1.6 | 3.4
West South Central | 200 | −1.7 | 0.5 | −1.3 | 2.5 | 0 | 0.1 | 1.3 | 3.1
Mountain | 75 | −0.9 | 0 | −1 | 0.5 | 0 | 0.1 | 1.2 | 3.1
Pacific | 36 | −0.7 | 0.6 | −0.2 | 1.8 | −0.3 | 0 | 1.8 | 3.6
By Payment Classification:
Urban hospitals | 2,584 | 0.2 | −0.1 | 0.1 | −0.2 | 0 | 0 | 2.4 | 4.2
Large urban areas | 1,424 | 0.4 | −0.1 | 0.3 | −0.4 | −0.1 | 0 | 2.6 | 4.4
Other urban areas | 1,160 | 0 | 0 | −0.1 | 0 | 0.1 | 0 | 2.2 | 3.9
Rural areas | 944 | −1 | 0 | −1.1 | 2 | −0.1 | 0.1 | 1.5 | 3.3
Teaching Status:
Nonteaching | 2,485 | −0.2 | 0 | −0.2 | 0.3 | 0 | 0 | 2.2 | 4
Fewer than 100 residents | 805 | 0.2 | 0 | 0.1 | −0.2 | 0 | 0 | 2.4 | 4.2
100 or more residents | 238 | 0.5 | −0.3 | 0.2 | −0.3 | 0 | 0 | 2.5 | 4.2
Urban DSH:
Non-DSH | 838 | −0.3 | −0.2 | −0.4 | −0.1 | 0 | 0 | 1.8 | 3.6
100 or more beds | 1,534 | 0.4 | −0.1 | 0.3 | −0.3 | 0 | 0 | 2.6 | 4.3
Less than 100 beds | 354 | −0.7 | 0 | −0.8 | 0 | 0 | 0 | 1.6 | 3.4
Rural DSH:
SCH | 389 | −1.5 | 0 | −1.5 | 0.4 | 0 | 0.1 | 1.5 | 3.3
RRC | 206 | −0.6 | 0 | −0.6 | 3.4 | −0.1 | 0 | 1.9 | 3.7
100 or more beds | 39 | −0.8 | 0 | −0.9 | 1.3 | 0 | 0.4 | 1.3 | 3.1
Less than 100 beds | 168 | −1.7 | 0 | −1.8 | 1.3 | 0 | 0.3 | 0.6 | 2.4
Urban teaching and DSH:
Both teaching and DSH | 811 | 0.4 | −0.1 | 0.3 | −0.4 | 0 | 0 | 2.5 | 4.3
Teaching and no DSH | 172 | −0.1 | −0.2 | −0.3 | 0 | 0 | 0 | 1.8 | 3.6
No teaching and DSH | 1,077 | 0.2 | 0 | 0.2 | 0 | 0.1 | 0 | 2.5 | 4.3
No teaching and no DSH | 524 | −0.2 | −0.2 | −0.4 | −0.3 | 0 | 0 | 1.9 | 3.7
Special Hospital Types:
RRC | 197 | −0.4 | −0.1 | −0.4 | 3.2 | 0 | 0 | 2.3 | 4.1
SCH | 355 | −1.3 | 0.1 | −1.3 | 0.4 | 0 | 0.1 | 1.2 | 3
MDH | 156 | −1.8 | 0.1 | −1.8 | 0.5 | 0 | 0.2 | 2 | 3.8
SCH and RRC | 102 | −0.5 | 0.1 | −0.5 | 1.7 | 0 | 0 | 2.2 | 4.1
MDH and RRC | 12 | −1.3 | 0.1 | −1.3 | 0.9 | −0.3 | 0 | 1 | 2.8
Type of Ownership:
Voluntary | 2,027 | 0.1 | −0.1 | 0 | 0 | 0 | 0 | 2.3 | 4
Proprietary | 827 | 0 | 0 | −0.1 | 0 | −0.1 | 0 | 2.4 | 4.1
Government | 587 | 0.1 | −0.1 | 0 | 0.1 | 0.1 | 0 | 2.6 | 4.4
Medicare Utilization as a Percent of Inpatient Days:
0-25 | 255 | 0.8 | −0.1 | 0.7 | −0.4 | −0.2 | 0 | 3.2 | 4.9
25-50 | 1,350 | 0.3 | 0 | 0.3 | −0.3 | 0 | 0 | 2.7 | 4.4
50-65 | 1,431 | −0.1 | −0.2 | −0.3 | 0.4 | 0.1 | 0 | 1.9 | 3.7
Over 65 | 392 | −0.8 | −0.2 | −1 | 0.5 | 0 | 0.1 | 1.2 | 3
FY 2009 Reclassifications by the Medicare Geographic Classification Review Board:
All Reclassified Hospitals | 805 | 0 | 0 | 0 | 2 | −0.1 | 0 | 2.1 | 3.8
Non-Reclassified Hospitals | 2,723 | 0.2 | −0.1 | 0 | −0.7 | 0 | 0 | 2.4 | 4.2
Urban Hospitals Reclassified | 445 | 0.2 | 0 | 0.2 | 1.5 | −0.2 | 0 | 2.1 | 3.9
Urban Nonreclassified, FY 2009 | 2,075 | 0.3 | −0.1 | 0.1 | −0.7 | 0.1 | 0 | 2.5 | 4.3
All Rural Hospitals Reclassified Full Year FY 2009 | 360 | −0.7 | 0 | −0.7 | 3.3 | −0 | 0 | 1.8 | 3.7
Rural Nonreclassified Hospitals Full Year FY 2009 | 565 | −1.5 | −0 | −1.6 | −0.4 | −0.1 | 0.3 | 1 | 2.8
All Section 401 Reclassified Hospitals | 29 | −1.3 | −0.2 | −1.6 | 0.6 | 0 | 0 | 1.6 | 3.5
Other Reclassified Hospitals (Section 1886(d)(8)(B)) | 61 | −1 | −0.2 | −1.3 | 3.2 | −0.2 | 0.1 | 1 | 2.8
Specialty Hospitals
Cardiac specialty Hospitals | 20 | −2.2 | −0.1 | −2.4 | −0.7 | 0.1 | 0 | 0 | 1.8
¹ Because data necessary to classify some hospitals by category were missing, the total number of hospitals in each category may not equal the national total. Discharge data are from FY 2007, and hospital cost report data are from reporting periods beginning in FY 2006 and FY 2005.
² This column displays the payment impact of the changes to the V26 GROUPER and the recalibration of the DRG weights based on FY 2007 MedPAR data in accordance with section 1886(d)(4)(C)(iii) of the Act.
³ This column displays the payment impact of updating the wage index data to the FY 2005 cost report data.
⁴ This column displays the combined payment impact of the changes in column 2 and column 3 and the budget neutrality factors for DRG and wage index changes in accordance with section 1886(d)(4)(C)(iii) of the Act and section 1886(d)(3)(E) of the Act.
⁵ Shown here are the effects of geographic reclassifications by the Medicare Geographic Classification Review Board (MGCRB). The effects demonstrate the FY 2009 payment impact of going from no reclassifications to the reclassifications scheduled to be in effect for FY 2008. Reclassification for prior years has no bearing on the payment impacts shown here. This column reflects the geographic budget neutrality factor of 0.992333.
⁶ This column displays the effects of the rural floor and the imputed rural floor, including the proposal to apply the budget neutrality adjustment within State.
⁷ This column displays the impact of section 505 of Pub. L. 108-173, which provides for an increase in a hospital's wage index if the hospital qualifies by meeting a threshold percentage of residents of the county where the hospital is located who commute to work at hospitals in counties with higher wage indexes.
⁸ This column shows changes in payments from FY 2008 to FY 2009, including the proposed FY 2009 −0.9 percent documentation and coding adjustment, but not the projected 1.8 percent increase in case-mix expected to occur in FY 2009 due to improvements in documentation and coding. It incorporates all of the changes displayed in Columns 4, 5, 6, 7 (the changes displayed in Columns 2 and 3 are included in Column 4). It also reflects the impact of the FY 2009 update, and changes in hospitals' reclassification status in FY 2009 compared to FY 2008.
⁹ This column shows changes in payments from FY 2008 to FY 2009 including the proposed FY 2009 −0.9 percent documentation and coding adjustment and the projected 1.8 percent increase in case-mix expected to occur in FY 2009 due to improvements in documentation and coding. It incorporates all of the changes displayed in Columns 4, 5, 6, 7, 8 (the changes displayed in Columns 2 and 3 are included in Column 4). It also reflects the impact of the FY 2008 update, and changes in hospitals' reclassification status in FY 2009 compared to FY 2008. The sum of these impacts may be different from the percentage changes shown here due to rounding and interactive effects.

C. Effects of the Proposed Changes to the MS-DRG Reclassifications and Relative Cost-Based Weights (Column 2)

In Column 2 of Table I, we present the effects of the DRG reclassifications, as discussed in section II. of the preamble to this proposed rule. Section 1886(d)(4)(C)(i) of the Act requires us annually to make appropriate classification changes in order to reflect changes in treatment patterns, technology, and any other factors that may change the relative use of hospital resources.

As discussed in the preamble of this proposed rule, the FY2009 DRG relative weights will be 100 percent cost-based and 100 percent MS-DRGs, thus completing our three year transition to cost-based relative weights and our two year transition to MS-DRGs. For FY 2009, the MS-DRGs are calculated using the FY2007 MedPAR data grouped to the Version 26.0 (FY2009) DRGs. The proposed methods of calculating the relative weights and the reclassification changes to the GROUPER are described in more detail in section II.H. of the preamble to this proposed rule. In previous years, this column would also reflect the effects of the recalibration budget neutrality factor that is applied to the hospital-specific rates and the Puerto Rico-specific standardized amount. However, for this proposed rule, we show the effects of the recalibration budget neutrality factor of 0.998700 in column 4. We note that, consistent with section 1886(d)(4)(C)(iii) of the Act, we are applying a budget neutrality factor to the national standardized amounts to ensure that the overall payment impact of the DRG changes (combined with the wage index changes) is budget neutral. This proposed wage and recalibration budget neutrality factor of 0.99525 is applied to payments in Column 4 and not Column 2.

The proposed changes to the relative weights and DRGs shown in column 2 are prior to any offset for budget neutrality. The “All Hospitals” line indicates that proposed changes in this column will increase payments by 0.1 percent. However, as stated earlier, the proposed changes shown in this column are combined with revisions to the wage index, and the budget neutrality adjustments made for these changes are shown in column 4. Thus, the impact after accounting only for budget neutrality for proposed changes to the DRG relative weights and classification is somewhat lower than the figures shown in this column (approximately 0.1 percent).

D. Effects of Proposed Wage Index Changes (Column 3)

Section 1886(d)(3)(E) of the Act requires that, beginning October 1, 1993, we annually update the wage data used to calculate the wage index. In accordance with this requirement, the wage index for FY 2009 is based on data submitted for hospital cost reporting periods beginning on or after October 1, 2004 and before October 1, 2005. The estimated impact of the proposed wage data on hospital payments is isolated in Column 3 by holding the other payment parameters constant in this simulation. That is, Column 3 shows the percentage changes in payments when going from a model using the FY 2008 wage index, based on FY 2004 wage data and having a 100-percent occupational mix adjustment applied, to a model using the FY 2009 pre-reclassification wage index, also having a 100-percent occupational mix adjustment applied, based on FY 2005 wage data (while holding other payment parameters such as use of the version 26.0 DRG grouper constant). The wage data collected on the FY 2005 cost report include overhead costs for contract labor that were not collected on FY 2004 and earlier cost reports. The impacts below incorporate the effects of the FY 2005 wage data collected on hospital cost reports, including additional overhead costs for contract labor compared to the wage data from FY 2004 cost reports that were used to calculate the FY 2008 wage index.

Column 3 shows the impacts of updating the wage data using FY 2004 cost reports. Overall, the new wage data will lead to a −0.1 percent change for all hospitals before application of the wage and DRG recalibration budget neutrality adjustment shown in column 4. Thus, the figures in this column are approximately 0.1 below what they otherwise would be if they also illustrated a budget neutrality adjustment solely for changes to the wage index. Among the regions, the largest increase is in the urban Pacific region, which experiences a 0.9 percent increase before applying an adjustment for budget neutrality. The largest decline from updating the wage data is seen in Puerto Rico (0.7 percent decrease).

In looking at the wage data itself, the national average hourly wage increased 4.2 percent compared to FY 2008. Therefore, the only manner in which to maintain or exceed the previous year's wage index was to match or exceed the national 4.2 percent increase in average hourly wage. Of the 3,457 hospitals with wage data for both FYs 2008 and 2009, 1,707, or 49.4 percent, experienced an average hourly wage increase of 4.2 percent or more.

The following chart compares the shifts in wage index values for hospitals for FY 2009 relative to FY 2008. Among urban hospitals, 32 will experience an increase of more than 5 percent and less than 10 percent and 5 will experience an increase of more than 10 percent. Among rural hospitals, none will experience an increase of more than 5 percent and less than 10 percent, and none will experience an increase of more than 10 percent. However, 972 rural hospitals will experience increases or decreases of less than 5 percent, while 2,420 urban hospitals will experience increases or decreases of less than 5 percent. Eighteen urban hospitals will experience decreases in their wage index values of more than 5 percent and less than 10 percent. Ten urban hospitals will experience decreases in their wage index values of greater than 10 percent. No rural hospitals will experience decreases of more than 5 percent. These figures reflect changes in the wage index which is an adjustment to either 69.7 percent or 62 percent of a hospital's standardized amount depending upon whether its wage index is greater than 1.0 or less than or equal to 1.0. Therefore, these figures are illustrating a somewhat larger change in the wage index than would occur to the hospital's total payment.

The following chart shows the projected impact for urban and rural hospitals.

Percentage change in area wage index values | Number of hospitals: Urban | Number of hospitals: Rural
Increase more than 10 percent | 5 | 0
Increase more than 5 percent and less than 10 percent | 32 | 0
Increase or decrease less than 5 percent | 2,420 | 972
Decrease more than 5 percent and less than 10 percent | 18 | 0
Decrease more than 10 percent | 10 | 0

E. Combined Effects of Proposed MS-DRG and Wage Index Changes (Column 4)

Section 1886(d)(4)(C)(iii) of the Act requires that changes to MS-DRG reclassifications and the relative weights cannot increase or decrease aggregate payments. In addition, section 1886(d)(3)(E) of the Act specifies that any updates or adjustments to the wage index are to be budget neutral. As noted in the Addendum to this proposed rule, in determining the budget neutrality factor, we equated simulated aggregate payments for FY 2008 and FY 2009 using the FY 2007 Medicare utilization data after applying the changes to the DRG relative weights and the wage index.

We computed a wage and MS-DRG recalibration budget neutrality factor of 0.999525 (which is applied to the national standardized amounts) and a recalibration budget neutrality factor 0.998700 (which is applied to the hospital-specific rates and the Puerto Rico-specific standardized amount). The 0.0 percent impact for all hospitals demonstrates that the proposed MS-DRG and wage changes, in combination with the budget neutrality factor, are budget neutral. In Table I, the combined overall impacts of the effects of both the MS-DRG reclassifications and the updated wage index are shown in Column 4. The estimated changes shown in this column reflect the combined effects of the changes in Columns 2 and 3 and the budget neutrality factors discussed previously.

We estimate that the combined impact of the proposed changes to the relative weights and DRGs and the updated wage data with budget neutrality applied will increase payments to hospitals located in large urban areas (populations over 1 million) by approximately 0.3. These proposed changes would generally increase payments to hospitals in all urban areas (0.1 percent) and large teaching hospitals (0.2 percent). Rural hospitals will generally experience a decrease in payments (−1.1 percent). Among the rural hospital categories, rural hospitals with less than 50 beds will experience the greatest decline in payment (−2.3 percent) primarily due to the changes to MS-DRGs and the relative cost weights.

F. Effects of MGCRB Reclassifications (Column 5)

Our impact analysis to this point has assumed hospitals are paid on the basis of their actual geographic location (with the exception of ongoing policies that provide that certain hospitals receive payments on other bases than where they are geographically located). The proposed changes in Column 5 reflect the per case payment impact of moving from this baseline to a simulation incorporating the MGCRB decisions for FY 2009 which affect hospitals' wage index area assignments.

By February 28 of each year, the MGCRB makes reclassification determinations that will be effective for the next fiscal year, which begins on October 1. The MGCRB may approve a hospital's reclassification request for the purpose of using another area's wage index value. Hospitals may appeal denials of MGCRB decisions to the CMS Administrator. Further, hospitals have 45 days from publication of the IPPS rule in the Federal Register to decide whether to withdraw or terminate an approved geographic reclassification for the following year. This column reflects all MGCRB decisions, Administrator appeals and decisions of hospitals for FY 2009 geographic reclassifications.

The overall effect of geographic reclassification is required by section 1886(d)(8)(D) of the Act to be budget neutral. Therefore, we are proposing to apply an adjustment of 0.992333 to ensure that the effects of the section 1886(d)(10) reclassifications are budget neutral. (See section II.A. of the Addendum to this proposed rule.) Geographic reclassification generally benefits hospitals in rural areas. We estimate that geographic reclassification will increase payments to rural hospitals by an average of 2.1 percent.

G. Effects of the Proposed Rural Floor and Imputed Rural Floor, Including the Proposed Application of Budget Neutrality at the State Level (Column 6)

As discussed in section III.B. of the preamble of this FY 2009 proposed rule, section 4410 of Pub. L. 105-33 established the rural floor by requiring that the wage index for a hospital in any urban area cannot be less than the area wage index determined for the state's rural area. In FY 2008, we changed how we applied budget neutrality to the rural floor. Rather than applying a budget neutrality adjustment to the standardized amount, a uniform budget neutrality adjustment is applied to the wage index. For FY 2009, we are proposing to apply the rural floor budget neutrality adjustment at the State level, which would redistribute payments within the State rather than across all other providers within the Nation.

Furthermore, the FY 2005 IPPS final rule (69 FR 49109) established a temporary imputed rural floor for all urban States from FY 2005 to FY 2007. The rural floor requires that an urban wage index cannot be lower than the wage index for any rural hospital in that State. Therefore, an imputed rural floor was established for States that do not have rural areas or rural IPPS hospitals. In the FY 2008 IPPS final rule with comment period (72 FR 47321), we finalized our rule to extend the imputed rural floor for 1 additional year. In this proposed rule, we are proposing to extend the imputed rural floor for an additional 3 years through FY 2011. Furthermore, consistent with our proposal to apply the rural floor budget neutrality adjustment at the State level, we are proposing to apply the imputed rural floor budget neutrality adjustment to the wage index at the State level.

Column 6 shows the projected impact of the rural floor and the imputed rural floor, including the proposed application of the budget neutrality adjustment at the State level. The column compares the post-reclassification FY 2009 wage index of providers before the rural floor adjustment and the post-reclassification FY 2009 wage index of providers with the rural floor and imputed rural floor adjustment. Only urban hospitals can benefit from the rural floor provision. Because the provision is budget neutral, in prior years, all other hospitals (that is, all rural hospitals and those urban hospitals to which the adjustment is not made) had experienced a decrease in payments due to the budget neutrality adjustment applied nationally. However, under this proposal, States that have no hospitals receiving a rural floor wage index would no longer have a negative budget neutrality adjustment applied to their wage indices. Conversely, all hospitals in States with hospitals receiving a rural floor would have their wage indices downwardly adjusted to achieve budget neutrality within the State.

We project that, in aggregate, rural hospitals will experience a 0.1 percent decrease in payments. We project hospitals located in other urban areas (populations of 1 million or fewer) will experience a 0.1 percent increase in payments because the rural floor adjustment applies to urban hospitals. Rural New England hospitals can expect the greatest decrease in payment by 0.9 percent because hospitals in Vermont will receive a rural floor budget neutrality adjustment of 0.901 or a reduction of approximately 10 percent, and hospitals in Connecticut will receive a rural floor budget neutrality adjustment of 0.9639 or a reduction of approximately 4 percent. New Jersey, which is the only State that benefits from the imputed rural floor, is expected to receive a rural floor budget neutrality adjustment of 0.987838 or a reduction of approximately 1.2 percent.

The table that appears in section III B.2.b. of the preamble of this proposed rule shows how payments would change, at the State level, if we moved from our current policy of applying rural floor budget neutrality at the national level to our proposed policy to apply the rural floor budget neutrality within the State. The table shows that, under our current policy of applying budget neutrality at the national level, States that do not have any hospitals receiving the rural floor wage index would expect a decrease in payments because, in order to maintain budget neutrality nationally, these hospitals have to pay for the hospitals in other States that do receive a rural floor. For example, States such as Arizona, New York, and Rhode Island, which do not have hospitals receiving a rural floor, would expect to lose 0.2 percent in payments under a national rural floor budget neutrality adjustment. However, under our proposed policy to apply rural floor budget neutrality within each State, States that do not have hospitals receiving a floor would see an increase in payments (compared with our current policy of applying budget neutrality at the national level) because they would no longer have their wage indexes adjusted to maintain budget neutrality. However, all hospitals in States with hospitals receiving a rural floor would expect a decrease in their payments in order to achieve budget neutrality within their States (that is, the wage indices for hospitals in that State would be decreased in order to make the additional payments to hospitals in that State receiving the rural floor). Therefore, compared with our current policy of applying budget neutrality at the national level, States such as Arizona, New York, and Rhode Island could expect payment increases of 0.3 percent under a rural floor budget neutrality applied at the State level, while States such as California and Connecticut, which have several hospitals that benefit from the rural floor, could expect decreases in payments by 0.8 percent and 2.2 percent, respectively.

H. Effects of the Proposed Wage Index Adjustment for Out-Migration (Column 7)

Section 1886(d)(13) of the Act, as added by section 505 of Pub. L. 108-173, provides for an increase in the wage index for hospitals located in certain counties that have a relatively high percentage of hospital employees who reside in the county, but work in a different area with a higher wage index. Hospitals located in counties that qualify for the payment adjustment are to receive an increase in the wage index that is equal to a weighted average of the difference between the wage index of the resident county, post-reclassification and the higher wage index work area(s), weighted by the overall percentage of workers who are employed in an area with a higher wage index. With the out-migration adjustment, rural providers will experience a 0.1 percent increase in payments in FY 2009 relative to no adjustment at all. We included these additional payments to providers in the impact table shown above, and we estimate the impact of these providers receiving the out-migration increase to be approximately $20 million.

I. Effects of All Proposed Changes With CMI Adjustment Prior to Estimated Growth (Column 8)

Column 8 compares our estimate of payments per case between FY 2008 and FY 2009 with all changes reflected in this proposed rule for FY 2009, including a −0.9 percent documentation and coding adjustment to the FY 2009 national standardized amounts to account for anticipated improvements in documentation and coding that are expected to increase case-mix. We generally apply an adjustment to the DRGs to ensure budget neutrality assuming constant utilization. However, in the FY 2008 IPPS final rule with comment period, we indicated that we believe that the adoption of MS-DRGs would lead to increases in case-mix as a result of improved documentation and coding. In the FY 2008 IPPS final rule with comment period, we had finalized a policy to apply a documentation and coding adjustment to the standardized amount of −1.2 percent for FY 2008, −1.8 percent for FY 2009, and −1.8 percent for FY 2010 to offset the expected increase in case-mix and achieve budget neutrality. However, in compliance with section 7 of Pub. L. 110-90, we reduced the documentation and coding adjustment to −0.6 percent for FY 2008. In accordance with section 7 of Pub. L. 110-90, for FY 2009, we are applying a documentation and coding adjustment of −0.9 percent to the FY 2009 national standardized amounts (in addition to the −0.6 percent adjustment made for FY 2008). We are not proposing to apply the documentation and coding adjustment to the FY 2009 hospital-specific rates and the FY 2009 Puerto Rico-specific standardized amount. However, we continue to believe that case-mix growth of an additional 1.8 percent compared to FY 2008 is likely to occur across all hospitals as a result of improvements in documentation and coding.

Column 8 illustrates the total payment change for FY 2009 compared to FY 2008, taking into account the −0.9 percent FY 2009 documentation and coding adjustment but not the projected 1.8 percent case-mix increase itself. Therefore, this column illustrates a total payment change that is less than what is anticipated to occur.

J. Effects of All Proposed Changes With CMI Adjustment and Estimated Growth (Column 9)

Column 9 compares our estimate of payments per case between FY 2008 and FY 2009, incorporating all changes reflected in this proposed rule for FY 2009 (including statutory changes). This column includes the FY 2009 documentation and coding adjustment of −0.9 percent and the projected 1.8 percent increase in case-mix from improved documentation and coding (with the 1.8 percent case-mix increase assumed to occur equally across all hospitals).

Column 9 reflects the impact of all FY 2009 changes relative to FY 2008, including those shown in Columns 2 through 7. The average increase for all hospitals is approximately 4.1 percent. This increase includes the effects of the 3.0 percent market basket update. It also reflects the 0.3 percentage point difference between the projected outlier payments in FY 2008 (5.1 percent of total DRG payments) and the current estimate of the percentage of actual outlier payments in FY 2008 (4.8 percent), as described in the introduction to this Appendix and the Addendum to this proposed rule. As a result, payments are projected to be 0.3 percentage points lower in FY 2008 than originally estimated, resulting in a 0.3 percentage point greater increase for FY 2009 than would otherwise occur. In addition, the impact of expiration of section 508 of Pub. L. 108-173 reclassification accounts for a 0.1 percent decrease in estimated payments. There might also be interactive effects among the various factors comprising the payment system that we are not able to isolate. For these reasons, the values in Column 9 may not equal the product of the percentage changes described above.

The overall change in payments per case for hospitals in FY 2009 is proposed to increase by 4.1 percent. Hospitals in urban areas will experience an estimated 4.2 percent increase in payments per case compared to FY 2008. Hospitals in large urban areas will experience an estimated 4.4 percent increase and hospitals in other urban areas will experience an estimated 3.9 percent increase in payments per case in FY 2008. Hospital payments per case in rural areas are estimated to increase 3.3 percent. The increases that are larger than the national average for larger urban areas and smaller than the national average for other urban and rural areas are largely attributed to the differential impact of adopting MS-DRGs.

Among urban census divisions, the largest estimated payment increases will be 5.2 percent in the Pacific region (generally attributed to MS-DRGs and wage data) and 5.0 percent in the Mountain region (mostly due to MS-DRGs). The smallest urban increase is estimated at 3.0 percent in the Middle Atlantic and New England regions.

Among the rural regions in Column 9, the providers in the New England region experience the smallest increase in payments (2.3 percent) primarily due to the State-specific rural floor budget neutrality adjustment. The South Atlantic and Pacific regions will have the highest increases among rural regions, with 3.7 percent and 3.6 percent estimated increases, respectively. Again, increases in rural areas are generally less than the national average due to the adoption of MS-DRGs.

Among special categories of rural hospitals in Column 9, the SCH and RRC providers will receive an estimated increase in payments of 4.1 percent, and the MDH and RRCs will experience an estimated increase in payments by 2.8 percent.

Urban hospitals reclassified for FY 2009 are anticipated to receive an increase of 3.9 percent, while urban hospitals that are not reclassified for FY 2009 are expected to receive an increase of 4.3 percent. Rural hospitals reclassifying for FY 2009 are anticipated to receive a 3.7 percent payment increase and rural hospitals that are not reclassifying are estimated to receive a payment increase of 2.8 percent.

K. Effects of Policy on Payment Adjustments for Low-Volume Hospitals

For FY 2009, we are continuing to apply the volume adjustment criteria we specified in the FY 2005 IPPS final rule (69 FR 49099). We expect that three providers will receive the low-volume adjustment for FY 2009. We estimate the impact of these providers receiving the additional 25-percent payment increase to be approximately $2,300.

L. Impact Analysis of Table II

Table II presents the projected impact of the proposed changes for FY 2009 for urban and rural hospitals and for the different categories of hospitals shown in Table I. It compares the estimated payments per case for FY 2008 with the proposed average estimated payments per case for FY 2009, as calculated under our models. Thus, this table presents, in terms of the average dollar amounts paid per discharge, the combined effects of the proposed changes presented in Table I. The proposed percentage changes shown in the last column of Table II equal the proposed percentage changes in average payments from Column 9 of Table I.

Table II.—Impact Analysis of Proposed Changes for FY 2009 Operating Prospective Payment System
[Payments per case]
| Number of hospitals | Average FY 2008 payment per case ¹ | Average proposed FY 2009 payment per case ¹ | All proposed FY 2009 changes
| (1) | (2) | (3) | (4)
All hospitals | 3,528 | $9,144 | $9,519 | 4.1
By Geographic Location:
Urban hospitals | 2,542 | 9,571 | 9,972 | 4.2
Large urban areas (populations over 1 million) | 1,402 | 10,045 | 10,484 | 4.4
Other urban areas (populations of 1 million or fewer) | 1,140 | 9,000 | 9,355 | 3.9
Rural hospitals | 986 | 6,683 | 6,905 | 3.3
Bed Size (Urban):
0-99 beds | 643 | 7,283 | 7,533 | 3.4
100-199 beds | 829 | 8,103 | 8,428 | 4
200-299 beds | 483 | 8,985 | 9,363 | 4.2
300-499 beds | 411 | 10,046 | 10,482 | 4.3
500 or more beds | 176 | 11,875 | 12,382 | 4.3
Bed Size (Rural):
0-49 beds | 338 | 5,509 | 5,644 | 2.5
50-99 beds | 373 | 6,097 | 6,279 | 3
100-149 beds | 166 | 6,660 | 6,884 | 3.4
150-199 beds | 67 | 7,467 | 7,752 | 3.8
200 or more beds | 42 | 8,361 | 8,686 | 3.9
Urban by Region:
New England | 121 | 9,935 | 10,230 | 3
Middle Atlantic | 348 | 10,440 | 10,752 | 3
South Atlantic | 385 | 9,025 | 9,427 | 4.5
East North Central | 394 | 9,065 | 9,440 | 4.1
East South Central | 163 | 8,681 | 9,044 | 4.2
West North Central | 157 | 9,140 | 9,555 | 4.5
West South Central | 371 | 9,043 | 9,466 | 4.7
Mountain | 157 | 9,571 | 10,051 | 5
Pacific | 393 | 11,614 | 12,219 | 5.2
Puerto Rico | 53 | 4,706 | 4,857 | 3.2
Rural by Region:
New England | 23 | 9,051 | 9,263 | 2.3
Middle Atlantic | 70 | 6,912 | 7,124 | 3.1
South Atlantic | 172 | 6,529 | 6,773 | 3.7
East North Central | 121 | 6,872 | 7,093 | 3.2
East South Central | 176 | 6,263 | 6,474 | 3.4
West North Central | 113 | 6,886 | 7,119 | 3.4
West South Central | 200 | 6,088 | 6,276 | 3.1
Mountain | 75 | 6,802 | 7,010 | 3.1
Pacific | 36 | 8,162 | 8,455 | 3.6
By Payment Classification:
Urban hospitals | 2,584 | 9,549 | 9,948 | 4.2
Large urban areas (populations over 1 million) | 1,424 | 10,026 | 10,464 | 4.4
Other urban areas (populations of 1 million or fewer) | 1,160 | 8,975 | 9,328 | 3.9
Rural areas | 944 | 6,716 | 6,941 | 3.3
Teaching Status:
Non-teaching | 2,485 | 7,716 | 8,023 | 4
Fewer than 100 Residents | 805 | 9,193 | 9,577 | 4.2
100 or more Residents | 238 | 13,392 | 13,951 | 4.2
Urban DSH:
Non-DSH | 838 | 8,118 | 8,409 | 3.6
100 or more beds | 1,534 | 10,062 | 10,498 | 4.3
Less than 100 beds | 354 | 6,792 | 7,022 | 3.4
Rural DSH:
SCH | 389 | 6,093 | 6,293 | 3.3
RRC | 206 | 7,465 | 7,740 | 3.7
100 or more beds | 39 | 6,110 | 6,299 | 3.1
Less than 100 beds | 168 | 5,451 | 5,580 | 2.4
Urban teaching and DSH:
Both teaching and DSH | 811 | 10,986 | 11,457 | 4.3
Teaching and no DSH | 172 | 8,885 | 9,201 | 3.6
No teaching and DSH | 1,077 | 8,283 | 8,644 | 4.4
No teaching and no DSH | 524 | 7,796 | 8,083 | 3.7
Rural Hospital Types:
RRC | 197 | 7,783 | 8,100 | 4.1
SCH | 355 | 6,564 | 6,764 | 3
MDH | 156 | 5,757 | 5,975 | 3.8
SCH and RRC | 102 | 7,901 | 8,223 | 4.1
MDH and RRC | 12 | 7,303 | 7,510 | 2.8
Type of Ownership:
Voluntary | 2,027 | 9,252 | 9,625 | 4
Proprietary | 827 | 8,424 | 8,772 | 4.1
Government | 587 | 9,440 | 9,853 | 4.4
Medicare Utilization as a Percent of Inpatient Days:
0-25 | 255 | 13,112 | 13,751 | 4.9
25-50 | 1,350 | 10,344 | 10,801 | 4.4
50-65 | 1,431 | 7,950 | 8,245 | 3.7
Over 65 | 392 | 7,033 | 7,245 | 3
Hospitals Reclassified by the Medicare Geographic Classification Review Board:
FY 2009 Reclassifications:
All Reclassified Hospitals FY 2009 | 805 | 8,803 | 9,141 | 3.8
All Non-Reclassified Hospitals FY 2009 | 2,723 | 9,264 | 9,651 | 4.2
Urban Reclassified Hospitals FY 2009: | 445 | 9,547 | 9,921 | 3.9
Urban Non-reclassified Hospitals FY 2009: | 2,075 | 9,586 | 9,994 | 4.3
Rural Reclassified Hospitals FY 2009: | 360 | 7,240 | 7,505 | 3.7
Rural Nonreclassified Hospitals FY 2009: | 565 | 5,870 | 6,033 | 2.8
All Section 401 Reclassified Hospitals: | 29 | 7,555 | 7,816 | 3.5
Other Reclassified Hospitals (Section 1886(d)(8)(B)) | 61 | 6,534 | 6,716 | 2.8
Specialty Hospitals:
Cardiac Specialty Hospitals | 20 | 10,894 | 11,085 | 1.8
¹ These payment amounts per case do not reflect any estimates of annual case-mix increase.

VII. Effects of Other Proposed Policy Changes

In addition to those policy changes discussed above that we are able to model using our IPPS payment simulation model, we are proposing to make various other changes in this proposed rule. Generally, we have limited or no specific data available with which to estimate the impacts of these proposed changes. Our estimates of the likely impacts associated with these other proposed changes are discussed below.

A. Effects of Proposed Policy on HACs, Including Infections

In section II.F. of the preamble of this proposed rule, we discuss our implementation of section 5001(c) of Pub. L. 109-171, which requires the Secretary to identify conditions that (1) are high cost, high volume, or both, (2) result in the assignment of a case to a MS-DRG that has a higher payment when present as a secondary diagnosis, and (3) could reasonably have been prevented through application of evidence-based guidelines. For discharges occurring on or after October 1, 2008, hospitals will not receive additional payment for cases in which one of the selected conditions was not present on admission. That is, the case will be paid as though the secondary diagnosis was not present. However, the statute also requires the Secretary to continue counting the condition as a secondary diagnosis that results in a higher IPPS payment when doing the budget neutrality calculations for MS-DRG reclassifications and recalibration. Therefore, we do our budget neutrality calculations as though the payment provision did not apply but Medicare will make a lower payment to the hospital for the specific case that includes the secondary diagnosis. Thus, the provision will result in cost savings to the Medicare program.

We note that the provision will only apply when one or more of the selected conditions are the only secondary diagnosis or diagnoses present on the claim that will lead to higher payment. Therefore, if at least one nonselected secondary diagnosis that leads to the same higher payment is on the claim, the case will continue to be assigned to the higher paying DRG and there will be no savings to Medicare from the case. Medicare beneficiaries will generally have multiple secondary diagnoses during a hospital stay, such that beneficiaries having one MCC or CC will frequently have additional conditions that also will generate higher payment. Therefore, in only a small percentage of the cases will the beneficiary have only one secondary diagnosis that would lead to higher payment.

The section 5001(c) payment provision will go into effect on October 1, 2008. Our savings estimate for the next 5 fiscal years from this provision has changed from our savings estimate published in the FY 2008 IPPS final rule with comment period because of the potential addition to the list of selected HACs for FY 2009 of the nine conditions considered in section II.F. of this proposed rule. We had estimated a savings of $20 million per year from this provision for the eight conditions we originally selected in the FY 2008 IPPS final rule with comment period (72 FR 48168). We now estimate that this provision will save $50 million per year for the first 3 years beginning October 1, 2008. Beginning in FY 2012, we estimate a savings of $60 million per year as a result of this provision. Our savings estimates for the next 5 fiscal years are shown below:

Year | Savings (in millions)
FY 2009 | $50
FY 2010 | 50
FY 2011 | 50
FY 2012 | 60
FY 2013 | 60

B. Effects of Proposed MS-LTC-DRG Reclassifications and Relative Weights for LTCHs

In section II.I. of the preamble to this proposed rule, we discuss the proposed MS-LTC-DRGs (proposed Version 26.0 of the GROUPER) and development of the proposed relative weights for use under the LTCH PPS for FY 2009. We also discuss that when we adopted the new severity adjusted MS-LTC-DRG patient classification system under the LTCH PPS in the FY 2008 IPPS final rule with comment, we implemented a 2-year transition, in which the MS-LTC-DRG relative weights for FY 2009 would be based completely on the MS-LTC-DRG patient classification system (and no longer based in part on the former LTC-DRG patient classification system). Consistent with the requirement at § 412.517 established in the RY 2008 LTCH PPS final rule (72 FR 26880 through 26884), the proposed annual update to the classification and relative weights under the LTCH PPS for RY 2009 was done in a budget neutral manner, such that estimated aggregate LTCH PPS payments would be unaffected; that is, they would be neither greater than nor less than the estimated aggregate LTCH PPS payments that would have been made without the MS-LTC-DRG classification and relative weight changes. To achieve budget neutrality under § 412.517, in determining the proposed FY 2009 MS-LTC-DRG relative weights, we applied a factor of 1.038266 in the first step of the budget neutrality process (normalization), and we applied a budget neutrality factor of 0.9965 after normalization (see section II.I.4. (step 7) of the preamble of this proposed rule). These proposed factors that were applied to maintain budget neutrality were based on the most recent available LTCH claims data (FY 2007 MedPAR files) for the 387 LTCHs in our database. Consistent with the budget neutrality requirement under § 412.517, we estimate that with the proposed changes to the MS-LTC-DRG classifications and relative weights for FY 2009, there would be no change in aggregate LTCH PPS payments. In applying the budget neutrality adjustment described above, we assumed constant utilization.

C. Effects of Proposed Policy Change Relating to New Medical Service and Technology Add-On Payments

In section II.J. of the preamble to this proposed rule, we discuss proposed add-on payments for new medical services and technologies. As explained in that section, add-on payments for new technology under section 1886(d)(5)(K) of the Act are not required to be budget neutral. As discussed in section II.J.4. of this proposed rule, we have yet to determine whether any of the four applications we received will meet the criteria for new technology add-on payments for FY 2009. Consequently, it is premature to estimate the potential payment impact in FY 2009 of any potential new technology add-on payments for FY 2009. There are no technologies receiving new technology add-on payment in FY 2008. Therefore, at this time, we estimate that Medicare's new technology add-on payments would remain unchanged in FY 2009 compared to FY 2008. If any of the four applicants are found to be eligible for new technology add-on payments for FY 2009 in the final rule, we would discuss the estimated payment impact for FY 2009 in that final rule.

D. Effects of Proposed Policy Regarding Postacute Care Transfers to Home Health Services

In section IV.A. of the preamble to this proposed rule, we noted that, under current regulations, the postacute care transfer policy applies to acute care discharges for which home health care (for a related condition) begins within 3 days of the discharge from an acute care hospital where the patient was discharged from the hospital prior to the geometric mean length of stay for a “qualified” MS-DRG. In that section, we discussed the reasons why we believe that the 3-day timeframe is no longer an appropriate threshold under the postacute care transfer policy. We discussed our rationale for extending the timeframe from within 3 days to within 7 days. Accordingly, we proposed to revise the timeframe in our regulations to within 7 days of discharge to home under a written plan for the provision of home health services, effective with discharges occurring on or after October 1, 2008.

To estimate the impact of this proposal, we used acute care hospital claims from the FY 2005 MedPAR file and searched for claims with a discharge destination code of “01” (Discharged to Home or Self-Care (Routine Discharge)) or “06” (Discharged/Transferred to Home under Care of Organized Home Health Service Organization in Anticipation of Covered Skilled Care). We then matched the acute care hospital MedPAR claims with HHA final action claims for 2005, using beneficiary identification numbers. We then compared the hospital discharge date with the home health admission date and determined a distribution by the difference in these two dates. We found that, for those patients for whom home health services began within 60 days of hospital discharge, in 6.7 percent of the cases, the services began on days 4 through day 7 after the acute care hospital discharge. We estimate that applying the proposed change to the hospital postacute care transfer policy would reduce Medicare payments to acute care inpatient hospitals by approximately $330 million over 5 years. For FY 2009, we estimate that Medicare payments would be reduced by approximately $50 million.

E. Effects of Proposed Requirements for Hospital Reporting of Quality Data for Annual Hospital Payment Update

In section IV.B. of the preamble of this proposed rule, we discuss the requirements for hospitals to report quality data in order for hospitals to receive the full annual hospital payment update for FY 2009 and FY 2010. There are an estimated 186 hospitals in this analysis that may not receive the full market basket update for FY 2009. Most of these hospitals are either small rural or small urban hospitals. However, at this time, information is not available to determine the hospitals that do not meet the requirements for the full hospital market increase for FY 2009.

We also note that, for the FY 2009 payment update, hospitals must pass our validation requirement of a minimum of 80 percent reliability, based upon our chart-audit validation process, for the four quarters of data from FY 2007. These data were due to the QIO Clinical Warehouse by May 15, 2007 (fourth quarter CY 2006 discharges), August 15, 2007 (first quarter CY 2007 discharges), November 15, 2007 (second quarter CY 2007 discharges), and February 15, 2008 (third quarter CY 2007 discharges). We have continued our efforts to ensure that QIOs provide assistance to all hospitals that wish to submit data. In the preamble of this proposed rule, we are proposing to provide additional validation criteria to ensure that the quality data being sent to CMS are accurate. The requirement of 5 charts per hospital will result in approximately 21,500 charts per quarter total submitted to the agency. We reimburse hospitals for the cost of sending charts to the Clinical Data Abstraction Center (CDAC) at the rate of 12 cents per page for copying and approximately $4.00 per chart for postage. Our experience shows that the average chart received at the CDAC is approximately 150 pages. Thus, the agency will have expenditures of approximately $597,600 per quarter to collect the charts. Given that we reimburse for the data collection effort, we believe that a requirement for five charts per hospital per quarter represents a minimal burden to the participating hospital.

F. Effects of Proposed Policy Change to Methodology for Computing Core Staffing Factors for Volume Decrease Adjustment for SCHs and MDHs

In section IV.D. of the preamble of this proposed rule, we discuss a change to the methodology we would use to compute the average nursing staff factors (nursing hours per patient days) for the volume decrease adjustment for SCHs and MDHs. If certain requirements are met, this adjustment may be made if the hospital's total discharges decrease by more than 5 percent from one cost reporting period to the next. We do not believe this proposed change would have any significant impact on Medicare payments to these hospitals.

G. Effects of Proposed Clarification of Policy for Collection of Risk Adjustment Data From MA Organizations

In section IV.H. of the preamble of this proposed rule, we discuss our proposed revision of our regulations to clarify that CMS has the authority to require MA organizations to submit encounter data for each item and service provided to an MA plan enrollee. The proposed revision also would clarify that CMS will determine the formats for submitting encounter data, which may be more abbreviated than those used for the Medicare fee-for-service claims data submission process. At this time, we have not yet determined an approach for submission of the encounter data. Therefore, we are not in a position to determine the extent to which the cost impact of submitting encounter data would differ from the current costs to MA organizations of submitting risk adjustment data.

H. Effects of Proposed Policy Changes Relating to Hospital Emergency Services Under EMTALA

In section IV.I. of the preamble of this proposed rule, we are proposing to clarify our policy regarding the applicability of EMTALA to hospital inpatients. We are proposing to amend the regulations to state that when an individual covered by EMTALA was admitted as an inpatient and remains unstabilized with an emergency medical condition, a receiving hospital with specialized capabilities has an EMTALA obligation to accept that individual, assuming that the transfer of the individual is an appropriate transfer and the participating hospital with specialized capabilities has the capacity to treat the individual. In addition, we are proposing two changes relating to the requirements for on-call physicians in hospital emergency departments. We are proposing to delete the provision relating to maintaining a list of on-call physicians from the regulations referring to EMTALA at § 489.24(j)(1) because a provision addressing the on-call physician list is already included in the regulations relating to provider agreements at § 489.20(r)(2). We are proposing to incorporate the language of § 489.24(j)(1) as replacement language for the existing § 489.20(r)(2) and amend the regulatory language to make it more consistent with the statutory language found at section 1866(a)(1)(I)(iii) of the Act, which refers to hospital CoPs and the requirement to maintain an on-call list. These proposed changes would make the regulations consistent with the statutory basis for maintaining an on-call list. In addition, we are proposing to amend our regulations to provide that hospitals may comply with the on-call list requirement by participating in a formal community call plan so long as the plan includes a number of elements that are specified in the preamble to the proposed rule. Lastly, we are proposing to make a technical change to the regulations to conform them to the statutory language found in the Pandemic and All-Hazards Preparedness Act. These proposals do not include any substantive new requirements. Although hospitals choosing to participate in a community call arrangement will be required to devise a formal community call plan, such a plan would increase a hospital's flexibility in meeting its on-call requirements. We are estimating no impact on Medicare expenditures and no significant impact on hospitals with emergency departments.

I. Effects of Implementation of Rural Community Hospital Demonstration Program

In section IV.K. of the preamble to this proposed rule, we discuss our implementation of section 410A of Pub. L. 108-173 that required the Secretary to establish a demonstration that will modify reimbursement for inpatient services for up to 15 small rural hospitals. Section 410A(c)(2) requires that “in conducting the demonstration program under this section, the Secretary shall ensure that the aggregate payments made by the Secretary do not exceed the amount which the Secretary would have paid if the demonstration program under this section was not implemented.” There are currently nine hospitals participating in the demonstration. We are currently conducting a solicitation for up to six additional hospitals to participate in the demonstration program.

As discussed in section IV.K. of the preamble to this proposed rule, we are satisfying this requirement by adjusting national IPPS rates by a factor that is sufficient to account for the added costs of this demonstration. We estimate that the average additional annual payment for FY 2009 that would be made to each participating hospital under the demonstration would be approximately $2,134,123. We based this estimate on the recent historical experience of the difference between inpatient cost and payment for hospitals that are participating in the demonstration. As an estimate for the 15 hospitals that may participate, the total annual impact of the demonstration program for FY 2009 is projected to be $32,011,849. (In the final rule, we should know the exact number of hospitals participating in the demonstration program and would revise our estimates accordingly.) The adjustment factor to the Federal rate used in calculating Medicare inpatient prospective payments as a result of the demonstration is 0.999903.

J. Effects of Proposed Policy Changes Relating to Payments to Hospitals-Within-Hospitals

In section VI.F. of the preamble of this proposed rule, we discuss our proposed policy change to allow a HwH that cannot meet the criteria in regulations for a separate governing body solely because it is a State hospital occupying space with another State hospital or located on the same campus as another State hospital and both hospitals are under the same governing authority, or the governing authority of a third entity that controls both State hospitals, to nevertheless qualify for an exclusion from the IPPS if the hospital meets other applicable criteria for HwHs in the regulations and the specified proposed criteria in this proposed rule. We are only aware of one hospital that would be allowed qualify for exclusion from the IPPS under the proposed criteria and to expand its bed size under the proposed provisions. Because any expansion would occur at some point in the future, we are unable to quantify the impact of this proposed change.

K. Effects of Proposed Policy Changes Relating to Requirements for Disclosure of Physician Ownership in Hospitals

In section VII. of the preamble of this proposed rule, we discuss our proposals concerning (1) the definition of a physician-owned hospital; (2) the requirement that physician-owned hospitals disclose the ownership to patients; and (3) the requirement that all hospitals and CAHs must furnish written notice to their patients at the beginning of their hospital stay or outpatient visit if a physician is not present in the hospital 24 hours per day, 7 days per week, and that the notice must indicate how the hospital will meet the medical needs of any patient who develops an emergency medical condition at a time when there is no physician present in the hospital. The definition and the above requirements were implemented in the FY 2008 IPPS final rule with comment period (72 FR 47387 and 47391).

In this proposed rule, we are proposing to revise the definition of a physician-owned hospital at § 489.3 to include hospitals that have an ownership or investment interests by a physician and/or by an immediate family member of a physician. (The existing definition refers to an ownership or investment interest by a physician only, and not to an ownership or investment interest by an immediate family member.) We are also proposing to except from the definition of physician-owned hospital those hospitals that do not have at least one physician owner/investor or immediate family member owner/investor who refers patients to the hospital. We believe that the proposed changes to the definition of physician-owned hospital would result in no more than a de minimis increase in the number of hospitals that are subject to the disclosure requirements applicable to physician-owned hospitals. We believe that there would be very few hospitals that would now meet the definition of physician-owned hospital, if we adopt our proposal to include immediate family members within the group of owners or investors that cause a hospital to be considered physician-owned, that did not already meet the definition. That is, we believe there are very few hospitals for which an immediate family member of a physician, but not the physician himself or herself, or any other physician, has an ownership or investment interest. Moreover, to the extent that such hospitals exist, that is, hospitals that have no physician owner/investors but which have owners/investors who are immediate family members of one or more physicians, such hospitals would not be subject to the disclosure requirement if we adopt our proposed exception to the definition of a physician-owned hospital for those hospitals that do not have at least one referring physician whose immediate family member is an owner/investor. Also, if we adopt this proposed exception to the definition of physician-owned hospital, the number of hospitals that now are subject to the disclosure requirement may be reduced slightly as we understand that there are some hospitals that have no referring physician owner/investors but rather have physician owner/investors who have retired from the practice of medicine. Thus, if both our proposed changes to the definition of physician-owned hospital are adopted, the net result may be no change, or a minimal increase or decrease in the number of hospitals that are subject to the disclosure requirement. Finally, if our proposal to change the definition of physician-owned hospital is adopted to encompass immediate family members, some hospitals that already meet the definition based on the presence of physician owner/investors may have to amend their list of physician owner/investors to add immediate family members, which we believe would be a minimal burden.

We are proposing to clarify that the list of the hospital's owners or investors who are physicians or immediate family members of physicians must be provided to the patient at the time the request for the list is made by or on behalf of the patient. We note that hospitals are already currently required to furnish the list of physician owners or investors and, thus, we believe that the impact of stipulating a timeframe for furnishing the list is negligible.

We are proposing to require all hospitals to require that all physician owners who also are members of the hospital's medical staff to agree, as a condition of continued medical staff membership or admitting privileges, to disclose, in writing, to all patients they refer to the hospital any ownership or investment interest that is held by themselves or by an immediate family member (as defined in § 411.351). Disclosure would be required at the time the referral is made. Both hospitals and physicians would participate in the disclosure process. We believe this proposal would have a small effect on physician-owned hospitals to the extent that it may require them to change their bylaws or make similar changes.

We do not anticipate that our proposals in section VII. of the preamble of this proposed rule would have a significant economic impact on a substantial number of physicians, other health care providers and suppliers, or the Medicare or Medicaid programs and their beneficiaries. Specifically, we believe that this proposed rule would affect mostly hospitals, physicians, and beneficiaries. The proposed changes concerning both the definition of a physician-owned hospital and the disclosure of physician ownership in hospitals are consistent with the physician self-referral statute and regulations as well as the current practices of most hospitals. Thus, our proposed requirement that the list of physician owners be provided to the patient at the time the request for the list is made by or on behalf of the patient would present a negligible economic impact on the hospital. Similarly, the cost borne by individual physicians to implement these provisions would be limited to a one-time cost associated with developing a disclosure notice that would be shared with patients at the time the referral is made in addition to the negligible time associated with providing the list to the patient and maintaining a copy of the notice in the patient's medical record.

We are also proposing to provide authority for CMS to terminate the Medicare provider agreement of any hospital that fails to furnish the required written notice that a physician is not available 24 hours per day, 7 days per week and to describe how the hospital will meet the medical needs of any patient who develops an emergency medical condition at a time when there is no physician present in the hospital. We believe that the cost borne by hospitals to implement this proposal would be limited to a one-time cost associated with completing minor revisions to the hospital's policies and procedures to comply with the requirements of its Medicare provider agreement. Most hospitals have standard procedures to satisfy CMS by correcting deficiencies (such as the failure to furnish notice of physician ownership in the hospital to patients) before action is taken by CMS to terminate the Medicare provider agreement.

Overall, we believe that beneficiaries would be positively impacted by these provisions. Specifically, disclosure of physician ownership or investment interests equips patients to make informed decisions about where they elect to receive care. Our proposals make no significant changes that have the potential to impede patient access to health care facilities and services. In fact, we believe that our proposals would help minimize anti-competitive behavior that can affect the decision as to where a beneficiary receives health care services and possibly the quality of the services furnished.

L. Effects of Proposed Changes Relating to Physician Self-Referral Provisions

In section VIII. of the preamble of this proposed rule, we discuss our proposals pertaining to physician self-referral provisions, including: stand in the shoes, period of disallowance, and reporting of financial relationships between hospitals and physicians. We do not anticipate that our proposals would have a significant impact on physicians, other health care providers and suppliers, or the Medicare or Medicaid programs and their beneficiaries.

With respect to the proposals to modify the physician “stand in the shoes” provisions, we do not anticipate that entities that include one or more physician organizations would find it necessary to restructure their organizational relationships. We believe that if either of our alternative approaches is adopted, compliance with the “stand in the shoes” provisions would be made easier by simplifying the required analysis of arrangements in which a physician organization is interposed between the referring physician and the entity furnishing DHS. In addition to our proposals concerning the physician “stand in the shoes” provisions, we are making an entity “stand in the shoes” proposal, whereby an entity that furnishes DHS would be deemed to stand in the shoes of an organization in which it has a 100-percent ownership interest and would be deemed to have the same compensation arrangements with the same parties and on the same terms as does the organization that it owns. We believe that the entity stand in the shoes proposal may result in more financial relationships between entities and physicians being subject to the physician self-referral provisions, but we are unable to quantify at this time the possible increase or determine the effect of the proposal on the referral patterns or organization structures of DHS entities and their wholly-owned organizations. Rather, we welcome public comments on these issues.

Our proposal pertaining to the period of disallowance is a codification of what we believe is existing law and reflects what we believe most entities furnishing DHS are already following. Therefore, we do not anticipate a significant economic impact on the industry.

M. Effects of Proposed Changes Relating to Reporting of Financial Relationships Between Hospitals and Physicians

As discussed in section IX. of the preamble to this proposed rule, we are proposing to require that 500 hospitals furnish information concerning their financial relationships with their physicians. The financial relationships include ownership and investment interests and compensation arrangements. We are proposing that this information be submitted in a collection of information instrument that CMS has developed—the “DFRR,” which is included in Appendix C to this proposed rule. We are unable to quantify the number of physicians who have ownership and investment interests and compensation arrangements with hospitals. Even if we assume that the 500 hospitals have a substantial number of financial relationships with physicians, we believe that, in general, the economic impact on these hospitals would not be substantial. Because we are proposing that the DFRR be completed by hospitals and that the physician information requested in the DFRR will be on file at the hospital, we believe there should be negligible, if any, impact upon physicians or other health care providers or suppliers. Specifically, we believe that the cost to complete the DFRR for each hospital would be approximately $1,550, and the total cost burden for the industry would be approximately $775,000.

We expect that this proposed rule may result in savings to the Medicare program by minimizing anti-competitive business arrangements as well as financial incentives that encourage overutilization. In addition, to the extent that we determine that any arrangements are noncompliant with the physician self-referral statute and regulations, there may be monies returned to the Medicare Trust Fund. We cannot gauge with any certainty the extent of these savings to the Medicare program at this time. Finally, we do not anticipate any financial burden on beneficiaries or impact on beneficiary access to medically necessary services because the completion of the DFRR would be conducted by hospitals.

VIII. Effects of Proposed Changes in the Capital IPPS

A. General Considerations

Fiscal year (FY) 2001 was the last year of the 10-year transition period established to phase in the PPS for hospital capital-related costs. During the transition period, hospitals were paid under one of two payment methodologies: fully prospective or hold harmless. Under the fully prospective methodology, hospitals were paid a blend of the capital Federal rate and their hospital-specific rate (see § 412.340). Under the hold-harmless methodology, unless a hospital elected payment based on 100 percent of the capital Federal rate, hospitals were paid 85 percent of reasonable costs for old capital costs (100 percent for SCHs) plus an amount for new capital costs based on a proportion of the capital Federal rate (see § 412.344). As we state in section V. of the preamble of this proposed rule, with the 10-year transition period ending with hospital cost reporting periods beginning on or after October 1, 2001 (FY 2002), beginning in FY 2002 capital prospective payment system payments for most hospitals are based solely on the capital Federal rate. Therefore, we no longer include information on obligated capital costs or projections of old capital costs and new capital costs, which were factors needed to calculate payments during the transition period, for our impact analysis.

The basic methodology for determining a capital PPS payment is set forth at § 412.312. The basic methodology for calculating capital IPPS payments in FY 2009 would be as follows: (Standard Federal Rate) × (DRG weight) × (GAF) × (COLA for hospitals located in Alaska and Hawaii) × (1 + Disproportionate Share Adjustment Factor + IME Adjustment Factor, if applicable).

We note that, in accordance with § 412.322(c), the IME adjustment factor for FY 2009 is equal to half of the current adjustment, as discussed in section V.B.2. of the preamble of this proposed rule. In addition, hospitals may also receive outlier payments for those cases that qualify under the threshold established for each fiscal year.

The data used in developing the impact analysis presented below are taken from the December 2007 update of the FY 2007 MedPAR file and the December 2007 update of the Provider-Specific File that is used for payment purposes. Although the analyses of the proposed changes to the capital prospective payment system do not incorporate cost data, we used the December 2007 update of the most recently available hospital cost report data (FYs 2005 and 2006) to categorize hospitals. Our analysis has several qualifications. We use the best data available and make assumptions about case-mix and beneficiary enrollment as described below. In addition, as discussed in section III. of the Addendum to this proposed rule, as we established for FY 2008, we are proposing to adjust the national capital rate to account for improvements in documentation and coding under the MS-DRGs in FY 2009. (As discussed in section III.A.6. of the Addendum to this proposed rule, we are not proposing to adjust the Puerto Rico specific capital rate to account for improvements in documentation and coding under the MS-DRGs in FY 2009.) Furthermore, due to the interdependent nature of the IPPS, it is very difficult to precisely quantify the impact associated with each proposed change. In addition, we draw upon various sources for the data used to categorize hospitals in the tables. In some cases (for instance, the number of beds), there is a fair degree of variation in the data from different sources. We have attempted to construct these variables with the best available sources overall. However, for individual hospitals, some miscategorizations are possible.

Using cases from the December 2007 update of the FY 2007 MedPAR file, we simulated payments under the capital PPS for FY 2008 and FY 2009 for a comparison of total payments per case. Any short-term, acute care hospitals not paid under the general IPPS (Indian Health Service hospitals and hospitals in Maryland) are excluded from the simulations.

As we explain in section III.A. of the Addendum to this proposed rule, payments are no longer made under the regular exceptions provision under §§ 412.348(b) through (e). Therefore, we no longer use the actuarial capital cost model (described in Appendix B of the August 1, 2001 proposed rule (66 FR 40099)). We modeled payments for each hospital by multiplying the capital Federal rate by the GAF and the hospital's case-mix. We then added estimated payments for indirect medical education (which are reduced by 50 percent in FY 2009 in accordance with § 412.322(c), as discussed in section V.B.2. of the preamble of this proposed rule), disproportionate share, and outliers, if applicable. For purposes of this impact analysis, the model includes the following assumptions:

• We estimate that the Medicare case-mix index will increase by 1.0 percent in both FYs 2008 and 2009. (We note that this does not reflect the expected growth in case-mix due to improvement in documentation and coding under the MS-DRGs, as discussed below.)

• We estimate that the Medicare discharges will be 13.2 million in FY 2008 and 13.3 million in FY 2009 for an approximately 0.4 percent increase from FY 2008 to FY 2009.

• The capital Federal rate was updated beginning in FY 1996 by an analytical framework that considers changes in the prices associated with capital-related costs and adjustments to account for forecast error, changes in the case-mix index, allowable changes in intensity, and other factors. As discussed in section VIII. of the preamble and section III.A.2.1. of the Addendum to this proposed rule, the proposed FY-2009 update is 0.7 percent.

• In addition to the proposed FY 2009 update factor, the proposed FY 2009 capital Federal rate was calculated based on a proposed GAF/DRG budget neutrality factor of 1.0007, a proposed outlier adjustment factor of 0.9427, and a proposed exceptions adjustment factor of 0.9998.

• For FY 2009, as discussed in section III.A. of the Addendum to this proposed rule, the proposed FY 2009 national capital rate was further adjusted by a factor to account for anticipated improvements in documentation and coding that are expected to increase case-mix under the MS-DRGs. In the FY 2008 IPPS final rule with comment period (72 FR 47186), we established adjustments to the IPPS rates based on the Office of the Actuary projected case-mix growth resulting from improved documentation and coding of 1.2 percent for FY 2008, 1.8 percent for FY 2009, and 1.8 percent for FY 2010. However, we reduced the documentation and coding adjustment to -0.6 percent for FY 2008, and for FY 2009, we are proposing to apply an adjustment of 0.9 percent, consistent with section 7 of Pub. L. 110-90. As noted above and as discussed in section III.A.6. of the Addendum to this proposed rule, we are not proposing to adjust the Puerto Rico-specific capital rate to account for improvements in documentation and coding under the MS-DRGs in FY 2009.

B. Results

We used the actuarial model described above to estimate the potential impact of our proposed changes for FY 2009 on total capital payments per case, using a universe of 3,528 hospitals. As described above, the individual hospital payment parameters are taken from the best available data, including the December 2007 update of the FY 2007 MedPAR file, the December 2007 update to the PSF, and the most recent cost report data from the December 2007 update of HCRIS. In Table III, we present a comparison of total payments per case for FY 2008 compared to proposed FY 2009 based on the proposed FY 2009 payment policies. Column 2 shows estimates of payments per case under our model for FY 2008. Column 3 shows estimates of payments per case under our model for FY 2009. Column 4 shows the total percentage change in payments from FY 2008 to FY 2009. The change represented in Column 4 includes the proposed 0.7 percent update to the capital Federal rate, other changes in the adjustments to the capital Federal rate (for example, the 50 percent reduction to the teaching adjustment for FY 2009), and the additional 0.9 percent reduction to the national capital rate to account for improvements in documentation and coding (or other changes in coding that do not reflect real changes in case-mix) for implementation of the MS-DRGs. Consistent with the impact analysis for the proposed policy changes under the IPPS for operating costs in section VI. of this Appendix, for purposes of this impact analysis, we also assume a 1.8 percent increase in case-mix growth for FY 2009, as determined by the Office of the Actuary, because we believe the adoption of the MS-DRG will result in case-mix growth due to documentation and coding changes that do not reflect real changes in patient severity of illness. The comparisons are provided by: (1) Geographic location; (2) region; and (3) payment classification.

The simulation results show that, on average, capital payments per case in FY 2009 can be expected to remain about the same as capital payments per case in FY 2008. The proposed capital rate for FY 2009 would decrease 1.14 percent as compared to the FY 2008 capital rate, and the proposed changes to the GAFs are expected to result in a slight decrease (0.3 percent) in capital payments. In addition, the 50 percent reduction to the teaching adjustment in FY 2009 will also result in a decrease in capital payments from FY 2008 as compared to FY 2009. Countering these factors is the projected case-mix growth as a result of improved documentation and coding (discussed above) as well as an estimated increase in outlier payments in FY 2008 as compared to FY 2009. The net result of these changes is an estimated 0.0 percent change in capital payments per discharge from FY 2008 to FY 2009 for all hospitals (as shown below in Table III).

The results of our comparisons by geographic location and by region are consistent with the results we expected with the decrease to the teaching adjustment in FY 2009 (§ 412.522(c)). The geographic comparison shows that all urban hospitals are expected to experience no change in capital IPPS payments per case in FY 2009 as compared to FY 2008, while hospitals in large urban areas are expected to experience a slight decrease (0.3 percent) in capital IPPS payments per case in FY 2009 as compared to FY 2008. Capital IPPS payments per case for rural hospitals are expected to increase 0.5 percent. These differences in payments per case by geographic location are mostly due to the decrease in the teaching adjustment. Because teaching hospitals generally tend to be located in urban or large urban areas, we would expect that the 50 percent decrease in the teaching adjustment for FY 2009 would have a more significant impact on hospitals in those areas than those hospitals located in rural areas.

Most regions are estimated to experience an increase in total capital payments per case from FY 2008 to FY 2009. These increases vary by region and range from a 1.9 percent increase in the Pacific urban and West South Central urban regions to a 0.1 percent increase in the East North Central urban region. Two urban regions are projected to experience a relatively larger decrease in capital payments, with the difference mostly due to proposed changes in the GAFs and the 50 percent reduction in the teaching adjustment for FY 2009: −2.7 percent in the Middle Atlantic urban region and −3.6 percent in the New England urban region. The East North Central urban region is also expected to experience a decrease of 0.1 percent in capital payments in FY 2009 as compared to FY 2008, mostly due to proposed changes in the GAFs. There are two rural regions that expected to experience a decrease in total capital payments per case: A −4.5 percent decrease in the New England rural region and a −1.0 percent decrease in the Middle Atlantic rural region. Again, for these two rural regions, the projected decrease in capital payments is mostly due to proposed changes in the GAF, as well as a smaller than average increase in changes payments due to the adoption of the MS-DRGs.

By type of ownership, voluntary and government hospitals are estimated to experience a decrease of 0.2 percent and 0.8 percent, respectively. The projected decrease in capital payments per case is primarily due to the 50 percent teaching adjustment reduction for FY 2009. Proprietary hospitals are estimated to experience an increase in capital payments per case of 1.6 percent. This estimated increase in capital payments is mostly due to a smaller than average decrease in payments resulting from the 50 percent teaching adjustment reduction for FY 2009.

Section 1886(d)(10) of the Act established the MGCRB. Before FY 2005, hospitals could apply to the MGCRB for reclassification for purposes of the standardized amount, wage index, or both. Section 401(c) of Pub. L. 108-173 equalized the standardized amounts under the operating IPPS. Therefore, beginning in FY 2005, there is no longer reclassification for the purposes of the standardized amounts; however, hospitals still may apply for reclassification for purposes of the wage index for FY 2009. Reclassification for wage index purposes also affects the GAFs because that factor is constructed from the hospital wage index.

To present the effects of the hospitals being reclassified for FY 2009, we show the average capital payments per case for reclassified hospitals for FY 2008. Urban reclassified hospitals are expected to have the largest decrease in capital payments of 0.4 percent, while rural reclassified hospitals are expected to have the largest increase in capital payments of 1.0 percent. Urban nonreclassified hospitals are not expected to experience any change in capital payment from FY 2008 to FY 2009, while rural nonreclassified hospitals are expected to experience a slight decrease in capital payments of 0.3 percent. The projected changes in capital payments for rural hospitals are mainly due to the proposed changes to the GAF (including the proposal to apply the rural floor budget neutrality at a State level). The projected changes in capital payments for urban hospitals are mainly due to the 50 percent reduction in the teaching adjustment in FY 2009.

Table III.—Comparison of Total Capital Payments Per Case
[FY 2008 payments compared to FY 2009 payments]
| Number of hospitals | Average FY 2008 payments/case | Average FY 2009 payments/case | Change
By Geographic Location:
All hospitals | 3,528 | 757 | 757 | 0.0
Large urban areas (populations over 1 million) | 1,402 | 834 | 831 | −0.3
Other urban areas (populations of 1 million or fewer) | 1,140 | 752 | 754 | 0.3
Rural areas | 986 | 528 | 531 | 0.5
Urban hospitals | 2,542 | 796 | 796 | 0.0
0-99 beds | 643 | 632 | 642 | 1.6
100-199 beds | 829 | 684 | 692 | 1.1
200-299 beds | 483 | 752 | 758 | 0.8
300-499 beds | 411 | 829 | 827 | −0.3
500 or more beds | 176 | 973 | 957 | −1.7
Rural hospitals | 986 | 528 | 531 | 0.5
0-49 beds | 338 | 429 | 427 | −0.5
50-99 beds | 373 | 485 | 487 | 0.4
100-149 beds | 166 | 532 | 537 | 1.0
150-199 beds | 67 | 586 | 595 | 1.4
200 or more beds | 42 | 652 | 652 | 0.0
By Region:
Urban by Region | 2,542 | 796 | 796 | 0.0
New England | 121 | 835 | 805 | −3.6
Middle Atlantic | 348 | 858 | 835 | −2.7
South Atlantic | 385 | 755 | 763 | 1.1
East North Central | 394 | 777 | 770 | −0.9
East South Central | 163 | 719 | 727 | 1.2
West North Central | 157 | 777 | 779 | 0.2
West South Central | 371 | 747 | 761 | 1.9
Mountain | 157 | 807 | 822 | 1.8
Pacific | 393 | 925 | 943 | 1.9
Puerto Rico | 53 | 367 | 368 | 0.3
Rural by Region | 986 | 528 | 531 | 0.5
New England | 23 | 706 | 675 | −4.5
Middle Atlantic | 70 | 543 | 537 | −1.0
South Atlantic | 172 | 516 | 524 | 1.5
East North Central | 121 | 555 | 555 | 0.1
East South Central | 176 | 480 | 484 | 0.9
West North Central | 113 | 560 | 567 | 1.1
West South Central | 200 | 479 | 483 | 0.8
Mountain | 75 | 533 | 539 | 1.2
Pacific | 36 | 650 | 660 | 1.6
By Payment Classification:
All hospitals | 3,528 | 757 | 757 | 0.0
Large urban areas (populations over 1 million) | 1,424 | 832 | 830 | −0.3
Other urban areas (populations of 1 million or fewer) | 1,160 | 750 | 752 | 0.3
Rural areas | 944 | 528 | 531 | 0.6
Teaching Status:
Non-teaching | 2,484 | 643 | 657 | 2.1
Fewer than 100 Residents | 805 | 765 | 769 | 0.5
100 or more Residents | 238 | 1,085 | 1,037 | −4.4
Urban DSH:
100 or more beds | 1,534 | 823 | 820 | −0.3
Less than 100 beds | 354 | 567 | 573 | 1.2
Rural DSH:
Sole Community (SCH/EACH) | 389 | 467 | 469 | 0.4
Referral Center (RRC/EACH) | 206 | 584 | 589 | 0.8
Other Rural:
100 or more beds | 39 | 489 | 493 | 0.8
Less than 100 beds | 168 | 438 | 438 | 0.1
Urban teaching and DSH:
Both teaching and DSH | 811 | 896 | 881 | −1.6
Teaching and no DSH | 172 | 784 | 777 | −0.8
No teaching and DSH | 1,077 | 683 | 700 | 2.5
No teaching and no DSH | 524 | 702 | 716 | 2.0
Rural Hospital Types:
Non special status hospitals | 2,459 | 800 | 799 | −0.1
RRC/EACH | 63 | 700 | 714 | 2.0
SCH/EACH | 36 | 654 | 659 | 0.8
Medicare-dependent hospitals (MDH) | 11 | 457 | 456 | −0.2
SCH, RRC and EACH | 15 | 751 | 776 | 3.4
Hospitals Reclassified by the Medicare Geographic Classification Review Board:
FY 2009 Reclassifications:
All Urban Reclassified | 445 | 802 | 799 | −0.4
All Urban Non-Reclassified | 2,075 | 796 | 796 | 0.0
All Rural Reclassified | 360 | 573 | 579 | 1.0
All Rural Non-Reclassified | 565 | 459 | 458 | −0.3
Other Reclassified Hospitals (Section 1886(d)(8)(B)) | 54 | 535 | 538 | 0.5
Type of Ownership:
Voluntary | 2,027 | 770 | 769 | −0.2
Proprietary | 827 | 699 | 710 | 1.6
Government | 587 | 752 | 746 | −0.8
Medicare Utilization as a Percent of Inpatient Days:
0-25 | 255 | 998 | 971 | −2.8
25-50 | 1,350 | 847 | 843 | −0.5
50-65 | 1,431 | 671 | 677 | 0.9
Over 65 | 392 | 598 | 601 | 0.5

IX. Alternatives Considered

This proposed rule contains a range of proposed policies. The preamble of this proposed rule provides descriptions of the statutory provisions that are addressed, identifies those proposed policies when discretion has been exercised, and presents rationale for our decisions and, where relevant, alternatives that were considered.

X. Overall Conclusion

The changes we are proposing in this proposed rule will affect all classes of hospitals. Some hospitals are expected to experience significant gains and others less significant gains, but overall hospitals are projected to experience positive updates in IPPS payments in FY 2009. Table I of section VI. of this Appendix demonstrates the estimated distributional impact of the IPPS budget neutrality requirements for proposed MS-DRG and wage index changes, and for the wage index reclassifications under the MGCRB. Table I also shows an overall increase of 4.1 percent in operating payments. We estimate operating payments to increase by $3.96 billion. This accounts for the projected savings associated with the postacute care transfer policy proposal and the HACs policy, which each have an estimated savings of $50 million. In addition, this estimate includes the hospital reporting of quality data program costs ($2.39 million) and all proposed operating payment policies as described in section VII. of this Appendix. Capital payments are estimated to increase by 0.0 percent per case, as shown in Table III of section VIII. of this Appendix. Therefore, we project that the increase in capital payments in FY 2009 compared to FY 2008 is negligible ($6 million). The proposed operating and capital payments should result in a net increase of $3.967 billion to IPPS providers. The discussions presented in the previous pages, in combination with the rest of this proposed rule, constitute a regulatory impact analysis.

XI. Accounting Statement

As required by OMB Circular A-4 (available at http://www.whitehousegov/omb/circulars/a004/a-4.pdf), in Table IV below, we have prepared an accounting statement showing the classification of the expenditures associated with the provisions of this proposed rule. This table provides our best estimate of the increase in Medicare payments to providers as a result of the proposed changes to the IPPS presented in this proposed rule. All expenditures are classified as transfers to Medicare providers.

Table IV.—Accounting Statement: Classification of Estimated Expenditures From FY 2008 to FY 2009
Category | Transfers
Annualized Monetized Transfers | $3.967 Billion.
From Whom to Whom | Federal Government to IPPS Medicare Providers.
Total | $3.967 Billion.

XII. Executive Order 12866

In accordance with the provisions of Executive Order 12866, the Office of Management and Budget reviewed this proposed rule.

Appendix B: Recommendation of Update Factors for Operating Cost Rates of Payment for Inpatient Hospital Services

I. Background

Section 1886(e)(4)(A) of the Act requires that the Secretary, taking into consideration the recommendations of the MedPAC, recommend update factors for inpatient hospital services for each fiscal year that take into account the amounts necessary for the efficient and effective delivery of medically appropriate and necessary care and high quality care. Under section 1886(e)(5)(B) of the Act, we are required to publish update factors recommended by the Secretary in the proposed and final IPPS rules, respectively. Accordingly, this Appendix provides the recommendations for the update factors for the IPPS national standardized amount, the Puerto Rico-specific standardized amount, the hospital-specific rates for SCHs and MDHs, and the rate-of-increase limits for hospitals and hospital units excluded from the IPPS, as well as LTCHS, IPFs, and IRFs. We also discuss our response to MedPAC's recommended update factors for inpatient hospital services.

II. Inpatient Hospital Update for FY 2009

Section 1886(b)(3)(B)(i)(XX) of the Act, as amended by section 5001(a) of Pub. L. 109-171, sets the FY 2009 percentage increase in the operating cost standardized amount equal to the rate-of-increase in the hospital market basket for IPPS hospitals in all areas, subject to the hospital submitting quality information under rules established by the Secretary in accordance with 1886(b)(3)(B)(viii) of the Act. For hospitals that do not provide these data, the update is equal to the market basket percentage increase less 2.0 percentage points. Consistent with current law, based on Global Insight, Inc.'s first quarter 2008 forecast of the FY 2009 market basket increase, we are estimating that the FY 2009 update to the standardized amount will be 3.0 percent (that is, the current estimate of the market basket rate-of-increase) for hospitals in all areas, provided the hospital submits quality data in accordance with our rules. For hospitals that do not submit quality data, we are estimating that the update to the standardized amount will be 1.0 percent (that is, the current estimate of the market basket rate-of-increase minus 2.0 percentage points).

Section 1886(d)(9)(C)(1) of the Act is the basis for determining the percentage increase to the Puerto Rico-specific standardized amount. For FY 2009, we are applying the full rate-of-increase in the hospital market basket for IPPS hospitals to the Puerto Rico-specific standardized amount. Therefore, the update to the Puerto Rico-specific standardized amount is estimated to be 3.0 percent.

Section 1886(b)(3)(B)(iv) of the Act sets the FY 2009 percentage increase in the hospital-specific rates applicable to SCHs and MDHs equal to the rate set forth in section 1886(b)(3)(B)(i) of the Act (that is, the same update factor as for all other hospitals subject to the IPPS, or the rate-of-increase in the market basket). Therefore, the update to the hospital-specific rates applicable to SCHs and MDHs is estimated to be 3.0 or 1.0 percent, depending upon whether the hospital submits quality data.

Section 1886(b)(3)(B)(ii) of the Act is used for purposes of determining the percentage increase in the rate-of-increase limits for children's and cancer hospitals. Section 1886(b)(3)(B)(ii) of the Act sets the percentage increase in the rate-of-increase limits equal to the market basket percentage increase. In accordance with § 403.752(a) of the regulations, RNHCIs are paid under § 413.40, which also uses section 1886(b)(3)(B)(ii) of the Act to update the percentage increase in the rate-of-increase limits. Section 1886(j)(3)(C) of the Act addresses the increase factor for the Federal prospective payment rate of IRFs. Section 123 of Pub. L. 106-113, as amended by section 307(b) of Pub. L. 106-554, provides the statutory authority for updating payment rates under the LTCH PPS. As discussed below, for cost reporting periods beginning on or after October 1, 2006, LTCHs that are not defined as new under § 412.23(e)(4), and that had not elected to be paid under 100 percent of the Federal rate are paid 100 percent of the adjusted Federal PPS rate. Therefore, because no portion of LTCHs' prospective payments will be based on reasonable cost concepts for cost reporting periods beginning on or after October 1, 2006, we are not proposing a rate-of-increase percentage to the reasonable cost portion for FY 2009 for LTCHs to be used under § 413.40. In addition, section 124 of Pub. L. 106-113 provides the statutory authority for updating all aspects of the payment rates for IPFs. Under this broad authority, IPFs that are not defined as new under § 412.426(c) are paid under a blended methodology for cost reporting periods beginning on or after January 1, 2005, and before January 1, 2008. For cost reporting periods beginning on or after January 1, 2008, existing IPFs are paid based on 100 percent of the Federal per diem rate. Therefore, because no portion of the existing IPFs prospective payments will be based on reasonable cost concepts for cost reporting periods beginning on or after January 1, 2008, we are not proposing a rate-of-increase percentage to the reasonable cost portion for FY 2009 for IPFs to be used under § 412.426(c). New IPFs are paid based on 100 percent of the Federal per diem payment amount.

Currently, children's hospitals, cancer hospitals, and RNHCIs are the remaining three types of hospitals still reimbursed under the reasonable cost methodology. We are providing our current estimate of the FY 2009 IPPS operating market basket percentage increase (3.0 percent) to update the target limits for children's hospitals, cancer hospitals, and RNHCIs.

Effective for cost reporting periods beginning on or after October 1, 2002, LTCHs have been paid under the LTCH PPS. Additionally, for cost reporting periods beginning on or after October 1, 2006, no portion of a LTCH's PPS payments can be based on reasonable cost concepts. Consequently, there is no need to propose to update the target limit under § 413.40 effective October 1, 2008, for LTCHs.

In the RY 2009 LTCH PPS proposed rule (73 FR 5361 through 5362), we proposed an update of 2.6 percent to the LTCH PPS Federal rate for RY 2009, which is based on a proposed market basket increase of 3.5 percent and a proposed adjustment of 0.9 percent to account for the increase in case-mix in a prior year that resulted from changes in coding practices rather than an increase in patient severity. The proposed market basket of 3.5 percent used in determining this proposed update factor is based on our proposal in the LTCH proposed rule to extend the LTCH RY 2009 by 3 months (a total of 15 months instead of 12 months) through September 30, 2009. (A full discussion of the reasons for this proposed extension of RY 2009 can be found in the RY 2009 LTCH PPS proposed rule (73 FR 5351 through 5353).) However, if we were not proposing to extend the 2009 LTCH PPS rate year by 3 months, we would have proposed a market basket update of 3.1 percent for a 12-month RY 2009 offset by the proposed adjustment of 0.9 percent to account for the increase in case-mix in a prior year that resulted from changes in coding practices rather than an increase in patient severity.

Effective for cost reporting periods beginning on or after January 1, 2005, IPFs are paid under the IPF PPS. IPF PPS payments are based on a Federal per diem rate that is derived from the sum of the average routine operating, ancillary, and capital costs for each patient day of psychiatric care in an IPF, adjusted for budget neutrality. For cost reporting periods beginning on or after January 1, 2005, and before January 1, 2008, existing IPFs (those not defined as “new” under § 412.426(c)) are paid based on a blend of the reasonable cost-based PPS payments and the Federal per diem base rate. For cost reporting periods beginning on or after January 1, 2008, existing IPFs are paid based on 100 percent of the Federal per diem rate. Consequently, there is no need to propose to update the target limit under § 412.426(c) effective October 1, 2008, for IPFs.

IRFs are paid under the IRF PPS for cost reporting periods beginning on or after January 1, 2002. For cost reporting periods beginning on or after October 1, 2002 (FY 2003), and thereafter, the Federal prospective payments to IRFs are based on 100 percent of the adjusted Federal IRF prospective payment amount, updated annually (69 FR 45721). Section 1886(j)(3)(C) of the Act, as amended by section 115 of Pub. L. 110-173 sets the FY 2009 IRF PPS update factor equal to 0 percent. Thus, we are not applying an update (market basket) to the IRF PPS rates for FY 2009.

III. Secretary's Recommendation

MedPAC is recommending an inpatient hospital update equal to the market basket rate of increase for FY 2009. MedPAC's rationale for this update recommendation is described in more detail below. Based on the FY 2009 President's Budget, we are recommending an update to the standardized amount of 0 percent. We are recommending that this same update factor apply to SCHs and MDHs.

Section 1886(d)(9)(C)(1) of the Act is the basis for determining the percentage increase to the Puerto Rico-specific standardized amount. For FY 2009, we are applying the full rate-of-increase in the hospital market basket for IPPS hospitals to the Puerto Rico-specific standardized amount. Therefore, the update to the Puerto Rico-specific standardized amount is estimated to be 3.0 percent.

In addition to making a recommendation for IPPS hospitals, in accordance with section 1886(e)(4)(A) of the Act, we are also recommending update factors for all other types of hospitals. Consistent with the President's Budget, we are recommending an update based on the IPPS market basket increase for children's hospitals, cancer hospitals, and RNHCIs of 0 percent. As mentioned above, for cost reporting periods beginning on or after January 1, 2008, existing IPFs are paid based on 100 percent of the Federal per diem rate (and are no longer paid a blend of the reasonable cost-based PPS payments and the Federal per diem base rate). Consequently, we are no longer recommending an update factor for the portion of the payment that is based on reasonable costs. Consistent with the President's Budget, based on Global Insight, Inc.'s first quarter 2008 forecast of the RPL market basket increase, we are recommending an update to the IPF PPS Federal rate for RY 2009 of 3.2 percent for the Federal per diem payment amount.

In the RY 2009 LTCH PPS proposed rule (73 FR 5361 through 5362), we proposed an update of 2.6 percent to the LTCH PPS Federal rate for RY 2009, which is based on a proposed market basket increase of 3.5 percent and a proposed adjustment of 0.9 percent to account for the increase in case-mix in a prior year that resulted from changes in coding practices rather than an increase in patient severity. The proposed market basket of 3.5 percent used in determining this proposed update factor is based on our proposal in the LTCH proposed rule to extend the LTCH RY 2009 by 3 months (a total of 15 months instead of 12 months) through September 30, 2009. (A full discussion on the reasons for this proposed extension of RY 2009 can be found in the RY 2009 LTCH PPS proposed rule (73 FR 5351 through 5353).) However, if we were not proposing to extend the 2009 LTCH PPS rate year by 3 months, we would have proposed a market basket update for a 12 month RY 2009 of 3.1 percent in determining the proposed update factor for RY 2009 offset by the proposed adjustment of 0.9 percent to account for the increase in case-mix in a prior year that resulted from changes in coding practices rather than an increase in patient severity.

Finally, consistent with the President's FY 2009 Budget, we are recommending a zero percent update to the IRF PPS Federal rate for FY 2009. This recommendation is consistent with the zero percent increase factor specified in section 1886(j)(3)(C) of the Act, as amended by section 115 of Pub. L. 110-173.

IV. MedPAC Recommendation for Assessing Payment Adequacy and Updating Payments in Traditional Medicare

In its March 2008 Report to Congress, MedPAC assessed the adequacy of current payments and costs, and the relationship between payments and an appropriate cost base, utilizing an established methodology used by MedPAC in the past several years.

MedPAC recommended an update to the hospital inpatient rates equal to the increase in the hospital market basket in FY 2009, concurrent with implementation of a quality incentive program. Similar to last year, MedPAC also recommended that CMS put pressure on hospitals to control their costs rather than accommodate the current rate of cost growth, which is, in part, caused by a lack of pressure from private payers.

MedPAC noted that indicators of payment adequacy are almost uniformly positive. MedPAC expects Medicare margins to remain low in 2008. At the same time though, MedPAC's analysis finds that hospitals with low non-Medicare profit margins have below average standardized costs and most of these facilities have positive overall Medicare margins.

Response: Similar to our response last year, we agree with MedPAC that hospitals should control costs rather than accommodate the current rate of growth. An update equal to less than the market basket will motivate hospitals to control their costs, consistent with MedPAC's recommendation. As MedPAC noted, the lack of financial pressure at certain hospitals can lead to higher costs and in turn bring down the overall Medicare margin for the industry.

As discussed in section II of the preamble of this proposed rule, CMS implemented the MS-DRGs in FY 2008 to better account for severity of illness under the IPPS, and is basing the DRG weights on costs rather than charges. We continue to believe that these refinements will better match Medicare payment of the cost of care and provide incentives for hospitals to be more efficient in controlling costs.

We note that, because the operating and capital prospective payment systems remain separate, we are proposing to continue to use separate updates for operating and capital payments. The proposed update to the capital rate is discussed in section III of the Addendum to this proposed rule.

Appendix C—Disclosure of Financial Relationship Report (DFRR) Form

Disclosure of Financial Relationship Report (DFRR)

Requirement

Completion of the Disclosure of Financial Relationship Report (DFRR or Report) is required under section 1877(f) of the Social Security Act. The Report must be completed, certified by the appropriate officer of the hospital, and received by CMS within 60 days of the date that appears on the cover letter or e-mail transmission. Pursuant to 42 CFR 411.361(f), failure to timely submit the requested information concerning an entity's ownership, investment, and compensation arrangements may result in civil monetary penalties of up to $10,000 for each day beyond the deadline established for disclosure.

Please be advised that the results from the DFRR may be shared with other Federal agencies and with Congressional committees, as permitted or mandated by law. We intend to protect from public disclosure, to the fullest extent permitted by Exemptions 4 and 6 of the Freedom of Information Act, 5 U.S.C. 552(b)(4) and (6), any confidential business information and any individual-specific information collected. We note that CMS is prevented by the Trade Secrets Act, 18 U.S.C. 1905, from releasing confidential business information, except as authorized by law.

Information collected from each hospital will be analyzed separately to determine whether the financial relationships are in compliance with the physician self-referral laws and implementing regulations. At this time, we do not plan to aggregate data.

Exception to Mandatory Reporting

An entity that furnishes 20 or fewer Part A and/or Part B services during a calendar year is excepted from this reporting requirement pursuant to 42 CFR 411.361(b). If you believe that the hospital qualifies for this exception:

• The Chief Executive Officer, Chief Financial Officer, or a comparable officer of the Hospital must certify in writing that the hospital furnishes 20 or fewer Part A and/or Part B services during a calendar year.

• The certification statement must read as follows: “I, (insert name), hereby certify that, to the best of my knowledge and belief, (insert name of Hospital) furnishes 20 or fewer Part A and/or Part B services during a calendar year. Therefore the hospital is relying on the exception in 42 CFR 411.361(b) and will not be reporting financial relationship data concerning the facility.” The certification statement must be signed and dated, and include the title of the signatory.

• If the hospital or entity qualifies for the exception at 42 CFR 411.361(b), please mail the original and one copy of the signed certification statement to: Physician Self-Referral, Centers for Medicare & Medicaid Services, 7500 Security Boulevard, Mailstop C4-25-02, Baltimore, Maryland 21244-1850. In addition, we request, but do not require, that you e-mail a PDF or other electronically scanned version of the document to HOSPITALDISCLOSURE@cms.hhs.gov. In the subject line, please include the title “Exception to Disclosure Report.”

General Instructions for DFRR

• The requested disclosures on Worksheets 1 through 6 pertain only to hospitals with physician ownership or investment. For purposes of this Report, ownership is synonymous with investment.

• For any question pertaining to the financial relationship between a physician and the Hospital or entity or individual, “physician” shall include each immediate family member of the physician, as defined in 42 CFR 411.351.

• The terms, “physician-owner” and “physician-investor” are used interchangeably throughout this report.

• Please provide the physician's last name, first name, and Medicare National Provider Identifier (NPI). Only for those physicians who have not yet received an NPI, may the physician's Unique Physician Identification Number (UPIN) be submitted instead. We will not accept a hospital created identifier (for example, Physician 1, Physician 2, etc.).

• Where supporting documentation or an explanation is requested, please include the name of the physician-owner or physician-investor, and his/her NPI.

• Supplemental documents should be provided only when specifically requested on a worksheet. Supporting documentation should be organized and clearly labeled to reference the relevant worksheet. Please include only information that responds to the question asked; extraneous information should not be included. For example, if only a few pages of a large document are responsive to a question, please only submit those relevant pages.

• If a particular question does not apply to the hospital, please type “N/A.”

• If sufficient rows are not provided, please save the Excel spreadsheet, insert the necessary number of additional rows, and print a copy of the revised Excel spreadsheet.

• Upon completion of the entire DFRR, please verify all information presented (including the totals for the respective fields or columns) and return an original and one copy to: Physician Self-Referral, Centers for Medicare & Medicaid Services, 7500 Security Boulevard, Mailstop C4-25-02, Baltimore, Maryland 21244-1850. CMS also requests, but does not require, that a PDF or other electronically scanned version of the DFRR and accompanying documentation be sent to HOSPITALDISCLOSURE@cms.hhs.gov.

• Please enter all date fields in the following format: MM/DD/YY. For example, “March 31, 2006” must be entered as follows: 03/31/06.

Report Contents

The attached report consists of the following spreadsheets:

• Cover Sheet—(Certification Page)

• Worksheet 1—Hospital Characteristics

• Worksheet 2—Direct Ownership in Hospital

• Worksheet 3—Indirect Ownership in Hospital

• Worksheet 4—Payments Made to Hospital by Direct Owners

• Worksheet 5—Payments Made to Hospital by Indirect Owners

• Worksheet 6—Investment Reconciliation

• Worksheet 7—Compensation Arrangements—Rentals, Personal Service Arrangements, and Recruitment (See 42 CFR 411.357)

• Worksheet 8—Other Types of Compensation Arrangements (See 42 CFR 411.357)

Key Terms

1. Additional Purchases: Stocks purchased after initial or starting investment. Report the total cost and number of additional shares of stock purchased.

2. Assessments: Any cost or fee required and paid by any investor of the hospital. These fees usually do not involve any basis or change in the owner's investment in the facility.

3. Back-up Guarantee: Physician-owner's risk of loss or liability related to the ownership of his or her stock is guaranteed by another entity. If the borrower has problems in repayment, the payment is guaranteed by a third party.

4. Basis of Stock/Shares: The cost of the stock at the end of the cost reporting period(s) ending in 2006.

5. Capital Calls: Each investor is asked/required to put additional capital in the company. Depending on the structure of the call, if no additional shares are issued, the basis (cost) of the investor's stock will increase, or if additional shares are issued, the number of the investor's shares will increase.

6. Compilation of Financial Statements: A compilation presents information in the form of financial statements that are the representation of management without expressing assurances.

7. Direct Ownership or Investment Interest: Direct ownership or investment interest is defined at 42 CFR 411.354(a)(2).

8. Disproportionate Guarantee by Physician Investor: Physician investor's risk of loss or liability related to the ownership of his/her stock is guaranteed by the corporate investor in a disproportionate percentage to the percentage of stock owned by that physician investor (i.e.: Physician investor owns 40% of the stock of a hospital, but assumes risk of loss or liability equal to 20%.)

9. Fair Market Value: Fair market value is defined at 42 CFR 411.351.

10. Hospital: Hospital is synonymous with operating entity (that is, the corporation or legal entity through which the hospital operates).

11. Immediate family member: An immediate family member means: Husband or wife; birth or adoptive parent, child, or sibling; stepparent, stepchild, stepbrother, or stepsister; father-in-law, mother-in-law, son-in-law, daughter-in-law, brother-in-law, sister-in-law; grandparent or grandchild; and spouse of a grandparent or grandchild. 42 CFR 411.351.

12. Indirect Ownership or Investment Interest: An indirect ownership or investment interest is defined at 42 CFR 411.354(b)(5).

13. Internally prepared: Internally prepared financial statements are prepared by employees of the hospital, and are used mostly to monitor the hospital's performance.

14. Loan Guarantees: A situation when the borrower's liability is collateralized by a third party.

15. NPI: Medicare National Provider Identifier.

16. Other Capital Assessments: Report only if shares of stock are involved. Fees assessed should not be reported.

17. Relinquishments or Sales: For each share of stock that is sold during the cost reporting period(s) in 2006, report the dollar amount of the sale and the number of shares sold.

18. Reporting Period: The reporting period refers to any cost reporting period(s) ending in 2006.

19. Return of Capital Dividends: A distribution that is not paid out of the earnings and profits of the company. This distribution reduces the basis of the stock.

20. Review of Financial Statements: A review of financial statements is an engagement that results in an accountant's opinion that expresses less assurance than that of a certified audit, but more than a compilation. Typically this involves limited auditing, testing, analytical procedures, and/or inquiries.

21. Stock/share: These terms are used interchangeably throughout the worksheets.

22. Stock Dividends: Stock dividends are distributions made by a corporation of its own stock.

Worksheet 1—Hospital Characteristics

• Please include month, date, and year for the beginning and end of your cost reporting period(s).

Worksheet 2—Direct Ownership in Hospital

• Identify the class of stock (if applicable) and list all owners of that class within the same grouping on the Worksheet.

• If the direct owner is the physician, enter “Self” in Column B.

• If the direct owner is not the physician, please write the individual's name in Column A and in Column B indicate his/her relationship to the physician and give the physician's name.

• The basis of the stock/shares is the cost of the stock at the end of the cost reporting period(s) ending in 2006. This amount should equal Worksheet 6, Column B, Line 18.

• One hundred percent of ownership should be identified for each individual class of stock.

Worksheet 3—Indirect Ownership in Hospital

• Report only indirect ownership interests of physicians and immediate family members on this Worksheet.

• In Column A, identify each entity with ownership in the hospital and identify the type of entity in Column B. The entity's percentage of direct ownership should be listed in Column C.

• List each investor-owner of the group entity in Column D. Indicate if the investor-owner is a physician. If the investor-owner is an immediate family member, please indicate the relationship to, and name of the physician to whom the investor-owner is related.

• Column E should indicate each investor-owner's percentage ownership in the entity at the end of the cost reporting period(s) in 2006, with the number of shares owned (if applicable) listed in Column F. Each type of share owned (if applicable) should be listed individually with the type of stock labeled in Column G.

• To calculate the percent of indirect ownership in Column H for each investor-owner of the entity, multiply the percentage in Column C by the percentage in Column E.

Worksheet 4—Payments Made to Hospital by Direct Owners

• Report only payments to the hospital by direct physician-owners and immediate family member owners on this Worksheet.

• Complete one line for each payment made by a physician-owner related to his or her investment interest, including, but not limited to: Initial investments, assessments, capital calls, and loan guarantees. If necessary, please insert additional lines.

• In Column B, indicate “Self” if the physician is the direct owner. If the direct owner is not the physician, please list the direct owner's name in Column A and in Column B, indicate the immediate family member's relationship to the physician and give the physician's name.

• Do not group payments under one physician name, but rather use a separate line for each type of payment made by a physician.

Worksheet 5—Payments Made to Hospital by Indirect Owners

• Report only payments made by indirect physician-owners and immediate family member owners on this Worksheet.

• Complete one line for each payment made by an entity related to an investment interest, including, but not limited to: Initial investments, assessments, capital calls, and loan guarantees. If necessary, please insert additional lines.

• List the name of the indirect ownership entity in Column A. In Column B, list the names of individuals that compose that entity, placing only one person per line and indicating his or her status, i.e. “Self” for physician, or “IFM” for immediate family member.

• For immediate family members, enter the relationship to and name of, the physician family member in Column C.

• Do not group payments under one entity name, but rather use a separate line for each type of payment made by an entity.

Worksheet 6—Investment Reconciliation

• Please complete a separate Worksheet for each physician-owner or immediate family member owner.

• Please provide the owner's Social Security Number (SSN) or NPI as appropriate.

• If a physician owns more than one class of stock/equity, a separate worksheet must be completed for each class of stock/equity.

• Line 10, Column A—The begin date must be the start of the cost reporting period(s) that end(s) in 2006. That is, for a cost reporting period of July 1, 2005 to June 30, 2006, the begin date is 07/01/05.

• Line 10, Columns B, C, and D must reflect the physician-owner's total investment for the class of stock/equity described, as of the beginning of the period being evaluated (all cost period(s) ending in 2006).

• Lines 11 through 17, Columns B, C, and D must reflect any and all changes to the physician-owner's stock/equity during the period being evaluated, so that line 18 reflects the owner's total investment at the end of the period.

• Line 17 must reflect all other capital assessments that occurred during the cost reporting period(s) ending in 2006.

• Line 18, Column A—The end date must be the end date of the cost reporting period(s) that end(s) in 2006. That is, for a cost reporting period of July 1, 2005 to June 30, 2006, the end date is 06/30/06.

• Line 18, Column B—The amount entered here should be equal to the amount listed on Worksheet 2, Column C for each class of stock for each physician owner.

Worksheet 7—Compensation Arrangements—Rentals, Personal Service Arrangements, and Recruitment (See 42 CFR 411.357)

• For all physicians who had one or more of the compensation arrangements listed in columns A through D list the physician's complete name in the first column, the physician's NPI, and insert either a Y or N as to whether the physician is an owner/investor of the hospital. In addition, please insert the applicable number of compensation arrangements in each respective column.

• For those compensation arrangements listed in columns A through D, include not just those that you believe fit within an exception in 42 CFR 411.357, but those that are implicated by the referenced exception.

• The information requested in columns A and B must include compensation arrangements that occur in either direction (i.e., rentals to/from physicians).

• Please indicate in the appropriate column the number of compensation arrangements that pertain to the physician for the reporting period(s) ending in 2006.

• Note that each Column A-D that is filled in with a number requires the submission of supporting documentation for each compensation arrangement. With the exception of uniform personal service arrangements, please submit a copy of the written agreement(s) that were in effect during the reporting period(s) ending in 2006.

• Personal Service Arrangements (PSA—Column C)

○ For each physician listed, please indicate the number of PSAs in effect for the cost reporting period(s) ending in 2006.

○ In the next column indicate if the physician used a uniform PSA prepared by the hospital. We consider a PSA to be uniform if all of the elements present in the arrangements are materially the same. Only one copy of the uniform PSA should be included in the supplemental materials. The one copy will satisfy the supporting documentation requirement for all physicians who entered into a uniform PSA with the hospital.

○ Indicate whether or not the hospital has a signed copy of this agreement on file for this physician in the next sub-column with a Y or N.

○ If the physician had a non-uniform PSA in effect for the cost reporting period(s) ending in 2006, please indicate this on the Worksheet and provide a copy of the PSA with the supplemental materials for this Worksheet.

Worksheet 8—Other Types of Compensation Arrangements (See 42 CFR 411.357)

• This Worksheet addresses other compensation arrangements exceptions that are found at 42 CFR 411.357.

• Please note that you may be required to furnish an explanation or additional documentation depending on the answer to each question.

• Submit only the information that is necessary to answer the question by removing extraneous documentation where possible.

Questions

Questions regarding these instructions may be directed to: DFRR-Questions@cms.hhs.gov.

BILLING CODE 4120-01-P

[FR Doc. 08-1135 Filed 4-14-08; 9:19 am]

BILLING CODE 4120-01-C